DEPARTMENT OF THE TREASURY

Office of Foreign Assets Control

31 CFR Chapter V

Alphabetical Listing of Blocked Persons, Specially Designated Nationals, Specially Designated Terrorists, Specially Designated Global Terrorists, Foreign Terrorist Organizations, and Specially Designated Narcotics Traffickers

AGENCY: Office of Foreign Assets Control, Treasury.

ACTION: Amendment of final rule.

SUMMARY: The Office of Foreign Assets Control (“OFAC”) of the Department of the Treasury is amending appendix A to 31 CFR chapter V to (1) reflect the addition or removal from appendix A, since it was last published, of the names of individuals and entities subject to the various economic sanctions programs administered by OFAC and (2) provide updated identifying and clarifying information for certain individuals and entities included in the appendix. OFAC also is amending the notes to the appendices to 31 CFR chapter V to reflect the revisions to appendix A and changes in the status of several programs.

DATES: Effectuve Date: June 27, 2006.

FOR FURTHER INFORMATION CONTACT: Assistant Director, Compliance Programs, tel.: 202/622-2490, Office of Foreign Assets Control, or Chief Counsel (Foreign Assets Control), tel.: 202/622-2410, Department of the Treasury, Washington, DC 20220 (not toll free numbers).

SUPPLEMENTARY INFORMATION:

Electronic and Facsimile Availability

This document and additional information concerning OFAC are available from OFAC's Web site (http://www.treas.gov/ofac) or via facsimile through a 24-hour fax-on demand service, tel.: (202) 622-0077.

Background

Appendix A to 31 CFR chapter V contains the names of blocked persons, specially designated nationals, specially designated terrorists, specially designated global terrorists, foreign terrorist organizations, and specially designated narcotics traffickers designated pursuant to the various economic sanctions programs administered by the Office of Foreign Assets Control (“OFAC”). This appendix is periodically amended to reflect the names of individuals and entities added to, or removed from, the list. This appendix also is periodically amended to provide updated identifying and clarifying information, as well as alternative spellings and additional aliases, for certain individuals and entities included on the list.

Note 7 to the appendices to chapter V of Title 31 of the Code of Federal Regulations states, in relevant part, that frequently updated information on OFAC designations is provided for examination or downloading on OFAC's Internet site (http://www.treas.gov/ofac). Among other data, the Internet site posts changes in designations and identifying information, and provides country-by-country lists of names. Information is also available by fax through OFAC's fax-on-demand service at 202/622-0077 and on various information systems serviced by OFAC. Updated information on OFAC designations should be consulted before engaging in transactions subject to the economic sanctions programs in chapter V.

Appendix A of chapter V of Title 31 of the Code of Federal Regulations conforms to the format used on OFAC's Web site to present the information on Specially Designated Nationals and Blocked Persons. This amendment reflects the complete list of persons identified in OFAC's Specially Designated Nationals and Blocked Persons list as of June 26, 2006. Changes after that date are not reflected in this document.

Because the regulations involve a foreign affairs function, Executive Order 12866 and the provisions of the Administrative Procedure Act (5 U.S.C. 553), requiring notice of proposed rulemaking, opportunity for public participation, and delay in effective date, are inapplicable. Because no notice of proposed rulemaking is required for this rule, the Regulatory Flexibility Act (5 U.S.C. 601-612) does not apply.

For the reasons set forth in the preamble, and under the authority of 3 U.S.C. 301; 50 U.S.C. App. 1-44; 21 U.S.C. 1901-1908; 8 U.S.C. 1189; 18 U.S.C. 2339B; 22 U.S.C. 287c; 31 U.S.C. 321(b); 50 U.S.C. 1601 1651; 50 U.S.C. 1701-1706; E.O. 12722, 55 FR 31803, 3 CFR, 1990 Comp., p. 294; E.O. 12724, 55 FR 33089, 3 CFR, 1990 Comp., p. 297; E.O. 12947, 60 FR 5079, 3 CFR, 1995 Comp., p. 319; E.O. 12978, 60 FR 54579, 3 CFR, 1995 Comp., p. 415; E.O. 13067, 62 FR 59989, 3 CFR, 1997 Comp., p. 230; E.O. 13088, 63 FR 32109, 3 CFR, 1998 Comp., p. 191; E.O. 13099, 63 FR 45167, 3 CFR, 1998 Comp., p. 208; E.O. 13219, 66 FR 34777, 3 CFR, 2001 Comp., p. 778; E.O. 13224, 66 FR 49079, 3 CFR, 2001 Comp., p. 786; E.O. 13268, 67 FR 44751, 3 CFR, 2002 Comp., p. 240; E.O. 13288, 68 FR 11457, 3 CFR, 2004 Comp., p. 186; E.O. 13304, 68 FR 32315, 2004 Comp., p. 229; E.O. 13310, 68 FR 44853, 2004 Comp., p. 241; E.O. 13315, 68 FR 52315, 2004 Comp., p. 252; E.O. 13338, 69 FR 26751, 3 CFR, 2005 Comp., p. 168; E.O. 13348, 69 FR 44885, 3 CFR, 2005 Comp., p. 189; E.O. 13382, 70 FR 38567, 3 CFR, 2006 Comp., p. 170; E.O. 13391, 70 FR 71201, 3 CFR, 2006 Comp., p. 206; E.O. 13396, 71 FR 7389, February 10, 2006; E.O. 13399, 71 FR 25059, April 28, 2006; E.O. 13400, 71 FR 25483, May 1, 2006; E.O. 13405, 71 FR 35485, June 20, 2006; the notes to the Appendices to 31 CFR chapter V and Appendix A to 31 CFR chapter V are amended as set forth below:

31 CFR Chapter V—[Amended]

1. The notes to the Appendices to 31 CFR chapter V are amended by revising note 6 to read as follows:

Appendices to Chapter V—Note

* * * * *

6. References to regulatory parts in chapter V or other authorities:

[BALKANS]: Western Balkans Stabilization Regulations, part 588;

[BELARUS]: Executive Order 13405, 71 FR 35485, June 20, 2006;

[BURMA]: Burmese Sanctions Regulations, part 537;

[COTED]: Executive Order 13396, 71 FR 7389, Feb. 10, 2006;

[CUBA]: Cuban Assets Control Regulations, part 515;

[FTO]: Foreign Terrorist Organizations Sanctions Regulations, part 597;

[IRAQ2]: Executive Order 13315, 68 FR 52315, Sept. 3, 2003; Executive Order 13350, 69 FR 46055, Jul. 30, 2004;

[LIBERIA]: Executive Order 13348, 69 FR 44885, Jul. 22, 2004;

[NKOREA]: Foreign Assets Control Regulations, part 500;

[NPWMD]: Executive Order 13382, 70 FR 38567, June 28, 2005;

[SDGT]: Global Terrorism Sanctions Regulations, part 594;

[SDNT]: Narcotics Trafficking Sanctions Regulations, part 536;

[SDNTK]: Foreign Narcotics Kingpin Sanctions Regulations, part 598;

[SDT]: Terrorism Sanctions Regulations, part 596;

[SUDAN]: Sudanese Sanctions Regulations, part 538; Executive Order 13400, 71 FR 25483, May 1, 2006;

[SYRIA]: Syrian Sanctions Regulations, part 542; Executive Order 13399, 71 FR 25059, April 28, 2006.

[ZIMB]: Zimbabwe Sanctions Regulations, part 541; Executive Order 13391, 70 FR 71201, November 25, 2005.

* * * * *

Appendix A—[Amended]

2. Appendix A to 31 CFR chapter V is revised to read as follows:

Appendix A to Chapter V—Alphabetical Listing of Blocked Persons, Specially Designated Nationals, Specially Designated Terrorists, Specially Designated Global Terrorists, Foreign Terrorist Organizations, and Specially Designated Narcotics Traffickers (as of June 26, 2006)

17 NOVEMBER (a.k.a. EPANASTATIKI ORGANOSI 17 NOEMVRI; a.k.a. REVOLUTIONARY ORGANIZATION 17 NOVEMBER) [FTO] [SDGT]

32 COUNTY SOVEREIGNTY COMMITTEE (a.k.a. 32 COUNTY SOVEREIGNTY MOVEMENT; a.k.a. IRISH REPUBLICAN PRISONERS WELFARE ASSOCIATION; a.k.a. REAL IRA; a.k.a. REAL IRISH REPUBLICAN ARMY; a.k.a. REAL OGLAIGH NA HEIREANN; a.k.a. RIRA) [FTO] [SDGT]

32 COUNTY SOVEREIGNTY MOVEMENT (a.k.a. 32 COUNTY SOVEREIGNTY COMMITTEE; a.k.a. IRISH REPUBLICAN PRISONERS WELFARE ASSOCIATION; a.k.a. REAL IRA; a.k.a. REAL IRISH REPUBLICAN ARMY; a.k.a. REAL OGLAIGH NA HEIREANN; a.k.a. RIRA) [FTO] [SDGT]

2000 DOSE E.U. (a.k.a. DOMA E M), Calle 31 No. 1-34, Cali, Colombia; NIT # 805015749-3 (Colombia) [SDNT]

2000-DODGE S.L., Calle Gran Via 80, Madrid, Madrid, Spain; C.I.F. B83149955 (Spain) [SDNT]

2904977 CANADA, INC. (a.k.a. CARIBE SOL; a.k.a. HAVANTUR CANADA INC.), 818 rue Sherbrooke East, Montreal, Quebec H2L 1K3, Canada [CUBA]

A G REPRESENTACIONES LTDA., Calle 22 Norte No. 9-43, Cali, Colombia; Calle 20N No. 5N-26 Of. 102, Cali, Colombia; NIT # 800132578-3 (Colombia) [SDNT]

A RAHMAN, Mohamad Iqbal (a.k.a. ABDURRAHMAN, Abu Jibril; a.k.a. ABDURRAHMAN, Mohamad Iqbal; a.k.a. ABU JIBRIL; a.k.a. MUQTI, Fihiruddin; a.k.a. MUQTI, Fikiruddin; a.k.a. RAHMAN, Mohamad Iqbal); DOB 17 Aug 1958; POB Tirpas-Selong Village, East Lombok, Indonesia; nationality Indonesia (individual) [SDGT]

A.I.C. COMPREHENSIVE RESEARCH INSTITUTE (a.k.a. A.I.C. SOGO KENKYUSHO; a.k.a. ALEPH; a.k.a. AUM SHINRIKYO; a.k.a. AUM SUPREME TRUTH) [FTO] [SDGT]

A.I.C. SOGO KENKYUSHO (a.k.a. A.I.C. COMPREHENSIVE RESEARCH INSTITUTE; a.k.a. ALEPH; a.k.a. AUM SHINRIKYO; a.k.a. AUM SUPREME TRUTH) [FTO] [SDGT]

A.T.E. INTERNATIONAL LTD. (a.k.a. RWR INTERNATIONAL COMMODITIES), 3 Mandeville Place, London, United Kingdom [IRAQ2]

A.W.A. ENGINEERING LIMITED, 3 Mandeville Place, London, United Kingdom [IRAQ2]

ABAS, Mohamad Nasir (a.k.a. ABAS, Nasir; a.k.a. BIN ABAS, Mohammed Nasir; a.k.a. BIN ABAS, Sulaiman; a.k.a. “KHAIRUDDIN”; a.k.a. “SOLIMAN”); DOB 6 May 1969; nationality Malaysia (individual) [SDGT]

ABAS, Nasir (a.k.a. ABAS, Mohamad Nasir; a.k.a. BIN ABAS, Mohammed Nasir; a.k.a. BIN ABAS, Sulaiman; a.k.a. “KHAIRUDDIN”; a.k.a. “SOLIMAN”); DOB 6 May 1969; nationality Malaysia (individual) [SDGT]

ABASTECEDORA NAVAL Y INDUSTRIAL, S.A. (a.k.a. ANAINSA), Panama [CUBA]

ABAUNZA MARTINEZ, Javier; DOB 1 Jan 1965; POB Guernica, Vizcaya Province, Spain; D.N.I. 78.865.882 (Spain); Member ETA (individual) [SDGT]

ABBAKAR MUHAMAD, Abdul Aziz; DOB 1961; POB Sudan; Passport 562605 (Sudan) issued 28 Oct 1998; IARA Peshwar, Pakistan Director (individual) [SDGT]

ABBAS, Abdul Hussein, Italy (individual) [IRAQ2]

ABBAS, Abu (a.k.a. ZAYDAN, Muhammad); DOB 10 Dec 1948; Director of PALESTINE LIBERATION FRONT—ABU ABBAS FACTION (individual) [SDT]

ABBAS, Kassim, Lerchesbergring 23A, D-60598, Frankfurt, Germany; DOB 7 Aug 1956; POB Baghdad, Iraq (individual) [IRAQ2]

ABBES, Moustafa, Via Padova, 82, Milan, Italy; DOB 5 Feb 1962; POB Osniers, Algeria (individual) [SDGT]

ABBES, Youcef (a.k.a. “GIUSEPPE”), Via Padova 82, Milan, Italy; Via Manzoni, 33, Cinisello Balsamo, Milan, Italy; DOB 5 Jan 1965; POB Bab El Aoued, Algeria (individual) [SDGT]

ABD AL HADI (a.k.a. BENDEBKA, L'Hadi; a.k.a. HADI), Via Garibaldi, 70, San Zenone al Po, Pavia, Italy; Via Manzoni, 33, Cinisello Balsamo, Milan, Italy; DOB 17 Nov 1963; POB Algiers Algeria (individual) [SDGT]

ABD AL HAFIZ, Abd Al Wahab (a.k.a. FERDJANI, Mouloud; a.k.a. “MOURAD”; a.k.a. “RABAH DI ROMA”), Via Lungotevere Dante, Rome, Italy; DOB 7 Sep 1967; POB Algiers, Algeria (individual) [SDGT]

ABD AL-GHAFAR, Sundus, Iraq; DOB c. 1967; POB Kirkuk, Iraq; nationality Iraq; wife of Izzat Ibrahim Al-Duri (individual) [IRAQ2]

ABD AL-GHAFUR, Humam Abd al-Khaliq (a.k.a. 'ABD AL-RAHMAN, Humam 'abd al-Khaliq; a.k.a. ABD-AL-GHAFUR, Humam abd-al-Khaliq; a.k.a. GHAFUR, Humam Abdel Khaleq Abdel; a.k.a. RASHID, Humam 'abd al-Khaliq); DOB 1945; POB ar-Ramadi, Iraq; nationality Iraq; Former Minister of Higher Education and Research; M0018061/104,issued 12 September 1993 (individual) [IRAQ2]

'ABD AL-KARIM (a.k.a. ABU AL-MU'TAZ; a.k.a. AL-HABIB; a.k.a. AL-KHALAYLAH, Ahmad Fadil Nazzal; a.k.a. AL-MUHAJIR; a.k.a. AL-ZARQAWI, Abu Mus'Ab; a.k.a. GHARIB; a.k.a. KHALAILAH, Ahmed Fadeel; a.k.a. KHALAYLEH, Fedel Nazzel; a.k.a. “MOUHANAD”; a.k.a. “MOUHANNAD”; a.k.a. “MUHANNAD”; a.k.a. “RASHID”); DOB 20 Oct 1966; POB Zarqa, Jordan; citizen Jordan; National ID No. 9661031030 (Jordan); Passport Z264968 (Jordan) (individual) [SDGT]

'ABD ALLAH, 'Issam 'Ali Muhammad (a.k.a. 'ABD-AL-'IZ; a.k.a. ABD-AL-WAHAB, Abd-al-Hai Ahmad; a.k.a. ABU YASIR; a.k.a. AL-KAMEL, Salah 'Ali; a.k.a. MUSA, Rifa'i Ahmad Taha; a.k.a. TAHA MUSA, Rifa'i Ahmad; a.k.a. THABIT 'IZ); DOB 24 Jun 54; POB Egypt; Passport 83860 (Sudan); alt. Passport 30455 (Egypt); alt. Passport 1046403 (Egypt) (individual) [SDT]

ABD AL-RAHMAN, Abdullah Muhammad Rajab (a.k.a. ABU AL-KHAYR, Ahmad Hasan); DOB 3 Nov 1957; POB Kafr al-Shaykh; nationality Egypt (individual) [SDGT]

'ABD AL-RAHMAN, Humam 'abd al-Khaliq (a.k.a. ABD AL-GHAFUR, Humam Abd al-Khaliq; a.k.a. ABD-AL-GHAFUR, Humam abd-al-Khaliq; a.k.a. GHAFUR, Humam Abdel Khaleq Abdel; a.k.a. RASHID, Humam 'abd al-Khaliq); DOB 1945; POB ar-Ramadi, Iraq; nationality Iraq; Former Minister of Higher Education and Research; M0018061/104,issued 12 September 1993 (individual) [IRAQ2]

ABD-AL-GHAFUR, Humam abd-al-Khaliq (a.k.a. ABD AL-GHAFUR, Humam Abd al-Khaliq; a.k.a. 'ABD AL-RAHMAN, Humam 'abd al-Khaliq; a.k.a. GHAFUR, Humam Abdel Khaleq Abdel; a.k.a. RASHID, Humam 'abd al-Khaliq); DOB 1945; POB ar-Ramadi, Iraq; nationality Iraq; Former Minister of Higher Education and Research; M0018061/104,issued 12 September 1993 (individual) [IRAQ2]

'ABD-AL-'IZ (a.k.a. 'ABD ALLAH, 'Issam 'Ali Muhammad; a.k.a. ABD-AL-WAHAB, Abd-al-Hai Ahmad; a.k.a. ABU YASIR; a.k.a. AL-KAMEL, Salah 'Ali; a.k.a. MUSA, Rifa'i Ahmad Taha; a.k.a. TAHA MUSA, Rifa'i Ahmad; a.k.a. THABIT 'IZ); DOB 24 Jun 54; POB Egypt; Passport 83860 (Sudan); alt. Passport 30455 (Egypt); alt. Passport 1046403 (Egypt) (individual) [SDT]

ABDALLA, Fazul (a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fazul Abdullah; a.k.a. MOHAMMED, Fouad; a.k.a. MUHAMAD, Fadil Abdallah); DOB 25 Aug 1972; alt. DOB 25 Dec 1974; alt. DOB 25 Feb 1974; POB Moroni, Comoros Islands; citizen Comoros alt. Kenya (individual) [SDGT]

ABDALLAH, Ali Thafir (a.k.a. AL-TIKRITI, Yasir Sabawi Ibrahim Hasan; a.k.a. AL-TIKRITI, Yasir Sab'awi Ibrahim Hasan; a.k.a. AL-TIKRITI, Yasir Sabawi Ibrahim Hassan; a.k.a. AL-TIKRITI, Yasser Sabawi Ibrahim Hasan; a.k.a. AL-TIKRITI, Yassir Sabawi Ibrahim Hasan), Mosul, Iraq; Az Zabadani, Syria; DOB 15 May 1968; alt. DOB 1970; POB Al-Owja, Iraq; alt. POB Baghdad, Iraq; nationality Iraq; Passport 284158 (Iraq) expires 21 Aug 2005 (individual) [IRAQ2]

ABDALLAH, Kamal Mustafa (a.k.a. AL-TIKRITI, Kamal Mustafa Abdallah Sultan; a.k.a. AL-TIKRITI, Kamal Mustafa Sultan Abdallah); DOB 1952; alt. DOB 4 May 1955; POB Tikrit, Iraq; nationality Iraq; Republican Guard Secretary; led Special Republican Guard and commanded both Republican Guard corps (individual) [IRAQ2]

ABDALLAH, Ramadan (a.k.a. ABDULLAH, Dr. Ramadan; a.k.a. SHALLAH, Dr. Ramadan Abdullah; a.k.a. SHALLAH, Ramadan Abdalla Mohamed), Damascus, Syria; DOB 01 Jan 1958; POB Gaza City, Gaza Strip; Passport 265 216 (Egypt); SSN 589-17-6824 (United States); Secretary General of the PALESTINIAN ISLAMIC JIHAD (individual) [SDT]

ABDALLAH, Tarwat Salah (a.k.a. SHIHATA, Thirwat Salah; a.k.a. THIRWAT, Salah Shihata; a.k.a. THIRWAT, Shahata); DOB 29 JUN 60; POB Egypt (individual) [SDGT]

ABD-AL-WAHAB, Abd-al-Hai Ahmad (a.k.a. 'ABD ALLAH, 'Issam 'Ali Muhammad; a.k.a. 'ABD-AL-'IZ; a.k.a. ABU YASIR; a.k.a. AL-KAMEL, Salah 'Ali; a.k.a. MUSA, Rifa'i Ahmad Taha; a.k.a. TAHA MUSA, Rifa'i Ahmad; a.k.a. THABIT 'IZ); DOB 24 Jun 54; POB Egypt; Passport 83860 (Sudan); alt. Passport 30455 (Egypt); alt. Passport 1046403 (Egypt) (individual) [SDT]

ABDAOUI, Youssef (a.k.a. ABDAOUI, Youssef Ben Abdul Baki Ben Youcef; a.k.a. “ABDELLAH”; a.k.a. “ABDULLAH”; a.k.a. “ABU ABDULLAH”), Piazza Giovane Italia n.2, Varese, Italy; DOB 4 Jun 1966; POB Kairouan, Tunisia; nationality Tunisia; Passport G025057 issued 23 Jun 1999 expires 5 Feb 2004 (individual) [SDGT]

ABDAOUI, Youssef Ben Abdul Baki Ben Youcef (a.k.a. ABDAOUI, Youssef; a.k.a. “ABDELLAH”; a.k.a. “ABDULLAH”; a.k.a. “ABU ABDULLAH”), Piazza Giovane Italia n.2, Varese, Italy; DOB 4 Jun 1966; POB Kairouan, Tunisia; nationality Tunisia; Passport G025057 issued 23 Jun 1999 expires 5 Feb 2004 (individual) [SDGT]

ABDEL RAHMAN (a.k.a. ABDUL RAHMAN; a.k.a. AL-MUHAJIR, Abdul Rahman; a.k.a. AL-NAMER, Mohammed K.A.; a.k.a. ATWAH, Muhsin Musa Matwalli), Afghanistan; DOB 19 Jun 1964; POB Egypt; citizen Egypt (individual) [SDGT]

ABDELHAY, al-Sheikh (a.k.a. AHCENE, Cheib; a.k.a. ALLANE, Hacene; a.k.a. “ABU AL-FOUTOUH”; a.k.a. “BOULAHIA”; a.k.a. “HASSAN THE OLD”); DOB 17 Jan 1941; POB El Menea, Algeria (individual) [SDGT]

ABDELHEDI, Mohamed Ben Mohamed (a.k.a. ABDELHEDI, Mohamed Ben Mohamed Ben Khalifa), via Catalani, n. 1, Varese, Italy; DOB 10 Aug 1965; POB Sfax, Tunisia; nationality Tunisia; Italian Fiscal Code BDLMMD65M10Z352S (individual) [SDGT]

ABDELHEDI, Mohamed Ben Mohamed Ben Khalifa (a.k.a. ABDELHEDI, Mohamed Ben Mohamed), via Catalani, n. 1, Varese, Italy; DOB 10 Aug 1965; POB Sfax, Tunisia; nationality Tunisia; Italian Fiscal Code BDLMMD65M10Z352S (individual) [SDGT]

ABDELNUR, Nury de Jesus, Panama (individual) [CUBA]

ABDRABBA, Ghoma (a.k.a. ABD'RABBAH, Ghuma; a.k.a. ABDURABBA, Ghunia; a.k.a. “ABD'RABBAH”; a.k.a. “ABU JAMIL”), Birmingham, United Kingdom; DOB 2 Sep 1957; POB Benghazi, Libya; nationality United Kingdom (individual) [SDGT]

ABD'RABBAH, Ghuma (a.k.a. ABDRABBA, Ghoma; a.k.a. ABDURABBA, Ghunia; a.k.a. “ABD'RABBAH”; a.k.a. “ABU JAMIL”), Birmingham, United Kingdom; DOB 2 Sep 1957; POB Benghazi, Libya; nationality United Kingdom (individual) [SDGT]

ABDUL MARTIN (a.k.a. ABDUL MATIN; a.k.a. AMAR UMAR; a.k.a. AMAR USMAN; a.k.a. ANAR USMAN; a.k.a. DJOKO SUPRIYANTO; a.k.a. DUL MATIN; a.k.a. DULMATIN; a.k.a. JAK IMRON; a.k.a. MUKTAMAR; a.k.a. NOVARIANTO; a.k.a. PINTONO, Joko; a.k.a. PITONO, Joko; a.k.a. PITOYO, Joko; a.k.a. TOPEL); DOB 16 Jun 1970; alt. DOB 6 Jun 1970; POB Petarukan village, Pemalang, Central Java, Indonesia; nationality Indonesia (individual) [SDGT]

ABDUL MATIN (a.k.a. ABDUL MARTIN; a.k.a. AMAR UMAR; a.k.a. AMAR USMAN; a.k.a. ANAR USMAN; a.k.a. DJOKO SUPRIYANTO; a.k.a. DUL MATIN; a.k.a. DULMATIN; a.k.a. JAK IMRON; a.k.a. MUKTAMAR; a.k.a. NOVARIANTO; a.k.a. PINTONO, Joko; a.k.a. PITONO, Joko; a.k.a. PITOYO, Joko; a.k.a. TOPEL); DOB 16 Jun 1970; alt. DOB 6 Jun 1970; POB Petarukan village, Pemalang, Central Java, Indonesia; nationality Indonesia (individual) [SDGT]

ABDUL RAHMAN (a.k.a. ABDEL RAHMAN; a.k.a. AL-MUHAJIR, Abdul Rahman; a.k.a. AL-NAMER, Mohammed K.A.; a.k.a. ATWAH, Muhsin Musa Matwalli), Afghanistan; DOB 19 Jun 1964; POB Egypt; citizen Egypt (individual) [SDGT]

ABDULLAH, Abdullah Ahmed (a.k.a. ABU MARIAM; a.k.a. AL-MASRI, Abu Mohamed; a.k.a. SALEH), Afghanistan; DOB 1963; POB Egypt; citizen Egypt (individual) [SDGT]

'ABDULLAH, 'Ali Zafir (a.k.a. AL-BAYJAT, Bashar Sabawi Ibrahim Hasan; a.k.a. AL-TIKRITI, Bashar Sabawi Ibrahim Hasan; a.k.a. AL-TIKRITI, Bashar Sab'awi Ibrahim Hasan; a.k.a. AL-TIKRITI, Bashir Sab'awi Ibrahim Al-Hasan; a.k.a. AL-TIKRITI, Bashir Sabawi Ibrahim Al-Hassan), Fuad Dawod Farm, Az Zabadani, Damascus, Syria; Beirut, Lebanon; DOB 17 Jul 1970; POB Baghdad, Iraq; nationality Iraq (individual) [IRAQ2]

ABDULLAH, Dr. Ramadan (a.k.a. ABDALLAH, Ramadan; a.k.a. SHALLAH, Dr. Ramadan Abdullah; a.k.a. SHALLAH, Ramadan Abdalla Mohamed), Damascus, Syria; DOB 01 Jan 1958; POB Gaza City, Gaza Strip; Passport 265 216 (Egypt); SSN 589-17-6824 (United States); Secretary General of the PALESTINIAN ISLAMIC JIHAD (individual) [SDT]

ABDULLAH, Sheikh Taysir (a.k.a. ABU HAFS; a.k.a. ABU SITTA, Subhi; a.k.a. AL-MASRI, Abu Hafs; a.k.a. ATEF, Muhammad; a.k.a. ATIF, Mohamed; a.k.a. ATIF, Muhammad; a.k.a. EL KHABIR, Abu Hafs el Masry; a.k.a. TAYSIR); DOB 1951; alt. DOB 1956; alt. DOB 1944; POB Alexandria, Egypt (individual) [SDT] [SDGT]

ABDULLKADIR, Hussein Mahamud, Florence, Italy (individual) [SDGT]

ABDULMALIK, Abdul Hameed (a.k.a. MALIK, Assim Mohammed Rafiq Abdul; a.k.a. RAFIQ, Assem), 14 Almotaz Sad Al Deen Street, Al Nozha, Cairo, Egypt (individual) [IRAQ2]

ABDURABBA, Ghunia (a.k.a. ABDRABBA, Ghoma; a.k.a. ABD'RABBAH, Ghuma; a.k.a. “ABD'RABBAH”; a.k.a. “ABU JAMIL”), Birmingham, United Kingdom; DOB 2 Sep 1957; POB Benghazi, Libya; nationality United Kingdom (individual) [SDGT]

ABDUREHMAN, Ahmed Mohammed (a.k.a. ABU FATIMA; a.k.a. ABU ISLAM; a.k.a. ABU KHADIIJAH; a.k.a. AHMED HAMED; a.k.a. AHMED THE EGYPTIAN; a.k.a. AHMED, Ahmed; a.k.a. ALI, Ahmed Mohammed; a.k.a. ALI, Ahmed Mohammed Hamed; a.k.a. ALI, Hamed; a.k.a. AL-MASRI, Ahmad; a.k.a. AL-SURIR, Abu Islam; a.k.a. HEMED, Ahmed; a.k.a. SHIEB, Ahmed; a.k.a. SHUAIB), Afghanistan; DOB 1965; POB Egypt; citizen Egypt (individual) [SDGT]

ABDURRAHMAN, Abu Jibril (a.k.a. A RAHMAN, Mohamad Iqbal; a.k.a. ABDURRAHMAN, Mohamad Iqbal; a.k.a. ABU JIBRIL; a.k.a. MUQTI, Fihiruddin; a.k.a. MUQTI, Fikiruddin; a.k.a. RAHMAN, Mohamad Iqbal); DOB 17 Aug 1958; POB Tirpas-Selong Village, East Lombok, Indonesia; nationality Indonesia (individual) [SDGT]

ABDURRAHMAN, Mohamad Iqbal (a.k.a. A RAHMAN, Mohamad Iqbal; a.k.a. ABDURRAHMAN, Abu Jibril; a.k.a. ABU JIBRIL; a.k.a. MUQTI, Fihiruddin; a.k.a. MUQTI, Fikiruddin; a.k.a. RAHMAN, Mohamad Iqbal); DOB 17 Aug 1958; POB Tirpas-Selong Village, East Lombok, Indonesia; nationality Indonesia (individual) [SDGT]

ABIDJAN FREIGHT, Abidjan, Cote d'Ivoire [LIBERIA]

ABO GHAITH, Sulaiman Jassem; DOB 14 Dec 1965; POB Kuwait (individual) [SDGT]

ABOU ANIS (a.k.a. SAADI, Nassim), Via Monte Grappa 15, Arluno (Milan), Italy; DOB 30 Nov 1974; POB Haidra Al-Qasreen, Tunisia; nationality Tunisia; Passport M 788331 issued 28 Sep 2001 expires 27 Sep 2006; arrested 30 Sep 2002 (individual) [SDGT]

ABOU DJARRAH (a.k.a. AL-TRABELSI, Mourad Ben Ali Ben Al-Basheer; a.k.a. TRABELSI, Mourad), Via Geromini 15, Cremona, Italy; DOB 20 May 1969; POB Menzel Temime, Tunisia; nationality Tunisia; Passport G 827238 issued 1 Jun 1996 expires 31 May 2001; arrested 1 Apr 2003 (individual) [SDGT]

ABOU SALMAN (a.k.a. AL-CHERIF, Said Ben Abdelhakim Ben Omar; a.k.a. BEN ABDELHAKIM, Cherif Said; a.k.a. “DJALLAL”; a.k.a. “YOUCEF”), Corso Lodi 59, Milan, Italy; DOB 25 Jan 1970; POB Menzel Temine, Tunisia; nationality Tunisia; Passport M307968 issued 8 Sep 2001 expires 7 Sep 2006; arrested 30 Sep 2002 (individual) [SDGT]

ABOU SHAWEESH, Yasser Mohamed (a.k.a. ABU SHAWEESH, Yasser Mohamed Ismail; a.k.a. SHAWEESH, Yasser Abu), Meckennheimer Str. 74a, Bonn 53179, Germany; Wuppertal Prison, Germany; DOB 20 Nov 1973; POB Benghazi, Libya; Passport 981358 (Egypt); alt. Passport 0003213 (Egypt); Travel Document Number C00071659 (Germany); alt. Travel Document Number 939254 (Egypt) (individual) [SDGT]

ABOU ZEINAB (a.k.a. SAYADI, Nabil Abdul Salam), 69 Rue des Bataves, 1040 Etterbeek, Brussels, Belgium; Vaatjesstraat, 29, 2580 Putte, Belgium; DOB 01 Jan 1966; POB Tripoli, Lebanon; National ID No. 660000 73767 (Belgium); Passport 1091875; Public Security and Immigration No. 98.805 (individual) [SDGT]

ABRIL CORTES, Oliverio (a.k.a. ABRIL CORTEZ, Oliverio; f.k.a. CORTEZ, Oliverio Abril), c/o INVERSIONES EL PENON S.A., Cali, Colombia; c/o CONSTRUCTORA DIMISA LTDA., Cali, Colombia; c/o AGROPECUARIA BETANIA LTDA., Cali, Colombia; c/o VALLADARES LTDA., Cali, Colombia; c/o INVERSIONES GEMINIS S.A., Cali, Colombia; c/o W. HERRERA Y CIA. S. EN C., Cali, Colombia; Calle 18A No. 8A-20, Jamundi, Colombia; c/o INVERSIONES EL GRAN CRISOL LTDA., Cali, Colombia; DOB 20 Aug 1956; Cedula No. 3002003 (Colombia); Passport AF368431 (Colombia) (individual) [SDNT]

ABRIL CORTEZ, Oliverio (a.k.a. ABRIL CORTES, Oliverio; f.k.a. CORTEZ, Oliverio Abril), c/o INVERSIONES EL PENON S.A., Cali, Colombia; c/o CONSTRUCTORA DIMISA LTDA., Cali, Colombia; c/o AGROPECUARIA BETANIA LTDA., Cali, Colombia; c/o VALLADARES LTDA., Cali, Colombia; c/o INVERSIONES GEMINIS S.A., Cali, Colombia; c/o W. HERRERA Y CIA. S. EN C., Cali, Colombia; Calle 18A No. 8A-20, Jamundi, Colombia; c/o INVERSIONES EL GRAN CRISOL LTDA., Cali, Colombia; DOB 20 Aug 1956; Cedula No. 3002003 (Colombia); Passport AF368431 (Colombia) (individual) [SDNT]

ABRIL RAMIREZ, Wilson Arcadio, c/o COOPCREAR, Bogota, Colombia; c/o COOPERATIVA MULTIACTIVA DE COLOMBIA FOMENTAMOS, Bogota, Colombia; c/o COOPERATIVA DE TRABAJO ASOCIADO ACTIVAR, Bogota, Colombia; DOB 25 Jul 1972; Cedula No. 79643115 (Colombia); Passport 79643115 (Colombia) (individual) [SDNT]

ABU ABDALLAH (a.k.a. AL-IRAQI, Abd al-Hadi; a.k.a. AL-IRAQI, Abdal al-Hadi) (individual) [SDGT]

ABU AHMAD (a.k.a. ABU BRAYS; a.k.a. AL-DURI, Izzat Ibrahim); DOB circa 1942; POB al-Dur, Iraq; nationality Iraq; Former deputy commander-in-chief of Iraqi military; deputy secretary, Former Ba'th party regional command; Former vice chairman, Revolutionary Command Council (individual) [IRAQ2]

ABU AL-GHADIYA (a.k.a. DARWISH, Sulayman Khalid), Syria; DOB 1976; alt. DOB circa 1974; POB Outside Damascus, Syria; nationality Syria; Passport 3936712 (Syria); alt. Passport 11012 (Syria) (individual) [SDGT]

ABU ALI (a.k.a. AL-TIKRITI, Saddam Hussein; a.k.a. HUSAYN, Saddam; a.k.a. HUSSAIN, Saddam; a.k.a. HUSSEIN, Saddam); DOB 28 Apr 1937; POB al-Awja, near Tikrit, Iraq; nationality Iraq; named in UNSCR 1483; President since 1979 (individual) [IRAQ2]

ABU AL-KHAYR, Ahmad Hasan (a.k.a. ABD AL-RAHMAN, Abdullah Muhammad Rajab); DOB 3 Nov 1957; POB Kafr al-Shaykh; nationality Egypt (individual) [SDGT]

ABU AL-MU'TAZ (a.k.a. 'ABD AL-KARIM; a.k.a. AL-HABIB; a.k.a. AL-KHALAYLAH, Ahmad Fadil Nazzal; a.k.a. AL-MUHAJIR; a.k.a. AL-ZARQAWI, Abu Mus'Ab; a.k.a. GHARIB; a.k.a. KHALAILAH, Ahmed Fadeel; a.k.a. KHALAYLEH, Fedel Nazzel; a.k.a. “MOUHANAD”; a.k.a. “MOUHANNAD”; a.k.a. “MUHANNAD”; a.k.a. “RASHID”); DOB 20 Oct 1966; POB Zarqa, Jordan; citizen Jordan; National ID No. 9661031030 (Jordan); Passport Z264968 (Jordan) (individual) [SDGT]

ABU AMIR (a.k.a. SALEH ABU HUSSEIN, Abdul Latif A.A.; a.k.a. SALEH, Abdul Latif A.A.; a.k.a. SALEH, Abdyl Latif; a.k.a. SALEH, Dr. Abd al-Latif; a.k.a. SALEH, Dr. Abdul Latif; a.k.a. SALIH, Abd al-Latif), United Arab Emirates; DOB 5 Mar 1957; POB Baghdad, Iraq; citizen Jordan; alt. Albania; Passport D366 871 (Jordan) (individual) [SDGT]

ABU BAKR, Ibrahim Ali Muhammad (a.k.a. AL-LIBI, Abd al-Muhsin) (individual) [SDGT]

ABU BRAYS (a.k.a. ABU AHMAD; a.k.a. AL-DURI, Izzat Ibrahim); DOB circa 1942; POB al-Dur, Iraq; nationality Iraq; Former deputy commander-in-chief of Iraqi military; deputy secretary, Former Ba'th party regional command; Former vice chairman, Revolutionary Command Council (individual) [IRAQ2]

ABU DHESS, Mohamed (a.k.a. HASSAN, Yaser; a.k.a. “ABU ALI”),; Holdenweg 76, Essen 45143, Germany; DOB 1 Feb 1966; POB Hashmija, Iraq; nationality possibly Palestinian;arrested 23 Apr 2002 (individual) [SDGT]

ABU FATIMA (a.k.a. ABDUREHMAN, Ahmed Mohammed; a.k.a. ABU ISLAM; a.k.a. ABU KHADIIJAH; a.k.a. AHMED HAMED; a.k.a. AHMED THE EGYPTIAN; a.k.a. AHMED, Ahmed; a.k.a. ALI, Ahmed Mohammed; a.k.a. ALI, Ahmed Mohammed Hamed; a.k.a. ALI, Hamed; a.k.a. AL-MASRI, Ahmad; a.k.a. AL-SURIR, Abu Islam; a.k.a. HEMED, Ahmed; a.k.a. SHIEB, Ahmed; a.k.a. SHUAIB), Afghanistan; DOB 1965; POB Egypt; citizen Egypt (individual) [SDGT]

ABU GHUNAYM SQUAD OF THE HIZBALLAH BAYT AL-MAQDIS (a.k.a. AL-AWDAH BRIGADES; a.k.a. AL-QUDS BRIGADES; a.k.a. AL-QUDS SQUADS; a.k.a. ISLAMIC JIHAD IN PALESTINE; a.k.a. ISLAMIC JIHAD OF PALESTINE; a.k.a. PALESTINE ISLAMIC JIHAD—SHAQAQI FACTION; a.k.a. PALESTINIAN ISLAMIC JIHAD; a.k.a. PIJ; a.k.a. PIJ-SHALLAH FACTION; a.k.a. PIJ-SHAQAQI FACTION; a.k.a. SAYARA AL-QUDS) [SDT] [FTO] [SDGT]

ABU HAFS (a.k.a. ABDULLAH, Sheikh Taysir; a.k.a. ABU SITTA, Subhi; a.k.a. AL-MASRI, Abu Hafs; a.k.a. ATEF, Muhammad; a.k.a. ATIF, Mohamed; a.k.a. ATIF, Muhammad; a.k.a. EL KHABIR, Abu Hafs el Masry; a.k.a. TAYSIR); DOB 1951; alt. DOB 1956; alt. DOB 1944; POB Alexandria, Egypt (individual) [SDT] [SDGT]

ABU HAFS THE MAURITANIAN (a.k.a. AL-SHANQITI, Khalid; a.k.a. AL-WALID, Mafouz Walad; a.k.a. AL-WALID, Mahfouz Ould; a.k.a. SLAHI, Mahamedou Ould); DOB 1 JAN 75 (individual) [SDGT]

ABU ISLAM (a.k.a. ABDUREHMAN, Ahmed Mohammed; a.k.a. ABU FATIMA; a.k.a. ABU KHADIIJAH; a.k.a. AHMED HAMED; a.k.a. AHMED THE EGYPTIAN; a.k.a. AHMED, Ahmed; a.k.a. ALI, Ahmed Mohammed; a.k.a. ALI, Ahmed Mohammed Hamed; a.k.a. ALI, Hamed; a.k.a. AL-MASRI, Ahmad; a.k.a. AL-SURIR, Abu Islam; a.k.a. HEMED, Ahmed; a.k.a. SHIEB, Ahmed; a.k.a. SHUAIB), Afghanistan; DOB 1965; POB Egypt; citizen Egypt (individual) [SDGT]

ABU ISMAIL (a.k.a. ABU UMAR, Abu Omar; a.k.a. AL-FILISTINI, Abu Qatada; a.k.a. TAKFIRI, Abu Umr; a.k.a. UMAR, Abu Umar; a.k.a. UTHMAN, Al-Samman; a.k.a. UTHMAN, Omar Mahmoud; a.k.a. UTHMAN, Umar), London, United Kingdom; DOB 30 Dec 1960; alt. DOB 13 Dec 1960 (individual) [SDGT]

ABU JIBRIL (a.k.a. A RAHMAN, Mohamad Iqbal; a.k.a. ABDURRAHMAN, Abu Jibril; a.k.a. ABDURRAHMAN, Mohamad Iqbal; a.k.a. MUQTI, Fihiruddin; a.k.a. MUQTI, Fikiruddin; a.k.a. RAHMAN, Mohamad Iqbal); DOB 17 Aug 1958; POB Tirpas-Selong Village, East Lombok, Indonesia; nationality Indonesia (individual) [SDGT]

ABU KATADA (a.k.a. EL BOUHALI, Ahmed), vicolo S. Rocco, n. 10 -Casalbuttano, Cremona, Italy; DOB 31 May 1963; POB Sidi Kacem, Morocco; nationality Morocco; Italian Fiscal Code LBHHMD63E31Z330M (individual) [SDGT]

ABU KHADIIJAH (a.k.a. ABDUREHMAN, Ahmed Mohammed; a.k.a. ABU FATIMA; a.k.a. ABU ISLAM; a.k.a. AHMED HAMED; a.k.a. AHMED THE EGYPTIAN; a.k.a. AHMED, Ahmed; a.k.a. ALI, Ahmed Mohammed; a.k.a. ALI, Ahmed Mohammed Hamed; a.k.a. ALI, Hamed; a.k.a. AL-MASRI, Ahmad; a.k.a. AL-SURIR, Abu Islam; a.k.a. HEMED, Ahmed; a.k.a. SHIEB, Ahmed; a.k.a. SHUAIB), Afghanistan; DOB 1965; POB Egypt; citizen Egypt (individual) [SDGT]

ABU MAJID SAMIYAH (a.k.a. ABU SAMIA; a.k.a. AL-FADHLI, Muhsin; a.k.a. AL-FADHLI, Muhsin Fadhil 'Ayyid; a.k.a. AL-FADHLI, Muhsin Fadil Ayid Ashur), Block Four, Street 13, House # 179, Kuwait City, Al-Riqqa area, Kuwait; DOB 24 Apr 1981; Passport 106261543 (Kuwait) (individual) [SDGT]

ABU MARIAM (a.k.a. ABDULLAH, Abdullah Ahmed; a.k.a. AL-MASRI, Abu Mohamed; a.k.a. SALEH), Afghanistan; DOB 1963; POB Egypt; citizen Egypt (individual) [SDGT]

ABU MARZOOK, Mousa Mohammed (a.k.a. ABU-MARZUQ, Dr. Musa; a.k.a. ABU-MARZUQ, Sa'id; a.k.a. ABU-'UMAR; a.k.a. MARZOOK, Mousa Mohamed Abou; a.k.a. MARZOUK, Musa Abu; a.k.a. MARZUK, Musa Abu); DOB 09 Feb 1951; POB Gaza, Egypt; Passport 92/664 (Egypt); SSN 523-33-8386 (United States); Political Leader in Amman, Jordan and Damascus, Syria for HAMAS (individual) [SDT] [SDGT]

ABU MUAMAR (a.k.a. MOCHTAR, Yasin Mahmud; a.k.a. MUBAROK, Muhamad; a.k.a. SYAWAL, Muhammad; a.k.a. SYAWAL, Yassin; a.k.a. YASIN, Abdul Hadi; a.k.a. YASIN, Salim; a.k.a. “ABU SETA”; a.k.a. “MAHMUD”); DOB circa 1972; nationality Indonesia (individual) [SDGT]

ABU MUKTAR (a.k.a. JANJALANI, Khadafi Abubakar; a.k.a. JANJALANI, Khadafy; a.k.a. JANJALANI, Khaddafy Abubakar); DOB 3 Mar 1975; POB Isabela, Basilan, Philippines; nationality Philippines (individual) [SDGT]

ABU NIDAL ORGANIZATION (a.k.a. ANO; a.k.a. ARAB REVOLUTIONARY BRIGADES; a.k.a. ARAB REVOLUTIONARY COUNCIL; a.k.a. BLACK SEPTEMBER; a.k.a. FATAH REVOLUTIONARY COUNCIL; a.k.a. REVOLUTIONARY ORGANIZATION OF SOCIALIST MUSLIMS) [SDT] [FTO] [SDGT]

ABU OMRAN (a.k.a. AL-MUGHASSIL, Ahmad Ibrahim; a.k.a. AL-MUGHASSIL, Ahmed Ibrahim); DOB 26 Jun 1967; POB Qatif-Bab al Shamal, Saudi Arabia; citizen Saudi Arabia (individual) [SDGT]

ABU SAMIA (a.k.a. ABU MAJID SAMIYAH; a.k.a. AL-FADHLI, Muhsin; a.k.a. AL-FADHLI, Muhsin Fadhil 'Ayyid; a.k.a. AL-FADHLI, Muhsin Fadil Ayid Ashur), Block Four, Street 13, House # 179, Kuwait City, Al-Riqqa area, Kuwait; DOB 24 Apr 1981; Passport 106261543 (Kuwait) (individual) [SDGT]

ABU SAYYAF GROUP (a.k.a. AL HARAKAT AL ISLAMIYYA) [FTO] [SDGT]

ABU SHANAB METALS ESTABLISHMENT (a.k.a. AMIN ABU SHANAB & SONS CO.; a.k.a. SHANAB METALS ESTABLISHMENT; a.k.a. TARIQ ABU SHANAB EST.; a.k.a. TARIQ ABU SHANAB EST. FOR TRADE & COMMERCE; a.k.a. TARIQ ABU SHANAB METALS ESTABLISHMENT), Musherfeh, P.O. Box 766, Zarka, Jordan [IRAQ2]

ABU SHAWEESH, Yasser Mohamed Ismail (a.k.a. ABOU SHAWEESH, Yasser Mohamed; a.k.a. SHAWEESH, Yasser Abu), Meckennheimer Str. 74a, Bonn 53179, Germany; Wuppertal Prison, Germany; DOB 20 Nov 1973; POB Benghazi, Libya; Passport 981358 (Egypt); alt. Passport 0003213 (Egypt); Travel Document Number C00071659 (Germany); alt. Travel Document Number 939254 (Egypt) (individual) [SDGT]

ABU SITTA, Subhi (a.k.a. ABDULLAH, Sheikh Taysir; a.k.a. ABU HAFS; a.k.a. AL-MASRI, Abu Hafs; a.k.a. ATEF, Muhammad; a.k.a. ATIF, Mohamed; a.k.a. ATIF, Muhammad; a.k.a. EL KHABIR, Abu Hafs el Masry; a.k.a. TAYSIR); DOB 1951; alt. DOB 1956; alt. DOB 1944; POB Alexandria, Egypt (individual) [SDT] [SDGT]

ABU THORIQ (a.k.a. RUSDAN, Abu; a.k.a. RUSDJAN; a.k.a. RUSJAN; a.k.a. RUSYDAN; a.k.a. THORIQUDDIN; a.k.a. THORIQUIDDIN; a.k.a. THORIQUIDIN; a.k.a. TORIQUDDIN); DOB 16 Aug 1960; POB Kudus, Central Java, Indonesia (individual) [SDGT]

ABU UMAR, Abu Omar (a.k.a. ABU ISMAIL; a.k.a. AL-FILISTINI, Abu Qatada; a.k.a. TAKFIRI, Abu Umr; a.k.a. UMAR, Abu Umar; a.k.a. UTHMAN, Al-Samman; a.k.a. UTHMAN, Omar Mahmoud; a.k.a. UTHMAN, Umar), London, United Kingdom; DOB 30 Dec 1960; alt. DOB 13 Dec 1960 (individual) [SDGT]

ABU UTHMAN (a.k.a. AL FAQIH, Saad; a.k.a. ALFAGIH, Saad; a.k.a. AL-FAGIH, Saad; a.k.a. AL-FAKIH, Saad; a.k.a. AL-FAQI, Sa'd; a.k.a. AL-FAQIH, Sa'ad; a.k.a. AL-FAQIH, Saad Rashed Mohammad; a.k.a. AL-FAQIH, Saad; a.k.a. AL-FAQIH, Sa'd), London, United Kingdom; DOB 1 Feb 1957; POB Zubair, Iraq; citizen Saudi Arabia; Doctor (individual) [SDGT]

ABU WALID (a.k.a. AL-MAJID, Rukan abd al-Gafur; a.k.a. AL-MAJID, Rukan abdal-Ghaffur Sulayman; a.k.a. AL-MAJID, Rukan Razuqi abd al-Gahfur; a.k.a. AL-TIKRITI, Rukan abd al-Ghaffur al-Majid; a.k.a. AL-TIKRITI, Rukan 'abd al-Ghaffur al-Majid; a.k.a. AL-TIKRITI, Rukan Razuki abd-al-Ghafur Sulaiman); DOB 1956; POB Tikrit, Iraq; nationality Iraq; head of Tribal Affairs Office in presidential office (individual) [IRAQ2]

ABU YASIR (a.k.a. 'ABD ALLAH, 'Issam 'Ali Muhammad; a.k.a. 'ABD-AL-'IZ; a.k.a. ABD-AL-WAHAB, Abd-al-Hai Ahmad; a.k.a. AL-KAMEL, Salah 'Ali; a.k.a. MUSA, Rifa'i Ahmad Taha; a.k.a. TAHA MUSA, Rifa'i Ahmad; a.k.a. THABIT 'IZ); DOB 24 Jun 54; POB Egypt; Passport 83860 (Sudan); alt. Passport 30455 (Egypt); alt. Passport 1046403 (Egypt) (individual) [SDT]

ABU ZUBAIDA (a.k.a. ABU ZUBAYDAH; a.k.a. AL-WAHAB, Abd Al-Hadi; a.k.a. HUSAIN, Zain Al-Abidin Muhahhad; a.k.a. HUSAYN, Zayn al-Abidin Muhammad; a.k.a. TARIQ); DOB 12 MAR 71; POB Riyadh, Saudi Arabia (individual) [SDGT]

ABU ZUBAYDAH (a.k.a. ABU ZUBAIDA; a.k.a. AL-WAHAB, Abd Al-Hadi; a.k.a. HUSAIN, Zain Al-Abidin Muhahhad; a.k.a. HUSAYN, Zayn al-Abidin Muhammad; a.k.a. TARIQ); DOB 12 MAR 71; POB Riyadh, Saudi Arabia (individual) [SDGT]

ABU-MARZUQ, Dr. Musa (a.k.a. ABU MARZOOK, Mousa Mohammed; a.k.a. ABU-MARZUQ, Sa'id; a.k.a. ABU-'UMAR; a.k.a. MARZOOK, Mousa Mohamed Abou; a.k.a. MARZOUK, Musa Abu; a.k.a. MARZUK, Musa Abu); DOB 09 Feb 1951; POB Gaza, Egypt; Passport 92/664 (Egypt); SSN 523-33-8386 (United States); Political Leader in Amman, Jordan and Damascus, Syria for HAMAS (individual) [SDT] [SDGT]

ABU-MARZUQ, Sa'id (a.k.a. ABU MARZOOK, Mousa Mohammed; a.k.a. ABU-MARZUQ, Dr. Musa; a.k.a. ABU-'UMAR; a.k.a. MARZOOK, Mousa Mohamed Abou; a.k.a. MARZOUK, Musa Abu; a.k.a. MARZUK, Musa Abu); DOB 09 Feb 1951; POB Gaza, Egypt; Passport 92/664 (Egypt); SSN 523-33-8386 (United States); Political Leader in Amman, Jordan and Damascus, Syria for HAMAS (individual) [SDT] [SDGT]

ABU-'UMAR (a.k.a. ABU MARZOOK, Mousa Mohammed; a.k.a. ABU-MARZUQ, Dr. Musa; a.k.a. ABU-MARZUQ, Sa'id; a.k.a. MARZOOK, Mousa Mohamed Abou; a.k.a. MARZOUK, Musa Abu; a.k.a. MARZUK, Musa Abu); DOB 09 Feb 1951; POB Gaza, Egypt; Passport 92/664 (Egypt); SSN 523-33-8386 (United States); Political Leader in Amman, Jordan and Damascus, Syria for HAMAS (individual) [SDT] [SDGT]

ACCESOS ELECTRONICOS S.A.DE C.V., Blvd. Cuauhtemoc 1711, Oficina 305, Colonia Zona Rio, Tijuana, Baja California, Mexico; Avenida Cuauhtemoc 1209, CP 22290, Colonia Zona Rio, Tijuana, Baja California, Mexico; David Alfaro 25, CP 22320, Tijuana, Baja California, Mexico [SDNTK]

ACCIRENT S.A., Transversal 9C No. 130C-26 Ofc. 401, Bogota, Colombia; NIT # 830088969-0 (Colombia) [SDNT]

ACCOUNTS & ELECTRONICS EQUIPMENTS, C/O ENGINEERING EQUIPMENT CORPORATION, P.O. Box 97, Khartoum, Sudan [SUDAN]

ACE INDIC NAVIGATION CO. LTD., c/o ANGLO-CARIBBEAN SHIPPING CO. LTD., 4th Floor, South Phase 2, South Quay Plaza II, 183, March Wall, London, United Kingdom [CUBA]

ACECHILLY NAVIGATION CO. LTD., c/o ANGLO-CARIBBEAN SHIPPING CO. LTD., 4th Floor, South Phase 2, South Quay Plaza II, 183, March Wall, London, United Kingdom [CUBA]

ACEFROSTY SHIPPING CO., LTD., 171 Old Bakery Street, Valletta, Malta [CUBA]

ACERO PIEDRAHITA, Cesar Augusto, Avenida 7N No. 17A-48, Cali, Colombia; c/o AGROPECUARIA LA ROBLEDA S.A., Cali, Colombia; DOB 20 May 1965; Cedula No. 70564947 (Colombia) (individual) [SDNT]

ACEVEDO PAMPLONA, Francisco Luis, Carrera 1 No. 18-52, Cali, Colombia; c/o INVERSIONES INVERVALLE S.A., Cali, Colombia; DOB 29 Apr 1965; Cedula No. 71660070 (Colombia) (individual) [SDNT]

ACEVEDO SAENZ, Delcy Patricia, c/o CAJA SOLIDARIA, Bogota, Colombia; c/o COPSERVIR LTDA., Bogota, Colombia; c/o SEGECOL LTDA., Bucaramanga, Colombia; Cedula No. 63355575 (Colombia) (individual) [SDNT]

ACHOUR, Ali (a.k.a. AIDER, Farid), Via Milanese, 5, 20099 Sesto San Giovanni, Milan, Italy; DOB 12 Oct 1964; POB Algiers, Algeria; Italian Fiscal Code DRAFRD64R12Z301C (individual) [SDGT]

ACHURY VARILA, Hernan Augusto (a.k.a. ACHURY VARILLA, Hernan Augusto), c/o COOPCREAR, Bogota, Colombia; c/o COOPERATIVA MULTIACTIVA DE COLOMBIA FOMENTAMOS, Bogota, Colombia; c/o ARCA DISTRIBUCIONES LTDA., Bogota, Colombia; c/o COOPERATIVA DE TRABAJO ASOCIADO ACTIVAR, Bogota, Colombia; DOB 14 Feb 1980; Cedula No. 80226706 (Colombia); Passport 80226706 (Colombia) (individual) [SDNT]

ACHURY VARILLA, Hernan Augusto (a.k.a. ACHURY VARILA, Hernan Augusto), c/o COOPCREAR, Bogota, Colombia; c/o COOPERATIVA MULTIACTIVA DE COLOMBIA FOMENTAMOS, Bogota, Colombia; c/o ARCA DISTRIBUCIONES LTDA., Bogota, Colombia; c/o COOPERATIVA DE TRABAJO ASOCIADO ACTIVAR, Bogota, Colombia; DOB 14 Feb 1980; Cedula No. 80226706 (Colombia); Passport 80226706 (Colombia) (individual) [SDNT]

ACTIVAR (a.k.a. COOPERATIVA DE TRABAJO ASOCIADO ACTIVAR), Calle 22B No. 56-63, Bogota, Colombia; Calle 44 No. 17-44, Bogota, Colombia; Carrera 6 No. 11-43 of. 505, Cali, Colombia; Carrera 23 No. 37-39 of. 202, Bogota, Colombia; NIT # 830099918-2 (Colombia) [SDNT]

ADBALLAH, Fazul (a.k.a. ABDALLA, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fazul Abdullah; a.k.a. MOHAMMED, Fouad; a.k.a. MUHAMAD, Fadil Abdallah); DOB 25 Aug 1972; alt. DOB 25 Dec 1974; alt. DOB 25 Feb 1974; POB Moroni, Comoros Islands; citizen Comoros alt. Kenya (individual) [SDGT]

ADEMI, Rahim; DOB 30 Jan 1954; POB Karac, Serbia and Montenegro; ICTY indictee (individual) [BALKANS]

ADEMI, Xhevat; DOB 8 Dec 1962; POB Tetovo, Macedonia (individual) [BALKANS]

ADEMULERO, Babestan Oluwole (a.k.a. BABESTAN, Wole A.; a.k.a. OGUNGBUYI, Oluwole A.; a.k.a. OGUNGBUYI, Wally; a.k.a. OGUNGBUYI, Wole A.; a.k.a. SHOFESO, Olatude I.; a.k.a. SHOFESO, Olatunde Irewole); DOB 4 MAR 53; POB Nigeria (individual) [SDNTK]

ADILI, Gafur; DOB 5 Jan 1959; POB Kicevo, Macedonia (individual) [BALKANS]

ADMACOOP (a.k.a. COOPERATIVA MULTIACTIVA DE ADMINISTRACION Y MANEJO ADMACOOP), Calle 12B No. 28-58, Bogota, Colombia; Carrera 28A No. 14-29, Bogota, Colombia; NIT # 830030933-6 (Colombia) [SDNT]

ADMINCHECK LIMITED, 1 Old Burlington Street, London, United Kingdom [IRAQ2]

ADMINISTRACION INMOBILIARIA BOLIVAR S.A., Calle 17N No. 6N-28, Cali, Colombia; Avenida 2CN No. 24N-92, Cali, Colombia; NIT # 800149060-5 (Colombia) [SDNT]

ADMINISTRADORA DE INMUEBLES VIDA, S.A. DE C.V., Blvd. Agua Caliente 1381, Colonia Revolucion, Tijuana, Baja California, Mexico [SDNTK]

ADMINISTRADORA DE SERVICIOS VARIOS CALIMA S.A., Calle 10 No. 4-47, piso 18, Cali, Colombia; Carrera 29A No. 9B-47, Cali, Colombia; NIT # 805007874-2 (Colombia) [SDNT]

ADNAN, Ahmed S. Hasan (a.k.a. AHMED, Adnan S. Hasan; a.k.a. SULTAN, Ahmed), Amman, Jordan (individual) [IRAQ2]

ADP, S.C., Tijuana, Baja California, Mexico [SDNTK]

ADVANCED ELECTRONICS DEVELOPMENT, LTD, 3 Mandeville Place, London, United Kingdom [IRAQ2]

AERO CONTINENT S.A. (a.k.a. AERO CONTINENTE S.A; a.k.a. AEROCONTINENTE S.A.; n.k.a. NUEVO CONTINENTE S.A.; n.k.a. NUEVOCONTINENTE S.A.; a.k.a. WWW.AEROCONTINENTE.COM; a.k.a. WWW.AEROCONTINENTE.COM.PE; n.k.a. WWW.NUEVOCONTINENTE.COM.PE), Jr. Francisco Bolognesi 125, Piso 16, Miraflores, Lima 18, Peru; Av. Grau 602 D, Barranco, Lima, Peru; Plaza Camacho TDA 3-C, La Molina, Lima, Peru; Av. Antunez de Mayolo 889, Los Olivos, Lima, Peru; Av. Pardo 605, Miraflores I-Pardo, Lima, Peru; Av. Camino Real 441, San Isidro, Lima, Peru; Av. Arequipa 326, Santa Beatriz, Lima, Peru; Av. Benavides 4581, Surco I, Lima, Peru; Av. Saenz Pena 184, Callao, Lima, Peru; Av. Rufino Torrico 981, Lima, Peru; Av. Enrique Llosa 395-A, Magdalena, Lima, Peru; Av. Larco 123-2 Do Piso, Miraflores II-Larco, Lima, Peru; Av. Peru 3421, San Martin de Porres, Lima, Peru; C.C. San Miguel Shopping Center, TDA. 50—Av. La Mar 2291, San Miguel, Lima, Peru; Av. La Encalada 1587, (C.C. El Polo Block A Oficina 213), Surco II-C.C. El Polo, Lima, Peru; Av. Jose Pardo 601, Miraflores, Lima, Peru; Av. Peru 3421, San Martin, Lima, Peru; Av. Grau 624, Barranco, Lima, Peru; Av. La Marina 2095, San Miguel, Lima, Peru; Sta Catalina 105 A-B, Arequipa, Peru; Jr. 9 de Diciembre 160, Ayacucho, Peru; Jr. 2 de Mayo 381, Cajamarca, Peru; Calle San Jose 867-879, Chiclayo, Peru; Portal de Carnes 254, Cusco, Peru; Jr. Prospero 232, Iquitos, Peru; Calle San Roman 175, Juliaca, Peru; Jr. Libertad 945-951, Piura, Peru; Leon Velarde 584, Puerto Maldonado, Peru; Jr. 7 de Junio 861, Pucallpa, Peru; Alonso de Alvarado 726, Rioja, Peru; Calle Apurimac 265, Tacna, Peru; Jr. Moyobamba 101, Tarapoto, Peru; Jr. Pizarro 470, Trujillo, Peru; Av. Tumbes 217, Tumbes, Peru; Jr. Libertad 139, Yurimaguas, Peru; Av. Thames 2406 (CP 1425) C.F., Buenos Aires, Argentina; Av. Amazonas No. 22-11B Y Veintimilla-Quito, Quito, Ecuador; Avenida Portugal No. 20, Of. 27—Comuna Santiago Centro, Santiago, Chile; Boyaca 1012 Y P. Icaza, Guayaquil, Ecuador; Av. 27 De Febrero No. 102, Edif Miguel Mejia Urr. El Vergel, Santo Domingo, Dominican Republic; 1ra Avenida de Los Palos Grandes, Centro Comercial Quinora P.B., Locales L-1A y L-2A, Caracas, Venezuela; Calle Rio Rhin No. 64, P.B. Col. Cuauhtemoc C.P., Mexico City D.F. 065000, Mexico; Sarmiento 854 Piso 8 Of. 3 y 4 (CP-S2000CMN), Rosario (Santa Fe), Argentina; Av. Colon 119 Piso 3 Of. 6 (CP-X5000EPB), Cordoba, Argentina; Rivadavia 209 (CP-5500), Mendoza, Argentina; 8940 NW 24 Terrace, Miami, FL 33172; Bogota, Colombia; Business Registration Document # F01000003035 (United States); NIT # 8300720300 (Colombia); RUC # 20108363101 (Peru); U.S. FEIN 55-2197267 [SDNTK]

AERO CONTINENTE (USA) INC. (a.k.a. AERO CONTINENTE, INC.), 2858 NW 79 Avenue, Miami, FL 33122; Business Registration Document # P94000013372 (United States); U.S. FEIN 65-0467983 [BPI-SDNTK]

AERO CONTINENTE S.A (a.k.a. AERO CONTINENT S.A.; a.k.a. AEROCONTINENTE S.A.; n.k.a. NUEVO CONTINENTE S.A.; n.k.a. NUEVOCONTINENTE S.A.; a.k.a. WWW.AEROCONTINENTE.COM; a.k.a. WWW.AEROCONTINENTE.COM.PE; n.k.a. WWW.NUEVOCONTINENTE.COM.PE),

Jr. Francisco Bolognesi 125, Piso 16, Miraflores, Lima 18, Peru; Av. Grau 602 D, Barranco, Lima, Peru; Plaza Camacho TDA 3-C, La Molina, Lima, Peru; Av. Antunez de Mayolo 889, Los Olivos, Lima, Peru; Av. Pardo 605, Miraflores I-Pardo, Lima, Peru; Av. Camino Real 441, San Isidro, Lima, Peru; Av. Arequipa 326, Santa Beatriz, Lima, Peru; Av. Benavides 4581, Surco I, Lima, Peru; Av. Saenz Pena 184, Callao, Lima, Peru; Av. Rufino Torrico 981, Lima, Peru; Av. Enrique Llosa 395-A, Magdalena, Lima, Peru; Av. Larco 123-2 Do Piso,

Miraflores II-Larco, Lima, Peru; Av. Peru 3421, San Martin de Porres, Lima, Peru; C.C. San Miguel Shopping Center, TDA. 50—Av. La Mar 2291, San Miguel, Lima, Peru; Av. La Encalada 1587, (C.C. El Polo Block A Oficina 213), Surco II-C.C. El Polo, Lima, Peru; Av. Jose Pardo 601, Miraflores, Lima, Peru; Av. Peru 3421, San Martin, Lima, Peru;Av. Grau 624, Barranco, Lima, Peru; Av. La Marina 2095, San Miguel, Lima, Peru; Sta Catalina 105 A-B, Arequipa, Peru; Jr. 9 de Diciembre 160, Ayacucho, Peru; Jr. 2 de Mayo 381, Cajamarca, Peru; Calle San Jose 867-879, Chiclayo, Peru; Portal de Carnes 254, Cusco, Peru; Jr. Prospero 232, Iquitos, Peru; Calle San Roman 175, Juliaca, Peru; Jr. Libertad 945-951, Piura, Peru; Leon Velarde 584,

Puerto Maldonado, Peru; Jr. 7 de Junio 861, Pucallpa, Peru; Alonso de Alvarado 726, Rioja, Peru; Calle Apurimac 265, Tacna, Peru; Jr. Moyobamba 101, Tarapoto, Peru; Jr. Pizarro 470, Trujillo, Peru; Av. Tumbes 217, Tumbes, Peru; Jr. Libertad 139, Yurimaguas, Peru; Av. Thames 2406 (CP 1425) C.F., Buenos Aires, Argentina; Av. Amazonas No. 22-11B Y Veintimilla-Quito, Quito, Ecuador; Avenida Portugal No. 20, Of. 27—Comuna Santiago Centro, Santiago, Chile; Boyaca 1012 Y P. Icaza, Guayaquil, Ecuador; Av. 27 De Febrero No. 102, Edif Miguel Mejia Urr. El Vergel, Santo Domingo, Dominican Republic; 1ra Avenida de Los Palos Grandes, Centro Comercial Quinora P.B., Locales L-1A y L-2A, Caracas, Venezuela; Calle Rio Rhin No. 64, P.B. Col. Cuauhtemoc C.P., Mexico City D.F. 065000, Mexico; Sarmiento 854 Piso 8 Of. 3 y 4 (CP-S2000CMN), Rosario (Santa Fe), Argentina; Av. Colon 119 Piso 3 Of. 6 (CP-X5000EPB), Cordoba, Argentina; Rivadavia 209 (CP-5500), Mendoza, Argentina; 8940 NW 24 Terrace, Miami, FL 33172; Bogota, Colombia; Business Registration Document # F01000003035 (United States); NIT # 8300720300 (Colombia); RUC # 20108363101 (Peru); U.S. FEIN 55-2197267 [SDNTK]

AERO CONTINENTE, INC. (a.k.a. AERO CONTINENTE (USA) INC.), 2858 NW 79 Avenue, Miami, FL 33122; Business Registration Document # P94000013372 (United States); U.S. FEIN 65-0467983 [BPI-SDNTK]

AEROATLANTICO LTDA. (a.k.a. AEROVIAS ATLANTICO LTDA.), Aeropuerto Int. Ernesto Cortisoz Hangar 1, Barranquilla Atlantico, Colombia; NIT # 890109958-1 (Colombia) [SDNT]

AERO-CARIBBEAN (a.k.a. AEROCARIBBEAN AIRLINES), Havana, Cuba [CUBA]

AEROCARIBBEAN AIRLINES (a.k.a. AERO-CARIBBEAN), Havana, Cuba [CUBA]

AEROCOMERCIAL ALAS DE COLOMBIA LTDA., Avenida El Dorado Entrada 2 Int. 6, Bogota, Colombia; NIT # 800049071-7 (Colombia) [SDNT]

AEROCONTINENTE S.A. (a.k.a. AERO CONTINENT S.A.; a.k.a. AERO CONTINENTE S.A; n.k.a. NUEVO CONTINENTE S.A.; n.k.a. NUEVOCONTINENTE S.A.; a.k.a. WWW.AEROCONTINENTE.COM; a.k.a. WWW.AEROCONTINENTE.COM.PE; n.k.a. WWW.NUEVOCONTINENTE.COM.PE), Jr. Francisco Bolognesi 125, Piso 16, Miraflores, Lima 18, Peru; Av. Grau 602 D, Barranco, Lima, Peru; Plaza Camacho TDA 3-C, La Molina, Lima, Peru; Av. Antunez de Mayolo 889, Los Olivos, Lima, Peru; Av. Pardo 605, Miraflores I-Pardo, Lima, Peru; Av. Camino Real 441, San Isidro, Lima, Peru; Av. Arequipa 326, Santa Beatriz, Lima, Peru; Av. Benavides 4581, Surco I, Lima, Peru; Av. Saenz Pena 184, Callao, Lima, Peru; Av. Rufino Torrico 981, Lima, Peru; Av. Enrique Llosa 395-A, Magdalena, Lima, Peru; Av. Larco 123-2 Do Piso, Miraflores II-Larco, Lima, Peru; Av. Peru 3421, San Martin de Porres, Lima, Peru; C.C. San Miguel Shopping Center, TDA. 50—Av. La Mar 2291, San Miguel, Lima, Peru; Av. La Encalada 1587, (C.C. El Polo Block A Oficina 213), Surco II-C.C. El Polo, Lima, Peru; Av. Jose Pardo 601, Miraflores, Lima, Peru; Av. Peru 3421, San Martin, Lima, Peru; Av. Grau 624, Barranco, Lima, Peru; Av. La Marina 2095, San Miguel, Lima, Peru; Sta Catalina 105 A-B, Arequipa, Peru; Jr. 9 de Diciembre 160, Ayacucho, Peru; Jr. 2 de Mayo 381, Cajamarca, Peru; Calle San Jose 867-879, Chiclayo, Peru; Portal de Carnes 254, Cusco, Peru; Jr. Prospero 232, Iquitos, Peru; Calle San Roman 175, Juliaca, Peru; Jr. Libertad 945-951, Piura, Peru; Leon Velarde 584, Puerto Maldonado, Peru; Jr. 7 de Junio 861, Pucallpa, Peru; Alonso de Alvarado 726, Rioja, Peru; Calle Apurimac 265, Tacna, Peru; Jr. Moyobamba 101, Tarapoto, Peru; Jr. Pizarro 470, Trujillo, Peru; Av. Tumbes 217, Tumbes, Peru; Jr. Libertad 139, Yurimaguas, Peru; Av. Thames 2406 (CP 1425) C.F., Buenos Aires, Argentina; Av. Amazonas No. 22-11B Y Veintimilla-Quito, Quito, Ecuador; Avenida Portugal No. 20, Of. 27—Comuna Santiago Centro, Santiago, Chile; Boyaca 1012 Y P. Icaza, Guayaquil, Ecuador; Av. 27 De Febrero No. 102, Edif Miguel Mejia Urr. El Vergel, Santo Domingo, Dominican Republic; 1ra Avenida de Los Palos Grandes, Centro Comercial Quinora P.B., Locales L-1A y L-2A, Caracas, Venezuela; Calle Rio Rhin No. 64, P.B. Col. Cuauhtemoc C.P., Mexico City D.F. 065000, Mexico; Sarmiento 854 Piso 8 Of. 3 y 4 (CP-S2000CMN), Rosario (Santa Fe), Argentina; Av. Colon 119 Piso 3 Of. 6 (CP-X5000EPB), Cordoba, Argentina; Rivadavia 209 (CP-5500), Mendoza, Argentina; 8940 NW 24 Terrace, Miami, FL 33172; Bogota, Colombia; Business Registration Document # F01000003035 (United States); NIT # 8300720300 (Colombia); RUC # 20108363101 (Peru); U.S. FEIN 55-2197267 [SDNTK]

AEROSPACE INDUSTRIES ORGANIZATION (a.k.a. SAZMANE SANAYE HAVA FAZA; a.k.a. “AIO”), Langare Street, Nobonyad Square, Tehran, Iran [NPWMD]

AEROTAXI EJECUTIVO, S.A., Managua, Nicaragua [CUBA]

AEROVIAS ATLANTICO LTDA. (a.k.a. AEROATLANTICO LTDA.), Aeropuerto Int. Ernesto Cortisoz Hangar 1, Barranquilla Atlantico, Colombia; NIT # 890109958-1 (Colombia) [SDNT]

AFGHAN SUPPORT COMMITTEE (ASC) (a.k.a. AHYA UL TURAS; a.k.a. JAMIAT AYAT-UR-RHAS AL ISLAMIA; a.k.a. JAMIAT IHYA UL TURATH AL ISLAMIA; a.k.a. LAJNAT UL MASA EIDATUL AFGHANIA), Grand Trunk Road, near Pushtoon Garhi Pabbi, Peshawar, Pakistan; Cheprahar Hadda, Mia Omar Sabaqah School, Jalalabad, Afghanistan [SDGT]

AFGHAN, Shear (a.k.a. AFGHAN, Sher; a.k.a. AFGHAN, Shir; a.k.a. AZIZ, Mohammad; a.k.a. KHAN, Abdullah); DOB 1962; alt. DOB 1959; POB Pakistan (individual) [SDNTK]

AFGHAN, Sher (a.k.a. AFGHAN, Shear; a.k.a. AFGHAN, Shir; a.k.a. AZIZ, Mohammad; a.k.a. KHAN, Abdullah); DOB 1962; alt. DOB 1959; POB Pakistan (individual) [SDNTK]

AFGHAN, Shir (a.k.a. AFGHAN, Shear; a.k.a. AFGHAN, Sher; a.k.a. AZIZ, Mohammad; a.k.a. KHAN, Abdullah); DOB 1962; alt. DOB 1959; POB Pakistan (individual) [SDNTK]

AFO (a.k.a. ARELLANO FELIX ORGANIZATION; a.k.a. TIJUANA CARTEL), Mexico [SDNTK]

AFRICAN DRILLING COMPANY, Khartoum, Sudan [SUDAN]

AFRICAN OIL CORPORATION, P.O. Box 1, Khartoum North, Sudan [SUDAN]

AGENCIA DE VIAJES GUAMA (a.k.a. GUAMA TOUR; a.k.a. GUAMATUR, S.A.; a.k.a. VIAJES GUAMA TOURS), Bal Harbour Shopping Center, Via Italia, Panama City, Panama [CUBA]

AGHA, Haji Abdul Manan (a.k.a. SAIYID, Abd Al-Man'am), Pakistan (individual) [SDGT]

AGRICOLA DOIMA DEL NORTE DEL VALLE LTDA., Carrera 4 No. 12-20 of. 206, Cartago, Valle, Colombia; Km 12 Via Santa Ana Molina, Hacienda Doima, Cartago, Colombia; NIT # 800144713-3 (Colombia) [SDNT]

AGRICOLA GANADERA HENAO GONZALEZ Y CIA. S.C.S., Carrera 4A No. 16-04 apt. 303, Cartago, Colombia; Km. 5 Via Aeropuerto, Cartago, Colombia; Carrera 1 No. 13-08, Cartago, Colombia; NIT # 800021615-1 (Colombia) [SDNT]

AGRICOLA HUMYAMI LTDA., Apartado Aereo 30352, Cali, Colombia [SDNT]

AGRICOLA SONGO LTDA., Calle 74 No. 53-30, Barranquilla, Colombia; NIT # 890115794-3 (Colombia) [SDNT]

AGRICULTURAL BANK OF SUDAN, P.O. Box 1363, Khartoum, Sudan [SUDAN]

AGRO MASCOTAS S.A. (a.k.a. AGROPECUARIA 100%; a.k.a. AGROPECUARIA EL ARBOLITO; a.k.a. AGROPECUARIA EL GALLO; a.k.a. AGROPECUARIA LA COLMENA; a.k.a. AGROPECUARIA LA HORMIGA; a.k.a. AGROTODO; a.k.a. AGROTORO), Avenida 3 Bis No. 23CN-13, Cali, Colombia; Calle 19 No. 12-36, Tunja, Colombia; Calle 1N No. 4-36, Popayan, Colombia; Calle 28 No. 27-06, Palmira, Colombia; Calle 3 No. 11-104, Santander de Quilichao, Colombia; Calle 35 No. 27-69, Villavicencio, Colombia; Calle 35 No. 27-83, Villavicencio, Colombia; Carrera 1 No. 14-41, Ibague, Colombia; Carrera 10 No. 11-14 Esq., Jamundi, Colombia; Carrera 10 No. 12-02 Esq., Girardot, Colombia; Carrera 10 No. 18-02, Pereira, Colombia; Carrera 13 No. 13-41, Bogota, Colombia; Carrera 13 No. 15-42, Santa Rosa, Colombia; Carrera 14 No. 18-51, Armenia, Colombia; Carrera 16 No. 43-15, Dos Quebradas, Colombia; Carrera 18 No. 22-17, Manizales, Colombia; Carrera 19 No. 11-52, Dutaima, Colombia; Carrera 2 No. 13-17, Puerto Boyaca, Colombia; Carrera 23 No. 29-03, Tulua, Colombia; Carrera 2A No. 15-10, Dorada, Colombia; Carrera 33 No. 19-35, Villavicencio, Colombia; Carrera 4 No. 16-87, Soacha, Colombia; Carrera 7 No. 12-58, Cartago, Colombia; Transversal 29 No. 39-92, Bogota, Colombia; NIT # 815002808-1 (Colombia) [SDNT]

AGROINVERSORA URDINOLA HENAO Y CIA. S.C.S., Calle 5 No. 22-39 of. 205, Cali, Colombia; Calle 52 No. 28E-30, Cali, Colombia; NIT # 800042180-1 (Colombia) [SDNT]

AGRONILO S.A. (a.k.a. AGROPECUARIA EL NILO S.A.), Establecimientos Corabastos Bodega Reina Puesto 35A, Bogota, Colombia; Calle 14 No. 4-123, La Union, Valle, Colombia; Corregimiento El Bohio Finca El Nilo, Toro, Valle, Colombia; Establecimientos Corabastos Bodega Reina Puesto 64A, Bogota, Colombia; NIT # 800099699-5 (Colombia) [SDNT]

AGROPECUARIA 100% (a.k.a. AGRO MASCOTAS S.A.; a.k.a. AGROPECUARIA EL ARBOLITO; a.k.a. AGROPECUARIA EL GALLO; a.k.a. AGROPECUARIA LA COLMENA; a.k.a. AGROPECUARIA LA HORMIGA; a.k.a. AGROTODO; a.k.a. AGROTORO), Avenida 3 Bis No. 23CN-13, Cali, Colombia; Calle 19 No. 12-36, Tunja, Colombia; Calle 1N No. 4-36, Popayan, Colombia; Calle 28 No. 27-06, Palmira, Colombia; Calle 3 No. 11-104, Santander de Quilichao, Colombia; Calle 35 No. 27-69, Villavicencio, Colombia; Calle 35 No. 27-83, Villavicencio, Colombia; Carrera 1 No. 14-41, Ibague, Colombia; Carrera 10 No. 11-14 Esq., Jamundi, Colombia; Carrera 10 No. 12-02 Esq., Girardot, Colombia; Carrera 10 No. 18-02, Pereira, Colombia; Carrera 13 No. 13-41, Bogota, Colombia; Carrera 13 No. 15-42, Santa Rosa, Colombia; Carrera 14 No. 18-51, Armenia, Colombia; Carrera 16 No. 43-15, Dos Quebradas, Colombia; Carrera 18 No. 22-17, Manizales, Colombia; Carrera 19 No. 11-52, Dutaima, Colombia; Carrera 2 No. 13-17, Puerto Boyaca, Colombia; Carrera 23 No. 29-03, Tulua, Colombia; Carrera 2A No. 15-10, Dorada, Colombia; Carrera 33 No. 19-35, Villavicencio, Colombia; Carrera 4 No. 16-87, Soacha, Colombia; Carrera 7 No. 12-58, Cartago, Colombia; Transversal 29 No. 39-92, Bogota, Colombia; NIT # 815002808-1 (Colombia) [SDNT]

AGROPECUARIA BETANIA LTDA., Calle 70N No. 14-31, Cali, Colombia; Carrera 61 No. 11-58, Cali, Colombia [SDNT]

AGROPECUARIA BETANIA LTDA. (a.k.a. VALLADARES LTDA.), Calle 70N No. 14-31, Cali, Colombia; Carrera 61 No. 11-58, Cali, Colombia; NIT # 890329123-0 (Colombia) [SDNT]

AGROPECUARIA EL ARBOLITO (a.k.a. AGRO MASCOTAS S.A.; a.k.a. AGROPECUARIA 100%; a.k.a. AGROPECUARIA EL GALLO; a.k.a. AGROPECUARIA LA COLMENA; a.k.a. AGROPECUARIA LA HORMIGA; a.k.a. AGROTODO; a.k.a. AGROTORO), Avenida 3 Bis No. 23CN-13, Cali, Colombia; Calle 19 No. 12-36, Tunja, Colombia; Calle 1N No. 4-36, Popayan, Colombia; Calle 28 No. 27-06, Palmira, Colombia; Calle 3 No. 11-104, Santander de Quilichao, Colombia; Calle 35 No. 27-69, Villavicencio, Colombia; Calle 35 No. 27-83, Villavicencio, Colombia; Carrera 1 No. 14-41, Ibague, Colombia; Carrera 10 No. 11-14 Esq., Jamundi, Colombia; Carrera 10 No. 12-02 Esq., Girardot, Colombia; Carrera 10 No. 18-02, Pereira, Colombia; Carrera 13 No. 13-41, Bogota, Colombia; Carrera 13 No. 15-42, Santa Rosa, Colombia; Carrera 14 No. 18-51, Armenia, Colombia; Carrera 16 No. 43-15, Dos Quebradas, Colombia; Carrera 18 No. 22-17, Manizales, Colombia; Carrera 19 No. 11-52, Dutaima, Colombia; Carrera 2 No. 13-17, Puerto Boyaca, Colombia; Carrera 23 No. 29-03, Tulua, Colombia; Carrera 2A No. 15-10, Dorada, Colombia; Carrera 33 No. 19-35, Villavicencio, Colombia; Carrera 4 No. 16-87, Soacha, Colombia; Carrera 7 No. 12-58, Cartago, Colombia; Transversal 29 No. 39-92, Bogota, Colombia; NIT # 815002808-1 (Colombia) [SDNT]

AGROPECUARIA EL GALLO (a.k.a. AGRO MASCOTAS S.A.; a.k.a. AGROPECUARIA 100%; a.k.a. AGROPECUARIA EL ARBOLITO; a.k.a. AGROPECUARIA LA COLMENA; a.k.a. AGROPECUARIA LA HORMIGA; a.k.a. AGROTODO; a.k.a. AGROTORO), Avenida 3 Bis No. 23CN-13, Cali, Colombia; Calle 19 No. 12-36, Tunja, Colombia; Calle 1N No. 4-36, Popayan, Colombia; Calle 28 No. 27-06, Palmira, Colombia; Calle 3 No. 11-104, Santander de Quilichao, Colombia; Calle 35 No. 27-69, Villavicencio, Colombia; Calle 35 No. 27-83, Villavicencio, Colombia; Carrera 1 No. 14-41, Ibague, Colombia; Carrera 10 No. 11-14 Esq., Jamundi, Colombia; Carrera 10 No. 12-02 Esq., Girardot, Colombia; Carrera 10 No. 18-02, Pereira, Colombia; Carrera 13 No. 13-41, Bogota, Colombia; Carrera 13 No. 15-42, Santa Rosa, Colombia; Carrera 14 No. 18-51, Armenia, Colombia; Carrera 16 No. 43-15, Dos Quebradas, Colombia; Carrera 18 No. 22-17, Manizales, Colombia; Carrera 19 No. 11-52, Dutaima, Colombia; Carrera 2 No. 13-17, Puerto Boyaca, Colombia; Carrera 23 No. 29-03, Tulua, Colombia; Carrera 2A No. 15-10, Dorada, Colombia; Carrera 33 No. 19-35, Villavicencio, Colombia; Carrera 4 No. 16-87, Soacha, Colombia; Carrera 7 No. 12-58, Cartago, Colombia; Transversal 29 No. 39-92, Bogota, Colombia; NIT # 815002808-1 (Colombia) [SDNT]

AGROPECUARIA EL NILO S.A. (a.k.a. AGRONILO S.A.), Establecimientos Corabastos Bodega Reina Puesto 35A, Bogota, Colombia; Calle 14 No. 4-123, La Union, Valle, Colombia; Corregimiento El Bohio Finca El Nilo, Toro, Valle, Colombia; Establecimientos Corabastos Bodega Reina Puesto 64A, Bogota, Colombia; NIT # 800099699-5 (Colombia) [SDNT]

AGROPECUARIA LA COLMENA (a.k.a. AGRO MASCOTAS S.A.; a.k.a. AGROPECUARIA 100%; a.k.a. AGROPECUARIA EL ARBOLITO; a.k.a. AGROPECUARIA EL GALLO; a.k.a. AGROPECUARIA LA HORMIGA; a.k.a. AGROTODO; a.k.a. AGROTORO), Avenida 3 Bis No. 23CN-13, Cali, Colombia; Calle 19 No. 12-36, Tunja, Colombia; Calle 1N No. 4-36, Popayan, Colombia; Calle 28 No. 27-06, Palmira, Colombia; Calle 3 No. 11-104, Santander de Quilichao, Colombia; Calle 35 No. 27-69, Villavicencio, Colombia; Calle 35 No. 27-83, Villavicencio, Colombia; Carrera 1 No. 14-41, Ibague, Colombia; Carrera 10 No. 11-14 Esq., Jamundi, Colombia; Carrera 10 No. 12-02 Esq., Girardot, Colombia; Carrera 10 No. 18-02, Pereira, Colombia; Carrera 13 No. 13-41, Bogota, Colombia; Carrera 13 No. 15-42, Santa Rosa, Colombia; Carrera 14 No. 18-51, Armenia, Colombia; Carrera 16 No. 43-15, Dos Quebradas, Colombia; Carrera 18 No. 22-17, Manizales, Colombia; Carrera 19 No. 11-52, Dutaima, Colombia; Carrera 2 No. 13-17, Puerto Boyaca, Colombia; Carrera 23 No. 29-03, Tulua, Colombia; Carrera 2A No. 15-10, Dorada, Colombia; Carrera 33 No. 19-35, Villavicencio, Colombia; Carrera 4 No. 16-87, Soacha, Colombia; Carrera 7 No. 12-58, Cartago, Colombia; Transversal 29 No. 39-92, Bogota, Colombia; NIT # 815002808-1 (Colombia) [SDNT]

AGROPECUARIA LA HORMIGA (a.k.a. AGRO MASCOTAS S.A.; a.k.a. AGROPECUARIA 100%; a.k.a. AGROPECUARIA EL ARBOLITO; a.k.a. AGROPECUARIA EL GALLO; a.k.a. AGROPECUARIA LA COLMENA; a.k.a. AGROTODO; a.k.a. AGROTORO), Avenida 3 Bis No. 23CN-13, Cali, Colombia; Calle 19 No. 12-36, Tunja, Colombia; Calle 1N No. 4-36, Popayan, Colombia; Calle 28 No. 27-06, Palmira, Colombia; Calle 3 No. 11-104, Santander de Quilichao, Colombia; Calle 35 No. 27-69, Villavicencio, Colombia; Calle 35 No. 27-83, Villavicencio, Colombia; Carrera 1 No. 14-41, Ibague, Colombia; Carrera 10 No. 11-14 Esq., Jamundi, Colombia; Carrera 10 No. 12-02 Esq., Girardot, Colombia; Carrera 10 No. 18-02, Pereira, Colombia; Carrera 13 No. 13-41, Bogota, Colombia; Carrera 13 No. 15-42, Santa Rosa, Colombia; Carrera 14 No. 18-51, Armenia, Colombia; Carrera 16 No. 43-15, Dos Quebradas, Colombia; Carrera 18 No. 22-17, Manizales, Colombia; Carrera 19 No. 11-52, Dutaima, Colombia; Carrera 2 No. 13-17, Puerto Boyaca, Colombia; Carrera 23 No. 29-03, Tulua, Colombia; Carrera 2A No. 15-10, Dorada, Colombia; Carrera 33 No. 19-35, Villavicencio, Colombia; Carrera 4 No. 16-87, Soacha, Colombia; Carrera 7 No. 12-58, Cartago, Colombia; Transversal 29 No. 39-92, Bogota, Colombia; NIT # 815002808-1 (Colombia) [SDNT]

AGROPECUARIA LA ROBLEDA S.A., Avenida 2DN No. 24N-76, Cali, Colombia; Carrera 61 No. 11-58, Cali, Colombia; NIT # 800160353-2 (Colombia) [SDNT]

AGROPECUARIA LA ROBLEDA S.A. (a.k.a. MANAURE S.A.), Avenida 2D Norte No. 24N-76, Cali, Colombia; Carrera 61 No. 11-58, Cali, Colombia; NIT # 800160353-2 (Colombia) [SDNT]

AGROPECUARIA MIRALINDO S.A., Carrera 8N No. 17A-12, Cartago, Colombia; NIT # 836000446-4 (Colombia) [SDNT]

AGROPECUARIA PALMA DEL RIO S.A., Carrera 5 No. 29-32, C.C. La Quinta, Ibague, Tolima, Colombia; Carrera 17 No. 91-42, Apt. 502, Bogota, Colombia; NIT # 830061299-7 (Colombia) [SDNT]

AGROPECUARIA Y REFRESTADORA HERREBE LTDA., Avenida 2N No. 7N-55 of. 501, Cali, Colombia [SDNT]

AGROTODO (a.k.a. AGRO MASCOTAS S.A.; a.k.a. AGROPECUARIA 100%; a.k.a. AGROPECUARIA EL ARBOLITO; a.k.a. AGROPECUARIA EL GALLO; a.k.a. AGROPECUARIA LA COLMENA; a.k.a. AGROPECUARIA LA HORMIGA; a.k.a. AGROTORO), Avenida 3 Bis No. 23CN-13, Cali, Colombia; Calle 19 No. 12-36, Tunja, Colombia; Calle 1N No. 4-36, Popayan, Colombia; Calle 28 No. 27-06, Palmira, Colombia; Calle 3 No. 11-104, Santander de Quilichao, Colombia; Calle 35 No. 27-69, Villavicencio, Colombia; Calle 35 No. 27-83, Villavicencio, Colombia; Carrera 1 No. 14-41, Ibague, Colombia; Carrera 10 No. 11-14 Esq., Jamundi, Colombia; Carrera 10 No. 12-02 Esq., Girardot, Colombia; Carrera 10 No. 18-02, Pereira, Colombia; Carrera 13 No. 13-41, Bogota, Colombia; Carrera 13 No. 15-42, Santa Rosa, Colombia; Carrera 14 No. 18-51, Armenia, Colombia; Carrera 16 No. 43-15, Dos Quebradas, Colombia; Carrera 18 No. 22-17, Manizales, Colombia; Carrera 19 No. 11-52, Dutaima, Colombia; Carrera 2 No. 13-17, Puerto Boyaca, Colombia; Carrera 23 No. 29-03, Tulua, Colombia; Carrera 2A No. 15-10, Dorada, Colombia; Carrera 33 No. 19-35, Villavicencio, Colombia; Carrera 4 No. 16-87, Soacha, Colombia; Carrera 7 No. 12-58, Cartago, Colombia; Transversal 29 No. 39-92, Bogota, Colombia; NIT # 815002808-1 (Colombia) [SDNT]

AGROTORO (a.k.a. AGRO MASCOTAS S.A.; a.k.a. AGROPECUARIA 100%; a.k.a. AGROPECUARIA EL ARBOLITO; a.k.a. AGROPECUARIA EL GALLO; a.k.a. AGROPECUARIA LA COLMENA; a.k.a. AGROPECUARIA LA HORMIGA; a.k.a. AGROTODO), Avenida 3 Bis No. 23CN-13, Cali, Colombia; Calle 19 No. 12-36, Tunja, Colombia; Calle 1N No. 4-36, Popayan, Colombia; Calle 28 No. 27-06, Palmira, Colombia; Calle 3 No. 11-104, Santander de Quilichao, Colombia; Calle 35 No. 27-69, Villavicencio, Colombia; Calle 35 No. 27-83, Villavicencio, Colombia; Carrera 1 No. 14-41, Ibague, Colombia; Carrera 10 No. 11-14 Esq., Jamundi, Colombia; Carrera 10 No. 12-02 Esq., Girardot, Colombia; Carrera 10 No. 18-02, Pereira, Colombia; Carrera 13 No. 13-41, Bogota, Colombia; Carrera 13 No. 15-42, Santa Rosa, Colombia; Carrera 14 No. 18-51, Armenia, Colombia; Carrera 16 No. 43-15, Dos Quebradas, Colombia; Carrera 18 No. 22-17, Manizales, Colombia; Carrera 19 No. 11-52, Dutaima, Colombia; Carrera 2 No. 13-17, Puerto Boyaca, Colombia; Carrera 23 No. 29-03, Tulua, Colombia; Carrera 2A No. 15-10, Dorada, Colombia; Carrera 33 No. 19-35, Villavicencio, Colombia; Carrera 4 No. 16-87, Soacha, Colombia; Carrera 7 No. 12-58, Cartago, Colombia; Transversal 29 No. 39-92, Bogota, Colombia; NIT # 815002808-1 (Colombia) [SDNT]

AGROVETERINARIA EL TORO (a.k.a. AGROVETERINARIA EL TORO #2; a.k.a. INVERSIONES BOMBAY S.A.), Transversal 29 No. 39-92, Bogota, Colombia; Calle 12B No. 28-50, Bogota, Colombia; Avenida 3 Bis Norte No. 23CN-69, Cali, Colombia; Calle 7 No. 25-69, Cali, Colombia; NIT # 830019226-2 (Colombia) [SDNT]

AGROVETERINARIA EL TORO #2 (a.k.a. AGROVETERINARIA EL TORO; a.k.a. INVERSIONES BOMBAY S.A.), Transversal 29 No. 39-92, Bogota, Colombia; Calle 12B No. 28-50, Bogota, Colombia; Avenida 3 Bis Norte No. 23CN-69, Cali, Colombia; Calle 7 No. 25-69, Cali, Colombia; NIT # 830019226-2 (Colombia) [SDNT]

AGUADO ORTIZ, Luis Jamerson, c/o FLEXOEMPAQUES LTDA., Cali, Colombia; c/o DISTRIBUIDORA MIGIL LTDA., Cali, Colombia; c/o PLASTICOS CONDOR LTDA., Cali, Colombia; c/o D'CACHE S.A., Cali, Colombia; c/o INVERSIONES Y CONSTRUCCIONES COSMOVALLE LTDA., Cali, Colombia; DOB 30 May 1939; Cedula No. 2935839 (Colombia) (individual) [SDNT]

AGUAS LOZADA, Rafael, c/o COSMEPOP, Bogota, Colombia; c/o DROGAS LA REBAJA BOGOTA S.A., Bogota, Colombia; c/o LABORATORIOS BLAIMAR DE COLOMBIA S.A., Bogota, Colombia; DOB 6 Feb 1967; Cedula No. 11385426 (Colombia) (individual) [SDNT]

AGUDELO, Ivan de Jesus, Avenida 6N No. 47-197 17, Cali, Colombia; c/o INDUSTRIA MADERERA ARCA LTDA., Cali, Colombia (individual) [SDNT]

AGUIAR, Raul, Avenida de Concha, Espina 8, E-28036, Madrid, Spain; Director, Banco Nacional de Cuba (individual) [CUBA]

AGUILAR AMAO, Miguel, Avenida Del Sol 4551, Fraccionamiento La Escondida, Tijuana, Baja California, Mexico; Avenida Del Sol 4551-2, Fraccionamiento La Escondida 22440, Tijuana, Baja California, Mexico; c/o Distribuidora Imperial De Baja California S.A. de C.V., Tijuana, Baja California, Mexico; c/o ADP, S.C., Tijuana, Baja California, Mexico; DOB 29 Sep 1953; POB Santa Agueda,Baja California Sur,Mexico; Credencial electoral 101924629544 (Mexico); R.F.C. AUAM-530929 (Mexico) (individual) [SDNTK]

AGUILAR BERNAL, Sonia, Calle 14C No. 29B-24, Cali, Colombia; c/o CRIADERO LA LUISA E.U., Cali, Colombia; c/o GESTORA MERCANTIL S.A., Cali, Colombia; c/o COMPANIA DE FOMENTO MERCANTIL S.A., Cali, Colombia; c/o CONSTRUCCIONES PROGRESO DEL PUERTO S.A., Puerto Tejada, Colombia; Cedula No. 31988264 (Colombia); Passport 31988264 (Colombia) (individual) [SDNT]

AGUILAR ROJAS, Luz Elena, c/o PARQUE INDUSTRIAL PROGRESO S.A., Yumbo, Colombia; c/o GEOPLASTICOS S.A., Cali, Colombia; DOB 14 Mar 1966; POB Cali, Valle, Colombia; Cedula No. 31940893 (Colombia); Passport 31940893 (Colombia) (individual) [SDNT]

AGUILAR TORRES, Evangelina, c/o CASA DE EMPENO RIO TIJUANA, S.A. DE C.V., Tijuana, Baja California, Mexico; DOB 2 May 1956; POB Tijuana, Baja California, Mexico (individual) [SDNTK]

AGUILERA QUIJANO, Harold, c/o ASESORIAS COSMOS LTDA., Cali, Colombia; DOB 28 Feb 1958; Cedula No. 16594227 (Colombia) (individual) [SDNT]

AGUIRRE GALINDO, Manuel, c/o Complejo Turistico Oasis, S.A. DE C.V., Rosarito, Baja California, Mexico; DOB 2 Nov 1950; R.F.C. AUGM-501102-PM3 (Mexico) (individual) [SDNTK]

AGUSTIN GRAJALES Y CIA. LTDA., Factoria La Rivera, La Union, Valle, Colombia; NIT # 800166941-0 (Colombia) [SDNT]

AH HAQ, Dr. Amin (a.k.a. AL-HAQ, Amin; a.k.a. AMIN, Muhammad; a.k.a. UL-HAQ, Dr. Amin); DOB 1960; POB Nangahar Province, Afghanistan (individual) [SDGT]

AHCENE, Cheib (a.k.a. ABDELHAY, al-Sheikh; a.k.a. ALLANE, Hacene; a.k.a. “ABU AL-FOUTOUH”; a.k.a. “BOULAHIA”; a.k.a. “HASSAN THE OLD”); DOB 17 Jan 1941; POB El Menea, Algeria (individual) [SDGT]

AHMAD, Abu (a.k.a. AHMED, Abu; a.k.a. SALAH, Mohammad Abd El-Hamid Khalil; a.k.a. SALAH, Mohammad Abdel Hamid Halil; a.k.a. SALAH, Muhammad A.), 9229 South Thomas, Bridgeview, IL 60455; P.O. Box 2578, Bridgeview, IL 60455; P.O. Box 2616, Bridgeview, IL 60455-661; Israel; DOB 5/30/53; Passport 024296248 (United States); SSN 342-52-7612 (individual) [SDT]

AHMAD, Abu Bakr (a.k.a. “AHMED THE TANZANIAN”; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. “FOOPIE”; a.k.a. “FUPI”; a.k.a. GHAILANI, Abubakary Khalfan Ahmed; a.k.a. GHAILANI, Ahmed; a.k.a. GHAILANI, Ahmed Khalfan; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

AHMAD, Mufti Rasheed (a.k.a. LADEHYANOY, Mufti Rashid Ahmad; a.k.a. LUDHIANVI, Mufti Rashid Ahmad; a.k.a. WADEHYANOY, Mufti Rashid Ahmad), Karachi, Pakistan (individual) [SDGT]

AHMAD, MUHAMMAD YUNIS (a.k.a. AHMED, MUHAMMAD YUNIS; a.k.a. AL-AHMED, MUHAMMAD YUNIS; a.k.a. AL-BADRANI, MUHAMMAD YUNIS AHMAD; a.k.a. AL-MOALI, MOHAMMED YUNIS AHMED), Wadi al-Hawi, Iraq; Al-Dawar Street, Bludan, Syria; Damascus, Syria; Mosul, Iraq; Dubai, United Arab Emirates; Al-Hasaka, Syria; DOB 1949; POB Al-Mowall, Mosul, Iraq; nationality Iraq (individual) [IRAQ2]

AHMAD, Mustafa Muhammad (a.k.a. SAI'ID, Shaykh); POB Egypt (individual) [SDGT]

AHMAD, Rasem, P.O. Box 1318, Amman, Jordan (individual) [IRAQ2]

AHMAD, Tariq Anwar al-Sayyid (a.k.a. FARAG, Hamdi Ahmad; a.k.a. FATHI, Amr Al-Fatih); DOB 15 MAR 63; POB Alexandria, Egypt (individual) [SDGT]

AHMAD, Wallid Issa, Iraq (individual) [IRAQ2]

AHMAD, Zaki Izzat Zaki; DOB 21 Apr 1960; POB Sharqiyah, Egypt; nationality Egypt (individual) [SDGT]

AHMED HAMED (a.k.a. ABDUREHMAN, Ahmed Mohammed; a.k.a. ABU FATIMA; a.k.a. ABU ISLAM; a.k.a. ABU KHADIIJAH; a.k.a. AHMED THE EGYPTIAN; a.k.a. AHMED, Ahmed; a.k.a. ALI, Ahmed Mohammed; a.k.a. ALI, Ahmed Mohammed Hamed; a.k.a. ALI, Hamed; a.k.a. AL-MASRI, Ahmad; a.k.a. AL-SURIR, Abu Islam; a.k.a. HEMED, Ahmed; a.k.a. SHIEB, Ahmed; a.k.a. SHUAIB), Afghanistan; DOB 1965; POB Egypt; citizen Egypt (individual) [SDGT]

AHMED NACER, Yacine (a.k.a. YACINE DI ANNABA), Rue Mohamed Khemisti, 6, Annaba, Algeria; Via Genova, 121, Naples, Italy; Vicolo Duchessa, 16, Naples, Italy; DOB 2 Dec 1967; POB Annaba, Algeria (individual) [SDGT]

AHMED THE EGYPTIAN (a.k.a. ABDUREHMAN, Ahmed Mohammed; a.k.a. ABU FATIMA; a.k.a. ABU ISLAM; a.k.a.ABU KHADIIJAH; a.k.a. AHMED HAMED; a.k.a. AHMED, Ahmed; a.k.a. ALI, Ahmed Mohammed; a.k.a. ALI, Ahmed Mohammed Hamed; a.k.a. ALI, Hamed; a.k.a. AL-MASRI, Ahmad; a.k.a. AL-SURIR, Abu Islam; a.k.a. HEMED, Ahmed; a.k.a. SHIEB, Ahmed; a.k.a. SHUAIB), Afghanistan; DOB 1965; POB Egypt; citizen Egypt (individual) [SDGT]

AHMED THE TALL (a.k.a. ALLY, Ahmed; a.k.a. BAHAMAD; a.k.a. BAHAMAD, Sheik; a.k.a. BAHAMADI, Sheikh; a.k.a. SUWEIDAN, Sheikh Ahmad Salem; a.k.a. SWEDAN, Sheikh; a.k.a. SWEDAN, Sheikh Ahmed Salem; a.k.a. SWEDAN, Sheikh Ahmed Salim); DOB 9 Apr 1969; alt. DOB 9 Apr 1960; POB Mombasa, Kenya; citizen Kenya (individual) [SDGT]

AHMED, A. (a.k.a. AHMAD, Abu Bakr; a.k.a. “AHMED THE TANZANIAN”; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. “FOOPIE”; a.k.a. “FUPI”; a.k.a. GHAILANI, Abubakary Khalfan Ahmed; a.k.a. GHAILANI, Ahmed; a.k.a. GHAILANI, Ahmed Khalfan; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

AHMED, Abu (a.k.a. AHMAD, Abu; a.k.a. SALAH, Mohammad Abd El-Hamid Khalil; a.k.a. SALAH, Mohammad Abdel Hamid Halil; a.k.a. SALAH, Muhammad A.), 9229 South Thomas, Bridgeview, IL 60455; P.O. Box 2578, Bridgeview, IL 60455; P.O. Box 2616, Bridgeview, IL 60455-661; Israel; DOB 5/30/53; Passport 024296248 (United States); SSN 342-52-7612 (individual) [SDT]

AHMED, Abubakar (a.k.a. AHMAD, Abu Bakr; a.k.a. “AHMED THE TANZANIAN”; a.k.a. AHMED, A.; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. “FOOPIE”; a.k.a. “FUPI”; a.k.a. GHAILANI, Abubakary Khalfan Ahmed; a.k.a. GHAILANI, Ahmed; a.k.a. GHAILANI, Ahmed Khalfan; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

AHMED, Abubakar K. (a.k.a. AHMAD, Abu Bakr; a.k.a. “AHMED THE TANZANIAN”; a.k.a. AHMED, A.; a.k.a. AHMED, Abubakar; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. “FOOPIE”; a.k.a. “FUPI”; a.k.a. GHAILANI, Abubakary Khalfan Ahmed; a.k.a. GHAILANI, Ahmed; a.k.a. GHAILANI, Ahmed Khalfan; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

AHMED, Abubakar Khalfan (a.k.a. AHMAD, Abu Bakr; a.k.a. “AHMED THE TANZANIAN”; a.k.a. AHMED, A.; a.k.a. AHMED, Abubakar; a.k.a. AHMED, Abubakar K.; a.k.a. AHMED, Abubakary K.; a.k.a. AHMED, Ahmed Khalfan; a.k.a. AL TANZANI, Ahmad; a.k.a. ALI, Ahmed Khalfan; a.k.a. BAKR, Abu; a.k.a. “FOOPIE”; a.k.a. “FUPI”; a.k.a. GHAILANI, Abubakary Khalfan Ahmed; a.k.a. GHAILANI, Ahmed; a.k.a. GHAILANI, Ahmed Khalfan; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

AHMED, Abubakary K. (a.k.a. AHMAD, Abu Bakr; a.k.a. “AHMED THE TANZANIAN”; a.k.a. AHMED, A.; a.k.a. AHMED, Abubakar; a.k.a. AHMED, Abubakar K.; a.k.a. AHMED, Abubakar Khalfan; a.k.a. AHMED, Ahmed Khalfan; a.k.a. AL TANZANI, Ahmad; a.k.a. ALI, Ahmed Khalfan; a.k.a. BAKR, Abu; a.k.a. “FOOPIE”; a.k.a. “FUPI”; a.k.a. GHAILANI, Abubakary Khalfan Ahmed; a.k.a. GHAILANI, Ahmed; a.k.a. GHAILANI, Ahmed Khalfan; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

AHMED, Adnan S. Hasan (a.k.a. ADNAN, Ahmed S. Hasan; a.k.a. SULTAN, Ahmed), Amman, Jordan (individual) [IRAQ2]

AHMED, Ahmed (a.k.a. ABDUREHMAN, Ahmed Mohammed; a.k.a. ABU FATIMA; a.k.a. ABU ISLAM; a.k.a. ABU KHADIIJAH; a.k.a. AHMED HAMED; a.k.a. AHMED THE EGYPTIAN; a.k.a. ALI, Ahmed Mohammed; a.k.a. ALI, Ahmed Mohammed Hamed; a.k.a. ALI, Hamed; a.k.a. AL-MASRI, Ahmad; a.k.a. AL-SURIR, Abu Islam; a.k.a. HEMED, Ahmed; a.k.a. SHIEB, Ahmed; a.k.a. SHUAIB), Afghanistan; DOB 1965; POB Egypt; citizen Egypt (individual) [SDGT]

AHMED, Ahmed Khalfan (a.k.a. AHMAD, Abu Bakr; a.k.a. “AHMED THE TANZANIAN”; a.k.a. AHMED, A.; a.k.a. AHMED, Abubakar; a.k.a. AHMED, Abubakar K.; a.k.a. AHMED, Abubakar Khalfan; a.k.a. AHMED, Abubakary K.; a.k.a. AL TANZANI, Ahmad; a.k.a. ALI, Ahmed Khalfan; a.k.a. BAKR, Abu; a.k.a. “FOOPIE”; a.k.a. “FUPI”; a.k.a. GHAILANI, Abubakary Khalfan Ahmed; a.k.a. GHAILANI, Ahmed; a.k.a. GHAILANI, Ahmed Khalfan; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

AHMED, MUHAMMAD YUNIS (a.k.a. AHMAD, MUHAMMAD YUNIS; a.k.a. AL-AHMED, MUHAMMAD YUNIS; a.k.a. AL-BADRANI, MUHAMMAD YUNIS AHMAD; a.k.a. AL-MOALI, MOHAMMED YUNIS AHMED), Wadi al-Hawi, Iraq; Al-Dawar Street, Bludan, Syria; Damascus, Syria; Mosul, Iraq; Dubai, United Arab Emirates; Al-Hasaka, Syria; DOB 1949; POB Al-Mowall, Mosul, Iraq; nationality Iraq (individual) [IRAQ2]

AHMED, Saeed (a.k.a. AKMAN, Saeed; a.k.a. MURAD, Abdul Hakim; a.k.a. MURAD, Abdul Hakim Al Hashim; a.k.a. MURAD, Abdul Hakim Hasim; a.k.a. MURAD, Adbul Hakim Ali Hashim); DOB 4 Jan 1968; POB Kuwait; nationality Pakistan; currently incarcerated in the U.S. (individual) [SDGT]

AHYA UL TURAS (a.k.a. AFGHAN SUPPORT COMMITTEE (ASC); a.k.a. JAMIAT AYAT-UR-RHAS AL ISLAMIA; a.k.a. JAMIAT IHYA UL TURATH AL ISLAMIA; a.k.a. LAJNAT UL MASA EIDATUL AFGHANIA), Grand Trunk Road, near Pushtoon Garhi Pabbi, Peshawar, Pakistan; Cheprahar Hadda, Mia Omar Sabaqah School, Jalalabad, Afghanistan [SDGT]

AIADI, Ben Muhammad (a.k.a. AIADY, Ben Muhammad; a.k.a. AYADI CHAFIK, Ben Muhammad; a.k.a. AYADI SHAFIQ, Ben Muhammad; a.k.a. BIN MUHAMMAD, Ayadi Chafiq), Helene Meyer Ring 10-1415-80809, Munich, Germany; 129 Park Road, NW8, London, United Kingdom; 28 Chaussee de Lille, Mouscron, Belgium; Darvingasse 1/2/58-60, Vienna, Austria; Tunisia; DOB 21 Jan 1963; POB Safais (Sfax), Tunisia (individual) [SDGT]

AIADY, Ben Muhammad (a.k.a. AIADI, Ben Muhammad; a.k.a. AYADI CHAFIK, Ben Muhammad; a.k.a. AYADI SHAFIQ, Ben Muhammad; a.k.a. BIN MUHAMMAD, Ayadi Chafiq), Helene Meyer Ring 10-1415-80809, Munich, Germany; 129 Park Road, NW8, London, United Kingdom; 28 Chaussee de Lille, Mouscron, Belgium; Darvingasse 1/2/58-60, Vienna, Austria; Tunisia; DOB 21 Jan 1963; POB Safais (Sfax), Tunisia (individual) [SDGT]

AIAI (a.k.a. AL-ITIHAAD AL-ISLAMIYA) [SDGT]

AIDER, Farid (a.k.a. ACHOUR, Ali), Via Milanese, 5, 20099 Sesto San Giovanni, Milan, Italy; DOB 12 Oct 1964; POB Algiers, Algeria; Italian Fiscal Code DRAFRD64R12Z301C (individual) [SDGT]

AIMOROS SHIPPING CO. LTD. (a.k.a. AIRMORES SHIPPING CO. LTD.), c/o MELFI MARINE CORPORATION S.A., Oficina 7, Edificio Senorial, Calle 50, Apartado 31, Panama City 5, Panama [CUBA]

AIR BAS (a.k.a. AIR BASS; a.k.a. AIRBAS TRANSPORTATION FZE; a.k.a. AIRBAS TRANSPORTATION INC.; a.k.a. AVIABAS), P.O. Box 8299, Sharjah, United Arab Emirates; 811 S. Central Expwy, Ste 210, Richardson, TX 75080 [LIBERIA]

AIR BASS (a.k.a. AIR BAS; a.k.a. AIRBAS TRANSPORTATION FZE; a.k.a. AIRBAS TRANSPORTATION INC.; a.k.a. AVIABAS), P.O. Box 8299, Sharjah, United Arab Emirates; 811 S. Central Expwy, Ste 210, Richardson, TX 75080 [LIBERIA]

AIR CESS (a.k.a. AIR CESS EQUATORIAL GUINEA; a.k.a. AIR CESS HOLDINGS LTD.; a.k.a. AIR CESS INC. 360-C; a.k.a. AIR CESS LIBERIA; a.k.a. AIR CESS RWANDA; a.k.a. AIR CESS SWAZILAND (PTY.) LTD.; a.k.a. AIR PAS; a.k.a. AIR PASS; a.k.a. CESSAVIA; a.k.a. CHESS AIR GROUP; a.k.a. PIETERSBURG AVIATION SERVICES & SYSTEMS), Malabo, Equatorial Guinea; P.O. Box 7837, Sharjah, United Arab Emirates; P.O. Box 3962, Sharjah, United Arab Emirates; Islamabad, Pakistan; Entebbe, Uganda [LIBERIA]

AIR CESS EQUATORIAL GUINEA (a.k.a. AIR CESS; a.k.a. AIR CESS HOLDINGS LTD.; a.k.a. AIR CESS INC. 360-C; a.k.a. AIR CESS LIBERIA; a.k.a. AIR CESS RWANDA; a.k.a. AIR CESS SWAZILAND (PTY.) LTD.; a.k.a. AIR PAS; a.k.a. AIR PASS; a.k.a. CESSAVIA; a.k.a. CHESS AIR GROUP; a.k.a. PIETERSBURG AVIATION SERVICES & SYSTEMS), Malabo, Equatorial Guinea; P.O. Box 7837, Sharjah, United Arab Emirates; P.O. Box 3962, Sharjah, United Arab Emirates; Islamabad, Pakistan; Entebbe, Uganda [LIBERIA]

AIR CESS HOLDINGS LTD. (a.k.a. AIR CESS; a.k.a. AIR CESS EQUATORIAL GUINEA; a.k.a. AIR CESS INC. 360-C; a.k.a. AIR CESS LIBERIA; a.k.a. AIR CESS RWANDA; a.k.a. AIR CESS SWAZILAND (PTY.) LTD.; a.k.a. AIR PAS; a.k.a. AIR PASS; a.k.a. CESSAVIA; a.k.a. CHESS AIR GROUP; a.k.a. PIETERSBURG AVIATION SERVICES & SYSTEMS), Malabo, Equatorial Guinea; P.O. Box 7837, Sharjah, United Arab Emirates; P.O. Box 3962, Sharjah, United Arab Emirates; Islamabad, Pakistan; Entebbe, Uganda [LIBERIA]

AIR CESS INC. 360-C (a.k.a. AIR CESS; a.k.a. AIR CESS EQUATORIAL GUINEA; a.k.a. AIR CESS HOLDINGS LTD.; a.k.a. AIR CESS LIBERIA; a.k.a. AIR CESS RWANDA; a.k.a. AIR CESS SWAZILAND (PTY.) LTD.; a.k.a. AIR PAS; a.k.a. AIR PASS; a.k.a. CESSAVIA; a.k.a. CHESS AIR GROUP; a.k.a. PIETERSBURG AVIATION SERVICES & SYSTEMS), Malabo, Equatorial Guinea; P.O. Box 7837, Sharjah, United Arab Emirates; P.O. Box 3962, Sharjah, United Arab Emirates; Islamabad, Pakistan; Entebbe, Uganda [LIBERIA]

AIR CESS LIBERIA (a.k.a. AIR CESS; a.k.a. AIR CESS EQUATORIAL GUINEA; a.k.a. AIR CESS HOLDINGS LTD.; a.k.a. AIR CESS INC. 360-C; a.k.a. AIR CESS RWANDA; a.k.a. AIR CESS SWAZILAND (PTY.) LTD.; a.k.a. AIR PAS; a.k.a. AIR PASS; a.k.a. CESSAVIA; a.k.a. CHESS AIR GROUP; a.k.a. PIETERSBURG AVIATION SERVICES & SYSTEMS), Malabo, Equatorial Guinea; P.O. Box 7837, Sharjah, United Arab Emirates; P.O. Box 3962, Sharjah, United Arab Emirates; Islamabad, Pakistan; Entebbe, Uganda [LIBERIA]

AIR CESS RWANDA (a.k.a. AIR CESS; a.k.a. AIR CESS EQUATORIAL GUINEA; a.k.a. AIR CESS HOLDINGS LTD.; a.k.a. AIR CESS INC. 360-C; a.k.a. AIR CESS LIBERIA; a.k.a. AIR CESS SWAZILAND (PTY.) LTD.; a.k.a. AIR PAS; a.k.a. AIR PASS; a.k.a. CESSAVIA; a.k.a. CHESS AIR GROUP; a.k.a. PIETERSBURG AVIATION SERVICES & SYSTEMS), Malabo, Equatorial Guinea; P.O. Box 7837, Sharjah, United Arab Emirates; P.O. Box 3962, Sharjah, United Arab Emirates; Islamabad, Pakistan; Entebbe, Uganda [LIBERIA]

AIR CESS SWAZILAND (PTY.) LTD. (a.k.a. AIR CESS; a.k.a. AIR CESS EQUATORIAL GUINEA; a.k.a. AIR CESS HOLDINGS LTD.; a.k.a. AIR CESS INC. 360-C; a.k.a. AIR CESS LIBERIA; a.k.a. AIR CESS RWANDA; a.k.a. AIR PAS; a.k.a. AIR PASS; a.k.a. CESSAVIA; a.k.a. CHESS AIR GROUP; a.k.a. PIETERSBURG AVIATION SERVICES & SYSTEMS), Malabo, Equatorial Guinea; P.O. Box 7837, Sharjah, United Arab Emirates; P.O. Box 3962, Sharjah, United Arab Emirates; Islamabad, Pakistan; Entebbe, Uganda [LIBERIA]

AIR PAS (a.k.a. AIR CESS; a.k.a. AIR CESS EQUATORIAL GUINEA; a.k.a. AIR CESS HOLDINGS LTD.; a.k.a. AIR CESS INC. 360-C; a.k.a. AIR CESS LIBERIA; a.k.a. AIR CESS RWANDA; a.k.a. AIR CESS SWAZILAND (PTY.) LTD.; a.k.a. AIR PASS; a.k.a. CESSAVIA; a.k.a. CHESS AIR GROUP; a.k.a. PIETERSBURG AVIATION SERVICES & SYSTEMS), Malabo, Equatorial Guinea; P.O. Box 7837, Sharjah, United Arab Emirates; P.O. Box 3962, Sharjah, United Arab Emirates; Islamabad, Pakistan; Entebbe, Uganda [LIBERIA]

AIR PASS (a.k.a. AIR CESS; a.k.a. AIR CESS EQUATORIAL GUINEA; a.k.a. AIR CESS HOLDINGS LTD.; a.k.a. AIR CESS INC. 360-C; a.k.a. AIR CESS LIBERIA; a.k.a. AIR CESS RWANDA; a.k.a. AIR CESS SWAZILAND (PTY.) LTD.; a.k.a. AIR PAS; a.k.a. CESSAVIA; a.k.a. CHESS AIR GROUP; a.k.a. PIETERSBURG AVIATION SERVICES & SYSTEMS), Malabo, Equatorial Guinea; P.O. Box 7837, Sharjah, United Arab Emirates; P.O. Box 3962, Sharjah, United Arab Emirates; Islamabad, Pakistan; Entebbe, Uganda [LIBERIA]

AIR ZORI (a.k.a. AIR ZORI LTD.; a.k.a. AIR ZORY LTD.), 54 G.M. Dimitrov Blvd, Sofia BG-1125, Bulgaria; 6 Zenas Kanther Str, Nicosia 1065, Cyprus [LIBERIA]

AIR ZORI LTD. (a.k.a. AIR ZORI; a.k.a. AIR ZORY LTD.), 54 G.M. Dimitrov Blvd, Sofia BG-1125, Bulgaria; 6 Zenas Kanther Str, Nicosia 1065, Cyprus [LIBERIA]

AIR ZORY LTD. (a.k.a. AIR ZORI; a.k.a. AIR ZORI LTD.), 54 G.M. Dimitrov Blvd, Sofia BG-1125, Bulgaria; 6 Zenas Kanther Str, Nicosia 1065, Cyprus [LIBERIA]

AIRBAS TRANSPORTATION FZE (a.k.a. AIR BAS; a.k.a. AIR BASS; a.k.a. AIRBAS TRANSPORTATION INC.; a.k.a. AVIABAS), P.O. Box 8299, Sharjah, United Arab Emirates; 811 S. Central Expwy, Ste 210, Richardson, TX 75080 [LIBERIA]

AIRBAS TRANSPORTATION INC. (a.k.a. AIR BAS; a.k.a. AIR BASS; a.k.a. AIRBAS TRANSPORTATION FZE; a.k.a. AVIABAS), P.O. Box 8299, Sharjah, United Arab Emirates; 811 S. Central Expwy, Ste 210, Richardson, TX 75080 [LIBERIA]

AIRMORES SHIPPING CO. LTD. (a.k.a. AIMOROS SHIPPING CO. LTD.), c/o MELFI MARINE CORPORATION S.A., Oficina 7, Edificio Senorial, Calle 50, Apartado 31, Panama City 5, Panama [CUBA]

AISHA, Abu (a.k.a. ABDALLA, Fazul; a.k.a. ADBALLAH, Fazul; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fazul Abdullah; a.k.a. MOHAMMED, Fouad; a.k.a. MUHAMAD, Fadil Abdallah); DOB 25 Aug 1972; alt. DOB 25 Dec 1974; alt. DOB 25 Feb 1974; POB Moroni, Comoros Islands; citizen Comoros alt. Kenya (individual) [SDGT]

AKHTARABAD MEDICAL CAMP (a.k.a. AL-AKHTAR MEDICAL CENTRE; a.k.a. AL-AKHTAR TRUST INTERNATIONAL), ST-1/A, Gulshan-e-Iqbal, Block 2, Karachi 75300, Pakistan; Bahawalpur, Pakistan; Bawalnagar, Pakistan; Gilgit, Pakistan; Gulistan-e-Jauhar, Block 12, Karachi, Pakistan; Islamabad, Pakistan; Mirpur Khas, Pakistan; Spin Boldak, Afghanistan; Tando-Jan-Muhammad, Pakistan; and all other offices worldwide [SDGT]

AKIDA BANK PRIVATE LIMITED (f.k.a. AKIDA ISLAMIC BANK INTERNATIONAL LIMITED; f.k.a. IKSIR INTERNATIONAL BANK LIMITED), c/o Arthur D. Hanna&Company; 10 Deveaux Street, Nassau, Bahamas, The; P.O. Box N-4877, Nassau, Bahamas, The [SDGT]

AKIDA BANK PRIVATE LIMITED (a.k.a. AKIDA INVESTMENT CO. LTD.; a.k.a. AKIDA INVESTMENT COMPANY LIMITED), c/o Arthur D. Hanna & Company, 10 Deveaux Street, Nassau, Bahamas, The; P.O. Box N-4877, Nassau, Bahamas, The [SDGT]

AKIDA INVESTMENT CO. LTD. (f.k.a. AKIDA BANK PRIVATE LIMITED; a.k.a. AKIDA INVESTMENT COMPANY LIMITED), c/o Arthur D. Hanna & Company, 10 Deveaux Street, Nassau, Bahamas, The; P.O. Box N-4877, Nassau, Bahamas, The [SDGT]

KIDA INVESTMENT COMPANY LIMITED (f.k.a. AKIDA BANK PRIVATE LIMITED; a.k.a. AKIDA INVESTMENT CO. LTD.), c/o Arthur D. Hanna & Company, 10 Deveaux Street, Nassau, Bahamas, The; P.O. Box N-4877, Nassau, Bahamas, The [SDGT]

AKIDA ISLAMIC BANK INTERNATIONAL LIMITED (a.k.a. AKIDA BANK PRIVATE LIMITED; f.k.a. IKSIR INTERNATIONAL BANK LIMITED), c/o Arthur D. Hanna&Company; 10 Deveaux Street, Nassau, Bahamas, The; P.O. Box N-4877, Nassau, Bahamas, The [SDGT]

AKLI, Mohamed Amine (a.k.a. “ELIAS”; a.k.a. “KALI SAMI”; a.k.a. “KILLECH SHAMIR”); DOB 30 Mar 1972; POB Abordj El Kiffani, Algeria (individual) [SDGT]

AKMAN, Saeed (a.k.a. AHMED, Saeed; a.k.a. MURAD, Abdul Hakim; a.k.a. MURAD, Abdul Hakim Al Hashim; a.k.a. MURAD, Abdul Hakim Hasim; a.k.a. MURAD, Adbul Hakim Ali Hashim); DOB 4 Jan 1968; POB Kuwait; nationality Pakistan; currently incarcerated in the U.S. (individual) [SDGT]

AKSH (a.k.a. ALBANIAN NATIONAL ARMY; a.k.a. ANA) [BALKANS]

AL AQSA ASSISTANCE CHARITABLE COUNCIL (a.k.a. AL-LAJNA AL-KHAYRIYYA LIL MUNASARA AL-AQSA; a.k.a. BENEVOLENCE COMMITTEE FOR SOLIDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; a.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

AL BANNA, Sabri Khalil Abd Al Qadir (a.k.a. NIDAL, Abu); DOB May 1937; alt. DOB May 1940; POB Jaffa, Israel; Founder and Secretary General of ABU NIDAL ORGANIZATION (individual) [SDT]

AL BARAKA EXCHANGE LLC, P.O. Box 3313, Deira, Dubai, United Arab Emirates; P.O. Box 20066, Dubai, United Arab Emirates [SDGT]

AL BIR AL DAWALIA (a.k.a. BENEVOLENCE INTERNATIONAL FOUNDATION; a.k.a. BIF; a.k.a. BIF-USA; a.k.a. MEZHDUNARODNYJ BLAGOTVORITEL'NYJ FOND), Bashir Safar Ugli 69, Baku, Azerbaijan; 69 Boshir Safaroglu St., Baku, Azerbaijan; Sarajevo, Bosnia and Herzegovina; Zenica, Bosnia and Herzegovina; 3 King Street, South Waterloo, Ontario, N2J 3Z6, Canada; P.O. Box 1508 Station B, Mississauga, Ontario, L4Y 4G2, Canada; 2465 Cawthra Rd., #203, Mississauga, Ontario, L5A 3P2, Canada; Ottawa, Canada; Grozny, Chechnya, Russia; 91 Paihonggou, Lanzhou, Gansu, China; Hrvatov 30, 41000, Zagreb, Croatia; Makhachkala, Daghestan, Russia; Duisi, Georgia; Tbilisi, Georgia; 8820 Mobile Avenue, 1A, Oak Lawn, IL 60453; (Formerly located at) 20-24 Branford Place, Suite 705, Newark, NJ 07102; (Formerly located at) 9838 S. Roberts Road, Suite 1-W, Palos Hills, IL 60465; P.O. Box 548, Worth, IL 60482; Nazran, Ingushetia, Russia; Burgemeester Kessensingel 40, Maastricht, Netherlands; House 111, First Floor, Street 64, F-10/3, Islamabad, Pakistan; Azovskaya 6, km. 3, off. 401, Moscow, Russia; P.O. Box 1055, Peshawar, Pakistan; Ulitsa Oktyabr'skaya, dom. 89, Moscow, Russia; P.O. Box 1937, Khartoum, Sudan; P.O. Box 7600, Jeddah 21472, Saudi Arabia; P.O. Box 10845, Riyadh 11442, Saudi Arabia; Dushanbe, Tajikistan; United Kingdom; Afghanistan; Bangladesh; Bosnia and Herzegovina; Gaza Strip, undetermined; Yemen; U.S. FEIN 36-3823186 [SDGT]

AL FAQIH, Saad (a.k.a. ABU UTHMAN; a.k.a. ALFAGIH, Saad; a.k.a. AL-FAGIH, Saad; a.k.a. AL-FAKIH, Saad; a.k.a. AL-FAQI, Sa'd; a.k.a. AL-FAQIH, Sa'ad; a.k.a. AL-FAQIH, Saad Rashed Mohammad; a.k.a. AL-FAQIH, Saad; a.k.a. AL-FAQIH, Sa'd), London, United Kingdom; DOB 1 Feb 1957; POB Zubair, Iraq; citizen Saudi Arabia; Doctor (individual) [SDGT]

AL FAWWAZ, Khaled (a.k.a. AL FAWWAZ, Khalid; a.k.a. AL-FAUWAZ, Khaled; a.k.a. AL-FAUWAZ, Khaled A.; a.k.a. AL-FAWAZ, Khalid; a.k.a. AL-FAWWAZ, Khaled; a.k.a. AL-FAWWAZ, Khalid), 55 Hawarden Hill, Brooke Road, London NW2 7BR, United Kingdom; DOB 25 Aug 1962 (individual) [SDGT]

AL FAWWAZ, Khalid (a.k.a. AL FAWWAZ, Khaled; a.k.a. AL-FAUWAZ, Khaled; a.k.a. AL-FAUWAZ, Khaled A.; a.k.a. AL-FAWAZ, Khalid; a.k.a. AL-FAWWAZ, Khaled; a.k.a. AL-FAWWAZ, Khalid), 55 Hawarden Hill, Brooke Road, London NW2 7BR, United Kingdom; DOB 25 Aug 1962 (individual) [SDGT]

AL FURQAN (a.k.a. ASSOCIATION FOR CITIZENS RIGHTS AND RESISTANCE TO LIES; a.k.a. ASSOCIATION FOR EDUCATION, CULTURAL, AND TO CREATE SOCIETY—SIRAT; a.k.a. ASSOCIATION FOR EDUCATION, CULTURE AND BUILDING SOCIETY—SIRAT; a.k.a. ASSOCIATION OF CITIZENS FOR THE SUPPORT OF TRUTH AND SUPPRESSION OF LIES; a.k.a. DZEMIJETUL FURKAN; a.k.a. DZEM'IJJETUL FURQAN; a.k.a. DZEMILIJATI FURKAN; a.k.a. IN SIRATEL; a.k.a. ISTIKAMET; a.k.a. SIRAT), Put Mladih Muslimana 30a, 71 000 Sarajevo, Bosnia and Herzegovina; ul. Strossmajerova 72, Zenica, Bosnia and Herzegovina; Muhameda Hadzijahica #42, Sarajevo, Bosnia and Herzegovina [SDGT]

AL GHOZI, Fathur Rahman (a.k.a. AL GHOZI, Fathur Rohman; a.k.a. ALGHOZI, Fathur Rahman; a.k.a. AL-GHOZI, Fathur Rahman; a.k.a. ALGHOZI, Fathur Rohman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. JAMIL, Sammy Sali; a.k.a. JAMIL, Sammy Salih; a.k.a. RANDY, Alih; a.k.a. “ABU SA'AD”; a.k.a. “ABU SAAD”; a.k.a. “FREEDOM FIGHTER”); DOB 17 Feb 1971; POB Madiun, East Java, Indonesia; nationality Indonesia; Passport GG 672613 (Philippines) (individual) [SDGT]

AL GHOZI, Fathur Rohman (a.k.a. AL GHOZI, Fathur Rahman; a.k.a. ALGHOZI, Fathur Rahman; a.k.a. AL-GHOZI, Fathur Rahman; a.k.a. ALGHOZI, Fathur Rohman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. JAMIL, Sammy Sali; a.k.a. JAMIL, Sammy Salih; a.k.a. RANDY, Alih; a.k.a. “ABU SA'AD”; a.k.a. “ABU SAAD”; a.k.a. “FREEDOM FIGHTER”); DOB 17 Feb 1971; POB Madiun, East Java, Indonesia; nationality Indonesia; Passport GG 672613 (Philippines) (individual) [SDGT]

AL HARAKAT AL ISLAMIYYA (a.k.a. ABU SAYYAF GROUP) [FTO] [SDGT]

AL HARAMAIN (a.k.a. AL-HARAMAIN; INDONESIA BRANCH; a.k.a. AL-HARAMAIN FOUNDATION; a.k.a. YAYASAN AL HARAMAIN; a.k.a. YAYASAN AL HARAMAINI; a.k.a. YAYASAN AL-MANAHIL-INDONESIA), Jalan Laut Sulawesi Blok DII/4, Kavling Angkatan Laut Duren Sawit, Jakarta Timur 13440, Indonesia [SDGT]

AL HARAMAIN AL MASJED AL AQSA (a.k.a. AL HARAMAYN AL MASJID AL AQSA; a.k.a. AL-HARAMAIN & AL MASJED AL-AQSA CHARITY FOUNDATION : BOSNIA BRANCH; a.k.a. AL-HARAMAYN AND AL MASJID AL AQSA CHARITABLE FOUNDATION), Hasiba Brankovica No. 2A, Sarajevo, Bosnia and Herzegovina [SDGT]

AL HARAMAIN FOUNDATION, INC. (a.k.a. ALHARAMAIN; a.k.a. AL-HARAMAIN; UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

AL HARAMAYN AL MASJID AL AQSA (a.k.a. AL HARAMAIN AL MASJED AL AQSA; a.k.a. AL-HARAMAIN & AL MASJED AL-AQSA CHARITY FOUNDATION; BOSNIA BRANCH; a.k.a. AL-HARAMAYN AND AL MASJID AL AQSA CHARITABLE FOUNDATION), Hasiba Brankovica No. 2A, Sarajevo, Bosnia and Herzegovina [SDGT]

AL MANAR TV, Al Manar TV, Abed al Nour Street, Haret Hriek, Beirut, Lebanon; PO Box 354/25, Beirut, Lebanon; info@manartv.com; www.manartv.com; www.almanar.com.lb [SDGT]

AL MANSOOREEN (a.k.a. AL MANSOORIAN; a.k.a. ARMY OF THE PURE; a.k.a. ARMY OF THE PURE AND RIGHTEOUS; a.k.a. ARMY OF THE RIGHTEOUS; a.k.a. IDARA KHIDMAT-E-KHALQ; a.k.a. JAMA'AT AL-DAWA; a.k.a. JAMAAT UD-DAAWA; a.k.a. JAMAAT UL-DAWAH; a.k.a. JAMA'AT-I-DAWAT; a.k.a. JAMAATI-UD-DAWA; a.k.a. JAMA'AT-UD-DA'AWA; a.k.a. JAMA'AT-UD-DA'AWAH; a.k.a. JAMAAT-UD-DAWA; a.k.a. JAMAAT-UL-DAWA; a.k.a. JAMAIAT-UD-DAWA; a.k.a. LASHKAR E-TAYYIBA; a.k.a. LASHKAR E-TOIBA; a.k.a. LASHKAR-I-TAIBA; a.k.a. PAASBAN-E-AHLE-HADIS; a.k.a. PAASBAN-E-KASHMIR; a.k.a. PAASBAN-I-AHLE-HADITH; a.k.a. PASBAN-E-AHLE-HADITH; a.k.a. PASBAN-E-KASHMIR; a.k.a. “JUD”), Pakistan [SDGT] [FTO]

AL MANSOORIAN (a.k.a. AL MANSOOREEN; a.k.a. ARMY OF THE PURE; a.k.a. ARMY OF THE PURE AND RIGHTEOUS; a.k.a. ARMY OF THE RIGHTEOUS; a.k.a. IDARA KHIDMAT-E-KHALQ; a.k.a. JAMA'AT AL-DAWA; a.k.a. JAMAAT UD-DAAWA; a.k.a. JAMAAT UL-DAWAH; a.k.a. JAMA'AT-I-DAWAT; a.k.a. JAMAATI-UD-DAWA; a.k.a. JAMA'AT-UD-DA'AWA; a.k.a. JAMA'AT-UD-DA'AWAH; a.k.a. JAMAAT-UD-DAWA; a.k.a. JAMAAT-UL-DAWA; a.k.a. JAMAIAT-UD-DAWA; a.k.a. LASHKAR E-TAYYIBA; a.k.a. LASHKAR E-TOIBA; a.k.a. LASHKAR-I-TAIBA; a.k.a. PAASBAN-E-AHLE-HADIS; a.k.a. PAASBAN-E-KASHMIR; a.k.a. PAASBAN-I-AHLE-HADITH; a.k.a. PASBAN-E-AHLE-HADITH; a.k.a. PASBAN-E-KASHMIR; a.k.a. “JUD”), Pakistan [SDGT] [FTO]

AL MASRI, Abd Al Wakil (a.k.a. ALI, Hassan; a.k.a. AL-NUBI, Abu; a.k.a. ANIS, Abu; a.k.a. ELBISHY, Moustafa Ali; a.k.a. FADHIL, Mustafa Mohamed; a.k.a. FADIL, Mustafa Muhamad; a.k.a. FAZUL, Mustafa; a.k.a. HUSSEIN; a.k.a. JIHAD, Abu; a.k.a. KHALID; a.k.a. MAN, Nu; a.k.a. MOHAMMED, Mustafa; a.k.a. YUSSRR, Abu); DOB 23 Jun 1976; POB Cairo, Egypt; citizen Egypt alt. Kenya; Kenyan ID No. 12773667; Serial No. 201735161 (individual) [SDGT]

AL MUKHLAS, Ali Gufron (a.k.a. GHUFRON, Ali; a.k.a. GUFRON, Ali; a.k.a. HAQ, Huda bin Abdul; a.k.a. MUCHLAS; a.k.a. MUKHLAS; a.k.a. MUKLAS; a.k.a. “SOFWAN”); DOB 9 Feb 1960; alt. DOB 2 Feb 1960; POB Solokuro subdistrict, Lamongan district, East Java province, Indonesian; nationality Indonesia (individual) [SDGT]

AL NOUR BROADCASTING STATION (a.k.a. AL NOUR RADIO; a.k.a. AL NUR RADIO; a.k.a. RADIO ANNOUR), Abed Al Nour Street, PO Box 197/25, Alghobeiri, Haret Hriek, Beirut, Lebanon; info@al-nour.net; www.al-nour.net [SDGT]

AL NOUR RADIO (a.k.a. AL NOUR BROADCASTING STATION; a.k.a. AL NUR RADIO; a.k.a. RADIO ANNOUR), Abed Al Nour Street, PO Box 197/25, Alghobeiri, Haret Hriek, Beirut, Lebanon; info@al-nour.net; www.al-nour.net [SDGT]

AL NUR RADIO (a.k.a. AL NOUR BROADCASTING STATION; a.k.a. AL NOUR RADIO; a.k.a. RADIO ANNOUR), Abed Al Nour Street, PO Box 197/25, Alghobeiri, Haret Hriek, Beirut, Lebanon; info@al-nour.net; www.al-nour.net [SDGT]

AL OBAIDI, Tarik Nasser S. (a.k.a. AL-'UBAYDI, Tarik; a.k.a. AL-'UBAYDI, Tariq), Baghdad, Iraq; DOB 1945; POB Baghdad, Iraq; nationality Iraq; Passport 212331 (Iraq) (individual) [IRAQ2]

AL PETRA COMPANY FOR GOODS TRANSPORT LTD (a.k.a. PETRA NAVIGATION & INTERNATIONAL TRADING CO. LTD.), Hai Al Wahda Mahalat 906, 906 Zulak 50, House 14, Baghdad, Iraq [IRAQ2]

AL QAEDA (a.k.a. AL QA'IDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY; a.k.a. ISLAMIC ARMY FOR THE LIBERATION OF HOLY SITES; a.k.a. ISLAMIC SALVATION FOUNDATION; a.k.a. NEW JIHAD; a.k.a. “THE BASE”; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION) [FTO] [SDGT] [SDT]

AL QAIDA (a.k.a. AL QAEDA; a.k.a. AL QA'IDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY; a.k.a. ISLAMIC ARMY FOR THE LIBERATION OF HOLY SITES; a.k.a. ISLAMIC SALVATION FOUNDATION; a.k.a. NEW JIHAD; a.k.a. “THE BASE”; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION) [FTO] [SDGT] [SDT]

AL QA'IDA (a.k.a. AL QAEDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY; a.k.a. ISLAMIC ARMY FOR THE LIBERATION OF HOLY SITES; a.k.a. ISLAMIC SALVATION FOUNDATION; a.k.a. NEW JIHAD; a.k.a. “THE BASE”; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION) [FTO] [SDGT] [SDT]

AL RAHMAN, Shaykh Umar Abd; DOB 03 May 1938; POB Egypt; Chief Ideological Figure of ISLAMIC GAMA'AT (individual) [SDT]

AL RASHEED TRUST (a.k.a. AL RASHID TRUST; a.k.a. AL-RASHEED TRUST; a.k.a. AL-RASHID TRUST), Kitab Ghar, 4 Dar-el-Iftah, Nazimabad, Karachi, Pakistan; Office Dha'rb-i-M'unin, Room no. 3, Third Floor, Moti Plaza, near Liaquat Bagh, Murree Road, Rawalpindi, Pakistan; Jamia Masjid, Sulaiman Park, Begum Pura, Lahore, Pakistan; Office Dha'rb-i-M'unin, Z.R. Brothers, Katchehry Road, Chowk Yadgaar, Peshawar, Pakistan; Office Dha'rb-i-M'unin, Top Floor, Dr. Dawa Khan Dental Clinic Surgeon, Main Baxar, Mingora, Swat, Pakistan; Office Dha'rb-i-M'unin, opposite Khyber Bank, Abbottabad Road, Mansehra, Pakistan; Operations in Afghanistan: Herat, Jalalabad, Kabul, Kandahar, Mazar Sharif. Also operations in: Kosovo, Chechnya [SDGT]

AL RASHEED TRUST (a.k.a. AL RASHID TRUST; a.k.a. AL-RASHEED TRUST; a.k.a. AL-RASHID TRUST; a.k.a. THE AID ORGANIZATION OF THE ULEMA), Kitab Ghar, Darul Ifta Wal Irshad, Nazimabad No. 4, Karachi, Pakistan; Office Dha'rb-i-M'unin, opposite Khyber Bank, Abbottabad Road, Mansehra, Pakistan; Office Dha'rb-i-M'unin, Z.R. Brothers, Katchehry Road, Chowk Yadgaar, Peshawar, Pakistan; Office Dha'rb-i-M'unin, Room no. 3, Third Floor, Moti Plaza, near Liaquat Bagh, Murree Road, Rawalpindi, Pakistan; Office Dha'rb-i-M'unin, Top Floor, Dr. Dawa Khan Dental Clinic Surgeon, Main Baxar, Mingora, Swat, Pakistan; 302b-40, Good Earth Court, Opposite Pia Planitarium, Block 13a, Gulshan -I Iqbal, Karachi, Pakistan; 617 Clifton Center, Block 5, 6th Floor, Clifton, Karachi, Pakistan; 605 Landmark Plaza, 11 Chundrigar Road, Opposite Jang Building, Karachi, Pakistan; Jamia Masjid, Sulaiman Park, Begum Pura, Lahore, Pakistan; Operations in Afghanistan: Herat, Jalalabad, Kabul, Kandahar, Mazar Sharif; Also operations in: Kosovo,Chechnya [SDGT]

AL RASHID TRUST (a.k.a. AL RASHEED TRUST; a.k.a. AL-RASHEED TRUST; a.k.a. AL-RASHID TRUST), Kitab Ghar, 4 Dar-el-Iftah, Nazimabad, Karachi, Pakistan; Office Dha'rb-i-M'unin, Room no. 3, Third Floor, Moti Plaza, near Liaquat Bagh, Murree Road, Rawalpindi, Pakistan; Jamia Masjid, Sulaiman Park, Begum Pura, Lahore, Pakistan; Office Dha'rb-i-M'unin, Z.R. Brothers, Katchehry Road, Chowk Yadgaar, Peshawar, Pakistan; Office Dha'rb-i-M'unin, Top Floor, Dr. Dawa Khan Dental Clinic Surgeon, Main Baxar, Mingora, Swat, Pakistan; Office Dha'rb-i-M'unin, opposite Khyber Bank, Abbottabad Road, Mansehra, Pakistan; Operations in Afghanistan: Herat, Jalalabad, Kabul, Kandahar, Mazar Sharif. Also operations in: Kosovo, Chechnya [SDGT]

AL RASHID TRUST (a.k.a. AL RASHEED TRUST; a.k.a. AL-RASHEED TRUST; a.k.a. AL-RASHID TRUST; a.k.a. THE AID ORGANIZATION OF THE ULEMA), Kitab Ghar, Darul Ifta Wal Irshad, Nazimabad No. 4, Karachi, Pakistan; Office Dha'rb-i-M'unin, opposite Khyber Bank, Abbottabad Road, Mansehra, Pakistan; Office Dha'rb-i-M'unin, Z.R. Brothers, Katchehry Road, Chowk Yadgaar, Peshawar, Pakistan; Office Dha'rb-i-M'unin, Room no. 3, Third Floor, Moti Plaza, near Liaquat Bagh, Murree Road, Rawalpindi, Pakistan; Office Dha'rb-i-M'unin, Top Floor, Dr. Dawa Khan Dental Clinic Surgeon, Main Baxar, Mingora, Swat, Pakistan; 302b-40, Good Earth Court, Opposite Pia Planitarium, Block 13a, Gulshan -I Iqbal, Karachi, Pakistan; 617 Clifton Center, Block 5, 6th Floor, Clifton, Karachi, Pakistan; 605 Landmark Plaza, 11 Chundrigar Road, Opposite Jang Building, Karachi, Pakistan; Jamia Masjid, Sulaiman Park, Begum Pura, Lahore, Pakistan; Operations in Afghanistan: Herat, Jalalabad, Kabul, Kandahar, Mazar Sharif; Also operations in: Kosovo,Chechnya [SDGT]

AL SAADI, Faraj Farj Hassan (a.k.a. IMAD MOUHAMED ABDELLAH; a.k.a. MOHAMDED ABDULLA IMAD; a.k.a. MUHAMAD ABDULLAH IMAD; a.k.a. “HAMZA AL LIBI”), Viale Bligny 42, Milan, Italy; DOB 28 Nov 1980; POB Libya; alt. POB Gaza; alt. POB Jordan; alt. POB Palestine; nationality Libya alt. Palestinian; alt. Jordan; arrested United Kingdom (individual) [SDGT]

AL SANABIL (a.k.a. AL-SANBAL; a.k.a. ASANABIL; a.k.a. JAMI'A SANABIL; a.k.a. JAMI'A SANABIL LIL IGATHA WA AL-TANMIYZ; a.k.a. JA'MIA SANBLE LLAGHATHA WA ALTINMIA; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

AL SUDANI, Abu Seif (a.k.a. ABDALLA, Fazul; a.k.a. ADBALLAH, Fazul; a.k.a. AISHA, Abu; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fazul Abdullah; a.k.a. MOHAMMED, Fouad; a.k.a. MUHAMAD, Fadil Abdallah); DOB 25 Aug 1972; alt. DOB 25 Dec 1974; alt. DOB 25 Feb 1974; POB Moroni, Comoros Islands; citizen Comoros alt. Kenya (individual) [SDGT]

AL TAIBAH, INTL. (a.k.a. TAIBAH INTERNATIONAL : BOSNIA BRANCH; a.k.a. TAIBAH INTERNATIONAL AID AGENCY; a.k.a. TAIBAH INTERNATIONAL AID ASSOCIATION; a.k.a. TAIBAH INTERNATIONAL AIDE ASSOCIATION), Avde Smajlovic 6, Sarajevo, Bosnia and Herzegovina; No. 26 Tahbanksa Ulica, Sarajevo, Bosnia and Herzegovina [SDGT]

AL TANZANI, Ahmad (a.k.a. AHMAD, Abu Bakr; a.k.a. “AHMED THE TANZANIAN”; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. ALI, Ahmed Khalfan; a.k.a. BAKR, Abu; a.k.a. “FOOPIE”; a.k.a. “FUPI”; a.k.a. GHAILANI, Abubakary Khalfan Ahmed; a.k.a. GHAILANI, Ahmed; a.k.a. GHAILANI, Ahmed Khalfan; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

AL TAQWA BANK (a.k.a. BANK AL TAQWA; a.k.a. BANK AL TAQWA LIMITED), P.O. Box N-4877, Nassau, Bahamas, The; c/o Arthur D. Hanna & Company, 10 Deveaux Street, Nassau, Bahamas, The [SDGT]

AL TAQWA MANAGEMENT ORGANIZATION SA (a.k.a. NADA MANAGEMENT ORGANIZATION SA), Viale Stefano Franscini 22, Lugano CH-6900 TI, Switzerland [SDGT]

AL TAQWA TRADE, PROPERTY AND INDUSTRY (f.k.a. AL TAQWA TRADE, PROPERTY AND INDUSTRY COMPANY LIMITED; f.k.a. AL TAQWA TRADE, PROPERTY AND INDUSTRY ESTABLISHMENT; f.k.a. HIMMAT ESTABLISHMENT; a.k.a. WALDENBERG, AG), c/o Asat Trust Reg., Altenbach 8, Vaduz 9490, Liechtenstein; Via Posero, 2, 22060 Compione d'Italia, Italy [SDGT]

AL TAQWA TRADE, PROPERTY AND INDUSTRY COMPANY LIMITED (f.k.a. AL TAQWA TRADE, PROPERTY AND INDUSTRY; f.k.a. AL TAQWA TRADE, PROPERTY AND INDUSTRY ESTABLISHMENT; f.k.a. HIMMAT ESTABLISHMENT; a.k.a. WALDENBERG, AG), c/o Asat Trust Reg., Altenbach 8, Vaduz 9490, Liechtenstein; Via Posero, 2, 22060 Compione d'Italia, Italy [SDGT]

AL TAQWA TRADE, PROPERTY AND INDUSTRY ESTABLISHMENT (f.k.a. AL TAQWA TRADE, PROPERTY AND INDUSTRY; f.k.a. AL TAQWA TRADE, PROPERTY AND INDUSTRY COMPANY LIMITED; f.k.a. HIMMAT ESTABLISHMENT; a.k.a. WALDENBERG, AG), c/o Asat Trust Reg., Altenbach 8, Vaduz 9490, Liechtenstein; Via Posero, 2, 22060 Compione d'Italia, Italy [SDGT]

AL WAFA (a.k.a. AL WAFA ORGANIZATION; a.k.a. WAFA AL-IGATHA AL-ISLAMIA; a.k.a. WAFA HUMANITARIAN ORGANIZATION) [SDGT]

AL WAFA ORGANIZATION (a.k.a. AL WAFA; a.k.a. WAFA AL-IGATHA AL-ISLAMIA; a.k.a. WAFA HUMANITARIAN ORGANIZATION) [SDGT]

AL WASEL AND BABEL GENERAL TRADING LLC, Ibrahim Saeed Lootah Building, Al Ramool Street, P.O. Box 10631 & 638, Rashidya, Dubai, United Arab Emirates; Baghdad, Iraq [IRAQ2]

AL ZAFIRI, Khalil Ibrahim (a.k.a. JASSEM, Khalil Ibrahim; a.k.a. KHALIL, Ibrahim Mohamed; a.k.a. MOHAMMAD, Khalil Ibrahim), Pankratiusstrause 44, Mainz 55118, Germany; Frankenthal Prison, Germany; DOB 2 Jul 1975; alt. DOB 2 May 1972; alt. DOB 3 Jul 1975; alt. DOB 1972; POB Mosul, Iraq; alt. POB Baghdad, Iraq; nationality Iraq; Travel Document Number A0003900 (Germany) (individual) [SDGT]

AL ZAWAHIRI, Dr. Ayman (a.k.a. AL-ZAWAHIRI, Aiman Muhammad Rabi; a.k.a. AL-ZAWAHIRI, Ayman; a.k.a. SALIM, Ahmad Fuad); DOB 19 Jun 1951; POB Giza, Egypt; Passport 1084010 (Egypt); alt. Passport 19820215; Operational and Military Leader of JIHAD GROUP (individual) [SDT] [SDGT]

AL-'ADIL, Saif (a.k.a. AL-ADL, Sayf); DOB 1963; POB Egypt (individual) [SDGT]

AL-ADL, Sayf (a.k.a. AL-'ADIL, Saif); DOB 1963; POB Egypt (individual) [SDGT]

AL-AHDAL, Mohammad Hamdi Sadiq (a.k.a. AL-HAMATI, Muhammad; a.k.a. AL-MAKKI, Abu Asim), Yemen (individual) [SDGT]

AL-AHMAD, Mahmoud Dhiyab (a.k.a. AL-AHMAD, Mahmoud Diab; a.k.a. AL-AHMAD, Mahmud Dhiyab); DOB 1953; POB Mosul or Baghdad, Iraq; nationality Iraq; Former Minister of Interior (individual) [IRAQ2]

AL-AHMAD, Mahmoud Diab (a.k.a. AL-AHMAD, Mahmoud Dhiyab; a.k.a. AL-AHMAD, Mahmud Dhiyab); DOB 1953; POB Mosul or Baghdad, Iraq; nationality Iraq; Former Minister of Interior (individual) [IRAQ2]

AL-AHMAD, Mahmud Dhiyab (a.k.a. AL-AHMAD, Mahmoud Dhiyab; a.k.a. AL-AHMAD, Mahmoud Diab); DOB 1953; POB Mosul or Baghdad, Iraq; nationality Iraq; Former Minister of Interior (individual) [IRAQ2]

AL-AHMED, MUHAMMAD YUNIS (a.k.a. AHMAD, MUHAMMAD YUNIS; a.k.a. AHMED, MUHAMMAD YUNIS; a.k.a. AL-BADRANI, MUHAMMAD YUNIS AHMAD; a.k.a. AL-MOALI, MOHAMMED YUNIS AHMED), Wadi al-Hawi, Iraq; Al-Dawar Street, Bludan, Syria; Damascus, Syria; Mosul, Iraq; Dubai, United Arab Emirates; Al-Hasaka, Syria; DOB 1949; POB Al-Mowall, Mosul, Iraq; nationality Iraq (individual) [IRAQ2]

AL-AHSAN CHARITABLE ORGANIZATION (a.k.a. AL-BAR AND AL-IHSAN SOCIETIES; a.k.a. AL-BAR AND AL-IHSAN SOCIETY; a.k.a. AL-BIR AND AL-IHSAN ORGANIZATION; a.k.a. AL-BIRR WA AL-IHSAN CHARITY ASSOCIATION; a.k.a. AL-BIRR WA AL-IHSAN WA AL-NAQA; a.k.a. AL-IHSAN CHARITABLE SOCIETY; a.k.a. BIR WA ELEHSSAN SOCIETY; a.k.a. BIRR AND ELEHSSAN SOCIETY; a.k.a. ELEHSSAN; a.k.a. ELEHSSAN SOCIETY; a.k.a. ELEHSSAN SOCIETY AND BIRR; a.k.a. ELEHSSAN SOCIETY WA BIRR; a.k.a. IHSAN CHARITY; a.k.a. JAMI'A AL-AHSAN AL-KHAYRIYYAH; a.k.a. THE BENEVOLENT CHARITABLE ORGANIZATION), Bethlehem, West Bank, Palestinian; AL-MUZANNAR ST, AL-NASIR AREA, Gaza City, Gaza, Palestinian; Jenin, West Bank, Palestinian; Ramallah, West Bank, Palestinian; Tulkarm, West Bank, Palestinian; Lebanon; P.O. BOX 398, Hebron, West Bank, Palestinian [SDGT]

AL-AKHTAR MEDICAL CENTRE (a.k.a. AKHTARABAD MEDICAL CAMP; a.k.a. AL-AKHTAR TRUST INTERNATIONAL), ST-1/A, Gulshan-e-Iqbal, Block 2, Karachi 75300, Pakistan; Bahawalpur, Pakistan; Bawalnagar, Pakistan; Gilgit, Pakistan; Gulistan-e-Jauhar, Block 12, Karachi, Pakistan; Islamabad, Pakistan; Mirpur Khas, Pakistan; Spin Boldak, Afghanistan; Tando-Jan-Muhammad, Pakistan; and all other offices worldwide [SDGT]

AL-AKHTAR TRUST INTERNATIONAL (a.k.a. AKHTARABAD MEDICAL CAMP; a.k.a. AL-AKHTAR MEDICAL CENTRE), ST-1/A, Gulshan-e-Iqbal, Block 2, Karachi 75300, Pakistan; Bahawalpur, Pakistan; Bawalnagar, Pakistan; Gilgit, Pakistan; Gulistan-e-Jauhar, Block 12, Karachi, Pakistan; Islamabad, Pakistan; Mirpur Khas, Pakistan; Spin Boldak, Afghanistan; Tando-Jan-Muhammad, Pakistan; and all other offices worldwide [SDGT]

ALAKTAN COTTON TRADING COMPANY (a.k.a. ALAKTAN TRADING COMPANY), P.O. Box 2067, Khartoum, Sudan [SUDAN]

ALAKTAN TRADING COMPANY (a.k.a. ALAKTAN COTTON TRADING COMPANY), P.O. Box 2067, Khartoum, Sudan [SUDAN]

AL-ALAMI, Imad Khalil; DOB 1956; POB Gaza (individual) [SDGT]

AL-ALUSI, Umar Ahmad Ali (a.k.a. AL-TIKRITI, Omar Sabawi Ibrahim Hasan; a.k.a. AL-TIKRITI, Omar Sab'awi Ibrahim Hasan; a.k.a. AL-TIKRITI, Omar Sabawi Ibrahim Hassan; a.k.a. AL-TIKRITI, Umar Sabawi Ibrahim Hasan), Yemen; Damascus, Syria; Al-Shahid Street, Al-Mahata Neighborhood, Az Zabadani, Syria; DOB circa 1970; POB Baghdad, Iraq; nationality Iraq; Passport 2863795S (Iraq) expires 23 Aug 2005 (individual) [IRAQ2]

AL-AMDOUNI, Mehrez Ben Mahmoud Ben Sassi (a.k.a. AMDOUNI, Mehrez; a.k.a. FUSCO, Fabio; a.k.a. HASSAN, Mohamed; a.k.a. “ABU THALE”); DOB 18 Dec 1969; POB Tunis, Tunisia; nationality Tunisia; Passport G737411 (Tunisia) issued 24 Oct 1990 expires 20 Sep 1997; alt. Passport 0801888 (Bosnia and Herzegovina) (individual) [SDGT]

AL-AMIRI, Adnan Talib Hassim, 43 Palace Mansions, Hammersmith, London, United Kingdom (individual) [IRAQ2]

AL-AMRIKI, Abu-Ahmad (a.k.a. AL-HAWEN, Abu-Ahmad; a.k.a. AL-MAGHRIBI, Rashid; a.k.a. AL-SHAHID, Abu-Ahmad; a.k.a. HIJAZI, Raed M; a.k.a. HIJAZI, Riad), Jordan; DOB 1968; POB California, USA; SSN 548-91-5411 (United States) (individual) [SDGT]

AL-ANI, Adib Shaban (a.k.a. SHABAN, Adib; a.k.a. SHABAN, Dr. Adib); DOB 1952; nationality Iraq (individual) [IRAQ2]

AL-AQIL, Aqeel Abdulaziz; DOB 29 Apr 1949 (individual) [SDGT]

AL-AQSA (ASBL) (a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NURSAT AL-AQSA AL-SHARIF; a.k.a. SANABIL AL-AQSA CHARITABLE FOUNDATION; a.k.a. STICHTING AL-AQSA; a.k.a. SWEDISH CHARITABLE AQSA EST.), BD Leopold II 71, 1080 Brussels, Belgium [SDGT]

AL-AQSA AL-ISLAMI BANK (a.k.a. AL-AQSA ISLAMIC BANK), P.O. Box 3753, al-Beireh, West Bank; Ramallah II 970, West Bank [SDT] [SDGT]

AL-AQSA ASBL (a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Kappellenstrasse 36, Aachen D-52066, Germany; <Head Office> [SDGT]

AL-AQSA ASBL (a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.) [SDGT]

AL-AQSA ASBL (a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

AL-AQSA ASBL (a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 14101, San 'a, Yemen [SDGT]

AL-AQSA ASBL (a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 2364, Islamabad, Pakistan [SDGT]

AL-AQSA ASBL (a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 6222200KBKN, Copenhagen, Denmark [SDGT]

AL-AQSA ASBL (a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Gerrit V/D Lindestraat 103 A, 3022 TH, Rotterdam, Netherlands; Gerrit V/D Lindestraat 103 E, 03022 TH, Rotterdam, Netherlands [SDGT]

AL-AQSA ASBL (a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Noblev 79 NB, 21433 Malmo, Sweden; Nobelvagen 79 NB, 21433 Malmo, Sweden [SDGT]

AL-AQSA CHARITABLE FOUNDATION (a.k.a. AL-AQSA (ASBL); a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NURSAT AL-AQSA AL-SHARIF; a.k.a. SANABIL AL-AQSA CHARITABLE FOUNDATION; a.k.a. STICHTING AL-AQSA; a.k.a. SWEDISH CHARITABLE AQSA EST.), BD Leopold II 71, 1080 Brussels, Belgium [SDGT]

AL-AQSA CHARITABLE FOUNDATION (a.k.a. AL-AQSA ASBL; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Noblev 79 NB, 21433 Malmo, Sweden; Nobelvagen 79 NB, 21433 Malmo, Sweden [SDGT]

AL-AQSA CHARITABLE FOUNDATION (a.k.a. AL-AQSA ASBL; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Kappellenstrasse 36, Aachen D-52066, Germany; <Head Office> [SDGT]

AL-AQSA CHARITABLE FOUNDATION (a.k.a. AL-AQSA ASBL; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.) [SDGT]

AL-AQSA CHARITABLE FOUNDATION (a.k.a. AL-AQSA ASBL; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

AL-AQSA CHARITABLE FOUNDATION (a.k.a. AL-AQSA ASBL; a.k.a. AL-AQSA CHARITABLE ORGANIZATION; a.k.a. AL-AQSA E.V.; a.k.a. AL-AQSA OUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 2364, Islamabad, Pakistan [SDGT]

AL-AQSA CHARITABLE FOUNDATION (a.k.a. AL-AQSA ASBL; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 14101, San 'a, Yemen [SDGT]

AL-AQSA CHARITABLE FOUNDATION (a.k.a. AL-AQSA ASBL; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 6222200KBKN, Copenhagen, Denmark [SDGT]

AL-AQSA CHARITABLE FOUNDATION (a.k.a. AL-AQSA ASBL; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Gerrit V/D Lindestraat 103 A, 3022 TH, Rotterdam, Netherlands; Gerrit V/D Lindestraat 103 E, 03022 TH, Rotterdam, Netherlands [SDGT]

AL-AQSA CHARITABLE ORGANIZATION (a.k.a. AL-AQSA (ASBL); a.k.a. AL-AQSA CHARITABLE FOUNDATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NURSAT AL-AQSA AL-SHARIF; a.k.a. SANABIL AL-AQSA CHARITABLE FOUNDATION; a.k.a. STICHTING AL-AQSA; a.k.a. SWEDISH CHARITABLE AQSA EST.), BD Leopold II 71, 1080 Brussels, Belgium [SDGT]

AL-AQSA CHARITABLE ORGANIZATION (a.k.a. AL-AQSA ASBL; a.k.a. AL-AQSA CHARITABLE FOUNDATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Noblev 79 NB, 21433 Malmo, Sweden; Nobelvagen 79 NB, 21433 Malmo, Sweden [SDGT]

AL-AQSA CHARITABLE ORGANIZATION (a.k.a. AL-AQSA ASBL; a.k.a. AL-AQSA CHARITABLE FOUNDATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Kappellenstrasse 36, Aachen D-52066, Germany; <Head Office> [SDGT]

AL-AQSA CHARITABLE ORGANIZATION (a.k.a. AL-AQSA ASBL; a.k.a. AL-AQSA CHARITABLE FOUNDATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.) [SDGT]

AL-AQSA CHARITABLE ORGANIZATION (a.k.a. AL-AQSA ASBL; a.k.a. AL-AQSA CHARITABLE FOUNDATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

AL-AQSA CHARITABLE ORGANIZATION (a.k.a. AL-AQSA ASBL; a.k.a. AL-AQSA CHARITABLE FOUNDATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 2364, Islamabad, Pakistan [SDGT]

AL-AQSA CHARITABLE ORGANIZATION (a.k.a. AL-AQSA ASBL; a.k.a. AL-AQSA CHARITABLE FOUNDATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 14101, San 'a, Yemen [SDGT]

AL-AQSA CHARITABLE ORGANIZATION (a.k.a. AL-AQSA ASBL; a.k.a. AL-AQSA CHARITABLE FOUNDATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 6222200KBKN, Copenhagen, Denmark [SDGT]

AL-AQSA CHARITABLE ORGANIZATION (a.k.a. AL-AQSA ASBL; a.k.a. AL-AQSA CHARITABLE FOUNDATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Gerrit V/D Lindestraat 103 A, 3022 TH, Rotterdam, Netherlands; Gerrit V/D Lindestraat 103 E, 03022 TH, Rotterdam, Netherlands [SDGT]

AL-AQSA E.V. (a.k.a. AL-AQSA (ASBL); a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NURSAT AL-AQSA AL-SHARIF; a.k.a. SANABIL AL-AQSA CHARITABLE FOUNDATION; a.k.a. STICHTING AL-AQSA; a.k.a. SWEDISH CHARITABLE AQSA EST.), BD Leopold II 71, 1080 Brussels, Belgium [SDGT]

AL-AQSA E.V. (a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Kappellenstrasse 36, Aachen D-52066, Germany; <Head Office> [SDGT]

AL-AQSA E.V. (a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 6222200KBKN, Copenhagen, Denmark [SDGT]

AL-AQSA E.V. (a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Gerrit V/D Lindestraat 103 A, 3022 TH, Rotterdam, Netherlands; Gerrit V/D Lindestraat 103 E, 03022 TH, Rotterdam, Netherlands [SDGT]

AL-AQSA E.V. (a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Noblev 79 NB, 21433 Malmo, Sweden; Nobelvagen 79 NB, 21433 Malmo, Sweden [SDGT]

AL-AQSA E.V. (a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.) [SDGT]

AL-AQSA E.V. (a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

AL-AQSA E.V. (a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 2364, Islamabad, Pakistan [SDGT]

AL-AQSA E.V. (a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 14101, San 'a, Yemen [SDGT]

AL-AQSA FOUNDATION (a.k.a. AL-AQSA (ASBL); a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NURSAT AL-AQSA AL-SHARIF; a.k.a. SANABIL AL-AQSA CHARITABLE FOUNDATION; a.k.a. STICHTING AL-AQSA; a.k.a. SWEDISH CHARITABLE AQSA EST.), BD Leopold II 71, 1080 Brussels, Belgium [SDGT]

AL-AQSA FOUNDATION (a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.) [SDGT]

AL-AQSA FOUNDATION (a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Noblev 79 NB, 21433 Malmo, Sweden; Nobelvagen 79 NB, 21433 Malmo, Sweden [SDGT]

AL-AQSA FOUNDATION (a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

AL-AQSA FOUNDATION (a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 2364, Islamabad, Pakistan [SDGT]

AL-AQSA FOUNDATION (a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 14101, San 'a, Yemen [SDGT]

AL-AQSA FOUNDATION (a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 6222200KBKN, Copenhagen, Denmark [SDGT]

AL-AQSA FOUNDATION (a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Gerrit V/D Lindestraat 103 A, 3022 TH, Rotterdam, Netherlands; Gerrit V/D Lindestraat 103 E, 03022 TH, Rotterdam, Netherlands [SDGT]

AL-AQSA FOUNDATION (a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Kappellenstrasse 36, Aachen D-52066, Germany; <Head Office> [SDGT]

AL-AQSA INTERNATIONAL FOUNDATION (a.k.a. AL-AQSA (ASBL); a.k.a. AL-AQSA CHARITABLE FOUNDATION; a.k.a. AL-AQSA CHARITABLE ORGANIZATION; a.k.a. AL-AQSA E.V.; a.k.a. AL-AQSA FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NURSAT AL-AQSA AL-SHARIF; a.k.a. SANABIL AL-AQSA CHARITABLE FOUNDATION; a.k.a. STICHTING AL-AQSA; a.k.a. SWEDISH CHARITABLE AQSA EST.), BD Leopold II 71, 1080 Brussels, Belgium [SDGT]

AL-AQSA INTERNATIONAL FOUNDATION (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 14101, San 'a, Yemen [SDGT]

AL-AQSA INTERNATIONAL FOUNDATION (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 6222200KBKN, Copenhagen, Denmark [SDGT]

AL-AQSA INTERNATIONAL FOUNDATION (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Noblev 79 NB, 21433 Malmo, Sweden; Nobelvagen 79 NB, 21433 Malmo, Sweden [SDGT]

AL-AQSA INTERNATIONAL FOUNDATION (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Gerrit V/D Lindestraat 103 A, 3022 TH, Rotterdam, Netherlands; Gerrit V/D Lindestraat 103 E, 03022 TH, Rotterdam, Netherlands [SDGT]

AL-AQSA INTERNATIONAL FOUNDATION (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Kappellenstrasse 36, Aachen D-52066, Germany; <Head Office> [SDGT]

AL-AQSA INTERNATIONAL FOUNDATION (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.) [SDGT]

AL-AQSA INTERNATIONAL FOUNDATION (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

AL-AQSA INTERNATIONAL FOUNDATION (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 2364, Islamabad, Pakistan [SDGT]

AL-AQSA ISLAMIC BANK (a.k.a. AL-AQSA AL-ISLAMI BANK), P.O. Box 3753, al-Beireh, West Bank; Ramallah II 970, West Bank [SDT] [SDGT]

AL-AQSA ISLAMIC CHARITABLE SOCIETY (a.k.a. AL-AQSA (ASBL); a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NURSAT AL-AQSA AL-SHARIF; a.k.a. SANABIL AL-AQSA CHARITABLE FOUNDATION; a.k.a. STICHTING AL-AQSA; a.k.a. SWEDISH CHARITABLE AQSA EST.), BD Leopold II 71, 1080 Brussels, Belgium [SDGT]

AL-AQSA ISLAMIC CHARITABLE SOCIETY (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 2364, Islamabad, Pakistan [SDGT]

AL-AQSA ISLAMIC CHARITABLE SOCIETY (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 14101, San 'a, Yemen [SDGT]

AL-AQSA ISLAMIC CHARITABLE SOCIETY (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 6222200KBKN, Copenhagen, Denmark [SDGT]

AL-AQSA ISLAMIC CHARITABLE SOCIETY (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Noblev 79 NB, 21433 Malmo, Sweden; Nobelvagen 79 NB, 21433 Malmo, Sweden [SDGT]

AL-AQSA ISLAMIC CHARITABLE SOCIETY (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Gerrit V/D Lindestraat 103 A, 3022 TH, Rotterdam, Netherlands; Gerrit V/D Lindestraat 103 E, 03022 TH, Rotterdam, Netherlands [SDGT]

AL-AQSA ISLAMIC CHARITABLE SOCIETY (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Kappellenstrasse 36, Aachen D-52066, Germany; <Head Office> [SDGT]

AL-AQSA ISLAMIC CHARITABLE SOCIETY (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.) [SDGT]

AL-AQSA ISLAMIC CHARITABLE SOCIETY (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

AL-AQSA MARTYRS BATTALION (a.k.a. AL-AQSA MARTYRS BRIGADE) [SDT] [FTO] [SDGT]

AL-AQSA MARTYRS BRIGADE (a.k.a. AL-AQSA MARTYRS BATTALION) [SDT] [FTO] [SDGT]

AL-AQSA SINABIL ESTABLISHMENT (a.k.a. AL-AQSA (ASBL); a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NURSAT AL-AQSA AL-SHARIF; a.k.a. SANABIL AL-AQSA CHARITABLE FOUNDATION; a.k.a. STICHTING AL-AQSA; a.k.a. SWEDISH CHARITABLE AQSA EST.), BD Leopold II 71, 1080 Brussels, Belgium [SDGT]

AL-AQSA SINABIL ESTABLISHMENT (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

AL-AQSA SINABIL ESTABLISHMENT (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 2364, Islamabad, Pakistan [SDGT]

AL-AQSA SINABIL ESTABLISHMENT (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 14101, San 'a, Yemen [SDGT]

AL-AQSA SINABIL ESTABLISHMENT (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 6222200KBKN, Copenhagen, Denmark [SDGT]

AL-AQSA SINABIL ESTABLISHMENT (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Noblev 79 NB, 21433 Malmo, Sweden; Nobelvagen 79 NB, 21433 Malmo, Sweden [SDGT]

AL-AQSA SINABIL ESTABLISHMENT (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Gerrit V/D Lindestraat 103 A, 3022 TH, Rotterdam, Netherlands; Gerrit V/D Lindestraat 103 E, 03022 TH, Rotterdam, Netherlands [SDGT]

AL-AQSA SINABIL ESTABLISHMENT (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Kappellenstrasse 36, Aachen D-52066, Germany; <Head Office> [SDGT]

AL-AQSA SINABIL ESTABLISHMENT (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.) [SDGT]

AL-AQSA SPANM I STIFTELSE (a.k.a. AL-AQSA (ASBL); a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NURSAT AL-AQSA AL-SHARIF; a.k.a. SANABIL AL-AQSA CHARITABLE FOUNDATION; a.k.a. STICHTING AL-AQSA; a.k.a. SWEDISH CHARITABLE AQSA EST.), BD Leopold II 71, 1080 Brussels, Belgium [SDGT]

AL-AQSA SPANM I STIFTELSE (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.) [SDGT]

AL-AQSA SPANM I STIFTELSE (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

AL-AQSA SPANM I STIFTELSE (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 2364, Islamabad, Pakistan [SDGT]

AL-AQSA SPANM I STIFTELSE (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 14101, San 'a, Yemen [SDGT]

AL-AQSA SPANM I STIFTELSE (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 6222200KBKN, Copenhagen, Denmark [SDGT]

AL-AQSA SPANM I STIFTELSE (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Noblev 79 NB, 21433 Malmo, Sweden; Nobelvagen 79 NB, 21433 Malmo, Sweden [SDGT]

AL-AQSA SPANM I STIFTELSE (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Gerrit V/D Lindestraat 103 A, 3022 TH, Rotterdam, Netherlands; Gerrit V/D Lindestraat 103 E, 03022 TH, Rotterdam, Netherlands [SDGT]

AL-AQSA SPANM I STIFTELSE (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Kappellenstrasse 36, Aachen D-52066, Germany; <Head Office> [SDGT]

AL-AQSA SPANMAL STIFTELSE (a.k.a. AL-AQSA (ASBL); a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NURSAT AL-AQSA AL-SHARIF; a.k.a. SANABIL AL-AQSA CHARITABLE FOUNDATION; a.k.a. STICHTING AL-AQSA; a.k.a. SWEDISH CHARITABLE AQSA EST.), BD Leopold II 71, 1080 Brussels, Belgium [SDGT]

AL-AQSA SPANMAL STIFTELSE (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Kappellenstrasse 36, Aachen D-52066, Germany; <Head Office> [SDGT]

AL-AQSA SPANMAL STIFTELSE (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL- KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.) [SDGT]

AL-AQSA SPANMAL STIFTELSE (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 14101, San 'a, Yemen [SDGT]

AL-AQSA SPANMAL STIFTELSE (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 6222200KBKN, Copenhagen, Denmark [SDGT]

AL-AQSA SPANMAL STIFTELSE (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Gerrit V/D Lindestraat 103 A, 3022 TH, Rotterdam, Netherlands; Gerrit V/D Lindestraat 103 E, 03022 TH, Rotterdam, Netherlands [SDGT]

AL-AQSA SPANMAL STIFTELSE (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

AL-AQSA SPANMAL STIFTELSE (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 2364, Islamabad, Pakistan [SDGT]

AL-AQSA SPANMAL STIFTELSE (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Noblev 79 NB, 21433 Malmo, Sweden; Nobelvagen 79 NB, 21433 Malmo, Sweden [SDGT]

AL-ARABI TRADING COMPANY LIMITED, Lane 11, Hai Babil, Baghdad District 929, Iraq [IRAQ2]

AL-ATRUSH, Abd al-Wahhab Umar Mirza (a.k.a. AL-ATRUSHI, Abdel Wahab); DOB 1936; a former minister of state, Iraq (individual) [IRAQ2]

AL-ATRUSHI, Abdel Wahab (a.k.a. AL-ATRUSH, Abd al-Wahhab Umar Mirza); DOB 1936; a former minister of state, Iraq (individual) [IRAQ2]

AL-AWADI, Hussein Qaid; nationality Iraq; Former Ba'th party regional command chairman, Ninawa, (individual) [IRAQ2]

AL-AWDAH BRIGADES (a.k.a. ABU GHUNAYM SQUAD OF THE HIZBALLAH BAYT AL-MAQDIS; a.k.a. AL-QUDS BRIGADES; a.k.a. AL-QUDS SQUADS; a.k.a. ISLAMIC JIHAD IN PALESTINE; a.k.a. ISLAMIC JIHAD OF PALESTINE; a.k.a. PALESTINE ISLAMIC JIHAD—SHAQAQI FACTION; a.k.a. PALESTINIAN ISLAMIC JIHAD; a.k.a. PIJ; a.k.a. PIJ-SHALLAH FACTION; a.k.a. PIJ-SHAQAQI FACTION; a.k.a. SAYARA AL-QUDS) [SDT] [FTO] [SDGT]

ALAWI, Abdel-Salam Abdel-Rahman (a.k.a. ALLAWI, Salam), Iraq; General Manager of INDUSTRIAL BANK OF IRAQ (individual) [IRAQ2]

AL-AYARI, Chiheb Ben Mohamed Ben Mokhtar (a.k.a. AYARI, Chiheb Ben Mohamed; a.k.a. “HICHEM ABU HCHEM”), Via di Saliceto n.51/9, Bologna, Italy; DOB 19 Dec 1965; POB Tunis, Tunisia; nationality Tunisia; Passport L246084 issued 10 Jun 1996 expires 9 Jun 2001 (individual) [SDGT]

AL-AZAWI, Dafir, Iraq (individual) [IRAQ2]

AL-AZZAWI, Hikmat Mizban Ibrahim; DOB 1934; POB Diyala, Iraq; nationality Iraq; Former Deputy Prime Minister and Finance Minister (individual) [IRAQ2]

ALBA CERDA, Salvador, Avenida Pacifico No. 2834, Seccion Costa de Oro Fraccionamiento Playas de Tijuana 22250, Tijuana, Baja California, Mexico; Avenida Pacifico No. 2408, Seccion Costa de Oro Fraccionamiento Playas de Tijuana 22250, Tijuana, Baja California, Mexico; c/o Farmacia Vida Suprema, S.A. DE C.V, Tijuana, Baja California, Mexico; c/o Distribuidora Imperial De Baja California, S.A. DE C.V., Tijuana, Baja California, Mexico; c/o ADP, S.C., Tijuana, Baja California, Mexico; DOB 25 Dec 1947; POB Patzcuaro, Michoacan; Credencial electoral 125324910951 (Mexico) (individual) [SDNTK]

AL-BAAZAOUI, Mondher Ben Mohsen Ben Ali (a.k.a. BAAZAOUI, Mondher; a.k.a. “HAMZA”), Via di Saliceto n.51/9, Bologna, Italy; DOB 18 Mar 1967; POB Kairouan, Tunisia; nationality Tunisia; Passport K602878 issued 5 Nov 1993 expires 9 Jun 2001 (individual) [SDGT]

AL-BADRANI, MUHAMMAD YUNIS AHMAD (a.k.a. AHMAD, MUHAMMAD YUNIS; a.k.a. AHMED, MUHAMMAD YUNIS; a.k.a. AL-AHMED, MUHAMMAD YUNIS; a.k.a. AL-MOALI, MOHAMMED YUNIS AHMED), Wadi al-Hawi, Iraq; Al-Dawar Street, Bludan, Syria; Damascus, Syria; Mosul, Iraq; Dubai, United Arab Emirates; Al-Hasaka, Syria; DOB 1949; POB Al-Mowall, Mosul, Iraq; nationality Iraq (individual) [IRAQ2]

AL-BAKOUN ALA AL-AHD ORGANIZATION (a.k.a. FAITHFUL TO THE OATH), Algeria [SDGT]

ALBAN BURBANO, Luis Alberto (a.k.a. ALBAN URBANO, Luis Alberto; a.k.a. CALARCA, Marco Leon; a.k.a. CALARCA, Marcos Leon); DOB 16 Aug 1957; POB Cali, Valle, Colombia; Cedula No. 16588328 (Colombia) (individual) [SDNTK]

ALBAN URBANO, Luis Alberto (a.k.a. ALBAN BURBANO, Luis Alberto; a.k.a. CALARCA, Marco Leon; a.k.a. CALARCA, Marcos Leon); DOB 16 Aug 1957; POB Cali, Valle, Colombia; Cedula No. 16588328 (Colombia) (individual) [SDNTK]

ALBANIAN NATIONAL ARMY (a.k.a. AKSH; a.k.a. ANA) [BALKANS]

AL-BAR AND AL-IHSAN SOCIETIES (a.k.a. AL-AHSAN CHARITABLE ORGANIZATION; a.k.a. AL-BAR AND AL-IHSAN SOCIETY; a.k.a. AL-BIR AND AL-IHSAN ORGANIZATION; a.k.a. AL-BIRR WA AL-IHSAN CHARITY ASSOCIATION; a.k.a. AL-BIRR WA AL-IHSAN WA AL-NAQA; a.k.a. AL-IHSAN CHARITABLE SOCIETY; a.k.a. BIR WA ELEHSSAN SOCIETY; a.k.a. BIRR AND ELEHSSAN SOCIETY; a.k.a. ELEHSSAN; a.k.a. ELEHSSAN SOCIETY; a.k.a. ELEHSSAN SOCIETY AND BIRR; a.k.a. ELEHSSAN SOCIETY WA BIRR; a.k.a. IHSAN CHARITY; a.k.a. JAMI'A AL-AHSAN AL-KHAYRIYYAH; a.k.a. THE BENEVOLENT CHARITABLE ORGANIZATION), Bethlehem, West Bank, Palestinian; AL-MUZANNAR ST, AL-NASIR AREA, Gaza City, Gaza, Palestinian; Jenin, West Bank, Palestinian; Ramallah, West Bank, Palestinian; Tulkarm, West Bank, Palestinian; Lebanon; P.O. BOX 398, Hebron, West Bank, Palestinian [SDGT]

AL-BAR AND AL-IHSAN SOCIETY (a.k.a. AL-AHSAN CHARITABLE ORGANIZATION; a.k.a. AL-BAR AND AL-IHSAN SOCIETIES; a.k.a. AL-BIR AND AL-IHSAN ORGANIZATION; a.k.a. AL-BIRR WA AL-IHSAN CHARITY ASSOCIATION; a.k.a. AL-BIRR WA AL-IHSAN WA AL-NAQA; a.k.a. AL-IHSAN CHARITABLE SOCIETY; a.k.a. BIR WA ELEHSSAN SOCIETY; a.k.a. BIRR AND ELEHSSAN SOCIETY; a.k.a. ELEHSSAN; a.k.a. ELEHSSAN SOCIETY; a.k.a. ELEHSSAN SOCIETY AND BIRR; a.k.a. ELEHSSAN SOCIETY WA BIRR; a.k.a. IHSAN CHARITY; a.k.a. JAMI'A AL-AHSAN AL-KHAYRIYYAH; a.k.a. THE BENEVOLENT CHARITABLE ORGANIZATION), Bethlehem, West Bank, Palestinian; AL-MUZANNAR ST, AL-NASIR AREA, Gaza City, Gaza, Palestinian; Jenin, West Bank, Palestinian; Ramallah, West Bank, Palestinian; Tulkarm, West Bank, Palestinian; Lebanon; P.O. BOX 398, Hebron, West Bank, Palestinian [SDGT]

AL-BARAKAAT, Mogadishu, Somalia; Dubai, United Arab Emirates [SDGT]

AL-BARAKAAT BANK, Mogadishu, Somalia [SDGT]

AL-BARAKAAT BANK OF SOMALIA (a.k.a. BARAKAAT BANK OF SOMALIA; a.k.a. BBS), Mogadishu, Somalia; Bossaso, Somalia [SDGT]

AL-BARAKAAT GROUP OF COMPANIES SOMALIA LIMITED (a.k.a. AL-BARAKAT FINANCIAL COMPANY), P.O. Box 3313, Dubai, United Arab Emirates; Mogadishu, Somalia [SDGT]

AL-BARAKAAT WIRING SERVICE, 2940 Pillsbury Avenue, Suite 4, Minneapolis, MN 55408 [SDGT]

AL-BARAKAT FINANCE GROUP, Dubai, United Arab Emirates; Mogadishu, Somalia [SDGT]

AL-BARAKAT FINANCIAL COMPANY (a.k.a. AL-BARAKAAT GROUP OF COMPANIES SOMALIA LIMITED), P.O. Box 3313, Dubai, United Arab Emirates; Mogadishu, Somalia [SDGT]

AL-BARAKAT FINANCIAL HOLDING COMPANY, Dubai, United Arab Emirates; Mogadishu, Somalia [SDGT]

AL-BARAKAT GLOBAL TELECOMMUNICATIONS (a.k.a. BARAKAAT GLOBETELCOMPANY), P.O. Box 3313, Dubai, United Arab Emirates; Mogadishu, Somalia; Hargeysa, Somalia [SDGT]

AL-BARAKAT INTERNATIONAL (a.k.a. BARACO CO.), Box 2923, Dubai, United Arab Emirates [SDGT]

AL-BARAKAT INVESTMENTS, P.O. Box 3313, Deira, Dubai, United Arab Emirates [SDGT]

AL-BASHAAIR TRADING COMPANY, LTD (a.k.a. AL-BASHAER TRADING COMPANY, LTD; a.k.a. AL-BASHAIR TRADING COMPANY, LTD; a.k.a. AL-BASHA'IR TRADING COMPANY, LTD; a.k.a. AL-BASHIR TRADING COMPANY, LTD), Sadoon St, Al-Ani Building, First Floor, Baghdad, Iraq [IRAQ2]

AL-BASHAER TRADING COMPANY, LTD (a.k.a. AL-BASHAAIR TRADING COMPANY, LTD; a.k.a. AL-BASHAIR TRADING COMPANY, LTD; a.k.a. AL-BASHA'IR TRADING COMPANY, LTD; a.k.a. AL-BASHIR TRADING COMPANY, LTD), Sadoon St, Al-Ani Building, First Floor, Baghdad, Iraq [IRAQ2]

AL-BASHAIR TRADING COMPANY, LTD (a.k.a. AL-BASHAAIR TRADING COMPANY, LTD; a.k.a. AL-BASHAER TRADING COMPANY, LTD; a.k.a. AL-BASHA'IR TRADING COMPANY, LTD; a.k.a. AL-BASHIR TRADING COMPANY, LTD), Sadoon St, Al-Ani Building, First Floor, Baghdad, Iraq [IRAQ2]

AL-BASHA'IR TRADING COMPANY, LTD (a.k.a. AL-BASHAAIR TRADING COMPANY, LTD; a.k.a. AL-BASHAER TRADING COMPANY, LTD; a.k.a. AL-BASHAIR TRADING COMPANY, LTD; a.k.a. AL-BASHIR TRADING COMPANY, LTD), Sadoon St, Al-Ani Building, First Floor, Baghdad, Iraq [IRAQ2]

AL-BASHIR TRADING COMPANY, LTD (a.k.a. AL-BASHAAIR TRADING COMPANY, LTD; a.k.a. AL-BASHAER TRADING COMPANY, LTD; a.k.a. AL-BASHAIR TRADING COMPANY, LTD; a.k.a. AL-BASHA'IR TRADING COMPANY, LTD), Sadoon St, Al-Ani Building, First Floor, Baghdad, Iraq [IRAQ2]

ALBASHIR, Mohammed (a.k.a. AL-BASHIR, Muhammad; a.k.a. AL-FAQI, Bashir Mohammed Ibrahim; a.k.a. AL-FAQIH, Abd al-Rahman; a.k.a. AL-KHATAB, Abd Al Rahman; a.k.a. ISMAIL, Mohammed; a.k.a. MOHAMMED, Al-Basher; a.k.a. “ABU ABD AL-RAHMAN”; a.k.a. “ABU KHALID”; a.k.a. “ABU MOHAMMED”; a.k.a. “MAHMUD”; a.k.a. “MUSTAFA”), Birmingham, United Kingdom; DOB 15 Dec 1959; POB Libya (individual) [SDGT]

AL-BASHIR, Muhammad (a.k.a. ALBASHIR, Mohammed; a.k.a. AL-FAQI, Bashir Mohammed Ibrahim; a.k.a. AL-FAQIH, Abd al-Rahman; a.k.a. AL-KHATAB, Abd Al Rahman; a.k.a. ISMAIL, Mohammed; a.k.a. MOHAMMED, Al-Basher; a.k.a. “ABU ABD AL-RAHMAN”; a.k.a. “ABU KHALID”; a.k.a. “ABU MOHAMMED”; a.k.a. “MAHMUD”; a.k.a. “MUSTAFA”), Birmingham, United Kingdom; DOB 15 Dec 1959; POB Libya (individual) [SDGT]

AL-BATAHAI, Soliman (a.k.a. AL-BATHI, Soliman; a.k.a. AL-BUTHE, Soliman); DOB 8 Dec 1961; POB Egypt; nationality Saudi Arabia; Passport B049614 (Saudi Arabia); alt. Passport C536660 (Saudi Arabia) (individual) [SDGT]

AL-BATHI, Soliman (a.k.a. AL-BATAHAI, Soliman; a.k.a. AL-BUTHE, Soliman); DOB 8 Dec 1961; POB Egypt; nationality Saudi Arabia; Passport B049614 (Saudi Arabia); alt. Passport C536660 (Saudi Arabia) (individual) [SDGT]

AL-BATTARJEE, 'Adil (a.k.a. BATARJEE, Adel Abdul Jalil; a.k.a. BATARJI, 'Adil 'Abd al Jalil; a.k.a. BATTERJEE, Adel), 2 Helmi Kutbi Street, Jeddah, Saudi Arabia; DOB 1 Jul 1946; POB Jeddah, Saudi Arabia; citizen Saudi Arabia; Phone #: 682-2816 (presumed Saudi Arabia); Email:adelb@shabakah.net.sa (individual) [SDGT]

AL-BAYJAT, Bashar Sabawi Ibrahim Hasan (a.k.a. 'ABDULLAH, 'Ali Zafir; a.k.a. AL-TIKRITI, Bashar Sabawi Ibrahim Hasan; a.k.a. AL-TIKRITI, Bashar Sab'awi Ibrahim Hasan; a.k.a. AL-TIKRITI, Bashir Sab'awi Ibrahim Al-Hasan; a.k.a. AL-TIKRITI, Bashir Sabawi Ibrahim Al-Hassan), Fuad Dawod Farm, Az Zabadani, Damascus, Syria; Beirut, Lebanon; DOB 17 Jul 1970; POB Baghdad, Iraq; nationality Iraq (individual) [IRAQ2]

AL-BAZAZ, Hikmet Abdullah (a.k.a. AL-BAZZAZ, Hikmet Abdallah), Iraq; Former Minister of Education (individual) [IRAQ2]

AL-BAZZAZ, Hikmet Abdallah (a.k.a. AL-BAZAZ, Hikmet Abdullah), Iraq; Former Minister of Education (individual) [IRAQ2]

ALBERDI URANGA, Itziar; DOB 7 Oct 1963; POB Durango, Vizcaya Province, Spain; D.N.I. 78.865.693 (Spain); Member ETA (individual) [SDGT]

AL-BIR AND AL-IHSAN ORGANIZATION (a.k.a. AL-AHSAN CHARITABLE ORGANIZATION; a.k.a. AL-BAR AND AL-IHSAN SOCIETIES; a.k.a. AL-BAR AND AL-IHSAN SOCIETY; a.k.a. AL-BIRR WA AL-IHSAN CHARITY ASSOCIATION; a.k.a. AL-BIRR WA AL-IHSAN WA AL-NAQA; a.k.a. AL-IHSAN CHARITABLE SOCIETY; a.k.a. BIR WA ELEHSSAN SOCIETY; a.k.a. BIRR AND ELEHSSAN SOCIETY; a.k.a. ELEHSSAN; a.k.a. ELEHSSAN SOCIETY; a.k.a. ELEHSSAN SOCIETY AND BIRR; a.k.a. ELEHSSAN SOCIETY WA BIRR; a.k.a. IHSAN CHARITY; a.k.a. JAMI'A AL-AHSAN AL-KHAYRIYYAH; a.k.a. THE BENEVOLENT CHARITABLE ORGANIZATION), Bethlehem, West Bank, Palestinian; AL-MUZANNAR ST, AL-NASIR AREA, Gaza City, Gaza, Palestinian; Jenin, West Bank, Palestinian; Ramallah, West Bank, Palestinian; Tulkarm, West Bank, Palestinian; Lebanon; P.O. BOX 398, Hebron, West Bank, Palestinian [SDGT]

AL-BIRR WA AL-IHSAN CHARITY ASSOCIATION (a.k.a. AL-AHSAN CHARITABLE ORGANIZATION; a.k.a. AL-BAR AND AL-IHSAN SOCIETIES; a.k.a. AL-BAR AND AL-IHSAN SOCIETY; a.k.a. AL-BIR AND AL-IHSAN ORGANIZATION; a.k.a. AL-BIRR WA AL-IHSAN WA AL-NAQA; a.k.a. AL-IHSAN CHARITABLE SOCIETY; a.k.a. BIR WA ELEHSSAN SOCIETY; a.k.a. BIRR AND ELEHSSAN SOCIETY; a.k.a. ELEHSSAN; a.k.a. ELEHSSAN SOCIETY; a.k.a. ELEHSSAN SOCIETY AND BIRR; a.k.a. ELEHSSAN SOCIETY WA BIRR; a.k.a. IHSAN CHARITY; a.k.a. JAMI'A AL-AHSAN AL-KHAYRIYYAH; a.k.a. THE BENEVOLENT CHARITABLE ORGANIZATION), Bethlehem, West Bank, Palestinian; AL-MUZANNAR ST, AL-NASIR AREA, Gaza City, Gaza, Palestinian; Jenin, West Bank, Palestinian; Ramallah, West Bank, Palestinian; Tulkarm, West Bank, Palestinian; Lebanon; P.O. BOX 398, Hebron, West Bank, Palestinian [SDGT]

AL-BIRR WA AL-IHSAN WA AL-NAQA (a.k.a. AL-AHSAN CHARITABLE ORGANIZATION; a.k.a. AL-BAR AND AL-IHSAN SOCIETIES; a.k.a. AL-BAR AND AL-IHSAN SOCIETY; a.k.a. AL-BIR AND AL-IHSAN ORGANIZATION; a.k.a. AL-BIRR WA AL-IHSAN CHARITY ASSOCIATION; a.k.a. AL-IHSAN CHARITABLE SOCIETY; a.k.a. BIR WA ELEHSSAN SOCIETY; a.k.a. BIRR AND ELEHSSAN SOCIETY; a.k.a. ELEHSSAN; a.k.a. ELEHSSAN SOCIETY; a.k.a. ELEHSSAN SOCIETY AND BIRR; a.k.a. ELEHSSAN SOCIETY WA BIRR; a.k.a. IHSAN CHARITY; a.k.a. JAMI'A AL-AHSAN AL-KHAYRIYYAH; a.k.a. THE BENEVOLENT CHARITABLE ORGANIZATION), Bethlehem, West Bank, Palestinian; AL-MUZANNAR ST, AL-NASIR AREA, Gaza City, Gaza, Palestinian; Jenin, West Bank, Palestinian; Ramallah, West Bank, Palestinian; Tulkarm, West Bank, Palestinian; Lebanon; P.O. BOX 398, Hebron, West Bank, Palestinian [SDGT]

ALBISU IRIARTE, Miguel; DOB 7 Jun 1961; POB San Sebastian, Guizpucoa Province, Spain; D.N.I. 15.954.596 (Spain); Member ETA (individual) [SDGT]

AL-BUTHE, Soliman (a.k.a. AL-BATAHAI, Soliman; a.k.a. AL-BATHI, Soliman); DOB 8 Dec 1961; POB Egypt; nationality Saudi Arabia; Passport B049614 (Saudi Arabia); alt. Passport C536660 (Saudi Arabia) (individual) [SDGT]

ALCALDE LINARES, Angel; DOB 2 May 1943; POB Portugalete, Vizcaya Province, Spain; D.N.I. 15.390.353 (Spain); Member ETA (individual) [SDGT]

AL-CHARAABI, Tarek Ben Al-Bechir Ben Amara (a.k.a. CHARAABI, Tarek; a.k.a. SHARAABI, Tarek), Viale Bligny n.42, Milano, Italy; DOB 31 Mar 1970; POB Tunisia; nationality Tunisia; Italian Fiscal Code CHRTRK70C31Z352U; Passport L 579603 issued 19 Nov 1997 expires 18 Nov 2002 (individual) [SDGT]

AL-CHERIF, Said Ben Abdelhakim Ben Omar (a.k.a. ABOU SALMAN; a.k.a. BEN ABDELHAKIM, Cherif Said; a.k.a. “DJALLAL”; a.k.a. “YOUCEF”), Corso Lodi 59, Milan, Italy; DOB 25 Jan 1970; POB Menzel Temine, Tunisia; nationality Tunisia; Passport M307968 issued 8 Sep 2001 expires 7 Sep 2006; arrested 30 Sep 2002 (individual) [SDGT]

ALCIDES MAGANA, Ramon (a.k.a. ALCIDES MAGANE, Ramon; a.k.a. ALCIDES MAYENA, Ramon; a.k.a. ALCIDEZ MAGANA, Ramon; a.k.a. GONZALEZ QUIONES, Jorge; a.k.a. MAGANA ALCIDES, Ramon; a.k.a. MAGANA, Jorge; a.k.a. MAGNA ALCIDEDES, Ramon; a.k.a. MATA, Alcides; a.k.a. RAMON MAGANA, Alcedis; a.k.a. RAMON MAGANA, Alcides; a.k.a. ROMERO, Antonio); DOB 4 Sep 57 (individual) [SDNTK]

ALCIDES MAGANE, Ramon (a.k.a. ALCIDES MAGANA, Ramon; a.k.a. ALCIDES MAYENA, Ramon; a.k.a. ALCIDEZ MAGANA, Ramon; a.k.a. GONZALEZ QUIONES, Jorge; a.k.a. MAGANA ALCIDES, Ramon; a.k.a. MAGANA, Jorge; a.k.a. MAGNA ALCIDEDES, Ramon; a.k.a. MATA, Alcides; a.k.a. RAMON MAGANA, Alcedis; a.k.a. RAMON MAGANA, Alcides; a.k.a. ROMERO, Antonio); DOB 4 Sep 57 (individual) [SDNTK]

ALCIDES MAYENA, Ramon (a.k.a. ALCIDES MAGANA, Ramon; a.k.a. ALCIDES MAGANE, Ramon; a.k.a. ALCIDEZ MAGANA, Ramon; a.k.a. GONZALEZ QUIONES, Jorge; a.k.a. MAGANA ALCIDES, Ramon; a.k.a. MAGANA, Jorge; a.k.a. MAGNA ALCIDEDES, Ramon; a.k.a. MATA, Alcides; a.k.a. RAMON MAGANA, Alcedis; a.k.a. RAMON MAGANA, Alcides; a.k.a. ROMERO, Antonio); DOB 4 Sep 57 (individual) [SDNTK]

ALCIDEZ MAGANA, Ramon (a.k.a. ALCIDES MAGANA, Ramon; a.k.a. ALCIDES MAGANE, Ramon; a.k.a. ALCIDES MAYENA, Ramon; a.k.a. GONZALEZ QUIONES, Jorge; a.k.a. MAGANA ALCIDES, Ramon; a.k.a. MAGANA, Jorge; a.k.a. MAGNA ALCIDEDES, Ramon; a.k.a. MATA, Alcides; a.k.a. RAMON MAGANA, Alcedis; a.k.a. RAMON MAGANA, Alcides; a.k.a. ROMERO, Antonio); DOB 4 Sep 57 (individual) [SDNTK]

ALCO (a.k.a. BEIJING ALITE TECHNOLOGIES CO., LTD.; a.k.a. BEIJING HAILI LIANHE KEJI YOUXIAN GONGSI), 12A Beisanhuan Zhong Road, P.O. Box 3042, Beijing, China [NPWMD]

AL-DAGMA, Aschraf (a.k.a. “NOOR”), Clemens-August Strasse 10, Kolpinghaus, Beckum 59269, Germany; Leipziger Strasse 64, Altenburg 04600, Germany; DOB 28 Apr 1969; POB Abasan, Gaza Strip; nationality possibly Palestinian;arrested 23 Apr 2002 (individual) [SDGT]

AL-DAJANI, Leila N.S., P.O. Box 1318, Amman, Jordan (individual) [IRAQ2]

AL-DAJANI, Nadim S., P.O. Box 1318, Amman, Jordan (individual) [IRAQ2]

AL-DAJANI, Sa'ad, P.O. Box 1318, Amman, Jordan (individual) [IRAQ2]

ALDANA JUNCA, Jose Tiberio, c/o LATINFARMACOS S.A., Quito, Ecuador; c/o RIONAP S.A., Quito, Ecuador; DOB 13 Jul 1973; Cedula No. 79609622 (Colombia); Passport 79609622 (Colombia) (individual) [SDNT]

AL-DEEN, Saher Burhan (a.k.a. BARHAN, Dr. Sahir; a.k.a. BERHAN, Dr. Sahir; a.k.a. BURHAN, Dr. Sahir; a.k.a. BURHAN, Sahir), United Arab Emirates; Baghdad, Iraq; DOB 1967; nationality Iraq (individual) [IRAQ2]

AL-DJIHAD AL-ISLAMI (a.k.a. DZHAMAAT MODZHAKHEDOV; a.k.a. ISLAMIC JIHAD GROUP (IJG); a.k.a. ISLAMIC JIHAD GROUP OF UZBEKISTAN; a.k.a. JAMA'AT AL-JIHAD; a.k.a. JAMIAT AL-JIHAD AL-ISLAMI; a.k.a. JAMIYAT; a.k.a. THE JAMAAT MOJAHEDIN; a.k.a. THE KAZAKH JAMA'AT; a.k.a. THE LIBYAN SOCIETY) [FTO] [SDGT]

AL-DULAIMI, Khalaf (a.k.a. AL-DULAYMI, Khalaf M.M.); DOB 25 Jan 1932; Passport #H0044232 (Iraq) (individual) [IRAQ2]

AL-DULAYMI, Khalaf M.M. (a.k.a. AL-DULAIMI, Khalaf); DOB 25 Jan 1932; Passport #H0044232 (Iraq) (individual) [IRAQ2]

AL-DULAYMI, Latif Nusayyif Jasim; DOB circa 1941; POB Ar-Rashidiya suburb of Baghdad, Iraq; nationality Iraq; Former Ba'th party military bureau deputy chairman (individual) [IRAQ2]

AL-DURI, Izzat Ibrahim (a.k.a. ABU AHMAD; a.k.a. ABU BRAYS); DOB circa 1942; POB al-Dur, Iraq; nationality Iraq; Former deputy commander-in-chief of Iraqi military; deputy secretary, Former Ba'th party regional command; Former vice chairman, Revolutionary Command Council (individual) [IRAQ2]

AL-DURI, Jawhar Majid, Iraq; DOB c. 1942; POB Al-Dur, Iraq; nationality Iraq; wife of Izzat Ibrahim Al-Duri (individual) [IRAQ2]

ALEPH (a.k.a. A.I.C. COMPREHENSIVE RESEARCH INSTITUTE; a.k.a. A.I.C. SOGO KENKYUSHO; a.k.a. AUM SHINRIKYO; a.k.a. AUM SUPREME TRUTH) [FTO] [SDGT]

ALERO S.A., Carrera 7 No. 34-341 Bodega 3, Cali, Colombia; NIT # 800239872-5 (Colombia) [SDNT]

ALFA COMPANY LIMITED FOR INTERNATIONAL TRADING AND MARKETING (a.k.a. ALFA INVESTMENT AND INTERNATIONAL TRADING COMPANY; a.k.a. ALFA TRADING COMPANY), P.O. Box 910606, Amman 11191, Jordan [IRAQ2]

ALFA INVESTMENT AND INTERNATIONAL TRADING COMPANY (a.k.a. ALFA COMPANY LIMITED FOR INTERNATIONAL TRADING AND MARKETING; a.k.a. ALFA TRADING COMPANY), P.O. Box 910606, Amman 11191, Jordan [IRAQ2]

ALFA PHARMA S.A., Diagonal 17 No. 28A-80, Bogota, Colombia [SDNT]

ALFA TRADING COMPANY (a.k.a. ALFA COMPANY LIMITED FOR INTERNATIONAL TRADING AND MARKETING; a.k.a. ALFA INVESTMENT AND INTERNATIONAL TRADING COMPANY), P.O. Box 910606, Amman 11191, Jordan [IRAQ2]

AL-FADHLI, Muhsin (a.k.a. ABU MAJID SAMIYAH; a.k.a. ABU SAMIA; a.k.a. AL-FADHLI, Muhsin Fadhil 'Ayyid; a.k.a. AL-FADHLI, Muhsin Fadil Ayid Ashur), Block Four, Street 13, House # 179, Kuwait City, Al-Riqqa area, Kuwait; DOB 24 Apr 1981; Passport 106261543 (Kuwait) (individual) [SDGT]

AL-FADHLI, Muhsin Fadhil 'Ayyid (a.k.a. ABU MAJID SAMIYAH; a.k.a. ABU SAMIA; a.k.a. AL-FADHLI, Muhsin; a.k.a. AL-FADHLI, Muhsin Fadil Ayid Ashur), Block Four, Street 13, House # 179, Kuwait City, Al-Riqqa area, Kuwait; DOB 24 Apr 1981; Passport 106261543 (Kuwait) (individual) [SDGT]

AL-FADHLI, Muhsin Fadil Ayid Ashur (a.k.a. ABU MAJID SAMIYAH; a.k.a. ABU SAMIA; a.k.a. AL-FADHLI, Muhsin; a.k.a. AL-FADHLI, Muhsin Fadhil 'Ayyid), Block Four, Street 13, House # 179, Kuwait City, Al-Riqqa area, Kuwait; DOB 24 Apr 1981; Passport 106261543 (Kuwait) (individual) [SDGT]

ALFAGIH, Saad (a.k.a. ABU UTHMAN; a.k.a. AL FAQIH, Saad; a.k.a. AL-FAGIH, Saad; a.k.a. AL-FAKIH, Saad; a.k.a. AL-FAQI, Sa'd; a.k.a. AL-FAQIH, Sa'ad; a.k.a. AL-FAQIH, Saad Rashed Mohammad; a.k.a. AL-FAQIH, Saad; a.k.a. AL-FAQIH, Sa'd), London, United Kingdom; DOB 1 Feb 1957; POB Zubair, Iraq; citizen Saudi Arabia; Doctor (individual) [SDGT]

AL-FAGIH, Saad (a.k.a. ABU UTHMAN; a.k.a. AL FAQIH, Saad; a.k.a. ALFAGIH, Saad; a.k.a. AL-FAKIH, Saad; a.k.a. AL-FAQI, Sa'd; a.k.a. AL-FAQIH, Sa'ad; a.k.a. AL-FAQIH, Saad Rashed Mohammad; a.k.a. AL-FAQIH, Saad; a.k.a. AL-FAQIH, Sa'd), London, United Kingdom; DOB 1 Feb 1957; POB Zubair, Iraq; citizen Saudi Arabia; Doctor (individual) [SDGT]

AL-FAKIH, Saad (a.k.a. ABU UTHMAN; a.k.a. AL FAQIH, Saad; a.k.a. ALFAGIH, Saad; a.k.a. AL-FAGIH, Saad; a.k.a. AL-FAQI, Sa'd; a.k.a. AL-FAQIH, Sa'ad; a.k.a. AL-FAQIH, Saad Rashed Mohammad; a.k.a. AL-FAQIH, Saad; a.k.a. AL-FAQIH, Sa'd), London, United Kingdom; DOB 1 Feb 1957; POB Zubair, Iraq; citizen Saudi Arabia; Doctor (individual) [SDGT]

AL-FAQI, Bashir Mohammed Ibrahim (a.k.a. ALBASHIR, Mohammed; a.k.a. AL-BASHIR, Muhammad; a.k.a. AL-FAQIH, Abd al-Rahman; a.k.a. AL-KHATAB, Abd Al Rahman; a.k.a. ISMAIL, Mohammed; a.k.a. MOHAMMED, Al-Basher; a.k.a. “ABU ABD AL-RAHMAN”; a.k.a. “ABU KHALID”; a.k.a. “ABU MOHAMMED”; a.k.a. “MAHMUD”; a.k.a. “MUSTAFA”), Birmingham, United Kingdom; DOB 15 Dec 1959; POB Libya (individual) [SDGT]

AL-FAQI, Sa'd (a.k.a. ABU UTHMAN; a.k.a. AL FAQIH, Saad; a.k.a. ALFAGIH, Saad; a.k.a. AL-FAGIH, Saad; a.k.a. AL-FAKIH, Saad; a.k.a. AL-FAQIH, Sa'ad; a.k.a. AL-FAQIH, Saad Rashed Mohammad; a.k.a. AL-FAQIH, Saad; a.k.a. AL-FAQIH, Sa'd), London, United Kingdom; DOB 1 Feb 1957; POB Zubair, Iraq; citizen Saudi Arabia; Doctor (individual) [SDGT]

AL-FAQIH, Abd al-Rahman (a.k.a. ALBASHIR, Mohammed; a.k.a. AL-BASHIR, Muhammad; a.k.a. AL-FAQI, Bashir Mohammed Ibrahim; a.k.a. AL-KHATAB, Abd Al Rahman; a.k.a. ISMAIL, Mohammed; a.k.a. MOHAMMED, Al-Basher; a.k.a. “ABU ABD AL-RAHMAN”; a.k.a. “ABU KHALID”; a.k.a. “ABU MOHAMMED”; a.k.a. “MAHMUD”; a.k.a. “MUSTAFA”), Birmingham, United Kingdom; DOB 15 Dec 1959; POB Libya (individual) [SDGT]

AL-FAQIH, Saad (a.k.a. ABU UTHMAN; a.k.a. AL FAQIH, Saad; a.k.a. ALFAGIH, Saad; a.k.a. AL-FAGIH, Saad; a.k.a. AL-FAKIH, Saad; a.k.a. AL-FAQI, Sa'd; a.k.a. AL-FAQIH, Sa'ad; a.k.a. AL-FAQIH, Saad Rashed Mohammad; a.k.a. AL-FAQIH, Sa'd), London, United Kingdom; DOB 1 Feb 1957; POB Zubair, Iraq; citizen Saudi Arabia; Doctor (individual) [SDGT]

AL-FAQIH, Sa'ad (a.k.a. ABU UTHMAN; a.k.a. AL FAQIH, Saad; a.k.a. ALFAGIH, Saad; a.k.a. AL-FAGIH, Saad; a.k.a. AL-FAKIH, Saad; a.k.a. AL-FAQI, Sa'd; a.k.a. AL-FAQIH, Saad; a.k.a. AL-FAQIH, Saad Rashed Mohammad; a.k.a. AL-FAQIH, Sa'd), London, United Kingdom; DOB 1 Feb 1957; POB Zubair, Iraq; citizen Saudi Arabia; Doctor (individual) [SDGT]

AL-FAQIH, Saad Rashed Mohammad (a.k.a. ABU UTHMAN; a.k.a. AL FAQIH, Saad; a.k.a. ALFAGIH, Saad; a.k.a. AL-FAGIH, Saad; a.k.a. AL-FAKIH, Saad; a.k.a. AL-FAQI, Sa'd; a.k.a. AL-FAQIH, Sa'ad; a.k.a. AL-FAQIH, Saad; a.k.a. AL-FAQIH, Sa'd), London, United Kingdom; DOB 1 Feb 1957; POB Zubair, Iraq; citizen Saudi Arabia; Doctor (individual) [SDGT]

AL-FAQIH, Sa'd (a.k.a. ABU UTHMAN; a.k.a. AL FAQIH, Saad; a.k.a. ALFAGIH, Saad; a.k.a. AL-FAGIH, Saad; a.k.a. AL-FAKIH, Saad; a.k.a. AL-FAQI, Sa'd; a.k.a. AL-FAQIH, Sa'ad; a.k.a. AL-FAQIH, Saad Rashed Mohammad; a.k.a. AL-FAQIH, Saad), London, United Kingdom; DOB 1 Feb 1957; POB Zubair, Iraq; citizen Saudi Arabia; Doctor (individual) [SDGT]

AL-FARAN (a.k.a. AL-HADID; a.k.a. AL-HADITH; a.k.a. HARAKAT UL-ANSAR; a.k.a. HARAKAT UL-MUJAHIDEEN; a.k.a. HARAKAT UL-MUJAHIDIN; a.k.a. HUA; a.k.a. HUM; a.k.a. JAMIAT UL-ANSAR) [FTO] [SDGT]

AL-FAUWAZ, Khaled (a.k.a. AL FAWWAZ, Khaled; a.k.a. AL FAWWAZ, Khalid; a.k.a. AL-FAUWAZ, Khaled A.; a.k.a. AL-FAWAZ, Khalid; a.k.a. AL-FAWWAZ, Khaled; a.k.a. AL-FAWWAZ, Khalid), 55 Hawarden Hill, Brooke Road, London NW2 7BR, United Kingdom; DOB 25 Aug 1962 (individual) [SDGT]

AL-FAUWAZ, Khaled A. (a.k.a. AL FAWWAZ, Khaled; a.k.a. AL FAWWAZ, Khalid; a.k.a. AL-FAUWAZ, Khaled; a.k.a. AL-FAWAZ, Khalid; a.k.a. AL-FAWWAZ, Khaled; a.k.a. AL-FAWWAZ, Khalid), 55 Hawarden Hill, Brooke Road, London NW2 7BR, United Kingdom; DOB 25 Aug 1962 (individual) [SDGT]

AL-FAWAZ, Khalid (a.k.a. AL FAWWAZ, Khaled; a.k.a. AL FAWWAZ, Khalid; a.k.a. AL-FAUWAZ, Khaled; a.k.a. AL-FAUWAZ, Khaled A.; a.k.a. AL-FAWWAZ, Khaled; a.k.a. AL-FAWWAZ, Khalid), 55 Hawarden Hill, Brooke Road, London NW2 7BR, United Kingdom; DOB 25 Aug 1962 (individual) [SDGT]

AL-FAWWAZ, Khaled (a.k.a. AL FAWWAZ, Khaled; a.k.a. AL FAWWAZ, Khalid; a.k.a. AL-FAUWAZ, Khaled; a.k.a. AL-FAUWAZ, Khaled A.; a.k.a. AL-FAWAZ, Khalid; a.k.a. AL-FAWWAZ, Khalid), 55 Hawarden Hill, Brooke Road, London NW2 7BR, United Kingdom; DOB 25 Aug 1962 (individual) [SDGT]

AL-FAWWAZ, Khalid (a.k.a. AL FAWWAZ, Khaled; a.k.a. AL FAWWAZ, Khalid; a.k.a. AL-FAUWAZ, Khaled; a.k.a. AL-FAUWAZ, Khaled A.; a.k.a. AL-FAWAZ, Khalid; a.k.a. AL-FAWWAZ, Khaled), 55 Hawarden Hill, Brooke Road, London NW2 7BR, United Kingdom; DOB 25 Aug 1962 (individual) [SDGT]

AL-FILISTINI, Abu Qatada (a.k.a. ABU ISMAIL; a.k.a. ABU UMAR, Abu Omar; a.k.a. TAKFIRI, Abu Umr; a.k.a. UMAR, Abu Umar; a.k.a. UTHMAN, Al-Samman; a.k.a. UTHMAN, Omar Mahmoud; a.k.a. UTHMAN, Umar), London, United Kingdom; DOB 30 Dec 1960; alt. DOB 13 Dec 1960 (individual) [SDGT]

ALFONSO, Carlos (a.k.a. GONZALEZ, Carlos Alfonso), Panama (individual) [CUBA]

AL-GAMA'AT (a.k.a. EGYPTIAN AL-GAMA'AT AL-ISLAMIYYA; a.k.a. GAMA'A AL-ISLAMIYYA; a.k.a. GI; a.k.a. IG; a.k.a. ISLAMIC GAMA'AT; a.k.a. ISLAMIC GROUP) [SDT] [FTO] [SDGT]

AL-GHAFUR, Barzan Razuki abd (a.k.a. AL-TIKRITI, Barzan abd al-Ghafur Sulaiman Majid); DOB 1960; POB Salah al-Din, Iraq; nationality Iraq; commander, Special Republican Guard (individual) [IRAQ2]

ALGHOZI, Fathur Rahman (a.k.a. AL GHOZI, Fathur Rahman; a.k.a. AL GHOZI, Fathur Rohman; a.k.a. AL-GHOZI, Fathur Rahman; a.k.a. ALGHOZI, Fathur Rohman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. JAMIL, Sammy Sali; a.k.a. JAMIL, Sammy Salih; a.k.a. RANDY, Alih; a.k.a. “ABU SA'AD”; a.k.a. “ABU SAAD”; a.k.a. “FREEDOM FIGHTER”); DOB 17 Feb 1971; POB Madiun, East Java, Indonesia; nationality Indonesia; Passport GG 672613 (Philippines) (individual) [SDGT]

AL-GHOZI, Fathur Rahman (a.k.a. AL GHOZI, Fathur Rahman; a.k.a. AL GHOZI, Fathur Rohman; a.k.a. ALGHOZI, Fathur Rahman; a.k.a. ALGHOZI, Fathur Rohman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. JAMIL, Sammy Sali; a.k.a. JAMIL, Sammy Salih; a.k.a. RANDY, Alih; a.k.a. “ABU SA'AD”; a.k.a. “ABU SAAD”; a.k.a. “FREEDOM FIGHTER”); DOB 17 Feb 1971; POB Madiun, East Java, Indonesia; nationality Indonesia; Passport GG 672613 (Philippines) (individual) [SDGT]

ALGHOZI, Fathur Rohman (a.k.a. AL GHOZI, Fathur Rahman; a.k.a. AL GHOZI, Fathur Rohman; a.k.a. ALGHOZI, Fathur Rahman; a.k.a. AL-GHOZI, Fathur Rahman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. JAMIL, Sammy Sali; a.k.a. JAMIL, Sammy Salih; a.k.a. RANDY, Alih; a.k.a. “ABU SA'AD”; a.k.a. “ABU SAAD”; a.k.a. “FREEDOM FIGHTER”); DOB 17 Feb 1971; POB Madiun, East Java, Indonesia; nationality Indonesia; Passport GG 672613 (Philippines) (individual) [SDGT]

AL-GHOZI, Fathur Rohman (a.k.a. AL GHOZI, Fathur Rahman; a.k.a. AL GHOZI, Fathur Rohman; a.k.a. ALGHOZI, Fathur Rahman; a.k.a. AL-GHOZI, Fathur Rahman; a.k.a. ALGHOZI, Fathur Rohman; a.k.a. AL-GOZHI, Fathur Rahman; a.k.a. AL-GOZHI, Fathur Rohman; a.k.a. AL-GOZI, Fathur Rahman; a.k.a. AL-GOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. JAMIL, Sammy Sali; a.k.a. JAMIL, Sammy Salih; a.k.a. RANDY, Alih; a.k.a. “ABU SA'AD”; a.k.a. “ABU SAAD”; a.k.a. “FREEDOM FIGHTER”); DOB 17 Feb 1971; POB Madiun, East Java, Indonesia; nationality Indonesia; Passport GG 672613 (Philippines) (individual) [SDGT]

AL-GOZHI, Fathur Rahman (a.k.a. AL GHOZI, Fathur Rahman; a.k.a. AL GHOZI, Fathur Rohman; a.k.a. ALGHOZI, Fathur Rahman; a.k.a. AL-GHOZI, Fathur Rahman; a.k.a. ALGHOZI, Fathur Rohman; a.k.a. AL-GHOZI, Fathur Rohman; a.k.a. AL-GOZHI, Fathur Rohman; a.k.a. AL-GOZI, Fathur Rahman; a.k.a. AL-GOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. JAMIL, Sammy Sali; a.k.a. JAMIL, Sammy Salih; a.k.a. RANDY, Alih; a.k.a. “ABU SA'AD”; a.k.a. “ABU SAAD”; a.k.a. “FREEDOM FIGHTER”); DOB 17 Feb 1971; POB Madiun, East Java, Indonesia; nationality Indonesia; Passport GG 672613 (Philippines) (individual) [SDGT]

AL-GOZHI, Fathur Rohman (a.k.a. AL GHOZI, Fathur Rahman; a.k.a. AL GHOZI, Fathur Rohman; a.k.a. ALGHOZI, Fathur Rahman; a.k.a. AL-GHOZI, Fathur Rahman; a.k.a. ALGHOZI, Fathur Rohman; a.k.a. AL-GHOZI, Fathur Rohman; a.k.a. AL-GOZHI, Fathur Rahman; a.k.a. AL-GOZI, Fathur Rahman; a.k.a. AL-GOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. JAMIL, Sammy Sali; a.k.a. JAMIL, Sammy Salih; a.k.a. RANDY, Alih; a.k.a. “ABU SA'AD”; a.k.a. “ABU SAAD”; a.k.a. “FREEDOM FIGHTER”); DOB 17 Feb 1971; POB Madiun, East Java, Indonesia; nationality Indonesia; Passport GG 672613 (Philippines) (individual) [SDGT]

AL-GOZI, Fathur Rahman (a.k.a. AL GHOZI, Fathur Rahman; a.k.a. AL GHOZI, Fathur Rohman; a.k.a. ALGHOZI, Fathur Rahman; a.k.a. AL-GHOZI, Fathur Rahman; a.k.a. ALGHOZI, Fathur Rohman; a.k.a. AL-GHOZI, Fathur Rohman; a.k.a. AL-GOZHI, Fathur Rahman; a.k.a. AL-GOZHI, Fathur Rohman; a.k.a. AL-GOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. JAMIL, Sammy Sali; a.k.a. JAMIL, Sammy Salih; a.k.a. RANDY, Alih; a.k.a. “ABU SA'AD”; a.k.a. “ABU SAAD”; a.k.a. “FREEDOM FIGHTER”); DOB 17 Feb 1971; POB Madiun, East Java, Indonesia; nationality Indonesia; Passport GG 672613 (Philippines) (individual) [SDGT]

AL-GOZI, Fathur Rohman (a.k.a. AL GHOZI, Fathur Rahman; a.k.a. AL GHOZI, Fathur Rohman; a.k.a. ALGHOZI, Fathur Rahman; a.k.a. AL-GHOZI, Fathur Rahman; a.k.a. ALGHOZI, Fathur Rohman; a.k.a. AL-GHOZI, Fathur Rohman; a.k.a. AL-GOZHI, Fathur Rahman; a.k.a. AL-GOZHI, Fathur Rohman; a.k.a. AL-GOZI, Fathur Rahman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. JAMIL, Sammy Sali; a.k.a. JAMIL, Sammy Salih; a.k.a. RANDY, Alih; a.k.a. “ABU SA'AD”; a.k.a. “ABU SAAD”; a.k.a. “FREEDOM FIGHTER”); DOB 17 Feb 1971; POB Madiun, East Java, Indonesia; nationality Indonesia; Passport GG 672613 (Philippines) (individual) [SDGT]

AL-HABIB (a.k.a. 'ABD AL-KARIM; a.k.a. ABU AL-MU'TAZ; a.k.a. AL-KHALAYLAH, Ahmad Fadil Nazzal; a.k.a. AL-MUHAJIR; a.k.a. AL-ZARQAWI, Abu Mus'Ab; a.k.a. GHARIB; a.k.a. KHALAILAH, Ahmed Fadeel; a.k.a. KHALAYLEH, Fedel Nazzel; a.k.a. “MOUHANAD”; a.k.a. “MOUHANNAD”; a.k.a. “MUHANNAD”; a.k.a. “RASHID”); DOB 20 Oct 1966; POB Zarqa, Jordan; citizen Jordan; National ID No. 9661031030 (Jordan); Passport Z264968 (Jordan) (individual) [SDGT]

AL-HABOBI, Dr. Safa (a.k.a. AL-HABOBI, Dr. Safa Haji J; a.k.a. AL-HABUBI, Dr. Safa Hadi Jawad; a.k.a. HABUBI, Dr. Safa Hadi Jawad; a.k.a. HABUBI, Dr. Safa Jawad; a.k.a. JAWAD, Dr. Safa Hadi), Flat 4D Thorney Court, Palace Gate, Kensington, United Kingdom; Iraq; DOB 01 Jul 1946; Former Minister of Oil (individual) [IRAQ2]

AL-HABOBI, Dr. Safa Haji J (a.k.a. AL-HABOBI, Dr. Safa; a.k.a. AL-HABUBI, Dr. Safa Hadi Jawad; a.k.a. HABUBI, Dr. Safa Hadi Jawad; a.k.a. HABUBI, Dr. Safa Jawad; a.k.a. JAWAD, Dr. Safa Hadi), Flat 4D Thorney Court, Palace Gate, Kensington, United Kingdom; Iraq; DOB 01 Jul 1946; Former Minister of Oil (individual) [IRAQ2]

AL-HABUBI, Dr. Safa Hadi Jawad (a.k.a. AL-HABOBI, Dr. Safa; a.k.a. AL-HABOBI, Dr. Safa Haji J; a.k.a. HABUBI, Dr. Safa Hadi Jawad; a.k.a. HABUBI, Dr. Safa Jawad; a.k.a. JAWAD, Dr. Safa Hadi), Flat 4D Thorney Court, Palace Gate, Kensington, United Kingdom; Iraq; DOB 01 Jul 1946; Former Minister of Oil (individual) [IRAQ2]

AL-HADID (a.k.a. AL-FARAN; a.k.a. AL-HADITH; a.k.a. HARAKAT UL-ANSAR; a.k.a. HARAKAT UL-MUJAHIDEEN; a.k.a. HARAKAT UL-MUJAHIDIN; a.k.a. HUA; a.k.a. HUM; a.k.a. JAMIAT UL-ANSAR) [FTO] [SDGT]

AL-HADITH (a.k.a. AL-FARAN; a.k.a. AL-HADID; a.k.a. HARAKAT UL-ANSAR; a.k.a. HARAKAT UL-MUJAHIDEEN; a.k.a. HARAKAT UL-MUJAHIDIN; a.k.a. HUA; a.k.a. HUM; a.k.a. JAMIAT UL-ANSAR) [FTO] [SDGT]

AL-HAMADAT, General Maki (a.k.a. HAMUDAT, General Maki Mustafa; a.k.a. HAMUDAT, Maki; a.k.a. HMODAT, Mackie; a.k.a. MUSTAFA, Macki Hamoudat), Mosul, Iraq; DOB circa 1934; nationality Iraq (individual) [IRAQ2]

AL-HAMATI SWEETS BAKERIES, Al-Mukallah, Hadhramawt Governorate, Yemen [SDGT]

AL-HAMATI, Muhammad (a.k.a. AL-AHDAL, Mohammad Hamdi Sadiq; a.k.a. AL-MAKKI, Abu Asim), Yemen (individual) [SDGT]

AL-HAMMADI, Hamid Yusif (a.k.a. HAMADI, Hamed Yussef), Iraq; Former Minister of Culture and Information (individual) [IRAQ2]

AL-HAQ, Amin (a.k.a. AH HAQ, Dr. Amin; a.k.a. AMIN, Muhammad; a.k.a. UL-HAQ, Dr. Amin); DOB 1960; POB Nangahar Province, Afghanistan (individual) [SDGT]

AL-HARAKAT AL-ISLAMIYAH LIL-ISLAH (a.k.a. AL-ISLAH; a.k.a. ISLAMIC MOVEMENT FOR REFORM; a.k.a. MIRA; a.k.a. MOVEMENT FOR ISLAMIC REFORM IN ARABIA; a.k.a. MOVEMENT FOR REFORM IN ARABIA), BM Box: MIRA, London WC1N 3XX, United Kingdom; 21 Blackstone Road, London NW2 6DA, United Kingdom; Safiee Suite, EBC House, Townsend Lane, London NW9 8LL, United Kingdom; UK Company Number 03834450 (United Kingdom) [SDGT]

ALHARAMAIN (a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

AL-HARAMAIN (a.k.a. ALHARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

AL-HARAMAIN & AL MASJED AL-AQSA CHARITY FOUNDATION : BOSNIA BRANCH (a.k.a. AL HARAMAIN AL MASJED AL AQSA; a.k.a. AL HARAMAYN AL MASJID AL AQSA; a.k.a. AL-HARAMAYN AND AL MASJID AL AQSA CHARITABLE FOUNDATION), Hasiba Brankovica No. 2A, Sarajevo, Bosnia and Herzegovina [SDGT]

AL-HARAMAIN : AFGHANISTAN BRANCH, Afghanistan [SDGT]

AL-HARAMAIN : ALBANIA BRANCH, Ifran Tomini street, #58, Tirana, Albania [SDGT]

AL-HARAMAIN : BANGLADESH BRANCH, House 1, Road 1, S-6, Uttara, Dhaka, Bangladesh [SDGT]

AL-HARAMAIN : ETHIOPIA BRANCH, Woreda District 24 Kebele Section 13, Addis Ababa, Ethiopia [SDGT]

AL-HARAMAIN : INDONESIA BRANCH (a.k.a. AL HARAMAIN; a.k.a. AL-HARAMAIN FOUNDATION; a.k.a. YAYASAN AL HARAMAIN; a.k.a. YAYASAN AL HARAMAINI; a.k.a. YAYASAN AL-MANAHIL-INDONESIA), Jalan Laut Sulawesi Blok DII/4, Kavling Angkatan Laut Duren Sawit, Jakarta Timur 13440, Indonesia [SDGT]

AL-HARAMAIN : KENYA BRANCH (a.k.a. ALHARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

AL-HARAMAIN : PAKISTAN BRANCH (a.k.a. ALHARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

AL-HARAMAIN : TANZANIA BRANCH (a.k.a. ALHARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

AL-HARAMAIN : THE NETHERLANDS BRANCH (a.k.a. STICHTING AL HARAMAIN HUMANITARIAN AID), Jan Hanzenstraat 114, 1053SV, Amsterdam, Netherlands [SDGT]

AL-HARAMAIN : UNITED STATES BRANCH (a.k.a. AL HARAMAIN FOUNDATION, INC.; a.k.a. ALHARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

ALHARAMAIN FOUNDATION (a.k.a. ALHARAMAIN; a.k.a. AL-HARAMAIN : KENYA BRANCH; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

AL-HARAMAIN FOUNDATION (a.k.a. AL HARAMAIN; a.k.a. AL-HARAMAIN : INDONESIA BRANCH; a.k.a. YAYASAN AL HARAMAIN; a.k.a. YAYASAN AL HARAMAINI; a.k.a. YAYASAN AL-MANAHIL-INDONESIA), Jalan Laut Sulawesi Blok DII/4, Kavling Angkatan Laut Duren Sawit, Jakarta Timur 13440, Indonesia [SDGT]

AL-HARAMAIN FOUNDATION : COMOROS ISLANDS, B/P: 1652, Moroni, Comoros [SDGT]

AL-HARAMAIN FOUNDATION (a.k.a. ALHARAMAIN; a.k.a. AL-HARAMAIN : KENYA BRANCH; a.k.a. ALHARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

AL-HARAMAIN FOUNDATION (a.k.a. ALHARAMAIN; a.k.a. AL-HARAMAIN : PAKISTAN BRANCH; a.k.a. ALHARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

AL-HARAMAIN FOUNDATION (a.k.a. ALHARAMAIN; a.k.a. AL-HARAMAIN : TANZANIA BRANCH; a.k.a. ALHARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

ALHARAMAIN FOUNDATION (a.k.a. ALHARAMAIN; a.k.a. AL-HARAMAIN : PAKISTAN BRANCH; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

ALHARAMAIN FOUNDATION (a.k.a. ALHARAMAIN; a.k.a. AL-HARAMAIN : TANZANIA BRANCH; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

AL-HARAMAIN FOUNDATION (a.k.a. ALHARAMAIN; a.k.a. AL-HARAMAIN; a.k.a. ALHARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

ALHARAMAIN FOUNDATION (a.k.a. AL HARAMAIN FOUNDATION, INC.; a.k.a. ALHARAMAIN; a.k.a. AL-HARAMAIN : UNITED STATES BRANCH; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

ALHARAMAIN FOUNDATION (a.k.a. ALHARAMAIN; a.k.a. AL-HARAMAIN; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

AL-HARAMAIN FOUNDATION (a.k.a. AL HARAMAIN FOUNDATION, INC.; a.k.a. ALHARAMAIN; a.k.a. AL-HARAMAIN : UNITED STATES BRANCH; a.k.a. ALHARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

ALHARAMAIN HUMANITARIAN FOUNDATION (a.k.a. ALHARAMAIN; a.k.a. AL-HARAMAIN : KENYA BRANCH; a.k.a. ALHARAMAIN FOUNDATION; a.k.a. AL-HARAMAIN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

AL-HARAMAIN HUMANITARIAN FOUNDATION (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL- HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

AL-HARAMAIN HUMANITARIAN FOUNDATION (a.k.a. ALHARAMAIN; a.k.a. AL-HARAMAIN; a.k.a. ALHARAMAIN FOUNDATION; a.k.a. AL-HARAMAIN FOUNDATION; a.k.a. ALHARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

ALHARAMAIN HUMANITARIAN FOUNDATION (a.k.a. ALHARAMAIN; a.k.a. AL-HARAMAIN : PAKISTAN BRANCH; a.k.a. ALHARAMAIN FOUNDATION; a.k.a. AL-HARAMAIN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

ALHARAMAIN HUMANITARIAN FOUNDATION (a.k.a. ALHARAMAIN; a.k.a. AL-HARAMAIN : TANZANIA BRANCH; a.k.a. ALHARAMAIN FOUNDATION; a.k.a. AL-HARAMAIN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

AL-HARAMAIN HUMANITARIAN FOUNDATION (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

ALHARAMAIN HUMANITARIAN FOUNDATION (a.k.a. ALHARAMAIN; a.k.a. AL-HARAMAIN; a.k.a. ALHARAMAIN FOUNDATION; a.k.a. AL-HARAMAIN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

ALHARAMAIN HUMANITARIAN FOUNDATION (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

AL-HARAMAIN HUMANITARIAN FOUNDATION (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

AL-HARAMAIN HUMANITARIAN FOUNDATION (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

ALHARAMAIN ISLAMIC FOUNDATION (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

AL-HARAMAIN ISLAMIC FOUNDATION (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

ALHARAMAIN ISLAMIC FOUNDATION (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

AL-HARAMAIN ISLAMIC FOUNDATION (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

ALHARAMAIN ISLAMIC FOUNDATION (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

ALHARAMAIN ISLAMIC FOUNDATION (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

AL-HARAMAIN ISLAMIC FOUNDATION (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

AL-HARAMAIN ISLAMIC FOUNDATION (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

AL-HARAMAIN ISLAMIC FOUNDATION (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

ALHARAMAIN ISLAMIC FOUNDATION (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

ALHARAMAIN (a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

ALHARAMAIN (a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

ALHARAMAIN (a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

ALHARAMAIN (a.k.a. AL HARAMAIN FOUNDATION, INC.; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

ALHARAMAYN (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

AL-HARAMAYN (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

AL-HARAMAYN AND AL MASJID AL AQSA CHARITABLE FOUNDATION (a.k.a. AL HARAMAIN AL MASJED AL AQSA; a.k.a. AL HARAMAYN AL MASJID AL AQSA; a.k.a. AL-HARAMAIN & AL MASJED AL-AQSA CHARITY FOUNDATION : BOSNIA BRANCH), Hasiba Brankovica No. 2A, Sarajevo, Bosnia and Herzegovina [SDGT]

ALHARAMAYN FOUNDATION (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

AL-HARAMAYN FOUNDATION (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

AL-HARAMAYN FOUNDATION (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

ALHARAMAYN FOUNDATION (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL- HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

ALHARAMAYN FOUNDATION (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

ALHARAMAYN FOUNDATION (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

AL-HARAMAYN FOUNDATION (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

ALHARAMAYN FOUNDATION (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

AL-HARAMAYN FOUNDATION (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

AL-HARAMAYN FOUNDATION (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

ALHARAMAYN HUMANITARIAN FOUNDATION (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

AL-HARAMAYN HUMANITARIAN FOUNDATION (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

AL-HARAMAYN HUMANITARIAN FOUNDATION (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

AL-HARAMAYN HUMANITARIAN FOUNDATION (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

ALHARAMAYN HUMANITARIAN FOUNDATION (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

ALHARAMAYN HUMANITARIAN FOUNDATION (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

ALHARAMAYN HUMANITARIAN FOUNDATION (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

ALHARAMAYN HUMANITARIAN FOUNDATION (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

AL-HARAMAYN HUMANITARIAN FOUNDATION (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

AL-HARAMAYN HUMANITARIAN FOUNDATION (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

ALHARAMAYN ISLAMIC FOUNDATION (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

AL-HARAMAYN ISLAMIC FOUNDATION (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

ALHARAMAYN ISLAMIC FOUNDATION (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

AL-HARAMAYN ISLAMIC FOUNDATION (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

ALHARAMAYN ISLAMIC FOUNDATION (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

ALHARAMAYN ISLAMIC FOUNDATION (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

ALHARAMAYN ISLAMIC FOUNDATION (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

AL-HARAMAYN ISLAMIC FOUNDATION (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

AL-HARAMAYN ISLAMIC FOUNDATION (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

AL-HARAMAYN ISLAMIC FOUNDATION (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

ALHARAMAYN (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

ALHARAMAYN (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

ALHARAMAYN (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

AL-HARAMAYN (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

ALHARAMAYN (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

AL-HARAMAYN (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

AL-HARAMAYN (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

AL-HARAMAYN (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

ALHARAMEIN (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

AL-HARAMEIN (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

ALHARAMEIN FOUNDATION (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

AL-HARAMEIN FOUNDATION (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

AL-HARAMEIN FOUNDATION (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

ALHARAMEIN FOUNDATION (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

ALHARAMEIN FOUNDATION (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

ALHARAMEIN FOUNDATION (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

AL-HARAMEIN FOUNDATION (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

ALHARAMEIN FOUNDATION (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

AL-HARAMEIN FOUNDATION (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

AL-HARAMEIN FOUNDATION (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

ALHARAMEIN HUMANITARIAN FOUNDATION (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

AL-HARAMEIN HUMANITARIAN FOUNDATION (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

AL-HARAMEIN HUMANITARIAN FOUNDATION (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

AL-HARAMEIN HUMANITARIAN FOUNDATION (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

AL-HARAMEIN HUMANITARIAN FOUNDATION (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

ALHARAMEIN HUMANITARIAN FOUNDATION (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

ALHARAMEIN HUMANITARIAN FOUNDATION (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

ALHARAMEIN HUMANITARIAN FOUNDATION (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

AL-HARAMEIN HUMANITARIAN FOUNDATION (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

ALHARAMEIN HUMANITARIAN FOUNDATION (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

ALHARAMEIN ISLAMIC FOUNDATION (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

AL-HARAMEIN ISLAMIC FOUNDATION (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

ALHARAMEIN ISLAMIC FOUNDATION (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

AL-HARAMEIN ISLAMIC FOUNDATION (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

AL-HARAMEIN ISLAMIC FOUNDATION (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

ALHARAMEIN ISLAMIC FOUNDATION (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

ALHARAMEIN ISLAMIC FOUNDATION (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

AL-HARAMEIN ISLAMIC FOUNDATION (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

ALHARAMEIN ISLAMIC FOUNDATION (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

AL-HARAMEIN ISLAMIC FOUNDATION (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

AL-HARAMEIN (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

AL-HARAMEIN (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

AL-HARAMEIN (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

ALHARAMEIN (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

ALHARAMEIN (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

ALHARAMEIN (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

ALHARAMEIN (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

AL-HARAMEIN (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

AL-HASSAN, Anas (a.k.a. AL-HASSAN, Anas Malik Dohan; a.k.a. DOHAN, Anas; a.k.a. DOHAN, Anas Malik; a.k.a. MALIK, Anas), Baghdad, Iraq (individual) [IRAQ2]

AL-HASSAN, Anas Malik Dohan (a.k.a. AL-HASSAN, Anas; a.k.a. DOHAN, Anas; a.k.a. DOHAN, Anas Malik; a.k.a. MALIK, Anas), Baghdad, Iraq (individual) [IRAQ2]

AL-HASSAN, Anas Malik Dohan (a.k.a. AL-HASSAN, Anas; a.k.a. DOHAN, Anas; a.k.a. DOHAN, Anas Malik; a.k.a. MALIK, Anas), Jordan (individual) [IRAQ2]

AL-HASSAN, Anas (a.k.a. AL-HASSAN, Anas Malik Dohan; a.k.a. DOHAN, Anas; a.k.a. DOHAN, Anas Malik; a.k.a. MALIK, Anas), Jordan (individual) [IRAQ2]

AL-HASSAN, Watab Ibrahim (a.k.a. AL-TAKRITI, Watban; a.k.a. AL-TIKRITI, Watban Ibrahim al-Hasan; a.k.a. AL-TIKRITI, Watban Ibrahim Hassan); DOB 1952; POB Tikrit, Iraq; nationality Iraq; presidential advisor; half-brother of Saddam Hussein al-Tikriti (individual) [IRAQ2]

AL-HAWEN, Abu-Ahmad (a.k.a. AL-AMRIKI, Abu-Ahmad; a.k.a. AL-MAGHRIBI, Rashid; a.k.a. AL-SHAHID, Abu-Ahmad; a.k.a. HIJAZI, Raed M; a.k.a. HIJAZI, Riad), Jordan; DOB 1968; POB California, USA; SSN 548-91-5411 (United States) (individual) [SDGT]

AL-HEMMEH, Thu (a.k.a. AL-SHALISH, Dhu Al-Himma; a.k.a. SHALEESH, Dhu Himma; a.k.a. SHALEESH, Thu Al Hima; a.k.a. SHALISH, Dhu Al Himma; a.k.a. SHALISH, Dhuil Himma; a.k.a. SHALISH, Zuhayr; a.k.a. SHALISH, Zuhilma), Damascus, Syria; DOB circa 1956; POB Al-Ladhiqiyah, Syria; nationality Syria; General; Has a military position-is known also as Major General or Brigadier General. (individual) [IRAQ2]

AL-HIYARI, Bilal Mansur (a.k.a. AL-KHAYARI, Bilal Mansur Mahmud), Suwaylah, Jordan; DOB circa 1969; POB al-Salt, Jordan; nationality Jordan (individual) [SDGT]

AL-HODA FOR RELIGIOUS TOURISM COMPANY (a.k.a. AL-HODA STATE COMPANY FOR RELIGIOUS TOURISM; a.k.a. AL-HUDA FOR RELIGIOUS TOURISM COMPANY; a.k.a. AL-HUDA STATE COMPANY FOR RELIGIOUS TOURISM), Iraq [IRAQ2]

AL-HODA STATE COMPANY FOR RELIGIOUS TOURISM (a.k.a. AL-HODA FOR RELIGIOUS TOURISM COMPANY; a.k.a. AL-HUDA FOR RELIGIOUS TOURISM COMPANY; a.k.a. AL-HUDA STATE COMPANY FOR RELIGIOUS TOURISM), Iraq [IRAQ2]

AL-HOURI, Ali Saed Bin Ali (a.k.a. EL-HOORIE, Ali Saed Bin Ali; a.k.a. EL-HOURI, Ali Saed Bin Ali); DOB 10 Jul 1965; alt. DOB 11 Jul 1965; POB El Dibabiya, Saudi Arabia; citizen Saudi Arabia (individual) [SDGT]

AL-HUDA FOR RELIGIOUS TOURISM COMPANY (a.k.a. AL-HODA FOR RELIGIOUS TOURISM COMPANY; a.k.a. AL-HODA STATE COMPANY FOR RELIGIOUS TOURISM; a.k.a. AL-HUDA STATE COMPANY FOR RELIGIOUS TOURISM), Iraq [IRAQ2]

AL-HUDA STATE COMPANY FOR RELIGIOUS TOURISM (a.k.a. AL-HODA FOR RELIGIOUS TOURISM COMPANY; a.k.a. AL-HODA STATE COMPANY FOR RELIGIOUS TOURISM; a.k.a. AL-HUDA FOR RELIGIOUS TOURISM COMPANY), Iraq [IRAQ2]

AL-HUWAYSH, Isam Rashid, Iraq; Former Governor of the Central Bank (individual) [IRAQ2]

ALI, Abbas Abdi, Mogadishu, Somalia (individual) [SDGT]

ALI, Ahmed Khalfan (a.k.a. AHMAD, Abu Bakr; a.k.a. “AHMED THE TANZANIAN”; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. BAKR, Abu; a.k.a. “FOOPIE”; a.k.a. “FUPI”; a.k.a. GHAILANI, Abubakary Khalfan Ahmed; a.k.a. GHAILANI, Ahmed; a.k.a. GHAILANI, Ahmed Khalfan; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

ALI, Ahmed Mohammed (a.k.a. ABDUREHMAN, Ahmed Mohammed; a.k.a. ABU FATIMA; a.k.a. ABU ISLAM; a.k.a. ABU KHADIIJAH; a.k.a. AHMED HAMED; a.k.a. AHMED THE EGYPTIAN; a.k.a. AHMED, Ahmed; a.k.a. ALI, Ahmed Mohammed Hamed; a.k.a. ALI, Hamed; a.k.a. AL-MASRI, Ahmad; a.k.a. AL-SURIR, Abu Islam; a.k.a. HEMED, Ahmed; a.k.a. SHIEB, Ahmed; a.k.a. SHUAIB), Afghanistan; DOB 1965; POB Egypt; citizen Egypt (individual) [SDGT]

ALI, Ahmed Mohammed Hamed (a.k.a. ABDUREHMAN, Ahmed Mohammed; a.k.a. ABU FATIMA; a.k.a. ABU ISLAM; a.k.a. ABU KHADIIJAH; a.k.a. AHMED HAMED; a.k.a. AHMED THE EGYPTIAN; a.k.a. AHMED, Ahmed; a.k.a. ALI, Ahmed Mohammed; a.k.a. ALI, Hamed; a.k.a. AL-MASRI, Ahmad; a.k.a. AL-SURIR, Abu Islam; a.k.a. HEMED, Ahmed; a.k.a. SHIEB, Ahmed; a.k.a. SHUAIB), Afghanistan; DOB 1965; POB Egypt; citizen Egypt (individual) [SDGT]

ALI, Ali Abdul Mutalib, Germany (individual) [IRAQ2]

ALI, Fadel Abdallah Mohammed (a.k.a. ABDALLA, Fazul; a.k.a. ADBALLAH, Fazul; a.k.a. AISHA, Abu; a.k.a. AL SUDANI, Abu Seif; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fazul Abdullah; a.k.a. MOHAMMED, Fouad; a.k.a. MUHAMAD, Fadil Abdallah); DOB 25 Aug 1972; alt. DOB 25 Dec 1974; alt. DOB 25 Feb 1974; POB Moroni, Comoros Islands; citizen Comoros alt. Kenya (individual) [SDGT]

ALI, Hamed (a.k.a. ABDUREHMAN, Ahmed Mohammed; a.k.a. ABU FATIMA; a.k.a. ABU ISLAM; a.k.a. ABU KHADIIJAH; a.k.a. AHMED HAMED; a.k.a. AHMED THE EGYPTIAN; a.k.a. AHMED, Ahmed; a.k.a. ALI, Ahmed Mohammed; a.k.a. ALI, Ahmed Mohammed Hamed; a.k.a. AL-MASRI, Ahmad; a.k.a. AL-SURIR, Abu Islam; a.k.a. HEMED, Ahmed; a.k.a. SHIEB, Ahmed; a.k.a. SHUAIB), Afghanistan; DOB 1965; POB Egypt; citizen Egypt (individual) [SDGT]

ALI, Hassan (a.k.a. AL MASRI, Abd Al Wakil; a.k.a. AL-NUBI, Abu; a.k.a. ANIS, Abu; a.k.a. ELBISHY, Moustafa Ali; a.k.a. FADHIL, Mustafa Mohamed; a.k.a. FADIL, Mustafa Muhamad; a.k.a. FAZUL, Mustafa; a.k.a. HUSSEIN; a.k.a. JIHAD, Abu; a.k.a. KHALID; a.k.a. MAN, Nu; a.k.a. MOHAMMED, Mustafa; a.k.a. YUSSRR, Abu); DOB 23 Jun 1976; POB Cairo, Egypt; citizen Egypt alt. Kenya; Kenyan ID No. 12773667; Serial No. 201735161 (individual) [SDGT]

ALI, Randy (a.k.a. AL GHOZI, Fathur Rahman; a.k.a. AL GHOZI, Fathur Rohman; a.k.a. ALGHOZI, Fathur Rahman; a.k.a. AL-GHOZI, Fathur Rahman; a.k.a. ALGHOZI, Fathur Rohman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. JAMIL, Sammy Sali; a.k.a. JAMIL, Sammy Salih; a.k.a. RANDY, Alih; a.k.a. “ABU SA'AD”; a.k.a. “ABU SAAD”; a.k.a. “FREEDOM FIGHTER”); DOB 17 Feb 1971; POB Madiun, East Java, Indonesia; nationality Indonesia; Passport GG 672613 (Philippines) (individual) [SDGT]

ALI, Salem (a.k.a. BIN KHALID, Fahd Bin Adballah; a.k.a. HENIN, Ashraf Refaat Nabith; a.k.a. MOHAMMED, Khalid Shaikh; a.k.a. WADOOD, Khalid Adbul); DOB 14 Apr 1965; alt. DOB 1 Mar 1964; POB Kuwait; citizen Kuwait (individual) [SDGT]

ALI, Sheikh Hassan Dahir Aweys (a.k.a. AWES, Shaykh Hassan Dahir; a.k.a. AWEYS, Hassan Dahir); DOB 1935; citizen Somalia (individual) [SDGT]

ALI, Yusaf Ahmed, Hallbybacken 15, Spanga 70, Sweden; DOB 20 Nov 74 (individual) [SDGT]

ALIH, Randy (a.k.a. AL GHOZI, Fathur Rahman; a.k.a. AL GHOZI, Fathur Rohman; a.k.a. ALGHOZI, Fathur Rahman; a.k.a. AL-GHOZI, Fathur Rahman; a.k.a. ALGHOZI, Fathur Rohman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALI, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. JAMIL, Sammy Sali; a.k.a. JAMIL, Sammy Salih; a.k.a. RANDY, Alih; a.k.a. “ABU SA'AD”; a.k.a. “ABU SAAD”; a.k.a. “FREEDOM FIGHTER”); DOB 17 Feb 1971; POB Madiun, East Java, Indonesia; nationality Indonesia; Passport GG 672613 (Philippines) (individual) [SDGT]

ALIH, Randy Adam (a.k.a. AL GHOZI, Fathur Rahman; a.k.a. AL GHOZI, Fathur Rohman; a.k.a. ALGHOZI, Fathur Rahman; a.k.a. AL-GHOZI, Fathur Rahman; a.k.a. ALGHOZI, Fathur Rohman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALI, Randy; a.k.a. ALIH, Randy; a.k.a. AZAD, Rony; a.k.a. BIN AHAD, Rony Azad; a.k.a. BIN AHMAD, Rony Azad; a.k.a. BIN AMAD, Rony Azad; a.k.a. EDRIS, Anwar Rodin; a.k.a. JAMIL, Sammy Sali; a.k.a. JAMIL, Sammy Salih; a.k.a. RANDY, Alih; a.k.a. “ABU SA'AD”; a.k.a. “ABU SAAD”; a.k.a. “FREEDOM FIGHTER”); DOB 17 Feb 1971; POB Madiun, East Java, Indonesia; nationality Indonesia; Passport GG 672613 (Philippines) (individual) [SDGT]

AL-IHSAN CHARITABLE SOCIETY (a.k.a. AL-AHSAN CHARITABLE ORGANIZATION; a.k.a. AL-BAR AND AL-IHSAN SOCIETIES; a.k.a. AL-BAR AND AL-IHSAN SOCIETY; a.k.a. AL-BIR AND AL-IHSAN ORGANIZATION; a.k.a. AL-BIRR WA AL-IHSAN CHARITY ASSOCIATION; a.k.a. AL-BIRR WA AL-IHSAN WA AL-NAQA; a.k.a. BIR WA ELEHSSAN SOCIETY; a.k.a. BIRR AND ELEHSSAN SOCIETY; a.k.a. ELEHSSAN; a.k.a. ELEHSSAN SOCIETY; a.k.a. ELEHSSAN SOCIETY AND BIRR; a.k.a. ELEHSSAN SOCIETY WA BIRR; a.k.a. IHSAN CHARITY; a.k.a. JAMI'A AL-AHSAN AL-KHAYRIYYAH; a.k.a. THE BENEVOLENT CHARITABLE ORGANIZATION), Bethlehem, West Bank, Palestinian; AL-MUZANNAR ST, AL-NASIR AREA, Gaza City, Gaza, Palestinian; Jenin, West Bank, Palestinian; Ramallah, West Bank, Palestinian; Tulkarm, West Bank, Palestinian; Lebanon; P.O. BOX 398, Hebron, West Bank, Palestinian [SDGT]

AL-IRAQI, Abd al-Hadi (a.k.a. ABU ABDALLAH; a.k.a. AL-IRAQI, Abdal al-Hadi) (individual) [SDGT]

AL-IRAQI, Abdal al-Hadi (a.k.a. ABU ABDALLAH; a.k.a. AL-IRAQI, Abd al-Hadi) (individual) [SDGT]

AL-ISLAH (a.k.a. AL-HARAKAT AL-ISLAMIYAH LIL-ISLAH; a.k.a. ISLAMIC MOVEMENT FOR REFORM; a.k.a. MIRA; a.k.a. MOVEMENT FOR ISLAMIC REFORM IN ARABIA; a.k.a. MOVEMENT FOR REFORM IN ARABIA), BM Box: MIRA, London WC1N 3XX, United Kingdom; 21 Blackstone Road, London NW2 6DA, United Kingdom; Safiee Suite, EBC House, Townsend Lane, London NW9 8LL, United Kingdom; UK Company Number 03834450 (United Kingdom) [SDGT]

AL-ISLAMBULI, Muhammad Ahmad Shawqi; DOB 21 Jan 1952; POB Minya, Egypt; nationality Egypt (individual) [SDGT]

ALISPAHIC, Bakir; DOB 1 Oct 1956; POB Ahatovici, Bosnia-Herzegovina (individual) [BALKANS]

AL-ITIHAAD AL-ISLAMIYA (a.k.a. AIAI) [SDGT]

AL-JABBARI, Deiman Alhasenben Ali (a.k.a. IZZAT, Dieman Abdulkadir), Adolf-Braun Street 6, Nuremberg 90429, Germany; Fuerther Street 335, Nuremberg, Germany; Nuremberg Prison, Germany; DOB 4 Jul 1965; POB Kirkuk, Iraq; nationality Iraq; Travel Document Number A0141062 (Germany) (individual) [SDGT]

AL-JABBURI, Sadi Tuma Abbas, Iraq; DOB 1939; Former Adviser to the President for Military Affairs (individual) [IRAQ2]

AL-JADAWI, Saqar; DOB 1965 (individual) [SDGT]

AL-JAMA'AH AL-ISLAMIYAH AL-MUSALLAH (a.k.a. ARMED ISLAMIC GROUP; a.k.a. GIA; a.k.a. GROUPEMENT ISLAMIQUE ARME) [FTO] [SDGT]

AL-JANABI, Nabil Abdullah, Beirut, Lebanon; DOB 14 August 1942; POB Baghdad, Iraq; Passport H101901/1 (Iraq) (individual) [IRAQ2]

AL-JAZIRI, Abu Bakr, Peshawar, Pakistan; nationality Algeria (individual) [SDGT]

AL-JIHAD (a.k.a. EGYPTIAN AL-JIHAD; a.k.a. EGYPTIAN ISLAMIC JIHAD; a.k.a. JIHAD GROUP; a.k.a. NEW JIHAD) [SDT] [FTO] [SDGT]

AL-JIHAD (a.k.a. AL QAEDA; a.k.a. AL QA'IDA; a.k.a. AL QAIDA; a.k.a. EGYPTIAN AL-JIHAD; a.k.a. EGYPTIAN ISLAMIC JIHAD; a.k.a. INTERNATIONAL FRONT FOR FIGHTING JEWS AND CRUSADES; a.k.a. ISLAMIC ARMY; a.k.a. ISLAMIC ARMY FOR THE LIBERATION OF HOLY SITES; a.k.a. ISLAMIC SALVATION FOUNDATION; a.k.a. NEW JIHAD; a.k.a. “THE BASE”; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION) [FTO] [SDGT] [SDT]

AL-JIZRAWI, Taha Yassin Ramadan (a.k.a. RAMADAN, Taha Yasin; a.k.a. RAMADAN, Taha Yassin); DOB circa 1938; nationality Iraq; Former Vice President (individual) [IRAQ2]

AL-KADR, Ahmad Sa'id (a.k.a. AL-KANADI, Abu Abd Al-Rahman); DOB 01 Mar 1948; POB Cairo, Egypt (individual) [SDGT]

ALKALA ASOCIADOS S.A. (f.k.a. INVHERESA S.A.), Calle 1A No. 62A-130, Cali, Colombia; Calle 1A No. 62A-120, Cali, Colombia; Avenida 2N No. 7N-55 of. 501, Cali, Colombia; Calle 70N No. 14-31, Cali, Colombia; NIT # 800108121-0 (Colombia) [SDNT]

AL-KAMEL, Salah 'Ali (a.k.a. 'ABD ALLAH, 'Issam 'Ali Muhammad; a.k.a. 'ABD-AL-'IZ; a.k.a. ABD-AL-WAHAB, Abd-al-Hai Ahmad; a.k.a. ABU YASIR; a.k.a. MUSA, Rifa'i Ahmad Taha; a.k.a. TAHA MUSA, Rifa'i Ahmad; a.k.a. THABIT 'IZ); DOB 24 Jun 54; POB Egypt; Passport 83860 (Sudan); alt. Passport 30455 (Egypt); alt. Passport 1046403 (Egypt) (individual) [SDT]

AL-KANADI, Abu Abd Al-Rahman (a.k.a. AL-KADR, Ahmad Sa'id); DOB 01 Mar 1948; POB Cairo, Egypt (individual) [SDGT]

AL-KHAFAJI, Muhsin Khadr; nationality Iraq; Former Ba'th party regional command chairman, al-Qadisiyah (individual) [IRAQ2]

AL-KHAFAJI, Sabah, 254 Rue Adolphe Pajeaud, 92160 Antony, France (individual) [IRAQ2]

AL-KHALAYLAH, Ahmad Fadil Nazzal (a.k.a. 'ABD AL-KARIM; a.k.a. ABU AL-MU'TAZ; a.k.a. AL-HABIB; a.k.a. AL-MUHAJIR; a.k.a. AL-ZARQAWI, Abu Mus'Ab; a.k.a. GHARIB; a.k.a. KHALAILAH, Ahmed Fadeel; a.k.a. KHALAYLEH, Fedel Nazzel; a.k.a. “MOUHANAD”; a.k.a. “MOUHANNAD”; a.k.a. “MUHANNAD”; a.k.a. “RASHID”); DOB 20 Oct 1966; POB Zarqa, Jordan; citizen Jordan; National ID No. 9661031030 (Jordan); Passport Z264968 (Jordan) (individual) [SDGT]

AL-KHATAB, Abd Al Rahman (a.k.a. ALBASHIR, Mohammed; a.k.a. AL-BASHIR, Muhammad; a.k.a. AL-FAQI, Bashir Mohammed Ibrahim; a.k.a. AL-FAQIH, Abd al-Rahman; a.k.a. ISMAIL, Mohammed; a.k.a. MOHAMMED, Al-Basher; a.k.a. “ABU ABD AL-RAHMAN”; a.k.a. “ABU KHALID”; a.k.a. “ABU MOHAMMED”; a.k.a. “MAHMUD”; a.k.a. “MUSTAFA”), Birmingham, United Kingdom; DOB 15 Dec 1959; POB Libya (individual) [SDGT]

AL-KHAYARI, Bilal Mansur Mahmud (a.k.a. AL-HIYARI, Bilal Mansur), Suwaylah, Jordan; DOB circa 1969; POB al-Salt, Jordan; nationality Jordan (individual) [SDGT]

AL-KHODAIR, Ahmad Hussein (a.k.a. SAMARRAI, Ahmad Husayn Khudayir); DOB 1941; Former Minister of Finance, Iraq (individual) [IRAQ2]

AL-KIMAWI (a.k.a. AL-MAJID, General Ali Hasan; a.k.a. AL-MAJID, General Ali Hassan; a.k.a. AL-TIKRITI, Ali Hassan al-Majid); DOB 1943; alt. DOB 1941; POB al-Awja, near Tikrit, Iraq; nationality Iraq; presidential advisor and senior member of Revolutionary Command Council (individual) [IRAQ2]

AL-KINI, Usama (a.k.a. ALLY, Fahid Mohammed; a.k.a. MSALAM, Fahad Ally; a.k.a. MSALAM, Fahid Mohammed Ali; a.k.a. MSALAM, Fahid Mohammed Ally; a.k.a. MSALAM, Mohammed Ally; a.k.a. MUSALAAM, Fahid Mohammed Ali; a.k.a. SALEM, Fahid Muhamad Ali); DOB 19 Feb 1976; POB Mombasa, Kenya; citizen Kenya (individual) [SDGT]

AL-KUBAISI, Muneer (a.k.a. AL-KUBAYSI, Munir; a.k.a. AL-QUBAYSI, Munir; a.k.a. AWAD, Munir A.; a.k.a. AWAD, Munir Mamduh), Syria; DOB 1966; POB Heet, Iraq; nationality Iraq (individual) [IRAQ2]

AL-KUBAYSI, Munir (a.k.a. AL-KUBAISI, Muneer; a.k.a. AL-QUBAYSI, Munir; a.k.a. AWAD, Munir A.; a.k.a. AWAD, Munir Mamduh), Syria; DOB 1966; POB Heet, Iraq; nationality Iraq (individual) [IRAQ2]

AL-KUBAYSI, Ugla Abid Saqar (a.k.a. SAQR AL-KABISI ABD AQALA); DOB 1944; POB Kubaisi, al-Anbar Governorate, Iraq; nationality Iraq; Former Ba'th party regional command chairman, Maysan (individual) [IRAQ2]

AL-LAJNA AL-KHAYRIYYA LIL MUNASARA AL-AQSA (a.k.a. AL AQSA ASSISTANCE CHARITABLE COUNCIL; a.k.a. BENEVOLENCE COMMITTEE FOR SOLIDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; a.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

ALLAN GRANGE FARM, Chegutu, Zimbabwe [ZIMBABWE]

ALLANE, Hacene (a.k.a. ABDELHAY, al-Sheikh; a.k.a. AHCENE, Cheib; a.k.a. “ABU AL-FOUTOUH”; a.k.a. “BOULAHIA”; a.k.a. “HASSAN THE OLD”); DOB 17 Jan 1941; POB El Menea, Algeria (individual) [SDGT]

ALLAWI, Salam (a.k.a. ALAWI, Abdel-Salam Abdel-Rahman), Iraq; General Manager of INDUSTRIAL BANK OF IRAQ (individual) [IRAQ2]

ALLEN, Cyril; DOB 26 JUL 1952; Former Chairman, National Patriotic Party of Liberia; nationality Liberia; alt. nationality Nigerian (individual) [LIBERIA]

AL-LIBI, Abd al-Muhsin (a.k.a. ABU BAKR, Ibrahim Ali Muhammad) (individual) [SDGT]

AL-LIBI, Anas (a.k.a. AL-LIBY, Anas; a.k.a. AL-RAGHIE, Nazih; a.k.a. AL-RAGHIE, Nazih Abdul Hamed; a.k.a. AL-SABAI, Anas), Afghanistan; DOB 30 Mar 1964; alt. DOB 14 May 1964; POB Tripoli, Libya; citizen Libya (individual) [SDGT]

AL-LIBI, Ibn Al-Shaykh (individual) [SDGT]

AL-LIBY, Anas (a.k.a. AL-LIBI, Anas; a.k.a. AL-RAGHIE, Nazih; a.k.a. AL-RAGHIE, Nazih Abdul Hamed; a.k.a. AL-SABAI, Anas), Afghanistan; DOB 30 Mar 1964; alt. DOB 14 May 1964; POB Tripoli, Libya; citizen Libya (individual) [SDGT]

AL-LOUBIRI, Habib Ben Ahmed (a.k.a. LOUBIRI, Habib Ben Ahmed), via Brughiera, n. 5, Castronno, Varese, Italy; DOB 17 Nov 1961; POB Menzel Temime, Tunisia; nationality Tunisia; Italian Fiscal Code LBRHBB61S17Z352F; Passport M 788439 issued 20 Oct 2001 expires 19 Oct 2006 (individual) [SDGT]

ALLY, Ahmed (a.k.a. AHMED THE TALL; a.k.a. BAHAMAD; a.k.a. BAHAMAD, Sheik; a.k.a. BAHAMADI, Sheikh; a.k.a. SUWEIDAN, Sheikh Ahmad Salem; a.k.a. SWEDAN, Sheikh; a.k.a. SWEDAN, Sheikh Ahmed Salem; a.k.a. SWEDAN, Sheikh Ahmed Salim); DOB 9 Apr 1969; alt. DOB 9 Apr 1960; POB Mombasa, Kenya; citizen Kenya (individual) [SDGT]

ALLY, Fahid Mohammed (a.k.a. AL-KINI, Usama; a.k.a. MSALAM, Fahad Ally; a.k.a. MSALAM, Fahid Mohammed Ali; a.k.a. MSALAM, Fahid Mohammed Ally; a.k.a. MSALAM, Mohammed Ally; a.k.a. MUSALAAM, Fahid Mohammed Ali; a.k.a. SALEM, Fahid Muhamad Ali); DOB 19 Feb 1976; POB Mombasa, Kenya; citizen Kenya (individual) [SDGT]

ALM INVESTMENT FLORIDA, INC., 780 NW 42nd Avenue, Suite 516, Miami, FL 33126; 780 NW Le Jeune Rd, Suite 516, Miami, FL 33126; 9100 South Dadeland Boulevard, Suite 912, Miami, FL 33156; U.S. FEIN 65-0336852 (United States) [SDNT]

ALMACAES S.A., Avenida 15 No. 123-30, Local 1-13, Bogota, Colombia; Carrera 65 No. 71-74, Barranquilla, Colombia; Diagonal 127 No. 17-34 Piso 2, Bogota, Colombia; NIT # 830086515-1 (Colombia) [SDNT]

AL-MAGHRIBI, Rashid (a.k.a. AL-AMRIKI, Abu-Ahmad; a.k.a. AL-HAWEN, Abu-Ahmad; a.k.a. AL-SHAHID, Abu-Ahmad; a.k.a. HIJAZI, Raed M; a.k.a. HIJAZI, Riad), Jordan; DOB 1968; POB California, USA; SSN 548-91-5411 (United States) (individual) [SDGT]

AL-MAJID, General Ali Hasan (a.k.a. AL-KIMAWI; a.k.a. AL-MAJID, General Ali Hassan; a.k.a. AL-TIKRITI, Ali Hassan al-Majid); DOB 1943; alt. DOB 1941; POB al-Awja, near Tikrit, Iraq; nationality Iraq; presidential advisor and senior member of Revolutionary Command Council (individual) [IRAQ2]

AL-MAJID, General Ali Hassan (a.k.a. AL-KIMAWI; a.k.a. AL-MAJID, General Ali Hasan; a.k.a. AL-TIKRITI, Ali Hassan al-Majid); DOB 1943; alt. DOB 1941; POB al-Awja, near Tikrit, Iraq; nationality Iraq; presidential advisor and senior member of Revolutionary Command Council (individual) [IRAQ2]

AL-MAJID, Husayn Kamil Hasan (a.k.a. AL-MAJID, Hussein Kamel Hassan), Baghdad, Iraq; DOB 1955; Former Minister of Industry and Minerals and Advisor to the President (individual) [IRAQ2] L-MAJID, Hussein Kamel Hassan (a.k.a. AL-MAJID, Husayn Kamil Hasan), Baghdad, Iraq; DOB 1955; Former Minister of Industry and Minerals and Advisor to the President (individual) [IRAQ2]

AL-MAJID, Rukan abd al-Gafur (a.k.a. ABU WALID; a.k.a. AL-MAJID, Rukan abdal-Ghaffur Sulayman; a.k.a. AL-MAJID, Rukan Razuqi abd al-Gahfur; a.k.a. AL-TIKRITI, Rukan abd al-Ghaffur al-Majid; a.k.a. AL-TIKRITI, Rukan 'abd al-Ghaffur al-Majid; a.k.a. AL-TIKRITI, Rukan Razuki abd-al-Ghafur Sulaiman); DOB 1956; POB Tikrit, Iraq; nationality Iraq; head of Tribal Affairs Office in presidential office (individual) [IRAQ2]

AL-MAJID, Rukan abdal-Ghaffur Sulayman (a.k.a. ABU WALID; a.k.a. AL-MAJID, Rukan abd al-Gafur; a.k.a. AL-MAJID, Rukan Razuqi abd al-Gahfur; a.k.a. AL-TIKRITI, Rukan abd al-Ghaffur al-Majid; a.k.a. AL-TIKRITI, Rukan 'abd al-Ghaffur al-Majid; a.k.a. AL-TIKRITI, Rukan Razuki abd-al-Ghafur Sulaiman); DOB 1956; POB Tikrit, Iraq; nationality Iraq; head of Tribal Affairs Office in presidential office (individual) [IRAQ2]

AL-MAJID, Rukan Razuqi abd al-Gahfur (a.k.a. ABU WALID; a.k.a. AL-MAJID, Rukan abd al-Gafur; a.k.a. AL-MAJID, Rukan abdal-Ghaffur Sulayman; a.k.a. AL-TIKRITI, Rukan abd al-Ghaffur al-Majid; a.k.a. AL-TIKRITI, Rukan 'abd al-Ghaffur al-Majid; a.k.a. AL-TIKRITI, Rukan Razuki abd-al-Ghafur Sulaiman); DOB 1956; POB Tikrit, Iraq; nationality Iraq; head of Tribal Affairs Office in presidential office (individual) [IRAQ2]

AL-MAKKI, Abu Asim (a.k.a. AL-AHDAL, Mohammad Hamdi Sadiq; a.k.a. AL-HAMATI, Muhammad), Yemen (individual) [SDGT]

AL-MALEKI, Shebib Lazim (a.k.a. AL-MALIKI, Shabib Lazem), Iraq; DOB 1936; Former Minister of Justice (individual) [IRAQ2]

AL-MALIKI, Shabib Lazem (a.k.a. AL-MALEKI, Shebib Lazim), Iraq; DOB 1936; Former Minister of Justice (individual) [IRAQ2]

ALMANZA BARRAZA, Alfonso Rafael, c/o CAJA SOLIDARIA, Bogota, Colombia; c/o COPSERVIR LTDA., Bogota, Colombia; c/o LITOPHARMA, Barranquilla, Colombia; Carrera 35 No. 43-62, Barranquilla, Colombia; Cedula No. 72206138 (Colombia) (individual) [SDNT]

ALMANZA CANON, Nohora Juliana, c/o COSMEPOP, Bogota, Colombia; DOB 6 Dec 1972; Cedula No. 52557912 (Colombia) (individual) [SDNT]

AL-MASHAIKHI, Gharib Muhammad Fazel (a.k.a. GHARIB, Fadil Mahmud); DOB 1944; POB Dujail, Iraq; nationality Iraq; Ba'th party regional command chairman, Babil; chairman, General Federation of Iraqi Trade Unions (individual) [IRAQ2]

AL-MASHHADANI, Saif-al-Din; DOB 1956; POB Baghdad, Iraq; nationality Iraq; Ba'th party regional command chairman, al-Muthanna (individual) [IRAQ2]

AL-MASRI, Abd Al-Aziz (a.k.a. MUSTAFA BAKRI, Ali Sa'd Muhammad); DOB 18 Apr 1966; nationality Egypt (individual) [SDGT]

AL-MASRI, Abu Hafs (a.k.a. ABDULLAH, Sheikh Taysir; a.k.a. ABU HAFS; a.k.a. ABU SITTA, Subhi; a.k.a. ATEF, Muhammad; a.k.a. ATIF, Mohamed; a.k.a. ATIF, Muhammad; a.k.a. EL KHABIR, Abu Hafs el Masry; a.k.a. TAYSIR); DOB 1951; alt. DOB 1956; alt. DOB 1944; POB Alexandria, Egypt (individual) [SDT] [SDGT]

AL-MASRI, Abu Hamza (a.k.a. AL-MISRI, Abu Hamza; a.k.a. EMAN, Adam Ramsey; a.k.a. KAMEL, Mustafa; a.k.a. MUSTAFA, Mustafa Kamel), 9 Albourne Road, Shepherds Bush, London W12 OLW, United Kingdom; 8 Adie Road, Hammersmith, London W6 OPW, United Kingdom; DOB 15 Apr 1958 (individual) [SDGT]

AL-MASRI, Abu Mohamed (a.k.a. ABDULLAH, Abdullah Ahmed; a.k.a. ABU MARIAM; a.k.a. SALEH), Afghanistan; DOB 1963; POB Egypt; citizen Egypt (individual) [SDGT]

AL-MASRI, Ahmad (a.k.a. ABDUREHMAN, Ahmed Mohammed; a.k.a. ABU FATIMA; a.k.a. ABU ISLAM; a.k.a. ABU KHADIIJAH; a.k.a. AHMED HAMED; a.k.a. AHMED THE EGYPTIAN; a.k.a. AHMED, Ahmed; a.k.a. ALI, Ahmed Mohammed; a.k.a. ALI, Ahmed Mohammed Hamed; a.k.a. ALI, Hamed; a.k.a. AL-SURIR, Abu Islam; a.k.a. HEMED, Ahmed; a.k.a. SHIEB, Ahmed; a.k.a. SHUAIB), Afghanistan; DOB 1965; POB Egypt; citizen Egypt (individual) [SDGT]

AL-MISRI, Abu Hamza (a.k.a. AL-MASRI, Abu Hamza; a.k.a. EMAN, Adam Ramsey; a.k.a. KAMEL, Mustafa; a.k.a. MUSTAFA, Mustafa Kamel), 9 Albourne Road, Shepherds Bush, London W12 OLW, United Kingdom; 8 Adie Road, Hammersmith, London W6 OPW, United Kingdom; DOB 15 Apr 1958 (individual) [SDGT]

AL-MOALI, MOHAMMED YUNIS AHMED (a.k.a. AHMAD, MUHAMMAD YUNIS; a.k.a. AHMED, MUHAMMAD YUNIS; a.k.a. AL-AHMED, MUHAMMAD YUNIS; a.k.a. AL-BADRANI, MUHAMMAD YUNIS AHMAD), Wadi al-Hawi, Iraq; Al-Dawar Street, Bludan, Syria; Damascus, Syria; Mosul, Iraq; Dubai, United Arab Emirates; Al-Hasaka, Syria; DOB 1949; POB Al-Mowall, Mosul, Iraq; nationality Iraq (individual) [IRAQ2]

AL-MUGHASSIL, Ahmad Ibrahim (a.k.a. ABU OMRAN; a.k.a. AL-MUGHASSIL, Ahmed Ibrahim); DOB 26 Jun 1967; POB Qatif-Bab al Shamal, Saudi Arabia; citizen Saudi Arabia (individual) [SDGT]

AL-MUGHASSIL, Ahmed Ibrahim (a.k.a. ABU OMRAN; a.k.a. AL-MUGHASSIL, Ahmad Ibrahim); DOB 26 Jun 1967; POB Qatif-Bab al Shamal, Saudi Arabia; citizen Saudi Arabia (individual) [SDGT]

AL-MUHAJIR (a.k.a. 'ABD AL-KARIM; a.k.a. ABU AL-MU'TAZ; a.k.a. AL-HABIB; a.k.a. AL-KHALAYLAH, Ahmad Fadil Nazzal; a.k.a. AL-ZARQAWI, Abu Mus'Ab; a.k.a. GHARIB; a.k.a. KHALAILAH, Ahmed Fadeel; a.k.a. KHALAYLEH, Fedel Nazzel; a.k.a. “MOUHANAD”; a.k.a. “MOUHANNAD”; a.k.a. “MUHANNAD”; a.k.a. “RASHID”); DOB 20 Oct 1966; POB Zarqa, Jordan; citizen Jordan; National ID No. 9661031030 (Jordan); Passport Z264968 (Jordan) (individual) [SDGT]

AL-MUHAJIR, Abdul Rahman (a.k.a. ABDEL RAHMAN; a.k.a. ABDUL RAHMAN; a.k.a. AL-NAMER, Mohammed K.A.; a.k.a. ATWAH, Muhsin Musa Matwalli), Afghanistan; DOB 19 Jun 1964; POB Egypt; citizen Egypt (individual) [SDGT]

AL-MUHAMMAD, Khamis Sirhan (a.k.a. DR. KHAMIS); nationality Iraq; Ba'th party regional command chairman, Karbala (individual) [IRAQ2]

AL-NAJIM, Samir abd al-Aziz; DOB 1937; alt. DOB 1938; POB Baghdad, Iraq; nationality Iraq; Ba'th party regional command chairman, East Baghdad (individual) [IRAQ2]

AL-NAMER, Mohammed K.A. (a.k.a. ABDEL RAHMAN; a.k.a. ABDUL RAHMAN; a.k.a. AL-MUHAJIR, Abdul Rahman; a.k.a. ATWAH, Muhsin Musa Matwalli), Afghanistan; DOB 19 Jun 1964; POB Egypt; citizen Egypt (individual) [SDGT]

AL-NAQIB, Zuhair Talib abd-al-Sattar; DOB circa 1948; nationality Iraq; Director, Military Intelligence (individual) [IRAQ2]

AL-NASIRI, Walid Hamid Tawfiq (a.k.a. AL-TIKRITI, Walid Hamid Tawfiq); DOB circa 1950; POB Tikrit, Iraq; nationality Iraq; Governor of Basrah (individual) [IRAQ2]

AL-NASSER, Abdelkarim Hussein Mohamed; POB Al Ihsa, Saudi Arabia; citizen Saudi Arabia (individual) [SDGT]

AL-NUBI, Abu (a.k.a. AL MASRI, Abd Al Wakil; a.k.a. ALI, Hassan; a.k.a. ANIS, Abu; a.k.a. ELBISHY, Moustafa Ali; a.k.a. FADHIL, Mustafa Mohamed; a.k.a. FADIL, Mustafa Muhamad; a.k.a. FAZUL, Mustafa; a.k.a. HUSSEIN; a.k.a. JIHAD, Abu; a.k.a. KHALID; a.k.a. MAN, Nu; a.k.a. MOHAMMED, Mustafa; a.k.a. YUSSRR, Abu); DOB 23 Jun 1976; POB Cairo, Egypt; citizen Egypt alt. Kenya; Kenyan ID No. 12773667; Serial No. 201735161 (individual) [SDGT]

AL-NUMAN, Aziz Salih; DOB 1941; alt. DOB 1945; POB An Nasiriyah, Iraq; nationality Iraq; Ba'th party regional command chairman (individual) [IRAQ2]

AL-NUR HONEY CENTER (a.k.a. AL-NUR HONEY PRESS SHOPS), Sanaa, Yemen [SDGT]

AL-NUR HONEY PRESS SHOPS (a.k.a. AL-NUR HONEY CENTER), Sanaa, Yemen [SDGT]

ALOARDI, Carlo Giovanni, Milan, Italy (individual) [CUBA]

AL-QADI, Yasin (a.k.a. KADI, Shaykh Yassin Abdullah; a.k.a. KAHDI, Yasin), Jeddah, Saudi Arabia (individual) [SDGT]

AL-QAIDA GROUP OF JIHAD IN IRAQ (a.k.a. AL-QAIDA GROUP OF JIHAD IN THE LAND OF THE TWO RIVERS; a.k.a. AL-QAIDA IN IRAQ; a.k.a. AL-QAIDA IN MESOPOTAMIA; a.k.a. AL-QAIDA IN THE LAND OF THE TWO RIVERS; a.k.a. AL-QAIDA OF JIHAD IN IRAQ; a.k.a. AL-QAIDA OF JIHAD ORGANIZATION IN THE LAND OF THE TWO RIVERS; a.k.a. AL-QAIDA OF THE JIHAD IN THE LAND OF THE TWO RIVERS; a.k.a. AL-TAWHID; a.k.a. AL-ZARQAWI NETWORK; a.k.a. JAM'AT AL TAWHID WA'AL-JIHAD; a.k.a. TANZEEM QA'IDAT AL JIHAD/BILAD AL RAAFIDAINI; a.k.a. TANZIM QA'IDAT AL-JIHAD FI BILAD AL-RAFIDAYN; a.k.a. THE MONOTHEISM AND JIHAD GROUP; a.k.a. THE ORGANIZATION BASE OF JIHAD/COUNTRY OF THE TWO RIVERS; a.k.a. THE ORGANIZATION BASE OF JIHAD/MESOPOTAMIA; a.k.a. THE ORGANIZATION OF AL-JIHAD'S BASE IN IRAQ; a.k.a. THE ORGANIZATION OF AL-JIHAD'S BASE IN THE LAND OF THE TWO RIVERS; a.k.a. THE ORGANIZATION OF AL-JIHAD'S BASE OF OPERATIONS IN IRAQ; a.k.a. THE ORGANIZATION OF AL-JIHAD'S BASE OF OPERATIONS IN THE LAND OF THE TWO RIVERS; a.k.a. THE ORGANIZATION OF JIHAD'S BASE IN THE COUNTRY OF THE TWO RIVERS) [FTO] [SDGT]

AL-QAIDA GROUP OF JIHAD IN THE LAND OF THE TWO RIVERS (a.k.a. AL-QAIDA GROUP OF JIHAD IN IRAQ; a.k.a. AL-QAIDA IN IRAQ; a.k.a. AL-QAIDA IN MESOPOTAMIA; a.k.a. AL-QAIDA IN THE LAND OF THE TWO RIVERS; a.k.a. AL-QAIDA OF JIHAD IN IRAQ; a.k.a. AL-QAIDA OF JIHAD ORGANIZATION IN THE LAND OF THE TWO RIVERS; a.k.a. AL-QAIDA OF THE JIHAD IN THE LAND OF THE TWO RIVERS; a.k.a. AL-TAWHID; a.k.a. AL-ZARQAWI NETWORK; a.k.a. JAM'AT AL TAWHID WA'AL-JIHAD; a.k.a. TANZEEM QA'IDAT AL JIHAD/BILAD AL RAAFIDAINI; a.k.a. TANZIM QA'IDAT AL-JIHAD FI BILAD AL-RAFIDAYN; a.k.a. THE MONOTHEISM AND JIHAD GROUP; a.k.a. THE ORGANIZATION BASE OF JIHAD/COUNTRY OF THE TWO RIVERS; a.k.a. THE ORGANIZATION BASE OF JIHAD/MESOPOTAMIA; a.k.a. THE ORGANIZATION OF AL-JIHAD'S BASE IN IRAQ; a.k.a. THE ORGANIZATION OF AL-JIHAD'S BASE IN THE LAND OF THE TWO RIVERS; a.k.a. THE ORGANIZATION OF AL-JIHAD'S BASE OF OPERATIONS IN IRAQ; a.k.a. THE ORGANIZATION OF AL-JIHAD'S BASE OF OPERATIONS IN THE LAND OF THE TWO RIVERS; a.k.a. THE ORGANIZATION OF JIHAD'S BASE IN THE COUNTRY OF THE TWO RIVERS) [FTO] [SDGT]

AL-QAIDA IN IRAQ (a.k.a. AL-QAIDA GROUP OF JIHAD IN IRAQ; a.k.a. AL-QAIDA GROUP OF JIHAD IN THE LAND OF THE TWO RIVERS; a.k.a. AL-QAIDA IN MESOPOTAMIA; a.k.a. AL-QAIDA IN THE LAND OF THE TWO RIVERS; a.k.a. AL-QAIDA OF JIHAD IN IRAQ; a.k.a. AL-QAIDA OF JIHAD ORGANIZATION IN THE LAND OF THE TWO RIVERS; a.k.a. AL-QAIDA OF THE JIHAD IN THE LAND OF THE TWO RIVERS; a.k.a. AL-TAWHID; a.k.a. AL-ZARQAWI NETWORK; a.k.a. JAM'AT AL TAWHID WA'AL-JIHAD; a.k.a. TANZEEM QA'IDAT AL JIHAD/BILAD AL RAAFIDAINI; a.k.a. TANZIM QA'IDAT AL-JIHAD FI BILAD AL-RAFIDAYN; a.k.a. THE MONOTHEISM AND JIHAD GROUP; a.k.a. THE ORGANIZATION BASE OF JIHAD/COUNTRY OF THE TWO RIVERS; a.k.a. THE ORGANIZATION BASE OF JIHAD/MESOPOTAMIA; a.k.a. THE ORGANIZATION OF AL-JIHAD'S BASE IN IRAQ; a.k.a. THE ORGANIZATION OF AL-JIHAD'S BASE IN THE LAND OF THE TWO RIVERS; a.k.a. THE ORGANIZATION OF AL-JIHAD'S BASE OF OPERATIONS IN IRAQ; a.k.a. THE ORGANIZATION OF AL-JIHAD'S BASE OF OPERATIONS IN THE LAND OF THE TWO RIVERS; a.k.a. THE ORGANIZATION OF JIHAD'S BASE IN THE COUNTRY OF THE TWO RIVERS) [FTO] [SDGT]

AL-QAIDA IN MESOPOTAMIA (a.k.a. AL-QAIDA GROUP OF JIHAD IN IRAQ; a.k.a. AL-QAIDA GROUP OF JIHAD IN THE LAND OF THE TWO RIVERS; a.k.a. AL-QAIDA IN IRAQ; a.k.a. AL-QAIDA IN THE LAND OF THE TWO RIVERS; a.k.a. AL-QAIDA OF JIHAD IN IRAQ; a.k.a. AL-QAIDA OF JIHAD ORGANIZATION IN THE LAND OF THE TWO RIVERS; a.k.a. AL-QAIDA OF THE JIHAD IN THE LAND OF THE TWO RIVERS; a.k.a. AL-TAWHID; a.k.a. AL-ZARQAWI NETWORK; a.k.a. JAM'AT AL TAWHID WA'AL-JIHAD; a.k.a. TANZEEM QA'IDAT AL JIHAD/BILAD AL RAAFIDAINI; a.k.a. TANZIM QA'IDAT AL-JIHAD FI BILAD AL-RAFIDAYN; a.k.a. THE MONOTHEISM AND JIHAD GROUP; a.k.a. THE ORGANIZATION BASE OF JIHAD/COUNTRY OF THE TWO RIVERS; a.k.a. THE ORGANIZATION BASE OF JIHAD/MESOPOTAMIA; a.k.a. THE ORGANIZATION OF AL-JIHAD'S BASE IN IRAQ; a.k.a. THE ORGANIZATION OF AL-JIHAD'S BASE IN THE LAND OF THE TWO RIVERS; a.k.a. THE ORGANIZATION OF AL-JIHAD'S BASE OF OPERATIONS IN IRAQ; a.k.a. THE ORGANIZATION OF AL-JIHAD'S BASE OF OPERATIONS IN THE LAND OF THE TWO RIVERS; a.k.a. THE ORGANIZATION OF JIHAD'S BASE IN THE COUNTRY OF THE TWO RIVERS) [FTO] [SDGT]

AL-QAIDA IN THE LAND OF THE TWO RIVERS (a.k.a. AL-QAIDA GROUP OF JIHAD IN IRAQ; a.k.a. AL-QAIDA GROUP OF JIHAD IN THE LAND OF THE TWO RIVERS; a.k.a. AL-QAIDA IN IRAQ; a.k.a. AL-QAIDA IN MESOPOTAMIA; a.k.a. AL-QAIDA OF JIHAD IN IRAQ; a.k.a. AL-QAIDA OF JIHAD ORGANIZATION IN THE LAND OF THE TWO RIVERS; a.k.a. AL-QAIDA OF THE JIHAD IN THE LAND OF THE TWO RIVERS; a.k.a. AL-TAWHID; a.k.a. AL-ZARQAWI NETWORK; a.k.a. JAM'AT AL TAWHID WA'AL-JIHAD; a.k.a. TANZEEM QA'IDAT AL JIHAD/BILAD AL RAAFIDAINI; a.k.a. TANZIM QA'IDAT AL-JIHAD FI BILAD AL-RAFIDAYN; a.k.a. THE MONOTHEISM AND JIHAD GROUP; a.k.a. THE ORGANIZATION BASE OF JIHAD/COUNTRY OF THE TWO RIVERS; a.k.a. THE ORGANIZATION BASE OF JIHAD/MESOPOTAMIA; a.k.a. THE ORGANIZATION OF AL-JIHAD'S BASE IN IRAQ; a.k.a. THE ORGANIZATION OF AL-JIHAD'S BASE IN THE LAND OF THE TWO RIVERS; a.k.a. THE ORGANIZATION OF AL-JIHAD'S BASE OF OPERATIONS IN IRAQ; a.k.a. THE ORGANIZATION OF AL-JIHAD'S BASE OF OPERATIONS IN THE LAND OF THE TWO RIVERS; a.k.a. THE ORGANIZATION OF JIHAD'S BASE IN THE COUNTRY OF THE TWO RIVERS) [FTO] [SDGT]

AL-QAIDA OF JIHAD IN IRAQ (a.k.a. AL-QAIDA GROUP OF JIHAD IN IRAQ; a.k.a. AL-QAIDA GROUP OF JIHAD IN THE LAND OF THE TWO RIVERS; a.k.a. AL-QAIDA IN IRAQ; a.k.a. AL-QAIDA IN MESOPOTAMIA; a.k.a. AL-QAIDA IN THE LAND OF THE TWO RIVERS; a.k.a. AL-QAIDA OF JIHAD ORGANIZATION IN THE LAND OF THE TWO RIVERS; a.k.a. AL-QAIDA OF THE JIHAD IN THE LAND OF THE TWO RIVERS; a.k.a. AL-TAWHID; a.k.a. AL-ZARQAWI NETWORK; a.k.a. JAM'AT AL TAWHID WA'AL-JIHAD; a.k.a. TANZEEM QA'IDAT AL JIHAD/BILAD AL RAAFIDAINI; a.k.a. TANZIM QA'IDAT AL-JIHAD FI BILAD AL-RAFIDAYN; a.k.a. THE MONOTHEISM AND JIHAD GROUP; a.k.a. THE ORGANIZATION BASE OF JIHAD/COUNTRY OF THE TWO RIVERS; a.k.a. THE ORGANIZATION BASE OF JIHAD/MESOPOTAMIA; a.k.a. THE ORGANIZATION OF AL-JIHAD'S BASE IN IRAQ; a.k.a. THE ORGANIZATION OF AL-JIHAD'S BASE IN THE LAND OF THE TWO RIVERS; a.k.a. THE ORGANIZATION OF AL-JIHAD'S BASE OF OPERATIONS IN IRAQ; a.k.a. THE ORGANIZATION OF AL-JIHAD'S BASE OF OPERATIONS IN THE LAND OF THE TWO RIVERS; a.k.a. THE ORGANIZATION OF JIHAD'S BASE IN THE COUNTRY OF THE TWO RIVERS) [FTO] [SDGT]

AL-QAIDA OF JIHAD ORGANIZATION IN THE LAND OF THE TWO RIVERS (a.k.a. AL-QAIDA GROUP OF JIHAD IN IRAQ; a.k.a. AL-QAIDA GROUP OF JIHAD IN THE LAND OF THE TWO RIVERS; a.k.a. AL-QAIDA IN IRAQ; a.k.a. AL-QAIDA IN MESOPOTAMIA; a.k.a. AL-QAIDA IN THE LAND OF THE TWO RIVERS; a.k.a. AL-QAIDA OF JIHAD IN IRAQ; a.k.a. AL-QAIDA OF THE JIHAD IN THE LAND OF THE TWO RIVERS; a.k.a. AL-TAWHID; a.k.a. AL-ZARQAWI NETWORK; a.k.a. JAM'AT AL TAWHID WA'AL-JIHAD; a.k.a. TANZEEM QA'IDAT AL JIHAD/BILAD AL RAAFIDAINI; a.k.a. TANZIM QA'IDAT AL-JIHAD FI BILAD AL-RAFIDAYN; a.k.a. THE MONOTHEISM AND JIHAD GROUP; a.k.a. THE ORGANIZATION BASE OF JIHAD/COUNTRY OF THE TWO RIVERS; a.k.a. THE ORGANIZATION BASE OF JIHAD/MESOPOTAMIA; a.k.a. THE ORGANIZATION OF AL-JIHAD'S BASE IN IRAQ; a.k.a. THE ORGANIZATION OF AL-JIHAD'S BASE IN THE LAND OF THE TWO RIVERS; a.k.a. THE ORGANIZATION OF AL-JIHAD'S BASE OF OPERATIONS IN IRAQ; a.k.a. THE ORGANIZATION OF AL-JIHAD'S BASE OF OPERATIONS IN THE LAND OF THE TWO RIVERS; a.k.a. THE ORGANIZATION OF JIHAD'S BASE IN THE COUNTRY OF THE TWO RIVERS) [FTO] [SDGT]

AL-QAIDA OF THE JIHAD IN THE LAND OF THE TWO RIVERS (a.k.a. AL-QAIDA GROUP OF JIHAD IN IRAQ; a.k.a. AL-QAIDA GROUP OF JIHAD IN THE LAND OF THE TWO RIVERS; a.k.a. AL-QAIDA IN IRAQ; a.k.a. AL-QAIDA IN MESOPOTAMIA; a.k.a. AL-QAIDA IN THE LAND OF THE TWO RIVERS; a.k.a. AL-QAIDA OF JIHAD IN IRAQ; a.k.a. AL-QAIDA OF JIHAD ORGANIZATION IN THE LAND OF THE TWO RIVERS; a.k.a. AL-TAWHID; a.k.a. AL-ZARQAWI NETWORK; a.k.a. JAM'AT AL TAWHID WA'AL-JIHAD; a.k.a. TANZEEM QA'IDAT AL JIHAD/BILAD AL RAAFIDAINI; a.k.a. TANZIM QA'IDAT AL-JIHAD FI BILAD AL-RAFIDAYN; a.k.a. THE MONOTHEISM AND JIHAD GROUP; a.k.a. THE ORGANIZATION BASE OF JIHAD/COUNTRY OF THE TWO RIVERS; a.k.a. THE ORGANIZATION BASE OF JIHAD/MESOPOTAMIA; a.k.a. THE ORGANIZATION OF AL-JIHAD'S BASE IN IRAQ; a.k.a. THE ORGANIZATION OF AL-JIHAD'S BASE IN THE LAND OF THE TWO RIVERS; a.k.a. THE ORGANIZATION OF AL-JIHAD'S BASE OF OPERATIONS IN IRAQ; a.k.a. THE ORGANIZATION OF AL-JIHAD'S BASE OF OPERATIONS IN THE LAND OF THE TWO RIVERS; a.k.a. THE ORGANIZATION OF JIHAD'S BASE IN THE COUNTRY OF THE TWO RIVERS) [FTO] [SDGT]

AL-QASIR, Nazar Jumah Ali (a.k.a. AL-QASSIR, Nizar Jomaa Ali), Iraq; Former Minister of Irrigation (individual) [IRAQ2]

AL-QASSIR, Nizar Jomaa Ali (a.k.a. AL-QASIR, Nazar Jumah Ali), Iraq; Former Minister of Irrigation (individual) [IRAQ2]

AL-QUBAYSI, Munir (a.k.a. AL-KUBAISI, Muneer; a.k.a. AL-KUBAYSI, Munir; a.k.a. AWAD, Munir A.; a.k.a. AWAD, Munir Mamduh), Syria; DOB 1966; POB Heet, Iraq; nationality Iraq (individual) [IRAQ2]

AL-QUDS BRIGADES (a.k.a. ABU GHUNAYM SQUAD OF THE HIZBALLAH BAYT AL-MAQDIS; a.k.a. AL-AWDAH BRIGADES; a.k.a. AL-QUDS SQUADS; a.k.a. ISLAMIC JIHAD IN PALESTINE; a.k.a. ISLAMIC JIHAD OF PALESTINE; a.k.a. PALESTINE ISLAMIC JIHAD—SHAQAQI FACTION; a.k.a. PALESTINIAN ISLAMIC JIHAD; a.k.a. PIJ; a.k.a. PIJ-SHALLAH FACTION; a.k.a. PIJ-SHAQAQI FACTION; a.k.a. SAYARA AL-QUDS) [SDT] [FTO] [SDGT]

AL-QUDS SQUADS (a.k.a. ABU GHUNAYM SQUAD OF THE HIZBALLAH BAYT AL-MAQDIS; a.k.a. AL-AWDAH BRIGADES; a.k.a. AL-QUDS BRIGADES; a.k.a. ISLAMIC JIHAD IN PALESTINE; a.k.a. ISLAMIC JIHAD OF PALESTINE; a.k.a. PALESTINE ISLAMIC JIHAD—SHAQAQI FACTION; a.k.a. PALESTINIAN ISLAMIC JIHAD; a.k.a. PIJ; a.k.a. PIJ-SHALLAH FACTION; a.k.a. PIJ-SHAQAQI FACTION; a.k.a. SAYARA AL-QUDS) [SDT] [FTO] [SDGT]

AL-RABI'I, Nidal, Iraq; DOB c. 1965; POB Al-Dur, Iraq; nationality Iraq; wife of Izzat Ibrahim Al-Duri (individual) [IRAQ2]

AL-RAGHIE, Nazih (a.k.a. AL-LIBI, Anas; a.k.a. AL-LIBY, Anas; a.k.a. AL-RAGHIE, Nazih Abdul Hamed; a.k.a. AL-SABAI, Anas), Afghanistan; DOB 30 Mar 1964; alt. DOB 14 May 1964; POB Tripoli, Libya; citizen Libya (individual) [SDGT]

AL-RAGHIE, Nazih Abdul Hamed (a.k.a. AL-LIBI, Anas; a.k.a. AL-LIBY, Anas; a.k.a. AL-RAGHIE, Nazih; a.k.a. AL-SABAI, Anas), Afghanistan; DOB 30 Mar 1964; alt. DOB 14 May 1964; POB Tripoli, Libya; citizen Libya (individual) [SDGT]

AL-RAHAMA RELIEF FOUNDATION LIMITED (a.k.a. SANABEL L'IL-IGATHA; a.k.a. SANABEL RELIEF AGENCY; a.k.a. SANABEL RELIEF AGENCY LIMITED; a.k.a. SARA; a.k.a. SRA), 98 Gresham Road, Middlesbrough, United Kingdom; 63 South Road, Sparkbrook, Birmingham B11 1EX, United Kingdom; 1011 Stockport Road, Levenshulme, Manchester M9 2TB, United Kingdom; P.O. Box 50, Manchester M19 2SP, United Kingdom; 54 Anson Road, London NW2 6AD, United Kingdom; Registered Charity No. 1083469 (United Kingdom); Registration ID 3713110 (United Kingdom); http://www.sanabel.org.uk (website); info@sanabel.org.uk (email). [SDGT]

AL-RASHEED TRUST (a.k.a. AL RASHEED TRUST; a.k.a. AL RASHID TRUST; a.k.a. AL-RASHID TRUST), Kitab Ghar, 4 Dar-el-Iftah, Nazimabad, Karachi, Pakistan; Office Dha'rb-i-M'unin, Room no. 3, Third Floor, Moti Plaza, near Liaquat Bagh, Murree Road, Rawalpindi, Pakistan; Jamia Masjid, Sulaiman Park, Begum Pura, Lahore, Pakistan; Office Dha'rb-i-M'unin, Z.R. Brothers, Katchehry Road, Chowk Yadgaar, Peshawar, Pakistan; Office Dha'rb-i-M'unin, Top Floor, Dr. Dawa Khan Dental Clinic Surgeon, Main Baxar, Mingora, Swat, Pakistan; Office Dha'rb-i-M'unin, opposite Khyber Bank, Abbottabad Road, Mansehra, Pakistan; Operations in Afghanistan: Herat, Jalalabad, Kabul, Kandahar, Mazar Sharif. Also operations in: Kosovo, Chechnya [SDGT]

AL-RASHEED TRUST (a.k.a. AL RASHEED TRUST; a.k.a. AL RASHID TRUST; a.k.a. AL-RASHID TRUST; a.k.a. THE AID ORGANIZATION OF THE ULEMA), Kitab Ghar, Darul Ifta Wal Irshad, Nazimabad No. 4, Karachi, Pakistan; Office Dha'rb-i-M'unin, opposite Khyber Bank, Abbottabad Road, Mansehra, Pakistan; Office Dha'rb-i-M'unin, Z.R. Brothers, Katchehry Road, Chowk Yadgaar, Peshawar, Pakistan; Office Dha'rb-i-M'unin, Room no. 3, Third Floor, Moti Plaza, near Liaquat Bagh, Murree Road, Rawalpindi, Pakistan; Office Dha'rb-i-M'unin, Top Floor, Dr. Dawa Khan Dental Clinic Surgeon, Main Baxar, Mingora, Swat, Pakistan; 302b-40, Good Earth Court, Opposite Pia Planitarium, Block 13a, Gulshan -I Iqbal, Karachi, Pakistan; 617 Clifton Center, Block 5, 6th Floor, Clifton, Karachi, Pakistan; 605 Landmark Plaza, 11 Chundrigar Road, Opposite Jang Building, Karachi, Pakistan; Jamia Masjid, Sulaiman Park, Begum Pura, Lahore, Pakistan; Operations in Afghanistan: Herat, Jalalabad, Kabul, Kandahar, Mazar Sharif; Also operations in: Kosovo,Chechnya [SDGT]

AL-RASHID TRUST (a.k.a. AL RASHEED TRUST; a.k.a. AL RASHID TRUST; a.k.a. AL-RASHEED TRUST), Kitab Ghar, 4 Dar-el-Iftah, Nazimabad, Karachi, Pakistan; Office Dha'rb-i-M'unin, Room no. 3, Third Floor, Moti Plaza, near Liaquat Bagh, Murree Road, Rawalpindi, Pakistan; Jamia Masjid, Sulaiman Park, Begum Pura, Lahore, Pakistan; Office Dha'rb-i-M'unin, Z.R. Brothers, Katchehry Road, Chowk Yadgaar, Peshawar, Pakistan; Office Dha'rb-i-M'unin, Top Floor, Dr. Dawa Khan Dental Clinic Surgeon, Main Baxar, Mingora, Swat, Pakistan; Office Dha'rb-i-M'unin, opposite Khyber Bank, Abbottabad Road, Mansehra, Pakistan; Operations in Afghanistan: Herat, Jalalabad, Kabul, Kandahar, Mazar Sharif. Also operations in: Kosovo, Chechnya [SDGT]

AL-RASHID TRUST (a.k.a. AL RASHEED TRUST; a.k.a. AL RASHID TRUST; a.k.a. AL-RASHEED TRUST; a.k.a. THE AID ORGANIZATION OF THE ULEMA), Kitab Ghar, Darul Ifta Wal Irshad, Nazimabad No. 4, Karachi, Pakistan; Office Dha'rb-i-M'unin, opposite Khyber Bank, Abbottabad Road, Mansehra, Pakistan; Office Dha'rb-i-M'unin, Z.R. Brothers, Katchehry Road, Chowk Yadgaar, Peshawar, Pakistan; Office Dha'rb-i-M'unin, Room no. 3, Third Floor, Moti Plaza, near Liaquat Bagh, Murree Road, Rawalpindi, Pakistan; Office Dha'rb-i-M'unin, Top Floor, Dr. Dawa Khan Dental Clinic Surgeon, Main Baxar, Mingora, Swat, Pakistan; 302b-40, Good Earth Court, Opposite Pia Planitarium, Block 13a, Gulshan -I Iqbal, Karachi, Pakistan; 617 Clifton Center, Block 5, 6th Floor, Clifton, Karachi, Pakistan; 605 Landmark Plaza, 11 Chundrigar Road, Opposite Jang Building, Karachi, Pakistan; Jamia Masjid, Sulaiman Park, Begum Pura, Lahore, Pakistan; Operations in Afghanistan: Herat, Jalalabad, Kabul, Kandahar, Mazar Sharif; Also operations in: Kosovo,Chechnya [SDGT]

AL-RAWI, Ayad Futayyih (a.k.a. AL-RAWI, Saif-al-Din Fulayyih Hassan Taha); DOB 1953; POB Ar Ramadi, al-Anbar Governorate, Iraq; nationality Iraq; Republican Guard chief of staff (individual) [IRAQ2]

AL-RAWI, Ayad Futayyih Khalifa; DOB 1942; POB Rawah, Iraq; nationality Iraq; Quds Force Chief of Staff (individual) [IRAQ2]

AL-RAWI, Saif-al-Din Fulayyih Hassan Taha (a.k.a. AL-RAWI, Ayad Futayyih); DOB 1953; POB Ar Ramadi, al-Anbar Governorate, Iraq; nationality Iraq; Republican Guard chief of staff (individual) [IRAQ2]

AL-RIDA, Karim Hasan (a.k.a. RIDA, Karim Hassan), Iraq; DOB 1944; Former Minister of Agriculture (individual) [IRAQ2]

AL-RUBA, Dr. Khadim, Iraq; Managing Director of REAL ESTATE BANK (individual) [IRAQ2]

AL-SABAI, Anas (a.k.a. AL-LIBI, Anas; a.k.a. AL-LIBY, Anas; a.k.a. AL-RAGHIE, Nazih; a.k.a. AL-RAGHIE, Nazih Abdul Hamed), Afghanistan; DOB 30 Mar 1964; alt. DOB 14 May 1964; POB Tripoli, Libya; citizen Libya (individual) [SDGT]

AL-SA'DI, Amir Hamudi Hassan; DOB 5 Apr 1938; POB Baghdad, Iraq; nationality Iraq; Passport NO33301/862 issued 17 October 1997 expires 1 October 2005; alt. Passport M0003264580; alt. Passport H0100009 issued 1 May 2002; presidential scientific advisor (individual) [IRAQ2]

AL-SAD'UN, Abd-al-Baqi abd-al-Karim Abdallah; DOB 1947; nationality Iraq; Ba'th party regional command chairman, Diyala (individual) [IRAQ2]

AL-SA'DUN, Muhammad Zimam abd-al-Razzaq; DOB 1942; POB Suq ash-Shuyukh District, Dhi-Qar, Iraq; nationality Iraq; Ba'th party regional chairman, at-Tamim (individual) [IRAQ2]

AL-SAHAF, Mohammed Said (a.k.a. AL-SAHHAF, Muhammad Said Kazim), Iraq; DOB 1940; Former Minister of Foreign Affairs (individual) [IRAQ2]

AL-SAHHAF, Muhammad Said Kazim (a.k.a. AL-SAHAF, Mohammed Said), Iraq; DOB 1940; Former Minister of Foreign Affairs (individual) [IRAQ2]

AL-SALIH, Muhammad Mahdi (a.k.a. SALEH, Mohammed Mahdi); DOB 1947; alt. DOB 1949; POB al-Anbar Governorate, Iraq; nationality Iraq; Minister of Trade (individual) [IRAQ2]

AL-SANBAL (a.k.a. AL SANABIL; a.k.a. ASANABIL; a.k.a. JAMI'A SANABIL; a.k.a. JAMI'A SANABIL LIL IGATHA WA AL-TANMIYZ; a.k.a. JA'MIA SANBLE LLAGHATHA WA ALTINMIA; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

AL-SANDUQ AL-FILISTINI LIL-IGHATHA (a.k.a. AL-SANDUQ AL-FILISTINI LIL-IGHATHA WA AL-TANMIYA; a.k.a. INTERPAL; a.k.a. PALESTINE AND LEBANON RELIEF FUND; a.k.a. PALESTINE DEVELOPMENT AND RELIEF FUND; a.k.a. PALESTINE RELIEF AND DEVELOPMENT FUND; a.k.a. PALESTINE RELIEF FUND; a.k.a. PALESTINIAN AID AND SUPPORT FUND; a.k.a. PALESTINIAN RELIEF AND DEVELOPMENT FUND; a.k.a. PALESTINIAN RELIEF FUND; a.k.a. PRDF; a.k.a. RELIEF AND DEVELOPMENT FUND FOR PALESTINE; a.k.a. WELFARE AND DEVELOPMENT FUND FOR PALESTINE; a.k.a. WELFARE AND DEVELOPMENT FUND OF PALESTINE), P.O. Box 3333, London NW6 1RW, United Kingdom; Registered Charity No. 1040094 [SDGT]

AL-SANDUQ AL-FILISTINI LIL-IGHATHA WA AL-TANMIYA (a.k.a. AL-SANDUQ AL-FILISTINI LIL-IGHATHA; a.k.a. INTERPAL; a.k.a. PALESTINE AND LEBANON RELIEF FUND; a.k.a. PALESTINE DEVELOPMENT AND RELIEF FUND; a.k.a. PALESTINE RELIEF AND DEVELOPMENT FUND; a.k.a. PALESTINE RELIEF FUND; a.k.a. PALESTINIAN AID AND SUPPORT FUND; a.k.a. PALESTINIAN RELIEF AND DEVELOPMENT FUND; a.k.a. PALESTINIAN RELIEF FUND; a.k.a. PRDF; a.k.a. RELIEF AND DEVELOPMENT FUND FOR PALESTINE; a.k.a. WELFARE AND DEVELOPMENT FUND FOR PALESTINE; a.k.a. WELFARE AND DEVELOPMENT FUND OF PALESTINE), P.O. Box 3333, London NW6 1RW, United Kingdom; Registered Charity No. 1040094 [SDGT]

AL-SHAHID, Abu-Ahmad (a.k.a. AL-AMRIKI, Abu-Ahmad; a.k.a. AL-HAWEN, Abu-Ahmad; a.k.a. AL-MAGHRIBI, Rashid; a.k.a. HIJAZI, Raed M; a.k.a. HIJAZI, Riad), Jordan; DOB 1968; POB California, USA; SSN 548-91-5411 (United States) (individual) [SDGT]

AL-SHALISH, Dhu Al-Himma (a.k.a. AL-HEMMEH, Thu; a.k.a. SHALEESH, Dhu Himma; a.k.a. SHALEESH, Thu Al Hima; a.k.a. SHALISH, Dhu Al Himma; a.k.a. SHALISH, Dhuil Himma; a.k.a. SHALISH, Zuhayr; a.k.a. SHALISH, Zuhilma), Damascus, Syria; DOB circa 1956; POB Al-Ladhiqiyah, Syria; nationality Syria; General; Has a military position-is known also as Major General or Brigadier General. (individual) [IRAQ2]

AL-SHALISH, Dr. Asef (a.k.a. ISSA, Assef; a.k.a. SHALEESH, Asef Isa; a.k.a. SHALEESH, Dr. Assef Essa; a.k.a. SHALISH, Asif), Damascus, Syria; DOB 1 Jan 1959; nationality Syria; Passport 4713277 (Syria) (individual) [IRAQ2]

AL-SHANQITI, Khalid (a.k.a. ABU HAFS THE MAURITANIAN; a.k.a. AL-WALID, Mafouz Walad; a.k.a. AL-WALID, Mahfouz Ould; a.k.a. SLAHI, Mahamedou Ould); DOB 1 JAN 75 (individual) [SDGT]

AL-SHARIF, Sa'd; DOB 1969; POB Saudi Arabia (individual) [SDGT]

AL-SHIFA' HONEY PRESS FOR INDUSTRY AND COMMERCE, P.O. Box 8089, Al-Hasabah, Sanaa, Yemen; By the Shrine Next to the Gas Station, Jamal Street, Ta'iz, Yemen; Al-'Arudh Square, Khur Maksar, Aden, Yemen; Al-Nasr Street, Doha, Qatar [SDGT]

AL-SIBA'I, Hani Muhammad Yusuf (a.k.a. YUSUF, Hani al-Sayid Al-Sibai), United Kingdom; DOB 1 Mar 1961; POB Qaylubiyah, Egypt; nationality Egypt (individual) [SDGT]

AL-SUDANI, Khalid Ahmad Jumah, Amman, Jordan; Passport H649956 (Sudan) issued 8 Apr 2002; IARA Middle East Regional Director (individual) [SDGT]

AL-SURIR, Abu Islam (a.k.a. ABDUREHMAN, Ahmed Mohammed; a.k.a. ABU FATIMA; a.k.a. ABU ISLAM; a.k.a. ABU KHADIIJAH; a.k.a. AHMED HAMED; a.k.a. AHMED THE EGYPTIAN; a.k.a. AHMED, Ahmed; a.k.a. ALI, Ahmed Mohammed; a.k.a. ALI, Ahmed Mohammed Hamed; a.k.a. ALI, Hamed; a.k.a. AL-MASRI, Ahmad; a.k.a. HEMED, Ahmed; a.k.a. SHIEB, Ahmed; a.k.a. SHUAIB), Afghanistan; DOB 1965; POB Egypt; citizen Egypt (individual) [SDGT]

AL-TAI, Sultan Hashim Ahmad; DOB circa 1944; POB Mosul, Iraq; nationality Iraq; Minister of Defense (individual) [IRAQ2]

AL-TAKRITI, Barzan Ibrahim Hassan (a.k.a. AL-TIKRITI, Barzan Ibrahim Hasan; a.k.a. AL-TIKRITI, Barzan Ibrahim Hassan), Geneva, Switzerland; DOB 17 Feb 1951; POB Tikrit, Iraq; nationality Iraq; Passport M0001666/970; alt. Passport NM0000860/114; alt. Passport M0009851/1; presidential advisor; half-brother of Saddam Hussein al-Tikriti (individual) [IRAQ2]

AL-TAKRITI, Sabawi Ibrahim Hassan (a.k.a. AL-TIKRITI, Sab'awi Ibrahim Hassan); DOB 1947; POB Tikrit, Iraq; nationality Iraq; presidential advisor; half-brother of Saddam Hussein al-Tikriti (individual) [IRAQ2]

AL-TAKRITI, Watban (a.k.a. AL-HASSAN, Watab Ibrahim; a.k.a. AL-TIKRITI, Watban Ibrahim al-Hasan; a.k.a. AL-TIKRITI, Watban Ibrahim Hassan); DOB 1952; POB Tikrit, Iraq; nationality Iraq; presidential advisor; half-brother of Saddam Hussein al-Tikriti (individual) [IRAQ2]

AL-TAMIMI, Muhamad Juma Y (a.k.a. AL-TAMIMI, Muhannad Juma Y); DOB 1956; POB Baghdad, Iraq; Passport M0817630 (Iraq); alt. Passport H0284744 (Iraq) (individual) [IRAQ2]

AL-TAMIMI, Muhannad Juma Y (a.k.a. AL-TAMIMI, Muhamad Juma Y); DOB 1956; POB Baghdad, Iraq; Passport M0817630 (Iraq); alt. Passport H0284744 (Iraq) (individual) [IRAQ2]

ALTAMIRANO LOPEZ, Hector, Ave. De los Angeles #5183-4, Fracc. Las Palmas, Tijuana, Baja California, Mexico; c/o KONTROLES ELECTRONICOS DE BAJA CALIFORNIA, S.A. DE C.V., Ave. Azueta 11750, Col. Libertad, Tijuana, Baja California CP 22400, Mexico; DOB 18 Feb 1975; POB Baja California, Mexico; C.U.R.P. AALH750218HBCLPC02 (Mexico) (individual) [SDNTK]

AL-TAWHID (a.k.a. AL-QAIDA GROUP OF JIHAD IN IRAQ; a.k.a. AL-QAIDA GROUP OF JIHAD IN THE LAND OF THE TWO RIVERS; a.k.a. AL-QAIDA IN IRAQ; a.k.a. AL-QAIDA IN MESOPOTAMIA; a.k.a. AL-QAIDA IN THE LAND OF THE TWO RIVERS; a.k.a. AL-QAIDA OF JIHAD IN IRAQ; a.k.a. AL-QAIDA OF JIHAD ORGANIZATION IN THE LAND OF THE TWO RIVERS; a.k.a. AL-QAIDA OF THE JIHAD IN THE LAND OF THE TWO RIVERS; a.k.a. AL-ZARQAWI NETWORK; a.k.a. JAM'AT AL TAWHID WA'AL-JIHAD; a.k.a. TANZEEM QA'IDAT AL JIHAD/BILAD AL RAAFIDAINI; a.k.a. TANZIM QA'IDAT AL-JIHAD FI BILAD AL-RAFIDAYN; a.k.a. THE MONOTHEISM AND JIHAD GROUP; a.k.a. THE ORGANIZATION BASE OF JIHAD/COUNTRY OF THE TWO RIVERS; a.k.a. THE ORGANIZATION BASE OF JIHAD/MESOPOTAMIA; a.k.a. THE ORGANIZATION OF AL-JIHAD'S BASE IN IRAQ; a.k.a. THE ORGANIZATION OF AL-JIHAD'S BASE IN THE LAND OF THE TWO RIVERS; a.k.a. THE ORGANIZATION OF AL-JIHAD'S BASE OF OPERATIONS IN IRAQ; a.k.a. THE ORGANIZATION OF AL-JIHAD'S BASE OF OPERATIONS IN THE LAND OF THE TWO RIVERS; a.k.a. THE ORGANIZATION OF JIHAD'S BASE IN THE COUNTRY OF THE TWO RIVERS) [FTO] [SDGT]

AL-TIKRITI, Abid Hamid Mahmud (a.k.a. HAMMUD, Abed Mahmoud; a.k.a. MAHMOUD, Col. Abdel Hamid; a.k.a. MAHMUD, Abid Hamid bid Hamid); DOB circa 1957; POB al-Awja, near Tikrit, Iraq; nationality Iraq; Saddam Hussein al-Tikriti's presidential secretary and key advisor (individual) [IRAQ2]

AL-TIKRITI, Aiman Sabawi Ibrahim Hasan (a.k.a. AL-TIKRITI, Ayman Sabawi Ibrahim Hasan; a.k.a. AL-TIKRITI, Ayman Sab'awi Ibrahim Hasan; a.k.a. AL-TIKRITI, Ayman Sabawi Ibrahim Hassan; a.k.a. SALMAN, Qais Muhammad), Bludan, Syria; Mutanabi Area, Al Monsur, Baghdad, Iraq; DOB 21 Oct 1971; POB Baghdad, Iraq alt. POB Al-Owja, Iraq; nationality Iraq (individual) [IRAQ2]

AL-TIKRITI, Ali Barzan Ibrahim Hasan, Geneva, Switzerland; DOB 18 Apr 1981; nationality Iraq; son of Barzan Ibrahim Hasan al-Tikriti (individual) [IRAQ2]

AL-TIKRITI, Ali Hassan al-Majid (a.k.a. AL-KIMAWI; a.k.a. AL-MAJID, General Ali Hasan; a.k.a. AL-MAJID, General Ali Hassan); DOB 1943; alt. DOB 1941; POB al-Awja, near Tikrit, Iraq; nationality Iraq; presidential advisor and senior member of Revolutionary Command Council (individual) [IRAQ2]

AL-TIKRITI, Ali Saddam Hussein (a.k.a. HASSAN); DOB 1980; alt. DOB 1983; POB Iraq; nationality Iraq; son of Saddam Hussein al-Tikriti (individual) [IRAQ2]

AL-TIKRITI, Ayman Sabawi Ibrahim Hasan (a.k.a. AL-TIKRITI, Aiman Sabawi Ibrahim Hasan; a.k.a. AL-TIKRITI, Ayman Sab'awi Ibrahim Hasan; a.k.a. AL-TIKRITI, Ayman Sabawi Ibrahim Hassan; a.k.a. SALMAN, Qais Muhammad), Bludan, Syria; Mutanabi Area, Al Monsur, Baghdad, Iraq; DOB 21 Oct 1971; POB Baghdad, Iraq alt. POB Al-Owja, Iraq; nationality Iraq (individual) [IRAQ2]

AL-TIKRITI, Ayman Sab'awi Ibrahim Hasan (a.k.a. AL-TIKRITI, Aiman Sabawi Ibrahim Hasan; a.k.a. AL-TIKRITI, Ayman Sabawi Ibrahim Hasan; a.k.a. AL-TIKRITI, Ayman Sabawi Ibrahim Hassan; a.k.a. SALMAN, Qais Muhammad), Bludan, Syria; Mutanabi Area, Al Monsur, Baghdad, Iraq; DOB 21 Oct 1971; POB Baghdad, Iraq alt. POB Al-Owja, Iraq; nationality Iraq (individual) [IRAQ2]

AL-TIKRITI, Ayman Sabawi Ibrahim Hassan (a.k.a. AL-TIKRITI, Aiman Sabawi Ibrahim Hasan; a.k.a. AL-TIKRITI, Ayman Sabawi Ibrahim Hasan; a.k.a. AL-TIKRITI, Ayman Sab'awi Ibrahim Hasan; a.k.a. SALMAN, Qais Muhammad), Bludan, Syria; Mutanabi Area, Al Monsur, Baghdad, Iraq; DOB 21 Oct 1971; POB Baghdad, Iraq alt. POB Al-Owja, Iraq; nationality Iraq (individual) [IRAQ2]

AL-TIKRITI, Barzan abd al-Ghafur Sulaiman Majid (a.k.a. AL-GHAFUR, Barzan Razuki abd); DOB 1960; POB Salah al-Din, Iraq; nationality Iraq; commander, Special Republican Guard (individual) [IRAQ2]

AL-TIKRITI, Barzan Ibrahim Hasan (a.k.a. AL-TAKRITI, Barzan Ibrahim Hassan; a.k.a. AL-TIKRITI, Barzan Ibrahim Hassan), Geneva, Switzerland; DOB 17 Feb 1951; POB Tikrit, Iraq; nationality Iraq; Passport M0001666/970; alt. Passport NM0000860/114; alt. Passport M0009851/1; presidential advisor; half-brother of Saddam Hussein al-Tikriti (individual) [IRAQ2]

AL-TIKRITI, Barzan Ibrahim Hassan (a.k.a. AL-TAKRITI, Barzan Ibrahim Hassan; a.k.a. AL-TIKRITI, Barzan Ibrahim Hasan), Geneva, Switzerland; DOB 17 Feb 1951; POB Tikrit, Iraq; nationality Iraq; Passport M0001666/970; alt. Passport NM0000860/114; alt. Passport M0009851/1; presidential advisor; half-brother of Saddam Hussein al-Tikriti (individual) [IRAQ2]

AL-TIKRITI, Bashar Sabawi Ibrahim Hasan (a.k.a. 'ABDULLAH, 'Ali Zafir; a.k.a. AL-BAYJAT, Bashar Sabawi Ibrahim Hasan; a.k.a. AL-TIKRITI, Bashar Sab'awi Ibrahim Hasan; a.k.a. AL-TIKRITI, Bashir Sab'awi Ibrahim Al-Hasan; a.k.a. AL-TIKRITI, Bashir Sabawi Ibrahim Al-Hassan), Fuad Dawod Farm, Az Zabadani, Damascus, Syria; Beirut, Lebanon; DOB 17 Jul 1970; POB Baghdad, Iraq; nationality Iraq (individual) [IRAQ2]

AL-TIKRITI, Bashar Sab'awi Ibrahim Hasan (a.k.a. 'ABDULLAH, 'Ali Zafir; a.k.a. AL-BAYJAT, Bashar Sabawi Ibrahim Hasan; a.k.a. AL-TIKRITI, Bashar Sabawi Ibrahim Hasan; a.k.a. AL-TIKRITI, Bashir Sab'awi Ibrahim Al-Hasan; a.k.a. AL-TIKRITI, Bashir Sabawi Ibrahim Al-Hassan), Fuad Dawod Farm, Az Zabadani, Damascus, Syria; Beirut, Lebanon; DOB 17 Jul 1970; POB Baghdad, Iraq; nationality Iraq (individual) [IRAQ2]

AL-TIKRITI, Bashir Sab'awi Ibrahim Al-Hasan (a.k.a. 'ABDULLAH, 'Ali Zafir; a.k.a. AL-BAYJAT, Bashar Sabawi Ibrahim Hasan; a.k.a. AL-TIKRITI, Bashar Sabawi Ibrahim Hasan; a.k.a. AL-TIKRITI, Bashar Sab'awi Ibrahim Hasan; a.k.a. AL-TIKRITI, Bashir Sabawi Ibrahim Al-Hassan), Fuad Dawod Farm, Az Zabadani, Damascus, Syria; Beirut, Lebanon; DOB 17 Jul 1970; POB Baghdad, Iraq; nationality Iraq (individual) [IRAQ2]

AL-TIKRITI, Bashir Sabawi Ibrahim Al-Hassan (a.k.a. 'ABDULLAH, 'Ali Zafir; a.k.a. AL-BAYJAT, Bashar Sabawi Ibrahim Hasan; a.k.a. AL-TIKRITI, Bashar Sabawi Ibrahim Hasan; a.k.a. AL-TIKRITI, Bashar Sab'awi Ibrahim Hasan; a.k.a. AL-TIKRITI, Bashir Sab'awi Ibrahim Al-Hasan), Fuad Dawod Farm, Az Zabadani, Damascus, Syria; Beirut, Lebanon; DOB 17 Jul 1970; POB Baghdad, Iraq; nationality Iraq (individual) [IRAQ2]

AL-TIKRITI, Hala Saddam Hussein; DOB 1972; POB Iraq; nationality Iraq; daughter of Saddam Hussein al-Tikriti (individual) [IRAQ2]

AL-TIKRITI, Hamid Raja Shalah (a.k.a. AL-TIKRITI, Hamid Raja Shalah Hassan; a.k.a. AL-TIKRITI, Hamid Raja-Shalah Hassum); DOB 1950; POB Bayji, Salah al-Din Governorate, Iraq; nationality Iraq; air force commander (individual) [IRAQ2]

AL-TIKRITI, Hamid Raja Shalah Hassan (a.k.a. AL-TIKRITI, Hamid Raja Shalah; a.k.a. AL-TIKRITI, Hamid Raja-Shalah Hassum); DOB 1950; POB Bayji, Salah al-Din Governorate, Iraq; nationality Iraq; air force commander (individual) [IRAQ2]

AL-TIKRITI, Hamid Raja-Shalah Hassum (a.k.a. AL-TIKRITI, Hamid Raja Shalah; a.k.a. AL-TIKRITI, Hamid Raja Shalah Hassan); DOB 1950; POB Bayji, Salah al-Din Governorate, Iraq; nationality Iraq; air force commander (individual) [IRAQ2]

AL-TIKRITI, Hani abd-al-Latif Tilfah; DOB circa 1962; POB al-Awja, near Tikrit, Iraq; nationality Iraq; #2 in Special Security Organization (individual) [IRAQ2]

AL-TIKRITI, Ibrahim Ahmad abd al-Sattar Muhammed; DOB 1943; alt. DOB 1950; alt. DOB 1952; POB Ba'qubah or al-Sumayda/Shirqat, Iraq; nationality Iraq; armed forces chief of staff (individual) [IRAQ2]

AL-TIKRITI, Ibrahim Sabawi Ibrahim Al-Hassan (a.k.a. AL-TIKRITI, Ibrahim Sabawi Ibrahim Hasan; a.k.a. AL-TIKRITI, Ibrahim Sab'awi Ibrahim Hasan; a.k.a. AL-TIKRITI, Ibrahim Sabawi Ibrahim Hassan; a.k.a. SALMAN, Muhammad Da'ud), Iraq; Al-Shahid Street, Al-Mahata Neighborhood, Az Zabadani, Syria; Fuad Dawod Farm, Az Zabadani, Damascus, Syria; DOB 25 Oct 1983; alt. DOB 1977; POB Baghdad, Iraq; nationality Iraq; Passport 284173 (Iraq) expires 21 Aug 2005 (individual) [IRAQ2]

AL-TIKRITI, Ibrahim Sabawi Ibrahim Hasan (a.k.a. AL-TIKRITI, Ibrahim Sabawi Ibrahim Al-Hassan; a.k.a. AL-TIKRITI, Ibrahim Sab'awi Ibrahim Hasan; a.k.a. AL-TIKRITI, Ibrahim Sabawi Ibrahim Hassan; a.k.a. SALMAN, Muhammad Da'ud), Iraq; Al-Shahid Street, Al-Mahata Neighborhood, Az Zabadani, Syria; Fuad Dawod Farm, Az Zabadani, Damascus, Syria; DOB 25 Oct 1983; alt. DOB 1977; POB Baghdad, Iraq; nationality Iraq; Passport 284173 (Iraq) expires 21 Aug 2005 (individual) [IRAQ2]

AL-TIKRITI, Ibrahim Sab'awi Ibrahim Hasan (a.k.a. AL-TIKRITI, Ibrahim Sabawi Ibrahim Al-Hassan; a.k.a. AL-TIKRITI, Ibrahim Sabawi Ibrahim Hasan; a.k.a. AL-TIKRITI, Ibrahim Sabawi Ibrahim Hassan; a.k.a. SALMAN, Muhammad Da'ud), Iraq; Al-Shahid Street, Al-Mahata Neighborhood, Az Zabadani, Syria; Fuad Dawod Farm, Az Zabadani, Damascus, Syria; DOB 25 Oct 1983; alt. DOB 1977; POB Baghdad, Iraq; nationality Iraq; Passport 284173 (Iraq) expires 21 Aug 2005 (individual) [IRAQ2]

AL-TIKRITI, Ibrahim Sabawi Ibrahim Hassan (a.k.a. AL-TIKRITI, Ibrahim Sabawi Ibrahim Al-Hassan; a.k.a. AL-TIKRITI, Ibrahim Sabawi Ibrahim Hasan; a.k.a. AL-TIKRITI, Ibrahim Sab'awi Ibrahim Hasan; a.k.a. SALMAN, Muhammad Da'ud), Iraq; Al-Shahid Street, Al-Mahata Neighborhood, Az Zabadani, Syria; Fuad Dawod Farm, Az Zabadani, Damascus, Syria; DOB 25 Oct 1983; alt. DOB 1977; POB Baghdad, Iraq; nationality Iraq; Passport 284173 (Iraq) expires 21 Aug 2005 (individual) [IRAQ2]

AL-TIKRITI, Jamal Mustafa Abdallah Sultan; DOB 4 May 1955; POB al-Samnah, near Tikrit, Iraq; nationality Iraq; deputy head of tribal affairs in presidential office (individual) [IRAQ2]

AL-TIKRITI, Kamal Mustafa Abdallah Sultan (a.k.a. ABDALLAH, Kamal Mustafa; a.k.a. AL-TIKRITI, Kamal Mustafa Sultan Abdallah); DOB 1952; alt. DOB 4 May 1955; POB Tikrit, Iraq; nationality Iraq; Republican Guard Secretary; led Special Republican Guard and commanded both Republican Guard corps (individual) [IRAQ2]

AL-TIKRITI, Kamal Mustafa Sultan Abdallah (a.k.a. ABDALLAH, Kamal Mustafa; a.k.a. AL-TIKRITI, Kamal Mustafa Abdallah Sultan); DOB 1952; alt. DOB 4 May 1955; POB Tikrit, Iraq; nationality Iraq; Republican Guard Secretary; led Special Republican Guard and commanded both Republican Guard corps (individual) [IRAQ2]

AL-TIKRITI, Khawla Barzan Ibrahim Hasan, Geneva, Switzerland; DOB 3 Dec 1986; nationality Iraq; daughter of Barzan Ibrahim Hasan al-Tikriti (individual) [IRAQ2]

AL-TIKRITI, Mohammad Barzan Ibrahim Hasan, Geneva, Switzerland; DOB 2 Nov 1972; nationality Iraq; son of Barzan Ibrahim Hasan al-Tikriti (individual) [IRAQ2]

AL-TIKRITI, Muzahim Sa'b Hassan; DOB circa 1946; alt. DOB 1949; POB al-Awja, near Tikrit, Iraq; nationality Iraq; led Iraq's Air Defense Forces; Deputy Director, Organization of Military Industrialization (individual) [IRAQ2]

AL-TIKRITI, Noor Barzan Ibrahim Hasan, Geneva, Switzerland; DOB 2 Nov 1983; nationality Iraq; daughter of Barzan Ibrahim Hasan al-Tikriti (individual) [IRAQ2]

AL-TIKRITI, Omar Sabawi Ibrahim Hasan (a.k.a. AL-ALUSI, Umar Ahmad Ali; a.k.a. AL-TIKRITI, Omar Sab'awi Ibrahim Hasan; a.k.a. AL-TIKRITI, Omar Sabawi Ibrahim Hassan; a.k.a. AL-TIKRITI, Umar Sabawi Ibrahim Hasan), Yemen; Damascus, Syria; Al-Shahid Street, Al-Mahata Neighborhood, Az Zabadani, Syria; DOB circa 1970; POB Baghdad, Iraq; nationality Iraq; Passport 2863795S (Iraq) expires 23 Aug 2005 (individual) [IRAQ2]

AL-TIKRITI, Omar Sab'awi Ibrahim Hasan (a.k.a. AL-ALUSI, Umar Ahmad Ali; a.k.a. AL-TIKRITI, Omar Sabawi Ibrahim Hasan; a.k.a. AL-TIKRITI, Omar Sabawi Ibrahim Hassan; a.k.a. AL-TIKRITI, Umar Sabawi Ibrahim Hasan), Yemen; Damascus, Syria; Al-Shahid Street, Al-Mahata Neighborhood, Az Zabadani, Syria; DOB circa 1970; POB Baghdad, Iraq; nationality Iraq; Passport 2863795S (Iraq) expires 23 Aug 2005 (individual) [IRAQ2]

AL-TIKRITI, Omar Sabawi Ibrahim Hassan (a.k.a. AL-ALUSI, Umar Ahmad Ali; a.k.a. AL-TIKRITI, Omar Sabawi Ibrahim Hasan; a.k.a. AL-TIKRITI, Omar Sab'awi Ibrahim Hasan; a.k.a. AL-TIKRITI, Umar Sabawi Ibrahim Hasan), Yemen; Damascus, Syria; Al-Shahid Street, Al-Mahata Neighborhood, Az Zabadani, Syria; DOB circa 1970; POB Baghdad, Iraq; nationality Iraq; Passport 2863795S (Iraq) expires 23 Aug 2005 (individual) [IRAQ2]

AL-TIKRITI, Qusay Saddam Hussein; DOB 1965; alt. DOB 1966; POB Baghdad, Iraq; nationality Iraq; Saddam Hussein al-Tikriti's second son; oversaw Special Republican Guard, Special Security Organization, and Republican Guard (individual) [IRAQ2]

AL-TIKRITI, Rafi abd-al-Latif Tilfah; DOB circa 1954; POB Tikrit, Iraq; nationality Iraq; Director, Directorate of General Security (individual) [IRAQ2]

AL-TIKRITI, Raghad Saddam Hussein, Amman, Jordan; DOB 1967; POB Iraq; nationality Iraq; daughter of Saddam Hussein al-Tikriti (individual) [IRAQ2]

AL-TIKRITI, Rana Saddam Hussein, Amman, Jordan; DOB 1969; POB Iraq; nationality Iraq; daughter of Saddam Hussein al-Tikriti (individual) [IRAQ2]

AL-TIKRITI, Rukan abd al-Ghaffur al-Majid (a.k.a. ABU WALID; a.k.a. AL-MAJID, Rukan abd al-Gafur; a.k.a. AL-MAJID, Rukan abdal-Ghaffur Sulayman; a.k.a. AL-MAJID, Rukan Razuqi abd al-Gahfur; a.k.a. AL-TIKRITI, Rukan 'abd al-Ghaffur al-Majid; a.k.a. AL-TIKRITI, Rukan Razuki abd-al-Ghafur Sulaiman); DOB 1956; POB Tikrit, Iraq; nationality Iraq; head of Tribal Affairs Office in presidential office (individual) [IRAQ2]

AL-TIKRITI, Rukan 'abd al-Ghaffur al-Majid (a.k.a. ABU WALID; a.k.a. AL-MAJID, Rukan abd al-Gafur; a.k.a. AL-MAJID, Rukan abdal-Ghaffur Sulayman; a.k.a. AL-MAJID, Rukan Razuqi abd al-Gahfur; a.k.a. AL-TIKRITI, Rukan abd al-Ghaffur al-Majid; a.k.a. AL-TIKRITI, Rukan Razuki abd-al-Ghafur Sulaiman); DOB 1956; POB Tikrit, Iraq; nationality Iraq; head of Tribal Affairs Office in presidential office (individual) [IRAQ2]

AL-TIKRITI, Rukan Razuki abd-al-Ghafur Sulaiman (a.k.a. ABU WALID; a.k.a. AL-MAJID, Rukan abd al-Gafur; a.k.a. AL-MAJID, Rukan abdal-Ghaffur Sulayman; a.k.a. AL-MAJID, Rukan Razuqi abd al-Gahfur; a.k.a. AL-TIKRITI, Rukan abd al-Ghaffur al-Majid; a.k.a. AL-TIKRITI, Rukan 'abd al-Ghaffur al-Majid); DOB 1956; POB Tikrit, Iraq; nationality Iraq; head of Tribal Affairs Office in presidential office (individual) [IRAQ2]

AL-TIKRITI, Sa'ad Sabawi Ibrahim Hasan (a.k.a. AL-TIKRITI, Sa'd Sab'awi Hasan; a.k.a. AL-TIKRITI, Sa'd Sabawi Ibrahim Hasan), Al-Shahid Street, Al-Mahata Neighborhood, Az Zabadani, Syria; Yemen; DOB 19 Sep 1988; nationality Iraq (individual) [IRAQ2]

AL-TIKRITI, Sab'awi Ibrahim Hassan (a.k.a. AL-TAKRITI, Sabawi Ibrahim Hassan); DOB 1947; POB Tikrit, Iraq; nationality Iraq; presidential advisor; half-brother of Saddam Hussein al-Tikriti (individual) [IRAQ2]

AL-TIKRITI, Sa'd abd-al-Majid al-Faysal; DOB 1944; POB Tikrit, Iraq; nationality Iraq; Ba'th party regional command chairman, Salah al-Din (individual) [IRAQ2]

AL-TIKRITI, Sa'd Sab'awi Hasan (a.k.a. AL-TIKRITI, Sa'ad Sabawi Ibrahim Hasan; a.k.a. AL-TIKRITI, Sa'd Sabawi Ibrahim Hasan), Al-Shahid Street, Al-Mahata Neighborhood, Az Zabadani, Syria; Yemen; DOB 19 Sep 1988; nationality Iraq (individual) [IRAQ2]

AL-TIKRITI, Sa'd Sabawi Ibrahim Hasan (a.k.a. AL-TIKRITI, Sa'ad Sabawi Ibrahim Hasan; a.k.a. AL-TIKRITI, Sa'd Sab'awi Hasan), Al-Shahid Street, Al-Mahata Neighborhood, Az Zabadani, Syria; Yemen; DOB 19 Sep 1988; nationality Iraq (individual) [IRAQ2]

AL-TIKRITI, Saddam Hussein (a.k.a. ABU ALI; a.k.a. HUSAYN, Saddam; a.k.a. HUSSAIN, Saddam; a.k.a. HUSSEIN, Saddam); DOB 28 Apr 1937; POB al-Awja, near Tikrit, Iraq; nationality Iraq; named in UNSCR 1483; President since 1979 (individual) [IRAQ2]

AL-TIKRITI, Saja Barzan Ibrahim Hasan, Geneva, Switzerland; DOB 1 Jan 1978; nationality Iraq; daughter of Barzan Ibrahim Hasan al-Tikriti (individual) [IRAQ2]

AL-TIKRITI, Tahir Jalil Habbush; DOB 1950; POB Tikrit, Iraq; nationality Iraq; director of Iraqi Intelligence Service (individual) [IRAQ2]

AL-TIKRITI, Thoraya Barzan Ibrahim Hasan, Iraq; DOB 19 Dec 1980; alt. DOB 19 Jan 1980; nationality Iraq; daughter of Barzan Ibrahim Hasan al-Tikriti (individual) [IRAQ2]

AL-TIKRITI, Uday Saddam Hussein (a.k.a. HUSSEIN, Udai Saddam); DOB 1964; alt. DOB 1967; POB Baghdad, Iraq; nationality Iraq; Saddam Hussein al-Tikriti's eldest son; leader of paramilitary organization Fedayeen Saddam (individual) [IRAQ2]

AL-TIKRITI, Umar Sabawi Ibrahim Hasan (a.k.a. AL-ALUSI, Umar Ahmad Ali; a.k.a. AL-TIKRITI, Omar Sabawi Ibrahim Hasan; a.k.a. AL-TIKRITI, Omar Sab'awi Ibrahim Hasan; a.k.a. AL-TIKRITI, Omar Sabawi Ibrahim Hassan), Yemen; Damascus, Syria; Al-Shahid Street, Al-Mahata Neighborhood, Az Zabadani, Syria; DOB circa 1970; POB Baghdad, Iraq; nationality Iraq; Passport 2863795S (Iraq) expires 23 Aug 2005 (individual) [IRAQ2]

AL-TIKRITI, Walid Hamid Tawfiq (a.k.a. AL-NASIRI, Walid Hamid Tawfiq); DOB circa 1950; POB Tikrit, Iraq; nationality Iraq; Governor of Basrah (individual) [IRAQ2]

AL-TIKRITI, Watban Ibrahim al-Hasan (a.k.a. AL-HASSAN, Watab Ibrahim; a.k.a. AL-TAKRITI, Watban; a.k.a. AL-TIKRITI, Watban Ibrahim Hassan); DOB 1952; POB Tikrit, Iraq; nationality Iraq; presidential advisor; half-brother of Saddam Hussein al-Tikriti (individual) [IRAQ2]

AL-TIKRITI, Watban Ibrahim Hassan (a.k.a. AL-HASSAN, Watab Ibrahim; a.k.a. AL-TAKRITI, Watban; a.k.a. AL-TIKRITI, Watban Ibrahim al-Hasan); DOB 1952; POB Tikrit, Iraq; nationality Iraq; presidential advisor; half-brother of Saddam Hussein al-Tikriti (individual) [IRAQ2]

AL-TIKRITI, Yasir Sabawi Ibrahim Hasan (a.k.a. ABDALLAH, Ali Thafir; a.k.a. AL-TIKRITI, Yasir Sab'awi Ibrahim Hasan; a.k.a. AL-TIKRITI, Yasir Sabawi Ibrahim Hassan; a.k.a. AL-TIKRITI, Yasser Sabawi Ibrahim Hasan; a.k.a. AL-TIKRITI, Yassir Sabawi Ibrahim Hasan), Mosul, Iraq; Az Zabadani, Syria; DOB 15 May 1968; alt. DOB 1970; POB Al-Owja, Iraq; alt. POB Baghdad, Iraq; nationality Iraq; Passport 284158 (Iraq) expires 21 Aug 2005 (individual) [IRAQ2]

AL-TIKRITI, Yasir Sab'awi Ibrahim Hasan (a.k.a. ABDALLAH, Ali Thafir; a.k.a. AL-TIKRITI, Yasir Sabawi Ibrahim Hasan; a.k.a. AL-TIKRITI, Yasir Sabawi Ibrahim Hassan; a.k.a. AL-TIKRITI, Yasser Sabawi Ibrahim Hasan; a.k.a. AL-TIKRITI, Yassir Sabawi Ibrahim Hasan), Mosul, Iraq; Az Zabadani, Syria; DOB 15 May 1968; alt. DOB 1970; POB Al-Owja, Iraq; alt. POB Baghdad, Iraq; nationality Iraq; Passport 284158 (Iraq) expires 21 Aug 2005 (individual) [IRAQ2]

AL-TIKRITI, Yasir Sabawi Ibrahim Hassan (a.k.a. ABDALLAH, Ali Thafir; a.k.a. AL-TIKRITI, Yasir Sabawi Ibrahim Hasan; a.k.a. AL-TIKRITI, Yasir Sab'awi Ibrahim Hasan; a.k.a. AL-TIKRITI, Yasser Sabawi Ibrahim Hasan; a.k.a. AL-TIKRITI, Yassir Sabawi Ibrahim Hasan), Mosul, Iraq; Az Zabadani, Syria; DOB 15 May 1968; alt. DOB 1970; POB Al-Owja, Iraq; alt. POB Baghdad, Iraq; nationality Iraq; Passport 284158 (Iraq) expires 21 Aug 2005 (individual) [IRAQ2]

AL-TIKRITI, Yasser Sabawi Ibrahim Hasan (a.k.a. ABDALLAH, Ali Thafir; a.k.a. AL-TIKRITI, Yasir Sabawi Ibrahim Hasan; a.k.a. AL-TIKRITI, Yasir Sab'awi Ibrahim Hasan; a.k.a. AL-TIKRITI, Yasir Sabawi Ibrahim Hassan; a.k.a. AL-TIKRITI, Yassir Sabawi Ibrahim Hasan), Mosul, Iraq; Az Zabadani, Syria; DOB 15 May 1968; alt. DOB 1970; POB Al-Owja, Iraq; alt. POB Baghdad, Iraq; nationality Iraq; Passport 284158 (Iraq) expires 21 Aug 2005 (individual) [IRAQ2]

AL-TIKRITI, Yassir Sabawi Ibrahim Hasan (a.k.a. ABDALLAH, Ali Thafir; a.k.a. AL-TIKRITI, Yasir Sabawi Ibrahim Hasan; a.k.a. AL-TIKRITI, Yasir Sab'awi Ibrahim Hasan; a.k.a. AL-TIKRITI, Yasir Sabawi Ibrahim Hassan; a.k.a. AL-TIKRITI, Yasser Sabawi Ibrahim Hasan), Mosul, Iraq; Az Zabadani, Syria; DOB 15 May 1968; alt. DOB 1970; POB Al-Owja, Iraq; alt. POB Baghdad, Iraq; nationality Iraq; Passport 284158 (Iraq) expires 21 Aug 2005 (individual) [IRAQ2]

AL-TRABELSI, Mourad Ben Ali Ben Al-Basheer (a.k.a. ABOU DJARRAH; a.k.a. TRABELSI, Mourad), Via Geromini 15, Cremona, Italy; DOB 20 May 1969; POB Menzel Temime, Tunisia; nationality Tunisia; Passport G 827238 issued 1 Jun 1996 expires 31 May 2001; arrested 1 Apr 2003 (individual) [SDGT]

AL-TURKI, Hassan (a.k.a. AL-TURKI, Hassan Abdullah Hersi); DOB circa 1944; POB Ogaden Region, Ethiopia (individual) [SDGT]

AL-TURKI, Hassan Abdullah Hersi (a.k.a. AL-TURKI, Hassan); DOB circa 1944; POB Ogaden Region, Ethiopia (individual) [SDGT]

AL-UBAIDI, Amir Rashid Muhammad; DOB 1939; POB Baghdad, Iraq; nationality Iraq; Minister of Oil (individual) [IRAQ2]

AL-UBAIDI, Ghazi Hammud; DOB 1944; POB Baghdad, Iraq; nationality Iraq; Ba'th party regional command chairman, Wasit (individual) [IRAQ2]

AL-UBAIDI, Yahia Abdallah; nationality Iraq; Ba'th party regional command chairman, al-Basrah (individual) [IRAQ2]

AL-UBAYDI, Intissar, Iraq; DOB 1974; nationality Iraq; wife of Izzat Ibrahim Al-Duri (individual) [IRAQ2]

AL-'UBAYDI, Tarik (a.k.a. AL OBAIDI, Tarik Nasser S.; a.k.a. AL-'UBAYDI, Tariq), Baghdad, Iraq; DOB 1945; POB Baghdad, Iraq; nationality Iraq; Passport 212331 (Iraq) (individual) [IRAQ2]

AL-'UBAYDI, Tariq (a.k.a. AL OBAIDI, Tarik Nasser S.; a.k.a. AL-'UBAYDI, Tarik), Baghdad, Iraq; DOB 1945; POB Baghdad, Iraq; nationality Iraq; Passport 212331 (Iraq) (individual) [IRAQ2]

ALVARADO BONILLA, Alejandro, c/o DROGAS LA REBAJA BOGOTA S.A., Bogota, Colombia; DOB 29 May 1974; Cedula No. 79641039 (Colombia) (individual) [SDNT]

ALVAREZ AGUIRRE, Manuel, Panama (individual) [CUBA]

ALVAREZ DE LA TORRE, Mario Andres, c/o AMERICANA DE COSMETICOS S.A., Bogota, Colombia; c/o COSMEPOP, Bogota, Colombia; DOB 6 Mar 1972; Cedula No. 232594 (Colombia) (individual) [SDNT]

ALVAREZ GAVIRIA, Jaime Antonio, c/o EXPORT CAFE LTDA., Cali, Colombia; DOB 17 Aug 1947; Cedula No. 10060853 (Colombia) (individual) [SDNT]

ALVAREZ HERNANDEZ, Maria Teresa, c/o CONSULTORIA DE OCCIDENTE, S.A. DE C.V., Guadalajara, Jalisco, Mexico; c/o GS PLUS CONSULTORES, S.A. DE C.V., Tijuana, Baja California, Mexico; DOB 25 Jul 1960; POB Guadalajara, Jalisco, Mexico; R.F.C. AAHT-600725-4L7 (Mexico) (individual) [SDNTK]

ALVAREZ TOSTADO, Jose (a.k.a. CASTELLANOS ALVAREZ TOSTADO, Juan Jose; a.k.a. GONZALEZ, Jose); DOB 27 Aug 55; POB Mexico (individual) [SDNTK]

AL-WAHAB, Abd Al-Hadi (a.k.a. ABU ZUBAIDA; a.k.a. ABU ZUBAYDAH; a.k.a. HUSAIN, Zain Al-Abidin Muhahhad; a.k.a. HUSAYN, Zayn al-Abidin Muhammad; a.k.a. TARIQ); DOB 12 MAR 71; POB Riyadh, Saudi Arabia (individual) [SDGT]

AL-WAKALA AL-ISLAMIYA AL-AFRIKIA L'IL-IGHATHA (a.k.a. AL-WAKALA AL-ISLAMIYA L'IL-IGHATHA; a.k.a. IARA; a.k.a. ISLAMIC AFRICAN RELIEF AGENCY; a.k.a. ISLAMIC AMERICAN RELIEF AGENCY; a.k.a. ISLAMIC RELIEF AGENCY; a.k.a. ISRA), 201 E. Cherry Street, Suite D, Columbia, MO 65205; all offices worldwide [SDGT]

AL-WAKALA AL-ISLAMIYA L'IL-IGHATHA (a.k.a. AL-WAKALA AL-ISLAMIYA AL-AFRIKIA L'IL-IGHATHA; a.k.a. IARA; a.k.a. ISLAMIC AFRICAN RELIEF AGENCY; a.k.a. ISLAMIC AMERICAN RELIEF AGENCY; a.k.a. ISLAMIC RELIEF AGENCY; a.k.a. ISRA), 201 E. Cherry Street, Suite D, Columbia, MO 65205; all offices worldwide [SDGT]

AL-WALID, Mafouz Walad (a.k.a. ABU HAFS THE MAURITANIAN; a.k.a. AL-SHANQITI, Khalid; a.k.a. AL-WALID, Mahfouz Ould; a.k.a. SLAHI, Mahamedou Ould); DOB 1 JAN 75 (individual) [SDGT]

AL-WALID, Mahfouz Ould (a.k.a. ABU HAFS THE MAURITANIAN; a.k.a. AL-SHANQITI, Khalid; a.k.a. AL-WALID, Mafouz Walad; a.k.a. SLAHI, Mahamedou Ould); DOB 1 JAN 75 (individual) [SDGT]

ALWAN, Alla Idin Hussain (a.k.a. ALWAN, Allaidin Hussain), Baghdad, Iraq (individual) [IRAQ2]

ALWAN, Allaidin Hussain (a.k.a. ALWAN, Alla Idin Hussain), Baghdad, Iraq (individual) [IRAQ2]

AL-WAZ, Najib Ben Mohamed Ben Salem (a.k.a. OUAZ, Najib), Vicolo dei Prati n.2/2, Bologna, Italy; DOB 12 Apr 1960; POB Hekaima Al-Mehdiya, Tunisia; nationality Tunisia; Passport K 815205 issued 17 Sep 1994 expires 16 Sep 1999 (individual) [SDGT]

AL-YACOUB, Ibrahim Salih Mohammed; DOB 16 Oct 1966; POB Tarut, Saudi Arabia; citizen Saudi Arabia (individual) [SDGT]

AL-YASSIN, Husam Muhammad Amin; DOB 1953; alt. DOB 1958; POB Tikrit, Iraq; nationality Iraq; head, National Monitoring Directorate (individual) [IRAQ2]

AL-ZARQAWI NETWORK (a.k.a. AL-QAIDA GROUP OF JIHAD IN IRAQ; a.k.a. AL-QAIDA GROUP OF JIHAD IN THE LAND OF THE TWO RIVERS; a.k.a. AL-QAIDA IN IRAQ; a.k.a. AL-QAIDA IN MESOPOTAMIA; a.k.a. AL-QAIDA IN THE LAND OF THE TWO RIVERS; a.k.a. AL-QAIDA OF JIHAD IN IRAQ; a.k.a. AL-QAIDA OF JIHAD ORGANIZATION IN THE LAND OF THE TWO RIVERS; a.k.a. AL-QAIDA OF THE JIHAD IN THE LAND OF THE TWO RIVERS; a.k.a. AL-TAWHID; a.k.a. JAM'AT AL TAWHID WA'AL-JIHAD; a.k.a. TANZEEM QA'IDAT AL JIHAD/BILAD AL RAAFIDAINI; a.k.a. TANZIM QA'IDAT AL-JIHAD FI BILAD AL-RAFIDAYN; a.k.a. THE MONOTHEISM AND JIHAD GROUP; a.k.a. THE ORGANIZATION BASE OF JIHAD/COUNTRY OF THE TWO RIVERS; a.k.a. THE ORGANIZATION BASE OF JIHAD/MESOPOTAMIA; a.k.a. THE ORGANIZATION OF AL-JIHAD'S BASE IN IRAQ; a.k.a. THE ORGANIZATION OF AL-JIHAD'S BASE IN THE LAND OF THE TWO RIVERS; a.k.a. THE ORGANIZATION OF AL-JIHAD'S BASE OF OPERATIONS IN IRAQ; a.k.a. THE ORGANIZATION OF AL-JIHAD'S BASE OF OPERATIONS IN THE LAND OF THE TWO RIVERS; a.k.a. THE ORGANIZATION OF JIHAD'S BASE IN THE COUNTRY OF THE TWO RIVERS) [FTO] [SDGT]

AL-ZARQAWI, Abu Mus'Ab (a.k.a. 'ABD AL-KARIM; a.k.a. ABU AL-MU'TAZ; a.k.a. AL-HABIB; a.k.a. AL-KHALAYLAH, Ahmad Fadil Nazzal; a.k.a. AL-MUHAJIR; a.k.a. GHARIB; a.k.a. KHALAILAH, Ahmed Fadeel; a.k.a. KHALAYLEH, Fedel Nazzel; a.k.a. “MOUHANAD”; a.k.a. “MOUHANNAD”; a.k.a. “MUHANNAD”; a.k.a. “RASHID”); DOB 20 Oct 1966; POB Zarqa, Jordan; citizen Jordan; National ID No. 9661031030 (Jordan); Passport Z264968 (Jordan) (individual) [SDGT]

ALZATE SALAZAR, Luis Alfredo, c/o COINTERCOS S.A., Bogota, Colombia; c/o DEPOSITO POPULAR DE DROGAS S.A., Bogota, Colombia; c/o DROGAS LA REBAJA BOGOTA S.A., Bogota, Colombia; c/o LABORATORIOS KRESSFOR DE COLOMBIA S.A., Bogota, Colombia; DOB 27 Nov 1957; Cedula No. 16595689 (Colombia) (individual) [SDNT]

AL-ZAWAHIRI, Aiman Muhammad Rabi (a.k.a. AL ZAWAHIRI, Dr. Ayman; a.k.a. AL-ZAWAHIRI, Ayman; a.k.a. SALIM, Ahmad Fuad); DOB 19 Jun 1951; POB Giza, Egypt; Passport 1084010 (Egypt); alt. Passport 19820215; Operational and Military Leader of JIHAD GROUP (individual) [SDT] [SDGT]

AL-ZAWAHIRI, Ayman (a.k.a. AL ZAWAHIRI, Dr. Ayman; a.k.a. AL-ZAWAHIRI, Aiman Muhammad Rabi; a.k.a. SALIM, Ahmad Fuad); DOB 19 Jun 1951; POB Giza, Egypt; Passport 1084010 (Egypt); alt. Passport 19820215; Operational and Military Leader of JIHAD GROUP (individual) [SDT] [SDGT]

AL-ZIBARI, Arshad Muhammad Ahmad Muhammad, Iraq; DOB 1942; a former minister of state (individual) [IRAQ2]

AL-ZINDANI, Abdelmajid (a.k.a. AL-ZINDANI, Shaykh 'Abd Al-Majid; a.k.a. AL-ZINDANI, Shaykh Abd-al-Majid); DOB c. 1950; POB Yemen; nationality Yemen; Passport A005487 (Yemen) issued 13 Aug 1995 (individual) [SDGT]

AL-ZINDANI, Shaykh 'Abd Al-Majid (a.k.a. AL-ZINDANI, Abdelmajid; a.k.a. AL-ZINDANI, Shaykh Abd-al-Majid); DOB c. 1950; POB Yemen; nationality Yemen; Passport A005487 (Yemen) issued 13 Aug 1995 (individual) [SDGT]

AL-ZINDANI, Shaykh Abd-al-Majid (a.k.a. AL-ZINDANI, Abdelmajid; a.k.a. AL-ZINDANI, Shaykh 'Abd Al-Majid); DOB c. 1950; POB Yemen; nationality Yemen; Passport A005487 (Yemen) issued 13 Aug 1995 (individual) [SDGT]

AL-ZUBAIDI, Mohammed Hamza (a.k.a. AL-ZUBAYDI, Muhammad Hamsa; a.k.a. ZUBAIDI, Muhammad Hamza); DOB 1938; POB Babylon, Babil Governorate, Iraq; nationality Iraq; former prime minister (individual) [IRAQ2]

AL-ZUBAYDI, Muhammad Hamsa (a.k.a. AL-ZUBAIDI, Mohammed Hamza; a.k.a. ZUBAIDI, Muhammad Hamza); DOB 1938; POB Babylon, Babil Governorate, Iraq; nationality Iraq; former prime minister (individual) [IRAQ2]

AL-ZUMAR, Abbud (a.k.a. ZUMAR, Colonel Abbud), Egypt; POB Egypt; Factional Leader of JIHAD GROUP (individual) [SDT]

AMAR UMAR (a.k.a. ABDUL MARTIN; a.k.a. ABDUL MATIN; a.k.a. AMAR USMAN; a.k.a. ANAR USMAN; a.k.a. DJOKO SUPRIYANTO; a.k.a. DUL MATIN; a.k.a. DULMATIN; a.k.a. JAK IMRON; a.k.a. MUKTAMAR; a.k.a. NOVARIANTO; a.k.a. PINTONO, Joko; a.k.a. PITONO, Joko; a.k.a. PITOYO, Joko; a.k.a. TOPEL); DOB 16 Jun 1970; alt. DOB 6 Jun 1970; POB Petarukan village, Pemalang, Central Java, Indonesia; nationality Indonesia (individual) [SDGT]

AMAR USMAN (a.k.a. ABDUL MARTIN; a.k.a. ABDUL MATIN; a.k.a. AMAR UMAR; a.k.a. ANAR USMAN; a.k.a. DJOKO SUPRIYANTO; a.k.a. DUL MATIN; a.k.a. DULMATIN; a.k.a. JAK IMRON; a.k.a. MUKTAMAR; a.k.a. NOVARIANTO; a.k.a. PINTONO, Joko; a.k.a. PITONO, Joko; a.k.a. PITOYO, Joko; a.k.a. TOPEL); DOB 16 Jun 1970; alt. DOB 6 Jun 1970; POB Petarukan village, Pemalang, Central Java, Indonesia; nationality Indonesia (individual) [SDGT]

AMAYA OROZCO, Luis Alberto, Calle 18N No. 9-46, Cali, Colombia; c/o COMERCIALIZADORA DE CARNES DEL PACIFICO LTDA., Cali, Colombia; DOB 15 Sep 1945; Cedula No. 4882167 (Colombia) (individual) [SDNT]

AMD CO. LTD AGENCY, Al-Tahrir Car Parking Building, Tahrir Sq., Floor 3, Office 33, P.O. Box 8044, Baghdad, Iraq [IRAQ2]

AMDOUNI, Mehrez (a.k.a. AL-AMDOUNI, Mehrez Ben Mahmoud Ben Sassi; a.k.a. FUSCO, Fabio; a.k.a. HASSAN, Mohamed; a.k.a. “ABU THALE”); DOB 18 Dec 1969; POB Tunis, Tunisia; nationality Tunisia; Passport G737411 (Tunisia) issued 24 Oct 1990 expires 20 Sep 1997; alt. Passport 0801888 (Bosnia and Herzegovina) (individual) [SDGT]

AMERICAN AIR WAYS CHARTERS, INC., 1840 West 49th Street, Hialeah, FL [CUBA]

AMERICAN FRIENDS OF THE UNITED YESHIVA (a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

AMERICAN FRIENDS OF YESHIVAT RAV MEIR (a.k.a. AMERICAN FRIENDS OF THE UNITED YESHIVA; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

AMERICANA DE COSMETICOS S.A., Calle 12B No. 27-39, Bogota, Colombia; Calle 12B No. 27-40, Int. 4 of., Bogota, Colombia; Carrera 12 No. 71-53 of. 502, Bogota, Colombia; Carrera 28 No. 11-65 of. 707, Bogota, Colombia; Carrera 70 No. 54-30, Bogota, Colombia; NIT # 830028750-9 (Colombia) [SDNT]

AMESCUA, Chuey (a.k.a. AMEZCUA CONTRERAS, Jesus; a.k.a. AMEZCUA CONTRERAS, Jose de Jesus; a.k.a. AMEZCUA, Chuy; a.k.a. AMEZCUA, Jose de Jesus; a.k.a. HERNANDEZ, Adan); DOB 31 JUL 63; alt. DOB 31 JUL 64; alt. DOB 31 JUL 65; POB Mexico (individual) [SDNTK]

AMEZCUA CONTRERAS ORGANIZATION, Mexico [SDNTK]

AMEZCUA CONTRERAS, Jesus (a.k.a. AMESCUA, Chuey; a.k.a. AMEZCUA CONTRERAS, Jose de Jesus; a.k.a. AMEZCUA, Chuy; a.k.a. AMEZCUA, Jose de Jesus; a.k.a. HERNANDEZ, Adan); DOB 31 JUL 63; alt. DOB 31 JUL 64; alt. DOB 31 JUL 65; POB Mexico (individual) [SDNTK]

AMEZCUA CONTRERAS, Jose de Jesus (a.k.a. AMESCUA, Chuey; a.k.a. AMEZCUA CONTRERAS, Jesus; a.k.a. AMEZCUA, Chuy; a.k.a. AMEZCUA, Jose de Jesus; a.k.a. HERNANDEZ, Adan); DOB 31 JUL 63; alt. DOB 31 JUL 64; alt. DOB 31 JUL 65; POB Mexico (individual) [SDNTK]

AMEZCUA CONTRERAS, Luis Ignacio (a.k.a. AMEZCUA, Luis; a.k.a. CONTRERAS, Luis C.; a.k.a. LOPEZ, Luis; a.k.a. LOZANO, Eduardo; a.k.a. OCHOA, Salvador; a.k.a. RODRIGUEZ LOPEZ, Sergio); DOB 22 FEB 64; alt. DOB 21 FEB 64; alt. DOB 21 FEB 74; POB Mexico (individual) [SDNTK]

AMEZCUA, Chuy (a.k.a. AMESCUA, Chuey; a.k.a. AMEZCUA CONTRERAS, Jesus; a.k.a. AMEZCUA CONTRERAS, Jose de Jesus; a.k.a. AMEZCUA, Jose de Jesus; a.k.a. HERNANDEZ, Adan); DOB 31 JUL 63; alt. DOB 31 JUL 64; alt. DOB 31 JUL 65; POB Mexico (individual) [SDNTK]

AMEZCUA, Jose de Jesus (a.k.a. AMESCUA, Chuey; a.k.a. AMEZCUA CONTRERAS, Jesus; a.k.a. AMEZCUA CONTRERAS, Jose de Jesus; a.k.a. AMEZCUA, Chuy; a.k.a. HERNANDEZ, Adan); DOB 31 JUL 63; alt. DOB 31 JUL 64; alt. DOB 31 JUL 65; POB Mexico (individual) [SDNTK]

AMEZCUA, Luis (a.k.a. AMEZCUA CONTRERAS, Luis Ignacio; a.k.a. CONTRERAS, Luis C.; a.k.a. LOPEZ, Luis; a.k.a. LOZANO, Eduardo; a.k.a. OCHOA, Salvador; a.k.a. RODRIGUEZ LOPEZ, Sergio); DOB 22 FEB 64; alt. DOB 21 FEB 64; alt. DOB 21 FEB 74; POB Mexico (individual) [SDNTK]

AMEZQUITA MENESES, Salustio, c/o INMOBILIARIA U.M.V. S.A., Cali, Colombia; c/o INVERSIONES GEMINIS S.A., Cali, Colombia; DOB 1 Jul 1946; Cedula No. 14943885 (Colombia) (individual) [SDNT]

AMIN ABU SHANAB & SONS CO. (a.k.a. ABU SHANAB METALS ESTABLISHMENT; a.k.a. SHANAB METALS ESTABLISHMENT; a.k.a. TARIQ ABU SHANAB EST.; a.k.a. TARIQ ABU SHANAB EST. FOR TRADE&COMMERCE; a.k.a. TARIQ ABU SHANAB METALS ESTABLISHMENT), Musherfeh, P.O. Box 766, Zarka, Jordan [IRAQ2]

AMIN EL GEZAI COMPANY (a.k.a. EL AMIN EL GEZAI COMPANY), Khartoum, Sudan [SUDAN]

AMIN, Muhammad (a.k.a. AH HAQ, Dr. Amin; a.k.a. AL-HAQ, Amin; a.k.a. UL-HAQ, Dr. Amin); DOB 1960; POB Nangahar Province, Afghanistan (individual) [SDGT]

AMMARI, Saifi (a.k.a. “ABDALARAK”; a.k.a. “ABDERREZAK LE PARA”; a.k.a. “ABDERREZAK ZAIMECHE”; a.k.a. “ABDUL RASAK AMMANE ABU HAIDRA”; a.k.a. “ABOU HAIDARA”; a.k.a. “EL OURASSI”; a.k.a. “EL PARA”); DOB 1 Jan 1968; POB Kef Rih, Algeria; nationality Algeria (individual) [SDGT]

AMMASH, Huda Salih Mahdi; DOB 1953; POB Baghdad, Iraq; nationality Iraq; member, Ba'th party regional command (individual) [IRAQ2]

AMPARO RODRIGUEZ DE GIL Y CIA. S. EN C., Avenida 4N No. 5N-20, Cali, Colombia [SDNT]

ANA (a.k.a. AKSH; a.k.a. ALBANIAN NATIONAL ARMY) [BALKANS]

ANAINSA (a.k.a. ABASTECEDORA NAVAL Y INDUSTRIAL, S.A.), Panama [CUBA]

ANAR USMAN (a.k.a. ABDUL MARTIN; a.k.a. ABDUL MATIN; a.k.a. AMAR UMAR; a.k.a. AMAR USMAN; a.k.a. DJOKO SUPRIYANTO; a.k.a. DUL MATIN; a.k.a. DULMATIN; a.k.a. JAK IMRON; a.k.a. MUKTAMAR; a.k.a. NOVARIANTO; a.k.a. PINTONO, Joko; a.k.a. PITONO, Joko; a.k.a. PITOYO, Joko; a.k.a. TOPEL); DOB 16 Jun 1970; alt. DOB 6 Jun 1970; POB Petarukan village, Pemalang, Central Java, Indonesia; nationality Indonesia (individual) [SDGT]

ANDINA DE CONSTRUCCIONES S.A., Cali, Colombia [SDNT]

ANDINA DE CONSTRUCCIONES S.A. (a.k.a. INTERAMERICANA DE CONSTRUCCIONES S.A.), Calle 12 Norte No. 9N-56, Cali, Colombia; NIT # 800237404-2 (Colombia) [SDNT]

ANDRADE MENDEZ, Gerardo, c/o ADMINISTRADORA DE SERVICIOS VARIOS CALIMA S.A., Cali, Colombia; c/o CHAMARTIN S.A., Cali, Colombia; DOB 17 Jul 1962; Cedula No. 12189130 (Colombia); Passport 12189130 (Colombia) (individual) [SDNT]

ANDRADE QUINTERO, Ancizar, c/o INMOBILIARIA BOLIVAR LTDA., Cali, Colombia; c/o INMOBILIARIA U.M.V. S.A., Cali, Colombia; c/o SERVICIOS INMOBILIARIAS LTDA., Cali, Colombia; DOB 23 Jan 1962; Cedula No. 16672464 (Colombia) (individual) [SDNT]

ANGELINI, Alejandro Abood, Panama (individual) [CUBA]

ANGLO-CARIBBEAN CO., LTD. (a.k.a. AVIA IMPORT), Ibex House, The Minories, London EC3N 1DY, United Kingdom [CUBA]

ANGULO OROBIO (SEGUNDO), Jose Francisco, Avenida 4N No. 17-43 apt. 801, Cali, Colombia; c/o INVERSIONES Y CONSTRUCCIONES VALLE S.A., Cali, Colombia; DOB 8 Sep 1964; Cedula No. 16706561 (Colombia) (individual) [SDNT]

ANIS, Abu (a.k.a. AL MASRI, Abd Al Wakil; a.k.a. ALI, Hassan; a.k.a. AL-NUBI, Abu; a.k.a. ELBISHY, Moustafa Ali; a.k.a. FADHIL, Mustafa Mohamed; a.k.a. FADIL, Mustafa Muhamad; a.k.a. FAZUL, Mustafa; a.k.a. HUSSEIN; a.k.a. JIHAD, Abu; a.k.a. KHALID; a.k.a. MAN, Nu; a.k.a. MOHAMMED, Mustafa; a.k.a. YUSSRR, Abu); DOB 23 Jun 1976; POB Cairo, Egypt; citizen Egypt alt. Kenya; Kenyan ID No. 12773667; Serial No. 201735161 (individual) [SDGT]

ANIS, Ibrahim Shaikh Mohd (a.k.a. AZIZ, Abdul Hamid Abdul; a.k.a. DILIP, Aziz; a.k.a. EBRAHIM, Dawood; a.k.a. HASAN, Shaikh Daud; a.k.a. HASSAN, Dawood; a.k.a. IBRAHIM, Anis; a.k.a. IBRAHIM, Dawood; a.k.a. IBRAHIM, Dawood Sheik; a.k.a. KASKAR, Dawood Ibrahim; a.k.a. REHMAN, Shaikh Ismail Abdul; a.k.a. SABRI, Dawood; a.k.a. SAHEB, Amir; a.k.a. SETH, Iqbal), 617 CP Berar Society, Block 7-8, Karachi, Pakistan; House No. 37, Street 30, Phase V, Defence Housing Authority, Karachi, Pakistan; White House, Al-Wassal Road, Jumeira, Dubai, United Arab Emirates; 33-36, Pakmodiya Street, Haji Musafirkhana, Dongri, Bombay, India; House No. 10, Hill Top Arcade, Defence Housing Authority, Karachi, Pakistan; Moin Palace, 2nd Floor, Opp. Abdullah Shah Gazi Dargah, Clifton, Karachi, Pakistan; DOB 26 Dec 1955; alt. DOB 31 Dec 1955; POB Ratnagiri, Maharashtra, India; citizen India alt. United Arab Emirates; alt. Pakistan; nationality India; Passport A-717288 (United Arab Emirates) issued 18 Aug 1985; alt. Passport F-823692 (Yemen) issued 02 Sep 1989; alt. Passport G-869537 (Pakistan); alt. Passport G-866537 (Pakistan) issued 12 Aug 1991; alt. Passport V-57865 (India) issued 03 Oct 1983; alt. Passport K-560098 (India) issued 30 Jul 1975; alt. Passport P-537849 (India) issued 30 Jul 1979; alt. Passport A-501801 (India) issued 26 Jul 1985; alt. Passport A-333602 (India) issued 04 Jun 1985; alt. Passport R-841697 (India) issued 26 Nov 1981; alt. Passport M-110522 (India) issued 13 Nov 1978 (individual) [SDGT] [SDNTK]

ANO (a.k.a. ABU NIDAL ORGANIZATION; a.k.a. ARAB REVOLUTIONARY BRIGADES; a.k.a. ARAB REVOLUTIONARY COUNCIL; a.k.a. BLACK SEPTEMBER; a.k.a. FATAH REVOLUTIONARY COUNCIL; a.k.a. REVOLUTIONARY ORGANIZATION OF SOCIALIST MUSLIMS) [SDT] [FTO] [SDGT]

ANSAR AL-ISLAM (a.k.a. ANSAR AL-SUNNA; a.k.a. ANSAR AL-SUNNA ARMY; a.k.a. JAISH ANSAR AL-SUNNA; a.k.a. JUND AL-ISLAM; a.k.a. “DEVOTEES OF ISLAM”; a.k.a. “FOLLOWERS OF ISLAM IN KURDISTAN”; a.k.a. “HELPERS OF ISLAM”; a.k.a. “KURDISH TALIBAN”; a.k.a. “KURDISTAN SUPPORTERS OF ISLAM”; a.k.a. “PARTISANS OF ISLAM”; a.k.a. “SOLDIERS OF GOD”; a.k.a. “SOLDIERS OF ISLAM”; a.k.a. “SUPPORTERS OF ISLAM IN KURDISTAN”), Iraq [FTO] [SDGT]

ANSAR ALLAH (a.k.a. FOLLOWERS OF THE PROPHET MUHAMMED; a.k.a. HIZBALLAH; a.k.a. ISLAMIC JIHAD; a.k.a. ISLAMIC JIHAD FOR THE LIBERATION OF PALESTINE; a.k.a. ISLAMIC JIHAD ORGANIZATION; a.k.a. ORGANIZATION OF RIGHT AGAINST WRONG; a.k.a. ORGANIZATION OF THE OPPRESSED ON EARTH; a.k.a. PARTY OF GOD; a.k.a. REVOLUTIONARY JUSTICE ORGANIZATION) [SDT] [FTO] [SDGT]

ANSAR AL-SUNNA (a.k.a. ANSAR AL-ISLAM; a.k.a. ANSAR AL-SUNNA ARMY; a.k.a. JAISH ANSAR AL-SUNNA; a.k.a. JUND AL-ISLAM; a.k.a. “DEVOTEES OF ISLAM”; a.k.a. “FOLLOWERS OF ISLAM IN KURDISTAN”; a.k.a. “HELPERS OF ISLAM”; a.k.a. “KURDISH TALIBAN”; a.k.a. “KURDISTAN SUPPORTERS OF ISLAM”; a.k.a. “PARTISANS OF ISLAM”; a.k.a. “SOLDIERS OF GOD”; a.k.a. “SOLDIERS OF ISLAM”; a.k.a. “SUPPORTERS OF ISLAM IN KURDISTAN”), Iraq [FTO] [SDGT]

ANSAR AL-SUNNA ARMY (a.k.a. ANSAR AL-ISLAM; a.k.a. ANSAR AL-SUNNA; a.k.a. JAISH ANSAR AL-SUNNA; a.k.a. JUND AL-ISLAM; a.k.a. “DEVOTEES OF ISLAM”; a.k.a. “FOLLOWERS OF ISLAM IN KURDISTAN”; a.k.a. “HELPERS OF ISLAM”; a.k.a. “KURDISH TALIBAN”; a.k.a. “KURDISTAN SUPPORTERS OF ISLAM”; a.k.a. “PARTISANS OF ISLAM”; a.k.a. “SOLDIERS OF GOD”; a.k.a. “SOLDIERS OF ISLAM”; a.k.a. “SUPPORTERS OF ISLAM IN KURDISTAN”), Iraq [FTO] [SDGT]

ANSHORI, Abdullah (a.k.a. THOYIB, Ibnu; a.k.a. TOYIB, Ibnu; a.k.a. “ABU FATHI”; a.k.a. “ABU FATIH”); DOB 1958; POB Pacitan, East Java, Indonesia; nationality Indonesia (individual) [SDGT]

ANTAMALLO SHIPPING CO. LTD. (a.k.a. ATAMALLO SHIPPING CO. LTD.), c/o EMPRESA DE NAVEGACION MAMBISA, Apartado 543, San Ignacio 104, Havana, Cuba [CUBA]

ANTIA SIERRA, Diurny Lorena, c/o COOPERATIVA MERCANTIL COLOMBIANA COOMERCOL, Cali, Colombia; DOB 28 Sep 1975; Cedula No. 66877933 (Colombia); Passport 66877933 (Colombia) (individual) [SDNT]

ANTILLANA SALVAGE CO. LTD., c/o EMPRESA ANTILLANA DE SALVAMENTO, 4th Floor, Lonja del Comercio, Havana Vieja, Havana, Cuba [CUBA]

AOUADI, Mohamed Ben Belgacem (a.k.a. AOUADI, Mohamed Ben Belkacem), Via A. Masina n.7, Milano, Italy; DOB 11 Dec 1974; POB Tunisia; nationality Tunisia; Italian Fiscal Code DAOMMD74T11Z352Z; Passport L 191609 issued 28 Feb 1996 expires 27 Feb 2001 (individual) [SDGT]

AOUADI, Mohamed Ben Belkacem (a.k.a. AOUADI, Mohamed Ben Belgacem), Via A. Masina n.7, Milano, Italy; DOB 11 Dec 1974; POB Tunisia; nationality Tunisia; Italian Fiscal Code DAOMMD74T11Z352Z; Passport L 191609 issued 28 Feb 1996 expires 27 Feb 2001 (individual) [SDGT]

APAOLAZA SANCHO, Ivan; DOB 10 November 1971; POB Beasain, Guipuzcoa Province, Spain; D.N.I. 44.129.178; Member ETA (individual) [SDGT]

AQSSA SOCIETY (a.k.a. AL-AQSA (ASBL); a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NURSAT AL-AQSA AL-SHARIF; a.k.a. SANABIL AL-AQSA CHARITABLE FOUNDATION; a.k.a. STICHTING AL-AQSA; a.k.a. SWEDISH CHARITABLE AQSA EST.), BD Leopold II 71, 1080 Brussels, Belgium [SDGT]

AQSSA SOCIETY YEMEN (a.k.a. AL-AQSA (ASBL); a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NURSAT AL-AQSA AL-SHARIF; a.k.a. SANABIL AL-AQSA CHARITABLE FOUNDATION; a.k.a. STICHTING AL-AQSA; a.k.a. SWEDISH CHARITABLE AQSA EST.), BD Leopold II 71, 1080 Brussels, Belgium [SDGT]

AQSSA SOCIETY YEMEN (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 14101, San 'a, Yemen [SDGT]

AQSSA SOCIETY YEMEN (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Kappellenstrasse 36, Aachen D-52066, Germany; <Head Office> [SDGT]

AQSSA SOCIETY YEMEN (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.) [SDGT]

AQSSA SOCIETY YEMEN (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

AQSSA SOCIETY YEMEN (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 2364, Islamabad, Pakistan [SDGT]

AQSSA SOCIETY YEMEN (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 6222200KBKN, Copenhagen, Denmark [SDGT]

AQSSA SOCIETY YEMEN (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Noblev 79 NB, 21433 Malmo, Sweden; Nobelvagen 79 NB, 21433 Malmo, Sweden [SDGT]

AQSSA SOCIETY YEMEN (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Gerrit V/D Lindestraat 103 A, 3022 TH, Rotterdam, Netherlands; Gerrit V/D Lindestraat 103 E, 03022 TH, Rotterdam, Netherlands [SDGT]

AQSSA SOCIETY (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.) [SDGT]

AQSSA SOCIETY (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

AQSSA SOCIETY (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 2364, Islamabad, Pakistan [SDGT]

AQSSA SOCIETY (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 14101, San 'a, Yemen [SDGT]

AQSSA SOCIETY (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 6222200KBKN, Copenhagen, Denmark [SDGT]

AQSSA SOCIETY (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Noblev 79 NB, 21433 Malmo, Sweden; Nobelvagen 79 NB, 21433 Malmo, Sweden [SDGT]

AQSSA SOCIETY (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Gerrit V/D Lindestraat 103 A, 3022 TH, Rotterdam, Netherlands; Gerrit V/D Lindestraat 103 E, 03022 TH, Rotterdam, Netherlands [SDGT]

AQSSA SOCIETY (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Kappellenstrasse 36, Aachen D-52066, Germany; <Head Office> [SDGT]

ARAB CEMENT COMPANY, Durdeib, Sudan; P.O. Box 6180, Khartoum, Sudan [SUDAN]

ARAB PALESTINIAN BEIT EL-MAL COMPANY (a.k.a. BEIT AL MAL HOLDINGS; a.k.a. BEIT EL MAL AL-PHALASTINI AL-ARABI AL-MUSHIMA AL-AAMA AL-MAHADUDA LTD.; a.k.a. BEIT EL-MAL HOLDINGS; a.k.a. PALESTINIAN ARAB BEIT EL MAL CORPORATION, LTD.), P.O. Box 662, Ramallah, West Bank [SDT] [SDGT]

ARAB PETROLEUM ENGINEERING COMPANY LTD, Amman, Jordan [IRAQ2]

ARAB PROJECTS COMPANY S.A. LTD., P.O. Box 1318, Amman, Jordan; P.O. Box 1972, Riyadh, Saudi Arabia; P.O. Box 7939, Beirut, Lebanon [IRAQ2]

ARAB REVOLUTIONARY BRIGADES (a.k.a. ABU NIDAL ORGANIZATION; a.k.a. ANO; a.k.a. ARAB REVOLUTIONARY COUNCIL; a.k.a. BLACK SEPTEMBER; a.k.a. FATAH REVOLUTIONARY COUNCIL; a.k.a. REVOLUTIONARY ORGANIZATION OF SOCIALIST MUSLIMS) [SDT] [FTO] [SDGT]

ARAB REVOLUTIONARY COUNCIL (a.k.a. ABU NIDAL ORGANIZATION; a.k.a. ANO; a.k.a. ARAB REVOLUTIONARY BRIGADES; a.k.a. BLACK SEPTEMBER; a.k.a. FATAH REVOLUTIONARY COUNCIL; a.k.a. REVOLUTIONARY ORGANIZATION OF SOCIALIST MUSLIMS) [SDT] [FTO] [SDGT]

ARANA MARIA, Jairo Abraham, c/o DESARROLLOS URBANOS “DESARROLLAR” LTDA., Barranquilla, Colombia; Calle 74 No. 53-30, Barranquilla, Colombia; c/o INMOBILIARIA DEL CARIBE LTDA., Barranquilla, Colombia; c/o INMOBILIARIA HOTELERA DEL CARIBE LTDA., Barranquilla, Colombia; c/o INVERSIONES HOTELERAS DEL LITORAL LTDA., Barranquilla, Colombia; c/o INVERSIONES PRADO TRADE CENTER LTDA., Barranquilla, Colombia; c/o NEGOCIOS Y PROPIEDADES DEL CARIBE LTDA., Barranquilla, Colombia; c/o SURAMERICANA DE HOTELES LTDA., Barranquilla, Colombia; c/o GRAN COMPANIA DE HOTELES LTDA., Barranquilla, Colombia; c/o HOTELES E INMUEBLES DE COLOMBIA LTDA., Barranquilla, Colombia; c/o EDIFICACIONES DEL CARIBE LTDA., Barranquilla, Colombia; DOB 8 Feb 53; alt. DOB 2 May 46; alt. DOB 21 May 46; Cedula No. 7450538 (Colombia); Passport Z4966601 (Colombia); alt. Passport K1030420 (Colombia) (individual) [SDNT]

ARBELAEZ GALLON, Gladys, c/o SERVICIOS INMOBILIARIOS LTDA., Cali, Colombia; DOB 12 Nov 1960; Cedula No. 31858038 (Colombia) (individual) [SDNT]

ARBELAEZ PARDO, Amparo, c/o INTERAMERICA DE CONSTRUCCIONES S.A., Cali, Colombia; Casa No. 19, Avenida Lago, Ciudad Jardin, Cali, Colombia; c/o LABORATORIOS KRESSFOR DE COLOMBIA S.A., Bogota, Colombia; c/o INVERSIONES ARA LTDA., Cali, Colombia; c/o VALORES MOBILIARIOS DE OCCIDENTE, Bogota, Colombia; c/o CREDIREBAJA S.A., Cali, Colombia; c/o DECAFARMA S.A., Bogota, Colombia; DOB 9 Nov 50; alt. DOB 9 Aug 50; Cedula No. 31218903 (Colombia); Passport AC 568973 (Colombia); alt. Passport PEDO1850 (Colombia) (individual) [SDNT]

ARBOLEDA ARROYAVE, Pedro Nicholas (a.k.a. ARBOLEDA ARROYAVE, Pedro Nicolas), c/o DEPOSITO POPULAR DE DROGAS S.A., Cali, Colombia; c/o DISTRIBUIDORA DE DROGAS CONDOR LTDA., Bogota, Colombia; c/o D'CACHE S.A., Cali, Colombia; c/o CREDIREBAJA S.A., Cali, Colombia; c/o FUNDASER, Cali, Colombia; DOB 23 Jun 1957; Cedula No. 16602372 (Colombia) (individual) [SDNT]

ARBOLEDA ARROYAVE, Pedro Nicolas (a.k.a. ARBOLEDA ARROYAVE, Pedro Nicholas), c/o DEPOSITO POPULAR DE DROGAS S.A., Cali, Colombia; c/o DISTRIBUIDORA DE DROGAS CONDOR LTDA., Bogota, Colombia; c/o D'CACHE S.A., Cali, Colombia; c/o CREDIREBAJA S.A., Cali, Colombia; c/o FUNDASER, Cali, Colombia; DOB 23 Jun 1957; Cedula No. 16602372 (Colombia) (individual) [SDNT]

ARBOLEDA ROMERO, Julio Cesar, c/o INVERSIONES BETANIA LTDA., Cali, Colombia; c/o INVERSIONES EL PENON S.A., Cali, Colombia; DOB 1 Dec 1953; Cedula No. 16205508 (Colombia) (individual) [SDNT]

ARCA DISTRIBUCIONES LTDA., Carrera 23 No. 37-39 of. 202, Bogota, Colombia; NIT # 830131785-6 (Colombia) [SDNT]

ARCE GARCIA, Rodrigo Alberto, c/o AGRO MASCOTAS S.A., Bogota, Colombia; DOB 9 Jun 1963; Cedula No. 16699556 (Colombia); Passport 16699556 (Colombia) (individual) [SDNT]

ARCE JARAMILLO, Melba Rosa, Calle Culiacan 101 Int. 702 Col. La Condesa, Mexico City, Mexico; Calle Auehuetes No. 1320 Col. Lomas de Tecamachalco, Mexico City, Mexico; c/o AEROCOMERCIAL ALAS DE COLOMBIA, Bogota, Colombia; DOB 17 Nov 1964; POB Cali, Colombia; Cedula No. 31945032 (Colombia); Passport AI666987 (Colombia); alt. Passport AD369724 (Colombia); alt. Passport AE869914 (Colombia); alt. Passport PP31235 (Colombia) (individual) [SDNT]

ARCHI CENTRE I.C.E. LIMITED, 3 Mandeville Place, London, United Kingdom [IRAQ2]

ARCHICONSULT LIMITED, 128 Buckingham Place, London 5, United Kingdom [IRAQ2]

ARDILA A., Gabriel, c/o CAJA SOLIDARIA, Bogota, Colombia; c/o COOPIFARMA, Bucaramanga, Colombia; c/o COPSERVIR LTDA., Bogota, Colombia; Carrera 100 No. 44B-10 ap. 102, Bogota, Colombia; Cedula No. 91177297 (Colombia) (individual) [SDNT]

ARDILA HUYO, Jorge Armando, c/o INTERNACIONAL DE DIVISAS S.A., Cali, Colombia; c/o INTERNACIONAL DE DIVISAS S.A., LLC, Miami, FL; c/o OBURSATILES S.A., Cali, Colombia; c/o A G REPRESENTACIONES LTDA., Cali, Colombia; c/o GALAVIZ CORPORATION, LTD., Cali, Colombia; c/o GALAVIZ CORPORATION, LTD., Miami, FL; c/o GALAVIZ CORPORATION, LTD., Nassau, Bahamas, The; c/o VALORCORP S.A., Bogota, Colombia; DOB 7 Feb 1960; Cedula No. 16448389 (Colombia); Passport 16448389 (Colombia) (individual) [SDNT]

ARDILA HUYO, Luis Alejandro, c/o INTERNACIONAL DE DIVISAS S.A., Cali, Colombia; c/o INTERNACIONAL DE DIVISAS S.A., LLC, Miami, FL; c/o OBURSATILES S.A., Cali, Colombia; c/o ARDILA-MARMOLEJO, LTD., Nassau, Bahamas, The; c/o A G REPRESENTACIONES LTDA., Cali, Colombia; c/o GALAVIZ CORPORATION, LTD., Cali, Colombia; c/o GALAVIZ CORPORATION, LTD., Miami, FL; c/o GALAVIZ CORPORATION, LTD., Nassau, Bahamas, The; c/o VALORCORP S.A., Bogota, Colombia; DOB 4 Jan 1962; Cedula No. 16670574 (Colombia); Passport AF924686 (Colombia) (individual) [SDNT]

ARDILA PICO, Rosalba, c/o COMUDROGAS LTDA., Bucaramanga, Colombia; Cedula No. 63332705 (Colombia) (individual) [SDNT]

ARDILA-MARMOLEJO, LTD. (f.k.a. HUYO-GIRALDO, LTD.), Nassau, Bahamas, The; Business Registration Document # 88,046 B (Bahamas, The) [SDNT]

ARDILA-MARMOLEJO, LTD. (f.k.a. HUYO-GIRALDO, LTD.), Nassau, Bahamas, The; Business Registration Document # 88,046 B (Bahamas, The) [SDNT]

AREGON, Max (a.k.a. CARO RODRIGUEZ, Gilberto; a.k.a. GUIERREZ LOERA, Jose Luis; a.k.a. GUMAN LOERAL, Joaquin; a.k.a. GUZMAN FERNANDEZ, Joaquin; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. GUZMAN, Achivaldo; a.k.a. GUZMAN, Archibaldo; a.k.a. GUZMAN, Aureliano; a.k.a. GUZMAN, Chapo; a.k.a. GUZMAN, Joaquin Chapo; a.k.a. ORTEGA, Miguel; a.k.a. OSUNA, Gilberto; a.k.a. RAMIREZ, Joise Luis; a.k.a. RAMOX PEREZ, Jorge); DOB 25 Dec 54; POB Mexico (individual) [SDNTK]

ARELLANO FELIX DE TOLEDO, Enedina (a.k.a. ARELLANO FELIX, Enedina), c/o Farmacia Vida Suprema, S.A. DE C.V., Tijuana, Baja California, Mexico; DOB 12 Apr 1961 (individual) [SDNTK]

ARELLANO FELIX ORGANIZATION (a.k.a. AFO; a.k.a. TIJUANA CARTEL), Mexico [SDNTK]

ARELLANO FELIX, Benjamin Alberto; DOB 12 MAR 52; alt. DOB 8 NOV 53; alt. DOB 11 AUG 55; POB Mexico (individual) [SDNTK]

ARELLANO FELIX, Eduardo Ramon (a.k.a. ARELLANO FELIX, Javier Eduardo); DOB 10 Nov 1956; POB Mexico (individual) [SDNTK]

ARELLANO FELIX, Enedina (a.k.a. ARELLANO FELIX DE TOLEDO, Enedina), c/o Farmacia Vida Suprema, S.A. DE C.V., Tijuana, Baja California, Mexico; DOB 12 Apr 1961 (individual) [SDNTK]

ARELLANO FELIX, Francisco Javier (a.k.a. ARELLANO FELIX, Javier; a.k.a. BELTRAN MEZA, Ramon; a.k.a. DIAZ MEDINA, Javier; a.k.a. LARA ALVAREZ, Jose Luis); DOB 21 Nov 1969; alt. DOB 12 Dec 1969; POB Culiacan, Sinaloa, Mexico (individual) [SDNTK]

ARELLANO FELIX, Javier (a.k.a. ARELLANO FELIX, Francisco Javier; a.k.a. BELTRAN MEZA, Ramon; a.k.a. DIAZ MEDINA, Javier; a.k.a. LARA ALVAREZ, Jose Luis); DOB 21 Nov 1969; alt. DOB 12 Dec 1969; POB Culiacan, Sinaloa, Mexico (individual) [SDNTK]

ARELLANO FELIX, Javier Eduardo (a.k.a. ARELLANO FELIX, Eduardo Ramon); DOB 10 Nov 1956; POB Mexico (individual) [SDNTK]

ARELLANO FELIX, Ramon Eduardo (a.k.a. COMACHO RODRIGUES, Gilberto; a.k.a. TORRES MENDEZ, Ramon); DOB 31 AUG 64; POB Mexico (individual) [SDNTK]

ARENAS OSORIO, Martha Cecilia, c/o INVERSIETE S.A., Cali, Colombia; DOB 24 May 1965; Cedula No. 25160258 (Colombia); Passport 25160258 (Colombia) (individual) [SDNT]

ARI (a.k.a. ARMY OF THE REPUBLIC OF ILIRIDA) [BALKANS]

ARIAS CASTRO, Libardo (a.k.a. CASTRO ARIAS, Libardo), c/o BONOMERCAD S.A., Bogota, Colombia; c/o COMEDICAMENTOS S.A., Bogota, Colombia; c/o DECAFARMA S.A., Bogota, Colombia; c/o GLAJAN S.A., Bogota, Colombia; c/o SHARPER S.A., Bogota, Colombia; c/o FOGENSA S.A., Bogota, Colombia; DOB 13 Oct 1933; Cedula No. 2312291 (Colombia); Passport 2312291 (Colombia) (individual) [SDNT]

ARIAS DE RESTREPO, Mariella, c/o DISTRIBUIDORA AGROPECUARIA COLOMBIANA S.A., Cali, Colombia; c/o MATERIAS PRIMAS Y SUMINISTROS S.A., Bogota, Colombia; c/o AGRO MASCOTAS S.A., Bogota, Colombia; DOB 19 Nov 1958; Cedula No. 38437571 (Colombia) (individual) [SDNT]

ARIAS ESPINOSA ARIES S.A. (a.k.a. ARIES S.A.), Calle 22D No. 34-55, Bogota, Colombia; NIT # 830012619-1 (Colombia) [SDNT]

ARIAS GAMEZ, Johana Milena, c/o CAJA SOLIDARIA, Bogota, Colombia; c/o COOPCREAR, Bogota, Colombia; c/o COOPERATIVA DE TRABAJO ASOCIADO ACTIVAR, Bogota, Colombia; c/o JYG ASESORES LTDA., Bogota, Colombia; c/o SOLUCIONES COOPERATIVAS, Bogota, Colombia; Calle 69 No. 10A-53, Bogota, Colombia; Carrera 32 No. 25-71, Bogota, Colombia; DOB 6 Nov 1982; Cedula No. 52906667 (Colombia) (individual) [SDNT]

ARIAS JARAMILLO, Diego De Jesus, c/o ARIAS ESPINOSA ARIES S.A., Bogota, Colombia; c/o EXCIPIENTES FARMACEUTICOS EXCIPHARMA S.A., Bogota, Colombia; c/o INVERSIONES ASE LTDA., Bogota, Colombia; Calle 7 Oeste No. 2-207, Cali, Colombia; Carrera 2A No. 7-30 203, Cali, Colombia; Carrera 18 No. 137-43, Bogota, Colombia; Carrera 41 No. 125A-52 Int. 5 ap. 402, Bogota, Colombia; Cedula No. 19241807 (Colombia) (individual) [SDNT]

ARIAS RAMIREZ, Jhon Helmer, c/o IMPORTADORA Y COMERCIALIZADORA LTDA., Cali, Colombia; DOB 20 Jan 1972; Cedula No. 16796537 (Colombia) (individual) [SDNT]

ARIAS TRIANA, Alicia, c/o CAJA SOLIDARIA, Bogota, Colombia; c/o COMUDROGAS LTDA., Bucaramanga, Colombia; c/o COPSERVIR LTDA., Bogota, Colombia; Cedula No. 63341345 (Colombia) (individual) [SDNT]

ARIES S.A. (a.k.a. ARIAS ESPINOSA ARIES S.A.), Calle 22D No. 34-55, Bogota, Colombia; NIT # 830012619-1 (Colombia) [SDNT]

ARIF SUNARSO (a.k.a. ARIS SUMARSONO; a.k.a. ARIS SUNARSO; a.k.a. MURSHID; a.k.a. USTAD DAUD ZULKARNAEN; a.k.a. ZULKARNAEN; a.k.a. ZULKARNAIN; a.k.a. ZULKARNAN; a.k.a. ZULKARNIN); DOB 1963; POB Gebang village, Masaran, Sragen, Central Java, Indonesia; nationality Indonesia (individual) [SDGT]

ARION SHIPPING CO., LTD., 60 South Street, Valletta, Malta [CUBA]

ARIS SUMARSONO (a.k.a. ARIF SUNARSO; a.k.a. ARIS SUNARSO; a.k.a. MURSHID; a.k.a. USTAD DAUD ZULKARNAEN; a.k.a. ZULKARNAEN; a.k.a. ZULKARNAIN; a.k.a. ZULKARNAN; a.k.a. ZULKARNIN); DOB 1963; POB Gebang village, Masaran, Sragen, Central Java, Indonesia; nationality Indonesia (individual) [SDGT]

ARIS SUNARSO (a.k.a. ARIF SUNARSO; a.k.a. ARIS SUMARSONO; a.k.a. MURSHID; a.k.a. USTAD DAUD ZULKARNAEN; a.k.a. ZULKARNAEN; a.k.a. ZULKARNAIN; a.k.a. ZULKARNAN; a.k.a. ZULKARNIN); DOB 1963; POB Gebang village, Masaran, Sragen, Central Java, Indonesia; nationality Indonesia (individual) [SDGT]

ARISTIZABAL ATEHORTUA, Jaime Alberto, c/o DERECHO INTEGRAL Y CIA. LTDA., Cali, Colombia; c/o INVERSIONES MIGUEL RODRIGUEZ E HIJO, Cali, Colombia; c/o RADIO UNIDAS FM S.A., Cali, Colombia; c/o REVISTA DEL AMERICA LTDA., Cali, Colombia; c/o COLOR 89.5 FM STEREO, Cali, Colombia; DOB 11 Oct 1968; Cedula No. 16756325 (Colombia) (individual) [SDNT]

ARIZA CHAVEZ, Elder, c/o SUPERGEN LTDA., Bucaramanga, Colombia; DOB 22 Jul 1972; Cedula No. 79183205 (Colombia); Passport 79183205 (Colombia) (individual) [SDNT]

ARIZA OLIVERA, Joaquin, c/o LITOPHARMA, Barranquilla, Colombia; Cedula No. 8721438 (Colombia) (individual) [SDNT]

ARIZABALETA ARZAYUS, Fanor (a.k.a. ARIZABALETA ARZAYUS, Phanor), Avenida 39 No. 15-22, Bogota, Colombia; c/o CONSTRUCTORA ALTOS DEL RETIRO LTDA., Bogota, Colombia; c/o INVERSIONES ARIO LTDA., Cali, Colombia; Carrera 9 No. 9S-35, Buga, Colombia; Carrera 4 No. 12-41 of. 710, Cali, Colombia; Calle 110 No. 30-45, Bogota, Colombia; DOB 12 May 1938; Cedula No. 2879530 (Colombia) (individual) [SDNT]

ARIZABALETA ARZAYUS, Phanor (a.k.a. ARIZABALETA ARZAYUS, Fanor), Avenida 39 No. 15-22, Bogota, Colombia; c/o CONSTRUCTORA ALTOS DEL RETIRO LTDA., Bogota, Colombia; c/o INVERSIONES ARIO LTDA., Cali, Colombia; Carrera 9 No. 9S-35, Buga, Colombia; Carrera 4 No. 12-41 of. 710, Cali, Colombia; Calle 110 No. 30-45, Bogota, Colombia; DOB 12 May 1938; Cedula No. 2879530 (Colombia) (individual) [SDNT]

ARIZONA S.A., Carrera 8N No. 17A-12, Cartago, Colombia; NIT # 836000489-0 (Colombia) [SDNT]

ARJONA ALVARADO, Rafael Guillermo, c/o ALPHA PHARMA S.A., Bogota, Colombia; c/o FARMATODO S.A., Bogota, Colombia; c/o LABORATORIOS BLAIMAR, Bogota, Colombia; c/o LABORATORIOS KRESSFOR DE COLOMBIA S.A., Bogota, Colombia; DOB 28 Jun 1961; Cedula No. 19442698 (Colombia) (individual) [SDNT]

ARLONE FACELLI, Roberto, c/o DISTRIBUIDORA DE DROGAS CONDOR S.A., Bogota, Colombia; DOB 24 Oct 1959; Cedula No. 16632415 (Colombia) (individual) [SDNT]

ARMAGEDON S.A., Factoria La Rivera, La Union, Valle, Colombia; NIT # 800112221-4 (Colombia) [SDNT]

ARMANDO JAAR Y CIA. S.C.S., Carrera 74 No. 76-150, Barranquilla, Colombia; NIT # 890114337-6 (Colombia) [SDNT]

ARMED ISLAMIC GROUP (a.k.a. AL-JAMA'AH AL-ISLAMIYAH AL-MUSALLAH; a.k.a. GIA; a.k.a. GROUPEMENT ISLAMIQUE ARME) [FTO] [SDGT]

ARMENTA ZAVALA, Arnoldo Humberto, Av. Pte. A. de Sta. Na. 21741, Colonia Infonavit Presidentes, Tijuana, Baja California CP 22576, Mexico; c/o CASA DE EMPENO RIO TIJUANA, S.A. DE C.V., Tijuana, Baja California, Mexico; DOB 12 Nov 1971; R.F.C. AEZA-711112-AA5 (Mexico) (individual) [SDNTK]

ARMERO RIASCOS, Jose Eliecer, Carrera 5 No. 8-00, Buenaventura, Colombia; c/o INDUSTRIA DE PESCA SOBRE EL PACIFICO S.A., Buenaventura, Colombia; Cedula No. 16471549 (Colombia) (individual) [SDNT]

ARMY OF MOHAMMED (a.k.a. JAISH-E-MOHAMMED; a.k.a. JAISH-I-MOHAMMED; a.k.a. KHUDAMUL ISLAM; a.k.a. KHUDDAM-UL-ISLAM; a.k.a. KUDDAM E ISLAMI; a.k.a. MOHAMMED'S ARMY; a.k.a. TEHRIK UL-FURQAAN), Pakistan [FTO] [SDGT]

ARMY OF THE PURE (a.k.a. AL MANSOOREEN; a.k.a. AL MANSOORIAN; a.k.a. ARMY OF THE PURE AND RIGHTEOUS; a.k.a. ARMY OF THE RIGHTEOUS; a.k.a. IDARA KHIDMAT-E-KHALQ; a.k.a. JAMA'AT AL-DAWA; a.k.a. JAMAAT UD-DAAWA; a.k.a. JAMAAT UL-DAWAH; a.k.a. JAMA'AT-I-DAWAT; a.k.a. JAMAATI-UD-DAWA; a.k.a. JAMA'AT-UD-DA'AWA; a.k.a. JAMA'AT-UD-DA'AWAH; a.k.a. JAMAAT-UD-DAWA; a.k.a. JAMAAT-UL-DAWA; a.k.a. JAMAIAT-UD-DAWA; a.k.a. LASHKAR E-TAYYIBA; a.k.a. LASHKAR E-TOIBA; a.k.a. LASHKAR-I-TAIBA; a.k.a. PAASBAN-E-AHLE-HADIS; a.k.a. PAASBAN-E-KASHMIR; a.k.a. PAASBAN-I-AHLE-HADITH; a.k.a. PASBAN-E-AHLE-HADITH; a.k.a. PASBAN-E-KASHMIR; a.k.a. “JUD”), Pakistan [SDGT] [FTO]

ARMY OF THE PURE AND RIGHTEOUS (a.k.a. AL MANSOOREEN; a.k.a. AL MANSOORIAN; a.k.a. ARMY OF THE PURE; a.k.a. ARMY OF THE RIGHTEOUS; a.k.a. IDARA KHIDMAT-E-KHALQ; a.k.a. JAMA'AT AL-DAWA; a.k.a. JAMAAT UD-DAAWA; a.k.a. JAMAAT UL-DAWAH; a.k.a. JAMA'AT-I-DAWAT; a.k.a. JAMAATI-UD-DAWA; a.k.a. JAMA'AT-UD-DA'AWA; a.k.a. JAMA'AT-UD-DA'AWAH; a.k.a. JAMAAT-UD-DAWA; a.k.a. JAMAAT-UL-DAWA; a.k.a. JAMAIAT-UD-DAWA; a.k.a. LASHKAR E-TAYYIBA; a.k.a. LASHKAR E-TOIBA; a.k.a. LASHKAR-I-TAIBA; a.k.a. PAASBAN-E-AHLE-HADIS; a.k.a. PAASBAN-E-KASHMIR; a.k.a. PAASBAN-I-AHLE-HADITH; a.k.a. PASBAN-E-AHLE-HADITH; a.k.a. PASBAN-E-KASHMIR; a.k.a. “JUD”), Pakistan [SDGT] [FTO]

ARMY OF THE REPUBLIC OF ILIRIDA (a.k.a. ARI) [BALKANS]

ARMY OF THE RIGHTEOUS (a.k.a. AL MANSOOREEN; a.k.a. AL MANSOORIAN; a.k.a. ARMY OF THE PURE; a.k.a. ARMY OF THE PURE AND RIGHTEOUS; a.k.a. IDARA KHIDMAT-E-KHALQ; a.k.a. JAMA'AT AL-DAWA; a.k.a. JAMAAT UD-DAAWA; a.k.a. JAMAAT UL-DAWAH; a.k.a. JAMA'AT-I-DAWAT; a.k.a. JAMAATI-UD-DAWA; a.k.a. JAMA'AT-UD-DA'AWA; a.k.a. JAMA'AT-UD-DA'AWAH; a.k.a. JAMAAT-UD-DAWA; a.k.a. JAMAAT-UL-DAWA; a.k.a. JAMAIAT-UD-DAWA; a.k.a. LASHKAR E-TAYYIBA; a.k.a. LASHKAR E-TOIBA; a.k.a. LASHKAR-I-TAIBA; a.k.a. PAASBAN-E-AHLE-HADIS; a.k.a. PAASBAN-E-KASHMIR; a.k.a. PAASBAN-I-AHLE-HADITH; a.k.a. PASBAN-E-AHLE-HADITH; a.k.a. PASBAN-E-KASHMIR; a.k.a. “JUD”), Pakistan [SDGT] [FTO]

ARREOLA GOMEZ, Guadalupe Armando, Mexico; DOB 25 Sept 1956; POB Saucillo, Chihuahua, Mexico; citizen Mexico; nationality Mexico (individual) [BPI-SDNTK]

ARREOLA LUNA, Oscar Ignacio (a.k.a. ARRIOLA LUNA, Oscar Ignacio), Mexico; DOB 06 Apr 1994; POB Chihuahua, Chihuahua, Mexico; citizen Mexico; nationality Mexico (individual) [BPI-SDNTK]

ARREOLA LUNA, Paola (a.k.a. ARRIOLA LUNA, Paola), Mexico; DOB 26 Jan 1986; POB Chihuahua, Chihuahua, Mexico; citizen Mexico; nationality Mexico; C.U.R.P. AILP860126MCHRNL06 (Mexico) (individual) [BPI-SDNTK]

ARREOLA MARQUEZ, Edgar (a.k.a. ARRIOLA MARQUEZ, Edgar Fernando), c/o AUTO EXPRESS DORADOS S.A. DE C.V., Saucillo, Mexico; c/o GASOLINERAS SAN FERNANDO S.A. DE C.V., Saucillo, Mexico; 5th & Mina No. 10, Saucillo, Chihuahua, Mexico; DOB 23 Nov 1973; POB Delicias, Chihuahua, Mexico; citizen Mexico; nationality Mexico; R.F.C. AIME-731123-115 (Mexico) (individual) [SDNTK]

ARREOLA MARQUEZ, Luis Raul (a.k.a. ARRIOLA MARQUEZ, Luis Raul), c/o AUTO EXPRESS DORADOS S.A. DE C.V., Saucillo, Mexico; c/o INMOBILIARIA EL PRESON S.A. DE C.V., Chihuahua, Mexico; c/o CHIHUAHUA FOODS S.A. DE C.V., Cuauhtemoc, Mexico; c/o INDIO VITORIO S. DE P.R. DE R.L. DE C.V., Saucillo, Mexico; Avenida Octava No. 72, Saucillo, Chihuahua, Mexico; Calle Sierra San Diego No. 2502, Fraccionamiento Santa Fe Chihuahua, Chihuahua, Mexico; DOB 09 May 1971; POB Saucillo, Chihuahua, Mexico; citizen Mexico; nationality Mexico; C.U.R.P. AIML710509HCHRRS09 (Mexico); alt. C.U.R.P. AEML710509HCHRRS07 (Mexico); R.F.C. AIML-710509-V89 (Mexico); alt. R.F.C. AEML-710509-Q27 (Mexico) (individual) [SDNTK]

ARREOLA MARQUEZ, Miguel Angel (a.k.a. ARRIOLA MARQUEZ, Miguel Angel), Calle Mina No. 15, Saucillo, Chihuahua, Mexico; c/o AUTO EXPRESS DORADOS S.A. DE C.V., Saucillo, Chihuahua, Mexico; c/o DEL NORTES CARNES FINAS SAN IGNACIO S.A. DE C.V., Mexico; c/o INMOBILIARIA EL ESCORPION DEL NORTE S.A. DE C.V., Mexico; c/o CORRALES SAN IGNACIO S.P.R. DE R.L. DE C.V., Mexico; Carretera Camargo-Ojinaga Km. 2, La Aurora, Camargo, Chihuahua, Mexico; c/o CORRALES SAN IGNACIO L.L.C., Presidio, TX; c/o RIO GRANDE STOCKYARDS, INC., Presidio, TX; DOB 15 Dec 1967; POB Chihuahua, Mexico; citizen Mexico; nationality Mexico; C.U.R.P. AIMM67125HCHRRG06 (Mexico) issued 1968; R.F.C. AIMM-671215-387 (Mexico) (individual) [SDNTK]

ARREOLA MARQUEZ, Oscar Arturo (a.k.a. ARRIOLA MARQUEZ, Oscar Arturo), c/o AUTO EXPRESS DORADOS S.A. DE C.V., Saucillo, Chihuahua, Mexico; Avenida Sexta No. 68, Saucillo, Chihuahua, Mexico; c/o DEL NORTES CARNES FINAS SAN IGNACIO S.A. DE C.V., Mexico; c/o INMOBILIARIA EL ESCORPION DEL NORTE S.A. DE C.V., Mexico; c/o CORRALES SAN IGNACIO S.P.R. DE R.L. DE C.V., Mexico; c/o CORRALES SAN IGNACIO L.L.C., Presidio, TX; c/o RIO GRANDE STOCKYARDS, INC., Presidio, TX; DOB 06 Nov 1968; alt. DOB 11 Jun 1968; POB Chihuahua, Mexico; citizen Mexico; nationality Mexico; C.U.R.P. AIMO681106HCHRRS01 (Mexico) issued 1969; R.F.C. AIMO-681106-9F7 (Mexico) (individual) [SDNTK]

ARRIOLA LUNA, Oscar Ignacio (a.k.a. ARREOLA LUNA, Oscar Ignacio), Mexico; DOB 06 Apr 1994; POB Chihuahua, Chihuahua, Mexico; citizen Mexico; nationality Mexico (individual) [BPI-SDNTK]

ARRIOLA LUNA, Paola (a.k.a. ARREOLA LUNA, Paola), Mexico; DOB 26 Jan 1986; POB Chihuahua, Chihuahua, Mexico; citizen Mexico; nationality Mexico; C.U.R.P. AILP860126MCHRNL06 (Mexico) (individual) [BPI-SDNTK]

ARRIOLA MARQUEZ ORGANIZATION, Mexico [SDNTK]

ARRIOLA MARQUEZ, Edgar Fernando (a.k.a. ARREOLA MARQUEZ, Edgar), c/o AUTO EXPRESS DORADOS S.A. DE C.V., Saucillo, Mexico; c/o GASOLINERAS SAN FERNANDO S.A. DE C.V., Saucillo, Mexico; 5th & Mina No. 10, Saucillo, Chihuahua, Mexico; DOB 23 Nov 1973; POB Delicias, Chihuahua, Mexico; citizen Mexico; nationality Mexico; R.F.C. AIME-731123-115 (Mexico) (individual) [SDNTK]

ARRIOLA MARQUEZ, Luis Raul (a.k.a. ARREOLA MARQUEZ, Luis Raul), c/o AUTO EXPRESS DORADOS S.A. DE C.V., Saucillo, Mexico; c/o INMOBILIARIA EL PRESON S.A. DE C.V., Chihuahua, Mexico; c/o CHIHUAHUA FOODS S.A. DE C.V., Cuauhtemoc, Mexico; c/o INDIO VITORIO S. DE P.R. DE R.L. DE C.V., Saucillo, Mexico; Avenida Octava No. 72, Saucillo, Chihuahua, Mexico; Calle Sierra San Diego No. 2502, Fraccionamiento Santa Fe Chihuahua, Chihuahua, Mexico; DOB 09 May 1971; POB Saucillo, Chihuahua, Mexico; citizen Mexico; nationality Mexico; C.U.R.P. AIML710509HCHRRS09 (Mexico); alt. C.U.R.P. AEML710509HCHRRS07 (Mexico); R.F.C. AIML-710509-V89 (Mexico); alt. R.F.C. AEML-710509-Q27 (Mexico) (individual) [SDNTK]

ARRIOLA MARQUEZ, Miguel Angel (a.k.a. ARREOLA MARQUEZ, Miguel Angel), Calle Mina No. 15, Saucillo, Chihuahua, Mexico; c/o AUTO EXPRESS DORADOS S.A. DE C.V., Saucillo, Chihuahua, Mexico; c/o DEL NORTES CARNES FINAS SAN IGNACIO S.A. DE C.V., Mexico; c/o INMOBILIARIA EL ESCORPION DEL NORTE S.A. DE C.V., Mexico; c/o CORRALES SAN IGNACIO S.P.R. DE R.L. DE C.V., Mexico; Carretera Camargo-Ojinaga Km. 2, La Aurora, Camargo, Chihuahua, Mexico; c/o CORRALES SAN IGNACIO L.L.C., Presidio, TX; c/o RIO GRANDE STOCKYARDS, INC., Presidio, TX; DOB 15 Dec 1967; POB Chihuahua, Mexico; citizen Mexico; nationality Mexico; C.U.R.P. AIMM67125HCHRRG06 (Mexico) issued 1968; R.F.C. AIMM-671215-387 (Mexico) (individual) [SDNTK]

ARRIOLA MARQUEZ, Oscar Arturo (a.k.a. ARREOLA MARQUEZ, Oscar Arturo), c/o AUTO EXPRESS DORADOS S.A. DE C.V., Saucillo, Chihuahua, Mexico; Avenida Sexta No. 68, Saucillo, Chihuahua, Mexico; c/o DEL NORTES CARNES FINAS SAN IGNACIO S.A. DE C.V., Mexico; c/o INMOBILIARIA EL ESCORPION DEL NORTE S.A. DE C.V., Mexico; c/o CORRALES SAN IGNACIO S.P.R. DE R.L. DE C.V., Mexico; c/o CORRALES SAN IGNACIO L.L.C., Presidio, TX; c/o RIO GRANDE STOCKYARDS, INC., Presidio, TX; DOB 06 Nov 1968; alt. DOB 11 Jun 1968; POB Chihuahua, Mexico; citizen Mexico; nationality Mexico; C.U.R.P. AIMO681106HCHRRS01 (Mexico) issued 1969; R.F.C. AIMO-681106-9F7 (Mexico) (individual) [SDNTK]

ARROYAVE RUIZ, Elkin Alberto (a.k.a. LOPEZ, Cesar), Carrera 9 No. 71D-10, Cali, Colombia; DOB 3 Sep 1968; POB Caucasia, Antioquia, Colombia; Cedula No. 4652820 (Colombia) (individual) [SDNTK]

ARSENOVIC, Djojo; DOB 6 Jan 1952; POB Donje Crnjelovo, Bosnia-Herzegovina (individual) [BALKANS]

ARZALLUS TAPIA, Eusebio; DOB 8 Nov 1957; POB Regil, Guipuzcoa Province, Spain; D.N.I. 15.927.207 (Spain); Member ETA (individual) [SDGT]

ASANABIL (a.k.a. AL SANABIL; a.k.a. AL-SANBAL; a.k.a. JAMI'A SANABIL; a.k.a. JAMI'A SANABIL LIL IGATHA WA AL-TANMIYZ; a.k.a. JA'MIA SANBLE LLAGHATHA WA ALTINMIA; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

ASAT TRUST REG., Altenbach 8, Vaduz 9490, Liechtenstein [SDGT]

ASBAT AL-ANSAR [FTO] [SDGT]

ASEMS E.U. (a.k.a. ASESORIAS ECONOMICAS MUNOZ SANTACOLOMA E.U.), Calle 18 No. 106-98 of. 207, Cali, Colombia; NIT # 805012381-3 (Colombia) [SDNT]

ASESORIAS COSMOS LTDA., Carrera 40 No. 6-50 apt. 13-01, Cali, Colombia [SDNT]

ASESORIAS DE INGENIERIA EMPRESA UNIPERSONAL (a.k.a. ASING E.U.), Calle 29 Norte No. 6N-43, Cali, Colombia; NIT # 805005185-7 (Colombia) [SDNT]

ASESORIAS ECONOMICAS MUNOZ SANTACOLOMA E.U. (a.k.a. ASEMS E.U.), Calle 18 No. 106-98 of. 207, Cali, Colombia; NIT # 805012381-3 (Colombia) [SDNT]

ASESORIAS PROFESIONALES ESPECIALIZADAS EN NEGOCIOS E.U. (a.k.a. ASPEN E.U.), Calle 9 No. 46-69, Cali, Colombia; NIT # 805020437-0 (Colombia) [SDNT]

ASESORIAS PROFESIONALES LTDA., Calle 21 No. 15-26, Ofc. 304, Armenia , Quindio, Colombia; NIT # 801000611-6 (Colombia) [SDNT]

ASH TRADING, INC., 14420 NW 16TH St., Pembroke Pines, FL 33028; Business Registration Document # P01000078571 (United States); US FEIN 65-1128351 [SDNT]

ASING E.U. (a.k.a. ASESORIAS DE INGENIERIA EMPRESA UNIPERSONAL), Calle 29 Norte No. 6N-43, Cali, Colombia; NIT # 805005185-7 (Colombia) [SDNT]

ASISTENCIA PROFESIONAL ESPECIALIZADA EN COLOMBIA LIMITADA (a.k.a. ASPRECOL LIMITADA), Avenida 11 Norte No. 7N-201 of. 202, Edificio Aleph, Cali, Colombia; NIT # 805021375-7 (Colombia) [SDNT]

ASKATASUNA (f.k.a. GESTORAS PRO-AMNISTIA), Spain [SDGT]

ASKATASUNA (a.k.a. BASQUE FATHERLAND AND LIBERTY; a.k.a. BATASUNA; a.k.a. EKIN; a.k.a. EPANASTATIKI PIRINES; a.k.a. ETA; a.k.a. EUSKAL HERRITARROK; a.k.a. EUZKADI TA ASKATASUNA; a.k.a. HERRI BATASUNA; a.k.a. JARRAI-HAIKA-SEGI; a.k.a. K.A.S.; a.k.a. POPULAR REVOLUTIONARY STRUGGLE; a.k.a. XAKI) [FTO] [SDGT]

ASOCIACION TURISTICA INTERNACIONAL S.C.S. (f.k.a. LUIS A. HERNANDEZ Z Y CIA. S.C.S.), Carrera 35 No. 53-53, Bogota, Colombia; NIT # 890325040-4 (Colombia) [SDNT]

ASP (a.k.a. ASSOCIATION DE SECOURS PALESTINIENS; a.k.a. ASSOCIATION FOR PALESTINIAN AID; a.k.a. ASSOCIATION SECOUR PALESTINIEN; a.k.a. HUMANITARE HILFSORGANISATION FUR PALASTINA; a.k.a. LAJNA AL-IGHATHA AL-FILISTINI; a.k.a. PALESTINE RELIEF COMMITTEE; a.k.a. PALESTINIAN AID COUNCIL; a.k.a. PALESTINIAN AID ORGANIZATION; a.k.a. PALESTINIAN RELIEF SOCIETY; a.k.a. RELIEF ASSOCIATION FOR PALESTINE), c/o Faical Yaakoubi, 7 rue de l'Ancien Port, CH-1201 Geneva, Switzerland; Gartnerstrasse 55, CH-4109 Basel, Switzerland; Postfach 406, CH-4109 Basel, Switzerland [SDGT]

ASPEN E.U. (a.k.a. ASESORIAS PROFESIONALES ESPECIALIZADAS EN NEGOCIOS E.U.), Calle 9 No. 46-69, Cali, Colombia; NIT # 805020437-0 (Colombia) [SDNT]

ASPOIR DEL PACIFICO Y CIA. LTDA., Cali, Colombia [SDNT]

ASPRECOL LIMITADA (a.k.a. ASISTENCIA PROFESIONAL ESPECIALIZADA EN COLOMBIA LIMITADA), Avenida 11 Norte No. 7N-201 of. 202, Edificio Aleph, Cali, Colombia; NIT # 805021375-7 (Colombia) [SDNT]

ASSOCIATED ENGINEERS, United Kingdom [IRAQ2]

ASSOCIATION DE SECOURS PALESTINIENS (a.k.a. ASP; a.k.a. ASSOCIATION FOR PALESTINIAN AID; a.k.a. ASSOCIATION SECOUR PALESTINIEN; a.k.a. HUMANITARE HILFSORGANISATION FUR PALASTINA; a.k.a. LAJNA AL-IGHATHA AL-FILISTINI; a.k.a. PALESTINE RELIEF COMMITTEE; a.k.a. PALESTINIAN AID COUNCIL; a.k.a. PALESTINIAN AID ORGANIZATION; a.k.a. PALESTINIAN RELIEF SOCIETY; a.k.a. RELIEF ASSOCIATION FOR PALESTINE), c/o Faical Yaakoubi, 7 rue de l'Ancien Port, CH-1201 Geneva, Switzerland; Gartnerstrasse 55, CH-4109 Basel, Switzerland; Postfach 406, CH-4109 Basel, Switzerland [SDGT]

ASSOCIATION FOR CITIZENS RIGHTS AND RESISTANCE TO LIES (a.k.a. AL FURQAN; a.k.a. ASSOCIATION FOR EDUCATION, CULTURAL, AND TO CREATE SOCIETY—SIRAT; a.k.a. ASSOCIATION FOR EDUCATION, CULTURE AND BUILDING SOCIETY—SIRAT; a.k.a. ASSOCIATION OF CITIZENS FOR THE SUPPORT OF TRUTH AND SUPPRESSION OF LIES; a.k.a. DZEMIJETUL FURKAN; a.k.a. DZEM'IJJETUL FURQAN; a.k.a. DZEMILIJATI FURKAN; a.k.a. IN SIRATEL; a.k.a. ISTIKAMET; a.k.a. SIRAT), Put Mladih Muslimana 30a, 71 000 Sarajevo, Bosnia and Herzegovina; ul. Strossmajerova 72, Zenica, Bosnia and Herzegovina; Muhameda Hadzijahica #42, Sarajevo, Bosnia and Herzegovina [SDGT]

ASSOCIATION FOR EDUCATION, CULTURAL, AND TO CREATE SOCIETY—SIRAT (a.k.a. AL FURQAN; a.k.a. ASSOCIATION FOR CITIZENS RIGHTS AND RESISTANCE TO LIES; a.k.a. ASSOCIATION FOR EDUCATION, CULTURE AND BUILDING SOCIETY—SIRAT; a.k.a. ASSOCIATION OF CITIZENS FOR THE SUPPORT OF TRUTH AND SUPPRESSION OF LIES; a.k.a. DZEMIJETUL FURKAN; a.k.a. DZEM'IJJETUL FURQAN; a.k.a. DZEMILIJATI FURKAN; a.k.a. IN SIRATEL; a.k.a. ISTIKAMET; a.k.a. SIRAT), Put Mladih Muslimana 30a, 71 000 Sarajevo, Bosnia and Herzegovina; ul. Strossmajerova 72, Zenica, Bosnia and Herzegovina; Muhameda Hadzijahica #42, Sarajevo, Bosnia and Herzegovina [SDGT]

ASSOCIATION FOR EDUCATION, CULTURE AND BUILDING SOCIETY—SIRAT (a.k.a. AL FURQAN; a.k.a. ASSOCIATION FOR CITIZENS RIGHTS AND RESISTANCE TO LIES; a.k.a. ASSOCIATION FOR EDUCATION, CULTURAL, AND TO CREATE SOCIETY—SIRAT; a.k.a. ASSOCIATION OF CITIZENS FOR THE SUPPORT OF TRUTH AND SUPPRESSION OF LIES; a.k.a. DZEMIJETUL FURKAN; a.k.a. DZEM'IJJETUL FURQAN; a.k.a. DZEMILIJATI FURKAN; a.k.a. IN SIRATEL; a.k.a. ISTIKAMET; a.k.a. SIRAT), Put Mladih Muslimana 30a, 71 000 Sarajevo, Bosnia and Herzegovina; ul. Strossmajerova 72, Zenica, Bosnia and Herzegovina; Muhameda Hadzijahica #42, Sarajevo, Bosnia and Herzegovina [SDGT]

ASSOCIATION FOR PALESTINIAN AID (a.k.a. ASP; a.k.a. ASSOCIATION DE SECOURS PALESTINIENS; a.k.a. ASSOCIATION SECOUR PALESTINIEN; a.k.a. HUMANITARE HILFSORGANISATION FUR PALASTINA; a.k.a. LAJNA AL-IGHATHA AL-FILISTINI; a.k.a. PALESTINE RELIEF COMMITTEE; a.k.a. PALESTINIAN AID COUNCIL; a.k.a. PALESTINIAN AID ORGANIZATION; a.k.a. PALESTINIAN RELIEF SOCIETY; a.k.a. RELIEF ASSOCIATION FOR PALESTINE), c/o Faical Yaakoubi, 7 rue de l'Ancien Port, CH-1201 Geneva, Switzerland; Gartnerstrasse 55, CH-4109 Basel, Switzerland; Postfach 406, CH-4109 Basel, Switzerland [SDGT]

ASSOCIATION OF CITIZENS FOR THE SUPPORT OF TRUTH AND SUPPRESSION OF LIES (a.k.a. AL FURQAN; a.k.a. ASSOCIATION FOR CITIZENS RIGHTS AND RESISTANCE TO LIES; a.k.a. ASSOCIATION FOR EDUCATION, CULTURAL, AND TO CREATE SOCIETY—SIRAT; a.k.a. ASSOCIATION FOR EDUCATION, CULTURE AND BUILDING SOCIETY—SIRAT; a.k.a. DZEMIJETUL FURKAN; a.k.a. DZEM'IJJETUL FURQAN; a.k.a. DZEMILIJATI FURKAN; a.k.a. IN SIRATEL; a.k.a. ISTIKAMET; a.k.a. SIRAT), Put Mladih Muslimana 30a, 71 000 Sarajevo, Bosnia and Herzegovina; ul. Strossmajerova 72, Zenica, Bosnia and Herzegovina; Muhameda Hadzijahica #42, Sarajevo, Bosnia and Herzegovina [SDGT]

ASSOCIATION SECOUR PALESTINIEN (a.k.a. ASP; a.k.a. ASSOCIATION DE SECOURS PALESTINIENS; a.k.a. ASSOCIATION FOR PALESTINIAN AID; a.k.a. HUMANITARE HILFSORGANISATION FUR PALASTINA; a.k.a. LAJNA AL-IGHATHA AL-FILISTINI; a.k.a. PALESTINE RELIEF COMMITTEE; a.k.a. PALESTINIAN AID COUNCIL; a.k.a. PALESTINIAN AID ORGANIZATION; a.k.a. PALESTINIAN RELIEF SOCIETY; a.k.a. RELIEF ASSOCIATION FOR PALESTINE), c/o Faical Yaakoubi, 7 rue de l'Ancien Port, CH-1201 Geneva, Switzerland; Gartnerstrasse 55, CH-4109 Basel, Switzerland; Postfach 406, CH-4109 Basel, Switzerland [SDGT]

ASTAIZA TACUMA, Luz Marina, c/o GESTORA MERCANTIL S.A., Cali, Colombia; c/o COMPANIA DE FOMENTO MERCANTIL S.A., Cali, Colombia; c/o GEOPLASTICOS S.A., Cali, Colombia; DOB 10 Nov 1957; POB Cali, Valle, Colombia; Cedula No. 31271034 (Colombia); Passport 31271034 (Colombia) (individual) [SDNT]

ATAMALLO SHIPPING CO. LTD. (a.k.a. ANTAMALLO SHIPPING CO. LTD.), c/o EMPRESA DE NAVEGACION MAMBISA, Apartado 543, San Ignacio 104, Havana, Cuba [CUBA]

ATBARA CEMENT COMPANY LIMITED, P.O. Box 36, Atbara, Sudan [SUDAN]

ATC LTD., Gibraltar, United Kingdom [LIBERIA]

A-TEAM CHEMICALS COMPANY LTD., 95/53 Soi Lasal, Sukhumwit 105 Road, Bang Na, Phra Khanong district, Bangkok, Thailand [SDNTK]

ATEF, Muhammad (a.k.a. ABDULLAH, Sheikh Taysir; a.k.a. ABU HAFS; a.k.a. ABU SITTA, Subhi; a.k.a. AL-MASRI, Abu Hafs; a.k.a. ATIF, Mohamed; a.k.a. ATIF, Muhammad; a.k.a. EL KHABIR, Abu Hafs el Masry; a.k.a. TAYSIR); DOB 1951; alt. DOB 1956; alt. DOB 1944; POB Alexandria, Egypt (individual) [SDT] [SDGT]

ATENCIA PITALUA, Rafael Dario, c/o FUNDACION PARA LA PAZ DE CORDOBA, Monteria, Cordoba, Colombia; DOB 4 Feb 1963; Cedula No. 6889653 (Colombia) (individual) [SDNTK]

ATIA, Hachim K., 2 Stratford Place, London W1N 9AE, United Kingdom (individual) [IRAQ2]

ATIA, Hachim K., Hay Al-Adil Mahala-645, Zukak-8, No.-39, Baghdad, Iraq (individual) [IRAQ2]

ATIA, Hachim K., Lane 15, Area 902, Hai Al-Wahda, Baghdad, Iraq (individual) [IRAQ2]

ATIF, Mohamed (a.k.a. ABDULLAH, Sheikh Taysir; a.k.a. ABU HAFS; a.k.a. ABU SITTA, Subhi; a.k.a. AL-MASRI, Abu Hafs; a.k.a. ATEF, Muhammad; a.k.a. ATIF, Muhammad; a.k.a. EL KHABIR, Abu Hafs el Masry; a.k.a. TAYSIR); DOB 1951; alt. DOB 1956; alt. DOB 1944; POB Alexandria, Egypt (individual) [SDT] [SDGT]

ATIF, Muhammad (a.k.a. ABDULLAH, Sheikh Taysir; a.k.a. ABU HAFS; a.k.a. ABU SITTA, Subhi; a.k.a. AL-MASRI, Abu Hafs; a.k.a. ATEF, Muhammad; a.k.a. ATIF, Mohamed; a.k.a. EL KHABIR, Abu Hafs el Masry; a.k.a. TAYSIR); DOB 1951; alt. DOB 1956; alt. DOB 1944; POB Alexandria, Egypt (individual) [SDT] [SDGT]

ATLAS AIR CONDITIONING COMPANY LIMITED, 55 Roebuck House, Palace Street, London, United Kingdom [IRAQ2]

ATLAS EQUIPMENT COMPANY LIMITED, 55 Roebuck House, Palace Street, London, United Kingdom [IRAQ2]

ATOMIC ENERGY ORGANIZATION OF IRAN (a.k.a. SAZEMAN-E ENERGY ATOMI), P.O. Box 14144-1339, End of North Karegar Avenue, Tehran, Iran [NPWMD]

ATWA, Ali (a.k.a. BOUSLIM, Ammar Mansour; a.k.a. SALIM, Hassan Rostom), Lebanon; DOB 1960; POB Lebanon; citizen Lebanon (individual) [SDGT]

ATWAH, Muhsin Musa Matwalli (a.k.a. ABDEL RAHMAN; a.k.a. ABDUL RAHMAN; a.k.a. AL-MUHAJIR, Abdul Rahman; a.k.a. AL-NAMER, Mohammed K.A.), Afghanistan; DOB 19 Jun 1964; POB Egypt; citizen Egypt (individual) [SDGT]

AUC (a.k.a. AUTODEFENSAS UNIDAS DE COLOMBIA; a.k.a. UNITED SELF-DEFENSE FORCES OF COLOMBIA) [FTO] [SDGT] [SDNTK]

AUCHENBURG FARM, Nyamandlovu, Zimbabwe [ZIMBABWE]

AUM SHINRIKYO (a.k.a. A.I.C. COMPREHENSIVE RESEARCH INSTITUTE; a.k.a. A.I.C. SOGO KENKYUSHO; a.k.a. ALEPH; a.k.a. AUM SUPREME TRUTH) [FTO] [SDGT]

AUM SUPREME TRUTH (a.k.a. A.I.C. COMPREHENSIVE RESEARCH INSTITUTE; a.k.a. A.I.C. SOGO KENKYUSHO; a.k.a. ALEPH; a.k.a. AUM SHINRIKYO) [FTO] [SDGT]

AUREAL INMOBILIARIA LTDA., Avenida 7 No. 112-38 of. 104, Bogota, Colombia [SDNT]

AURELIANO FELIX, Jorge (a.k.a. “MACUMBA”); DOB 15 Apr 1952; nationality Mexico (individual) [SDNTK]

AUTO EXPRESS DORADOS S.A. DE C.V., Panamericana 110 Colonia Altavista, Saucillo, Chihuahua C.P. 33620, Mexico; Avenida Cristobal Colon, Saucillo, Chihuahua, Mexico [SDNTK]

AUTODEFENSAS UNIDAS DE COLOMBIA (a.k.a. AUC; a.k.a. UNITED SELF-DEFENSE FORCES OF COLOMBIA) [FTO] [SDGT] [SDNTK]

AUTOMOBILE CORPORATION, Khartoum, Sudan [SUDAN]

AUTOSERVICIO CIUDAD JARDIN (a.k.a. AUTOSERVICIO PENON; a.k.a. DISTRIBUCIONES GLOMIL LTDA.), Carrera 2 Oeste No. 2-54 ap. 201, Cali, Colombia; Carrera 105 No. 15A-53, Cali, Colombia; Avenida Colombia No. 2-45, Cali, Colombia; NIT # 805008233-6 (Colombia) [SDNT]

AUTOSERVICIO PENON (a.k.a. AUTOSERVICIO CIUDAD JARDIN; a.k.a. DISTRIBUCIONES GLOMIL LTDA.), Carrera 2 Oeste No. 2-54 ap. 201, Cali, Colombia; Carrera 105 No. 15A-53, Cali, Colombia; Avenida Colombia No. 2-45, Cali, Colombia; NIT # 805008233-6 (Colombia) [SDNT]

AVALON, S.A., Colon Free Zone, Panama [CUBA]

AVENDANO GUTIERREZ, Francisco Eduardo, Carrera 8 No. 66-21 apt. 204, Bogota, Colombia; Transversal 1A No. 69-54 apt. 502, Bogota, Colombia; c/o LABORATORIOS GENERICOS VETERINARIOS, Bogota, Colombia; c/o CONSTRUCCIONES AVENDANO GUTIERREZ Y CIA. LTDA., Bogota, Colombia; DOB 3 Jul 1960; Cedula No. 16645182 (Colombia) (individual) [SDNT]

AVIA IMPORT (a.k.a. ANGLO-CARIBBEAN CO., LTD.), Ibex House, The Minories, London EC3N 1DY, United Kingdom [CUBA]

AVIABAS (a.k.a. AIR BAS; a.k.a. AIR BASS; a.k.a. AIRBAS TRANSPORTATION FZE; a.k.a. AIRBAS TRANSPORTATION INC.), P.O. Box 8299, Sharjah, United Arab Emirates; 811 S. Central Expwy, Ste 210, Richardson, TX 75080 [LIBERIA]

AVIANDINA S.A.C., Lima, Peru; RUC # 20423916541 (Peru) [BPI-SDNTK]

AVIATRANS ANSTALT (a.k.a. AVIATRANS ESTABLISHMENT), Ruggell, Liechtenstein [IRAQ2]

AVIATRANS ESTABLISHMENT (a.k.a. AVIATRANS ANSTALT), Ruggell, Liechtenstein [IRAQ2]

AVILA BARBOSA, Edilberto, c/o GAD S.A., La Union, Valle, Colombia; c/o CASA GRAJALES S.A., La Union, Valle, Colombia; c/o FREXCO S.A., La Union, Valle, Colombia; c/o INTERNATIONAL FREEZE DRIED S.A., Bogota, Colombia; DOB 28 Apr 1963; POB Bogota, Colombia; Cedula No. 79041212 (Colombia) (individual) [SDNT]

AVILA DE MONDRAGON, Ana Dolores, c/o COMPAX LTDA., Cali, Colombia; c/o INVERSIONES Y CONSTRUCCIONES COSMOVALLE LTDA., Cali, Colombia; c/o INVERSIONES Y CONSTRUCCIONES ABC S.A., Cali, Colombia; DOB 22 Dec 1911; Cedula No. 29183223 (Colombia) (individual) [SDNT]

AVILA GONZALEZ, Humberto, c/o ADMINISTRADORA DE SERVICIOS VARIOS CALIMA S.A., Cali, Colombia; c/o CHAMARTIN S.A., Cali, Colombia; DOB 2 Apr 1960; Cedula No. 14882052 (Colombia); Passport 14882052 (Colombia) (individual) [SDNT]

AVILA LOPEZ, Gabriel, c/o ADMINISTRADORA DE SERVICIOS VARIOS CALIMA S.A., Cali, Colombia; c/o CHAMARTIN S.A., Cali, Colombia; DOB 3 Aug 1963; Cedula No. 16689631 (Colombia); Passport 16689631 (Colombia) (individual) [SDNT]

AVILA MIRANDA, Jorge Adalberto, c/o CAUCALITO LTDA., Cali, Colombia; Calle 52N No. 2D-29, Cali, Colombia; DOB 23 Apr. 1950; Cedula No. 12534286 (Colombia) (individual) [SDNT]

AVILES, Jesus Labra (a.k.a. LABRA AVILES, Jesus Abraham; a.k.a. “CHUY LABRA”); DOB 1945; nationality Mexico (individual) [SDNTK]

AWAD, Munir A. (a.k.a. AL-KUBAISI, Muneer; a.k.a. AL-KUBAYSI, Munir; a.k.a. AL-QUBAYSI, Munir; a.k.a. AWAD, Munir Mamduh), Syria; DOB 1966; POB Heet, Iraq; nationality Iraq (individual) [IRAQ2]

AWAD, Munir Mamduh (a.k.a. AL-KUBAISI, Muneer; a.k.a. AL-KUBAYSI, Munir; a.k.a. AL-QUBAYSI, Munir; a.k.a. AWAD, Munir A.), Syria; DOB 1966; POB Heet, Iraq; nationality Iraq (individual) [IRAQ2]

AWDA, Abd Al Aziz; DOB 1946; Chief Ideological Figure of PALESTINIAN ISLAMIC JIHAD—SHIQAQI (individual) [SDT]

AWES, Shaykh Hassan Dahir (a.k.a. ALI, Sheikh Hassan Dahir Aweys; a.k.a. AWEYS, Hassan Dahir); DOB 1935; citizen Somalia (individual) [SDGT]

AWEYS, Dahir Ubeidullahi, Via Cipriano Facchinetti 84, Rome, Italy (individual) [SDGT]

AWEYS, Hassan Dahir (a.k.a. ALI, Sheikh Hassan Dahir Aweys; a.k.a. AWES, Shaykh Hassan Dahir); DOB 1935; citizen Somalia (individual) [SDGT]

AYADI CHAFIK, Ben Muhammad (a.k.a. AIADI, Ben Muhammad; a.k.a. AIADY, Ben Muhammad; a.k.a. AYADI SHAFIQ, Ben Muhammad; a.k.a. BIN MUHAMMAD, Ayadi Chafiq), Helene Meyer Ring 10-1415-80809, Munich, Germany; 129 Park Road, NW8, London, United Kingdom; 28 Chaussee de Lille, Mouscron, Belgium; Darvingasse 1/2/58-60, Vienna, Austria; Tunisia; DOB 21 Jan 1963; POB Safais (Sfax), Tunisia (individual) [SDGT]

AYADI SHAFIQ, Ben Muhammad (a.k.a. AIADI, Ben Muhammad; a.k.a. AIADY, Ben Muhammad; a.k.a. AYADI CHAFIK, Ben Muhammad; a.k.a. BIN MUHAMMAD, Ayadi Chafiq), Helene Meyer Ring 10-1415-80809, Munich, Germany; 129 Park Road, NW8, London, United Kingdom; 28 Chaussee de Lille, Mouscron, Belgium; Darvingasse 1/2/58-60, Vienna, Austria; Tunisia; DOB 21 Jan 1963; POB Safais (Sfax), Tunisia (individual) [SDGT]

AYALA BURBANO, Vilma Eddy, c/o COOPERATIVA MERCANTIL DEL SUR LTDA., Pasto, Colombia; Cedula No. 30730438 (Colombia); Passport 30730438 (Colombia) (individual) [SDNT]

AYARI, Chiheb Ben Mohamed (a.k.a. AL-AYARI, Chiheb Ben Mohamed Ben Mokhtar; a.k.a. “HICHEM ABU HCHEM”), Via di Saliceto n.51/9, Bologna, Italy; DOB 19 Dec 1965; POB Tunis, Tunisia; nationality Tunisia; Passport L246084 issued 10 Jun 1996 expires 9 Jun 2001 (individual) [SDGT]

AZAD, Rony (a.k.a. AL GHOZI, Fathur Rahman; a.k.a. AL GHOZI, Fathur Rohman; a.k.a. ALGHOZI, Fathur Rahman; a.k.a. AL-GHOZI, Fathur Rahman; a.k.a. ALGHOZI, Fathur Rohman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALI, Randy; a.k.a. ALIH, Randy; a.k.a. ALIH, Randy Adam; a.k.a. BIN AHAD, Rony Azad; a.k.a. BIN AHMAD, Rony Azad; a.k.a. BIN AMAD, Rony Azad; a.k.a. EDRIS, Anwar Rodin; a.k.a. JAMIL, Sammy Sali; a.k.a. JAMIL, Sammy Salih; a.k.a. RANDY, Alih; a.k.a. “ABU SA'AD”; a.k.a. “ABU SAAD”; a.k.a. “FREEDOM FIGHTER”); DOB 17 Feb 1971; POB Madiun, East Java, Indonesia; nationality Indonesia; Passport GG 672613 (Philippines) (individual) [SDGT]

AZIZ, Abdul Hamid Abdul (a.k.a. ANIS, Ibrahim Shaikh Mohd; a.k.a. DILIP, Aziz; a.k.a. EBRAHIM, Dawood; a.k.a. HASAN, Shaikh Daud; a.k.a. HASSAN, Dawood; a.k.a. IBRAHIM, Anis; a.k.a. IBRAHIM, Dawood; a.k.a. IBRAHIM, Dawood Sheik; a.k.a. KASKAR, Dawood Ibrahim; a.k.a. REHMAN, Shaikh Ismail Abdul; a.k.a. SABRI, Dawood; a.k.a. SAHEB, Amir; a.k.a. SETH, Iqbal), 617 CP Berar Society, Block 7-8, Karachi, Pakistan; House No. 37, Street 30, Phase V, Defence Housing Authority, Karachi, Pakistan; White House, Al-Wassal Road, Jumeira, Dubai, United Arab Emirates; 33-36, Pakmodiya Street, Haji Musafirkhana, Dongri, Bombay, India; House No. 10, Hill Top Arcade, Defence Housing Authority, Karachi, Pakistan; Moin Palace, 2nd Floor, Opp. Abdullah Shah Gazi Dargah, Clifton, Karachi, Pakistan; DOB 26 Dec 1955; alt. DOB 31 Dec 1955; POB Ratnagiri, Maharashtra, India; citizen India alt. United Arab Emirates; alt. Pakistan; nationality India; Passport A-717288 (United Arab Emirates) issued 18 Aug 1985; alt. Passport F-823692 (Yemen) issued 02 Sep 1989; alt. Passport G-869537 (Pakistan); alt. Passport G-866537 (Pakistan) issued 12 Aug 1991; alt. Passport V-57865 (India) issued 03 Oct 1983; alt. Passport K-560098 (India) issued 30 Jul 1975; alt. Passport P-537849 (India) issued 30 Jul 1979; alt. Passport A-501801 (India) issued 26 Jul 1985; alt. Passport A-333602 (India) issued 04 Jun 1985; alt. Passport R-841697 (India) issued 26 Nov 1981; alt. Passport M-110522 (India) issued 13 Nov 1978 (individual) [SDGT] [SDNTK]

AZIZ, Mohammad (a.k.a. AFGHAN, Shear; a.k.a. AFGHAN, Sher; a.k.a. AFGHAN, Shir; a.k.a. KHAN, Abdullah); DOB 1962; alt. DOB 1959; POB Pakistan (individual) [SDNTK]

AZIZ, Tariq (a.k.a. AZIZ, Tariq Mikhail); DOB 1 Jul 1936; POB Mosul or Baghdad, Iraq; nationality Iraq; Passport NO34409/129 issued July 1997; Deputy Prime Minister (individual) [IRAQ2]

AZIZ, Tariq Mikhail (a.k.a. AZIZ, Tariq); DOB 1 Jul 1936; POB Mosul or Baghdad, Iraq; nationality Iraq; Passport NO34409/129 issued July 1997; Deputy Prime Minister (individual) [IRAQ2]

BA TAQWA FOR COMMERCE AND REAL ESTATE COMPANY LIMITED (n.k.a. HOCHBURG, AG), Vaduz, Liechtenstein; formerly c/o Asat Trust reg., Vaduz, Liechtenstein [SDGT]

BAASYIR, Abu Bakar (a.k.a. BA'ASYIR, Abu Bakar; a.k.a. BASHIR, Abu Bakar; a.k.a. “ABDUS SAMAD”; a.k.a. “ABDUS SOMAD”); DOB 17 Aug 1938; POB Jombang, East Java, Indonesia; nationality Indonesia (individual) [SDGT]

BA'ASYIR, Abu Bakar (a.k.a. BAASYIR, Abu Bakar; a.k.a. BASHIR, Abu Bakar; a.k.a. “ABDUS SAMAD”; a.k.a. “ABDUS SOMAD”); DOB 17 Aug 1938; POB Jombang, East Java, Indonesia; nationality Indonesia (individual) [SDGT]

BAAZAOUI, Mondher (a.k.a. AL-BAAZAOUI, Mondher Ben Mohsen Ben Ali; a.k.a. “HAMZA”), Via di Saliceto n.51/9, Bologna, Italy; DOB 18 Mar 1967; POB Kairouan, Tunisia; nationality Tunisia; Passport K602878 issued 5 Nov 1993 expires 9 Jun 2001 (individual) [SDGT]

BABANOUSA MILK PRODUCTS FACTORY, P.O. Box 16, Babanousa, Sudan [SUDAN]

BABBAR KHALSA INTERNATIONAL [SDGT]

BABESTAN, Abeni O. (a.k.a. OGUNGBUYI, Abeni O.; a.k.a. SHOFESO, Olatutu Temitope); DOB 30 JUN 52; POB Nigeria (individual) [SDNTK]

BABESTAN, Wole A. (a.k.a. ADEMULERO, Babestan Oluwole; a.k.a. OGUNGBUYI, Oluwole A.; a.k.a. OGUNGBUYI, Wally; a.k.a. OGUNGBUYI, Wole A.; a.k.a. SHOFESO, Olatude I.; a.k.a. SHOFESO, Olatunde Irewole); DOB 4 MAR 53; POB Nigeria (individual) [SDNTK]

BABIL INTERNATIONAL, Aeroport D'Orly, 94390 Orly Aerogare, France [IRAQ2]

BADAT, Muhammed (a.k.a. BADAT, Saajid; a.k.a. BADAT, Sajid; a.k.a. BADAT, Sajid Mohammed; a.k.a. BADAT, Sajid Muhammad; a.k.a. BADET, Muhammed; a.k.a. BADET, Saajid Mohammad; a.k.a. BADET, Sajid Muhammad; a.k.a. “AL BRITAINI, Issa”; a.k.a. “AL PAKISTANI, Abu Issa”; a.k.a. “AL PAKISTANI, Issa”); DOB 28 Mar 1979; alt. DOB 8 Mar 1976; POB Pakistan; alt. POB Gloucester, United Kingdom; citizen United Kingdom; Passport 703114075 (United Kingdom); alt. Passport 026725401 (United Kingdom); Currently imprisoned in the United Kingdom (individual) [SDGT]

BADAT, Saajid (a.k.a. BADAT, Muhammed; a.k.a. BADAT, Sajid; a.k.a. BADAT, Sajid Mohammed; a.k.a. BADAT, Sajid Muhammad; a.k.a. BADET, Muhammed; a.k.a. BADET, Saajid Mohammad; a.k.a. BADET, Sajid Muhammad; a.k.a. “AL BRITAINI, Issa”; a.k.a. “AL PAKISTANI, Abu Issa”; a.k.a. “AL PAKISTANI, Issa”); DOB 28 Mar 1979; alt. DOB 8 Mar 1976; POB Pakistan; alt. POB Gloucester, United Kingdom; citizen United Kingdom; Passport 703114075 (United Kingdom); alt. Passport 026725401 (United Kingdom); Currently imprisoned in the United Kingdom (individual) [SDGT]

BADAT, Sajid (a.k.a. BADAT, Muhammed; a.k.a. BADAT, Saajid; a.k.a. BADAT, Sajid Mohammed; a.k.a. BADAT, Sajid Muhammad; a.k.a. BADET, Muhammed; a.k.a. BADET, Saajid Mohammad; a.k.a. BADET, Sajid Muhammad; a.k.a. “AL BRITAINI, Issa”; a.k.a. “AL PAKISTANI, Abu Issa”; a.k.a. “AL PAKISTANI, Issa”); DOB 28 Mar 1979; alt. DOB 8 Mar 1976; POB Pakistan; alt. POB Gloucester, United Kingdom; citizen United Kingdom; Passport 703114075 (United Kingdom); alt. Passport 026725401 (United Kingdom); Currently imprisoned in the United Kingdom (individual) [SDGT]

BADAT, Sajid Mohammed (a.k.a. BADAT, Muhammed; a.k.a. BADAT, Saajid; a.k.a. BADAT, Sajid; a.k.a. BADAT, Sajid Muhammad; a.k.a. BADET, Muhammed; a.k.a. BADET, Saajid Mohammad; a.k.a. BADET, Sajid Muhammad; a.k.a. “AL BRITAINI, Issa”; a.k.a. “AL PAKISTANI, Abu Issa”; a.k.a. “AL PAKISTANI, Issa”); DOB 28 Mar 1979; alt. DOB 8 Mar 1976; POB Pakistan; alt. POB Gloucester, United Kingdom; citizen United Kingdom; Passport 703114075 (United Kingdom); alt. Passport 026725401 (United Kingdom); Currently imprisoned in the United Kingdom (individual) [SDGT]

BADAT, Sajid Muhammad (a.k.a. BADAT, Muhammed; a.k.a. BADAT, Saajid; a.k.a. BADAT, Sajid; a.k.a. BADAT, Sajid Mohammed; a.k.a. BADET, Muhammed; a.k.a. BADET, Saajid Mohammad; a.k.a. BADET, Sajid Muhammad; a.k.a. “AL BRITAINI, Issa”; a.k.a. “AL PAKISTANI, Abu Issa”; a.k.a. “AL PAKISTANI, Issa”); DOB 28 Mar 1979; alt. DOB 8 Mar 1976; POB Pakistan; alt. POB Gloucester, United Kingdom; citizen United Kingdom; Passport 703114075 (United Kingdom); alt. Passport 026725401 (United Kingdom); Currently imprisoned in the United Kingdom (individual) [SDGT]

BADET, Muhammed (a.k.a. BADAT, Muhammed; a.k.a. BADAT, Saajid; a.k.a. BADAT, Sajid; a.k.a. BADAT, Sajid Mohammed; a.k.a. BADAT, Sajid Muhammad; a.k.a. BADET, Saajid Mohammad; a.k.a. BADET, Sajid Muhammad; a.k.a. “AL BRITAINI, Issa”; a.k.a. “AL PAKISTANI, Abu Issa”; a.k.a. “AL PAKISTANI, Issa”); DOB 28 Mar 1979; alt. DOB 8 Mar 1976; POB Pakistan; alt. POB Gloucester, United Kingdom; citizen United Kingdom; Passport 703114075 (United Kingdom); alt. Passport 026725401 (United Kingdom); Currently imprisoned in the United Kingdom (individual) [SDGT]

BADET, Saajid Mohammad (a.k.a. BADAT, Muhammed; a.k.a. BADAT, Saajid; a.k.a. BADAT, Sajid; a.k.a. BADAT, Sajid Mohammed; a.k.a. BADAT, Sajid Muhammad; a.k.a. BADET, Muhammed; a.k.a. BADET, Sajid Muhammad; a.k.a. “AL BRITAINI, Issa”; a.k.a. “AL PAKISTANI, Abu Issa”; a.k.a. “AL PAKISTANI, Issa”); DOB 28 Mar 1979; alt. DOB 8 Mar 1976; POB Pakistan; alt. POB Gloucester, United Kingdom; citizen United Kingdom; Passport 703114075 (United Kingdom); alt. Passport 026725401 (United Kingdom); Currently imprisoned in the United Kingdom (individual) [SDGT]

BADET, Sajid Muhammad (a.k.a. BADAT, Muhammed; a.k.a. BADAT, Saajid; a.k.a. BADAT, Sajid; a.k.a. BADAT, Sajid Mohammed; a.k.a. BADAT, Sajid Muhammad; a.k.a. BADET, Muhammed; a.k.a. BADET, Saajid Mohammad; a.k.a. “AL BRITAINI, Issa”; a.k.a. “AL PAKISTANI, Abu Issa”; a.k.a. “AL PAKISTANI, Issa”); DOB 28 Mar 1979; alt. DOB 8 Mar 1976; POB Pakistan; alt. POB Gloucester, United Kingdom; citizen United Kingdom; Passport 703114075 (United Kingdom); alt. Passport 026725401 (United Kingdom); Currently imprisoned in the United Kingdom (individual) [SDGT]

BADRI, Gabril Abdul Kareem (a.k.a. BAREY, Djibril Abdul Kareem; a.k.a. BARI, Gabril Abdul Karim; a.k.a. KAREEM, Djibril Abdul), Darfur, Sudan; DOB circa 1961; Colonel for the National Movement for Reform and Development (NMRD) (individual) [SUDAN]

BAEZA MOLINA, Carlos Alberto, c/o DERECHO INTEGRAL Y CIA. LTDA., Cali, Colombia; c/o INVERSIONES MIGUEL RODRIGUEZ E HIJO, Cali, Colombia; DOB 6 Mar 1958; Cedula No. 16621765 (Colombia) (individual) [SDNT]

BAHAJI, Said, 12 Rue Descartes, Meknes, Morocco; Bunatwiete #23, Hamburg 21073, Germany; Marienstr #54, Hamburg 21073, Germany; Wiesendamm #135, Hamburg 22303, Germany; DOB 15 Jul 1975; POB Haselunne, Lower Saxony, Germany; nationality Morocco alt. Germany (individual) [SDGT]

BAHAMAD (a.k.a. AHMED THE TALL; a.k.a. ALLY, Ahmed; a.k.a. BAHAMAD, Sheik; a.k.a. BAHAMADI, Sheikh; a.k.a. SUWEIDAN, Sheikh Ahmad Salem; a.k.a. SWEDAN, Sheikh; a.k.a. SWEDAN, Sheikh Ahmed Salem; a.k.a. SWEDAN, Sheikh Ahmed Salim); DOB 9 Apr 1969; alt. DOB 9 Apr 1960; POB Mombasa, Kenya; citizen Kenya (individual) [SDGT]

BAHAMAD, Sheik (a.k.a. AHMED THE TALL; a.k.a. ALLY, Ahmed; a.k.a. BAHAMAD; a.k.a. BAHAMADI, Sheikh; a.k.a. SUWEIDAN, Sheikh Ahmad Salem; a.k.a. SWEDAN, Sheikh; a.k.a. SWEDAN, Sheikh Ahmed Salem; a.k.a. SWEDAN, Sheikh Ahmed Salim); DOB 9 Apr 1969; alt. DOB 9 Apr 1960; POB Mombasa, Kenya; citizen Kenya (individual) [SDGT]

BAHAMADI, Sheikh (a.k.a. AHMED THE TALL; a.k.a. ALLY, Ahmed; a.k.a. BAHAMAD; a.k.a. BAHAMAD, Sheik; a.k.a. SUWEIDAN, Sheikh Ahmad Salem; a.k.a. SWEDAN, Sheikh; a.k.a. SWEDAN, Sheikh Ahmed Salem; a.k.a. SWEDAN, Sheikh Ahmed Salim); DOB 9 Apr 1969; alt. DOB 9 Apr 1960; POB Mombasa, Kenya; citizen Kenya (individual) [SDGT]

BAHNAM, Hikmat Jarjes (a.k.a. GARGEES, Hikmat), Baghdad, Iraq; nationality Iraq; Passport 035667 (Iraq) (individual) [IRAQ2]

BAJAGIC, Zvonko 'Duga Puska'; DOB 6 Sep 1953; POB Vlasenica, Bosnia-Herzegovina (individual) [BALKANS]

BAKR, Abu (a.k.a. AHMAD, Abu Bakr; a.k.a. “AHMED THE TANZANIAN”; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. “FOOPIE”; a.k.a. “FUPI”; a.k.a. GHAILANI, Abubakary Khalfan Ahmed; a.k.a. GHAILANI, Ahmed; a.k.a. GHAILANI, Ahmed Khalfan; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

BALA, Haradin; DOB 10 Jun 1957; POB Gornja Koretica, Serbia and Montenegro; ICTY indictee (individual) [BALKANS]

BALLESTAS ARRIETA, Arturo Carlos, c/o CAJA SOLIDARIA, Bogota, Colombia; c/o COOMULCOSTA, Barranquilla, Colombia; c/o COPSERVIR LTDA., Bogota, Colombia; Cedula No. 8706711 (Colombia) (individual) [SDNT]

BAMBOO CREEK FARM, Shamva, Zimbabwe [ZIMBABWE]

BANAGRICOLA S.A. (a.k.a. BANANERA AGRICOLA S.A.), Carrera 2B No. 26-12, Santa Marta, Colombia; NIT # 800142651-6 (Colombia) [SDNT]

BANANERA AGRICOLA S.A. (a.k.a. BANAGRICOLA S.A.), Carrera 2B No. 26-12, Santa Marta, Colombia; NIT # 800142651-6 (Colombia) [SDNT]

BANCO NACIONAL DE CUBA (a.k.a. BNC; a.k.a. NATIONAL BANK OF CUBA), Zweierstrasse 35, CH-8022 Zurich, Switzerland [CUBA]

BANCO NACIONAL DE CUBA (a.k.a. BNC; a.k.a. NATIONAL BANK OF CUBA), Avenida de Concha Espina 8, E-28036 Madrid, Spain [CUBA]

BANCO NACIONAL DE CUBA (a.k.a. BNC; a.k.a. NATIONAL BANK OF CUBA), Dai-Ichi Bldg. 6th Floor, 10-2 Nihombashi, 2-chome, Chuo-ku, Tokyo 103, Japan [CUBA]

BANCO NACIONAL DE CUBA (a.k.a. BNC; a.k.a. NATIONAL BANK OF CUBA), Federico Boyd Avenue & 51 Street, Panama City, Panama [CUBA]

BANDERAS, Aracelly, c/o AGROPECUARIA LA ROBLEDA S.A., Cali, Colombia; DOB 30 Nov 1955 (individual) [SDNT]

BANGKOK ARTI-FLORA DESIGN LIMITED PARTNERSHIP (a.k.a. HANG HUN SUAN CHAMKAT BANG KOK ATHI-FLORA DISAIN), 812/89 Ratchada Phisek Road, Din Daeng precinct, Huai Khwang district, Bangkok, Thailand [SDNTK]

BANGKOK SILK FLOWER COMPANY LTD., 277-279 Soi Thiam Ruammit, Ratchada Phisek Road, Huai Khwang district, Bangkok, Thailand [SDNTK]

BANK AL TAQWA (a.k.a. AL TAQWA BANK; a.k.a. BANK AL TAQWA LIMITED), P.O. Box N-4877, Nassau, Bahamas, The; c/o Arthur D. Hanna & Company, 10 Deveaux Street, Nassau, Bahamas, The [SDGT]

BANK AL TAQWA LIMITED (a.k.a. AL TAQWA BANK; a.k.a. BANK AL TAQWA), P.O. Box N-4877, Nassau, Bahamas, The; c/o Arthur D. Hanna & Company, 10 Deveaux Street, Nassau, Bahamas, The [SDGT]

BANK OF KHARTOUM (a.k.a. BANK OF KHARTOUM GROUP), P.O. Box 1008, Khartoum, Sudan; P.O. Box 312, Khartoum, Sudan; P.O. Box 880, Khartoum, Sudan; P.O. Box 2732, Khartoum, Sudan; P.O. Box 408, Barlaman Avenue, Khartoum, Sudan; P.O. Box 67, Omdurman, Sudan; P.O. Box 241, Port Sudan, Sudan; P.O. Box 131, Wad Medani, Sudan; Abu Hammad, Sudan; Abugaouta, Sudan; Assalaya, Sudan; P.O. Box 89, Atbara, Sudan; Berber, Sudan; Dongola, Sudan; El Daba, Sudan; El Dain, Sudan; El Damazeen, Sudan; El Damer, Sudan; El Dilling, Sudan; El Dinder, Sudan; El Fashir, Sudan; El Fow, Sudan; El Gadarit, Sudan; El Garia, Sudan; El Ghadder, Sudan; El Managil, Sudan; El Mazmoum, Sudan; P.O. Box 220, El Obeid, Sudan; El Rahad, Sudan; El Roseirs, Sudan; El Suk el Shabi, Sudan; Halfa el Gadida, Sudan; Karima, Sudan; Karkoug, Sudan; Kassala, Sudan; Omdurman P.O. Square, P.O. Box 341, Khartoum, Sudan; Sharia el Barlaman, P.O. Box 922, Khartoum, Sudan; Sharia el Gama'a, P.O. Box 880, Khartoum, Sudan; Sharia el Gamhoria, P.O. Box 312, Khartoum, Sudan; Sharia el Murada, Khartoum, Sudan; Tayar Murad, P.O. Box 922, Khartoum, Sudan; Suk el Arabi, P.O. Box 4160, Khartoum, Sudan; University of Khartoum, Khartoum, Sudan; P.O. Box 12, Kosti, Sudan; P.O. Box 135, Nyala, Sudan; Rabak, Sudan; Rufaa, Sudan; Sawakin, Sudan; Shendi, Sudan; Singa, Sudan; Tamboul, Sudan; Tandalti, Sudan; Tokar, Sudan; Wadi Halfa, Sudan [SUDAN]

BANK OF KHARTOUM GROUP (a.k.a. BANK OF KHARTOUM), P.O. Box 1008, Khartoum, Sudan; P.O. Box 312, Khartoum, Sudan; P.O. Box 880, Khartoum, Sudan; P.O. Box 2732, Khartoum, Sudan; P.O. Box 408, Barlaman Avenue, Khartoum, Sudan; P.O. Box 67, Omdurman, Sudan; P.O. Box 241, Port Sudan, Sudan; P.O. Box 131, Wad Medani, Sudan; Abu Hammad, Sudan; Abugaouta, Sudan; Assalaya, Sudan; P.O. Box 89, Atbara, Sudan; Berber, Sudan; Dongola, Sudan; El Daba, Sudan; El Dain, Sudan; El Damazeen, Sudan; El Damer, Sudan; El Dilling, Sudan; El Dinder, Sudan; El Fashir, Sudan; El Fow, Sudan; El Gadarit, Sudan; El Garia, Sudan; El Ghadder, Sudan; El Managil, Sudan; El Mazmoum, Sudan; P.O. Box 220, El Obeid, Sudan; El Rahad, Sudan; El Roseirs, Sudan; El Suk el Shabi, Sudan; Halfa el Gadida, Sudan; Karima, Sudan; Karkoug, Sudan; Kassala, Sudan; Omdurman P.O. Square, P.O. Box 341, Khartoum, Sudan; Sharia el Barlaman, P.O. Box 922, Khartoum, Sudan; Sharia el Gama'a, P.O. Box 880, Khartoum, Sudan; Sharia el Gamhoria, P.O. Box 312, Khartoum, Sudan; Sharia el Murada, Khartoum, Sudan; Tayar Murad, P.O. Box 922, Khartoum, Sudan; Suk el Arabi, P.O. Box 4160, Khartoum, Sudan; University of Khartoum, Khartoum, Sudan; P.O. Box 12, Kosti, Sudan; P.O. Box 135, Nyala, Sudan; Rabak, Sudan; Rufaa, Sudan; Sawakin, Sudan; Shendi, Sudan; Singa, Sudan; Tamboul, Sudan; Tandalti, Sudan; Tokar, Sudan; Wadi Halfa, Sudan [SUDAN]

BANK OF SUDAN, Sharia El Gamaa, P.O. Box 313, Khartoum, Sudan; Atbara, Sudan; P.O. Box 27, El Obeid, Sudan; P.O. Box 136, Juba, Sudan; P.O. Box 73, Kosti, Sudan; Nyala, Sudan; P.O. Box 34, Port Sudan, Sudan; Wad Medani, Sudan; Wau, Sudan [SUDAN]

BANOVIC, Predrag; DOB 28 Oct 1969; POB Prijedor, Bosnia-Herzegovina; ICTY indictee in custody (individual) [BALKANS]

BARACO CO. (a.k.a. AL-BARAKAT INTERNATIONAL), Box 2923, Dubai, United Arab Emirates [SDGT]

BARAKA TRADING COMPANY, P.O. Box 3313, Dubai, United Arab Emirates [SDGT]

BARAKA TRADING COMPANY (a.k.a. BARAKO TRADING COMPANY LLC), P.O. Box 3313, Dubai, United Arab Emirates [SDGT]

BARAKAAT BANK OF SOMALIA (a.k.a. AL-BARAKAAT BANK OF SOMALIA; a.k.a. BBS), Mogadishu, Somalia; Bossaso, Somalia [SDGT]

BARAKAAT BOSTON, 266 Neponset Ave., Apt 43, Dorchester, MA 02122-3224 [SDGT]

BARAKAAT CONSTRUCTION COMPANY, P.O. Box 3313, Dubai, United Arab Emirates [SDGT]

BARAKAAT GLOBETELCOMPANY (a.k.a. AL-BARAKAT GLOBAL TELECOMMUNICATIONS), P.O. Box 3313, Dubai, United Arab Emirates; Mogadishu, Somalia; Hargeysa, Somalia [SDGT]

BARAKAAT GROUP OF COMPANIES, P.O. Box 3313, Dubai, United Arab Emirates; Mogadishu, Somalia [SDGT]

BARAKAAT INTERNATIONAL, Hallbybacken 15, Spanga 70, Sweden [SDGT]

BARAKAAT INTERNATIONAL COMPANIES (BICO), Mogadishu, Somalia; Dubai, United Arab Emirates [SDGT]

BARAKAAT INTERNATIONAL FOUNDATION, Rinkebytorget 1, Spanga 04, Sweden; P.O. Box 4036, Spanga, Sweden [SDGT]

BARAKAAT INTERNATIONAL, INC., 1929 South 5th Street, Suite 205, Minneapolis, MN [SDGT]

BARAKAAT NORTH AMERICA, INC., 925 Washington St., Dorchester, MA; 2019 Bank St., Ottawa, Ontario, Canada [SDGT]

BARAKAAT RED SEA TELECOMMUNICATIONS, Bossaso, Somalia; Nakhiil, Somalia; Huruuse, Somalia; Raxmo, Somalia; Ticis, Somalia; Kowthar, Somalia; Noobir, Somalia; Bubaarag, Somalia; Gufure, Somalia; Xuuxuule, Somalia; Ala Aamin, Somalia; Guureeye, Somalia; Najax, Somalia; Carafaat, Somalia [SDGT]

BARAKAAT TELECOMMUNICATIONS COMPANY LIMITED (a.k.a. BTELCO), Bakara Market, Dar Salaam Buildings, Mogadishu, Somalia; Netherlands [SDGT]

BARAKAAT TELECOMMUNICATIONS COMPANY SOMALIA, LIMITED, P.O. Box 3313, Dubai, United Arab Emirates [SDGT]

BARAKAT BANK AND REMITTANCES, Mogadishu, Somalia; Dubai, United Arab Emirates [SDGT]

BARAKAT COMPUTER CONSULTING (BCC), Mogadishu, Somalia [SDGT]

BARAKAT CONSULTING GROUP (BCG), Mogadishu, Somalia [SDGT]

BARAKAT GLOBAL TELEPHONE COMPANY, Mogadishu, Somalia; Dubai, United Arab Emirates [SDGT]

BARAKAT IMPORT EXPORT LTDA, Iquique, Chile; Tax ID No. AABA 670850 Y [SDGT]

BARAKAT POST EXPRESS (BPE), Mogadishu, Somalia [SDGT]

BARAKAT REFRESHMENT COMPANY, Mogadishu, Somalia; Dubai, United Arab Emirates [SDGT]

BARAKAT WIRE TRANSFER COMPANY, 4419 S. Brandon St., Seattle, WA [SDGT]

BARAKAT, Assaad Ahmad (a.k.a. BARAKAT, Assad; a.k.a. BARAKAT, Assad Ahmad; a.k.a. BARAKAT, Assad Ahmed Muhammad; a.k.a. BARAKAT, Assad Hassan; a.k.a. BARAKAT, Jach Assad Ahmad; a.k.a. HAJJ AS'AD AHMAD), Rue Taroba 1005, Beatriz Menez Building, Foz do Iguacu, Brazil; Rua Rio Branco Lote 682, Quadra 13, Foz do Iguacu, Brazil; Rua Xavier Da Silva 535, Edificio Martin Terro, Apartment 301, Foz do Iguacu, Brazil; Rua Silva Jardim 290, Foz do Iguacu, Brazil; Arrecife Apartment Building, Iquique, Chile; Apartment 111, Panorama Building, Iquique, Chile; Piribebuy Y A. Jara, Ciudad del Este, Paraguay; DOB 25 Mar 1967; POB Lebanon (individual) [SDGT]

BARAKAT, Assad (a.k.a. BARAKAT, Assaad Ahmad; a.k.a. BARAKAT, Assad Ahmad; a.k.a. BARAKAT, Assad Ahmed Muhammad; a.k.a. BARAKAT, Assad Hassan; a.k.a. BARAKAT, Jach Assad Ahmad; a.k.a. HAJJ AS'AD AHMAD), Rue Taroba 1005, Beatriz Menez Building, Foz do Iguacu, Brazil; Rua Rio Branco Lote 682, Quadra 13, Foz do Iguacu, Brazil; Rua Xavier Da Silva 535, Edificio Martin Terro, Apartment 301, Foz do Iguacu, Brazil; Rua Silva Jardim 290, Foz do Iguacu, Brazil; Arrecife Apartment Building, Iquique, Chile; Apartment 111, Panorama Building, Iquique, Chile; Piribebuy Y A. Jara, Ciudad del Este, Paraguay; DOB 25 Mar 1967; POB Lebanon (individual) [SDGT]

BARAKAT, Assad Ahmad (a.k.a. BARAKAT, Assaad Ahmad; a.k.a. BARAKAT, Assad; a.k.a. BARAKAT, Assad Ahmed Muhammad; a.k.a. BARAKAT, Assad Hassan; a.k.a. BARAKAT, Jach Assad Ahmad; a.k.a. HAJJ AS'AD AHMAD), Rue Taroba 1005, Beatriz Menez Building, Foz do Iguacu, Brazil; Rua Rio Branco Lote 682, Quadra 13, Foz do Iguacu, Brazil; Rua Xavier Da Silva 535, Edificio Martin Terro, Apartment 301, Foz do Iguacu, Brazil; Rua Silva Jardim 290, Foz do Iguacu, Brazil; Arrecife Apartment Building, Iquique, Chile; Apartment 111, Panorama Building, Iquique, Chile; Piribebuy Y A. Jara, Ciudad del Este, Paraguay; DOB 25 Mar 1967; POB Lebanon (individual) [SDGT]

BARAKAT, Assad Ahmed Muhammad (a.k.a. BARAKAT, Assaad Ahmad; a.k.a. BARAKAT, Assad; a.k.a. BARAKAT, Assad Ahmad; a.k.a. BARAKAT, Assad Hassan; a.k.a. BARAKAT, Jach Assad Ahmad; a.k.a. HAJJ AS'AD AHMAD), Rue Taroba 1005, Beatriz Menez Building, Foz do Iguacu, Brazil; Rua Rio Branco Lote 682, Quadra 13, Foz do Iguacu, Brazil; Rua Xavier Da Silva 535, Edificio Martin Terro, Apartment 301, Foz do Iguacu, Brazil; Rua Silva Jardim 290, Foz do Iguacu, Brazil; Arrecife Apartment Building, Iquique, Chile; Apartment 111, Panorama Building, Iquique, Chile; Piribebuy Y A. Jara, Ciudad del Este, Paraguay; DOB 25 Mar 1967; POB Lebanon (individual) [SDGT]

BARAKAT, Assad Hassan (a.k.a. BARAKAT, Assaad Ahmad; a.k.a. BARAKAT, Assad; a.k.a. BARAKAT, Assad Ahmad; a.k.a. BARAKAT, Assad Ahmed Muhammad; a.k.a. BARAKAT, Jach Assad Ahmad; a.k.a. HAJJ AS'AD AHMAD), Rue Taroba 1005, Beatriz Menez Building, Foz do Iguacu, Brazil; Rua Rio Branco Lote 682, Quadra 13, Foz do Iguacu, Brazil; Rua Xavier Da Silva 535, Edificio Martin Terro, Apartment 301, Foz do Iguacu, Brazil; Rua Silva Jardim 290, Foz do Iguacu, Brazil; Arrecife Apartment Building, Iquique, Chile; Apartment 111, Panorama Building, Iquique, Chile; Piribebuy Y A. Jara, Ciudad del Este, Paraguay; DOB 25 Mar 1967; POB Lebanon (individual) [SDGT]

BARAKAT, Jach Assad Ahmad (a.k.a. BARAKAT, Assaad Ahmad; a.k.a. BARAKAT, Assad; a.k.a. BARAKAT, Assad Ahmad; a.k.a. BARAKAT, Assad Ahmed Muhammad; a.k.a. BARAKAT, Assad Hassan; a.k.a. HAJJ AS'AD AHMAD), Rue Taroba 1005, Beatriz Menez Building, Foz do Iguacu, Brazil; Rua Rio Branco Lote 682, Quadra 13, Foz do Iguacu, Brazil; Rua Xavier Da Silva 535, Edificio Martin Terro, Apartment 301, Foz do Iguacu, Brazil; Rua Silva Jardim 290, Foz do Iguacu, Brazil; Arrecife Apartment Building, Iquique, Chile; Apartment 111, Panorama Building, Iquique, Chile; Piribebuy Y A. Jara, Ciudad del Este, Paraguay; DOB 25 Mar 1967; POB Lebanon (individual) [SDGT]

BARAKO TRADING COMPANY LLC (a.k.a. BARAKA TRADING COMPANY), P.O. Box 3313, Dubai, United Arab Emirates [SDGT]

BARCO RUIZ, Eduardo, c/o FOGENSA S.A., Bogota, Colombia; DOB 26 May 1945; Cedula No. 5562182 (Colombia); Passport 5562182 (Colombia) (individual) [SDNT]

BAREY, Djibril Abdul Kareem (a.k.a. BADRI, Gabril Abdul Kareem; a.k.a. BARI, Gabril Abdul Karim; a.k.a. KAREEM, Djibril Abdul), Darfur, Sudan; DOB circa 1961; Colonel for the National Movement for Reform and Development (NMRD) (individual) [SUDAN]

BARHAN, Dr. Sahir (a.k.a. AL-DEEN, Saher Burhan; a.k.a. BERHAN, Dr. Sahir; a.k.a. BURHAN, Dr. Sahir; a.k.a. BURHAN, Sahir), United Arab Emirates; Baghdad, Iraq; DOB 1967; nationality Iraq (individual) [IRAQ2]

BARI, Gabril Abdul Karim (a.k.a. BADRI, Gabril Abdul Kareem; a.k.a. BAREY, Djibril Abdul Kareem; a.k.a. KAREEM, Djibril Abdul), Darfur, Sudan; DOB circa 1961; Colonel for the National Movement for Reform and Development (NMRD) (individual) [SUDAN]

BARON DIAZ, Carlos Arturo, c/o DISTRIBUIDORA MIGIL LTDA., Cali, Colombia; c/o GRACADAL S.A., Cali, Colombia; DOB 22 Jul 1931; Cedula No. 49994 (Colombia) (individual) [SDNT]

BARONA DORADO, Fernando, c/o DISMERCOOP, Cali, Colombia; DOB 6 Jun 1963; Cedula No. 16688872 (Colombia) (individual) [SDNT]

BAROON SHIPPING COMPANY LIMITED, Haven Court, 5 Library Ramp, Gibraltar, United Kingdom [IRAQ2]

BARRAZA REYES, Raquel Emilia, c/o CAJA SOLIDARIA, Bogota, Colombia; c/o COOMULCOSTA, Barranquilla, Colombia; c/o COPSERVIR LTDA., Bogota, Colombia; Cedula No. 22636674 (Colombia) (individual) [SDNT]

BARRIOS SENIOR, Jario Ascanio, c/o PENTACOOP LTDA., Bogota, Colombia; DOB 18 Jun 1962; Cedula No. 8723099 (Colombia) (individual) [SDNT]

BARRIOS, Alba Lucia, Los Alcazares Bloq. 93 Ap. 402, Cali, Colombia; c/o CREDIREBAJA S.A., Cali, Colombia; c/o POLIEMPAQUES S.A., Cali, Colombia; c/o SONAR F.M. E.U. DIETER MURRLE, Cali, Colombia; c/o SONAR F.M. S.A., Cali, Colombia; Cedula No. 38853130 (Colombia) (individual) [SDNT]

BARZINGY, Ata Abdoul Aziz (a.k.a. RASHID, Ata Abd Al-Aziz; a.k.a. RASHID, Ata Abdoulaziz), Schmidener Street 98, Stuttgart 70374, Germany; Stuttgart Prison, Stuttgart, Germany; DOB 1 Dec 1973; POB Sulaymaniyah, Iraq; nationality Iraq; Travel Document Number A0020375 (Germany) (individual) [SDGT]

BASAYEV, Shamil Salmanovich; DOB 14 Jan 1965; POB Dyshni-Vedeno, Chechnya; Passport 623334 (Russia) (individual) [SDGT]

BASEVIC, Dragan; DOB 2 Mar 1976; POB Belgrade, Serbia (individual) [BALKANS]

BASHIR, Abu Bakar (a.k.a. BA'ASYIR, Abu Bakar; a.k.a. BAASYIR, Abu Bakar; a.k.a. “ABDUS SAMAD”; a.k.a. “ABDUS SOMAD”); DOB 17 Aug 1938; POB Jombang, East Java, Indonesia; nationality Indonesia (individual) [SDGT]

BASQUE FATHERLAND AND LIBERTY (a.k.a. ASKATASUNA; a.k.a. BATASUNA; a.k.a. EKIN; a.k.a. EPANASTATIKI PIRINES; a.k.a. ETA; a.k.a. EUSKAL HERRITARROK; a.k.a. EUZKADI TA ASKATASUNA; a.k.a. HERRI BATASUNA; a.k.a. JARRAI-HAIKA-SEGI; a.k.a. K.A.S.; a.k.a. POPULAR REVOLUTIONARY STRUGGLE; a.k.a. XAKI) [FTO] [SDGT]

BATARJEE, Adel Abdul Jalil (a.k.a. AL-BATTARJEE, 'Adil; a.k.a. BATARJI, 'Adil 'Abd al Jalil; a.k.a. BATTERJEE, Adel), 2 Helmi Kutbi Street, Jeddah, Saudi Arabia; DOB 1 Jul 1946; POB Jeddah, Saudi Arabia; citizen Saudi Arabia; Phone #: 682-2816 (presumed Saudi Arabia); Email:adelb@shabakah.net.sa (individual) [SDGT]

BATARJI, 'Adil 'Abd al Jalil (a.k.a. AL-BATTARJEE, 'Adil; a.k.a. BATARJEE, Adel Abdul Jalil; a.k.a. BATTERJEE, Adel), 2 Helmi Kutbi Street, Jeddah, Saudi Arabia; DOB 1 Jul 1946; POB Jeddah, Saudi Arabia; citizen Saudi Arabia; Phone #: 682-2816 (presumed Saudi Arabia); Email:adelb@shabakah.net.sa (individual) [SDGT]

BATASUNA (a.k.a. ASKATASUNA; a.k.a. BASQUE FATHERLAND AND LIBERTY; a.k.a. EKIN; a.k.a. EPANASTATIKI PIRINES; a.k.a. ETA; a.k.a. EUSKAL HERRITARROK; a.k.a. EUZKADI TA ASKATASUNA; a.k.a. HERRI BATASUNA; a.k.a. JARRAI-HAIKA-SEGI; a.k.a. K.A.S.; a.k.a. POPULAR REVOLUTIONARY STRUGGLE; a.k.a. XAKI) [FTO] [SDGT]

BATISTA, Miguel, Panama (individual) [CUBA]

BATTERJEE, Adel (a.k.a. AL-BATTARJEE, 'Adil; a.k.a. BATARJEE, Adel Abdul Jalil; a.k.a. BATARJI, 'Adil 'Abd al Jalil), 2 Helmi Kutbi Street, Jeddah, Saudi Arabia; DOB 1 Jul 1946; POB Jeddah, Saudi Arabia; citizen Saudi Arabia; Phone #: 682-2816 (presumed Saudi Arabia); Email:adelb@shabakah.net.sa (individual) [SDGT]

BAUTISTA GALLEGO, Carmen Mariela, c/o COPSERVIR LTDA., Bogota, Colombia; Cedula No. 34537461 (Colombia) (individual) [SDNT]

BAY INDUSTRIES, INC., 10100 Santa Monica Boulevard, Santa Monica, CA [IRAQ2]

BBS (a.k.a. AL-BARAKAAT BANK OF SOMALIA; a.k.a. BARAKAAT BANK OF SOMALIA), Mogadishu, Somalia; Bossaso, Somalia [SDGT]

BEARA, Ljubisa; DOB 14 Jul 1939; POB Sarajevo, Bosnia and Herzegovina (individual) [BALKANS]

BECERRA BECERRA, Alvaro, c/o AGROPECUARIA LA ROBLEDA S.A., Cali, Colombia; Cedula No. 2730788 (Colombia) (individual) [SDNT]

BECERRA MIRELES, Martin (a.k.a. BECERRA, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 64; POB Mexico (individual) [SDNTK]

BECERRA RODRIGUEZ, Mario Alberto, Calle del Creston 334, Colonia Playas de Tijuana, Tijuana, Baja California CP 22300, Mexico; c/o CASA DE EMPENO RIO TIJUANA, S.A. DE C.V., Tijuana, Baja California, Mexico; c/o MULTISERVICIOS DEL NOROESTE DE MEXICO, S.A. DE C.V., Tijuana, Baja California, Mexico; DOB 17 Sep 1954; POB Tijuana, Baja California, Mexico; R.F.C. BERM-540917-181 (Mexico) (individual) [SDNTK]

BECERRA, Martin (a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 64; POB Mexico (individual) [SDNTK]

BECF CHARITABLE EDUCATIONAL CENTER (a.k.a. BENEVOLENCE EDUCATIONAL CENTER; a.k.a. BIF-BOSNIA; a.k.a. BOSANSKA IDEALNA FUTURA; a.k.a. BOSNIAN IDEAL FUTURE), Salke Lagumdzije 12, 71000 Sarajevo, Bosnia and Herzegovina; Hadzije, Mazica Put 16F, 72000 Zenica, Bosnia and Herzegovina; Sehidska, Street, Breza, Bosnia and Herzegovina; Kanal, 1, 72000 Zenica, Bosnia and Herzegovina; Hamze, Celenke 35, Ilidza, Sarajevo, Bosnia and Herzegovina [SDGT]

BECHARA SIMANCA, Salim, c/o SOCOVALLE, Cali, Colombia; DOB 26 Jul 1950; alt. DOB 28 July 1950; Cedula No. 19163957 (Colombia) (individual) [SDNT]

BEDOYA DE SANCLEMENTE, Maria Ninive, c/o DISTRIBUCIONES GLOMIL LTDA., Cali, Colombia; DOB 13 Jul 1938; Cedula No. 29645304 (Colombia); NIT # 29645304-8 (Colombia); Passport 29645304 (Colombia) (individual) [SDNT]

BEDOYA VELEZ, Jose Ignacio (a.k.a. “NACHO BEDOYA”), Calle 16 No. 71A-07/09, Cali, Colombia; Carrera 1G No. 71-07, Cali, Colombia; DOB 06 Jan 1959; POB Tulua, Valle, Colombia; alt. POB Armenia, Quindio, Colombia; citizen Colombia; Cedula No. 16351225 (Colombia) issued 20 Jun 1977; Passport AJ126708 (Colombia) issued 26 Mar 2004; alt. Passport 16351225 (Colombia) issued 26 Mar 2004 expires 26 Mar 2014 (individual) [SDNT]

BEIJING ALITE TECHNOLOGIES CO., LTD. (a.k.a. ALCO; a.k.a. BEIJING HAILI LIANHE KEJI YOUXIAN GONGSI), 12A Beisanhuan Zhong Road, P.O. Box 3042, Beijing, China [NPWMD]

BEIJING HAILI LIANHE KEJI YOUXIAN GONGSI (a.k.a. ALCO; a.k.a. BEIJING ALITE TECHNOLOGIES CO., LTD.), 12A Beisanhuan Zhong Road, P.O. Box 3042, Beijing, China [NPWMD]

BEIRA-MAR, Fernandinho (a.k.a. DA COSTA, Luis Fernando); DOB 4 July 1967; POB Rio de Janeiro (individual) [SDNTK]

BEIT AL MAL HOLDINGS (a.k.a. ARAB PALESTINIAN BEIT EL-MAL COMPANY; a.k.a. BEIT EL MAL AL-PHALASTINI AL-ARABI AL-MUSHIMA AL-AAMA AL-MAHADUDA LTD.; a.k.a. BEIT EL-MAL HOLDINGS; a.k.a. PALESTINIAN ARAB BEIT EL MAL CORPORATION, LTD.), P.O. Box 662, Ramallah, West Bank [SDT] [SDGT]

BEIT EL MAL AL-PHALASTINI AL-ARABI AL-MUSHIMA AL-AAMA AL-MAHADUDA LTD. (a.k.a. ARAB PALESTINIAN BEIT EL-MAL COMPANY; a.k.a. BEIT AL MAL HOLDINGS; a.k.a. BEIT EL-MAL HOLDINGS; a.k.a. PALESTINIAN ARAB BEIT EL MAL CORPORATION, LTD.), P.O. Box 662, Ramallah, West Bank [SDT] [SDGT]

BEIT EL-MAL HOLDINGS (a.k.a. ARAB PALESTINIAN BEIT EL-MAL COMPANY; a.k.a. BEIT AL MAL HOLDINGS; a.k.a. BEIT EL MAL AL-PHALASTINI AL-ARABI AL-MUSHIMA AL-AAMA AL-MAHADUDA LTD.; a.k.a. PALESTINIAN ARAB BEIT EL MAL CORPORATION, LTD.), P.O. Box 662, Ramallah, West Bank [SDT] [SDGT]

BELMEX IMPORT EXPORT CO., LTD., 24 Corner Regent and Kings Streets, Belize City, Belize [CUBA]

BELMOKHTAR, Mokhtar; DOB 1 Jun 1972; POB Ghardaia, Algeria (individual) [SDGT]

BELTRAN MEZA, Ramon (a.k.a. ARELLANO FELIX, Francisco Javier; a.k.a. ARELLANO FELIX, Javier; a.k.a. DIAZ MEDINA, Javier; a.k.a. LARA ALVAREZ, Jose Luis); DOB 21 Nov 1969; alt. DOB 12 Dec 1969; POB Culiacan, Sinaloa, Mexico (individual) [SDNTK]

BELTRAN RODRIGUEZ, Alvaro, c/o CAJA SOLIDARIA, Bogota, Colombia; c/o COOPCREAR, Bogota, Colombia; DOB 10 Aug 1970; Cedula No. 79139759 (Colombia); Passport 79139759 (Colombia) (individual) [SDNT]

BEN ABDELHAKIM, Cherif Said (a.k.a. ABOU SALMAN; a.k.a. AL-CHERIF, Said Ben Abdelhakim Ben Omar; a.k.a. “DJALLAL”; a.k.a. “YOUCEF”), Corso Lodi 59, Milan, Italy; DOB 25 Jan 1970; POB Menzel Temine, Tunisia; nationality Tunisia; Passport M307968 issued 8 Sep 2001 expires 7 Sep 2006; arrested 30 Sep 2002 (individual) [SDGT]

BEN HAMMEDI, Mohammed (a.k.a. BENHAMMEDI, Mohammed; a.k.a. BIN HAMMIDI, Muhammad Muhammad; a.k.a. HANNADI, Mohamed; a.k.a. “ABU AL QASSAM”; a.k.a. “ABU HAJIR”; a.k.a. “ABU HAJIR AL LIBI”; a.k.a. “HAMMEDI, Ben”; a.k.a. “PANHAMMEDI”), Midlands, United Kingdom; DOB 22 Sep 1966; POB Libya; citizen Libya (individual) [SDGT]

BEN HENI, Lased; DOB 5 Feb 1969; POB Libya (individual) [SDGT]

BEN SOLTANE, Adel (a.k.a. BEN SOLTANE, Adel Ben Al-Azhar Ben Youssef), Via Latisana n. 6, Milan, Italy; DOB 14 Jul 1970; POB Tunis, Tunisia; nationality Tunisia; Italian Fiscal Code BNSDLA70L14Z352B; Passport M408665 issued 4 Oct 2000 expires 3 Oct 2005 (individual) [SDGT]

BEN SOLTANE, Adel Ben Al-Azhar Ben Youssef (a.k.a. BEN SOLTANE, Adel), Via Latisana n. 6, Milan, Italy; DOB 14 Jul 1970; POB Tunis, Tunisia; nationality Tunisia; Italian Fiscal Code BNSDLA70L14Z352B; Passport M408665 issued 4 Oct 2000 expires 3 Oct 2005 (individual) [SDGT]

BENATTIA, Nabil; DOB 11 May 1966; POB Tunis, Tunisia; nationality Tunisia; Passport L289032 issued 22 Aug 2001 expires 21 Aug 2006 (individual) [SDGT]

BENAVIDES MONTENEGRO, Sandra Patricia, c/o ESPIBENA S.A., Quito, Ecuador; RUC # 0400778890 (Ecuador) (individual) [SDNT]

BENAVIDES VASQUEZ, Jorge, c/o CAJA SOLIDARIA, Bogota, Colombia; c/o COPSERVIR LTDA., Bogota, Colombia; c/o FARMAVISION LTDA., Bogota, Colombia; Cedula No. 9397198 (Colombia) (individual) [SDNT]

BENAVIDEZ CHAVEZ, Alvaro Higinio, Carrera 8N No. 17A-12, Cartago, Colombia; c/o AGROPECUARIA MIRALINDO S.A., Cartago, Colombia; c/o ARIZONA S.A., Cartago, Colombia; DOB 1 Feb 1971; Cedula No. 94295393 (Colombia); Passport 94295393 (Colombia) (individual) [SDNT]

BENDEBKA, L'Hadi (a.k.a. ABD AL HADI; a.k.a. HADI), Via Garibaldi, 70, San Zenone al Po, Pavia, Italy; Via Manzoni, 33, Cinisello Balsamo, Milan, Italy; DOB 17 Nov 1963; POB Algiers Algeria (individual) [SDGT]

BENEVOLENCE COMMITTEE FOR SOLIDARITY WITH PALESTINE (a.k.a. AL AQSA ASSISTANCE CHARITABLE COUNCIL; a.k.a. AL-LAJNA AL-KHAYRIYYA LIL MUNASARA AL-AQSA; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; a.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

BENEVOLENCE EDUCATIONAL CENTER (a.k.a. BECF CHARITABLE EDUCATIONAL CENTER; a.k.a. BIF-BOSNIA; a.k.a. BOSANSKA IDEALNA FUTURA; a.k.a. BOSNIAN IDEAL FUTURE), Salke Lagumdzije 12, 71000 Sarajevo, Bosnia and Herzegovina; Hadzije, Mazica Put 16F, 72000 Zenica, Bosnia and Herzegovina; Sehidska, Street, Breza, Bosnia and Herzegovina; Kanal, 1, 72000 Zenica, Bosnia and Herzegovina; Hamze, Celenke 35, Ilidza, Sarajevo, Bosnia and Herzegovina [SDGT]

BENEVOLENCE INTERNATIONAL FOUNDATION (a.k.a. AL BIR AL DAWALIA; a.k.a. BIF; a.k.a. BIF-USA; a.k.a. MEZHDUNARODNYJ BLAGOTVORITEL'NYJ FOND), Bashir Safar Ugli 69, Baku, Azerbaijan; 69 Boshir Safaroglu St., Baku, Azerbaijan; Sarajevo, Bosnia and Herzegovina; Zenica, Bosnia and Herzegovina; 3 King Street, South Waterloo, Ontario, N2J 3Z6, Canada; P.O. Box 1508 Station B, Mississauga, Ontario, L4Y 4G2, Canada; 2465 Cawthra Rd., #203, Mississauga, Ontario, L5A 3P2, Canada; Ottawa, Canada; Grozny, Chechnya, Russia; 91 Paihonggou, Lanzhou, Gansu, China; Hrvatov 30, 41000, Zagreb, Croatia; Makhachkala, Daghestan, Russia; Duisi, Georgia; Tbilisi, Georgia; 8820 Mobile Avenue, 1A, Oak Lawn, IL 60453; (Formerly located at) 20-24 Branford Place, Suite 705, Newark, NJ 07102; (Formerly located at) 9838 S. Roberts Road, Suite 1-W, Palos Hills, IL 60465; P.O. Box 548, Worth, IL 60482; Nazran, Ingushetia, Russia; Burgemeester Kessensingel 40, Maastricht, Netherlands; House 111, First Floor, Street 64, F-10/3, Islamabad, Pakistan; Azovskaya 6, km. 3, off. 401, Moscow, Russia; P.O. Box 1055, Peshawar, Pakistan; Ulitsa Oktyabr'skaya, dom. 89, Moscow, Russia; P.O. Box 1937, Khartoum, Sudan; P.O. Box 7600, Jeddah 21472, Saudi Arabia; P.O. Box 10845, Riyadh 11442, Saudi Arabia; Dushanbe, Tajikistan; United Kingdom; Afghanistan; Bangladesh; Bosnia and Herzegovina; Gaza Strip, undetermined; Yemen; U.S. FEIN 36-3823186 [SDGT]

BENEVOLENCE INTERNATIONAL FUND (a.k.a. BENEVOLENT INTERNATIONAL FUND; a.k.a. BIF-CANADA), 2465 Cawthra Rd., Unit 203, Mississauga, Ontario, L5A 3P2, Canada; P.O. Box 1508, Station B, Mississauga, Ontario, L4Y 4G2, Canada; P.O. Box 40015, 75 King Street South, Waterloo, Ontario, N2J 4V1, Canada; 92 King Street, 201, Waterloo, Ontario, N2J 1P5, Canada [SDGT]

BENEVOLENCE INTERNATIONAL NEDERLAND (a.k.a. STG.BENEVOLENCE INTERNATIONAL NEDERLAND; a.k.a. STICHTING BENEVOLENCE INTERNATIONAL NEDERLAND), Radeborg 14 B, 6228CV Maastricht, Netherlands; Postbus 1149, 6201BC Maastricht, Netherlands; Registration ID 14063277 [SDGT]

BENEVOLENT COMMITTEE FOR SUPPORT OF PALESTINE (a.k.a. AL AQSA ASSISTANCE CHARITABLE COUNCIL; a.k.a. AL-LAJNA AL-KHAYRIYYA LIL MUNASARA AL-AQSA; a.k.a. BENEVOLENCE COMMITTEE FOR SOLIDARITY WITH PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; a.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

BENEVOLENT INTERNATIONAL FUND (a.k.a. BENEVOLENCE INTERNATIONAL FUND; a.k.a. BIF-CANADA), 2465 Cawthra Rd., Unit 203, Mississauga, Ontario, L5A 3P2, Canada; P.O. Box 1508, Station B, Mississauga, Ontario, L4Y 4G2, Canada; P.O. Box 40015, 75 King Street South, Waterloo, Ontario, N2J 4V1, Canada; 92 King Street, 201, Waterloo, Ontario, N2J 1P5, Canada [SDGT]

BENHAMMEDI, Mohammed (a.k.a. BEN HAMMEDI, Mohammed; a.k.a. BIN HAMMIDI, Muhammad Muhammad; a.k.a. HANNADI, Mohamed; a.k.a. “ABU AL QASSAM”; a.k.a. “ABU HAJIR”; a.k.a. “ABU HAJIR AL LIBI”; a.k.a. “HAMMEDI, Ben”; a.k.a. “PANHAMMEDI”), Midlands, United Kingdom; DOB 22 Sep 1966; POB Libya; citizen Libya (individual) [SDGT]

BENITEZ CASTELLANOS, Cesar Tulio, c/o DROGAS LA REBAJA, Cali, Colombia; c/o RIONAP COMERCIOS Y REPRESENTACIONES S.A., Quito, Ecuador; c/o D'CACHE S.A., Cali, Colombia; c/o INVERSIONES MONDRAGON Y CIA. S.C.S., Cali, Colombia; c/o INVERSIONES Y CONSTRUCCIONES ABC S.A., Cali, Colombia; Carrera 65 No. 13B-82, Cali, Colombia; c/o COMUNICACION VISUAL LTDA., Cali, Colombia; Cedula No. 14969366 (Colombia) (individual) [SDNT]

BENITEZ SANCHEZ, Jose Arturo, c/o AMERICANA DE COSMETICOS S.A., Bogota, Colombia; c/o COSMEPOP, Bogota, Colombia; c/o DISTRIEXPORT S.A., Bogota, Colombia; c/o MAPRI DE COLOMBIA LTDA., Bogota, Colombia; Cedula No. 10276819 (Colombia); Passport 10276819 (Colombia) (individual) [SDNT]

BEQIRI, Hidajet (a.k.a. BEQIRI, Idajet); DOB 20 Feb 1951; POB Mallakaster Fier, Albania (individual) [BALKANS]

BEQIRI, Idajet (a.k.a. BEQIRI, Hidajet); DOB 20 Feb 1951; POB Mallakaster Fier, Albania (individual) [BALKANS]

BERASATEGUI ESCUDERO, Ismael; DOB 15 June 1969; POB Eibar Guipuzcoa Province, Spain; D.N.I. 15.379.555; Member ETA (individual) [SDGT]

BERDUGO CASTILLO, Wilson Jose, c/o CAJA SOLIDARIA, Bogota, Colombia; c/o COPSERVIR LTDA., Bogota, Colombia; Cedula No. 8724954 (Colombia) (individual) [SDNT]

BERHAN, Dr. Sahir (a.k.a. AL-DEEN, Saher Burhan; a.k.a. BARHAN, Dr. Sahir; a.k.a. BURHAN, Dr. Sahir; a.k.a. BURHAN, Sahir), United Arab Emirates; Baghdad, Iraq; DOB 1967; nationality Iraq (individual) [IRAQ2]

BERNAL, Beatriz, c/o VILLARO LTDA., Bogota, Colombia; Cedula No. 65497873 (Colombia) (individual) [SDNT]

BETTINA SHIPPING CO. LTD., c/o EMPRESA DE NAVEGACION MAMBISA, Apartado 543, San Ignacio 104, Havana, Cuba [CUBA]

BEWELL CORPORATION, INC., Panama [CUBA]

BEXHETI, Nuri; DOB 1962; POB Tetovo, Macedonia (individual) [BALKANS]

BIF (a.k.a. AL BIR AL DAWALIA; a.k.a. BENEVOLENCE INTERNATIONAL FOUNDATION; a.k.a. BIF-USA; a.k.a. MEZHDUNARODNYJ BLAGOTVORITEL'NYJ FOND), Bashir Safar Ugli 69, Baku, Azerbaijan; 69 Boshir Safaroglu St., Baku, Azerbaijan; Sarajevo, Bosnia and Herzegovina; Zenica, Bosnia and Herzegovina; 3 King Street, South Waterloo, Ontario, N2J 3Z6, Canada; P.O. Box 1508 Station B, Mississauga, Ontario, L4Y 4G2, Canada; 2465 Cawthra Rd., #203, Mississauga, Ontario, L5A 3P2, Canada; Ottawa, Canada; Grozny, Chechnya, Russia; 91 Paihonggou, Lanzhou, Gansu, China; Hrvatov 30, 41000, Zagreb, Croatia; Makhachkala, Daghestan, Russia; Duisi, Georgia; Tbilisi, Georgia; 8820 Mobile Avenue, 1A, Oak Lawn, IL 60453; (Formerly located at) 20-24 Branford Place, Suite 705, Newark, NJ 07102; (Formerly located at) 9838 S. Roberts Road, Suite 1-W, Palos Hills, IL 60465; P.O. Box 548, Worth, IL 60482; Nazran, Ingushetia, Russia; Burgemeester Kessensingel 40, Maastricht, Netherlands; House 111, First Floor, Street 64, F-10/3, Islamabad, Pakistan; Azovskaya 6, km. 3, off. 401, Moscow, Russia; P.O. Box 1055, Peshawar, Pakistan; Ulitsa Oktyabr'skaya, dom. 89, Moscow, Russia; P.O. Box 1937, Khartoum, Sudan; P.O. Box 7600, Jeddah 21472, Saudi Arabia; P.O. Box 10845, Riyadh 11442, Saudi Arabia; Dushanbe, Tajikistan; United Kingdom; Afghanistan; Bangladesh; Bosnia and Herzegovina; Gaza Strip, undetermined; Yemen; U.S. FEIN 36-3823186 [SDGT]

BIF-BOSNIA (a.k.a. BECF CHARITABLE EDUCATIONAL CENTER; a.k.a. ENEVOLENCE EDUCATIONAL CENTER; a.k.a. BOSANSKA IDEALNA FUTURA; a.k.a. BOSNIAN IDEAL FUTURE), Salke Lagumdzije 12, 71000 Sarajevo, Bosnia and Herzegovina; Hadzije, Mazica Put 16F, 72000 Zenica, Bosnia and Herzegovina; Sehidska, Street, Breza, Bosnia and Herzegovina; Kanal, 1, 72000 Zenica, Bosnia and Herzegovina; Hamze, Celenke 35, Ilidza, Sarajevo, Bosnia and Herzegovina [SDGT]

BIF-CANADA (a.k.a. BENEVOLENCE INTERNATIONAL FUND; a.k.a. BENEVOLENT INTERNATIONAL FUND), 2465 Cawthra Rd., Unit 203, Mississauga, Ontario, L5A 3P2, Canada; P.O. Box 1508, Station B, Mississauga, Ontario, L4Y 4G2, Canada; P.O. Box 40015, 75 King Street South, Waterloo, Ontario, N2J 4V1, Canada; 92 King Street, 201, Waterloo, Ontario, N2J 1P5, Canada [SDGT]

BIF-USA (a.k.a. AL BIR AL DAWALIA; a.k.a. BENEVOLENCE INTERNATIONAL FOUNDATION; a.k.a. BIF; a.k.a. MEZHDUNARODNYJ BLAGOTVORITEL'NYJ FOND), Bashir Safar Ugli 69, Baku, Azerbaijan; 69 Boshir Safaroglu St., Baku, Azerbaijan; Sarajevo, Bosnia and Herzegovina; Zenica, Bosnia and Herzegovina; 3 King Street, South Waterloo, Ontario, N2J 3Z6, Canada; P.O. Box 1508 Station B, Mississauga, Ontario, L4Y 4G2, Canada; 2465 Cawthra Rd., #203, Mississauga, Ontario, L5A 3P2, Canada; Ottawa, Canada; Grozny, Chechnya, Russia; 91 Paihonggou, Lanzhou, Gansu, China; Hrvatov 30, 41000, Zagreb, Croatia; Makhachkala, Daghestan, Russia; Duisi, Georgia; Tbilisi, Georgia; 8820 Mobile Avenue, 1A, Oak Lawn, IL 60453; (Formerly located at) 20-24 Branford Place, Suite 705, Newark, NJ 07102; (Formerly located at) 9838 S. Roberts Road, Suite 1-W, Palos Hills, IL 60465; P.O. Box 548, Worth, IL 60482; Nazran, Ingushetia, Russia; Burgemeester Kessensingel 40, Maastricht, Netherlands; House 111, First Floor, Street 64, F-10/3, Islamabad, Pakistan; Azovskaya 6, km. 3, off. 401, Moscow, Russia; P.O. Box 1055, Peshawar, Pakistan; Ulitsa Oktyabr'skaya, dom. 89, Moscow, Russia; P.O. Box 1937, Khartoum, Sudan; P.O. Box 7600, Jeddah 21472, Saudi Arabia; P.O. Box 10845, Riyadh 11442, Saudi Arabia; Dushanbe, Tajikistan; United Kingdom; Afghanistan; Bangladesh; Bosnia and Herzegovina; Gaza Strip, undetermined; Yemen; U.S. FEIN 36-3823186 [SDGT]

BIN ABAS, Mohammed Nasir (a.k.a. ABAS, Mohamad Nasir; a.k.a. ABAS, Nasir; a.k.a. BIN ABAS, Sulaiman; a.k.a. “KHAIRUDDIN”; a.k.a. “SOLIMAN”); DOB 6 May 1969; nationality Malaysia (individual) [SDGT]

BIN ABAS, Sulaiman (a.k.a. ABAS, Mohamad Nasir; a.k.a. ABAS, Nasir; a.k.a. BIN ABAS, Mohammed Nasir; a.k.a. “KHAIRUDDIN”; a.k.a. “SOLIMAN”); DOB 6 May 1969; nationality Malaysia (individual) [SDGT]

BIN AHAD, Rony Azad (a.k.a. AL GHOZI, Fathur Rahman; a.k.a. AL GHOZI, Fathur Rohman; a.k.a. ALGHOZI, Fathur Rahman; a.k.a. AL-GHOZI, Fathur Rahman; a.k.a. ALGHOZI, Fathur Rohman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALI, Randy; a.k.a. ALIH, Randy; a.k.a. ALIH, Randy Adam; a.k.a. AZAD, Rony; a.k.a. BIN AHMAD, Rony Azad; a.k.a. BIN AMAD, Rony Azad; a.k.a. EDRIS, Anwar Rodin; a.k.a. JAMIL, Sammy Sali; a.k.a. JAMIL, Sammy Salih; a.k.a. RANDY, Alih; a.k.a. “ABU SA'AD”; a.k.a. “ABU SAAD”; a.k.a. “FREEDOM FIGHTER”); DOB 17 Feb 1971; POB Madiun, East Java, Indonesia; nationality Indonesia; Passport GG 672613 (Philippines) (individual) [SDGT]

BIN AHMAD, Rony Azad (a.k.a. AL GHOZI, Fathur Rahman; a.k.a. AL GHOZI, Fathur Rohman; a.k.a. ALGHOZI, Fathur Rahman; a.k.a. AL-GHOZI, Fathur Rahman; a.k.a. ALGHOZI, Fathur Rohman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALI, Randy; a.k.a. ALIH, Randy; a.k.a. ALIH, Randy Adam; a.k.a. AZAD, Rony; a.k.a. BIN AHAD, Rony Azad; a.k.a. BIN AMAD, Rony Azad; a.k.a. EDRIS, Anwar Rodin; a.k.a. JAMIL, Sammy Sali; a.k.a. JAMIL, Sammy Salih; a.k.a. RANDY, Alih; a.k.a. “ABU SA'AD”; a.k.a. “ABU SAAD”; a.k.a. “FREEDOM FIGHTER”); DOB 17 Feb 1971; POB Madiun, East Java, Indonesia; nationality Indonesia; Passport GG 672613 (Philippines) (individual) [SDGT]

BIN AL SHIBH, Ramzi (a.k.a. BINALSHEIDAH, Ramzi Mohamed Abdullah; a.k.a. BINALSHIBH, Ramzi Mohammed Abdullah; a.k.a. OMAR, Ramzi Mohammed Abdellah), Schleemer Ring 2, Hamburg 22117, Germany; Billstedter Hauptstr Apt. 14, Hamburg 22111, Germany; Emil Anderson Strasse 5, Hamburg 22073, Germany; Letzte Heller #109, Hamburg University, Hamburg 22111, Germany; Marienstr #54, Hamburg 21073, Germany; DOB 1 May 1972; alt. DOB 16 Sept 1973; POB Hadramawt, Yemen; alt. POB Khartoum Sudan; nationality Yemen; Passport R85243 (Yemen); alt. Passport A755350 (Saudi Arabia); alt. Passport 00085243 (Yemen) (individual) [SDGT]

BIN AMAD, Rony Azad (a.k.a. AL GHOZI, Fathur Rahman; a.k.a. AL GHOZI, Fathur Rohman; a.k.a. ALGHOZI, Fathur Rahman; a.k.a. AL-GHOZI, Fathur Rahman; a.k.a. ALGHOZI, Fathur Rohman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. EDRIS, Anwar Rodin; a.k.a. JAMIL, Sammy Sali; a.k.a. JAMIL, Sammy Salih; a.k.a. RANDY, Alih; a.k.a. “ABU SA'AD”; a.k.a. “ABU SAAD”; a.k.a. “FREEDOM FIGHTER”); DOB 17 Feb 1971; POB Madiun, East Java, Indonesia; nationality Indonesia; Passport GG 672613 (Philippines) (individual) [SDGT]

BIN HAMMIDI, Muhammad Muhammad (a.k.a. BEN HAMMEDI, Mohammed; a.k.a. BENHAMMEDI, Mohammed; a.k.a. HANNADI, Mohamed; a.k.a. “ABU AL QASSAM”; a.k.a. “ABU HAJIR”; a.k.a. “ABU HAJIR AL LIBI”; a.k.a. “HAMMEDI, Ben”; a.k.a. “PANHAMMEDI”), Midlands, United Kingdom; DOB 22 Sep 1966; POB Libya; citizen Libya (individual) [SDGT]

BIN HUSAN, Azahari (a.k.a. BIN HUSIN, Azahari; a.k.a. HUSIN, Azahari); DOB 14 Sep 1957; POB Malaysia; nationality Malaysia (individual) [SDGT]

BIN HUSIN, Azahari (a.k.a. BIN HUSAN, Azahari; a.k.a. HUSIN, Azahari); DOB 14 Sep 1957; POB Malaysia; nationality Malaysia (individual) [SDGT]

BIN KHALID, Fahd Bin Adballah (a.k.a. ALI, Salem; a.k.a. HENIN, Ashraf Refaat Nabith; a.k.a. MOHAMMED, Khalid Shaikh; a.k.a. WADOOD, Khalid Adbul); DOB 14 Apr 1965; alt. DOB 1 Mar 1964; POB Kuwait; citizen Kuwait (individual) [SDGT]

BIN LADEN, Osama (a.k.a. BIN LADEN, Usama; a.k.a. BIN LADIN, Osama; a.k.a. BIN LADIN, Osama bin Muhammad bin Awad; a.k.a. BIN LADIN, Usama; a.k.a. BIN LADIN, Usama bin Muhammad bin Awad); DOB 30 Jul 57; alt. DOB 1958; POB Jeddah, Saudi Arabia; alt. POB Yemen (individual) [SDT] [SDGT]

BIN LADEN, Usama (a.k.a. BIN LADEN, Osama; a.k.a. BIN LADIN, Osama; a.k.a. BIN LADIN, Osama bin Muhammad bin Awad; a.k.a. BIN LADIN, Usama; a.k.a. BIN LADIN, Usama bin Muhammad bin Awad); DOB 30 Jul 57; alt. DOB 1958; POB Jeddah, Saudi Arabia; alt. POB Yemen (individual) [SDT] [SDGT]

BIN LADIN, Osama (a.k.a. BIN LADEN, Osama; a.k.a. BIN LADEN, Usama; a.k.a. BIN LADIN, Osama bin Muhammad bin Awad; a.k.a. BIN LADIN, Usama; a.k.a. BIN LADIN, Usama bin Muhammad bin Awad); DOB 30 Jul 57; alt. DOB 1958; POB Jeddah, Saudi Arabia; alt. POB Yemen (individual) [SDT] [SDGT]

BIN LADIN, Osama bin Muhammad bin Awad (a.k.a. BIN LADEN, Osama; a.k.a. BIN LADEN, Usama; a.k.a. BIN LADIN, Osama; a.k.a. BIN LADIN, Usama; a.k.a. BIN LADIN, Usama bin Muhammad bin Awad); DOB 30 Jul 57; alt. DOB 1958; POB Jeddah, Saudi Arabia; alt. POB Yemen (individual) [SDT] [SDGT]

BIN LADIN, Usama (a.k.a. BIN LADEN, Osama; a.k.a. BIN LADEN, Usama; a.k.a. BIN LADIN, Osama; a.k.a. BIN LADIN, Osama bin Muhammad bin Awad; a.k.a. BIN LADIN, Usama bin Muhammad bin Awad); DOB 30 Jul 57; alt. DOB 1958; POB Jeddah, Saudi Arabia; alt. POB Yemen (individual) [SDT] [SDGT]

BIN LADIN, Usama bin Muhammad bin Awad (a.k.a. BIN LADEN, Osama; a.k.a. BIN LADEN, Usama; a.k.a. BIN LADIN, Osama; a.k.a. BIN LADIN, Osama bin Muhammad bin Awad; a.k.a. BIN LADIN, Usama); DOB 30 Jul 57; alt. DOB 1958; POB Jeddah, Saudi Arabia; alt. POB Yemen (individual) [SDT] [SDGT]

BIN MANSOR, Amran (a.k.a. BIN MANSOR, Henry; a.k.a. BIN MANSOUR, Amran; a.k.a. MANSOR, Amran); DOB 25 May 1965; POB Malaysia (individual) [SDGT]

BIN MANSOR, Henry (a.k.a. BIN MANSOR, Amran; a.k.a. BIN MANSOUR, Amran; a.k.a. MANSOR, Amran); DOB 25 May 1965; POB Malaysia (individual) [SDGT]

BIN MANSOUR, Amran (a.k.a. BIN MANSOR, Amran; a.k.a. BIN MANSOR, Henry; a.k.a. MANSOR, Amran); DOB 25 May 1965; POB Malaysia (individual) [SDGT]

BIN MARWAN, Bilal; DOB 1947 (individual) [SDGT]

BIN MARZUKI, Zulkifli (a.k.a. BIN ZUKEPLI, Marzuki; a.k.a. MARZUKI, Zulkepli; a.k.a. MARZUKI, Zulkifli; a.k.a. ZUKIPLI; a.k.a. ZULKIFLI); DOB 3 Jul 1968; POB Malaysia; nationality Malaysia (individual) [SDGT]

BIN MUHAMMAD, Ayadi Chafiq (a.k.a. AIADI, Ben Muhammad; a.k.a. AIADY, Ben Muhammad; a.k.a. AYADI CHAFIK, Ben Muhammad; a.k.a. AYADI SHAFIQ, Ben Muhammad), Helene Meyer Ring 10-1415-80809, Munich, Germany; 129 Park Road, NW8, London, United Kingdom; 28 Chaussee de Lille, Mouscron, Belgium; Darvingasse 1/2/58-60, Vienna, Austria; Tunisia; DOB 21 Jan 1963; POB Safais (Sfax), Tunisia (individual) [SDGT]

BIN SIHABUDIN, Abdul Aziz (a.k.a. SAMUDRA, Imam; a.k.a. YUNSHAR, Faiz; a.k.a. “ABDUL AZIZ”; a.k.a. “ABU OMAR”; a.k.a. “FATIH”; a.k.a. “HENDRI”; a.k.a. “HERI”; a.k.a. “KUDAMA”); DOB 14 Jan 1970; POB Serang, Banten, Indonesia (individual) [SDGT]

BIN SUFAAT, Yazud (a.k.a. SHUFAAT, Yazid; a.k.a. SUFAAT, Yazid); DOB 20 Jan 1964; POB Johor, Malaysia; nationality Malaysia; Passport A10472263 (Malaysia) (individual) [SDGT]

BIN ZUKEPLI, Marzuki (a.k.a. BIN MARZUKI, Zulkifli; a.k.a. MARZUKI, Zulkepli; a.k.a. MARZUKI, Zulkifli; a.k.a. ZUKIPLI; a.k.a. ZULKIFLI); DOB 3 Jul 1968; POB Malaysia; nationality Malaysia (individual) [SDGT]

BINALSHEIDAH, Ramzi Mohamed Abdullah (a.k.a. BIN AL SHIBH, Ramzi; a.k.a. BINALSHIBH, Ramzi Mohammed Abdullah; a.k.a. OMAR, Ramzi Mohammed Abdellah), Schleemer Ring 2, Hamburg 22117, Germany; Billstedter Hauptstr Apt. 14, Hamburg 22111, Germany; Emil Anderson Strasse 5, Hamburg 22073, Germany; Letzte Heller #109, Hamburg University, Hamburg 22111, Germany; Marienstr #54, Hamburg 21073, Germany; DOB 1 May 1972; alt. DOB 16 Sept 1973; POB Hadramawt, Yemen; alt. POB Khartoum Sudan; nationality Yemen; Passport R85243 (Yemen); alt. Passport A755350 (Saudi Arabia); alt. Passport 00085243 (Yemen) (individual) [SDGT]

BINALSHIBH, Ramzi Mohammed Abdullah (a.k.a. BIN AL SHIBH, Ramzi; a.k.a. BINALSHEIDAH, Ramzi Mohamed Abdullah; a.k.a. OMAR, Ramzi Mohammed Abdellah), Schleemer Ring 2, Hamburg 22117, Germany; Billstedter Hauptstr Apt. 14, Hamburg 22111, Germany; Emil Anderson Strasse 5, Hamburg 22073, Germany; Letzte Heller #109, Hamburg University, Hamburg 22111, Germany; Marienstr #54, Hamburg 21073, Germany; DOB 1 May 1972; alt. DOB 16 Sept 1973; POB Hadramawt, Yemen; alt. POB Khartoum Sudan; nationality Yemen; Passport R85243 (Yemen); alt. Passport A755350 (Saudi Arabia); alt. Passport 00085243 (Yemen) (individual) [SDGT]

BIO CORPORATION (a.k.a. BOSNIAN INVESTMENT ORGANIZATION), Sarajevo, Bosnia and Herzegovina [BALKANS]

BIR WA ELEHSSAN SOCIETY (a.k.a. AL-AHSAN CHARITABLE ORGANIZATION; a.k.a. AL-BAR AND AL-IHSAN SOCIETIES; a.k.a. AL-BAR AND AL-IHSAN SOCIETY; a.k.a. AL-BIR AND AL-IHSAN ORGANIZATION; a.k.a. AL-BIRR WA AL-IHSAN CHARITY ASSOCIATION; a.k.a. AL-BIRR WA AL-IHSAN WA AL-NAQA; a.k.a. AL-IHSAN CHARITABLE SOCIETY; a.k.a. BIRR AND ELEHSSAN SOCIETY; a.k.a. ELEHSSAN; a.k.a. ELEHSSAN SOCIETY; a.k.a. ELEHSSAN SOCIETY AND BIRR; a.k.a. ELEHSSAN SOCIETY WA BIRR; a.k.a. IHSAN CHARITY; a.k.a. JAMI'A AL-AHSAN AL-KHAYRIYYAH; a.k.a. THE BENEVOLENT CHARITABLE ORGANIZATION), Bethlehem, West Bank, Palestinian; AL-MUZANNAR ST, AL-NASIR AREA, Gaza City, Gaza, Palestinian; Jenin, West Bank, Palestinian; Ramallah, West Bank, Palestinian; Tulkarm, West Bank, Palestinian; Lebanon; P.O. BOX 398, Hebron, West Bank, Palestinian [SDGT]

BIRR AND ELEHSSAN SOCIETY (a.k.a. AL-AHSAN CHARITABLE ORGANIZATION; a.k.a. AL-BAR AND AL-IHSAN SOCIETIES; a.k.a. AL-BAR AND AL-IHSAN SOCIETY; a.k.a. AL-BIR AND AL-IHSAN ORGANIZATION; a.k.a. AL-BIRR WA AL-IHSAN CHARITY ASSOCIATION; a.k.a. AL-BIRR WA AL-IHSAN WA AL-NAQA; a.k.a. AL-IHSAN CHARITABLE SOCIETY; a.k.a. BIR WA ELEHSSAN SOCIETY; a.k.a. ELEHSSAN; a.k.a. ELEHSSAN SOCIETY; a.k.a. ELEHSSAN SOCIETY AND BIRR; a.k.a. ELEHSSAN SOCIETY WA BIRR; a.k.a. IHSAN CHARITY; a.k.a. JAMI'A AL-AHSAN AL-KHAYRIYYAH; a.k.a. THE BENEVOLENT CHARITABLE ORGANIZATION), Bethlehem, West Bank, Palestinian; AL-MUZANNAR ST, AL-NASIR AREA, Gaza City, Gaza, Palestinian; Jenin, West Bank, Palestinian; Ramallah, West Bank, Palestinian; Tulkarm, West Bank, Palestinian; Lebanon; P.O. BOX 398, Hebron, West Bank, Palestinian [SDGT]

BISHR, Haji (a.k.a. NOORZAI, Haji Bashir); DOB 1961; POB Afghanistan (individual) [SDNTK]

BJELICA, Milovan 'Cicko', Starine Novaka Street BB, Sokolac, Republika Srpska, Bosnia and Herzegovina; DOB 19 Oct 1958; POB Rogatica, Bosnia-Herzegovina; National ID No. 1910958130007 (individual) [BALKANS]

BLACK SEPTEMBER (a.k.a. ABU NIDAL ORGANIZATION; a.k.a. ANO; a.k.a. ARAB REVOLUTIONARY BRIGADES; a.k.a. ARAB REVOLUTIONARY COUNCIL; a.k.a. FATAH REVOLUTIONARY COUNCIL; a.k.a. REVOLUTIONARY ORGANIZATION OF SOCIALIST MUSLIMS) [SDT] [FTO] [SDGT] BLACKMORE INVESTMENTS A.V.V., L.G. Smith Blvd. 48, Oranjestad, Aruba; P.O. Box 1060, Oranjestad, Aruba; C.R. No. 12128.0 (Aruba) [SDNT]

BLAGOJEVIC, Vidoje; DOB 22 Jun 1950; POB Bratunac, Bosnia-Herzegovina; ICTY indictee (individual) [BALKANS]

BLAIMAR (a.k.a. CIA. INTERAMERICANA DE COSMETICOS S.A.; a.k.a. COINTERCOS S.A.; f.k.a. LABORATORIOS BLAIMAR DE COLOMBIA S.A.), Calle 12B No. 27-39, Bogota, Colombia; Apartado Aereo 33248, Bogota, Colombia; NIT # 860511578-8 (Colombia) [SDNT]

BLAIMAR (f.k.a. CIA. INTERAMERICANA DE COSMETICOS S.A.; f.k.a. COINTERCOS S.A.; a.k.a. COOPERATIVA DE COSMETICOS Y POPULARES COSMEPOP; a.k.a. COSMEPOP; f.k.a. LABORATORIOS BLAIMAR DE COLOMBIA S.A.; f.k.a. LABORATORIOS BLANCO PHARMA S.A.), A.A. 55538, Bogota, Colombia; Calle 12B No. 27-37/39, Bogota, Colombia; Calle 26 Sur No. 7-30 Este, Bogota, Colombia; Carrera 99 y 100 No. 46A-10, Bodega 4, Bogota, Colombia; Calle 12A No. 27-72, Bogota, Colombia; NIT # 800251322-5 (Colombia) [SDNT]

BLAIMAR (a.k.a. LABORATORIOS BLAIMAR DE COLOMBIA S.A.), Calle 12B 27 39, Bogota, Colombia [SDNT]

BLANCO BAHOQUE, Gabino Leon, c/o SU SERVICIO SOCIEDAD LTDA., Barranquilla, Colombia; Cedula No. 72136630 (Colombia) (individual) [SDNT]

BLANCO ORTEGA, Marylin, c/o COOPDISAN, Bucaramanga, Colombia; c/o DROGAS LA REBAJA BUCARAMANGA S.A., Bucaramanga, Colombia; c/o COMUDROGAS LTDA., Bucaramanga, Colombia; Cedula No. 63332075 (Colombia); Passport 63332075 (Colombia) (individual) [SDNT]

BLANCO PHARMA S.A. (a.k.a. LABORATORIOS BLANCO PHARMA S.A.), Carrera 99 y 100 No. 46A-10, Bodega 4, Bogota, Colombia [SDNT]

BLANCO PUERTA, Edgar Fernando; DOB 19 Jun 1946; POB Medellin, Antioquia, Colombia; Cedula No. 13224238 (Colombia) (individual) [SDNTK]

BLASKIC, Tihomir; DOB 2 Nov 1960; POB Brestovsko, Bosnia-Herzegovina; ICTY indictee (individual) [BALKANS]

BLAVSTEIN (a.k.a. BLUVSHTEIN; a.k.a. BLYAFSHTEIN; a.k.a. BLYUFSHTEIN; a.k.a. BLYUVSHTEIN; a.k.a. BRESLAN, Wolf; a.k.a. BRESLAN, Wulf; a.k.a. KERLER, Vladimir Abramovich; a.k.a. MININ, Leonid; a.k.a. OSOLS, Igor; a.k.a. POPELA, Vladimir Abramovich; a.k.a. POPELAVESKI, Vladimir Abramovich; a.k.a. POPELO, Vladimir Abramovich; a.k.a. POPELOVESKI, Vladimir Abramovich; a.k.a. POPILOVESKI, Vladimir Abramovich); DOB 14 DEC 1947; alt. DOB 18 OCT 1946; nationality Ukraine; Passport 5280007248D (Germany); alt. Passport 18106739D (Germany); alt. Passport 6019832 (Israel) issued 6 NOV 1994 expires 5 NOV 1999; alt. Passport 9001689 (Israel) issued 23 JAN 1997 expires 22 JAN 2002; alt. Passport 90109052 (Israel) issued 26 NOV 1997; alt. Passport KI0861177 (Russia); alt. Passport 65118 (Bolivia); Owner, Exotic Tropical Timber Enterprise (individual) [LIBERIA]

BLE GOUDE, Charles, 23 BP 3383, Abidjan 23, Cote d'Ivoire; DOB 1 Jan 1972; POB Guiberoua, Cote d'Ivoire; Passport PDAE088DH12 (Cote d'Ivoire); Head of “Young Patriots” (Congres Panafricain des Jeunes Patriotes, COJEP) (individual) [COTED]

BLOTO INTERNATIONAL COMPANY (a.k.a. BLOTO INTERNATIONAL, LTD.; a.k.a. BLUTO INTERNATIONAL; a.k.a. PLUTO-DUBAI TRADING COMPANY, LLC), Iraq; 131/13 Soi 7/1 Sukhumvit Road, Wattana, Bangkok, Thailand; 131/13 Sukhumvit Road, Klongtoey Neua sub-district, Wattana District; Dubai, United Arab Emirates [IRAQ2]

BLOTO INTERNATIONAL, LTD. (a.k.a. BLOTO INTERNATIONAL COMPANY; a.k.a. BLUTO INTERNATIONAL; a.k.a. PLUTO-DUBAI TRADING COMPANY, LLC), Iraq; 131/13 Soi 7/1 Sukhumvit Road, Wattana, Bangkok, Thailand; 131/13 Sukhumvit Road, Klongtoey Neua sub-district, Wattana District; Dubai, United Arab Emirates [IRAQ2]

BLUE NILE BREWERY, P.O. Box 1408, Khartoum, Sudan [SUDAN]

BLUE NILE PACKING CORPORATION, P.O. Box 385, Khartoum, Sudan [SUDAN]

BLUTO INTERNATIONAL (a.k.a. BLOTO INTERNATIONAL COMPANY; a.k.a. BLOTO INTERNATIONAL, LTD.; a.k.a. PLUTO-DUBAI TRADING COMPANY, LLC), Iraq; 131/13 Soi 7/1 Sukhumvit Road, Wattana, Bangkok, Thailand; 131/13 Sukhumvit Road, Klongtoey Neua sub-district, Wattana District; Dubai, United Arab Emirates [IRAQ2]

BLUVSHTEIN (a.k.a. BLAVSTEIN; a.k.a. BLYAFSHTEIN; a.k.a. BLYUFSHTEIN; a.k.a. BLYUVSHTEIN; a.k.a. BRESLAN, Wolf; a.k.a. BRESLAN, Wulf; a.k.a. KERLER, Vladimir Abramovich; a.k.a. MININ, Leonid; a.k.a. OSOLS, Igor; a.k.a. POPELA, Vladimir Abramovich; a.k.a. POPELAVESKI, Vladimir Abramovich; a.k.a. POPELO, Vladimir Abramovich; a.k.a. POPELOVESKI, Vladimir Abramovich; a.k.a. POPILOVESKI, Vladimir Abramovich); DOB 14 DEC 1947; alt. DOB 18 OCT 1946; nationality Ukraine; Passport 5280007248D (Germany); alt. Passport 18106739D (Germany); alt. Passport 6019832 (Israel) issued 6 NOV 1994 expires 5 NOV 1999; alt. Passport 9001689 (Israel) issued 23 JAN 1997 expires 22 JAN 2002; alt. Passport 90109052 (Israel) issued 26 NOV 1997; alt. Passport KI0861177 (Russia); alt. Passport 65118 (Bolivia); Owner, Exotic Tropical Timber Enterprise (individual) [LIBERIA]

BLYAFSHTEIN (a.k.a. BLAVSTEIN; a.k.a. BLUVSHTEIN; a.k.a. BLYUFSHTEIN; a.k.a. BLYUVSHTEIN; a.k.a. BRESLAN, Wolf; a.k.a. BRESLAN, Wulf; a.k.a. KERLER, Vladimir Abramovich; a.k.a. MININ, Leonid; a.k.a. OSOLS, Igor; a.k.a. POPELA, Vladimir Abramovich; a.k.a. POPELAVESKI, Vladimir Abramovich; a.k.a. POPELO, Vladimir Abramovich; a.k.a. POPELOVESKI, Vladimir Abramovich; a.k.a. POPILOVESKI, Vladimir Abramovich); DOB 14 DEC 1947; alt. DOB 18 OCT 1946; nationality Ukraine; Passport 5280007248D (Germany); alt. Passport 18106739D (Germany); alt. Passport 6019832 (Israel) issued 6 NOV 1994 expires 5 NOV 1999; alt. Passport 9001689 (Israel) issued 23 JAN 1997 expires 22 JAN 2002; alt. Passport 90109052 (Israel) issued 26 NOV 1997; alt. Passport KI0861177 (Russia); alt. Passport 65118 (Bolivia); Owner, Exotic Tropical Timber Enterprise (individual) [LIBERIA]

BLYUFSHTEIN (a.k.a. BLAVSTEIN; a.k.a. BLUVSHTEIN; a.k.a. BLYAFSHTEIN; a.k.a. BLYUVSHTEIN; a.k.a. BRESLAN, Wolf; a.k.a. BRESLAN, Wulf; a.k.a. KERLER, Vladimir Abramovich; a.k.a. MININ, Leonid; a.k.a. OSOLS, Igor; a.k.a. POPELA, Vladimir Abramovich; a.k.a. POPELAVESKI, Vladimir Abramovich; a.k.a. POPELO, Vladimir Abramovich; a.k.a. POPELOVESKI, Vladimir Abramovich; a.k.a. POPILOVESKI, Vladimir Abramovich); DOB 14 DEC 1947; alt. DOB 18 OCT 1946; nationality Ukraine; Passport 5280007248D (Germany); alt. Passport 18106739D (Germany); alt. Passport 6019832 (Israel) issued 6 NOV 1994 expires 5 NOV 1999; alt. Passport 9001689 (Israel) issued 23 JAN 1997 expires 22 JAN 2002; alt. Passport 90109052 (Israel) issued 26 NOV 1997; alt. Passport KI0861177 (Russia); alt. Passport 65118 (Bolivia); Owner, Exotic Tropical Timber Enterprise (individual) [LIBERIA]

BLYUVSHTEIN (a.k.a. BLAVSTEIN; a.k.a. BLUVSHTEIN; a.k.a. BLYAFSHTEIN; a.k.a. BLYUFSHTEIN; a.k.a. BRESLAN, Wolf; a.k.a. BRESLAN, Wulf; a.k.a. KERLER, Vladimir Abramovich; a.k.a. MININ, Leonid; a.k.a. OSOLS, Igor; a.k.a. POPELA, Vladimir Abramovich; a.k.a. POPELAVESKI, Vladimir Abramovich; a.k.a. POPELO, Vladimir Abramovich; a.k.a. POPELOVESKI, Vladimir Abramovich; a.k.a. POPILOVESKI, Vladimir Abramovich); DOB 14 DEC 1947; alt. DOB 18 OCT 1946; nationality Ukraine; Passport 5280007248D (Germany); alt. Passport 18106739D (Germany); alt. Passport 6019832 (Israel) issued 6 NOV 1994 expires 5 NOV 1999; alt. Passport 9001689 (Israel) issued 23 JAN 1997 expires 22 JAN 2002; alt. Passport 90109052 (Israel) issued 26 NOV 1997; alt. Passport KI0861177 (Russia); alt. Passport 65118 (Bolivia); Owner, Exotic Tropical Timber Enterprise (individual) [LIBERIA]

BNC (a.k.a. BANCO NACIONAL DE CUBA; a.k.a. NATIONAL BANK OF CUBA), Zweierstrasse 35, CH-8022 Zurich, Switzerland [CUBA]

BNC (a.k.a. BANCO NACIONAL DE CUBA; a.k.a. NATIONAL BANK OF CUBA), Avenida de Concha Espina 8, E-28036 Madrid, Spain [CUBA]

BNC (a.k.a. BANCO NACIONAL DE CUBA; a.k.a. NATIONAL BANK OF CUBA), Dai-Ichi Bldg. 6th Floor, 10-2 Nihombashi, 2-chome, Chuo-ku, Tokyo 103, Japan [CUBA]

BNC (a.k.a. BANCO NACIONAL DE CUBA; a.k.a. NATIONAL BANK OF CUBA), Federico Boyd Avenue & 51 Street, Panama City, Panama [CUBA]

BOCOTA AGUABLANCA, Gustavo (a.k.a. BOGOTA, Gustavo; a.k.a. “ESTEVAN”; a.k.a. “TRIBISU”); DOB 28 Aug 1966; Cedula No. 9466199 (Colombia); alt. Cedula No. 9466833 (Colombia) (individual) [SDNTK]

BOGOTA, Gustavo (a.k.a. BOCOTA AGUABLANCA, Gustavo; a.k.a. “ESTEVAN”; a.k.a. “TRIBISU”); DOB 28 Aug 1966; Cedula No. 9466199 (Colombia); alt. Cedula No. 9466833 (Colombia) (individual) [SDNTK]

BOHADA AVILA, Lubin, c/o AGRONILO S.A., Toro, Valle, Colombia; Calle 142A No. 106A-21 apt. 302, Bogota, Colombia; Carrera 100 No. 11-90 of. 403, Cali, Colombia; c/o ARMAGEDON S.A., La Union, Valle, Colombia; c/o GAD S.A., La Union, Valle, Colombia; c/o INDUSTRIAS DEL ESPIRITU SANTO S.A., Malambo, Atlantico, Colombia; c/o FRUTAS DE LA COSTA S.A., Malambo, Atlantico, Colombia; Cedula No. 19093178 (Colombia) (individual) [SDNT]

BOILEAU, Pierre, 1078 Rue Champigny, Duvernay, Quebec, Canada (individual) [CUBA]

BOLSAK E.U. (a.k.a. BOLSAK S.A.), Calle 15 No. 25-400 Urbanizacion Industrial Acopi, Yumbo, Colombia; NIT # Provisional (Colombia) [SDNT]

BOLSAK S.A. (a.k.a. BOLSAK E.U.), Calle 15 No. 25-400 Urbanizacion Industrial Acopi, Yumbo, Colombia; NIT # Provisional (Colombia) [SDNT]

BONOMERCAD S.A. (f.k.a. DECACOOP S.A.), Transversal 29 No. 39-92, Bogota, Colombia; NIT # 830018919-3 (Colombia) [SDNT]

BONT (a.k.a. BOUT, Viktor Anatolijevitch; a.k.a. BOUTOV; a.k.a. BUTT; a.k.a. BUTTE; a.k.a. SERGITOV, Vitali); DOB 13 JAN 1967; alt. DOB 13 JAN 1970; Businessman, dealer and transporter of weapons and minerals (individual) [LIBERIA]

BORAVCANIN, Ljubomir; DOB 27 Feb 1960; POB Han Pijesak, Bosnia-Herzegovina; ICTY indictee (individual) [BALKANS]

BORISAT HAT KAEO CHAMKAT (a.k.a. HAD KAEW COMPANY LTD.; a.k.a. HATKAEW COMPANY LTD.), 275 Soi Thiam Ruammit, Ratchada Phisek Road, Huai Khwang district, Bangkok, Thailand [SDNTK]

BORISAT MAE SAI KHE. DI. PHI. CHAMKAT (a.k.a. MAE SAI K.D.P. COMPANY LTD.; a.k.a. MAESAI K.D.P. COMPANY LTD.), 4 Mu 1, Tambon Wiang Phang Kham, Mae Sai district, Chiang Rai, Thailand [SDNTK]

BORISAT PROKRET SURAWI CHAMKAT (a.k.a. PROGRESS SURAWEE COMPANY LTD.), 275 Soi Thiam Ruammit, Ratchada Phisek Road, Huai Khwang district, Bangkok, Thailand [SDNTK]

BORISAT RATTANA WICHAI CHAMKAT (a.k.a. RATTANA VICHAI COMPANY LTD.), 339 Soi Lat Phrao 23, Lat Phrao Road, Chatuchak district, Bangkok, Thailand [SDNTK]

BORISAT RUNGRIN CHAMKAT (a.k.a. RUNGRIN COMPANY LTD.), 275 Soi Thiam Ruammit, Ratchada Phisek Road, Huai Khwang district, Bangkok, Thailand [SDNTK]

BORISAT SAKO KHOMMOESIAN CHAMKAT (a.k.a. SCORE COMMERCIAL COMPANY LTD.), 273 Soi Thiam Ruammit, Ratchada Phisek Road, Huai Khwang district, Bangkok, Thailand [SDNTK]

BORISAT WI. A. FRUT CHAMKAT (a.k.a. V.R. FRUIT COMPANY), 125 Mu 2, Tambon Mae Kha, Hang Dong district, Chiang Mai, Thailand [SDNTK]

BOROVCANIN, Veljko; DOB 25 Sep 1957; POB Sarajevo, Bosnia-Herzegovina (individual) [BALKANS]

BOROVNICA, Goran; DOB 15 Aug 1965; ICTY indictee at large (individual) [BALKANS]

BORRERO QUINTERO, Hector Fabio, c/o INVERSIONES SANTA LTDA., Cali, Colombia; c/o INMOBILIARIA SAMARIA LTDA., Cali, Colombia; c/o SOCIEDAD CONSTRUCTORA LA CASCADA S.A., Cali, Colombia; Carrera 21 No. 9E-48, Cali, Colombia; DOB 10 Feb 1948; Cedula No. 14945412 (Colombia) (individual) [SDNT]

BOSANSKA IDEALNA FUTURA (a.k.a. BECF CHARITABLE EDUCATIONAL CENTER; a.k.a. BENEVOLENCE EDUCATIONAL CENTER; a.k.a. BIF-BOSNIA; a.k.a. BOSNIAN IDEAL FUTURE), Salke Lagumdzije 12, 71000 Sarajevo, Bosnia and Herzegovina; Hadzije, Mazica Put 16F, 72000 Zenica, Bosnia and Herzegovina; Sehidska, Street, Breza, Bosnia and Herzegovina; Kanal, 1, 72000 Zenica, Bosnia and Herzegovina; Hamze, Celenke 35, Ilidza, Sarajevo, Bosnia and Herzegovina [SDGT]

BOSKOVSKI, Ljube; DOB 24 Oct 1960 (individual) [BALKANS]

BOSNIAN IDEAL FUTURE (a.k.a. BECF CHARITABLE EDUCATIONAL CENTER; a.k.a. BENEVOLENCE EDUCATIONAL CENTER; a.k.a. BIF-BOSNIA; a.k.a. BOSANSKA IDEALNA FUTURA), Salke Lagumdzije 12, 71000 Sarajevo, Bosnia and Herzegovina; Hadzije, Mazica Put 16F, 72000 Zenica, Bosnia and Herzegovina; Sehidska, Street, Breza, Bosnia and Herzegovina; Kanal, 1, 72000 Zenica, Bosnia and Herzegovina; Hamze, Celenke 35, Ilidza, Sarajevo, Bosnia and Herzegovina [SDGT]

BOSNIAN INVESTMENT ORGANIZATION (a.k.a. BIO CORPORATION), Sarajevo, Bosnia and Herzegovina [BALKANS]

BOUCHOUCHA, Al-Mokhtar Ben Mohamed Ben Al-Mokhtar (a.k.a. BOUCHOUCHA, Mokhtar; a.k.a. BUSHUSHA, Mokhtar), Via Milano n.38, Spinadesco (CR), Italy; DOB 13 Oct 1969; POB Tunisia; nationality Tunisia; Italian Fiscal Code BCHMHT69R13Z352T; Passport K754050 issued 26 May 1999 expires 25 May 2004 (individual) [SDGT]

BOUCHOUCHA, Mokhtar (a.k.a. BOUCHOUCHA, Al-Mokhtar Ben Mohamed Ben Al-Mokhtar; a.k.a. BUSHUSHA, Mokhtar), Via Milano n.38, Spinadesco (CR), Italy; DOB 13 Oct 1969; POB Tunisia; nationality Tunisia; Italian Fiscal Code BCHMHT69R13Z352T; Passport K754050 issued 26 May 1999 expires 25 May 2004 (individual) [SDGT]

BOUGHANEMI, Faycal (a.k.a. BOUGHANMI, Faical), viale Cambonino, 5/B, Cremona, Italy; DOB 28 Oct 1966; POB Tunis, Tunisia; nationality Tunisia; Italian Fiscal Code BGHFCL66R28Z352G (individual) [SDGT]

BOUGHANMI, Faical (a.k.a. BOUGHANEMI, Faycal), viale Cambonino, 5/B, Cremona, Italy; DOB 28 Oct 1966; POB Tunis, Tunisia; nationality Tunisia; Italian Fiscal Code BGHFCL66R28Z352G (individual) [SDGT]

BOURNE FARM, Chegutu, Zimbabwe [ZIMBABWE]

BOUSLIM, Ammar Mansour (a.k.a. ATWA, Ali; a.k.a. SALIM, Hassan Rostom), Lebanon; DOB 1960; POB Lebanon; citizen Lebanon (individual) [SDGT]

BOUT, Sergei Anatolyievich (a.k.a. NIKOLAYEVICH BUT, Sergey; a.k.a. “BUT”; a.k.a. “BUTT”; a.k.a. “SERGEY”; a.k.a. “SERGI”; a.k.a. “SERGO”; a.k.a. “SERGUEI”), c/o AIR CESS, Islamabad, Pakistan; c/o AIR CESS, P.O. Box 7837, Sharjah, United Arab Emirates; c/o AIR ZORY, 54 G. M. Dimitrov Blvd, Sofia BG-1125, Bulgaria; Moscow, Russia; DOB 27 Aug 1961; POB Tajikistan; citizen Russia alt. Ukraine; National ID No. 76704 (Russia); alt. National ID No. CB039314 (Ukraine) (individual) [LIBERIA]

BOUT, Viktor Anatolijevitch (a.k.a. BONT; a.k.a. BOUTOV; a.k.a. BUTT; a.k.a. BUTTE; a.k.a. SERGITOV, Vitali); DOB 13 JAN 1967; alt. DOB 13 JAN 1970; Businessman, dealer and transporter of weapons and minerals (individual) [LIBERIA]

BOUTIQUE LA MAISON, 42 Via Brasil, Panama City, Panama [CUBA]

BOUTOV (a.k.a. BONT; a.k.a. BOUT, Viktor Anatolijevitch; a.k.a. BUTT; a.k.a. BUTTE; a.k.a. SERGITOV, Vitali); DOB 13 JAN 1967; alt. DOB 13 JAN 1970; Businessman, dealer and transporter of weapons and minerals (individual) [LIBERIA]

BOUYAHIA, Hamadi (a.k.a. GAMEL MOHAMED), Corso XXII Marzo 39, Milan, Italy; DOB 22 May 1966; alt. DOB 29 May 1966; POB Tunisia; nationality Tunisia; Passport L723315 issued 5 May 1998 expires 4 May 2003; arrested 30 Sep 2002 (individual) [SDGT]

BRADFIELD MARITIME CORPORATION INC., c/o EMPRESA DE NAVEGACION MAMBISA, Apartado 543, San Ignacio 104, Havana, Cuba [CUBA]

BRALO, Miroslav (a.k.a. CICKO); DOB 13 Oct 1967; POB Kratine, Vitez (individual) [BALKANS]

BRAVIO ARMORED GROUP (a.k.a. MULTISERVICIOS BRAVIO, S.A. DE C.V.), Local C-25 Plaza Rio, Colonia Zona Rio, Tijuana, Baja California, Mexico; Av. Via Rapida 26, Colonia Zona Rio, Tijuana, Baja California, Mexico; R.F.C. MBR-961115-4M6 (Mexico) [SDNTK]

BRDJANIN, Radoslav; DOB 9 Feb 1948; POB Popovac, Bosnia-Herzegovina; ICTY indictee (individual) [BALKANS]

BRESLAN, Wolf (a.k.a. BLAVSTEIN; a.k.a. BLUVSHTEIN; a.k.a. BLYAFSHTEIN; a.k.a. BLYUFSHTEIN; a.k.a. BLYUVSHTEIN; a.k.a. BRESLAN, Wulf; a.k.a. KERLER, Vladimir Abramovich; a.k.a. MININ, Leonid; a.k.a. OSOLS, Igor; a.k.a. POPELA, Vladimir Abramovich; a.k.a. POPELAVESKI, Vladimir Abramovich; a.k.a. POPELO, Vladimir Abramovich; a.k.a. POPELOVESKI, Vladimir Abramovich; a.k.a. POPILOVESKI, Vladimir Abramovich); DOB 14 DEC 1947; alt. DOB 18 OCT 1946; nationality Ukraine; Passport 5280007248D (Germany); alt. Passport 18106739D (Germany); alt. Passport 6019832 (Israel) issued 6 NOV 1994 expires 5 NOV 1999; alt. Passport 9001689 (Israel) issued 23 JAN 1997 expires 22 JAN 2002; alt. Passport 90109052 (Israel) issued 26 NOV 1997; alt. Passport KI0861177 (Russia); alt. Passport 65118 (Bolivia); Owner, Exotic Tropical Timber Enterprise (individual) [LIBERIA]

BRESLAN, Wulf (a.k.a. BLAVSTEIN; a.k.a. BLUVSHTEIN; a.k.a. BLYAFSHTEIN; a.k.a. BLYUFSHTEIN; a.k.a. BLYUVSHTEIN; a.k.a. BRESLAN, Wolf; a.k.a. KERLER, Vladimir Abramovich; a.k.a. MININ, Leonid; a.k.a. OSOLS, Igor; a.k.a. POPELA, Vladimir Abramovich; a.k.a. POPELAVESKI, Vladimir Abramovich; a.k.a. POPELO, Vladimir Abramovich; a.k.a. POPELOVESKI, Vladimir Abramovich; a.k.a. POPILOVESKI, Vladimir Abramovich); DOB 14 DEC 1947; alt. DOB 18 OCT 1946; nationality Ukraine; Passport 5280007248D (Germany); alt. Passport 18106739D (Germany); alt. Passport 6019832 (Israel) issued 6 NOV 1994 expires 5 NOV 1999; alt. Passport 9001689 (Israel) issued 23 JAN 1997 expires 22 JAN 2002; alt. Passport 90109052 (Israel) issued 26 NOV 1997; alt. Passport KI0861177 (Russia); alt. Passport 65118 (Bolivia); Owner, Exotic Tropical Timber Enterprise (individual) [LIBERIA]

BRICENO SUAREZ, German (a.k.a. SUAREZ ROJAS, Noe; a.k.a. “GRANOBLES”); DOB 15 Dec 1953; Cedula No. 347943 (Colombia) (individual) [SDNTK]

BRICENO SUAREZ, Jorge (a.k.a. BRICENO SUAREZ, Jorge Enrique; a.k.a. MONO JOJOY; a.k.a. OSCAR RIANO; a.k.a. SUAREZ ROJAS, Victor Julio; a.k.a. SUAREZ, Luis); DOB Jan 1953; alt. DOB 1 Feb 1949; alt. DOB 2 Jan 1951; alt. DOB 5 Feb 1953; POB Santa Marta, Magdalena, Colombia; alt. POB Cabrera, Cundinamarca, Colombia; Cedula No. 12536519 (Colombia); alt. Cedula No. 19208210 (Colombia); alt. Cedula No. 17708695 (Colombia); alt. Cedula No. 70753211 (Colombia) (individual) [SDNTK]

BRICENO SUAREZ, Jorge Enrique (a.k.a. BRICENO SUAREZ, Jorge; a.k.a. MONO JOJOY; a.k.a. OSCAR RIANO; a.k.a. SUAREZ ROJAS, Victor Julio; a.k.a. SUAREZ, Luis); DOB Jan 1953; alt. DOB 1 Feb 1949; alt. DOB 2 Jan 1951; alt. DOB 5 Feb 1953; POB Santa Marta, Magdalena, Colombia; alt. POB Cabrera, Cundinamarca, Colombia; Cedula No. 12536519 (Colombia); alt. Cedula No. 19208210 (Colombia); alt. Cedula No. 17708695 (Colombia); alt. Cedula No. 70753211 (Colombia) (individual) [SDNTK]

BRIGHT, Charles R.; DOB 29 AUG 1948; Former Minister of Finance of Liberia (individual) [LIBERIA]

BROUGERE, Jacques (a.k.a. BRUGERE, Jacques; a.k.a. DUMONT, Lionel; a.k.a. “ABOU HAMZA”; a.k.a. “ABOU HANZA”; a.k.a. “ABU KHAMZA”; a.k.a. “BILAL”; a.k.a. “BILAL KUMKAL”; a.k.a. “HAMZA”; a.k.a. “KOUMAL”; a.k.a. “LAJONEL DIMON”); DOB 21 Jan 1971; alt. DOB 19 Jan 1971; alt. DOB 29 Jan 1975; POB Roubaix, France (individual) [SDGT]

BRUGERE, Jacques (a.k.a. BROUGERE, Jacques; a.k.a. DUMONT, Lionel; a.k.a. “ABOU HAMZA”; a.k.a. “ABOU HANZA”; a.k.a. “ABU KHAMZA”; a.k.a. “BILAL”; a.k.a. “BILAL KUMKAL”; a.k.a. “HAMZA”; a.k.a. “KOUMAL”; a.k.a. “LAJONEL DIMON”); DOB 21 Jan 1971; alt. DOB 19 Jan 1971; alt. DOB 29 Jan 1975; POB Roubaix, France (individual) [SDGT]

BTELCO (a.k.a. BARAKAAT TELECOMMUNICATIONS COMPANY LIMITED), Bakara Market, Dar Salaam Buildings, Mogadishu, Somalia; Netherlands [SDGT]

BUENDIA CUELLAR, Luis Alfonso, c/o GALAPAGOS S.A., Cali, Colombia; Cedula No. 6044411 (Colombia) (individual) [SDNT]

BUENO RAMIREZ, Pompeyo, c/o ADMACOOP, Bogota, Colombia; c/o COMERCIALIZADORA DIGLO LTDA., Bogota, Colombia; c/o CREDISOL, Bogota, Colombia; c/o DROCARD S.A., Bogota, Colombia; c/o FARMACOOP, Bogota, Colombia; Cedula No. 13354747 (Colombia); Passport 13354747 (Colombia) (individual) [SDNT]

BUHLER, Bruno, 57 Rue du Rhone, CH-1204 Geneva, Switzerland (individual) [IRAQ2]

BUILDING MATERIALS AND REFRACTORIES CORPORATION, P.O. Box 2241, Khartoum, Sudan [SUDAN]

BUISIR, Ibrahim, Ireland; DOB circa 1962; POB Libya; IARA Representative in Ireland (individual) [SDGT]

BUITRAGO DE HERRERA, Luz Mery, c/o AGROPECUARIA BETANIA LTDA., Cali, Colombia; c/o AGROPECUARIA Y REFORESTADORA HERREBE LTDA., Cali, Colombia; c/o CONSTRUEXITO S.A., Cali, Colombia; c/o INVERSIONES BETANIA LTDA., Cali, Colombia; c/o INVERSIONES INVERVALLE S.A., Cali, Colombia; c/o VALLADARES LTDA., Cali, Colombia; c/o SOCOVALLE, Cali, Colombia; c/o W. HERRERA Y CIA., Cali, Colombia; c/o INVERSIONES GEMINIS S.A., Cali, Colombia; c/o INVERSIONES HERREBE LTDA., Cali, Colombia; c/o INVERSIONES EL GRAN CRISOL LTDA., Cali, Colombia; DOB 24 Aug 1924; Cedula No. 29641219 (Colombia) (individual) [SDNT]

BUITRAGO MARIN, Adiela, c/o CONSTRUEXITO S.A., Cali, Colombia; c/o INDUSTRIA AVICOLA PALMASECA S.A., Cali, Colombia; DOB 28 Feb 1951; Cedula No. 31137617 (Colombia) (individual) [SDNT]

BUITRAGO MARIN, Nubia, c/o INMOBILIARIA U.M.V. S.A., Cali, Colombia; DOB 5 Apr 1948; Cedula No. 31132922 (Colombia) (individual) [SDNT]

BUITRAGO PARADA, Hector German (a.k.a. “MARTIN LLANOS”); DOB 21 Jan 1968; POB Monterrey, Casanare, Colombia; Cedula No. 79436816 (Colombia) (individual) [SDNTK]

BUITRAGO, Sulay (a.k.a. HERRERA BUITRAGO, Sulay), c/o AGROPECUARIA Y REFORESTADORA HERREBE LTDA., Cali, Colombia; c/o CONSTRUEXITO S.A., Cali, Colombia; c/o INDUSTRIA AVICOLA PALMASECA S.A., Cali, Colombia; c/o INVERSIONES HERREBE LTDA., Cali, Colombia; DOB 27 Nov 1967; Cedula No. 31176167 (Colombia) (individual) [SDNT]

BUKA, Flora; DOB 25 Feb 1968; Minister of State for Special Affairs, Land and Resettlement Program (individual) [ZIMBABWE]

BUKAVU AVIATION TRANSPORT, Congo, Democratic Republic of the [LIBERIA]

BURGAN INTERNATIONAL, Kuwait [CUBA]

BURHAN, Dr. Sahir (a.k.a. AL-DEEN, Saher Burhan; a.k.a. BARHAN, Dr. Sahir; a.k.a. BERHAN, Dr. Sahir; a.k.a. BURHAN, Sahir), United Arab Emirates; Baghdad, Iraq; DOB 1967; nationality Iraq (individual) [IRAQ2]

BURHAN, Sahir (a.k.a. AL-DEEN, Saher Burhan; a.k.a. BARHAN, Dr. Sahir; a.k.a. BERHAN, Dr. Sahir; a.k.a. BURHAN, Dr. Sahir), United Arab Emirates; Baghdad, Iraq; DOB 1967; nationality Iraq (individual) [IRAQ2]

BUSHUSHA, Mokhtar (a.k.a. BOUCHOUCHA, Al-Mokhtar Ben Mohamed Ben Al-Mokhtar; a.k.a. BOUCHOUCHA, Mokhtar), Via Milano n.38, Spinadesco (CR), Italy; DOB 13 Oct 1969; POB Tunisia; nationality Tunisia; Italian Fiscal Code BCHMHT69R13Z352T; Passport K754050 issued 26 May 1999 expires 25 May 2004 (individual) [SDGT]

BUSINESS AIR SERVICES, Congo, Democratic Republic of the [LIBERIA]

BUTKA, Spiro; DOB 29 May 1949 (individual) [BALKANS]

BUTT (a.k.a. BONT; a.k.a. BOUT, Viktor Anatolijevitch; a.k.a. BOUTOV; a.k.a. BUTTE; a.k.a. SERGITOV, Vitali); DOB 13 JAN 1967; alt. DOB 13 JAN 1970; Businessman, dealer and transporter of weapons and minerals (individual) [LIBERIA]

BUTTE (a.k.a. BONT; a.k.a. BOUT, Viktor Anatolijevitch; a.k.a. BOUTOV; a.k.a. BUTT; a.k.a. SERGITOV, Vitali); DOB 13 JAN 1967; alt. DOB 13 JAN 1970; Businessman, dealer and transporter of weapons and minerals (individual) [LIBERIA]

C A V J CORPORATION LTDA., Calle 166 No. 38-50, Bogota, Colombia; NIT # 830101426-9 (Colombia) [SDNT]

C Y S MEDIOS E.U., Calle 18 No. 106-98 of. 305, Cali, Colombia; NIT # 805015105-0 (Colombia) [SDNT]

C.A. V.J. CORPORATION, Avenida 20 (detras del Country Club), Edificio Drcenca Barquisimeto, Lara, Venezuela; Calle 18, Zona Industrial 1, Intercomunal de Cabudare Barquisimeto, Lara, Venezuela; Calle 14, Zona Industrial 1, Intercomunal de Cabudare Barquisimeto, Lara, Venezuela; RIF # J-30460672-9 (Venezuela) [SDNT]

C.A.D. S.A. (a.k.a. CORPORACION DE ALMACENES POR DEPARTAMENTOS S.A.), Diagonal 127A No. 17-34, Bogota, Colombia; NIT # 800173127-0 (Colombia) [SDNT]

C.C.V. LTDA. (a.k.a. CONSTRUCTORA CENTRAL DEL VALLE LTDA.), Calle 10 No. 44A-26, Cali, Colombia; NIT # 800144098-1 (Colombia) [SDNT]

C.E.V. S.A. (a.k.a. CLINICA ESPECIALIZADA DEL VALLE S.A.), Apartado Aereo 32412, Cali, Colombia; Carrera 46 No. 9C-85, Cali, Colombia; Carrera 40 No. 6-50, Of. 1501, Cali, Colombia; Calle 10 No. 44A-26, Cali, Colombia; NIT # 800134099-6 (Colombia) [SDNT]

C.I. COMERCIALIZADORA INTERNACIONAL POSEIDON S.A. (a.k.a. C.I. POSEIDON S.A.; a.k.a. SOCIEDAD DE COMERCIALIZACION INTERNACIONAL POSEIDON S.A.), Calle 79 Sur No. 48B-56, Sabaneta, Antioquia, Colombia; NIT # 800173090-7 (Colombia) [SDNTK]

C.I. POSEIDON S.A. (f.k.a. C.I. COMERCIALIZADORA INTERNACIONAL POSEIDON S.A.; a.k.a. SOCIEDAD DE COMERCIALIZACION INTERNACIONAL POSEIDON S.A.), Calle 79 Sur No. 48B-56, Sabaneta, Antioquia, Colombia; NIT # 800173090-7 (Colombia) [SDNTK]

C.N.A. PUBLICIDAD LTDA., Calle 74 No. 53-30, Barranquilla, Colombia; NIT # 802002664-9 (Colombia) [SDNT]

CABAL DAZA, Carlos Alfonso, c/o CAJA SOLIDARIA, Bogota, Colombia; c/o COOPIFARMA, Bucaramanga, Colombia; c/o COPSERVIR LTDA., Bogota, Colombia; c/o FARMAVISION LTDA., Bogota, Colombia; Carrera 13G No. 36A-03 Sur, Bogota, Colombia; Carrera 2N No. 39A-35, Bogota, Colombia; Cedula No. 79320690 (Colombia) (individual) [SDNT]

CABALLERO, Oliverio, c/o CAJA SOLIDARIA, Bogota, Colombia; c/o COOPIFARMA, Bucaramanga, Colombia; c/o COPSERVIR LTDA., Bogota, Colombia; Calle 47B Sur Bloque 7-8 Manz. E ap. 101, Bogota, Colombia; Cedula No. 79473097 (Colombia) (individual) [SDNT]

CABDULLAAH, Ciise Maxamed, Mosque in Via Quaranta, Milan, Italy; DOB 8 Oct 1974; POB Somalia; nationality Somalia; arrested 31 Mar 2003 (individual) [SDGT]

CABRASA (a.k.a. COMERCIALIZADORA ANDINA BRASILERA S.A.), Carrera 30 No. 90-82, Bogota, Colombia; NIT # 830003298-2 (Colombia) [SDNT]

CABRERA CUEVAS, Jose Benito (a.k.a. CABRERA, Jose Benito; a.k.a. “EL MONO FABIAN”; a.k.a. “FABIAN RAMIREZ”); DOB 6 Jul 1963; alt. DOB 5 Jul 1965; POB El Paujil, Caqueta, Colombia; Cedula No. 96329309 (Colombia) (individual) [SDNTK]

CABRERA, Jose Benito (a.k.a. CABRERA CUEVAS, Jose Benito; a.k.a. “EL MONO FABIAN”; a.k.a. “FABIAN RAMIREZ”); DOB 6 Jul 1963; alt. DOB 5 Jul 1965; POB El Paujil, Caqueta, Colombia; Cedula No. 96329309 (Colombia) (individual) [SDNTK]

CADAVID MAYA, Uriel, c/o COOPERATIVA DE TRABAJO ASOCIADO ACTIVAR, Bogota, Colombia; c/o COPSERVIR LTDA., Bogota, Colombia; Carrera 6 No. 11-43 of. 505, Cali, Colombia; Carrera 9 No. 9-65, Florida, Valle, Colombia; DOB 16 Nov 1967; Cedula No. 16885028 (Colombia) (individual) [SDNT]

CAFE ANDINO S.L., Calla Cochabamba 2, Madrid, Madrid, Spain; C.I.F. B81891244 (Spain) [SDNT]

CAICEDO GALLEGO, Maria Nury (a.k.a. CAYCEDO GALLEGO, Maria Nury), 85 Brainerd Road, Townhouse 9, Allston, MA 02134; Calle 2 Casa No. 4-13, Barrio San Isidro, Venezuela; Calle 90 No. 10-05, Bogota, Colombia; Avenida 11 No. 7N-166, Cali, Colombia; 18801 Collins Ave., Apt. 322-3, Sunny Isles Beach, FL 33160; Diagonal 130 No. 7-20, Apt. 806, Bogota, Colombia; c/o COLOMBO ANDINA COMERCIAL COALSA LTDA., Bogota, Colombia; c/o INVERSIONES AGROINDUSTRIALES DEL OCCIDENTE LTDA., Bogota, Colombia; c/o COMPANIA AGROPECUARIA DEL SUR LTDA., Bogota, Colombia; c/o DIMABE LTDA., Bogota, Colombia; c/o SALOME GRAJALES Y CIA. LTDA., Bogota, Colombia; DOB 16 Nov 1956; POB Tulua, Valle, Colombia; citizen Colombia; nationality Colombia; Cedula No. 31191388 (Colombia); Passport AH286341 (Colombia); alt. Passport AE889461 (Colombia); SSN 594-33-3352 (United States) issued 1993 (individual) [SDNT]

CAICEDO VERGARA, Nohemi (a.k.a. CAICEDO VERGARA, Nohemy), Km. 4 El Pinal, Buenaventura, Colombia; c/o INDUSTRIA DE PESCA SOBRE EL PACIFICO S.A., Buenaventura, Colombia; Cedula No. 31375185 (Colombia) (individual) [SDNT]

CAICEDO VERGARA, Nohemy (a.k.a. CAICEDO VERGARA, Nohemi), Km. 4 El Pinal, Buenaventura, Colombia; c/o INDUSTRIA DE PESCA SOBRE EL PACIFICO S.A., Buenaventura, Colombia; Cedula No. 31375185 (Colombia) (individual) [SDNT]

CAJA SOLIDARIA (a.k.a. COOPERATIVA DE AHORRO Y CREDITO DE COLOMBIA; a.k.a. COOPERATIVA MULTIACTIVA DE COMERCIALIZACION Y SERVICIOS), Avenida 22 No. 40-77 of. 202, Bogota, Colombia; Avenida 22 No. 44-70 of. 202, Bogota, Colombia; Calle 12B No. 27-39, Bogota, Colombia; Carrera 13A No. 89-38 of. 713, Bogota, Colombia; Carrera 13A No. 28-38 of. 216 Parque, Bogota, Colombia; Transversal 29 No. 35A-29, Bogota, Colombia; NIT # 830033942-6 (Colombia) [SDNT]

CALARCA, Marco Leon (a.k.a. ALBAN BURBANO, Luis Alberto; a.k.a. ALBAN URBANO, Luis Alberto; a.k.a. CALARCA, Marcos Leon); DOB 16 Aug 1957; POB Cali, Valle, Colombia; Cedula No. 16588328 (Colombia) (individual) [SDNTK]

CALARCA, Marcos Leon (a.k.a. ALBAN BURBANO, Luis Alberto; a.k.a. ALBAN URBANO, Luis Alberto; a.k.a. CALARCA, Marco Leon); DOB 16 Aug 1957; POB Cali, Valle, Colombia; Cedula No. 16588328 (Colombia) (individual) [SDNTK]

CALDERON ASCANIO, Mercedes, c/o SEGECOL LTDA., Bucaramanga, Colombia; Cedula No. 63319306 (Colombia) (individual) [SDNT]

CALDERON ASCANIO, Reinaldo (a.k.a. CALDERON ASCANIO, Reynaldo), c/o COOPERATIVA DE TRABAJO ASOCIADO ACTIVAR, Bogota, Colombia; c/o COOPIFARMA, Bucaramanga, Colombia; c/o MEGAPHARMA LTDA., Bogota, Colombia; Calle 54 No. 23-10, Bucaramanga, Colombia; DOB 12 Jun 1978; Cedula No. 13541010 (Colombia) (individual) [SDNT]

CALDERON ASCANIO, Reynaldo (a.k.a. CALDERON ASCANIO, Reinaldo), c/o COOPERATIVA DE TRABAJO ASOCIADO ACTIVAR, Bogota, Colombia; c/o COOPIFARMA, Bucaramanga, Colombia; c/o MEGAPHARMA LTDA., Bogota, Colombia; Calle 54 No. 23-10, Bucaramanga, Colombia; DOB 12 Jun 1978; Cedula No. 13541010 (Colombia) (individual) [SDNT]

CALDERON ASCANIO, Ricardo, c/o COPSERVIR LTDA., Bogota, Colombia; Cedula No. 91220683 (Colombia) (individual) [SDNT]

CALDERON COLLAZOS, Gonzalo, c/o COMPANIA DE FOMENTO MERCANTIL S.A., Cali, Colombia; c/o BANANERA AGRICOLA S.A., Santa Marta, Colombia; c/o CONSTRUCCIONES PROGRESO DEL PUERTO S.A., Puerto Tejada, Colombia; c/o GEOPLASTICOS S.A., Cali, Colombia; DOB 29 Sep 1952; POB Cali, Valle, Colombia; Cedula No. 14989778 (Colombia); Passport 14989778 (Colombia) (individual) [SDNT]

CALDERON OLIVAR, Rafael Alfredo, c/o COOMULCOSTA, Barranquilla, Colombia; c/o DISTRIBUIDORA DE DROGAS LA REBAJA PEREIRA S.A., Pereira, Colombia; c/o LITOPHARMA, Barranquilla, Colombia; Cedula No. 19582440 (Colombia) (individual) [SDNT]

CALDERON RODRIGUEZ, Solange, c/o INMOBILIARIA AURORA LTDA., Cali, Colombia; c/o SOCIEDAD CONSTRUCTORA LA CASCADA S.A., Cali, Colombia; c/o INVERSIONES SANTA LTDA., Cali, Colombia; DOB 17 Jun 1966; Cedula No. 31957652 (Colombia) (individual) [SDNT]

CALGARY FARM, Mazowe, Zimbabwe [ZIMBABWE]

CALLE SERNA, Luis Enrique (a.k.a. CALLE SERNA, Manuel; a.k.a. “COMBA”; a.k.a. “COMBATIENTE”), Carrera 24C No. 33B-108, Santa Monica, Casanare, Colombia; Calle 1 No. 56-109, Seminario B, Caro 31, Cali, Colombia; Avenida 8N No. 9N-57, Cali, Colombia; DOB 16 Aug 1976; POB Cali, Colombia; alt. POB Armenia, Quindio, Colombia; citizen Colombia; Cedula No. 94487319 (Colombia) issued 31 Oct 1994; Passport AI811078 (Colombia) issued 09 May 2003; alt. Passport AH454934 (Colombia); alt. Passport 94487319 (Colombia) issued 09 May 2003 expires 09 May 2013 (individual) [SDNT]

CALLE SERNA, Manuel (a.k.a. CALLE SERNA, Luis Enrique; a.k.a. “COMBA”; a.k.a. “COMBATIENTE”), Carrera 24C No. 33B-108, Santa Monica, Casanare, Colombia; Calle 1 No. 56-109, Seminario B, Caro 31, Cali, Colombia; Avenida 8N No. 9N-57, Cali, Colombia; DOB 16 Aug 1976; POB Cali, Colombia; alt. POB Armenia, Quindio, Colombia; citizen Colombia; Cedula No. 94487319 (Colombia) issued 31 Oct 1994; Passport AI811078 (Colombia) issued 09 May 2003; alt. Passport AH454934 (Colombia); alt. Passport 94487319 (Colombia) issued 09 May 2003 expires 09 May 2013 (individual) [SDNT]

CAMACHO RIOS, Jaime, c/o CONSTRUCCIONES ASTRO S.A., Cali, Colombia; DOB 18 May 1948; Cedula No. 14950781 (Colombia) (individual) [SDNT]

CAMACHO VALLEJO, Francisco Jose, c/o AGRONILO S.A., Toro, Valle, Colombia; Calle 23 BN No. 5-37 of. 202, Cali, Colombia; Carrera 37 No. 6-36, Cali, Colombia; c/o CRETA S.A., La Union, Valle, Colombia; c/o ILOVIN S.A., Bogota, Colombia; c/o JOSAFAT S.A., Tulua, Valle, Colombia; Cedula No. 14443381 (Colombia) (individual) [SDNT]

CAMACHO VALLEJO, Javier, Carrera 65 No. 14C-90, Casa 65, Cali, Colombia; c/o COMPANIA AGROPECUARIA DEL SUR LTDA., Bogota, Colombia; c/o INVERSIONES AGROINDUSTRIALES DEL OCCIDENTE LTDA., Bogota, Colombia; citizen Colombia; nationality Colombia; Cedula No. 16614154 (Colombia) (individual) [SDNT]

CAMBIOS PALMILLA S.A. DE C.V., Calle Francisco Moreno S/N, Hidalgo del Parral, Chihuahua 33800, Mexico; Calle Maclovio Herrera 97A, Hidalgo del Parral, Chihuahua 33800, Mexico; Avenida Ortiz Mena 34A, Hidalgo del Parral, Chihuahua 33800, Mexico; Carretera Santa Barbara KM 3, Colonia Almancena, Hidalgo del Parral, Chihuahua 33800, Mexico [SDNTK]

CAMPO RAMIREZ, Guido, c/o VALORCORP S.A., Bogota, Colombia; Cedula No. 16218589 (Colombia) (individual) [SDNT]

CAMPO VERDE LTDA., Carrera 54 No. 75-97 piso 2, Barranquilla, Colombia; NIT # 800204479-2 (Colombia) [SDNT]

CANAPEL S.A. (a.k.a. CANIPEL S.A.), c/o EMPRESA DE NAVEGACION MAMBISA, Apartado 543, San Ignacio 104, Havana, Cuba [CUBA]

CANIPEL S.A. (a.k.a. CANAPEL S.A.), c/o EMPRESA DE NAVEGACION MAMBISA, Apartado 543, San Ignacio 104, Havana, Cuba [CUBA]

CARACAS VIVEROS, Oscar (a.k.a. “EL NEGRO OSCAR”); DOB 15 Nov 1967; POB Colombia; Cedula No. 96351739 (Colombia) (individual) [SDNTK]

CARBONICA, S.A., Panama [CUBA]

CARDENAS CASTILLO, Osiel (a.k.a. CARDENAS GILLEN, Osiel; a.k.a. CARDENAS GUILLEN, Ociel; a.k.a. CARDENAS GUILLEN, Oscar; a.k.a. CARDENAS GUILLEN, Osiel; a.k.a. CARDENAS GUILLEN, Oziel; a.k.a. CARDENAS GULLEN, Osiel; a.k.a. CARDENAS TUILLEN, Osiel; a.k.a. SALINA AGUILAR, Jorge; a.k.a. SALINAS AGUILAR, Jorge); DOB 18 May 67; POB Mexico (individual) [SDNTK]

CARDENAS GILLEN, Osiel (a.k.a. CARDENAS CASTILLO, Osiel; a.k.a. CARDENAS GUILLEN, Ociel; a.k.a. CARDENAS GUILLEN, Oscar; a.k.a. CARDENAS GUILLEN, Osiel; a.k.a. CARDENAS GUILLEN, Oziel; a.k.a. CARDENAS GULLEN, Osiel; a.k.a. CARDENAS TUILLEN, Osiel; a.k.a. SALINA AGUILAR, Jorge; a.k.a. SALINAS AGUILAR, Jorge); DOB 18 May 67; POB Mexico (individual) [SDNTK]

CARDENAS GONGORA, Luis Fernando, c/o LATINFARMACOS S.A., Quito, Ecuador; Cedula No. 10105501 (Colombia); RUC # 1719649129001 (Ecuador) (individual) [SDNT]

CARDENAS GUILLEN, Ociel (a.k.a. CARDENAS CASTILLO, Osiel; a.k.a. CARDENAS GILLEN, Osiel; a.k.a. CARDENAS GUILLEN, Oscar; a.k.a. CARDENAS GUILLEN, Osiel; a.k.a. CARDENAS GUILLEN, Oziel; a.k.a. CARDENAS GULLEN, Osiel; a.k.a. CARDENAS TUILLEN, Osiel; a.k.a. SALINA AGUILAR, Jorge; a.k.a. SALINAS AGUILAR, Jorge); DOB 18 May 67; POB Mexico (individual) [SDNTK]

CARDENAS GUILLEN, Oscar (a.k.a. CARDENAS CASTILLO, Osiel; a.k.a. CARDENAS GILLEN, Osiel; a.k.a. CARDENAS GUILLEN, Ociel; a.k.a. CARDENAS GUILLEN, Osiel; a.k.a. CARDENAS GUILLEN, Oziel; a.k.a. CARDENAS GULLEN, Osiel; a.k.a. CARDENAS TUILLEN, Osiel; a.k.a. SALINA AGUILAR, Jorge; a.k.a. SALINAS AGUILAR, Jorge); DOB 18 May 67; POB Mexico (individual) [SDNTK]

CARDENAS GUILLEN, Osiel (a.k.a. CARDENAS CASTILLO, Osiel; a.k.a. CARDENAS GILLEN, Osiel; a.k.a. CARDENAS GUILLEN, Ociel; a.k.a. CARDENAS GUILLEN, Oscar; a.k.a. CARDENAS GUILLEN, Oziel; a.k.a. CARDENAS GULLEN, Osiel; a.k.a. CARDENAS TUILLEN, Osiel; a.k.a. SALINA AGUILAR, Jorge; a.k.a. SALINAS AGUILAR, Jorge); DOB 18 May 67; POB Mexico (individual) [SDNTK]

CARDENAS GUILLEN, Oziel (a.k.a. CARDENAS CASTILLO, Osiel; a.k.a. CARDENAS GILLEN, Osiel; a.k.a. CARDENAS GUILLEN, Ociel; a.k.a. CARDENAS GUILLEN, Oscar; a.k.a. CARDENAS GUILLEN, Osiel; a.k.a. CARDENAS GULLEN, Osiel; a.k.a. CARDENAS TUILLEN, Osiel; a.k.a. SALINA AGUILAR, Jorge; a.k.a. SALINAS AGUILAR, Jorge); DOB 18 May 67; POB Mexico (individual) [SDNTK]

CARDENAS GULLEN, Osiel (a.k.a. CARDENAS CASTILLO, Osiel; a.k.a. CARDENAS GILLEN, Osiel; a.k.a. CARDENAS GUILLEN, Ociel; a.k.a. CARDENAS GUILLEN, Oscar; a.k.a. CARDENAS GUILLEN, Osiel; a.k.a. CARDENAS GUILLEN, Oziel; a.k.a. CARDENAS TUILLEN, Osiel; a.k.a. SALINA AGUILAR, Jorge; a.k.a. SALINAS AGUILAR, Jorge); DOB 18 May 67; POB Mexico (individual) [SDNTK]

CARDENAS TUILLEN, Osiel (a.k.a. CARDENAS CASTILLO, Osiel; a.k.a. CARDENAS GILLEN, Osiel; a.k.a. CARDENAS GUILLEN, Ociel; a.k.a. CARDENAS GUILLEN, Oscar; a.k.a. CARDENAS GUILLEN, Osiel; a.k.a. CARDENAS GUILLEN, Oziel; a.k.a. CARDENAS GULLEN, Osiel; a.k.a. SALINA AGUILAR, Jorge; a.k.a. SALINAS AGUILAR, Jorge); DOB 18 May 67; POB Mexico (individual) [SDNTK]

CARDONA ACEVEDO, Carlos Arturo, c/o RIONAP COMERCIO Y REPRESENTACIONES S.A., Quito, Ecuador; Cedula No. 4383319 (Colombia); RUC # 1791819624001 (Ecuador) (individual) [SDNT]

CARDONA GARCIA, Diomiro, Carrera 1 No. 12-53, Cartago, Valle, Colombia; Carrera 4 No. 12-20 of. 206, Cartago, Valle, Colombia; c/o AGRICOLA DOIMA DEL NORTE DEL VALLE LTDA., Cartago, Valle, Colombia; c/o GANADERIA EL VERGEL LTDA., Cartago, Valle, Colombia; c/o GANADERIAS BILBAO LTDA., Cartago, Valle, Colombia; c/o INMOBILIARIA EL ESCORIAL LTDA., Cartago, Valle, Colombia; c/o INMOBILIARIA LINARES LTDA., Cartago, Valle, Colombia; c/o INMOBILIARIA PASADENA LTDA., Cartago, Valle, Colombia; c/o ORGANIZACION LUIS HERNANDO GOMEZ BUSTAMANTE Y CIA. S.C.S., Cartago, Valle, Colombia; c/o VISCAYA LTDA., Cartago, Valle, Colombia; Cedula No. 6233272 (Colombia); Passport 6233272 (Colombia) (individual) [SDNT]

CARDONA OCHOA, Carlos Julio, c/o GRUPO SANTA LTDA., Cali, Colombia; c/o AUREAL INMOBILIARIA LTDA., Bogota, Colombia; DOB 22 Sep 1954; Cedula No. 7524996 (Colombia) (individual) [SDNT]

CARDONA RUEDA, Fernando Ivan, c/o COINTERCOS S.A., Bogota, Colombia; c/o DROGAS LA REBAJA BOGOTA S.A., Bogota, Colombia; c/o LABORATORIOS KRESSFOR DE COLOMBIA S.A., Bogota, Colombia; DOB 29 Apr 1957; Cedula No. 16607447 (Colombia) (individual) [SDNT]

CARGO AIRCRAFT LEASING CORP., 2310 NW 55TH Court, Suite 120, Ft. Lauderdale, FL 33309; Business Registration Document # 93000004034 (United States); U.S. FEIN 65-0389435 [BPI-SDNTK]

CARIBBEAN BEACH PARK, Rosehall Main Road, Rosehall, Jamaica; 1137 Sugar Mill Road, Montego Bay, Jamaica [SDNTK]

CARIBBEAN EXPORT ENTERPRISE (a.k.a. CARIBEX; a.k.a. EMPRESA CUBANA DE PESCADOS Y MARISCOS), Paris, France [CUBA]

CARIBBEAN EXPORT ENTERPRISE (a.k.a. CARIBEX; a.k.a. EMPRESA CUBANA DE PESCADOS Y MARISCOS), Milan, Italy [CUBA]

CARIBBEAN EXPORT ENTERPRISE (a.k.a. CARIBEX; a.k.a. EMPRESA CUBANA DE PESCADOS Y MARISCOS), Moscow, Russia [CUBA]

CARIBBEAN EXPORT ENTERPRISE (a.k.a. CARIBEX; a.k.a. EMPRESA CUBANA DE PESCADOS Y MARISCOS), Madrid, Spain [CUBA]

CARIBBEAN EXPORT ENTERPRISE (a.k.a. CARIBEX; a.k.a. EMPRESA CUBANA DE PESCADOS Y MARISCOS), Cologne, Germany [CUBA]

CARIBBEAN EXPORT ENTERPRISE (a.k.a. CARIBEX; a.k.a. EMPRESA CUBANA DE PESCADOS Y MARISCOS), Downsview, Ontario, Canada [CUBA]

CARIBBEAN EXPORT ENTERPRISE (a.k.a. CARIBEX; a.k.a. EMPRESA CUBANA DE PESCADOS Y MARISCOS), Tokyo, Japan [CUBA]

CARIBBEAN HAPPY LINES (a.k.a. CARIBBEAN HAPPY LINES CO.), Panama [CUBA]

CARIBBEAN HAPPY LINES CO. (a.k.a. CARIBBEAN HAPPY LINES), Panama [CUBA]

CARIBBEAN PRINCESS SHIPPING LTD., c/o EMPRESA DE NAVEGACION MAMBISA, Apartado 543, San Ignacio 104, Havana, Cuba [CUBA]

CARIBBEAN QUEEN SHIPPING LTD., c/o EMPRESA DE NAVEGACION MAMBISA, Apartado 543, San Ignacio 104, Havana, Cuba [CUBA]

CARIBBEAN SHOWPLACE LTD (f.k.a. FLAMINGO CLUB), Tropigala Night Club, Ironshore, Montego Bay, Jamaica; Rosehall Main Road, Rosehall, Jamaica [SDNTK]

CARIBE SOL (a.k.a. 2904977 CANADA, INC.; a.k.a. HAVANTUR CANADA INC.), 818 rue Sherbrooke East, Montreal, Quebec H2L 1K3, Canada [CUBA]

CARIBERIA, S.A., Spain [CUBA]

CARIBEX (a.k.a. CARIBBEAN EXPORT ENTERPRISE; a.k.a. EMPRESA CUBANA DE PESCADOS Y MARISCOS), Paris, France [CUBA]

CARIBEX (a.k.a. CARIBBEAN EXPORT ENTERPRISE; a.k.a. EMPRESA CUBANA DE PESCADOS Y MARISCOS), Milan, Italy [CUBA]

CARIBEX (a.k.a. CARIBBEAN EXPORT ENTERPRISE; a.k.a. EMPRESA CUBANA DE PESCADOS Y MARISCOS), Moscow, Russia [CUBA]

CARIBEX (a.k.a. CARIBBEAN EXPORT ENTERPRISE; a.k.a. EMPRESA CUBANA DE PESCADOS Y MARISCOS), Madrid, Spain [CUBA]

CARIBEX (a.k.a. CARIBBEAN EXPORT ENTERPRISE; a.k.a. EMPRESA CUBANA DE PESCADOS Y MARISCOS), Cologne, Germany [CUBA]

CARIBEX (a.k.a. CARIBBEAN EXPORT ENTERPRISE; a.k.a. EMPRESA CUBANA DE PESCADOS Y MARISCOS), Downsview, Ontario, Canada [CUBA]

CARIBEX (a.k.a. CARIBBEAN EXPORT ENTERPRISE; a.k.a. EMPRESA CUBANA DE PESCADOS Y MARISCOS), Tokyo, Japan [CUBA]

CARIBSUGAR INTERNATIONAL TRADERS, S.A., 125-133 Camden High Street, London NW1 7JR, United Kingdom [CUBA]

CARIBSUGAR, S.A., Panama [CUBA]

CARISUB, S.A., Panama [CUBA]

CARLOS SAIEH Y CIA. S.C.S., Carrera 74 No. 76-150, Barranquilla, Atlantico, Colombia; NIT # 800180437-8 (Colombia) [SDNT]

CARMONA, Juan Manuel, c/o INVERSIONES ARA LTDA., Cali, Colombia; c/o INVERSIONES RODRIGUEZ ARBELAEZ, Cali, Colombia; c/o INVERSIONES RODRIGUEZ MORENO, Cali, Colombia; DOB 14 Jan 1933; Cedula No. 3524135 (Colombia) (individual) [SDNT]

CARO MORENO, Arcadio, c/o COOPDISAN, Bucaramanga, Colombia; c/o DROGAS LA REBAJA BUCARAMANGA S.A., Bucaramanga, Colombia; Cedula No. 91207732 (Colombia); Passport 91207732 (Colombia) (individual) [SDNT]

CARO PEREZ, Maria Eugenia, c/o COMEDICAMENTOS S.A., Bogota, Colombia; c/o FOGENSA S.A., Bogota, Colombia; c/o GLAJAN S.A., Bogota, Colombia; DOB 17 Sep 1971; Cedula No. 52583651 (Colombia); Passport 52583651 (Colombia) (individual) [SDNT]

CARO QUINTERO, Miguel Angel; DOB 9 Mar 63; POB Mexico (individual) [SDNTK]

CARO QUINTERO, Rafael (a.k.a. CARO QUINTERO, Raphael); DOB 12 DEC 52; alt. DOB 24 NOV 55; alt. DOB 24 OCT 55; POB Mexico (individual) [SDNTK]

CARO QUINTERO, Raphael (a.k.a. CARO QUINTERO, Rafael); DOB 12 DEC 52; alt. DOB 24 NOV 55; alt. DOB 24 OCT 55; POB Mexico (individual) [SDNTK]

CARO RODRIGUEZ, Gilberto (a.k.a. AREGON, Max; a.k.a. GUIERREZ LOERA, Jose Luis; a.k.a. GUMAN LOERAL, Joaquin; a.k.a. GUZMAN FERNANDEZ, Joaquin; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. GUZMAN, Achivaldo; a.k.a. GUZMAN, Archibaldo; a.k.a. GUZMAN, Aureliano; a.k.a. GUZMAN, Chapo; a.k.a. GUZMAN, Joaquin Chapo; a.k.a. ORTEGA, Miguel; a.k.a. OSUNA, Gilberto; a.k.a. RAMIREZ, Joise Luis; a.k.a. RAMOX PEREZ, Jorge); DOB 25 Dec 54; POB Mexico (individual) [SDNTK]

CARRASCO MIRANDA, Willebaldo, Mexico; DOB 06 Oct 1958; POB Chihuahua, Chihuahua, Mexico; citizen Mexico; nationality Mexico; C.U.R.P. CAMW581006HCHRRL00 (Mexico) (individual) [BPI-SDNTK]

CARRASQUILLA LORA, Jorge Eliecer, c/o CAJA SOLIDARIA, Bogota, Colombia; c/o COPSERVIR LTDA., Bogota, Colombia; Cedula No. 7461027 (Colombia) (individual) [SDNT]

CARRERA ILLADES, Marisela (a.k.a. CARRERA YLLADES, Marisela), c/o CAMBIOS PALMILLA S.A. DE C.V., Hidalgo del Parral, Mexico; Calle Decima No. 14, Hidalgo del Parral, Chihuahua, Mexico; DOB 02 Feb 1968; POB Hidalgo del Parral, Chihuahua, Mexico; citizen Mexico; nationality Mexico; C.U.R.P. CAYM680202MCHRLR06 (Mexico); alt. C.U.R.P. CAIM680202MCHRLR08 (Mexico); R.F.C. CATM-680202-T88 (Mexico) (individual) [SDNTK]

CARRERA YLLADES, Marisela (a.k.a. CARRERA ILLADES, Marisela), c/o CAMBIOS PALMILLA S.A. DE C.V., Hidalgo del Parral, Mexico; Calle Decima No. 14, Hidalgo del Parral, Chihuahua, Mexico; DOB 02 Feb 1968; POB Hidalgo del Parral, Chihuahua, Mexico; citizen Mexico; nationality Mexico; C.U.R.P. CAYM680202MCHRLR06 (Mexico); alt. C.U.R.P. CAIM680202MCHRLR08 (Mexico); R.F.C. CATM-680202-T88 (Mexico) (individual) [SDNTK]

CARRERO BURBANO, Emma Alexandra, c/o DROMARCA Y CIA. S.C.S., Bogota, Colombia; c/o FARMACOOP, Bogota, Colombia; c/o LABORATORIOS KRESSFOR DE COLOMBIA S.A., Bogota, Colombia; Cedula No. 52362326 (Colombia) (individual) [SDNT]

CARRILLO CUEVAS, Mario Alberto, Calle Lago Chaira 323, Colonia Vista Dorada, Ensenada, Baja California CP 22800, Mexico; c/o CASA DE EMPENO RIO TIJUANA, S.A. DE C.V., Tijuana, Baja California, Mexico; DOB 11 Sep 1980; POB Navojoa, Sonora, Mexico (individual) [SDNTK]

CARRILLO FUENTES ORGANIZATION (a.k.a. CFO; a.k.a. JUAREZ CARTEL), Mexico [SDNTK]

CARRILLO FUENTES, Andres (a.k.a. CARRILLO FUENTES, Vicente); DOB 16 OCT 62; POB Mexico (individual) [SDNTK]

CARRILLO FUENTES, Vicente (a.k.a. CARRILLO FUENTES, Andres); DOB 16 OCT 62; POB Mexico (individual) [SDNTK]

CARRILLO QUINTERO, Eugenio, c/o BONOMERCAD S.A., Bogota, Colombia; c/o DECAFARMA S.A., Bogota, Colombia; c/o PATENTES MARCAS Y REGISTROS S.A., Bogota, Colombia; c/o SHARPER S.A., Bogota, Colombia; c/o DISTRIBUIDORA AGROPECUARIA COLOMBIANA S.A., Cali, Colombia; c/o CODISA, Bogota, Colombia; c/o SHARVET S.A., Bogota, Colombia; DOB 30 Nov 1960; Cedula No. 73094061 (Colombia) (individual) [SDNT]

CARRILLO SILVA, Armando, c/o DROGAS LA REBAJA, Cali, Colombia; c/o INVERSIONES CAMINO REAL S.A., Cali, Colombia; c/o GRACADAL S.A., Cali, Colombia; c/o INTERAMERICA DE CONSTRUCCIONES S.A., Cali, Colombia; c/o ASESORIAS DE INGENIERIA EMPRESA UNIPERSONAL, Cali, Colombia; c/o DISTRIBUIDORA SANAR DE COLOMBIA S.A., Cali, Colombia; c/o PROSPECTIVA EMPRESA UNIPERSONAL, Cali, Colombia; c/o TECNICAS CONTABLES Y ADMINISTRATIVAS, Cali, Colombia; c/o DISTRIBUIDORA DEL VALLE E.U., Cali, Colombia; c/o PROVIDA E.U., Cali, Colombia; DOB 11 Feb 1949; Cedula No. 16242828 (Colombia); Passport 16242828 (Colombia) (individual) [SDNT]

CARRION JIMENEZ, Jose Alonso, c/o BONOMERCAD S.A., Bogota, Colombia; c/o GLAJAN S.A., Bogota, Colombia; c/o SHARPER S.A., Bogota, Colombia; c/o DROCARD S.A., Bogota, Colombia; c/o FARMA 3.00 LIMITADA, Barranquilla, Colombia; c/o FOGENSA S.A., Bogota, Colombia; DOB 2 Aug 1958; Cedula No. 79000519 (Colombia); Passport 79000519 (Colombia) (individual) [SDNT]

CARS & CARS LTDA. (a.k.a. CENTRO COMERCIAL DEL AUTOMOVIL; a.k.a. COMERCIALIZADORA INTEGRAL LTDA.; a.k.a. PROYECTO CARS & CARS), Avenida Roosevelt entre carreras 38 y 38A esquinas, Cali, Colombia [SDNT]

CARTAGENA AVILA, Tito, c/o COOPERATIVA MERCANTIL COLOMBIANA OOMERCOL, Cali, Colombia; c/o COPSERVIR LTDA., Bogota, Colombia; DOB 6 Jun 1961; Cedula No. 16659672 (Colombia); Passport 16659672 (Colombia) (individual) [SDNT]

CARVAJAL SUAREZ, Luz Mary, c/o DISMERCOOP, Cali, Colombia; DOB 7 Apr 1966; Cedula No. 24626230 (Colombia) (individual) [SDNT]

CARVAJAL TAFURT, Hector Fabio (a.k.a. MONTOYA SANCHEZ, Eugenio), Diagonal 27 No. 27-104, Cali, Colombia; Calle 7 No. 45-25, Cali, Colombia; c/o LADRILLERA LA CANDELARIA LTDA., Cali, Colombia; DOB 17 Apr 1970; alt. DOB 15 Apr 1972; POB Trujillo, Valle, Colombia; Cedula No. 94307307 (Colombia); alt. Cedula No. 16836750 (Colombia); Passport AC814028 (Colombia); alt. Passport 94307307 (Colombia); alt. Passport 16836750 (Colombia) (individual) [SDNT]

CASA APOLLO, Galeria Page, Ciudad del Este, Paraguay [SDGT]

CASA DE CAMBIO RUBI (a.k.a. MULTISERVICIOS GAMAL, S.A. DE C.V.), Paseo Playas 24-2, Colonia Playas de Tijuana, Tijuana, Mexico, Mexico; Av. Federico Benitez 6400-52, Colonia Yamille, Tijuana, Baja California, Mexico; Paseo Estrella Del Mar 359, Colonia Playas de Tijuana, Tijuana, Baja California CP 22200, Mexico; Blvd. Fundadores 5343-22, Colonia El Rubi, Tijuana, Baja California CP 22180, Mexico; Paseo Ensenada S/N D11, Colonia Playas de Tijuana, Tijuana, Baja California, Mexico; R.F.C. MGA-940615-SC3 (Mexico) [SDNTK]

CASA DE CUBA, Spain; Mexico [CUBA]

CASA DE EMPENO RIO TIJUANA, S.A. DE C.V., Paseo de los Heroes, No. 98 Loc. 14 D C, Colonia Zona Urbana Rio Tijuana, Tijuana, Baja California CP 22010, Mexico [SDNTK]

CASA DEL REPUESTO, Panama City, Panama [CUBA]

CASA ESTRELLA (a.k.a. G.L.G. S.A.), Avenida 15 No. 123-30, Local 1-13, Bogota, Colombia; Calle 53 No. 25-30, Bogota, Colombia; Apartado Aereo 250752, Bogota, Colombia; Calle 164 No. 40-40, Bogota, Colombia; Carrera 65 No. 71-74, Barranquilla, Colombia; Centro Comercial Chipichape, Cali, Colombia; Centro Comercial Galerias, Bogota, Colombia; Centro Comercial Unicentro, Local 1-13, Bogota, Colombia; Centro Comercial Unicentro, Local 209, Cali, Colombia; Diagonal 127A No. 17-34 Piso 5, Bogota, Colombia; NIT # 800023807-8 (Colombia) [SDNT]

CASA GRAJALES S.A., Apartado Aereo 20288, Cali, Colombia; Factoria La Rivera, La Union, Valle, Colombia; Calle 96 No. 11B-39, Bogota, Colombia; Carrera 10 No. 31-01, Cali, Colombia; Zona Industrial Los Mangos, Cali, Colombia; NIT # 891902138-1 (Colombia) [SDNT]

CASILIMAS ESCOBAR, Lia Patricia, c/o COPSERVIR LTDA., Bogota, Colombia; c/o SU SERVICIO SOCIEDAD LTDA., Barranquilla, Colombia; Cedula No. 32761550 (Colombia) (individual) [SDNT]

CASQUETE VARGAS, Orlando, c/o ALFA PHARMA S.A., Bogota, Colombia; c/o LABORATORIOS GENERICOS VETERINARIOS, Bogota, Colombia; c/o LABORATORIOS KRESSFOR, Bogota, Colombia; c/o PENTA PHARMA DE COLOMBIA S.A., Bogota, Colombia; DOB 7 Jan 1957; Cedula No. 19270159 (Colombia) (individual) [SDNT]

CASTANEDA CASTRO, Antonio, c/o CAJA SOLIDARIA, Bogota, Colombia; c/o COOMULCOSTA, Barranquilla, Colombia; c/o COPSERVIR LTDA., Bogota, Colombia; Cedula No. 8534700 (Colombia) (individual) [SDNT]

CASTANEDA CHACON, Olga Patricia, c/o ARCA DISTRIBUCIONES LTDA., Bogota, Colombia; c/o COOPERATIVA DE TRABAJO ASOCIADO ACTIVAR, Bogota, Colombia; Cedula No. 51870004 (Colombia) (individual) [SDNT]

CASTANEDA QUINTERO, Luis Alberto, c/o FARMACOOP, Bogota, Colombia; c/o PENTACOOP LTDA., Bogota, Colombia; c/o PENTA PHARMA DE COLOMBIA S.A., Bogota, Colombia; c/o LABORATORIOS KRESSFOR DE COLOMBIA S.A., Bogota, Colombia; c/o DECAFARMA S.A., Bogota, Colombia; DOB 12 Feb 1938; Cedula No. 6064977 (Colombia) (individual) [SDNT]

CASTANEDA RAMIREZ, Lorena Constanza, c/o PENTACOOP LTDA., Bogota, Colombia; c/o PENTA PHARMA DE COLOMBIA S.A., Bogota, Colombia; c/o DECAFARMA S.A., Bogota, Colombia; c/o DROCARD S.A., Bogota, Colombia; c/o DROMARCA Y CIA. S.C.S., Bogota, Colombia; c/o MATERIAS PRIMAS Y SUMINISTROS S.A., Bogota, Colombia; DOB May 13 1971; Cedula No. 52071011 (Colombia); Passport 52071011 (Colombia) (individual) [SDNT]

CASTANEDA, Martha Helena, c/o SOLUCIONES COOPERATIVAS, Bogota, Colombia; Cedula No. 41658669 (Colombia) (individual) [SDNT]

CASTANO ARANGO, Fernando, c/o INDUSTRIA AVICOLA PALMASECA S.A., Cali, Colombia; c/o AGROPECUARIA LA ROBLEDA S.A., Cali, Colombia; DOB 9 Jan 1949; Cedula No. 14953602 (Colombia) (individual) [SDNT]

CASTANO CASTANO, Consuelo, Carrera 20 No. 66-34, Bogota, Colombia; c/o TODOBOLSAS Y COLSOBRES, Bogota, Colombia; DOB 25 Feb 1951; POB Pereira, Risaralda, Colombia; Cedula No. 29493435 (Colombia); Passport 24943435 (Colombia) (individual) [SDNT]

CASTANO GIL, Carlos; DOB 15 May 1965; POB Amalfi, Antioquia, Colombia; Cedula No. 70564150 (Colombia) (individual) [SDNTK]

CASTANO GIL, Hector; DOB 24 Mar 1959; POB Amalfi, Antioquia, Colombia; Cedula No. 3371328 (Colombia) (individual) [SDNTK]

CASTANO GIL, Jose Vicente; DOB 2 Jul 1957; Cedula No. 3370637 (Colombia) (individual) [SDNTK]

CASTANO PATINO, Maria Janet, c/o CONSTRUVIDA S.A., Cali, Colombia; DOB 26 Oct 1958; Cedula No. 31149394 (Colombia) (individual) [SDNT]

CASTELL VALDEZ, Osvaldo Antonio, Panama (individual) [CUBA]

CASTELLANOS ALVAREZ TOSTADO, Juan Jose (a.k.a. ALVAREZ TOSTADO, Jose; a.k.a. GONZALEZ, Jose); DOB 27 Aug 55; POB Mexico (individual) [SDNTK]

CASTELLANOS GARZON, Henry (a.k.a. “COMANDANTE ROMANA”; a.k.a. “EDISON ROMANA”; a.k.a. “ROMANA”); DOB 20 Mar 1965; POB San Martin, Meta, Colombia; Cedula No. 17353695 (Colombia) (individual) [SDNTK]

CASTILLO CORTES, Miguel Angel (a.k.a. MEDINA CARACAS, Tomas; a.k.a. MOLINA CARACAS, Tomas; a.k.a. “ARTURO GUEVARA”; a.k.a. “EL PATRON”; a.k.a. “JORGE MEDINA”; a.k.a. “NEGRO ACACIO”); DOB 15 Mar 1965; POB Lopez De Micay, Cauca, Colombia (individual) [SDNTK]

CASTRILLON CRUZ, Maria Leonor, c/o AGROPECUARIA LA ROBLEDA S.A., Cali, Colombia; DOB 25 Oct 1922; Cedula No. 31138584 (Colombia) (individual) [SDNT]

CASTRO ARIAS, Libardo (a.k.a. ARIAS CASTRO, Libardo), c/o BONOMERCAD S.A., Bogota, Colombia; c/o COMEDICAMENTOS S.A., Bogota, Colombia; c/o DECAFARMA S.A., Bogota, Colombia; c/o GLAJAN S.A., Bogota, Colombia; c/o SHARPER S.A., Bogota, Colombia; c/o FOGENSA S.A., Bogota, Colombia; DOB 13 Oct 1933; Cedula No. 2312291 (Colombia); Passport 2312291 (Colombia) (individual) [SDNT]

CASTRO CABAL, Maria Beatriz, c/o CONTACTEL COMUNICACIONES S.A., Cali, Colombia; c/o COPSERVIR LTDA., Bogota, Colombia; DOB 11 May 1974; Cedula No. 66772109 (Colombia); Passport 66772109 (Colombia) (individual) [SDNT]

CASTRO DE SANTACRUZ, Amparo, c/o INMOBILIARIA SAMARIA LTDA., Cali, Colombia; c/o SAMARIA LTDA., Cali, Colombia; c/o INVERSIONES SANTA LTDA., Cali, Colombia; c/o COMERCIALIZACION Y FINANCIACION DE AUTOMOTORES S.A., Cali, Colombia; c/o INVERSIONES INTEGRAL LTDA., Cali, Colombia; c/o MIRALUNA LTDA., Cali, Colombia; c/o URBANIZACIONES Y CONSTRUCCIONES LTDA., DE CALI, Cali, Colombia; DOB 13 Jan 48; alt. DOB 13 Jan 46; alt. DOB 14 Apr 59; Cedula No. 38983611 (Colombia); Passport PE027370 (Colombia); alt. Passport AA429676 (Colombia) (individual) [SDNT]

CASTRO SANCHEZ, Nelson, c/o ADMACOOP, Bogota, Colombia; c/o CODISA, Bogota, Colombia; c/o FARMACOOP, Bogota, Colombia; DOB 18 May 1953; Cedula No. 19308824 (Colombia); Passport 19308824 (Colombia) (individual) [SDNT]

CASTRO VERGARA, Sandra, c/o INVERSIONES EL PENON S.A., Cali, Colombia; DOB 24 Nov 1964; Cedula No. 31924082 (Colombia) (individual) [SDNT]

CAUCALITO LTDA. (f.k.a. GANADERA; f.k.a. GANADERIA LTDA.), Apartado Aereo 10077, Cali, Colombia; Carrera 4 12-41 of. 1403, Edificio Seguros Bolivar, Cali, Colombia; NIT # 800029160-9 (Colombia) [SDNT]

CAVIEDES CRUZ, Leonardo, c/o INVERSIONES SANTA LTDA., Cali, Colombia; Calle 21 Norte No. 3N-84, Cali, Colombia; c/o CAVIEDES DILEO Y CIA S.C.S., Cali, Colombia; DOB 23 Nov 52; Cedula No. 16593470 (Colombia); Passport AB151486 (Colombia); alt. Passport AC444270 (Colombia); alt. Passport OC444290 (Colombia) (individual) [SDNT]

CAVIEDES DILEO Y CIA. S.C.S., Calle 21 Norte No. 3N-64, Cali, Colombia; NIT # 800113437-2 (Colombia) [SDNT]

CAVIEDES LOPEZ, Gloria Ines, c/o DISTRIBUCIONES GLOMIL LTDA., Cali, Colombia; DOB 20 Oct 1959; Cedula No. 42002286 (Colombia); Passport 42002286 (Colombia) (individual) [SDNT]

CAYCEDO GALLEGO, Maria Nury (a.k.a. CAICEDO GALLEGO, Maria Nury), 85 Brainerd Road, Townhouse 9, Allston, MA 02134; Calle 2 Casa No. 4-13, Barrio San Isidro, Venezuela; Calle 90 No. 10-05, Bogota, Colombia; Avenida 11 No. 7N-166, Cali, Colombia; 18801 Collins Ave., Apt. 322-3, Sunny Isles Beach, FL 33160; Diagonal 130 No. 7-20, Apt. 806, Bogota, Colombia; c/o COLOMBO ANDINA COMERCIAL COALSA LTDA., Bogota, Colombia; c/o INVERSIONES AGROINDUSTRIALES DEL OCCIDENTE LTDA., Bogota, Colombia; c/o COMPANIA AGROPECUARIA DEL SUR LTDA., Bogota, Colombia; c/o DIMABE LTDA., Bogota, Colombia; c/o SALOME GRAJALES Y CIA. LTDA., Bogota, Colombia; DOB 16 Nov 1956; POB Tulua, Valle, Colombia; citizen Colombia; nationality Colombia; Cedula No. 31191388 (Colombia); Passport AH286341 (Colombia); alt. Passport AE889461 (Colombia); SSN 594-33-3352 (United States) issued 1993 (individual) [SDNT]

CBSP (a.k.a. AL AQSA ASSISTANCE CHARITABLE COUNCIL; a.k.a. AL-LAJNA AL-KHAYRIYYA LIL MUNASARA AL-AQSA; a.k.a. BENEVOLENCE COMMITTEE FOR SOLIDARITY WITH PALESTINE; a.k.a. BENEVOLENT COMMITTEE FOR SUPPORT OF PALESTINE; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; a.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

CECOEX, S.A., Panama City, Panama [CUBA]

CEDENO HERRERA, Luis Mario, c/o COMPANIA AGROPECUARIA DEL SUR LTDA., Bogota, Colombia; c/o INVERSIONES AGROINDUSTRIALES DEL OCCIDENTE LTDA., Bogota, Colombia; citizen Colombia; nationality Colombia; Cedula No. 16637213 (Colombia) (individual) [SDNT]

CELIS PEREZ, Alexander, c/o DROCARD S.A., Bogota, Colombia; DOB 16 Feb 1973; Cedula No. 79620931 (Colombia) (individual) [SDNT]

CENGIC, Hasan; DOB 3 Aug 1957; POB Odzak, Bosnia-Herzegovina (individual) [BALKANS]

CENTRAFRICAIN AIRLINES (a.k.a. CENTRAFRICAN AIRLINES; a.k.a. CENTRAL AFRICAN AIR; a.k.a. CENTRAL AFRICAN AIR LINES; a.k.a. CENTRAL AFRICAN AIRWAYS), P.O. Box 2760, Bangui, Central African Republic; c/o Transavia Travel Agency, P.O. Box 3962, Sharjah, United Arab Emirates; P.O. Box 2190, Ajman, United Arab Emirates; Kigali, Rwanda; Ras-al-Khaimah, United Arab Emirates [LIBERIA]

CENTRAFRICAN AIRLINES (a.k.a. CENTRAFRICAIN AIRLINES; a.k.a. CENTRAL AFRICAN AIR; a.k.a. CENTRAL AFRICAN AIR LINES; a.k.a. CENTRAL AFRICAN AIRWAYS), P.O. Box 2760, Bangui, Central African Republic; c/o Transavia Travel Agency, P.O. Box 3962, Sharjah, United Arab Emirates; P.O. Box 2190, Ajman, United Arab Emirates; Kigali, Rwanda; Ras-al-Khaimah, United Arab Emirates [LIBERIA]

CENTRAL AFRICA DEVELOPMENT FUND, 811 S. Central Expwy, Ste 210, Richardson, TX 75080; P.O. Box 850431, Richardson, TX 75085; US FEIN 75-2884986 [LIBERIA]

CENTRAL AFRICAN AIR (a.k.a. CENTRAFRICAIN AIRLINES; a.k.a. CENTRAFRICAN AIRLINES; a.k.a. CENTRAL AFRICAN AIR LINES; a.k.a. CENTRAL AFRICAN AIRWAYS), P.O. Box 2760, Bangui, Central African Republic; c/o Transavia Travel Agency, P.O. Box 3962, Sharjah, United Arab Emirates; P.O. Box 2190, Ajman, United Arab Emirates; Kigali, Rwanda; Ras-al-Khaimah, United Arab Emirates [LIBERIA]

CENTRAL AFRICAN AIR LINES (a.k.a. CENTRAFRICAIN AIRLINES; a.k.a. CENTRAFRICAN AIRLINES; a.k.a. CENTRAL AFRICAN AIR; a.k.a. CENTRAL AFRICAN AIRWAYS), P.O. Box 2760, Bangui, Central African Republic; c/o Transavia Travel Agency, P.O. Box 3962, Sharjah, United Arab Emirates; P.O. Box 2190, Ajman, United Arab Emirates; Kigali, Rwanda; Ras-al-Khaimah, United Arab Emirates [LIBERIA]

CENTRAL AFRICAN AIRWAYS (a.k.a. CENTRAFRICAIN AIRLINES; a.k.a. CENTRAFRICAN AIRLINES; a.k.a. CENTRAL AFRICAN AIR; a.k.a. CENTRAL AFRICAN AIR LINES), P.O. Box 2760, Bangui, Central African Republic; c/o Transavia Travel Agency, P.O. Box 3962, Sharjah, United Arab Emirates; P.O. Box 2190, Ajman, United Arab Emirates; Kigali, Rwanda; Ras-al-Khaimah, United Arab Emirates [LIBERIA]

CENTRAL ELECTRICITY AND WATER CORPORATION (a.k.a. PUBLIC ELECTRICITY AND WATER CORPORATION), P.O. Box 1380, Khartoum, Sudan [SUDAN]

CENTRE D'ETUDES ET RECHERCHES (a.k.a. SCIENTIFIC STUDIES AND RESEARCH CENTER; a.k.a. “SSRC”), P.O. Box 4470, Damascus, Syria [NPWMD]

CENTRO CAMBIARIO KINO, S.A. DE C.V. (a.k.a. GAMAL-MULTISERVICIOS), Av. Independencia 1 Plaza Padre Kino, Local 11, Zona Rio, Tijuana, Baja California CP 22320, Mexico; Carretera Aeropuerto 1900, Local G-16, Tijuana, Baja California CP 22510, Mexico; R.F.C. CCK-010928-5C0 (Mexico) [SDNTK]

CENTRO COMERCIAL DEL AUTOMOVIL (a.k.a. CARS & CARS LTDA.; a.k.a. COMERCIALIZADORA INTEGRAL LTDA.; a.k.a. PROYECTO CARS & CARS), Avenida Roosevelt entre carreras 38 y 38A esquinas, Cali, Colombia [SDNT]

CERKEZ, Mario; DOB 27 Mar 1959; POB Rijeka, Bosnia-Herzegovina; ICTY indictee (individual) [BALKANS]

CESIC, Ranko; DOB 5 Sep 1964; POB Drvar, Bosnia-Herzegovina; ICTY indictee in custody (individual) [BALKANS]

CESIC-ROJS, Ljubo; DOB 20 Feb 1958; POB Posulje, Bosnia-Herzegovina (individual) [BALKANS]

CESSAVIA (a.k.a. AIR CESS; a.k.a. AIR CESS EQUATORIAL GUINEA; a.k.a. AIR CESS HOLDINGS LTD.; a.k.a. AIR CESS INC. 360-C; a.k.a. AIR CESS LIBERIA; a.k.a. AIR CESS RWANDA; a.k.a. AIR CESS SWAZILAND (PTY.) LTD.; a.k.a. AIR PAS; a.k.a. AIR PASS; a.k.a. CHESS AIR GROUP; a.k.a. PIETERSBURG AVIATION SERVICES & SYSTEMS), Malabo, Equatorial Guinea; P.O. Box 7837, Sharjah, United Arab Emirates; P.O. Box 3962, Sharjah, United Arab Emirates; Islamabad, Pakistan; Entebbe, Uganda [LIBERIA]

CET AVIATION ENTERPRISE (FZE), P.O. Box 932-C20, Ajman, United Arab Emirates; Equatorial Guinea [LIBERIA]

CETNIK RAVNAGORSKI POKRET (a.k.a. CRP) [BALKANS]

CFO (a.k.a. CARRILLO FUENTES ORGANIZATION; a.k.a. JUAREZ CARTEL), Mexico [SDNTK]

CGWIC (a.k.a. CHINA GREAT WALL INDUSTRY CORPORATION; a.k.a. ZHONGGUO CHANGCHENG GONGYE ZONGGONGSI), No. 30 Haidian Nanlu, Beijing, China; Moscow, Russia [NPWMD]

CHACON PACHON, Rodolfo, c/o DISTRIBUIDORA DE DROGAS CONDOR S.A., Bogota, Colombia; c/o COSMEPOP, Bogota, Colombia; DOB 23 Feb 1970; Cedula No. 79538033 (Colombia) (individual) [SDNT]

CHADIAN (a.k.a. SHAHBANDAR, Samira); DOB 1946; POB Baghdad, Iraq; nationality Iraq; wife of Saddam Hussein al-Tikriti (individual) [IRAQ2]

CHAICHAMRUNPHAN, Warin (a.k.a. CHAIJAMROONPHAN, Warin; a.k.a. CHAIWORASILP, Warin; a.k.a. CHAIWORASIN, Warin; a.k.a. PICHAYOS, Warin; a.k.a. VORAWATVICHAI, Hataiwan; a.k.a. VORAWATVICHAI, Hathaiwan; a.k.a. VORAWATVICHAI, Suravee; a.k.a. VORAWATVICHAI, Surawee; a.k.a. VORAWATVICHAI, Varin; a.k.a. WORAWATVICHAI, Hataiwan; a.k.a. WORAWATVICHAI, Hathaiwan; a.k.a. WORAWATVICHAI, Suravee; a.k.a. WORAWATVICHAI, Surawee; a.k.a. WORAWATWICHAI, Hataiwan; a.k.a. WORAWATWICHAI, Hathaiwan; a.k.a. WORAWATWICHAI, Surawee; a.k.a. WORAWATWICHAI, Warin), c/o HATKAEW COMPANY LTD., Bangkok, Thailand; c/o NICE FANTASY GARMENT COMPANY LTD., Bangkok, Thailand; c/o PLOYDAENG JEWELRY SHOP, Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 9 Jan 1956; National ID No. 3101701873838 (Thailand); Passport N302083 (Thailand) (individual) [SDNTK]

CHAIJAMROONPHAN, Warin (a.k.a. CHAICHAMRUNPHAN, Warin; a.k.a. CHAIWORASILP, Warin; a.k.a. CHAIWORASIN, Warin; a.k.a. PICHAYOS, Warin; a.k.a. VORAWATVICHAI, Hataiwan; a.k.a. VORAWATVICHAI, Hathaiwan; a.k.a. VORAWATVICHAI, Suravee; a.k.a. VORAWATVICHAI, Surawee; a.k.a. VORAWATVICHAI, Varin; a.k.a. WORAWATVICHAI, Hataiwan; a.k.a. WORAWATVICHAI, Hathaiwan; a.k.a. WORAWATVICHAI, Suravee; a.k.a. WORAWATVICHAI, Surawee; a.k.a. WORAWATWICHAI, Hataiwan; a.k.a. WORAWATWICHAI, Hathaiwan; a.k.a. WORAWATWICHAI, Surawee; a.k.a. WORAWATWICHAI, Warin), c/o HATKAEW COMPANY LTD., Bangkok, Thailand; c/o NICE FANTASY GARMENT COMPANY LTD., Bangkok, Thailand; c/o PLOYDAENG JEWELRY SHOP, Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 9 Jan 1956; National ID No. 3101701873838 (Thailand); Passport N302083 (Thailand) (individual) [SDNTK]

CHAIVORASILP, Vilai (a.k.a. CHAIWORASIN, Vilai; a.k.a. CHAIWORASIN, Wilai), c/o HATKAEW COMPANY LTD., Bangkok, Thailand; c/o MAESAI K.D.P. COMPANY LTD., Chiang Rai, Thailand; c/o NICE FANTASY GARMENT COMPANY LTD., Bangkok, Thailand; c/o RUNGRIN COMPANY LTD., Bangkok, Thailand; c/o SCORE COMMERCIAL COMPANY LTD., Bangkok, Thailand; c/o SIAM NICE COMPANY LTD., Bangkok, Thailand; c/o V.R. FRUIT COMPANY, Chiang Mai, Thailand; DOB 1934; National ID No. 3102002529284 (Thailand) (individual) [SDNTK]

CHAIVORASILP, Vimolsri (a.k.a. CHAIVORASILP, Wimolsri; a.k.a. CHAIWORASIN, Vimonsi; a.k.a. CHAIWORASIN, Vimonsri; a.k.a. CHAIWORASIN, Wimonsi; a.k.a. CHAIWORASIN, Wimonsri), c/o A-TEAM CHEMICALS COMPANY LTD. , Bangkok, Thailand; c/o HATKAEW COMPANY LTD., Bangkok, Thailand; c/o MAESAI K.D.P. COMPANY LTD., Chiang Rai, Thailand; c/o NICE FANTASY GARMENT COMPANY LTD., Bangkok, Thailand; c/o PLUS TECH AUTO SUPPLY COMPANY LTD., Bangkok, Thailand; c/o RATTANA VICHAI COMPANY LTD., Bangkok, Thailand; c/o RUNGRIN COMPANY LTD., Bangkok, Thailand; c/o SIAM NICE COMPANY LTD., Bangkok, Thailand; c/o V.R. FRUIT COMPANY, Chiang Mai, Thailand; DOB 1953; National ID No. 3570900519762 (Thailand); Passport B272327 (Thailand) (individual) [SDNTK]

CHAIVORASILP, Wimolsri (a.k.a. CHAIVORASILP, Vimolsri; a.k.a. CHAIWORASIN, Vimonsi; a.k.a. CHAIWORASIN, Vimonsri; a.k.a. CHAIWORASIN, Wimonsi; a.k.a. CHAIWORASIN, Wimonsri), c/o A-TEAM CHEMICALS COMPANY LTD. , Bangkok, Thailand; c/o HATKAEW COMPANY LTD., Bangkok, Thailand; c/o MAESAI K.D.P. COMPANY LTD., Chiang Rai, Thailand; c/o NICE FANTASY GARMENT COMPANY LTD., Bangkok, Thailand; c/o PLUS TECH AUTO SUPPLY COMPANY LTD., Bangkok, Thailand; c/o RATTANA VICHAI COMPANY LTD., Bangkok, Thailand; c/o RUNGRIN COMPANY LTD., Bangkok, Thailand; c/o SIAM NICE COMPANY LTD., Bangkok, Thailand; c/o V.R. FRUIT COMPANY, Chiang Mai, Thailand; DOB 1953; National ID No. 3570900519762 (Thailand); Passport B272327 (Thailand) (individual) [SDNTK]

CHAIWORASILP, Warin (a.k.a. CHAICHAMRUNPHAN, Warin; a.k.a. CHAIJAMROONPHAN, Warin; a.k.a. CHAIWORASIN, Warin; a.k.a. PICHAYOS, Warin; a.k.a. VORAWATVICHAI, Hataiwan; a.k.a. VORAWATVICHAI, Hathaiwan; a.k.a. VORAWATVICHAI, Suravee; a.k.a. VORAWATVICHAI, Surawee; a.k.a. VORAWATVICHAI, Varin; a.k.a. WORAWATVICHAI, Hataiwan; a.k.a. WORAWATVICHAI, Hathaiwan; a.k.a. WORAWATVICHAI, Suravee; a.k.a. WORAWATVICHAI, Surawee; a.k.a. WORAWATWICHAI, Hataiwan; a.k.a. WORAWATWICHAI, Hathaiwan; a.k.a. WORAWATWICHAI, Surawee; a.k.a. WORAWATWICHAI, Warin), c/o HATKAEW COMPANY LTD., Bangkok, Thailand; c/o NICE FANTASY GARMENT COMPANY LTD., Bangkok, Thailand; c/o PLOYDAENG JEWELRY SHOP, Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 9 Jan 1956; National ID No. 3101701873838 (Thailand); Passport N302083 (Thailand) (individual) [SDNTK]

CHAIWORASIN, Vilai (a.k.a. CHAIVORASILP, Vilai; a.k.a. CHAIWORASIN, Wilai), c/o HATKAEW COMPANY LTD., Bangkok, Thailand; c/o MAESAI K.D.P. COMPANY LTD., Chiang Rai, Thailand; c/o NICE FANTASY GARMENT COMPANY LTD., Bangkok, Thailand; c/o RUNGRIN COMPANY LTD., Bangkok, Thailand; c/o SCORE COMMERCIAL COMPANY LTD., Bangkok, Thailand; c/o SIAM NICE COMPANY LTD., Bangkok, Thailand; c/o V.R. FRUIT COMPANY, Chiang Mai, Thailand; DOB 1934; National ID No. 3102002529284 (Thailand) (individual) [SDNTK]

CHAIWORASIN, Vimonsi (a.k.a. CHAIVORASILP, Vimolsri; a.k.a. CHAIVORASILP, Wimolsri; a.k.a. CHAIWORASIN, Vimonsri; a.k.a. CHAIWORASIN, Wimonsi; a.k.a. CHAIWORASIN, Wimonsri), c/o A-TEAM CHEMICALS COMPANY LTD. , Bangkok, Thailand; c/o HATKAEW COMPANY LTD., Bangkok, Thailand; c/o MAESAI K.D.P. COMPANY LTD., Chiang Rai, Thailand; c/o NICE FANTASY GARMENT COMPANY LTD., Bangkok, Thailand; c/o PLUS TECH AUTO SUPPLY COMPANY LTD., Bangkok, Thailand; c/o RATTANA VICHAI COMPANY LTD., Bangkok, Thailand; c/o RUNGRIN COMPANY LTD., Bangkok, Thailand; c/o SIAM NICE COMPANY LTD., Bangkok, Thailand; c/o V.R. FRUIT COMPANY, Chiang Mai, Thailand; DOB 1953; National ID No. 3570900519762 (Thailand); Passport B272327 (Thailand) (individual) [SDNTK]

CHAIWORASIN, Vimonsri (a.k.a. CHAIVORASILP, Vimolsri; a.k.a. CHAIVORASILP, Wimolsri; a.k.a. CHAIWORASIN, Vimonsi; a.k.a. CHAIWORASIN, Wimonsi; a.k.a. CHAIWORASIN, Wimonsri), c/o A-TEAM CHEMICALS COMPANY LTD. , Bangkok, Thailand; c/o HATKAEW COMPANY LTD., Bangkok, Thailand; c/o MAESAI K.D.P. COMPANY LTD., Chiang Rai, Thailand; c/o NICE FANTASY GARMENT COMPANY LTD., Bangkok, Thailand; c/o PLUS TECH AUTO SUPPLY COMPANY LTD., Bangkok, Thailand; c/o RATTANA VICHAI COMPANY LTD., Bangkok, Thailand; c/o RUNGRIN COMPANY LTD., Bangkok, Thailand; c/o SIAM NICE COMPANY LTD., Bangkok, Thailand; c/o V.R. FRUIT COMPANY, Chiang Mai, Thailand; DOB 1953; National ID No. 3570900519762 (Thailand); Passport B272327 (Thailand) (individual) [SDNTK]

CHAIWORASIN, Warin (a.k.a. CHAICHAMRUNPHAN, Warin; a.k.a. CHAIJAMROONPHAN, Warin; a.k.a. CHAIWORASILP, Warin; a.k.a. PICHAYOS, Warin; a.k.a. VORAWATVICHAI, Hataiwan; a.k.a. VORAWATVICHAI, Hathaiwan; a.k.a. VORAWATVICHAI, Suravee; a.k.a. VORAWATVICHAI, Surawee; a.k.a. VORAWATVICHAI, Varin; a.k.a. WORAWATVICHAI, Hataiwan; a.k.a. WORAWATVICHAI, Hathaiwan; a.k.a. WORAWATVICHAI, Suravee; a.k.a. WORAWATVICHAI, Surawee; a.k.a. WORAWATWICHAI, Hataiwan; a.k.a. WORAWATWICHAI, Hathaiwan; a.k.a. WORAWATWICHAI, Surawee; a.k.a. WORAWATWICHAI, Warin), c/o HATKAEW COMPANY LTD., Bangkok, Thailand; c/o NICE FANTASY GARMENT COMPANY LTD., Bangkok, Thailand; c/o PLOYDAENG JEWELRY SHOP, Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 9 Jan 1956; National ID No. 3101701873838 (Thailand); Passport N302083 (Thailand) (individual) [SDNTK]

CHAIWORASIN, Wilai (a.k.a. CHAIVORASILP, Vilai; a.k.a. CHAIWORASIN, Vilai), c/o HATKAEW COMPANY LTD., Bangkok, Thailand; c/o MAESAI K.D.P. COMPANY LTD., Chiang Rai, Thailand; c/o NICE FANTASY GARMENT COMPANY LTD., Bangkok, Thailand; c/o RUNGRIN COMPANY LTD., Bangkok, Thailand; c/o SCORE COMMERCIAL COMPANY LTD., Bangkok, Thailand; c/o SIAM NICE COMPANY LTD., Bangkok, Thailand; c/o V.R. FRUIT COMPANY, Chiang Mai, Thailand; DOB 1934; National ID No. 3102002529284 (Thailand) (individual) [SDNTK]

CHAIWORASIN, Wimonsi (a.k.a. CHAIVORASILP, Vimolsri; a.k.a. CHAIVORASILP, Wimolsri; a.k.a. CHAIWORASIN, Vimonsi; a.k.a. CHAIWORASIN, Vimonsri; a.k.a. CHAIWORASIN, Wimonsri), c/o A-TEAM CHEMICALS COMPANY LTD. , Bangkok, Thailand; c/o HATKAEW COMPANY LTD., Bangkok, Thailand; c/o MAESAI K.D.P. COMPANY LTD., Chiang Rai, Thailand; c/o NICE FANTASY GARMENT COMPANY LTD., Bangkok, Thailand; c/o PLUS TECH AUTO SUPPLY COMPANY LTD., Bangkok, Thailand; c/o RATTANA VICHAI COMPANY LTD., Bangkok, Thailand; c/o RUNGRIN COMPANY LTD., Bangkok, Thailand; c/o SIAM NICE COMPANY LTD., Bangkok, Thailand; c/o V.R. FRUIT COMPANY, Chiang Mai, Thailand; DOB 1953; National ID No. 3570900519762 (Thailand); Passport B272327 (Thailand) (individual) [SDNTK]

CHAIWORASIN, Wimonsri (a.k.a. CHAIVORASILP, Vimolsri; a.k.a. CHAIVORASILP, Wimolsri; a.k.a. CHAIWORASIN, Vimonsi; a.k.a. CHAIWORASIN, Vimonsri; a.k.a. CHAIWORASIN, Wimonsi), c/o A-TEAM CHEMICALS COMPANY LTD. , Bangkok, Thailand; c/o HATKAEW COMPANY LTD., Bangkok, Thailand; c/o MAESAI K.D.P. COMPANY LTD., Chiang Rai, Thailand; c/o NICE FANTASY GARMENT COMPANY LTD., Bangkok, Thailand; c/o PLUS TECH AUTO SUPPLY COMPANY LTD., Bangkok, Thailand; c/o RATTANA VICHAI COMPANY LTD., Bangkok, Thailand; c/o RUNGRIN COMPANY LTD., Bangkok, Thailand; c/o SIAM NICE COMPANY LTD., Bangkok, Thailand; c/o V.R. FRUIT COMPANY, Chiang Mai, Thailand; DOB 1953; National ID No. 3570900519762 (Thailand); Passport B272327 (Thailand) (individual) [SDNTK]

CHALO (a.k.a. PRADO CUERO, Salomon), c/o COLOR 89.5 FM STEREO, Cali, Colombia; Avenida 26 No. 42B-89, Bogota, Colombia; Carrera 101B No. 11B-50, Cali, Colombia; DOB 1 Aug 1948; Cedula No. 19069493 (Colombia); Passport AE801105 (Colombia) (individual) [SDNT]

CHAMARTIN S.A., Calle 10 No. 4-47, piso 18, Cali, Colombia; NIT # 805024137-4 (Colombia) [SDNT]

CHAMET IMPORT, S.A., Panama [CUBA]

CHAN, Changtrakul (a.k.a. CHANG, Chi Fu; a.k.a. CHANG, Shi-Fu; a.k.a. CHANG, Xifu; a.k.a. CHANGTRAKUL, Chan; a.k.a. KHUN SA); DOB 17 FEB 33; alt. DOB 7 JAN 32; alt. DOB 12 FEB 32; POB Burma (individual) [SDNTK]

CHAN, Shu Sang (a.k.a. CHAN, Shusang; a.k.a. CHEN, Bing Shen; a.k.a. CHEN, Bingshen; a.k.a. CHEN, Shu Sheng; a.k.a. CHEN, Shusheng; a.k.a. DU, Yu Rong; a.k.a. DU, Yurong; a.k.a. HU, Chi Shu; a.k.a. HU, Chishu; a.k.a. HUANG, Man Chi; a.k.a. HUANG, Manchi; a.k.a. WONG, Kam Kong; a.k.a. WONG, Kamkong; a.k.a. WONG, Moon Chi; a.k.a. WONG, Moonchi; a.k.a. WONG, Mun Chi; a.k.a. WONG, Munchi; a.k.a. WU, Chai Su; a.k.a. WU, Chaisu; a.k.a. ZHANG, Jiang Ping; a.k.a. ZHANG, Jiangping; a.k.a. “CHI BANG”), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

CHAN, Shusang (a.k.a. CHAN, Shu Sang; a.k.a. CHEN, Bing Shen; a.k.a. CHEN, Bingshen; a.k.a. CHEN, Shu Sheng; a.k.a. CHEN, Shusheng; a.k.a. DU, Yu Rong; a.k.a. DU, Yurong; a.k.a. HU, Chi Shu; a.k.a. HU, Chishu; a.k.a. HUANG, Man Chi; a.k.a. HUANG, Manchi; a.k.a. WONG, Kam Kong; a.k.a. WONG, Kamkong; a.k.a. WONG, Moon Chi; a.k.a. WONG, Moonchi; a.k.a. WONG, Mun Chi; a.k.a. WONG, Munchi; a.k.a. WU, Chai Su; a.k.a. WU, Chaisu; a.k.a. ZHANG, Jiang Ping; a.k.a. ZHANG, Jiangping; a.k.a. “CHI BANG”), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

CHANG BARRERO, Pedro Antonio, c/o DISTRIBUIDORA MIGIL LTDA., Cali, Colombia; c/o RADIO UNIDAS FM S.A., Cali, Colombia; DOB 1 May 1946; Cedula No. 14960909 (Colombia) (individual) [SDNT]

CHANG, Chi Fu (a.k.a. CHAN, Changtrakul; a.k.a. CHANG, Shi-Fu; a.k.a. CHANG, Xifu; a.k.a. CHANGTRAKUL, Chan; a.k.a. KHUN SA); DOB 17 FEB 33; alt. DOB 7 JAN 32; alt. DOB 12 FEB 32; POB Burma (individual) [SDNTK]

CHANG, Ping Yun (a.k.a. KHUN, Saeng); DOB 7 Jan 40; POB Burma (individual) [SDNTK]

CHANG, Shi-Fu (a.k.a. CHAN, Changtrakul; a.k.a. CHANG, Chi Fu; a.k.a. CHANG, Xifu; a.k.a. CHANGTRAKUL, Chan; a.k.a. KHUN SA); DOB 17 FEB 33; alt. DOB 7 JAN 32; alt. DOB 12 FEB 32; POB Burma (individual) [SDNTK]

CHANG, Xifu (a.k.a. CHAN, Changtrakul; a.k.a. CHANG, Chi Fu; a.k.a. CHANG, Shi-Fu; a.k.a. CHANGTRAKUL, Chan; a.k.a. KHUN SA); DOB 17 FEB 33; alt. DOB 7 JAN 32; alt. DOB 12 FEB 32; POB Burma (individual) [SDNTK]

CHANGGWANG CREDIT BANK (f.k.a. KOREA CHANGGWANG CREDIT BANK; a.k.a. TANCHON COMMERCIAL BANK), Saemul 1-Dong Pyongchon District, Pyongyang, Korea, North [NPWMD]

CHANGGWANG SINYONG CORPORATION (a.k.a. EXTERNAL TECHNOLOGY GENERAL CORPORATION; a.k.a. KOREA MINING DEVELOPMENT TRADING CORPORATION; a.k.a. NORTH KOREAN MINING DEVELOPMENT TRADING CORPORATION; a.k.a. “KOMID”), Central District, Pyongyang, Korea, North [NPWMD]

CHANGTRAKUL, Chan (a.k.a. CHAN, Changtrakul; a.k.a. CHANG, Chi Fu; a.k.a. CHANG, Shi-Fu; a.k.a. CHANG, Xifu; a.k.a. KHUN SA); DOB 17 FEB 33; alt. DOB 7 JAN 32; alt. DOB 12 FEB 32; POB Burma (individual) [SDNTK]

CHANTARAPRAPAPORN, Apinya (a.k.a. CHANTHRAPRAPHAPHON, Aphinya; a.k.a. CHANTRAPRAPAPORN, Apinya; a.k.a. CHATARAPRAPAPORN, Apinya; a.k.a. JUNTARAPRAPORN, Aping), c/o BANGKOK ARTI-FLORA DESIGN LIMITED PARTNERSHIP, Bangkok, Thailand; c/o BANGKOK SILK FLOWER COMPANY LTD., Bangkok, Thailand; DOB 14 Jan 1955 (individual) [SDNTK]

CHANTARAPRAPAPORN, Arin (a.k.a. CHANTHRAPRAPHAPHON, Amarin; a.k.a. CHANTHRAPRAPHAPHON, Arin; a.k.a. CHANTRAPRAPAPORN, Arrin; a.k.a. CHATARAPRAPAPORN, Arin; a.k.a. JANPRAPAPORN, Arin), c/o BANGKOK ARTI-FLORA DESIGN LIMITED PARTNERSHIP, Bangkok, Thailand; c/o BANGKOK SILK FLOWER COMPANY LTD., Bangkok, Thailand; DOB 5 May 1954; Passport M93116 (Thailand) (individual) [SDNTK]

CHANTHRAPRAPHAPHON, Amarin (a.k.a. CHANTARAPRAPAPORN, Arin; a.k.a. CHANTHRAPRAPHAPHON, Arin; a.k.a. CHANTRAPRAPAPORN, Arrin; a.k.a. CHATARAPRAPAPORN, Arin; a.k.a. JANPRAPAPORN, Arin), c/o BANGKOK ARTI-FLORA DESIGN LIMITED PARTNERSHIP, Bangkok, Thailand; c/o BANGKOK SILK FLOWER COMPANY LTD., Bangkok, Thailand; DOB 5 May 1954; Passport M93116 (Thailand) (individual) [SDNTK]

CHANTHRAPRAPHAPHON, Aphinya (a.k.a. CHANTARAPRAPAPORN, Apinya; a.k.a. CHANTRAPRAPAPORN, Apinya; a.k.a. CHATARAPRAPAPORN, Apinya; a.k.a. JUNTARAPRAPORN, Aping), c/o BANGKOK ARTI-FLORA DESIGN LIMITED PARTNERSHIP, Bangkok, Thailand; c/o BANGKOK SILK FLOWER COMPANY LTD., Bangkok, Thailand; DOB 14 Jan 1955 (individual) [SDNTK]

CHANTHRAPRAPHAPHON, Arin (a.k.a. CHANTARAPRAPAPORN, Arin; a.k.a. CHANTHRAPRAPHAPHON, Amarin; a.k.a. CHANTRAPRAPAPORN, Arrin; a.k.a. CHATARAPRAPAPORN, Arin; a.k.a. JANPRAPAPORN, Arin), c/o BANGKOK ARTI-FLORA DESIGN LIMITED PARTNERSHIP, Bangkok, Thailand; c/o BANGKOK SILK FLOWER COMPANY LTD., Bangkok, Thailand; DOB 5 May 1954; Passport M93116 (Thailand) (individual) [SDNTK]

CHANTRAPRAPAPORN, Apinya (a.k.a. CHANTARAPRAPAPORN, Apinya; a.k.a. CHANTHRAPRAPHAPHON, Aphinya; a.k.a. CHATARAPRAPAPORN, Apinya; a.k.a. JUNTARAPRAPORN, Aping), c/o BANGKOK ARTI-FLORA DESIGN LIMITED PARTNERSHIP, Bangkok, Thailand; c/o BANGKOK SILK FLOWER COMPANY LTD., Bangkok, Thailand; DOB 14 Jan 1955 (individual) [SDNTK]

CHANTRAPRAPAPORN, Arrin (a.k.a. CHANTARAPRAPAPORN, Arin; a.k.a. CHANTHRAPRAPHAPHON, Amarin; a.k.a. CHANTHRAPRAPHAPHON, Arin; a.k.a. CHATARAPRAPAPORN, Arin; a.k.a. JANPRAPAPORN, Arin), c/o BANGKOK ARTI-FLORA DESIGN LIMITED PARTNERSHIP, Bangkok, Thailand; c/o BANGKOK SILK FLOWER COMPANY LTD., Bangkok, Thailand; DOB 5 May 1954; Passport M93116 (Thailand) (individual) [SDNTK]

CHAO, Lazaro R., 20 Ironmonger Lane, London EC2V 8EY, United Kingdom; Executive Director, Havana International Bank (individual) [CUBA]

CHAPARRO MARTINEZ, Elizabeth, c/o ADMINISTRADORA DE SERVICIOS VARIOS CALIMA S.A., Cali, Colombia; DOB 5 May 1968; Cedula No. 31973372 (Colombia); Passport 31973372 (Colombia) (individual) [SDNT]

CHAPFIKA, Abina; DOB 23 Aug 1961; Passport ZE190297 (Zimbabwe); Spouse of David Chapfika (individual) [ZIMBABWE]

CHAPFIKA, David; DOB 7 Apr 1957; Passport ZL037165 (Zimbabwe); Deputy Minister of Finance (individual) [ZIMBABWE]

CHARAABI, Tarek (a.k.a. AL-CHARAABI, Tarek Ben Al-Bechir Ben Amara; a.k.a. SHARAABI, Tarek), Viale Bligny n.42, Milano, Italy; DOB 31 Mar 1970; POB Tunisia; nationality Tunisia; Italian Fiscal Code CHRTRK70C31Z352U; Passport L 579603 issued 19 Nov 1997 expires 18 Nov 2002 (individual) [SDGT]

CHARAMBA, George; DOB 4 Apr 1963; Passport AD001255 (Zimbabwe); Permanent Secretary, Zimbabwean Ministry of Information and Publicity (individual) [ZIMBABWE]

CHARAMBA, Rudo Grace; DOB 20 Jun 1964; Spouse of George Charamba (individual) [ZIMBABWE]

CHARIAPAPORN, Hiran (a.k.a. CHARI-APAPORN, Hiran; a.k.a. CHARI-APHAPHON, Hiran; a.k.a. JAREE-ARPAPORN, Hiran; a.k.a. JAREE-ARPAPORN, Hirun; a.k.a. WU, Nan Hsiung), c/o A-TEAM CHEMICALS COMPANY LTD. , Bangkok, Thailand; c/o PLUS TECH AUTO SUPPLY COMPANY LTD., Bangkok, Thailand; DOB 3 Jan 1950; National ID No. 310062394060 (Thailand) (individual) [SDNTK]

CHARI-APAPORN, Hiran (a.k.a. CHARIAPAPORN, Hiran; a.k.a. CHARI-APHAPHON, Hiran; a.k.a. JAREE-ARPAPORN, Hiran; a.k.a. JAREE-ARPAPORN, Hirun; a.k.a. WU, Nan Hsiung), c/o A-TEAM CHEMICALS COMPANY LTD. , Bangkok, Thailand; c/o PLUS TECH AUTO SUPPLY COMPANY LTD., Bangkok, Thailand; DOB 3 Jan 1950; National ID No. 310062394060 (Thailand) (individual) [SDNTK]

CHARI-APHAPHON, Hiran (a.k.a. CHARIAPAPORN, Hiran; a.k.a. CHARI-APAPORN, Hiran; a.k.a. JAREE-ARPAPORN, Hiran; a.k.a. JAREE-ARPAPORN, Hirun; a.k.a. WU, Nan Hsiung), c/o A-TEAM CHEMICALS COMPANY LTD. , Bangkok, Thailand; c/o PLUS TECH AUTO SUPPLY COMPANY LTD., Bangkok, Thailand; DOB 3 Jan 1950; National ID No. 310062394060 (Thailand) (individual) [SDNTK]

CHARITABLE AL-AQSA ESTABLISHMENT (a.k.a. AL-AQSA (ASBL); a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NURSAT AL-AQSA AL-SHARIF; a.k.a. SANABIL AL-AQSA CHARITABLE FOUNDATION; a.k.a. STICHTING AL-AQSA; a.k.a. SWEDISH CHARITABLE AQSA EST.), BD Leopold II 71, 1080 Brussels, Belgium [SDGT]

CHARITABLE AL-AQSA ESTABLISHMENT (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Kappellenstrasse 36, Aachen D-52066, Germany; <Head Office> [SDGT]

CHARITABLE AL-AQSA ESTABLISHMENT (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.) [SDGT]

CHARITABLE AL-AQSA ESTABLISHMENT (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

CHARITABLE AL-AQSA ESTABLISHMENT (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 2364, Islamabad, Pakistan [SDGT]

CHARITABLE AL-AQSA ESTABLISHMENT (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 14101, San 'a, Yemen [SDGT]

CHARITABLE AL-AQSA ESTABLISHMENT (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 6222200KBKN, Copenhagen, Denmark [SDGT]

CHARITABLE AL-AQSA ESTABLISHMENT (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Noblev 79 NB, 21433 Malmo, Sweden; Nobelvagen 79 NB, 21433 Malmo, Sweden [SDGT]

CHARITABLE AL-AQSA ESTABLISHMENT (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Gerrit V/D Lindestraat 103 A, 3022 TH, Rotterdam, Netherlands; Gerrit V/D Lindestraat 103 E, 03022 TH, Rotterdam, Netherlands [SDGT]

CHARITABLE COMMITTEE FOR PALESTINE (a.k.a. AL AQSA ASSISTANCE CHARITABLE COUNCIL; a.k.a. AL-LAJNA AL-KHAYRIYYA LIL MUNASARA AL-AQSA; a.k.a. BENEVOLENCE COMMITTEE FOR SOLIDARITY WITH PALESTINE; a.k.a. BENEVOLENT COMMITTEE FOR SUPPORT OF PALESTINE; a.k.a. CBSP; a.k.a. CHARITABLE COMMITTEE FOR SOLIDARITY WITH PALESTINE; a.k.a. CHARITABLE COMMITTEE FOR SUPPORTING PALESTINE; a.k.a. CHARITABLE ORGANIZATION IN SUPPORT OF PALESTINE; a.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

CHARITABLE COMMITTEE FOR SOLIDARITY WITH PALESTINE (a.k.a. AL AQSA ASSISTANCE CHARITABLE COUNCIL; a.k.a. AL-LAJNA AL-KHAYRIYYA LIL MUNASARA AL-AQSA; a.k.a. BENEVOLENCE COMMITTEE FOR SOLIDARITY WITH PALESTINE; a.k.a. BENEVOLENT COMMITTEE FOR SUPPORT OF PALESTINE; a.k.a. CBSP; a.k.a. CHARITABLE COMMITTEE FOR PALESTINE; a.k.a. CHARITABLE COMMITTEE FOR SUPPORTING PALESTINE; a.k.a. CHARITABLE ORGANIZATION IN SUPPORT OF PALESTINE; a.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

CHARITABLE COMMITTEE FOR SUPPORTING PALESTINE (a.k.a. AL AQSA ASSISTANCE CHARITABLE COUNCIL; a.k.a. AL-LAJNA AL-KHAYRIYYA LIL MUNASARA AL-AQSA; a.k.a. BENEVOLENCE COMMITTEE FOR SOLIDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE ORGANIZATION IN SUPPORT OF PALESTINE; a.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

CHARITABLE ORGANIZATION IN SUPPORT OF PALESTINE (a.k.a. AL AQSA ASSISTANCE CHARITABLE COUNCIL; a.k.a. AL-LAJNA AL-KHAYRIYYA LIL MUNASARA AL-AQSA; a.k.a. BENEVOLENCE COMMITTEE FOR SOLIDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

CHARITABLE SOCIETY TO HELP THE NOBLE AL-AQSA (a.k.a. AL-AQSA (ASBL); a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NURSAT AL-AQSA AL-SHARIF; a.k.a. SANABIL AL-AQSA CHARITABLE FOUNDATION; a.k.a. STICHTING AL-AQSA; a.k.a. SWEDISH CHARITABLE AQSA EST.), BD Leopold II 71, 1080 Brussels, Belgium [SDGT]

CHARITABLE SOCIETY TO HELP THE NOBLE AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Kappellenstrasse 36, Aachen D-52066, Germany; <Head Office> [SDGT]

CHARITABLE SOCIETY TO HELP THE NOBLE AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.) [SDGT]

CHARITABLE SOCIETY TO HELP THE NOBLE AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

CHARITABLE SOCIETY TO HELP THE NOBLE AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 2364, Islamabad, Pakistan [SDGT]

CHARITABLE SOCIETY TO HELP THE NOBLE AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 14101, San 'a, Yemen [SDGT]

CHARITABLE SOCIETY TO HELP THE NOBLE AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 6222200KBKN, Copenhagen, Denmark [SDGT]

CHARITABLE SOCIETY TO HELP THE NOBLE AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Noblev 79 NB, 21433 Malmo, Sweden; Nobelvagen 79 NB, 21433 Malmo, Sweden [SDGT]

CHARITABLE SOCIETY TO HELP THE NOBLE AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Gerrit V/D Lindestraat 103 A, 3022 TH, Rotterdam, Netherlands; Gerrit V/D Lindestraat 103 E, 03022 TH, Rotterdam, Netherlands [SDGT]

CHARNCHAI, Chiwinnitipanya (a.k.a. CHEEWINNITTIPANYA, Prasit; a.k.a. CHIVINNITIPANYA, Prasit; a.k.a. CHIWINNITIPANYA, Charnchai; a.k.a. PRASIT, Cheewinnittipanya; a.k.a. PRASIT, Chivinnitipanya; a.k.a. WEI, Hsueh Kang; a.k.a. WEI, Shao-Kang; a.k.a. WEI, Sia-Kang; a.k.a. WEI, Xuekang); DOB 29 Jun 1952; alt. DOB 29 May 1952; Passport Q081061 (Thailand); alt. Passport E091929 (Thailand) (individual) [SDNTK]

CHARRIS MORALES, Geny Maria (a.k.a. CHARRYS MORALES, Geny Maria), c/o REPRESENTACIONES Y DISTRIBUCIONES HUERTAS Y ASOCIADOS S.A., Bogota, Colombia; c/o COOPERATIVA MULTIACTIVA DE COLOMBIA FOMENTAMOS, Bogota, Colombia; c/o COOPIFARMA, Bucaramanga, Colombia; DOB 24 Feb 1961; Cedula No. 51606354 (Colombia); Passport 51606354 (Colombia) (individual) [SDNT]

CHARRYS MORALES, Geny Maria (a.k.a. CHARRIS MORALES, Geny Maria), c/o REPRESENTACIONES Y DISTRIBUCIONES HUERTAS Y ASOCIADOS S.A., Bogota, Colombia; c/o COOPERATIVA MULTIACTIVA DE COLOMBIA FOMENTAMOS, Bogota, Colombia; c/o COOPIFARMA, Bucaramanga, Colombia; DOB 24 Feb 1961; Cedula No. 51606354 (Colombia); Passport 51606354 (Colombia) (individual) [SDNT]

CHARUMBIRA, Fortune Zefanaya; DOB 10 Jun 1962; Member of Parliament & Central Committee Member (individual) [ZIMBABWE]

CHATARAPRAPAPORN, Apinya (a.k.a. CHANTARAPRAPAPORN, Apinya; a.k.a. CHANTHRAPRAPHAPHON, Aphinya; a.k.a. CHANTRAPRAPAPORN, Apinya; a.k.a. JUNTARAPRAPORN, Aping), c/o BANGKOK ARTI-FLORA DESIGN LIMITED PARTNERSHIP, Bangkok, Thailand; c/o BANGKOK SILK FLOWER COMPANY LTD., Bangkok, Thailand; DOB 14 Jan 1955 (individual) [SDNTK]

CHATARAPRAPAPORN, Arin (a.k.a. CHANTARAPRAPAPORN, Arin; a.k.a. CHANTHRAPRAPHAPHON, Amarin; a.k.a. CHANTHRAPRAPHAPHON, Arin; a.k.a. CHANTRAPRAPAPORN, Arrin; a.k.a. JANPRAPAPORN, Arin), c/o BANGKOK ARTI-FLORA DESIGN LIMITED PARTNERSHIP, Bangkok, Thailand; c/o BANGKOK SILK FLOWER COMPANY LTD., Bangkok, Thailand; DOB 5 May 1954; Passport M93116 (Thailand) (individual) [SDNTK]

CHAVARRO, Hector Fabio, c/o VALLADARES LTDA., Cali, Colombia; c/o AGROPECUARIA BETANIA LTDA., Cali, Colombia; c/o INVERSIONES VILLA PAZ S.A., Cali, Colombia; DOB 28 Sep 1959; Cedula No. 16263212 (Colombia) (individual) [SDNT]

CHEEWINNITTIPANYA, Prasit (a.k.a. CHARNCHAI, Chiwinnitipanya; a.k.a. CHIVINNITIPANYA, Prasit; a.k.a. CHIWINNITIPANYA, Charnchai; a.k.a. PRASIT, Cheewinnittipanya; a.k.a. PRASIT, Chivinnitipanya; a.k.a. WEI, Hsueh Kang; a.k.a. WEI, Shao-Kang; a.k.a. WEI, Sia-Kang; a.k.a. WEI, Xuekang); DOB 29 Jun 1952; alt. DOB 29 May 1952; Passport Q081061 (Thailand); alt. Passport E091929 (Thailand) (individual) [SDNTK]

CHEKKOURI, Yassine; DOB 6 Oct 1966; POB Safi, Morocco (individual) [SDGT]

CHEN, Bing Shen (a.k.a. CHAN, Shu Sang; a.k.a. CHAN, Shusang; a.k.a. CHEN, Bingshen; a.k.a. CHEN, Shu Sheng; a.k.a. CHEN, Shusheng; a.k.a. DU, Yu Rong; a.k.a. DU, Yurong; a.k.a. HU, Chi Shu; a.k.a. HU, Chishu; a.k.a. HUANG, Man Chi; a.k.a. HUANG, Manchi; a.k.a. WONG, Kam Kong; a.k.a. WONG, Kamkong; a.k.a. WONG, Moon Chi; a.k.a. WONG, Moonchi; a.k.a. WONG, Mun Chi; a.k.a. WONG, Munchi; a.k.a. WU, Chai Su; a.k.a. WU, Chaisu; a.k.a. ZHANG, Jiang Ping; a.k.a. ZHANG, Jiangping; a.k.a. “CHI BANG”), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

CHEN, Bingshen (a.k.a. CHAN, Shu Sang; a.k.a. CHAN, Shusang; a.k.a. CHEN, Bing Shen; a.k.a. CHEN, Shu Sheng; a.k.a. CHEN, Shusheng; a.k.a. DU, Yu Rong; a.k.a. DU, Yurong; a.k.a. HU, Chi Shu; a.k.a. HU, Chishu; a.k.a. HUANG, Man Chi; a.k.a. HUANG, Manchi; a.k.a. WONG, Kam Kong; a.k.a. WONG, Kamkong; a.k.a. WONG, Moon Chi; a.k.a. WONG, Moonchi; a.k.a. WONG, Mun Chi; a.k.a. WONG, Munchi; a.k.a. WU, Chai Su; a.k.a. WU, Chaisu; a.k.a. ZHANG, Jiang Ping; a.k.a. ZHANG, Jiangping; a.k.a. “CHI BANG”), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

CHEN, Shu Sheng (a.k.a. CHAN, Shu Sang; a.k.a. CHAN, Shusang; a.k.a. CHEN, Bing Shen; a.k.a. CHEN, Bingshen; a.k.a. CHEN, Shusheng; a.k.a. DU, Yu Rong; a.k.a. DU, Yurong; a.k.a. HU, Chi Shu; a.k.a. HU, Chishu; a.k.a. HUANG, Man Chi; a.k.a. HUANG, Manchi; a.k.a. WONG, Kam Kong; a.k.a. WONG, Kamkong; a.k.a. WONG, Moon Chi; a.k.a. WONG, Moonchi; a.k.a. WONG, Mun Chi; a.k.a. WONG, Munchi; a.k.a. WU, Chai Su; a.k.a. WU, Chaisu; a.k.a. ZHANG, Jiang Ping; a.k.a. ZHANG, Jiangping; a.k.a. “CHI BANG”), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

CHEN, Shusheng (a.k.a. CHAN, Shu Sang; a.k.a. CHAN, Shusang; a.k.a. CHEN, Bing Shen; a.k.a. CHEN, Bingshen; a.k.a. CHEN, Shu Sheng; a.k.a. DU, Yu Rong; a.k.a. DU, Yurong; a.k.a. HU, Chi Shu; a.k.a. HU, Chishu; a.k.a. HUANG, Man Chi; a.k.a. HUANG, Manchi; a.k.a. WONG, Kam Kong; a.k.a. WONG, Kamkong; a.k.a. WONG, Moon Chi; a.k.a. WONG, Moonchi; a.k.a. WONG, Mun Chi; a.k.a. WONG, Munchi; a.k.a. WU, Chai Su; a.k.a. WU, Chaisu; a.k.a. ZHANG, Jiang Ping; a.k.a. ZHANG, Jiangping; a.k.a. “CHI BANG”), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

CHESS AIR GROUP (a.k.a. AIR CESS; a.k.a. AIR CESS EQUATORIAL GUINEA; a.k.a. AIR CESS HOLDINGS LTD.; a.k.a. AIR CESS INC. 360-C; a.k.a. AIR CESS LIBERIA; a.k.a. AIR CESS RWANDA; a.k.a. AIR CESS SWAZILAND (PTY.) LTD.; a.k.a. AIR PAS; a.k.a. AIR PASS; a.k.a. CESSAVIA; a.k.a. PIETERSBURG AVIATION SERVICES & SYSTEMS), Malabo, Equatorial Guinea; P.O. Box 7837, Sharjah, United Arab Emirates; P.O. Box 3962, Sharjah, United Arab Emirates; Islamabad, Pakistan; Entebbe, Uganda [LIBERIA]

CHICHAKLI & ASSOCIATES PLLC (a.k.a. CHICHAKLI HICKMANRIGGS&RIGGS; a.k.a. CHICHAKLI HICKMAN-RIGGS & RIGGS, PLLC), 811 S. Central Expwy, Ste 210, Richardson, TX 75080 [LIBERIA]

CHICHAKLI HICKMANRIGGS & RIGGS (a.k.a. CHICHAKLI & ASSOCIATES PLLC; a.k.a. CHICHAKLI HICKMAN-RIGGS & RIGGS, PLLC), 811 S. Central Expwy, Ste 210, Richardson, TX 75080 [LIBERIA]

CHICHAKLI HICKMAN-RIGGS & RIGGS, PLLC (a.k.a. CHICHAKLI & ASSOCIATES PLLC; a.k.a. CHICHAKLI HICKMANRIGGS & RIGGS), 811 S. Central Expwy, Ste 210, Richardson, TX 75080 [LIBERIA]

CHICHAKLI, Ammar M. (a.k.a. CHICHAKLI, Richard Ammar), 225 Syracuse Place, Richardson, TX 75081; 811 S. Central Expwy, Ste 210, Richardson, TX 75080; DOB 29 Mar 1959; POB Syria; citizen United States; SSN 405-41-5342; alt. SSN 467-79-1065 (individual) [LIBERIA]

CHICHAKLI, Richard Ammar (a.k.a. CHICHAKLI, Ammar M.), 225 Syracuse Place, Richardson, TX 75081; 811 S. Central Expwy, Ste 210, Richardson, TX 75080; DOB 29 Mar 1959; POB Syria; citizen United States; SSN 405-41-5342; alt. SSN 467-79-1065 (individual) [LIBERIA]

CHIGUDU, Tinaye Elisha Nzirasha; DOB 13 Aug 1942; Passport AD000013 (Zimbabwe); Manicaland Provincial Governor (individual) [ZIMBABWE]

CHIGWEDERE, Aeneas Soko; DOB 25 Nov 1939; Minister of Education, Sports and Culture (individual) [ZIMBABWE]

CHIHOTA, Phineas; DOB 23 Nov 1950; Deputy Minister of Industry and International Trade (individual) [ZIMBABWE]

CHIHUAHUA FOODS S.A. DE C.V., Cuauhtemoc, Chihuahua, Mexico [SDNTK]

CHIHURI, Augustine; DOB 10 Mar 1953; Passport AD000206 (Zimbabwe); Police Commissioner (individual) [ZIMBABWE]

CHIKOWORE, Enos; DOB 17 July 1942; Former Central Committee Member; Deceased (individual) [ZIMBABWE]

CHIMUTENGWENDE, Chenhamo Chakezha Chen; DOB 28 Aug 1943; Passport ZD001423 (Zimbabwe); alt. Passport AN288614 (Zimbabwe); Minister of State for Public and Interactive Affairs (individual) [ZIMBABWE]

CHINA GREAT WALL INDUSTRY CORPORATION (a.k.a. CGWIC; a.k.a. ZHONGGUO CHANGCHENG GONGYE ZONGGONGSI), No. 30 Haidian Nanlu, Beijing, China; Moscow, Russia [NPWMD]

CHINA NATIONAL PRECISION MACHINERY I/E CORP. (a.k.a. CHINA NATIONAL PRECISION MACHINERY IMPORT/EXPORT CORPORATION; a.k.a. CHINA PRECISION MACHINERY IMPORT/EXPORT CORPORATION; a.k.a. CPMIEC; a.k.a. ZHONGGUO JINGMI JIXIE JINCHUKOU ZONGGONGSI), No. 30 Haidian Nanlu, Beijing, China [NPWMD]

CHINA NATIONAL PRECISION MACHINERY IMPORT/EXPORT CORPORATION (a.k.a. CHINA NATIONAL PRECISION MACHINERY I/E CORP.; a.k.a. CHINA PRECISION MACHINERY IMPORT/EXPORT CORPORATION; a.k.a. CPMIEC; a.k.a. ZHONGGUO JINGMI JIXIE JINCHUKOU ZONGGONGSI), No. 30 Haidian Nanlu, Beijing, China [NPWMD]

CHINA PRECISION MACHINERY IMPORT/EXPORT CORPORATION (a.k.a. CHINA NATIONAL PRECISION MACHINERY I/E CORP.; a.k.a. CHINA NATIONAL PRECISION MACHINERY IMPORT/EXPORT CORPORATION; a.k.a. CPMIEC; a.k.a. ZHONGGUO JINGMI JIXIE JINCHUKOU ZONGGONGSI), No. 30 Haidian Nanlu, Beijing, China [NPWMD]

CHINAMASA, Gamuchirai, 2 Honeybear Lane, Borrowdale, Zimbabwe; DOB 11 Nov 1991; Passport AN634603 (Zimbabwe); Child of Patrick Chinamasa (individual) [ZIMBABWE]

CHINAMASA, Monica, 6B Honeybear Lane, Borrowdale, Zimbabwe; DOB circa 1950; Spouse of Patrick Chinamasa (individual) [ZIMBABWE]

CHINAMASA, Patrick, 6B Honeybear Lane, Borrowdale, Zimbabwe; DOB 25 Jan 1947; Minister of Justice, Legal and Parliamentary Affairs (individual) [ZIMBABWE]

CHINDORI-CHININGA, Edward; DOB 14 Mar 1955; Passport AN388694 (Zimbabwe); Member of Parliament for Guruve South (individual) [ZIMBABWE]

CHITEPO, Victoria; DOB 27 Mar 1928; Politburo (individual) [ZIMBABWE]

CHIVINNITIPANYA, Prasit (a.k.a. CHARNCHAI, Chiwinnitipanya; a.k.a. CHEEWINNITTIPANYA, Prasit; a.k.a. CHIWINNITIPANYA, Charnchai; a.k.a. PRASIT, Cheewinnittipanya; a.k.a. PRASIT, Chivinnitipanya; a.k.a. WEI, Hsueh Kang; a.k.a. WEI, Shao-Kang; a.k.a. WEI, Sia-Kang; a.k.a. WEI, Xuekang); DOB 29 Jun 1952; alt. DOB 29 May 1952; Passport Q081061 (Thailand); alt. Passport E091929 (Thailand) (individual) [SDNTK]

CHIWENGA, Constantine Gureya; DOB 25 Aug 1956; Passport AD000263 (Zimbabwe); Lt. General, Commander of Zimbabwe Defense Forces (individual) [ZIMBABWE]

CHIWENGA, Jocelyn Mauchaza; DOB 19 May 1955; Passport AN061550 (Zimbabwe); Spouse of Constantine Chiwenga (individual) [ZIMBABWE]

CHIWESHE, George; DOB 4 Jun 1953; Chairman of Zimbabwe Electoral Commission (individual) [ZIMBABWE]

CHIWEWE, Willard, Private Bag 7713, Causeway, Harare, Zimbabwe; DOB 19 Mar 1949; Masvingo Provincial Governor (individual) [ZIMBABWE]

CHIWINNITIPANYA, Charnchai (a.k.a. CHARNCHAI, Chiwinnitipanya; a.k.a. CHEEWINNITTIPANYA, Prasit; a.k.a. CHIVINNITIPANYA, Prasit; a.k.a. PRASIT, Cheewinnittipanya; a.k.a. PRASIT, Chivinnitipanya; a.k.a. WEI, Hsueh Kang; a.k.a. WEI, Shao-Kang; a.k.a. WEI, Sia-Kang; a.k.a. WEI, Xuekang); DOB 29 Jun 1952; alt. DOB 29 May 1952; Passport Q081061 (Thailand); alt. Passport E091929 (Thailand) (individual) [SDNTK]

CHOMBO, Ever, No. 38, 39th Crescent, Warrenton Park, Harare, Zimbabwe; DOB 20 Sep 1956; Passport AN845280 (Zimbabwe); Spouse of Ignatius Chombo (individual) [ZIMBABWE]

CHOMBO, Ignatius Morgan; DOB 1 Aug 1952; Passport AD000500 (Zimbabwe); Minister of Local Government, Public Works and National Housing (individual) [ZIMBABWE]

CHOMBO, Marian, 45 Basset Crescent, Alexandra Park, Zimbabwe; DOB 11 Aug 1960; Passport AD000896 (Zimbabwe); Spouse of Ignatius Chombo (individual) [ZIMBABWE]

CHOSON INTERNATIONAL CHEMICALS JOINT OPERATION COMPANY (a.k.a. CHOSUN INTERNATIONAL CHEMICALS JOINT OPERATION COMPANY; a.k.a. INTERNATIONAL CHEMICAL JOINT VENTURE CORPORATION; a.k.a. KOREA INTERNATIONAL CHEMICAL JOINT VENTURE COMPANY), Hamhung, South Hamgyong Province, Korea, North; Man gyongdae-kuyok, Pyongyang, Korea, North; Mangyungdae-gu, Pyongyang, Korea, North [NPWMD]

CHOSUN INTERNATIONAL CHEMICALS JOINT OPERATION COMPANY (a.k.a. CHOSON INTERNATIONAL CHEMICALS JOINT OPERATION COMPANY; a.k.a. INTERNATIONAL CHEMICAL JOINT VENTURE CORPORATION; a.k.a. KOREA INTERNATIONAL CHEMICAL JOINT VENTURE COMPANY), Hamhung, South Hamgyong Province, Korea, North; Man gyongdae-kuyok, Pyongyang, Korea, North; Mangyungdae-gu, Pyongyang, Korea, North [NPWMD]

CHOSUN YUNHA MACHINERY JOINT OPERATION COMPANY (a.k.a. KOREA RYENHA MACHINERY J/V CORPORATION; a.k.a. KOREA RYONHA MACHINERY JOINT VENTURE CORPORATION; a.k.a. RYONHA MACHINERY JOINT VENTURE CORPORATION), Central District, Pyongyang, Korea, North; Mangungdae-gu, Pyongyang, Korea, North; Mangyongdae District, Pyongyang, Korea, North [NPWMD]

CIA. ANDINA DE EMPAQUES LTDA. (a.k.a. COEMPAQUES LTDA.), Carrera 4 No. 11-45 Ofc. 503, Cali, Colombia; Carrera 17 G No. 25-72, Cali, Colombia; NIT # 800018562-9 (Colombia) [SDNT]

CIA. CONSTRUCTORA Y COMERCIALIZADORA DEL SUR LTDA. (a.k.a. COSUR LTDA.; a.k.a. HOTEL PALACE), Avenida El Dorado Entrada 2 Int. 6, Bogota, Colombia; NIT # 890329758-7 (Colombia) [SDNT]

CIA. INTERAMERICANA DE COSMETICOS S.A. (f.k.a. BLAIMAR; a.k.a. COINTERCOS S.A.; f.k.a. LABORATORIOS BLAIMAR DE COLOMBIA S.A.), Calle 12B No. 27-39, Bogota, Colombia; Apartado Aereo 33248, Bogota, Colombia; NIT # 860511578-8 (Colombia) [SDNT]

CIA. INTERAMERICANA DE COSMETICOS S.A. (f.k.a. BLAIMAR; f.k.a. COINTERCOS S.A.; a.k.a. COOPERATIVA DE COSMETICOS Y POPULARES COSMEPOP; a.k.a. COSMEPOP; f.k.a. LABORATORIOS BLAIMAR DE COLOMBIA S.A.; f.k.a. LABORATORIOS BLANCO PHARMA S.A.), A.A. 55538, Bogota, Colombia; Calle 12B No. 27-37/39, Bogota, Colombia; Calle 26 Sur No. 7-30 Este, Bogota, Colombia; Carrera 99 y 100 No. 46A-10, Bodega 4, Bogota, Colombia; Calle 12A No. 27-72, Bogota, Colombia; NIT # 800251322-5 (Colombia) [SDNT]

CIA. MINERA DAPA S.A., Carrera 16 No. 93-38 Ofc. 104, Bogota, Colombia; NIT # 800181373-1 (Colombia) [SDNT]

CICKO (a.k.a. BRALO, Miroslav); DOB 13 Oct 1967; POB Kratine, Vitez (individual) [BALKANS]

CIDECO (a.k.a. CORPORACION IBEROAMERICANA DEL COMERCIO), Spain [CUBA]

CIFUENTES GALINDO, Luis Eduardo (a.k.a. “EL AGUILA”); DOB 16 Mar 1960; Cedula No. 3254362 (Colombia) (individual) [SDNTK]

CIMECO, SRL, Milan, Italy [CUBA]

CIMEX, Emerson No. 148 Piso 7, 11570 Mexico, D.F., Mexico [CUBA]

CIMEX CUBA (a.k.a. CIMEX; a.k.a. COMERCIO INTERIOR, MERCADO EXTERIOR; a.k.a. CORPORACION CIMEX S.A.), Edificio Sierra Maestra, Avenida Primera entre 0 y 2, Miramar Playa, Ciudad de la Habana, Cuba; and all other locations worldwide [CUBA]

CIMEX IBERICA, Spain [CUBA]

CIMEX, S.A., Panama [CUBA]

CIMEX (a.k.a. COMPANIA DE IMPORTACION Y EXPORTACION IBERIA), Spain [CUBA]

CIMEX (a.k.a. CIMEX CUBA; a.k.a. COMERCIO INTERIOR, MERCADO EXTERIOR; a.k.a. CORPORACION CIMEX S.A.), Edificio Sierra Maestra, Avenida Primera entre 0 y 2, Miramar Playa, Ciudad de la Habana, Cuba; and all other locations worldwide [CUBA]

CIPE INVESTMENTS CORPORATION, Panama City, Panama; C.R. No. 197910/22096/0051 (Panama); RUC # 2209651197910 (Panama) [SDNT]

CISSE, M. Moussa (a.k.a. KAMARA, Mamadee); DOB 24 DEC 1946; alt. DOB 26 JUN 1944; Passport D-001548-99 (Liberia); alt. Passport 0058070 (Liberia); Former Chief of Presidential Protocol of Liberia; Chairman, Mohammed Group of Companies; Diplomatic (individual) [LIBERIA]

CLAROS, Dario, c/o CAJA SOLIDARIA, Bogota, Colombia; c/o COOPCREAR, Bogota, Colombia; c/o COOPERATIVA DE TRABAJO ASOCIADO ACTIVAR, Bogota, Colombia; c/o COOPERATIVA MULTIACTIVA DE COLOMBIA FOMENTAMOS, Bogota, Colombia; c/o LITOPHARMA, Barranquilla, Colombia; c/o SOLUCIONES COOPERATIVAS, Bogota, Colombia; Cedula No. 83180350 (Colombia) (individual) [SDNT]

CLAUDIA PILAR RODRIGUEZ Y CIA. S.C.S., Calle 17A No. 28A-43, Bogota, Colombia; NIT # 830007201-7 (Colombia) [SDNT]

CLAVIJO GARCIA, Hector Augusto, c/o GANADERIAS DEL VALLE S.A., Cali, Colombia; DOB 15 Dec 1958; Cedula No. 16613930 (Colombia) (individual) [SDNT]

CLINICA ESPECIALIZADA DEL VALLE S.A. (a.k.a. C.E.V. S.A.), Apartado Aereo 32412, Cali, Colombia; Carrera 46 No. 9C-85, Cali, Colombia; Carrera 40 No. 6-50, Of. 1501, Cali, Colombia; Calle 10 No. 44A-26, Cali, Colombia; NIT # 800134099-6 (Colombia) [SDNT]

CLUB AMERICA DE CALI (a.k.a. CLUB DEPORTIVO AMERICA; a.k.a. CORPORACION DEPORTIVA AMERICA), Carrera 56 No. 2-70, Cali, Colombia; Avenida Guadalupe No. 2-70, Cali, Colombia; Calle 24N No. 5BN-22, Cali, Colombia; Calle 13 Carrera 70, Cali, Colombia; Sede Cascajal, Cali, Colombia; Sede Naranjal, Cali, Colombia; NIT # 890305773-4 (Colombia) [SDNT]

CLUB DEPORTIVO AMERICA (a.k.a. CLUB AMERICA DE CALI; a.k.a. CORPORACION DEPORTIVA AMERICA), Carrera 56 No. 2-70, Cali, Colombia; Avenida Guadalupe No. 2-70, Cali, Colombia; Calle 24N No. 5BN-22, Cali, Colombia; Calle 13 Carrera 70, Cali, Colombia; Sede Cascajal, Cali, Colombia; Sede Naranjal, Cali, Colombia; NIT # 890305773-4 (Colombia) [SDNT]

CLUB DEPORTIVO LUZ MERY TRISTAN WORLD CLASS (a.k.a. LUZ MERY TRISTAN E.U.; a.k.a. LUZ MERY TRISTAN WORLD CLASS), Carrera 125 No. 19-275, Cali, Colombia; Diagonal 32 No. 37-125, Cali, Colombia; Holguines Trade Center L-239, Cali, Colombia; Calle 5B 4 No. 37-125, Cali, Colombia; Avenida 6 Norte No. 17-92 Apt. 508, Cali, Colombia; NIT # 805449310-7 (Colombia); alt. NIT # 805012268-9 (Colombia) [SDNT]

COAGROSUR LTDA. (a.k.a. COMPANIA AGROPECUARIA DEL SUR LTDA.; f.k.a. MARIA NURY CAICEDO E HIJAS Y CIA S.C.S.), Calle 114A No. 11A-40, Apt. 302, Bogota, Colombia; NIT # 800107990-1 (Colombia) [SDNT]

COBALT REFINERY CO. INC., Fort Saskatchewan, AB, Canada [CUBA]

CODISA (a.k.a. COOPERATIVA MULTIACTIVA DE DISTRIBUCION Y SERVICIOS ADMINISTRATIVOS), Calle 17A No. 28A-43, Bogota, Colombia; Calle 23 No. 19-75, Bogota, Colombia; NIT # 860524476-1 (Colombia) [SDNT]

COEMPAQUES LTDA. (a.k.a. CIA. ANDINA DE EMPAQUES LTDA.), Carrera 4 No. 11-45 Ofc. 503, Cali, Colombia; Carrera 17 G No. 25-72, Cali, Colombia; NIT # 800018562-9 (Colombia) [SDNT]

COIBA (a.k.a. COMERCIAL IBEROAMERICANA, S.A.), Spain [CUBA]

COINTERCOS S.A. (f.k.a. BLAIMAR; a.k.a. CIA. INTERAMERICANA DE COSMETICOS S.A.; f.k.a. LABORATORIOS BLAIMAR DE COLOMBIA S.A.), Calle 12B No. 27-39, Bogota, Colombia; Apartado Aereo 33248, Bogota, Colombia; NIT # 860511578-8 (Colombia) [SDNT]

COINTERCOS S.A. (f.k.a. BLAIMAR; f.k.a. CIA. INTERAMERICANA DE COSMETICOS S.A.; a.k.a. COOPERATIVA DE COSMETICOS Y POPULARES COSMEPOP; a.k.a. COSMEPOP; f.k.a. LABORATORIOS BLAIMAR DE COLOMBIA S.A.; f.k.a. LABORATORIOS BLANCO PHARMA S.A.), A.A. 55538, Bogota, Colombia; Calle 12B No. 27-37/39, Bogota, Colombia; Calle 26 Sur No. 7-30 Este, Bogota, Colombia; Carrera 99 y 100 No. 46A-10, Bodega 4, Bogota, Colombia; Calle 12A No. 27-72, Bogota, Colombia; NIT # 800251322-5 (Colombia) [SDNT]

COLCERDOS LTDA. (a.k.a. COLOMBIANA DE CERDOS LTDA.), Km. 3 Via Marsella Parque Industrial, Pereira, Colombia; Apartado Aereo 3786, Pereira, Colombia; NIT # 800018928-0 (Colombia) [SDNT]

COLD COMFORT FARM TRUST CO-OPERATIVE, 7 Cowie Road, Tynwald, Harare, Zimbabwe; P.O. Box 6996, Harare, Zimbabwe [ZIMBABWE]

COLFARMA PERU S.A., Av. Los Plateros 145 piso 2, Urb. El Artesano Ate, Lima, Peru; RUC # 2033645155 (Peru) [SDNT]

COLIMEX LTDA., Calle 29 Norte No. 6N-43, Cali, Colombia; NIT # 800256902-1 (Colombia) [SDNT]

COLL PRADO, Gabriel, Panama (individual) [CUBA]

COLLAZOS TELLO, Jairo Camilo, c/o DIMABE LTDA., Bogota, Colombia; DOB 09 Dec 1953; POB Cali, Colombia; Cedula No. 14998261 (Colombia); Passport AH690431 (Colombia) (individual) [SDNT]

COLOMBIANA DE BOLSAS S.A. (a.k.a. GEOPLASTICOS S.A.), Calle 24 No. 4-31, Cali, Colombia; NIT # 890931876-9 (Colombia) [SDNT]

COLOMBIANA DE CERDOS LTDA. (a.k.a. COLCERDOS LTDA.), Km. 3 Via Marsella Parque Industrial, Pereira, Colombia; Apartado Aereo 3786, Pereira, Colombia; NIT # 800018928-0 (Colombia) [SDNT]

COLOMBO ANDINA COMERCIAL COALSA LTDA., Carrera 14 No. 95-47 , Ofc.201, Bogota, Colombia; NIT # 800084516-0 (Colombia) [SDNT]

COLON BETANCOURT, Eduardo, Panama (individual) [CUBA]

COLONY TRADING, S.A., Panama [CUBA]

COLOR 89.5 FM STEREO, Calle 15N No. 6N-34 piso 15, Edificio Alcazar, Cali, Colombia; Calle 19N No. 2N-29, Cali, Colombia [SDNT]

COLOR STEREO S.A. (f.k.a. COLOR'S S.A.; f.k.a. RADIO UNIDAS FM S.A.; a.k.a. SONAR F.M. S.A.), Calle 15 Norte No. 6N-34 piso 15 Edificio Alcazar, Cali, Colombia; Calle 19N No. 2N-29 piso 10 Sur, Cali, Colombia; NIT # 800163602-5 (Colombia) [SDNT]

COLOR'S S.A. (f.k.a. COLOR STEREO S.A.; f.k.a. RADIO UNIDAS FM S.A.; a.k.a. SONAR F.M. S.A.), Calle 15 Norte No. 6N-34 piso 15 Edificio Alcazar, Cali, Colombia; Calle 19N No. 2N-29 piso 10 Sur, Cali, Colombia; NIT # 800163602-5 (Colombia) [SDNT]

COLPHAR S.A. (a.k.a. COMERCIALIZADORA DE LINEAS PHARMACEUTICAS S.A.), Calle 39 Bis A No. 27-16, Bogota, Colombia; Calle 94A No. 13-91 of. 402, Bogota, Colombia; NIT # 830074552-2 (Colombia) [SDNT]

COMACHO RODRIGUES, Gilberto (a.k.a. ARELLANO FELIX, Ramon Eduardo; a.k.a. TORRES MENDEZ, Ramon); DOB 31 AUG 64; POB Mexico (individual) [SDNTK]

COMECARNES LTDA. (a.k.a. COMERCIALIZADORA DE CARNES LTDA.), Km. 3 Via Marsella, Pereira, Colombia; NIT # 800076369-0 (Colombia) [SDNT]

COMEDICAMENTOS S.A., Transversal 29 No. 39-92, Bogota, Colombia; NIT # 830030803-7 (Colombia) [SDNT]

COMERCIAL CIMEX, S.A., Panama [CUBA]

COMERCIAL DE NEGOCIOS CLARIDAD Y CIA., Avenida Caracas No. 59-77 of. 201A, 401B y 405B, Bogota, Colombia; NIT # 800080719-0 (Colombia) [SDNT]

COMERCIAL DE RODAJES Y MAQUINARIA, S.A. (a.k.a. CRYMSA), Jose Lazaro Galdeano 6-6, 28016 Madrid, Spain [CUBA]

COMERCIAL IBEROAMERICANA, S.A. (a.k.a. COIBA), Spain [CUBA]

COMERCIAL MURALLA, S.A. (a.k.a. MURALLA, S.A.), Panama City, Panama [CUBA]

COMERCIALIZACION DE PRODUCTOS VARIOS (a.k.a. COPROVA; a.k.a. COPROVA SARL), Paris, France [CUBA]

COMERCIALIZACION Y FINANCIACION DE AUTOMOTORES S.A. (a.k.a. COMFIAUTOS S.A.), Carrera 4 No. 11-33 of. 303, Cali, Colombia; Avenida 2N No. 7N-55 of. 609, Cali, Colombia; NIT # 800086115-1 (Colombia) [SDNT]

COMERCIALIZADORA AMIA, S.A. DE C.V., Avenida Juan Sarabia, Calle 8106, Zona Central, Tijuana, Baja California CP 22000, Mexico; R.F.C. CAM-940526-8H9 (Mexico) [SDNTK]

COMERCIALIZADORA ANDINA BRASILERA S.A. (a.k.a. CABRASA), Carrera 30 No. 90-82, Bogota, Colombia; NIT # 830003298-2 (Colombia) [SDNT]

COMERCIALIZADORA AUTOMOTRIZ S.A. (a.k.a. CREDISA S.A.), Avenida 7 Norte No. 23N-81, Cali, Colombia; Avenida 7 Norte No. 23-77, Cali, Colombia; Carrera 7D Bis No. 68-58, Cali, Colombia; NIT # 800065773-6 (Colombia) [SDNT]

COMERCIALIZADORA DE CARNES DEL PACIFICO LTDA., Calle 25 No. 8-54, Cali, Colombia [SDNT]

COMERCIALIZADORA DE CARNES LTDA. (a.k.a. COMECARNES LTDA.), Km. 3 Via Marsella, Pereira, Colombia; NIT # 800076369-0 (Colombia) [SDNT]

COMERCIALIZADORA DE LINEAS PHARMACEUTICAS S.A. (a.k.a. COLPHAR S.A.), Calle 39 Bis A No. 27-16, Bogota, Colombia; Calle 94A No. 13-91 of. 402, Bogota, Colombia; NIT # 830074552-2 (Colombia) [SDNT]

COMERCIALIZADORA DE PRODUCTOS FARMACEUTICOS LTDA., Manzana 48 Casa 12 Etapa 2 Simon Bolivar, Ibague, Colombia; NIT # 809010102-0 (Colombia) [SDNT]

COMERCIALIZADORA DIGLO LTDA., Calle 23 No. 19-75, Bogota, Colombia; NIT # 800789578-3 (Colombia) [SDNT]

COMERCIALIZADORA EXPERTA Y CIA. S. EN C., Avenida Caracas No. 59-77 of. 201A, 401B, 405B y 407B, Bogota, Colombia; NIT # 800075687-3 (Colombia) [SDNT]

COMERCIALIZADORA INTEGRAL LTDA. (a.k.a. CARS & CARS LTDA.; a.k.a. CENTRO COMERCIAL DEL AUTOMOVIL; a.k.a. PROYECTO CARS & CARS), Avenida Roosevelt entre carreras 38 y 38A esquinas, Cali, Colombia [SDNT]

COMERCIALIZADORA INTERNACIONAL VALLE DE ORO S.A. (a.k.a. PROCESADORA DE POLLOS SUPERIOR S.A.), Avenida 2N No. 7N-55 of. 521, Cali, Colombia; Carrera 3 No. 12-40, Cali, Colombia; A.A. 1689, Cali, Colombia; Km 17 Recta Cali-Palmira, Palmira, Colombia; NIT # 800074991-3 (Colombia) [SDNT]

COMERCIALIZADORA INTERTEL S.A., Calle 18 No. 106-98 of. 207, 302, 303, Cali, Colombia; Calle 19 No. 9-50 of. 1501, Cali, Colombia; Carrera 42 No. 9D-49, Cali, Colombia; NIT # 805015152-7 (Colombia) [SDNT]

COMERCIALIZADORA OROBANCA (A.K.A. SOCIR S.A.) (a.k.a. SOUCIR, S.A.), Calle 36A No. 3GN-07 of. 302, Edificio El Parque, Cali, Colombia; Calle 22N No. 5A-75 of. 702, Edificio Via Veneto, Cali, Colombia [SDNT]

COMERCIALIZADORA PELISSIER OSPINA LTDA., Carrera 58B No. 63B-96 bq. 21 int. 15 apto. 201, Bogota, Colombia; NIT # 830009052-5 (Colombia) [SDNT]

COMERCIO INTERIOR, MERCADO EXTERIOR (a.k.a. CIMEX; a.k.a. CIMEX CUBA; a.k.a. CORPORACION CIMEX S.A.), Edificio Sierra Maestra, Avenida Primera entre 0 y 2, Miramar Playa, Ciudad de la Habana, Cuba; and all other locations worldwide [CUBA]

COMERCOOP (a.k.a. COOPERATIVA HUILENSE DE COMERCIALIZACION COMERCOOP LTDA.; a.k.a. COOPERATIVA MULTIACTIVA DE DISTRIBUCION MEGAPHARMA LTDA.; a.k.a. MEGAPHARMA LTDA.), Calle 15 No. 31-99 Bodega 5 Parque Industrial Acerosa, Yumbo, Colombia; Carrera 26 No. 62-42, Bogota, Colombia; Diag. 57A No. 24-84, Bogota, Colombia; NIT # 813002466-7 (Colombia) [SDNT]

COMFIAUTOS S.A. (a.k.a. COMERCIALIZACION Y FINANCIACION DE AUTOMOTORES S.A.), Carrera 4 No. 11-33 of. 303, Cali, Colombia; Avenida 2N No. 7N-55 of. 609, Cali, Colombia; NIT # 800086115-1 (Colombia) [SDNT]

COMITE' DE BIENFAISANCE ET DE SECOURS AUX PALESTINIENS (a.k.a. AL AQSA ASSISTANCE CHARITABLE COUNCIL; a.k.a. AL-LAJNA AL-KHAYRIYYA LIL MUNASARA AL-AQSA; a.k.a. BENEVOLENCE COMMITTEE FOR SOLIDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

COMITE' DE BIENFAISANCE POUR LA SOLIDARITE' AVEC LA PALESTINE (a.k.a. AL AQSA ASSISTANCE CHARITABLE COUNCIL; a.k.a. AL-LAJNA AL-KHAYRIYYA LIL MUNASARA AL-AQSA; a.k.a. BENEVOLENCE COMMITTEE FOR SOLIDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; a.k.a. COMITE' DE BIENFAISANCE ET DE SECOURS AUX PALESTINIENS; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

COMMITTEE FOR AID AND SOLIDARITY WITH PALESTINE (a.k.a. AL AQSA ASSISTANCE CHARITABLE COUNCIL; a.k.a. AL-LAJNA AL-KHAYRIYYA LIL MUNASARA AL-AQSA; a.k.a. BENEVOLENCE COMMITTEE FOR SOLIDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; a.k.a. COMITE' DE BIENFAISANCE ET DE SECOURS AUX PALESTINIENS; f.k.a. COMITE' DE BIENFAISANCE POUR LA SOLIDARITE' AVEC LA PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

COMMITTEE FOR ASSISTANCE AND SOLIDARITY WITH PALESTINE (a.k.a. AL AQSA ASSISTANCE CHARITABLE COUNCIL; a.k.a. AL-LAJNA AL-KHAYRIYYA LIL MUNASARA AL-AQSA; a.k.a. BENEVOLENCE COMMITTEE FOR SOLIDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; a.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

COMMITTEE FOR CHARITY AND SOLIDARITY WITH PALESTINE (a.k.a. AL AQSA ASSISTANCE CHARITABLE COUNCIL; a.k.a. AL-LAJNA AL-KHAYRIYYA LIL MUNASARA AL-AQSA; a.k.a. BENEVOLENCE COMMITTEE FOR SOLIDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; a.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

COMMITTEE FOR THE SAFETY OF THE ROADS (a.k.a. AMERICAN FRIENDS OF THE UNITED YESHIVA; a.k.a. AMERICAN FRIENDS OF YESHIVAT RAV MEIR; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

COMMUNIST PARTY OF NEPAL (MAOIST) (a.k.a. CPN (M); a.k.a. THE PEOPLE'S LIBERATION ARMY OF NEPAL; a.k.a. UNITED REVOLUTIONARY PEOPLE'S COUNCIL) [SDGT]

COMMUNIST PARTY OF THE PHILIPPINES (a.k.a. CPP; a.k.a. NEW PEOPLE'S ARMY; a.k.a. NEW PEOPLE'S ARMY / COMMUNIST PARTY OF THE PHILIPPINES; a.k.a. NPA; a.k.a. NPP/CPP) [FTO] [SDGT]

COMPANIA ADMINISTRADORA DE VIVIENDA S.A. (f.k.a. INVERSIONES GEMINIS S.A.), Carrera 40 No. 6-24 of. 402B, Cali, Colombia; Carrera 41 No. 6-15/35, Cali, Colombia; NIT # 800032419-1 (Colombia) [SDNT]

COMPANIA AGROINVERSORA HENAGRO LTDA., Carrera 1 No. 13-08, Cartago, Colombia; Hacienda Coque, Cartago, Colombia; Km. 5 Via Aeropuerto, Cartago, Colombia; NIT # 800084326-8 (Colombia) [SDNT]

COMPANIA AGROPECUARIA DEL SUR LTDA. (a.k.a. COAGROSUR LTDA.; f.k.a. MARIA NURY CAICEDO E HIJAS Y CIA S.C.S.), Calle 114A No. 11A-40, Apt. 302, Bogota, Colombia; NIT # 800107990-1 (Colombia) [SDNT]

COMPANIA DE FOMENTO MERCANTIL S.A., Avenida 7 Norte No. 23N-81, Cali, Colombia; NIT # 800124589-0 (Colombia) [SDNT]

COMPANIA DE IMPORTACION Y EXPORTACION IBERIA (a.k.a. CIMEX), Spain [CUBA]

COMPANIA FENIX INTERNACIONAL, S.A., Caracas, Venezuela [CUBA]

COMPANIA PESQUERA INTERNACIONAL, S.A., Panama [CUBA]

COMPANIE BENIFICENT DE SOLIDARITE AVEC PALESTINE (a.k.a. AL AQSA ASSISTANCE CHARITABLE COUNCIL; a.k.a. AL-LAJNA AL-KHAYRIYYA LIL MUNASARA AL-AQSA; a.k.a. BENEVOLENCE COMMITTEE FOR SOLIDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; a.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

COMPAX LTDA. (a.k.a. COSMOVALLE; a.k.a. INVERSIONES Y CONSTRUCCIONES COSMOVALLE LTDA.; f.k.a. INVERSIONES Y DISTRIBUCIONES COMPAX LTDA.), Calle 10 No. 4-47 piso 19, Cali, Colombia; NIT # 800102403-5 (Colombia) [SDNT]

COMPAX LTDA. (a.k.a. INVERSIONES Y DISTRIBUCIONES COMPAX LTDA.), Calle 10 No. 4-47 piso 19, Cali, Colombia [SDNT]

COMPLEJO TURISTICO OASIS, S.A. DE C.V. (a.k.a. OASIS BEACH RESORT & CONVENTION CENTER), Km 25 Carr. Tijuana-Ensenada, Colonia Leyes de Reforma, CP 22710, Playas Rosarito, Rosarito, Baja California, Mexico [SDNTK]

COMTECO LTDA. (a.k.a. COMUNICACIONES TECNICAS DE COLOMBIA LIMITADA), Calle 44 Norte No. 2BN-08, Cali, Colombia; Calle 12N No. 9N-58, Cali, Colombia; NIT # 800113514-1 (Colombia) [SDNT]

COMUDROGAS LTDA. (a.k.a. COOPERATIVA MULTIACTIVA DE DROGUISTAS LTDA.; a.k.a. COOPERATIVA MULTISERVICIOS DE DROGUISTAS LTDA.), Calle 8 No. 31-03, Cali, Colombia; Calle 28 No. 22-25/27/39, Bucaramanga, Colombia; Carrera 49B No. 75-63 Local 2, Barranquilla, Colombia; NIT # 804001143-6 (Colombia) [SDNT]

COMUNICACION VISUAL LTDA. (a.k.a. COMVIS LTDA.), Calle 11 No. 19-44, Cali, Colombia [SDNT]

COMUNICACIONES TECNICAS DE COLOMBIA LIMITADA (a.k.a. COMTECO LTDA.), Calle 44 Norte No. 2BN-08, Cali, Colombia; Calle 12N No. 9N-58, Cali, Colombia; NIT # 800113514-1 (Colombia) [SDNT]

COMVIS LTDA. (a.k.a. COMUNICACION VISUAL LTDA.), Calle 11 No. 19-44, Cali, Colombia [SDNT]

CONAGE LTDA. (a.k.a. CONSTRUCCIONES AVENDANO GUTIERREZ Y CIA. LTDA.), Carrera 71 No. 57-07, Bogota, Colombia; NIT # 800211560-0 (Colombia) [SDNT]

CONASA S.A. (a.k.a. CONSTRUCTORA ALTAVISTA INTERNACIONAL S.A.), Calle 77 B No. 57-141, Ofc. 917, Barranquilla, Colombia; NIT # 802019866-4 (Colombia) [SDNT]

CONCRETOS CALI S.A., Calle 7 No. 82-65, Cali, Colombia [SDNT]

CONDOR (a.k.a. DISTRIBUIDORA DE DROGAS CONDOR LTDA.), Calle 68 52-05, Bogota, Colombia; Calle 10 No. 32A-64, Bogota, Colombia [SDNT]

CONE S.A. (a.k.a. CONSTRUCTORA EL NOGAL S.A.; f.k.a. CONSTRUEXITO S.A.), Avenida 2N No. 7N-55 of. 501, Cali, Colombia; Calle 2A No. 65A-110, apto. 501 B3, Cali, Colombia; NIT # 800051378-9 (Colombia) [SDNT]

CONFECCIONES LORD S.A., Carrera 74 No. 76 -150, Barranquilla, Atlantico, Colombia; NIT # 890101890-1 (Colombia) [SDNT]

CONPUERTO S.A. (a.k.a. CONSTRUCCIONES PROGRESO DEL PUERTO S.A.), Calle 12A No. 26-22, Puerto Tejada, Colombia; NIT # 817000779-2 (Colombia) [SDNT]

CONSTRUCCIONES ASTRO S.A. (f.k.a. CONSTRUCTORA CASCADA; f.k.a. SOCIEDAD CONSTRUCTORA LA CASCADA S.A.), Carrera 4 No. 12-41 of. 1402, Edificio Seguros Bolivar, Cali, Colombia; Calle 1A 62A-120 2305, Cali, Colombia; Apartado Aereo 10077, Cali, Colombia; Calle 1A 62A-120 4114, Cali, Colombia; Calle 1A 62A-120 2418, Cali, Colombia; Carrera 64 1B-83, Cali, Colombia; Carrera 4 No. 12-41 of. 1401, Cali, Colombia; Carrera 4 No. 12-41 of. 1403, Cali, Colombia; Carrera 64 1C-63, Cali, Colombia; Calle 13 3-22 piso 12 y piso 14, Cali, Colombia; Calle 1A 62A-120 6245, Cali, Colombia; Calle 1A 62A-120, Cali, Colombia; Calle 1A 62A-120 B2 108, Cali, Colombia; NIT # 890307311-4 (Colombia) [SDNT]

CONSTRUCCIONES AVENDANO GUTIERREZ Y CIA. LTDA. (a.k.a. CONAGE LTDA.), Carrera 71 No. 57-07, Bogota, Colombia; NIT # 800211560-0 (Colombia) [SDNT]

CONSTRUCCIONES COLOMBO-ANDINAS LTDA., Carrera 8 No. 16-79 of. 504, Bogota, Colombia; Calle 29 No. 36-61, Bogota, Colombia; NIT # 860505252-8 (Colombia) [SDNT]

CONSTRUCCIONES PROGRESO DEL PUERTO S.A. (a.k.a. CONPUERTO S.A.), Calle 12A No. 26-22, Puerto Tejada, Colombia; NIT # 817000779-2 (Colombia) [SDNT]

CONSTRUCTORA ALTAVISTA INTERNACIONAL S.A. (a.k.a. CONASA S.A.), Calle 77 B No. 57-141, Ofc. 917, Barranquilla, Colombia; NIT # 802019866-4 (Colombia) [SDNT]

CONSTRUCTORA ALTOS DEL RETIRO LTDA., Carrera 7 No. 72-28 of. 301, Bogota, Colombia; Carrera 4 No. 86-88, Bogota, Colombia; Transversal 3 No. 85-10 apt. 401 Interior 1, Bogota, Colombia; NIT # 890329139-8 (Colombia) [SDNT]

CONSTRUCTORA CASCADA (a.k.a. CONSTRUCCIONES ASTRO S.A.; f.k.a. SOCIEDAD CONSTRUCTORA LA CASCADA S.A.), Carrera 4 No. 12-41 of. 1402, Edificio Seguros Bolivar, Cali, Colombia; Calle 1A 62A-120 2305, Cali, Colombia; Apartado Aereo 10077, Cali, Colombia; Calle 1A 62A-120 4114, Cali, Colombia; Calle 1A 62A-120 2418, Cali, Colombia; Carrera 64 1B-83, Cali, Colombia; Carrera 4 No. 12-41 of. 1401, Cali, Colombia; Carrera 4 No. 12-41 of. 1403, Cali, Colombia; Carrera 64 1C-63, Cali, Colombia; Calle 13 3-22 piso 12 y piso 14, Cali, Colombia; Calle 1A 62A-120 6245, Cali, Colombia; Calle 1A 62A-120, Cali, Colombia; Calle 1A 62A-120 B2 108, Cali, Colombia; NIT # 890307311-4 (Colombia) [SDNT]

CONSTRUCTORA CENTRAL DEL VALLE LTDA. (a.k.a. C.C.V. LTDA.), Calle 10 No. 44A-26, Cali, Colombia; NIT # 800144098-1 (Colombia) [SDNT]

CONSTRUCTORA DIMISA LTDA., Calle 70N No. 14-31, Cali, Colombia [SDNT]

CONSTRUCTORA E INMOBILIARIA URVALLE CIA. LTDA., Carrera 9 No. 9-49 of. 902, Cali, Colombia; NIT # 800094652-7 (Colombia) [SDNT]

CONSTRUCTORA EL NOGAL S.A. (f.k.a. CONE S.A.; f.k.a. CONSTRUEXITO S.A.), Avenida 2N No. 7N-55 of. 501, Cali, Colombia; Calle 2A No. 65A-110, apto. 501 B3, Cali, Colombia; NIT # 800051378-9 (Colombia) [SDNT]

CONSTRUCTORA GOPEVA LTDA., Avenida 3A No. 51-15, Cali, Colombia [SDNT]

ONSTRUCTORA HENA LTDA. (a.k.a. INVERSIONES Y COMERCIALIZADORA INCOM LTDA.), Calle 12 No. 4-63, Cali, Colombia; NIT # 890329658-9 (Colombia) [SDNT]

CONSTRUCTORA PYNZAR LTDA., Avenida 3 No. 21-50, Cali, Colombia; Avenida 3 No. 21-50 Apt. 800, Cali, Colombia; Avenida 3 Norte No. 21-44, Cali, Colombia; NIT # 800240723-8 (Colombia) [SDNT]

CONSTRUCTORA TREMI LTDA., Carrera 1A Oeste No. 68-75, Cali, Colombia [SDNT]

CONSTRUCTORA UNIVERSAL LTDA., Carrera 50 No. 9B-20 of. 07, Cali, Colombia; Calle 52 No. 28E-30, Cali, Colombia; NIT # 800112051-9 (Colombia) [SDNT]

CONSTRUEXITO S.A. (f.k.a. CONE S.A.; a.k.a. CONSTRUCTORA EL NOGAL S.A.), Avenida 2N No. 7N-55 of. 501, Cali, Colombia; Calle 2A No. 65A-110, apto. 501 B3, Cali, Colombia; NIT # 800051378-9 (Colombia) [SDNT]

CONSTRUVIDA S.A., Avenida 2N No. 7N-55 of. 521, Cali, Colombia; Carrera 68 No. 13B-61 of. 104B, Cali, Colombia; Calle 70N No. 14-31, Cali, Colombia; NIT # 800108122-8 (Colombia) [SDNT]

CONSULTORIA DE INTERDIVISAS, S.A. DE C.V., Carretera Aeropuerto 1900, Centro Comercial Otay, Local G-16, Tijuana, Baja California CP 22500, Mexico; R.F.C. CIN-010123-MX9 (Mexico) [SDNTK]

CONSULTORIA DE OCCIDENTE, S.A. DE C.V., Paseo de Ensenada 170, Tijuana, Baja California CP 22200, Mexico; Guadalajara, Jalisco, Mexico [SDNTK]

CONSULTORIA EMPRESARIAL ESPECIALIZADA LTDA., Avenida 2N No. 7N-55 of. 421, Cali, Colombia; NIT # 800109042-1 (Colombia) [SDNT]

CONSULTORIA SANTAFE E.U., Carrera 13A No. 89-38 of. 713, Bogota, Colombia; NIT # 830043033-9 (Colombia) [SDNT]

CONTACTEL COMUNICACIONES S.A., Calle 5 No. 46-83 local 218, Cali, Colombia; Calle 18 No. 106-98 of. 302, 303, Cali, Colombia; NIT # 805020429-1 (Colombia) [SDNT]

CONTEX, S.A., Panama [CUBA]

CONTINUE PROFESSIONAL EDUCATION INC. (a.k.a. GULF MOTOR SALES INC.), 811 S. Central Expwy, Ste 210, Richardson, TX 75080; US FEIN 08000068-09 [LIBERIA]

CONTINUITY ARMY COUNCIL (a.k.a. CONTINUITY IRA (CIRA); a.k.a. CONTINUITY IRISH REPUBLICAN ARMY; a.k.a. REPUBLICAN SINN FEIN), United Kingdom [FTO] [SDGT]

CONTINUITY IRA (CIRA) (a.k.a. CONTINUITY ARMY COUNCIL; a.k.a. CONTINUITY IRISH REPUBLICAN ARMY; a.k.a. REPUBLICAN SINN FEIN), United Kingdom [FTO] [SDGT]

CONTINUITY IRISH REPUBLICAN ARMY (a.k.a. CONTINUITY ARMY COUNCIL; a.k.a. CONTINUITY IRA (CIRA); a.k.a. REPUBLICAN SINN FEIN), United Kingdom [FTO] [SDGT]

CONTRERAS, Luis C. (a.k.a. AMEZCUA CONTRERAS, Luis Ignacio; a.k.a. AMEZCUA, Luis; a.k.a. LOPEZ, Luis; a.k.a. LOZANO, Eduardo; a.k.a. OCHOA, Salvador; a.k.a. RODRIGUEZ LOPEZ, Sergio); DOB 22 FEB 64; alt. DOB 21 FEB 64; alt. DOB 21 FEB 74; POB Mexico (individual) [SDNTK]

CONTRERAS, Miria (a.k.a. ROPERT, Miria Contreras), Paris, France (individual) [CUBA]

COOMERCOL (a.k.a. COOPERATIVA MERCANTIL COLOMBIANA COOMERCOL), Diagonal 24 Transv. 11-99, Cali, Colombia; Calle 8 No. 31-11 Local 2, Cali, Colombia; Pereira, Colombia; NIT # 805010372-8 (Colombia) [SDNT]

COOMERSUR (a.k.a. COOPERATIVA MERCANTIL DEL SUR LTDA.; a.k.a. COOPMERSUR), Carrera 43 No. 16A-19 La Colina, Pasto, Colombia; NIT # 814002508-1 (Colombia) [SDNT]

COOMULCOSTA (a.k.a. COOPERATIVA MULTIACTIVA DE LA COSTA COOMULCOSTA LTDA.), Carrera 14 No. 35B Esquina, Barranquilla, Colombia; Carrera 48 No. 76-49, Barranquilla, Colombia; Via 40 No. 71-197 Bodega 504, Barranquilla, Colombia; NIT # 802006273-0 (Colombia) [SDNT]

COOPCREAR (a.k.a. COOPERATIVA DE TRABAJO ASOCIADO DE COLOMBIA), Avenida 13 No. 78-54, Cali, Colombia; Calle 13 No. 78-54, Cali, Colombia; Transversal 29 No. 35A-29, Bogota, Colombia; NIT # 830066040-1 (Colombia) [SDNT]

COOPDISAN (a.k.a. COOPERATIVA MULTIACTIVA DISTRIBUIDORA DE SANTANDER COOPDISAN), Calle 45 No. 9 Occ-04, Bucaramanga, Colombia; Calle 52 No. 31-148 of. 201, Bucaramanga, Colombia; Calle 52 No. 31-148, Bucaramanga, Colombia; Carrera 27 No. 65-60 La Victoria, Bucaramanga, Colombia; Carrera 33 No. 108-49, Floridablanca, Colombia; NIT # 804005384-2 (Colombia) [SDNT]

COOPER, Randolph; DOB 28 OCT 1950; Former Managing Director, Roberts International Airport (individual) [LIBERIA]

COOPERATIVA DE AHORRO Y CREDITO DE COLOMBIA (a.k.a. CAJA SOLIDARIA; a.k.a. COOPERATIVA MULTIACTIVA DE COMERCIALIZACION Y SERVICIOS), Avenida 22 No. 40-77 of. 202, Bogota, Colombia; Avenida 22 No. 44-70 of. 202, Bogota, Colombia; Calle 12B No. 27-39, Bogota, Colombia; Carrera 13A No. 89-38 of. 713, Bogota, Colombia; Carrera 13A No. 28-38 of. 216 Parque, Bogota, Colombia; Transversal 29 No. 35A-29, Bogota, Colombia; NIT # 830033942-6 (Colombia) [SDNT]

COOPERATIVA DE AHORRO Y CREDITO PARA EL PROGRESO SOCIAL (a.k.a. COOPERATIVA MULTIACTIVA CREDISOL; a.k.a. CREDISOL), Calle 39 Bis A No. 27-16, Bogota, Colombia; Transversal 29 No. 39-92, Bogota, Colombia; NIT # 830033943-3 (Colombia) [SDNT]

COOPERATIVA DE COSMETICOS Y POPULARES COSMEPOP (f.k.a. BLAIMAR; f.k.a. CIA. INTERAMERICANA DE COSMETICOS S.A.; f.k.a. COINTERCOS S.A.; a.k.a. COSMEPOP; f.k.a. LABORATORIOS BLAIMAR DE COLOMBIA S.A.; f.k.a. LABORATORIOS BLANCO PHARMA S.A.), A.A. 55538, Bogota, Colombia; Calle 12B No. 27-37/39, Bogota, Colombia; Calle 26 Sur No. 7-30 Este, Bogota, Colombia; Carrera 99 y 100 No. 46A-10, Bodega 4, Bogota, Colombia; Calle 12A No. 27-72, Bogota, Colombia; NIT # 800251322-5 (Colombia) [SDNT]

COOPERATIVA DE TRABAJO ASOCIADO ACTIVAR (a.k.a. ACTIVAR), Calle 22B No. 56-63, Bogota, Colombia; Calle 44 No. 17-44, Bogota, Colombia; Carrera 6 No. 11-43 of. 505, Cali, Colombia; Carrera 23 No. 37-39 of. 202, Bogota, Colombia; NIT # 830099918-2 (Colombia) [SDNT]

COOPERATIVA DE TRABAJO ASOCIADO DE COLOMBIA (a.k.a. COOPCREAR), Avenida 13 No. 78-54, Cali, Colombia; Calle 13 No. 78-54, Cali, Colombia; Transversal 29 No. 35A-29, Bogota, Colombia; NIT # 830066040-1 (Colombia) [SDNT]

COOPERATIVA HUILENSE DE COMERCIALIZACION COMERCOOP LTDA. (a.k.a. COMERCOOP; a.k.a. COOPERATIVA MULTIACTIVA DE DISTRIBUCION MEGAPHARMA LTDA.; a.k.a. MEGAPHARMA LTDA.), Calle 15 No. 31-99 Bodega 5 Parque Industrial Acerosa, Yumbo, Colombia; Carrera 26 No. 62-42, Bogota, Colombia; Diag. 57A No. 24-84, Bogota, Colombia; NIT # 813002466-7 (Colombia) [SDNT]

COOPERATIVA MERCANTIL COLOMBIANA COOMERCOL (a.k.a. COOMERCOL), Diagonal 24 Transv. 11-99, Cali, Colombia; Calle 8 No. 31-11 Local 2, Cali, Colombia; Pereira, Colombia; NIT # 805010372-8 (Colombia) [SDNT]

COOPERATIVA MERCANTIL DEL SUR LTDA. (a.k.a. COOMERSUR; a.k.a. COOPMERSUR), Carrera 43 No. 16A-19 La Colina, Pasto, Colombia; NIT # 814002508-1 (Colombia) [SDNT]

COOPERATIVA MULTIACTIVA CREDISOL (a.k.a. COOPERATIVA DE AHORRO Y CREDITO PARA EL PROGRESO SOCIAL; a.k.a. CREDISOL), Calle 39 Bis A No. 27-16, Bogota, Colombia; Transversal 29 No. 39-92, Bogota, Colombia; NIT # 830033943-3 (Colombia) [SDNT]

COOPERATIVA MULTIACTIVA DE ADMINISTRACION Y MANEJO ADMACOOP (a.k.a. ADMACOOP), Calle 12B No. 28-58, Bogota, Colombia; Carrera 28A No. 14-29, Bogota, Colombia; NIT # 830030933-6 (Colombia) [SDNT]

COOPERATIVA MULTIACTIVA DE COLOMBIA FOMENTAMOS (a.k.a. FOMENTAMOS), Transversal 29 No. 35A-29, Bogota, Colombia; NIT # 830060914-4 (Colombia) [SDNT]

COOPERATIVA MULTIACTIVA DE COMERC. DROGUISTA Y FARMACEUTICA DROFARCO (a.k.a. DROFARCO), Calle 110 No. 6-336, Barranquilla, Colombia; Metroparque Bodega Mz. 3, Barranquilla, Colombia; Via Circunvalar, Bodega M-A-3, Barranquilla, Colombia; NIT # 802012877-3 (Colombia) [SDNT]

COOPERATIVA MULTIACTIVA DE COMERCIALIZACION Y SERVICIOS (a.k.a. CAJA SOLIDARIA; a.k.a. COOPERATIVA DE AHORRO Y CREDITO DE COLOMBIA), Avenida 22 No. 40-77 of. 202, Bogota, Colombia; Avenida 22 No. 44-70 of. 202, Bogota, Colombia; Calle 12B No. 27-39, Bogota, Colombia; Carrera 13A No. 89-38 of. 713, Bogota, Colombia; Carrera 13A No. 28-38 of. 216 Parque, Bogota, Colombia; Transversal 29 No. 35A-29, Bogota, Colombia; NIT # 830033942-6 (Colombia) [SDNT]

COOPERATIVA MULTIACTIVA DE COMERCIALIZACION Y SERVICIOS DE COLOMBIA (a.k.a. COOPIFARMA), Calle 54 No. 22-50, Bucaramanga, Colombia; Carrera 13A No. 28-38 of. 215, Bogota, Colombia; Carrera 27 No. 47A-06, Bogota, Colombia; NIT # 830071338-9 (Colombia) [SDNT]

COOPERATIVA MULTIACTIVA DE COMERCIALIZACION Y SERVICIOS FARMACOOP (a.k.a. FARMACOOP; f.k.a. LABORATORIOS KRESSFOR DE COLOMBIA S.A.), A.A. 18491, Bogota, Colombia; Calle 17A No. 28A-43, Bogota, Colombia; Calle 16 No. 28A-51, Bogota, Colombia; Calle 16 No. 28A-57, Bogota, Colombia; Calle 17A No. 28-43, Bogota, Colombia; NIT # 830010878-3 (Colombia) [SDNT]

COOPERATIVA MULTIACTIVA DE DISTRIBUCION FARMAVISION LTDA. (a.k.a. FARMAVISION LTDA.), Carrera 24 No. 4-19, Bogota, Colombia; NIT # 830037372-6 (Colombia) [SDNT]

COOPERATIVA MULTIACTIVA DE DISTRIBUCION MEGAPHARMA LTDA. (a.k.a. COMERCOOP; a.k.a. COOPERATIVA HUILENSE DE COMERCIALIZACION COMERCOOP LTDA.; a.k.a. MEGAPHARMA LTDA.), Calle 15 No. 31-99 Bodega 5 Parque Industrial Acerosa, Yumbo, Colombia; Carrera 26 No. 62-42, Bogota, Colombia; Diag. 57A No. 24-84, Bogota, Colombia; NIT # 813002466-7 (Colombia) [SDNT]

COOPERATIVA MULTIACTIVA DE DISTRIBUCION Y SERVICIOS ADMINISTRATIVOS (a.k.a. CODISA), Calle 17A No. 28A-43, Bogota, Colombia; Calle 23 No. 19-75, Bogota, Colombia; NIT # 860524476-1 (Colombia) [SDNT]

COOPERATIVA MULTIACTIVA DE DROGUISTAS LTDA. (a.k.a. COMUDROGAS LTDA.; a.k.a. COOPERATIVA MULTISERVICIOS DE DROGUISTAS LTDA.), Calle 8 No. 31-03, Cali, Colombia; Calle 28 No. 22-25/27/39, Bucaramanga, Colombia; Carrera 49B No. 75-63 Local 2, Barranquilla, Colombia; NIT # 804001143-6 (Colombia) [SDNT]

COOPERATIVA MULTIACTIVA DE EMPLEADOS DE DISTRIBUIDORES DE DROGAS COPSERVIR LTDA. (a.k.a. COPSERVIR LTDA.; f.k.a. DISTRIBUIDORA DE DROGAS LA REBAJA PRINCIPAL S.A.; f.k.a. DISTRIBUIDORA DE DROGAS LA REBAJA S.A.; f.k.a. DROGAS LA REBAJA), Calle 4 No. 22-24, Bogota, Colombia; Carrera 66A No. 53-47 piso 3, Bogota, Colombia; Calle 18 No. 121-130 Avenida Canasgordas Pance, Cali, Colombia; Calle 10 No. 4-47 piso 19, Cali, Colombia; Calle 14 No. 6-66, Cali, Colombia; Carrera 7 No. 13-132 piso 4, Cali, Colombia; Carrera 7A No. 14-25 piso 2, Cali, Colombia; Carrera 10 No. 11-71, Cali, Colombia; Carrera 99 No. 46A-10 Bdg 6 y 8, Bogota, Colombia; NIT # 830011670-3 (Colombia) [SDNT]

COOPERATIVA MULTIACTIVA DE EMPLEADOS DE SUPERMERCADOS Y AFINES (a.k.a. DISMERCOOP; f.k.a. DISTRIBUIDORA MIGIL BOGOTA LTDA.; f.k.a. DISTRIBUIDORA MIGIL CALI S.A.; f.k.a. DISTRIBUIDORA MIGIL LTDA.; f.k.a. GRACADAL S.A.; f.k.a. MIGIL), Calle 5C No. 41-30, Cali, Colombia; Carrera 26 No. 5B-65, Cali, Colombia; Carrera 30 No. 5-12, Cali, Colombia; NIT # 805003637-5 (Colombia) [SDNT]

COOPERATIVA MULTIACTIVA DE LA COSTA COOMULCOSTA LTDA. (a.k.a. COOMULCOSTA), Carrera 14 No. 35B Esquina, Barranquilla, Colombia; Carrera 48 No. 76-49, Barranquilla, Colombia; Via 40 No. 71-197 Bodega 504, Barranquilla, Colombia; NIT # 802006273-0 (Colombia) [SDNT]

COOPERATIVA MULTIACTIVA DEL LITORAL (a.k.a. LITOPHARMA), Calle 72 No. 48-60 Local 1A Centro Ejecutivo Kathand, Barranquilla, Colombia; Calle 72 No. 48-60 Local 1B, Barranquilla, Colombia; Carrera 3 Sur No. 43-62, Barranquilla, Colombia; NIT # 802012669-8 (Colombia) [SDNT]

COOPERATIVA MULTIACTIVA DISTRIBUIDORA DE SANTANDER COOPDISAN (a.k.a. COOPDISAN), Calle 45 No. 9 Occ-04, Bucaramanga, Colombia; Calle 52 No. 31-148 of. 201, Bucaramanga, Colombia; Calle 52 No. 31-148, Bucaramanga, Colombia; Carrera 27 No. 65-60 La Victoria, Bucaramanga, Colombia; Carrera 33 No. 108-49, Floridablanca, Colombia; NIT # 804005384-2 (Colombia) [SDNT]

COOPERATIVA MULTISERVICIOS DE DROGUISTAS LTDA. (a.k.a. COMUDROGAS LTDA.; a.k.a. COOPERATIVA MULTIACTIVA DE DROGUISTAS LTDA.), Calle 8 No. 31-03, Cali, Colombia; Calle 28 No. 22-25/27/39, Bucaramanga, Colombia; Carrera 49B No. 75-63 Local 2, Barranquilla, Colombia; NIT # 804001143-6 (Colombia) [SDNT]

COOPIFARMA (a.k.a. COOPERATIVA MULTIACTIVA DE COMERCIALIZACION Y SERVICIOS DE COLOMBIA), Calle 54 No. 22-50, Bucaramanga, Colombia; Carrera 13A No. 28-38 of. 215, Bogota, Colombia; Carrera 27 No. 47A-06, Bogota, Colombia; NIT # 830071338-9 (Colombia) [SDNT]

COOPMERSUR (a.k.a. COOMERSUR; a.k.a. COOPERATIVA MERCANTIL DEL SUR LTDA.), Carrera 43 No. 16A-19 La Colina, Pasto, Colombia; NIT # 814002508-1 (Colombia) [SDNT]

COPIA, S.A. (a.k.a. CORPORACION ARGENTINA DE INGENIERIA Y ARQUITECTURA, S.A.), San Martin 323, 4th Floor, Buenos Aires, Argentina [CUBA]

COPROVA (a.k.a. COMERCIALIZACION DE PRODUCTOS VARIOS; a.k.a. COPROVA SARL), Paris, France [CUBA]

COPROVA SARL (a.k.a. COMERCIALIZACION DE PRODUCTOS VARIOS; a.k.a. COPROVA), Paris, France [CUBA]

COPSERVIR LTDA. (a.k.a. COOPERATIVA MULTIACTIVA DE EMPLEADOS DE DISTRIBUIDORES DE DROGAS COPSERVIR LTDA.; f.k.a. DISTRIBUIDORA DE DROGAS LA REBAJA PRINCIPAL S.A.; f.k.a. DISTRIBUIDORA DE DROGAS LA REBAJA S.A.; f.k.a. DROGAS LA REBAJA), Calle 4 No. 22-24, Bogota, Colombia; Carrera 66A No. 53-47 piso 3, Bogota, Colombia; Calle 18 No. 121-130 Avenida Canasgordas Pance, Cali, Colombia; Calle 10 No. 4-47 piso 19, Cali, Colombia; Calle 14 No. 6-66, Cali, Colombia; Carrera 7 No. 13-132 piso 4, Cali, Colombia; Carrera 7A No. 14-25 piso 2, Cali, Colombia; Carrera 10 No. 11-71, Cali, Colombia; Carrera 99 No. 46A-10 Bdg 6 y 8, Bogota, Colombia; NIT # 830011670-3 (Colombia) [SDNT]

COPTRADE COMPANY LIMITED (PHARMACEUTICAL AND CHEMICAL DIVISION), P.O. Box 246, Khartoum, Sudan; Port Sudan, Sudan [SUDAN]

COPTRADE ENG AND AUTOMOBILE SERVICES CO LTD. (f.k.a. KORDOFAN AUTOMOBILE COMPANY), P.O. Box 97, Khartoum, Sudan [SUDAN]

CORBURN 13 FARM, Chegutu, Zimbabwe [ZIMBABWE]

CORDOBA VALENCIA, Juan Ramon, c/o BONOMERCAD S.A., Bogota, Colombia; c/o PATENTES MARCAS Y REGISTROS S.A., Bogota, Colombia; c/o SHARPER S.A., Bogota, Colombia; Cedula No. 19273511 (Colombia) (individual) [SDNT]

CORIC, Valentin; DOB 23 Jun 1956; POB Citluk, Bosnia-Herzegovina (individual) [BALKANS]

CORNELIO VALENCIA, Armando (a.k.a. VALENCIA CABALLERO, Elias Armando; a.k.a. VALENCIA CORNELIO, Armando; a.k.a. VALENCIA PENA, Armando); DOB 15 Jun 1954; alt. DOB 28 Nov 1959; POB Mexico (individual) [SDNTK]

CORONEL VILLAREAL, Ignacio (a.k.a. “NACHO CORONEL”), Manzanillo, Colima, Mexico; DOB 01 Feb 1954; POB Veracruz, Mexico; alt. POB Canelas, Durango, Mexico; citizen Mexico; nationality Mexico (individual) [SDNTK]

CORPORACION ARGENTINA DE INGENIERIA Y ARQUITECTURA, S.A. (a.k.a. COPIA, S.A.), San Martin 323, 4th Floor, Buenos Aires, Argentina [CUBA]

CORPORACION CIMEX S.A. (a.k.a. CIMEX; a.k.a. CIMEX CUBA; a.k.a. COMERCIO INTERIOR, MERCADO EXTERIOR), Edificio Sierra Maestra, Avenida Primera entre 0 y 2, Miramar Playa, Ciudad de la Habana, Cuba; and all other locations worldwide [CUBA]

CORPORACION CIMEX, S.A., Panama [CUBA]

CORPORACION DE ALMACENES POR DEPARTAMENTOS S.A. (a.k.a. C.A.D. S.A.), Diagonal 127A No. 17-34, Bogota, Colombia; NIT # 800173127-0 (Colombia) [SDNT]

CORPORACION DEPORTIVA AMERICA (a.k.a. CLUB AMERICA DE CALI; a.k.a. CLUB DEPORTIVO AMERICA), Carrera 56 No. 2-70, Cali, Colombia; Avenida Guadalupe No. 2-70, Cali, Colombia; Calle 24N No. 5BN-22, Cali, Colombia; Calle 13 Carrera 70, Cali, Colombia; Sede Cascajal, Cali, Colombia; Sede Naranjal, Cali, Colombia; NIT # 890305773-4 (Colombia) [SDNT]

CORPORACION IBEROAMERICANA DEL COMERCIO (a.k.a. CIDECO), Spain [CUBA]

CORRALES SAN IGNACIO S.P.R. DE R.L. DE C.V., Domicilio en Ejido Ancon de Carros, Saucillo, Chihuahua, Mexico; R.F.C. CSI-000516-2U3 (Mexico) [SDNTK]

CORREA GIRALDO, Ricardo Leon, c/o COOPCREAR, Bogota, Colombia; c/o COOPERATIVA DE TRABAJO ASOCIADO ACTIVAR, Bogota, Colombia; Carrera 1 No. 2-45 Bloque A ap. 33, Cali, Colombia; DOB 27 Oct 1954; Cedula No. 70085655 (Colombia) (individual) [SDNT]

CORREA PULGARIN, Ernesto, c/o AGROPECUARIA LA ROBLEDA S.A., Cali, Colombia; Cedula No. 2510585 (Colombia) (individual) [SDNT]

CORREAL GUZMAN, Gloria Ines, c/o GIAMX LTDA., Bogota, Colombia; Cedula No. 51678272 (Colombia) (individual) [SDNT]

CORREDOR RUEDA, Jaqueline, c/o CAJA SOLIDARIA, Bogota, Colombia; c/o COPSERVIR LTDA., Bogota, Colombia; c/o FARMAVISION LTDA., Bogota, Colombia; c/o MEGAPHARMA LTDA., Bogota, Colombia; Calle 52A No. 31-67, Bogota, Colombia; Cedula No. 51815763 (Colombia) (individual) [SDNT]

CORTES QUINTERO, Sandra, c/o CREDISA S.A., Cali, Colombia; c/o COMPANIA DE FOMENTO MERCANTIL S.A., Cali, Colombia; c/o CONSTRUCCIONES PROGRESO DEL PUERTO S.A., Puerto Tejada, Colombia; c/o UNIDAS S.A., Cali, Colombia; DOB 21 Jun 1971; POB Cali, Valle, Colombia; Cedula No. 66827003 (Colombia); Passport 66827003 (Colombia) (individual) [SDNT]

CORTES, Polania Raquel, c/o MAPRI DE COLOMBIA LTDA., Bogota, Colombia; DOB 5 Nov 1965; Cedula No. 55150515 (Colombia); Passport 55150515 (Colombia) (individual) [SDNT]

CORTEZ, Oliverio Abril (a.k.a. ABRIL CORTES, Oliverio; a.k.a. ABRIL CORTEZ, Oliverio), c/o INVERSIONES EL PENON S.A., Cali, Colombia; c/o CONSTRUCTORA DIMISA LTDA., Cali, Colombia; c/o AGROPECUARIA BETANIA LTDA., Cali, Colombia; c/o VALLADARES LTDA., Cali, Colombia; c/o INVERSIONES GEMINIS S.A., Cali, Colombia; c/o W. HERRERA Y CIA. S. EN C., Cali, Colombia; Calle 18A No. 8A-20, Jamundi, Colombia; c/o INVERSIONES EL GRAN CRISOL LTDA., Cali, Colombia; DOB 20 Aug 1956; Cedula No. 3002003 (Colombia); Passport AF368431 (Colombia) (individual) [SDNT]

COSMEPOP (f.k.a. BLAIMAR; f.k.a. CIA. INTERAMERICANA DE COSMETICOS S.A.; f.k.a. COINTERCOS S.A.; a.k.a. COOPERATIVA DE COSMETICOS Y POPULARES COSMEPOP; f.k.a. LABORATORIOS BLAIMAR DE COLOMBIA S.A.; f.k.a. LABORATORIOS BLANCO PHARMA S.A.), A.A. 55538, Bogota, Colombia; Calle 12B No. 27-37/39, Bogota, Colombia; Calle 26 Sur No. 7-30 Este, Bogota, Colombia; Carrera 99 y 100 No. 46A-10, Bodega 4, Bogota, Colombia; Calle 12A No. 27-72, Bogota, Colombia; NIT # 800251322-5 (Colombia) [SDNT]

COSMOVALLE (f.k.a. COMPAX LTDA.; a.k.a. INVERSIONES Y CONSTRUCCIONES COSMOVALLE LTDA.; f.k.a. INVERSIONES Y DISTRIBUCIONES COMPAX LTDA.), Calle 10 No. 4-47 piso 19, Cali, Colombia; NIT # 800102403-5 (Colombia) [SDNT]

COSUR LTDA. (a.k.a. CIA. CONSTRUCTORA Y COMERCIALIZADORA DEL SUR LTDA.; a.k.a. HOTEL PALACE), Avenida El Dorado Entrada 2 Int. 6, Bogota, Colombia; NIT # 890329758-7 (Colombia) [SDNT]

COTEI, Milan, Italy [CUBA]

COTRINO TRUJILLO, Olga, c/o FARMA XXI LTDA., Neiva, Huila, Colombia; Cedula No. 36183653 (Colombia); Passport 36183653 (Colombia) (individual) [SDNT]

COUNCIL OF CHARITY AND SOLIDARITY (a.k.a. AL AQSA ASSISTANCE CHARITABLE COUNCIL; a.k.a. AL-LAJNA AL-KHAYRIYYA LIL MUNASARA AL-AQSA; a.k.a. BENEVOLENCE COMMITTEE FOR SOLIDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; a.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

CPMIEC (a.k.a. CHINA NATIONAL PRECISION MACHINERY I/E CORP.; a.k.a. CHINA NATIONAL PRECISION MACHINERY IMPORT/EXPORT CORPORATION; a.k.a. CHINA PRECISION MACHINERY IMPORT/EXPORT CORPORATION; a.k.a. ZHONGGUO JINGMI JIXIE JINCHUKOU ZONGGONGSI), No. 30 Haidian Nanlu, Beijing, China [NPWMD]

CPN (M) (a.k.a. COMMUNIST PARTY OF NEPAL (MAOIST); a.k.a. THE PEOPLE'S LIBERATION ARMY OF NEPAL; a.k.a. UNITED REVOLUTIONARY PEOPLE'S COUNCIL) [SDGT]

CPP (a.k.a. COMMUNIST PARTY OF THE PHILIPPINES; a.k.a. NEW PEOPLE'S ARMY; a.k.a. NEW PEOPLE'S ARMY / COMMUNIST PARTY OF THE PHILIPPINES; a.k.a. NPA; a.k.a. NPP/CPP) [FTO] [SDGT]

CPV SISTEMAS GRAFICOS S.L., Rodriguez San Pedro 2, 28015 Madrid, Madrid, Spain; C.I.F. B82201039 (Spain) [SDNT]

CRASESORIAS E.U., Avenida 11 Norte No. 7N-201, Cali, Colombia; NIT # 805016474-8 (Colombia) [SDNT]

CREACIONES DEPORTIVAS WILLINGTON LTDA., Cosmocentro, Local 130, Cali, Colombia; Calle 5 No. 25-65, Cali, Colombia [SDNT]

CREDIREBAJA S.A, Calle 16 No. 100-88, Cali, Colombia; Calle 19 No. 2-29 of. 3001, Cali, Colombia; NIT # 805001030-6 (Colombia) [SDNT]

CREDISA S.A. (f.k.a. COMERCIALIZADORA AUTOMOTRIZ S.A.), Avenida 7 Norte No. 23N-81, Cali, Colombia; Avenida 7 Norte No. 23-77, Cali, Colombia; Carrera 7D Bis No. 68-58, Cali, Colombia; NIT # 800065773-6 (Colombia) [SDNT]

CREDISOL (a.k.a. COOPERATIVA DE AHORRO Y CREDITO PARA EL PROGRESO SOCIAL; a.k.a. COOPERATIVA MULTIACTIVA CREDISOL), Calle 39 Bis A No. 27-16, Bogota, Colombia; Transversal 29 No. 39-92, Bogota, Colombia; NIT # 830033943-3 (Colombia) [SDNT]

CREDIVIDA, Calle 16 No. 100-88, Cali, Colombia; Cedula No. 31919241 (Colombia) [SDNT]

CRETA S.A., Calle 15 No. 10-52, La Union, Valle, Colombia; NIT # 800019962-6 (Colombia) [SDNT]

CRIADERO DE POLLOS EL ROSAL S.A. (f.k.a. INDUSTRIA AVICOLA PALMASECA S.A.), Carretera Central via Aeropuerto Palmaseca, Colombia; Carrera 61 No. 11-58, Cali, Colombia; NIT # 800146749-7 (Colombia) [SDNT]

CRIADERO LA LUISA E.U. (f.k.a. INDUSTRIA AGROPECUARIA SANTA ELENA LTDA.), Avenida 7 Norte No. 23N-81, Cali, Colombia; Avenida 7 Norte No. 23-77, Cali, Colombia; Calle 15 No. 26-400, Cali, Colombia; Jamundi, Valle, Colombia; NIT # 860503330-5 (Colombia) [SDNT]

CRP (a.k.a. CETNIK RAVNAGORSKI POKRET) [BALKANS]

CRUZ REYES, Antonio Pedro, Milan, Italy (individual) [CUBA]

CRUZ, Juan M. de la, Dai-Ichi Bldg. 6th Floor, 10-2 Nihombashi, 2-chome, Chuo-ku, Tokyo 103, Japan; Director, Banco Nacional de Cuba (individual) [CUBA]

CRYMSA (a.k.a. COMERCIAL DE RODAJES Y MAQUINARIA, S.A.), Jose Lazaro Galdeano 6-6, 28016 Madrid, Spain [CUBA]

CRYMSA—ARGENTINA, S.A., Buenos Aires, Argentina [CUBA]

CUARTES MORALES, Juan Carlos, c/o INVERSIONES Y CONSTRUCCIONES VALLE S.A., Cali, Colombia; DOB 9 Nov 1968; Cedula No. 16757375 (Colombia) (individual) [SDNT]

CUATRO FRIO (a.k.a. HIELO CRISTAL Y REFRIGERACION LTDA.), Carrera 44A No. 9C-85, Bogota, Colombia; Carrera 8 No. 32-16, Cali, Colombia; NIT # 890303017-5 (Colombia) [SDNT]

CUBACANCUN CIGARS AND GIFT SHOPS, Cancun, Mexico [CUBA]

CUBAEXPORT, Spain [CUBA]

CUBAFRUTAS, Spain [CUBA]

CUBAN CIGARS TRADE, Italy [CUBA]

CUBAN FREIGHT ENTERPRISE (a.k.a. CUFLET; a.k.a. LA EMPRESA CUBANA DE FLETES), Pyongyang, Korea, North [CUBA]

CUBAN FREIGHT ENTERPRISE (a.k.a. CUFLET; a.k.a. LA EMPRESA CUBANA DE FLETES), Montreal, Canada [CUBA]

CUBAN FREIGHT ENTERPRISE (a.k.a. CUFLET; a.k.a. LA EMPRESA CUBANA DE FLETES), Varna, Bulgaria [CUBA]

CUBAN FREIGHT ENTERPRISE (a.k.a. CUFLET; a.k.a. LA EMPRESA CUBANA DE FLETES), Moscow, Russia [CUBA]

CUBAN FREIGHT ENTERPRISE (a.k.a. CUFLET; a.k.a. LA EMPRESA CUBANA DE FLETES), Barcelona, Spain [CUBA]

CUBAN FREIGHT ENTERPRISE (a.k.a. CUFLET; a.k.a. LA EMPRESA CUBANA DE FLETES), Rostock, Germany [CUBA]

CUBAN FREIGHT ENTERPRISE (a.k.a. CUFLET; a.k.a. LA EMPRESA CUBANA DE FLETES), Genoa, Italy [CUBA]

CUBAN FREIGHT ENTERPRISE (a.k.a. CUFLET; a.k.a. LA EMPRESA CUBANA DE FLETES), Syczecin, Poland [CUBA]

CUBAN FREIGHT ENTERPRISE (a.k.a. CUFLET; a.k.a. LA EMPRESA CUBANA DE FLETES), Rotterdam, Netherlands [CUBA]

CUBAN FREIGHT ENTERPRISE (a.k.a. CUFLET; a.k.a. LA EMPRESA CUBANA DE FLETES), Mexico [CUBA]

CUBAN FREIGHT ENTERPRISE (a.k.a. CUFLET; a.k.a. LA EMPRESA CUBANA DE FLETES), Buenos Aires, Argentina [CUBA]

CUBANA AIRLINES (a.k.a. EMPRESA CUBANA DE AVIACION), 24 Rue Du Quatre Septembre, Paris, France [CUBA]

CUBANA AIRLINES (a.k.a. EMPRESA CUBANA DE AVIACION), Belas Airport, Luanda, Angola [CUBA]

CUBANA AIRLINES (a.k.a. EMPRESA CUBANA DE AVIACION), Norman Manley International Airport, Kingston, Jamaica [CUBA]

CUBANA AIRLINES (a.k.a. EMPRESA CUBANA DE AVIACION), Melchor Ocampo 469, 5DF Mexico City, Mexico [CUBA]

CUBANA AIRLINES (a.k.a. EMPRESA CUBANA DE AVIACION), Calle 29 y Avda Justo Arosemena, Panama City, Panama [CUBA]

CUBANA AIRLINES (a.k.a. EMPRESA CUBANA DE AVIACION), Grantley Adams Airport, Christ Church, Barbados [CUBA]

CUBANA AIRLINES (a.k.a. EMPRESA CUBANA DE AVIACION), Madrid, Spain [CUBA]

CUBANA AIRLINES (a.k.a. EMPRESA CUBANA DE AVIACION), 32 Main Street, Georgetown, Guyana [CUBA]

CUBANA AIRLINES (a.k.a. EMPRESA CUBANA DE AVIACION), Dobrininskaya No. 7, Sec 5, Moscow, Russia [CUBA]

CUBANA AIRLINES (a.k.a. EMPRESA CUBANA DE AVIACION), Corrientes 545 Primer Piso, Buenos Aires, Argentina [CUBA]

CUBANA AIRLINES (a.k.a. EMPRESA CUBANA DE AVIACION), Frankfurter TOR 8-A, Berlin, Germany [CUBA]

CUBANA AIRLINES (a.k.a. EMPRESA CUBANA DE AVIACION), 1 Place Ville Marie, Suite 3431, Montreal, Canada [CUBA]

CUBANA AIRLINES (a.k.a. EMPRESA CUBANA DE AVIACION), Parizska 17, Prague, Czech Republic [CUBA]

CUBANA AIRLINES (a.k.a. EMPRESA CUBANA DE AVIACION), Paseo de la Republica 126, Lima, Peru [CUBA]

CUBANA AIRLINES (a.k.a. EMPRESA CUBANA DE AVIACION), Piarco Airport, Port au Prince, Haiti [CUBA]

CUBANA AIRLINES (a.k.a. EMPRESA CUBANA DE AVIACION), c/o Anglo-Caribbean Shipping Co. Ltd., Ibex House, The Minories, London EC3N 1DY, United Kingdom [CUBA]

CUBANACAN (a.k.a. CUBANACAN GROUP; a.k.a. EL GRUPO CUBANACAN), Calle 68 e/5ta A, Apartado 16046, Ciudad de La Habana, Cuba [CUBA]

CUBANACAN GROUP (a.k.a. CUBANACAN; a.k.a. EL GRUPO CUBANACAN), Calle 68 e/5ta A, Apartado 16046, Ciudad de La Habana, Cuba [CUBA]

CUBANACAN INTERNATIONAL B.V, Visseringlaan 24, 2288 ER Rijswijk, Zevenhuizen, Netherlands; Registration ID 27134614 (Netherlands) [CUBA]

CUBANACAN U.K. LIMITED, Unit 49 Skylines Village, Limeharbour, Docklands, United Kingdom; Registration ID 2720485 (United Kingdom) [CUBA]

CUBANATUR, Baja California 255, Edificio B. Oficina 103, Condesa 06500, Mexico, D.F., Mexico [CUBA]

CUBATABACO, Spain [CUBA]

CUBATUR (a.k.a. EMPRESA DE TURISMO NACIONAL Y INTERNACIONAL), Buenos Aires, Argentina [CUBA]

CUBILLOS CORREDOR, Manuel Antonio, Carrera 69BN No. 43A-70 Apt. 401 Int. 3, Bogota, Colombia; c/o INTERCONTINENTAL DE AVIACION S.A., Bogota, Colombia; c/o INTERFIAR, Bogota, Colombia; DOB 28 Sep 1948; POB Bogota, Colombia; Cedula No. 19057000 (Colombia); Passport P050296 (Colombia) (individual) [SDNT]

CUBILLOS, Bellanidia, c/o FARMEDIS LTDA., Bogota, Colombia; Cedula No. 36179143 (Colombia) (individual) [SDNT]

CUECA VILLARAGA, Hernan, c/o DROGAS LA REBAJA BOGOTA S.A., Bogota, Colombia; Cedula No. 11352426 (Colombia) (individual) [SDNT]

CUECA VILLARAGA, Miguel Antonio, c/o ADMACOOP, Bogota, Colombia; c/o FARMACOOP, Bogota, Colombia; c/o LABORATORIOS KRESSFOR DE COLOMBIA S.A., Bogota, Colombia; Cedula No. 11386978 (Colombia) (individual) [SDNT]

CUENCA, RAMON CESAR, Panama [CUBA]

CUERO MARTINEZ, Otalvaro, c/o INVHERESA S.A., Cali, Colombia; c/o ALKALA ASOCIADOS S.A., Cali, Colombia; DOB 17 Aug 1955; Cedula No. 16599979 (Colombia) (individual) [SDNT]

CUERVO DE BUITRAGO, Elsy, c/o CAJA SOLIDARIA, Bogota, Colombia; c/o COPSERVIR LTDA., Bogota, Colombia; c/o FARMAVISION LTDA., Bogota, Colombia; Cedula No. 20791726 (Colombia) (individual) [SDNT]

CUFLET (a.k.a. CUBAN FREIGHT ENTERPRISE; a.k.a. LA EMPRESA CUBANA DE FLETES), Pyongyang, Korea, North [CUBA]

CUFLET (a.k.a. CUBAN FREIGHT ENTERPRISE; a.k.a. LA EMPRESA CUBANA DE FLETES), Moscow, Russia [CUBA]

CUFLET (a.k.a. CUBAN FREIGHT ENTERPRISE; a.k.a. LA EMPRESA CUBANA DE FLETES), Varna, Bulgaria [CUBA]

CUFLET (a.k.a. CUBAN FREIGHT ENTERPRISE; a.k.a. LA EMPRESA CUBANA DE FLETES), Barcelona, Spain [CUBA]

CUFLET (a.k.a. CUBAN FREIGHT ENTERPRISE; a.k.a. LA EMPRESA CUBANA DE FLETES), Rostock, Germany [CUBA]

CUFLET (a.k.a. CUBAN FREIGHT ENTERPRISE; a.k.a. LA EMPRESA CUBANA DE FLETES), Genoa, Italy [CUBA]

CUFLET (a.k.a. CUBAN FREIGHT ENTERPRISE; a.k.a. LA EMPRESA CUBANA DE FLETES), Syczecin, Poland [CUBA]

CUFLET (a.k.a. CUBAN FREIGHT ENTERPRISE; a.k.a. LA EMPRESA CUBANA DE FLETES), Rotterdam, Netherlands [CUBA]

CUFLET (a.k.a. CUBAN FREIGHT ENTERPRISE; a.k.a. LA EMPRESA CUBANA DE FLETES), Buenos Aires, Argentina [CUBA]

CUFLET (a.k.a. CUBAN FREIGHT ENTERPRISE; a.k.a. LA EMPRESA CUBANA DE FLETES), Mexico [CUBA]

CUFLET (a.k.a. CUBAN FREIGHT ENTERPRISE; a.k.a. LA EMPRESA CUBANA DE FLETES), Montreal, Canada [CUBA]

CUJAR DE FORERO, Claudia, c/o BONOMERCAD S.A., Bogota, Colombia; c/o DISTRIBUIDORA AGROPECUARIA COLOMBIANA S.A., Cali, Colombia; Cedula No. 20198740 (Colombia) (individual) [SDNT]

CULZAT LUGSIR, Rafael Alberto, c/o CONSTRUCTORA ALTOS DEL RETIRO LTDA., Bogota, Colombia; Calle 7 Oeste No. 2-228, Cali, Colombia; Transversal 3 No. 86-73, Bogota, Colombia; c/o INVERSIONES CULZAT GUEVARA Y CIA. S.C.S., Cali, Colombia; DOB 23 Oct 1940; Cedula No. 14962523 (Colombia); Passport P551220 (Colombia) (individual) [SDNT]

CUMEXINT, S.A., 1649 Adolfo Prieto, Colonia del Valle, Mexico City, Mexico [CUBA]

CUREF METAL PROCESSING BV, Boezembolcht 23, Rotterdam, Netherlands [CUBA]

CUSTOMER NETWORKS S.L., Ronda Manuel Granero 69, 28043 Madrid, Madrid, Spain; Serrano 166, 28002 Madrid, Madrid, Spain; C.I.F. B82998543 (Spain) [SDNT]

D COMPANY (a.k.a. DAWOOD IBRAHIM ORGANIZATION), India; Pakistan; United Arab Emirates [SDNTK]

D.C.M. CONSULTORIA E.U. (a.k.a. DIRECCION COMERCIAL Y MARKETING CONSULTORIA EMPRESA UNIPERSONAL), Calle 12B No. 27-39, Bogota, Colombia; Transversal 4 No. 110A-08, Bogota, Colombia; NIT # 800934781-4 (Colombia) [SDNT]

DA COSTA, Luis Fernando (a.k.a. BEIRA-MAR, Fernandinho); DOB 4 July 1967; POB Rio de Janeiro (individual) [SDNTK]

DABENGWA, Dumiso; DOB 6 Dec 1939; Passport AD000005 (Zimbabwe); Politburo Committee Member (individual) [ZIMBABWE]

DABENGWA, Ijeoma; DOB 27 Oct 1971; Passport AN032426 (Zimbabwe); Child of Dumiso Dabengwa (individual) [ZIMBABWE]

DAGHIR, Ali Ashour, 2 Western Road, Western Green, Thames Ditton, Surrey, United Kingdom (individual) [IRAQ2]

DALIPI, Tahir; DOB 1958; POB Ilince, Serbia and Montenegro (individual) [BALKANS]

DAMASANE, Abigail; DOB 27 May 1952; Deputy Minister for Women's Affairs, Gender and Community Development (individual) [ZIMBABWE]

DARA, Kaddieyatu (a.k.a. DARA, Kadiyatu; a.k.a. DARAH, Kadiyatu; a.k.a. DARRAH, Kaddieyatu); Special Assistant to former President of Liberia Charles Taylor (individual) [LIBERIA]

DARA, Kadiyatu (a.k.a. DARA, Kaddieyatu; a.k.a. DARAH, Kadiyatu; a.k.a. DARRAH, Kaddieyatu); Special Assistant to former President of Liberia Charles Taylor (individual) [LIBERIA]

DARAH, Kadiyatu (a.k.a. DARA, Kaddieyatu; a.k.a. DARA, Kadiyatu; a.k.a. DARRAH, Kaddieyatu); Special Assistant to former President of Liberia Charles Taylor (individual) [LIBERIA]

DARKAZANLI COMPANY (a.k.a. DARKAZANLI EXPORT-IMPORT SONDERPOSTEN; a.k.a. MAMOUN DARKAZANLI IMPORT-EXPORT COMPANY), Uhlenhorsterweg 34 11, Hamburg, Germany [SDGT]

DARKAZANLI EXPORT-IMPORT SONDERPOSTEN (a.k.a. DARKAZANLI COMPANY; a.k.a. MAMOUN DARKAZANLI IMPORT-EXPORT COMPANY), Uhlenhorsterweg 34 11, Hamburg, Germany [SDGT]

DARKAZANLI, Mamoun, Uhlenhorsterweg 34 11, 22085, Hamburg, Germany; DOB 4 Aug 1958; POB Aleppo, Syria; Passport 1310636262 (Germany) (individual) [SDGT]

DARRAH, Kaddieyatu (a.k.a. DARA, Kaddieyatu; a.k.a. DARA, Kadiyatu; a.k.a. DARAH, Kadiyatu); Special Assistant to former President of Liberia Charles Taylor (individual) [LIBERIA]

DARRAJI, Kamal Ben Mohamed Ben Ahmed (a.k.a. DARRAJI, Kamel), via Belotti, n. 16, Busto Arsizio, Varese, Italy; DOB 22 Jul 1967; POB Menzel Bouzelfa, Tunisia; nationality Tunisia; Italian Fiscal Code DRRKML67L22Z352Q; alt. Italian Fiscal Code DRRKLB67L22Z352S; Passport L029899 issued 14 Aug 1995 expires 13 Aug 2000 (individual) [SDGT]

DARRAJI, Kamel (a.k.a. DARRAJI, Kamal Ben Mohamed Ben Ahmed), via Belotti, n. 16, Busto Arsizio, Varese, Italy; DOB 22 Jul 1967; POB Menzel Bouzelfa, Tunisia; nationality Tunisia; Italian Fiscal Code DRRKML67L22Z352Q; alt. Italian Fiscal Code DRRKLB67L22Z352S; Passport L029899 issued 14 Aug 1995 expires 13 Aug 2000 (individual) [SDGT]

DARWISH, Sulayman Khalid (a.k.a. ABU AL-GHADIYA), Syria; DOB 1976; alt. DOB circa 1974; POB Outside Damascus, Syria; nationality Syria; Passport 3936712 (Syria); alt. Passport 11012 (Syria) (individual) [SDGT]

DAVILA RAMIREZ, Oscar Julio, c/o COMERCIALIZADORA INTERTEL S.A., Cali, Colombia; c/o COPSERVIR LTDA., Bogota, Colombia; c/o CREDIREBAJA S.A., Cali, Colombia; c/o DISTRIBUIDORA MIGIL CALI S.A., Cali, Colombia; c/o PROSALUD Y BIENSTAR S.A., Cali, Colombia; Cedula No. 16677937 (Colombia) (individual) [SDNT]

DAWOOD IBRAHIM ORGANIZATION (a.k.a. D COMPANY), India; Pakistan; United Arab Emirates [SDNTK]

DAYTONA POOLS, INC., 225 Syracuse Place, Richardson, TX 75081 [LIBERIA]

DAZA QUIROGA, Hugo Carlos, c/o LABORATORIOS GENERICOS VETERINARIOS, Bogota, Colombia; c/o LABORATORIOS KRESSFOR DE COLOMBIA S.A., Bogota, Colombia; c/o DISTRIBUIDORA DE DROGAS CONDOR LTDA., Bogota, Colombia; c/o DISTRIBUIDORA MYRAMIREZ S.A., Bogota, Colombia; DOB 23 Feb 1954; Cedula No. 19236485 (Colombia) (individual) [SDNT]

DAZA RIVERA, Pablo Emilio, c/o FARMATODO S.A., Bogota, Colombia; c/o RIONAP COMERCIO Y REPRESENTACIONES S.A., Quito, Ecuador; c/o DISTRIBUIDORA MYRAMIREZ S.A., Bogota, Colombia; c/o DROGAS LA REBAJA, Cali, Colombia; c/o LABORATORIOS KRESSFOR, Bogota, Colombia; c/o BLANCO PHARMA S.A., Bogota, Colombia; c/o COLOR 89.5 FM STEREO, Cali, Colombia; c/o INVERSIONES Y CONSTRUCCIONES ABC S.A., Cali, Colombia; DOB 9 Mar 1947; Cedula No. 4904545 (Colombia) (individual) [SDNT]

D'CACHE S.A., Calle 25N No. 3AN-39, Cali, Colombia; NIT # 800149284-8 (Colombia) [SDNT]

DE BIENFAISANCE ET DE COMMITE LE SOLIDARITE AVEC LA PALESTINE (a.k.a. AL AQSA ASSISTANCE CHARITABLE COUNCIL; a.k.a. AL-LAJNA AL-KHAYRIYYA LIL MUNASARA AL-AQSA; a.k.a. BENEVOLENCE COMMITTEE FOR SOLIDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; a.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. RELIEF COMMITTEE FOR SOLIDARITY WITH PALESTINE), 68 Rue Jules Guesde, 59000 Lille, France; 10 Rue Notre Dame, 69006 Lyon, France; 37 Rue de la Chapelle, 75018 Paris, France [SDGT]

DE FRANCE, Naomi A., Cubanatur, Baja California 255, Edificio B., Oficina 103, Condesa 06500, Mexico, D.F., Mexico (individual) [CUBA]

DE LA HOZ BULA, Hugo Rafael, c/o COOMULCOSTA, Barranquilla, Colombia; c/o COPSERVIR LTDA., Bogota, Colombia; Cedula No. 8742278 (Colombia) (individual) [SDNT]

DECACOOP S.A. (a.k.a. BONOMERCAD S.A.), Transversal 29 No. 39-92, Bogota, Colombia; NIT # 830018919-3 (Colombia) [SDNT]

DECAFARMA S.A., Transversal 29 No. 39-92, Bogota, Colombia; NIT # 800241240-7 (Colombia) [SDNT]

DEL NORTES CARNES FINAS SAN IGNACIO S.A. DE C.V., Chihuahua, Chihuahua, Mexico [SDNTK]

DEL VASTO CERON, Luis Mario, c/o ADMINISTRADORA DE SERVICIOS VARIOS CALIMA S.A., Cali, Colombia; DOB 26 Jul 1947; Cedula No. 17181655 (Colombia); Passport 17181655 (Colombia) (individual) [SDNT]

D'ELCON S.A. (a.k.a. DISTRIBUIDORA DE ELEMENTOS PARA LA CONSTRUCCION S.A.), Carrera 23D No. 13B-59, Cali, Colombia; NIT # 800117780-2 (Colombia) [SDNT]

DELGADO ARSENIO, Antonio, Panama (individual) [CUBA]

DELGADO GUTIERREZ, Elias, c/o CONSULTORIA DE INTERDIVISAS, S.A. DE C.V., Tijuana, Baja California, Mexico; Calle Ramon Lopez Velarde 36, Colonia Reforma, Tijuana, Baja California CP 22620, Mexico; c/o CENTRO CAMBIARIO KINO, S.A. DE C.V., Tijuana, Baja California, Mexico; c/o GS PLUS CONSULTORES, S.A. DE C.V., Tijuana, Baja California, Mexico; c/o M Q CONSULTORES, S.A. DE C.V., Tijuana, Baja California, Mexico; DOB 26 Feb 1964; R.F.C. DEGE-640226-3W9 (Mexico) (individual) [SDNTK]

DELGADO GUTIERREZ, Luis Alvaro, c/o TAURA S.A., Cali, Colombia; Cedula No. 16718474 (Colombia) (individual) [SDNT]

DELGADO PRIETO, Roberto, c/o COLPHAR S.A., Bogota, Colombia; Cedula No. 13921914 (Colombia); Passport 13921914 (Colombia) (individual) [SDNT]

DELGADO, Jorge Armando, c/o COSMEPOP, Bogota, Colombia; c/o DISTRIBUIDORA MYRAMIREZ S.A., Bogota, Colombia; c/o LABORATORIOS BLAIMAR DE COLOMBIA S.A., Bogota, Colombia; c/o COINTERCOS S.A., Bogota, Colombia; c/o COPSERVIR LTDA., Bogota, Colombia; c/o LABORATORIOS BLANCO PHARMA DE COLOMBIA S.A., Bogota, Colombia; c/o FARMATODO S.A., Bogota, Colombia; c/o LABORATORIOS KRESSFOR DE COLOMBIA S.A., Bogota, Colombia; c/o ALFA PHARMA S.A., Bogota, Colombia; DOB 4 Aug 1958; Cedula No. 19354318 (Colombia) (individual) [SDNT]

DELIC, Hazim; DOB 13 May 1964; ICTY indictee (individual) [BALKANS]

DELVEST HOLDING COMPANY (a.k.a. DELVEST HOLDING, S.A.), Case Postale 236, 10 Bis Rue Du Vieux College 12-11, Geneva, Switzerland [CUBA]

DELVEST HOLDING, S.A. (a.k.a. DELVEST HOLDING COMPANY), Case Postale 236, 10 Bis Rue Du Vieux College 12-11, Geneva, Switzerland [CUBA]

DEMOCRATIC FRONT FOR THE LIBERATION OF PALESTINE (a.k.a. DEMOCRATIC FRONT FOR THE LIBERATION OF PALESTINE—HAWATMEH FACTION; a.k.a. DFLP; a.k.a. RED STAR BATTALIONS; a.k.a. RED STAR FORCES) [SDT]

DEMOCRATIC FRONT FOR THE LIBERATION OF PALESTINE—HAWATMEH FACTION (a.k.a. DEMOCRATIC FRONT FOR THE LIBERATION OF PALESTINE; a.k.a. DFLP; a.k.a. RED STAR BATTALIONS; a.k.a. RED STAR FORCES) [SDT]

DENISENKO, Sergei (a.k.a. DENISSENKO, Sergei; a.k.a. DENISSENKO, Serguei), c/o SAN AIR GENERAL TRADING FZE, P.O. Box 932-20C, Ajman, United Arab Emirates; c/o SAN AIR GENERAL TRADING LLC, 811 S. Central Expwy, Ste 210, Richardson, TX 75080; c/o SAN AIR GENERAL TRADING FZE, P.O. Box 2190, Ajman, United Arab Emirates; DOB 1961; Passport 500144635 (Russia) (individual) [LIBERIA]

DENISSENKO, Sergei (a.k.a. DENISENKO, Sergei; a.k.a. DENISSENKO, Serguei), c/o SAN AIR GENERAL TRADING FZE, P.O. Box 932-20C, Ajman, United Arab Emirates; c/o SAN AIR GENERAL TRADING LLC, 811 S. Central Expwy, Ste 210, Richardson, TX 75080; c/o SAN AIR GENERAL TRADING FZE, P.O. Box 2190, Ajman, United Arab Emirates; DOB 1961; Passport 500144635 (Russia) (individual) [LIBERIA]

DENISSENKO, Serguei (a.k.a. DENISENKO, Sergei; a.k.a. DENISSENKO, Sergei), c/o SAN AIR GENERAL TRADING FZE, P.O. Box 932-20C, Ajman, United Arab Emirates; c/o SAN AIR GENERAL TRADING LLC, 811 S. Central Expwy, Ste 210, Richardson, TX 75080; c/o SAN AIR GENERAL TRADING FZE, P.O. Box 2190, Ajman, United Arab Emirates; DOB 1961; Passport 500144635 (Russia) (individual) [LIBERIA]

DEPOSITO POPULAR DE DROGAS S.A., Carrera 6 No. 24-77, Cali, Colombia [SDNT]

DEPROSA, S.A. (a.k.a. DESARROLLO DE PROYECTOS, S.A.), Panama City, Panama [CUBA]

DERAMCHI, Othman (a.k.a. YOUSSEF, Abou), Via Milanese, 5, 20099 Sesto San Giovanni, Milan, Italy; Piazza Trieste, 11, Mortara, Italy; DOB 7 Jun 1954; POB Tighennif, Algeria; Italian Fiscal Code: DRMTMN54H07Z301T (individual) [SDGT]

DERECHO INTEGRAL Y CIA. LTDA., Calle 22N No. 5A-75 piso 5, Cali, Colombia [SDNT]

DERONJIC, Miroslav; DOB 6 June 1945; POB Bratunac, Bosnia-Herzegovina; ICTY indictee (individual) [BALKANS]

DESARROLLAR LTDA. (a.k.a. DESARROLLOS URBANOS “DESARROLLAR” LTDA.), Calle 74 No. 53-30, Barranquilla, Colombia; NIT # 890108104-2 (Colombia) [SDNT]

DESARROLLO DE PROYECTOS, S.A. (a.k.a. DEPROSA, S.A.), Panama City, Panama [CUBA]

DESARROLLO INDUSTRIAL CUBANO ESPANOL, S.A. (a.k.a. DICESA), Paseo De La Castellana 157, Madrid, Spain [CUBA]

DESARROLLO INDUSTRIAL CUBANO ESPANOL, S.A. (a.k.a. DICESA), Jose Lazaro Caldeano, 6-6, 28016 Madrid, Spain [CUBA]

DESARROLLOS AGROINDUSTRIALES S.A., Tranversal 13A No. 118A-45 Ofc. 301, Bogota, Colombia; NIT # 830000782-2 (Colombia) [SDNT]

DESARROLLOS COMERCIALES E INDUSTRIALES HENAO GONZALEZ Y CIA. S.C.S., Carrera 4A No. 16-04 apt. 303, Cartago, Colombia; NIT #800160475-2 (Colombia) [SDNT]

DESARROLLOS URBANOS “DESARROLLAR” LTDA. (a.k.a. DESARROLLAR LTDA.), Calle 74 No. 53-30, Barranquilla, Colombia; NIT # 890108104-2 (Colombia) [SDNT]

DESME HURTADO, Maximo Zadi (a.k.a. DESME, Zadi), c/o AVIANDINA S.A.C.; c/o SISTEMA DE DISTRIBUCION MUNDIAL S.A.C.; DOB 21 Aug 1958; LE Number 06367724 (Peru) (individual) [BPI-SDNTK]

DESME, Zadi (a.k.a. DESME HURTADO, Maximo Zadi), c/o AVIANDINA S.A.C.; c/o SISTEMA DE DISTRIBUCION MUNDIAL S.A.C.; DOB 21 Aug 1958; LE Number 06367724 (Peru) (individual) [BPI-SDNTK]

DEV SOL (a.k.a. DEV SOL ARMED REVOLUTIONARY UNITS; a.k.a. DEV SOL SDB; a.k.a. DEV SOL SILAHLI DEVRIMCI BIRLIKLERI; a.k.a. DEVRIMCI HALK KURTULUS PARTISI-CEPHESI; a.k.a. DEVRIMCI SOL; a.k.a. DHKP/C; a.k.a. REVOLUTIONARY LEFT; a.k.a. REVOLUTIONARY PEOPLE'S LIBERATION PARTY/FRONT) [FTO] [SDGT]

DEV SOL ARMED REVOLUTIONARY UNITS (a.k.a. DEV SOL; a.k.a. DEV SOL SDB; a.k.a. DEV SOL SILAHLI DEVRIMCI BIRLIKLERI; a.k.a. DEVRIMCI HALK KURTULUS PARTISI-CEPHESI; a.k.a. DEVRIMCI SOL; a.k.a. DHKP/C; a.k.a. REVOLUTIONARY LEFT; a.k.a. REVOLUTIONARY PEOPLE'S LIBERATION PARTY/FRONT) [FTO] [SDGT]

DEV SOL SDB (a.k.a. DEV SOL; a.k.a. DEV SOL ARMED REVOLUTIONARY UNITS; a.k.a. DEV SOL SILAHLI DEVRIMCI BIRLIKLERI; a.k.a. DEVRIMCI HALK KURTULUS PARTISI-CEPHESI; a.k.a. DEVRIMCI SOL; a.k.a. DHKP/C; a.k.a. REVOLUTIONARY LEFT; a.k.a. REVOLUTIONARY PEOPLE'S LIBERATION PARTY/FRONT) [FTO] [SDGT]

DEV SOL SILAHLI DEVRIMCI BIRLIKLERI (a.k.a. DEV SOL; a.k.a. DEV SOL ARMED REVOLUTIONARY UNITS; a.k.a. DEV SOL SDB; a.k.a. DEVRIMCI HALK KURTULUS PARTISI-CEPHESI; a.k.a. DEVRIMCI SOL; a.k.a. DHKP/C; a.k.a. REVOLUTIONARY LEFT; a.k.a. REVOLUTIONARY PEOPLE'S LIBERATION PARTY/FRONT) [FTO] [SDGT]

DEVIA SILVA, Luis Edgar (a.k.a. “RAUL REYES”); DOB 30 Sep 1948; POB La Plata, Huila, Colombia; Cedula No. 14871281 (Colombia) (individual) [SDNTK]

DEVRIMCI HALK KURTULUS PARTISI-CEPHESI (a.k.a. DEV SOL; a.k.a. DEV SOL ARMED REVOLUTIONARY UNITS; a.k.a. DEV SOL SDB; a.k.a. DEV SOL SILAHLI DEVRIMCI BIRLIKLERI; a.k.a. DEVRIMCI SOL; a.k.a. DHKP/C; a.k.a. REVOLUTIONARY LEFT; a.k.a. REVOLUTIONARY PEOPLE'S LIBERATION PARTY/FRONT) [FTO] [SDGT]

DEVRIMCI SOL (a.k.a. DEV SOL; a.k.a. DEV SOL ARMED REVOLUTIONARY UNITS; a.k.a. DEV SOL SDB; a.k.a. DEV SOL SILAHLI DEVRIMCI BIRLIKLERI; a.k.a. DEVRIMCI HALK KURTULUS PARTISI-CEPHESI; a.k.a. DHKP/C; a.k.a. REVOLUTIONARY LEFT; a.k.a. REVOLUTIONARY PEOPLE'S LIBERATION PARTY/FRONT) [FTO] [SDGT]

DFLP (a.k.a. DEMOCRATIC FRONT FOR THE LIBERATION OF PALESTINE; a.k.a. DEMOCRATIC FRONT FOR THE LIBERATION OF PALESTINE—HAWATMEH FACTION; a.k.a. RED STAR BATTALIONS; a.k.a. RED STAR FORCES) [SDT]

DHAMAT HOUMET DAAWA SALAFIA (a.k.a. DJAMAAT HOUMAT ED DAAWA ES SALAFIYA; a.k.a. DJAMAAT HOUMAT ED DAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

DHH ENTERPRISES, INC., 811 S. Central Expwy, Ste 210, Richardson, TX 75080 [LIBERIA]

DHKP/C (a.k.a. DEV SOL; a.k.a. DEV SOL ARMED REVOLUTIONARY UNITS; a.k.a. DEV SOL SDB; a.k.a. DEV SOL SILAHLI DEVRIMCI BIRLIKLERI; a.k.a. DEVRIMCI HALK KURTULUS PARTISI-CEPHESI; a.k.a. DEVRIMCI SOL; a.k.a. REVOLUTIONARY LEFT; a.k.a. REVOLUTIONARY PEOPLE'S LIBERATION PARTY/FRONT) [FTO] [SDGT]

DIAGNOSTICENTRO LA GARANTIA (a.k.a. SERVIAUTOS UNO A 1A LIMITADA), Calle 34 No. 5A-25, Cali, Colombia; Carrera 15 No. 44-68, Cali, Colombia; NIT # 800032413-8 (Colombia) [SDNT]

DIAGROCOL S.A. (a.k.a. DISTRIBUIDORA AGROPECUARIA COLOMBIANA S.A.), Avenida 3 Bis Norte No. 23C-69, Cali, Colombia; NIT # 805011649-7 (Colombia) [SDNT]

DIAS DE MENDONCA, Leonardo (a.k.a. DIAS MENDONA, Leonardo; a.k.a. DIAZ MENDONCA, Leonardo); DOB 12 Jan 1963; alt. DOB 21 Nov 1963; alt. DOB 1 Dec 1963; POB Brazil (individual) [SDNTK]

DIAS MENDONA, Leonardo (a.k.a. DIAS DE MENDONCA, Leonardo; a.k.a. DIAZ MENDONCA, Leonardo); DOB 12 Jan 1963; alt. DOB 21 Nov 1963; alt. DOB 1 Dec 1963; POB Brazil (individual) [SDNTK]

DIAZ GONZALEZ, Rolando, Frankfurt, Germany (individual) [CUBA]

DIAZ MATIZ, Maria Cecilia, c/o LEMOFAR LTDA., Bogota, Colombia; DOB 16 May 1950; Cedula No. 41510904 (Colombia); Passport 41510904 (Colombia) (individual) [SDNT]

DIAZ MEDINA, Javier (a.k.a. ARELLANO FELIX, Francisco Javier; a.k.a. ARELLANO FELIX, Javier; a.k.a. BELTRAN MEZA, Ramon; a.k.a. LARA ALVAREZ, Jose Luis); DOB 21 Nov 1969; alt. DOB 12 Dec 1969; POB Culiacan, Sinaloa, Mexico (individual) [SDNTK]

DIAZ MENDONCA, Leonardo (a.k.a. DIAS DE MENDONCA, Leonardo; a.k.a. DIAS MENDONA, Leonardo); DOB 12 Jan 1963; alt. DOB 21 Nov 1963; alt. DOB 1 Dec 1963; POB Brazil (individual) [SDNTK]

DIAZ PONTON, Gonzalo, c/o COOPDISAN, Bucaramanga, Colombia; c/o DROGAS LA REBAJA BUCARAMANGA S.A., Bucaramanga, Colombia; Cedula No. 18938771 (Colombia); Passport 18938771 (Colombia) (individual) [SDNT]

DIAZ SANCHEZ, Alberto, c/o INMOBILIARIA U.M.V. S.A., Cali, Colombia; Carrera 66 No. 5-23, Cali, Colombia; c/o CONCRETOS CALI S.A., Cali, Colombia; c/o CONSTRUCTORA DIMISA LTDA., Cali, Colombia; DOB 2 Jan 1956; Cedula No. 16259623 (Colombia) (individual) [SDNT]

DIAZ TOVAR, Moises, c/o CAJA SOLIDARIA, Bogota, Colombia; c/o COPSERVIR LTDA., Bogota, Colombia; c/o MEGAPHARMA LTDA., Bogota, Colombia; Cedula No. 12112342 (Colombia) (individual) [SDNT]

DIAZ, Manuel, c/o INMOBILIARIA GALES LTDA, Bogota, Colombia; c/o COMERCIAL DE NEGOCIOS CLARIDAD Y CIA., Bogota, Colombia; c/o COMERCIALIZADORA EXPERTA Y CIA. S. EN C., Bogota, Colombia; DOB 10 Feb 1954; Cedula No. 396358 (Colombia) (individual) [SDNT]

DIAZ, Rosa Isabel, c/o INVHERESA S.A., Cali, Colombia (individual) [SDNT]

DIBC (a.k.a. DISTRIBUIDORA IMPERIAL; a.k.a. DISTRIBUIDORA IMPERIAL DE BAJA CALIFORNIA, S.A. DE C.V.), Blvd. Agua Caliente 1381, Colonia Revolucion, Tijuana, Baja California, Mexico; Avenida Rio Nazas 10202, Tijuana, Baja California, Mexico; Heroes de Nacozari 3213 Colonia Maya, Culiacan, Sinaloa, Mexico; Lerdo de Tejada 1879 Sector Juarez, Guadalajara, Jalisco, Mexico; Ramon Morales No. 732 Colonia El Mirador, Guadalajara, Jalisco, Mexico; Rio Balsas 1579 Los Nogales, Ciudad Juarez, Chihuahua, Mexico; Luz Savinon 718-C Colonia del Valle, Mexico City, Distrito Federal, Mexico; P.O. Box 434440, San Ysidro, CA 92173; R.F.C. DIB-771110-HQ1 (Mexico) [SDNTK]

DICESA (a.k.a. DESARROLLO INDUSTRIAL CUBANO ESPANOL, S.A.), Paseo De La Castellana 157, Madrid, Spain [CUBA]

DICESA (a.k.a. DESARROLLO INDUSTRIAL CUBANO ESPANOL, S.A.), Jose Lazaro Caldeano, 6-6, 28016 Madrid, Spain [CUBA]

IKUY BOGDIM (a.k.a. AMERICAN FRIENDS OF THE UNITED YESHIVA; a.k.a. AMERICAN FRIENDS OF YESHIVAT RAV MEIR; a.k.a. COMMITTEE FOR THE SAFETY OF THE ROADS; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

DILIP, Aziz (a.k.a. ANIS, Ibrahim Shaikh Mohd; a.k.a. AZIZ, Abdul Hamid Abdul; a.k.a. EBRAHIM, Dawood; a.k.a. HASAN, Shaikh Daud; a.k.a. HASSAN, Dawood; a.k.a. IBRAHIM, Anis; a.k.a. IBRAHIM, Dawood; a.k.a. IBRAHIM, Dawood Sheik; a.k.a. KASKAR, Dawood Ibrahim; a.k.a. REHMAN, Shaikh Ismail Abdul; a.k.a. SABRI, Dawood; a.k.a. SAHEB, Amir; a.k.a. SETH, Iqbal), 617 CP Berar Society, Block 7-8, Karachi, Pakistan; House No. 37, Street 30, Phase V, Defence Housing Authority, Karachi, Pakistan; White House, Al-Wassal Road, Jumeira, Dubai, United Arab Emirates; 33-36, Pakmodiya Street, Haji Musafirkhana, Dongri, Bombay, India; House No. 10, Hill Top Arcade, Defence Housing Authority, Karachi, Pakistan; Moin Palace, 2nd Floor, Opp. Abdullah Shah Gazi Dargah, Clifton, Karachi, Pakistan; DOB 26 Dec 1955; alt. DOB 31 Dec 1955; POB Ratnagiri, Maharashtra, India; citizen India alt. United Arab Emirates; alt. Pakistan; nationality India; Passport A-717288 (United Arab Emirates) issued 18 Aug 1985; alt. Passport F-823692 (Yemen) issued 02 Sep 1989; alt. Passport G-869537 (Pakistan); alt. Passport G-866537 (Pakistan) issued 12 Aug 1991; alt. Passport V-57865 (India) issued 03 Oct 1983; alt. Passport K-560098 (India) issued 30 Jul 1975; alt. Passport P-537849 (India) issued 30 Jul 1979; alt. Passport A-501801 (India) issued 26 Jul 1985; alt. Passport A-333602 (India) issued 04 Jun 1985; alt. Passport R-841697 (India) issued 26 Nov 1981; alt. Passport M-110522 (India) issued 13 Nov 1978 (individual) [SDGT] [SDNTK]

DIMABE LTDA., Diagonal 127A No. 30-25, Bogota, Colombia; NIT # 800107988-4 (Colombia) [SDNT]

DIODATO DEL GALLO, Marco Marino (a.k.a. RENATO), Bolivia; DOB 28 Jan 1957; POB Italy; citizen Italy alt. Bolivia; nationality Italy; Passport 072130-A (Italy) (individual) [SDNTK]

DIRECCION COMERCIAL Y MARKETING CONSULTORIA EMPRESA UNIPERSONAL (a.k.a. D.C.M. CONSULTORIA E.U.), Calle 12B No. 27-39, Bogota, Colombia; Transversal 4 No. 110A-08, Bogota, Colombia; NIT # 800934781-4 (Colombia) [SDNT]

DISFOGEN LTDA. (a.k.a. DISTRIBUIDORA DE MEDICAMENTOS DISFOGEN LTDA.), Calle 13 No. 27-39 Int. 4, Bogota, Colombia; Carrera 42C No. 22C-36, Bogota, Colombia; NIT # 830116941-6 (Colombia) [SDNT]

DISMERCOOP (a.k.a. COOPERATIVA MULTIACTIVA DE EMPLEADOS DE SUPERMERCADOS Y AFINES; f.k.a. DISTRIBUIDORA MIGIL BOGOTA LTDA.; f.k.a. DISTRIBUIDORA MIGIL CALI S.A.; f.k.a. DISTRIBUIDORA MIGIL LTDA.; f.k.a. GRACADAL S.A.; f.k.a. MIGIL), Calle 5C No. 41-30, Cali, Colombia; Carrera 26 No. 5B-65, Cali, Colombia; Carrera 30 No. 5-12, Cali, Colombia; NIT # 805003637-5 (Colombia) [SDNT]

DISTRIBUCIONES GLOMIL LTDA. (a.k.a. AUTOSERVICIO CIUDAD JARDIN; a.k.a. AUTOSERVICIO PENON), Carrera 2 Oeste No. 2-54 ap. 201, Cali, Colombia; Carrera 105 No. 15A-53, Cali, Colombia; Avenida Colombia No. 2-45, Cali, Colombia; NIT # 805008233-6 (Colombia) [SDNT]

DISTRIBUIDORA AGROPECUARIA COLOMBIANA S.A. (a.k.a. DIAGROCOL S.A.), Avenida 3 Bis Norte No. 23C-69, Cali, Colombia; NIT # 805011649-7 (Colombia) [SDNT]

DISTRIBUIDORA DE DROGAS CONDOR LTDA. (a.k.a. CONDOR), Calle 68 52-05, Bogota, Colombia; Calle 10 No. 32A-64, Bogota, Colombia [SDNT]

DISTRIBUIDORA DE DROGAS LA REBAJA PRINCIPAL S.A. (a.k.a. COOPERATIVA MULTIACTIVA DE EMPLEADOS DE DISTRIBUIDORES DE DROGAS COPSERVIR LTDA.; a.k.a. COPSERVIR LTDA.; f.k.a. DISTRIBUIDORA DE DROGAS LA REBAJA S.A.; f.k.a. DROGAS LA REBAJA), Calle 4 No. 22-24, Bogota, Colombia; Carrera 66A No. 53-47 piso 3, Bogota, Colombia; Calle 18 No. 121-130 Avenida Canasgordas Pance, Cali, Colombia; Calle 10 No. 4-47 piso 19, Cali, Colombia; Calle 14 No. 6-66, Cali, Colombia; Carrera 7 No. 13-132 piso 4, Cali, Colombia; Carrera 7A No. 14-25 piso 2, Cali, Colombia; Carrera 10 No. 11-71, Cali, Colombia; Carrera 99 No. 46A-10 Bdg 6 y 8, Bogota, Colombia; NIT # 830011670-3 (Colombia) [SDNT]

DISTRIBUIDORA DE DROGAS LA REBAJA PRINCIPAL S.A. (a.k.a. DISTRIBUIDORA DE DROGAS LA REBAJA S.A.; a.k.a. DROGAS LA REBAJA), Carrera 7 13-132 piso 4, Cali, Colombia; Calle 10 No. 4-47 Piso 19, Cali, Colombia; Calle 18 121-130, Cali, Colombia; Calle 14 6-66, Cali, Colombia; Carrera 10 11-71, Cali, Colombia; Carrera 7A 14-25 piso 2, Cali, Colombia; Carrera 99 No. 46 A-10 Blg 6 y 8, Bogota, Colombia [SDNT]

DISTRIBUIDORA DE DROGAS LA REBAJA S.A. (a.k.a. COOPERATIVA MULTIACTIVA DE EMPLEADOS DE DISTRIBUIDORES DE DROGAS COPSERVIR LTDA.; a.k.a. COPSERVIR LTDA.; f.k.a. DISTRIBUIDORA DE DROGAS LA REBAJA PRINCIPAL S.A.; f.k.a. DROGAS LA REBAJA), Calle 4 No. 22-24, Bogota, Colombia; Carrera 66A No. 53-47 piso 3, Bogota, Colombia; Calle 18 No. 121-130 Avenida Canasgordas Pance, Cali, Colombia; Calle 10 No. 4-47 piso 19, Cali, Colombia; Calle 14 No. 6-66, Cali, Colombia; Carrera 7 No. 13-132 piso 4, Cali, Colombia; Carrera 7A No. 14-25 piso 2, Cali, Colombia; Carrera 10 No. 11-71, Cali, Colombia; Carrera 99 No. 46A-10 Bdg 6 y 8, Bogota, Colombia; NIT # 830011670-3 (Colombia) [SDNT]

DISTRIBUIDORA DE DROGAS LA REBAJA S.A. (a.k.a. DISTRIBUIDORA DE DROGAS LA REBAJA PRINCIPAL S.A.; a.k.a. DROGAS LA REBAJA), Carrera 7 13-132 piso 4, Cali, Colombia; Calle 10 No. 4-47 Piso 19, Cali, Colombia; Calle 18 121-130, Cali, Colombia; Calle 14 6-66, Cali, Colombia; Carrera 10 11-71, Cali, Colombia; Carrera 7A 14-25 piso 2, Cali, Colombia; Carrera 99 No. 46 A-10 Blg 6 y 8, Bogota, Colombia [SDNT]

DISTRIBUIDORA DE ELEMENTOS PARA LA CONSTRUCCION S.A. (a.k.a. D'ELCON S.A.), Carrera 23D No. 13B-59, Cali, Colombia; NIT # 800117780-2 (Colombia) [SDNT]

DISTRIBUIDORA DE MEDICAMENTOS DISFOGEN LTDA. (a.k.a. DISFOGEN LTDA.), Calle 13 No. 27-39 Int. 4, Bogota, Colombia; Carrera 42C No. 22C-36, Bogota, Colombia; NIT # 830116941-6 (Colombia) [SDNT]

DISTRIBUIDORA DEL VALLE E.U., Calle, 18 No. 106-98 of. 303, Cali, Colombia; Diag., 23 Tr. 10-99, Cali, Colombia; NIT # 805007212-7 (Colombia) [SDNT]

DISTRIBUIDORA IMPERIAL (a.k.a. DIBC; a.k.a. DISTRIBUIDORA IMPERIAL DE BAJA CALIFORNIA, S.A. DE C.V.), Blvd. Agua Caliente 1381, Colonia Revolucion, Tijuana, Baja California, Mexico; Avenida Rio Nazas 10202, Tijuana, Baja California, Mexico; Heroes de Nacozari 3213 Colonia Maya, Culiacan, Sinaloa, Mexico; Lerdo de Tejada 1879 Sector Juarez, Guadalajara, Jalisco, Mexico; Ramon Morales No. 732 Colonia El Mirador, Guadalajara, Jalisco, Mexico; Rio Balsas 1579 Los Nogales, Ciudad Juarez, Chihuahua, Mexico; Luz Savinon 718-C Colonia del Valle, Mexico City, Distrito Federal, Mexico; P.O. Box 434440, San Ysidro, CA 92173; R.F.C. DIB-771110-HQ1 (Mexico) [SDNTK]

DISTRIBUIDORA IMPERIAL DE BAJA CALIFORNIA, S.A. DE C.V. (a.k.a. DIBC; a.k.a. DISTRIBUIDORA IMPERIAL), Blvd. Agua Caliente 1381, Colonia Revolucion, Tijuana, Baja California, Mexico; Avenida Rio Nazas 10202, Tijuana, Baja California, Mexico; Heroes de Nacozari 3213 Colonia Maya, Culiacan, Sinaloa, Mexico; Lerdo de Tejada 1879 Sector Juarez, Guadalajara, Jalisco, Mexico; Ramon Morales No. 732 Colonia El Mirador, Guadalajara, Jalisco, Mexico; Rio Balsas 1579 Los Nogales, Ciudad Juarez, Chihuahua, Mexico; Luz Savinon 718-C Colonia del Valle, Mexico City, Distrito Federal, Mexico; P.O. Box 434440, San Ysidro, CA 92173; R.F.C. DIB-771110-HQ1 (Mexico) [SDNTK]

DISTRIBUIDORA MIGIL BOGOTA LTDA. (a.k.a. COOPERATIVA MULTIACTIVA DE EMPLEADOS DE SUPERMERCADOS Y AFINES; a.k.a. DISMERCOOP; f.k.a. DISTRIBUIDORA MIGIL CALI S.A.; f.k.a. DISTRIBUIDORA MIGIL LTDA.; f.k.a. GRACADAL S.A.; f.k.a. MIGIL), Calle 5C No. 41-30, Cali, Colombia; Carrera 26 No. 5B-65, Cali, Colombia; Carrera 30 No. 5-12, Cali, Colombia; NIT # 805003637-5 (Colombia) [SDNT]

DISTRIBUIDORA MIGIL BOGOTA LTDA. (a.k.a. DISTRIBUIDORA MIGIL CALI S.A.; a.k.a. DISTRIBUIDORA MIGIL LTDA.; a.k.a. MIGIL), Calle 5C 41-30, Cali, Colombia; Carrera 30-5-12, Cali, Colombia; Carrera 26 5B-65, Cali, Colombia [SDNT]

DISTRIBUIDORA MIGIL CALI S.A. (a.k.a. COOPERATIVA MULTIACTIVA DE EMPLEADOS DE SUPERMERCADOS Y AFINES; a.k.a. DISMERCOOP; f.k.a. DISTRIBUIDORA MIGIL BOGOTA LTDA.; f.k.a. DISTRIBUIDORA MIGIL LTDA.; f.k.a. GRACADAL S.A.; f.k.a. MIGIL), Calle 5C No. 41-30, Cali, Colombia; Carrera 26 No. 5B-65, Cali, Colombia; Carrera 30 No. 5-12, Cali, Colombia; NIT # 805003637-5 (Colombia) [SDNT]

DISTRIBUIDORA MIGIL CALI S.A. (f.k.a. DISTRIBUIDORA MIGIL BOGOTA LTDA.; a.k.a. DISTRIBUIDORA MIGIL LTDA.; a.k.a. MIGIL), Calle 5C 41-30, Cali, Colombia; Carrera 30-5-12, Cali, Colombia; Carrera 26 5B-65, Cali, Colombia [SDNT]

DISTRIBUIDORA MIGIL LTDA. (a.k.a. COOPERATIVA MULTIACTIVA DE EMPLEADOS DE SUPERMERCADOS Y AFINES; a.k.a. DISMERCOOP; f.k.a. DISTRIBUIDORA MIGIL BOGOTA LTDA.; f.k.a. DISTRIBUIDORA MIGIL CALI S.A.; f.k.a. GRACADAL S.A.; f.k.a. MIGIL), Calle 5C No. 41-30, Cali, Colombia; Carrera 26 No. 5B-65, Cali, Colombia; Carrera 30 No. 5-12, Cali, Colombia; NIT # 805003637-5 (Colombia) [SDNT]

DISTRIBUIDORA MIGIL LTDA. (f.k.a. DISTRIBUIDORA MIGIL BOGOTA LTDA.; a.k.a. DISTRIBUIDORA MIGIL CALI S.A.; a.k.a. MIGIL), Calle 5C 41-30, Cali, Colombia; Carrera 30-5-12, Cali, Colombia; Carrera 26 5B-65, Cali, Colombia [SDNT]

DISTRIBUIDORA MYRAMIREZ S.A., Calle 33BN No. 2BN-49 apt. 503A, Cali, Colombia; Carrera 69A No. 49A-49, Bogota, Colombia [SDNT]

DISTRIBUIDORA SANAR DE COLOMBIA S.A., Calle 18 No. 106-98 of. 206, 207, 302 and 303, Cali, Colombia; Carrera 3 No. 11-32 of. 939, Cali, Colombia; Carrera 13A No. 89-38, of. 713, Bogota, Colombia; NIT # 805011728-0 (Colombia) [SDNT]

DISTRIEXPORT C.I. S.A. (a.k.a. DISTRIEXPORT COMERCIALIZADORA INTERNACIONAL S.A.; a.k.a. DISTRIEXPORT S.A.), Calle 12B No. 27-39, Bogota, Colombia; Calle 12B No. 27-40, Int. 4 of., Bogota, Colombia; Carrera 12 No. 71-53 of. 502, Bogota, Colombia; Carrera 28 No. 11-65 of. 712, Bogota, Colombia; Carrera 70 No. 54-30, Bogota, Colombia; NIT # 830047057-3 (Colombia) [SDNT]

DISTRIEXPORT COMERCIALIZADORA INTERNACIONAL S.A. (a.k.a. DISTRIEXPORT C.I. S.A.; a.k.a. DISTRIEXPORT S.A.), Calle 12B No. 27-39, Bogota, Colombia; Calle 12B No. 27-40, Int. 4 of., Bogota, Colombia; Carrera 12 No. 71-53 of. 502, Bogota, Colombia; Carrera 28 No. 11-65 of. 712, Bogota, Colombia; Carrera 70 No. 54-30, Bogota, Colombia; NIT # 830047057-3 (Colombia) [SDNT]

DISTRIEXPORT S.A. (a.k.a. DISTRIEXPORT C.I. S.A.; a.k.a. DISTRIEXPORT COMERCIALIZADORA INTERNACIONAL S.A.), Calle 12B No. 27-39, Bogota, Colombia; Calle 12B No. 27-40, Int. 4 of., Bogota, Colombia; Carrera 12 No. 71-53 of. 502, Bogota, Colombia; Carrera 28 No. 11-65 of. 712, Bogota, Colombia; Carrera 70 No. 54-30, Bogota, Colombia; NIT # 830047057-3 (Colombia) [SDNT]

DJAMAAT HOUMAT ED DAAWA ES SALAFIYA (a.k.a. DHAMAT HOUMET DAAWA SALAFIA; a.k.a. DJAMAAT HOUMAT ED DAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

DJAMAAT HOUMAT ED DAWA ESSALAFIA (a.k.a. DHAMAT HOUMET DAAWA SALAFIA; a.k.a. DJAMAAT HOUMAT ED DAAWA ES SALAFIYA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

DJAMAATT HOUMAT ED DAAWA ES SALAFIYA (a.k.a. DHAMAT HOUMET DAAWA SALAFIA; a.k.a. DJAMAAT HOUMAT ED DAAWA ES SALAFIYA; a.k.a. DJAMAAT HOUMAT ED DAWA ESSALAFIA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

DJERMANE, Kamel (a.k.a. “ADEL”; a.k.a. “BILAL”; a.k.a. “FODHIL”); DOB 1965; POB Oum el Bouaghi, Algeria; nationality Algeria (individual) [SDGT]

DJOGO, Jovan; POB Kalinovik, Bosnia-Herzegovina (individual) [BALKANS]

DJOKO SUPRIYANTO (a.k.a. ABDUL MARTIN; a.k.a. ABDUL MATIN; a.k.a. AMAR UMAR; a.k.a. AMAR USMAN; a.k.a. ANAR USMAN; a.k.a. DUL MATIN; a.k.a. DULMATIN; a.k.a. JAK IMRON; a.k.a. MUKTAMAR; a.k.a. NOVARIANTO; a.k.a. PINTONO, Joko; a.k.a. PITONO, Joko; a.k.a. PITOYO, Joko; a.k.a. TOPEL); DOB 16 Jun 1970; alt. DOB 6 Jun 1970; POB Petarukan village, Pemalang, Central Java, Indonesia; nationality Indonesia (individual) [SDGT]

DJORDA, Samojko; DOB 13 Jun 1959; POB Sarajevo, Bosnia-Herzegovina (individual) [BALKANS]

DJORDJEVIC, Vlastimir (a.k.a. DORDEVIC, Vlastimir); DOB 1948; POB Koznica, Vladicin Han municipality (individual) [BALKANS]

DJUE, Eugene Ngoran Kouadio; DOB 20 Dec 1969; alt. DOB 1 Jan 1966; POB Akakro, Cote d'Ivoire; Leader of Union for the Total Liberation of Cote d'Ivoire (Union pour la Liberation Totale de la Cote d'Ivoire, UPLTCI) (individual) [COTED]

DOHAN, Anas (a.k.a. AL-HASSAN, Anas; a.k.a. AL-HASSAN, Anas Malik Dohan; a.k.a. DOHAN, Anas Malik; a.k.a. MALIK, Anas), Baghdad, Iraq (individual) [IRAQ2]

DOHAN, Anas Malik (a.k.a. AL-HASSAN, Anas; a.k.a. AL-HASSAN, Anas Malik Dohan; a.k.a. DOHAN, Anas; a.k.a. MALIK, Anas), Baghdad, Iraq (individual) [IRAQ2]

DOHAN, Anas Malik (a.k.a. AL-HASSAN, Anas; a.k.a. AL-HASSAN, Anas Malik Dohan; a.k.a. DOHAN, Anas; a.k.a. MALIK, Anas), Jordan (individual) [IRAQ2]

DOHAN, Anas (a.k.a. AL-HASSAN, Anas; a.k.a. AL-HASSAN, Anas Malik Dohan; a.k.a. DOHAN, Anas Malik; a.k.a. MALIK, Anas), Jordan (individual) [IRAQ2]

DOMA E M (a.k.a. 2000 DOSE E.U.), Calle 31 No. 1-34, Cali, Colombia; NIT # 805015749-3 (Colombia) [SDNT]

DOMINGUEZ GARIBELLO, Freddy Orlando (a.k.a. DOMINGUEZ GARIVELLO, Freddy Orlando), c/o INDUSTRIA AVICOLA PALMASECA S.A., Cali, Colombia; DOB 25 Apr 1960; Cedula No. 16659634 (Colombia) (individual) [SDNT]

DOMINGUEZ GARIVELLO, Freddy Orlando (a.k.a. DOMINGUEZ GARIBELLO, Freddy Orlando), c/o INDUSTRIA AVICOLA PALMASECA S.A., Cali, Colombia; DOB 25 Apr 1960; Cedula No. 16659634 (Colombia) (individual) [SDNT]

DOMINGUEZ HERNANDEZ, Fernando Antonio, c/o DISMERCOOP, Cali, Colombia; DOB 7 Aug 1964; Cedula No. 16701778 (Colombia) (individual) [SDNT]

DOMINGUEZ, Carlos, Vinales Tours, Oaxaca 80, Roma, Mexico, D.F., Mexico (individual) [CUBA]

DOMINION INTERNATIONAL, United Kingdom [IRAQ2]

DONO MORALES, Edman Manuel, Privada Niza 3617 Int. 2, Colonia Playas de Tijuana, Tijuana, Baja California, Mexico; c/o GRUPO GAMAL, S.A. DE C.V., Guadalajara, Jalisco, Mexico; c/o GS PLUS CONSULTORES, S.A. DE C.V., Tijuana, Baja California, Mexico; DOB 20 Jul 1966; POB Guadalajara, Jalisco, Mexico (individual) [SDNTK]

DOOLEY, Michael P., Panama (individual) [CUBA]

DORDEVIC, Vlastimir (a.k.a. DJORDJEVIC, Vlastimir); DOB 1948; POB Koznica, Vladicin Han municipality (individual) [BALKANS]

DORNELES DE MENEZES, Francisco (a.k.a. VARGAS PERDOMO, Eugenio; a.k.a. “CARLOS BOLAS”); DOB 19 Nov 1969; POB Puerto Lopez, Meta, Colombia; Cedula No. 17344616 (Colombia) (individual) [SDNTK]

DOSEN, Damir; DOB 7 Apr 1967; POB Cirkin Polje, Bosnia-Herzegovina; ICTY indictee (individual) [BALKANS]

DOV (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

DR. KHAMIS (a.k.a. AL-MUHAMMAD, Khamis Sirhan); nationality Iraq; Ba'th party regional command chairman, Karbala (individual) [IRAQ2]

DRAGADOS Y MUELLES GAVIOTA LTDA., Km. 5 Carretera Simon Bolivar, Buenaventura, Colombia; NIT # 800173053-4 (Colombia) [SDNT]

DRISSI, Noureddine, Via Plebiscito 3, Cremona, Italy; DOB 30 Apr 1969; alt. DOB 30 Apr 1964; POB Tunisi, Tunisia; nationality Tunisia; Passport L851940 issued 9 Sep 1998 expires 8 Sep 2003; arrested 1 Apr 2003 (individual) [SDGT]

DROBLAM S.A. (a.k.a. LABORATORIOS Y COMERCIALIZADORA DE MEDICAMENTOS DROBLAM S.A.), Carrera 21 No. 13B-33, Cali, Colombia; NIT # 805014078-5 (Colombia) [SDNT]

DROCARD S.A., Calle 39 Bis A No. 27-16, Bogota, Colombia; Transversal 29 No. 39-92, Bogota, Colombia; NIT # 830059716-0 (Colombia) [SDNT]

DROFARCO (a.k.a. COOPERATIVA MULTIACTIVA DE COMERC. DROGUISTA Y FARMACEUTICA DROFARCO), Calle 110 No. 6-336, Barranquilla, Colombia; Metroparque Bodega Mz. 3, Barranquilla, Colombia; Via Circunvalar, Bodega M-A-3, Barranquilla, Colombia; NIT # 802012877-3 (Colombia) [SDNT]

DROGAS LA REBAJA (a.k.a. COOPERATIVA MULTIACTIVA DE EMPLEADOS DE DISTRIBUIDORES DE DROGAS COPSERVIR LTDA.; a.k.a. COPSERVIR LTDA.; f.k.a. DISTRIBUIDORA DE DROGAS LA REBAJA PRINCIPAL S.A.; f.k.a. DISTRIBUIDORA DE DROGAS LA REBAJA S.A.), Calle 4 No. 22-24, Bogota, Colombia; Carrera 66A No. 53-47 piso 3, Bogota, Colombia; Calle 18 No. 121-130 Avenida Canasgordas Pance, Cali, Colombia; Calle 10 No. 4-47 piso 19, Cali, Colombia; Calle 14 No. 6-66, Cali, Colombia; Carrera 7 No. 13-132 piso 4, Cali, Colombia; Carrera 7A No. 14-25 piso 2, Cali, Colombia; Carrera 10 No. 11-71, Cali, Colombia; Carrera 99 No. 46A-10 Bdg 6 y 8, Bogota, Colombia; NIT # 830011670-3 (Colombia) [SDNT]

DROGAS LA REBAJA BARRANQUILLA S.A., Local Cerete, Barranquilla, Colombia; Avenida Pedro Heredia, Barranquilla, Colombia; Local de Riohacha, Barranquilla, Colombia [SDNT]

DROGAS LA REBAJA BUCARAMANGA S.A., Local No. 2, Cucuta, Colombia; Local No. 1, Bucaramanga, Colombia; Local No. 1, Cucuta, Colombia; Local 201, Valledupar, Colombia; Local No. 6, Cucuta, Colombia; Local No. 7, Cucuta, Colombia; Local No. 9, Cucuta, Colombia [SDNT]

DROGAS LA REBAJA CALI S.A., Local Comuneros No. 20, Cali, Colombia; Barrio Siloe, Cali, Colombia; Calle 13 #6-85, Cali, Colombia; Calle 3 #4-02 B/Ventura, Cali, Colombia; Santander de Quilichao, Cali, Colombia; Local del Poblado No. 17, Cali, Colombia [SDNT]

DROGAS LA REBAJA NEIVA S.A., Neiva, Colombia [SDNT]

DROGAS LA REBAJA PASTO S.A., Calle 18 #26-40, Pasto, Colombia; Local No. 13, Puerto Asis, Colombia; Local No. 6, Pasto, Colombia [SDNT]

DROGAS LA REBAJA PEREIRA S.A., Local Dos Quebradas, Pereira, Colombia; Local Cajamarca, Pereira, Colombia; Local la Virginia, Pereira, Colombia; Local Santa Rosa de Cabal, Pereira, Colombia [SDNT]

DROGAS LA REBAJA (a.k.a. DISTRIBUIDORA DE DROGAS LA REBAJA PRINCIPAL S.A.; a.k.a. DISTRIBUIDORA DE DROGAS LA REBAJA S.A.), Carrera 7 13-132 piso 4, Cali, Colombia; Calle 10 No. 4-47 Piso 19, Cali, Colombia; Calle 18 121-130, Cali, Colombia; Calle 14 6-66, Cali, Colombia; Carrera 10 11-71, Cali, Colombia; Carrera 7A 14-25 piso 2, Cali, Colombia; Carrera 99 No. 46 A-10 Blg 6 y 8, Bogota, Colombia [SDNT]

DROGUERIA FARMAHOGAR (a.k.a. FARMAHOGAR; a.k.a. FARMAHOGAR COPSERVIR 19), Carrera 7 No. 118-38, Bogota, Colombia; Avenida 7 No. 118-46, Bogota, Colombia; NIT # 830011670-3 (Colombia) [SDNT]

DROMARCA Y CIA. S.C.S., Calle 39 Bis A No. 27-169, Bogota, Colombia; Calle 12B No. 28-58, Bogota, Colombia; NIT # 800225556-1 (Colombia) [SDNT]

DU, Yu Rong (a.k.a. CHAN, Shu Sang; a.k.a. CHAN, Shusang; a.k.a. CHEN, Bing Shen; a.k.a. CHEN, Bingshen; a.k.a. CHEN, Shu Sheng; a.k.a. CHEN, Shusheng; a.k.a. DU, Yurong; a.k.a. HU, Chi Shu; a.k.a. HU, Chishu; a.k.a. HUANG, Man Chi; a.k.a. HUANG, Manchi; a.k.a. WONG, Kam Kong; a.k.a. WONG, Kamkong; a.k.a. WONG, Moon Chi; a.k.a. WONG, Moonchi; a.k.a. WONG, Mun Chi; a.k.a. WONG, Munchi; a.k.a. WU, Chai Su; a.k.a. WU, Chaisu; a.k.a. ZHANG, Jiang Ping; a.k.a. ZHANG, Jiangping; a.k.a. “CHI BANG”), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

DU, Yurong (a.k.a. CHAN, Shu Sang; a.k.a. CHAN, Shusang; a.k.a. CHEN, Bing Shen; a.k.a. CHEN, Bingshen; a.k.a. CHEN, Shu Sheng; a.k.a. CHEN, Shusheng; a.k.a. DU, Yu Rong; a.k.a. HU, Chi Shu; a.k.a. HU, Chishu; a.k.a. HUANG, Man Chi; a.k.a. HUANG, Manchi; a.k.a. WONG, Kam Kong; a.k.a. WONG, Kamkong; a.k.a. WONG, Moon Chi; a.k.a. WONG, Moonchi; a.k.a. WONG, Mun Chi; a.k.a. WONG, Munchi; a.k.a. WU, Chai Su; a.k.a. WU, Chaisu; a.k.a. ZHANG, Jiang Ping; a.k.a. ZHANG, Jiangping; a.k.a. “CHI BANG”), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

DUARTE FAJARDO, Maria del Carmen, c/o MAGEN LTDA., Bogota, Colombia; DOB 12 Oct 1975; Cedula No. 63436645 (Colombia); Passport 63436645 (Colombia) (individual) [SDNT]

DUIKER FLATS FARM, Zimbabwe [ZIMBABWE]

DUL MATIN (a.k.a. ABDUL MARTIN; a.k.a. ABDUL MATIN; a.k.a. AMAR UMAR; a.k.a. AMAR USMAN; a.k.a. ANAR USMAN; a.k.a. DJOKO SUPRIYANTO; a.k.a. DULMATIN; a.k.a. JAK IMRON; a.k.a. MUKTAMAR; a.k.a. NOVARIANTO; a.k.a. PINTONO, Joko; a.k.a. PITONO, Joko; a.k.a. PITOYO, Joko; a.k.a. TOPEL); DOB 16 Jun 1970; alt. DOB 6 Jun 1970; POB Petarukan village, Pemalang, Central Java, Indonesia; nationality Indonesia (individual) [SDGT]

'DULE' (a.k.a. TADIC, Dusan 'Dusko'); DOB 1956; POB Cajnice, Bosnia-Herzegovina; ICTY indictee (individual) [BALKANS]

DULMATIN (a.k.a. ABDUL MARTIN; a.k.a. ABDUL MATIN; a.k.a. AMAR UMAR; a.k.a. AMAR USMAN; a.k.a. ANAR USMAN; a.k.a. DJOKO SUPRIYANTO; a.k.a. DUL MATIN; a.k.a. JAK IMRON; a.k.a. MUKTAMAR; a.k.a. NOVARIANTO; a.k.a. PINTONO, Joko; a.k.a. PITONO, Joko; a.k.a. PITOYO, Joko; a.k.a. TOPEL); DOB 16 Jun 1970; alt. DOB 6 Jun 1970; POB Petarukan village, Pemalang, Central Java, Indonesia; nationality Indonesia (individual) [SDGT]

DUMONT, Lionel (a.k.a. BROUGERE, Jacques; a.k.a. BRUGERE, Jacques; a.k.a. “ABOU HAMZA”; a.k.a. “ABOU HANZA”; a.k.a. “ABU KHAMZA”; a.k.a. “BILAL”; a.k.a. “BILAL KUMKAL”; a.k.a. “HAMZA”; a.k.a. “KOUMAL”; a.k.a. “LAJONEL DIMON”); DOB 21 Jan 1971; alt. DOB 19 Jan 1971; alt. DOB 29 Jan 1975; POB Roubaix, France (individual) [SDGT]

DUNBAR, Belle Y.; DOB 27 OCT 1967; alt. DOB 27 OCT 1963; Former Managing Director, Liberian Petroleum Refining Company (individual) [LIBERIA]

DUNBAR, Jenkins; DOB 10 JAN 1947; Former Minister of Lands, Mines, Energy of Liberia (individual) [LIBERIA]

DUQUE BOTERO, Jorge Alirio, Calle 5 No. 5A-49, Buenaventura, Colombia; c/o INDUSTRIA DE PESCA SOBRE EL PACIFICO S.A., Buenaventura, Colombia; DOB 4 Jun 1949; Cedula No. 6160843 (Colombia) (individual) [SDNT]

DUQUE CORREA, Francisco Javier, c/o ALMACAES S.A., Bogota, Colombia; c/o CORPORACION DE ALMACENES POR DEPARTAMENTOS S.A., Bogota, Colombia; c/o G.L.G. S.A., Bogota, Colombia; c/o RAMAL S.A., Bogota, Colombia; DOB 04 Apr 1948; POB Medellin, Colombia; Cedula No. 8292581 (Colombia); Passport P009253 (Colombia) (individual) [SDNT]

DUQUE DE GIRALDO, Maria Consuelo (a.k.a. DUQUE MARTINEZ, Maria Consuelo), c/o LABORATORIOS KRESSFOR DE COLOMBIA S.A., Bogota, Colombia; c/o FARMACOOP, Bogota, Colombia; DOB 19 May 1955; Cedula No. 41716296 (Colombia) (individual) [SDNT]

DUQUE GAVIRIA, Ivan Roberto (a.k.a. “ERNESTO BAEZ”); DOB 9 May 1955; POB Aguadas, Caldas, Colombia; Cedula No. 10241940 (Colombia) (individual) [SDNTK]

DUQUE MARTINEZ, Carmen Lucia, c/o COMEDICAMENTOS S.A., Bogota, Colombia; c/o GLAJAN S.A., Bogota, Colombia; c/o PATENTES MARCAS Y REGISTROS S.A., Bogota, Colombia; c/o FOGENSA S.A., Bogota, Colombia; DOB 16 Jul 1966; Cedula No. 51988916 (Colombia); Passport 51988916 (Colombia) (individual) [SDNT]

DUQUE MARTINEZ, Diego Fernando, c/o GENERICOS ESPECIALES S.A., Bogota, Colombia; DOB 31 Jan 1972; Cedula No. 8191760 (Colombia); Passport 8191760 (Colombia) (individual) [SDNT]

DUQUE MARTINEZ, Maria Consuelo (a.k.a. DUQUE DE GIRALDO, Maria Consuelo), c/o LABORATORIOS KRESSFOR DE COLOMBIA S.A., Bogota, Colombia; c/o FARMACOOP, Bogota, Colombia; DOB 19 May 1955; Cedula No. 41716296 (Colombia) (individual) [SDNT]

DUQUE, Carlos Jaen, Panama (individual) [CUBA]

DURAN DAZA, Diego, c/o COPSERVIR LTDA., Bogota, Colombia; c/o PROSALUD S.A. Y BIENESTAR S.A., Cali, Colombia; DOB 25 Oct 1958; Cedula No. 16260356 (Colombia); Passport 16260356 (Colombia) (individual) [SDNT]

DURAN RAMIREZ, Pompilio, Carrera 4 No. 12-20 of. 206, Cartago, Valle, Colombia; c/o AGRICOLA DOIMA DEL NORTE DEL VALLE LTDA., Cartago, Valle, Colombia; c/o GANADERIA EL VERGEL LTDA., Cartago, Valle, Colombia; c/o GANADERIAS BILBAO LTDA., Cartago, Valle, Colombia; c/o INMOBILIARIA EL ESCORIAL LTDA., Cartago, Valle, Colombia; c/o INMOBILIARIA LINARES LTDA., Cartago, Valle, Colombia; c/o INMOBILIARIA PASADENA LTDA., Cartago, Valle, Colombia; c/o ORGANIZACION LUIS HERNANDO GOMEZ BUSTAMANTE Y CIA. S.C.S., Cartago, Valle, Colombia; c/o VISCAYA LTDA., Cartago, Valle, Colombia; Cedula No. 2534945 (Colombia); Passport 2534945 (Colombia) (individual) [SDNT]

DURAND PROPERTIES LIMITED, Haven Court, 5 Library Ramp, Gibraltar, United Kingdom [IRAQ2]

DURGACO, London, United Kingdom [CUBA]

DURGUTI, Safet (a.k.a. “ABU-SUMAYA”); DOB 10 May 1967; POB Orahovac, Kosovo; Bosnian Personal ID No. 1005967953038; Passport 1144602 (Bosnia and Herzegovina) (individual) [SDGT]

DUTY FREE SHOPS CORPORATION, P.O. Box 1789, Khartoum, Sudan [SUDAN]

DWIKARNA, Agus; DOB 11 Aug 1964; POB Makassar, South Sulawesi, Indonesia; nationality Indonesia; currently incarcerated in the Philippines (individual) [SDGT]

DZEMIJETUL FURKAN (a.k.a. AL FURQAN; a.k.a. ASSOCIATION FOR CITIZENS RIGHTS AND RESISTANCE TO LIES; a.k.a. ASSOCIATION FOR EDUCATION, CULTURAL, AND TO CREATE SOCIETY—SIRAT; a.k.a. ASSOCIATION FOR EDUCATION, CULTURE AND BUILDING SOCIETY—SIRAT; a.k.a. ASSOCIATION OF CITIZENS FOR THE SUPPORT OF TRUTH AND SUPPRESSION OF LIES; a.k.a. DZEM'IJJETUL FURQAN; a.k.a. DZEMILIJATI FURKAN; a.k.a. IN SIRATEL; a.k.a. ISTIKAMET; a.k.a. SIRAT), Put Mladih Muslimana 30a, 71 000 Sarajevo, Bosnia and Herzegovina; ul. Strossmajerova 72, Zenica, Bosnia and Herzegovina; Muhameda Hadzijahica #42, Sarajevo, Bosnia and Herzegovina [SDGT]

DZEM'IJJETUL FURQAN (a.k.a. AL FURQAN; a.k.a. ASSOCIATION FOR CITIZENS RIGHTS AND RESISTANCE TO LIES; a.k.a. ASSOCIATION FOR EDUCATION, CULTURAL, AND TO CREATE SOCIETY—SIRAT; a.k.a. ASSOCIATION FOR EDUCATION, CULTURE AND BUILDING SOCIETY—SIRAT; a.k.a. ASSOCIATION OF CITIZENS FOR THE SUPPORT OF TRUTH AND SUPPRESSION OF LIES; a.k.a. DZEMIJETUL FURKAN; a.k.a. DZEMILIJATI FURKAN; a.k.a. IN SIRATEL; a.k.a. ISTIKAMET; a.k.a. SIRAT), Put Mladih Muslimana 30a, 71 000 Sarajevo, Bosnia and Herzegovina; ul. Strossmajerova 72, Zenica, Bosnia and Herzegovina; Muhameda Hadzijahica #42, Sarajevo, Bosnia and Herzegovina [SDGT]

DZEMILIJATI FURKAN (a.k.a. AL FURQAN; a.k.a. ASSOCIATION FOR CITIZENS RIGHTS AND RESISTANCE TO LIES; a.k.a. ASSOCIATION FOR EDUCATION, CULTURAL, AND TO CREATE SOCIETY—SIRAT; a.k.a. ASSOCIATION FOR EDUCATION, CULTURE AND BUILDING SOCIETY—SIRAT; a.k.a. ASSOCIATION OF CITIZENS FOR THE SUPPORT OF TRUTH AND SUPPRESSION OF LIES; a.k.a. DZEMIJETUL FURKAN; a.k.a. DZEM'IJJETUL FURQAN; a.k.a. IN SIRATEL; a.k.a. ISTIKAMET; a.k.a. SIRAT), Put Mladih Muslimana 30a, 71 000 Sarajevo, Bosnia and Herzegovina; ul. Strossmajerova 72, Zenica, Bosnia and Herzegovina; Muhameda Hadzijahica #42, Sarajevo, Bosnia and Herzegovina [SDGT]

DZHAMAAT MODZHAKHEDOV (a.k.a. AL-DJIHAD AL-ISLAMI; a.k.a. ISLAMIC JIHAD GROUP (IJG); a.k.a. ISLAMIC JIHAD GROUP OF UZBEKISTAN; a.k.a. JAMA'AT AL-JIHAD; a.k.a. JAMIAT AL-JIHAD AL-ISLAMI; a.k.a. JAMIYAT; a.k.a. THE JAMAAT MOJAHEDIN; a.k.a. THE KAZAKH JAMA'AT; a.k.a. THE LIBYAN SOCIETY) [FTO] [SDGT]

EAST ISLAND SHIPPING CO. LTD., c/o EMPRESA DE NAVEGACION MAMBISA, Apartado 543, San Ignacio 104, Havana, Cuba [CUBA]

EASTERN TURKISTAN ISLAMIC MOVEMENT (a.k.a. EASTERN TURKISTAN ISLAMIC PARTY; a.k.a. ETIM; a.k.a. ETIP) [SDGT]

EASTERN TURKISTAN ISLAMIC PARTY (a.k.a. EASTERN TURKISTAN ISLAMIC MOVEMENT; a.k.a. ETIM; a.k.a. ETIP) [SDGT]

EBRAHIM, Dawood (a.k.a. ANIS, Ibrahim Shaikh Mohd; a.k.a. AZIZ, Abdul Hamid Abdul; a.k.a. DILIP, Aziz; a.k.a. HASAN, Shaikh Daud; a.k.a. HASSAN, Dawood; a.k.a. IBRAHIM, Anis; a.k.a. IBRAHIM, Dawood; a.k.a. IBRAHIM, Dawood Sheik; a.k.a. KASKAR, Dawood Ibrahim; a.k.a. REHMAN, Shaikh Ismail Abdul; a.k.a. SABRI, Dawood; a.k.a. SAHEB, Amir; a.k.a. SETH, Iqbal), 617 CP Berar Society, Block 7-8, Karachi, Pakistan; House No. 37, Street 30, Phase V, Defence Housing Authority, Karachi, Pakistan; White House, Al-Wassal Road, Jumeira, Dubai, United Arab Emirates; 33-36, Pakmodiya Street, Haji Musafirkhana, Dongri, Bombay, India; House No. 10, Hill Top Arcade, Defence Housing Authority, Karachi, Pakistan; Moin Palace, 2nd Floor, Opp. Abdullah Shah Gazi Dargah, Clifton, Karachi, Pakistan; DOB 26 Dec 1955; alt. DOB 31 Dec 1955; POB Ratnagiri, Maharashtra, India; citizen India alt. United Arab Emirates; alt. Pakistan; nationality India; Passport A-717288 (United Arab Emirates) issued 18 Aug 1985; alt. Passport F-823692 (Yemen) issued 02 Sep 1989; alt. Passport G-869537 (Pakistan); alt. Passport G-866537 (Pakistan) issued 12 Aug 1991; alt. Passport V-57865 (India) issued 03 Oct 1983; alt. Passport K-560098 (India) issued 30 Jul 1975; alt. Passport P-537849 (India) issued 30 Jul 1979; alt. Passport A-501801 (India) issued 26 Jul 1985; alt. Passport A-333602 (India) issued 04 Jun 1985; alt. Passport R-841697 (India) issued 26 Nov 1981; alt. Passport M-110522 (India) issued 13 Nov 1978 (individual) [SDGT] [SDNTK]

ECHEBERRIA SIMARRO, Leire; DOB 20 Dec 1977; POB Basauri (Vizcaya Province), Spain; D.N.I. 45.625.646; member ETA (individual) [SDGT]

ECHEGARAY ACHIRICA, Alfonso; DOB 10 Jan 1958; POB Plencia (Vizcaya Province), Spain; D.N.I. 16.027.051; member ETA (individual) [SDGT]

ECHEVERRI HERRERA, Hernando (a.k.a. ECHEVERRY HERRERA, Hernando), c/o INDUSTRIA DE PESCA SOBRE EL PACIFICO S.A., Buenaventura, Colombia; Cedula No. 1625525 (Colombia) (individual) [SDNT]

ECHEVERRI, German, Panama (individual) [CUBA]

ECHEVERRY HERRERA, Hernando (a.k.a. ECHEVERRI HERRERA, Hernando), c/o INDUSTRIA DE PESCA SOBRE EL PACIFICO S.A., Buenaventura, Colombia; Cedula No. 1625525 (Colombia) (individual) [SDNT]

ECHEVERRY TRUJILLO, Martha Lucia, c/o REVISTA DEL AMERICA LTDA., Cali, Colombia; c/o CORPORACION DEPORTIVA AMERICA, Cali, Colombia; c/o M.O.C. ECHEVERRY HERMANOS LTDA., Cali, Colombia; c/o M C M Y CIA. LTDA., Cali, Colombia; DOB 8 Sep 1956; Cedula No. 31151067 (Colombia) (individual) [SDNT]

ECHEVERRY TRUJILLO, Oscar Alberto, Avenida 4N No. 17-23 piso 1, Cali, Colombia; Calle 43N No. 4-05, Cali, Colombia; c/o COLOR 89.5 FM STEREO, Cali, Colombia; c/o M.O.C. ECHEVERRY HERMANOS LTDA., Cali, Colombia; DOB 21 Oct 1964; Cedula No. 16272989 (Colombia) (individual) [SDNT]

ECIM, Ljuban; DOB 6 Jan 1964; POB Sviljanac, Bosnia-Herzegovina; National ID No. 601964100083 (Bosnia and Herzegovina) (individual) [BALKANS]

EDICIONES CUBANAS, Spain [CUBA]

EDIFICACIONES DEL CARIBE LTDA. (a.k.a. EDIFICAR), Calle 74 No. 53-30, Barranquilla, Colombia; NIT # 890108103-5 (Colombia) [SDNT]

EDIFICAR (a.k.a. EDIFICACIONES DEL CARIBE LTDA.), Calle 74 No. 53-30, Barranquilla, Colombia; NIT # 890108103-5 (Colombia) [SDNT]

EDRIS, Anwar Rodin (a.k.a. AL GHOZI, Fathur Rahman; a.k.a. AL GHOZI, Fathur Rohman; a.k.a. ALGHOZI, Fathur Rahman; a.k.a. AL-GHOZI, Fathur Rahman; a.k.a. ALGHOZI, Fathur Rohman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. JAMIL, Sammy Sali; a.k.a. JAMIL, Sammy Salih; a.k.a. RANDY, Alih; a.k.a. “ABU SA'AD”; a.k.a. “ABU SAAD”; a.k.a. “FREEDOM FIGHTER”); DOB 17 Feb 1971; POB Madiun, East Java, Indonesia; nationality Indonesia; Passport GG 672613 (Philippines) (individual) [SDGT]

EDYJU, S.A., Panama [CUBA]

EGGLETON, Wilfred, Baja California 255, Edificio B., Oficina 103, Condesa 06500, Mexico, D.F., Mexico; Director General, Cubanatur (individual) [CUBA]

EGP (a.k.a. EJERCITO GUERRILLERO POPULAR (PEOPLE'S GUERRILLA ARMY); a.k.a. EJERCITO POPULAR DE LIBERACION (PEOPLE'S LIBERATION ARMY); a.k.a. EPL; a.k.a. PARTIDO COMUNISTA DEL PERU (COMMUNIST PARTY OF PERU); a.k.a. PARTIDO COMUNISTA DEL PERU EN EL SENDERO LUMINOSO DE JOSE CARLOS MARIATEGUI (COMMUNIST PARTY OF PERU ON THE SHINING PATH OF JOSE CARLOS MARIATEGUI); a.k.a. PCP; a.k.a. SENDERO LUMINOSO; a.k.a. SHINING PATH; a.k.a. SL; a.k.a. SOCORRO POPULAR DEL PERU (PEOPLE'S AID OF PERU); a.k.a. SPP) [FTO] [SDGT]

EGYPTIAN AL-GAMA'AT AL-ISLAMIYYA (a.k.a. AL-GAMA'AT; a.k.a. GAMA'A AL-ISLAMIYYA; a.k.a. GI; a.k.a. IG; a.k.a. ISLAMIC GAMA'AT; a.k.a. ISLAMIC GROUP) [SDT] [FTO] [SDGT]

EGYPTIAN AL-JIHAD (a.k.a. AL-JIHAD; a.k.a. EGYPTIAN ISLAMIC JIHAD; a.k.a. JIHAD GROUP; a.k.a. NEW JIHAD) [SDT] [FTO] [SDGT]

EGYPTIAN AL-JIHAD (a.k.a. AL QAEDA; a.k.a. AL QA'IDA; a.k.a. AL QAIDA; a.k.a. AL-JIHAD; a.k.a. EGYPTIAN ISLAMIC JIHAD; a.k.a. INTERNATIONAL FRONT FOR FIGHTING JEWS AND CRUSADES; a.k.a. ISLAMIC ARMY; a.k.a. ISLAMIC ARMY FOR THE LIBERATION OF HOLY SITES; a.k.a. ISLAMIC SALVATION FOUNDATION; a.k.a. NEW JIHAD; a.k.a. “THE BASE”; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION) [FTO] [SDGT] [SDT]

EGYPTIAN ISLAMIC JIHAD (a.k.a. AL-JIHAD; a.k.a. EGYPTIAN AL-JIHAD; a.k.a. JIHAD GROUP; a.k.a. NEW JIHAD) [SDT] [FTO] [SDGT]

EGYPTIAN ISLAMIC JIHAD (a.k.a. AL QAEDA; a.k.a. AL QA'IDA; a.k.a. AL QAIDA; a.k.a. AL-JIHAD; a.k.a. EGYPTIAN AL-JIHAD; a.k.a. INTERNATIONAL FRONT FOR FIGHTING JEWS AND CRUSADES; a.k.a. ISLAMIC ARMY; a.k.a. ISLAMIC ARMY FOR THE LIBERATION OF HOLY SITES; a.k.a. ISLAMIC SALVATION FOUNDATION; a.k.a. NEW JIHAD; a.k.a. “THE BASE”; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION) [FTO] [SDGT] [SDT]

EIRIN FARM, Marondera, Zimbabwe [ZIMBABWE]

EJERCITO DE LIBERACION NACIONAL (a.k.a. ELN; a.k.a. NATIONAL LIBERATION ARMY) [FTO] [SDGT]

EJERCITO GUERRILLERO POPULAR (PEOPLE'S GUERRILLA ARMY) (a.k.a. EGP; a.k.a. EJERCITO POPULAR DE LIBERACION (PEOPLE'S LIBERATION ARMY); a.k.a. EPL; a.k.a. PARTIDO COMUNISTA DEL PERU (COMMUNIST PARTY OF PERU); a.k.a. PARTIDO COMUNISTA DEL PERU EN EL SENDERO LUMINOSO DE JOSE CARLOS MARIATEGUI (COMMUNIST PARTY OF PERU ON THE SHINING PATH OF JOSE CARLOS MARIATEGUI); a.k.a. PCP; a.k.a. SENDERO LUMINOSO; a.k.a. SHINING PATH; a.k.a. SL; a.k.a. SOCORRO POPULAR DEL PERU (PEOPLE'S AID OF PERU); a.k.a. SPP) [FTO] [SDGT]

EJERCITO POPULAR DE LIBERACION (PEOPLE'S LIBERATION ARMY) (a.k.a. EGP; a.k.a. EJERCITO GUERRILLERO POPULAR (PEOPLE'S GUERRILLA ARMY); a.k.a. EPL; a.k.a. PARTIDO COMUNISTA DEL PERU (COMMUNIST PARTY OF PERU); a.k.a. PARTIDO COMUNISTA DEL PERU EN EL SENDERO LUMINOSO DE JOSE CARLOS MARIATEGUI (COMMUNIST PARTY OF PERU ON THE SHINING PATH OF JOSE CARLOS MARIATEGUI); a.k.a. PCP; a.k.a. SENDERO LUMINOSO; a.k.a. SHINING PATH; a.k.a. SL; a.k.a. SOCORRO POPULAR DEL PERU (PEOPLE'S AID OF PERU); a.k.a. SPP) [FTO] [SDGT]

EKIN (a.k.a. ASKATASUNA; a.k.a. BASQUE FATHERLAND AND LIBERTY; a.k.a. BATASUNA; a.k.a. EPANASTATIKI PIRINES; a.k.a. ETA; a.k.a. EUSKAL HERRITARROK; a.k.a. EUZKADI TA ASKATASUNA; a.k.a. HERRI BATASUNA; a.k.a. JARRAI-HAIKA-SEGI; a.k.a. K.A.S.; a.k.a. POPULAR REVOLUTIONARY STRUGGLE; a.k.a. XAKI) [FTO] [SDGT]

EL AMIN EL GEZAI COMPANY (a.k.a. AMIN EL GEZAI COMPANY), Khartoum, Sudan [SUDAN]

EL AYASHI, Radi Abd El Samie Abou El Yazid (a.k.a. “MERA'I”), Via Cilea 40, Milan, Italy; DOB 2 Jan 1972; POB El Gharbia, Egypt; nationality Egypt; arrested 31 Mar 2003 (individual) [SDGT]

EL BOUHALI, Ahmed (a.k.a. ABU KATADA), vicolo S. Rocco, n. 10 -Casalbuttano, Cremona, Italy; DOB 31 May 1963; POB Sidi Kacem, Morocco; nationality Morocco; Italian Fiscal Code LBHHMD63E31Z330M (individual) [SDGT]

EL GEZIRA AUTOMOBILE COMPANY (a.k.a. GEZIRA AUTOMOBILE COMPANY), P.O. Box 232, Khartoum, Sudan [SUDAN]

EL GRUPO CUBANACAN (a.k.a. CUBANACAN; a.k.a. CUBANACAN GROUP), Calle 68 e/5ta A, Apartado 16046, Ciudad de La Habana, Cuba [CUBA]

EL HADI, Mustapha Nasri Ait; DOB 5 Mar 1962; POB Tunis, Tunisia; nationality Algeria alt. Germany (individual) [SDGT]

EL HASSAN, Gaffar Mohmed (a.k.a. “EL HASSAN, Gaffar Mohamed”); DOB 24 Jun 1952; POB Khartoum, Sudan; Major General for the Sudan Armed Forces (individual) [SUDAN]

EL HEIT, Ali (a.k.a. KAMEL, Mohamed; a.k.a. “ALI DI ROMA”), Via D. Fringuello, 20, Rome, Italy; Milan, Italy; DOB 20 Mar 1970; alt. DOB 30 Jan 1971; POB Rouba, Algeria (individual) [SDGT]

EL KHABIR, Abu Hafs el Masry (a.k.a. ABDULLAH, Sheikh Taysir; a.k.a. ABU HAFS; a.k.a. ABU SITTA, Subhi; a.k.a. AL-MASRI, Abu Hafs; a.k.a. ATEF, Muhammad; a.k.a. ATIF, Mohamed; a.k.a. ATIF, Muhammad; a.k.a. TAYSIR); DOB 1951; alt. DOB 1956; alt. DOB 1944; POB Alexandria, Egypt (individual) [SDT] [SDGT]

EL MAHFOUDI, Mohamed, via Puglia, n. 22, Gallarate, Varese, Italy; DOB 24 Sept 1964; POB Agadir, Morocco; Italian Fiscal Code LMHMMD64P24Z330F; Residence, Agadir, Morocco (individual) [SDGT]

EL MOTASSADEQ, Mounir, Goschenstasse 13, Hamburg 21073, Germany; DOB 3 Apr 1974; POB Marrakesh, Morocco; nationality Morocco (individual) [SDGT]

EL NILEIN BANK (n.k.a. EL NILEIN INDUSTRIAL DEVELOPMENT BANK (SUDAN); n.k.a. EL NILEIN INDUSTRIAL DEVELOPMENT BANK GROUP; n.k.a. NILEIN INDUSTRIAL DEVELOPMENT BANK (SUDAN)), Parliament Street, P.O. Box 466, Khartoum, Sudan; P.O. Box 6013, Abu Dhabi City, United Arab Emirates; P.O. Box 466/1722, United Nations Square, Khartoum, Sudan [SUDAN]

EL NILEIN INDUSTRIAL DEVELOPMENT BANK (SUDAN) (a.k.a. EL NILEIN BANK; n.k.a. EL NILEIN INDUSTRIAL DEVELOPMENT BANK GROUP; n.k.a. NILEIN INDUSTRIAL DEVELOPMENT BANK (SUDAN)), Parliament Street, P.O. Box 466, Khartoum, Sudan; P.O. Box 6013, Abu Dhabi City, United Arab Emirates; P.O. Box 466/1722, United Nations Square, Khartoum, Sudan [SUDAN]

EL NILEIN INDUSTRIAL DEVELOPMENT BANK GROUP (a.k.a. EL NILEIN BANK; n.k.a. EL NILEIN INDUSTRIAL DEVELOPMENT BANK (SUDAN); n.k.a. NILEIN INDUSTRIAL DEVELOPMENT BANK (SUDAN)), Parliament Street, P.O. Box 466, Khartoum, Sudan; P.O. Box 6013, Abu Dhabi City, United Arab Emirates; P.O. Box 466/1722, United Nations Square, Khartoum, Sudan [SUDAN]

EL PASO LTDA. (a.k.a. MIRALUNA LTDA.), Carrera 4 No. 12-41 of. 1403, 1501, Cali, Colombia; NIT # 890328836-9 (Colombia) [SDNT]

EL TAKA AUTOMOBILE COMPANY (a.k.a. TAKA AUTOMOBILE COMPANY), P.O. Box 221, Khartoum, Sudan [SUDAN]

ELA (a.k.a. EPANASTATIKOS LAIKOS AGONAS; a.k.a. JUNE 78; a.k.a. LIBERATION STRUGGLE; a.k.a. ORGANIZATION OF REVOLUTIONARY INTERNATIONALIST SOLIDARITY; a.k.a. POPULAR REVOLUTIONARY STRUGGLE; a.k.a. REVOLUTIONARY CELLS; a.k.a. REVOLUTIONARY NUCLEI; a.k.a. REVOLUTIONARY PEOPLE'S STRUGGLE; a.k.a. REVOLUTIONARY POPULAR STRUGGLE) [FTO] [SDGT]

EL-AHOUAL BATTALION (a.k.a. DHAMAT HOUMET DAAWA SALAFIA; a.k.a. DJAMAAT HOUMAT ED DAAWA ES SALAFIYA; a.k.a. DJAMAAT HOUMAT ED DAWA ESSALAFIA; a.k.a. DJAMAATT HOUMAT ED DAAWA ES SALAFIYA; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

EL-AICH, Dhou (a.k.a. “ABDEL HAK”); DOB 5 Aug 1964; POB Debila, Algeria (individual) [SDGT]

ELBISHY, Moustafa Ali (a.k.a. AL MASRI, Abd Al Wakil; a.k.a. ALI, Hassan; a.k.a. AL-NUBI, Abu; a.k.a. ANIS, Abu; a.k.a. FADHIL, Mustafa Mohamed; a.k.a. FADIL, Mustafa Muhamad; a.k.a. FAZUL, Mustafa; a.k.a. HUSSEIN; a.k.a. JIHAD, Abu; a.k.a. KHALID; a.k.a. MAN, Nu; a.k.a. MOHAMMED, Mustafa; a.k.a. YUSSRR, Abu); DOB 23 Jun 1976; POB Cairo, Egypt; citizen Egypt alt. Kenya; Kenyan ID No. 12773667; Serial No. 201735161 (individual) [SDGT]

ELCORO AYASTUY, Paulo; DOB 22 Oct 1973; POB Vergara, Guipuzcoa Province, Spain; D.N.I. 15.394.062 (Spain); Member ETA (individual) [SDGT]

ELEHSSAN (a.k.a. AL-AHSAN CHARITABLE ORGANIZATION; a.k.a. AL-BAR AND AL-IHSAN SOCIETIES; a.k.a. AL-BAR AND AL-IHSAN SOCIETY; a.k.a. AL-BIR AND AL-IHSAN ORGANIZATION; a.k.a. AL-BIRR WA AL-IHSAN CHARITY ASSOCIATION; a.k.a. AL-BIRR WA AL-IHSAN WA AL-NAQA; a.k.a. AL-IHSAN CHARITABLE SOCIETY; a.k.a. BIR WA ELEHSSAN SOCIETY; a.k.a. BIRR AND ELEHSSAN SOCIETY; a.k.a. ELEHSSAN SOCIETY; a.k.a. ELEHSSAN SOCIETY AND BIRR; a.k.a. ELEHSSAN SOCIETY WA BIRR; a.k.a. IHSAN CHARITY; a.k.a. JAMI'A AL-AHSAN AL-KHAYRIYYAH; a.k.a. THE BENEVOLENT CHARITABLE ORGANIZATION), Bethlehem, West Bank, Palestinian; AL-MUZANNAR ST, AL-NASIR AREA, Gaza City, Gaza, Palestinian; Jenin, West Bank, Palestinian; Ramallah, West Bank, Palestinian; Tulkarm, West Bank, Palestinian; Lebanon; P.O. BOX 398, Hebron, West Bank, Palestinian [SDGT]

ELEHSSAN SOCIETY (a.k.a. AL-AHSAN CHARITABLE ORGANIZATION; a.k.a. AL-BAR AND AL-IHSAN SOCIETIES; a.k.a. AL-BAR AND AL-IHSAN SOCIETY; a.k.a. AL-BIR AND AL-IHSAN ORGANIZATION; a.k.a. AL-BIRR WA AL-IHSAN CHARITY ASSOCIATION; a.k.a. AL-BIRR WA AL-IHSAN WA AL-NAQA; a.k.a. AL-IHSAN CHARITABLE SOCIETY; a.k.a. BIR WA ELEHSSAN SOCIETY; a.k.a. BIRR AND ELEHSSAN SOCIETY; a.k.a. ELEHSSAN; a.k.a. ELEHSSAN SOCIETY AND BIRR; a.k.a. ELEHSSAN SOCIETY WA BIRR; a.k.a. IHSAN CHARITY; a.k.a. JAMI'A AL-AHSAN AL-KHAYRIYYAH; a.k.a. THE BENEVOLENT CHARITABLE ORGANIZATION), Bethlehem, West Bank, Palestinian; AL-MUZANNAR ST, AL-NASIR AREA, Gaza City, Gaza, Palestinian; Jenin, West Bank, Palestinian; Ramallah, West Bank, Palestinian; Tulkarm, West Bank, Palestinian; Lebanon; P.O. BOX 398, Hebron, West Bank, Palestinian [SDGT]

ELEHSSAN SOCIETY AND BIRR (a.k.a. AL-AHSAN CHARITABLE ORGANIZATION; a.k.a. AL-BAR AND AL-IHSAN SOCIETIES; a.k.a. AL-BAR AND AL-IHSAN SOCIETY; a.k.a. AL-BIR AND AL-IHSAN ORGANIZATION; a.k.a. AL-BIRR WA AL-IHSAN CHARITY ASSOCIATION; a.k.a. AL-BIRR WA AL-IHSAN WA AL-NAQA; a.k.a. AL-IHSAN CHARITABLE SOCIETY; a.k.a. BIR WA ELEHSSAN SOCIETY; a.k.a. BIRR AND ELEHSSAN SOCIETY; a.k.a. ELEHSSAN; a.k.a. ELEHSSAN SOCIETY; a.k.a. ELEHSSAN SOCIETY WA BIRR; a.k.a. IHSAN CHARITY; a.k.a. JAMI'A AL-AHSAN AL-KHAYRIYYAH; a.k.a. THE BENEVOLENT CHARITABLE ORGANIZATION), Bethlehem, West Bank, Palestinian; AL-MUZANNAR ST, AL-NASIR AREA, Gaza City, Gaza, Palestinian; Jenin, West Bank, Palestinian; Ramallah, West Bank, Palestinian; Tulkarm, West Bank, Palestinian; Lebanon; P.O. BOX 398, Hebron, West Bank, Palestinian [SDGT]

ELEHSSAN SOCIETY WA BIRR (a.k.a. AL-AHSAN CHARITABLE ORGANIZATION; a.k.a. AL-BAR AND AL-IHSAN SOCIETIES; a.k.a. AL-BAR AND AL-IHSAN SOCIETY; a.k.a. AL-BIR AND AL-IHSAN ORGANIZATION; a.k.a. AL-BIRR WA AL-IHSAN CHARITY ASSOCIATION; a.k.a. AL-BIRR WA AL-IHSAN WA AL-NAQA; a.k.a. AL-IHSAN CHARITABLE SOCIETY; a.k.a. BIR WA ELEHSSAN SOCIETY; a.k.a. BIRR AND ELEHSSAN SOCIETY; a.k.a. ELEHSSAN; a.k.a. ELEHSSAN SOCIETY; a.k.a. ELEHSSAN SOCIETY AND BIRR; a.k.a. IHSAN CHARITY; a.k.a. JAMI'A AL-AHSAN AL-KHAYRIYYAH; a.k.a. THE BENEVOLENT CHARITABLE ORGANIZATION), Bethlehem, West Bank, Palestinian; AL-MUZANNAR ST, AL-NASIR AREA, Gaza City, Gaza, Palestinian; Jenin, West Bank, Palestinian; Ramallah, West Bank, Palestinian; Tulkarm, West Bank, Palestinian; Lebanon; P.O. BOX 398, Hebron, West Bank, Palestinian [SDGT]

EL-HOORIE, Ali Saed Bin Ali (a.k.a. AL-HOURI, Ali Saed Bin Ali; a.k.a. EL-HOURI, Ali Saed Bin Ali); DOB 10 Jul 1965; alt. DOB 11 Jul 1965; POB El Dibabiya, Saudi Arabia; citizen Saudi Arabia (individual) [SDGT]

EL-HOURI, Ali Saed Bin Ali (a.k.a. AL-HOURI, Ali Saed Bin Ali; a.k.a. EL-HOORIE, Ali Saed Bin Ali); DOB 10 Jul 1965; alt. DOB 11 Jul 1965; POB El Dibabiya, Saudi Arabia; citizen Saudi Arabia (individual) [SDGT]

ELIZABETH OVERSEAS INC., Panama City, Panama; C.R. No. 194798/21722 (Panama); RUC # 2172202194798 (Panama) [SDNT]

ELLALAN FORCE (a.k.a. LIBERATION TIGERS OF TAMIL EELAM; a.k.a. LTTE; a.k.a. TAMIL TIGERS) [FTO] [SDGT]

ELN (a.k.a. EJERCITO DE LIBERACION NACIONAL; a.k.a. NATIONAL LIBERATION ARMY) [FTO] [SDGT]

ELSHANI, Gafur; DOB 29 Mar 1958; POB Suva Reka, Serbia and Montenegro (individual) [BALKANS]

ELSSEID, Sami Ben Khamis Ben Saleh (a.k.a. ESSID, Sami Ben Khemais), Via Dubini n.3, Gallarate (VA), Italy; DOB 10 Feb 1968; POB Tunisia; nationality Tunisia; Italian Fiscal Code SSDSBN68B10Z352F; Passport K929139 issued 14 Feb 1995 expires 13 Feb 2000 (individual) [SDGT]

EMAN, Adam Ramsey (a.k.a. AL-MASRI, Abu Hamza; a.k.a. AL-MISRI, Abu Hamza; a.k.a. KAMEL, Mustafa; a.k.a. MUSTAFA, Mustafa Kamel), 9 Albourne Road, Shepherds Bush, London W12 OLW, United Kingdom; 8 Adie Road, Hammersmith, London W6 OPW, United Kingdom; DOB 15 Apr 1958 (individual) [SDGT]

EMIRATES AND SUDAN INVESTMENT COMPANY LIMITED, P.O. Box 7036, Khartoum, Sudan; Port Sudan, Sudan [SUDAN]

EMPRESA CUBANA DE AVIACION (a.k.a. CUBANA AIRLINES), 24 Rue Du Quatre Septembre, Paris, France [CUBA]

EMPRESA CUBANA DE AVIACION (a.k.a. CUBANA AIRLINES), Belas Airport, Luanda, Angola [CUBA]

EMPRESA CUBANA DE AVIACION (a.k.a. CUBANA AIRLINES), Dobrininskaya No. 7, Sec 5, Moscow, Russia [CUBA]

EMPRESA CUBANA DE AVIACION (a.k.a. CUBANA AIRLINES), Corrientes 545 Primer Piso, Buenos Aires, Argentina [CUBA]

EMPRESA CUBANA DE AVIACION (a.k.a. CUBANA AIRLINES), Frankfurter TOR 8-A, Berlin, Germany [CUBA]

EMPRESA CUBANA DE AVIACION (a.k.a. CUBANA AIRLINES), 1 Place Ville Marie, Suite 3431, Montreal, Canada [CUBA]

EMPRESA CUBANA DE AVIACION (a.k.a. CUBANA AIRLINES), Parizska 17, Prague, Czech Republic [CUBA]

EMPRESA CUBANA DE AVIACION (a.k.a. CUBANA AIRLINES), Paseo de la Republica 126, Lima, Peru [CUBA]

EMPRESA CUBANA DE AVIACION (a.k.a. CUBANA AIRLINES), Piarco Airport, Port au Prince, Haiti [CUBA]

EMPRESA CUBANA DE AVIACION (a.k.a. CUBANA AIRLINES), c/o Anglo-Caribbean Shipping Co. Ltd., Ibex House, The Minories, London EC3N 1DY, United Kingdom [CUBA]

EMPRESA CUBANA DE AVIACION (a.k.a. CUBANA AIRLINES), Norman Manley International Airport, Kingston, Jamaica [CUBA]

EMPRESA CUBANA DE AVIACION (a.k.a. CUBANA AIRLINES), Melchor Ocampo 469, 5DF Mexico City, Mexico [CUBA]

EMPRESA CUBANA DE AVIACION (a.k.a. CUBANA AIRLINES), Calle 29 y Avda Justo Arosemena, Panama City, Panama [CUBA]

EMPRESA CUBANA DE AVIACION (a.k.a. CUBANA AIRLINES), Grantley Adams Airport, Christ Church, Barbados [CUBA]

EMPRESA CUBANA DE AVIACION (a.k.a. CUBANA AIRLINES), Madrid, Spain [CUBA]

EMPRESA CUBANA DE AVIACION (a.k.a. CUBANA AIRLINES), 32 Main Street, Georgetown, Guyana [CUBA]

EMPRESA CUBANA DE PESCADOS Y MARISCOS (a.k.a. CARIBBEAN EXPORT ENTERPRISE; a.k.a. CARIBEX), Paris, France [CUBA]

EMPRESA CUBANA DE PESCADOS Y MARISCOS (a.k.a. CARIBBEAN EXPORT ENTERPRISE; a.k.a. CARIBEX), Milan, Italy [CUBA]

EMPRESA CUBANA DE PESCADOS Y MARISCOS (a.k.a. CARIBBEAN EXPORT ENTERPRISE; a.k.a. CARIBEX), Moscow, Russia [CUBA]

EMPRESA CUBANA DE PESCADOS Y MARISCOS (a.k.a. CARIBBEAN EXPORT ENTERPRISE; a.k.a. CARIBEX), Madrid, Spain [CUBA]

EMPRESA CUBANA DE PESCADOS Y MARISCOS (a.k.a. CARIBBEAN EXPORT ENTERPRISE; a.k.a. CARIBEX), Cologne, Germany [CUBA]

EMPRESA CUBANA DE PESCADOS Y MARISCOS (a.k.a. CARIBBEAN EXPORT ENTERPRISE; a.k.a. CARIBEX), Downsview, Ontario, Canada [CUBA]

EMPRESA CUBANA DE PESCADOS Y MARISCOS (a.k.a. CARIBBEAN EXPORT ENTERPRISE; a.k.a. CARIBEX), Tokyo, Japan [CUBA]

EMPRESA DE TURISMO NACIONAL Y INTERNACIONAL (a.k.a. CUBATUR), Buenos Aires, Argentina [CUBA]

ENDSHIRE EXPORT MARKETING, United Kingdom [IRAQ2]

ENERGY NOVIN (a.k.a. NOVEEN ENERGY COMPANY; a.k.a. NOVIN ENERGY COMPANY), End of North Karegar Avenue, Tehran, Iran [NPWMD]

ENGINEERING EQUIPMENT COMPANY, C/O ENGINEERING EQUIPMENT CORPORATION, P.O. Box 97, Khartoum, Sudan [SUDAN]

ENGINEERING EQUIPMENT CORPORATION, P.O. Box 97, Khartoum, Sudan [SUDAN]

EPAMAC SHIPPING CO. LTD., c/o EMPRESA DE NAVEGACION MAMBISA, Apartado 543, San Ignacio 104, Havana, Cuba [CUBA]

EPANASTATIKI ORGANOSI 17 NOEMVRI (a.k.a. 17 NOVEMBER; a.k.a. REVOLUTIONARY ORGANIZATION 17 NOVEMBER) [FTO] [SDGT]

EPANASTATIKI PIRINES (a.k.a. ASKATASUNA; a.k.a. BASQUE FATHERLAND AND LIBERTY; a.k.a. BATASUNA; a.k.a. EKIN; a.k.a. ETA; a.k.a. EUSKAL HERRITARROK; a.k.a. EUZKADI TA ASKATASUNA; a.k.a. HERRI BATASUNA; a.k.a. JARRAI-HAIKA-SEGI; a.k.a. K.A.S.; a.k.a. POPULAR REVOLUTIONARY STRUGGLE; a.k.a. XAKI) [FTO] [SDGT]

EPANASTATIKOS LAIKOS AGONAS (a.k.a. ELA; a.k.a. JUNE 78; a.k.a. LIBERATION STRUGGLE; a.k.a. ORGANIZATION OF REVOLUTIONARY INTERNATIONALIST SOLIDARITY; a.k.a. POPULAR REVOLUTIONARY STRUGGLE; a.k.a. REVOLUTIONARY CELLS; a.k.a. REVOLUTIONARY NUCLEI; a.k.a. REVOLUTIONARY PEOPLE'S STRUGGLE; a.k.a. REVOLUTIONARY POPULAR STRUGGLE) [FTO] [SDGT]

EPL (a.k.a. EGP; a.k.a. EJERCITO GUERRILLERO POPULAR (PEOPLE'S GUERRILLA ARMY); a.k.a. EJERCITO POPULAR DE LIBERACION (PEOPLE'S LIBERATION ARMY); a.k.a. PARTIDO COMUNISTA DEL PERU (COMMUNIST PARTY OF PERU); a.k.a. PARTIDO COMUNISTA DEL PERU EN EL SENDERO LUMINOSO DE JOSE CARLOS MARIATEGUI (COMMUNIST PARTY OF PERU ON THE SHINING PATH OF JOSE CARLOS MARIATEGUI); a.k.a. PCP; a.k.a. SENDERO LUMINOSO; a.k.a. SHINING PATH; a.k.a. SL; a.k.a. SOCORRO POPULAR DEL PERU (PEOPLE'S AID OF PERU); a.k.a. SPP) [FTO] [SDGT]

ES SAYED, Abdelkader Mahmoud (a.k.a. ES SAYED, Kader), Via del Fosso di Centocelle n.66, Roma, Italy; DOB 26 Dec 1962; POB Egypt; Italian Fiscal Code SSYBLK62T26Z336L (individual) [SDGT]

ES SAYED, Kader (a.k.a. ES SAYED, Abdelkader Mahmoud), Via del Fosso di Centocelle n.66, Roma, Italy; DOB 26 Dec 1962; POB Egypt; Italian Fiscal Code SSYBLK62T26Z336L (individual) [SDGT]

ESCALANTE CARROLL, Enrique Jose, c/o CAJA SOLIDARIA, Bogota, Colombia; c/o COPSERVIR LTDA., Bogota, Colombia; c/o FARMAVISION LTDA., Bogota, Colombia; Transv. 74 No. 10-14, Bogota, Colombia; Cedula No. 72170764 (Colombia) (individual) [SDNT]

ESCALONA, Victor Julio, c/o C A V J CORPORATION LTDA., Bogota, Colombia; c/o C.A. V.J. CORPORATION, Barquisimeto, Lara, Venezuela; c/o VOL PHARMACYA LTDA., Cucuta, Colombia; C.I.N. 7353289 (Venezuela); Passport A0229910 (Venezuela) (individual) [SDNT]

ESCOBAR BUITRAGO, Walter, c/o INMOBILIARIA BOLIVAR LTDA., Cali, Colombia; c/o SERVIAUTOS UNO A 1A LIMITADA, Cali, Colombia; DOB 8 Feb 1971; Cedula No. 16785833 (Colombia); Passport AD254557 (Colombia) (individual) [SDNT]

ESCOBEDO MORALES, Sandra Angelica, c/o CENTRO CAMBIARIO KINO, S.A. DE C.V., Tijuana, Baja California, Mexico; c/o CONSULTORIA DE INTERDIVISAS, S.A. DE C.V., Tijuana, Baja California, Mexico; c/o MULTISERVICIOS ALPHA, S.A. DE C.V., Tijuana, Baja California, Mexico; DOB 25 Dec 1966; POB Guadalajara, Jalisco, Mexico (individual) [SDNTK]

ESPANA CUELLAR, Irlena, c/o COLPHAR S.A., Bogota, Colombia; DOB 28 Feb 1965; Cedula No. 40764759 (Colombia); Passport 40764759 (Colombia) (individual) [SDNT]

ESPARRAGOZA MORENO, Juan Jose, Calle 8 8988, Colonia Zona Este, Tijuana, Baja California CP 22000, Mexico; Avenida Los Angeles No. 5183, Colonia Las Palmas, Tijuana, Baja California CP 22440, Mexico; Calle Colima 2316, Colonia Francisco I. Madero, Tijuana, Baja California CP 22150, Mexico; Cjon. Quintana Roo 8220, Colonia Zona Este, Tijuana, Baja California, Mexico; Predio Rustico en Km. 42-43 de la Carretera, Tijuana-Ensenada, Baja California, Mexico; DOB 3 Feb 1949; alt. DOB 2 Mar 1949; POB Chuicopa, Sinaloa, Mexico (individual) [SDNTK]

ESPIBENA COMERCIALIZADORA DE MEDICAMENTOS GENERICOS S.A. (a.k.a. ESPIBENA S.A.), Luis Cordero 1154 y Juan Leon Mera, Edificio Gabriela Mistral, Quito, Ecuador; RUC # 1791706420001 (Ecuador) [SDNT]

ESPIBENA S.A. (a.k.a. ESPIBENA COMERCIALIZADORA DE MEDICAMENTOS GENERICOS S.A.), Luis Cordero 1154 y Juan Leon Mera, Edificio Gabriela Mistral, Quito, Ecuador; RUC # 1791706420001 (Ecuador) [SDNT]

ESPINOSA DE ARIAS, Gladys, c/o ARIAS ESPINOSA ARIES S.A., Bogota, Colombia; c/o EXCIPIENTES FARMACEUTICOS EXCIPHARMA S.A., Bogota, Colombia; c/o INVERSIONES ASE LTDA., Bogota, Colombia; Cedula No. 41683460 (Colombia) (individual) [SDNT]

ESPITIA PERILLA, Ruben Nowerfaby, c/o ADMACOOP, Bogota, Colombia; c/o DROMARCA Y CIA. S.C.S., Bogota, Colombia; c/o LABORATORIOS KRESSFOR DE COLOMBIA S.A., Bogota, Colombia; Cedula No. 79280623 (Colombia) (individual) [SDNT]

ESQUIVEL PENA, William, c/o UNIPAPEL S.A., Cali, Colombia; c/o BANANERA AGRICOLA S.A., Santa Marta, Colombia; c/o J. FREDDY MAFLA Y CIA. S.C.S., Cali, Colombia; Cedula No. 16641631 (Colombia); Passport 16641631 (Colombia) (individual) [SDNT]

ESSAADI, Moussa Ben Amor (a.k.a. “ABDELRAHMMAN”; a.k.a. “BECHIR”; a.k.a. “DAH DAH”), Via Milano n.108, Brescia, Italy; DOB 4 Dec 1964; POB Tabarka, Tunisia; nationality Tunisia; Passport L335915 issued 8 Nov 1996 expires 7 Nov 2001 (individual) [SDGT]

ESSABAR, Zakariya (a.k.a. ESSABAR, Zakarya), Dortmunder Strasse 38, Hamburg 22419, Germany; DOB 13 Apr 1977; alt. DOB 3 Apr 1977; POB Essaouria, Morocco (individual) [SDGT]

ESSABAR, Zakarya (a.k.a. ESSABAR, Zakariya), Dortmunder Strasse 38, Hamburg 22419, Germany; DOB 13 Apr 1977; alt. DOB 3 Apr 1977; POB Essaouria, Morocco (individual) [SDGT]

ESSID, Sami Ben Khemais (a.k.a. ELSSEID, Sami Ben Khamis Ben Saleh), Via Dubini n.3, Gallarate (VA), Italy; DOB 10 Feb 1968; POB Tunisia; nationality Tunisia; Italian Fiscal Code SSDSBN68B10Z352F; Passport K929139 issued 14 Feb 1995 expires 13 Feb 2000 (individual) [SDGT]

ESTELA ELVIRA, Adrian Fernando, c/o COOPERATIVA MULTIACTIVA DE COLOMBIA FOMENTAMOS, Bogota, Colombia; c/o COPSERVIR LTDA., Bogota, Colombia; DOB 10 Apr 1968; Cedula No. 76306726 (Colombia); Passport 76306726 (Colombia) (individual) [SDNT]

ESTRADA RAMIREZ, Jose Arnoldo, c/o CLINICA ESPECIALIZADA DEL VALLE S.A., Cali, Colombia; c/o HIELO CRISTAL Y REFRIGERACION LTDA., Cali, Colombia; c/o INVERSIONES JAER LTDA., Cali, Colombia; c/o INVERSIONES SAN JOSE LTDA., Cali, Colombia; c/o CONSTRUCTORA CENTRAL DEL VALLE LTDA., Cali, Colombia; Calle 39 No. 1H-31, Cali, Colombia; Carrera 1H No. 39-56, Cali, Colombia; c/o PARQUE INDUSTRIAL LAS DELICIAS LTDA., Cali, Colombia; c/o MARIN ESTRADA Y CIA S. EN C.S., Cali, Colombia; DOB 14 Jul 47; Cedula No. 16200018 (Colombia) (individual) [SDNT]

ESTRADA URIBE, Octavio, c/o GRUPO SANTA LTDA., Cali, Colombia; c/o SOCIEDAD CONSTRUCTORA LA CASCADA S.A., Cali, Colombia; DOB 7 Oct 1954; Cedula No. 19258562 (Colombia) (individual) [SDNT]

ESTUPINAN DUARTE, Adriana, c/o CAJA SOLIDARIA, Bogota, Colombia; c/o COPSERVIR LTDA., Bogota, Colombia; Cedula No. 63445395 (Colombia) (individual) [SDNT]

ETA (a.k.a. ASKATASUNA; a.k.a. BASQUE FATHERLAND AND LIBERTY; a.k.a. BATASUNA; a.k.a. EKIN; a.k.a. EPANASTATIKI PIRINES; a.k.a. EUSKAL HERRITARROK; a.k.a. EUZKADI TA ASKATASUNA; a.k.a. HERRI BATASUNA; a.k.a. JARRAI-HAIKA-SEGI; a.k.a. K.A.S.; a.k.a. POPULAR REVOLUTIONARY STRUGGLE; a.k.a. XAKI) [FTO] [SDGT]

ETCO INTERNATIONAL COMMODITIES LTD., Devonshire House, 1 Devonshire Street, London, United Kingdom [CUBA]

ETCO INTERNATIONAL COMPANY, LIMITED, Kawabe Building, 1-5 Kanda Nishiki-Cho, Chiyoda-Ku, Tokyo, Japan [CUBA]

ETIM (a.k.a. EASTERN TURKISTAN ISLAMIC MOVEMENT; a.k.a. EASTERN TURKISTAN ISLAMIC PARTY; a.k.a. ETIP) [SDGT]

ETIP (a.k.a. EASTERN TURKISTAN ISLAMIC MOVEMENT; a.k.a. EASTERN TURKISTAN ISLAMIC PARTY; a.k.a. ETIM) [SDGT]

EUROMAC EUROPEAN MANUFACTURER CENTER SRL, Via Ampere 5, 20052 Monza, Italy [IRAQ2]

EUROMAC TRANSPORTI INTERNATIONAL SRL, Via Ampere 5, 20052 Monza, Italy [IRAQ2]

EUROMAC, LTD, 4 Bishops Avenue, Northwood, Middlesex, United Kingdom [IRAQ2]

EUSKAL HERRITARROK (a.k.a. ASKATASUNA; a.k.a. BASQUE FATHERLAND AND LIBERTY; a.k.a. BATASUNA; a.k.a. EKIN; a.k.a. EPANASTATIKI PIRINES; a.k.a. ETA; a.k.a. EUZKADI TA ASKATASUNA; a.k.a. HERRI BATASUNA; a.k.a. JARRAI-HAIKA-SEGI; a.k.a. K.A.S.; a.k.a. POPULAR REVOLUTIONARY STRUGGLE; a.k.a. XAKI) [FTO] [SDGT]

EUZKADI TA ASKATASUNA (a.k.a. ASKATASUNA; a.k.a. BASQUE FATHERLAND AND LIBERTY; a.k.a. BATASUNA; a.k.a. EKIN; a.k.a. EPANASTATIKI PIRINES; a.k.a. ETA; a.k.a. EUSKAL HERRITARROK; a.k.a. HERRI BATASUNA; a.k.a. JARRAI-HAIKA-SEGI; a.k.a. K.A.S.; a.k.a. POPULAR REVOLUTIONARY STRUGGLE; a.k.a. XAKI) [FTO] [SDGT]

EXAGAN (a.k.a. EXPLOTACIONES AGRICOLAS Y GANADERAS LA LORENA S.C.S.), Calle 5 No. 22-39 of. 205, Cali, Colombia; Calle 52 No. 28E-30, Cali, Colombia; NIT # 800083192-3 (Colombia) [SDNT]

EXCIPHARMA S.A. (a.k.a. EXCIPIENTES FARMACEUTICOS EXCIPHARMA S.A.), Calle 22D No. 34-55, Bogota, Colombia; NIT # 830107839-4 (Colombia) [SDNT]

EXCIPIENTES FARMACEUTICOS EXCIPHARMA S.A. (a.k.a. EXCIPHARMA S.A.), Calle 22D No. 34-55, Bogota, Colombia; NIT # 830107839-4 (Colombia) [SDNT]

EXPLORATION AND PRODUCTION AUTHORITY (SUDAN), Kuwait Building, Nile Avenue, Khartoum, Sudan; P.O. Box 2986, Khartoum, Sudan [SUDAN]

EXPLOTACIONES AGRICOLAS Y GANADERAS LA LORENA S.C.S. (a.k.a. EXAGAN), Calle 5 No. 22-39 of. 205, Cali, Colombia; Calle 52 No. 28E-30, Cali, Colombia; NIT # 800083192-3 (Colombia) [SDNT]

EXPORT CAFE LTDA., Carrera 7 No. 11-22 of. 413, Cali, Colombia [SDNT]

EXPORTADORA DEL CARIBE, Medira, Mexico [CUBA]

EXTERNAL TECHNOLOGY GENERAL CORPORATION (a.k.a. CHANGGWANG SINYONG CORPORATION; a.k.a. KOREA MINING DEVELOPMENT TRADING CORPORATION; a.k.a. NORTH KOREAN MINING DEVELOPMENT TRADING CORPORATION; a.k.a. “KOMID”), Central District, Pyongyang, Korea, North [NPWMD]

EYRIE FARM, Mashvingo, Zimbabwe [ZIMBABWE]

F.V.M. (a.k.a. FUNDACION VIVIR MEJOR), Calle 8 No. 22-60, Cali, Colombia; NIT # 805002213-1 (Colombia) [SDNT]

FABRO INVESTMENT, INC., Panama [CUBA]

FACOBATA, Panama [CUBA]

FADHIL, Mustafa Mohamed (a.k.a. AL MASRI, Abd Al Wakil; a.k.a. ALI, Hassan; a.k.a. AL-NUBI, Abu; a.k.a. ANIS, Abu; a.k.a. ELBISHY, Moustafa Ali; a.k.a. FADIL, Mustafa Muhamad; a.k.a. FAZUL, Mustafa; a.k.a. HUSSEIN; a.k.a. JIHAD, Abu; a.k.a. KHALID; a.k.a. MAN, Nu; a.k.a. MOHAMMED, Mustafa; a.k.a. YUSSRR, Abu); DOB 23 Jun 1976; POB Cairo, Egypt; citizen Egypt alt. Kenya; Kenyan ID No. 12773667; Serial No. 201735161 (individual) [SDGT]

FADIL, Mustafa Muhamad (a.k.a. AL MASRI, Abd Al Wakil; a.k.a. ALI, Hassan; a.k.a. AL-NUBI, Abu; a.k.a. ANIS, Abu; a.k.a. ELBISHY, Moustafa Ali; a.k.a. FADHIL, Mustafa Mohamed; a.k.a. FAZUL, Mustafa; a.k.a. HUSSEIN; a.k.a. JIHAD, Abu; a.k.a. KHALID; a.k.a. MAN, Nu; a.k.a. MOHAMMED, Mustafa; a.k.a. YUSSRR, Abu); DOB 23 Jun 1976; POB Cairo, Egypt; citizen Egypt alt. Kenya; Kenyan ID No. 12773667; Serial No. 201735161 (individual) [SDGT]

FADLALLAH, Shaykh Muhammad Husayn; DOB 1938; alt. DOB 1936; POB Najf Al Ashraf (Najaf), Iraq; Leading Ideological Figure of HIZBALLAH (individual) [SDT]

FAITHFUL TO THE OATH (a.k.a. AL-BAKOUN ALA AL-AHD ORGANIZATION), Algeria [SDGT]

FAJARDO CUELLAR, Jairo, c/o ADMINISTRADORA DE SERVICIOS VARIOS CALIMA S.A., Cali, Colombia; c/o CHAMARTIN S.A., Cali, Colombia; Cedula No. 1619282 (Colombia); Passport 1619282 (Colombia) (individual) [SDNT]

FALCON SYSTEMS, United Kingdom [IRAQ2]

FAMESA INTERNATIONAL, S.A., Panama [CUBA]

FARAG, Hamdi Ahmad (a.k.a. AHMAD, Tariq Anwar al-Sayyid; a.k.a. FATHI, Amr Al-Fatih); DOB 15 MAR 63; POB Alexandria, Egypt (individual) [SDGT]

FARAJ, Samal Majid, Iraq; Former Minister of Planning (individual) [IRAQ2]

FARALLONES STEREO 91.5 FM, Calle 15N No. 6N-34 piso 15, Edificio Alcazar, Cali, Colombia [SDNT]

FARC (a.k.a. FUERZAS ARMADAS REVOLUCIONARIAS DE COLOMBIA; a.k.a. REVOLUTIONARY ARMED FORCES OF COLOMBIA) [FTO] [SDGT] [SDNTK]

FARFALLA INVESTMENT S.A., Calle Elida Diez. Nuevo Reparto El Carme Edif. Milena No. 1, Panama City, Panama; RUC # 1986361395028 (Panama) [SDNT]

FARMA 3.000 LIMITADA, Calle 12B No. 27-39 of. 203, Bogota, Colombia; Calle 39 BIS A No. 27-16 and 27-20, Bogota, Colombia; Via Circunvalar, Bodega M-A-3, Barranquilla, Colombia; NIT # 802012873-4 (Colombia) [SDNT]

FARMA XXI LTDA., Calle 12 No. 5-07 of. 301, Neiva, Huila, Colombia; Calle 39 BIS A No. 27-16 and 27-20, Bogota, Colombia; NIT # 813006330-2 (Colombia) [SDNT]

FARMACIA ALMACEN POPULAR (a.k.a. FARMACIA AMAZONAS; a.k.a. FARMACIA ATENEA; a.k.a. FARMACIA CAROLINA 2; a.k.a. FARMACIA CHACON; a.k.a. FARMACIA DEL PUEBLO; a.k.a. FARMACIA DORAL; a.k.a. FARMACIA ECONOMICA; a.k.a. FARMACIA INMACULADA; a.k.a. FARMACIA JARDIN DEL SUR; a.k.a. FARMACIA JARDIN SUR; a.k.a. FARMACIA LA COLINA; a.k.a. FARMACIA LA ECONOMICA; a.k.a. FARMACIA LA MODERNA; a.k.a. FARMACIA LOS SAUCES; a.k.a. FARMACIA MODERNA; a.k.a. FARMACIA PROBETA; a.k.a. FARMACIA PROVIDA; a.k.a. FARMACIA SAN MIGUEL; a.k.a. FARMACIA SAN VICENTE; a.k.a. LATINFARMACOS S.A.; a.k.a. LATINOAMERICANA DE FARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

FARMACIA AMAZONAS (a.k.a. FARMACIA ALMACEN POPULAR; a.k.a. FARMACIA ATENEA; a.k.a. FARMACIA CAROLINA 2; a.k.a. FARMACIA CHACON; a.k.a. FARMACIA DEL PUEBLO; a.k.a. FARMACIA DORAL; a.k.a. FARMACIA ECONOMICA; a.k.a. FARMACIA INMACULADA; a.k.a. FARMACIA JARDIN DEL SUR; a.k.a. FARMACIA JARDIN SUR; a.k.a. FARMACIA LA COLINA; a.k.a. FARMACIA LA ECONOMICA; a.k.a. FARMACIA LA MODERNA; a.k.a. FARMACIA LOS SAUCES; a.k.a. FARMACIA MODERNA; a.k.a. FARMACIA PROBETA; a.k.a. FARMACIA PROVIDA; a.k.a. FARMACIA SAN MIGUEL; a.k.a. FARMACIA SAN VICENTE; a.k.a. LATINFARMACOS S.A.; a.k.a. LATINOAMERICANA DE FARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

FARMACIA ATENEA (a.k.a. FARMACIA ALMACEN POPULAR; a.k.a. FARMACIA AMAZONAS; a.k.a. FARMACIA CAROLINA 2; a.k.a. FARMACIA CHACON; a.k.a. FARMACIA DEL PUEBLO; a.k.a. FARMACIA DORAL; a.k.a. FARMACIA ECONOMICA; a.k.a. FARMACIA INMACULADA; a.k.a. FARMACIA JARDIN DEL SUR; a.k.a. FARMACIA JARDIN SUR; a.k.a. FARMACIA LA COLINA; a.k.a. FARMACIA LA ECONOMICA; a.k.a. FARMACIA LA MODERNA; a.k.a. FARMACIA LOS SAUCES; a.k.a. FARMACIA MODERNA; a.k.a. FARMACIA PROBETA; a.k.a. FARMACIA PROVIDA; a.k.a. FARMACIA SAN MIGUEL; a.k.a. FARMACIA SAN VICENTE; a.k.a. LATINFARMACOS S.A.; a.k.a. LATINOAMERICANA DE FARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

FARMACIA CAROLINA 2 (a.k.a. FARMACIA ALMACEN POPULAR; a.k.a. FARMACIA AMAZONAS; a.k.a. FARMACIA ATENEA; a.k.a. FARMACIA CHACON; a.k.a. FARMACIA DEL PUEBLO; a.k.a. FARMACIA DORAL; a.k.a. FARMACIA ECONOMICA; a.k.a. FARMACIA INMACULADA; a.k.a. FARMACIA JARDIN DEL SUR; a.k.a. FARMACIA JARDIN SUR; a.k.a. FARMACIA LA COLINA; a.k.a. FARMACIA LA ECONOMICA; a.k.a. FARMACIA LA MODERNA; a.k.a. FARMACIA LOS SAUCES; a.k.a. FARMACIA MODERNA; a.k.a. FARMACIA PROBETA; a.k.a. FARMACIA PROVIDA; a.k.a. FARMACIA SAN MIGUEL; a.k.a. FARMACIA SAN VICENTE; a.k.a. LATINFARMACOS S.A.; a.k.a. LATINOAMERICANA DE FARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

FARMACIA CHACON (a.k.a. FARMACIA ALMACEN POPULAR; a.k.a. FARMACIA AMAZONAS; a.k.a. FARMACIA ATENEA; a.k.a. FARMACIA CAROLINA 2; a.k.a. FARMACIA DEL PUEBLO; a.k.a. FARMACIA DORAL; a.k.a. FARMACIA ECONOMICA; a.k.a. FARMACIA INMACULADA; a.k.a. FARMACIA JARDIN DEL SUR; a.k.a. FARMACIA JARDIN SUR; a.k.a. FARMACIA LA COLINA; a.k.a. FARMACIA LA ECONOMICA; a.k.a. FARMACIA LA MODERNA; a.k.a. FARMACIA LOS SAUCES; a.k.a. FARMACIA MODERNA; a.k.a. FARMACIA PROBETA; a.k.a. FARMACIA PROVIDA; a.k.a. FARMACIA SAN MIGUEL; a.k.a. FARMACIA SAN VICENTE; a.k.a. LATINFARMACOS S.A.; a.k.a. LATINOAMERICANA DE FARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

FARMACIA DEL PUEBLO (a.k.a. FARMACIA ALMACEN POPULAR; a.k.a. FARMACIA AMAZONAS; a.k.a. FARMACIA ATENEA; a.k.a. FARMACIA CAROLINA 2; a.k.a. FARMACIA CHACON; a.k.a. FARMACIA DORAL; a.k.a. FARMACIA ECONOMICA; a.k.a. FARMACIA INMACULADA; a.k.a. FARMACIA JARDIN DEL SUR; a.k.a. FARMACIA JARDIN SUR; a.k.a. FARMACIA LA COLINA; a.k.a. FARMACIA LA ECONOMICA; a.k.a. FARMACIA LA MODERNA; a.k.a. FARMACIA LOS SAUCES; a.k.a. FARMACIA MODERNA; a.k.a. FARMACIA PROBETA; a.k.a. FARMACIA PROVIDA; a.k.a. FARMACIA SAN MIGUEL; a.k.a. FARMACIA SAN VICENTE; a.k.a. LATINFARMACOS S.A.; a.k.a. LATINOAMERICANA DE FARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

FARMACIA DORAL (a.k.a. FARMACIA ALMACEN POPULAR; a.k.a. FARMACIA AMAZONAS; a.k.a. FARMACIA ATENEA; a.k.a. FARMACIA CAROLINA 2; a.k.a. FARMACIA CHACON; a.k.a. FARMACIA DEL PUEBLO; a.k.a. FARMACIA ECONOMICA; a.k.a. FARMACIA INMACULADA; a.k.a. FARMACIA JARDIN DEL SUR; a.k.a. FARMACIA JARDIN SUR; a.k.a. FARMACIA LA COLINA; a.k.a. FARMACIA LA ECONOMICA; a.k.a. FARMACIA LA MODERNA; a.k.a. FARMACIA LOS SAUCES; a.k.a. FARMACIA MODERNA; a.k.a. FARMACIA PROBETA; a.k.a. FARMACIA PROVIDA; a.k.a. FARMACIA SAN MIGUEL; a.k.a. FARMACIA SAN VICENTE; a.k.a. LATINFARMACOS S.A.; a.k.a. LATINOAMERICANA DE FARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

FARMACIA ECONOMICA (a.k.a. FARMACIA ALMACEN POPULAR; a.k.a. FARMACIA AMAZONAS; a.k.a. FARMACIA ATENEA; a.k.a. FARMACIA CAROLINA 2; a.k.a. FARMACIA CHACON; a.k.a. FARMACIA DEL PUEBLO; a.k.a. FARMACIA DORAL; a.k.a. FARMACIA INMACULADA; a.k.a. FARMACIA JARDIN DEL SUR; a.k.a. FARMACIA JARDIN SUR; a.k.a. FARMACIA LA COLINA; a.k.a. FARMACIA LA ECONOMICA; a.k.a. FARMACIA LA MODERNA; a.k.a. FARMACIA LOS SAUCES; a.k.a. FARMACIA MODERNA; a.k.a. FARMACIA PROBETA; a.k.a. FARMACIA PROVIDA; a.k.a. FARMACIA SAN MIGUEL; a.k.a. FARMACIA SAN VICENTE; a.k.a. LATINFARMACOS S.A.; a.k.a. LATINOAMERICANA DE FARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

FARMACIA INMACULADA (a.k.a. FARMACIA ALMACEN POPULAR; a.k.a. FARMACIA AMAZONAS; a.k.a. FARMACIA ATENEA; a.k.a. FARMACIA CAROLINA 2; a.k.a. FARMACIA CHACON; a.k.a. FARMACIA DEL PUEBLO; a.k.a. FARMACIA DORAL; a.k.a. FARMACIA ECONOMICA; a.k.a. FARMACIA JARDIN DEL SUR; a.k.a. FARMACIA JARDIN SUR; a.k.a. FARMACIA LA COLINA; a.k.a. FARMACIA LA ECONOMICA; a.k.a. FARMACIA LA MODERNA; a.k.a. FARMACIA LOS SAUCES; a.k.a. FARMACIA MODERNA; a.k.a. FARMACIA PROBETA; a.k.a. FARMACIA PROVIDA; a.k.a. FARMACIA SAN MIGUEL; a.k.a. FARMACIA SAN VICENTE; a.k.a. LATINFARMACOS S.A.; a.k.a. LATINOAMERICANA DE FARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

FARMACIA JARDIN DEL SUR (a.k.a. FARMACIA ALMACEN POPULAR; a.k.a. FARMACIA AMAZONAS; a.k.a. FARMACIA ATENEA; a.k.a. FARMACIA CAROLINA 2; a.k.a. FARMACIA CHACON; a.k.a. FARMACIA DEL PUEBLO; a.k.a. FARMACIA DORAL; a.k.a. FARMACIA ECONOMICA; a.k.a. FARMACIA INMACULADA; a.k.a. FARMACIA JARDIN SUR; a.k.a. FARMACIA LA COLINA; a.k.a. FARMACIA LA ECONOMICA; a.k.a. FARMACIA LA MODERNA; a.k.a. FARMACIA LOS SAUCES; a.k.a. FARMACIA MODERNA; a.k.a. FARMACIA PROBETA; a.k.a. FARMACIA PROVIDA; a.k.a. FARMACIA SAN MIGUEL; a.k.a. FARMACIA SAN VICENTE; a.k.a. LATINFARMACOS S.A.; a.k.a. LATINOAMERICANA DE FARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

FARMACIA JARDIN SUR (a.k.a. FARMACIA ALMACEN POPULAR; a.k.a. FARMACIA AMAZONAS; a.k.a. FARMACIA ATENEA; a.k.a. FARMACIA CAROLINA 2; a.k.a. FARMACIA CHACON; a.k.a. FARMACIA DEL PUEBLO; a.k.a. FARMACIA DORAL; a.k.a. FARMACIA ECONOMICA; a.k.a. FARMACIA INMACULADA; a.k.a. FARMACIA JARDIN DEL SUR; a.k.a. FARMACIA LA COLINA; a.k.a. FARMACIA LA ECONOMICA; a.k.a. FARMACIA LA MODERNA; a.k.a. FARMACIA LOS SAUCES; a.k.a. FARMACIA MODERNA; a.k.a. FARMACIA PROBETA; a.k.a. FARMACIA PROVIDA; a.k.a. FARMACIA SAN MIGUEL; a.k.a. FARMACIA SAN VICENTE; a.k.a. LATINFARMACOS S.A.; a.k.a. LATINOAMERICANA DE FARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

FARMACIA LA COLINA (a.k.a. FARMACIA ALMACEN POPULAR; a.k.a. FARMACIA AMAZONAS; a.k.a. FARMACIA ATENEA; a.k.a. FARMACIA CAROLINA 2; a.k.a. FARMACIA CHACON; a.k.a. FARMACIA DEL PUEBLO; a.k.a. FARMACIA DORAL; a.k.a. FARMACIA ECONOMICA; a.k.a. FARMACIA INMACULADA; a.k.a. FARMACIA JARDIN DEL SUR; a.k.a. FARMACIA JARDIN SUR; a.k.a. FARMACIA LA ECONOMICA; a.k.a. FARMACIA LA MODERNA; a.k.a. FARMACIA LOS SAUCES; a.k.a. FARMACIA MODERNA; a.k.a. FARMACIA PROBETA; a.k.a. FARMACIA PROVIDA; a.k.a. FARMACIA SAN MIGUEL; a.k.a. FARMACIA SAN VICENTE; a.k.a. LATINFARMACOS S.A.; a.k.a. LATINOAMERICANA DE FARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

FARMACIA LA ECONOMICA (a.k.a. FARMACIA ALMACEN POPULAR; a.k.a. FARMACIA AMAZONAS; a.k.a. FARMACIA ATENEA; a.k.a. FARMACIA CAROLINA 2; a.k.a. FARMACIA CHACON; a.k.a. FARMACIA DEL PUEBLO; a.k.a. FARMACIA DORAL; a.k.a. FARMACIA ECONOMICA; a.k.a. FARMACIA INMACULADA; a.k.a. FARMACIA JARDIN DEL SUR; a.k.a. FARMACIA JARDIN SUR; a.k.a. FARMACIA LA COLINA; a.k.a. FARMACIA LA MODERNA; a.k.a. FARMACIA LOS SAUCES; a.k.a. FARMACIA MODERNA; a.k.a. FARMACIA PROBETA; a.k.a. FARMACIA PROVIDA; a.k.a. FARMACIA SAN MIGUEL; a.k.a. FARMACIA SAN VICENTE; a.k.a. LATINFARMACOS S.A.; a.k.a. LATINOAMERICANA DE FARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

FARMACIA LA MODERNA (a.k.a. FARMACIA ALMACEN POPULAR; a.k.a. FARMACIA AMAZONAS; a.k.a. FARMACIA ATENEA; a.k.a. FARMACIA CAROLINA 2; a.k.a. FARMACIA CHACON; a.k.a. FARMACIA DEL PUEBLO; a.k.a. FARMACIA DORAL; a.k.a. FARMACIA ECONOMICA; a.k.a. FARMACIA INMACULADA; a.k.a. FARMACIA JARDIN DEL SUR; a.k.a. FARMACIA JARDIN SUR; a.k.a. FARMACIA LA COLINA; a.k.a. FARMACIA LA ECONOMICA; a.k.a. FARMACIA LOS SAUCES; a.k.a. FARMACIA MODERNA; a.k.a. FARMACIA PROBETA; a.k.a. FARMACIA PROVIDA; a.k.a. FARMACIA SAN MIGUEL; a.k.a. FARMACIA SAN VICENTE; a.k.a. LATINFARMACOS S.A.; a.k.a. LATINOAMERICANA DE FARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

FARMACIA LOS SAUCES (a.k.a. FARMACIA ALMACEN POPULAR; a.k.a. FARMACIA AMAZONAS; a.k.a. FARMACIA ATENEA; a.k.a. FARMACIA CAROLINA 2; a.k.a. FARMACIA CHACON; a.k.a. FARMACIA DEL PUEBLO; a.k.a. FARMACIA DORAL; a.k.a. FARMACIA ECONOMICA; a.k.a. FARMACIA INMACULADA; a.k.a. FARMACIA JARDIN DEL SUR; a.k.a. FARMACIA JARDIN SUR; a.k.a. FARMACIA LA COLINA; a.k.a. FARMACIA LA ECONOMICA; a.k.a. FARMACIA LA MODERNA; a.k.a. FARMACIA MODERNA; a.k.a. FARMACIA PROBETA; a.k.a. FARMACIA PROVIDA; a.k.a. FARMACIA SAN MIGUEL; a.k.a. FARMACIA SAN VICENTE; a.k.a. LATINFARMACOS S.A.; a.k.a. LATINOAMERICANA DE FARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

FARMACIA MODERNA (a.k.a. FARMACIA ALMACEN POPULAR; a.k.a. FARMACIA AMAZONAS; a.k.a. FARMACIA ATENEA; a.k.a. FARMACIA CAROLINA 2; a.k.a. FARMACIA CHACON; a.k.a. FARMACIA DEL PUEBLO; a.k.a. FARMACIA DORAL; a.k.a. FARMACIA ECONOMICA; a.k.a. FARMACIA INMACULADA; a.k.a. FARMACIA JARDIN DEL SUR; a.k.a. FARMACIA JARDIN SUR; a.k.a. FARMACIA LA COLINA; a.k.a. FARMACIA LA ECONOMICA; a.k.a. FARMACIA LA MODERNA; a.k.a. FARMACIA LOS SAUCES; a.k.a. FARMACIA PROBETA; a.k.a. FARMACIA PROVIDA; a.k.a. FARMACIA SAN MIGUEL; a.k.a. FARMACIA SAN VICENTE; a.k.a. LATINFARMACOS S.A.; a.k.a. LATINOAMERICANA DE FARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

FARMACIA PROBETA (a.k.a. FARMACIA ALMACEN POPULAR; a.k.a. FARMACIA AMAZONAS; a.k.a. FARMACIA ATENEA; a.k.a. FARMACIA CAROLINA 2; a.k.a. FARMACIA CHACON; a.k.a. FARMACIA DEL PUEBLO; a.k.a. FARMACIA DORAL; a.k.a. FARMACIA ECONOMICA; a.k.a. FARMACIA INMACULADA; a.k.a. FARMACIA JARDIN DEL SUR; a.k.a. FARMACIA JARDIN SUR; a.k.a. FARMACIA LA COLINA; a.k.a. FARMACIA LA ECONOMICA; a.k.a. FARMACIA LA MODERNA; a.k.a. FARMACIA LOS SAUCES; a.k.a. FARMACIA MODERNA; a.k.a. FARMACIA PROVIDA; a.k.a. FARMACIA SAN MIGUEL; a.k.a. FARMACIA SAN VICENTE; a.k.a. LATINFARMACOS S.A.; a.k.a. LATINOAMERICANA DE FARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

FARMACIA PROVIDA (a.k.a. FARMACIA ALMACEN POPULAR; a.k.a. FARMACIA AMAZONAS; a.k.a. FARMACIA ATENEA; a.k.a. FARMACIA CAROLINA 2; a.k.a. FARMACIA CHACON; a.k.a. FARMACIA DEL PUEBLO; a.k.a. FARMACIA DORAL; a.k.a. FARMACIA ECONOMICA; a.k.a. FARMACIA INMACULADA; a.k.a. FARMACIA JARDIN DEL SUR; a.k.a. FARMACIA JARDIN SUR; a.k.a. FARMACIA LA COLINA; a.k.a. FARMACIA LA ECONOMICA; a.k.a. FARMACIA LA MODERNA; a.k.a. FARMACIA LOS SAUCES; a.k.a. FARMACIA MODERNA; a.k.a. FARMACIA PROBETA; a.k.a. FARMACIA SAN MIGUEL; a.k.a. FARMACIA SAN VICENTE; a.k.a. LATINFARMACOS S.A.; a.k.a. LATINOAMERICANA DE FARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

FARMACIA SAN MIGUEL (a.k.a. FARMACIA ALMACEN POPULAR; a.k.a. FARMACIA AMAZONAS; a.k.a. FARMACIA ATENEA; a.k.a. FARMACIA CAROLINA 2; a.k.a. FARMACIA CHACON; a.k.a. FARMACIA DEL PUEBLO; a.k.a. FARMACIA DORAL; a.k.a. FARMACIA ECONOMICA; a.k.a. FARMACIA INMACULADA; a.k.a. FARMACIA JARDIN DEL SUR; a.k.a. FARMACIA JARDIN SUR; a.k.a. FARMACIA LA COLINA; a.k.a. FARMACIA LA ECONOMICA; a.k.a. FARMACIA LA MODERNA; a.k.a. FARMACIA LOS SAUCES; a.k.a. FARMACIA MODERNA; a.k.a. FARMACIA PROBETA; a.k.a. FARMACIA PROVIDA; a.k.a. FARMACIA SAN VICENTE; a.k.a. LATINFARMACOS S.A.; a.k.a. LATINOAMERICANA DE FARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

FARMACIA SAN VICENTE (a.k.a. FARMACIA ALMACEN POPULAR; a.k.a. FARMACIA AMAZONAS; a.k.a. FARMACIA ATENEA; a.k.a. FARMACIA CAROLINA 2; a.k.a. FARMACIA CHACON; a.k.a. FARMACIA DEL PUEBLO; a.k.a. FARMACIA DORAL; a.k.a. FARMACIA ECONOMICA; a.k.a. FARMACIA INMACULADA; a.k.a. FARMACIA JARDIN DEL SUR; a.k.a. FARMACIA JARDIN SUR; a.k.a. FARMACIA LA COLINA; a.k.a. FARMACIA LA ECONOMICA; a.k.a. FARMACIA LA MODERNA; a.k.a. FARMACIA LOS SAUCES; a.k.a. FARMACIA MODERNA; a.k.a. FARMACIA PROBETA; a.k.a. FARMACIA PROVIDA; a.k.a. FARMACIA SAN MIGUEL; a.k.a. LATINFARMACOS S.A.; a.k.a. LATINOAMERICANA DE FARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

FARMACIA VIDA (a.k.a. FARMACIA VIDA SUPREMA, S.A. DE C.V.; a.k.a. FARMACIAS VIDA), Blvd. Agua Caliente 1381, Colonia Revolucion, Tijuana, Baja California, Mexico; Avenida Constitucion No. 1300, Tijuana, Baja California, Mexico; Avenida Negrete No. 1200, Tijuana, Baja California, Mexico; Avenida Segunda No. 1702, Tijuana, Baja California, Mexico; Avenida 16 de Septiembre No. 1100, Tijuana, Baja California, Mexico; Calle 4ta. 1339 y 'G', Tijuana, Baja California, Mexico; Blvd. D. Ordaz No. 700-316, Tijuana, Baja California, Mexico; Avenida Benito Juarez No. 16-2, Rosarito, Baja California, Mexico; Avenida Las Americas, Int. Casa Ley, Tijuana, Baja California, Mexico; Avenida Constitucion y 10ma., Tijuana, Baja California, Mexico; Avenida Constitucion 823, Tijuana, Baja California, Mexico; Calle Benito Juarez 1941, Tijuana, Baja California, Mexico; Calle 4ta. Y Ninos Heroes 1802, Tijuana, Baja California, Mexico; Calle Benito Juarez 1890-A, Tijuana, Baja California, Mexico; Blvd. Benito Juarez 20000, Rosarito, Baja California, Mexico; Blvd. Diaz Ordaz 915, La Mesa, Tijuana, Baja California, Mexico; Blvd. Fundadores 8417, Fraccionamiento El Rubi, Tijuana, Baja California, Mexico; Avenida Tecnologico 15300-308, Centro Comercial Otay Universidad, Tijuana, Baja California, Mexico; Avenida Revolucion 651, Zona Centro, Tijuana, Baja California, Mexico; Blvd. Sanchez Taboada 4002, Zona Rio, Tijuana, Baja California, Mexico; Paseo Estrella del Mar 1075-B, Placita Coronado, Playas de Tijuana, Tijuana, Baja California, Mexico; Avenida Jose Lopez Portillo 131-B, Modulos Otay, Tijuana, Baja California, Mexico; Toribio Ortega No. 6072-1 Colonia Fco. Villa, Tijuana, Baja California, Mexico; Blvd. Diaz Ordaz No. 1159-101, Tijuana, Baja California, Mexico; Plaza del Norte, M. Matamoros No. 10402, Frac. M. Matamoros, Tijuana, Baja California, Mexico; Calle Carrillo Puerto (3ra.) No. 1434-131, Tijuana, Baja California, Mexico; Blvd. Ejido Matamoros No. 402-1 Lomas Granjas la Espanola, Tijuana, Baja California, Mexico; Calz. Cucapah 20665-1B Colonia Buenos Aires Norte, Tijuana, Baja California, Mexico; R.F.C. FVS-870610-LX3 (Mexico) [SDNTK]

FARMACIA VIDA SUPREMA, S.A. DE C.V. (a.k.a. FARMACIA VIDA; a.k.a. FARMACIAS VIDA), Blvd. Agua Caliente 1381, Colonia Revolucion, Tijuana, Baja California, Mexico; Avenida Constitucion No. 1300, Tijuana, Baja California, Mexico; Avenida Negrete No. 1200, Tijuana, Baja California, Mexico; Avenida Segunda No. 1702, Tijuana, Baja California, Mexico; Avenida 16 de Septiembre No. 1100, Tijuana, Baja California, Mexico; Calle 4ta. 1339 y 'G', Tijuana, Baja California, Mexico; Blvd. D. Ordaz No. 700-316, Tijuana, Baja California, Mexico; Avenida Benito Juarez No. 16-2, Rosarito, Baja California, Mexico; Avenida Las Americas, Int. Casa Ley, Tijuana, Baja California, Mexico; Avenida Constitucion y 10ma., Tijuana, Baja California, Mexico; Avenida Constitucion 823, Tijuana, Baja California, Mexico; Calle Benito Juarez 1941, Tijuana, Baja California, Mexico; Calle 4ta. Y Ninos Heroes 1802, Tijuana, Baja California, Mexico; Calle Benito Juarez 1890-A, Tijuana, Baja California, Mexico; Blvd. Benito Juarez 20000, Rosarito, Baja California, Mexico; Blvd. Diaz Ordaz 915, La Mesa, Tijuana, Baja California, Mexico; Blvd. Fundadores 8417, Fraccionamiento El Rubi, Tijuana, Baja California, Mexico; Avenida Tecnologico 15300-308, Centro Comercial Otay Universidad, Tijuana, Baja California, Mexico; Avenida Revolucion 651, Zona Centro, Tijuana, Baja California, Mexico; Blvd. Sanchez Taboada 4002, Zona Rio, Tijuana, Baja California, Mexico; Paseo Estrella del Mar 1075-B, Placita Coronado, Playas de Tijuana, Tijuana, Baja California, Mexico; Avenida Jose Lopez Portillo 131-B, Modulos Otay, Tijuana, Baja California, Mexico; Toribio Ortega No. 6072-1 Colonia Fco. Villa, Tijuana, Baja California, Mexico; Blvd. Diaz Ordaz No. 1159-101, Tijuana, Baja California, Mexico; Plaza del Norte, M. Matamoros No. 10402, Frac. M. Matamoros, Tijuana, Baja California, Mexico; Calle Carrillo Puerto (3ra.) No. 1434-131, Tijuana, Baja California, Mexico; Blvd. Ejido Matamoros No. 402-1 Lomas Granjas la Espanola, Tijuana, Baja California, Mexico; Calz. Cucapah 20665-1B Colonia Buenos Aires Norte, Tijuana, Baja California, Mexico; R.F.C. FVS-870610-LX3 (Mexico) [SDNTK]

FARMACIAS VIDA (a.k.a. FARMACIA VIDA; a.k.a. FARMACIA VIDA SUPREMA, S.A. DE C.V.), Blvd. Agua Caliente 1381, Colonia Revolucion, Tijuana, Baja California, Mexico; Avenida Constitucion No. 1300, Tijuana, Baja California, Mexico; Avenida Negrete No. 1200, Tijuana, Baja California, Mexico; Avenida Segunda No. 1702, Tijuana, Baja California, Mexico; Avenida 16 de Septiembre No. 1100, Tijuana, Baja California, Mexico; Calle 4ta. 1339 y 'G', Tijuana, Baja California, Mexico; Blvd. D. Ordaz No. 700-316, Tijuana, Baja California, Mexico; Avenida Benito Juarez No. 16-2, Rosarito, Baja California, Mexico; Avenida Las Americas, Int. Casa Ley, Tijuana, Baja California, Mexico; Avenida Constitucion y 10ma., Tijuana, Baja California, Mexico; Avenida Constitucion 823, Tijuana, Baja California, Mexico; Calle Benito Juarez 1941, Tijuana, Baja California, Mexico; Calle 4ta. Y Ninos Heroes 1802, Tijuana, Baja California, Mexico; Calle Benito Juarez 1890-A, Tijuana, Baja California, Mexico; Blvd. Benito Juarez 20000, Rosarito, Baja California, Mexico; Blvd. Diaz Ordaz 915, La Mesa, Tijuana, Baja California, Mexico; Blvd. Fundadores 8417, Fraccionamiento El Rubi, Tijuana, Baja California, Mexico; Avenida Tecnologico 15300-308, Centro Comercial Otay Universidad, Tijuana, Baja California, Mexico; Avenida Revolucion 651, Zona Centro, Tijuana, Baja California, Mexico; Blvd. Sanchez Taboada 4002, Zona Rio, Tijuana, Baja California, Mexico; Paseo Estrella del Mar 1075-B, Placita Coronado, Playas de Tijuana, Tijuana, Baja California, Mexico; Avenida Jose Lopez Portillo 131-B, Modulos Otay, Tijuana, Baja California, Mexico; Toribio Ortega No. 6072-1 Colonia Fco. Villa, Tijuana, Baja California, Mexico; Blvd. Diaz Ordaz No. 1159-101, Tijuana, Baja California, Mexico; Plaza del Norte, M. Matamoros No. 10402, Frac. M. Matamoros, Tijuana, Baja California, Mexico; Calle Carrillo Puerto (3ra.) No. 1434-131, Tijuana, Baja California, Mexico; Blvd. Ejido Matamoros No. 402-1 Lomas Granjas la Espanola, Tijuana, Baja California, Mexico; Calz. Cucapah 20665-1B Colonia Buenos Aires Norte, Tijuana, Baja California, Mexico; R.F.C. FVS-870610-LX3 (Mexico) [SDNTK]

FARMACOOP (a.k.a. COOPERATIVA MULTIACTIVA DE COMERCIALIZACION Y SERVICIOS FARMACOOP; f.k.a. LABORATORIOS KRESSFOR DE COLOMBIA S.A.), A.A. 18491, Bogota, Colombia; Calle 17A No. 28A-43, Bogota, Colombia; Calle 16 No. 28A-51, Bogota, Colombia; Calle 16 No. 28A-57, Bogota, Colombia; Calle 17A No. 28-43, Bogota, Colombia; NIT # 830010878-3 (Colombia) [SDNT]

FARMAHOGAR (a.k.a. DROGUERIA FARMAHOGAR; a.k.a. FARMAHOGAR COPSERVIR 19), Carrera 7 No. 118-38, Bogota, Colombia; Avenida 7 No. 118-46, Bogota, Colombia; NIT # 830011670-3 (Colombia) [SDNT]

FARMAHOGAR COPSERVIR 19 (a.k.a. DROGUERIA FARMAHOGAR; a.k.a. FARMAHOGAR), Carrera 7 No. 118-38, Bogota, Colombia; Avenida 7 No. 118-46, Bogota, Colombia; NIT # 830011670-3 (Colombia) [SDNT]

FARMALIDER S.A., Calle 17 Norte No. 3N-16, Cali, Colombia; NIT # 805026183-2 (Colombia) [SDNT]

FARMATEL E.U. (a.k.a. TELEFARMA E.U.), Calle 93 No. 16-75, Bogota, Colombia [SDNT]

FARMATODO S.A., Diagonal 17 No. 28A-39, Bogota, Colombia; Diagonal 17 No. 28A-80, Bogota, Colombia [SDNT]

FARMAVISION LTDA. (a.k.a. COOPERATIVA MULTIACTIVA DE DISTRIBUCION FARMAVISION LTDA.), Carrera 24 No. 4-19, Bogota, Colombia; NIT # 830037372-6 (Colombia) [SDNT]

FARMEDIS LTDA., Calle 12 No. 5-07 of. 301, Neiva, Colombia; Calle 17A No. 28A-43, Bogota, Colombia; Carrera 42C No. 22C-36, Bogota, Colombia; NIT # 813009188-6 (Colombia) [SDNT]

FARMERS BANK FOR INVESTMENT & RURAL DEVELOPMENT (a.k.a. FARMERS COMMERCIAL BANK; f.k.a. SUDAN COMMERCIAL BANK), P.O. Box 1116, El Kasr Avenue, Khartoum, Sudan; P.O. Box 22, El Damazin, Sudan; El Fau, Sudan; P.O. Box 182, El Gadaref, Sudan; P.O. Box 1, El Hawata, Sudan; P.O. Box 8, El Nuhud, Sudan; P.O. Box 412, El Obeid, Sudan; P.O. Box 45153, El Suk Elarabi, Sudan; P.O. Box 1174, Gamhoria Avenue, Khartoum, Sudan; P.O. Box 1694, El Suk Elafrangi, Khartoum, Sudan; P.O. Box 384, Khartoum, Sudan; P.O. Box 86, Industrial Area, Khartoum, Sudan; P.O. Box 8127, Khartoum, Sudan; P.O. Box 899, Omdurman, Sudan; Wad Madani, Sudan; P.O. Box 36, New Halfa, Sudan; P.O Box 570, Port Sudan, Sudan [SUDAN]

FARMERS COMMERCIAL BANK (f.k.a. FARMERS BANK FOR INVESTMENT & RURAL DEVELOPMENT; f.k.a. SUDAN COMMERCIAL BANK), P.O. Box 1116, El Kasr Avenue, Khartoum, Sudan; P.O. Box 22, El Damazin, Sudan; El Fau, Sudan; P.O. Box 182, El Gadaref, Sudan; P.O. Box 1, El Hawata, Sudan; P.O. Box 8, El Nuhud, Sudan; P.O. Box 412, El Obeid, Sudan; P.O. Box 45153, El Suk Elarabi, Sudan; P.O. Box 1174, Gamhoria Avenue, Khartoum, Sudan; P.O. Box 1694, El Suk Elafrangi, Khartoum, Sudan; P.O. Box 384, Khartoum, Sudan; P.O. Box 86, Industrial Area, Khartoum, Sudan; P.O. Box 8127, Khartoum, Sudan; P.O. Box 899, Omdurman, Sudan; Wad Madani, Sudan; P.O. Box 36, New Halfa, Sudan; P.O Box 570, Port Sudan, Sudan [SUDAN]

FARTRADE HOLDINGS S.A., Switzerland [IRAQ2]

FATAH REVOLUTIONARY COUNCIL (a.k.a. ABU NIDAL ORGANIZATION; a.k.a. ANO; a.k.a. ARAB REVOLUTIONARY BRIGADES; a.k.a. ARAB REVOLUTIONARY COUNCIL; a.k.a. BLACK SEPTEMBER; a.k.a. REVOLUTIONARY ORGANIZATION OF SOCIALIST MUSLIMS) [SDT] [FTO] [SDGT]

FATHI, Amr Al-Fatih (a.k.a. AHMAD, Tariq Anwar al-Sayyid; a.k.a. FARAG, Hamdi Ahmad); DOB 15 MAR 63; POB Alexandria, Egypt (individual) [SDGT]

FATTAH, Jum'a Abdul, P.O. Box 1318, Amman, Jordan (individual) [IRAQ2]

FAVARONY URREA, Pedro F., c/o COPSERVIR LTDA., Bogota, Colombia; Cedula No. 167136671 (Colombia) (individual) [SDNT]

FAZUL, Abdalla (a.k.a. ABDALLA, Fazul; a.k.a. ADBALLAH, Fazul; a.k.a. AISHA, Abu; a.k.a. AL SUDANI, Abu Seif; a.k.a. ALI, Fadel Abdallah Mohammed; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fazul Abdullah; a.k.a. MOHAMMED, Fouad; a.k.a. MUHAMAD, Fadil Abdallah); DOB 25 Aug 1972; alt. DOB 25 Dec 1974; alt. DOB 25 Feb 1974; POB Moroni, Comoros Islands; citizen Comoros alt. Kenya (individual) [SDGT]

FAZUL, Abdallah (a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fazul Abdullah; a.k.a. MOHAMMED, Fouad; a.k.a. MUHAMAD, Fadil Abdallah); DOB 25 Aug 1972; alt. DOB 25 Dec 1974; alt. DOB 25 Feb 1974; POB Moroni, Comoros Islands; citizen Comoros alt. Kenya (individual) [SDGT]

FAZUL, Abdallah Mohammed (a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fazul Abdullah; a.k.a. MOHAMMED, Fouad; a.k.a. MUHAMAD, Fadil Abdallah); DOB 25 Aug 1972; alt. DOB 25 Dec 1974; alt. DOB 25 Feb 1974; POB Moroni, Comoros Islands; citizen Comoros alt. Kenya (individual) [SDGT]

FAZUL, Haroon (a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fazul Abdullah; a.k.a. MOHAMMED, Fouad; a.k.a. MUHAMAD, Fadil Abdallah); DOB 25 Aug 1972; alt. DOB 25 Dec 1974; alt. DOB 25 Feb 1974; POB Moroni, Comoros Islands; citizen Comoros alt. Kenya (individual) [SDGT]

FAZUL, Harun (a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. HAROON; a.k.a. HAROUN, Fadhil; a.k.a. HARUN; a.k.a. LUQMAN, Abu; a.k.a. MOHAMMED, Fazul; a.k.a. MOHAMMED, Fazul Abdilahi; a.k.a. MOHAMMED, Fazul Abdullah; a.k.a. MOHAMMED, Fouad; a.k.a. MUHAMAD, Fadil Abdallah); DOB 25 Aug 1972; alt. DOB 25 Dec 1974; alt. DOB 25 Feb 1974; POB Moroni, Comoros Islands; citizen Comoros alt. Kenya (individual) [SDGT]

FAZUL, Mustafa (a.k.a. AL MASRI, Abd Al Wakil; a.k.a. ALI, Hassan; a.k.a. AL-NUBI, Abu; a.k.a. ANIS, Abu; a.k.a. ELBISHY, Moustafa Ali; a.k.a. FADHIL, Mustafa Mohamed; a.k.a. FADIL, Mustafa Muhamad; a.k.a. HUSSEIN; a.k.a. JIHAD, Abu; a.k.a. KHALID; a.k.a. MAN, Nu; a.k.a. MOHAMMED, Mustafa; a.k.a. YUSSRR, Abu); DOB 23 Jun 1976; POB Cairo, Egypt; citizen Egypt alt. Kenya; Kenyan ID No. 12773667; Serial No. 201735161 (individual) [SDGT]

FBKSH (a.k.a. FRONT FOR ALBANIAN NATIONAL UNITY) [BALKANS]

FERDJANI, Mouloud (a.k.a. ABD AL HAFIZ, Abd Al Wahab; a.k.a. “MOURAD”; a.k.a. “RABAH DI ROMA”), Via Lungotevere Dante, Rome, Italy; DOB 7 Sep 1967; POB Algiers, Algeria (individual) [SDGT]

FERNANDEZ GRANADOS, Claudia, c/o CAJA SOLIDARIA, Bogota, Colombia; c/o COOMULCOSTA, Barranquilla, Colombia; c/o COPSERVIR LTDA., Bogota, Colombia; Cedula No. 57433265 (Colombia) (individual) [SDNT]

FERNANDEZ LACERA, Felix Daniel, c/o COOPIFARMA, Bucaramanga, Colombia; c/o COPSERVIR LTDA., Bogota, Colombia; Carrera 95 No. 68A-24 ap. 221, Bogota, Colombia; Cedula No. 4979304 (Colombia) (individual) [SDNT]

FERNANDEZ LUNA, Tiberio, c/o DISTRIBUIDORA DE DROGAS CONDOR S.A., Bogota, Colombia; c/o COPSERVIR LTDA., Bogota, Colombia; c/o LABORATORIOS BLANCO PHARMA DE COLOMBIA S.A., Bogota, Colombia; DOB 3 Nov 1960; Cedula No. 93286690 (Colombia); Passport AE956843 (Colombia) (individual) [SDNT]

FETHI, Alic (a.k.a. MNASRI, Fethi Ben Rebai; a.k.a. “ABU OMAR”; a.k.a. “AMOR”), Via Toscana n.46, Bologna, Italy; Via di Saliceto n.51/9, Bologna, Italy; DOB 6 Mar 1969; POB Nefza, Tunisia (individual) [SDGT]

FETTAR, Rachid (a.k.a. “AMINE DEL BELGIO”; a.k.a. “DJAFFAR”), Via degli Apuli n.5, Milan, Italy; DOB 16 Apr 1969; POB Boulogin, Algeria (individual) [SDGT]

FIDUSER LTDA., Calle 12A No. 27-72, Bogota, Colombia; NIT # 830013160-8 (Colombia) [SDNT]

FIESTA STEREO 91.5 F.M. (a.k.a. PRISMA STEREO 89.5 F.M; a.k.a. SONAR F.M. E.U. DIETER MURRLE), Calle 15 Norte No. 6N-34 of. 1003, Cali, Colombia; Calle 43A No. 1-29 Urb. Sta. Maria del Palmar, Palmira, Colombia; NIT # 805006273-1 (Colombia) [SDNT]

FIGAL ARRANZ, Antonio Agustin; DOB 2 Dec 1972; POB Baracaldo, Vizcaya Province, Spain; D.N.I. 20.172.692 (Spain); Member ETA (individual) [SDGT]

FIGUEROA DE BRUSATIN, Dacier, c/o W. HERRERA Y CIA. S. EN C., Cali, Colombia; c/o INVERSIONES EL GRAN CRISOL LTDA., Cali, Colombia; DOB 7 Nov 1930; Cedula No. 29076093 (Colombia) (individual) [SDNT]

FIGUEROA PERALTA, Eduardo Alberto, c/o CAJA SOLIDARIA, Bogota, Colombia; c/o COOMULCOSTA, Barranquilla, Colombia; c/o COPSERVIR LTDA., Bogota, Colombia; c/o LITOPHARMA, Barranquilla, Colombia; Calle 63 No. 16-61, Barranquilla, Colombia; Cedula No. 8747807 (Colombia) (individual) [SDNT]

FINANCIERA DE INVERSIONES LTDA. (a.k.a. FINVE S.A.), Calle 93A No. 14-17 Ofc. 711, Bogota, Colombia; Calle 93N No. 14-20 Ofc. 601, Bogota, Colombia; NIT # 860074650-5 (Colombia) [SDNT]

FINANZAS DEL NORTE LTDA. (a.k.a. FINANZAS DEL NORTE LUIS SAIEH Y CIA. S.C.A.), Calle 77 B No. 57-141, Ofc. 917, Barranquilla, Colombia; NIT # 890108715-2 (Colombia) [SDNT]

FINANZAS DEL NORTE LUIS SAIEH Y CIA. S.C.A. (f.k.a. FINANZAS DEL NORTE LTDA.), Calle 77 B No. 57-141, Ofc. 917, Barranquilla, Colombia; NIT # 890108715-2 (Colombia) [SDNT]

FINVE S.A. (f.k.a. FINANCIERA DE INVERSIONES LTDA.), Calle 93A No. 14-17 Ofc. 711, Bogota, Colombia; Calle 93N No. 14-20 Ofc. 601, Bogota, Colombia; NIT # 860074650-5 (Colombia) [SDNT]

FIORILLO BAPTISTE, Lester Raul, Calle 27 Norte No. 6AN-43, Cali, Colombia; c/o CONSTRUCCIONES PROGRESO DEL PUERTO S.A., Puerto Tejada, Colombia; Cedula No. 14987352 (Colombia); Passport 14987352 (Colombia) (individual) [SDNT]

FIRST OF OCTOBER ANTIFASCIST RESISTANCE GROUP (GRAPO), Spain [SDGT]

FLAMINGO CLUB (a.k.a. CARIBBEAN SHOWPLACE LTD), Tropigala Night Club, Ironshore, Montego Bay, Jamaica; Rosehall Main Road, Rosehall, Jamaica [SDNTK]

FLEXOEMPAQUES LTDA. (f.k.a. PLASTICOS CONDOR LTDA.), Carrera 13 No. 16-62, Cali, Colombia; NIT # 800044167-2 (Colombia) [SDNT]

FLIGHT DRAGON SHIPPING LTD., c/o ANGLO-CARIBBEAN SHIPPING CO. LTD., 4th Floor, South Phase 2, South Quay Plaza II, 183, March Wall, London, United Kingdom [CUBA]

FLORES MONROY, Julio Cesar (a.k.a. FLORES, Julio C.), C. Azteca 0, Col. Azteca, Tijuana, Baja California CP 22000, Mexico; Calle Granito No. 2025, Seccion El Dorado, Fraccionamiento Playas de Tijuana, Tijuana, Baja California, Mexico; Calle Granito No. 602, Seccion El Dorado, Fraccionamiento Playas de Tijuana, Tijuana, Baja California, Mexico; c/o KONTROLES ELECTRONICOS DE BAJA CALIFORNIA, S.A. DE C.V., Ave. Azueta 11750, Col. Libertad, Tijuana, Baja California CP 22400, Mexico; c/o ACCESOS ELECTRONICOS, S.A. DE C.V., Calle David Alfaro Siqueiros 2789 #201, Col. Zona Rio, Tijuana, Baja California, Mexico; DOB 13 Jul 1944; POB Guadalajara, Jalisco, Mexico; Immigration No. A07268659 (United States) (individual) [SDNTK]

FLORES, Julio C. (a.k.a. FLORES MONROY, Julio Cesar), C. Azteca 0, Col. Azteca, Tijuana, Baja California CP 22000, Mexico; Calle Granito No. 2025, Seccion El Dorado, Fraccionamiento Playas de Tijuana, Tijuana, Baja California, Mexico; Calle Granito No. 602, Seccion El Dorado, Fraccionamiento Playas de Tijuana, Tijuana, Baja California, Mexico; c/o KONTROLES ELECTRONICOS DE BAJA CALIFORNIA, S.A. DE C.V., Ave. Azueta 11750, Col. Libertad, Tijuana, Baja California CP 22400, Mexico; c/o ACCESOS ELECTRONICOS, S.A. DE C.V., Calle David Alfaro Siqueiros 2789 #201, Col. Zona Rio, Tijuana, Baja California, Mexico; DOB 13 Jul 1944; POB Guadalajara, Jalisco, Mexico; Immigration No. A07268659 (United States) (individual) [SDNTK]

FLOREZ ARCILA, Rafael Antonio, c/o COPSERVIR LTDA., Bogota, Colombia; c/o MEGAPHARMA LTDA., Bogota, Colombia; Cedula No. 79712667 (Colombia) (individual) [SDNT]

FLOREZ GRAJALES, Yudi Lorena (a.k.a. FLOREZ GRAJALES, Yudy Lorena), Carrera 78 No. 3-46, Cali, Colombia; Carrera 8N No. 17A-12, Cartago, Colombia; c/o AGROPECUARIA MIRALINDO S.A., Cartago, Colombia; c/o ARIZONA S.A., Cartago, Colombia; DOB 26 Jun 1978; Cedula No. 32180561 (Colombia); Passport 32180561 (Colombia) (individual) [SDNT]

FLOREZ GRAJALES, Yudy Lorena (a.k.a. FLOREZ GRAJALES, Yudi Lorena), Carrera 78 No. 3-46, Cali, Colombia; Carrera 8N No. 17A-12, Cartago, Colombia; c/o AGROPECUARIA MIRALINDO S.A., Cartago, Colombia; c/o ARIZONA S.A., Cartago, Colombia; DOB 26 Jun 1978; Cedula No. 32180561 (Colombia); Passport 32180561 (Colombia) (individual) [SDNT]

FLOREZ SARAMA, Jorge Humberto, c/o ADMINISTRADORA DE SERVICIOS VARIOS CALIMA S.A., Cali, Colombia; c/o ASESORIAS DE INGENIERIA EMPRESA UNIPERSONAL, Cali, Colombia; c/o CHAMARTIN S.A., Cali, Colombia; c/o SERVICIOS DE LA SABANA E.U., Bogota, Colombia; Cedula No. 13007449 (Colombia); Passport 13007449 (Colombia) (individual) [SDNT]

FOFIE, Martin Kouakou; DOB 1 Jan 1968; “New Forces” (Forces Nouvelles) Zone Commander in Korhogo (individual) [COTED]

FOGENSA S.A. (a.k.a. FORMAS GENERICAS FARMACEUTICAS S.A.), Carrera 42C No. 22C-36, Bogota, Colombia; Calle 53 No. 31-52, Bucaramanga, Colombia; Calle 53 No. 31-69, Bucaramanga, Colombia; NIT # 804005325-8 (Colombia) [SDNT]

FOLLOWERS OF THE PROPHET MUHAMMED (a.k.a. ANSAR ALLAH; a.k.a. HIZBALLAH; a.k.a. ISLAMIC JIHAD; a.k.a. ISLAMIC JIHAD FOR THE LIBERATION OF PALESTINE; a.k.a. ISLAMIC JIHAD ORGANIZATION; a.k.a. ORGANIZATION OF RIGHT AGAINST WRONG; a.k.a. ORGANIZATION OF THE OPPRESSED ON EARTH; a.k.a. PARTY OF GOD; a.k.a. REVOLUTIONARY JUSTICE ORGANIZATION) [SDT] [FTO] [SDGT]

FOMENTAMOS (a.k.a. COOPERATIVA MULTIACTIVA DE COLOMBIA FOMENTAMOS), Transversal 29 No. 35A-29, Bogota, Colombia; NIT # 830060914-4 (Colombia) [SDNT]

FOMEQUE BLANCO, Amparo, Mz. 21 Casa 5 Barrio San Fernando, Pereira, Colombia; c/o INDUSTRIA DE PESCA SOBRE EL PACIFICO S.A., Buenaventura, Colombia; DOB 26 Mar 1948; Cedula No. 31206092 (Colombia) (individual) [SDNT]

FOMEQUE CAMPO, Daysy (a.k.a. FOMEQUE CAMPO, Deicy), Avenida 4N No. 10N-100, Cali, Colombia; c/o INDUSTRIA DE PESCA SOBRE EL PACIFICO S.A., Buenaventura, Colombia; Cedula No. 38650034 (Colombia) (individual) [SDNT]

FOMEQUE CAMPO, Deicy (a.k.a. FOMEQUE CAMPO, Daysy), Avenida 4N No. 10N-100, Cali, Colombia; c/o INDUSTRIA DE PESCA SOBRE EL PACIFICO S.A., Buenaventura, Colombia; Cedula No. 38650034 (Colombia) (individual) [SDNT]

FONDATION SECOURS MONDIAL A.S.B.L. (a.k.a. FONDATION SECOURS MONDIAL VZW; a.k.a. FONDATION SECOURS MONDIAL 'WORLD RELIEF'; a.k.a. FONDATION SECOURS MONDIAL-BELGIQUE A.S.B.L.; a.k.a. FONDATION SECOURS MONDIAL-KOSOVA; a.k.a. FSM; a.k.a. GLOBAL RELIEF FOUNDATION, INC.; a.k.a. SECOURS MONDIAL DE FRANCE; a.k.a. STICHTING WERELDHULP-BELGIE, V.Z.W.), Rruga e Kavajes, Building No. 3, Apartment No. 61, P.O. Box 2892, Tirana, Albania; Vaatjesstraat, 29, 2580 Putte, Belgium; Rue des Bataves 69, 1040 Etterbeek, Brussels, Belgium; P.O. Box 6, 1040 Etterbeek 2, Brussels, Belgium; Mula Mustafe Baseskije Street No. 72, Sarajevo, Bosnia and Herzegovina; Put Mladih Muslimana Street 30/A, Sarajevo, Bosnia and Herzegovina; Rr. Skenderbeu 76, Lagjja Sefa, Gjakova, Serbia and Montenegro; Ylli Morina Road, Djakovica, Serbia and Montenegro; House 267 Street No. 54, Sector F-11/4, Islamabad, Pakistan; Saray Cad. No. 37 B Blok, Yesilyurt Apt. 2/4, Sirinevler, Turkey; Afghanistan; Azerbaijan; Bangladesh; Chechnya, Russia; China; Eritrea; Ethiopia; Georgia; India; Ingushetia, Russia; Iraq; Jordan; Kashmir, undetermined; Lebanon; Gaza Strip, undetermined; Sierra Leone; Somalia; Syria; 49 rue du Lazaret, 67100 Strasbourg, France; West Bank; V.A.T. Number BE 454,419,759 [SDGT]

FONDATION SECOURS MONDIAL VZW (a.k.a. FONDATION SECOURS MONDIAL A.S.B.L.; a.k.a. FONDATION SECOURS MONDIAL 'WORLD RELIEF'; a.k.a. FONDATION SECOURS MONDIAL-BELGIQUE A.S.B.L.; a.k.a. FONDATION SECOURS MONDIAL-KOSOVA; a.k.a. FSM; a.k.a. GLOBAL RELIEF FOUNDATION, INC.; a.k.a. SECOURS MONDIAL DE FRANCE; a.k.a. STICHTING WERELDHULP-BELGIE, V.Z.W.), Rruga e Kavajes, Building No. 3, Apartment No. 61, P.O. Box 2892, Tirana, Albania; Vaatjesstraat, 29, 2580 Putte, Belgium; Rue des Bataves 69, 1040 Etterbeek, Brussels, Belgium; P.O. Box 6, 1040 Etterbeek 2, Brussels, Belgium; Mula Mustafe Baseskije Street No. 72, Sarajevo, Bosnia and Herzegovina; Put Mladih Muslimana Street 30/A, Sarajevo, Bosnia and Herzegovina; Rr. Skenderbeu 76, Lagjja Sefa, Gjakova, Serbia and Montenegro; Ylli Morina Road, Djakovica, Serbia and Montenegro; House 267 Street No. 54, Sector F-11/4, Islamabad, Pakistan; Saray Cad. No. 37 B Blok, Yesilyurt Apt. 2/4, Sirinevler, Turkey; Afghanistan; Azerbaijan; Bangladesh; Chechnya, Russia; China; Eritrea; Ethiopia; Georgia; India; Ingushetia, Russia; Iraq; Jordan; Kashmir, undetermined; Lebanon; Gaza Strip, undetermined; Sierra Leone; Somalia; Syria; 49 rue du Lazaret, 67100 Strasbourg, France; West Bank; V.A.T. Number BE 454,419,759 [SDGT]

FONDATION SECOURS MONDIAL 'WORLD RELIEF' (a.k.a. FONDATION SECOURS MONDIAL A.S.B.L.; a.k.a. FONDATION SECOURS MONDIAL VZW; a.k.a. FONDATION SECOURS MONDIAL-BELGIQUE A.S.B.L.; a.k.a. FONDATION SECOURS MONDIAL-KOSOVA; a.k.a. FSM; a.k.a. GLOBAL RELIEF FOUNDATION, INC.; a.k.a. SECOURS MONDIAL DE FRANCE; a.k.a. STICHTING WERELDHULP-BELGIE, V.Z.W.), Rruga e Kavajes, Building No. 3, Apartment No. 61, P.O. Box 2892, Tirana, Albania; Vaatjesstraat, 29, 2580 Putte, Belgium; Rue des Bataves 69, 1040 Etterbeek, Brussels, Belgium; P.O. Box 6, 1040 Etterbeek 2, Brussels, Belgium; Mula Mustafe Baseskije Street No. 72, Sarajevo, Bosnia and Herzegovina; Put Mladih Muslimana Street 30/A, Sarajevo, Bosnia and Herzegovina; Rr. Skenderbeu 76, Lagjja Sefa, Gjakova, Serbia and Montenegro; Ylli Morina Road, Djakovica, Serbia and Montenegro; House 267 Street No. 54, Sector F-11/4, Islamabad, Pakistan; Saray Cad. No. 37 B Blok, Yesilyurt Apt. 2/4, Sirinevler, Turkey; Afghanistan; Azerbaijan; Bangladesh; Chechnya, Russia; China; Eritrea; Ethiopia; Georgia; India; Ingushetia, Russia; Iraq; Jordan; Kashmir, undetermined; Lebanon; Gaza Strip, undetermined; Sierra Leone; Somalia; Syria; 49 rue du Lazaret, 67100 Strasbourg, France; West Bank; V.A.T. Number BE 454,419,759 [SDGT]

FONDATION SECOURS MONDIAL-BELGIQUE A.S.B.L. (a.k.a. FONDATION SECOURS MONDIAL A.S.B.L.; a.k.a. FONDATION SECOURS MONDIAL VZW; a.k.a. FONDATION SECOURS MONDIAL 'WORLD RELIEF'; a.k.a. FONDATION SECOURS MONDIAL-KOSOVA; a.k.a. FSM; a.k.a. GLOBAL RELIEF FOUNDATION, INC.; a.k.a. SECOURS MONDIAL DE FRANCE; a.k.a. STICHTING WERELDHULP-BELGIE, V.Z.W.), Rruga e Kavajes, Building No. 3, Apartment No. 61, P.O. Box 2892, Tirana, Albania; Vaatjesstraat, 29, 2580 Putte, Belgium; Rue des Bataves 69, 1040 Etterbeek, Brussels, Belgium; P.O. Box 6, 1040 Etterbeek 2, Brussels, Belgium; Mula Mustafe Baseskije Street No. 72, Sarajevo, Bosnia and Herzegovina; Put Mladih Muslimana Street 30/A, Sarajevo, Bosnia and Herzegovina; Rr. Skenderbeu 76, Lagjja Sefa, Gjakova, Serbia and Montenegro; Ylli Morina Road, Djakovica, Serbia and Montenegro; House 267 Street No. 54, Sector F-11/4, Islamabad, Pakistan; Saray Cad. No. 37 B Blok, Yesilyurt Apt. 2/4, Sirinevler, Turkey; Afghanistan; Azerbaijan; Bangladesh; Chechnya, Russia; China; Eritrea; Ethiopia; Georgia; India; Ingushetia, Russia; Iraq; Jordan; Kashmir, undetermined; Lebanon; Gaza Strip, undetermined; Sierra Leone; Somalia; Syria; 49 rue du Lazaret, 67100 Strasbourg, France; West Bank; V.A.T. Number BE 454,419,759 [SDGT]

FONDATION SECOURS MONDIAL-KOSOVA (a.k.a. FONDATION SECOURS MONDIAL A.S.B.L.; a.k.a. FONDATION SECOURS MONDIAL VZW; a.k.a. FONDATION SECOURS MONDIAL 'WORLD RELIEF'; a.k.a. FONDATION SECOURS MONDIAL-BELGIQUE A.S.B.L.; a.k.a. FSM; a.k.a. GLOBAL RELIEF FOUNDATION, INC.; a.k.a. SECOURS MONDIAL DE FRANCE; a.k.a. STICHTING WERELDHULP-BELGIE, V.Z.W.), Rruga e Kavajes, Building No. 3, Apartment No. 61, P.O. Box 2892, Tirana, Albania; Vaatjesstraat, 29, 2580 Putte, Belgium; Rue des Bataves 69, 1040 Etterbeek, Brussels, Belgium; P.O. Box 6, 1040 Etterbeek 2, Brussels, Belgium; Mula Mustafe Baseskije Street No. 72, Sarajevo, Bosnia and Herzegovina; Put Mladih Muslimana Street 30/A, Sarajevo, Bosnia and Herzegovina; Rr. Skenderbeu 76, Lagjja Sefa, Gjakova, Serbia and Montenegro; Ylli Morina Road, Djakovica, Serbia and Montenegro; House 267 Street No. 54, Sector F-11/4, Islamabad, Pakistan; Saray Cad. No. 37 B Blok, Yesilyurt Apt. 2/4, Sirinevler, Turkey; Afghanistan; Azerbaijan; Bangladesh; Chechnya, Russia; China; Eritrea; Ethiopia; Georgia; India; Ingushetia, Russia; Iraq; Jordan; Kashmir, undetermined; Lebanon; Gaza Strip, undetermined; Sierra Leone; Somalia; Syria; 49 rue du Lazaret, 67100 Strasbourg, France; West Bank; V.A.T. Number BE 454,419,759 [SDGT]

FONSECA DELGADO, Luis Jairo, c/o DROCARD S.A., Bogota, Colombia; c/o FARMACOOP, Bogota, Colombia; c/o GENERICOS ESPECIALES S.A., Bogota, Colombia; DOB 12 Aug 1962; Cedula No. 19493765 (Colombia); Passport 19493765 (Colombia) (individual) [SDNT]

FONSECA PARAMO, Luisa Fernanda, c/o REPRESENTACIONES Y DISTRIBUCIONES HUERTAS Y ASOCIADOS S.A., Bogota, Colombia; DOB 18 Nov 1978; Cedula No. 30400266 (Colombia); Passport 30400266 (Colombia) (individual) [SDNT]

FOOD INDUSTRIES CORPORATION, P.O. Box 2341, Khartoum, Sudan [SUDAN]

FOREFRONT OF THE IDEA (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

FORENINGEN AL-AQSA (a.k.a. AL-AQSA (ASBL); a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NURSAT AL-AQSA AL-SHARIF; a.k.a. SANABIL AL-AQSA CHARITABLE FOUNDATION; a.k.a. STICHTING AL-AQSA; a.k.a. SWEDISH CHARITABLE AQSA EST.), BD Leopold II 71, 1080 Brussels, Belgium [SDGT]

FORENINGEN AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 6222200KBKN, Copenhagen, Denmark [SDGT]

FORENINGEN AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Kappellenstrasse 36, Aachen D-52066, Germany; <Head Office> [SDGT]

FORENINGEN AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.) [SDGT]

FORENINGEN AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

FORENINGEN AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 2364, Islamabad, Pakistan [SDGT]

FORENINGEN AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 14101, San 'a, Yemen [SDGT]

FORENINGEN AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Gerrit V/D Lindestraat 103 A, 3022 TH, Rotterdam, Netherlands; Gerrit V/D Lindestraat 103 E, 03022 TH, Rotterdam, Netherlands [SDGT]

FORENINGEN AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Noblev 79 NB, 21433 Malmo, Sweden; Nobelvagen 79 NB, 21433 Malmo, Sweden [SDGT]

FORERO BENAVIDES, Patricia, c/o COPSERVIR LTDA., Bogota, Colombia; c/o FARMAVISION LTDA., Bogota, Colombia; Cedula No. 35522503 (Colombia) (individual) [SDNT]

FORERO FERNANDEZ, Alberto Mario, c/o HAPPY DAYS S. de H., Barranquilla, Colombia; Cedula No. 8715143 (Colombia) (individual) [SDNT]

FORERO SALAMANCA, Sonia Viviana, c/o COPSERVIR LTDA., Bogota, Colombia; c/o CREDIREBAJA S.A., Cali, Colombia; c/o INTERFARMA S.A., San Jose, Costa Rica; c/o JOMAGA DE COSTA RICA S.A., San Jose, Costa Rica; DOB 16 Oct 1975; Cedula No. 52342283 (Colombia); Passport 52342283 (Colombia) (individual) [SDNT]

FORMAS GENERICAS FARMACEUTICAS S.A. (a.k.a. FOGENSA S.A.), Carrera 42C No. 22C-36, Bogota, Colombia; Calle 53 No. 31-52, Bucaramanga, Colombia; Calle 53 No. 31-69, Bucaramanga, Colombia; NIT # 804005325-8 (Colombia) [SDNT]

FORPRES, S.C., Tijuana, Baja California, Mexico [SDNTK]

FOUNDATION FOR CONSTRUCTION (a.k.a. NATION BUILDING; a.k.a. RECONSTRUCTION FOUNDATION; a.k.a. RECONSTRUCTION OF THE ISLAMIC COMMUNITY; a.k.a. RECONSTRUCTION OF THE MUSLIM UMMAH; a.k.a. UMMAH TAMEER E-NAU (UTN); a.k.a. UMMAH TAMEER I-NAU; a.k.a. UMMAH TAMIR E-NAU; a.k.a. UMMAH TAMIR I-NAU; a.k.a. UMMAT TAMIR E-NAU; a.k.a. UMMAT TAMIR-I-PAU), Street 13, Wazir Akbar Khan, Kabul, Afghanistan; 60-C, Nazim Ud Din Road, Islamabad F 8/4, Pakistan [SDGT]

FOUNTAIN FARM, Insiza, Zimbabwe [ZIMBABWE]

FRANCO BELTRAN, Luis Fernando, c/o DROCARD S.A., Bogota, Colombia; c/o FARMACOOP, Bogota, Colombia; DOB 12 Aug 1953; Cedula No. 230809 (Colombia); Passport 230809 (Colombia) (individual) [SDNT]

FRANCO MUNOZ, Francisco, Calle 10 Bis No. 67A-51, Cali, Colombia; c/o GRAN MUELLE S.A., Buenaventura, Colombia; POB Facatativa, Cundinamarca, Colombia; Cedula No. 03014999 (Colombia); Passport 03014999 (Colombia) (individual) [SDNT]

FRANCO VALENCIA, Fabio Hernan, Carrera 4 No. 11-45 Ofc. 506, Cali, Colombia; c/o COMPANIA DE FOMENTO MERCANTIL S.A., Cali, Colombia; c/o GEOPLASTICOS S.A., Cali, Colombia; c/o CIA. MINERA DAPA S.A., Bogota, Colombia; c/o CIA. ANDINA DE EMPAQUES LTDA., Cali, Colombia; c/o OCCIDENTAL DE PAPELES LTDA., Cali, Colombia; DOB 06 Dec 1940; POB Cali, Valle, Colombia; Cedula No. 6076743 (Colombia); Passport 6076743 (Colombia) (individual) [SDNT]

FREEDOM AND DEMOCRACY CONGRESS OF KURDISTAN (a.k.a. HALU MESRU SAVUNMA KUVVETI (HSK); a.k.a. KADEK; a.k.a. KONGRA-GEL; a.k.a. KURDISTAN FREEDOM AND DEMOCRACY CONGRESS; a.k.a. KURDISTAN PEOPLE'S CONGRESS (KHK); a.k.a. KURDISTAN WORKERS' PARTY; a.k.a. PARTIYA KARKERAN KURDISTAN; a.k.a. PEOPLE'S CONGRESS OF KURDISTAN; a.k.a. PKK; a.k.a. THE PEOPLE'S DEFENSE FORCE) [FTO] [SDGT]

FREGOSO AMEZQUITA, Maria Antonieta, Calle Jerez 538, Fraccionamiento Chapultepec, Tijuana, Baja California, Mexico; Calle Jerez 552-B, Fraccionamiento Chapultepec, CP 22420, Tijuana, Baja California, Mexico; c/o Administradora De Inmuebles Vida, S.A. de C.V., Tijuana, Baja California, Mexico; c/o ADP, S.C., Tijuana, Baja California, Mexico; c/o Forpres, S.C., Tijuana, Baja California, Mexico; c/o Accesos Electronicos, S.A. de C.V., Tijuana, Baja California, Mexico; c/o Operadora Valpark, S.A. de C.V., Tijuana, Baja California, Mexico; DOB 29 Oct 1952; POB Guadalajara, Jalisco; Credencial electoral 088455751391 (Mexico); Driver's License No. 180839 (Mexico); R.F.C. AEL-980417-S51 (Mexico) (individual) [SDNTK]

FREIGHT MOVERS INTERNATIONAL, Airport Road, Basseterre, Basseterre, Saint Kitts and Nevis; Church Street, Basseterre, Basseterre, Saint Kitts and Nevis; Offices in St. Kitts and Nevins, West Indies ONLY [SDNTK]

FREXCO S.A. (a.k.a. FRUTAS EXOTICAS COLOMBIANOS S.A.), Factoria La Rivera, La Union, Valle, Colombia; NIT # 800183514-0 (Colombia) [SDNT]

FRIENDS OF THE JEWISH IDEA YESHIVA (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

FRIENDSHIP SPINNING FACTORY, Hassaheisa, Sudan [SUDAN]

FRONT FOR ALBANIAN NATIONAL UNITY (a.k.a. FBKSH) [BALKANS]

FRUCOSTA (n.k.a. FRUTAS DE LA COSTA S.A.; a.k.a. INDUSTRIAS DEL ESPIRITU SANTO S.A.), Carretera Oriental Km. 2 Via Barranquilla, Malambo, Atlantico, Colombia; NIT # 821002015-8 (Colombia) [SDNT]

FRUNI TRADING CO., c/o MELFI MARINE CORPORATION S.A., Oficina 7, Edificio Senorial, Calle 50, Apartado 31, Panama City 5, Panama [CUBA]

FRUTAS DE LA COSTA S.A. (a.k.a. FRUCOSTA; a.k.a. INDUSTRIAS DEL ESPIRITU SANTO S.A.), Carretera Oriental Km. 2 Via Barranquilla, Malambo, Atlantico, Colombia; NIT # 821002015-8 (Colombia) [SDNT]

FRUTAS EXOTICAS COLOMBIANOS S.A. (a.k.a. FREXCO S.A.), Factoria La Rivera, La Union, Valle, Colombia; NIT # 800183514-0 (Colombia) [SDNT]

FSM (a.k.a. FONDATION SECOURS MONDIAL A.S.B.L.; a.k.a. FONDATION SECOURS MONDIAL VZW; a.k.a. FONDATION SECOURS MONDIAL 'WORLD RELIEF'; a.k.a. FONDATION SECOURS MONDIAL-BELGIQUE A.S.B.L.; a.k.a. FONDATION SECOURS MONDIAL-KOSOVA; a.k.a. GLOBAL RELIEF FOUNDATION, INC.; a.k.a. SECOURS MONDIAL DE FRANCE; a.k.a. STICHTING WERELDHULP-BELGIE, V.Z.W.), Rruga e Kavajes, Building No. 3, Apartment No. 61, P.O. Box 2892, Tirana, Albania; Vaatjesstraat, 29, 2580 Putte, Belgium; Rue des Bataves 69, 1040 Etterbeek, Brussels, Belgium; P.O. Box 6, 1040 Etterbeek 2, Brussels, Belgium; Mula Mustafe Baseskije Street No. 72, Sarajevo, Bosnia and Herzegovina; Put Mladih Muslimana Street 30/A, Sarajevo, Bosnia and Herzegovina; Rr. Skenderbeu 76, Lagjja Sefa, Gjakova, Serbia and Montenegro; Ylli Morina Road, Djakovica, Serbia and Montenegro; House 267 Street No. 54, Sector F-11/4, Islamabad, Pakistan; Saray Cad. No. 37 B Blok, Yesilyurt Apt. 2/4, Sirinevler, Turkey; Afghanistan; Azerbaijan; Bangladesh; Chechnya, Russia; China; Eritrea; Ethiopia; Georgia; India; Ingushetia, Russia; Iraq; Jordan; Kashmir, undetermined; Lebanon; Gaza Strip, undetermined; Sierra Leone; Somalia; Syria; 49 rue du Lazaret, 67100 Strasbourg, France; West Bank; V.A.T. Number BE 454,419,759 [SDGT]

FUENTES COBA, Fernando, Cozumel, Mexico (individual) [CUBA]

FUERZAS ARMADAS REVOLUCIONARIAS DE COLOMBIA (a.k.a. FARC; a.k.a. REVOLUTIONARY ARMED FORCES OF COLOMBIA) [FTO] [SDGT] [SDNTK]

FUNDACION DE CALI PARA EL DESARROLLO HUMANO (a.k.a. FUNDACION PARA EL SERVICIO DEL SER INTEGRAL; a.k.a. FUNDASER; a.k.a. FUNDECALI), Calle 2 No. 4-14 of. 101, Cali, Colombia; Calle 29 Norte No. 6N-43, Cali, Colombia; NIT # 800243417-2 (Colombia) [SDNT]

FUNDACION PARA EL SERVICIO DEL SER INTEGRAL (a.k.a. FUNDACION DE CALI PARA EL DESARROLLO HUMANO; a.k.a. FUNDASER; a.k.a. FUNDECALI), Calle 2 No. 4-14 of. 101, Cali, Colombia; Calle 29 Norte No. 6N-43, Cali, Colombia; NIT # 800243417-2 (Colombia) [SDNT]

FUNDACION PARA LA PAZ DE CORDOBA (a.k.a. FUNDACION POR LA PAS DE CORDOBA; a.k.a. FUNDAZCOR; a.k.a. FUNPAZCOR), Carrera 6 No. 29-12, Monteria, Cordoba, Colombia; NIT # 830054536-9 (Colombia) [SDNTK]

FUNDACION POR LA PAS DE CORDOBA (a.k.a. FUNDACION PARA LA PAZ DE CORDOBA; a.k.a. FUNDAZCOR; a.k.a. FUNPAZCOR), Carrera 6 No. 29-12, Monteria, Cordoba, Colombia; NIT # 830054536-9 (Colombia) [SDNTK]

FUNDACION VIVIR MEJOR (a.k.a. F.V.M.), Calle 8 No. 22-60, Cali, Colombia; NIT # 805002213-1 (Colombia) [SDNT]

FUNDASER (a.k.a. FUNDACION DE CALI PARA EL DESARROLLO HUMANO; a.k.a. FUNDACION PARA EL SERVICIO DEL SER INTEGRAL; a.k.a. FUNDECALI), Calle 2 No. 4-14 of. 101, Cali, Colombia; Calle 29 Norte No. 6N-43, Cali, Colombia; NIT # 800243417-2 (Colombia) [SDNT]

FUNDAZCOR (a.k.a. FUNDACION PARA LA PAZ DE CORDOBA; a.k.a. FUNDACION POR LA PAS DE CORDOBA; a.k.a. FUNPAZCOR), Carrera 6 No. 29-12, Monteria, Cordoba, Colombia; NIT # 830054536-9 (Colombia) [SDNTK]

FUNDECALI (a.k.a. FUNDACION DE CALI PARA EL DESARROLLO HUMANO; a.k.a. FUNDACION PARA EL SERVICIO DEL SER INTEGRAL; a.k.a. FUNDASER), Calle 2 No. 4-14 of. 101, Cali, Colombia; Calle 29 Norte No. 6N-43, Cali, Colombia; NIT # 800243417-2 (Colombia) [SDNT]

FUNPAZCOR (a.k.a. FUNDACION PARA LA PAZ DE CORDOBA; a.k.a. FUNDACION POR LA PAS DE CORDOBA; a.k.a. FUNDAZCOR), Carrera 6 No. 29-12, Monteria, Cordoba, Colombia; NIT # 830054536-9 (Colombia) [SDNTK]

FURUNDZIJA, Anto; DOB 8 Jul 1969; POB Travnik, Bosnia-Herzegovina; ICTY indictee (individual) [BALKANS]

FUSCO, Fabio (a.k.a. AL-AMDOUNI, Mehrez Ben Mahmoud Ben Sassi; a.k.a. AMDOUNI, Mehrez; a.k.a. HASSAN, Mohamed; a.k.a. “ABU THALE”); DOB 18 Dec 1969; POB Tunis, Tunisia; nationality Tunisia; Passport G737411 (Tunisia) issued 24 Oct 1990 expires 20 Sep 1997; alt. Passport 0801888 (Bosnia and Herzegovina) (individual) [SDGT]

FUSTAR, Dusan; DOB 29 Jun 1954; POB Prijedor, Bosnia-Herzegovina; ICTY indictee in custody (individual) [BALKANS]

G M C GRUPO MAQUILACION COLOMBIANO, Calle 68B No. 105F-80, Bogota, Colombia; Carrera 66A No. 48-91, Bogota, Colombia; NIT # 41322501 (Colombia) [SDNT]

G.L.G. S.A. (a.k.a. CASA ESTRELLA), Avenida 15 No. 123-30, Local 1-13, Bogota, Colombia; Calle 53 No. 25-30, Bogota, Colombia; Apartado Aereo 250752, Bogota, Colombia; Calle 164 No. 40-40, Bogota, Colombia; Carrera 65 No. 71-74, Barranquilla, Colombia; Centro Comercial Chipichape, Cali, Colombia; Centro Comercial Galerias, Bogota, Colombia; Centro Comercial Unicentro, Local 1-13, Bogota, Colombia; Centro Comercial Unicentro, Local 209, Cali, Colombia; Diagonal 127A No. 17-34 Piso 5, Bogota, Colombia; NIT # 800023807-8 (Colombia) [SDNT]

G.W. AEROSPACE, INC. (a.k.a. GREAT WALL AEROSPACE, INC.), 21515 Hawthorne Blvd., Suite 670, Torrance, CA 90503; California Corporate Number C1458237 (United States) [NPWMD]

GAD S.A., Factoria La Rivera, La Union, Valle, Colombia; NIT # 821002971-4 (Colombia) [SDNT]

GAJIC-MILOSEVIC, Milica; DOB 1970; daughter-in-law of Slobodan Milosevic (individual) [BALKANS]

GALAPAGOS S.A, Calle 24N No. 6AN-15, Cali, Colombia; Carrera 115 No. 16B-121, Cali, Colombia; NIT # 800183712-2 (Colombia) [SDNT]

GALAVIZ CORPORATION, LTD., 7801 NW 37 Street No. 152059, Miami, FL 33166; Avenida 4 Norte 6N-67 Of. 705, Cali, Colombia; Nassau, Bahamas, The [SDNT]

GALAX INC. (a.k.a. GALAX TRADING CO., LTD.), 5250 Ferrier Street, Montreal, Quebec, Canada [CUBA]

GALAX TRADING CO., LTD. (a.k.a. GALAX INC.), 5250 Ferrier Street, Montreal, Quebec, Canada [CUBA]

GALEANO CUBILLOS, Mario Nelson, c/o TERAPIAS VETERINARIA LIMITADA, Bogota, Colombia; Cedula No. 17125384 (Colombia); Passport 17125384 (Colombia) (individual) [SDNT]

GALERIA DE PORTALES, S.A., Jose Serrano 166, 28019 Madrid, Spain; Miguel Yuste 48, 28037 Madrid, Spain; C.I.F. A82464934 (Spain) [SDNT]

GALIC, Stanislav; DOB 12 Mar 1943; POB Goles, Bosnia-Herzegovina; ICTY indictee (individual) [BALKANS]

GALINDO CARDOZO, Diego Fernando, c/o COOPCREAR, Bogota, Colombia; c/o COOPERATIVA MULTIACTIVA DE COLOMBIA FOMENTAMOS, Bogota, Colombia; c/o COOPERATIVA DE TRABAJO ASOCIADO ACTIVAR, Bogota, Colombia; DOB 2 Nov 1974; Cedula No. 94320862 (Colombia); Passport 94320862 (Colombia) (individual) [SDNT]

GALINDO HERRERA, Diana Paola, c/o INMOBILIARIA GALES LTDA., Bogota, Colombia; c/o INDUSTRIA AVICOLA PALMASECA S.A., Cali, Colombia; c/o COMERCIAL DE NEGOCIOS CLARIDAD Y CIA., Bogota, Colombia; c/o COMERCIALIZADORA EXPERTA Y CIA. S. EN C., Bogota, Colombia; c/o AGROPECUARIA Y REFORESTADORA HERREBE LTDA., Cali, Colombia; c/o INVERSIONES HERREBE LTDA., Cali, Colombia; c/o CONSTRUEXITO S.A., Cali, Colombia; DOB 8 Jul 1978; Cedula No. 31538790 (Colombia); Passport AF127300 (Colombia) (individual) [SDNT]

GALINDO HERRERA, Diego Alexander, c/o CONSTRUEXITO S.A., Cali, Colombia; c/o INVERSIONES HERREBE LTDA., Cali, Colombia; c/o AGROPECUARIA Y REFORESTADORA HERREBE LTDA., Cali, Colombia; c/o COMERCIALIZADORA EXPERTA Y CIA. S. EN C., Bogota, Colombia; c/o COMERCIAL DE NEGOCIOS CLARIDAD Y CIA., Bogota, Colombia; c/o INMOBILIARIA GALES LTDA., Bogota, Colombia; c/o INDUSTRIA AVICOLA PALMASECA S.A., Cali, Colombia; DOB 9 Feb 1977; Cedula No. 16836449 (Colombia); Passport AF246678 (Colombia) (individual) [SDNT]

GALINDO LEYVA, Esperanza, c/o Complejo Turistico Oasis, S.A. de C.V., Playas de Rosarito, Rosarito, Baja California, Mexico; DOB 16 Aug 1920; R.F.C. GALE-200816-6IA (Mexico) (individual) [SDNTK]

GALINDO, Gilmer Antonio (a.k.a. GUZMAN TRUJILLO, Carlos Arturo), c/o CONSTRUEXITO S.A., Cali, Colombia; c/o INDUSTRIA AVICOLA PALMASECA S.A., Cali, Colombia; Carrera 4C No. 53-40 apt. 307, Cali, Colombia; c/o COMERCIAL DE NEGOCIOS CLARIDAD Y CIA., Bogota, Colombia; c/o INMOBILIARIA GALES LTDA., Bogota, Colombia; c/o COMERCIALIZADORA EXPERTA Y CIA. S. EN C., Bogota, Colombia; DOB 28 Dec 1948; Cedula No. 16245188 (Colombia); Passport AC824879 (Colombia) (individual) [SDNT]

GALLASTEGUI SODUPE, Lexuri; DOB 18 June 1969; POB Bilbao Vizcaya Province, Spain; D.N.I. 16.047.113; Member ETA (individual) [SDGT]

GALLEGO RAMOS, Luis Alfredo, Calle 83 No. 14-130, Cali, Colombia; c/o INTERCONTINENTAL DE AVIACION S.A., Bogota, Colombia; c/o AEROVIAS ATLANTICO LTDA., Bogota, Colombia; c/o AEROCOMERCIAL ALAS DE COLOMBIA LTDA., Bogota, Colombia; c/o GREEN ISLAND S.A., Bogota, Colombia; DOB 7 Aug 1954; POB Cali, Colombia; Cedula No. 16585721 (Colombia); Passport AF783512 (Colombia); alt. Passport AE187469 (Colombia); alt. Passport 16585721 (Colombia) (individual) [SDNT]

GALLEGO SANCHEZ, Isaac, c/o DISMERCOOP, Cali, Colombia; c/o GRACADAL S.A., Cali, Colombia; DOB 3 Nov 1953; Cedula No. 6457399 (Colombia) (individual) [SDNT]

GALLEGO SOSSA, Rosa Esperanza, Calle 24AN No. 42BN-61, Cali, Colombia; c/o CONCRETOS CALI S.A., Cali, Colombia; c/o CONSTRUCTORA DIMISA LTDA., Cali, Colombia; DOB 1 May 1963; Cedula No. 43059188 (Colombia) (individual) [SDNT]

GALLO IMPORT, Panama [CUBA]

GALVEZ FERNANDEZ, Isabel Cristina, Carrera 30 No. 90-82, Bogota, Colombia; c/o INTERCONTINENTAL DE AVIACION S.A., Bogota, Colombia; c/o COMERCIALIZADORA ANDINA BRASILERA S.A., Bogota, Colombia; c/o INDUSTRIAL MINERA Y PECUARIA S.A., Bogota, Colombia; c/o LA FRONTERA UNION GALVEZ Y CIA S EN C, Bogota, Colombia; DOB 23 Sep 1955; POB Cali, Colombia; Cedula No. 31280944 (Colombia); Passport AF146067 (Colombia) (individual) [SDNT]

GALVEZ RODRIGUEZ, Luz Marina, c/o PRODUCTOS GALO Y CIA. LTDA., Bogota, Colombia; c/o REPRESENTACIONES Y DISTRIBUCIONES HUERTAS Y ASOCIADOS S.A., Bogota, Colombia; DOB 15 Mar 1953; Cedula No. 41589020 (Colombia); Passport 41589020 (Colombia) (individual) [SDNT]

GALVEZ RODRIGUEZ, Nancy, c/o CAJA SOLIDARIA, Bogota, Colombia; c/o COPSERVIR LTDA., Bogota, Colombia; c/o COSMEPOP, Bogota, Colombia; c/o DISTRIBUIDORA DE DROGAS CONDOR S.A., Bogota, Colombia; c/o COOPCREAR, Bogota, Colombia; DOB 2 Dec 1954; Cedula No. 41703406 (Colombia); Passport 41703406 (Colombia) (individual) [SDNT]

GAMA'A AL-ISLAMIYYA (a.k.a. AL-GAMA'AT; a.k.a. EGYPTIAN AL-GAMA'AT AL-ISLAMIYYA; a.k.a. GI; a.k.a. IG; a.k.a. ISLAMIC GAMA'AT; a.k.a. ISLAMIC GROUP) [SDT] [FTO] [SDGT]

GAMAL-MULTISERVICIOS (a.k.a. CENTRO CAMBIARIO KINO, S.A. DE C.V.), Av. Independencia 1 Plaza Padre Kino, Local 11, Zona Rio, Tijuana, Baja California CP 22320, Mexico; Carretera Aeropuerto 1900, Local G-16, Tijuana, Baja California CP 22510, Mexico; R.F.C. CCK-010928-5C0 (Mexico) [SDNTK]

GAMBA SANCHEZ, Fernando, c/o DISTRIBUIDORA DE DROGAS CONDOR S.A., Bogota, Colombia; DOB 3 Nov 1962; Cedula No. 19494919 (Colombia) (individual) [SDNT]

GAMBE, Theophilus Pharaoh; DOB 20 Jun 1959; Passport ZA567403 (Zimbabwe); Chairman, Electoral Supervisory Commission (individual) [ZIMBABWE]

GAMBIA MILLENIUM AIRLINE (a.k.a. GAMBIA NEW MILLENIUM AIR; a.k.a. GAMBIA NEW MILLENIUM AIR COMPANY), State House, Banjul, Gambia, The [LIBERIA]

GAMBIA NEW MILLENIUM AIR (a.k.a. GAMBIA MILLENIUM AIRLINE; a.k.a. GAMBIA NEW MILLENIUM AIR COMPANY), State House, Banjul, Gambia, The [LIBERIA]

GAMBIA NEW MILLENIUM AIR COMPANY (a.k.a. GAMBIA MILLENIUM AIRLINE; a.k.a. GAMBIA NEW MILLENIUM AIR), State House, Banjul, Gambia, The [LIBERIA]

GAMEL MOHAMED (a.k.a. BOUYAHIA, Hamadi), Corso XXII Marzo 39, Milan, Italy; DOB 22 May 1966; alt. DOB 29 May 1966; POB Tunisia; nationality Tunisia; Passport L723315 issued 5 May 1998 expires 4 May 2003; arrested 30 Sep 2002 (individual) [SDGT]

GAMEZ CIFUENTES, Norma Lucero, c/o DROCARD S.A., Bogota, Colombia; DOB 22 Jan 1958; Cedula No. 41674484 (Colombia); Passport 41674484 (Colombia) (individual) [SDNT]

GAMEZ, Gilberto, c/o ARCA DISTRIBUCIONES LTDA., Bogota, Colombia; Cedula No. 79846794 (Colombia) (individual) [SDNT]

GANADERA (a.k.a. CAUCALITO LTDA.; f.k.a. GANADERIA LTDA.), Apartado Aereo 10077, Cali, Colombia; Carrera 4 12-41 of. 1403, Edificio Seguros Bolivar, Cali, Colombia; NIT # 800029160-9 (Colombia) [SDNT]

GANADERIA EL VERGEL LTDA., Carrera 4 No. 12-20 of. 206, Cartago,Valle, Colombia; Km 7 Via Cartago-Obando, Hacienda El Vergel, Cartago, Valle, Colombia; NIT # 800146295-5 (Colombia) [SDNT]

GANADERIA LTDA. (a.k.a. CAUCALITO LTDA.; f.k.a. GANADERA), Apartado Aereo 10077, Cali, Colombia; Carrera 4 12-41 of. 1403, Edificio Seguros Bolivar, Cali, Colombia; NIT # 800029160-9 (Colombia) [SDNT]

GANADERIAS BILBAO LTDA., Carrera 4 No. 12-20 of. 206, Cartago, Valle, Colombia; Km 7 Via Cartago-Obando, Hacienda El Vergel, Cartago, Valle, Colombia; NIT # 800146290-9 (Colombia) [SDNT]

GANADERIAS DEL VALLE S.A., Avenida 2FN No. 24N-92, Cali, Colombia; Carrera 83 No. 6-50, Cali, Colombia; Carrera 61 No. 11-58, Cali, Colombia; NIT # 800119808-9 (Colombia) [SDNT]

GARAVITO, Doris Amelia, c/o GALAPAGOS S.A., Cali, Colombia; Cedula No. 31233463 (Colombia) (individual) [SDNT]

GARBAYA, AHMED (a.k.a. IZZ-AL-DIN, Hasan; a.k.a. SA-ID; a.k.a. SALWWAN, Samir), Lebanon; DOB 1963; POB Lebanon; citizen Lebanon (individual) [SDGT]

GARCES GARCIA, Carlos, c/o SISTEMAS INTEGRALES DEL VALLE LTDA., Cali, Colombia; Cedula No. 14949883 (Colombia); Passport 14949883 (Colombia) (individual) [SDNT]

GARCES VARGAS, Elmo, c/o INVERSIONES BETANIA LTDA., Cali, Colombia; c/o INVERSIONES EL PENON S.A., Cali, Colombia; c/o SOCOVALLE, Cali, Colombia; DOB 20 Jul 1953; Cedula No. 16581793 (Colombia) (individual) [SDNT]

GARCIA DE LA FUENTE ARRIAGA, Ignacio, c/o CUSTOMER NETWORKS S.L., Madrid, Spain; c/o GALERIA DE PORTALES S.A., Madrid, Spain; c/o SOCIEDAD INVERSORA EN PROYECTOS DE INTERNET S.A., Madrid, Spain; D.N.I. 27340558-K (Spain) (individual) [SDNT]

GARCIA DUQUE, Gustavo, Carrera 4 No. 12-20 of. 206, Cartago, Valle, Colombia; c/o INMOBILIARIA EL ESCORIAL LTDA., Cartago, Valle, Colombia; c/o INMOBILIARIA LINARES LTDA., Cartago, Valle, Colombia; DOB 30 Jun 1961; Cedula No. 16213736 (Colombia); Passport 16213736 (Colombia) (individual) [SDNT]

GARCIA GARCIA, Gabriel Alfonso, Carrera 4 No. 12-20 of. 206, Cartago, Valle, Colombia; c/o AGRICOLA DOIMA DEL NORTE DEL VALLE LTDA., Cartago, Valle, Colombia; c/o GANADERIA EL VERGEL LTDA., Cartago, Valle, Colombia; c/o GANADERIAS BILBAO LTDA., Cartago, Valle, Colombia; DOB 7 Jun 1976; Cedula No. 16230989 (Colombia); Passport 16230989 (Colombia) (individual) [SDNT]

GARCIA GARCIA, Jairo (a.k.a. GARCIA VARELA, Wilber Alirio; a.k.a. VARELA FAJARDO, Wilber Alirio; a.k.a. VARELA, Fredy; a.k.a. VARELA, Wilber; a.k.a. VARELA, Wilber Alirio; a.k.a. VARELA, Wilmer; a.k.a. “DON JAIRO”; a.k.a. “JABON”), Calle 22 No. 15-53, Armenia, Quindio, Colombia; Calle 30 No. 23B-22, Cali, Colombia; Carrera 85 No. 14A-57, Cali, Colombia; Calle 11 No. 4-442, Ofc. 722, Cali, Colombia; DOB 06 Nov 1954; POB Roldanillo, Valle, Colombia; alt. POB Armenia, Quindio, Colombia; citizen Colombia; Cedula No. 16891223 (Colombia); alt. Cedula No. 16545384 (Colombia); Passport AF427757 (Colombia) (individual) [SDNT]

GARCIA HERNANDEZ, Javier (a.k.a. HIGUERA RENTERIA, Ismael; a.k.a. LOAIZA AVENDANO, Jesus; a.k.a. ZAMBADA GARCIA, Ismael; a.k.a. ZAMBADA GARCIA, Ismael Mario; a.k.a. ZAMBADA, El Mayo); DOB 1 January 1948; POB Sinaloa, Mexico (individual) [SDNTK]

GARCIA MADERA, Jaime De Jesus, c/o CAJA SOLIDARIA, Bogota, Colombia; c/o COOPERATIVA DE TRABAJO ASOCIADO ACTIVAR, Bogota, Colombia; c/o COOPERATIVA MULTIACTIVA DE COLOMBIA FOMENTAMOS, Bogota, Colombia; c/o COPSERVIR LTDA., Bogota, Colombia; Cedula No. 13540183 (Colombia) (individual) [SDNT]

GARCIA MANTILLA, Edgar Alberto (a.k.a. GARCIA MOGAR, Edgar; a.k.a. GARCIA MONTELLA, Edgar Alberto; a.k.a. GARCIA MONTILLA, Edgar Alberto), c/o REVISTA DEL AMERICA LTDA., Cali, Colombia; c/o LABORATORIOS KRESSFOR DE COLOMBIA S.A., Bogota, Colombia; c/o COMERCIALIZACION Y FINANCIACION DE AUTOMOTORES S.A., Cali, Colombia; DOB 28 Nov 1946; Cedula No. 14936775 (Colombia); Passport AC365457 (Colombia); alt. Passport PE008603 (Colombia); alt. Passport PO564495 (Colombia); alt. Passport AA294885 (Colombia) (individual) [SDNT]

GARCIA MERA, Luis Alfredo, c/o CAJA SOLIDARIA, Bogota, Colombia; c/o COPSERVIR LTDA., Bogota, Colombia; c/o SOLUCIONES COOPERATIVAS, Bogota, Colombia; Cedula No. 16686291 (Colombia) (individual) [SDNT]

GARCIA MOGAR, Edgar (a.k.a. GARCIA MANTILLA, Edgar Alberto; a.k.a. GARCIA MONTELLA, Edgar Alberto; a.k.a. GARCIA MONTILLA, Edgar Alberto), c/o REVISTA DEL AMERICA LTDA., Cali, Colombia; c/o LABORATORIOS KRESSFOR DE COLOMBIA S.A., Bogota, Colombia; c/o COMERCIALIZACION Y FINANCIACION DE AUTOMOTORES S.A., Cali, Colombia; DOB 28 Nov 1946; Cedula No. 14936775 (Colombia); Passport AC365457 (Colombia); alt. Passport PE008603 (Colombia); alt. Passport PO564495 (Colombia); alt. Passport AA294885 (Colombia) (individual) [SDNT]

GARCIA MONTELLA, Edgar Alberto (a.k.a. GARCIA MANTILLA, Edgar Alberto; a.k.a. GARCIA MOGAR, Edgar; a.k.a. GARCIA MONTILLA, Edgar Alberto), c/o REVISTA DEL AMERICA LTDA., Cali, Colombia; c/o LABORATORIOS KRESSFOR DE COLOMBIA S.A., Bogota, Colombia; c/o COMERCIALIZACION Y FINANCIACION DE AUTOMOTORES S.A., Cali, Colombia; DOB 28 Nov 1946; Cedula No. 14936775 (Colombia); Passport AC365457 (Colombia); alt. Passport PE008603 (Colombia); alt. Passport PO564495 (Colombia); alt. Passport AA294885 (Colombia) (individual) [SDNT]

GARCIA MONTILLA, Edgar Alberto (a.k.a. GARCIA MANTILLA, Edgar Alberto; a.k.a. GARCIA MOGAR, Edgar; a.k.a. GARCIA MONTELLA, Edgar Alberto), c/o REVISTA DEL AMERICA LTDA., Cali, Colombia; c/o LABORATORIOS KRESSFOR DE COLOMBIA S.A., Bogota, Colombia; c/o COMERCIALIZACION Y FINANCIACION DE AUTOMOTORES S.A., Cali, Colombia; DOB 28 Nov 1946; Cedula No. 14936775 (Colombia); Passport AC365457 (Colombia); alt. Passport PE008603 (Colombia); alt. Passport PO564495 (Colombia); alt. Passport AA294885 (Colombia) (individual) [SDNT]

GARCIA ORDONEZ, Nubia Stella, c/o CAJA SOLIDARIA, Bogota, Colombia; c/o COPSERVIR LTDA., Bogota, Colombia; c/o MEGAPHARMA LTDA., Bogota, Colombia; Cedula No. 52031714 (Colombia) (individual) [SDNT]

GARCIA PIZARRO, Gentil Velez, c/o GALAPAGOS S.A., Cali, Colombia; Cedula No. 6616986 (Colombia) (individual) [SDNT]

GARCIA ROMERO, Audra Yamile, c/o INVHERESA S.A., Cali, Colombia; c/o ALKALA ASOCIADOS S.A., Cali, Colombia; DOB 23 Jul 1971; Cedula No. 66765096 (Colombia) (individual) [SDNT]

GARCIA SANTAMARINA DE LA TORRE, Alfredo Rafael (a.k.a. SANTAMARINA DE LA TORRE, Rafael Garcia), Panama (individual) [CUBA]

GARCIA VARELA, Luis Fernando, c/o TAURA S.A., Cali, Colombia; Cedula No. 16282923 (Colombia) (individual) [SDNT]

GARCIA VARELA, Wilber Alirio (a.k.a. GARCIA GARCIA, Jairo; a.k.a. VARELA FAJARDO, Wilber Alirio; a.k.a. VARELA, Fredy; a.k.a. VARELA, Wilber; a.k.a. VARELA, Wilber Alirio; a.k.a. VARELA, Wilmer; a.k.a. “DON JAIRO”; a.k.a. “JABON”), Calle 22 No. 15-53, Armenia, Quindio, Colombia; Calle 30 No. 23B-22, Cali, Colombia; Carrera 85 No. 14A-57, Cali, Colombia; Calle 11 No. 4-442, Ofc. 722, Cali, Colombia; DOB 06 Nov 1954; POB Roldanillo, Valle, Colombia; alt. POB Armenia, Quindio, Colombia; citizen Colombia; Cedula No. 16891223 (Colombia); alt. Cedula No. 16545384 (Colombia); Passport AF427757 (Colombia) (individual) [SDNT]

GARCIA VASQUEZ, Isabel Fernanda, c/o ALERO S.A., Cali, Colombia; Cedula No. 31983848 (Colombia) (individual) [SDNT]

GARCIA VASQUEZ, Omaira, Avenida 2 Norte No. 2N-36, Edif. Campanari Ofc. 340, Cali, Colombia; c/o FINVE S.A., Bogota, Colombia; c/o UNIDAS S.A., Cali, Colombia; DOB 26 Jan 1961; POB Cali, Valle, Colombia; Cedula No. 31870497 (Colombia); Passport 31870497 (Colombia) (individual) [SDNT]

GARCIA, Daniel, Avenida Insurgentes Sur No. 421, Bloque B Despacho 404, C.P. 06100, Mexico, D.F., Mexico; Manager, Promociones Artisticas (PROARTE) (individual) [CUBA]

GARCIA, Freddy (a.k.a. GARCIA, Fredy), c/o COMERCIALIZADORA INTERNACIONAL VALLE DE ORO S.A., Cali, Colombia; Calle 11 No. 1-07 of. 405, Cali, Colombia; c/o PROCESADORA DE POLLOS SUPERIOR S.A., Cali, Colombia; Cedula No. 79376230 (Colombia) (individual) [SDNT]

GARCIA, Fredy (a.k.a. GARCIA, Freddy), c/o COMERCIALIZADORA INTERNACIONAL VALLE DE ORO S.A., Cali, Colombia; Calle 11 No. 1-07 of. 405, Cali, Colombia; c/o PROCESADORA DE POLLOS SUPERIOR S.A., Cali, Colombia; Cedula No. 79376230 (Colombia) (individual) [SDNT]

GARGEES, Hikmat (a.k.a. BAHNAM, Hikmat Jarjes), Baghdad, Iraq; nationality Iraq; Passport 035667 (Iraq) (individual) [IRAQ2]

GARZON RESTREPO, Juan Leonardo, c/o BLANCO PHARMA S.A., Bogota, Colombia; c/o PENTACOOP LTDA., Bogota, Colombia; c/o PENTA PHARMA DE COLOMBIA S.A., Bogota, Colombia; c/o DISTRIBUIDORA MYRAMIREZ S.A., Cali, Colombia; c/o ALFA PHARMA S.A., Bogota, Colombia; c/o INVERSIONES ARA LTDA., Cali, Colombia; Carrera 7P No. 76-90, Cali, Colombia; Diagonal 53 No. 38A-20 apt. 103, Bogota, Colombia; c/o LABORATORIOS GENERICOS VETERINARIOS DE COLOMBIA S.A., Bogota, Colombia; c/o LABORATORIOS KRESSFOR DE COLOMBIA S.A., Bogota, Colombia; c/o DROGAS LA REBAJA, Cali, Colombia; c/o VALORES MOBILIARIOS DE OCCIDENTE S.A., Bogota, Colombia; c/o FARMATODO S.A., Bogota, Colombia; DOB 14 Jan 1962; Cedula No. 16663709 (Colombia) (individual) [SDNT]

GASHI, Sabit; DOB 30 Dec 1967; POB Suva Reka, Serbia and Montenegro (individual) [BALKANS]

GASOLINERAS SAN FERNANDO S.A. DE C.V., Avenida 3A y Calle Mina, Colonia Centro, Saucillo, Chihuahua, Mexico; Ciudad Camargo, Chihuahua, Mexico [SDNTK]

GAVIRIA PRICE, Juan Pablo, Carrera 4 No. 11-33 Ofc. 710, Cali, Colombia; c/o CRIADERO LA LUISA E.U., Cali, Colombia; DOB 09 Jul 1960; POB Cali, Valle, Colombia; Cedula No. 16639081 (Colombia); Passport 16639081 (Colombia) (individual) [SDNT]

GAXIOLA MEDINA, Rigoberto (a.k.a. MEDINA SAENZ, Enrique; a.k.a. MORALES GUERRERO, Juan Antonio; a.k.a. SAENZ MEDINA, Enrique), Calle Clavel No. 1406, Colonia Margarita, Culiacan, Sinaloa, Mexico; Hermosillo, Sonora, Mexico; DOB 27 Sep 1950; POB Sinaloa, Mexico; citizen Mexico; nationality Mexico; R.F.C. GAMR-501027 (Mexico) (individual) [SDNTK]

GCT (a.k.a. GROUPE COMBATTANT TUNISIEN; a.k.a. JAMA'A COMBATTANTE TUNISIEN; a.k.a. JCT; a.k.a. TUNISIAN COMBAT GROUP; a.k.a. TUNISIAN COMBATANT GROUP) [SDGT]

GEMEX AUSSENHANDELS GMBH, Hanauer Landstr. 126-128, D-6000, Frankfurt am Main 1, Germany [CUBA]

GENEGA LTDA. (a.k.a. GENERAL DE NEGOCIOS Y ADMINISTRACION LTDA.), Calle 10 No. 4-47 piso 18, Cali, Colombia; Carrera 3 No. 11-32 of. 939, Cali, Colombia; NIT # 805006744-9 (Colombia) [SDNT]

GENERAL DE NEGOCIOS Y ADMINISTRACION LTDA. (a.k.a. GENEGA LTDA.), Calle 10 No. 4-47 piso 18, Cali, Colombia; Carrera 3 No. 11-32 of. 939, Cali, Colombia; NIT # 805006744-9 (Colombia) [SDNT]

GENERAL NICKEL SA (a.k.a. LA COMPANIA GENERAL DE NIQUEL), Cuba [CUBA]

GENERICOS ESPECIALES S.A. (a.k.a. GENES S.A.), Carrera 42C No. 22C-36, Bogota, Colombia; NIT # 830050661-3 (Colombia) [SDNT]

GENES S.A. (a.k.a. GENERICOS ESPECIALES S.A.), Carrera 42C No. 22C-36, Bogota, Colombia; NIT # 830050661-3 (Colombia) [SDNT]

GEOPLASTICOS S.A. (f.k.a. COLOMBIANA DE BOLSAS S.A.), Calle 24 No. 4-31, Cali, Colombia; NIT # 890931876-9 (Colombia) [SDNT]

GESTORA MERCANTIL S.A., Avenida 7 Norte No. 23N-81, Cali, Colombia; Avenida 7 Norte No. 23-77, Cali, Colombia; NIT # 800154869-6 (Colombia) [SDNT]

GESTORAS PRO-AMNISTIA (a.k.a. ASKATASUNA), Spain [SDGT]

GEX EXPLORE S. DE R.L. DE C.V., Avenida David Alfaro Siqueiros 2789-102, Colonia Zona Rio, Tijuana, Baja California, Mexico; Avenida David Alfaro 25, CP 22320, Tijuana, Baja California, Mexico; Calle Nezahualcoyotyl No. 1660, CP 22320, Colonia Zona Rio, Tijuana, Baja California, Mexico [SDNTK]

GEZIRA AUTOMOBILE COMPANY (a.k.a. EL GEZIRA AUTOMOBILE COMPANY), P.O. Box 232, Khartoum, Sudan [SUDAN]

GEZIRA TANNERY, Gezira, Sudan [SUDAN]

GEZIRA TRADE & SERVICES COMPANY LIMITED, P.O. Box 215, Khartoum, Sudan; P.O. Box 17, Port Sudan, Sudan; El Obeid, Sudan; Gedarit, Sudan; Juba, Sudan; Kosti, Sudan; Sennar, Sudan; Wad Medani, Sudan [SUDAN]

GHAFUR, Humam Abdel Khaleq Abdel (a.k.a. ABD AL-GHAFUR, Humam Abd al-Khaliq; a.k.a. 'ABD AL-RAHMAN, Humam 'abd al-Khaliq; a.k.a. ABD-AL-GHAFUR, Humam abd-al-Khaliq; a.k.a. RASHID, Humam 'abd al-Khaliq); DOB 1945; POB ar-Ramadi, Iraq; nationality Iraq; Former Minister of Higher Education and Research; M0018061/104,issued 12 September 1993 (individual) [IRAQ2]

GHAILANI, Abubakary Khalfan Ahmed (a.k.a. AHMAD, Abu Bakr; a.k.a. “AHMED THE TANZANIAN”; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. “FOOPIE”; a.k.a. “FUPI”; a.k.a. GHAILANI, Ahmed; a.k.a. GHAILANI, Ahmed Khalfan; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

GHAILANI, Ahmed (a.k.a. AHMAD, Abu Bakr; a.k.a. “AHMED THE TANZANIAN”; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. “FOOPIE”; a.k.a. “FUPI”; a.k.a. GHAILANI, Abubakary Khalfan Ahmed; a.k.a. GHAILANI, Ahmed Khalfan; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

GHAILANI, Ahmed Khalfan (a.k.a. AHMAD, Abu Bakr; a.k.a. “AHMED THE TANZANIAN”; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. “FOOPIE”; a.k.a. “FUPI”; a.k.a. GHAILANI, Abubakary Khalfan Ahmed; a.k.a. GHAILANI, Ahmed; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

GHALIB, Nayif Shindakh Thamir; nationality Iraq; Ba'th party regional command chairman, an-Najaf; member; Iraqi National Assembly (individual) [IRAQ2]

GHARIB (a.k.a. 'ABD AL-KARIM; a.k.a. ABU AL-MU'TAZ; a.k.a. AL-HABIB; a.k.a. AL-KHALAYLAH, Ahmad Fadil Nazzal; a.k.a. AL-MUHAJIR; a.k.a. AL-ZARQAWI, Abu Mus'Ab; a.k.a. KHALAILAH, Ahmed Fadeel; a.k.a. KHALAYLEH, Fedel Nazzel; a.k.a. “MOUHANAD”; a.k.a. “MOUHANNAD”; a.k.a. “MUHANNAD”; a.k.a. “RASHID”); DOB 20 Oct 1966; POB Zarqa, Jordan; citizen Jordan; National ID No. 9661031030 (Jordan); Passport Z264968 (Jordan) (individual) [SDGT]

GHARIB, Fadil Mahmud (a.k.a. AL-MASHAIKHI, Gharib Muhammad Fazel); DOB 1944; POB Dujail, Iraq; nationality Iraq; Ba'th party regional command chairman, Babil; chairman, General Federation of Iraqi Trade Unions (individual) [IRAQ2]

GHAZALI, Rustum, Syria; DOB circa 1949; nationality Syria; Chief of Syrian Military Intelligence for Lebanon (individual) [SYRIA]

GHILANI, Ahmad Khalafan (a.k.a. AHMAD, Abu Bakr; a.k.a. “AHMED THE TANZANIAN”; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. “FOOPIE”; a.k.a. “FUPI”; a.k.a. GHAILANI, Abubakary Khalfan Ahmed; a.k.a. GHAILANI, Ahmed; a.k.a. GHAILANI, Ahmed Khalfan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

GHUFRON, Ali (a.k.a. AL MUKHLAS, Ali Gufron; a.k.a. GUFRON, Ali; a.k.a. HAQ, Huda bin Abdul; a.k.a. MUCHLAS; a.k.a. MUKHLAS; a.k.a. MUKLAS; a.k.a. “SOFWAN”); DOB 9 Feb 1960; alt. DOB 2 Feb 1960; POB Solokuro subdistrict, Lamongan district, East Java province, Indonesian; nationality Indonesia (individual) [SDGT]

GI (a.k.a. AL-GAMA'AT; a.k.a. EGYPTIAN AL-GAMA'AT AL-ISLAMIYYA; a.k.a. GAMA'A AL-ISLAMIYYA; a.k.a. IG; a.k.a. ISLAMIC GAMA'AT; a.k.a. ISLAMIC GROUP) [SDT] [FTO] [SDGT]

GIA (a.k.a. AL-JAMA'AH AL-ISLAMIYAH AL-MUSALLAH; a.k.a. ARMED ISLAMIC GROUP; a.k.a. GROUPEMENT ISLAMIQUE ARME) [FTO] [SDGT]

GIAMX LTDA., Calle 80 No. 37-30, Bogota, Colombia; NIT # 830095943-9 (Colombia) [SDNT]

GIBSON, Myrtle; DOB 03 NOV 1952; Former Liberian Senator; advisor to former President of Liberia Charles Taylor (individual) [LIBERIA]

GICM (a.k.a. GROUPE ISLAMIQUE COMBATTANT MAROCAIN; a.k.a. MOROCCAN ISLAMIC COMBATANT GROUP) [SDGT]

GIL GARCIA, Jose Alejandro, Avenida Ejercito Trigarante 7865-J, Infonavit Cuchanilla 22680, Tijuana, Baja California, Mexico; Avenida Altabrisa 15401, Fraccionamiento Altabrisa, Otay Universidad, Tijuana, Baja California, Mexico; c/o Farmacia Vida Suprema, S.A. DE C.V., Tijuana, Baja California, Mexico; c/o Distribuidora Imperial De Baja California, S.A. de C.V., Tijuana, Baja California, Mexico; c/o Administradora De Inmuebles Vida, S.A. de C.V., Tijuana, Baja California, Mexico; c/o ADP, S.C., Tijuana, Baja California, Mexico; DOB 22 Jan 1952; POB Culiacan, Sinaloa, Mexico; Credencial electoral 103624690069 (Mexico); R.F.C. GIGA-520122 (Mexico) (individual) [SDNTK]

GIL OSORIO, Alfonso, c/o LABORATORIOS KRESSFOR DE COLOMBIA S.A., Bogota, Colombia; c/o DISTRIBUIDORA MIGIL LTDA., Cali, Colombia; c/o BLANCO PHARMA S.A., Bogota, Colombia; c/o LABORATORIOS BLAIMAR DE COLOMBIA S.A., Bogota, Colombia; c/o FARMATODO S.A., Bogota, Colombia; c/o SERVICIOS SOCIALES LTDA., Barranquilla, Colombia; c/o DISTRIBUIDORA DE DROGAS CONDOR LTDA., Bogota, Colombia; c/o DEPOSITO POPULAR DE DROGAS S.A., Cali, Colombia; c/o DISTRIBUIDORA DE DROGAS LA REBAJA S.A., Bogota, Colombia; c/o D'CACHE S.A., Cali, Colombia; DOB 17 Dec 46; alt. DOB 17 Dec 40; Cedula No. 14949279 (Colombia); Passport 14949229 (Colombia); alt. Passport 14949279 (Colombia); alt. Passport 14949289 (Colombia); alt. Passport AC342060 (Colombia) (individual) [SDNT]

GIL RODRIGUEZ, Ana Maria, c/o AMPARO R. DE GIL Y CIA. S.C.S., Cali, Colombia; c/o DROBLAM S.A., Cali, Colombia; DOB 24 Aug 1978; Cedula No. 67020296 (Colombia); Passport 67020296 (Colombia) (individual) [SDNT]

GIL RODRIGUEZ, Angela Maria, c/o AMPARO R. DE GIL Y CIA. S.C.S., Cali, Colombia; c/o DROBLAM S.A., Cali, Colombia; DOB 21 Feb 1980; Cedula No. 52721666 (Colombia); Passport 52721666 (Colombia) (individual) [SDNT]

GIL RODRIGUEZ, Juan Felipe, c/o AMPARO R. DE GIL Y CIA. S.C.S., Cali, Colombia; c/o DROBLAM S.A., Cali, Colombia; DOB 7 Apr 1975; Cedula No. 94446642 (Colombia); Passport 94446642 (Colombia) (individual) [SDNT]

GIL, Josef (a.k.a. GILBERT, Joseph; a.k.a. GILBOA, Joseph; a.k.a. GILBOA, Joseph Papzian; a.k.a. GILBOA, Yosef); DOB 8 Apr 43; POB Israel (individual) [SDNTK]

GILBERT, Joseph (a.k.a. GIL, Josef; a.k.a. GILBOA, Joseph; a.k.a. GILBOA, Joseph Papzian; a.k.a. GILBOA, Yosef); DOB 8 Apr 43; POB Israel (individual) [SDNTK]

GILBOA, Joseph (a.k.a. GIL, Josef; a.k.a. GILBERT, Joseph; a.k.a. GILBOA, Joseph Papzian; a.k.a. GILBOA, Yosef); DOB 8 Apr 43; POB Israel (individual) [SDNTK]

GILBOA, Joseph Papzian (a.k.a. GIL, Josef; a.k.a. GILBERT, Joseph; a.k.a. GILBOA, Joseph; a.k.a. GILBOA, Yosef); DOB 8 Apr 43; POB Israel (individual) [SDNTK]

GILBOA, Yosef (a.k.a. GIL, Josef; a.k.a. GILBERT, Joseph; a.k.a. GILBOA, Joseph; a.k.a. GILBOA, Joseph Papzian); DOB 8 Apr 43; POB Israel (individual) [SDNTK]

GILMAN FRANCO, Maria, c/o TAURA S.A., Cali, Colombia; Cedula No. 22103099 (Colombia) (individual) [SDNT]

GIMBER INVESTING CORPORATION, Virgin Islands, British [SDNT]

GINEID SUGAR FACTORY, P.O. Box 1, Gineid, Sudan [SUDAN]

GIRALDO ARBELAEZ, Fernando, c/o INMOBILIARIA U.M.V. S.A., Cali, Colombia; DOB 27 Nov 1952; Cedula No. 16249351 (Colombia) (individual) [SDNT]

GIRALDO RUBIO, Marleni, c/o MAGEN LTDA., Bogota, Colombia; c/o DISFOGEN LTDA., Bogota, Colombia; Cedula No. 51760752 (Colombia); Passport 51760752 (Colombia) (individual) [SDNT]

GIRALDO SARRIA, Octavio, c/o INMOBILIARIA U.M.V. S.A., Cali, Colombia; DOB 15 Nov 1967; Cedula No. 16281770 (Colombia) (individual) [SDNT]

GIRALDO SARRIA, Rosa Amelia, c/o INMOBILIARIA U.M.V. S.A., Cali, Colombia; DOB 18 Aug 1974; Cedula No. 43821679 (Colombia) (individual) [SDNT]

GIRALDO SERNA, Hernan; DOB 16 Oct 1948; Cedula No. 12531356 (Colombia) (individual) [SDNTK]

GLAJAN S.A., Transversal 29 No. 39-92, Bogota, Colombia; NIT # 830023266-2 (Colombia) [SDNT]

GLOBAL FILMS, S.A. DE C.V., Blvd. Fundadores 104-11A, Colonia Valle del Rubi, Tijuana, Baja California, Mexico; R.F.C. GFI-961219-9J4 (Mexico) [SDNTK]

GLOBAL MARINE OVERSEAS, INC., Panama [CUBA]

GLOBAL RELIEF FOUNDATION, INC., P.O. Box 1406, Bridgeview, IL 60455; U.S. FEIN 36-3804626 [SDGT]

GLOBAL RELIEF FOUNDATION, INC. (a.k.a. FONDATION SECOURS MONDIAL A.S.B.L.; a.k.a. FONDATION SECOURS MONDIAL VZW; a.k.a. FONDATION SECOURS MONDIAL 'WORLD RELIEF'; a.k.a. FONDATION SECOURS MONDIAL-BELGIQUE A.S.B.L.; a.k.a. FONDATION SECOURS MONDIAL-KOSOVA; a.k.a. FSM; a.k.a. SECOURS MONDIAL DE FRANCE; a.k.a. STICHTING WERELDHULP-BELGIE, V.Z.W.), Rruga e Kavajes, Building No. 3, Apartment No. 61, P.O. Box 2892, Tirana, Albania; Vaatjesstraat, 29, 2580 Putte, Belgium; Rue des Bataves 69, 1040 Etterbeek, Brussels, Belgium; P.O. Box 6, 1040 Etterbeek 2, Brussels, Belgium; Mula Mustafe Baseskije Street No. 72, Sarajevo, Bosnia and Herzegovina; Put Mladih Muslimana Street 30/A, Sarajevo, Bosnia and Herzegovina; Rr. Skenderbeu 76, Lagjja Sefa, Gjakova, Serbia and Montenegro; Ylli Morina Road, Djakovica, Serbia and Montenegro; House 267 Street No. 54, Sector F-11/4, Islamabad, Pakistan; Saray Cad. No. 37 B Blok, Yesilyurt Apt. 2/4, Sirinevler, Turkey; Afghanistan; Azerbaijan; Bangladesh; Chechnya, Russia; China; Eritrea; Ethiopia; Georgia; India; Ingushetia, Russia; Iraq; Jordan; Kashmir, undetermined; Lebanon; Gaza Strip, undetermined; Sierra Leone; Somalia; Syria; 49 rue du Lazaret, 67100 Strasbourg, France; West Bank; V.A.T. Number BE 454,419,759 [SDGT]

GNPOC (a.k.a. GREATER NILE PETROLEUM OPERATING COMPANY LIMITED), Hotel Palace, Room 420, El Nil Avenue, Khartoum, Sudan; El Harr Oilfield, Muglad Basin, Sudan; El Nar Oilfield, Muglad Basin, Sudan; El Toor Oilfield, Muglad Basin, Sudan; Heglig Oilfield, Muglad Basin, Sudan; Heglig Processing Facility, Muglad Basin, Sudan; Kaikang Oilfield, Muglad Basin, Sudan; Toma South Oilfield, Muglad Basin, Sudan; Unity Oilfield, Muglad Basin, Sudan; Pipeline, Heglig via El-Obeid to Port Sudan, Sudan; Red Sea Export Terminal, Marsa al-Basha'ir, Sudan [SUDAN]

GO CUBA PLUS (a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a.

WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

GOCHE, Nicholas Tasunungurwa; DOB 1 Aug 1946; Minister of Public Works, Labour and Social Welfare (individual) [ZIMBABWE]

GOGEASCOECHEA ARRONATEGUI, Eneko; DOB 29 Apr 1967; POB Guernica, Vizacaya Province, Spain; D.N.I. 44.556.097 (Spain); Member ETA (individual) [SDGT]

GOIRICELAYA GONZALEZ, Cristina; DOB 23 Dec 1967; POB Vergara, Guipuzcoa Province, Spain; D.N.I. 16.282.556 (Spain); Member ETA (individual) [SDGT]

GOLDEN COMET NAVIGATION CO. LTD., c/o EMPRESA DE NAVEGACION MAMBISA, Apartado 543, San Ignacio 104, Havana, Cuba [CUBA]

GOLOVANOV, Viktar Grigoriyevich (a.k.a. GOLOVANOV, Viktar Hryhoryavich; a.k.a. GOLOVANOV, Viktar Ryhoravich; a.k.a. GOLOVANOV, Viktor Grigoriyevich; a.k.a. GOLOVANOV, Viktor Hryhoryavich; a.k.a. GOLOVANOV, Viktor Ryhoravich; a.k.a. HALAVANAU , Viktor Hryhoryavich; a.k.a. HALAVANAU, Viktar Grigoriyevich; a.k.a. HALAVANAU, Viktar Hryhoryavich; a.k.a. HALAVANAU, Viktar Ryhoravich; a.k.a. HALAVANAU, Viktor Grigoriyevich; a.k.a. HALAVANAU, Viktor Ryhoravich); DOB 1952; POB Borisov, Belarus; Minister of Justice (individual) [BELARUS]

GOLOVANOV, Viktar Hryhoryavich (a.k.a. GOLOVANOV, Viktar Grigoriyevich; a.k.a. GOLOVANOV, Viktar Ryhoravich; a.k.a. GOLOVANOV, Viktor Grigoriyevich; a.k.a. GOLOVANOV, Viktor Hryhoryavich; a.k.a. GOLOVANOV, Viktor Ryhoravich; a.k.a. HALAVANAU , Viktor Hryhoryavich; a.k.a. HALAVANAU, Viktar Grigoriyevich; a.k.a. HALAVANAU, Viktar Hryhoryavich; a.k.a. HALAVANAU, Viktar Ryhoravich; a.k.a. HALAVANAU, Viktor Grigoriyevich; a.k.a. HALAVANAU, Viktor Ryhoravich); DOB 1952; POB Borisov, Belarus; Minister of Justice (individual) [BELARUS]

GOLOVANOV, Viktar Ryhoravich (a.k.a. GOLOVANOV, Viktar Grigoriyevich; a.k.a. GOLOVANOV, Viktar Hryhoryavich; a.k.a. GOLOVANOV, Viktor Grigoriyevich; a.k.a. GOLOVANOV, Viktor Hryhoryavich; a.k.a. GOLOVANOV, Viktor Ryhoravich; a.k.a. HALAVANAU , Viktor Hryhoryavich; a.k.a. HALAVANAU, Viktar Grigoriyevich; a.k.a. HALAVANAU, Viktar Hryhoryavich; a.k.a. HALAVANAU, Viktar Ryhoravich; a.k.a. HALAVANAU, Viktor Grigoriyevich; a.k.a. HALAVANAU, Viktor Ryhoravich); DOB 1952; POB Borisov, Belarus; Minister of Justice (individual) [BELARUS]

GOLOVANOV, Viktor Grigoriyevich (a.k.a. GOLOVANOV, Viktar Grigoriyevich; a.k.a. GOLOVANOV, Viktar Hryhoryavich; a.k.a. GOLOVANOV, Viktar Ryhoravich; a.k.a. GOLOVANOV, Viktor Hryhoryavich; a.k.a. GOLOVANOV, Viktor Ryhoravich; a.k.a. HALAVANAU , Viktor Hryhoryavich; a.k.a. HALAVANAU, Viktar Grigoriyevich; a.k.a. HALAVANAU, Viktar Hryhoryavich; a.k.a. HALAVANAU, Viktar Ryhoravich; a.k.a. HALAVANAU, Viktor Grigoriyevich; a.k.a. HALAVANAU, Viktor Ryhoravich); DOB 1952; POB Borisov, Belarus; Minister of Justice (individual) [BELARUS]

GOLOVANOV, Viktor Hryhoryavich (a.k.a. GOLOVANOV, Viktar Grigoriyevich; a.k.a. GOLOVANOV, Viktar Hryhoryavich; a.k.a. GOLOVANOV, Viktar Ryhoravich; a.k.a. GOLOVANOV, Viktor Grigoriyevich; a.k.a. GOLOVANOV, Viktor Ryhoravich; a.k.a. HALAVANAU , Viktor Hryhoryavich; a.k.a. HALAVANAU, Viktar Grigoriyevich; a.k.a. HALAVANAU, Viktar Hryhoryavich; a.k.a. HALAVANAU, Viktar Ryhoravich; a.k.a. HALAVANAU, Viktor Grigoriyevich; a.k.a. HALAVANAU, Viktor Ryhoravich); DOB 1952; POB Borisov, Belarus; Minister of Justice (individual) [BELARUS]

GOLOVANOV, Viktor Ryhoravich (a.k.a. GOLOVANOV, Viktar Grigoriyevich; a.k.a. GOLOVANOV, Viktar Hryhoryavich; a.k.a. GOLOVANOV, Viktar Ryhoravich; a.k.a. GOLOVANOV, Viktor Grigoriyevich; a.k.a. GOLOVANOV, Viktor Hryhoryavich; a.k.a. HALAVANAU , Viktor Hryhoryavich; a.k.a. HALAVANAU, Viktar Grigoriyevich; a.k.a. HALAVANAU, Viktar Hryhoryavich; a.k.a. HALAVANAU, Viktar Ryhoravich; a.k.a. HALAVANAU, Viktor Grigoriyevich; a.k.a. HALAVANAU, Viktor Ryhoravich); DOB 1952; POB Borisov, Belarus; Minister of Justice (individual) [BELARUS]

GOMEZ ALVAREZ, Sor Teresa, c/o FUNDACION PARA LA PAZ DE CORDOBA, Monteria, Cordoba, Colombia; DOB 27 Jun 1956; POB Amalfi, Antioquia, Colombia; Cedula No. 21446537 (Colombia); Passport 21446537 (Colombia) (individual) [SDNTK]

GOMEZ APONTE, Laura Victoria, Carrera 4A No. 63N-29, Cali, Colombia; c/o LADRILLERA LA CANDELARIA LTDA., Cali, Colombia; DOB 31 Oct 1965; POB Cali, Valle, Colombia; Cedula No. 31937650 (Colombia); Passport 31937650 (Colombia) (individual) [SDNT]

GOMEZ BELTRAN, Jorge, c/o LABORATORIOS GENERICOS VETERINARIOS, Bogota, Colombia; DOB 5 Jan 1950; Cedula No. 19091811 (Colombia) (individual) [SDNT]

GOMEZ BERRIO, Holmes de Jesus (a.k.a. GOMEZ BERRIO, Olmes de Jesus), Carrera 1 No. 18-52, Cali, Colombia; c/o INVERSIONES INVERVALLE S.A., Cali, Colombia; c/o INVERSIONES Y CONSTRUCCIONES VALLE S.A., Cali, Colombia; DOB 15 Dec 1961; Cedula No. 73105133 (Colombia) (individual) [SDNT]

GOMEZ BERRIO, Olmes de Jesus (a.k.a. GOMEZ BERRIO, Holmes de Jesus), Carrera 1 No. 18-52, Cali, Colombia; c/o INVERSIONES INVERVALLE S.A., Cali, Colombia; c/o INVERSIONES Y CONSTRUCCIONES VALLE S.A., Cali, Colombia; DOB 15 Dec 1961; Cedula No. 73105133 (Colombia) (individual) [SDNT]

GOMEZ BUSTAMANTE, Luis Hernando, Km 7 Via Cartago-Obando, Hacienda El Vergel, Cartago, Colombia; Km 12 Via Santa Ana Molina, Hacienda Doima, Cartago, Colombia; c/o AGRICOLA DOIMA DEL NORTE DEL VALLE LTDA., Cartago, Valle, Colombia; c/o GANADERIA EL VERGEL LTDA., Cartago, Valle, Colombia; c/o GANADERIAS BILBAO LTDA., Cartago, Valle, Colombia; c/o INMOBILIARIA EL ESCORIAL LTDA., Cartago, Valle, Colombia; c/o INMOBILIARIA LINARES LTDA., Cartago, Valle, Colombia; c/o INMOBILIARIA PASADENA LTDA., Cartago, Valle, Colombia; c/o ORGANIZACION LUIS HERNANDO GOMEZ BUSTAMANTE Y CIA. S.C.S., Cartago, Valle, Colombia; c/o VISCAYA LTDA., Cartago, Valle, Colombia; DOB 14 Mar 1958; POB El Aguila, Valle, Colombia; Cedula No. 16209410 (Colombia); Passport 16209410 (Colombia) (individual) [SDNT]

GOMEZ CHAVEZ, Gabriel (a.k.a. GONZALEZ LOPEZ, Gregorio; a.k.a. GONZALEZ QUIRARTE, Eduardo; a.k.a. GONZALEZ QUIRARTE, Jose; a.k.a. GONZALEZ QUIRARTE, Lalo; a.k.a. ORELLANA ERAZO, Hector Manuel); DOB 28 August 1962; alt. DOB 20 August 1962; POB Jalisco Mexico; Passport 96140045817 (Mexico); alt. Passport 97380018185 (Mexico); SSN 550-63-9593 (United States) (individual) [SDNTK]

GOMEZ GALINDO, Omaira, Apartado Aereo 38028, Cali, Colombia; Avenida 6N No. 38-90, Cali, Colombia; c/o CONSTRUCTORA GOPEVA LTDA., Cali, Colombia; DOB 12 Dec 1951; Cedula No. 31299825 (Colombia) (individual) [SDNT]

GOMEZ GOMEZ, Viviana, Carrera 4 No. 12-20 of. 206, Cartago, Valle, Colombia; c/o AGRICOLA DOIMA DEL NORTE DEL VALLE LTDA., Cartago, Valle, Colombia; c/o INMOBILIARIA PASADENA LTDA., Cartago, Valle, Colombia; c/o ORGANIZACION LUIS HERNANDO GOMEZ BUSTAMANTE Y CIA. S.C.S., Cartago, Valle, Colombia; c/o VISCAYA LTDA., Cartago, Valle, Colombia; DOB 17 Oct 1982; NIT # 681946748-1 (Colombia) (individual) [SDNT]

GOMEZ JARAMILLO, Luis Fernando, c/o INMOBILIARIA U.M.V. S.A., Cali, Colombia; DOB 23 Aug 1965; Cedula No. 16716914 (Colombia) (individual) [SDNT]

GOMEZ JARAMILLO, Olga Cecilia, Carrera 4 No. 12-20 of. 206, Cartago, Valle, Colombia; c/o AGRICOLA DOIMA DEL NORTE DEL VALLE LTDA., Cartago, Valle, Colombia; c/o GANADERIA EL VERGEL LTDA., Cartago, Valle, Colombia; c/o INMOBILIARIA EL ESCORIAL LTDA., Cartago, Valle, Colombia; c/o INMOBILIARIA LINARES LTDA., Cartago, Valle, Colombia; c/o INMOBILIARIA PASADENA LTDA., Cartago, Valle, Colombia; c/o ORGANIZACION LUIS HERNANDO GOMEZ BUSTAMANTE Y CIA. S.C.S., Cartago, Valle, Colombia; c/o VISCAYA LTDA., Cartago, Valle, Colombia; DOB 29 Feb 1956; Cedula No. 31398070 (Colombia); Passport 31398070 (Colombia) (individual) [SDNT]

GOMEZ PABON, Humberto Henoc, c/o COPSERVIR LTDA., Bogota, Colombia; c/o TRIMARK LTDA., Bogota, Colombia; Cedula No. 7557394 (Colombia) (individual) [SDNT]

GOMEZ POVEDA, Gustavo, c/o C A V J CORPORATION LTDA., Bogota, Colombia; DOB 8 Nov 1960; Cedula No. 19416811 (Colombia); Passport 19416811 (Colombia) (individual) [SDNT]

GOMEZ QUINTERO, Carlos Alberto, c/o FREXCO S.A., La Union, Valle, Colombia; Calle 14 No. 4-124, La Union, Valle, Colombia; Factoria La Rivera, La Union, Valle, Colombia; c/o CASA GRAJALES S.A., La Union, Valle, Colombia; c/o GRAJALES S.A., La Union, Valle, Colombia; c/o INVERSIONES SANTA CECILIA S.C.S., La Union, Valle, Colombia; c/o INVERSIONES SANTA MONICA LTDA., La Union, Valle, Colombia; DOB 23 Jan 1957; POB Palmira, Valle, Colombia; Cedula No. 6355791 (Colombia); Passport AH411417 (Colombia) (individual) [SDNT]

GOMEZ SUAREZ, Jose Alonso, c/o COOPDISAN, Bucaramanga, Colombia; c/o DROGAS LA REBAJA BUCARAMANGA S.A., Bucaramanga, Colombia; DOB 8 Jan 1956; Cedula No. 91066409 (Colombia); Passport 91066409 (Colombia) (individual) [SDNT]

GOMEZ VIVAS, Manuel Antonio, c/o GANADERA LTDA., Cali, Colombia; DOB 3 Sep 1963; Cedula No. 7921814 (Colombia) (individual) [SDNT]

GOMEZ, Teresa, c/o CAJA SOLIDARIA, Bogota, Colombia; c/o COOPIFARMA, Bucaramanga, Colombia; c/o COPSERVIR LTDA., Bogota, Colombia; c/o FARMAVISION LTDA., Bogota, Colombia; Carrera 71 No. 7E-39, Bogota, Colombia; Cedula No. 63347044 (Colombia) (individual) [SDNT]

GONGORA ALARCON, Hernando, c/o TAURA S.A., Cali, Colombia; Cedula No. 19298944 (Colombia) (individual) [SDNT]

GONO, Gideon; DOB 29 Nov 1959; Passport AD000854 (Zimbabwe); Governor of the Reserve Bank of Zimbabwe (individual) [ZIMBABWE]

GONO, Hellin Mushanyuri; DOB 6 May 1962; Passport AN548299 (Zimbabwe); Spouse of Gideon Gono (individual) [ZIMBABWE]

GONZALES, Hernan (a.k.a. ZEVALLOS GONZALES, Fernando Melciades; a.k.a. ZEVALLOS GONZALEZ, Fernando); DOB 8 Jul 1957; POB Juanjui, San Martin, Peru; LE Number 07552116 (Peru) (individual) [SDNTK]

GONZALEZ ALARCON, Sandra Judith, c/o CODISA, Bogota, Colombia; c/o FARMACOOP, Bogota, Colombia; DOB 7 Jul 1970; Cedula No. 52551222 (Colombia); Passport 52551222 (Colombia) (individual) [SDNT]

GONZALEZ BENITEZ, Olga Patricia, Hacienda Coque, Cartago, Colombia; Carrera 4 No. 16-04 apt. 303, Cartago, Colombia; c/o AGRICOLA GANADERA HENAO GONZALEZ Y CIA. S.C.S., Cartago, Colombia; c/o DESARROLLOS COMERCIALES E INDUSTRIALES HENAO GONZALEZ Y CIA. S.C.S., Cartago, Colombia; Avenida 4 Oeste No. 5-97 Apt. 1001, Cali, Colombia; c/o COMPANIA AGROINVERSORA HENAGRO LTDA., Cartago, Colombia; DOB 4 Aug 65; POB Cartago, Valle Colombia; Cedula No. 29503761 (Colombia); Passport AH567983 (Colombia); alt. Passport 29503761 (Colombia) (individual) [SDNT]

GONZALEZ FIALLO, Humberto, c/o CAJA SOLIDARIA, Bogota, Colombia; c/o COPSERVIR LTDA., Bogota, Colombia; c/o FARMAVISION LTDA., Bogota, Colombia; Cedula No. 3746199 (Colombia) (individual) [SDNT]

GONZALEZ LIZALDA, Maria Lorena, c/o INVERSIONES Y CONSTRUCCIONES ATLAS LTDA., Cali, Colombia; DOB 20 Jul 1969; Cedula No. 31992548 (Colombia) (individual) [SDNT]

GONZALEZ LOPEZ, Gregorio (a.k.a. GOMEZ CHAVEZ, Gabriel; a.k.a. GONZALEZ QUIRARTE, Eduardo; a.k.a. GONZALEZ QUIRARTE, Jose; a.k.a. GONZALEZ QUIRARTE, Lalo; a.k.a. ORELLANA ERAZO, Hector Manuel); DOB 28 August 1962; alt. DOB 20 August 1962; POB Jalisco Mexico; Passport 96140045817 (Mexico); alt. Passport 97380018185 (Mexico); SSN 550-63-9593 (United States) (individual) [SDNTK]

GONZALEZ MARTINEZ, Francisco Javier, c/o ADMINISTRADORA DE SERVICIOS VARIOS CALIMA S.A., Cali, Colombia; c/o CHAMARTIN S.A., Cali, Colombia; c/o SERVICIOS DE LA SABANA E.U., Bogota, Colombia; Cedula No. 16693353 (Colombia); Passport 16693353 (Colombia) (individual) [SDNT]

GONZALEZ MUNOZ, Daniel, c/o MEGA DOLAR, S.A. DE C.V., Tijuana, Baja California, Mexico; Blvd. Cuahutemoc 1499 L C 7BI, Colonia Zona Rio, Tijuana, Baja California, Mexico; Calle Carrasco 3895 No. 2, Chapultepec, Tijuana, Baja California, Mexico; c/o MULTISERVICIOS BRAVIO, S.A. DE C.V., Tijuana, Baja California, Mexico; c/o MULTISERVICIOS DEL NOROESTE DE MEXICO, S.A. DE C.V., Tijuana, Baja California, Mexico; DOB 20 Jun 1958; POB Ensenada, Baja California, Mexico; R.F.C. GOMD-580620-SX9 (Mexico) (individual) [SDNTK]

GONZALEZ QUINTERO, Melba Patricia, c/o DISTRIBUIDORA DE DROGAS CONDOR S.A., Bogota, Colombia; c/o COINTERCOS S.A., Bogota, Colombia; c/o FIDUSER LTDA., Bogota, Colombia; c/o AMERICANA DE COSMETICOS S.A., Bogota, Colombia; c/o COSMEPOP, Bogota, Colombia; c/o LATINA DE COSMETICOS S.A. Y DISTRIBUCIONES S.A., Bogota, Colombia; DOB 24 Dec 1971; Cedula No. 35415232 (Colombia); Passport 35415232 (Colombia) (individual) [SDNT]

GONZALEZ QUIONES, Jorge (a.k.a. ALCIDES MAGANA, Ramon; a.k.a. ALCIDES MAGANE, Ramon; a.k.a. ALCIDES MAYENA, Ramon; a.k.a. ALCIDEZ MAGANA, Ramon; a.k.a. MAGANA ALCIDES, Ramon; a.k.a. MAGANA, Jorge; a.k.a. MAGNA ALCIDEDES, Ramon; a.k.a. MATA, Alcides; a.k.a. RAMON MAGANA, Alcedis; a.k.a. RAMON MAGANA, Alcides; a.k.a. ROMERO, Antonio); DOB 4 Sep 57 (individual) [SDNTK]

GONZALEZ QUIRARTE, Eduardo (a.k.a. GOMEZ CHAVEZ, Gabriel; a.k.a. GONZALEZ LOPEZ, Gregorio; a.k.a. GONZALEZ QUIRARTE, Jose; a.k.a. GONZALEZ QUIRARTE, Lalo; a.k.a. ORELLANA ERAZO, Hector Manuel); DOB 28 August 1962; alt. DOB 20 August 1962; POB Jalisco Mexico; Passport 96140045817 (Mexico); alt. Passport 97380018185 (Mexico); SSN 550-63-9593 (United States) (individual) [SDNTK]

GONZALEZ QUIRARTE, Jose (a.k.a. GOMEZ CHAVEZ, Gabriel; a.k.a. GONZALEZ LOPEZ, Gregorio; a.k.a. GONZALEZ QUIRARTE, Eduardo; a.k.a. GONZALEZ QUIRARTE, Lalo; a.k.a. ORELLANA ERAZO, Hector Manuel); DOB 28 August 1962; alt. DOB 20 August 1962; POB Jalisco Mexico; Passport 96140045817 (Mexico); alt. Passport 97380018185 (Mexico); SSN 550-63-9593 (United States) (individual) [SDNTK]

GONZALEZ QUIRARTE, Lalo (a.k.a. GOMEZ CHAVEZ, Gabriel; a.k.a. GONZALEZ LOPEZ, Gregorio; a.k.a. GONZALEZ QUIRARTE, Eduardo; a.k.a. GONZALEZ QUIRARTE, Jose; a.k.a. ORELLANA ERAZO, Hector Manuel); DOB 28 August 1962; alt. DOB 20 August 1962; POB Jalisco Mexico; Passport 96140045817 (Mexico); alt. Passport 97380018185 (Mexico); SSN 550-63-9593 (United States) (individual) [SDNTK]

GONZALEZ ROBLEDO, Julio Cesar, c/o LABORATORIOS GENERICOS VETERINARIOS, Bogota, Colombia; DOB 9 Feb 1936; Cedula No. 2905977 (Colombia) (individual) [SDNT]

GONZALEZ, Carlos Alfonso (a.k.a. ALFONSO, Carlos), Panama (individual) [CUBA]

GONZALEZ, Jose (a.k.a. ALVAREZ TOSTADO, Jose; a.k.a. CASTELLANOS ALVAREZ TOSTADO, Juan Jose); DOB 27 Aug 55; POB Mexico (individual) [SDNTK]

GONZALEZ, Maria Luz Nelly, c/o COOPERATIVA DE TRABAJO ASOCIADO ACTIVAR, Bogota, Colombia; c/o COOPERATIVA MULTIACTIVA DE COLOMBIA FOMENTAMOS, Bogota, Colombia; Cedula No. 51973466 (Colombia) (individual) [SDNT]

GOODRICH, Reginald B. (Senior) (a.k.a. GOODRIDGE, Reginald B. (Senior)); DOB 11 NOV 1952; Former Minister for Culture, Information, Tourism of Liberia (individual) [LIBERIA]

GOODRIDGE, Reginald B. (Senior) (a.k.a. GOODRICH, Reginald B. (Senior)); DOB 11 NOV 1952; Former Minister for Culture, Information, Tourism of Liberia (individual) [LIBERIA]

GOTOVINA, Ante; DOB 12 Oct 1955; POB Pasman, Croatia; ICTY indictee (individual) [BALKANS]

GOWRIE FARM, Norton, Zimbabwe [ZIMBABWE]

GRACADAL S.A. (a.k.a. COOPERATIVA MULTIACTIVA DE EMPLEADOS DE SUPERMERCADOS Y AFINES; a.k.a. DISMERCOOP; f.k.a. DISTRIBUIDORA MIGIL BOGOTA LTDA.; f.k.a. DISTRIBUIDORA MIGIL CALI S.A.; f.k.a. DISTRIBUIDORA MIGIL LTDA.; f.k.a. MIGIL), Calle 5C No. 41-30, Cali, Colombia; Carrera 26 No. 5B-65, Cali, Colombia; Carrera 30 No. 5-12, Cali, Colombia; NIT # 805003637-5 (Colombia) [SDNT]

GRAJALES BERNAL, Sonia Patricia, c/o GRAJALES S.A., La Union, Valle, Colombia; c/o C.A.D. S.A., Bogota, Colombia; c/o G.L.G. S.A., Bogota, Colombia; c/o ILOVIN S.A., Bogota, Colombia; c/o JOSAFAT S.A., Tulua, Valle, Colombia; c/o MACEDONIA LTDA., La Union, Valle, Colombia; c/o SALIM S.A., La Union, Valle, Colombia; c/o SALOME GRAJALES Y CIA. LTDA., Bogota, Colombia; Cedula No. 29613767 (Colombia) (individual) [SDNT]

GRAJALES HERNANDEZ, Agustin, c/o CASA GRAJALES S.A., La Union, Valle, Colombia; c/o FREXCO S.A., La Union, Valle, Colombia; c/o GRAJALES S.A., La Union, Valle, Colombia; Cedula No. 2697864 (Colombia) (individual) [SDNT]

GRAJALES HERNANDEZ, Alvaro Octavio, c/o GRAJALES S.A., La Union, Valle, Colombia; c/o C.A.D. S.A., Bogota, Colombia; c/o CRETA S.A., La Union, Valle, Colombia; Cedula No. 19465707 (Colombia) (individual) [SDNT]

GRAJALES LEMOS, Aida Salome, c/o CRETA S.A., La Union, Valle, Colombia; Calle 14 No. 13-03, La Union, Valle, Colombia; c/o AGRONILO S.A., Toro, Valle, Colombia; c/o ALMACAES S.A., Bogota, Colombia; c/o CASA GRAJALES S.A., La Union, Valle, Colombia; c/o GAD S.A., La Union, Valle, Colombia; c/o GRAJALES S.A., La Union, Valle, Colombia; c/o HOTEL LOS VINEDOS, La Union, Valle, Colombia; c/o MACEDONIA LTDA., La Union, Valle, Colombia; c/o RAMAL S.A., Bogota, Colombia; c/o SALIM S.A., La Union, Valle, Colombia; c/o FRUTAS DE LA COSTA S.A., Malambo, Atlantico, Colombia; DOB 13 Dec 1970; POB La Union, Valle, Colombia; Cedula No. 39789871 (Colombia) (individual) [SDNT]

GRAJALES LEMOS, Javier (a.k.a. GRAJALES LEMOS, Juan Jacobo), c/o HOTEL LOS VINEDOS, La Union, Valle, Colombia; c/o CRETA S.A., La Union, Valle, Colombia; c/o GRAJALES S.A., La Union, Valle, Colombia; c/o SALIM S.A., La Union, Valle, Colombia; c/o TRANSPORTES DEL ESPIRITU SANTO S.A., La Union, Valle, Colombia; DOB 28 Oct 1972; POB La Union, Valle, Colombia; Cedula No. 94273951 (Colombia) (individual) [SDNT]

GRAJALES LEMOS, Juan Jacobo (a.k.a. GRAJALES LEMOS, Javier), c/o HOTEL LOS VINEDOS, La Union, Valle, Colombia; c/o CRETA S.A., La Union, Valle, Colombia; c/o GRAJALES S.A., La Union, Valle, Colombia; c/o SALIM S.A., La Union, Valle, Colombia; c/o TRANSPORTES DEL ESPIRITU SANTO S.A., La Union, Valle, Colombia; DOB 28 Oct 1972; POB La Union, Valle, Colombia; Cedula No. 94273951 (Colombia) (individual) [SDNT]

GRAJALES LEMOS, Raul Alberto, c/o AGUSTIN GRAJALES Y CIA. LTDA., La Union, Valle, Colombia; Carrera 15 No. 13-39, La Union, Valle, Colombia; Carrera 10 Norte No. 31-01, Cali, Colombia; c/o AGRONILO S.A., Toro, Valle, Colombia; c/o ALMACAES S.A., Bogota, Colombia; c/o ARMAGEDON S.A., La Union, Valle, Colombia; c/o C.A.D. S.A., Bogota, Colombia; c/o CASA GRAJALES S.A., La Union, Valle, Colombia; c/o CRETA S.A., La Union, Valle, Colombia; c/o FREXCO S.A., La Union, Valle, Colombia; c/o GAD S.A., La Union, Valle, Colombia; c/o G.L.G. S.A., Bogota, Colombia; c/o GRAJALES S.A., La Union, Valle, Colombia; c/o HEBRON S.A., Tulua, Valle, Colombia; c/o HOTEL LOS VINEDOS, La Union, Valle, Colombia; c/o IBADAN LTDA., Tulua, Valle, Colombia; c/o INDUSTRIAS DEL ESPIRITU SANTO S.A., Malambo, Atlantico, Colombia; c/o ILOVIN S.A., Bogota, Colombia; c/o INTERNATIONAL FREEZE DRIED S.A., Bogota, Colombia; c/o INVERSIONES AGUILA LTDA., La Union, Valle, Colombia; c/o INVERSIONES GRAME LTDA., La Union, Valle, Colombia; c/o INVERSIONES LOS POSSO LTDA. S.C.S., La Union, Valle, Colombia; c/o INVERSIONES SANTA CECILIA S.C.S., La Union, Valle, Colombia; c/o INVERSIONES SANTA MONICA LTDA., La Union, Valle, Colombia; c/o JOSAFAT S.A., Tulua, Valle, Colombia; c/o MACEDONIA LTDA., La Union, Valle, Colombia; c/o PANAMERICANA LTDA., Cali, Colombia; c/o RAMAL S.A., Bogota, Colombia; c/o SALIM S.A., La Union, Valle, Colombia; c/o SALOME GRAJALES Y CIA. LTDA., Bogota, Colombia; c/o SOCIEDAD DE NEGOCIOS SAN AGUSTIN LTDA., La Union, Valle, Colombia; c/o TRANSPORTES DEL ESPIRITU SANTO S.A., La Union, Valle, Colombia; c/o FRUTAS DE LA COSTA S.A., Malambo, Atlantico, Colombia; DOB 13 Dec 1957; POB La Union, Valle, Colombia; Cedula No. 6356044 (Colombia) (individual) [SDNT]

GRAJALES LONDONO, Juan Raul, c/o JOSAFAT S.A., Tulua, Valle, Colombia; c/o HEBRON S.A., Tulua, Valle, Colombia; c/o INTERNATIONAL FREEZE DRIED S.A., Bogota, Colombia; c/o SALIM S.A., La Union, Valle, Colombia; DOB 10 Oct 1986; POB Bogota, Colombia (individual) [SDNT]

GRAJALES LONDONO, Lina Maria, c/o HOTEL LOS VINEDOS, La Union, Valle, Colombia; c/o AGRONILO S.A., Toro, Valle, Colombia; c/o HEBRON S.A., Tulua, Valle, Colombia; c/o JOSAFAT S.A., Tulua, Valle, Colombia; c/o SALIM S.A., La Union, Valle, Colombia; DOB 13 Mar 1979; POB Bogota, Colombia; Cedula No. 29567575 (Colombia) (individual) [SDNT]

GRAJALES MARIN, Aura Cecilia, Carrera 15 No. 33A-53, Cali, Colombia; c/o INVERSIONES SANTA CECILIA S.C.S., La Union, Valle, Colombia; c/o INVERSIONES SANTA MONICA LTDA., La Union, Valle, Colombia; Cedula No. 21236002 (Colombia) (individual) [SDNT]

GRAJALES MARIN, Carlos Arturo, c/o INVERSIONES SANTA CECILIA S.C.S., La Union, Valle, Colombia; c/o INVERSIONES SANTA MONICA LTDA., La Union, Valle, Colombia; Cedula No. 63568339 (Colombia) (individual) [SDNT]

GRAJALES MEJIA, Hugo Marino, c/o PANAMERICANA LTDA., Cali, Colombia; c/o FREXCO S.A., La Union, Valle, Colombia; c/o INVERSIONES GRAME LTDA., La Union, Valle, Colombia; c/o SOCIEDAD DE NEGOCIOS SAN AGUSTIN LTDA., La Union, Valle, Colombia; Cedula No. 6355130 (Colombia) (individual) [SDNT]

GRAJALES MEJIA, Jorge Julio, c/o GRAJALES S.A., La Union, Valle, Colombia; c/o AGUSTIN GRAJALES Y CIA. LTDA., La Union, Valle, Colombia; c/o FREXCO S.A., La Union, Valle, Colombia; c/o INVERSIONES GRAME LTDA., La Union, Valle, Colombia; c/o SOCIEDAD DE NEGOCIOS SAN AGUSTIN LTDA., La Union, Valle, Colombia; Cedula No. 14961290 (Colombia) (individual) [SDNT]

GRAJALES MEJIA, Jose Agustin, c/o AGUSTIN GRAJALES Y CIA. LTDA., La Union, Valle, Colombia; DOB 29 Dec 1952; POB La Union, Valle, Colombia; Cedula No. 14990496 (Colombia) (individual) [SDNT]

GRAJALES POSSO, Gloria Amparo, c/o INVERSIONES AGUILA LTDA., La Union, Valle, Colombia; c/o IBADAN LTDA., Tulua, Valle, Colombia; Cedula No. 29613755 (Colombia) (individual) [SDNT]

GRAJALES POSSO, Maria Nancy, c/o GRAJALES S.A., La Union, Valle, Colombia; c/o CASA GRAJALES S.A., La Union, Valle, Colombia; c/o FREXCO S.A., La Union, Valle, Colombia; c/o INVERSIONES LOS POSSO LTDA S.C.S., La Union, Valle, Colombia; Cedula No. 29613013 (Colombia) (individual) [SDNT]

GRAJALES PUENTES, Diana Carolina, c/o HEBRON S.A., Tulua, Valle, Colombia; Transversal 13A No. 123-10 Int. 2 apt. 203, Bogota, Colombia; c/o AGRONILO S.A., Toro, Valle, Colombia; c/o INDUSTRIAS DEL ESPIRITU SANTO S.A., Malambo, Atlantico, Colombia; c/o JOSAFAT S.A., Tulua, Valle, Colombia; c/o SALIM S.A., La Union, Valle, Colombia; c/o FRUTAS DE LA COSTA S.A., Malambo, Atlantico, Colombia; DOB 15 Mar 1979; POB La Victoria, Valle, Colombia; Cedula No. 52455790 (Colombia) (individual) [SDNT]

GRAJALES S.A., Via Roldanillo Finca La Palmera, La Union, Valle, Colombia; Carrera 25 No. 8-78, Bogota, Colombia; Factoria La Rivera, La Union, Valle, Colombia; NIT # 891900090-8 (Colombia) [SDNT]

GRAN COMPANIA DE HOTELES LTDA. (a.k.a. GRANCO), Calle 74 No. 53-30, Barranquilla, Colombia; NIT # 800011606-2 (Colombia) [SDNT]

GRAN MUELLE S.A., Carrera 3 No. 7-32 Piso 3, Buenaventura, Colombia; Carrera 3 No. 7-42, Buenaventura, Colombia; Calle 6 Km 5 Kennedy, Buenaventura, Colombia; Calle 7A No. 3-73 Piso 3, Buenavetura, Colombia; Av. Simon Bolivar Km 4 El Pinal, Buenaventura, Colombia; Av. Simon Bolivar Km 5, Buenaventura, Colombia; Av. Portuaria Edif. Colfecar B-B Modulo 38, Buenaventura, Colombia; NIT # 800173054-1 (Colombia) [SDNT]

GRANADA ASSOCIATES, INC., 780 NW Le Jeune Road, Suite 516, Miami, FL 33126; 780 NW 42nd Avenue, Suite 516, Miami, FL 33126; 9100 South Dadeland Boulevard, Suite 912, Miami, FL 33156; citizen Colombia; U.S. FEIN 65-0336843 (United States) [SDNT]

GRANCO (a.k.a. GRAN COMPANIA DE HOTELES LTDA.), Calle 74 No. 53-30, Barranquilla, Colombia; NIT # 800011606-2 (Colombia) [SDNT]

GRANDE BENAVIDES, Fernando, c/o ALERO S.A., Cali, Colombia; DOB 31 Oct 1962; Cedula No. 16675553 (Colombia) (individual) [SDNT]

GRANJA LA SIERRA LTDA., Carrera 85C No. 43-22, Cali, Colombia; Callejon El Dinamo V/Gorgona, Candelaria, Colombia; NIT # 800253142-5 (Colombia) [SDNT]

GREAT WALL AEROSPACE, INC. (a.k.a. G.W. AEROSPACE, INC.), 21515 Hawthorne Blvd., Suite 670, Torrance, CA 90503; California Corporate Number C1458237 (United States) [NPWMD]

GREATER NILE PETROLEUM OPERATING COMPANY LIMITED (a.k.a. GNPOC), Hotel Palace, Room 420, El Nil Avenue, Khartoum, Sudan; El Harr Oilfield, Muglad Basin, Sudan; El Nar Oilfield, Muglad Basin, Sudan; El Toor Oilfield, Muglad Basin, Sudan; Heglig Oilfield, Muglad Basin, Sudan; Heglig Processing Facility, Muglad Basin, Sudan; Kaikang Oilfield, Muglad Basin, Sudan; Toma South Oilfield, Muglad Basin, Sudan; Unity Oilfield, Muglad Basin, Sudan; Pipeline, Heglig via El-Obeid to Port Sudan, Sudan; Red Sea Export Terminal, Marsa al-Basha'ir, Sudan [SUDAN]

GREEN CAR RENT LIMITED PARTNERSHIP (a.k.a. HANG HUN SUAN CHAMKAT KRIN KHA REN), 445/11 Soi Ramkamhaeng, 39 Lat Phrao Road, Wang Thong Lang, Bang Kapi district, Bangkok, Thailand [SDNTK]

GREEN ISLAND S.A., Avenida El Dorado Entrada 2 Int. 6, Bogota, Colombia; NIT # 830067456-4 (Colombia) [SDNT]

GRETE SHIPPING CO. S.A., c/o EMPRESA DE NAVEGACION CARIBE, Edificio Lonja del Comercio, Lamparilla 2, Caja Postal 1784, Havana 1, Cuba [CUBA]

GROUP OF SUPPORTERS OF THE SALAFIST TREND (a.k.a. DHAMAT HOUMET DAAWA SALAFIA; a.k.a. DJAMAAT HOUMAT ED DAAWA ES SALAFIYA; a.k.a. DJAMAAT HOUMAT ED DAWA ESSALAFIA; a.k.a. DJAMAATT HOUMAT ED DAAWA ES SALAFIYA; a.k.a. EL-AHOUAL BATTALION; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

GROUP OF SUPPORTERS OF THE SALAFISTE TREND (a.k.a. DHAMAT HOUMET DAAWA SALAFIA; a.k.a. DJAMAAT HOUMAT ED DAAWA ES SALAFIYA; a.k.a. DJAMAAT HOUMAT ED DAWA ESSALAFIA; a.k.a. DJAMAATT HOUMAT ED DAAWA ES SALAFIYA; a.k.a. EL-AHOUAL BATTALION; a.k.a. GROUP OF SUPPORTERS OF THE SALAFIST TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

GROUP PROTECTORS OF SALAFIST PREACHING (a.k.a. DHAMAT HOUMET DAAWA SALAFIA; a.k.a. DJAMAAT HOUMAT ED DAAWA ES SALAFIYA; a.k.a. DJAMAAT HOUMAT ED DAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

GROUPE COMBATTANT TUNISIEN (a.k.a. GCT; a.k.a. JAMA'A COMBATTANTE TUNISIEN; a.k.a. JCT; a.k.a. TUNISIAN COMBAT GROUP; a.k.a. TUNISIAN COMBATANT GROUP) [SDGT]

GROUPE ISLAMIQUE COMBATTANT MAROCAIN (a.k.a. GICM; a.k.a. MOROCCAN ISLAMIC COMBATANT GROUP) [SDGT]

GROUPED INDUSTRIES CORPORATION, P.O. Box 2241, Khartoum, Sudan [SUDAN]

GROUPEMENT ISLAMIQUE ARME (a.k.a. AL-JAMA'AH AL-ISLAMIYAH AL-MUSALLAH; a.k.a. ARMED ISLAMIC GROUP; a.k.a. GIA) [FTO] [SDGT]

GRUBAN, Momcilo; DOB 19 Jun 1961; Bosnian Serb; ICTY indictee in custody (individual) [BALKANS]

GRUESO HURTADO, Adriana, c/o INCOMMERCE S.A., Cali, Colombia; DOB 10 Oct 1974; Cedula No. 66922311 (Colombia); Passport 66922311 (Colombia) (individual) [SDNT]

GRUESO HURTADO, Ximena, c/o INCOMMERCE S.A., Cali, Colombia; DOB 19 Nov 1980; Cedula No. 66968767 (Colombia); Passport 66968767 (Colombia) (individual) [SDNT]

GRUESO, Alexei, c/o INCOMMERCE S.A., Cali, Colombia; Cedula No. 16607352 (Colombia); Passport 16607352 (Colombia) (individual) [SDNT]

GRUPO GAMAL, S.A. DE C.V., Av. La Paz 1951, Guadalajara, Jalisco CP 44160, Mexico [SDNTK]

GRUPO SANTA LTDA., Carrera 4 12-41 piso 14 y 15, Edificio Seguros Bolivar, Cali, Colombia; Calle 18 106-98 of. 201/202, Cali, Colombia; Carrera 84 17-29, Cali, Colombia [SDNT]

GS PLUS CONSULTORES, S.A. DE C.V., Tijuana, Baja California, Mexico; R.F.C. GPC-011226-4A5 (Mexico) [SDNTK]

GSPC (a.k.a. LE GROUPE SALAFISTE POUR LA PREDICATION ET LE COMBAT; a.k.a. SALAFIST GROUP FOR CALL AND COMBAT; a.k.a. SALAFIST GROUP FOR PREACHING AND COMBAT) [FTO] [SDGT]

GUACA EXPORT, Panama [CUBA]

GUAMA TOUR (a.k.a. AGENCIA DE VIAJES GUAMA; a.k.a. GUAMATUR, S.A.; a.k.a. VIAJES GUAMA TOURS), Bal Harbour Shopping Center, Via Italia, Panama City, Panama [CUBA]

GUAMAR SHIPPING CO. S.A., c/o EMPRESA DE NAVEGACION CARIBE, Edificio Lonja del Comercio, Lamparilla 2, Caja Postal 1784, Havana 1, Cuba [CUBA]

GUAMATUR, Buenos Aires, Argentina [CUBA]

GUAMATUR S.A. (a.k.a. HAVANATUR CHILE S.A.), Avenue 11 de Septiembre 2155, Edificio Panoramico, Torre C, Oficina 805, Providencia, Santiago, Chile [CUBA]

GUAMATUR, S.A. (a.k.a. AGENCIA DE VIAJES GUAMA; a.k.a. GUAMA TOUR; a.k.a. VIAJES GUAMA TOURS), Bal Harbour Shopping Center, Via Italia, Panama City, Panama [CUBA]

GUERRERO BRAND, Luis Hernando, c/o A G REPRESENTACIONES LTDA., Cali, Colombia; Cedula No. 16656929 (Colombia) (individual) [SDNT]

GUFRON, Ali (a.k.a. AL MUKHLAS, Ali Gufron; a.k.a. GHUFRON, Ali; a.k.a. HAQ, Huda bin Abdul; a.k.a. MUCHLAS; a.k.a. MUKHLAS; a.k.a. MUKLAS; a.k.a. “SOFWAN”); DOB 9 Feb 1960; alt. DOB 2 Feb 1960; POB Solokuro subdistrict, Lamongan district, East Java province, Indonesian; nationality Indonesia (individual) [SDGT]

GUIERREZ LOERA, Jose Luis (a.k.a. AREGON, Max; a.k.a. CARO RODRIGUEZ, Gilberto; a.k.a. GUMAN LOERAL, Joaquin; a.k.a. GUZMAN FERNANDEZ, Joaquin; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. GUZMAN, Achivaldo; a.k.a. GUZMAN, Archibaldo; a.k.a. GUZMAN, Aureliano; a.k.a. GUZMAN, Chapo; a.k.a. GUZMAN, Joaquin Chapo; a.k.a. ORTEGA, Miguel; a.k.a. OSUNA, Gilberto; a.k.a. RAMIREZ, Joise Luis; a.k.a. RAMOX PEREZ, Jorge); DOB 25 Dec 54; POB Mexico (individual) [SDNTK]

GULF CENTER S.R.L., Corso Sempione 69, 20149 Milan, Italy; Italian Fiscal Code 07341170152; V.A.T. Number IT 07341170152 [SDGT]

GULF MOTOR SALES INC. (a.k.a. CONTINUE PROFESSIONAL EDUCATION INC.), 811 S. Central Expwy, Ste 210, Richardson, TX 75080; US FEIN 08000068-09 [LIBERIA]

GULF OFFICE ASSOC. PER LO SVILUPPO COMM. IND. E TURIS. FRA GLI STATI ARABI DEL GOLFO E LA SVIZZERA (a.k.a. MIGA-MALAYSIAN SWISS, GULF AND AFRICAN CHAMBER), Via Maggio 21, 6900 Lugano TI, Switzerland [SDGT]

GUMAN LOERAL, Joaquin (a.k.a. AREGON, Max; a.k.a. CARO RODRIGUEZ, Gilberto; a.k.a. GUIERREZ LOERA, Jose Luis; a.k.a. GUZMAN FERNANDEZ, Joaquin; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. GUZMAN, Achivaldo; a.k.a. GUZMAN, Archibaldo; a.k.a. GUZMAN, Aureliano; a.k.a. GUZMAN, Chapo; a.k.a. GUZMAN, Joaquin Chapo; a.k.a. ORTEGA, Miguel; a.k.a. OSUNA, Gilberto; a.k.a. RAMIREZ, Joise Luis; a.k.a. RAMOX PEREZ, Jorge); DOB 25 Dec 54; POB Mexico (individual) [SDNTK]

GUMBO, Aleck Rugare Ngidi, Montrolse Farm, PO Box 1175, Gweru, Zimbabwe; DOB 8 Mar 1940; Minister of Economic Development (individual) [ZIMBABWE]

GUNAWAN, Gun Gun Rusman (a.k.a. GUNAWAN, Rusman; a.k.a. “ABD AL-HADI”; a.k.a. “ABDUL HADI”; a.k.a. “ABDUL KARIM”; a.k.a. “BUKHORI”; a.k.a. “BUKHORY”); DOB 6 Jul 1977; POB Cianjur, West Java, Indonesia; nationality Indonesia (individual) [SDGT]

GUNAWAN, Rusman (a.k.a. GUNAWAN, Gun Gun Rusman; a.k.a. “ABD AL-HADI”; a.k.a. “ABDUL HADI”; a.k.a. “ABDUL KARIM”; a.k.a. “BUKHORI”; a.k.a. “BUKHORY”); DOB 6 Jul 1977; POB Cianjur, West Java, Indonesia; nationality Indonesia (individual) [SDGT]

GUTIERRES CERDAS, Alvaro (a.k.a. GUTIERREZ CERDAS, Alvaro), c/o DISTRIBUIDORA DE DROGAS CONDOR LTDA., Bogota, Colombia; DOB 9 May 1942; alt. DOB 24 Jun 1950; Cedula No. 14966562 (Colombia) (individual) [SDNT]

GUTIERREZ ARDILA, Eduardo, c/o EXPORT CAFE LTDA., Cali, Colombia; DOB 8 Aug 1958; Cedula No. 16642433 (Colombia) (individual) [SDNT]

GUTIERREZ BURAGLIA, German, c/o PENTACOOP LTDA., Bogota, Colombia; DOB 3 Sep 1960; Cedula No. 19439177 (Colombia) (individual) [SDNT]

GUTIERREZ CANCINO, Fernando Antonio, c/o LABORATORIOS GENERICOS VETERINARIOS DE COLOMBIA S.A., Bogota, Colombia; c/o PENTA PHARMA DE COLOMBIA S.A., Bogota, Colombia; c/o SERVICIOS SOCIALES LTDA., Cali, Colombia; c/o ALFA PHARMA S.A., Bogota, Colombia; c/o BLANCO PHARMA S.A., Bogota, Colombia; c/o CREACIONES DEPORTIVAS WILLINGTON LTDA., Cali, Colombia; c/o FARMATODO S.A., Bogota, Colombia; c/o INVERSIONES GEELE LTDA., Bogota, Colombia; c/o LABORATORIOS BLAIMAR DE COLOMBIA S.A., Bogota, Colombia; c/o LABORATORIOS KRESSFOR DE COLOMBIA S.A., Bogota, Colombia; c/o DISTRIBUIDORA DE DROGAS LA REBAJA S.A., Bogota, Colombia; c/o DROCARD S.A., Bogota, Colombia; c/o BONOMERCAD S.A., Bogota, Colombia; c/o DECAFARMA S.A., Bogota, Colombia; DOB 4 Dec 1941; Cedula No. 6089071 (Colombia); Passport 6089071 (Colombia) (individual) [SDNT]

GUTIERREZ CERDAS, Alvaro (a.k.a. GUTIERRES CERDAS, Alvaro), c/o DISTRIBUIDORA DE DROGAS CONDOR LTDA., Bogota, Colombia; DOB 9 May 1942; alt. DOB 24 Jun 1950; Cedula No. 14966562 (Colombia) (individual) [SDNT]

GUTIERREZ LOZANO, Ana Maria, c/o LABORATORIOS GENERICOS VETERINARIOS DE COLOMBIA S.A., Bogota, Colombia; c/o LABORATORIOS KRESSFOR DE COLOMBIA S.A., Bogota, Colombia; c/o SERVICIOS SOCIALES LTDA., Barranquilla, Colombia; c/o BLANCO PHARMA S.A., Bogota, Colombia; c/o INVERSIONES GEELE LTDA., Bogota, Colombia; c/o INVERSIONES KANTON LTDA., Cucuta, Norte de Santander, Colombia; DOB 22 Apr 1970; Cedula No. 39783954 (Colombia); Passport 39783954 (Colombia) (individual) [SDNT]

GUTIERREZ LOZANO, Juan Pablo, c/o SERVICIOS SOCIALES LTDA., Barranquilla, Colombia; c/o INVERSIONES GEELE LTDA., Bogota, Colombia; c/o LABORATORIOS GENERICOS VETERINARIOS DE COLOMBIA S.A., Bogota, Colombia; c/o LABORATORIOS KRESSFOR DE COLOMBIA S.A., Bogota, Colombia; c/o BLANCO PHARMA S.A., Bogota, Colombia; c/o INVERSIONES KANTON LTDA., Cucuta, Norte de Santander, Colombia; DOB 11 Apr 72; Cedula No. 79570028 (Colombia); Passport 79570028 (Colombia); alt. Passport AC480604 (Colombia) (individual) [SDNT]

GUTIERREZ MANCIPE, Hernando, c/o CODISA, Bogota, Colombia; c/o COMERCIALIZADORA DE PRODUCTOS FARMACEUTICOS LTDA., Ibague, Colombia; c/o MACROFARMA S.A., Pereira, Colombia; c/o MATERIAS PRIMAS Y SUMINISTROS S.A., Bogota, Colombia; c/o TECNOVET LTDA., Bogota, Colombia; Cedula No. 2898335 (Colombia); Passport 2898335 (Colombia) (individual) [SDNT]

GUTIERREZ PADILLA, Clara Ines, c/o ADMACOOP, Bogota, Colombia; c/o DECAFARMA S.A., Bogota, Colombia; c/o FARMACOOP, Bogota, Colombia; c/o CREDISOL, Bogota, Colombia; c/o INVERSIONES DOBLE CERO E.U., Bogota, Colombia; c/o INVERSIONES NUEVO DIA E.U., Bogota, Colombia; c/o INVERSIONES SAMPLA E.U., Bogota, Colombia; DOB 16 Feb 1961; Cedula No. 51583831 (Colombia); Passport 51583831 (Colombia) (individual) [SDNT]

GUTIERREZ PARDO, Elvira Patricia, c/o ADMACOOP, Bogota, Colombia; c/o BONOMERCAD S.A., Bogota, Colombia; c/o PATENTES MARCAS Y REGISTROS S.A., Bogota, Colombia; c/o COMEDICAMENTOS S.A., Bogota, Colombia; Cedula No. 39612308 (Colombia) (individual) [SDNT]

GUTIERREZ PEREZ, Eliana Patricia, c/o ADMACOOP, Bogota, Colombia; c/o CODISA, Bogota, Colombia; DOB 12 Jan 1954; Cedula No. 41631893 (Colombia); Passport 41631893 (Colombia) (individual) [SDNT]

GUTIERREZ REYES, Jose, Vinales Tours, Oaxaca 80, Roma, Mexico, D.F., Mexico (individual) [CUBA]

GUTIERREZ RODRIGUEZ, Pablo, c/o COPSERVIR LTDA., Bogota, Colombia; c/o LITOPHARMA, Barranquilla, Colombia; Cedula No. 85435604 (Colombia) (individual) [SDNT]

GUTIERREZ, Teobaldo Jesus, c/o CAJA SOLIDARIA, Bogota, Colombia; c/o COPSERVIR LTDA., Bogota, Colombia; c/o LITOPHARMA, Barranquilla, Colombia; Cedula No. 72167412 (Colombia) (individual) [SDNT]

GUZMAN FERNANDEZ, Joaquin (a.k.a. AREGON, Max; a.k.a. CARO RODRIGUEZ, Gilberto; a.k.a. GUIERREZ LOERA, Jose Luis; a.k.a. GUMAN LOERAL, Joaquin; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. GUZMAN, Achivaldo; a.k.a. GUZMAN, Archibaldo; a.k.a. GUZMAN, Aureliano; a.k.a. GUZMAN, Chapo; a.k.a. GUZMAN, Joaquin Chapo; a.k.a. ORTEGA, Miguel; a.k.a. OSUNA, Gilberto; a.k.a. RAMIREZ, Joise Luis; a.k.a. RAMOX PEREZ, Jorge); DOB 25 Dec 54; POB Mexico (individual) [SDNTK]

GUZMAN LOEIA, Joaguin (a.k.a. AREGON, Max; a.k.a. CARO RODRIGUEZ, Gilberto; a.k.a. GUIERREZ LOERA, Jose Luis; a.k.a. GUMAN LOERAL, Joaquin; a.k.a. GUZMAN FERNANDEZ, Joaquin; a.k.a. GUZMAN LOERA, Joaquin; a.k.a. GUZMAN LOESA, Joaquin; a.k.a. GUZMAN LOREA, Chapo; a.k.a. GUZMAN PADILLA, Joaquin; a.k.a. GUZMAN, Achivaldo; a.k.a. GUZMAN, Archibaldo; a.k.a. GUZMAN, Aureliano; a.k.a. GUZMAN, Chapo; a.k.a. GUZMAN, Joaquin Chapo; a.k.a. ORTEGA, Miguel; a.k.a. OSUNA, Gilberto; a.k.a. RAMIREZ, Joise Luis; a.k.a. RAMOX PEREZ, Jorge); DOB 25 Dec 54; POB Mexico (individual) [SDNTK]

GUZMAN LOERA, Joaquin (a.k.a. AREGON, Max; a.k.a. CARO RODRIGUEZ, Gilberto; a.k.a. GUIERREZ LOERA, Jose Luis; a.k.a. GUMAN LOERAL, Joaquin; a.k.a. GUZMAN FERNANDEZ, Joaquin; a.k.a. GUZMAN LOEIA, Joaguin; a.k.a. GUZMAN LOESA, Joaquin; a.k.a. GUZMAN LOREA, Chapo; a.k.a. GUZMAN PADILLA, Joaquin; a.k.a. GUZMAN, Achivaldo; a.k.a. GUZMAN, Archibaldo; a.k.a. GUZMAN, Aureliano; a.k.a. GUZMAN, Chapo; a.k.a. GUZMAN, Joaquin Chapo; a.k.a. ORTEGA, Miguel; a.k.a. OSUNA, Gilberto; a.k.a. RAMIREZ, Joise Luis; a.k.a. RAMOX PEREZ, Jorge); DOB 25 Dec 54; POB Mexico (individual) [SDNTK]

GUZMAN LOESA, Joaquin (a.k.a. AREGON, Max; a.k.a. CARO RODRIGUEZ, Gilberto; a.k.a. GUIERREZ LOERA, Jose Luis; a.k.a. GUMAN LOERAL, Joaquin; a.k.a. GUZMAN FERNANDEZ, Joaquin; a.k.a. GUZMAN LOEIA, Joaguin; a.k.a. GUZMAN LOERA, Joaquin; a.k.a. GUZMAN LOREA, Chapo; a.k.a. GUZMAN PADILLA, Joaquin; a.k.a. GUZMAN, Achivaldo; a.k.a. GUZMAN, Archibaldo; a.k.a. GUZMAN, Aureliano; a.k.a. GUZMAN, Chapo; a.k.a. GUZMAN, Joaquin Chapo; a.k.a. ORTEGA, Miguel; a.k.a. OSUNA, Gilberto; a.k.a. RAMIREZ, Joise Luis; a.k.a. RAMOX PEREZ, Jorge); DOB 25 Dec 54; POB Mexico (individual) [SDNTK]

GUZMAN LOREA, Chapo (a.k.a. AREGON, Max; a.k.a. CARO RODRIGUEZ, Gilberto; a.k.a. GUIERREZ LOERA, Jose Luis; a.k.a. GUMAN LOERAL, Joaquin; a.k.a. GUZMAN FERNANDEZ, Joaquin; a.k.a. GUZMAN LOEIA, Joaguin; a.k.a. GUZMAN LOERA, Joaquin; a.k.a. GUZMAN LOESA, Joaquin; a.k.a. GUZMAN PADILLA, Joaquin; a.k.a. GUZMAN, Achivaldo; a.k.a. GUZMAN, Archibaldo; a.k.a. GUZMAN, Aureliano; a.k.a. GUZMAN, Chapo; a.k.a. GUZMAN, Joaquin Chapo; a.k.a. ORTEGA, Miguel; a.k.a. OSUNA, Gilberto; a.k.a. RAMIREZ, Joise Luis; a.k.a. RAMOX PEREZ, Jorge); DOB 25 Dec 54; POB Mexico (individual) [SDNTK]

GUZMAN PADILLA, Joaquin (a.k.a. AREGON, Max; a.k.a. CARO RODRIGUEZ, Gilberto; a.k.a. GUIERREZ LOERA, Jose Luis; a.k.a. GUMAN LOERAL, Joaquin; a.k.a. GUZMAN FERNANDEZ, Joaquin; a.k.a. GUZMAN LOEIA, Joaguin; a.k.a. GUZMAN LOERA, Joaquin; a.k.a. GUZMAN LOESA, Joaquin; a.k.a. GUZMAN LOREA, Chapo; a.k.a. GUZMAN, Achivaldo; a.k.a. GUZMAN, Archibaldo; a.k.a. GUZMAN, Aureliano; a.k.a. GUZMAN, Chapo; a.k.a. GUZMAN, Joaquin Chapo; a.k.a. ORTEGA, Miguel; a.k.a. OSUNA, Gilberto; a.k.a. RAMIREZ, Joise Luis; a.k.a. RAMOX PEREZ, Jorge); DOB 25 Dec 54; POB Mexico (individual) [SDNTK]

GUZMAN TROCHA, Luis Fernando, c/o CAJA SOLIDARIA, Bogota, Colombia; c/o COPSERVIR LTDA., Bogota, Colombia; c/o LITOPHARMA, Barranquilla, Colombia; Cedula No. 72170509 (Colombia) (individual) [SDNT]

GUZMAN TRUJILLO, Carlos Arturo (a.k.a. GALINDO, Gilmer Antonio), c/o CONSTRUEXITO S.A., Cali, Colombia; c/o INDUSTRIA AVICOLA PALMASECA S.A., Cali, Colombia; Carrera 4C No. 53-40 apt. 307, Cali, Colombia; c/o COMERCIAL DE NEGOCIOS CLARIDAD Y CIA., Bogota, Colombia; c/o INMOBILIARIA GALES LTDA., Bogota, Colombia; c/o COMERCIALIZADORA EXPERTA Y CIA. S. EN C., Bogota, Colombia; DOB 28 Dec 1948; Cedula No. 16245188 (Colombia); Passport AC824879 (Colombia) (individual) [SDNT]

GUZMAN VELASQUEZ, Luz Marcela, c/o TAURA S.A., Cali, Colombia; Cedula No. 43568327 (Colombia) (individual) [SDNT]

GUZMAN, Achivaldo (a.k.a. AREGON, Max; a.k.a. CARO RODRIGUEZ, Gilberto; a.k.a. GUIERREZ LOERA, Jose Luis; a.k.a. GUMAN LOERAL, Joaquin; a.k.a. GUZMAN FERNANDEZ, Joaquin; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. GUZMAN, Archibaldo; a.k.a. GUZMAN, Aureliano; a.k.a. GUZMAN, Chapo; a.k.a. GUZMAN, Joaquin Chapo; a.k.a. ORTEGA, Miguel; a.k.a. OSUNA, Gilberto; a.k.a. RAMIREZ, Joise Luis; a.k.a. RAMOX PEREZ, Jorge); DOB 25 Dec 54; POB Mexico (individual) [SDNTK]

GUZMAN, Archibaldo (a.k.a. AREGON, Max; a.k.a. CARO RODRIGUEZ, Gilberto; a.k.a. GUIERREZ LOERA, Jose Luis; a.k.a. GUMAN LOERAL, Joaquin; a.k.a. GUZMAN FERNANDEZ, Joaquin; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. GUZMAN, Achivaldo; a.k.a. GUZMAN, Aureliano; a.k.a. GUZMAN, Chapo; a.k.a. GUZMAN, Joaquin Chapo; a.k.a. ORTEGA, Miguel; a.k.a. OSUNA, Gilberto; a.k.a. RAMIREZ, Joise Luis; a.k.a. RAMOX PEREZ, Jorge); DOB 25 Dec 54; POB Mexico (individual) [SDNTK]

GUZMAN, Aureliano (a.k.a. AREGON, Max; a.k.a. CARO RODRIGUEZ, Gilberto; a.k.a. GUIERREZ LOERA, Jose Luis; a.k.a. GUMAN LOERAL, Joaquin; a.k.a. GUZMAN FERNANDEZ, Joaquin; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. GUZMAN, Achivaldo; a.k.a. GUZMAN, Archibaldo; a.k.a. GUZMAN, Chapo; a.k.a. GUZMAN, Joaquin Chapo; a.k.a. ORTEGA, Miguel; a.k.a. OSUNA, Gilberto; a.k.a. RAMIREZ, Joise Luis; a.k.a. RAMOX PEREZ, Jorge); DOB 25 Dec 54; POB Mexico (individual) [SDNTK]

GUZMAN, Chapo (a.k.a. AREGON, Max; a.k.a. CARO RODRIGUEZ, Gilberto; a.k.a. GUIERREZ LOERA, Jose Luis; a.k.a. GUMAN LOERAL, Joaquin; a.k.a. GUZMAN FERNANDEZ, Joaquin; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. GUZMAN, Achivaldo; a.k.a. GUZMAN, Archibaldo; a.k.a. GUZMAN, Aureliano; a.k.a. GUZMAN, Joaquin Chapo; a.k.a. ORTEGA, Miguel; a.k.a. OSUNA, Gilberto; a.k.a. RAMIREZ, Joise Luis; a.k.a. RAMOX PEREZ, Jorge); DOB 25 Dec 54; POB Mexico (individual) [SDNTK]

GUZMAN, Joaquin Chapo (a.k.a. AREGON, Max; a.k.a. CARO RODRIGUEZ, Gilberto; a.k.a. GUIERREZ LOERA, Jose Luis; a.k.a. GUMAN LOERAL, Joaquin; a.k.a. GUZMAN FERNANDEZ, Joaquin; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. GUZMAN, Achivaldo; a.k.a. GUZMAN, Archibaldo; a.k.a. GUZMAN, Aureliano; a.k.a. GUZMAN, Chapo; a.k.a. ORTEGA, Miguel; a.k.a. OSUNA, Gilberto; a.k.a. RAMIREZ, Joise Luis; a.k.a. RAMOX PEREZ, Jorge); DOB 25 Dec 54; POB Mexico (individual) [SDNTK]

H & H METALFORM GMBH, Postfach 1160, Strontianitstrasse 5, Drensteinfurt 4406, Germany [IRAQ2]

HABANOS TRADING, Geneva, Switzerland [CUBA]

HABASH, George (a.k.a. HABBASH, George); Secretary General of POPULAR FRONT FOR THE LIBERATION OF PALESTINE (individual) [SDT]

HABBASH, George (a.k.a. HABASH, George); Secretary General of POPULAR FRONT FOR THE LIBERATION OF PALESTINE (individual) [SDT]

HABIB, Mohammed Turki, Baghdad, Iraq (individual) [IRAQ2]

HABIBI, Skender; DOB 13 Jul 1968; POB Vitina, Serbia and Montenegro (individual) [BALKANS]

HABUBI, Dr. Safa Hadi Jawad (a.k.a. AL-HABOBI, Dr. Safa; a.k.a. AL-HABOBI, Dr. Safa Haji J; a.k.a. AL-HABUBI, Dr. Safa Hadi Jawad; a.k.a. HABUBI, Dr. Safa Jawad; a.k.a. JAWAD, Dr. Safa Hadi), Flat 4D Thorney Court, Palace Gate, Kensington, United Kingdom; Iraq; DOB 01 Jul 1946; Former Minister of Oil (individual) [IRAQ2]

HABUBI, Dr. Safa Jawad (a.k.a. AL-HABOBI, Dr. Safa; a.k.a. AL-HABOBI, Dr. Safa Haji J; a.k.a. AL-HABUBI, Dr. Safa Hadi Jawad; a.k.a. HABUBI, Dr. Safa Hadi Jawad; a.k.a. JAWAD, Dr. Safa Hadi), Flat 4D Thorney Court, Palace Gate, Kensington, United Kingdom; Iraq; DOB 01 Jul 1946; Former Minister of Oil (individual) [IRAQ2]

HACHITO SANCHEZ, Angel Alberto, c/o COPSERVIR LTDA., Bogota, Colombia; DOB 09 Nov 62; Cedula No. 17634454 (Colombia) (individual) [SDNT]

HACIENDA DE DON JOSE RESTAURANT BAR, S.A. DE C.V., Av. del Rocio 1193, Tijuana, Baja California CP 22200, Mexico [SDNTK]

HACIENDA LA NOVILLERA (a.k.a. NOVILLERA; a.k.a. NOVILLERA GANADERA), Carrera 4 12-41 piso 15, Edificio Seguros Bolivar, Cali, Colombia; Paso de la Bolsa, Jamundi, Valle del Cauca, Cali, Colombia [SDNT]

HACIENDA SANDRANA (a.k.a. SANDRANA GANADERA; a.k.a. SANDRANDA), Carrera 4 12-41 piso 15, Edificio Seguros Bolivar, Cali, Colombia; San Pedro, Valle del Cauca, Colombia [SDNT]

HAD KAEW COMPANY LTD. (a.k.a. BORISAT HAT KAEO CHAMKAT; a.k.a. HATKAEW COMPANY LTD.), 275 Soi Thiam Ruammit, Ratchada Phisek Road, Huai Khwang district, Bangkok, Thailand [SDNTK]

HADDAD, Fethi Ben Assen, Via Fulvio Testi, 184, Cinisello Balsamo, Milan, Italy; Via Porte Giove, 1, Mortara, Pavia, Italy; DOB 28 Mar 1963; alt. DOB 28 Jun 1963; POB Tataouene, Tunisia; nationality Tunisia; Italian Fiscal Code HDDFTH63H28Z352V; Passport L 183017 issued 14 Feb 1996 expires 13 Feb 2001 (individual) [SDGT]

HADI (a.k.a. ABD AL HADI; a.k.a. BENDEBKA, L'Hadi), Via Garibaldi, 70, San Zenone al Po, Pavia, Italy; Via Manzoni, 33, Cinisello Balsamo, Milan, Italy; DOB 17 Nov 1963; POB Algiers Algeria (individual) [SDGT]

HADI, Mizban Khadr; DOB 1938; POB Mandali District, Diyala, Iraq; nationality Iraq; member, Ba'th party regional command and Revolutionary Command Council since 1991 (individual) [IRAQ2]

HADZIC, Goran; DOB 7 Sep 1958; POB Municipality of Vinkovci, Croatia (individual) [BALKANS]

HADZIHASANOVIC, Enver; DOB 7 Jul 1950; POB Zvornik, Bosnia-Herzegovina; ICTY indictee (individual) [BALKANS]

HAGGAR ASSALAYA SUGAR FACTORY, Haggar Assalaya, Sudan [SUDAN]

HAJJ AS'AD AHMAD (a.k.a. BARAKAT, Assaad Ahmad; a.k.a. BARAKAT, Assad; a.k.a. BARAKAT, Assad Ahmad; a.k.a. BARAKAT, Assad Ahmed Muhammad; a.k.a. BARAKAT, Assad Hassan; a.k.a. BARAKAT, Jach Assad Ahmad), Rue Taroba 1005, Beatriz Menez Building, Foz do Iguacu, Brazil; Rua Rio Branco Lote 682, Quadra 13, Foz do Iguacu, Brazil; Rua Xavier Da Silva 535, Edificio Martin Terro, Apartment 301, Foz do Iguacu, Brazil; Rua Silva Jardim 290, Foz do Iguacu, Brazil; Arrecife Apartment Building, Iquique, Chile; Apartment 111, Panorama Building, Iquique, Chile; Piribebuy Y A. Jara, Ciudad del Este, Paraguay; DOB 25 Mar 1967; POB Lebanon (individual) [SDGT]

HALAVANAU , Viktor Hryhoryavich (a.k.a. GOLOVANOV, Viktar Grigoriyevich; a.k.a. GOLOVANOV, Viktar Hryhoryavich; a.k.a. GOLOVANOV, Viktar Ryhoravich; a.k.a. GOLOVANOV, Viktor Grigoriyevich; a.k.a. GOLOVANOV, Viktor Hryhoryavich; a.k.a. GOLOVANOV, Viktor Ryhoravich; a.k.a. HALAVANAU, Viktar Grigoriyevich; a.k.a. HALAVANAU, Viktar Hryhoryavich; a.k.a. HALAVANAU, Viktar Ryhoravich; a.k.a. HALAVANAU, Viktor Grigoriyevich; a.k.a. HALAVANAU, Viktor Ryhoravich); DOB 1952; POB Borisov, Belarus; Minister of Justice (individual) [BELARUS]

HALAVANAU, Viktar Grigoriyevich (a.k.a. GOLOVANOV, Viktar Grigoriyevich; a.k.a. GOLOVANOV, Viktar Hryhoryavich; a.k.a. GOLOVANOV, Viktar Ryhoravich; a.k.a. GOLOVANOV, Viktor Grigoriyevich; a.k.a. GOLOVANOV, Viktor Hryhoryavich; a.k.a. GOLOVANOV, Viktor Ryhoravich; a.k.a. HALAVANAU , Viktor Hryhoryavich; a.k.a. HALAVANAU, Viktar Hryhoryavich; a.k.a. HALAVANAU, Viktar Ryhoravich; a.k.a. HALAVANAU, Viktor Grigoriyevich; a.k.a. HALAVANAU, Viktor Ryhoravich); DOB 1952; POB Borisov, Belarus; Minister of Justice (individual) [BELARUS]

HALAVANAU, Viktar Hryhoryavich (a.k.a. GOLOVANOV, Viktar Grigoriyevich; a.k.a. GOLOVANOV, Viktar Hryhoryavich; a.k.a. GOLOVANOV, Viktar Ryhoravich; a.k.a. GOLOVANOV, Viktor Grigoriyevich; a.k.a. GOLOVANOV, Viktor Hryhoryavich; a.k.a. GOLOVANOV, Viktor Ryhoravich; a.k.a. HALAVANAU , Viktor Hryhoryavich; a.k.a. HALAVANAU, Viktar Grigoriyevich; a.k.a. HALAVANAU, Viktar Ryhoravich; a.k.a. HALAVANAU, Viktor Grigoriyevich; a.k.a. HALAVANAU, Viktor Ryhoravich); DOB 1952; POB Borisov, Belarus; Minister of Justice (individual) [BELARUS]

HALAVANAU, Viktar Ryhoravich (a.k.a. GOLOVANOV, Viktar Grigoriyevich; a.k.a. GOLOVANOV, Viktar Hryhoryavich; a.k.a. GOLOVANOV, Viktar Ryhoravich; a.k.a. GOLOVANOV, Viktor Grigoriyevich; a.k.a. GOLOVANOV, Viktor Hryhoryavich; a.k.a. GOLOVANOV, Viktor Ryhoravich; a.k.a. HALAVANAU , Viktor Hryhoryavich; a.k.a. HALAVANAU, Viktar Grigoriyevich; a.k.a. HALAVANAU, Viktar Hryhoryavich; a.k.a. HALAVANAU, Viktor Grigoriyevich; a.k.a. HALAVANAU, Viktor Ryhoravich); DOB 1952; POB Borisov, Belarus; Minister of Justice (individual) [BELARUS]

HALAVANAU, Viktor Grigoriyevich (a.k.a. GOLOVANOV, Viktar Grigoriyevich; a.k.a. GOLOVANOV, Viktar Hryhoryavich; a.k.a. GOLOVANOV, Viktar Ryhoravich; a.k.a. GOLOVANOV, Viktor Grigoriyevich; a.k.a. GOLOVANOV, Viktor Hryhoryavich; a.k.a. GOLOVANOV, Viktor Ryhoravich; a.k.a. HALAVANAU , Viktor Hryhoryavich; a.k.a. HALAVANAU, Viktar Grigoriyevich; a.k.a. HALAVANAU, Viktar Hryhoryavich; a.k.a. HALAVANAU, Viktar Ryhoravich; a.k.a. HALAVANAU, Viktor Ryhoravich); DOB 1952; POB Borisov, Belarus; Minister of Justice (individual) [BELARUS]

HALAVANAU, Viktor Ryhoravich (a.k.a. GOLOVANOV, Viktar Grigoriyevich; a.k.a. GOLOVANOV, Viktar Hryhoryavich; a.k.a. GOLOVANOV, Viktar Ryhoravich; a.k.a. GOLOVANOV, Viktor Grigoriyevich; a.k.a. GOLOVANOV, Viktor Hryhoryavich; a.k.a. GOLOVANOV, Viktor Ryhoravich; a.k.a. HALAVANAU , Viktor Hryhoryavich; a.k.a. HALAVANAU, Viktar Grigoriyevich; a.k.a. HALAVANAU, Viktar Hryhoryavich; a.k.a. HALAVANAU, Viktar Ryhoravich; a.k.a. HALAVANAU, Viktor Grigoriyevich); DOB 1952; POB Borisov, Belarus; Minister of Justice (individual) [BELARUS]

HALHUL GANG (a.k.a. HALHUL SQUAD; a.k.a. MARTYR ABU-ALI MUSTAFA BATTALION; a.k.a. PALESTINIAN POPULAR RESISTANCE FORCES; a.k.a. PFLP; a.k.a. POPULAR FRONT FOR THE LIBERATION OF PALESTINE; a.k.a. PPRF; a.k.a. RED EAGLE GANG; a.k.a. RED EAGLE GROUP; a.k.a. RED EAGLES) [SDT] [FTO] [SDGT]

HALHUL SQUAD (a.k.a. HALHUL GANG; a.k.a. MARTYR ABU-ALI MUSTAFA BATTALION; a.k.a. PALESTINIAN POPULAR RESISTANCE FORCES; a.k.a. PFLP; a.k.a. POPULAR FRONT FOR THE LIBERATION OF PALESTINE; a.k.a. PPRF; a.k.a. RED EAGLE GANG; a.k.a. RED EAGLE GROUP; a.k.a. RED EAGLES) [SDT] [FTO] [SDGT]

HALILI, Nevzat; DOB 15 Sep 1946; POB Poroj, Macedonia (individual) [BALKANS]

HALILOVIC, Sefer; DOB 6 Jan 1952; POB Prijepolje, Serbia and Montenegro; ICTY indictee (individual) [BALKANS]

HALU MESRU SAVUNMA KUVVETI (HSK) (a.k.a. FREEDOM AND DEMOCRACY CONGRESS OF KURDISTAN; a.k.a. KADEK; a.k.a. KONGRA-GEL; a.k.a. KURDISTAN FREEDOM AND DEMOCRACY CONGRESS; a.k.a. KURDISTAN PEOPLE'S CONGRESS (KHK); a.k.a. KURDISTAN WORKERS' PARTY; a.k.a. PARTIYA KARKERAN KURDISTAN; a.k.a. PEOPLE'S CONGRESS OF KURDISTAN; a.k.a. PKK; a.k.a. THE PEOPLE'S DEFENSE FORCE) [FTO] [SDGT]

HAMADI, Hamed Yussef (a.k.a. AL-HAMMADI, Hamid Yusif), Iraq; Former Minister of Culture and Information (individual) [IRAQ2]

HAMAMI, Brahim Ben Hedili, Via de' Carracci n.l5, Casalecchio di Reno (Bologna), Italy; DOB 20 Nov 1971; POB Goubellat, Tunisia; alt. POB Koubellat, Tunisia; nationality Tunisia; Passport Z106861 issued 18 Feb 2004 expires 17 Feb 2009 (individual) [SDGT]

HAMAS (a.k.a. HARAKAT AL-MUQAWAMA AL-ISLAMIYA; a.k.a. ISLAMIC RESISTANCE MOVEMENT; a.k.a. IZZ AL-DIN AL QASSAM BATTALIONS; a.k.a. IZZ AL-DIN AL QASSAM BRIGADES; a.k.a. IZZ AL-DIN AL QASSAM FORCES; a.k.a. IZZ AL-DIN AL-QASSIM BATTALIONS; a.k.a. IZZ AL-DIN AL-QASSIM BRIGADES; a.k.a. IZZ AL-DIN AL-QASSIM FORCES; a.k.a. STUDENTS OF AYYASH; a.k.a. STUDENTS OF THE ENGINEER; a.k.a. YAHYA AYYASH UNITS) [SDT] [FTO] [SDGT]

HAMAWANDI, Kawa (a.k.a. OMAR ACHMED, Kaua), Lochhamer Str. 115, Munich 81477, Germany; Kempten Prison, Germany; DOB 1 Jul 1971; POB Arbil, Iraq; nationality Iraq; Travel Document Number A0139243 (Germany) (individual) [SDGT]

HAMBALI (a.k.a. ISAMUDDIN, Nurjaman Riduan; a.k.a. ISOMUDDIN, Riduan; a.k.a. NURJAMAN; a.k.a. NURJAMAN, Encep); DOB 04 Apr 1964; alt. DOB 01 Apr 1964; POB Cianjur, West Java, Indonesia; nationality Indonesia (individual) [SDGT]

HAMDAN, Usama, Haret Hreik, Lebanon; DOB 1964 (individual) [SDGT]

HAMEIAH, Jamel (a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMEIAH, Jamil (a.k.a. HAMEIAH, Jamel; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMEIAH, Mamil (a.k.a. HAMEIAH, Jamel; a.k.a. HAMEIAH, Jamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMEIEH, Jamil (a.k.a. HAMEIAH, Jamel; a.k.a. HAMEIAH, Jamil; a.k.a. HAMEIAH, Mamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMEIH, Jamill (a.k.a. HAMEIAH, Jamel; a.k.a. HAMEIAH, Jamil; a.k.a. HAMEIAH, Mamil; a.k.a. HAMEIEH, Jamil; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMER, Jamil (a.k.a. HAMEIAH, Jamel; a.k.a. HAMEIAH, Jamil; a.k.a. HAMEIAH, Mamil; a.k.a. HAMEIEH, Jamil; a.k.a. HAMEIH, Jamill; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMIAEH, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMIAH, Jamiel (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMIE, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMIE, Jamil Abdulkarim (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMIE, Jamile (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMIEAH, Jamiel (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMIEAH, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMIEH, Jamal (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMIEH, Jamiel (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMIEH, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMIEH, Mamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMIEL, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMIEYE, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMIEYYEH, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMIL, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMIYA, Abdul Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMIYE, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMIYYAH, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYEH, Jamil; a.k.a. HAMYH, Jamil; a.k.a. KARIM, Jamil Abdul; a.k.a. NAZIM, Abou; a.k.a. NEZAM, Abu; a.k.a. NIZAM, Abou); DOB Sep 38 (individual) [SDNTK]

HAMIYYEH, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMYH, Jamil; a.k.a. KARIM, Jamil Abdul; a.k.a. NAZIM, Abou; a.k.a. NEZAM, Abu; a.k.a. NIZAM, Abou); DOB Sep 38 (individual) [SDNTK]

HAMMID, Mohammed Tahir (a.k.a. “ABDELHAMID AL KURDI”), Via della Martinella 132, Parma, Italy; DOB 1 Nov 1975; POB Poshok, Iraq; nationality Iraq; Kurdish; arrested 31 Mar 2003 (individual) [SDGT]

HAMMUD, Abed Mahmoud (a.k.a. AL-TIKRITI, Abid Hamid Mahmud; a.k.a. MAHMOUD, Col. Abdel Hamid; a.k.a. MAHMUD, Abid Hamid bid Hamid); DOB circa 1957; POB al-Awja, near Tikrit, Iraq; nationality Iraq; Saddam Hussein al-Tikriti's presidential secretary and key advisor (individual) [IRAQ2]

HAMRAOUI, Kamel Ben Mouldi (a.k.a. “KAMEL”; a.k.a. “KIMO”), Via Bertesi 27, Cremona, Italy; DOB 21 Oct 1977; POB Beja, Tunisia; nationality Tunisia; Passport P229856 issued 1 Nov 2002 expires 31 Oct 2007; arrested 1 Apr 2003 (individual) [SDGT]

HAMUDAT, General Maki Mustafa (a.k.a. AL-HAMADAT, General Maki; a.k.a. HAMUDAT, Maki; a.k.a. HMODAT, Mackie; a.k.a. MUSTAFA, Macki Hamoudat), Mosul, Iraq; DOB circa 1934; nationality Iraq (individual) [IRAQ2]

HAMUDAT, Maki (a.k.a. AL-HAMADAT, General Maki; a.k.a. HAMUDAT, General Maki Mustafa; a.k.a. HMODAT, Mackie; a.k.a. MUSTAFA, Macki Hamoudat), Mosul, Iraq; DOB circa 1934; nationality Iraq (individual) [IRAQ2]

HAMYH, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. KARIM, Jamil Abdul; a.k.a. NAZIM, Abou; a.k.a. NEZAM, Abu; a.k.a. NIZAM, Abou); DOB Sep 38 (individual) [SDNTK]

HANG HUN SUAN CHAMKAT BANG KOK ATHI-FLORA DISAIN (a.k.a. BANGKOK ARTI-FLORA DESIGN LIMITED PARTNERSHIP), 812/89 Ratchada Phisek Road, Din Daeng precinct, Huai Khwang district, Bangkok, Thailand [SDNTK]

HANG HUN SUAN CHAMKAT KRIN KHA REN (a.k.a. GREEN CAR RENT LIMITED PARTNERSHIP), 445/11 Soi Ramkamhaeng, 39 Lat Phrao Road, Wang Thong Lang, Bang Kapi district, Bangkok, Thailand [SDNTK]

HANNADI, Mohamed (a.k.a. BEN HAMMEDI, Mohammed; a.k.a. BENHAMMEDI, Mohammed; a.k.a. BIN HAMMIDI, Muhammad Muhammad; a.k.a. “ABU AL QASSAM”; a.k.a. “ABU HAJIR”; a.k.a. “ABU HAJIR AL LIBI”; a.k.a. “HAMMEDI, Ben”; a.k.a. “PANHAMMEDI”), Midlands, United Kingdom; DOB 22 Sep 1966; POB Libya; citizen Libya (individual) [SDGT]

HAPILON, Isnilon Totoni (a.k.a. HAPILUN, Isnilon; a.k.a. HAPILUN, Isnilun; a.k.a. “ABU MUSAB”; a.k.a. “SALAHUDIN”; a.k.a. “TUAN ISNILON”); DOB 18 Mar 1966; alt. DOB 10 Mar 1967; POB Bulanza, Lantawan, Basilan, the Philippines; nationality Philippines (individual) [SDGT]

HAPILUN, Isnilon (a.k.a. HAPILON, Isnilon Totoni; a.k.a. HAPILUN, Isnilun; a.k.a. “ABU MUSAB”; a.k.a. “SALAHUDIN”; a.k.a. “TUAN ISNILON”); DOB 18 Mar 1966; alt. DOB 10 Mar 1967; POB Bulanza, Lantawan, Basilan, the Philippines; nationality Philippines (individual) [SDGT]

HAPILUN, Isnilun (a.k.a. HAPILON, Isnilon Totoni; a.k.a. HAPILUN, Isnilon; a.k.a. “ABU MUSAB”; a.k.a. “SALAHUDIN”; a.k.a. “TUAN ISNILON”); DOB 18 Mar 1966; alt. DOB 10 Mar 1967; POB Bulanza, Lantawan, Basilan, the Philippines; nationality Philippines (individual) [SDGT]

HAPPY DAYS (a.k.a. M C M Y CIA. LTDA.), Calle 25 Norte No. 3AN-39, Cali, Colombia; Calle 22 Norte No. 5A-75, Cali, Colombia; NIT # 800204288-2 (Colombia) [SDNT]

HAPPY DAYS S. DE H., Calle 78 No. 53-70, Locales 315 y 316, Barranquilla, Colombia; NIT # 802003826-1 (Colombia) [SDNT]

HAQ, Huda bin Abdul (a.k.a. AL MUKHLAS, Ali Gufron; a.k.a. GHUFRON, Ali; a.k.a. GUFRON, Ali; a.k.a. MUCHLAS; a.k.a. MUKHLAS; a.k.a. MUKLAS; a.k.a. “SOFWAN”); DOB 9 Feb 1960; alt. DOB 2 Feb 1960; POB Solokuro subdistrict, Lamongan district, East Java province, Indonesian; nationality Indonesia (individual) [SDGT]

HARADINAJ, Daut; DOB 6 Apr 1978; POB Glodjane, Serbia and Montenegro (individual) [BALKANS]

HARAKAT AL-MUQAWAMA AL-ISLAMIYA (a.k.a. HAMAS; a.k.a. ISLAMIC RESISTANCE MOVEMENT; a.k.a. IZZ AL-DIN AL QASSAM BATTALIONS; a.k.a. IZZ AL-DIN AL QASSAM BRIGADES; a.k.a. IZZ AL-DIN AL QASSAM FORCES; a.k.a. IZZ AL-DIN AL-QASSIM BATTALIONS; a.k.a. IZZ AL-DIN AL-QASSIM BRIGADES; a.k.a. IZZ AL-DIN AL-QASSIM FORCES; a.k.a. STUDENTS OF AYYASH; a.k.a. STUDENTS OF THE ENGINEER; a.k.a. YAHYA AYYASH UNITS) [SDT] [FTO] [SDGT]

HARAKAT UL-ANSAR (a.k.a. AL-FARAN; a.k.a. AL-HADID; a.k.a. AL-HADITH; a.k.a. HARAKAT UL-MUJAHIDEEN; a.k.a. HARAKAT UL-MUJAHIDIN; a.k.a. HUA; a.k.a. HUM; a.k.a. JAMIAT UL-ANSAR) [FTO] [SDGT]

HARAKAT UL-MUJAHIDEEN (a.k.a. AL-FARAN; a.k.a. AL-HADID; a.k.a. AL-HADITH; a.k.a. HARAKAT UL-ANSAR; a.k.a. HARAKAT UL-MUJAHIDIN; a.k.a. HUA; a.k.a. HUM; a.k.a. JAMIAT UL-ANSAR) [FTO] [SDGT]

HARAKAT UL-MUJAHIDIN (a.k.a. AL-FARAN; a.k.a. AL-HADID; a.k.a. AL-HADITH; a.k.a. HARAKAT UL-ANSAR; a.k.a. HARAKAT UL-MUJAHIDEEN; a.k.a. HUA; a.k.a. HUM; a.k.a. JAMIAT UL-ANSAR) [FTO] [SDGT]

HARMONY FARM, Mazowe, Zimbabwe [ZIMBABWE]

HAROON (a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROUN, Fadhil; a.k.a. HARUN; a.k.a. LUQMAN, Abu; a.k.a. MOHAMMED, Fazul; a.k.a. MOHAMMED, Fazul Abdilahi; a.k.a. MOHAMMED, Fazul Abdullah; a.k.a. MOHAMMED, Fouad; a.k.a. MUHAMAD, Fadil Abdallah); DOB 25 Aug 1972; alt. DOB 25 Dec 1974; alt. DOB 25 Feb 1974; POB Moroni, Comoros Islands; citizen Comoros alt. Kenya (individual) [SDGT]

HAROUN, Fadhil (a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HARUN; a.k.a. LUQMAN, Abu; a.k.a. MOHAMMED, Fazul; a.k.a. MOHAMMED, Fazul Abdilahi; a.k.a. MOHAMMED, Fazul Abdullah; a.k.a. MOHAMMED, Fouad; a.k.a. MUHAMAD, Fadil Abdallah); DOB 25 Aug 1972; alt. DOB 25 Dec 1974; alt. DOB 25 Feb 1974; POB Moroni, Comoros Islands; citizen Comoros alt. Kenya (individual) [SDGT]

HARUN (a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. LUQMAN, Abu; a.k.a. MOHAMMED, Fazul; a.k.a. MOHAMMED, Fazul Abdilahi; a.k.a. MOHAMMED, Fazul Abdullah; a.k.a. MOHAMMED, Fouad; a.k.a. MUHAMAD, Fadil Abdallah); DOB 25 Aug 1972; alt. DOB 25 Dec 1974; alt. DOB 25 Feb 1974; POB Moroni, Comoros Islands; citizen Comoros alt. Kenya (individual) [SDGT]

HASAN, Shaikh Daud (a.k.a. ANIS, Ibrahim Shaikh Mohd; a.k.a. AZIZ, Abdul Hamid Abdul; a.k.a. DILIP, Aziz; a.k.a. EBRAHIM, Dawood; a.k.a. HASSAN, Dawood; a.k.a. IBRAHIM, Anis; a.k.a. IBRAHIM, Dawood; a.k.a. IBRAHIM, Dawood Sheik; a.k.a. KASKAR, Dawood Ibrahim; a.k.a. REHMAN, Shaikh Ismail Abdul; a.k.a. SABRI, Dawood; a.k.a. SAHEB, Amir; a.k.a. SETH, Iqbal), 617 CP Berar Society, Block 7-8, Karachi, Pakistan; House No. 37, Street 30, Phase V, Defence Housing Authority, Karachi, Pakistan; White House, Al-Wassal Road, Jumeira, Dubai, United Arab Emirates; 33-36, Pakmodiya Street, Haji Musafirkhana, Dongri, Bombay, India; House No. 10, Hill Top Arcade, Defence Housing Authority, Karachi, Pakistan; Moin Palace, 2nd Floor, Opp. Abdullah Shah Gazi Dargah, Clifton, Karachi, Pakistan; DOB 26 Dec 1955; alt. DOB 31 Dec 1955; POB Ratnagiri, Maharashtra, India; citizen India alt. United Arab Emirates; alt. Pakistan; nationality India; Passport A-717288 (United Arab Emirates) issued 18 Aug 1985; alt. Passport F-823692 (Yemen) issued 02 Sep 1989; alt. Passport G-869537 (Pakistan); alt. Passport G-866537 (Pakistan) issued 12 Aug 1991; alt. Passport V-57865 (India) issued 03 Oct 1983; alt. Passport K-560098 (India) issued 30 Jul 1975; alt. Passport P-537849 (India) issued 30 Jul 1979; alt. Passport A-501801 (India) issued 26 Jul 1985; alt. Passport A-333602 (India) issued 04 Jun 1985; alt. Passport R-841697 (India) issued 26 Nov 1981; alt. Passport M-110522 (India) issued 13 Nov 1978 (individual) [SDGT] [SDNTK]

HASANAYN, Nasr Fahmi Nasr (a.k.a. SALAH, Muhammad) (individual) [SDGT]

HASANI, Zhavit; DOB 5 May 1957; POB Tanusevci, Macedonia (individual) [BALKANS]

HASSAN (a.k.a. AL-TIKRITI, Ali Saddam Hussein); DOB 1980; alt. DOB 1983; POB Iraq; nationality Iraq; son of Saddam Hussein al-Tikriti (individual) [IRAQ2]

HASSAN, Dawood (a.k.a. ANIS, Ibrahim Shaikh Mohd; a.k.a. AZIZ, Abdul Hamid Abdul; a.k.a. DILIP, Aziz; a.k.a. EBRAHIM, Dawood; a.k.a. HASAN, Shaikh Daud; a.k.a. IBRAHIM, Anis; a.k.a. IBRAHIM, Dawood; a.k.a. IBRAHIM, Dawood Sheik; a.k.a. KASKAR, Dawood Ibrahim; a.k.a. REHMAN, Shaikh Ismail Abdul; a.k.a. SABRI, Dawood; a.k.a. SAHEB, Amir; a.k.a. SETH, Iqbal), 617 CP Berar Society, Block 7-8, Karachi, Pakistan; House No. 37, Street 30, Phase V, Defence Housing Authority, Karachi, Pakistan; White House, Al-Wassal Road, Jumeira, Dubai, United Arab Emirates; 33-36, Pakmodiya Street, Haji Musafirkhana, Dongri, Bombay, India; House No. 10, Hill Top Arcade, Defence Housing Authority, Karachi, Pakistan; Moin Palace, 2nd Floor, Opp. Abdullah Shah Gazi Dargah, Clifton, Karachi, Pakistan; DOB 26 Dec 1955; alt. DOB 31 Dec 1955; POB Ratnagiri, Maharashtra, India; citizen India alt. United Arab Emirates; alt. Pakistan; nationality India; Passport A-717288 (United Arab Emirates) issued 18 Aug 1985; alt. Passport F-823692 (Yemen) issued 02 Sep 1989; alt. Passport G-869537 (Pakistan); alt. Passport G-866537 (Pakistan) issued 12 Aug 1991; alt. Passport V-57865 (India) issued 03 Oct 1983; alt. Passport K-560098 (India) issued 30 Jul 1975; alt. Passport P-537849 (India) issued 30 Jul 1979; alt. Passport A-501801 (India) issued 26 Jul 1985; alt. Passport A-333602 (India) issued 04 Jun 1985; alt. Passport R-841697 (India) issued 26 Nov 1981; alt. Passport M-110522 (India) issued 13 Nov 1978 (individual) [SDGT] [SDNTK]

HASSAN, Mohamed (a.k.a. AL-AMDOUNI, Mehrez Ben Mahmoud Ben Sassi; a.k.a. AMDOUNI, Mehrez; a.k.a. FUSCO, Fabio; a.k.a. “ABU THALE”); DOB 18 Dec 1969; POB Tunis, Tunisia; nationality Tunisia; Passport G737411 (Tunisia) issued 24 Oct 1990 expires 20 Sep 1997; alt. Passport 0801888 (Bosnia and Herzegovina) (individual) [SDGT]

HASSAN, Yaser (a.k.a. ABU DHESS, Mohamed; a.k.a. “ABU ALI”), ; Holdenweg 76, Essen 45143, Germany; DOB 1 Feb 1966; POB Hashmija, Iraq; nationality possibly Palestinian;arrested 23 Apr 2002 (individual) [SDGT]

HATKAEW COMPANY LTD. (a.k.a. BORISAT HAT KAEO CHAMKAT; a.k.a. HAD KAEW COMPANY LTD.), 275 Soi Thiam Ruammit, Ratchada Phisek Road, Huai Khwang district, Bangkok, Thailand [SDNTK]

HAVANA INTERNATIONAL BANK, LTD., 20 Ironmonger Lane, London EC2V 8EY, United Kingdom [CUBA]

HAVANATUR, 54 Rue Richelieu, Paris, France [CUBA]

HAVANATUR BAHAMAS LTD., East Bay Street, Nassau, Bahamas, The [CUBA]

HAVANATUR CHILE S.A. (f.k.a. GUAMATUR S.A.), Avenue 11 de Septiembre 2155, Edificio Panoramico, Torre C, Oficina 805, Providencia, Santiago, Chile [CUBA]

HAVANATUR S.A. (a.k.a. HAVANATUR, S.A.), Gerardo Medina No. 633, e/Avenue Borregos y Carretera de Vinales, Pinar del Rio, Cuba; Edificio Sierra Maestra, Calle 1era e/ 0 y 2, Miramar, Playa, Ciudad Habana, Cuba; Avenue 40 esq. 41 #4101, Cienfuegos, Cuba; 1ra. Rotonda Cayo Coco, Moron, Ciego de Avila, Cuba; Monteagudo e/Cuba y Carretera Central, Camaguey, Cuba; Frexes no. 172 e/Morales Lemus y Narciso Lopez, Holguin, Cuba; Calle 8 no. 56 e/1era. y 3ra. Rpto., Vista Allegre, Santiago de Cuba, Cuba; Hialeah, FL; Maipu 464, Piso 10, Buenos Aires 1006, Argentina; Panama City, Panama; Avenue 3era e/ 33 y 34, Varadero, Cuba; C.U.I.T. 30-68074603-2 (Argentina) [CUBA]

HAVANATUR, S.A. (a.k.a. HAVANATUR S.A.), Gerardo Medina No. 633, e/Avenue Borregos y Carretera de Vinales, Pinar del Rio, Cuba; Edificio Sierra Maestra, Calle 1era e/ 0 y 2, Miramar, Playa, Ciudad Habana, Cuba; Avenue 40 esq. 41 #4101, Cienfuegos, Cuba; 1ra. Rotonda Cayo Coco, Moron, Ciego de Avila, Cuba; Monteagudo e/Cuba y Carretera Central, Camaguey, Cuba; Frexes no. 172 e/Morales Lemus y Narciso Lopez, Holguin, Cuba; Calle 8 no. 56 e/1era. y 3ra. Rpto., Vista Allegre, Santiago de Cuba, Cuba; Hialeah, FL; Maipu 464, Piso 10, Buenos Aires 1006, Argentina; Panama City, Panama; Avenue 3era e/ 33 y 34, Varadero, Cuba; C.U.I.T. 30-68074603-2 (Argentina) [CUBA]

HAVANTUR CANADA INC. (a.k.a. 2904977 CANADA, INC.; a.k.a. CARIBE SOL), 818 rue Sherbrooke East, Montreal, Quebec H2L 1K3, Canada [CUBA]

HAVINPEX, S.A. (a.k.a. TRANSOVER, S.A.), Panama City, Panama [CUBA]

HAWATMA, Nayif (a.k.a. HAWATMAH, Nayif; a.k.a. HAWATMEH, Nayif; a.k.a. KHALID, Abu); DOB 1933; Secretary General of DEMOCRATIC FRONT FOR THE LIBERATION OF PALESTINE—HAWATMEH FACTION (individual) [SDT]

HAWATMAH, Nayif (a.k.a. HAWATMA, Nayif; a.k.a. HAWATMEH, Nayif; a.k.a. KHALID, Abu); DOB 1933; Secretary General of DEMOCRATIC FRONT FOR THE LIBERATION OF PALESTINE—HAWATMEH FACTION (individual) [SDT]

HAWATMEH, Nayif (a.k.a. HAWATMA, Nayif; a.k.a. HAWATMAH, Nayif; a.k.a. KHALID, Abu); DOB 1933; Secretary General of DEMOCRATIC FRONT FOR THE LIBERATION OF PALESTINE—HAWATMEH FACTION (individual) [SDT]

HAXHIREXHA, Kastriot; DOB 9 May 1961; POB Debar, Macedonia (individual) [BALKANS]

HAYA, Francisco, Panama (individual) [CUBA]

HAYDEE DE MUNOZ Y CIA. S. EN C., Avenida 6N No. 23DN-16, Cali, Colombia; Avenida 4N No. 5N-20, Cali, Colombia [SDNT]

HEATH, Noel Timothy (a.k.a. ZAMBA, Noel Heath; a.k.a. ZAMBO, Noel Heath), Cardin Avenue, Saint Kitts and Nevis; DOB 16 DEC 49; POB St Kitts and Nevis; Passport 03574 (United Kingdom) (individual) [SDNTK]

HEBRON S.A., Calle 28 No. 27-18, Tulua, Valle, Colombia; NIT # 800107304-7 (Colombia) [SDNT]

HEKHMARTYAR, Gulbuddin (a.k.a. HEKMATIAR, Gulbuddin; a.k.a. HEKMATYAR, Gulabudin; a.k.a. HEKMATYAR, Gulbuddin; a.k.a. HEKMETYAR, Gulbudin; a.k.a. HIKMETYAR, Golboddin; a.k.a. KHEKMATIYAR, Gulbuddin), Iran; DOB 1 Aug 1949; POB Konduz Province, Afghanistan (individual) [SDGT]

HEKMATIAR, Gulbuddin (a.k.a. HEKHMARTYAR, Gulbuddin; a.k.a. HEKMATYAR, Gulabudin; a.k.a. HEKMATYAR, Gulbuddin; a.k.a. HEKMETYAR, Gulbudin; a.k.a. HIKMETYAR, Golboddin; a.k.a. KHEKMATIYAR, Gulbuddin), Iran; DOB 1 Aug 1949; POB Konduz Province, Afghanistan (individual) [SDGT]

HEKMATYAR, Gulabudin (a.k.a. HEKHMARTYAR, Gulbuddin; a.k.a. HEKMATIAR, Gulbuddin; a.k.a. HEKMATYAR, Gulbuddin; a.k.a. HEKMETYAR, Gulbudin; a.k.a. HIKMETYAR, Golboddin; a.k.a. KHEKMATIYAR, Gulbuddin), Iran; DOB 1 Aug 1949; POB Konduz Province, Afghanistan (individual) [SDGT]

HEKMATYAR, Gulbuddin (a.k.a. HEKHMARTYAR, Gulbuddin; a.k.a. HEKMATIAR, Gulbuddin; a.k.a. HEKMATYAR, Gulabudin; a.k.a. HEKMETYAR, Gulbudin; a.k.a. HIKMETYAR, Golboddin; a.k.a. KHEKMATIYAR, Gulbuddin), Iran; DOB 1 Aug 1949; POB Konduz Province, Afghanistan (individual) [SDGT]

HEKMETYAR, Gulbudin (a.k.a. HEKHMARTYAR, Gulbuddin; a.k.a. HEKMATIAR, Gulbuddin; a.k.a. HEKMATYAR, Gulabudin; a.k.a. HEKMATYAR, Gulbuddin; a.k.a. HIKMETYAR, Golboddin; a.k.a. KHEKMATIYAR, Gulbuddin), Iran; DOB 1 Aug 1949; POB Konduz Province, Afghanistan (individual) [SDGT]

HELFORD DIRECTORS LIMITED, Haven Court, 5 Library Ramp, Gibraltar, United Kingdom [IRAQ2]

HEMED, Ahmed (a.k.a. ABDUREHMAN, Ahmed Mohammed; a.k.a. ABU FATIMA; a.k.a. ABU ISLAM; a.k.a. ABU KHADIIJAH; a.k.a. AHMED HAMED; a.k.a. AHMED THE EGYPTIAN; a.k.a. AHMED, Ahmed; a.k.a. ALI, Ahmed Mohammed; a.k.a. ALI, Ahmed Mohammed Hamed; a.k.a. ALI, Hamed; a.k.a. AL-MASRI, Ahmad; a.k.a. AL-SURIR, Abu Islam; a.k.a. SHIEB, Ahmed; a.k.a. SHUAIB), Afghanistan; DOB 1965; POB Egypt; citizen Egypt (individual) [SDGT]

HENAO DE SANCHEZ, Hortensia, c/o ALFA PHARMA S.A., Bogota, Colombia; DOB 17 Oct 1917; Cedula No. 29013554 (Colombia) (individual) [SDNT]

HENAO GONZALEZ, Carlos Andres, Carrera 8N No. 17A-12, Cartago, Colombia; c/o AGRICOLA GANADERA HENAO GONZALEZ Y CIA. S.C.S., Cartago, Colombia; c/o AGROPECUARIA MIRALINDO S.A., Cartago, Colombia; c/o COMPANIA AGROINVERSORA HENAGRO LTDA., Cartago, Colombia; c/o ARIZONA S.A., Cartago, Colombia; c/o DESARROLLOS COMERCIALES E INDUSTRIALES HENAO GONZALEZ Y CIA. S.C.S., Cartago, Colombia; c/o ORGANIZACION EMPRESARIAL A DE J HENAO M E HIJOS Y CIA. S.C.S., Cartago, Colombia; DOB 27 Nov 1980; Cedula No. 75096405 (Colombia); Passport 75096405 (Colombia) (individual) [SDNT]

HENAO GONZALEZ, Lina Marcela, Avenida 4 Oeste No. 5-97, Apt. 1001, Cali, Colombia; c/o AGRICOLA GANADERA HENAO GONZALEZ Y CIA. S.C.S., Cartago, Colombia; c/o COMPANIA AGROINVERSORA HENAGRO LTDA., Cartago, Colombia; c/o DESARROLLOS COMERCIALES E INDUSTRIALES HENAO GONZALEZ Y CIA. S.C.S., Cartago, Colombia; c/o ORGANIZACION EMPRESARIAL A DE J HENAO M E HIJOS Y CIA. S.C.S., Cartago, Colombia; DOB 10 May 1985; POB Cali, Valle, Colombia; Cedula No. TI-85051037834 (Colombia); NIT # 650000091-9 (Colombia); Passport AF228090 (Colombia); alt. Passport TI-85051037834 (Colombia) (individual) [SDNT]

HENAO GONZALEZ, Olga Patricia, Avenida 4 Oeste No. 5-97, Apt. 1001, Cali, Colombia; c/o AGRICOLA GANADERA HENAO GONZALEZ Y CIA. S.C.S., Cartago, Colombia; c/o COMPANIA AGROINVERSORA HENAGRO LTDA., Cartago, Colombia; c/o DESARROLLOS COMERCIALES E INDUSTRIALES HENAO GONZALEZ Y CIA. S.C.S., Cartago, Colombia; c/o ORGANIZACION EMPRESARIAL A DE J HENAO M E HIJOS Y CIA. S.C.S., Cartago, Colombia; DOB 18 Jan 1988; POB Cali, Valle, Colombia; Cedula No. RN12524986 (Colombia); NIT # 600018532-2 (Colombia); Passport AG762459 (Colombia); alt. Passport RN12524986 (Colombia) (individual) [SDNT]

HENAO HINESTROZA, Maria Nohelio, c/o INVHERESA S.A., Cali, Colombia; DOB 20 Mar 1954; Cedula No. 26271587 (Colombia) (individual) [SDNT]

HENAO LOPEZ, Alberto (a.k.a. HENAO, Alberto Lopez), c/o ALFA PHARMA S.A., Bogota, Colombia; DOB 12 Aug 1913; Cedula No. 2630951 (Colombia) (individual) [SDNT]

HENAO MONTOYA, Arcangel de Jesus, Hacienda Coque, Cartago, Colombia; Carrera 4 No. 16-04 apt. 303, Cartago, Colombia; c/o AGRICOLA GANADERA HENAO GONZALEZ Y CIA. S.C.S., Cartago, Colombia; c/o COMPANIA AGROINVERSORA HENAGRO LTDA., Cartago, Colombia; c/o DESARROLLOS COMERCIALES E INDUSTRIALES HENAO GONZALEZ Y CIA. S.C.S., Cartago, Colombia; c/o MAQUINARIA TECNICA Y TIERRAS LTDA., Cartago, Colombia; c/o ORGANIZACION EMPRESARIAL A DE J HENAO M E HIJOS Y CIA. S.C.S., Cartago, Colombia; c/o AGROPECUARIA MIRALINDO S.A., Cartago, Colombia; c/o ARIZONA S.A., Cartago, Colombia; Carrera 8N No. 17A-12, Cartago, Colombia; Carrera 42 No. 5B-81, Cali, Colombia; DOB 7 Oct 54; POB Cartago, Valle, Colombia; Cedula No. 16215230 (Colombia); NIT # 16215230-1 (Colombia); Passport 16215230 (Colombia) (individual) [SDNT]

HENAO MONTOYA, Lorena, Calle 52 No. 28E-30, Cali, Colombia; Calle 8 No. 39-79 of. 201, Cali, Colombia; c/o AGROINVERSORA URDINOLA HENAO Y CIA. S.C.S., Cali, Colombia; c/o CONSTRUCTORA UNIVERSAL LTDA., Cali, Colombia; c/o EXPLOTACIONES AGRICOLAS Y GANADERAS LA LORENA S.C.S., Cali, Colombia; c/o INDUSTRIAS AGROPECUARIAS DEL VALLE LTDA., Cali, Colombia; c/o INVERSIONES EL EDEN S.C.S., Cali, Colombia; c/o FREXCO S.A., La Union, Valle, Colombia; c/o CASA GRAJALES S.A., La Union, Valle, Colombia; c/o GRAJALES S.A., La Union, Valle, Colombia; c/o HOTEL LOS VINEDOS, La Union, Valle, Colombia; c/o IBADAN LTDA., Tulua, Valle, Colombia; c/o INVERSIONES AGUILA LTDA., La Union, Valle, Colombia; c/o INVERSIONES GRAME LTDA., La Union, Valle, Colombia; c/o INVERSIONES LOS POSSO LTDA. S.C.S., La Union, Valle, Colombia; c/o INVERSIONES SANTA CECILIA S.C.S., La Union, Valle, Colombia; c/o INVERSIONES SANTA MONICA LTDA., La Union, Valle, Colombia; c/o PANAMERICANA LTDA., Cali, Colombia; c/o SOCIEDAD DE NEGOCIOS SAN AGUSTIN LTDA., La Union, Valle, Colombia; c/o INDUSTRIAS AGROPECUARIAS EL EDEN S.A., Higueronal Torti, Darien, Panama; DOB 9 Oct 68; Cedula No. 31981533 (Colombia) (individual) [SDNT]

HENAO VDA. DE BOTERO, Maria Yolanda, c/o ALFA PHARMA S.A., Bogota, Colombia; DOB 21 Jun 1929; Cedula No. 29070489 (Colombia) (individual) [SDNT]

HENAO, Alberto Lopez (a.k.a. HENAO LOPEZ, Alberto), c/o ALFA PHARMA S.A., Bogota, Colombia; DOB 12 Aug 1913; Cedula No. 2630951 (Colombia) (individual) [SDNT]

HENIN, Ashraf Refaat Nabith (a.k.a. ALI, Salem; a.k.a. BIN KHALID, Fahd Bin Adballah; a.k.a. MOHAMMED, Khalid Shaikh; a.k.a. WADOOD, Khalid Adbul); DOB 14 Apr 1965; alt. DOB 1 Mar 1964; POB Kuwait; citizen Kuwait (individual) [SDGT]

HERMANN SHIPPING CORP., INC., Panama [CUBA]

HERNANDEZ CANOBAS, Hector Fabio, c/o INVERSIONES BETANIA LTDA., Cali, Colombia; c/o INVERSIONES EL PENON S.A., Cali, Colombia; DOB 21 Jun 1958; Cedula No. 16615804 (Colombia) (individual) [SDNT]

HERNANDEZ CARBALLOSA, Alexis Eneilo, Milan, Italy (individual) [CUBA]

HERNANDEZ IBARRA, Victor Hugo, c/o CAJA SOLIDARIA, Bogota, Colombia; c/o COPSERVIR LTDA., Bogota, Colombia; c/o MEGAPHARMA LTDA., Bogota, Colombia; Cedula No. 12133362 (Colombia) (individual) [SDNT]

HERNANDEZ MORENO, Arturo, c/o DEL NORTES CARNES FINAS SAN IGNACIO S.A. DE C.V., Chihuahua, Mexico; c/o INMOBILIARIA EL ESCORPION DEL NORTE S.A. DE C.V., Chihuahua, Mexico; c/o INMOBILIARIA EL PRESON S.A. DE C.V., Chihuahua, Mexico; Calle 16 No. 4016, Chihuahua, Chihuahua, Mexico; DOB 27 Nov 1962; POB Hidalgo Del Parral, Chihuaua, Mexico; citizen Mexico; nationality Mexico; R.F.C. HEMA-621127 (Mexico) (individual) [SDNTK]

HERNANDEZ PULIDO, Maria Elda, Calle Juan de Dios Peza 1015, Colonia Mexico 22150, Tijuana, Baja California, Mexico; c/o Farmacia Vida Suprema, S.A. DE C.V., Tijuana, Baja California, Mexico; c/o Distribuidora Imperial De Baja California, S.A. de C.V., Tijuana, Baja California, Mexico; DOB 18 Aug 1971; POB Baja California Norte, Mexico (individual) [SDNTK]

HERNANDEZ VASQUEZ, Gladys Darlen, c/o CAJA SOLIDARIA, Bogota, Colombia; c/o COOPIFARMA, Bucaramanga, Colombia; c/o COPSERVIR LTDA., Bogota, Colombia; c/o FARMAVISION LTDA., Bogota, Colombia; Carrera 34A No. 10-27 Sur, Bogota, Colombia; Cedula No. 52026909 (Colombia) (individual) [SDNT]

HERNANDEZ ZEA, Ana Elvia, Carrera 35 No. 53-53, Bogota, Colombia; c/o INTERCONTINENTAL DE AVIACION S.A., Bogota, Colombia; c/o INTERCONTINENTAL DE FINANCIACION AEREA S.A., Bogota, Colombia; c/o GREEN ISLAND S.A., Bogota, Colombia; DOB 28 Dec 1949; POB Tibasosa, Boyaca, Colombia; Cedula No. 41503907 (Colombia); Passport AG686192 (Colombia); alt. Passport AC594144 (Colombia); alt. Passport AE591041 (Colombia) (individual) [SDNT]

HERNANDEZ ZEA, Luis Antonio (a.k.a. “EL CAPITAN”), Carrera 53 No. 35-35, Bogota, Colombia; c/o INTERCONTINENTAL DE AVIACION S.A., Bogota, Colombia; c/o AEROVIAS ATLANTICO LTDA. AEROATLANTICO LTDA., Baranquilla, Colombia; c/o ASOCIACION TURISTICA INTERNACIONAL S.C.S., Bogota, Colombia; c/o CIA CONSTRUCTORA Y COMERCIALIZADORA DEL SUR LTDA., Bogota, Colombia; c/o GREEN ISLAND S.A., Bogota, Colombia; c/o INTERCONTINENTAL DE FINANCIACION AEREA S.A., Bogota, Colombia; c/o INVERSIONES Y COMERCIALIZADORA INCOM LTDA., Cali, Colombia; c/o LARGO LEASING LTD., George Town, Cayman Islands; c/o TRANS PACIFIC WORLD LEASING LIMITED, Port Vila, Vanuatu; DOB 7 May 1960; POB Bogota, Colombia; Cedula No. 79252957 (Colombia); Passport P006320 (Colombia); alt. Passport PE022166 (Colombia) (individual) [SDNT]

HERNANDEZ, Adan (a.k.a. AMESCUA, Chuey; a.k.a. AMEZCUA CONTRERAS, Jesus; a.k.a. AMEZCUA CONTRERAS, Jose de Jesus; a.k.a. AMEZCUA, Chuy; a.k.a. AMEZCUA, Jose de Jesus); DOB 31 JUL 63; alt. DOB 31 JUL 64; alt. DOB 31 JUL 65; POB Mexico (individual) [SDNTK]

HERNANDEZ, Oscar, Mz. 21 Casa 5 Barrio San Fernando, Pereira, Colombia; c/o TAURA S.A., Cali, Colombia; Cedula No. 6157940 (Colombia) (individual) [SDNT]

HERRAN SAAVEDRA, Victor Hugo, c/o GALAPAGOS S.A., Cali, Colombia; Cedula No. 16447166 (Colombia) (individual) [SDNT]

HERRERA AGUILERA, Augusto, c/o FARMAVISION LTDA., Bogota, Colombia; Cedula No. 17067884 (Colombia) (individual) [SDNT]

HERRERA AGUILERA, Gabriel, c/o COOPDISAN, Bucaramanga, Colombia; c/o DROGAS LA REBAJA BUCARAMANGA S.A., Bucaramanga, Colombia; Cedula No. 91236347 (Colombia); Passport 91236347 (Colombia) (individual) [SDNT]

HERRERA BUITRAGO, Alvaro, Avenida 6N No. 25-14, Cali, Colombia; c/o INDUSTRIA AVICOLA PALMASECA S.A., Cali, Colombia; DOB 10 Oct 1955; Cedula No. 16258303 (Colombia) (individual) [SDNT]

HERRERA BUITRAGO, Helmer (a.k.a. “H7”; a.k.a. “PACHO”), Cali, Colombia; DOB 24 Aug 51; alt. DOB 05 Jul 51; Cedula No. 16247821 (Colombia); Passport J287011 (Colombia) (individual) [SDNT]

HERRERA BUITRAGO, Stella, c/o SOCOVALLE LTDA., Cali, Colombia; c/o INVERSIONES GEMINIS S.A., Cali, Colombia; c/o CONSTRUCTORA DIMISA LTDA., Cali, Colombia; c/o INVERSIONES HERREBE LTDA., Cali, Colombia; c/o AGROPECUARIA Y REFORESTADORA HERREBE LTDA., Cali, Colombia; c/o CONCRETOS CALI S.A., Cali, Colombia; c/o COMERCIALIZADORA EXPERTA Y CIA. S. EN C., Bogota, Colombia; c/o INMOBILIARIA GALES LTDA., Bogota, Colombia; c/o INDUSTRIA AVICOLA PALMASECA S.A., Cali, Colombia; c/o COMERCIAL DE NEGOCIOS CLARIDAD Y CIA., Bogota, Colombia; Avenida 1B Oeste No. 1-44 apt. 602, Medeira Building, Cali, Colombia; DOB 7 Oct 1953; Cedula No. 31143871 (Colombia); Passport AD031302 (Colombia) (individual) [SDNT]

HERRERA BUITRAGO, Sulay (a.k.a. BUITRAGO, Sulay), c/o AGROPECUARIA Y REFORESTADORA HERREBE LTDA., Cali, Colombia; c/o CONSTRUEXITO S.A., Cali, Colombia; c/o INDUSTRIA AVICOLA PALMASECA S.A., Cali, Colombia; c/o INVERSIONES HERREBE LTDA., Cali, Colombia; DOB 27 Nov 1967; Cedula No. 31176167 (Colombia) (individual) [SDNT]

HERRERA BUITRAGO, William, c/o W. HERRERA Y CIA. S. EN C., Cali, Colombia; DOB 29 Nov 1964; Cedula No. 16716887 (Colombia); Passport P046550 (Colombia) (individual) [SDNT]

HERRERA CARDONA, Libia Constanza, c/o COPSERVIR LTDA., Bogota, Colombia; c/o TRIMARK LTDA., Bogota, Colombia; Cedula No. 66978250 (Colombia) (individual) [SDNT]

HERRERA GARCIA, Otto Roberto (a.k.a. VILLAGRAN, Francisco), Guatemala; DOB 14 Mar 1965; citizen Guatemala (individual) [SDNTK]

HERRERA INFANTE, Alberto, c/o CONSTRUCTORA DIMISA LTDA., Cali, Colombia; c/o INDUSTRIA AVICOLA PALMASECA S.A., Cali, Colombia; DOB 10 Apr 1960; Cedula No. 16637518 (Colombia) (individual) [SDNT]

HERRERA RAMIREZ, Giselle, c/o AGROPECUARIA Y REFORESTADORA HERREBE LTDA., Cali, Colombia; c/o INDUSTRIA AVICOLA PALMASECA S.A., Cali, Colombia; c/o INVERSIONES HERREBE LTDA., Cali, Colombia (individual) [SDNT]

HERRERA RAMIREZ, Linda Nicolle, c/o INDUSTRIA AVICOLA PALMASECA S.A., Cali, Colombia (individual) [SDNT]

HERRERA TOBON, Maria Cecilia, c/o LABORATORIOS GENERICOS VETERINARIOS, Bogota, Colombia; DOB 25 Nov 1957; Cedula No. 31397821 (Colombia) (individual) [SDNT]

HERRI BATASUNA (a.k.a. ASKATASUNA; a.k.a. BASQUE FATHERLAND AND LIBERTY; a.k.a. BATASUNA; a.k.a. EKIN; a.k.a. EPANASTATIKI PIRINES; a.k.a. ETA; a.k.a. EUSKAL HERRITARROK; a.k.a. EUZKADI TA ASKATASUNA; a.k.a. JARRAI-HAIKA-SEGI; a.k.a. K.A.S.; a.k.a. POPULAR REVOLUTIONARY STRUGGLE; a.k.a. XAKI) [FTO] [SDGT]

HESONG TRADING CORPORATION, Pyongyang, Korea, North [NPWMD]

HEYATUL ULYA, Mogadishu, Somalia [SDGT]

HEYWOOD NAVIGATION CORPORATION, c/o MELFI MARINE CORPORATION S.A., Oficina 7, Edificio Senorial, Calle 50, Apartado 31, Panama City 5, Panama [CUBA]

HIELO CRISTAL Y REFRIGERACION LTDA. (a.k.a. CUATRO FRIO), Carrera 44A No. 9C-85, Bogota, Colombia; Carrera 8 No. 32-16, Cali, Colombia; NIT # 890303017-5 (Colombia) [SDNT]

HIGUERA GUERRERO, Gilberto (a.k.a. “EL GILILLO”); DOB 14 Apr 1968; nationality Mexico (individual) [SDNTK]

HIGUERA GUERRERO, Ismael; DOB 17 Mar 61; POB Mexico (individual) [SDNTK]

HIGUERA RENTERIA, Ismael (a.k.a. GARCIA HERNANDEZ, Javier; a.k.a. LOAIZA AVENDANO, Jesus; a.k.a. ZAMBADA GARCIA, Ismael; a.k.a. ZAMBADA GARCIA, Ismael Mario; a.k.a. ZAMBADA, El Mayo); DOB 1 January 1948; POB Sinaloa, Mexico (individual) [SDNTK]

HIJAZI, Raed M (a.k.a. AL-AMRIKI, Abu-Ahmad; a.k.a. AL-HAWEN, Abu-Ahmad; a.k.a. AL-MAGHRIBI, Rashid; a.k.a. AL-SHAHID, Abu-Ahmad; a.k.a. HIJAZI, Riad), Jordan; DOB 1968; POB California, USA; SSN 548-91-5411 (United States) (individual) [SDGT]

HIJAZI, Riad (a.k.a. AL-AMRIKI, Abu-Ahmad; a.k.a. AL-HAWEN, Abu-Ahmad; a.k.a. AL-MAGHRIBI, Rashid; a.k.a. AL-SHAHID, Abu-Ahmad; a.k.a. HIJAZI, Raed M), Jordan; DOB 1968; POB California, USA; SSN 548-91-5411 (United States) (individual) [SDGT]

HIKMETYAR, Golboddin (a.k.a. HEKHMARTYAR, Gulbuddin; a.k.a. HEKMATIAR, Gulbuddin; a.k.a. HEKMATYAR, Gulabudin; a.k.a. HEKMATYAR, Gulbuddin; a.k.a. HEKMETYAR, Gulbudin; a.k.a. KHEKMATIYAR, Gulbuddin), Iran; DOB 1 Aug 1949; POB Konduz Province, Afghanistan (individual) [SDGT]

HILAL, Moussa (a.k.a. HILAL, Musa); DOB circa 1960; POB Kutum, North Darfur, Sudan; Sheikh and Paramount Chief of the Jalul Tribe in North Darfur (individual) [SUDAN]

HILAL, Musa (a.k.a. HILAL, Moussa); DOB circa 1960; POB Kutum, North Darfur, Sudan; Sheikh and Paramount Chief of the Jalul Tribe in North Darfur (individual) [SUDAN]

HIMMAT ESTABLISHMENT (f.k.a. AL TAQWA TRADE, PROPERTY AND INDUSTRY; f.k.a. AL TAQWA TRADE, PROPERTY AND INDUSTRY COMPANY LIMITED; f.k.a. AL TAQWA TRADE, PROPERTY AND INDUSTRY ESTABLISHMENT; a.k.a. WALDENBERG, AG), c/o Asat Trust Reg., Altenbach 8, Vaduz 9490, Liechtenstein; Via Posero, 2, 22060 Compione d'Italia, Italy [SDGT]

HIMMAT, Ali Ghaleb, Via Posero 2, Campione d'Italia CH-6911, Switzerland; DOB 16 Jun 38; POB Damascus, Syria; citizen Switzerland alt. Tunisia (individual) [SDGT]

HIR, Musa Abdul (a.k.a. HIR, Zulkifli Abdul; a.k.a. HIR, Zulkifli Bin Abdul; a.k.a. ZULKIFLI, Abdul Hir bin; a.k.a. ZULKIFLI, Bin Abdul Hir; a.k.a. “MUSA ABDUL”); DOB 5 Jan 1966; alt. DOB 5 Oct 1966; POB Malaysia (individual) [SDGT]

HIR, Zulkifli Abdul (a.k.a. HIR, Musa Abdul; a.k.a. HIR, Zulkifli Bin Abdul; a.k.a. ZULKIFLI, Abdul Hir bin; a.k.a. ZULKIFLI, Bin Abdul Hir; a.k.a. “MUSA ABDUL”); DOB 5 Jan 1966; alt. DOB 5 Oct 1966; POB Malaysia (individual) [SDGT]

HIR, Zulkifli Bin Abdul (a.k.a. HIR, Musa Abdul; a.k.a. HIR, Zulkifli Abdul; a.k.a. ZULKIFLI, Abdul Hir bin; a.k.a. ZULKIFLI, Bin Abdul Hir; a.k.a. “MUSA ABDUL”); DOB 5 Jan 1966; alt. DOB 5 Oct 1966; POB Malaysia (individual) [SDGT]

HIZBALLAH (a.k.a. ANSAR ALLAH; a.k.a. FOLLOWERS OF THE PROPHET MUHAMMED; a.k.a. ISLAMIC JIHAD; a.k.a. ISLAMIC JIHAD FOR THE LIBERATION OF PALESTINE; a.k.a. ISLAMIC JIHAD ORGANIZATION; a.k.a. ORGANIZATION OF RIGHT AGAINST WRONG; a.k.a. ORGANIZATION OF THE OPPRESSED ON EARTH; a.k.a. PARTY OF GOD; a.k.a. REVOLUTIONARY JUSTICE ORGANIZATION) [SDT] [FTO] [SDGT]

HMODAT, Mackie (a.k.a. AL-HAMADAT, General Maki; a.k.a. HAMUDAT, General Maki Mustafa; a.k.a. HAMUDAT, Maki; a.k.a. MUSTAFA, Macki Hamoudat), Mosul, Iraq; DOB circa 1934; nationality Iraq (individual) [IRAQ2]

HOCHBURG, AG (a.k.a. BA TAQWA FOR COMMERCE AND REAL ESTATE COMPANY LIMITED), Vaduz, Liechtenstein; formerly c/o Asat Trust reg., Vaduz, Liechtenstein [SDGT]

HOLA SUN HOLIDAYS LIMITED, 146 Beaver Creek Road, Richmond Hill, Ontario, L4B 1C2, Canada [CUBA]

HOLGUIN SARRIA, Alvaro, c/o DISTRIBUIDORA DE DROGAS CONDOR LTDA., Bogota, Colombia; c/o DEPOSITO POPULAR DE DROGAS S.A., Cali, Colombia; c/o DERECHO INTEGRAL Y CIA. LTDA., Cali, Colombia; c/o DISTRIBUIDORA MIGIL LTDA., Cali, Colombia; DOB 28 Oct 1946; Cedula No. 14950269 (Colombia) (individual) [SDNT]

HOLY LAND FOUNDATION FOR RELIEF AND DEVELOPMENT (f.k.a. OCCUPIED LAND FUND), 525 International Parkway, Suite 509, Richardson, TX 75081; P.O. Box 832390, Richardson, TX 75083; 9250 S. Harlem Avenue, Bridgeview, IL; 345 E. Railway Avenue, Paterson, NJ 07503; Hebron, West Bank; Gaza Strip, undetermined; 12798 Rancho Penasquitos Blvd., Suite F, San Diego, CA 92128; Jenin, West Bank; Shurta Street, 'Amira al-Ramuna, 4th Floor, Ramallah, West Bank; US FEIN 95-4227517; and other locations within the United States [SDT] [SDGT]

HOTEL LOS VINEDOS (a.k.a. LOS VINEDOS DE GETSEMANI S.A.; a.k.a. VALLE LINDO HOSTAL RESTAURANTE), Troncal Del Pacifico Km. 1, La Union, Valle, Colombia; Km. 1 Via a Roldanillo, La Union, Valle, Colombia; NIT # 800108902-6 (Colombia) [SDNT]

HOTEL NASCO (a.k.a. NASCO BUSINESS RESIDENCE CENTER SAS DI NASREDDIN AHMED IDRIS EC), Corso Sempione 69, 20149 Milan, Italy; Italian Fiscal Code 01406430155; V.A.T. Number IT 01406430155 [SDGT]

HOTEL PALACE (a.k.a. CIA. CONSTRUCTORA Y COMERCIALIZADORA DEL SUR LTDA.; a.k.a. COSUR LTDA.), Avenida El Dorado Entrada 2 Int. 6, Bogota, Colombia; NIT # 890329758-7 (Colombia) [SDNT]

HOTELES E INMUEBLES DE COLOMBIA LTDA. (a.k.a. HOTINCOL), Calle 74 No. 53-30, Barranquilla, Colombia; NIT # 800013139-3 (Colombia) [SDNT]

HOTINCOL (a.k.a. HOTELES E INMUEBLES DE COLOMBIA LTDA.), Calle 74 No. 53-30, Barranquilla, Colombia; NIT # 800013139-3 (Colombia) [SDNT]

HOUMAT ED DAAWA ES SALIFIYA (a.k.a. DHAMAT HOUMET DAAWA SALAFIA; a.k.a. DJAMAAT HOUMAT ED DAAWA ES SALAFIYA; a.k.a. DJAMAAT HOUMAT ED DAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

HOUMAT ED-DAAOUA ES-SALAFIA (a.k.a. DHAMAT HOUMET DAAWA SALAFIA; a.k.a. DJAMAAT HOUMAT ED DAAWA ES SALAFIYA; a.k.a. DJAMAAT HOUMAT ED DAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

HOUMATE ED-DAAWA ES-SALAFIA (a.k.a. DHAMAT HOUMET DAAWA SALAFIA; a.k.a. DJAMAAT HOUMAT ED DAAWA ES SALAFIYA; a.k.a. DJAMAAT HOUMAT ED DAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

HOUMATE EL DA'AWAA ES-SALAFIYYA (a.k.a. DHAMAT HOUMET DAAWA SALAFIA; a.k.a. DJAMAAT HOUMAT ED DAAWA ES SALAFIYA; a.k.a. DJAMAAT HOUMAT ED DAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

HOVE, Richard Chemist; DOB 23 Sep 1939; Passport ZD002376 (Zimbabwe); Politburo Secretary for Economic Affairs (individual) [ZIMBABWE]

HU, Chi Shu (a.k.a. CHAN, Shu Sang; a.k.a. CHAN, Shusang; a.k.a. CHEN, Bing Shen; a.k.a. CHEN, Bingshen; a.k.a. CHEN, Shu Sheng; a.k.a. CHEN, Shusheng; a.k.a. DU, Yu Rong; a.k.a. DU, Yurong; a.k.a. HU, Chishu; a.k.a. HUANG, Man Chi; a.k.a. HUANG, Manchi; a.k.a. WONG, Kam Kong; a.k.a. WONG, Kamkong; a.k.a. WONG, Moon Chi; a.k.a. WONG, Moonchi; a.k.a. WONG, Mun Chi; a.k.a. WONG, Munchi; a.k.a. WU, Chai Su; a.k.a. WU, Chaisu; a.k.a. ZHANG, Jiang Ping; a.k.a. ZHANG, Jiangping; a.k.a. “CHI BANG”), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

HU, Chishu (a.k.a. CHAN, Shu Sang; a.k.a. CHAN, Shusang; a.k.a. CHEN, Bing Shen; a.k.a. CHEN, Bingshen; a.k.a. CHEN, Shu Sheng; a.k.a. CHEN, Shusheng; a.k.a. DU, Yu Rong; a.k.a. DU, Yurong; a.k.a. HU, Chi Shu; a.k.a. HUANG, Man Chi; a.k.a. HUANG, Manchi; a.k.a. WONG, Kam Kong; a.k.a. WONG, Kamkong; a.k.a. WONG, Moon Chi; a.k.a. WONG, Moonchi; a.k.a. WONG, Mun Chi; a.k.a. WONG, Munchi; a.k.a. WU, Chai Su; a.k.a. WU, Chaisu; a.k.a. ZHANG, Jiang Ping; a.k.a. ZHANG, Jiangping; a.k.a. “CHI BANG”), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

HUA (a.k.a. AL-FARAN; a.k.a. AL-HADID; a.k.a. AL-HADITH; a.k.a. HARAKAT UL-ANSAR; a.k.a. HARAKAT UL-MUJAHIDEEN; a.k.a. HARAKAT UL-MUJAHIDIN; a.k.a. HUM; a.k.a. JAMIAT UL-ANSAR) [FTO] [SDGT]

HUANG, Man Chi (a.k.a. CHAN, Shu Sang; a.k.a. CHAN, Shusang; a.k.a. CHEN, Bing Shen; a.k.a. CHEN, Bingshen; a.k.a. CHEN, Shu Sheng; a.k.a. CHEN, Shusheng; a.k.a. DU, Yu Rong; a.k.a. DU, Yurong; a.k.a. HU, Chi Shu; a.k.a. HU, Chishu; a.k.a. HUANG, Manchi; a.k.a. WONG, Kam Kong; a.k.a. WONG, Kamkong; a.k.a. WONG, Moon Chi; a.k.a. WONG, Moonchi; a.k.a. WONG, Mun Chi; a.k.a. WONG, Munchi; a.k.a. WU, Chai Su; a.k.a. WU, Chaisu; a.k.a. ZHANG, Jiang Ping; a.k.a. ZHANG, Jiangping; a.k.a. “CHI BANG”), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

HUANG, Manchi (a.k.a. CHAN, Shu Sang; a.k.a. CHAN, Shusang; a.k.a. CHEN, Bing Shen; a.k.a. CHEN, Bingshen; a.k.a. CHEN, Shu Sheng; a.k.a. CHEN, Shusheng; a.k.a. DU, Yu Rong; a.k.a. DU, Yurong; a.k.a. HU, Chi Shu; a.k.a. HU, Chishu; a.k.a. HUANG, Man Chi; a.k.a. WONG, Kam Kong; a.k.a. WONG, Kamkong; a.k.a. WONG, Moon Chi; a.k.a. WONG, Moonchi; a.k.a. WONG, Mun Chi; a.k.a. WONG, Munchi; a.k.a. WU, Chai Su; a.k.a. WU, Chaisu; a.k.a. ZHANG, Jiang Ping; a.k.a. ZHANG, Jiangping; a.k.a. “CHI BANG”), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

HUBER, Ahmed (a.k.a. HUBER, Albert Friedrich Armand), Mettmenstetten, Switzerland; DOB 1927 (individual) [SDGT]

HUBER, Albert Friedrich Armand (a.k.a. HUBER, Ahmed), Mettmenstetten, Switzerland; DOB 1927 (individual) [SDGT]

HUERTAS RAMIREZ, Jorge Luis, c/o REPRESENTACIONES Y DISTRIBUCIONES HUERTAS Y ASOCIADOS S.A., Bogota, Colombia; c/o DECAFARMA S.A., Bogota, Colombia; c/o LABORATORIOS KRESSFOR DE COLOMBIA S.A., Bogota, Colombia; c/o PRODUCTOS GALO Y CIA. LTDA., Bogota, Colombia; DOB 2 Apr 1951; Cedula No. 19134241 (Colombia); Passport 19134241 (Colombia) (individual) [SDNT]

HUM (a.k.a. AL-FARAN; a.k.a. AL-HADID; a.k.a. AL-HADITH; a.k.a. HARAKAT UL-ANSAR; a.k.a. HARAKAT UL-MUJAHIDEEN; a.k.a. HARAKAT UL-MUJAHIDIN; a.k.a. HUA; a.k.a. JAMIAT UL-ANSAR) [FTO] [SDGT]

HUMANITARE HILFSORGANISATION FUR PALASTINA (a.k.a. ASP; a.k.a. ASSOCIATION DE SECOURS PALESTINIENS; a.k.a. ASSOCIATION FOR PALESTINIAN AID; a.k.a. ASSOCIATION SECOUR PALESTINIEN; a.k.a. LAJNA AL-IGHATHA AL-FILISTINI; a.k.a. PALESTINE RELIEF COMMITTEE; a.k.a. PALESTINIAN AID COUNCIL; a.k.a. PALESTINIAN AID ORGANIZATION; a.k.a. PALESTINIAN RELIEF SOCIETY; a.k.a. RELIEF ASSOCIATION FOR PALESTINE), c/o Faical Yaakoubi, 7 rue de l'Ancien Port, CH-1201 Geneva, Switzerland; Gartnerstrasse 55, CH-4109 Basel, Switzerland; Postfach 406, CH-4109 Basel, Switzerland [SDGT]

HUNTSLAND NAVIGATION CO. LTD., c/o NIPPON CARIBBEAN SHIPPING CO. LTD., 8th Floor, Tsukiji Hosoda Building, 2-1, Tsukiji 2-chome, Chuo-ku, Tokyo, Japan [CUBA]

HUNTSVILLE NAVIGATION CO. LTD., c/o NIPPON CARIBBEAN SHIPPING CO. LTD., 8th Floor, Tsukiji Hosoda Building, 2-1, Tsukiji 2-chome, Chuo-ku, Tokyo, Japan [CUBA]

HURTADO ROMERO, Jairo Jose, Carrera 42 No. 5B-81, Cali, Colombia; Carrera 8N No. 17A-12, Cartago, Colombia; c/o ARIZONA S.A., Cartago, Colombia; c/o MAQUINARIA TECNICA Y TIERRAS LTDA., Cali, Colombia; Cedula No. 13809079 (Colombia); Passport 13809079 (Colombia) (individual) [SDNT]

HUSAIN, Zain Al-Abidin Muhahhad (a.k.a. ABU ZUBAIDA; a.k.a. ABU ZUBAYDAH; a.k.a. AL-WAHAB, Abd Al-Hadi; a.k.a. HUSAYN, Zayn al-Abidin Muhammad; a.k.a. TARIQ); DOB 12 MAR 71; POB Riyadh, Saudi Arabia (individual) [SDGT]

HUSAYN ALAYWAH, Al-Sayyid Ahmad Fathi; DOB 30 Jul 1964; POB Suez, Egypt; nationality Egypt (individual) [SDGT]

HUSAYN, Saddam (a.k.a. ABU ALI; a.k.a. AL-TIKRITI, Saddam Hussein; a.k.a. HUSSAIN, Saddam; a.k.a. HUSSEIN, Saddam); DOB 28 Apr 1937; POB al-Awja, near Tikrit, Iraq; nationality Iraq; named in UNSCR 1483; President since 1979 (individual) [IRAQ2]

HUSAYN, Zayn al-Abidin Muhammad (a.k.a. ABU ZUBAIDA; a.k.a. ABU ZUBAYDAH; a.k.a. AL-WAHAB, Abd Al-Hadi; a.k.a. HUSAIN, Zain Al-Abidin Muhahhad; a.k.a. TARIQ); DOB 12 MAR 71; POB Riyadh, Saudi Arabia (individual) [SDGT]

HUSIN, Azahari (a.k.a. BIN HUSAN, Azahari; a.k.a. BIN HUSIN, Azahari); DOB 14 Sep 1957; POB Malaysia; nationality Malaysia (individual) [SDGT]

HUSSAIN, Saddam (a.k.a. ABU ALI; a.k.a. AL-TIKRITI, Saddam Hussein; a.k.a. HUSAYN, Saddam; a.k.a. HUSSEIN, Saddam); DOB 28 Apr 1937; POB al-Awja, near Tikrit, Iraq; nationality Iraq; named in UNSCR 1483; President since 1979 (individual) [IRAQ2]

HUSSEIN (a.k.a. AL MASRI, Abd Al Wakil; a.k.a. ALI, Hassan; a.k.a. AL-NUBI, Abu; a.k.a. ANIS, Abu; a.k.a. ELBISHY, Moustafa Ali; a.k.a. FADHIL, Mustafa Mohamed; a.k.a. FADIL, Mustafa Muhamad; a.k.a. FAZUL, Mustafa; a.k.a. JIHAD, Abu; a.k.a. KHALID; a.k.a. MAN, Nu; a.k.a. MOHAMMED, Mustafa; a.k.a. YUSSRR, Abu); DOB 23 Jun 1976; POB Cairo, Egypt; citizen Egypt alt. Kenya; Kenyan ID No. 12773667; Serial No. 201735161 (individual) [SDGT]

HUSSEIN, Mahafudh Abubakar Ahmed Abdallah (a.k.a. AHMAD, Abu Bakr; a.k.a. “AHMED THE TANZANIAN”; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. “FOOPIE”; a.k.a. “FUPI”; a.k.a. GHAILANI, Abubakary Khalfan Ahmed; a.k.a. GHAILANI, Ahmed; a.k.a. GHAILANI, Ahmed Khalfan; a.k.a. GHILANI, Ahmad Khalafan; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

HUSSEIN, Mazen Ali (a.k.a. SALAH MUHAMAD, Issa), Branderstrasse 28, Augsburg 86154, Germany; Schwabisch Hall Prison, Germany; DOB 1 Jan 1982; alt. DOB 1 Jan 1980; POB Baghdad, Iraq; nationality Iraq; Travel Document Number A0144378 (Germany) (individual) [SDGT]

HUSSEIN, Saddam (a.k.a. ABU ALI; a.k.a. AL-TIKRITI, Saddam Hussein; a.k.a. HUSAYN, Saddam; a.k.a. HUSSAIN, Saddam); DOB 28 Apr 1937; POB al-Awja, near Tikrit, Iraq; nationality Iraq; named in UNSCR 1483; President since 1979 (individual) [IRAQ2]

HUSSEIN, Udai Saddam (a.k.a. AL-TIKRITI, Uday Saddam Hussein); DOB 1964; alt. DOB 1967; POB Baghdad, Iraq; nationality Iraq; Saddam Hussein al-Tikriti's eldest son; leader of paramilitary organization Fedayeen Saddam (individual) [IRAQ2]

HUWAYSH, Abd-al-Tawab Mullah; DOB 1957; alt. DOB 14 Mar 1942; POB Mosul or Baghdad, Iraq; nationality Iraq; deputy prime minister; director, Organization of Military Industrialization (individual) [IRAQ2]

HUYO-GIRALDO, LTD. (a.k.a. ARDILA-MARMOLEJO, LTD.), Nassau, Bahamas, The; Business Registration Document # 88,046 B (Bahamas, The) [SDNT]

HUYO-GIRALDO, LTD. (a.k.a. ARDILA-MARMOLEJO, LTD.), Nassau, Bahamas, The; Business Registration Document # 88,046 B (Bahamas, The) [SDNT]

HYSENI, Xhemajl; DOB 15 Aug 1958; POB Lojane, Macedonia (individual) [BALKANS]

I A C INTERNATIONAL INC. (a.k.a. IAC INTERNATIONAL INC.; a.k.a. INTERNATIONAL AIRLINE CONSULTING), 8940 NW 24 TERRACE, Miami, FL 33122; Business Registration Document # P9800004558 (United States); U.S. FEIN 65-0842701 [BPI-SDNTK]

I.P.C. INTERNATIONAL LIMITED, United Kingdom [IRAQ2]

I.P.C. MARKETING LIMITED, United Kingdom [IRAQ2]

IAC INTERNATIONAL INC. (a.k.a. I A C INTERNATIONAL INC.; a.k.a. INTERNATIONAL AIRLINE CONSULTING), 8940 NW 24 TERRACE, Miami, FL 33122; Business Registration Document # P9800004558 (United States); U.S. FEIN 65-0842701 [BPI-SDNTK]

IARA (a.k.a. AL-WAKALA AL-ISLAMIYA AL-AFRIKIA L'IL-IGHATHA; a.k.a. AL-WAKALA AL-ISLAMIYA L'IL-IGHATHA; a.k.a. ISLAMIC AFRICAN RELIEF AGENCY; a.k.a. ISLAMIC AMERICAN RELIEF AGENCY; a.k.a. ISLAMIC RELIEF AGENCY; a.k.a. ISRA), 201 E. Cherry Street, Suite D, Columbia, MO 65205; all offices worldwide [SDGT]

IB OF AMERICA HOLDINGS INC., 811 S. Central Expwy, Ste 210, Richardson, TX 75080 [LIBERIA]

IBADAN LTDA., Calle 28 No. 27-18, Tulua, Valle, Colombia; NIT # 800112215-1 (Colombia) [SDNT]

IBANEZ LOPEZ, Raul Alberto, c/o INCOES LTDA., Cali, Colombia; c/o AGROPECUARIA LA ROBLEDA S.A., Cali, Colombia; c/o GANADERIAS DEL VALLE S.A., Cali, Colombia; c/o INMOBILIARIA U.M.V. S.A., Cali, Colombia; c/o DISTRIBUIDORA DE ELEMENTOS PARA LA CONSTRUCCION S.A., Cali, Colombia; DOB 11 Apr 1960; Cedula No. 16640123 (Colombia) (individual) [SDNT]

IBRAHIM, Anis (a.k.a. ANIS, Ibrahim Shaikh Mohd; a.k.a. AZIZ, Abdul Hamid Abdul; a.k.a. DILIP, Aziz; a.k.a. EBRAHIM, Dawood; a.k.a. HASAN, Shaikh Daud; a.k.a. HASSAN, Dawood; a.k.a. IBRAHIM, Dawood; a.k.a. IBRAHIM, Dawood Sheik; a.k.a. KASKAR, Dawood Ibrahim; a.k.a. REHMAN, Shaikh Ismail Abdul; a.k.a. SABRI, Dawood; a.k.a. SAHEB, Amir; a.k.a. SETH, Iqbal), 617 CP Berar Society, Block 7-8, Karachi, Pakistan; House No. 37, Street 30, Phase V, Defence Housing Authority, Karachi, Pakistan; White House, Al-Wassal Road, Jumeira, Dubai, United Arab Emirates; 33-36, Pakmodiya Street, Haji Musafirkhana, Dongri, Bombay, India; House No. 10, Hill Top Arcade, Defence Housing Authority, Karachi, Pakistan; Moin Palace, 2nd Floor, Opp. Abdullah Shah Gazi Dargah, Clifton, Karachi, Pakistan; DOB 26 Dec 1955; alt. DOB 31 Dec 1955; POB Ratnagiri, Maharashtra, India; citizen India alt. United Arab Emirates; alt. Pakistan; nationality India; Passport A-717288 (United Arab Emirates) issued 18 Aug 1985; alt. Passport F-823692 (Yemen) issued 02 Sep 1989; alt. Passport G-869537 (Pakistan); alt. Passport G-866537 (Pakistan) issued 12 Aug 1991; alt. Passport V-57865 (India) issued 03 Oct 1983; alt. Passport K-560098 (India) issued 30 Jul 1975; alt. Passport P-537849 (India) issued 30 Jul 1979; alt. Passport A-501801 (India) issued 26 Jul 1985; alt. Passport A-333602 (India) issued 04 Jun 1985; alt. Passport R-841697 (India) issued 26 Nov 1981; alt. Passport M-110522 (India) issued 13 Nov 1978 (individual) [SDGT] [SDNTK]

IBRAHIM, Dawood (a.k.a. ANIS, Ibrahim Shaikh Mohd; a.k.a. AZIZ, Abdul Hamid Abdul; a.k.a. DILIP, Aziz; a.k.a. EBRAHIM, Dawood; a.k.a. HASAN, Shaikh Daud; a.k.a. HASSAN, Dawood; a.k.a. IBRAHIM, Anis; a.k.a. IBRAHIM, Dawood Sheik; a.k.a. KASKAR, Dawood Ibrahim; a.k.a. REHMAN, Shaikh Ismail Abdul; a.k.a. SABRI, Dawood; a.k.a. SAHEB, Amir; a.k.a. SETH, Iqbal), 617 CP Berar Society, Block 7-8, Karachi, Pakistan; House No. 37, Street 30, Phase V, Defence Housing Authority, Karachi, Pakistan; White House, Al-Wassal Road, Jumeira, Dubai, United Arab Emirates; 33-36, Pakmodiya Street, Haji Musafirkhana, Dongri, Bombay, India; House No. 10, Hill Top Arcade, Defence Housing Authority, Karachi, Pakistan; Moin Palace, 2nd Floor, Opp. Abdullah Shah Gazi Dargah, Clifton, Karachi, Pakistan; DOB 26 Dec 1955; alt. DOB 31 Dec 1955; POB Ratnagiri, Maharashtra, India; citizen India alt. United Arab Emirates; alt. Pakistan; nationality India; Passport A-717288 (United Arab Emirates) issued 18 Aug 1985; alt. Passport F-823692 (Yemen) issued 02 Sep 1989; alt. Passport G-869537 (Pakistan); alt. Passport G-866537 (Pakistan) issued 12 Aug 1991; alt. Passport V-57865 (India) issued 03 Oct 1983; alt. Passport K-560098 (India) issued 30 Jul 1975; alt. Passport P-537849 (India) issued 30 Jul 1979; alt. Passport A-501801 (India) issued 26 Jul 1985; alt. Passport A-333602 (India) issued 04 Jun 1985; alt. Passport R-841697 (India) issued 26 Nov 1981; alt. Passport M-110522 (India) issued 13 Nov 1978 (individual) [SDGT] [SDNTK]

IBRAHIM, Dawood Sheik (a.k.a. ANIS, Ibrahim Shaikh Mohd; a.k.a. AZIZ, Abdul Hamid Abdul; a.k.a. DILIP, Aziz; a.k.a. EBRAHIM, Dawood; a.k.a. HASAN, Shaikh Daud; a.k.a. HASSAN, Dawood; a.k.a. IBRAHIM, Anis; a.k.a. IBRAHIM, Dawood; a.k.a. KASKAR, Dawood Ibrahim; a.k.a. REHMAN, Shaikh Ismail Abdul; a.k.a. SABRI, Dawood; a.k.a. SAHEB, Amir; a.k.a. SETH, Iqbal), 617 CP Berar Society, Block 7-8, Karachi, Pakistan; House No. 37, Street 30, Phase V, Defence Housing Authority, Karachi, Pakistan; White House, Al-Wassal Road, Jumeira, Dubai, United Arab Emirates; 33-36, Pakmodiya Street, Haji Musafirkhana, Dongri, Bombay, India; House No. 10, Hill Top Arcade, Defence Housing Authority, Karachi, Pakistan; Moin Palace, 2nd Floor, Opp. Abdullah Shah Gazi Dargah, Clifton, Karachi, Pakistan; DOB 26 Dec 1955; alt. DOB 31 Dec 1955; POB Ratnagiri, Maharashtra, India; citizen India alt. United Arab Emirates; alt. Pakistan; nationality India; Passport A-717288 (United Arab Emirates) issued 18 Aug 1985; alt. Passport F-823692 (Yemen) issued 02 Sep 1989; alt. Passport G-869537 (Pakistan); alt. Passport G-866537 (Pakistan) issued 12 Aug 1991; alt. Passport V-57865 (India) issued 03 Oct 1983; alt. Passport K-560098 (India) issued 30 Jul 1975; alt. Passport P-537849 (India) issued 30 Jul 1979; alt. Passport A-501801 (India) issued 26 Jul 1985; alt. Passport A-333602 (India) issued 04 Jun 1985; alt. Passport R-841697 (India) issued 26 Nov 1981; alt. Passport M-110522 (India) issued 13 Nov 1978 (individual) [SDGT] [SDNTK]

IBRAHIM, Haji (a.k.a. IBRAHIM, Haji Ehai; a.k.a. KHAN AFRIDI, Haji Ibrahim; a.k.a. KHAN, Haji Ibrahim); DOB 28 September 1957; POB Pakistan (individual) [SDNTK]

IBRAHIM, Haji Ehai (a.k.a. IBRAHIM, Haji; a.k.a. KHAN AFRIDI, Haji Ibrahim; a.k.a. KHAN, Haji Ibrahim); DOB 28 September 1957; POB Pakistan (individual) [SDNTK]

ICDB (a.k.a. ISLAMIC CO-OPERATIVE DEVELOPMENT BANK), P.O. Box 62, Khartoum, Sudan [SUDAN]

IDARA KHIDMAT-E-KHALQ (a.k.a. AL MANSOOREEN; a.k.a. AL MANSOORIAN; a.k.a. ARMY OF THE PURE; a.k.a. ARMY OF THE PURE AND RIGHTEOUS; a.k.a. ARMY OF THE RIGHTEOUS; a.k.a. JAMA'AT AL-DAWA; a.k.a. JAMAAT UD-DAAWA; a.k.a. JAMAAT UL-DAWAH; a.k.a. JAMA'AT-I-DAWAT; a.k.a. JAMAATI-UD-DAWA; a.k.a. JAMA'AT-UD-DA'AWA; a.k.a. JAMA'AT-UD-DA'AWAH; a.k.a. JAMAAT-UD-DAWA; a.k.a. JAMAAT-UL-DAWA; a.k.a. JAMAIAT-UD-DAWA; a.k.a. LASHKAR E-TAYYIBA; a.k.a. LASHKAR E-TOIBA; a.k.a. LASHKAR-I-TAIBA; a.k.a. PAASBAN-E-AHLE-HADIS; a.k.a. PAASBAN-E-KASHMIR; a.k.a. PAASBAN-I-AHLE-HADITH; a.k.a. PASBAN-E-AHLE-HADITH; a.k.a. PASBAN-E-KASHMIR; a.k.a. “JUD”), Pakistan [SDGT] [FTO]

IDARRAGA ESCANDON, Herned (a.k.a. IDARRAGA ESCANDON, Hernet), c/o DISMERCOOP, Cali, Colombia; c/o GRACADAL S.A., Cali, Colombia; Carrera 25A No. 49-73, Cali, Colombia; DOB 22 Dec 1954; Cedula No. 16595668 (Colombia) (individual) [SDNT]

IDARRAGA ESCANDON, Hernet (a.k.a. IDARRAGA ESCANDON, Herned), c/o DISMERCOOP, Cali, Colombia; c/o GRACADAL S.A., Cali, Colombia; Carrera 25A No. 49-73, Cali, Colombia; DOB 22 Dec 1954; Cedula No. 16595668 (Colombia) (individual) [SDNT]

IDARRAGA ORTIZ, Jaime, c/o DISTRIBUIDORA DE DROGAS CONDOR LTDA., Bogota, Colombia; c/o DISTRIBUIDORA MIGIL LTDA., Cali, Colombia; c/o DISTRIBUIDORA DE DROGAS LA REBAJA S.A., Bogota, Colombia; c/o DEPOSITO POPULAR DE DROGAS S.A., Cali, Colombia; c/o INTERAMERICA DE CONSTRUCCIONES S.A., Cali, Colombia; c/o INVERSIONES CAMINO REAL S.A., Cali, Colombia; c/o BLANCO PHARMA S.A., Bogota, Colombia; c/o DROGAS LA REBAJA BOGOTA S.A., Bogota, Colombia; c/o FARMATODO S.A., Bogota, Colombia; c/o LABORATORIOS BLAIMAR DE COLOMBIA S.A., Bogota, Colombia; c/o LABORATORIOS KRESSFOR DE COLOMBIA S.A., Bogota, Colombia; DOB 14 Dec 1941; Cedula No. 8237011 (Colombia) (individual) [SDNT]

IDARRAGA ORTIZ, Rogelio, c/o CAJA SOLIDARIA, Bogota, Colombia; c/o COPSERVIR LTDA., Bogota, Colombia; DOB 10 Jan 1944; Cedula No. 3417272 (Colombia); Passport 3417272 (Colombia) (individual) [SDNT]

IDARRAGA RIOS, Andres Felipe, c/o 2000-DODGE S.L., Madrid, Spain; c/o 2000 DOSE E.U., Cali, Colombia; C Y S MEDIOS E.U., Cali, Colombia; Cedula No. 16274109 (Colombia); Passport 16274109 (Colombia) (individual) [SDNT]

IDARRAGA RODRIGUEZ, Mauricio, c/o ASPOIR DEL PACIFICO Y CIA. LTDA., Cali, Colombia; c/o FUNDASER, Cali, Colombia; DOB 16 Mar 1970; Cedula No. 94307887 (Colombia); Passport 94307887 (Colombia) (individual) [SDNT]

IDROBO ZAPATA, Edgar Hernando, c/o INVERSIONES EL PENON S.A., Cali, Colombia; c/o INMOBILIARIA U.M.V. S.A., Cali, Colombia; Cedula No. 6078860 (Colombia) (individual) [SDNT]

IFD S.A. (a.k.a. INTERNATIONAL FREEZE DRIED S.A.), Carrera 92 No. 62-30, Bogota, Colombia; NIT # 830132968-1 (Colombia) [SDNT]

IG (a.k.a. AL-GAMA'AT; a.k.a. EGYPTIAN AL-GAMA'AT AL-ISLAMIYYA; a.k.a. GAMA'A AL-ISLAMIYYA; a.k.a. GI; a.k.a. ISLAMIC GAMA'AT; a.k.a. ISLAMIC GROUP) [SDT] [FTO] [SDGT]

IHSAN CHARITY (a.k.a. AL-AHSAN CHARITABLE ORGANIZATION; a.k.a. AL-BAR AND AL-IHSAN SOCIETIES; a.k.a. AL-BAR AND AL-IHSAN SOCIETY; a.k.a. AL-BIR AND AL-IHSAN ORGANIZATION; a.k.a. AL-BIRR WA AL-IHSAN CHARITY ASSOCIATION; a.k.a. AL-BIRR WA AL-IHSAN WA AL-NAQA; a.k.a. AL-IHSAN CHARITABLE SOCIETY; a.k.a. BIR WA ELEHSSAN SOCIETY; a.k.a. BIRR AND ELEHSSAN SOCIETY; a.k.a. ELEHSSAN; a.k.a. ELEHSSAN SOCIETY; a.k.a. ELEHSSAN SOCIETY AND BIRR; a.k.a. ELEHSSAN SOCIETY WA BIRR; a.k.a. JAMI'A AL-AHSAN AL-KHAYRIYYAH; a.k.a. THE BENEVOLENT CHARITABLE ORGANIZATION), Bethlehem, West Bank, Palestinian; AL-MUZANNAR ST, AL-NASIR AREA, Gaza City, Gaza, Palestinian; Jenin, West Bank, Palestinian; Ramallah, West Bank, Palestinian; Tulkarm, West Bank, Palestinian; Lebanon; P.O. BOX 398, Hebron, West Bank, Palestinian [SDGT]

IKSIR INTERNATIONAL BANK LIMITED (a.k.a. AKIDA BANK PRIVATE LIMITED; f.k.a. AKIDA ISLAMIC BANK INTERNATIONAL LIMITED), c/o Arthur D. Hanna&Company; 10 Deveaux Street, Nassau, Bahamas, The; P.O. Box N-4877, Nassau, Bahamas, The [SDGT]

ILOVIN S.A., Avenida 15 No. 123-30, Local 1-13, Bogota, Colombia; NIT # 800141304-0 (Colombia) [SDNT]

IMAD MOUHAMED ABDELLAH (a.k.a. AL SAADI, Faraj Farj Hassan; a.k.a. MOHAMDED ABDULLA IMAD; a.k.a. MUHAMAD ABDULLAH IMAD; a.k.a. “HAMZA AL LIBI”), Viale Bligny 42, Milan, Italy; DOB 28 Nov 1980; POB Libya; alt. POB Gaza; alt. POB Jordan; alt. POB Palestine; nationality Libya alt. Palestinian; alt. Jordan; arrested United Kingdom (individual) [SDGT]

IMCOMER (a.k.a. IMPORTADORA Y COMERCIALIZADORA LTDA.), Avenida 6N y Avenida 4 No. 13N-50 of. 1201, Cali, Colombia; NIT # 800152058-0 (Colombia) [SDNT]

IMPECUA S.A. (a.k.a. INDUSTRIAL MINERA Y PECUARIA S.A.), Carrera 30 No. 90-82B La Castellana, Bogota, Colombia; NIT # 830000855-1 (Colombia) [SDNT]

IMPERATORI, Julio A., 20 Ironmonger Lane, London EC2V 8EY, United Kingdom; Managing Director, Havana International Bank (individual) [CUBA]

IMPORT MAPRI LTDA., Carrera 7 No. 17-01 of. 603, Bogota, Colombia; Carrera 16 Bis No. 148-37, Bogota, Colombia; NIT # 830079014-4 (Colombia) [SDNT]

IMPORTADORA Y COMERCIALIZADORA LTDA. (a.k.a. IMCOMER), Avenida 6N y Avenida 4 No. 13N-50 of. 1201, Cali, Colombia; NIT # 800152058-0 (Colombia) [SDNT]

IMPRISA, Spain [CUBA]

IMPRISA, S.A., Panama [CUBA]

IMU (a.k.a. ISLAMIC MOVEMENT OF UZBEKISTAN) [FTO] [SDGT]

IN SIRATEL (a.k.a. AL FURQAN; a.k.a. ASSOCIATION FOR CITIZENS RIGHTS AND RESISTANCE TO LIES; a.k.a. ASSOCIATION FOR EDUCATION, CULTURAL, AND TO CREATE SOCIETY—SIRAT; a.k.a. ASSOCIATION FOR EDUCATION, CULTURE AND BUILDING SOCIETY—SIRAT; a.k.a. ASSOCIATION OF CITIZENS FOR THE SUPPORT OF TRUTH AND SUPPRESSION OF LIES; a.k.a. DZEMIJETUL FURKAN; a.k.a. DZEM'IJJETUL FURQAN; a.k.a. DZEMILIJATI FURKAN; a.k.a. ISTIKAMET; a.k.a. SIRAT), Put Mladih Muslimana 30a, 71 000 Sarajevo, Bosnia and Herzegovina; ul. Strossmajerova 72, Zenica, Bosnia and Herzegovina; Muhameda Hadzijahica #42, Sarajevo, Bosnia and Herzegovina [SDGT]

INAGROCCIDENTE LTDA. (a.k.a. INVERSIONES AGROINDUSTRIALES DEL OCCIDENTE LTDA.; f.k.a. RENTERIA CAICEDO E HIJAS Y CIA S.C.S.), Calle 114A No. 11A-40, Apt. 302, Bogota, Colombia; NIT # 800107993-1 (Colombia) [SDNT]

INCOES (a.k.a. INTERVENTORIA, CONSULTORIA Y ESTUDIOS LIMITADA INGENIEROS ARQUITECTOS), Avenida 6N No. 13N-50 of. 1209, Cali, Colombia; NIT # 800144790-0 (Colombia) [SDNT]

INCOMMERCE S.A., Calle 13 No. 66-14, Cali, Colombia; NIT # 805023544-4 (Colombia) [SDNT]

INCOVALLE (a.k.a. INVERSIONES Y CONSTRUCCIONES VALLE S.A.), Avenida 2N No. 7N-55 of. 501, Cali, Colombia [SDNT]

INDIO VITORIO S. DE P.R. DE R.L. DE C.V., Saucillo, Chihuahua, Mexico; R.F.C. IVI-030311-1L6 (Mexico) [SDNTK]

INDUSTRIA AGROPECUARIA SANTA ELENA LTDA. (a.k.a. CRIADERO LA LUISA E.U.), Avenida 7 Norte No. 23N-81, Cali, Colombia; Avenida 7 Norte No. 23-77, Cali, Colombia; Calle 15 No. 26-400, Cali, Colombia; Jamundi, Valle, Colombia; NIT # 860503330-5 (Colombia) [SDNT]

INDUSTRIA AVICOLA PALMASECA S.A. (a.k.a. CRIADERO DE POLLOS EL ROSAL S.A.), Carretera Central via Aeropuerto Palmaseca, Colombia; Carrera 61 No. 11-58, Cali, Colombia; NIT # 800146749-7 (Colombia) [SDNT]

INDUSTRIA DE PESCA SOBRE EL PACIFICO S.A (a.k.a. INPESCA S.A.), Km. 5 El Pinal, Buenaventura, Colombia; Av. Simon Bolivar Km. 5 El Pinal, Buenaventura, Colombia; NIT # 890302172-4 (Colombia) [SDNT]

INDUSTRIA MADERERA ARCA LTDA., Calle 11 No. 32-47 Bodega 41 Arroyohondo, Cali, Colombia; Calle 32 No. 11-41 Bodega 4 Arroyohondo, Cali, Colombia; NIT # 800122866-7 (Colombia) [SDNT]

INDUSTRIAL BANK COMPANY FOR TRADE & DEVELOPMENT LIMITED, Khartoum, Sudan [SUDAN]

INDUSTRIAL BANK OF SUDAN (N.K.A. EL NILEIN INDUSTRIAL DEVELOPMENT BANK GROUP), United Nations Square, P.O. Box 1722, Khartoum, Sudan [SUDAN]

INDUSTRIAL DE GESTION DE NEGOCIOS E.U., Calle 5C No. 41-30, Cali, Colombia; NIT # 805005946-5 (Colombia) [SDNT]

INDUSTRIAL MINERA Y PECUARIA S.A. (a.k.a. IMPECUA S.A.), Carrera 30 No. 90-82B La Castellana, Bogota, Colombia; NIT # 830000855-1 (Colombia) [SDNT]

INDUSTRIAL PRODUCTION CORPORATION, P.O. Box 1034, El Gamaa Street, Khartoum, Sudan [SUDAN]

INDUSTRIAL RESEARCH AND CONSULTANCY INSTITUTE, P.O. Box 268, Khartoum, Sudan [SUDAN]

INDUSTRIAS AGROPECUARIAS DEL VALLE LTDA., Carrera 50 No. 9B-20 of. 07, Cali, Colombia; Calle 52 No. 28E-30, Cali, Colombia; NIT # 800068160-5 (Colombia) [SDNT]

INDUSTRIAS AGROPECUARIAS EL EDEN S.A., Higueronal Torti, Darien, Panama [SDNT]

INDUSTRIAS DEL ESPIRITU SANTO S.A. (a.k.a. FRUCOSTA; n.k.a. FRUTAS DE LA COSTA S.A.), Carretera Oriental Km. 2 Via Barranquilla, Malambo, Atlantico, Colombia; NIT # 821002015-8 (Colombia) [SDNT]

INDUSTRIE GENERALE DE FILATURE ET TISSAGE (a.k.a. INDUSTRIE GENERALE DE TEXTILE; a.k.a. NASCOTEX S.A.), KM 7 Route de Rabat, BP 285, Tangiers, Morocco; KM 7 Route de Rabat, Tangiers, Morocco [SDGT]

INDUSTRIE GENERALE DE TEXTILE (a.k.a. INDUSTRIE GENERALE DE FILATURE ET TISSAGE; a.k.a. NASCOTEX S.A.), KM 7 Route de Rabat, BP 285, Tangiers, Morocco; KM 7 Route de Rabat, Tangiers, Morocco [SDGT]

INGASSANA MINES HILLS CORPORATION (a.k.a. INGESSANA HILLS MINES CORPORATION), P.O. Box 2241, Khartoum, Sudan; P.O. Box 1108, Khartoum, Sudan [SUDAN]

INGESSANA HILLS MINES CORPORATION (a.k.a. INGASSANA MINES HILLS CORPORATION), P.O. Box 2241, Khartoum, Sudan; P.O. Box 1108, Khartoum, Sudan [SUDAN]

INHOCAR (a.k.a. INMOBILIARIA HOTELERA DEL CARIBE LTDA.), Calle 74 No. 53-30, Barranquilla, Colombia; NIT # 800012713-7 (Colombia) [SDNT]

INHOTEL (a.k.a. INVERSIONES HOTELERAS DEL LITORAL LTDA.), Calle 74 No. 53-30, Barranquilla, Colombia; NIT # 800011604-8 (Colombia) [SDNT]

INMOBILIARIA AURORA LTDA., Carrera 24F Oeste 3-70, Cali, Colombia; Avenida Canasgordas con Avenida Guali Casa 35, Cali, Colombia; Carrera 4 12-41 piso 15, Edificio Seguros Bolivar, Cali, Colombia; Carrera 38A No. 5E-31, Edificio Conquistadores, Cali, Colombia [SDNT]

INMOBILIARIA BOLIVAR LTDA., Calle 17N No. 6N-28, Cali, Colombia; Calle 24N No. 6N-21, Cali, Colombia; NIT # 890330573-3 (Colombia) [SDNT]

INMOBILIARIA DEL CARIBE LTDA., Calle 74 No. 53-30, Barranquilla, Colombia; NIT # 890108105-1 (Colombia) [SDNT]

INMOBILIARIA EL ESCORIAL LTDA., Carrera 4 No. 12-20 of. 206, Cartago, Valle, Colombia; Carrera 5 No. 18-20 Local 12, Cartago, Valle, Colombia; NIT # 800146869-2 (Colombia) [SDNT]

INMOBILIARIA EL ESCORPION DEL NORTE S.A. DE C.V., Chihuahua, Chihuahua, Mexico [SDNTK]

INMOBILIARIA EL PRESON S.A. DE C.V., Chihuahua, Chihuahua, Mexico [SDNTK]

INMOBILIARIA GALES LTDA., Avenida Caracas No. 59-77 of. 201A, 401B y 405B, Bogota, Colombia; NIT # 800061287-1 (Colombia) [SDNT]

INMOBILIARIA HOTELERA DEL CARIBE LTDA. (a.k.a. INHOCAR), Calle 74 No. 53-30, Barranquilla, Colombia; NIT # 800012713-7 (Colombia) [SDNT]

INMOBILIARIA IMTASA LTDA., Calle 10 No. 4-47 piso 18, Cali, Colombia; Carrera 3 No. 11-32 of. 939, Cali, Colombia; NIT # 805012623-0 (Colombia) [SDNT]

INMOBILIARIA LINARES LTDA., Carrera 4 No. 12-20 of. 206, Cartago, Valle, Colombia; NIT # 800146860-7 (Colombia) [SDNT]

INMOBILIARIA PASADENA LTDA., Carrera 4 No. 12-20 of. 206, Cartago, Valle, Colombia; NIT # 800146861-4 (Colombia) [SDNT]

INMOBILIARIA SAMARIA LTDA. (a.k.a. NEGOCIOS LOS SAUCES LTDA. Y CIA. S.C.S.), Calle 13A 64-50 F102, Cali, Colombia; Carrera 4 12-41 of. 1501, Edificio Seguros Bolivar, Cali, Colombia; Calle 13 3-32 piso 13, Cali, Colombia; Calle 18, No. 106-96 of. 201/202, Cali, Colombia; NIT # 890937859-0 (Colombia) [SDNT]

INMOBILIARIA U.M.V. S.A., Carrera 83 No. 6-50, Edificio Alqueria, Torre C, of. 302, Cali, Colombia [SDNT]

INPESCA S.A. (a.k.a. INDUSTRIA DE PESCA SOBRE EL PACIFICO S.A), Km. 5 El Pinal, Buenaventura, Colombia; Av. Simon Bolivar Km. 5 El Pinal, Buenaventura, Colombia; NIT # 890302172-4 (Colombia) [SDNT]

INSTITUTO NACIONAL DE TURISMO DE CUBA, Spain [CUBA]

INTER (a.k.a. INTERCONTINENTAL; a.k.a. INTERCONTINENTAL DE AVIACION S.A.), Avenida El Dorado Entrada 2 Int. 6, Bogota, Colombia; NIT # 860009526-3 (Colombia) [SDNT]

INTERAMERICANA DE CONSTRUCCIONES S.A. (f.k.a. ANDINA DE CONSTRUCCIONES S.A.), Calle 12 Norte No. 9N-56, Cali, Colombia; NIT # 800237404-2 (Colombia) [SDNT]

INTERCONSULT, Panama [CUBA]

INTERCONTINENTAL (a.k.a. INTER; a.k.a. INTERCONTINENTAL DE AVIACION S.A.), Avenida El Dorado Entrada 2 Int. 6, Bogota, Colombia; NIT # 860009526-3 (Colombia) [SDNT]

INTERCONTINENTAL DE AVIACION S.A. (a.k.a. INTER; a.k.a. INTERCONTINENTAL), Avenida El Dorado Entrada 2 Int. 6, Bogota, Colombia; NIT # 860009526-3 (Colombia) [SDNT]

INTERCONTINENTAL DE FINANCIACION AEREA S.A. (a.k.a. INTERFIAR S.A.), Avenida El Dorado Entrada 2 Int. 6, Bogota, Colombia; NIT # 800043810-6 (Colombia) [SDNT]

INTERCREDITOS BOGOTA (a.k.a. INTERCREDITOS CALI; a.k.a. INTERCREDITOS S.A.), Bogota, Colombia; Avenida Roosevelt No. 38-32, piso 2, Cali, Colombia [SDNT]

INTERCREDITOS CALI (a.k.a. INTERCREDITOS BOGOTA; a.k.a. INTERCREDITOS S.A.), Bogota, Colombia; Avenida Roosevelt No. 38-32, piso 2, Cali, Colombia [SDNT]

INTERCREDITOS S.A. (a.k.a. INTERCREDITOS BOGOTA; a.k.a. INTERCREDITOS CALI), Bogota, Colombia; Avenida Roosevelt No. 38-32, piso 2, Cali, Colombia [SDNT]

INTERFARMA S.A. (a.k.a. JOMAGA DE COSTA RICA S.A.), 200 Norte y 25 Oeste del Restaurante Tierra Colombiana, San Francisco de Dos Rios, San Jose, Costa Rica; Numero Judicial # 3-101-76327 (Costa Rica) [SDNT]

INTERFIAR S.A. (a.k.a. INTERCONTINENTAL DE FINANCIACION AEREA S.A.), Avenida El Dorado Entrada 2 Int. 6, Bogota, Colombia; NIT # 800043810-6 (Colombia) [SDNT]

INTERNACIONAL DE DIVISAS S.A., Calle 10 No. 4-40 of. 312, Cali, Colombia; Centro Comercial Cosmocentro Local 103, Cali, Colombia; Calle 19 No. 5-48 Local 226, Pereira, Colombia; Carrera 22 No. 18-65 Local 28, Manizales, Colombia; Carrera 52 No. 72-65 Local 106, Barranquilla, Colombia; Carrera 28 No. 29-06 Local 104, Palmira, Colombia; Transversal 71D No. 26-94 Sur Local 3504, Bogota, Colombia; NIT # 805013989-5 (Colombia) [SDNT]

INTERNACIONAL DE DIVISAS S.A., LLC, 280 Crandon Blvd., Suite 32-185, Miami, FL 33149-1540; Business Registration Document # L00000003506 (United States); U.S. FEIN 65-0996161 (United States) [SDNT]

INTERNATIONAL AIRLINE CONSULTING (a.k.a. I A C INTERNATIONAL INC.; a.k.a. IAC INTERNATIONAL INC.), 8940 NW 24 TERRACE, Miami, FL 33122; Business Registration Document # P9800004558 (United States); U.S. FEIN 65-0842701 [BPI-SDNTK]

INTERNATIONAL BATTALION (a.k.a. ISLAMIC PEACEKEEPING INTERNATIONAL BRIGADE; a.k.a. PEACEKEEPING BATTALION; a.k.a. THE INTERNATIONAL BRIGADE; a.k.a. THE ISLAMIC INTERNATIONAL BRIGADE; a.k.a. THE ISLAMIC PEACEKEEPING ARMY; a.k.a. THE ISLAMIC PEACEKEEPING BRIGADE) [SDGT]

INTERNATIONAL CHEMICAL JOINT VENTURE CORPORATION (a.k.a. CHOSON INTERNATIONAL CHEMICALS JOINT OPERATION COMPANY; a.k.a. CHOSUN INTERNATIONAL CHEMICALS JOINT OPERATION COMPANY; a.k.a. KOREA INTERNATIONAL CHEMICAL JOINT VENTURE COMPANY), Hamhung, South Hamgyong Province, Korea, North; Man gyongdae-kuyok, Pyongyang, Korea, North; Mangyungdae-gu, Pyongyang, Korea, North [NPWMD]

INTERNATIONAL COBALT CO. INC., Fort Saskatchewan, AB, Canada [CUBA]

INTERNATIONAL FREEZE DRIED S.A. (a.k.a. IFD S.A.), Carrera 92 No. 62-30, Bogota, Colombia; NIT # 830132968-1 (Colombia) [SDNT]

INTERNATIONAL FRONT FOR FIGHTING JEWS AND CRUSADES (a.k.a. AL QAEDA; a.k.a. AL QA'IDA; a.k.a. AL QAIDA; a.k.a. AL-JIHAD; a.k.a. EGYPTIAN AL-JIHAD; a.k.a. EGYPTIAN ISLAMIC JIHAD; a.k.a. ISLAMIC ARMY; a.k.a. ISLAMIC ARMY FOR THE LIBERATION OF HOLY SITES; a.k.a. ISLAMIC SALVATION FOUNDATION; a.k.a. NEW JIHAD; a.k.a. “THE BASE”; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION) [FTO] [SDGT] [SDT]

INTERNATIONAL PACIFIC TRADING, INC., 2858 NW 79 Avenue, Miami, FL 33122; Business Registration Document # V16155 (United States); US FEIN 65-0315268 [BPI-SDNTK]

INTERNATIONAL PETROLEUM, S.A. (a.k.a. IPESCO), Colon Free Zone, Panama [CUBA]

INTERNATIONAL SIKH YOUTH FEDERATION (ISYF) [SDGT]

INTERNATIONAL TRANSPORT CORPORATION, Colon Free Zone, Panama [CUBA]

INTERPAL (a.k.a. AL-SANDUQ AL-FILISTINI LIL-IGHATHA; a.k.a. AL-SANDUQ AL-FILISTINI LIL-IGHATHA WA AL-TANMIYA; a.k.a. PALESTINE AND LEBANON RELIEF FUND; a.k.a. PALESTINE DEVELOPMENT AND RELIEF FUND; a.k.a. PALESTINE RELIEF AND DEVELOPMENT FUND; a.k.a. PALESTINE RELIEF FUND; a.k.a. PALESTINIAN AID AND SUPPORT FUND; a.k.a. PALESTINIAN RELIEF AND DEVELOPMENT FUND; a.k.a. PALESTINIAN RELIEF FUND; a.k.a. PRDF; a.k.a. RELIEF AND DEVELOPMENT FUND FOR PALESTINE; a.k.a. WELFARE AND DEVELOPMENT FUND FOR PALESTINE; a.k.a. WELFARE AND DEVELOPMENT FUND OF PALESTINE), P.O. Box 3333, London NW6 1RW, United Kingdom; Registered Charity No. 1040094 [SDGT]

INTERVENTORIA, CONSULTORIA Y ESTUDIOS LIMITADA INGENIEROS ARQUITECTOS (a.k.a. INCOES), Avenida 6N No. 13N-50 of. 1209, Cali, Colombia; NIT # 800144790-0 (Colombia) [SDNT]

INVERSIETE S.A., Carrera 3 No. 11-32 of. 939, Cali, Colombia; NIT # 800234909-6 (Colombia) [SDNT]

INVERSIONES AGRICOLAS AVICOLAS Y GANADERAS LA CARMELITA LTDA., Carrera 61 Nos. 11-58 y 11-62, Cali, Colombia; NIT # 800052898-1 (Colombia) [SDNT]

INVERSIONES AGROINDUSTRIALES DEL OCCIDENTE LTDA. (a.k.a. INAGROCCIDENTE LTDA.; f.k.a. RENTERIA CAICEDO E HIJAS Y CIA S.C.S.), Calle 114A No. 11A-40, Apt. 302, Bogota, Colombia; NIT # 800107993-1 (Colombia) [SDNT]

INVERSIONES AGUILA LTDA., Carrera 14 No. 14-56, La Union, Valle, Colombia; Factoria La Rivera, La Union, Valle, Colombia; NIT # 891903843-0 (Colombia) [SDNT]

INVERSIONES ARA LTDA., Avenida 4N 6N-67 of. 601, Cali, Colombia; Avenida 6AN 23DN-16 of. 402, Cali, Colombia; Avenida 6AN 18-69 1-128, Cali, Colombia; Club El Remanso, Jamundi, Colombia [SDNT]

INVERSIONES ARIO LTDA., Carrera 4 No. 12-41 of. 608 y 701, Cali, Colombia; NIT # 890328888-1 (Colombia) [SDNT]

INVERSIONES BETANIA LTDA. (f.k.a. INVERSIONES BETANIA S.A.; a.k.a. SAN MATEO S.A.), Avenida 2N No. 7N-55 of. 501, Cali, Colombia; Carrera 53 No. 13-55 apt. 102B, Cali, Colombia; Carrera 3 No. 12-40, Cali, Colombia; NIT # 890330910-2 (Colombia) [SDNT]

INVERSIONES BETANIA S.A. (f.k.a. INVERSIONES BETANIA LTDA.; a.k.a. SAN MATEO S.A.), Avenida 2N No. 7N-55 of. 501, Cali, Colombia; Carrera 53 No. 13-55 apt. 102B, Cali, Colombia; Carrera 3 No. 12-40, Cali, Colombia; NIT # 890330910-2 (Colombia) [SDNT]

INVERSIONES BOMBAY S.A. (a.k.a. AGROVETERINARIA EL TORO; a.k.a. AGROVETERINARIA EL TORO #2), Transversal 29 No. 39-92, Bogota, Colombia; Calle 12B No. 28-50, Bogota, Colombia; Avenida 3 Bis Norte No. 23CN-69, Cali, Colombia; Calle 7 No. 25-69, Cali, Colombia; NIT # 830019226-2 (Colombia) [SDNT]

INVERSIONES CAMINO REAL S.A. (a.k.a. INVERSIONES Y CONSTRUCCIONES ABC S.A.), Calle 10 No. 4-47 piso 19, Cali, Colombia; Calle 12 Norte No. 9N-56/58, Cali, Colombia; NIT # 890325389-4 (Colombia) [SDNT]

INVERSIONES CAPITAL LTDA., Calle 22 Norte No. 9-43, Cali, Colombia; NIT # 800106082-2 (Colombia) [SDNT]

INVERSIONES CARFENI, S.L., Calle Gran Via 80, 28013 Madrid, Spain [SDNT]

INVERSIONES CLAUPI S.L., Calle Consuegra 3, 28036 Madrid, Madrid, Spain; C.I.F. B81684421 (Spain) [SDNT]

INVERSIONES CULZAT GUEVARA Y CIA. S.C.S., Avenida 4A Oeste No. 5-107 apt. 401, Cali, Colombia; Avenida 7N No. 23N-39, Cali, Colombia; Avenida 4A Oeste No. 5-187 apt. 401, Cali, Colombia; NIT # 860065523-1 (Colombia) [SDNT]

INVERSIONES DEL PRADO ABDALA SAIEH Y CIA. S.C.A., Calle 77 B No. 57 -141, Ofc. 901, Barranquilla, Colombia; NIT # 890108452-0 (Colombia) [SDNT]

INVERSIONES DOBLE CERO E.U., Transversal 29 No. 39-92, Bogota, Colombia; NIT # 830021696-7 (Colombia) [SDNT]

INVERSIONES EL EDEN S.C.S., Calle 5 No. 22-39 of. 205, Cali, Colombia; Calle 52 No. 28E-30, Cali, Colombia; NIT # 800083195-5 (Colombia) [SDNT]

INVERSIONES EL GRAN CRISOL LTDA. (f.k.a. W. HERRERA Y CIA. S. EN C.), Avenida 2N 7N-55 of. 501, Cali, Colombia; Carrera 24D Oeste No. 6-237, Cali, Colombia; NIT # 800001330-2 (Colombia) [SDNT]

INVERSIONES EL PENON S.A., Avenida 2N, Cali, Colombia [SDNT]

INVERSIONES ESPANOLAS FEMCAR S.L., Ronda Manuel Granero 69, piso 4-1, 28043 Madrid, Madrid, Spain; C.I.F. B82290727 (Spain) [SDNT]

INVERSIONES GEELE LTDA., Calle 17A No. 28A-23, Bogota, Colombia [SDNT]

INVERSIONES GEMINIS S.A. (a.k.a. COMPANIA ADMINISTRADORA DE VIVIENDA S.A.), Carrera 40 No. 6-24 of. 402B, Cali, Colombia; Carrera 41 No. 6-15/35, Cali, Colombia; NIT # 800032419-1 (Colombia) [SDNT]

INVERSIONES GRAME LTDA., Factoria La Rivera, La Union, Valle, Colombia; NIT # 891903520-7 (Colombia) [SDNT]

INVERSIONES HERREBE LTDA., Avenida 2N No. 7N-55 of. 501, Cali, Colombia; Carrera 25 No. 4-65, Cali, Colombia [SDNT]

INVERSIONES HOTELERAS DEL LITORAL LTDA. (a.k.a. INHOTEL), Calle 74 No. 53-30, Barranquilla, Colombia; NIT # 800011604-8 (Colombia) [SDNT]

INVERSIONES INMOBILIARIAS VALERIA S.L., Calle Consuegra 3, 28036 Madrid, Madrid, Spain; Calle Zurbano 76, 7, Madrid, Madrid, Spain; C.I.F. B81681454 (Spain) [SDNT]

INVERSIONES INTEGRAL LTDA., Carrera 4 No. 12-41 of. 1403, 1501 Edificio Seguros Bolivar, Cali, Colombia; Apartado Aereo 10077, Cali, Colombia; NIT # 800092770-9 (Colombia) [SDNT]

INVERSIONES INTEGRAL Y CIA., Calle 16B No. 114-80 Casa 2, Cali, Colombia; Carrera 2 Oeste 5-46 apt/of 503, Cali, Colombia [SDNT]

INVERSIONES INVERVALLE S.A. (f.k.a. INVERVALLE S.A.; a.k.a. SAN VICENTE S.A.), Avenida 2N No. 7N-55 of. 501, Cali, Colombia; Calle 70N No. 14-31, Cali, Colombia; Avenida 4 Norte No. 17N-43 L.1, Cali, Colombia; NIT # 800061212-8 (Colombia) [SDNT]

INVERSIONES JAER LTDA., Apartado Aereo 10454, Cali, Colombia; Carrera 7 No. 34-341 Bodega 7, Cali, Colombia; Carrera 1H No. 39-42, Cali, Colombia; Calle 6A Norte No. 2N-36 of. 436, Cali, Colombia; NIT # 890332242-1 (Colombia) [SDNT]

INVERSIONES KANTON LTDA., Avenida 10A No. 5E-26 La Rivera, Cucuta, Norte de Santander, Colombia; NIT # 807000572-9 (Colombia) [SDNT]

INVERSIONES LA QUINTA Y CIA. LTDA., Diagonal 29 No. 36-10 of. 801, Cali, Colombia; Diagonal 27 No. 27-104, Cali, Colombia; NIT # 800160387-2 (Colombia) [SDNT]

INVERSIONES LA SEXTA LTDA., Calle 10 No. 4-47 piso 19, Cali, Colombia [SDNT]

INVERSIONES LOS POSSO LTDA. S.C.S., Factoria La Rivera, La Union, Valle, Colombia; NIT # 891903760-8 (Colombia) [SDNT]

INVERSIONES LUPAMAR, S.A. (a.k.a. LUPAMAR INVESTMENT COMPANY), Panama [CUBA]

INVERSIONES MIGUEL RODRIGUEZ E HIJO, Avenida 4N 6N-67 of. 601, Cali, Colombia; Avenida 6N 23DN-16 of. 202, 301, 302, 401, 402, Cali, Colombia [SDNT]

INVERSIONES MOMPAX LTDA. (a.k.a. INVERSIONES Y CONSTRUCCIONES ATLAS LTDA.; f.k.a. MOMPAX LTDA.), Calle 10 No. 4-47 piso 19, Cali, Colombia; NIT # 800102408-1 (Colombia) [SDNT]

INVERSIONES MONDRAGON Y CIA. S.C.S. (f.k.a. MARIELA DE RODRIGUEZ Y CIA. S. EN C.), Calle 12 Norte No. 9N-56/58, Cali, Colombia; NIT # 890328152-1 (Colombia) [SDNT]

INVERSIONES NAMOS Y CIA. LTDA., Carrera 54 No. 75-107, Barranquilla, Colombia; NIT # 800182475-7 (Colombia) [SDNT]

INVERSIONES NUEVO DIA E.U., Calle 86 No. 103C-49, Bogota, Colombia; NIT # 830020410-3 (Colombia) [SDNT]

INVERSIONES PRADO TRADE CENTER LTDA. (a.k.a. IPRACARIBE), Calle 74 No. 53-30, Barranquilla, Colombia; NIT # 800236713-9 (Colombia) [SDNT]

INVERSIONES RODRIGUEZ ARBELAEZ Y CIA. S. EN C., Avenida 4N No. 5N-20, Cali, Colombia; Avenida 6N No. 23D-16 of. 402, Cali, Colombia [SDNT]

INVERSIONES RODRIGUEZ MORENO Y CIA. S. EN C., Calle 10 No. 4-47, Cali, Colombia [SDNT]

INVERSIONES RODRIGUEZ RAMIREZ Y CIA. S.C.S.S., Calle 10 No. 4-47 piso 19, Cali, Colombia [SDNT]

INVERSIONES SAMPLA E.U., Calle 86 No. 103C-49, Bogota, Colombia; NIT # 830020409-5 (Colombia) [SDNT]

INVERSIONES SAN JOSE LTDA., Carrera 7 No. 34-341, Cali, Colombia; Calle 44 No. 1E-135, Cali, Colombia; Calle 44 No. 1E-155, Cali, Colombia; Apartado Aereo 10454, Cali, Colombia; NIT # 800079682-5 (Colombia) [SDNT]

INVERSIONES SANTA CECILIA S.C.S., Factoria La Rivera, La Union, Valle, Colombia; NIT # 891903795-5 (Colombia) [SDNT]

INVERSIONES SANTA LTDA. (f.k.a. INVERSIONES Y CONSTRUCCIONES SANTA LIMITADA), Calle 5 66B-49 piso 3, Cali, Colombia; Calle 13 3-32 piso 14, Cali, Colombia; Calle 5 Oeste 3A-26 apt/of 103, 301, 404, 502, 503, Cali, Colombia; Calle 7 Oeste 25-48, Cali, Colombia; Calle 9 No. 46-69 Of. 302, Cali, Colombia; Carrera 4 12-41 piso 14, Edificio Seguros Bolivar, Cali, Colombia; Carrera 2 Oeste 5-46 of 502, Cali, Colombia; Carrera 4 12-41 piso 15, Edificio Seguros Bolivar, Cali, Colombia [SDNT]

INVERSIONES SANTA MONICA LTDA., Factoria La Rivera, La Union, Valle, Colombia; NIT # 800042933-9 (Colombia) [SDNT]

INVERSIONES VILLA PAZ S.A., Avenida 2DN No. 24N-76, Cali, Colombia; Avenida 2CN No. 24N-92, Cali, Colombia; Carrera 61 No. 11-58, Cali, Colombia; Calle 70N No. 14-31, Cali, Colombia; NIT # 800091083-2 (Colombia) [SDNT]

INVERSIONES Y COMERCIALIZADORA INCOM LTDA. (f.k.a. CONSTRUCTORA HENA LTDA.), Calle 12 No. 4-63, Cali, Colombia; NIT # 890329658-9 (Colombia) [SDNT]

INVERSIONES Y COMERCIALIZADORA RAMIREZ Y CIA. LTDA., Calle 12N No. 9N-58, Cali, Colombia; Avenida 4 No. 8N-67, Cali, Colombia; NIT # 800075600-3 (Colombia) [SDNT]

INVERSIONES Y CONSTRUCCIONES ABC S.A. (f.k.a. INVERSIONES CAMINO REAL S.A.), Calle 10 No. 4-47 piso 19, Cali, Colombia; Calle 12 Norte No. 9N-56/58, Cali, Colombia; NIT # 890325389-4 (Colombia) [SDNT]

INVERSIONES Y CONSTRUCCIONES ATLAS LTDA. (f.k.a. INVERSIONES MOMPAX LTDA.; f.k.a. MOMPAX LTDA.), Calle 10 No. 4-47 piso 19, Cali, Colombia; NIT # 800102408-1 (Colombia) [SDNT]

INVERSIONES Y CONSTRUCCIONES COSMOVALLE LTDA. (f.k.a. COMPAX LTDA.; a.k.a. COSMOVALLE; f.k.a. INVERSIONES Y DISTRIBUCIONES COMPAX LTDA.), Calle 10 No. 4-47 piso 19, Cali, Colombia; NIT # 800102403-5 (Colombia) [SDNT]

INVERSIONES Y CONSTRUCCIONES SANTA LIMITADA (a.k.a. INVERSIONES SANTA LTDA.), Calle 5 66B-49 piso 3, Cali, Colombia; Calle 13 3-32 piso 14, Cali, Colombia; Calle 5 Oeste 3A-26 apt/of 103, 301, 404, 502, 503, Cali, Colombia; Calle 7 Oeste 25-48, Cali, Colombia; Calle 9 No. 46-69 Of. 302, Cali, Colombia; Carrera 4 12-41 piso 14, Edificio Seguros Bolivar, Cali, Colombia; Carrera 2 Oeste 5-46 of 502, Cali, Colombia; Carrera 4 12-41 piso 15, Edificio Seguros Bolivar, Cali, Colombia [SDNT]

INVERSIONES Y CONSTRUCCIONES VALLE S.A. (a.k.a. INCOVALLE), Avenida 2N No. 7N-55 of. 501, Cali, Colombia [SDNT]

INVERSIONES Y DISTRIBUCIONES A M M LTDA., Calle 5 No. 50-103, Cali, Colombia; NIT # 800192791-2 (Colombia) [SDNT]

INVERSIONES Y DISTRIBUCIONES COMPAX LTDA. (f.k.a. COMPAX LTDA.; a.k.a. COSMOVALLE; a.k.a. INVERSIONES Y CONSTRUCCIONES COSMOVALLE LTDA.), Calle 10 No. 4-47 piso 19, Cali, Colombia; NIT # 800102403-5 (Colombia) [SDNT]

INVERSIONES Y DISTRIBUCIONES COMPAX LTDA. (a.k.a. COMPAX LTDA.), Calle 10 No. 4-47 piso 19, Cali, Colombia [SDNT]

INVERSIONESASE LTDA., Calle 22D No. 34-55, Bogota, Colombia; NIT # 800245987-8 (Colombia) [SDNT]

INVERVALLE S.A. (f.k.a. INVERSIONES INVERVALLE S.A.; a.k.a. SAN VICENTE S.A.), Avenida 2N No. 7N-55 of. 501, Cali, Colombia; Calle 70N No. 14-31, Cali, Colombia; Avenida 4 Norte No. 17N-43 L.1, Cali, Colombia; NIT # 800061212-8 (Colombia) [SDNT]

INVESTACAST PRECISION CASTINGS, LTD., 112 City Road, London, United Kingdom [IRAQ2]

INVHERESA S.A. (a.k.a. ALKALA ASOCIADOS S.A.), Calle 1A No. 62A-130, Cali, Colombia; Calle 1A No. 62A-120, Cali, Colombia; Avenida 2N No. 7N-55 of. 501, Cali, Colombia; Calle 70N No. 14-31, Cali, Colombia; NIT # 800108121-0 (Colombia) [SDNT]

IPARRAGUIRRE GUENECHEA, Maria Soledad; DOB 25 Apr 1961; POB Escoriaza, Guipuzcoa Province, Spain; D.N.I. 16.255.819 (Spain); Member ETA (individual) [SDGT]

IPESCO (a.k.a. INTERNATIONAL PETROLEUM, S.A.), Colon Free Zone, Panama [CUBA]

IPRACARIBE (a.k.a. INVERSIONES PRADO TRADE CENTER LTDA.), Calle 74 No. 53-30, Barranquilla, Colombia; NIT # 800236713-9 (Colombia) [SDNT]

IRAGORI TORRES, Maria Consuelo (a.k.a. IRAGORRI TORRES, Maria Consuelo), c/o INTERNACIONAL DE DIVISAS S.A., Cali, Colombia; c/o INTERNACIONAL DE DIVISAS S.A., LLC, Miami, FL; c/o OBURSATILES S.A., Cali, Colombia; c/o SEPULVEDA-IRAGORRI LTD., Nassau, Bahamas, The; c/o ALERO S.A., Cali, Colombia; c/o VALORCORP S.A., Bogota, Colombia; DOB 26 Apr 1964; Cedula No. 31921847 (Colombia); Passport 31921847 (Colombia) (individual) [SDNT]

IRAGORRI TORRES, Maria Consuelo (a.k.a. IRAGORI TORRES, Maria Consuelo), c/o INTERNACIONAL DE DIVISAS S.A., Cali, Colombia; c/o INTERNACIONAL DE DIVISAS S.A., LLC, Miami, FL; c/o OBURSATILES S.A., Cali, Colombia; c/o SEPULVEDA-IRAGORRI LTD., Nassau, Bahamas, The; c/o ALERO S.A., Cali, Colombia; c/o VALORCORP S.A., Bogota, Colombia; DOB 26 Apr 1964; Cedula No. 31921847 (Colombia); Passport 31921847 (Colombia) (individual) [SDNT]

IRAQI ALLIED SERVICES LIMITED, United Kingdom [IRAQ2]

IRAQI FREIGHT SERVICES LIMITED, United Kingdom [IRAQ2]

IRAQI TRADE CENTER, Dubai, United Arab Emirates [IRAQ2]

IRBIS AIR COMPANY, UL Furmanova 65, office 317, Almaty 48004, Kazakhstan [LIBERIA]

IRISH REPUBLICAN PRISONERS WELFARE ASSOCIATION (a.k.a. 32 COUNTY SOVEREIGNTY COMMITTEE; a.k.a. 32 COUNTY SOVEREIGNTY MOVEMENT; a.k.a. REAL IRA; a.k.a. REAL IRISH REPUBLICAN ARMY; a.k.a. REAL OGLAIGH NA HEIREANN; a.k.a. RIRA) [FTO] [SDGT]

ISAMUDDIN, Nurjaman Riduan (a.k.a. HAMBALI; a.k.a. ISOMUDDIN, Riduan; a.k.a. NURJAMAN; a.k.a. NURJAMAN, Encep); DOB 04 Apr 1964; alt. DOB 01 Apr 1964; POB Cianjur, West Java, Indonesia; nationality Indonesia (individual) [SDGT]

ISAZA ARANGO, Ramon Maria; DOB 30 Sep 1940; POB Sonson, Antioquia, Colombia; Cedula No. 5812993 (Colombia) (individual) [SDNTK]

ISLAMBOULI, Mohammad Shawqi; DOB 15 Jan 1955; POB Egypt; Passport 304555 (Egypt); Military Leader of ISLAMIC GAMA'AT (individual) [SDT]

ISLAMIC AFRICAN RELIEF AGENCY (a.k.a. AL-WAKALA AL-ISLAMIYA AL-AFRIKIA L'IL-IGHATHA; a.k.a. AL-WAKALA AL-ISLAMIYA L'IL-IGHATHA; a.k.a. IARA; a.k.a. ISLAMIC AMERICAN RELIEF AGENCY; a.k.a. ISLAMIC RELIEF AGENCY; a.k.a. ISRA), 201 E. Cherry Street, Suite D, Columbia, MO 65205; all offices worldwide [SDGT]

ISLAMIC AMERICAN RELIEF AGENCY (a.k.a. AL-WAKALA AL-ISLAMIYA AL-AFRIKIA L'IL-IGHATHA; a.k.a. AL-WAKALA AL-ISLAMIYA L'IL-IGHATHA; a.k.a. IARA; a.k.a. ISLAMIC AFRICAN RELIEF AGENCY; a.k.a. ISLAMIC RELIEF AGENCY; a.k.a. ISRA), 201 E. Cherry Street, Suite D, Columbia, MO 65205; all offices worldwide [SDGT]

ISLAMIC ARMY (a.k.a. AL QAEDA; a.k.a. AL QA'IDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY FOR THE LIBERATION OF HOLY SITES; a.k.a. ISLAMIC SALVATION FOUNDATION; a.k.a. NEW JIHAD; a.k.a. “THE BASE”; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION) [FTO] [SDGT] [SDT]

ISLAMIC ARMY FOR THE LIBERATION OF HOLY SITES (a.k.a. AL QAEDA; a.k.a. AL QA'IDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY; a.k.a. ISLAMIC SALVATION FOUNDATION; a.k.a. NEW JIHAD; a.k.a. “THE BASE”; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION) [FTO] [SDGT] [SDT]

ISLAMIC ARMY OF ADEN [SDGT]

ISLAMIC CALL COMMITTEE (a.k.a. LAJNA ALDAWA ALISALMIAH; a.k.a. LAJNA ALDAWA ALISLAMIA; a.k.a. LAJNA ALDAWA ALISLAMIYA; a.k.a. LAJNAT AL DAAWA AL ISLAMIYA; a.k.a. LAJNAT AL DAAWA AL ISLAMIYYA; a.k.a. LAJNAT AL DAWA; a.k.a. LAJNAT AL DAWA AL ISLAMIA; a.k.a. LAJNAT AL D'AWA AL ISLAMIAK; a.k.a. LAJNAT ALDAWA AL ISLAMIAH; a.k.a. LAJNAT ALDAWA ALISLAMIA), Kuwait [SDGT]

ISLAMIC CHARITABLE SOCIETY FOR AL-AQSA (a.k.a. AL-AQSA (ASBL); a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. MU' ASA AL-AQSA AL-KHAYRIYYA; a.k.a. MU' ASSA SANABIL AL-AQSA AL-KHAYRIYYA; a.k.a. NURSAT AL-AQSA AL-SHARIF; a.k.a. SANABIL AL-AQSA CHARITABLE FOUNDATION; a.k.a. STICHTING AL-AQSA; a.k.a. SWEDISH CHARITABLE AQSA EST.), BD Leopold II 71, 1080 Brussels, Belgium [SDGT]

ISLAMIC CHARITABLE SOCIETY FOR AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Kappellenstrasse 36, Aachen D-52066, Germany; <Head Office> [SDGT]

ISLAMIC CHARITABLE SOCIETY FOR AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.) [SDGT]

ISLAMIC CHARITABLE SOCIETY FOR AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

ISLAMIC CHARITABLE SOCIETY FOR AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 2364, Islamabad, Pakistan [SDGT]

ISLAMIC CHARITABLE SOCIETY FOR AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 14101, San 'a, Yemen [SDGT]

ISLAMIC CHARITABLE SOCIETY FOR AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Noblev 79 NB, 21433 Malmo, Sweden; Nobelvagen 79 NB, 21433 Malmo, Sweden [SDGT]

ISLAMIC CHARITABLE SOCIETY FOR AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 6222200KBKN, Copenhagen, Denmark [SDGT]

ISLAMIC CHARITABLE SOCIETY FOR AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Gerrit V/D Lindestraat 103 A, 3022 TH, Rotterdam, Netherlands; Gerrit V/D Lindestraat 103 E, 03022 TH, Rotterdam, Netherlands [SDGT]

ISLAMIC CO-OPERATIVE DEVELOPMENT BANK (a.k.a. ICDB), P.O. Box 62, Khartoum, Sudan [SUDAN]

ISLAMIC GAMA'AT (a.k.a. AL-GAMA'AT; a.k.a. EGYPTIAN AL-GAMA'AT AL-ISLAMIYYA; a.k.a. GAMA'A AL-ISLAMIYYA; a.k.a. GI; a.k.a. IG; a.k.a. ISLAMIC GROUP) [SDT] [FTO] [SDGT]

ISLAMIC GROUP (a.k.a. AL-GAMA'AT; a.k.a. EGYPTIAN AL-GAMA'AT AL-ISLAMIYYA; a.k.a. GAMA'A AL-ISLAMIYYA; a.k.a. GI; a.k.a. IG; a.k.a. ISLAMIC GAMA'AT) [SDT] [FTO] [SDGT]

ISLAMIC JIHAD (a.k.a. ANSAR ALLAH; a.k.a. FOLLOWERS OF THE PROPHET MUHAMMED; a.k.a. HIZBALLAH; a.k.a. ISLAMIC JIHAD FOR THE LIBERATION OF PALESTINE; a.k.a. ISLAMIC JIHAD ORGANIZATION; a.k.a. ORGANIZATION OF RIGHT AGAINST WRONG; a.k.a. ORGANIZATION OF THE OPPRESSED ON EARTH; a.k.a. PARTY OF GOD; a.k.a. REVOLUTIONARY JUSTICE ORGANIZATION) [SDT] [FTO] [SDGT]

ISLAMIC JIHAD FOR THE LIBERATION OF PALESTINE (a.k.a. ANSAR ALLAH; a.k.a. FOLLOWERS OF THE PROPHET MUHAMMED; a.k.a. HIZBALLAH; a.k.a. ISLAMIC JIHAD; a.k.a. ISLAMIC JIHAD ORGANIZATION; a.k.a. ORGANIZATION OF RIGHT AGAINST WRONG; a.k.a. ORGANIZATION OF THE OPPRESSED ON EARTH; a.k.a. PARTY OF GOD; a.k.a. REVOLUTIONARY JUSTICE ORGANIZATION) [SDT] [FTO] [SDGT]

ISLAMIC JIHAD GROUP (IJG) (a.k.a. AL-DJIHAD AL-ISLAMI; a.k.a. DZHAMAAT MODZHAKHEDOV; a.k.a. ISLAMIC JIHAD GROUP OF UZBEKISTAN; a.k.a. JAMA'AT AL-JIHAD; a.k.a. JAMIAT AL-JIHAD AL-ISLAMI; a.k.a. JAMIYAT; a.k.a. THE JAMAAT MOJAHEDIN; a.k.a. THE KAZAKH JAMA'AT; a.k.a. THE LIBYAN SOCIETY) [FTO] [SDGT]

ISLAMIC JIHAD GROUP OF UZBEKISTAN (a.k.a. AL-DJIHAD AL-ISLAMI; a.k.a. DZHAMAAT MODZHAKHEDOV; a.k.a. ISLAMIC JIHAD GROUP (IJG); a.k.a. JAMA'AT AL-JIHAD; a.k.a. JAMIAT AL-JIHAD AL-ISLAMI; a.k.a. JAMIYAT; a.k.a. THE JAMAAT MOJAHEDIN; a.k.a. THE KAZAKH JAMA'AT; a.k.a. THE LIBYAN SOCIETY) [FTO] [SDGT]

ISLAMIC JIHAD IN PALESTINE (a.k.a. ABU GHUNAYM SQUAD OF THE HIZBALLAH BAYT AL-MAQDIS; a.k.a. AL-AWDAH BRIGADES; a.k.a. AL-QUDS BRIGADES; a.k.a. AL-QUDS SQUADS; a.k.a. ISLAMIC JIHAD OF PALESTINE; a.k.a. PALESTINE ISLAMIC JIHAD—SHAQAQI FACTION; a.k.a. PALESTINIAN ISLAMIC JIHAD; a.k.a. PIJ; a.k.a. PIJ-SHALLAH FACTION; a.k.a. PIJ-SHAQAQI FACTION; a.k.a. SAYARA AL-QUDS) [SDT] [FTO] [SDGT]

ISLAMIC JIHAD OF PALESTINE (a.k.a. ABU GHUNAYM SQUAD OF THE HIZBALLAH BAYT AL-MAQDIS; a.k.a. AL-AWDAH BRIGADES; a.k.a. AL-QUDS BRIGADES; a.k.a. AL-QUDS SQUADS; a.k.a. ISLAMIC JIHAD IN PALESTINE; a.k.a. PALESTINE ISLAMIC JIHAD—SHAQAQI FACTION; a.k.a. PALESTINIAN ISLAMIC JIHAD; a.k.a. PIJ; a.k.a. PIJ-SHALLAH FACTION; a.k.a. PIJ-SHAQAQI FACTION; a.k.a. SAYARA AL-QUDS) [SDT] [FTO] [SDGT]

ISLAMIC JIHAD ORGANIZATION (a.k.a. ANSAR ALLAH; a.k.a. FOLLOWERS OF THE PROPHET MUHAMMED; a.k.a. HIZBALLAH; a.k.a. ISLAMIC JIHAD; a.k.a. ISLAMIC JIHAD FOR THE LIBERATION OF PALESTINE; a.k.a. ORGANIZATION OF RIGHT AGAINST WRONG; a.k.a. ORGANIZATION OF THE OPPRESSED ON EARTH; a.k.a. PARTY OF GOD; a.k.a. REVOLUTIONARY JUSTICE ORGANIZATION) [SDT] [FTO] [SDGT]

ISLAMIC MOVEMENT FOR REFORM (a.k.a. AL-HARAKAT AL-ISLAMIYAH LIL- ISLAH; a.k.a. AL-ISLAH; a.k.a. MIRA; a.k.a. MOVEMENT FOR ISLAMIC REFORM IN ARABIA; a.k.a. MOVEMENT FOR REFORM IN ARABIA), BM Box: MIRA, London WC1N 3XX, United Kingdom; 21 Blackstone Road, London NW2 6DA, United Kingdom; Safiee Suite, EBC House, Townsend Lane, London NW9 8LL, United Kingdom; UK Company Number 03834450 (United Kingdom) [SDGT]

ISLAMIC MOVEMENT OF TALIBAN (a.k.a. TAHRIKE ISLAMI'A TALIBAN; a.k.a. TALEBAN; a.k.a. TALIBAN; a.k.a. TALIBAN ISLAMIC MOVEMENT; a.k.a. TALIBANO ISLAMI TAHRIK), Afghanistan [SDGT]

ISLAMIC MOVEMENT OF UZBEKISTAN (a.k.a. IMU) [FTO] [SDGT]

ISLAMIC PEACEKEEPING INTERNATIONAL BRIGADE (a.k.a. INTERNATIONAL BATTALION; a.k.a. PEACEKEEPING BATTALION; a.k.a. THE INTERNATIONAL BRIGADE; a.k.a. THE ISLAMIC INTERNATIONAL BRIGADE; a.k.a. THE ISLAMIC PEACEKEEPING ARMY; a.k.a. THE ISLAMIC PEACEKEEPING BRIGADE) [SDGT]

ISLAMIC REGIMENT OF SPECIAL MEANING (a.k.a. THE AL-JIHAD-FISI-SABILILAH SPECIAL ISLAMIC REGIMENT; a.k.a. THE ISLAMIC SPECIAL PURPOSE REGIMENT; a.k.a. THE SPECIAL PURPOSE ISLAMIC REGIMENT) [SDGT]

ISLAMIC RELIEF AGENCY (a.k.a. AL-WAKALA AL-ISLAMIYA AL-AFRIKIA L'IL-IGHATHA; a.k.a. AL-WAKALA AL-ISLAMIYA L'IL-IGHATHA; a.k.a. IARA; a.k.a. ISLAMIC AFRICAN RELIEF AGENCY; a.k.a. ISLAMIC AMERICAN RELIEF AGENCY; a.k.a. ISRA), 201 E. Cherry Street, Suite D, Columbia, MO 65205; all offices worldwide [SDGT]

ISLAMIC RESISTANCE MOVEMENT (a.k.a. HAMAS; a.k.a. HARAKAT AL-MUQAWAMA AL-ISLAMIYA; a.k.a. IZZ AL-DIN AL QASSAM BATTALIONS; a.k.a. IZZ AL-DIN AL QASSAM BRIGADES; a.k.a. IZZ AL-DIN AL QASSAM FORCES; a.k.a. IZZ AL-DIN AL-QASSIM BATTALIONS; a.k.a. IZZ AL-DIN AL-QASSIM BRIGADES; a.k.a. IZZ AL-DIN AL-QASSIM FORCES; a.k.a. STUDENTS OF AYYASH; a.k.a. STUDENTS OF THE ENGINEER; a.k.a. YAHYA AYYASH UNITS) [SDT] [FTO] [SDGT]

ISLAMIC SALVATION FOUNDATION (a.k.a. AL QAEDA; a.k.a. AL QA'IDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY; a.k.a. ISLAMIC ARMY FOR THE LIBERATION OF HOLY SITES; a.k.a. NEW JIHAD; a.k.a. “THE BASE”; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION) [FTO] [SDGT] [SDT]

ISMAIL, Mohammed (a.k.a. ALBASHIR, Mohammed; a.k.a. AL-BASHIR, Muhammad; a.k.a. AL-FAQI, Bashir Mohammed Ibrahim; a.k.a. AL-FAQIH, Abd al-Rahman; a.k.a. AL-KHATAB, Abd Al Rahman; a.k.a. MOHAMMED, Al-Basher; a.k.a. “ABU ABD AL-RAHMAN”; a.k.a. “ABU KHALID”; a.k.a. “ABU MOHAMMED”; a.k.a. “MAHMUD”; a.k.a. “MUSTAFA”), Birmingham, United Kingdom; DOB 15 Dec 1959; POB Libya (individual) [SDGT]

ISOMUDDIN, Riduan (a.k.a. HAMBALI; a.k.a. ISAMUDDIN, Nurjaman Riduan; a.k.a. NURJAMAN; a.k.a. NURJAMAN, Encep); DOB 04 Apr 1964; alt. DOB 01 Apr 1964; POB Cianjur, West Java, Indonesia; nationality Indonesia (individual) [SDGT]

ISRA (a.k.a. AL-WAKALA AL-ISLAMIYA AL-AFRIKIA L'IL-IGHATHA; a.k.a. AL-WAKALA AL-ISLAMIYA L'IL-IGHATHA; a.k.a. IARA; a.k.a. ISLAMIC AFRICAN RELIEF AGENCY; a.k.a. ISLAMIC AMERICAN RELIEF AGENCY; a.k.a. ISLAMIC RELIEF AGENCY), 201 E. Cherry Street, Suite D, Columbia, MO 65205; all offices worldwide [SDGT]

ISSA, Assef (a.k.a. AL-SHALISH, Dr. Asef; a.k.a. SHALEESH, Asef Isa; a.k.a. SHALEESH, Dr. Assef Essa; a.k.a. SHALISH, Asif), Damascus, Syria; DOB 1 Jan 1959; nationality Syria; Passport 4713277 (Syria) (individual) [IRAQ2]

ISTIKAMET (a.k.a. AL FURQAN; a.k.a. ASSOCIATION FOR CITIZENS RIGHTS AND RESISTANCE TO LIES; a.k.a. ASSOCIATION FOR EDUCATION, CULTURAL, AND TO CREATE SOCIETY—SIRAT; a.k.a. ASSOCIATION FOR EDUCATION, CULTURE AND BUILDING SOCIETY—SIRAT; a.k.a. ASSOCIATION OF CITIZENS FOR THE SUPPORT OF TRUTH AND SUPPRESSION OF LIES; a.k.a. DZEMIJETUL FURKAN; a.k.a. DZEM'IJJETUL FURQAN; a.k.a. DZEMILIJATI FURKAN; a.k.a. IN SIRATEL; a.k.a. SIRAT), Put Mladih Muslimana 30a, 71 000 Sarajevo, Bosnia and Herzegovina; ul. Strossmajerova 72, Zenica, Bosnia and Herzegovina; Muhameda Hadzijahica #42, Sarajevo, Bosnia and Herzegovina [SDGT]

IVANOVIC, Milan; DOB 5 Feb 1955 (individual) [BALKANS]

IZQUIERDO OREJUELA, Patricia Constanza, c/o LABORATORIOS KRESSFOR DE COLOMBIA S.A., Bogota, Colombia; DOB 15 Sep 1951; Cedula No. 41594424 (Colombia) (individual) [SDNT]

IZQUIERDO QUINTERO, Rosalino, c/o INVERSIONES INVERVALLE S.A., Cali, Colombia; DOB 4 Oct 1956; Cedula No. 70111037 (Colombia) (individual) [SDNT]

IZTUETA BARANDICA, Enrique; DOB 30 Jul 1955; POB Santurce (Vizcaya Province), Spain; D.N.I. 14.929.950; member ETA (individual) [SDGT]

IZZ AL-DIN AL QASSAM BATTALIONS (a.k.a. HAMAS; a.k.a. HARAKAT AL-MUQAWAMA AL-ISLAMIYA; a.k.a. ISLAMIC RESISTANCE MOVEMENT; a.k.a. IZZ AL-DIN AL QASSAM BRIGADES; a.k.a. IZZ AL-DIN AL QASSAM FORCES; a.k.a. IZZ AL-DIN AL-QASSIM BATTALIONS; a.k.a. IZZ AL-DIN AL-QASSIM BRIGADES; a.k.a. IZZ AL-DIN AL-QASSIM FORCES; a.k.a. STUDENTS OF AYYASH; a.k.a. STUDENTS OF THE ENGINEER; a.k.a. YAHYA AYYASH UNITS) [SDT] [FTO] [SDGT]

IZZ AL-DIN AL QASSAM BRIGADES (a.k.a. HAMAS; a.k.a. HARAKAT AL-MUQAWAMA AL-ISLAMIYA; a.k.a. ISLAMIC RESISTANCE MOVEMENT; a.k.a. IZZ AL-DIN AL QASSAM BATTALIONS; a.k.a. IZZ AL-DIN AL QASSAM FORCES; a.k.a. IZZ AL-DIN AL-QASSIM BATTALIONS; a.k.a. IZZ AL-DIN AL-QASSIM BRIGADES; a.k.a. IZZ AL-DIN AL-QASSIM FORCES; a.k.a. STUDENTS OF AYYASH; a.k.a. STUDENTS OF THE ENGINEER; a.k.a. YAHYA AYYASH UNITS) [SDT] [FTO] [SDGT]

IZZ AL-DIN AL QASSAM FORCES (a.k.a. HAMAS; a.k.a. HARAKAT AL-MUQAWAMA AL-ISLAMIYA; a.k.a. ISLAMIC RESISTANCE MOVEMENT; a.k.a. IZZ AL-DIN AL QASSAM BATTALIONS; a.k.a. IZZ AL-DIN AL QASSAM BRIGADES; a.k.a. IZZ AL-DIN AL-QASSIM BATTALIONS; a.k.a. IZZ AL-DIN AL-QASSIM BRIGADES; a.k.a. IZZ AL-DIN AL-QASSIM FORCES; a.k.a. STUDENTS OF AYYASH; a.k.a. STUDENTS OF THE ENGINEER; a.k.a. YAHYA AYYASH UNITS) [SDT] [FTO] [SDGT]

IZZ AL-DIN AL-QASSIM BATTALIONS (a.k.a. HAMAS; a.k.a. HARAKAT AL-MUQAWAMA AL-ISLAMIYA; a.k.a. ISLAMIC RESISTANCE MOVEMENT; a.k.a. IZZ AL-DIN AL QASSAM BATTALIONS; a.k.a. IZZ AL-DIN AL QASSAM BRIGADES; a.k.a. IZZ AL-DIN AL QASSAM FORCES; a.k.a. IZZ AL-DIN AL-QASSIM BRIGADES; a.k.a. IZZ AL-DIN AL-QASSIM FORCES; a.k.a. STUDENTS OF AYYASH; a.k.a. STUDENTS OF THE ENGINEER; a.k.a. YAHYA AYYASH UNITS) [SDT] [FTO] [SDGT]

IZZ AL-DIN AL-QASSIM BRIGADES (a.k.a. HAMAS; a.k.a. HARAKAT AL-MUQAWAMA AL-ISLAMIYA; a.k.a. ISLAMIC RESISTANCE MOVEMENT; a.k.a. IZZ AL-DIN AL QASSAM BATTALIONS; a.k.a. IZZ AL-DIN AL QASSAM BRIGADES; a.k.a. IZZ AL-DIN AL QASSAM FORCES; a.k.a. IZZ AL-DIN AL-QASSIM BATTALIONS; a.k.a. IZZ AL-DIN AL-QASSIM FORCES; a.k.a. STUDENTS OF AYYASH; a.k.a. STUDENTS OF THE ENGINEER; a.k.a. YAHYA AYYASH UNITS) [SDT] [FTO] [SDGT]

IZZ AL-DIN AL-QASSIM FORCES (a.k.a. HAMAS; a.k.a. HARAKAT AL-MUQAWAMA AL-ISLAMIYA; a.k.a. ISLAMIC RESISTANCE MOVEMENT; a.k.a. IZZ AL-DIN AL QASSAM BATTALIONS; a.k.a. IZZ AL-DIN AL QASSAM BRIGADES; a.k.a. IZZ AL-DIN AL QASSAM FORCES; a.k.a. IZZ AL-DIN AL-QASSIM BATTALIONS; a.k.a. IZZ AL-DIN AL-QASSIM BRIGADES; a.k.a. STUDENTS OF AYYASH; a.k.a. STUDENTS OF THE ENGINEER; a.k.a. YAHYA AYYASH UNITS) [SDT] [FTO] [SDGT]

IZZ-AL-DIN, Hasan (a.k.a. GARBAYA, AHMED; a.k.a. SA-ID; a.k.a. SALWWAN, Samir), Lebanon; DOB 1963; POB Lebanon; citizen Lebanon (individual) [SDGT]

IZZAT, Dieman Abdulkadir (a.k.a. AL-JABBARI, Deiman Alhasenben Ali), Adolf-Braun Street 6, Nuremberg 90429, Germany; Fuerther Street 335, Nuremberg, Germany; Nuremberg Prison, Germany; DOB 4 Jul 1965; POB Kirkuk, Iraq; nationality Iraq; Travel Document Number A0141062 (Germany) (individual) [SDGT]

J. FREDDY MAFLA Y CIA. S.C.S., Carrera 4 No. 11-45 Ofc. 503, Cali, Colombia; NIT # 800020482-4 (Colombia) [SDNT]

JAAR JACIR, Armando Jacobo (a.k.a. JAAR JASSIR, Armando Jacobo), c/o ALMACAES S.A., Bogota, Colombia; c/o ARMANDO JAAR Y CIA. S.C.S., Barranquilla, Colombia; c/o BLACKMORE INVESTMENTS A.V.V., Oranjestad, Aruba; c/o CORPORACION DE ALMACENES POR DEPARTAMENTOS S.A., Bogota, Colombia; c/o G.L.G. S.A., Bogota, Colombia; c/o ILOVIN S.A., Bogota, Colombia; c/o JACARIA FLORIDA, INC., Miami, FL; c/o RAMAL S.A., Bogota, Colombia; Calle 72 No. 65-56, Barranquilla, Colombia; Calle 81 No. 57-56, Barranquilla, Colombia; Calle 118 No. 19-38, Bogota, Colombia; DOB 20 Jan 1947; POB Barranquilla, Colombia; Cedula No. 7432263 (Colombia); Passport P015313 (Colombia) (individual) [SDNT]

JAAR JACIR, Ricardo (a.k.a. JAAR JASSIR, Ricardo), c/o ALMACAES S.A., Bogota, Colombia; c/o CONFECCIONES LORD S.A., Barranquilla, Atlantico, Colombia; c/o CORPORACION DE ALMACENES POR DEPARTAMENTOS S.A., Bogota, Colombia; c/o GIMBER INVESTING CORPORATION, Virgin Islands, British; c/o G.L.G. S.A., Bogota, Colombia; c/o ILOVIN S.A., Bogota, Colombia; c/o JACARIA FLORIDA, INC., Miami, FL; c/o RAMAL S.A., Bogota, Colombia; DOB 29 Sep 1940; POB Barranquilla, Colombia; citizen Colombia; Cedula No. 3714973 (Colombia); Passport AF665413 (Colombia) (individual) [SDNT]

JAAR JASSIR, Armando Jacobo (a.k.a. JAAR JACIR, Armando Jacobo), c/o ALMACAES S.A., Bogota, Colombia; c/o ARMANDO JAAR Y CIA. S.C.S., Barranquilla, Colombia; c/o BLACKMORE INVESTMENTS A.V.V., Oranjestad, Aruba; c/o CORPORACION DE ALMACENES POR DEPARTAMENTOS S.A., Bogota, Colombia; c/o G.L.G. S.A., Bogota, Colombia; c/o ILOVIN S.A., Bogota, Colombia; c/o JACARIA FLORIDA, INC., Miami, FL; c/o RAMAL S.A., Bogota, Colombia; Calle 72 No. 65-56, Barranquilla, Colombia; Calle 81 No. 57-56, Barranquilla, Colombia; Calle 118 No. 19-38, Bogota, Colombia; DOB 20 Jan 1947; POB Barranquilla, Colombia; Cedula No. 7432263 (Colombia); Passport P015313 (Colombia) (individual) [SDNT]

JAAR JASSIR, Ricardo (a.k.a. JAAR JACIR, Ricardo), c/o ALMACAES S.A., Bogota, Colombia; c/o CONFECCIONES LORD S.A., Barranquilla, Atlantico, Colombia; c/o CORPORACION DE ALMACENES POR DEPARTAMENTOS S.A., Bogota, Colombia; c/o GIMBER INVESTING CORPORATION, Virgin Islands, British; c/o G.L.G. S.A., Bogota, Colombia; c/o ILOVIN S.A., Bogota, Colombia; c/o JACARIA FLORIDA, INC., Miami, FL; c/o RAMAL S.A., Bogota, Colombia; DOB 29 Sep 1940; POB Barranquilla, Colombia; citizen Colombia; Cedula No. 3714973 (Colombia); Passport AF665413 (Colombia) (individual) [SDNT]

JAAR, Carmen E. (a.k.a. S DE JAAR, Carmen Elena; a.k.a. SIMAN DADA DE JAAR, Carmen Elena; a.k.a. SIMAN DE JAAR, Carmen Elena), c/o ARMANDO JAAR Y CIA. S.C.S., Barranquilla, Colombia; c/o CIPE INVESTMENTS CORPORATION, Panama City, Panama; 325 Poinciana Island Drive, Sunny Island Beach, FL 33160; DOB 01 Nov 1953; Cedula No. 1629942 (El Salvador); Passport B296684 (El Salvador) (individual) [SDNT]

JABRIL, Ahmad (a.k.a. JIBRIL, Ahmad); DOB 1938; POB Ramleh, Israel; Secretary General of POPULAR FRONT FOR THE LIBERATION OF PALESTINE -GENERAL COMMAND (individual) [SDT]

JACARIA FLORIDA, INC., 1149 SW 27th Avenue Suite 203, Miami, FL 33135; 9400 South Dadeland Boulevard Suite 601, Miami, FL 33156; U.S. FEIN 592804133 (United States) [SDNT]

JAIMES RIVERA, Jose Isidro, c/o SOCOVALLE LTDA., Cali, Colombia; c/o COMERCIALIZADORA INTERNACIONAL VALLE DE ORO S.A., Cali, Colombia; c/o GANADERIAS DEL VALLE S.A., Cali, Colombia; c/o INVERSIONES EL PENON S.A., Cali, Colombia; c/o CONSULTORIA EMPRESARIAL ESPECIALIZADA LTDA., Cali, Colombia; c/o ADMINISTRACION INMOBILIARIA BOLIVAR S.A., Cali, Colombia; c/o INVERSIONES GEMINIS S.A., Cali, Colombia; c/o CONCRETOS CALI S.A., Cali, Colombia; c/o CONSTRUCTORA DIMISA LTDA., Cali, Colombia; c/o INMOBILIARIA U.M.V. S.A., Cali, Colombia; c/o INDUSTRIA DE CARNES LTDA., Pereira, Colombia; c/o INVERSIONES BETANIA LTDA., Cali, Colombia; DOB 7 Nov 1949; Cedula No. 10090006 (Colombia) (individual) [SDNT]

JAISH ANSAR AL-SUNNA (a.k.a. ANSAR AL-ISLAM; a.k.a. ANSAR AL-SUNNA; a.k.a. ANSAR AL-SUNNA ARMY; a.k.a. JUND AL-ISLAM; a.k.a. “DEVOTEES OF ISLAM”; a.k.a. “FOLLOWERS OF ISLAM IN KURDISTAN”; a.k.a. “HELPERS OF ISLAM”; a.k.a. “KURDISH TALIBAN”; a.k.a. “KURDISTAN SUPPORTERS OF ISLAM”; a.k.a. “PARTISANS OF ISLAM”; a.k.a. “SOLDIERS OF GOD”; a.k.a. “SOLDIERS OF ISLAM”; a.k.a. “SUPPORTERS OF ISLAM IN KURDISTAN”), Iraq [FTO] [SDGT]

JAISH-E-MOHAMMED (a.k.a. ARMY OF MOHAMMED; a.k.a. JAISH-I-MOHAMMED; a.k.a. KHUDAMUL ISLAM; a.k.a. KHUDDAM-UL-ISLAM; a.k.a. KUDDAM E ISLAMI; a.k.a. MOHAMMED'S ARMY; a.k.a. TEHRIK UL-FURQAAN), Pakistan [FTO] [SDGT]

JAISH-I-MOHAMMED (a.k.a. ARMY OF MOHAMMED; a.k.a. JAISH-E-MOHAMMED; a.k.a. KHUDAMUL ISLAM; a.k.a. KHUDDAM-UL-ISLAM; a.k.a. KUDDAM E ISLAMI; a.k.a. MOHAMMED'S ARMY; a.k.a. TEHRIK UL-FURQAAN), Pakistan [FTO] [SDGT]

JAK IMRON (a.k.a. ABDUL MARTIN; a.k.a. ABDUL MATIN; a.k.a. AMAR UMAR; a.k.a. AMAR USMAN; a.k.a. ANAR USMAN; a.k.a. DJOKO SUPRIYANTO; a.k.a. DUL MATIN; a.k.a. DULMATIN; a.k.a. MUKTAMAR; a.k.a. NOVARIANTO; a.k.a. PINTONO, Joko; a.k.a. PITONO, Joko; a.k.a. PITOYO, Joko; a.k.a. TOPEL); DOB 16 Jun 1970; alt. DOB 6 Jun 1970; POB Petarukan village, Pemalang, Central Java, Indonesia; nationality Indonesia (individual) [SDGT]

JAKSIC, Marko; DOB 1954; POB Mitrovica, Serbia and Montenegro (individual) [BALKANS]

JAKUPI, Avdyl; DOB 20 Apr 1974; POB Stimlje, Kosovo, Serbia (individual) [BALKANS]

JALADIN, Wa'el Hamza (a.k.a. “ABU AL-HASAN AL MADANI”; a.k.a. JALADIN, Wa'il Hamza; a.k.a. JALAIDAN, Wa'el Hamza; a.k.a. JALAIDAN, Wa'il Hamza; a.k.a. JULAIDAN, Wa'el Hamza; a.k.a. JULAIDAN, Wa'il Hamza; a.k.a. JULAYDAN, Wa'el Hamza; a.k.a. JULAYDAN, Wa'il Hamza); DOB 22 Jan 1958; POB Al-Madinah, Saudi Arabia; Passport A-992535 (Saudi Arabia) (individual) [SDGT]

JALADIN, Wa'il Hamza (a.k.a. “ABU AL-HASAN AL MADANI”; a.k.a. JALADIN, Wa'el Hamza; a.k.a. JALAIDAN, Wa'el Hamza; a.k.a. JALAIDAN, Wa'il Hamza; a.k.a. JULAIDAN, Wa'el Hamza; a.k.a. JULAIDAN, Wa'il Hamza; a.k.a. JULAYDAN, Wa'el Hamza; a.k.a. JULAYDAN, Wa'il Hamza); DOB 22 Jan 1958; POB Al-Madinah, Saudi Arabia; Passport A-992535 (Saudi Arabia) (individual) [SDGT]

JALAIDAN, Wa'el Hamza (a.k.a. “ABU AL-HASAN AL MADANI”; a.k.a. JALADIN, Wa'el Hamza; a.k.a. JALADIN, Wa'il Hamza; a.k.a. JALAIDAN, Wa'il Hamza; a.k.a. JULAIDAN, Wa'el Hamza; a.k.a. JULAIDAN, Wa'il Hamza; a.k.a. JULAYDAN, Wa'el Hamza; a.k.a. JULAYDAN, Wa'il Hamza); DOB 22 Jan 1958; POB Al-Madinah, Saudi Arabia; Passport A-992535 (Saudi Arabia) (individual) [SDGT]

JALAIDAN, Wa'il Hamza (a.k.a. “ABU AL-HASAN AL MADANI”; a.k.a. JALADIN, Wa'el Hamza; a.k.a. JALADIN, Wa'il Hamza; a.k.a. JALAIDAN, Wa'el Hamza; a.k.a. JULAIDAN, Wa'el Hamza; a.k.a. JULAIDAN, Wa'il Hamza; a.k.a. JULAYDAN, Wa'el Hamza; a.k.a. JULAYDAN, Wa'il Hamza); DOB 22 Jan 1958; POB Al-Madinah, Saudi Arabia; Passport A-992535 (Saudi Arabia) (individual) [SDGT]

JAMA'A COMBATTANTE TUNISIEN (a.k.a. GCT; a.k.a. GROUPE COMBATTANT TUNISIEN; a.k.a. JCT; a.k.a. TUNISIAN COMBAT GROUP; a.k.a. TUNISIAN COMBATANT GROUP) [SDGT]

JAMA'AT AL-DAWA (a.k.a. AL MANSOOREEN; a.k.a. AL MANSOORIAN; a.k.a. ARMY OF THE PURE; a.k.a. ARMY OF THE PURE AND RIGHTEOUS; a.k.a. ARMY OF THE RIGHTEOUS; a.k.a. IDARA KHIDMAT-E-KHALQ; a.k.a. JAMAAT UD-DAAWA; a.k.a. JAMAAT UL-DAWAH; a.k.a. JAMA'AT-I-DAWAT; a.k.a. JAMAATI-UD-DAWA; a.k.a. JAMA'AT-UD-DA'AWA; a.k.a. JAMA'AT-UD-DA'AWAH; a.k.a. JAMAAT-UD-DAWA; a.k.a. JAMAAT-UL-DAWA; a.k.a. JAMAIAT-UD-DAWA; a.k.a. LASHKAR E-TAYYIBA; a.k.a. LASHKAR E-TOIBA; a.k.a. LASHKAR-I-TAIBA; a.k.a. PAASBAN-E-AHLE-HADIS; a.k.a. PAASBAN-E-KASHMIR; a.k.a. PAASBAN-I-AHLE-HADITH; a.k.a. PASBAN-E-AHLE-HADITH; a.k.a. PASBAN-E-KASHMIR; a.k.a. “JUD”), Pakistan [SDGT] [FTO]

JAMA'AT AL-JIHAD (a.k.a. AL-DJIHAD AL-ISLAMI; a.k.a. DZHAMAAT MODZHAKHEDOV; a.k.a. ISLAMIC JIHAD GROUP (IJG); a.k.a. ISLAMIC JIHAD GROUP OF UZBEKISTAN; a.k.a. JAMIAT AL-JIHAD AL-ISLAMI; a.k.a. JAMIYAT; a.k.a. THE JAMAAT MOJAHEDIN; a.k.a. THE KAZAKH JAMA'AT; a.k.a. THE LIBYAN SOCIETY) [FTO] [SDGT]

JAMAAT UD-DAAWA (a.k.a. AL MANSOOREEN; a.k.a. AL MANSOORIAN; a.k.a. ARMY OF THE PURE; a.k.a. ARMY OF THE PURE AND RIGHTEOUS; a.k.a. ARMY OF THE RIGHTEOUS; a.k.a. IDARA KHIDMAT-E-KHALQ; a.k.a. JAMA'AT AL-DAWA; a.k.a. JAMAAT UL-DAWAH; a.k.a. JAMA'AT-I-DAWAT; a.k.a. JAMAATI-UD-DAWA; a.k.a. JAMA'AT-UD-DA'AWA; a.k.a. JAMA'AT-UD-DA'AWAH; a.k.a. JAMAAT-UD-DAWA; a.k.a. JAMAAT-UL-DAWA; a.k.a. JAMAIAT-UD-DAWA; a.k.a. LASHKAR E-TAYYIBA; a.k.a. LASHKAR E-TOIBA; a.k.a. LASHKAR-I-TAIBA; a.k.a. PAASBAN-E-AHLE-HADIS; a.k.a. PAASBAN-E-KASHMIR; a.k.a. PAASBAN-I-AHLE-HADITH; a.k.a. PASBAN-E-AHLE-HADITH; a.k.a. PASBAN-E-KASHMIR; a.k.a. “JUD”), Pakistan [SDGT] [FTO]

JAMAAT UL-DAWAH (a.k.a. AL MANSOOREEN; a.k.a. AL MANSOORIAN; a.k.a. ARMY OF THE PURE; a.k.a. ARMY OF THE PURE AND RIGHTEOUS; a.k.a. ARMY OF THE RIGHTEOUS; a.k.a. IDARA KHIDMAT-E-KHALQ; a.k.a. JAMA'AT AL-DAWA; a.k.a. JAMAAT UD-DAAWA; a.k.a. JAMA'AT-I-DAWAT; a.k.a. JAMAATI-UD-DAWA; a.k.a. JAMA'AT-UD-DA'AWA; a.k.a. JAMA'AT-UD-DA'AWAH; a.k.a. JAMAAT-UD-DAWA; a.k.a. JAMAAT-UL-DAWA; a.k.a. JAMAIAT-UD-DAWA; a.k.a. LASHKAR E-TAYYIBA; a.k.a. LASHKAR E-TOIBA; a.k.a. LASHKAR-I-TAIBA; a.k.a. PAASBAN-E-AHLE-HADIS; a.k.a. PAASBAN-E-KASHMIR; a.k.a. PAASBAN-I-AHLE-HADITH; a.k.a. PASBAN-E-AHLE-HADITH; a.k.a. PASBAN-E-KASHMIR; a.k.a. “JUD”), Pakistan [SDGT] [FTO]

JAMA'AT-I-DAWAT (a.k.a. AL MANSOOREEN; a.k.a. AL MANSOORIAN; a.k.a. ARMY OF THE PURE; a.k.a. ARMY OF THE PURE AND RIGHTEOUS; a.k.a. ARMY OF THE RIGHTEOUS; a.k.a. IDARA KHIDMAT-E-KHALQ; a.k.a. JAMA'AT AL-DAWA; a.k.a. JAMAAT UD-DAAWA; a.k.a. JAMAAT UL-DAWAH; a.k.a. JAMAATI-UD-DAWA; a.k.a. JAMA'AT-UD-DA'AWA; a.k.a. JAMA'AT-UD-DA'AWAH; a.k.a. JAMAAT-UD-DAWA; a.k.a. JAMAAT-UL-DAWA; a.k.a. JAMAIAT-UD-DAWA; a.k.a. LASHKAR E-TAYYIBA; a.k.a. LASHKAR E-TOIBA; a.k.a. LASHKAR-I-TAIBA; a.k.a. PAASBAN-E-AHLE-HADIS; a.k.a. PAASBAN-E-KASHMIR; a.k.a. PAASBAN-I-AHLE-HADITH; a.k.a. PASBAN-E-AHLE-HADITH; a.k.a. PASBAN-E-KASHMIR; a.k.a. “JUD”), Pakistan [SDGT] [FTO]

JAMAATI-UD-DAWA (a.k.a. AL MANSOOREEN; a.k.a. AL MANSOORIAN; a.k.a. ARMY OF THE PURE; a.k.a. ARMY OF THE PURE AND RIGHTEOUS; a.k.a. ARMY OF THE RIGHTEOUS; a.k.a. IDARA KHIDMAT-E-KHALQ; a.k.a. JAMA'AT AL-DAWA; a.k.a. JAMAAT UD-DAAWA; a.k.a. JAMAAT UL-DAWAH; a.k.a. JAMA'AT-I-DAWAT; a.k.a. JAMA'AT-UD-DA'AWA; a.k.a. JAMA'AT-UD-DA'AWAH; a.k.a. JAMAAT-UD-DAWA; a.k.a. JAMAAT-UL-DAWA; a.k.a. JAMAIAT-UD-DAWA; a.k.a. LASHKAR E-TAYYIBA; a.k.a. LASHKAR E-TOIBA; a.k.a. LASHKAR-I-TAIBA; a.k.a. PAASBAN-E-AHLE-HADIS; a.k.a. PAASBAN-E-KASHMIR; a.k.a. PAASBAN-I-AHLE-HADITH; a.k.a. PASBAN-E-AHLE-HADITH; a.k.a. PASBAN-E-KASHMIR; a.k.a. “JUD”), Pakistan [SDGT] [FTO]

JAMA'AT-UD-DA'AWA (a.k.a. AL MANSOOREEN; a.k.a. AL MANSOORIAN; a.k.a. ARMY OF THE PURE; a.k.a. ARMY OF THE PURE AND RIGHTEOUS; a.k.a. ARMY OF THE RIGHTEOUS; a.k.a. IDARA KHIDMAT-E-KHALQ; a.k.a. JAMA'AT AL-DAWA; a.k.a. JAMAAT UD-DAAWA; a.k.a. JAMAAT UL-DAWAH; a.k.a. JAMA'AT-I-DAWAT; a.k.a. JAMAATI-UD-DAWA; a.k.a. JAMA'AT-UD-DA'AWAH; a.k.a. JAMAAT-UD-DAWA; a.k.a. JAMAAT-UL-DAWA; a.k.a. JAMAIAT-UD-DAWA; a.k.a. LASHKAR E-TAYYIBA; a.k.a. LASHKAR E-TOIBA; a.k.a. LASHKAR-I-TAIBA; a.k.a. PAASBAN-E-AHLE-HADIS; a.k.a. PAASBAN-E-KASHMIR; a.k.a. PAASBAN-I-AHLE-HADITH; a.k.a. PASBAN-E-AHLE-HADITH; a.k.a. PASBAN-E-KASHMIR; a.k.a. “JUD”), Pakistan [SDGT] [FTO]

JAMA'AT-UD-DA'AWAH (a.k.a. AL MANSOOREEN; a.k.a. AL MANSOORIAN; a.k.a. ARMY OF THE PURE; a.k.a. ARMY OF THE PURE AND RIGHTEOUS; a.k.a. ARMY OF THE RIGHTEOUS; a.k.a. IDARA KHIDMAT-E-KHALQ; a.k.a. JAMA'AT AL-DAWA; a.k.a. JAMAAT UD-DAAWA; a.k.a. JAMAAT UL-DAWAH; a.k.a. JAMA'AT-I-DAWAT; a.k.a. JAMAATI-UD-DAWA; a.k.a. JAMA'AT-UD-DA'AWA; a.k.a. JAMAAT-UD-DAWA; a.k.a. JAMAAT-UL-DAWA; a.k.a. JAMAIAT-UD-DAWA; a.k.a. LASHKAR E-TAYYIBA; a.k.a. LASHKAR E-TOIBA; a.k.a. LASHKAR-I-TAIBA; a.k.a. PAASBAN-E-AHLE-HADIS; a.k.a. PAASBAN-E-KASHMIR; a.k.a. PAASBAN-I-AHLE-HADITH; a.k.a. PASBAN-E-AHLE-HADITH; a.k.a. PASBAN-E-KASHMIR; a.k.a. “JUD”), Pakistan [SDGT] [FTO]

JAMAAT-UD-DAWA (a.k.a. AL MANSOOREEN; a.k.a. AL MANSOORIAN; a.k.a. ARMY OF THE PURE; a.k.a. ARMY OF THE PURE AND RIGHTEOUS; a.k.a. ARMY OF THE RIGHTEOUS; a.k.a. IDARA KHIDMAT-E-KHALQ; a.k.a. JAMA'AT AL-DAWA; a.k.a. JAMAAT UD-DAAWA; a.k.a. JAMAAT UL-DAWAH; a.k.a. JAMA'AT-I-DAWAT; a.k.a. JAMAATI-UD-DAWA; a.k.a. JAMA'AT-UD-DA'AWA; a.k.a. JAMA'AT-UD-DA'AWAH; a.k.a. JAMAAT-UL-DAWA; a.k.a. JAMAIAT-UD-DAWA; a.k.a. LASHKAR E-TAYYIBA; a.k.a. LASHKAR E-TOIBA; a.k.a. LASHKAR-I-TAIBA; a.k.a. PAASBAN-E-AHLE-HADIS; a.k.a. PAASBAN-E-KASHMIR; a.k.a. PAASBAN-I-AHLE-HADITH; a.k.a. PASBAN-E-AHLE-HADITH; a.k.a. PASBAN-E-KASHMIR; a.k.a. “JUD”), Pakistan [SDGT] [FTO]

JAMAAT-UL-DAWA (a.k.a. AL MANSOOREEN; a.k.a. AL MANSOORIAN; a.k.a. ARMY OF THE PURE; a.k.a. ARMY OF THE PURE AND RIGHTEOUS; a.k.a. ARMY OF THE RIGHTEOUS; a.k.a. IDARA KHIDMAT-E-KHALQ; a.k.a. JAMA'AT AL-DAWA; a.k.a. JAMAAT UD-DAAWA; a.k.a. JAMAAT UL-DAWAH; a.k.a. JAMA'AT-I-DAWAT; a.k.a. JAMAATI-UD-DAWA; a.k.a. JAMA'AT-UD-DA'AWA; a.k.a. JAMA'AT-UD-DA'AWAH; a.k.a. JAMAAT-UD-DAWA; a.k.a. JAMAIAT-UD-DAWA; a.k.a. LASHKAR E-TAYYIBA; a.k.a. LASHKAR E-TOIBA; a.k.a. LASHKAR-I-TAIBA; a.k.a. PAASBAN-E-AHLE-HADIS; a.k.a. PAASBAN-E-KASHMIR; a.k.a. PAASBAN-I-AHLE-HADITH; a.k.a. PASBAN-E-AHLE-HADITH; a.k.a. PASBAN-E-KASHMIR; a.k.a. “JUD”), Pakistan [SDGT] [FTO]

JAMAIAT-UD-DAWA (a.k.a. AL MANSOOREEN; a.k.a. AL MANSOORIAN; a.k.a. ARMY OF THE PURE; a.k.a. ARMY OF THE PURE AND RIGHTEOUS; a.k.a. ARMY OF THE RIGHTEOUS; a.k.a. IDARA KHIDMAT-E-KHALQ; a.k.a. JAMA'AT AL-DAWA; a.k.a. JAMAAT UD-DAAWA; a.k.a. JAMAAT UL-DAWAH; a.k.a. JAMA'AT-I-DAWAT; a.k.a. JAMAATI-UD-DAWA; a.k.a. JAMA'AT-UD-DA'AWA; a.k.a. JAMA'AT-UD-DA'AWAH; a.k.a. JAMAAT-UD-DAWA; a.k.a. JAMAAT-UL-DAWA; a.k.a. LASHKAR E-TAYYIBA; a.k.a. LASHKAR E-TOIBA; a.k.a. LASHKAR-I-TAIBA; a.k.a. PAASBAN-E-AHLE-HADIS; a.k.a. PAASBAN-E-KASHMIR; a.k.a. PAASBAN-I-AHLE-HADITH; a.k.a. PASBAN-E-AHLE-HADITH; a.k.a. PASBAN-E-KASHMIR; a.k.a. “JUD”), Pakistan [SDGT] [FTO]

JAM'AT AL TAWHID WA'AL-JIHAD (a.k.a. AL-QAIDA GROUP OF JIHAD IN IRAQ; a.k.a. AL-QAIDA GROUP OF JIHAD IN THE LAND OF THE TWO RIVERS; a.k.a. AL-QAIDA IN IRAQ; a.k.a. AL-QAIDA IN MESOPOTAMIA; a.k.a. AL-QAIDA IN THE LAND OF THE TWO RIVERS; a.k.a. AL-QAIDA OF JIHAD IN IRAQ; a.k.a. AL-QAIDA OF JIHAD ORGANIZATION IN THE LAND OF THE TWO RIVERS; a.k.a. AL-QAIDA OF THE JIHAD IN THE LAND OF THE TWO RIVERS; a.k.a. AL-TAWHID; a.k.a. AL-ZARQAWI NETWORK; a.k.a. TANZEEM QA'IDAT AL JIHAD/BILAD AL RAAFIDAINI; a.k.a. TANZIM QA'IDAT AL-JIHAD FI BILAD AL-RAFIDAYN; a.k.a. THE MONOTHEISM AND JIHAD GROUP; a.k.a. THE ORGANIZATION BASE OF JIHAD/COUNTRY OF THE TWO RIVERS; a.k.a. THE ORGANIZATION BASE OF JIHAD/MESOPOTAMIA; a.k.a. THE ORGANIZATION OF AL-JIHAD'S BASE IN IRAQ; a.k.a. THE ORGANIZATION OF AL-JIHAD'S BASE IN THE LAND OF THE TWO RIVERS; a.k.a. THE ORGANIZATION OF AL-JIHAD'S BASE OF OPERATIONS IN IRAQ; a.k.a. THE ORGANIZATION OF AL-JIHAD'S BASE OF OPERATIONS IN THE LAND OF THE TWO RIVERS; a.k.a. THE ORGANIZATION OF JIHAD'S BASE IN THE COUNTRY OF THE TWO RIVERS) [FTO] [SDGT]

JAMI'A AL-AHSAN AL-KHAYRIYYAH (a.k.a. AL-AHSAN CHARITABLE ORGANIZATION; a.k.a. AL-BAR AND AL-IHSAN SOCIETIES; a.k.a. AL-BAR AND AL-IHSAN SOCIETY; a.k.a. AL-BIR AND AL-IHSAN ORGANIZATION; a.k.a. AL-BIRR WA AL-IHSAN CHARITY ASSOCIATION; a.k.a. AL-BIRR WA AL-IHSAN WA AL-NAQA; a.k.a. AL-IHSAN CHARITABLE SOCIETY; a.k.a. BIR WA ELEHSSAN SOCIETY; a.k.a. BIRR AND ELEHSSAN SOCIETY; a.k.a. ELEHSSAN; a.k.a. ELEHSSAN SOCIETY; a.k.a. ELEHSSAN SOCIETY AND BIRR; a.k.a. ELEHSSAN SOCIETY WA BIRR; a.k.a. IHSAN CHARITY; a.k.a. THE BENEVOLENT CHARITABLE ORGANIZATION), Bethlehem, West Bank, Palestinian; AL-MUZANNAR ST, AL-NASIR AREA, Gaza City, Gaza, Palestinian; Jenin, West Bank, Palestinian; Ramallah, West Bank, Palestinian; Tulkarm, West Bank, Palestinian; Lebanon; P.O. BOX 398, Hebron, West Bank, Palestinian [SDGT]

JAMIA IHYA UL TURATH (a.k.a. JAMIAT IHIA AL-TURATH AL-ISLAMIYA; a.k.a. REVIVAL OF ISLAMIC HERITAGE SOCIETY (RIHS); a.k.a. REVIVAL OF ISLAMIC SOCIETY HERITAGE ON THE AFRICAN CONTINENT), Pakistan; Afghanistan; Office in Kuwait is NOT designated [SDGT]

JAMI'A SANABIL (a.k.a. AL SANABIL; a.k.a. AL-SANBAL; a.k.a. ASANABIL; a.k.a. JAMI'A SANABIL LIL IGATHA WA AL-TANMIYZ; a.k.a. JA'MIA SANBLE LLAGHATHA WA ALTINMIA; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

JAMI'A SANABIL LIL IGATHA WA AL-TANMIYZ (a.k.a. AL SANABIL; a.k.a. AL-SANBAL; a.k.a. ASANABIL; a.k.a. JAMI'A SANABIL; a.k.a. JA'MIA SANBLE LLAGHATHA WA ALTINMIA; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

JA'MIA SANBLE LLAGHATHA WA ALTINMIA (a.k.a. AL SANABIL; a.k.a. AL-SANBAL; a.k.a. ASANABIL; a.k.a. JAMI'A SANABIL; a.k.a. JAMI'A SANABIL LIL IGATHA WA AL-TANMIYZ; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

JAMIAT AL-JIHAD AL-ISLAMI (a.k.a. AL-DJIHAD AL-ISLAMI; a.k.a. DZHAMAAT MODZHAKHEDOV; a.k.a. ISLAMIC JIHAD GROUP (IJG); a.k.a. ISLAMIC JIHAD GROUP OF UZBEKISTAN; a.k.a. JAMA'AT AL-JIHAD; a.k.a. JAMIYAT; a.k.a. THE JAMAAT MOJAHEDIN; a.k.a. THE KAZAKH JAMA'AT; a.k.a. THE LIBYAN SOCIETY) [FTO] [SDGT]

JAMIAT AYAT-UR-RHAS AL ISLAMIA (a.k.a. AFGHAN SUPPORT COMMITTEE (ASC); a.k.a. AHYA UL TURAS; a.k.a. JAMIAT IHYA UL TURATH AL ISLAMIA; a.k.a. LAJNAT UL MASA EIDATUL AFGHANIA), Grand Trunk Road, near Pushtoon Garhi Pabbi, Peshawar, Pakistan; Cheprahar Hadda, Mia Omar Sabaqah School, Jalalabad, Afghanistan [SDGT]

JAMIAT IHIA AL-TURATH AL-ISLAMIYA (a.k.a. JAMIA IHYA UL TURATH; a.k.a. REVIVAL OF ISLAMIC HERITAGE SOCIETY (RIHS); a.k.a. REVIVAL OF ISLAMIC SOCIETY HERITAGE ON THE AFRICAN CONTINENT), Pakistan; Afghanistan; Office in Kuwait is NOT designated [SDGT]

JAMIAT IHYA UL TURATH AL ISLAMIA (a.k.a. AFGHAN SUPPORT COMMITTEE (ASC); a.k.a. AHYA UL TURAS; a.k.a. JAMIAT AYAT-UR-RHAS AL ISLAMIA; a.k.a. LAJNAT UL MASA EIDATUL AFGHANIA), Grand Trunk Road, near Pushtoon Garhi Pabbi, Peshawar, Pakistan; Cheprahar Hadda, Mia Omar Sabaqah School, Jalalabad, Afghanistan [SDGT]

JAMIAT UL-ANSAR (a.k.a. AL-FARAN; a.k.a. AL-HADID; a.k.a. AL-HADITH; a.k.a. HARAKAT UL-ANSAR; a.k.a. HARAKAT UL-MUJAHIDEEN; a.k.a. HARAKAT UL-MUJAHIDIN; a.k.a. HUA; a.k.a. HUM) [FTO] [SDGT]

JAMIL GEORGES, Fahd (a.k.a. JAMIL GEORGES, Fuad; a.k.a. YAMIL GEORGES, Fahd; a.k.a. “EL PADRINO”; a.k.a. “TURCO”), Pedro Juan Caballero, Amambay, Paraguay; Ponta Pora, Mato Grosso do Sul, Brazil; DOB 7 Jun 1941; citizen Brazil; nationality Lebanon; Cedula No. RG-013147 (Brazil) (individual) [SDNTK]

JAMIL GEORGES, Fuad (a.k.a. JAMIL GEORGES, Fahd; a.k.a. YAMIL GEORGES, Fahd; a.k.a. “EL PADRINO”; a.k.a. “TURCO”), Pedro Juan Caballero, Amambay, Paraguay; Ponta Pora, Mato Grosso do Sul, Brazil; DOB 7 Jun 1941; citizen Brazil; nationality Lebanon; Cedula No. RG-013147 (Brazil) (individual) [SDNTK]

JAMIL, Sammy Sali (a.k.a. AL GHOZI, Fathur Rahman; a.k.a. AL GHOZI, Fathur Rohman; a.k.a. ALGHOZI, Fathur Rahman; a.k.a. AL-GHOZI, Fathur Rahman; a.k.a. ALGHOZI, Fathur Rohman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. JAMIL, Sammy Salih; a.k.a. RANDY, Alih; a.k.a. “ABU SA'AD”; a.k.a. “ABU SAAD”; a.k.a. “FREEDOM FIGHTER”); DOB 17 Feb 1971; POB Madiun, East Java, Indonesia; nationality Indonesia; Passport GG 672613 (Philippines) (individual) [SDGT]

JAMIL, Sammy Salih (a.k.a. AL GHOZI, Fathur Rahman; a.k.a. AL GHOZI, Fathur Rohman; a.k.a. ALGHOZI, Fathur Rahman; a.k.a. AL-GHOZI, Fathur Rahman; a.k.a. ALGHOZI, Fathur Rohman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. JAMIL, Sammy Sali; a.k.a. RANDY, Alih; a.k.a. “ABU SA'AD”; a.k.a. “ABU SAAD”; a.k.a. “FREEDOM FIGHTER”); DOB 17 Feb 1971; POB Madiun, East Java, Indonesia; nationality Indonesia; Passport GG 672613 (Philippines) (individual) [SDGT]

JAMIYAT (a.k.a. AL-DJIHAD AL-ISLAMI; a.k.a. DZHAMAAT MODZHAKHEDOV; a.k.a. ISLAMIC JIHAD GROUP (IJG); a.k.a. ISLAMIC JIHAD GROUP OF UZBEKISTAN; a.k.a. JAMA'AT AL-JIHAD; a.k.a. JAMIAT AL-JIHAD AL-ISLAMI; a.k.a. THE JAMAAT MOJAHEDIN; a.k.a. THE KAZAKH JAMA'AT; a.k.a. THE LIBYAN SOCIETY) [FTO] [SDGT]

JAM'IYAT AL TA'AWUN AL ISLAMIYYA (a.k.a. JAM'YAH TA'AWUN AL-ISLAMIA; a.k.a. JIT; a.k.a. SOCIETY OF ISLAMIC COOPERATION), Qandahar City, Afghanistan [SDGT]

JAMMALI, Imed Ben Bechir, via Dubini, n. 3, Gallarate, Varese, Italy; DOB 25 Jan 1968; POB Menzel Temine, Tunisia; nationality Tunisia; Italian Fiscal Code JMMMDI68A25Z352D; Passport K693812 issued 23 Apr 1999 expires 22 Apr 2004 (individual) [SDGT]

JAM'YAH TA'AWUN AL-ISLAMIA (a.k.a. JAM'IYAT AL TA'AWUN AL ISLAMIYYA; a.k.a. JIT; a.k.a. SOCIETY OF ISLAMIC COOPERATION), Qandahar City, Afghanistan [SDGT]

JANJALANI, Khadafi Abubakar (a.k.a. ABU MUKTAR; a.k.a. JANJALANI, Khadafy; a.k.a. JANJALANI, Khaddafy Abubakar); DOB 3 Mar 1975; POB Isabela, Basilan, Philippines; nationality Philippines (individual) [SDGT]

JANJALANI, Khadafy (a.k.a. ABU MUKTAR; a.k.a. JANJALANI, Khadafi Abubakar; a.k.a. JANJALANI, Khaddafy Abubakar); DOB 3 Mar 1975; POB Isabela, Basilan, Philippines; nationality Philippines (individual) [SDGT]

JANJALANI, Khaddafy Abubakar (a.k.a. ABU MUKTAR; a.k.a. JANJALANI, Khadafi Abubakar; a.k.a. JANJALANI, Khadafy); DOB 3 Mar 1975; POB Isabela, Basilan, Philippines; nationality Philippines (individual) [SDGT]

JANKOVIC, Gojko; DOB 31 Oct 1954; POB Foca, Bosnia-Herzegovina; ICTY indictee at large; sub-commander of the military police in Foca (individual) [BALKANS]

JANPRAPAPORN, Arin (a.k.a. CHANTARAPRAPAPORN, Arin; a.k.a. CHANTHRAPRAPHAPHON, Amarin; a.k.a. CHANTHRAPRAPHAPHON, Arin; a.k.a. CHANTRAPRAPAPORN, Arrin; a.k.a. CHATARAPRAPAPORN, Arin), c/o BANGKOK ARTI-FLORA DESIGN LIMITED PARTNERSHIP, Bangkok, Thailand; c/o BANGKOK SILK FLOWER COMPANY LTD., Bangkok, Thailand; DOB 5 May 1954; Passport M93116 (Thailand) (individual) [SDNTK]

JARACO S.A. (a.k.a. SOKTAR; a.k.a. TRADACO S.A.), 45 Route de Frontenex, CH-1207 Geneva, Switzerland [IRAQ2]

JARAMILLO ARIAS, Gustavo Alfonso, c/o FARMATEL E.U., Bogota, Colombia; Cedula No. 16601998 (Colombia); Passport 16601998 (Colombia) (individual) [SDNT]

JARAMILLO ARIAS, Juan Guillermo, c/o PROVIDA E.U., Cali, Colombia; DOB 6 Dec 1959; Cedula No. 16634644 (Colombia); Passport 16634644 (Colombia) (individual) [SDNT]

JARAMILLO FRANCO, Harvy, c/o DISMERCOOP, Cali, Colombia; DOB 10 Aug 1965; Cedula No. 16711189 (Colombia) (individual) [SDNT]

JARAMILLO V., Leticia Eugenia, c/o TRIMARK LTDA., Bogota, Colombia; Cedula No. 43040333 (Colombia) (individual) [SDNT]

JAREE-ARPAPORN, Hiran (a.k.a. CHARIAPAPORN, Hiran; a.k.a. CHARI-APAPORN, Hiran; a.k.a. CHARI-APHAPHON, Hiran; a.k.a. JAREE-ARPAPORN, Hirun; a.k.a. WU, Nan Hsiung), c/o A-TEAM CHEMICALS COMPANY LTD. , Bangkok, Thailand; c/o PLUS TECH AUTO SUPPLY COMPANY LTD., Bangkok, Thailand; DOB 3 Jan 1950; National ID No. 310062394060 (Thailand) (individual) [SDNTK]

JAREE-ARPAPORN, Hirun (a.k.a. CHARIAPAPORN, Hiran; a.k.a. CHARI-APAPORN, Hiran; a.k.a. CHARI-APHAPHON, Hiran; a.k.a. JAREE-ARPAPORN, Hiran; a.k.a. WU, Nan Hsiung), c/o A-TEAM CHEMICALS COMPANY LTD. , Bangkok, Thailand; c/o PLUS TECH AUTO SUPPLY COMPANY LTD., Bangkok, Thailand; DOB 3 Jan 1950; National ID No. 310062394060 (Thailand) (individual) [SDNTK]

JAROMO INVERSIONES S.L., Calle Florencio Castillo 8, portal 7, piso 2-21, 28043 Madrid, Madrid, Spain; C.I.F. B81784548 (Spain) [SDNT]

JARRAI-HAIKA-SEGI (a.k.a. ASKATASUNA; a.k.a. BASQUE FATHERLAND AND LIBERTY; a.k.a. BATASUNA; a.k.a. EKIN; a.k.a. EPANASTATIKI PIRINES; a.k.a. ETA; a.k.a. EUSKAL HERRITARROK; a.k.a. EUZKADI TA ASKATASUNA; a.k.a. HERRI BATASUNA; a.k.a. K.A.S.; a.k.a. POPULAR REVOLUTIONARY STRUGGLE; a.k.a. XAKI) [FTO] [SDGT]

JARRAYA, Khalil (a.k.a. JARRAYA, Khalil Ben Ahmed Ben Mohamed; a.k.a. “ABDEL' AZIZ BEN NARVAN”; a.k.a. “AMR”; a.k.a. “AMRO”; a.k.a. “AMROU”; a.k.a. “BEN NARVAN ABDEL AZIZ”; a.k.a. “KHALIL YARRAYA”; a.k.a. “OMAR”), Via Bellaria n.10, Bologna, Italy; Via Lazio n.3, Bologna, Italy; DOB 8 Feb 1969; alt. DOB 15 Aug 1970; POB Sfax, Tunisia; alt. POB Sreka, ex-Yugoslavia; nationality Tunisia alt. Bosnia and Herzegovina; Passport K989895 (Tunisia) issued 26 Jul 1995 expires 25 Jul 2000 (individual) [SDGT]

JARRAYA, Khalil Ben Ahmed Ben Mohamed (a.k.a. JARRAYA, Khalil; a.k.a. “ABDEL' AZIZ BEN NARVAN”; a.k.a. “AMR”; a.k.a. “AMRO”; a.k.a. “AMROU”; a.k.a. “BEN NARVAN ABDEL AZIZ”; a.k.a. “KHALIL YARRAYA”; a.k.a. “OMAR”), Via Bellaria n.10, Bologna, Italy; Via Lazio n.3, Bologna, Italy; DOB 8 Feb 1969; alt. DOB 15 Aug 1970; POB Sfax, Tunisia; alt. POB Sreka, ex-Yugoslavia; nationality Tunisia alt. Bosnia and Herzegovina; Passport K989895 (Tunisia) issued 26 Jul 1995 expires 25 Jul 2000 (individual) [SDGT]

JARRAYA, Mounir Ben Habib (a.k.a. JARRAYA, Mounir Ben Habib Ben Al-Taher; a.k.a. “YARRAYA”), Via Mirasole n.11, Bologna, Italy; Via Ariosto n.8, Casalecchio di Reno (Bologna), Italy; DOB 25 Oct 1963; POB Sfax, Tunisia; nationality Tunisia; Passport L 065947 issued 28 Oct 1995 expires 27 Oct 2000 (individual) [SDGT]

JARRAYA, Mounir Ben Habib Ben Al-Taher (a.k.a. JARRAYA, Mounir Ben Habib; a.k.a. “YARRAYA”), Via Mirasole n.11, Bologna, Italy; Via Ariosto n.8, Casalecchio di Reno (Bologna), Italy; DOB 25 Oct 1963; POB Sfax, Tunisia; nationality Tunisia; Passport L 065947 issued 28 Oct 1995 expires 27 Oct 2000 (individual) [SDGT]

JASIM, Latif Nusayyif (a.k.a. JASSEM, Latif Nassif), Baghdad, Iraq; DOB 1941; Former Minister of Labor and Social Affairs (individual) [IRAQ2]

JASSEM, Khalil Ibrahim (a.k.a. AL ZAFIRI, Khalil Ibrahim; a.k.a. KHALIL, Ibrahim Mohamed; a.k.a. MOHAMMAD, Khalil Ibrahim), Pankratiusstrause 44, Mainz 55118, Germany; Frankenthal Prison, Germany; DOB 2 Jul 1975; alt. DOB 2 May 1972; alt. DOB 3 Jul 1975; alt. DOB 1972; POB Mosul, Iraq; alt. POB Baghdad, Iraq; nationality Iraq; Travel Document Number A0003900 (Germany) (individual) [SDGT]

JASSEM, Latif Nassif (a.k.a. JASIM, Latif Nusayyif), Baghdad, Iraq; DOB 1941; Former Minister of Labor and Social Affairs (individual) [IRAQ2]

JAWAD, Dr. Safa Hadi (a.k.a. AL-HABOBI, Dr. Safa; a.k.a. AL-HABOBI, Dr. Safa Haji J; a.k.a. AL-HABUBI, Dr. Safa Hadi Jawad; a.k.a. HABUBI, Dr. Safa Hadi Jawad; a.k.a. HABUBI, Dr. Safa Jawad), Flat 4D Thorney Court, Palace Gate, Kensington, United Kingdom; Iraq; DOB 01 Jul 1946; Former Minister of Oil (individual) [IRAQ2]

JCT (a.k.a. GCT; a.k.a. GROUPE COMBATTANT TUNISIEN; a.k.a. JAMA'A COMBATTANTE TUNISIEN; a.k.a. TUNISIAN COMBAT GROUP; a.k.a. TUNISIAN COMBATANT GROUP) [SDGT]

JELASSI, Riadh; DOB 15 Dec 1970; POB Al-Mohamedia, Tunisia; nationality Tunisia; Passport L276046 issued 1 Jul 1996 expires 30 Jun 2001 (individual) [SDGT]

JELAVIC, Ante; DOB 21 Oct 1963; POB Potprolog, Croatia (individual) [BALKANS]

JELISIC, Goran; DOB 7 Jun 1968; POB Bijeljina, Bosnia-Herzegovina; ICTY indictee (individual) [BALKANS]

JEMAA ISLAMIYA (a.k.a. JEMA'A ISLAMIYAH; a.k.a. JEMAA ISLAMIYAH (JI); a.k.a. JEMA'A ISLAMIYYA; a.k.a. JEMAA ISLAMIYYA; a.k.a. JEMA'A ISLAMIYYAH; a.k.a. JEMAA ISLAMIYYAH; a.k.a. JEMAAH ISLAMIAH; a.k.a. JEMA'AH ISLAMIYAH; a.k.a. JEMAAH ISLAMIYAH; a.k.a. JEMA'AH ISLAMIYYAH; a.k.a. JEMAAH ISLAMIYYAH); founded by Abdullah Sungkar [FTO] [SDGT]

JEMA'A ISLAMIYAH (a.k.a. JEMAA ISLAMIYA; a.k.a. JEMAA ISLAMIYAH (JI); a.k.a. JEMA'A ISLAMIYYA; a.k.a. JEMAA ISLAMIYYA; a.k.a. JEMA'A ISLAMIYYAH; a.k.a. JEMAA ISLAMIYYAH; a.k.a. JEMAAH ISLAMIAH; a.k.a. JEMA'AH ISLAMIYAH; a.k.a. JEMAAH ISLAMIYAH; a.k.a. JEMA'AH ISLAMIYYAH; a.k.a. JEMAAH ISLAMIYYAH); founded by Abdullah Sungkar [FTO] [SDGT]

JEMAA ISLAMIYAH (JI) (a.k.a. JEMAA ISLAMIYA; a.k.a. JEMA'A ISLAMIYAH; a.k.a. JEMA'A ISLAMIYYA; a.k.a. JEMAA ISLAMIYYA; a.k.a. JEMA'A ISLAMIYYAH; a.k.a. JEMAA ISLAMIYYAH; a.k.a. JEMAAH ISLAMIAH; a.k.a. JEMA'AH ISLAMIYAH; a.k.a. JEMAAH ISLAMIYAH; a.k.a. JEMA'AH ISLAMIYYAH; a.k.a. JEMAAH ISLAMIYYAH); founded by Abdullah Sungkar [FTO] [SDGT]

JEMAA ISLAMIYYA (a.k.a. JEMAA ISLAMIYA; a.k.a. JEMA'A ISLAMIYAH; a.k.a. JEMAA ISLAMIYAH (JI); a.k.a. JEMA'A ISLAMIYYA; a.k.a. JEMA'A ISLAMIYYAH; a.k.a. JEMAA ISLAMIYYAH; a.k.a. JEMAAH ISLAMIAH; a.k.a. JEMA'AH ISLAMIYAH; a.k.a. JEMAAH ISLAMIYAH; a.k.a. JEMA'AH ISLAMIYYAH; a.k.a. JEMAAH ISLAMIYYAH); founded by Abdullah Sungkar [FTO] [SDGT]

JEMA'A ISLAMIYYA (a.k.a. JEMAA ISLAMIYA; a.k.a. JEMA'A ISLAMIYAH; a.k.a. JEMAA ISLAMIYAH (JI); a.k.a. JEMAA ISLAMIYYA; a.k.a. JEMA'A ISLAMIYYAH; a.k.a. JEMAA ISLAMIYYAH; a.k.a. JEMAAH ISLAMIAH; a.k.a. JEMA'AH ISLAMIYAH; a.k.a. JEMAAH ISLAMIYAH; a.k.a. JEMA'AH ISLAMIYYAH; a.k.a. JEMAAH ISLAMIYYAH); founded by Abdullah Sungkar [FTO] [SDGT]

JEMAA ISLAMIYYAH (a.k.a. JEMAA ISLAMIYA; a.k.a. JEMA'A ISLAMIYAH; a.k.a. JEMAA ISLAMIYAH (JI); a.k.a. JEMA'A ISLAMIYYA; a.k.a. JEMAA ISLAMIYYA; a.k.a. JEMA'A ISLAMIYYAH; a.k.a. JEMAAH ISLAMIAH; a.k.a. JEMA'AH ISLAMIYAH; a.k.a. JEMAAH ISLAMIYAH; a.k.a. JEMA'AH ISLAMIYYAH; a.k.a. JEMAAH ISLAMIYYAH); founded by Abdullah Sungkar [FTO] [SDGT]

JEMA'A ISLAMIYYAH (a.k.a. JEMAA ISLAMIYA; a.k.a. JEMA'A ISLAMIYAH; a.k.a. JEMAA ISLAMIYAH (JI); a.k.a. JEMA'A ISLAMIYYA; a.k.a. JEMAA ISLAMIYYA; a.k.a. JEMAA ISLAMIYYAH; a.k.a. JEMAAH ISLAMIAH; a.k.a. JEMA'AH ISLAMIYAH; a.k.a. JEMAAH ISLAMIYAH; a.k.a. JEMA'AH ISLAMIYYAH; a.k.a. JEMAAH ISLAMIYYAH); founded by Abdullah Sungkar [FTO] [SDGT]

JEMAAH ISLAMIAH (a.k.a. JEMAA ISLAMIYA; a.k.a. JEMA'A ISLAMIYAH; a.k.a. JEMAA ISLAMIYAH (JI); a.k.a. JEMA'A ISLAMIYYA; a.k.a. JEMAA ISLAMIYYA; a.k.a. JEMA'A ISLAMIYYAH; a.k.a. JEMAA ISLAMIYYAH; a.k.a. JEMA'AH ISLAMIYAH; a.k.a. JEMAAH ISLAMIYAH; a.k.a. JEMA'AH ISLAMIYYAH; a.k.a. JEMAAH ISLAMIYYAH); founded by Abdullah Sungkar [FTO] [SDGT]

JEMAAH ISLAMIYAH (a.k.a. JEMAA ISLAMIYA; a.k.a. JEMA'A ISLAMIYAH; a.k.a. JEMAA ISLAMIYAH (JI); a.k.a. JEMA'A ISLAMIYYA; a.k.a. JEMAA ISLAMIYYA; a.k.a. JEMA'A ISLAMIYYAH; a.k.a. JEMAA ISLAMIYYAH; a.k.a. JEMAAH ISLAMIAH; a.k.a. JEMA'AH ISLAMIYAH; a.k.a. JEMA'AH ISLAMIYYAH; a.k.a. JEMAAH ISLAMIYYAH); founded by Abdullah Sungkar [FTO] [SDGT]

JEMA'AH ISLAMIYAH (a.k.a. JEMAA ISLAMIYA; a.k.a. JEMA'A ISLAMIYAH; a.k.a. JEMAA ISLAMIYAH (JI); a.k.a. JEMA'A ISLAMIYYA; a.k.a. JEMAA ISLAMIYYA; a.k.a. JEMA'A ISLAMIYYAH; a.k.a. JEMAA ISLAMIYYAH; a.k.a. JEMAAH ISLAMIAH; a.k.a. JEMAAH ISLAMIYAH; a.k.a. JEMA'AH ISLAMIYYAH; a.k.a. JEMAAH ISLAMIYYAH); founded by Abdullah Sungkar [FTO] [SDGT]

JEMAAH ISLAMIYYAH (a.k.a. JEMAA ISLAMIYA; a.k.a. JEMA'A ISLAMIYAH; a.k.a. JEMAA ISLAMIYAH (JI); a.k.a. JEMA'A ISLAMIYYA; a.k.a. JEMAA ISLAMIYYA; a.k.a. JEMA'A ISLAMIYYAH; a.k.a. JEMAA ISLAMIYYAH; a.k.a. JEMAAH ISLAMIAH; a.k.a. JEMA'AH ISLAMIYAH; a.k.a. JEMAAH ISLAMIYAH; a.k.a. JEMA'AH ISLAMIYYAH); founded by Abdullah Sungkar [FTO] [SDGT]

JEMA'AH ISLAMIYYAH (a.k.a. JEMAA ISLAMIYA; a.k.a. JEMA'A ISLAMIYAH; a.k.a. JEMAA ISLAMIYAH (JI); a.k.a. JEMA'A ISLAMIYYA; a.k.a. JEMAA ISLAMIYYA; a.k.a. JEMA'A ISLAMIYYAH; a.k.a. JEMAA ISLAMIYYAH; a.k.a. JEMAAH ISLAMIAH; a.k.a. JEMA'AH ISLAMIYAH; a.k.a. JEMAAH ISLAMIYAH; a.k.a. JEMAAH ISLAMIYYAH); founded by Abdullah Sungkar [FTO] [SDGT]

JENDOUBI, Faouzi (a.k.a. “SAID”; a.k.a. “SAMIR”), Via Agucchi n.250, Bologna, Italy; Via di Saliceto n.51/9, Bologna, Italy; DOB 30 Jan 1966; POB Beja, Tunisia; nationality Tunisia; Passport K459698 issued 6 Mar 1999 expires 5 Mar 2004 (individual) [SDGT]

JEWISH IDEA YESHIVA (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

JEWISH LEGION (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

JIBRIL, Ahmad (a.k.a. JABRIL, Ahmad); DOB 1938; POB Ramleh, Israel; Secretary General of POPULAR FRONT FOR THE LIBERATION OF PALESTINE -GENERAL COMMAND (individual) [SDT]

JIHAD GROUP (a.k.a. AL-JIHAD; a.k.a. EGYPTIAN AL-JIHAD; a.k.a. EGYPTIAN ISLAMIC JIHAD; a.k.a. NEW JIHAD) [SDT] [FTO] [SDGT]

JIHAD, Abu (a.k.a. AL MASRI, Abd Al Wakil; a.k.a. ALI, Hassan; a.k.a. AL-NUBI, Abu; a.k.a. ANIS, Abu; a.k.a. ELBISHY, Moustafa Ali; a.k.a. FADHIL, Mustafa Mohamed; a.k.a. FADIL, Mustafa Muhamad; a.k.a. FAZUL, Mustafa; a.k.a. HUSSEIN; a.k.a. KHALID; a.k.a. MAN, Nu; a.k.a. MOHAMMED, Mustafa; a.k.a. YUSSRR, Abu); DOB 23 Jun 1976; POB Cairo, Egypt; citizen Egypt alt. Kenya; Kenyan ID No. 12773667; Serial No. 201735161 (individual) [SDGT]

JIMALE, Ahmad Ali (a.k.a. JIM'ALE, Ahmad Nur Ali; a.k.a. JIM'ALE, Ahmed Nur Ali; a.k.a. JUMALE, Ahmed Nur; a.k.a. JUMALI, Ahmed Ali), P.O. Box 3312, Dubai, United Arab Emirates; Mogadishu, Somalia (individual) [SDGT]

JIM'ALE, Ahmad Nur Ali (a.k.a. JIMALE, Ahmad Ali; a.k.a. JIM'ALE, Ahmed Nur Ali; a.k.a. JUMALE, Ahmed Nur; a.k.a. JUMALI, Ahmed Ali), P.O. Box 3312, Dubai, United Arab Emirates; Mogadishu, Somalia (individual) [SDGT]

JIM'ALE, Ahmed Nur Ali (a.k.a. JIMALE, Ahmad Ali; a.k.a. JIM'ALE, Ahmad Nur Ali; a.k.a. JUMALE, Ahmed Nur; a.k.a. JUMALI, Ahmed Ali), P.O. Box 3312, Dubai, United Arab Emirates; Mogadishu, Somalia (individual) [SDGT]

JIMENEZ BEDOYA, Maria Adriana, Carrera 4 No. 12-20 of. 206, Cartago, Valle, Colombia; c/o INMOBILIARIA PASADENA LTDA., Cartago, Valle, Colombia; c/o ORGANIZACION LUIS HERNANDO GOMEZ BUSTAMANTE Y CIA. S.C.S., Cartago, Valle, Colombia; DOB 13 Apr 1971; Cedula No. 31417388 (Colombia); Passport 31417388 (Colombia) (individual) [SDNT]

JIMENEZ CARDENAS, Amparo, c/o COOPERATIVA MERCANTIL DEL SUR LTDA., Pasto, Colombia; Cedula No. 30726230 (Colombia); Passport 30726230 (Colombia) (individual) [SDNT]

JIMENEZ GONZALEZ, Gustavo, c/o CAJA SOLIDARIA, Bogota, Colombia; c/o COPSERVIR LTDA., Bogota, Colombia; c/o MEGAPHARMA LTDA., Bogota, Colombia; Carrera 95A No. 138-58 Int. 30-101, Bogota, Colombia; DOB 6 Jul 1969; Cedula No. 12138123 (Colombia) (individual) [SDNT]

JIMENEZ MARIN, William Edison, c/o CODISA, Bogota, Colombia; c/o ESPIBENA S.A., Quito, Ecuador; c/o LABORATORIOS KRESSFOR DE COLOMBIA S.A., Bogota, Colombia; Cedula No. 19415821 (Colombia); Passport 19415821 (Colombia); RUC # 1720269099 (Ecuador) (individual) [SDNT]

JIMENEZ, Isabel Cristina, c/o COMERCIALIZADORA INTERTEL S.A., Cali, Colombia; c/o CONTACTEL COMUNICACIONES S.A., Cali, Colombia; c/o INVERSIONES Y CONSTRUCCIONES ATLAS LTDA, Cali, Colombia; DOB 1 Jan 1973; Passport 66852533 (Colombia) (individual) [SDNT]

JIMINEZ SOLER, Gillermo, Panama (individual) [CUBA]

JIMINEZ, Isabel Cristina, c/o INVERSIONES Y CONSTRUCCIONES ATLAS LTDA., Cali, Colombia; Cedula No. 66852533 (Colombia) (individual) [SDNT]

JIT (a.k.a. JAM'IYAT AL TA'AWUN AL ISLAMIYYA; a.k.a. JAM'YAH TA'AWUN AL-ISLAMIA; a.k.a. SOCIETY OF ISLAMIC COOPERATION), Qandahar City, Afghanistan [SDGT]

JOBE, Baba; nationality Gambia, The; Director, Gambia New Millenium Air Company; Member of Parliament of Gambia (individual) [LIBERIA]

JOKIC, Dragan; DOB 20 Aug 1957; POB Grbavci, Bosnia-Herzegovina; ICTY indictee (individual) [BALKANS]

JOKIC, Miodrag; DOB 1935; POB Mionica, Serbia and Montenegro; ICTY indictee (individual) [BALKANS]

JOKONYA, Tichaona Joseph Benjamin, Samaita Mutasa Farm, Beatrice, Zimbabwe; DOB 27 Dec 1938; Passport ZD002261 (Zimbabwe); alt. Passport D001289 (Zimbabwe); alt. Passport AD000797 (Zimbabwe); Minister of Information and Publicity (individual) [ZIMBABWE]

JOMAGA DE COSTA RICA S.A. (a.k.a. INTERFARMA S.A.), 200 Norte y 25 Oeste del Restaurante Tierra Colombiana, San Francisco de Dos Rios, San Jose, Costa Rica; Numero Judicial # 3-101-76327 (Costa Rica) [SDNT]

JON, Hana Paul, 19 Tudor House, Windsor Way, Brook Green, London, United Kingdom (individual) [IRAQ2]

JOSAFAT S.A., Calle 28 No. 27-18, Tulua, Valle, Colombia; NIT # 800112217-4 (Colombia) [SDNT]

JOSIPOVIC, Drago; DOB 14 Feb 1955; POB Santici, Bosnia-Herzegovina; ICTY indictee (individual) [BALKANS]

JUAREZ CARTEL (a.k.a. CARRILLO FUENTES ORGANIZATION; a.k.a. CFO), Mexico [SDNTK]

JUBA DUTY FREE SHOP, Juba, Sudan [SUDAN]

JUDEA POLICE (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

JUDEAN CONGRESS (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

JULAIDAN, Wa'el Hamza (a.k.a. “ABU AL-HASAN AL MADANI”; a.k.a. JALADIN, Wa'el Hamza; a.k.a. JALADIN, Wa'il Hamza; a.k.a. JALAIDAN, Wa'el Hamza; a.k.a. JALAIDAN, Wa'il Hamza; a.k.a. JULAIDAN, Wa'il Hamza; a.k.a. JULAYDAN, Wa'el Hamza; a.k.a. JULAYDAN, Wa'il Hamza); DOB 22 Jan 1958; POB Al-Madinah, Saudi Arabia; Passport A-992535 (Saudi Arabia) (individual) [SDGT]

JULAIDAN, Wa'il Hamza (a.k.a. “ABU AL-HASAN AL MADANI”; a.k.a. JALADIN, Wa'el Hamza; a.k.a. JALADIN, Wa'il Hamza; a.k.a. JALAIDAN, Wa'el Hamza; a.k.a. JALAIDAN, Wa'il Hamza; a.k.a. JULAIDAN, Wa'el Hamza; a.k.a. JULAYDAN, Wa'el Hamza; a.k.a. JULAYDAN, Wa'il Hamza); DOB 22 Jan 1958; POB Al-Madinah, Saudi Arabia; Passport A-992535 (Saudi Arabia) (individual) [SDGT]

JULAYDAN, Wa'el Hamza (a.k.a. “ABU AL-HASAN AL MADANI”; a.k.a. JALADIN, Wa'el Hamza; a.k.a. JALADIN, Wa'il Hamza; a.k.a. JALAIDAN, Wa'el Hamza; a.k.a. JALAIDAN, Wa'il Hamza; a.k.a. JULAIDAN, Wa'el Hamza; a.k.a. JULAIDAN, Wa'il Hamza; a.k.a. JULAYDAN, Wa'il Hamza); DOB 22 Jan 1958; POB Al-Madinah, Saudi Arabia; Passport A-992535 (Saudi Arabia) (individual) [SDGT]

JULAYDAN, Wa'il Hamza (a.k.a. “ABU AL-HASAN AL MADANI”; a.k.a. JALADIN, Wa'el Hamza; a.k.a. JALADIN, Wa'il Hamza; a.k.a. JALAIDAN, Wa'el Hamza; a.k.a. JALAIDAN, Wa'il Hamza; a.k.a. JULAIDAN, Wa'el Hamza; a.k.a. JULAIDAN, Wa'il Hamza; a.k.a. JULAYDAN, Wa'el Hamza); DOB 22 Jan 1958; POB Al-Madinah, Saudi Arabia; Passport A-992535 (Saudi Arabia) (individual) [SDGT]

JULKIPLI SALIM Y SALAMUDDIN (a.k.a. JULKIPLI, Salim; a.k.a. KIPLI, Sali); DOB 20 Jun 1976; POB Tulay, Jolo Sulu, Philippines (individual) [SDGT]

JULKIPLI, Salim (a.k.a. JULKIPLI SALIM Y SALAMUDDIN; a.k.a. KIPLI, Sali); DOB 20 Jun 1976; POB Tulay, Jolo Sulu, Philippines (individual) [SDGT]

JUMALE, Ahmed Nur (a.k.a. JIMALE, Ahmad Ali; a.k.a. JIM'ALE, Ahmad Nur Ali; a.k.a. JIM'ALE, Ahmed Nur Ali; a.k.a. JUMALI, Ahmed Ali), P.O. Box 3312, Dubai, United Arab Emirates; Mogadishu, Somalia (individual) [SDGT]

JUMALI, Ahmed Ali (a.k.a. JIMALE, Ahmad Ali; a.k.a. JIM'ALE, Ahmad Nur Ali; a.k.a. JIM'ALE, Ahmed Nur Ali; a.k.a. JUMALE, Ahmed Nur), P.O. Box 3312, Dubai, United Arab Emirates; Mogadishu, Somalia (individual) [SDGT]

JUME'AN, George, P.O. Box 1318, Amman, Jordan (individual) [IRAQ2]

JUND AL-ISLAM (a.k.a. ANSAR AL-ISLAM; a.k.a. ANSAR AL-SUNNA; a.k.a. ANSAR AL-SUNNA ARMY; a.k.a. JAISH ANSAR AL-SUNNA; a.k.a. “DEVOTEES OF ISLAM”; a.k.a. “FOLLOWERS OF ISLAM IN KURDISTAN”; a.k.a. “HELPERS OF ISLAM”; a.k.a. “KURDISH TALIBAN”; a.k.a. “KURDISTAN SUPPORTERS OF ISLAM”; a.k.a. “PARTISANS OF ISLAM”; a.k.a. “SOLDIERS OF GOD”; a.k.a. “SOLDIERS OF ISLAM”; a.k.a. “SUPPORTERS OF ISLAM IN KURDISTAN”), Iraq [FTO] [SDGT]

JUNE 78 (a.k.a. ELA; a.k.a. EPANASTATIKOS LAIKOS AGONAS; a.k.a. LIBERATION STRUGGLE; a.k.a. ORGANIZATION OF REVOLUTIONARY INTERNATIONALIST SOLIDARITY; a.k.a. POPULAR REVOLUTIONARY STRUGGLE; a.k.a. REVOLUTIONARY CELLS; a.k.a. REVOLUTIONARY NUCLEI; a.k.a. REVOLUTIONARY PEOPLE'S STRUGGLE; a.k.a. REVOLUTIONARY POPULAR STRUGGLE) [FTO] [SDGT]

JUNTARAPRAPORN, Aping (a.k.a. CHANTARAPRAPAPORN, Apinya; a.k.a. CHANTHRAPRAPHAPHON, Aphinya; a.k.a. CHANTRAPRAPAPORN, Apinya; a.k.a. CHATARAPRAPAPORN, Apinya), c/o BANGKOK ARTI-FLORA DESIGN LIMITED PARTNERSHIP, Bangkok, Thailand; c/o BANGKOK SILK FLOWER COMPANY LTD., Bangkok, Thailand; DOB 14 Jan 1955 (individual) [SDNTK]

JURADO CARDONA, Diego Maria, c/o MACROFARMA S.A., Pereira, Colombia; c/o FARMALIDER S.A., Cali, Colombia; Cedula No. 7526942 (Colombia); Passport 7526942 (Colombia) (individual) [SDNT]

JYG ASESORES LTDA., Carrera 32 No. 25-71, Bogota, Colombia; NIT # 830120367-3 (Colombia) [SDNT]

K. P. TO JEANS WEAR S. DE H., Calle 78 No. 53-70 Local 218, Barranquilla, Colombia; NIT # 800211718-7 (Colombia) [SDNT]

K.A.S. (a.k.a. ASKATASUNA; a.k.a. BASQUE FATHERLAND AND LIBERTY; a.k.a. BATASUNA; a.k.a. EKIN; a.k.a. EPANASTATIKI PIRINES; a.k.a. ETA; a.k.a. EUSKAL HERRITARROK; a.k.a. EUZKADI TA ASKATASUNA; a.k.a. HERRI BATASUNA; a.k.a. JARRAI-HAIKA-SEGI; a.k.a. POPULAR REVOLUTIONARY STRUGGLE; a.k.a. XAKI) [FTO] [SDGT]

KACH (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

KADEK (a.k.a. FREEDOM AND DEMOCRACY CONGRESS OF KURDISTAN; a.k.a. HALU MESRU SAVUNMA KUVVETI (HSK); a.k.a. KONGRA-GEL; a.k.a. KURDISTAN FREEDOM AND DEMOCRACY CONGRESS; a.k.a. KURDISTAN PEOPLE'S CONGRESS (KHK); a.k.a. KURDISTAN WORKERS' PARTY; a.k.a. PARTIYA KARKERAN KURDISTAN; a.k.a. PEOPLE'S CONGRESS OF KURDISTAN; a.k.a. PKK; a.k.a. THE PEOPLE'S DEFENSE FORCE) [FTO] [SDGT]

KADI, Shaykh Yassin Abdullah (a.k.a. AL-QADI, Yasin; a.k.a. KAHDI, Yasin), Jeddah, Saudi Arabia (individual) [SDGT]

KAHANE (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

KAHANE CHAI (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

KAHANE LIVES (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

KAHANE TZADAK (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

KAHANE.ORG (a.k.a. AMERICAN FRIENDS OF THE UNITED YESHIVA; a.k.a. MERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

KAHANETZADAK.COM (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

KAHDI, Yasin (a.k.a. AL-QADI, Yasin; a.k.a. KADI, Shaykh Yassin Abdullah), Jeddah, Saudi Arabia (individual) [SDGT]

KAHIE, Abdullahi Hussein, Bakara Market, Dar Salaam Buildings, Mogadishu, Somalia (individual) [SDGT]

KAIRADIN, Raific Mohamad (a.k.a. YOUSEF, Rafik Mohamad), Kathe Dorsch Ring 21, Berlin 12353, Germany; Mannheim Prison, Germany; DOB 27 Aug 1974; POB Baghdad, Iraq; nationality Iraq; Travel Document Number A0092301 (Germany) (individual) [SDGT]

KALED, Belkasam (a.k.a. MOUSTFA, Djamel; a.k.a. “ALI BARKANI”; a.k.a. “MOUSTAFA”), c/o Birgit Melani Schroeder, Kuehlungsborner Strasse 30, Hamburg 22147, Germany; DOB 28 Sep 1973; alt. DOB 31 Dec 1979; alt. DOB 22 Aug 1973; POB Tiaret, Algeria; alt. POB Morocco; nationality Algeria; arrested 23 Apr 2002; currently in remand at 20355 Hamburg Holstenglacis 3, Germany (individual) [SDGT]

KAMARA, Mamadee (a.k.a. CISSE, M. Moussa); DOB 24 DEC 1946; alt. DOB 26 JUN 1944; Passport D-001548-99 (Liberia); alt. Passport 0058070 (Liberia); Former Chief of Presidential Protocol of Liberia; Chairman, Mohammed Group of Companies; Diplomatic (individual) [LIBERIA]

KAMEL, Mohamed (a.k.a. EL HEIT, Ali; a.k.a. “ALI DI ROMA”), Via D. Fringuello, 20, Rome, Italy; Milan, Italy; DOB 20 Mar 1970; alt. DOB 30 Jan 1971; POB Rouba, Algeria (individual) [SDGT]

KAMEL, Mustafa (a.k.a. AL-MASRI, Abu Hamza; a.k.a. AL-MISRI, Abu Hamza; a.k.a. EMAN, Adam Ramsey; a.k.a. MUSTAFA, Mustafa Kamel), 9 Albourne Road, Shepherds Bush, London W12 OLW, United Kingdom; 8 Adie Road, Hammersmith, London W6 OPW, United Kingdom; DOB 15 Apr 1958 (individual) [SDGT]

KAMMOUN, Mehdi (a.k.a. KAMMOUN, Mehdi Ben Mohamed Ben Mohamed), Via Masina n.7, Milan, Italy; DOB 3 Apr 1968; POB Tunis, Tunisia; nationality Tunisia; Passport M307707 issued 12 Apr 2000 expires 11 Apr 2005; Italian Fiscal Code: KMMMHD68D03Z352N (individual) [SDGT]

KAMMOUN, Mehdi Ben Mohamed Ben Mohamed (a.k.a. KAMMOUN, Mehdi), Via Masina n.7, Milan, Italy; DOB 3 Apr 1968; POB Tunis, Tunisia; nationality Tunisia; Passport M307707 issued 12 Apr 2000 expires 11 Apr 2005; Italian Fiscal Code: KMMMHD68D03Z352N (individual) [SDGT]

KANAAN, Ghazi, Damascus, Syria; DOB circa 1943; POB Near Qerdaha, Syria; nationality Syria; Minister of Interior, Syria (individual) [SYRIA]

KANGAI, Kumbirai; DOB 17 Feb 1938; Politburo Deputy Secretary for External Relations (individual) [ZIMBABWE]

KARADZIC, Aleksandar 'Sasa'; DOB 14 May 1973; POB Sarajevo, Bosnia-Herzegovina (individual) [BALKANS]

KARADZIC, Luka; DOB 31 Apr 1951; POB Savnik, Serbia and Montenegro (individual) [BALKANS]

KARADZIC, Radovan; DOB 19 Jun 1945; POB Petnica, Serbia and Montenegro; ICTY indictee at large; former president of the Republika Srpska (individual) [BALKANS]

KARADZIC-JOVICEVIC, Sonja; DOB 22 May 1967; POB Sarajevo, Bosnia-Herzegovina (individual) [BALKANS]

KARAGHULLY, Labeed A., Iraq; General Manager of REAL ESTATE BANK (individual) [IRAQ2]

KARAM, Nabil Victor, c/o ALFA COMPANY LIMITED FOR INTERNATIONAL TRADING AND MARKETING, P.O. Box 212953, Amman 11121, Jordan; c/o ALFA COMPANY LIMITED FOR INTERNATIONAL TRADING AND MARKETING, P.O. Box 910606, Amman 11191, Jordan; c/o TRADING AND TRANSPORT SERVICES, Al-Razi Medical Complex, Jabal Al-Hussein, Amman, Jordan; c/o TRADING AND TRANSPORT SERVICES, P.O. Box 212953, Amman 11121, Jordan; c/o TRADING AND TRANSPORT SERVICES, P.O. Box 910606, Amman 11191, Jordan; DOB 1954; nationality Lebanon (individual) [IRAQ2]

KAREEM, Djibril Abdul (a.k.a. BADRI, Gabril Abdul Kareem; a.k.a. BAREY, Djibril Abdul Kareem; a.k.a. BARI, Gabril Abdul Karim), Darfur, Sudan; DOB circa 1961; Colonel for the National Movement for Reform and Development (NMRD) (individual) [SUDAN]

KAREN OVERSEAS FLORIDA, INC., 780 NW Le Jeune Road, Suite 516, Miami, FL 33126; 780 NW 42nd Avenue, Suite 516, Miami, FL 33126; 9100 South Dadeland Boulevard, Suite 912, Miami, FL 33156; U.S. FEIN 592827636 (United States) [SDNT]

KAREN OVERSEAS, INC., Panama City, Panama; C.R. No. 194799/0011 (Panama); RUC # 2172211194799 (Panama) [SDNT]

KARIM, Jamil Abdul (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. NAZIM, Abou; a.k.a. NEZAM, Abu; a.k.a. NIZAM, Abou); DOB Sep 38 (individual) [SDNTK]

KARIMA DATE FACTORY, Karima, Sudan [SUDAN]

KARIMA FRUIT AND VEGETABLE CANNING FACTORY, P.O. Box 54, Karima, Sudan [SUDAN]

KARIMANZIRA, David; DOB 25 May 1947; Harare Provincial Governor & Politburo Secretary for Finance (individual) [ZIMBABWE]

KASKAR, Dawood Ibrahim (a.k.a. ANIS, Ibrahim Shaikh Mohd; a.k.a. AZIZ, Abdul Hamid Abdul; a.k.a. DILIP, Aziz; a.k.a. EBRAHIM, Dawood; a.k.a. HASAN, Shaikh Daud; a.k.a. HASSAN, Dawood; a.k.a. IBRAHIM, Anis; a.k.a. IBRAHIM, Dawood; a.k.a. IBRAHIM, Dawood Sheik; a.k.a. REHMAN, Shaikh Ismail Abdul; a.k.a. SABRI, Dawood; a.k.a. SAHEB, Amir; a.k.a. SETH, Iqbal), 617 CP Berar Society, Block 7-8, Karachi, Pakistan; House No. 37, Street 30, Phase V, Defence Housing Authority, Karachi, Pakistan; White House, Al-Wassal Road, Jumeira, Dubai, United Arab Emirates; 33-36, Pakmodiya Street, Haji Musafirkhana, Dongri, Bombay, India; House No. 10, Hill Top Arcade, Defence Housing Authority, Karachi, Pakistan; Moin Palace, 2nd Floor, Opp. Abdullah Shah Gazi Dargah, Clifton, Karachi, Pakistan; DOB 26 Dec 1955; alt. DOB 31 Dec 1955; POB Ratnagiri, Maharashtra, India; citizen India alt. United Arab Emirates; alt. Pakistan; nationality India; Passport A-717288 (United Arab Emirates) issued 18 Aug 1985; alt. Passport F-823692 (Yemen) issued 02 Sep 1989; alt. Passport G-869537 (Pakistan); alt. Passport G-866537 (Pakistan) issued 12 Aug 1991; alt. Passport V-57865 (India) issued 03 Oct 1983; alt. Passport K-560098 (India) issued 30 Jul 1975; alt. Passport P-537849 (India) issued 30 Jul 1979; alt. Passport A-501801 (India) issued 26 Jul 1985; alt. Passport A-333602 (India) issued 04 Jun 1985; alt. Passport R-841697 (India) issued 26 Nov 1981; alt. Passport M-110522 (India) issued 13 Nov 1978 (individual) [SDGT] [SDNTK]

KASMURI, Abdul Manaf (a.k.a. KASMURI, Lt. Col. (Rtd). Abd Manaf); DOB 29 May 1955; POB Malaysia; nationality Malaysia (individual) [SDGT]

KASMURI, Lt. Col. (Rtd). Abd Manaf (a.k.a. KASMURI, Abdul Manaf); DOB 29 May 1955; POB Malaysia; nationality Malaysia (individual) [SDGT]

KASPAR SHIPPING CO. S.A., c/o EMPRESA DE NAVEGACION CARIBE, Edificio Lonja del Comercio, Lamparilla 2, Caja Postal 1784, Havana 1, Cuba [CUBA]

KASSALA FRUIT PROCESSING COMPANY, Khartoum, Sudan [SUDAN]

KASSALA ONION DEHYDRATION FACTORY, P.O. Box 22, Kassala, Sudan [SUDAN]

KASUKUWERE, Savior, 78 Enterprise Road, Chisipite, Harare, Zimbabwe; DOB 23 Oct 1970; Deputy Minister for Youth Development and Employment Creation & Deputy Secretary for Youth Affairs (individual) [ZIMBABWE]

KATIBAT EL AHOUAL (a.k.a. DHAMAT HOUMET DAAWA SALAFIA; a.k.a. DJAMAAT HOUMAT ED DAAWA ES SALAFIYA; a.k.a. DJAMAAT HOUMAT ED DAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

KATIBAT EL AHOUEL (a.k.a. DHAMAT HOUMET DAAWA SALAFIA; a.k.a. DJAMAAT HOUMAT ED DAAWA ES SALAFIYA; a.k.a. DJAMAAT HOUMAT ED DAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. PROTECTORS OF THE SALAFIST CALL; a.k.a. PROTECTORS OF THE SALAFIST PREDICATION; a.k.a. SALAFIST CALL PROTECTORS; a.k.a. THE HORROR SQUADRON), Algeria [SDGT]

KATTUS II CORPORATION, Panama City, Panama; C.R. No. 390286/172468 (Panama); RUC # 1724681390286 (Panama) [SDNT]

KAUKONDE, Ray Joseph, Private Bag 7706, Causeway, Harare, Zimbabwe; DOB 4 Mar 1963; Mashonaland East Provincial Governor (individual) [ZIMBABWE]

KAVE, S.A., Panama [CUBA]

KAZIM, Rashid Taan; nationality Iraq; Ba'th party regional command chairman, al-Anbar (individual) [IRAQ2]

KEENCLOUD LIMITED, 11 Catherine Place, Westminister, London, United Kingdom [IRAQ2]

KENAF SOCKS FACTORY, Abu Naama, Sudan [SUDAN]

KERLER, Vladimir Abramovich (a.k.a. BLAVSTEIN; a.k.a. BLUVSHTEIN; a.k.a. BLYAFSHTEIN; a.k.a. BLYUFSHTEIN; a.k.a. BLYUVSHTEIN; a.k.a. BRESLAN, Wolf; a.k.a. BRESLAN, Wulf; a.k.a. MININ, Leonid; a.k.a. OSOLS, Igor; a.k.a. POPELA, Vladimir Abramovich; a.k.a. POPELAVESKI, Vladimir Abramovich; a.k.a. POPELO, Vladimir Abramovich; a.k.a. POPELOVESKI, Vladimir Abramovich; a.k.a. POPILOVESKI, Vladimir Abramovich); DOB 14 DEC 1947; alt. DOB 18 OCT 1946; nationality Ukraine; Passport 5280007248D (Germany); alt. Passport 18106739D (Germany); alt. Passport 6019832 (Israel) issued 6 NOV 1994 expires 5 NOV 1999; alt. Passport 9001689 (Israel) issued 23 JAN 1997 expires 22 JAN 2002; alt. Passport 90109052 (Israel) issued 26 NOV 1997; alt. Passport KI0861177 (Russia); alt. Passport 65118 (Bolivia); Owner, Exotic Tropical Timber Enterprise (individual) [LIBERIA]

KESMAN OVERSEAS, 3rd Floor, Geneva Place, Waterfront Drive, Road Town, Tortola, Virgin Islands, British [SDNT]

KFAR TAPUAH FUND (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

KHABAR, Abu (a.k.a. AHMAD, Abu Bakr; a.k.a. “AHMED THE TANZANIAN”; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. “FOOPIE”; a.k.a. “FUPI”; a.k.a. GHAILANI, Abubakary Khalfan Ahmed; a.k.a. GHAILANI, Ahmed; a.k.a. GHAILANI, Ahmed Khalfan; a.k.a. GHILANI, Ahmad Khalafan; a.k.a. HUSSEIN, Mahafudh Abubakar Ahmed Abdallah; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

KHALAILAH, Ahmed Fadeel (a.k.a. 'ABD AL-KARIM; a.k.a. ABU AL-MU'TAZ; a.k.a. AL-HABIB; a.k.a. AL-KHALAYLAH, Ahmad Fadil Nazzal; a.k.a. AL-MUHAJIR; a.k.a. AL-ZARQAWI, Abu Mus'Ab; a.k.a. GHARIB; a.k.a. KHALAYLEH, Fedel Nazzel; a.k.a. “MOUHANAD”; a.k.a. “MOUHANNAD”; a.k.a. “MUHANNAD”; a.k.a. “RASHID”); DOB 20 Oct 1966; POB Zarqa, Jordan; citizen Jordan; National ID No. 9661031030 (Jordan); Passport Z264968 (Jordan) (individual) [SDGT]

KHALAYLEH, Fedel Nazzel (a.k.a. 'ABD AL-KARIM; a.k.a. ABU AL-MU'TAZ; a.k.a. AL-HABIB; a.k.a. AL-KHALAYLAH, Ahmad Fadil Nazzal; a.k.a. AL-MUHAJIR; a.k.a. AL-ZARQAWI, Abu Mus'Ab; a.k.a. GHARIB; a.k.a. KHALAILAH, Ahmed Fadeel; a.k.a. “MOUHANAD”; a.k.a. “MOUHANNAD”; a.k.a. “MUHANNAD”; a.k.a. “RASHID”); DOB 20 Oct 1966; POB Zarqa, Jordan; citizen Jordan; National ID No. 9661031030 (Jordan); Passport Z264968 (Jordan) (individual) [SDGT]

KHALED, Abdulbaqi Mohammed (a.k.a. KHALED, Abul Baki; a.k.a. KHALED, Abul Baki Mohammed; a.k.a. MOHAMMED, Abd' al-Baki; a.k.a. “ABU KHAWLA”), Birmingham, United Kingdom; DOB 18 Aug 1957; POB Tripoli, Libya; citizen United Kingdom (individual) [SDGT]

KHALED, Abul Baki (a.k.a. KHALED, Abdulbaqi Mohammed; a.k.a. KHALED, Abul Baki Mohammed; a.k.a. MOHAMMED, Abd' al-Baki; a.k.a. “ABU KHAWLA”), Birmingham, United Kingdom; DOB 18 Aug 1957; POB Tripoli, Libya; citizen United Kingdom (individual) [SDGT]

KHALED, Abul Baki Mohammed (a.k.a. KHALED, Abdulbaqi Mohammed; a.k.a. KHALED, Abul Baki; a.k.a. MOHAMMED, Abd' al-Baki; a.k.a. “ABU KHAWLA”), Birmingham, United Kingdom; DOB 18 Aug 1957; POB Tripoli, Libya; citizen United Kingdom (individual) [SDGT]

KHALFAN, Ahmed (a.k.a. AHMAD, Abu Bakr; a.k.a. “AHMED THE TANZANIAN”; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. “FOOPIE”; a.k.a. “FUPI”; a.k.a. GHAILANI, Abubakary Khalfan Ahmed; a.k.a. GHAILANI, Ahmed; a.k.a. GHAILANI, Ahmed Khalfan; a.k.a. GHILANI, Ahmad Khalafan; a.k.a. HUSSEIN, Mahafudh Abubakar Ahmed Abdallah; a.k.a. KHABAR, Abu; a.k.a. MOHAMMED, Shariff Omar); DOB 14 Mar 1974; alt. DOB 13 Apr 1974; alt. DOB 14 Apr 1974; alt. DOB 1 Aug 1970; POB Zanzibar, Tanzania; citizen Tanzania (individual) [SDGT]

KHALID (a.k.a. AL MASRI, Abd Al Wakil; a.k.a. ALI, Hassan; a.k.a. AL-NUBI, Abu; a.k.a. ANIS, Abu; a.k.a. ELBISHY, Moustafa Ali; a.k.a. FADHIL, Mustafa Mohamed; a.k.a. FADIL, Mustafa Muhamad; a.k.a. FAZUL, Mustafa; a.k.a. HUSSEIN; a.k.a. JIHAD, Abu; a.k.a. MAN, Nu; a.k.a. MOHAMMED, Mustafa; a.k.a. YUSSRR, Abu); DOB 23 Jun 1976; POB Cairo, Egypt; citizen Egypt alt. Kenya; Kenyan ID No. 12773667; Serial No. 201735161 (individual) [SDGT]

KHALID, Abu (a.k.a. HAWATMA, Nayif; a.k.a. HAWATMAH, Nayif; a.k.a. HAWATMEH, Nayif); DOB 1933; Secretary General of DEMOCRATIC FRONT FOR THE LIBERATION OF PALESTINE—HAWATMEH FACTION (individual) [SDT]

KHALIL, Ahmad Murtadha Ahmad (a.k.a. KHALIL, Dr. Ahmad Murtada Ahmad), Iraq; Former Minister of Transport and Communications (individual) [IRAQ2]

KHALIL, Dr. Ahmad Murtada Ahmad (a.k.a. KHALIL, Ahmad Murtadha Ahmad), Iraq; Former Minister of Transport and Communications (individual) [IRAQ2]

KHALIL, Ibrahim Mohamed (a.k.a. AL ZAFIRI, Khalil Ibrahim; a.k.a. JASSEM, Khalil Ibrahim; a.k.a. MOHAMMAD, Khalil Ibrahim), Pankratiusstrause 44, Mainz 55118, Germany; Frankenthal Prison, Germany; DOB 2 Jul 1975; alt. DOB 2 May 1972; alt. DOB 3 Jul 1975; alt. DOB 1972; POB Mosul, Iraq; alt. POB Baghdad, Iraq; nationality Iraq; Travel Document Number A0003900 (Germany) (individual) [SDGT]

KHAN AFRIDI, Haji Ibrahim (a.k.a. IBRAHIM, Haji; a.k.a. IBRAHIM, Haji Ehai; a.k.a. KHAN, Haji Ibrahim); DOB 28 September 1957; POB Pakistan (individual) [SDNTK]

KHAN, Abdullah (a.k.a. AFGHAN, Shear; a.k.a. AFGHAN, Sher; a.k.a. AFGHAN, Shir; a.k.a. AZIZ, Mohammad); DOB 1962; alt. DOB 1959; POB Pakistan (individual) [SDNTK]

KHAN, Ali (a.k.a. KHAN, Nafir Ali; a.k.a. KHAN, Nasir Ali; a.k.a. KHAN, Nazir Ali; a.k.a. KHAN, Nisan Ali; a.k.a. KHAN, Nisar Ali; a.k.a. NASIR, Ali Khan; a.k.a. NASIR, Khan Ali); DOB 1 Oct 55; POB Pakistan (individual) [SDNTK]

KHAN, Haji Ibrahim (a.k.a. IBRAHIM, Haji; a.k.a. IBRAHIM, Haji Ehai; a.k.a. KHAN AFRIDI, Haji Ibrahim); DOB 28 September 1957; POB Pakistan (individual) [SDNTK]

KHAN, Nafir Ali (a.k.a. KHAN, Ali; a.k.a. KHAN, Nasir Ali; a.k.a. KHAN, Nazir Ali; a.k.a. KHAN, Nisan Ali; a.k.a. KHAN, Nisar Ali; a.k.a. NASIR, Ali Khan; a.k.a. NASIR, Khan Ali); DOB 1 Oct 55; POB Pakistan (individual) [SDNTK]

KHAN, Nasir Ali (a.k.a. KHAN, Ali; a.k.a. KHAN, Nafir Ali; a.k.a. KHAN, Nazir Ali; a.k.a. KHAN, Nisan Ali; a.k.a. KHAN, Nisar Ali; a.k.a. NASIR, Ali Khan; a.k.a. NASIR, Khan Ali); DOB 1 Oct 55; POB Pakistan (individual) [SDNTK]

KHAN, Nazir Ali (a.k.a. KHAN, Ali; a.k.a. KHAN, Nafir Ali; a.k.a. KHAN, Nasir Ali; a.k.a. KHAN, Nisan Ali; a.k.a. KHAN, Nisar Ali; a.k.a. NASIR, Ali Khan; a.k.a. NASIR, Khan Ali); DOB 1 Oct 55; POB Pakistan (individual) [SDNTK]

KHAN, Nisan Ali (a.k.a. KHAN, Ali; a.k.a. KHAN, Nafir Ali; a.k.a. KHAN, Nasir Ali; a.k.a. KHAN, Nazir Ali; a.k.a. KHAN, Nisar Ali; a.k.a. NASIR, Ali Khan; a.k.a. NASIR, Khan Ali); DOB 1 Oct 55; POB Pakistan (individual) [SDNTK]

KHAN, Nisar Ali (a.k.a. KHAN, Ali; a.k.a. KHAN, Nafir Ali; a.k.a. KHAN, Nasir Ali; a.k.a. KHAN, Nazir Ali; a.k.a. KHAN, Nisan Ali; a.k.a. NASIR, Ali Khan; a.k.a. NASIR, Khan Ali); DOB 1 Oct 55; POB Pakistan (individual) [SDNTK]

KHARTOUM CENTRAL FOUNDRY, Khartoum, Sudan [SUDAN]

KHARTOUM COMMERCIAL AND SHIPPING COMPANY LIMITED, Kasr Avenue, P.O. Box 221, Khartoum, Sudan [SUDAN]

KHARTOUM TANNERY, P.O. Box 134, Khartoum South, Sudan [SUDAN]

KHEKMATIYAR, Gulbuddin (a.k.a. HEKHMARTYAR, Gulbuddin; a.k.a. HEKMATIAR, Gulbuddin; a.k.a. HEKMATYAR, Gulabudin; a.k.a. HEKMATYAR, Gulbuddin; a.k.a. HEKMETYAR, Gulbudin; a.k.a. HIKMETYAR, Golboddin), Iran; DOB 1 Aug 1949; POB Konduz Province, Afghanistan (individual) [SDGT]

KHOR OMER ENGINEERING COMPANY, P.O. Box 305, Khartoum, Sudan [SUDAN]

KHUDAMUL ISLAM (a.k.a. ARMY OF MOHAMMED; a.k.a. JAISH-E-MOHAMMED; a.k.a. JAISH-I-MOHAMMED; a.k.a. KHUDDAM-UL-ISLAM; a.k.a. KUDDAM E ISLAMI; a.k.a. MOHAMMED'S ARMY; a.k.a. TEHRIK UL-FURQAAN), Pakistan [FTO] [SDGT]

KHUDDAM-UL-ISLAM (a.k.a. ARMY OF MOHAMMED; a.k.a. JAISH-E-MOHAMMED; a.k.a. JAISH-I-MOHAMMED; a.k.a. KHUDAMUL ISLAM; a.k.a. KUDDAM E ISLAMI; a.k.a. MOHAMMED'S ARMY; a.k.a. TEHRIK UL-FURQAAN), Pakistan [FTO] [SDGT]

KHUN SA (a.k.a. CHAN, Changtrakul; a.k.a. CHANG, Chi Fu; a.k.a. CHANG, Shi-Fu; a.k.a. CHANG, Xifu; a.k.a. CHANGTRAKUL, Chan); DOB 17 FEB 33; alt. DOB 7 JAN 32; alt. DOB 12 FEB 32; POB Burma (individual) [SDNTK]

KHUN, Saeng (a.k.a. CHANG, Ping Yun); DOB 7 Jan 40; POB Burma (individual) [SDNTK]

KIFANE, Abderrahmane, Via S. Biagio, 32, Sant'Anastasia, Naples, Italy; Via S. Biagio, 35, Sant'Anastasia, Naples, Italy; DOB 7 Mar 1963; POB Casablanca, Morocco (individual) [SDGT]

KIIA TAI, Joseph Wong; Executive, Oriental Timber Company (individual) [LIBERIA]

KINDHEARTS FOR CHARITABLE HUMANITARIAN DEVELOPMENT, INC., P.O. Box 1248, Gaza, Palestinian; P.O. Box 23310, Toledo, OH 43623; 3450 West Central Avenue, #366, Toledo, OH 43606; Ramallah, West Bank, Palestinian; Jenin, West Bank, Palestinian; Mar Elyas Street, Hiba Center, 1st Floor, Beirut, Lebanon; Pakistan [BPI-PA]

KIPLI, Sali (a.k.a. JULKIPLI SALIM Y SALAMUDDIN; a.k.a. JULKIPLI, Salim); DOB 20 Jun 1976; POB Tulay, Jolo Sulu, Philippines (individual) [SDGT]

KISHK, Samir; DOB 14 May 1955; POB Gharbia, Egypt (individual) [SDGT]

KKCMTSH (a.k.a. NATIONAL COMMITTEE FOR THE LIBERATION AND PROTECTION OF ALBANIAN LANDS) [BALKANS]

KLEILAT, Ali; DOB 10 JUL 1970; POB Beirut, Lebanon; nationality Lebanon; Businessman (individual) [LIBERIA]

KNEZEVIC, Dusan; DOB 23 Jun 1955; POB Orlovci, Bosnia-Herzegovina; ICTY indictee in custody (individual) [BALKANS]

KNOWLES, JR., Samuel (a.k.a. KNOWLES, Samuel); DOB 28 May 1959; POB Bahamas (individual) [SDNTK]

KNOWLES, Samuel (a.k.a. KNOWLES, JR., Samuel); DOB 28 May 1959; POB Bahamas (individual) [SDNTK]

KOACH (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

KOHAS AG, Route des Arsenaux 15, Fribourg, FR 1700, Switzerland; C.R. No. CH-217.0.135.719-4 (Switzerland) [NPWMD]

KOJIC, Radomir (a.k.a. “MINEUR”); DOB 23 Nov 1950; POB Bijela Voda, Sokolac Canton, Bosnia-Herzegovina; Passport 3943074 (Bosnia and Herzegovina) issued 27 Sep 2002 in Sarajevo; Bosnia-Herzegovina (individual) [BALKANS]

KOL INVESTMENTS, INC., Miami, FL [CUBA]

KOMOTKO, 12 Pop Lukina, Belgrade, Serbia and Montenegro; Registration ID 17307746 (Serbia and Montenegro); Tax ID No. 100036378 (Serbia and Montenegro) [BALKANS]

KONGRA-GEL (a.k.a. FREEDOM AND DEMOCRACY CONGRESS OF KURDISTAN; a.k.a. HALU MESRU SAVUNMA KUVVETI (HSK); a.k.a. KADEK; a.k.a. KURDISTAN FREEDOM AND DEMOCRACY CONGRESS; a.k.a. KURDISTAN PEOPLE'S CONGRESS (KHK); a.k.a. KURDISTAN WORKERS' PARTY; a.k.a. PARTIYA KARKERAN KURDISTAN; a.k.a. PEOPLE'S CONGRESS OF KURDISTAN; a.k.a. PKK; a.k.a. THE PEOPLE'S DEFENSE FORCE) [FTO] [SDGT]

KONTROLES (a.k.a. KONTROLES ELECTRONICOS DE BAJA CALIFORNIA, S.A. DE C.V.), Ave. Azueta 11750, Col. Libertad, Tijuana, Baja California CP 22400, Mexico; R.F.C. KEB-020222-380 (Mexico) [SDNTK]

KONTROLES ELECTRONICOS DE BAJA CALIFORNIA, S.A. DE C.V. (a.k.a. KONTROLES), Ave. Azueta 11750, Col. Libertad, Tijuana, Baja California CP 22400, Mexico; R.F.C. KEB-020222-380 (Mexico) [SDNTK]

KORDIC, Dario; DOB 14 Dec 1960; POB Sarajevo, Bosnia-Herzegovina; ICTY indictee (individual) [BALKANS]

KORDOFAN AUTOMOBILE COMPANY (a.k.a. COPTRADE ENG AND AUTOMOBILE SERVICES CO LTD.), P.O. Box 97, Khartoum, Sudan [SUDAN]

KORDOFAN COMPANY, Khartoum, Sudan [SUDAN]

KOREA CHANGGWANG CREDIT BANK (f.k.a. CHANGGWANG CREDIT BANK; a.k.a. TANCHON COMMERCIAL BANK), Saemul 1-Dong Pyongchon District, Pyongyang, Korea, North [NPWMD]

KOREA COMPLEX EQUIPMENT IMPORT CORPORATION, Rakwon-dong, Pothonggang District, Pyongyang, Korea, North [NPWMD]

KOREA INTERNATIONAL CHEMICAL JOINT VENTURE COMPANY (a.k.a. CHOSON INTERNATIONAL CHEMICALS JOINT OPERATION COMPANY; a.k.a. CHOSUN INTERNATIONAL CHEMICALS JOINT OPERATION COMPANY; a.k.a. INTERNATIONAL CHEMICAL JOINT VENTURE CORPORATION), Hamhung, South Hamgyong Province, Korea, North; Man gyongdae-kuyok, Pyongyang, Korea, North; Mangyungdae-gu, Pyongyang, Korea, North [NPWMD]

KOREA KWANGSONG TRADING CORPORATION, Rakwon-dong, Pothonggang District, Pyongyang, Korea, North [NPWMD]

KOREA MINING DEVELOPMENT TRADING CORPORATION (a.k.a. CHANGGWANG SINYONG CORPORATION; a.k.a. EXTERNAL TECHNOLOGY GENERAL CORPORATION; a.k.a. NORTH KOREAN MINING DEVELOPMENT TRADING CORPORATION; a.k.a. “KOMID”), Central District, Pyongyang, Korea, North [NPWMD]

KOREA PUGANG TRADING CORPORATION, Rakwon-dong, Pothonggang District, Pyongyang, Korea, North [NPWMD]

KOREA RYENGWANG TRADING CORPORATION (a.k.a. KOREA RYONGWANG TRADING CORPORATION), Rakwon-dong, Pothonggang District, Pyongyang, Korea, North [NPWMD]

KOREA RYENHA MACHINERY J/V CORPORATION (a.k.a. CHOSUN YUNHA MACHINERY JOINT OPERATION COMPANY; a.k.a. KOREA RYONHA MACHINERY JOINT VENTURE CORPORATION; a.k.a. RYONHA MACHINERY JOINT VENTURE CORPORATION), Central District, Pyongyang, Korea, North; Mangungdae-gu, Pyongyang, Korea, North; Mangyongdae District, Pyongyang, Korea, North [NPWMD]

KOREA RYONBONG GENERAL CORPORATION (a.k.a. KOREA YONBONG GENERAL CORPORATION; f.k.a. LYONGAKSAN GENERAL TRADING CORPORATION), Pot'onggang District, Pyongyang, Korea, North; Rakwon-dong, Pothonggang District, Pyongyang, Korea, North [NPWMD]

KOREA RYONGWANG TRADING CORPORATION (a.k.a. KOREA RYENGWANG TRADING CORPORATION), Rakwon-dong, Pothonggang District, Pyongyang, Korea, North [NPWMD]

KOREA RYONHA MACHINERY JOINT VENTURE CORPORATION (a.k.a. CHOSUN YUNHA MACHINERY JOINT OPERATION COMPANY; a.k.a. KOREA RYENHA MACHINERY J/V CORPORATION; a.k.a. RYONHA MACHINERY JOINT VENTURE CORPORATION), Central District, Pyongyang, Korea, North; Mangungdae-gu, Pyongyang, Korea, North; Mangyongdae District, Pyongyang, Korea, North [NPWMD]

KOREA YONBONG GENERAL CORPORATION (a.k.a. KOREA RYONBONG GENERAL CORPORATION; f.k.a. LYONGAKSAN GENERAL TRADING CORPORATION), Pot'onggang District, Pyongyang, Korea, North; Rakwon-dong, Pothonggang District, Pyongyang, Korea, North [NPWMD]

KOS, Milojica; DOB 1 April 1963; POB Lamovita, Bosnia-Herzegovina; ICTY indictee (individual) [BALKANS]

KOUENHAVEN, Gus (a.k.a. KOUENHOVEN, Gus; a.k.a. KOUVENHOVEN, Gus; a.k.a. KOUWENHOVEN, Gus), Villa # 1, Hotel Africa Virginia, Monrovia, Liberia; P.O. Box 1522, Monrovia, Liberia; DOB 15 SEP 1942; nationality Netherlands; President, Oriental Timber Company; Owner, Hotel Africa (individual) [LIBERIA]

KOUENHOVEN, Gus (a.k.a. KOUENHAVEN, Gus; a.k.a. KOUVENHOVEN, Gus; a.k.a. KOUWENHOVEN, Gus), Villa # 1, Hotel Africa Virginia, Monrovia, Liberia; P.O. Box 1522, Monrovia, Liberia; DOB 15 SEP 1942; nationality Netherlands; President, Oriental Timber Company; Owner, Hotel Africa (individual) [LIBERIA]

KOUVENHOVEN, Gus (a.k.a. KOUENHAVEN, Gus; a.k.a. KOUENHOVEN, Gus; a.k.a. KOUWENHOVEN, Gus), Villa # 1, Hotel Africa Virginia, Monrovia, Liberia; P.O. Box 1522, Monrovia, Liberia; DOB 15 SEP 1942; nationality Netherlands; President, Oriental Timber Company; Owner, Hotel Africa (individual) [LIBERIA]

KOUWENHOVEN, Gus (a.k.a. KOUENHAVEN, Gus; a.k.a. KOUENHOVEN, Gus; a.k.a. KOUVENHOVEN, Gus), Villa # 1, Hotel Africa Virginia, Monrovia, Liberia; P.O. Box 1522, Monrovia, Liberia; DOB 15 SEP 1942; nationality Netherlands; President, Oriental Timber Company; Owner, Hotel Africa (individual) [LIBERIA]

KOVAC, Tomislav (a.k.a. “TOMO”); DOB 4 Dec 1959; POB Sarajevo, Bosnia-Herzegovina; Passport 412959171315 (Bosnia and Herzegovina) (individual) [BALKANS]

KOVACEVIC, Vladimir; DOB 15 Jan 1961; ICTY indictee (individual) [BALKANS]

KRADOOMPORN, Chanikan (a.k.a. KRADOOMPORN, Varee; a.k.a. KRADOOMPORN, Wari; a.k.a. KRADUMPHON, Chanikan; a.k.a. KRADUMPHON, ari; a.k.a. KRADUMPORN, Chanikan; a.k.a. KRADUMPORN, Varee; a.k.a. KRADUMPORN, Waree; a.k.a. KRAPUMPORN, Varee; a.k.a. KRATUMPORN, Varee), c/o HATKAEW COMPANY LTD., Bangkok, Thailand; c/o KRADUMPORN IMPORT EXPORT COMPANY LTD., Chiang Rai, Thailand; c/o MAESAI K.D.P. COMPANY LTD., Chiang Rai, Thailand; c/o NICE FANTASY GARMENT COMPANY LTD., Bangkok, Thailand; c/o PLUS TECH AUTO SUPPLY COMPANY LTD., Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 18 Mar 1960; National ID No. 3570900151480 (Thailand) (individual) [SDNTK]

KRADOOMPORN, Chinwong (a.k.a. KRADUMPHON, Sombun; a.k.a. KRADUMPORN, Chinawong; a.k.a. KRADUMPORN, Chinwong; a.k.a. KRADUMPORN, Somboon; a.k.a. KRAPOOMPORN, Somboon; a.k.a. KRAPUMPORN, Somboon; a.k.a. KRATUMPORN, Somboon), c/o HATKAEW COMPANY LTD., Bangkok, Thailand; c/o KRADUMPORN IMPORT EXPORT COMPANY LTD., Chiang Rai, Thailand; c/o MAESAI K.D.P. COMPANY LTD., Chiang Rai, Thailand; c/o PROGRESS SURAWEE COMPANY LTD., Bangkok, Thailand; c/o RUNGRIN COMPANY LTD., Bangkok, Thailand; c/o SCORE COMMERCIAL COMPANY LTD., Bangkok, Thailand; c/o SIAM NICE COMPANY LTD., Bangkok, Thailand; c/o V.R. FRUIT COMPANY, Chiang Mai, Thailand; DOB 6 May 1959; National ID No. 3570900151471 (Thailand) (individual) [SDNTK]

KRADOOMPORN, Varee (a.k.a. KRADOOMPORN, Chanikan; a.k.a. KRADOOMPORN, Wari; a.k.a. KRADUMPHON, Chanikan; a.k.a. KRADUMPHON, Wari; a.k.a. KRADUMPORN, Chanikan; a.k.a. KRADUMPORN, Varee; a.k.a. KRADUMPORN, Waree; a.k.a. KRAPUMPORN, Varee; a.k.a. KRATUMPORN, Varee), c/o HATKAEW COMPANY LTD., Bangkok, Thailand; c/o KRADUMPORN IMPORT EXPORT COMPANY LTD., Chiang Rai, Thailand; c/o MAESAI K.D.P. COMPANY LTD., Chiang Rai, Thailand; c/o NICE FANTASY GARMENT COMPANY LTD., Bangkok, Thailand; c/o PLUS TECH AUTO SUPPLY COMPANY LTD., Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 18 Mar 1960; National ID No. 3570900151480 (Thailand) (individual) [SDNTK]

KRADOOMPORN, Wari (a.k.a. KRADOOMPORN, Chanikan; a.k.a. KRADOOMPORN, Varee; a.k.a. KRADUMPHON, Chanikan; a.k.a. KRADUMPHON, Wari; a.k.a. KRADUMPORN, Chanikan; a.k.a. KRADUMPORN, Varee; a.k.a. KRADUMPORN, Waree; a.k.a. KRAPUMPORN, Varee; a.k.a. KRATUMPORN, Varee), c/o HATKAEW COMPANY LTD., Bangkok, Thailand; c/o KRADUMPORN IMPORT EXPORT COMPANY LTD., Chiang Rai, Thailand; c/o MAESAI K.D.P. COMPANY LTD., Chiang Rai, Thailand; c/o NICE FANTASY GARMENT COMPANY LTD., Bangkok, Thailand; c/o PLUS TECH AUTO SUPPLY COMPANY LTD., Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 18 Mar 1960; National ID No. 3570900151480 (Thailand) (individual) [SDNTK]

KRADUMPHON, Chanikan (a.k.a. KRADOOMPORN, Chanikan; a.k.a. KRADOOMPORN, Varee; a.k.a. KRADOOMPORN, Wari; a.k.a. KRADUMPHON, Wari; a.k.a. KRADUMPORN, Chanikan; a.k.a. KRADUMPORN, Varee; a.k.a. KRADUMPORN, Waree; a.k.a. KRAPUMPORN, Varee; a.k.a. KRATUMPORN, Varee), c/o HATKAEW COMPANY LTD., Bangkok, Thailand; c/o KRADUMPORN IMPORT EXPORT COMPANY LTD., Chiang Rai, Thailand; c/o MAESAI K.D.P. COMPANY LTD., Chiang Rai, Thailand; c/o NICE FANTASY GARMENT COMPANY LTD., Bangkok, Thailand; c/o PLUS TECH AUTO SUPPLY COMPANY LTD., Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 18 Mar 1960; National ID No. 3570900151480 (Thailand) (individual) [SDNTK]

KRADUMPHON, Sombun (a.k.a. KRADOOMPORN, Chinwong; a.k.a. KRADUMPORN, Chinawong; a.k.a. KRADUMPORN, Chinwong; a.k.a. KRADUMPORN, Somboon; a.k.a. KRAPOOMPORN, Somboon; a.k.a. KRAPUMPORN, Somboon; a.k.a. KRATUMPORN, Somboon), c/o HATKAEW COMPANY LTD., Bangkok, Thailand; c/o KRADUMPORN IMPORT EXPORT COMPANY LTD., Chiang Rai, Thailand; c/o MAESAI K.D.P. COMPANY LTD., Chiang Rai, Thailand; c/o PROGRESS SURAWEE COMPANY LTD., Bangkok, Thailand; c/o RUNGRIN COMPANY LTD., Bangkok, Thailand; c/o SCORE COMMERCIAL COMPANY LTD., Bangkok, Thailand; c/o SIAM NICE COMPANY LTD., Bangkok, Thailand; c/o V.R. FRUIT COMPANY, Chiang Mai, Thailand; DOB 6 May 1959; National ID No. 3570900151471 (Thailand) (individual) [SDNTK]

KRADUMPHON, Wari (a.k.a. KRADOOMPORN, Chanikan; a.k.a. KRADOOMPORN, Varee; a.k.a. KRADOOMPORN, Wari; a.k.a. KRADUMPHON, Chanikan; a.k.a. KRADUMPORN, Chanikan; a.k.a. KRADUMPORN, Varee; a.k.a. KRADUMPORN, Waree; a.k.a. KRAPUMPORN, Varee; a.k.a. KRATUMPORN, Varee), c/o HATKAEW COMPANY LTD., Bangkok, Thailand; c/o KRADUMPORN IMPORT EXPORT COMPANY LTD., Chiang Rai, Thailand; c/o MAESAI K.D.P. COMPANY LTD., Chiang Rai, Thailand; c/o NICE FANTASY GARMENT COMPANY LTD., Bangkok, Thailand; c/o PLUS TECH AUTO SUPPLY COMPANY LTD., Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 18 Mar 1960; National ID No. 3570900151480 (Thailand) (individual) [SDNTK]

KRADUMPORN IMPORT EXPORT COMPANY LTD., 4 Mu 1, Tambon Wiang Phang Kham, Mae Sai district, Chiang Rai, Thailand [SDNTK]

KRADUMPORN, Chanikan (a.k.a. KRADOOMPORN, Chanikan; a.k.a. KRADOOMPORN, Varee; a.k.a. KRADOOMPORN, Wari; a.k.a. KRADUMPHON, Chanikan; a.k.a. KRADUMPHON, Wari; a.k.a. KRADUMPORN, Varee; a.k.a. KRADUMPORN, Waree; a.k.a. KRAPUMPORN, Varee; a.k.a. KRATUMPORN, Varee), c/o HATKAEW COMPANY LTD., Bangkok, Thailand; c/o KRADUMPORN IMPORT EXPORT COMPANY LTD., Chiang Rai, Thailand; c/o MAESAI K.D.P. COMPANY LTD., Chiang Rai, Thailand; c/o NICE FANTASY GARMENT COMPANY LTD., Bangkok, Thailand; c/o PLUS TECH AUTO SUPPLY COMPANY LTD., Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 18 Mar 1960; National ID No. 3570900151480 (Thailand) (individual) [SDNTK]

KRADUMPORN, Chinawong (a.k.a. KRADOOMPORN, Chinwong; a.k.a. KRADUMPHON, Sombun; a.k.a. KRADUMPORN, Chinwong; a.k.a. KRADUMPORN, Somboon; a.k.a. KRAPOOMPORN, Somboon; a.k.a. KRAPUMPORN, Somboon; a.k.a. KRATUMPORN, Somboon), c/o HATKAEW COMPANY LTD., Bangkok, Thailand; c/o KRADUMPORN IMPORT EXPORT COMPANY LTD., Chiang Rai, Thailand; c/o MAESAI K.D.P. COMPANY LTD., Chiang Rai, Thailand; c/o PROGRESS SURAWEE COMPANY LTD., Bangkok, Thailand; c/o RUNGRIN COMPANY LTD., Bangkok, Thailand; c/o SCORE COMMERCIAL COMPANY LTD., Bangkok, Thailand; c/o SIAM NICE COMPANY LTD., Bangkok, Thailand; c/o V.R. FRUIT COMPANY, Chiang Mai, Thailand; DOB 6 May 1959; National ID No. 3570900151471 (Thailand) (individual) [SDNTK]

KRADUMPORN, Chinwong (a.k.a. KRADOOMPORN, Chinwong; a.k.a. KRADUMPHON, Sombun; a.k.a. KRADUMPORN, Chinawong; a.k.a. KRADUMPORN, Somboon; a.k.a. KRAPOOMPORN, Somboon; a.k.a. KRAPUMPORN, Somboon; a.k.a. KRATUMPORN, Somboon), c/o HATKAEW COMPANY LTD., Bangkok, Thailand; c/o KRADUMPORN IMPORT EXPORT COMPANY LTD., Chiang Rai, Thailand; c/o MAESAI K.D.P. COMPANY LTD., Chiang Rai, Thailand; c/o PROGRESS SURAWEE COMPANY LTD., Bangkok, Thailand; c/o RUNGRIN COMPANY LTD., Bangkok, Thailand; c/o SCORE COMMERCIAL COMPANY LTD., Bangkok, Thailand; c/o SIAM NICE COMPANY LTD., Bangkok, Thailand; c/o V.R. FRUIT COMPANY, Chiang Mai, Thailand; DOB 6 May 1959; National ID No. 3570900151471 (Thailand) (individual) [SDNTK]

KRADUMPORN, Somboon (a.k.a. KRADOOMPORN, Chinwong; a.k.a. KRADUMPHON, Sombun; a.k.a. KRADUMPORN, Chinawong; a.k.a. KRADUMPORN, Chinwong; a.k.a. KRAPOOMPORN, Somboon; a.k.a. KRAPUMPORN, Somboon; a.k.a. KRATUMPORN, Somboon), c/o HATKAEW COMPANY LTD., Bangkok, Thailand; c/o KRADUMPORN IMPORT EXPORT COMPANY LTD., Chiang Rai, Thailand; c/o MAESAI K.D.P. COMPANY LTD., Chiang Rai, Thailand; c/o PROGRESS SURAWEE COMPANY LTD., Bangkok, Thailand; c/o RUNGRIN COMPANY LTD., Bangkok, Thailand; c/o SCORE COMMERCIAL COMPANY LTD., Bangkok, Thailand; c/o SIAM NICE COMPANY LTD., Bangkok, Thailand; c/o V.R. FRUIT COMPANY, Chiang Mai, Thailand; DOB 6 May 1959; National ID No. 3570900151471 (Thailand) (individual) [SDNTK]

KRADUMPORN, Varee (a.k.a. KRADOOMPORN, Chanikan; a.k.a. KRADOOMPORN, Varee; a.k.a. KRADOOMPORN, Wari; a.k.a. KRADUMPHON, Chanikan; a.k.a. KRADUMPHON, Wari; a.k.a. KRADUMPORN, Chanikan; a.k.a. KRADUMPORN, Waree; a.k.a. KRAPUMPORN, Varee; a.k.a. KRATUMPORN, Varee), c/o HATKAEW COMPANY LTD., Bangkok, Thailand; c/o KRADUMPORN IMPORT EXPORT COMPANY LTD., Chiang Rai, Thailand; c/o MAESAI K.D.P. COMPANY LTD., Chiang Rai, Thailand; c/o NICE FANTASY GARMENT COMPANY LTD., Bangkok, Thailand; c/o PLUS TECH AUTO SUPPLY COMPANY LTD., Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 18 Mar 1960; National ID No. 3570900151480 (Thailand) (individual) [SDNTK]

KRADUMPORN, Waree (a.k.a. KRADOOMPORN, Chanikan; a.k.a. KRADOOMPORN, Varee; a.k.a. KRADOOMPORN, Wari; a.k.a. KRADUMPHON, Chanikan; a.k.a. KRADUMPHON, Wari; a.k.a. KRADUMPORN, Chanikan; a.k.a. KRADUMPORN, Varee; a.k.a. KRAPUMPORN, Varee; a.k.a. KRATUMPORN, Varee), c/o HATKAEW COMPANY LTD., Bangkok, Thailand; c/o KRADUMPORN IMPORT EXPORT COMPANY LTD., Chiang Rai, Thailand; c/o MAESAI K.D.P. COMPANY LTD., Chiang Rai, Thailand; c/o NICE FANTASY GARMENT COMPANY LTD., Bangkok, Thailand; c/o PLUS TECH AUTO SUPPLY COMPANY LTD., Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 18 Mar 1960; National ID No. 3570900151480 (Thailand) (individual) [SDNTK]

KRAJISNIK, Momcilo; DOB 20 Jan 1945; POB Zabrdje, Bosnia-Herzegovina; ICTY indictee (individual) [BALKANS]

KRAPOOMPORN, Somboon (a.k.a. KRADOOMPORN, Chinwong; a.k.a. KRADUMPHON, Sombun; a.k.a. KRADUMPORN, Chinawong; a.k.a. KRADUMPORN, Chinwong; a.k.a. KRADUMPORN, Somboon; a.k.a. KRAPUMPORN, Somboon; a.k.a. KRATUMPORN, Somboon), c/o HATKAEW COMPANY LTD., Bangkok, Thailand; c/o KRADUMPORN IMPORT EXPORT COMPANY LTD., Chiang Rai, Thailand; c/o MAESAI K.D.P. COMPANY LTD., Chiang Rai, Thailand; c/o PROGRESS SURAWEE COMPANY LTD., Bangkok, Thailand; c/o RUNGRIN COMPANY LTD., Bangkok, Thailand; c/o SCORE COMMERCIAL COMPANY LTD., Bangkok, Thailand; c/o SIAM NICE COMPANY LTD., Bangkok, Thailand; c/o V.R. FRUIT COMPANY, Chiang Mai, Thailand; DOB 6 May 1959; National ID No. 3570900151471 (Thailand) (individual) [SDNTK]

KRAPUMPORN, Somboon (a.k.a. KRADOOMPORN, Chinwong; a.k.a. KRADUMPHON, Sombun; a.k.a. KRADUMPORN, Chinawong; a.k.a. KRADUMPORN, Chinwong; a.k.a. KRADUMPORN, Somboon; a.k.a. KRAPOOMPORN, Somboon; a.k.a. KRATUMPORN, Somboon), c/o HATKAEW COMPANY LTD., Bangkok, Thailand; c/o KRADUMPORN IMPORT EXPORT COMPANY LTD., Chiang Rai, Thailand; c/o MAESAI K.D.P. COMPANY LTD., Chiang Rai, Thailand; c/o PROGRESS SURAWEE COMPANY LTD., Bangkok, Thailand; c/o RUNGRIN COMPANY LTD., Bangkok, Thailand; c/o SCORE COMMERCIAL COMPANY LTD., Bangkok, Thailand; c/o SIAM NICE COMPANY LTD., Bangkok, Thailand; c/o V.R. FRUIT COMPANY, Chiang Mai, Thailand; DOB 6 May 1959; National ID No. 3570900151471 (Thailand) (individual) [SDNTK]

KRAPUMPORN, Varee (a.k.a. KRADOOMPORN, Chanikan; a.k.a. KRADOOMPORN, Varee; a.k.a. KRADOOMPORN, Wari; a.k.a. KRADUMPHON, Chanikan; a.k.a. KRADUMPHON, Wari; a.k.a. KRADUMPORN, Chanikan; a.k.a. KRADUMPORN, Varee; a.k.a. KRADUMPORN, Waree; a.k.a. KRATUMPORN, Varee), c/o HATKAEW COMPANY LTD., Bangkok, Thailand; c/o KRADUMPORN IMPORT EXPORT COMPANY LTD., Chiang Rai, Thailand; c/o MAESAI K.D.P. COMPANY LTD., Chiang Rai, Thailand; c/o NICE FANTASY GARMENT COMPANY LTD., Bangkok, Thailand; c/o PLUS TECH AUTO SUPPLY COMPANY LTD., Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 18 Mar 1960; National ID No. 3570900151480 (Thailand) (individual) [SDNTK]

KRATUMPORN, Somboon (a.k.a. KRADOOMPORN, Chinwong; a.k.a. KRADUMPHON, Sombun; a.k.a. KRADUMPORN, Chinawong; a.k.a. KRADUMPORN, Chinwong; a.k.a. KRADUMPORN, Somboon; a.k.a. KRAPOOMPORN, Somboon; a.k.a. KRAPUMPORN, Somboon), c/o HATKAEW COMPANY LTD., Bangkok, Thailand; c/o KRADUMPORN IMPORT EXPORT COMPANY LTD., Chiang Rai, Thailand; c/o MAESAI K.D.P. COMPANY LTD., Chiang Rai, Thailand; c/o PROGRESS SURAWEE COMPANY LTD., Bangkok, Thailand; c/o RUNGRIN COMPANY LTD., Bangkok, Thailand; c/o SCORE COMMERCIAL COMPANY LTD., Bangkok, Thailand; c/o SIAM NICE COMPANY LTD., Bangkok, Thailand; c/o V.R. FRUIT COMPANY, Chiang Mai, Thailand; DOB 6 May 1959; National ID No. 3570900151471 (Thailand) (individual) [SDNTK]

KRATUMPORN, Varee (a.k.a. KRADOOMPORN, Chanikan; a.k.a. KRADOOMPORN, Varee; a.k.a. KRADOOMPORN, Wari; a.k.a. KRADUMPHON, Chanikan; a.k.a. KRADUMPHON, Wari; a.k.a. KRADUMPORN, Chanikan; a.k.a. KRADUMPORN, Varee; a.k.a. KRADUMPORN, Waree; a.k.a. KRAPUMPORN, Varee), c/o HATKAEW COMPANY LTD., Bangkok, Thailand; c/o KRADUMPORN IMPORT EXPORT COMPANY LTD., Chiang Rai, Thailand; c/o MAESAI K.D.P. COMPANY LTD., Chiang Rai, Thailand; c/o NICE FANTASY GARMENT COMPANY LTD., Bangkok, Thailand; c/o PLUS TECH AUTO SUPPLY COMPANY LTD., Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 18 Mar 1960; National ID No. 3570900151480 (Thailand) (individual) [SDNTK]

KRESSFOR (a.k.a. LABORATORIOS KRESSFOR DE COLOMBIA S.A.), Calle 17A 28 43, Bogota, Colombia; Calle 16 28A 51, Bogota, Colombia; Calle 16 28A 57, Bogota, Colombia; Calle 17 28A-43, Bogota, Colombia [SDNT]

KRIKAH INDUSTRIES GROUP, P.O. Box 755, Khartoum North, Sudan [SUDAN]

KRNOJELAC, Milorad; DOB 25 Jul 1940; POB Birotici, Bosnia-Herzegovina; ICTY indictee (individual) [BALKANS]

KRSTIC, Radislav; DOB 15 Feb 1948; POB Nedjeljiste, Vlasenica, Bosnia-Herzegovina; ICTY indictee (individual) [BALKANS]

KRUNIC, Savko (a.k.a. KRUNIC, Savo), Sokolac, Bosnia and Herzegovina; DOB 27 Jan 1958; POB Sokolac, Bosnia-Herzegovina; Passport 3667905 (Bosnia and Herzegovina); Director, Srpska Sume Forestry Company, Sokolac, Bosnia-Herzegovina (individual) [BALKANS]

KRUNIC, Savo (a.k.a. KRUNIC, Savko), Sokolac, Bosnia and Herzegovina; DOB 27 Jan 1958; POB Sokolac, Bosnia-Herzegovina; Passport 3667905 (Bosnia and Herzegovina); Director, Srpska Sume Forestry Company, Sokolac, Bosnia-Herzegovina (individual) [BALKANS]

KRYEZIU, Izmet; DOB 3 Oct 1954; POB Pagarusha-Malishev, Serbia and Montenegro (individual) [BALKANS]

KUBURA, Amir; DOB 4 Mar 1964; POB Kakanj, Bosnia-Herzegovina; ICTY indictee (individual) [BALKANS]

KUDDAM E ISLAMI (a.k.a. ARMY OF MOHAMMED; a.k.a. JAISH-E-MOHAMMED; a.k.a. JAISH-I-MOHAMMED; a.k.a. KHUDAMUL ISLAM; a.k.a. KHUDDAM-UL-ISLAM; a.k.a. MOHAMMED'S ARMY; a.k.a. TEHRIK UL-FURQAAN), Pakistan [FTO] [SDGT]

KUJUNDZIC, Predrag (a.k.a. “PREDO”); DOB 30 Jan 1961; POB Suho Polje, Doboj, Bosnia-Herzegovina (individual) [BALKANS]

KUNARAC, Dragoljub; DOB 15 May 1960; POB Foca, Bosnia-Herzegovina; ICTY indictee (individual) [BALKANS]

KUNFUTH, Abbas Khalaf, House 21, Lane 17, Subdivision 603, Dragh District, Al-Mansour; DOB 1955; POB Baghdad, Iraq (individual) [IRAQ2]

KURDISTAN FREEDOM AND DEMOCRACY CONGRESS (a.k.a. FREEDOM AND DEMOCRACY CONGRESS OF KURDISTAN; a.k.a. HALU MESRU SAVUNMA KUVVETI (HSK); a.k.a. KADEK; a.k.a. KONGRA-GEL; a.k.a. KURDISTAN PEOPLE'S CONGRESS (KHK); a.k.a. KURDISTAN WORKERS' PARTY; a.k.a. PARTIYA KARKERAN KURDISTAN; a.k.a. PEOPLE'S CONGRESS OF KURDISTAN; a.k.a. PKK; a.k.a. THE PEOPLE'S DEFENSE FORCE) [FTO] [SDGT]

KURDISTAN PEOPLE'S CONGRESS (KHK) (a.k.a. FREEDOM AND DEMOCRACY CONGRESS OF KURDISTAN; a.k.a. HALU MESRU SAVUNMA KUVVETI (HSK); a.k.a. KADEK; a.k.a. KONGRA-GEL; a.k.a. KURDISTAN FREEDOM AND DEMOCRACY CONGRESS; a.k.a. KURDISTAN WORKERS' PARTY; a.k.a. PARTIYA KARKERAN KURDISTAN; a.k.a. PEOPLE'S CONGRESS OF KURDISTAN; a.k.a. PKK; a.k.a. THE PEOPLE'S DEFENSE FORCE) [FTO] [SDGT]

KURDISTAN WORKERS' PARTY (a.k.a. FREEDOM AND DEMOCRACY CONGRESS OF KURDISTAN; a.k.a. HALU MESRU SAVUNMA KUVVETI (HSK); a.k.a. KADEK; a.k.a. KONGRA-GEL; a.k.a. KURDISTAN FREEDOM AND DEMOCRACY CONGRESS; a.k.a. KURDISTAN PEOPLE'S CONGRESS (KHK); a.k.a. PARTIYA KARKERAN KURDISTAN; a.k.a. PEOPLE'S CONGRESS OF KURDISTAN; a.k.a. PKK; a.k.a. THE PEOPLE'S DEFENSE FORCE) [FTO] [SDGT]

KVOCKA, Miroslav; DOB 1 Jan 1957; POB Maricka, Bosnia-Herzegovina; ICTY indictee (individual) [BALKANS]

KYOEI INTERNATIONAL COMPANY, LIMITED, Tokyo, Japan [CUBA]

LA COMPANIA GENERAL DE NIQUEL (a.k.a. GENERAL NICKEL SA), Cuba [CUBA]

LA COMPANIA TIENDAS UNIVERSO S.A. (a.k.a. WWW.CUBA-SHOP.NET) [CUBA]

LA EMPRESA CUBANA DE FLETES (a.k.a. CUBAN FREIGHT ENTERPRISE; a.k.a. CUFLET), Pyongyang, Korea, North [CUBA]

LA EMPRESA CUBANA DE FLETES (a.k.a. CUBAN FREIGHT ENTERPRISE; a.k.a. CUFLET), Moscow, Russia [CUBA]

LA EMPRESA CUBANA DE FLETES (a.k.a. CUBAN FREIGHT ENTERPRISE; a.k.a. CUFLET), Barcelona, Spain [CUBA]

LA EMPRESA CUBANA DE FLETES (a.k.a. CUBAN FREIGHT ENTERPRISE; a.k.a. CUFLET), Rostock, Germany [CUBA]

LA EMPRESA CUBANA DE FLETES (a.k.a. CUBAN FREIGHT ENTERPRISE; a.k.a. CUFLET), Genoa, Italy [CUBA]

LA EMPRESA CUBANA DE FLETES (a.k.a. CUBAN FREIGHT ENTERPRISE; a.k.a. CUFLET), Syczecin, Poland [CUBA]

LA EMPRESA CUBANA DE FLETES (a.k.a. CUBAN FREIGHT ENTERPRISE; a.k.a. CUFLET), Rotterdam, Netherlands [CUBA]

LA EMPRESA CUBANA DE FLETES (a.k.a. CUBAN FREIGHT ENTERPRISE; a.k.a. CUFLET), Mexico [CUBA]

LA EMPRESA CUBANA DE FLETES (a.k.a. CUBAN FREIGHT ENTERPRISE; a.k.a. CUFLET), Buenos Aires, Argentina [CUBA]

LA EMPRESA CUBANA DE FLETES (a.k.a. CUBAN FREIGHT ENTERPRISE; a.k.a. CUFLET), Montreal, Canada [CUBA]

LA EMPRESA CUBANA DE FLETES (a.k.a. CUBAN FREIGHT ENTERPRISE; a.k.a. CUFLET), Varna, Bulgaria [CUBA]

LA FRONTERA PUERTA GALVEZ LTDA. (a.k.a. LA FRONTERA UNION GALVEZ Y CIA S EN C), Carrera 30 No. 90-82, Bogota, Colombia; NIT # 800050795-2 (Colombia) [SDNT]

LA FRONTERA UNION GALVEZ Y CIA S EN C (f.k.a. LA FRONTERA PUERTA GALVEZ LTDA.), Carrera 30 No. 90-82, Bogota, Colombia; NIT # 800050795-2 (Colombia) [SDNT]

LAAGOUB, Abdelkader, via Europa, 4—Paderno Ponchielli, Cremona, Italy; DOB 23 Apr 1966; POB Casablanca, Morocco; nationality Morocco; Italian Fiscal Code LGBBLK66D23Z330U (individual) [SDGT]

LABORATORIOS BLAIMAR DE COLOMBIA S.A. (f.k.a. BLAIMAR; a.k.a. CIA. INTERAMERICANA DE COSMETICOS S.A.; a.k.a. COINTERCOS S.A.), Calle 12B No. 27-39, Bogota, Colombia; Apartado Aereo 33248, Bogota, Colombia; NIT # 860511578-8 (Colombia) [SDNT]

LABORATORIOS BLAIMAR DE COLOMBIA S.A. (a.k.a. BLAIMAR), Calle 12B 27 39, Bogota, Colombia [SDNT]

LABORATORIOS BLAIMAR DE COLOMBIA S.A. (f.k.a. BLAIMAR; f.k.a. CIA. INTERAMERICANA DE COSMETICOS S.A.; f.k.a. COINTERCOS S.A.; a.k.a. COOPERATIVA DE COSMETICOS Y POPULARES COSMEPOP; a.k.a. COSMEPOP; f.k.a. LABORATORIOS BLANCO PHARMA S.A.), A.A. 55538, Bogota, Colombia; Calle 12B No. 27-37/39, Bogota, Colombia; Calle 26 Sur No. 7-30 Este, Bogota, Colombia; Carrera 99 y 100 No. 46A-10, Bodega 4, Bogota, Colombia; Calle 12A No. 27-72, Bogota, Colombia; NIT # 800251322-5 (Colombia) [SDNT]

LABORATORIOS BLANCO PHARMA S.A. (f.k.a. BLAIMAR; f.k.a. CIA. INTERAMERICANA DE COSMETICOS S.A.; f.k.a. COINTERCOS S.A.; a.k.a. COOPERATIVA DE COSMETICOS Y POPULARES COSMEPOP; a.k.a. COSMEPOP; f.k.a. LABORATORIOS BLAIMAR DE COLOMBIA S.A.), A.A. 55538, Bogota, Colombia; Calle 12B No. 27-37/39, Bogota, Colombia; Calle 26 Sur No. 7-30 Este, Bogota, Colombia; Carrera 99 y 100 No. 46A-10, Bodega 4, Bogota, Colombia; Calle 12A No. 27-72, Bogota, Colombia; NIT # 800251322-5 (Colombia) [SDNT]

LABORATORIOS BLANCO PHARMA S.A. (a.k.a. BLANCO PHARMA S.A.), Carrera 99 y 100 No. 46A-10, Bodega 4, Bogota, Colombia [SDNT]

LABORATORIOS GENERICOS VETERINARIOS DE COLOMBIA S.A, Carrera 71 No. 57-07, Bogota, Colombia [SDNT]

LABORATORIOS KRESSFOR DE COLOMBIA S.A. (a.k.a. COOPERATIVA MULTIACTIVA DE COMERCIALIZACION Y SERVICIOS FARMACOOP; a.k.a. FARMACOOP), A.A. 18491, Bogota, Colombia; Calle 17A No. 28A-43, Bogota, Colombia; Calle 16 No. 28A-51, Bogota, Colombia; Calle 16 No. 28A-57, Bogota, Colombia; Calle 17A No. 28-43, Bogota, Colombia; NIT # 830010878-3 (Colombia) [SDNT]

LABORATORIOS KRESSFOR DE COLOMBIA S.A. (a.k.a. KRESSFOR), Calle 17A 28 43, Bogota, Colombia; Calle 16 28A 51, Bogota, Colombia; Calle 16 28A 57, Bogota, Colombia; Calle 17 28A-43, Bogota, Colombia [SDNT]

LABORATORIOS PROFARMA LTDA., Calle 17 No. 28A-13, Bogota, Colombia; Calle 23 No. 19-75, Bogota, Colombia; Calle 74 No. 15-80 of. 611 Int. 1, Bogota, Colombia; NIT # 800217468-8 (Colombia) [SDNT]

LABORATORIOS Y COMERCIALIZADORA DE MEDICAMENTOS DROBLAM S.A. (a.k.a. DROBLAM S.A.), Carrera 21 No. 13B-33, Cali, Colombia; NIT # 805014078-5 (Colombia) [SDNT]

LABRA AVILES, Jesus Abraham (a.k.a. AVILES, Jesus Labra; a.k.a. “CHUY LABRA”); DOB 1945; nationality Mexico (individual) [SDNTK]

LADEHYANOY, Mufti Rashid Ahmad (a.k.a. AHMAD, Mufti Rasheed; a.k.a. LUDHIANVI, Mufti Rashid Ahmad; a.k.a. WADEHYANOY, Mufti Rashid Ahmad), Karachi, Pakistan (individual) [SDGT]

LADRILLERA LA CANDELARIA LTDA., Avenida 6 Norte No. 17N-92, of. 514, Cali, Colombia; Correg. Buchitolo, Vereda Tres Esquinas, Candelaria, Colombia; NIT # 800119741-4 (Colombia) [SDNT]

LAJNA ALDAWA ALISALMIAH (a.k.a. ISLAMIC CALL COMMITTEE; a.k.a. LAJNA ALDAWA ALISLAMIA; a.k.a. LAJNA ALDAWA ALISLAMIYA; a.k.a. LAJNAT AL DAAWA AL ISLAMIYA; a.k.a. LAJNAT AL DAAWA AL ISLAMIYYA; a.k.a. LAJNAT AL DAWA; a.k.a. LAJNAT AL DAWA AL ISLAMIA; a.k.a. LAJNAT AL D'AWA AL ISLAMIAK; a.k.a. LAJNAT ALDAWA AL ISLAMIAH; a.k.a. LAJNAT ALDAWA ALISLAMIA), Kuwait [SDGT]

LAJNA ALDAWA ALISLAMIA (a.k.a. ISLAMIC CALL COMMITTEE; a.k.a. LAJNA ALDAWA ALISALMIAH; a.k.a. LAJNA ALDAWA ALISLAMIYA; a.k.a. LAJNAT AL DAAWA AL ISLAMIYA; a.k.a. LAJNAT AL DAAWA AL ISLAMIYYA; a.k.a. LAJNAT AL DAWA; a.k.a. LAJNAT AL DAWA AL ISLAMIA; a.k.a. LAJNAT AL D'AWA AL ISLAMIAK; a.k.a. LAJNAT ALDAWA AL ISLAMIAH; a.k.a. LAJNAT ALDAWA ALISLAMIA), Kuwait [SDGT]

LAJNA ALDAWA ALISLAMIYA (a.k.a. ISLAMIC CALL COMMITTEE; a.k.a. LAJNA ALDAWA ALISALMIAH; a.k.a. LAJNA ALDAWA ALISLAMIA; a.k.a. LAJNAT AL DAAWA AL ISLAMIYA; a.k.a. LAJNAT AL DAAWA AL ISLAMIYYA; a.k.a. LAJNAT AL DAWA; a.k.a. LAJNAT AL DAWA AL ISLAMIA; a.k.a. LAJNAT AL D'AWA AL ISLAMIAK; a.k.a. LAJNAT ALDAWA AL ISLAMIAH; a.k.a. LAJNAT ALDAWA ALISLAMIA), Kuwait [SDGT]

LAJNA AL-IGHATHA AL-FILISTINI (a.k.a. ASP; a.k.a. ASSOCIATION DE SECOURS PALESTINIENS; a.k.a. ASSOCIATION FOR PALESTINIAN AID; a.k.a. ASSOCIATION SECOUR PALESTINIEN; a.k.a. HUMANITARE HILFSORGANISATION FUR PALASTINA; a.k.a. PALESTINE RELIEF COMMITTEE; a.k.a. PALESTINIAN AID COUNCIL; a.k.a. PALESTINIAN AID ORGANIZATION; a.k.a. PALESTINIAN RELIEF SOCIETY; a.k.a. RELIEF ASSOCIATION FOR PALESTINE), c/o Faical Yaakoubi, 7 rue de l'Ancien Port, CH-1201 Geneva, Switzerland; Gartnerstrasse 55, CH-4109 Basel, Switzerland; Postfach 406, CH-4109 Basel, Switzerland [SDGT]

LAJNAT AL DAAWA AL ISLAMIYA (a.k.a. ISLAMIC CALL COMMITTEE; a.k.a. LAJNA ALDAWA ALISALMIAH; a.k.a. LAJNA ALDAWA ALISLAMIA; a.k.a. LAJNA ALDAWA ALISLAMIYA; a.k.a. LAJNAT AL DAAWA AL ISLAMIYYA; a.k.a. LAJNAT AL DAWA; a.k.a. LAJNAT AL DAWA AL ISLAMIA; a.k.a. LAJNAT AL D'AWA AL ISLAMIAK; a.k.a. LAJNAT ALDAWA AL ISLAMIAH; a.k.a. LAJNAT ALDAWA ALISLAMIA), Kuwait [SDGT]

LAJNAT AL DAAWA AL ISLAMIYYA (a.k.a. ISLAMIC CALL COMMITTEE; a.k.a. LAJNA ALDAWA ALISALMIAH; a.k.a. LAJNA ALDAWA ALISLAMIA; a.k.a. LAJNA ALDAWA ALISLAMIYA; a.k.a. LAJNAT AL DAAWA AL ISLAMIYA; a.k.a. LAJNAT AL DAWA; a.k.a. LAJNAT AL DAWA AL ISLAMIA; a.k.a. LAJNAT AL D'AWA AL ISLAMIAK; a.k.a. LAJNAT ALDAWA AL ISLAMIAH; a.k.a. LAJNAT ALDAWA ALISLAMIA), Kuwait [SDGT]

LAJNAT AL DAWA (a.k.a. ISLAMIC CALL COMMITTEE; a.k.a. LAJNA ALDAWA ALISALMIAH; a.k.a. LAJNA ALDAWA ALISLAMIA; a.k.a. LAJNA ALDAWA ALISLAMIYA; a.k.a. LAJNAT AL DAAWA AL ISLAMIYA; a.k.a. LAJNAT AL DAAWA AL ISLAMIYYA; a.k.a. LAJNAT AL DAWA AL ISLAMIA; a.k.a. LAJNAT AL D'AWA AL ISLAMIAK; a.k.a. LAJNAT ALDAWA AL ISLAMIAH; a.k.a. LAJNAT ALDAWA ALISLAMIA), Kuwait [SDGT]

LAJNAT AL DAWA AL ISLAMIA (a.k.a. ISLAMIC CALL COMMITTEE; a.k.a. LAJNA ALDAWA ALISALMIAH; a.k.a. LAJNA ALDAWA ALISLAMIA; a.k.a. LAJNA ALDAWA ALISLAMIYA; a.k.a. LAJNAT AL DAAWA AL ISLAMIYA; a.k.a. LAJNAT AL DAAWA AL ISLAMIYYA; a.k.a. LAJNAT AL DAWA; a.k.a. LAJNAT AL D'AWA AL ISLAMIAK; a.k.a. LAJNAT ALDAWA AL ISLAMIAH; a.k.a. LAJNAT ALDAWA ALISLAMIA), Kuwait [SDGT]

LAJNAT AL D'AWA AL ISLAMIAK (a.k.a. ISLAMIC CALL COMMITTEE; a.k.a. LAJNA ALDAWA ALISALMIAH; a.k.a. LAJNA ALDAWA ALISLAMIA; a.k.a. LAJNA ALDAWA ALISLAMIYA; a.k.a. LAJNAT AL DAAWA AL ISLAMIYA; a.k.a. LAJNAT AL DAAWA AL ISLAMIYYA; a.k.a. LAJNAT AL DAWA; a.k.a. LAJNAT AL DAWA AL ISLAMIA; a.k.a. LAJNAT ALDAWA AL ISLAMIAH; a.k.a. LAJNAT ALDAWA ALISLAMIA), Kuwait [SDGT]

LAJNAT ALDAWA AL ISLAMIAH (a.k.a. ISLAMIC CALL COMMITTEE; a.k.a. LAJNA ALDAWA ALISALMIAH; a.k.a. LAJNA ALDAWA ALISLAMIA; a.k.a. LAJNA ALDAWA ALISLAMIYA; a.k.a. LAJNAT AL DAAWA AL ISLAMIYA; a.k.a. LAJNAT AL DAAWA AL ISLAMIYYA; a.k.a. LAJNAT AL DAWA; a.k.a. LAJNAT AL DAWA AL ISLAMIA; a.k.a. LAJNAT AL D'AWA AL ISLAMIAK; a.k.a. LAJNAT ALDAWA ALISLAMIA), Kuwait [SDGT]

LAJNAT ALDAWA ALISLAMIA (a.k.a. ISLAMIC CALL COMMITTEE; a.k.a. LAJNA ALDAWA ALISALMIAH; a.k.a. LAJNA ALDAWA ALISLAMIA; a.k.a. LAJNA ALDAWA ALISLAMIYA; a.k.a. LAJNAT AL DAAWA AL ISLAMIYA; a.k.a. LAJNAT AL DAAWA AL ISLAMIYYA; a.k.a. LAJNAT AL DAWA; a.k.a. LAJNAT AL DAWA AL ISLAMIA; a.k.a. LAJNAT AL D'AWA AL ISLAMIAK; a.k.a. LAJNAT ALDAWA AL ISLAMIAH), Kuwait [SDGT]

LAJNAT UL MASA EIDATUL AFGHANIA (a.k.a. AFGHAN SUPPORT COMMITTEE (ASC); a.k.a. AHYA UL TURAS; a.k.a. JAMIAT AYAT-UR-RHAS AL ISLAMIA; a.k.a. JAMIAT IHYA UL TURATH AL ISLAMIA), Grand Trunk Road, near Pushtoon Garhi Pabbi, Peshawar, Pakistan; Cheprahar Hadda, Mia Omar Sabaqah School, Jalalabad, Afghanistan [SDGT]

LAKSHMI, Panama [CUBA]

LALOVIC, Dragan 'Mate'; DOB 14 Jun 1953; POB Vlaholje, nr Kalinovik, Bosnia-Herzegovina (individual) [BALKANS]

LAMFONTINE FARM (a.k.a. ZVINAVASHE INVESTMENTS LTD.; a.k.a. ZVINAVASHE TRANSPORT), 730 Cowie Road, Tynwald, Harare, Zimbabwe; P.O. Box 3928, Harare, Zimbabwe [ZIMBABWE]

LANDZO, Esad; DOB 7 Mar 1973; ICTY indictee (individual) [BALKANS]

LANGA, Andrew; DOB 13 Jan 1965; Deputy Minister of Environment and Tourism (individual) [ZIMBABWE]

LARA ALVAREZ, Jose Luis (a.k.a. ARELLANO FELIX, Francisco Javier; a.k.a. ARELLANO FELIX, Javier; a.k.a. BELTRAN MEZA, Ramon; a.k.a. DIAZ MEDINA, Javier); DOB 21 Nov 1969; alt. DOB 12 Dec 1969; POB Culiacan, Sinaloa, Mexico (individual) [SDNTK]

LARA SANCHEZ, Giovanni Mauricio, c/o BONOMERCAD S.A., Bogota, Colombia; c/o DECAFARMA S.A., Bogota, Colombia; c/o FARMACOOP, Bogota, Colombia; c/o INTERFARMA S.A., San Jose, Costa Rica; c/o JOMAGA DE COSTA RICA S.A., San Jose, Costa Rica; c/o PATENTES MARCAS Y REGISTROS S.A., Bogota, Colombia; c/o PENTACOOP, Bogota, Colombia; DOB 20 Jan 1971; Cedula No. 79504253 (Colombia); Passport 79504253 (Colombia) (individual) [SDNT]

LARGO LEASING LTD., c/o T.R.C. Corporate Services Limited P.O. Box 1982, George Town, Cayman Islands [SDNT]

LARRANAGA CALVACHE, Juan Carlos, c/o INVERSIONES EL PENON S.A., Cali, Colombia; c/o COMERCIALIZADORA INTERNACIONAL VALLE DE ORO S.A., Cali, Colombia; c/o INMOBILIARIA BOLIVAR LTDA., Cali, Colombia; c/o ADMINISTRACION INMOBILIARIA BOLIVAR S.A., Cali, Colombia; DOB 18 Mar 1964; Cedula No. 12982064 (Colombia) (individual) [SDNT]

LASHKAR E JHANGVI (a.k.a. LASHKAR I JHANGVI (LJ); a.k.a. LASHKAR-I-JHANGVI) [FTO] [SDGT]

LASHKAR E-TAYYIBA (a.k.a. AL MANSOOREEN; a.k.a. AL MANSOORIAN; a.k.a. ARMY OF THE PURE; a.k.a. ARMY OF THE PURE AND RIGHTEOUS; a.k.a. ARMY OF THE RIGHTEOUS; a.k.a. IDARA KHIDMAT-E-KHALQ; a.k.a. JAMA'AT AL-DAWA; a.k.a. JAMAAT UD-DAAWA; a.k.a. JAMAAT UL-DAWAH; a.k.a. JAMA'AT-I-DAWAT; a.k.a. JAMAATI-UD-DAWA; a.k.a. JAMA'AT-UD-DA'AWA; a.k.a. JAMA'AT-UD-DA'AWAH; a.k.a. JAMAAT-UD-DAWA; a.k.a. JAMAAT-UL-DAWA; a.k.a. JAMAIAT-UD-DAWA; a.k.a. LASHKAR E-TOIBA; a.k.a. LASHKAR-I-TAIBA; a.k.a. PAASBAN-E-AHLE-HADIS; a.k.a. PAASBAN-E-KASHMIR; a.k.a. PAASBAN-I-AHLE-HADITH; a.k.a. PASBAN-E-AHLE-HADITH; a.k.a. PASBAN-E-KASHMIR; a.k.a. “JUD”), Pakistan [SDGT] [FTO]

LASHKAR E-TOIBA (a.k.a. AL MANSOOREEN; a.k.a. AL MANSOORIAN; a.k.a. ARMY OF THE PURE; a.k.a. ARMY OF THE PURE AND RIGHTEOUS; a.k.a. ARMY OF THE RIGHTEOUS; a.k.a. IDARA KHIDMAT-E-KHALQ; a.k.a. JAMA'AT AL-DAWA; a.k.a. JAMAAT UD-DAAWA; a.k.a. JAMAAT UL-DAWAH; a.k.a. JAMA'AT-I-DAWAT; a.k.a. JAMAATI-UD-DAWA; a.k.a. JAMA'AT-UD-DA'AWA; a.k.a. JAMA'AT-UD-DA'AWAH; a.k.a. JAMAAT-UD-DAWA; a.k.a. JAMAAT-UL-DAWA; a.k.a. JAMAIAT-UD-DAWA; a.k.a. LASHKAR E-TAYYIBA; a.k.a. LASHKAR-I-TAIBA; a.k.a. PAASBAN-E-AHLE-HADIS; a.k.a. PAASBAN-E-KASHMIR; a.k.a. PAASBAN-I-AHLE-HADITH; a.k.a. PASBAN-E-AHLE-HADITH; a.k.a. PASBAN-E-KASHMIR; a.k.a. “JUD”), Pakistan [SDGT] [FTO]

LASHKAR I JHANGVI (LJ) (a.k.a. LASHKAR E JHANGVI; a.k.a. LASHKAR-I-JHANGVI) [FTO] [SDGT]

LASHKAR-I-JHANGVI (a.k.a. LASHKAR E JHANGVI; a.k.a. LASHKAR I JHANGVI (LJ)) [FTO] [SDGT]

LASHKAR-I-TAIBA (a.k.a. AL MANSOOREEN; a.k.a. AL MANSOORIAN; a.k.a. ARMY OF THE PURE; a.k.a. ARMY OF THE PURE AND RIGHTEOUS; a.k.a. ARMY OF THE RIGHTEOUS; a.k.a. IDARA KHIDMAT-E-KHALQ; a.k.a. JAMA'AT AL-DAWA; a.k.a. JAMAAT UD-DAAWA; a.k.a. JAMAAT UL-DAWAH; a.k.a. JAMA'AT-I-DAWAT; a.k.a. JAMAATI-UD-DAWA; a.k.a. JAMA'AT-UD-DA'AWA; a.k.a. JAMA'AT-UD-DA'AWAH; a.k.a. JAMAAT-UD-DAWA; a.k.a. JAMAAT-UL-DAWA; a.k.a. JAMAIAT-UD-DAWA; a.k.a. LASHKAR E-TAYYIBA; a.k.a. LASHKAR E-TOIBA; a.k.a. PAASBAN-E-AHLE-HADIS; a.k.a. PAASBAN-E-KASHMIR; a.k.a. PAASBAN-I-AHLE-HADITH; a.k.a. PASBAN-E-AHLE-HADITH; a.k.a. PASBAN-E-KASHMIR; a.k.a. “JUD”), Pakistan [SDGT] [FTO]

LATINA DE COSMETICOS Y DISTRIBUCIONES S.A., Calle 12B No. 27-39, Bogota, Colombia; Carrera 28 No. 11-65 of. 712, Bogota, Colombia; Carrera 70 No. 54-30, Bogota, Colombia; NIT # 830018857-5 (Colombia) [SDNT]

LATINFARMACOS S.A. (a.k.a. FARMACIA ALMACEN POPULAR; a.k.a. FARMACIA AMAZONAS; a.k.a. FARMACIA ATENEA; a.k.a. FARMACIA CAROLINA 2; a.k.a. FARMACIA CHACON; a.k.a. FARMACIA DEL PUEBLO; a.k.a. FARMACIA DORAL; a.k.a. FARMACIA ECONOMICA; a.k.a. FARMACIA INMACULADA; a.k.a. FARMACIA JARDIN DEL SUR; a.k.a. FARMACIA JARDIN SUR; a.k.a. FARMACIA LA COLINA; a.k.a. FARMACIA LA ECONOMICA; a.k.a. FARMACIA LA MODERNA; a.k.a. FARMACIA LOS SAUCES; a.k.a. FARMACIA MODERNA; a.k.a. FARMACIA PROBETA; a.k.a. FARMACIA PROVIDA; a.k.a. FARMACIA SAN MIGUEL; a.k.a. FARMACIA SAN VICENTE; a.k.a. LATINOAMERICANA DE FARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

LATINOAMERICANA DE FARMACOS S.A. (a.k.a. FARMACIA ALMACEN POPULAR; a.k.a. FARMACIA AMAZONAS; a.k.a. FARMACIA ATENEA; a.k.a. FARMACIA CAROLINA 2; a.k.a. FARMACIA CHACON; a.k.a. FARMACIA DEL PUEBLO; a.k.a. FARMACIA DORAL; a.k.a. FARMACIA ECONOMICA; a.k.a. FARMACIA INMACULADA; a.k.a. FARMACIA JARDIN DEL SUR; a.k.a. FARMACIA JARDIN SUR; a.k.a. FARMACIA LA COLINA; a.k.a. FARMACIA LA ECONOMICA; a.k.a. FARMACIA LA MODERNA; a.k.a. FARMACIA LOS SAUCES; a.k.a. FARMACIA MODERNA; a.k.a. FARMACIA PROBETA; a.k.a. FARMACIA PROVIDA; a.k.a. FARMACIA SAN MIGUEL; a.k.a. FARMACIA SAN VICENTE; a.k.a. LATINFARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

LAVERDE GOMEZ, German, c/o CONSTRUCTORA ALTOS DEL RETIRO LTDA., Bogota, Colombia; DOB 20 Apr 1956; Cedula No. 79140380 (Colombia) (individual) [SDNT]

LAZAREVIC, Vladimir; DOB 23 Mar 1949; POB Gricar (individual) [BALKANS]

LE GROUPE SALAFISTE POUR LA PREDICATION ET LE COMBAT (a.k.a. GSPC; a.k.a. SALAFIST GROUP FOR CALL AND COMBAT; a.k.a. SALAFIST GROUP FOR PREACHING AND COMBAT) [FTO] [SDGT]

LEAL FLOREZ, Luis Alejandro, c/o DISTRIBUIDORA DE DROGAS CONDOR S.A., Bogota, Colombia; c/o COINTERCOS S.A., Bogota, Colombia; c/o FIDUSER LTDA., Bogota, Colombia; COSMEPOP, Bogota, Colombia; LATINA DE COSMETICOS Y DISTRIBUCIONES S.A., Bogota, Colombia; DOB 12 Sep 1961; Cedula No. 7217432 (Colombia); Passport 7217432 (Colombia) (individual) [SDNT]

LEAL HERNANDEZ, Mauricio, c/o INCOMMERCE S.A., Cali, Colombia; DOB 24 Nov 1974; Cedula No. 94429420 (Colombia); Passport 94429420 (Colombia) (individual) [SDNT]

LEAL RODRIGUEZ, Jose Guillermo, c/o PENTA PHARMA DE COLOMBIA S.A., Bogota, Colombia; c/o PENTACOOP LTDA., Bogota, Colombia; c/o LABORATORIOS KRESSFOR DE COLOMBIA S.A., Bogota, Colombia; c/o DECAFARMA S.A., Bogota, Colombia; DOB 1 Mar 1932; Cedula No. 89867 (Colombia) (individual) [SDNT]

LEATHER INDUSTRIES CORPORATION (a.k.a. LEATHER INDUSTRIES TANNERIES), P.O. Box 1639, Khartoum, Sudan [SUDAN]

LEATHER INDUSTRIES TANNERIES (a.k.a. LEATHER INDUSTRIES CORPORATION), P.O. Box 1639, Khartoum, Sudan [SUDAN]

LEBANESE COMMUNICATION GROUP (a.k.a. LEBANESE MEDIA GROUP), Al Manar Building, Ahmad Kassir Street, Haret Hriek, Baabda, Lebanon; Abed Al Nour Street, Haret Hriek, PO Box 354/25, Beirut, Lebanon; Company ID: No. 59 531 at Commercial Registry of the Civil Court of First Instance at Baabda, Lebanon [SDGT]

LEBANESE MEDIA GROUP (a.k.a. LEBANESE COMMUNICATION GROUP), Al Manar Building, Ahmad Kassir Street, Haret Hriek, Baabda, Lebanon; Abed Al Nour Street, Haret Hriek, PO Box 354/25, Beirut, Lebanon; Company ID: No. 59 531 at Commercial Registry of the Civil Court of First Instance at Baabda, Lebanon [SDGT]

LEBREDO, Jose A., Zweierstrasse 35, CH-8022 Zurich, Switzerland; Director, Banco Nacional de Cuba (individual) [CUBA]

LEMOFAR LTDA. (a.k.a. LMF LTDA.), Calle 39 Bis A No. 27-12, Bogota, Colombia; NIT # 830116405-1 (Colombia) [SDNT]

LEON REYES, German, c/o COLPHAR S.A., Bogota, Colombia; Cedula No. 79273729 (Colombia); Passport 79273729 (Colombia) (individual) [SDNT]

LESABE, Thenjiwe; DOB 5 Jan 1933; Politburo Committee Member (individual) [ZIMBABWE]

LEVERAGE, S.A., San Martin 323, Piso 14, Buenos Aires, Argentina [CUBA]

LEVERYE, S.A., Corrientes 1386, 5th Floor, Buenos Aires, Argentina [CUBA]

LEYBDA CORPORATION, S.A., Panama [CUBA]

LIBERATION ARMY OF PRESEVO, MEDVEDJA, AND BUJANOVAC (a.k.a. UCPMB) [BALKANS]

LIBERATION STRUGGLE (a.k.a. ELA; a.k.a. EPANASTATIKOS LAIKOS AGONAS; a.k.a. JUNE 78; a.k.a. ORGANIZATION OF REVOLUTIONARY INTERNATIONALIST SOLIDARITY; a.k.a. POPULAR REVOLUTIONARY STRUGGLE; a.k.a. REVOLUTIONARY CELLS; a.k.a. REVOLUTIONARY NUCLEI; a.k.a. REVOLUTIONARY PEOPLE'S STRUGGLE; a.k.a. REVOLUTIONARY POPULAR STRUGGLE) [FTO] [SDGT]

LIBERATION TIGERS OF TAMIL EELAM (a.k.a. ELLALAN FORCE; a.k.a. LTTE; a.k.a. TAMIL TIGERS) [FTO] [SDGT]

LIBREROS DIEZ, Orlando, c/o CONSTRUCTORA DIMISA LTDA., Cali, Colombia; c/o INDUSTRIA AVICOLA PALMASECA S.A., Cali, Colombia; c/o VALLE COMUNICACIONES LTDA., Cali, Colombia; c/o DISTRIBUIDORA DE ELEMENTOS PARA LA CONSTRUCCION S.A., Cali, Colombia; DOB 6 Dec 1960; Cedula No. 16651068 (Colombia) (individual) [SDNT]

LIBYAN ISLAMIC FIGHTING GROUP [FTO] [SDGT]

LICON MUNOZ, Jorge Arturo, Mexico; DOB 17 May 1974; citizen Mexico; nationality Mexico; Immigration No. A7800002 Border Crossing (United States) (individual) [BPI-SDNTK]

LICOREXPORT S.A., Quito, Ecuador [CUBA]

LIMAJ, Fatmir; DOB 4 Feb 1971; POB Banja, Serbia and Montenegro; ICTY indictee (individual) [BALKANS]

LIMMT (DALIAN FTZ) METALLURGY AND MINERALS CO., LTD. (a.k.a. LIMMT (DALIAN FTZ) MINMETALS AND METALLURGY CO., LTD.; a.k.a. LIMMT (DALIAN) METALLURGY AND MINERALS CO., LTD.; a.k.a. LIMMT ECONOMIC AND TRADE COMPANY, LTD.), 2501-2508 Yuexiu Mansion, No. 82 Xinkai Road, Dalian, Liaoning 116011, China [NPWMD]

LIMMT (DALIAN FTZ) MINMETALS AND METALLURGY CO., LTD. (a.k.a. LIMMT (DALIAN FTZ) METALLURGY AND MINERALS CO., LTD.; a.k.a. LIMMT (DALIAN) METALLURGY AND MINERALS CO., LTD.; a.k.a. LIMMT ECONOMIC AND TRADE COMPANY, LTD.), 2501-2508 Yuexiu Mansion, No. 82 Xinkai Road, Dalian, Liaoning 116011, China [NPWMD]

LIMMT (DALIAN) METALLURGY AND MINERALS CO., LTD. (a.k.a. LIMMT (DALIAN FTZ) METALLURGY AND MINERALS CO., LTD.; a.k.a. LIMMT (DALIAN FTZ) MINMETALS AND METALLURGY CO., LTD.; a.k.a. LIMMT ECONOMIC AND TRADE COMPANY, LTD.), 2501-2508 Yuexiu Mansion, No. 82 Xinkai Road, Dalian, Liaoning 116011, China [NPWMD]

LIMMT ECONOMIC AND TRADE COMPANY, LTD. (a.k.a. LIMMT (DALIAN FTZ) METALLURGY AND MINERALS CO., LTD.; a.k.a. LIMMT (DALIAN FTZ) MINMETALS AND METALLURGY CO., LTD.; a.k.a. LIMMT (DALIAN) METALLURGY AND MINERALS CO., LTD.), 2501-2508 Yuexiu Mansion, No. 82 Xinkai Road, Dalian, Liaoning 116011, China [NPWMD]

LINARES GUZMAN, Juan Carlos, c/o CAJA SOLIDARIA, Bogota, Colombia; c/o COPSERVIR LTDA., Bogota, Colombia; c/o LITOPHARMA, Barranquilla, Colombia; c/o TRIMARK LTDA., Bogota, Colombia; Carrera 6B No. 33B-80, Barranquilla, Colombia; Cedula No. 72185736 (Colombia) (individual) [SDNT]

LINARES REYES, Ricardo Jose (a.k.a. LLENARES REYES, Jose Ricardo), c/o INVERSIONES INVERVALLE S.A., Cali, Colombia; c/o CONCRETOS CALI S.A., Cali, Colombia; c/o W. HERRERA Y CIA. S. EN C., Cali, Colombia; c/o ADMINISTRACION INMOBILIARIA BOLIVAR S.A., Cali, Colombia; c/o INVHERESA S.A., Cali, Colombia; c/o INCOVALLE, Cali, Colombia; c/o CONSTRUEXITO S.A., Cali, Colombia; c/o INVERSIONES EL PENON S.A., Cali, Colombia; c/o INVERSIONES HERREBE LTDA., Cali, Colombia; c/o VIAJES MERCURIO LTDA, Cali, Colombia; c/o INVERSIONES BETANIA LTDA., Cali, Colombia; DOB 8 Mar 1955; alt. DOB 3 Mar 1955; Cedula No. 14440139 (Colombia); Passport PO466638 (Colombia) (individual) [SDNT]

LINDO HURTADO, Edgar, c/o INMOBILIARIA U.M.V. S.A., Cali, Colombia; DOB 23 Mar 1927; Cedula No. 6061717 (Colombia) (individual) [SDNT]

LITOPHARMA (a.k.a. COOPERATIVA MULTIACTIVA DEL LITORAL), Calle 72 No. 48-60 Local 1A Centro Ejecutivo Kathand, Barranquilla, Colombia; Calle 72 No. 48-60 Local 1B, Barranquilla, Colombia; Carrera 3 Sur No. 43-62, Barranquilla, Colombia; NIT # 802012669-8 (Colombia) [SDNT]

LITTLE CONNEMARA 1 FARM, Nyanga, Zimbabwe [ZIMBABWE]

LIWINAG, Armando (a.k.a. SISON, Jose Maria), Netherlands; DOB 8 Feb 1938; POB Llocos Sur Northern Luzon, Philippines (individual) [SDGT]

LJUBICIC, Pasko; DOB 15 Nov 1965; POB Nezirovic, Bosnia-Herzegovina; ICTY indictee (individual) [BALKANS]

LKCK (a.k.a. NATIONAL MOVEMENT FOR THE LIBERATION OF KOSOVO) [BALKANS]

LLADROVICI, Ramiz; DOB 3 Jan 1966 (individual) [BALKANS]

LLENARES REYES, Jose Ricardo (a.k.a. LINARES REYES, Ricardo Jose), c/o INVERSIONES INVERVALLE S.A., Cali, Colombia; c/o CONCRETOS CALI S.A., Cali, Colombia; c/o W. HERRERA Y CIA. S. EN C., Cali, Colombia; c/o ADMINISTRACION INMOBILIARIA BOLIVAR S.A., Cali, Colombia; c/o INVHERESA S.A., Cali, Colombia; c/o INCOVALLE, Cali, Colombia; c/o CONSTRUEXITO S.A., Cali, Colombia; c/o INVERSIONES EL PENON S.A., Cali, Colombia; c/o INVERSIONES HERREBE LTDA., Cali, Colombia; c/o VIAJES MERCURIO LTDA, Cali, Colombia; c/o INVERSIONES BETANIA LTDA., Cali, Colombia; DOB 8 Mar 1955; alt. DOB 3 Mar 1955; Cedula No. 14440139 (Colombia); Passport PO466638 (Colombia) (individual) [SDNT]

LMF LTDA. (a.k.a. LEMOFAR LTDA.), Calle 39 Bis A No. 27-12, Bogota, Colombia; NIT # 830116405-1 (Colombia) [SDNT]

LOAIZA AVENDANO, Jesus (a.k.a. GARCIA HERNANDEZ, Javier; a.k.a. HIGUERA RENTERIA, Ismael; a.k.a. ZAMBADA GARCIA, Ismael; a.k.a. ZAMBADA GARCIA, Ismael Mario; a.k.a. ZAMBADA, El Mayo); DOB 1 January 1948; POB Sinaloa, Mexico (individual) [SDNTK]

LOBATO, Julio (a.k.a. PRADO, Julio), Panama (individual) [CUBA]

LOCHINVAR FARM, Mashvingo, Zimbabwe [ZIMBABWE]

LOGARCHEO AG (a.k.a. LOGARCHEO S.A.), Chemin du Carmel, 1661 Le Paquier-Montbarry, Switzerland; U.S. FEIN CH-217-0-431-423-3 (United States) [IRAQ2]

LOGARCHEO S.A. (f.k.a. LOGARCHEO AG), Chemin du Carmel, 1661 Le Paquier-Montbarry, Switzerland; U.S. FEIN CH-217-0-431-423-3 (United States) [IRAQ2]

LONDONO ALVAREZ, Gloria Elena (a.k.a. LONDONO DE GRAJALES, Gloria Elena), c/o GAD S.A., La Union, Valle, Colombia; c/o ARMAGEDON S.A., La Union, Valle, Colombia; c/o CRETA S.A., La Union, Valle, Colombia; c/o HEBRON S.A., Tulua, Valle, Colombia; c/o HOTEL LOS VINEDOS, La Union, Valle, Colombia; c/o INDUSTRIAS DEL ESPIRITU SANTO S.A., Malambo, Atlantico, Colombia; c/o INTERNATIONAL FREEZE DRIED S.A., Bogota, Colombia; c/o JOSAFAT S.A., Tulua, Valle, Colombia; c/o SALIM S.A., La Union, Valle, Colombia; c/o TRANSPORTES DEL ESPIRITU SANTO S.A., La Union, Valle, Colombia; c/o FRUTAS DE LA COSTA S.A., Malambo, Atlantico, Colombia; DOB 22 Apr 1962; POB Medellin, Colombia; Cedula No. 51635146 (Colombia) (individual) [SDNT]

LONDONO DE GRAJALES, Gloria Elena (a.k.a. LONDONO ALVAREZ, Gloria Elena), c/o GAD S.A., La Union, Valle, Colombia; c/o ARMAGEDON S.A., La Union, Valle, Colombia; c/o CRETA S.A., La Union, Valle, Colombia; c/o HEBRON S.A., Tulua, Valle, Colombia; c/o HOTEL LOS VINEDOS, La Union, Valle, Colombia; c/o INDUSTRIAS DEL ESPIRITU SANTO S.A., Malambo, Atlantico, Colombia; c/o INTERNATIONAL FREEZE DRIED S.A., Bogota, Colombia; c/o JOSAFAT S.A., Tulua, Valle, Colombia; c/o SALIM S.A., La Union, Valle, Colombia; c/o TRANSPORTES DEL ESPIRITU SANTO S.A., La Union, Valle, Colombia; c/o FRUTAS DE LA COSTA S.A., Malambo, Atlantico, Colombia; DOB 22 Apr 1962; POB Medellin, Colombia; Cedula No. 51635146 (Colombia) (individual) [SDNT]

LONDONO DE UPEGUI, Maria del Carmen, c/o INVERSIONES VILLA PAZ S.A., Cali, Colombia; DOB 16 Oct 1927; Cedula No. 29652262 (Colombia) (individual) [SDNT]

LONDONO ECHEVERRY, Rodrigo (a.k.a. “TIMOCHENKO”; a.k.a. “TIMOLEON JIMENEZ”); DOB 22 Jan 1959; alt. DOB 1 Jan 1949; POB Calarca, Quindio, Colombia; Cedula No. 79149126 (Colombia) (individual) [SDNTK]

LONDONO VELEZ, Roberto, c/o ASESORIAS PROFESIONALES LTDA., Armenia , Colombia; Calle 13 No. 101-50, Armenia, Quindio, Colombia; Calle 19 No. 12-49, Apt. 504, Armenia, Quindio, Colombia; DOB 17 Dec 1958; POB Cali, Colombia; alt. POB Armenia, Quindio, Colombia; citizen Colombia; Cedula No. 7527342 (Colombia); Passport AI520011 (Colombia) (individual) [SDNT]

LONGWOOD FARM, Zimbabwe [ZIMBABWE]

LOPERA LONDONO, Vicente de Jesus, c/o INVERSIONES Y CONSTRUCCIONES VALLE S.A., Calle, Colombia; Cedula No. 1393107 (Colombia) (individual) [SDNT]

LOPEZ ARANGO, Gloria Ines (a.k.a. LOPEZ DE OSPINA, Gloria Ines), Carrera 1K No. 60-71, Cali, Colombia; c/o DISTRIBUIDORA MIGIL CALI S.A., Cali, Colombia; c/o INMOBILIARIA IMTASA LTDA., Cali, Colombia; c/o GENERAL DE NEGOCIOS Y ADMINISTRACION LTDA., Cali, Colombia; DOB 18 Mar 1952; Cedula No. 31237563 (Colombia) (individual) [SDNT]

LOPEZ CHAUX, Jose Miller, c/o CAJA SOLIDARIA, Bogota, Colombia; c/o COPSERVIR LTDA., Bogota, Colombia; c/o MEGAPHARMA LTDA., Bogota, Colombia; Cedula No. 12111058 (Colombia) (individual) [SDNT]

LOPEZ DE OSPINA, Gloria Ines (a.k.a. LOPEZ ARANGO, Gloria Ines), Carrera 1K No. 60-71, Cali, Colombia; c/o DISTRIBUIDORA MIGIL CALI S.A., Cali, Colombia; c/o INMOBILIARIA IMTASA LTDA., Cali, Colombia; c/o GENERAL DE NEGOCIOS Y ADMINISTRACION LTDA., Cali, Colombia; DOB 18 Mar 1952; Cedula No. 31237563 (Colombia) (individual) [SDNT]

LOPEZ PENA, Julio Cesar (a.k.a. “COMBA”; a.k.a. “JULITO”), Carrera 71 No. 10 Bis 103, Cali, Colombia; Avenida 4O No. 6-140, Apt. 1301, Cali, Colombia; Calle 62 No. 4C-18, Cali, Colombia; Carrera 72 No. 10 bis 21, Apt. 303, Cali, Colombia; Carrera 16 No. 21N-02, Armenia, Colombia; DOB 25 Jun 1961; POB Chaparral, Tolima, Colombia; citizen Colombia; Cedula No. 16655942 (Colombia) (individual) [SDNT]

LOPEZ POBLANO DE ARRIOLA, Beatriz Raquel (a.k.a. LOPEZ POBLANO, Beatriz Raquel; a.k.a. LOPEZ PORTILLO, Beatriz Raquel), c/o CHIHUAHUA FOODS S.A. DE C.V., Cuauhtemoc, Mexico; c/o INDIO VITORIO S. DE P.R. DE R.L. DE C.V., Saucillo, Mexico; c/o INMOBILIARIA EL PRESON S.A. DE C.V., Chihuahua, Mexico; Calle Sierra San Diego No. 2502, Chihuahua, Chihuahua, Mexico; DOB 11 Apr 1968; alt. DOB 11 Apr 1971; POB Delicias, Chihuahua, Mexico; citizen Mexico; nationality Mexico (individual) [SDNTK]

LOPEZ POBLANO, Beatriz Raquel (a.k.a. LOPEZ POBLANO DE ARRIOLA, Beatriz Raquel; a.k.a. LOPEZ PORTILLO, Beatriz Raquel), c/o CHIHUAHUA FOODS S.A. DE C.V., Cuauhtemoc, Mexico; c/o INDIO VITORIO S. DE P.R. DE R.L. DE C.V., Saucillo, Mexico; c/o INMOBILIARIA EL PRESON S.A. DE C.V., Chihuahua, Mexico; Calle Sierra San Diego No. 2502, Chihuahua, Chihuahua, Mexico; DOB 11 Apr 1968; alt. DOB 11 Apr 1971; POB Delicias, Chihuahua, Mexico; citizen Mexico; nationality Mexico (individual) [SDNTK]

LOPEZ PORTILLO, Beatriz Raquel (a.k.a. LOPEZ POBLANO DE ARRIOLA, Beatriz Raquel; a.k.a. LOPEZ POBLANO, Beatriz Raquel), c/o CHIHUAHUA FOODS S.A. DE C.V., Cuauhtemoc, Mexico; c/o INDIO VITORIO S. DE P.R. DE R.L. DE C.V., Saucillo, Mexico; c/o INMOBILIARIA EL PRESON S.A. DE C.V., Chihuahua, Mexico; Calle Sierra San Diego No. 2502, Chihuahua, Chihuahua, Mexico; DOB 11 Apr 1968; alt. DOB 11 Apr 1971; POB Delicias, Chihuahua, Mexico; citizen Mexico; nationality Mexico (individual) [SDNTK]

LOPEZ RODRIGUEZ, Cecilia, c/o COMERCIALIZADORA INTERNACIONAL VALLE DE ORO S.A., Cali, Colombia; DOB 4 Jul 1965; Cedula No. 31171066 (Colombia) (individual) [SDNT]

LOPEZ SANDOVAL, Fernando Alberto, c/o DISTRIBUIDORA SANAR DE COLOMBIA S.A., Cali, Colombia; c/o DISTRIEXPORT S.A., Bogota, Colombia; c/o FARMACOOP, Bogota, Colombia; c/o INCOMMERCE S.A., Cali, Colombia; DOB 12 Oct 1975; Cedula No. 94450287 (Colombia); Passport 94450287 (Colombia) (individual) [SDNT]

LOPEZ URREA, Adriana Patricia, c/o COLPHAR S.A., Bogota, Colombia; DOB 29 Feb 1968; Cedula No. 36378461 (Colombia); Passport 36378461 (Colombia) (individual) [SDNT]

LOPEZ VALENCIA, Oscar Alberto, c/o FLEXOEMPAQUES LTDA., Cali, Colombia; Carrera 6A No. 11-43 501-2, Cali, Colombia; c/o PLASTICOS CONDOR LTDA., Cali, Colombia; DOB 30 Aug 1960; Cedula No. 10537943 (Colombia) (individual) [SDNT]

LOPEZ ZAPATA, Hernan de Jesus, c/o AGROPECUARIA LA ROBLEDA S.A., Cali, Colombia; c/o INDUSTRIA MADERERA ARCA LTDA., Cali, Colombia; Cedula No. 16344058 (Colombia) (individual) [SDNT]

LOPEZ, Cesar (a.k.a. ARROYAVE RUIZ, Elkin Alberto), Carrera 9 No. 71D-10, Cali, Colombia; DOB 3 Sep 1968; POB Caucasia, Antioquia, Colombia; Cedula No. 4652820 (Colombia) (individual) [SDNTK]

LOPEZ, Luis (a.k.a. AMEZCUA CONTRERAS, Luis Ignacio; a.k.a. AMEZCUA, Luis; a.k.a. CONTRERAS, Luis C.; a.k.a. LOZANO, Eduardo; a.k.a. OCHOA, Salvador; a.k.a. RODRIGUEZ LOPEZ, Sergio); DOB 22 FEB 64; alt. DOB 21 FEB 64; alt. DOB 21 FEB 74; POB Mexico (individual) [SDNTK]

LOPEZ, Miguel, A., 20 Ironmonger Lane, London EC2V 8EY, United Kingdom; Deputy Chairman, Havana International Bank (individual) [CUBA]

LOPEZ, Quirino Gutierrez, c/o ANGLO CARIBBEAN SHIPPING CO., LTD., 7th Floor, Ibex House, the Minories, London EC3N 1DY, United Kingdom (individual) [CUBA]

LOPRETTO DURAN, Jorge Enrique, Carrera 4 No. 12-20 of. 206, Cartago, Valle, Colombia; c/o INMOBILIARIA EL ESCORIAL LTDA., Cartago, Valle, Colombia; c/o INMOBILIARIA LINARES LTDA., Cartago, Valle, Colombia; c/o INMOBILIARIA PASADENA LTDA., Cartago, Valle, Colombia; c/o VISCAYA LTDA., Cartago, Valle, Colombia; DOB 8 Aug 1962; Cedula No. 16215409 (Colombia); Passport 16215409 (Colombia) (individual) [SDNT]

LOS GNOMOS LTDA., Calle 5 No. 61-82, Apt. 412B, Cali, Valle, Colombia; NIT # 800165614-2 (Colombia) [SDNTK]

LOS VINEDOS DE GETSEMANI S.A. (a.k.a. HOTEL LOS VINEDOS; a.k.a. VALLE LINDO HOSTAL RESTAURANTE), Troncal Del Pacifico Km. 1, La Union, Valle, Colombia; Km. 1 Via a Roldanillo, La Union, Valle, Colombia; NIT # 800108902-6 (Colombia) [SDNT]

LOT 3A OF DETE VALLEY FARM, Lupane, Zimbabwe [ZIMBABWE]

LOTHAIN FARM, Gutu, Zimbabwe [ZIMBABWE]

LOUBIRI, Habib Ben Ahmed (a.k.a. AL-LOUBIRI, Habib Ben Ahmed), via Brughiera, n. 5, Castronno, Varese, Italy; DOB 17 Nov 1961; POB Menzel Temime, Tunisia; nationality Tunisia; Italian Fiscal Code LBRHBB61S17Z352F; Passport M 788439 issued 20 Oct 2001 expires 19 Oct 2006 (individual) [SDGT]

LOUNICI, Djamel; DOB 1 Feb 1962; POB Algiers, Algeria (individual) [SDGT]

LOUTH HOLDINGS, S.A., Panama [CUBA]

LOYALIST VOLUNTEER FORCE (LVF), United Kingdom [SDGT]

LOZADA, Santander (a.k.a. MANCUSO GOMEZ, Salvatore), Calle 64 No. 8A-56, Monteria, Cordoba, Colombia; DOB 17 Aug 1964; POB Monteria, Cordoba, Colombia; Cedula No. 6892624 (Colombia) (individual) [SDNTK]

LOZANO CANCINO DE GUTIERREZ, Maria Gladys (a.k.a. LOZANO DE GUTIERREZ, Gladys), c/o SERVICIOS SOCIALES LTDA., Bogota, Colombia; c/o LABORATORIOS GENERICOS VETERINARIOS DE COLOMBIA S.A., Bogota, Colombia; c/o PENTA PHARMA DE COLOMBIA S.A., Bogota, Colombia; c/o LABORATORIOS KRESSFOR DE COLOMBIA S.A., Bogota, Colombia; c/o INVERSIONES GEELE LTDA., Bogota, Colombia; DOB 19 Oct 48; Cedula No. 41444092 (Colombia); Passport AF673253 (Colombia) (individual) [SDNT]

LOZANO DE GOMEZ, Zilia Helena, c/o LABORATORIOS KRESSFOR DE COLOMBIA S.A., Bogota, Colombia; c/o BLANCO PHARMA S.A., Bogota, Colombia; c/o LABORATORIOS GENERICOS VETERINARIOS DE COLOMBIA S.A., Bogota, Colombia; DOB 18 Oct 1951; Cedula No. 41577886 (Colombia) (individual) [SDNT]

LOZANO DE GUTIERREZ, Gladys (a.k.a. LOZANO CANCINO DE GUTIERREZ, Maria Gladys), c/o SERVICIOS SOCIALES LTDA., Bogota, Colombia; c/o LABORATORIOS GENERICOS VETERINARIOS DE COLOMBIA S.A., Bogota, Colombia; c/o PENTA PHARMA DE COLOMBIA S.A., Bogota, Colombia; c/o LABORATORIOS KRESSFOR DE COLOMBIA S.A., Bogota, Colombia; c/o INVERSIONES GEELE LTDA., Bogota, Colombia; DOB 19 Oct 48; Cedula No. 41444092 (Colombia); Passport AF673253 (Colombia) (individual) [SDNT]

LOZANO ESCOBAR, Enrique Alejandro, c/o GRANJA LA SIERRA LTDA., Cali, Colombia; DOB 04 August 1961; POB Cali, Valle, Colombia; Cedula No. 16657902 (Colombia); Passport 16657902 (Colombia) (individual) [SDNT]

LOZANO, Eduardo (a.k.a. AMEZCUA CONTRERAS, Luis Ignacio; a.k.a. AMEZCUA, Luis; a.k.a. CONTRERAS, Luis C.; a.k.a. LOPEZ, Luis; a.k.a. OCHOA, Salvador; a.k.a. RODRIGUEZ LOPEZ, Sergio); DOB 22 FEB 64; alt. DOB 21 FEB 64; alt. DOB 21 FEB 74; POB Mexico (individual) [SDNTK]

LPK (a.k.a. POPULAR MOVEMENT OF KOSOVO) [BALKANS]

LTTE (a.k.a. ELLALAN FORCE; a.k.a. LIBERATION TIGERS OF TAMIL EELAM; a.k.a. TAMIL TIGERS) [FTO] [SDGT]

LUDHIANVI, Mufti Rashid Ahmad (a.k.a. AHMAD, Mufti Rasheed; a.k.a. LADEHYANOY, Mufti Rashid Ahmad; a.k.a. WADEHYANOY, Mufti Rashid Ahmad), Karachi, Pakistan (individual) [SDGT]

LUGO PALACIOS, Julian Alberto, c/o COOPERATIVA MERCANTIL COLOMBIANA COOMERCOL, Cali, Colombia; c/o COPSERVIR LTDA., Bogota, Colombia; DOB 8 Aug 1972; Cedula No. 94381586 (Colombia); Passport 94381586 (Colombia) (individual) [SDNT]

LUGO VILLAFANE, Jesus Alberto, c/o INVERSIONES Y CONSTRUCCIONES VALLE S.A., Cali, Colombia; Calle 70N No. 14-31, Cali, Colombia; c/o CONCRETOS CALI S.A., Cali, Colombia; c/o INVHERESA S.A., Cali, Colombia; DOB 24 Jun 1951; Cedula No. 14977685 (Colombia) (individual) [SDNT]

LUIS A. HERNANDEZ Z Y CIA. S.C.S. (a.k.a. ASOCIACION TURISTICA INTERNACIONAL S.C.S.), Carrera 35 No. 53-53, Bogota, Colombia; NIT # 890325040-4 (Colombia) [SDNT]

LUKASHENKA, Aleksandr Grigorievich (a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKA, Aleksandr Grigoriyevich (a.k.a. LUKASHENKA, Aleksandr Grigorievich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKA, Aleksandr Hryhoryavich (a.k.a. LUKASHENKA, Aleksandr Grigorievich; a.k.a. LUKASHENKA, Aleksandr Grigoriyevich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKA, Aleksandr Ryhoravich (a.k.a. LUKASHENKA, Aleksandr Grigorievich; a.k.a. LUKASHENKA, Aleksandr Grigoriyevich; a.k.a. LUKASHENKA, Aleksandr Hryhoryavich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKA, Alexander Grigorievich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKA, Alexander Grigoriyevich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKA, Alexander Hryhoryavich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKA, Alexander Ryhoravich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKA, Aliaksandr Grigorievich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKA, Aliaksandr Grigoriyevich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKA, Aliaksandr Hryhoryavich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKA, Aliaksandr Ryhoravich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKA, Alyaksandr Grigorievich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKA, Alyaksandr Grigoriyevich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKA, Alyaksandr Hryhoryavich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKA, Alyaksandr Ryhoravich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKA, Victor Aliaksandravich (a.k.a. LUKASHENKA, Viktar Aliaksandravich; a.k.a. LUKASHENKA, Viktor Aliaksandravich; a.k.a. LUKASHENKO, Victor Aliaksandravich; a.k.a. LUKASHENKO, Viktar Aliaksandravich; a.k.a. LUKASHENKO, Viktor Aliaksandravich); DOB 1976; POB Mogilev, Belarus; Head of Presidential Guard ; Also identified as National Security Advisor (individual) [BELARUS]

LUKASHENKA, Viktar Aliaksandravich (a.k.a. LUKASHENKA, Victor Aliaksandravich; a.k.a. LUKASHENKA, Viktor Aliaksandravich; a.k.a. LUKASHENKO, Victor Aliaksandravich; a.k.a. LUKASHENKO, Viktar Aliaksandravich; a.k.a. LUKASHENKO, Viktor Aliaksandravich); DOB 1976; POB Mogilev, Belarus; Head of Presidential Guard ; Also identified as National Security Advisor (individual) [BELARUS]

LUKASHENKA, Viktor Aliaksandravich (a.k.a. LUKASHENKA, Victor Aliaksandravich; a.k.a. LUKASHENKA, Viktar Aliaksandravich; a.k.a. LUKASHENKO, Victor Aliaksandravich; a.k.a. LUKASHENKO, Viktar Aliaksandravich; a.k.a. LUKASHENKO, Viktor Aliaksandravich); DOB 1976; POB Mogilev, Belarus; Head of Presidential Guard ; Also identified as National Security Advisor (individual) [BELARUS]

LUKASHENKO, Aleksandr Grigorievich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKO, Aleksandr Grigoriyevich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKO, Aleksandr Hryhoryavich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKO, Aleksandr Ryhoravich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKO, Alexander Grigorievich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKO, Alexander Grigoriyevich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKO, Alexander Hryhoryavich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKO, Alexander Ryhoravich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKO, Aliaksandr Grigorievich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKO, Aliaksandr Grigoriyevich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKO, Aliaksandr Hryhoryavich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKO, Aliaksandr Ryhoravich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKO, Alyaksandr Grigorievich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKO, Alyaksandr Grigoriyevich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Hryhoryavich; a.k.a. LUKASHENKO, Alyaksandr Ryhoravich); DOB 30 Aug 1954; POB Kopys, Vitebsk oblast, Belarus; President (individual) [BELARUS]

LUKASHENKO, Alyaksandr Hryhoryavich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Ryhoravich); DOB 30 Aug 1954; POB Kopys, Vitebsk oblast, Belarus; President (individual) [BELARUS]

LUKASHENKO, Alyaksandr Ryhoravich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Hryhoryavich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich); DOB 30 Aug 1954; POB Kopys, Vitebsk oblast, Belarus; President (individual) [BELARUS]

LUKASHENKO, Victor Aliaksandravich (a.k.a. LUKASHENKA, Victor Aliaksandravich; a.k.a. LUKASHENKA, Viktar Aliaksandravich; a.k.a. LUKASHENKA, Viktor Aliaksandravich; a.k.a. LUKASHENKO, Viktar Aliaksandravich; a.k.a. LUKASHENKO, Viktor Aliaksandravich); DOB 1976; POB Mogilev, Belarus; Head of Presidential Guard ; Also identified as National Security Advisor (individual) [BELARUS]

LUKASHENKO, Viktar Aliaksandravich (a.k.a. LUKASHENKA, Victor Aliaksandravich; a.k.a. LUKASHENKA, Viktar Aliaksandravich; a.k.a. LUKASHENKA, Viktor Aliaksandravich; a.k.a. LUKASHENKO, Victor Aliaksandravich; a.k.a. LUKASHENKO, Viktor Aliaksandravich); DOB 1976; POB Mogilev, Belarus; Head of Presidential Guard ; Also identified as National Security Advisor (individual) [BELARUS]

LUKASHENKO, Viktor Aliaksandravich (a.k.a. LUKASHENKA, Victor Aliaksandravich; a.k.a. LUKASHENKA, Viktar Aliaksandravich; a.k.a. LUKASHENKA, Viktor Aliaksandravich; a.k.a. LUKASHENKO, Victor Aliaksandravich; a.k.a. LUKASHENKO, Viktar Aliaksandravich); DOB 1976; POB Mogilev, Belarus; Head of Presidential Guard ; Also identified as National Security Advisor (individual) [BELARUS]

LUKIC, Milan; DOB 6 Sep 1967; POB Foca, Bosnia-Herzegovina; ICTY indictee at large (individual) [BALKANS]

LUKIC, Sredoje; DOB 5 Apr 1961; POB Visegrad, Bosnia-Herzegovina; ICTY indictee at large (individual) [BALKANS]

LUKIC, Sreten; DOB 28 Mar 1955; POB Visegrad municipality, Bosnia and Herzegovina (individual) [BALKANS]

LUKOVIC, Milorad Ulemek 'Legija'; DOB 15 Mar 1968; POB Belgrade, Serbia and Montenegro (individual) [BALKANS]

LUNA CATANO, Monica, c/o COOPDISAN, Bucaramanga, Colombia; c/o COPSERVIR LTDA., Bucaramanga, Colombia; c/o DROGAS LA REBAJA BUCARAMANGA S.A., Bucaramanga, Colombia; DOB 9 Sep 1968; Cedula No. 63456704 (Colombia); Passport 63456704 (Colombia) (individual) [SDNT]

LUNA DE ARREOLA, Guadalupe Rocio (a.k.a. LUNA DE ARRIOLA, Guadalupe Rocio; a.k.a. LUNA RIVERA, Guadalupe Rocio), Mexico; DOB 22 Sep 1970; POB Chihuahua, Chihuahua, Mexico; citizen Mexico; nationality Mexico (individual) [BPI-SDNTK]

LUNA DE ARRIOLA, Guadalupe Rocio (a.k.a. LUNA DE ARREOLA, Guadalupe Rocio; a.k.a. LUNA RIVERA, Guadalupe Rocio), Mexico; DOB 22 Sep 1970; POB Chihuahua, Chihuahua, Mexico; citizen Mexico; nationality Mexico (individual) [BPI-SDNTK]

LUNA RIVERA, Guadalupe Rocio (a.k.a. LUNA DE ARREOLA, Guadalupe Rocio; a.k.a. LUNA DE ARRIOLA, Guadalupe Rocio), Mexico; DOB 22 Sep 1970; POB Chihuahua, Chihuahua, Mexico; citizen Mexico; nationality Mexico (individual) [BPI-SDNTK]

LUPAMAR INVESTMENT COMPANY (a.k.a. INVERSIONES LUPAMAR, S.A.), Panama [CUBA]

LUQMAN, Abu (a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. MOHAMMED, Fazul; a.k.a. MOHAMMED, Fazul Abdilahi; a.k.a. MOHAMMED, Fazul Abdullah; a.k.a. MOHAMMED, Fouad; a.k.a. MUHAMAD, Fadil Abdallah); DOB 25 Aug 1972; alt. DOB 25 Dec 1974; alt. DOB 25 Feb 1974; POB Moroni, Comoros Islands; citizen Comoros alt. Kenya (individual) [SDGT]

LUSHTAKU, Sami; DOB 20 Feb 1961; POB Srbica, Serbia and Montenegro (individual) [BALKANS]

LUZ MERY TRISTAN E.U. (a.k.a. CLUB DEPORTIVO LUZ MERY TRISTAN WORLD CLASS; a.k.a. LUZ MERY TRISTAN WORLD CLASS), Carrera 125 No. 19-275, Cali, Colombia; Diagonal 32 No. 37-125, Cali, Colombia; Holguines Trade Center L-239, Cali, Colombia; Calle 5B 4 No. 37-125, Cali, Colombia; Avenida 6 Norte No. 17-92 Apt. 508, Cali, Colombia; NIT # 805449310-7 (Colombia); alt. NIT # 805012268-9 (Colombia) [SDNT]

LUZ MERY TRISTAN WORLD CLASS (a.k.a. CLUB DEPORTIVO LUZ MERY TRISTAN WORLD CLASS; a.k.a. LUZ MERY TRISTAN E.U.), Carrera 125 No. 19-275, Cali, Colombia; Diagonal 32 No. 37-125, Cali, Colombia; Holguines Trade Center L-239, Cali, Colombia; Calle 5B 4 No. 37-125, Cali, Colombia; Avenida 6 Norte No. 17-92 Apt. 508, Cali, Colombia; NIT # 805449310-7 (Colombia); alt. NIT # 805012268-9 (Colombia) [SDNT]

LYONGAKSAN GENERAL TRADING CORPORATION (a.k.a. KOREA RYONBONG GENERAL CORPORATION; a.k.a. KOREA YONBONG GENERAL CORPORATION), Pot'onggang District, Pyongyang, Korea, North; Rakwon-dong, Pothonggang District, Pyongyang, Korea, North [NPWMD]

M & S SYNDICATE (PVT) LTD., First Floor, Victory House, 88 Robert Mugabe Road, Harare, Zimbabwe; P.O. Box 1275, Harare, Zimbabwe [ZIMBABWE]

M C M Y CIA. LTDA. (a.k.a. HAPPY DAYS), Calle 25 Norte No. 3AN-39, Cali, Colombia; Calle 22 Norte No. 5A-75, Cali, Colombia; NIT # 800204288-2 (Colombia) [SDNT]

M Q CONSULTORES, S.A. DE C.V., Tijuana, Baja California, Mexico; R.F.C. MQC-020611-6Y9 (Mexico) [SDNTK]

M. RODRIGUEZ O. Y CIA. S. EN C.S., Cali, Colombia [SDNT]

M.O.C. ECHEVERRY HERMANOS LTDA., Calle 23AN No. 5AN-21, Cali, Colombia; NIT # 800038241-5 (Colombia) [SDNT]

M.T.T. LTDA. (a.k.a. MAQUINARIA TECNICA Y TIERRAS LTDA.), Carrera 4A No. 16-04, Cartago, Colombia; Carrera 42 No. 5B-81, Cali, Colombia; NIT # 800084233-1 (Colombia) [SDNT]

MAAROUFI, Tarek Ben Habib; DOB 23 Nov 1965; POB Ghardimaou, Tunisia; alt. POB Ghar el-dimaa, Tunisia; nationality Tunisia; Passport E590976 (Tunisia) issued 19 Jun 1987 expires 18 Jun 1992 (individual) [SDGT]

MACEDONIA LTDA., Calle 15 No. 10-52, La Union, Valle, Colombia; NIT # 800121860-9 (Colombia) [SDNT]

MACHAYA, Jaison Max Kokerai; DOB 13 Jun 1952; Member of Parliament for Gokwe Kana (individual) [ZIMBABWE]

MACHERBE, Oscar (a.k.a. BECERRA MIRELES, Martin; a.k.a. BECERRA, Martin; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 64; POB Mexico (individual) [SDNTK]

MACROFARMA S.A., Calle 17 Norte No. 3N-16, Cali, Colombia; NIT # 816005709-6 (Colombia) [SDNT]

MADAN RIVAS, Jorge, Frankfurt, Germany (individual) [CUBA]

MADE, Joseph Mtakwese; DOB 21 Nov 1954; Passport AN000144 (Zimbabwe); Minister of Agriculture (individual) [ZIMBABWE]

MADZONGWE, Edna; DOB 11 Jul 1945; Deputy Speaker of Parliament (individual) [ZIMBABWE]

MAE SAI K.D.P. COMPANY LTD. (a.k.a. BORISAT MAE SAI KHE. DI. PHI. CHAMKAT; a.k.a. MAESAI K.D.P. COMPANY LTD.), 4 Mu 1, Tambon Wiang Phang Kham, Mae Sai district, Chiang Rai, Thailand [SDNTK]

MAESAI K.D.P. COMPANY LTD. (a.k.a. BORISAT MAE SAI KHE. DI. PHI. CHAMKAT; a.k.a. MAE SAI K.D.P. COMPANY LTD.), 4 Mu 1, Tambon Wiang Phang Kham, Mae Sai district, Chiang Rai, Thailand [SDNTK]

MAFLA POLO, Jose Freddy, Carrera 4 No. 11-45 Ofc. 503, Cali, Colombia; Calle 52N No. 5B-111, Cali, Colombia; Carrera 11 No. 46-24 Apt. 201, Cali, Colombia; Carrera 11 No. 46-26, Cali, Colombia; c/o COMPANIA DE FOMENTO MERCANTIL S.A., Cali, Colombia; c/o PARQUE INDUSTRIAL PROGRESO S.A., Yumbo, Colombia; c/o CONSTRUCCIONES PROGRESO DEL PUERTO S.A., Puerto Tejada, Colombia; c/o GEOPLASTICOS S.A., Cali, Colombia; c/o J. FREDDY MAFLA Y CIA. S.C.S., Cali, Colombia; POB Cali, Valle, Colombia; Cedula No. 16689935 (Colombia); Passport 16689935 (Colombia) (individual) [SDNT]

MAFLA, Carlos Obeimar (a.k.a. MAFLA, Carlos Obeymar; f.k.a. OBEYMAR MAFLA, Carlos), c/o MERCAVICOLA LTDA., Cali, Colombia; Carrera 11 No. 9-11, Villagorgon, Candelaria, Colombia; DOB 5 Aug 1955; Cedula No. 6226643 (Colombia) (individual) [SDNT]

MAFLA, Carlos Obeymar (a.k.a. MAFLA, Carlos Obeimar; f.k.a. OBEYMAR MAFLA, Carlos), c/o MERCAVICOLA LTDA., Cali, Colombia; Carrera 11 No. 9-11, Villagorgon, Candelaria, Colombia; DOB 5 Aug 1955; Cedula No. 6226643 (Colombia) (individual) [SDNT]

MAGANA ALCIDES, Ramon (a.k.a. ALCIDES MAGANA, Ramon; a.k.a. ALCIDES MAGANE, Ramon; a.k.a. ALCIDES MAYENA, Ramon; a.k.a. ALCIDEZ MAGANA, Ramon; a.k.a. GONZALEZ QUIONES, Jorge; a.k.a. MAGANA, Jorge; a.k.a. MAGNA ALCIDEDES, Ramon; a.k.a. MATA, Alcides; a.k.a. RAMON MAGANA, Alcedis; a.k.a. RAMON MAGANA, Alcides; a.k.a. ROMERO, Antonio); DOB 4 Sep 57 (individual) [SDNTK]

MAGANA, Jorge (a.k.a. ALCIDES MAGANA, Ramon; a.k.a. ALCIDES MAGANE, Ramon; a.k.a. ALCIDES MAYENA, Ramon; a.k.a. ALCIDEZ MAGANA, Ramon; a.k.a. GONZALEZ QUIONES, Jorge; a.k.a. MAGANA ALCIDES, Ramon; a.k.a. MAGNA ALCIDEDES, Ramon; a.k.a. MATA, Alcides; a.k.a. RAMON MAGANA, Alcedis; a.k.a. RAMON MAGANA, Alcides; a.k.a. ROMERO, Antonio); DOB 4 Sep 57 (individual) [SDNTK]

MAGEN LTDA., Calle 23 No. 19-75, Bogota, Colombia; Carrera 7 No. 17-01 of. 602, Bogota, Colombia; NIT # 830070365-3 (Colombia) [SDNT]

MAGNA ALCIDEDES, Ramon (a.k.a. ALCIDES MAGANA, Ramon; a.k.a. ALCIDES MAGANE, Ramon; a.k.a. ALCIDES MAYENA, Ramon; a.k.a. ALCIDEZ MAGANA, Ramon; a.k.a. GONZALEZ QUIONES, Jorge; a.k.a. MAGANA ALCIDES, Ramon; a.k.a. MAGANA, Jorge; a.k.a. MATA, Alcides; a.k.a. RAMON MAGANA, Alcedis; a.k.a. RAMON MAGANA, Alcides; a.k.a. ROMERO, Antonio); DOB 4 Sep 57 (individual) [SDNTK]

MAHDI, Adil Abdallah; DOB 1945; POB al-Dur, Iraq; Ba'th party regional command chairman, Dhi-Qar (individual) [IRAQ2]

MAHECHA JARAMILLO, Cesar Javier, c/o OBURSATILES S.A., Cali, Colombia; DOB 22 Dec 1967; Cedula No. 16746488 (Colombia); Passport 16746488 (Colombia) (individual) [SDNT]

MAHERBE, Oscar (a.k.a. BECERRA MIRELES, Martin; a.k.a. BECERRA, Martin; a.k.a. MACHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 64; POB Mexico (individual) [SDNTK]

MAHLERBE, Oscar (a.k.a. BECERRA MIRELES, Martin; a.k.a. BECERRA, Martin; a.k.a. MACHERBE, Oscar; a.k.a. MAHERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 64; POB Mexico (individual) [SDNTK]

MAHLERBE, Polo (a.k.a. BECERRA MIRELES, Martin; a.k.a. BECERRA, Martin; a.k.a. MACHERBE, Oscar; a.k.a. MAHERBE, Oscar; a.k.a. MAHLERBE, Oscar; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 64; POB Mexico (individual) [SDNTK]

MAHMOOD, Sultan Bashiruddin (a.k.a. MAHMOOD, Sultan Bashir-Ud-Din; a.k.a. MEHMOOD, Dr. Bashir Uddin; a.k.a. MEKMUD, Sultan Baishiruddin), Street 13, Wazir Akbar Khan, Kabul, Afghanistan; DOB 1937; alt. DOB 1938; alt. DOB 1939; alt. DOB 1940; alt. DOB 1941; alt. DOB 1942; alt. DOB 1943; alt. DOB 1944; alt. DOB 1945; nationality Pakistan (individual) [SDGT]

MAHMOOD, Sultan Bashir-Ud-Din (a.k.a. MAHMOOD, Sultan Bashiruddin; a.k.a. MEHMOOD, Dr. Bashir Uddin; a.k.a. MEKMUD, Sultan Baishiruddin), Street 13, Wazir Akbar Khan, Kabul, Afghanistan; DOB 1937; alt. DOB 1938; alt. DOB 1939; alt. DOB 1940; alt. DOB 1941; alt. DOB 1942; alt. DOB 1943; alt. DOB 1944; alt. DOB 1945; nationality Pakistan (individual) [SDGT]

MAHMOUD, Col. Abdel Hamid (a.k.a. AL-TIKRITI, Abid Hamid Mahmud; a.k.a. HAMMUD, Abed Mahmoud; a.k.a. MAHMUD, Abid Hamid bid Hamid); DOB circa 1957; POB al-Awja, near Tikrit, Iraq; nationality Iraq; Saddam Hussein al-Tikriti's presidential secretary and key advisor (individual) [IRAQ2]

MAHMUD, Abid Hamid bid Hamid (a.k.a. AL-TIKRITI, Abid Hamid Mahmud; a.k.a. HAMMUD, Abed Mahmoud; a.k.a. MAHMOUD, Col. Abdel Hamid); DOB circa 1957; POB al-Awja, near Tikrit, Iraq; nationality Iraq; Saddam Hussein al-Tikriti's presidential secretary and key advisor (individual) [IRAQ2]

MAHOFA, Shuvai Ben; DOB 4 Apr 1941; Passport AD000369 (Zimbabwe); Member of Parliament for Gutu South (individual) [ZIMBABWE]

MAJEED, Abdul (a.k.a. MAJEED, Chaudhry Abdul; a.k.a. MAJID, Abdul); DOB 15 Apr 1939; alt. DOB 1938; nationality Pakistan (individual) [SDGT]

MAJEED, Chaudhry Abdul (a.k.a. MAJEED, Abdul; a.k.a. MAJID, Abdul); DOB 15 Apr 1939; alt. DOB 1938; nationality Pakistan (individual) [SDGT]

MAJID, Abdul (a.k.a. MAJEED, Abdul; a.k.a. MAJEED, Chaudhry Abdul); DOB 15 Apr 1939; alt. DOB 1938; nationality Pakistan (individual) [SDGT]

MAKHTAB AL-KHIDAMAT/AL KIFAH, House no. 125, Street 54, Phase II, Hayatabad, Peshawar, Pakistan [SDGT]

MAKKI, Jaffar Ahmad Abdullah; DOB 1956; POB Sudan; Passport 079925 (Sudan) issued 7 Sep 1992; alt. Passport A553077 (Sudan) issued 4 Apr 2000; IARA South Asia Regional Director (individual) [SDGT]

MALARBE, Oscar (a.k.a. BECERRA MIRELES, Martin; a.k.a. BECERRA, Martin; a.k.a. MACHERBE, Oscar; a.k.a. MAHERBE, Oscar; a.k.a. MAHLERBE, Oscar; a.k.a. MAHLERBE, Polo; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 64; POB Mexico (individual) [SDNTK]

MALERBE, Oscar (a.k.a. BECERRA MIRELES, Martin; a.k.a. BECERRA, Martin; a.k.a. MACHERBE, Oscar; a.k.a. MAHERBE, Oscar; a.k.a. MAHLERBE, Oscar; a.k.a. MAHLERBE, Polo; a.k.a. MALARBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 64; POB Mexico (individual) [SDNTK]

MALERHBE DE LEON, Oscar (a.k.a. BECERRA MIRELES, Martin; a.k.a. BECERRA, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 64; POB Mexico (individual) [SDNTK]

MALERVA, Oscar (a.k.a. BECERRA MIRELES, Martin; a.k.a. BECERRA, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 64; POB Mexico (individual) [SDNTK]

MALHARBE DE LEON, Oscar (a.k.a. BECERRA MIRELES, Martin; a.k.a. BECERRA, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 64; POB Mexico (individual) [SDNTK]

MALHERBE DE LEON, Oscar (a.k.a. BECERRA MIRELES, Martin; a.k.a. BECERRA, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 64; POB Mexico (individual) [SDNTK]

MALHERBE DELEON, Oscar (a.k.a. BECERRA MIRELES, Martin; a.k.a. BECERRA, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALMERBE, Oscar; a.k.a. MELARBE, Oscar; a.k.a. NALHERBE, Oscar; a.k.a. QALHARBE DE LEON, Oscar; a.k.a. VARGAS, Jorge); DOB 10 Jan 64; POB Mexico (individual) [SDNTK]

MALIK, Anas (a.k.a. AL-HASSAN, Anas; a.k.a. AL-HASSAN, Anas Malik Dohan; a.k.a. DOHAN, Anas; a.k.a. DOHAN, Anas Malik), Baghdad, Iraq (individual) [IRAQ2]

MALIK, Anas (a.k.a. AL-HASSAN, Anas; a.k.a. AL-HASSAN, Anas Malik Dohan; a.k.a. DOHAN, Anas; a.k.a. DOHAN, Anas Malik), Jordan (individual) [IRAQ2]

MALIK, Assim Mohammed Rafiq Abdul (a.k.a. ABDULMALIK, Abdul Hameed; a.k.a. RAFIQ, Assem), 14 Almotaz Sad Al Deen Street, Al Nozha, Cairo, Egypt (individual) [IRAQ2]

MALINGA, Joshua; DOB 28 Apr 1944; Deputy Secretary for Disabled and Disadvantaged (individual) [ZIMBABWE]

MALMERBE, Oscar (a.k.a. BECERRA MIRELES, Martin; a.k.a. BECERRA, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MELARBE, Oscar; a.k.a. NALHERBE, Oscar; a.k.a. QALHARBE DE LEON, Oscar; a.k.a. VARGAS, Jorge); DOB 10 Jan 64; POB Mexico (individual) [SDNTK]

MALUT SUGAR FACTORY, Malut, Sudan [SUDAN]

MAMEN, Mohamed Iqbal (a.k.a. MEMON, Iqbal Mohammed; a.k.a. MERCHANT, Iqbal; a.k.a. MIRCHI, Iqbal); DOB 25 Apr 1950; alt. DOB 12 Aug 1959; alt. DOB 13 Feb 1959; POB Bombay, India; Passport C-602033 (India); alt. Passport G-679302 (United Arab Emirates); alt. Passport H-825326 (United Arab Emirates) (individual) [SDNTK]

MAMO, Eliyahu (a.k.a. REVIVO, Simon; a.k.a. TUITO, Daniel; a.k.a. TUITO, David; a.k.a. TUITO, Oded; a.k.a. TVITO, Daniel; a.k.a. TVITO, Oded); DOB 27 December 1959; alt. DOB 29 November 1959; alt. DOB 27 February 1959; alt. DOB 12 December 1959; alt. DOB 25 July 1961; POB Israel (individual) [SDNTK]

MAMOUN DARKAZANLI IMPORT-EXPORT COMPANY (a.k.a. DARKAZANLI COMPANY; a.k.a. DARKAZANLI EXPORT-IMPORT SONDERPOSTEN), Uhlenhorsterweg 34 11, Hamburg, Germany [SDGT]

MAN, Nu (a.k.a. AL MASRI, Abd Al Wakil; a.k.a. ALI, Hassan; a.k.a. AL-NUBI, Abu; a.k.a. ANIS, Abu; a.k.a. ELBISHY, Moustafa Ali; a.k.a. FADHIL, Mustafa Mohamed; a.k.a. FADIL, Mustafa Muhamad; a.k.a. FAZUL, Mustafa; a.k.a. HUSSEIN; a.k.a. JIHAD, Abu; a.k.a. KHALID; a.k.a. MOHAMMED, Mustafa; a.k.a. YUSSRR, Abu); DOB 23 Jun 1976; POB Cairo, Egypt; citizen Egypt alt. Kenya; Kenyan ID No. 12773667; Serial No. 201735161 (individual) [SDGT]

MANAURE S.A. (f.k.a. AGROPECUARIA LA ROBLEDA S.A.), Avenida 2D Norte No. 24N-76, Cali, Colombia; Carrera 61 No. 11-58, Cali, Colombia; NIT # 800160353-2 (Colombia) [SDNT]

MANCO OIL COMPANY [BALKANS]

MANCUSO GOMEZ, Salvatore (a.k.a. LOZADA, Santander), Calle 64 No. 8A-56, Monteria, Cordoba, Colombia; DOB 17 Aug 1964; POB Monteria, Cordoba, Colombia; Cedula No. 6892624 (Colombia) (individual) [SDNTK]

MANDIC, Momcilo 'Momo'; DOB 1 May 1954; POB Kalinovik, Bosnia-Herzegovina; National ID No. JMB 0105954171511 (individual) [BALKANS]

MANDIZHA, Barbara; DOB 24 Oct 1959; Deputy Police Commissioner (individual) [ZIMBABWE]

MANGALA SUGAR FACTORY, Mangala, Sudan [SUDAN]

MANGWANA, Munyaradzi Paul, Box 360, Kadoma, Zimbabwe; No. 1, 5th Avenue, Westview, Kadoma, Zimbabwe; DOB 10 Aug 1961; Passport AD000459 (Zimbabwe); Minister of State for Anti-Corruption and Anti-Monopolies (individual) [ZIMBABWE]

MANGWENDE, Witness; DOB 15 Aug 1946; Former Minister of Transport and Communications ; Deceased (individual) [ZIMBABWE]

MANJARRES FORERO, Baudelino, c/o CAJA SOLIDARIA, Bogota, Colombia; c/o CREDISOL, Bogota, Colombia; c/o FOMENTAMOS, Bogota, Colombia; DOB 24 May 1949; Cedula No. 19073383 (Colombia); Passport 19073383 (Colombia) (individual) [SDNT]

MANJARRES GRANDE, Jorge (a.k.a. MANJARREZ GRANDE, Jorge), c/o GRACADAL S.A., Cali, Colombia; c/o INTERAMERICANA DE CONSTRUCCIONES S.A., Cali, Colombia; c/o SERVIFAR S.A., Cali, Colombia; c/o RADIO UNIDAS F.M. S.A., Cali, Colombia; c/o SONAR F.M. S.A., Cali, Colombia; c/o ADMINISTRADORA DE SERVICIOS VARIOS CALIMA S.A., Cali, Colombia; ASESORIAS DE INGENIERIA EMPRESA UNIPERSONAL, Cali, Colombia; GENERAL DE NEGOCIOS Y ADMINISTRACION LTDA., Cali, Colombia; INVERSIETE S.A., Cali, Colombia; INVERSIONES Y CONSTRUCCIONES COSMOVALLE LTDA., Cali, Colombia; DOB 5 Jul 1959; Cedula No. 16632969 (Colombia); Passport 16632969 (Colombia) (individual) [SDNT]

MANJARREZ GRANDE, Jorge (a.k.a. MANJARRES GRANDE, Jorge), c/o GRACADAL S.A., Cali, Colombia; c/o INTERAMERICANA DE CONSTRUCCIONES S.A., Cali, Colombia; c/o SERVIFAR S.A., Cali, Colombia; c/o RADIO UNIDAS F.M. S.A., Cali, Colombia; c/o SONAR F.M. S.A., Cali, Colombia; c/o ADMINISTRADORA DE SERVICIOS VARIOS CALIMA S.A., Cali, Colombia; ASESORIAS DE INGENIERIA EMPRESA UNIPERSONAL, Cali, Colombia; GENERAL DE NEGOCIOS Y ADMINISTRACION LTDA., Cali, Colombia; INVERSIETE S.A., Cali, Colombia; INVERSIONES Y CONSTRUCCIONES COSMOVALLE LTDA., Cali, Colombia; DOB 5 Jul 1959; Cedula No. 16632969 (Colombia); Passport 16632969 (Colombia) (individual) [SDNT]

MANSOR, Amran (a.k.a. BIN MANSOR, Amran; a.k.a. BIN MANSOR, Henry; a.k.a. BIN MANSOUR, Amran); DOB 25 May 1965; POB Malaysia (individual) [SDGT]

MANYIKA, Elliot, PO Box 300, Bindura, Zimbabwe; DOB 30 Jul 1955; Passport AD000642 (Zimbabwe); Minister Without Portfolio (individual) [ZIMBABWE]

MANYONDA, Kenneth, 6 Speke Avenue, Murambi, Mutare, Zimbabwe; DOB 10 Aug 1934; Central Committee Member (individual) [ZIMBABWE]

MANZPER CORP., Panama [CUBA]

MAPRI DE COLOMBIA LTDA., Calle 12B No. 27-40 Int. 4, Bogota, Colombia; Carrera 129 No. 29-57 Int. 137, Bogota, Colombia; NIT # 830103959-1 (Colombia) [SDNT]

MAQUINARIA TECNICA Y TIERRAS LTDA. (a.k.a. M.T.T. LTDA.), Carrera 4A No. 16-04, Cartago, Colombia; Carrera 42 No. 5B-81, Cali, Colombia; NIT # 800084233-1 (Colombia) [SDNT]

MARC LLC, 780 Le Jeune Road, Suite 516, Miami, FL 33126; 780 NW 42nd Avenue, Suite 516, Miami, FL 33126; 9100 South Dadeland Boulevard, Suite 912, Miami, FL 33156 [SDNT]

MARIA NURY CAICEDO E HIJAS Y CIA S.C.S. (a.k.a. COAGROSUR LTDA.; a.k.a. COMPANIA AGROPECUARIA DEL SUR LTDA.), Calle 114A No. 11A-40, Apt. 302, Bogota, Colombia; NIT # 800107990-1 (Colombia) [SDNT]

MARIELA DE RODRIGUEZ Y CIA. S. EN C. (a.k.a. INVERSIONES MONDRAGON Y CIA. S.C.S.), Calle 12 Norte No. 9N-56/58, Cali, Colombia; NIT # 890328152-1 (Colombia) [SDNT]

MARIELA MONDRAGON DE R. Y CIA. S. EN C., Calle 12 Norte No. 9N-56/58, Cali, Colombia; Avenida 4 Norte No. 8N-67, Cali, Colombia; NIT # 800122032-1 (Colombia) [SDNT]

MARIJANOVIC, Milovan; DOB 14 Mar 1944; POB Kraljevo, Serbia (individual) [BALKANS]

MARIMON SARMIENTO, Nayfe Maria, c/o COPSERVIR LTDA., Bogota, Colombia; c/o LITOPHARMA, Barranquilla, Colombia; Calle 6 No. 8-19, Salgar, Puerto Colombia, Colombia; Cedula No. 22583054 (Colombia) (individual) [SDNT]

MARIN ARANGO, Luciano (a.k.a. “IVAN MARQUEZ”; a.k.a. “IVAN MARQUES”); DOB 16 Jun 1955; POB Florencia, Caqueta, Colombia; Cedula No. 19304877 (Colombia) (individual) [SDNTK]

MARIN ESTRADA Y CIA. S. EN C.S., Carrera 8 No. 32-16, Cali, Colombia; Calle 44 No. 1E-155, Cali, Colombia; Calle 45 No. 1E-86, Cali, Colombia; Apartado Aereo 1175, Cali, Colombia; NIT # 800083114-9 (Colombia) [SDNT]

MARIN GOMEZ, Mallerly Alejandra, c/o LEMOFAR LTDA., Bogota, Colombia; DOB 2 Jul 1982; Cedula No. 52719053 (Colombia); Passport 52719053 (Colombia) (individual) [SDNT]

MARIN MARIN, Pedro Antonio (a.k.a. MARIN, Pedro Antonio; a.k.a. “MANUEL MARULANDA”; a.k.a. “MANUEL MARULANDA VELEZ”; a.k.a. “TIROFIJO”); DOB 13 May 1930; POB Genova, Quindio, Colombia; Cedula No. 4870142 (Colombia) (individual) [SDNTK]

MARIN TOBON, Bernardo Antonio, Carrera 16 No. 13-29 Piso 2, La Union, Valle, Colombia; Calle 14 No. 18-62, La Union, Valle, Colombia; Calle 14 No. 18-64, La Union, Valle, Colombia; Carrera 16 No. 13-31, La Union, Valle, Colombia; c/o ALMACAES S.A., Bogota, Colombia; c/o GRAJALES S.A., La Union, Valle, Colombia; c/o HOTEL LOS VINEDOS, La Union, Valle, Colombia; c/o ILOVIN S.A., Bogota, Colombia; c/o TRANSPORTES DEL ESPIRITU SANTO S.A., La Union, Valle, Colombia; DOB 18 Jan 1954; POB La Union, Valle, Colombia; Cedula No. 6355508 (Colombia) (individual) [SDNT]

MARIN ZAMORA, Jaime Alberto (a.k.a. “BETO MARIN”), c/o PLASTEC LTDA., Colombia; Carrera 13A No. 1A-139, Armenia, Quindio, Colombia; Avenida San Martin 4-46, Bocagrande, Cartagena, Colombia; DOB 22 Jul 1964; POB Quimbaya, Quindio, Colombia; citizen Colombia; Cedula No. 7544228 (Colombia); Passport AF595263 (Colombia); alt. Passport AD380146 (Colombia) (individual) [SDNT]

MARIN, Pedro Antonio (a.k.a. MARIN MARIN, Pedro Antonio; a.k.a. “MANUEL MARULANDA”; a.k.a. “MANUEL MARULANDA VELEZ”; a.k.a. “TIROFIJO”); DOB 13 May 1930; POB Genova, Quindio, Colombia; Cedula No. 4870142 (Colombia) (individual) [SDNTK]

MARINE REGISTRATION COMPANY, Panama [CUBA]

MARINIC, Zoran; DOB 6 Jun 1963; POB Busovaca, Bosnia-Herzegovina; ICTY indictee at large (individual) [BALKANS]

MARISCO (OR MARISCOS) DE FARALLON, S.A., Panama [CUBA]

MARKETING ASSOCIATES CORPORATION, Calle 52 E, Campo Alegre, Panama City, Panama [CUBA]

MARKOVIC, Mirjana; DOB 10 Jul 1942; wife of Slobodan Milosevic (individual) [BALKANS]

MARKOVIC, Radovac; DOB 1946; alt. DOB 1947; Ex-FRY Deputy Minister of Interior (individual) [BALKANS]

MARKU, Ton; DOB 13 Jun 1964 (individual) [BALKANS]

MARMOLEJO LOAIZA, Carlos Julio, c/o INVERSIONES BETANIA LTDA., Cali, Colombia; c/o INVERSIONES AGRICOLAS AVICOLAS Y GANADERAS LA CARMELITA LTDA., Cali, Colombia; c/o INDUSTRIA AVICOLA PALMASECA S.A., Cali, Colombia; c/o COMERCIALIZADORA INTERNACIONAL VALLE DE ORO S.A., Cali, Colombia; DOB 3 May 1958; Cedula No. 16601783 (Colombia) (individual) [SDNT]

MARMOLEJO VACA, Hernan Rodrigo, c/o INVERSIONES INVERVALLE S.A., Cali, Colombia; DOB 2 Jul 1948; Cedula No. 14972401 (Colombia) (individual) [SDNT]

MARONDERA MAPLE LEAF FARM, Zimbabwe [ZIMBABWE]

MARQUEZ CANOVAS, Alberto, c/o SERVICIOS INMOBILIARIOS LTDA., Cali, Colombia; c/o INMOBILIARIA U.M.V. S.A., Cali, Colombia; DOB 27 Oct 1951; Cedula No. 14993019 (Colombia) (individual) [SDNT]

MARSHALL, Donovan (a.k.a. RAMCHARAM, Leebert; a.k.a. RAMCHARAN, Leebert; a.k.a. RAMCHARAN, Liebert); DOB 28 Dec 1959; POB Jamaica (individual) [SDNTK]

MARTIC, Milan; DOB 18 Nov 1954; POB Zagrovic, Croatia; ICTY indictee in custody (individual) [BALKANS]

MARTIN DIAZ, John Edward, c/o AGRO MASCOTAS S.A., Bogota, Colombia; DOB 20 Jun 1974; Cedula No. 79668278 (Colombia); Passport 79668278 (Colombia) (individual) [SDNT]

MARTINEZ CASAS, Carlos Mario, c/o GASOLINERAS SAN FERNANDO S.A. DE C.V., Saucillo, Mexico; c/o INDIO VITORIO S. DE P.R. DE R.L. DE C.V., Saucillo, Mexico; Mexico; DOB 23 Apr 1969; citizen Mexico; nationality Mexico; C.U.R.P. MACC690423HCHRSR08 (Mexico); R.F.C. MACC-690423-D78 (Mexico) (individual) [SDNTK]

MARTINEZ DUARTE, Armando; DOB 12 Aug 1954; nationality Mexico (individual) [SDNTK]

MARTINEZ ORTIZ, Patricia, c/o COPSERVIR LTDA., Bogota, Colombia; c/o SOLUCIONES COOPERATIVAS, Bogota, Colombia; Transv. 44 No. 53-14, Bogota, Colombia; Cedula No. 31914351 (Colombia) (individual) [SDNT]

MARTINEZ PLAZA, Omar Axel, c/o MULTISERVICIOS SIGLO, S.A. DE C.V., Tijuana, Baja California, Mexico; DOB 4 Aug 1972; POB Irapuato, Guanajuato, Mexico (individual) [SDNTK]

MARTINEZ VARGAS, Nhora Isabel, c/o COOPDISAN, Bucaramanga, Colombia; c/o COPSERVIR LTDA., Bucaramanga, Colombia; c/o DROGAS LA REBAJA BUCARAMANGA S.A., Bucaramanga, Colombia; Cedula No. 63312197 (Colombia); Passport 63312197 (Colombia) (individual) [SDNT]

MARTINEZ VASQUEZ, Beatriz Elena, c/o CAJA SOLIDARIA, Bogota, Colombia; c/o COPSERVIR LTDA., Bogota, Colombia; c/o LITOPHARMA, Barranquilla, Colombia; Cedula No. 22437371 (Colombia) (individual) [SDNT]

MARTINEZ, Richard (a.k.a. ROMERO VARELA, Carlos Ali), c/o LOS GNOMOS LTDA., Cali, Colombia; c/o SOCIEDAD DE COMERCIALIZACION INTERNACIONAL POSEIDON S.A., Sabaneta, Antioquia, Colombia; DOB 19 Mar 1959; alt. DOB 19 Feb 1959; Cedula No. 13447909 (Colombia); Passport B0088212 (Venezuela) (individual) [SDNTK]

MARTINOVIC, Vinko; DOB 21 Sep 1963; POB Mostar, Bosnia-Herzegovina; ICTY indictee (individual) [BALKANS]

MARTYR ABU-ALI MUSTAFA BATTALION (a.k.a. HALHUL GANG; a.k.a. HALHUL SQUAD; a.k.a. PALESTINIAN POPULAR RESISTANCE FORCES; a.k.a. PFLP; a.k.a. POPULAR FRONT FOR THE LIBERATION OF PALESTINE; a.k.a. PPRF; a.k.a. RED EAGLE GANG; a.k.a. RED EAGLE GROUP; a.k.a. RED EAGLES) [SDT] [FTO] [SDGT]

MA'RUF, Taha Muhyi-al-Din (a.k.a. MARUF, Taha, Muhyi al-Din); DOB 1924; POB Sulaymaniyah, Iraq; nationality Iraq; Vice President; member of Revolutionary Command Council (individual) [IRAQ2]

MARUF, Taha, Muhyi al-Din (a.k.a. MA'RUF, Taha Muhyi-al-Din); DOB 1924; POB Sulaymaniyah, Iraq; nationality Iraq; Vice President; member of Revolutionary Command Council (individual) [IRAQ2]

MARUMAHOKO, Rueben, 11 Douglas Clark Avenue, The Grange, Harare, Zimbabwe; DOB 4 Apr 1948; Deputy Minister for Home Affairs (individual) [ZIMBABWE]

MARYOL ENTERPRISES INC., c/o EMPRESA DE NAVEGACION MAMBISA, Apartado 543, San Ignacio 104, Havana, Cuba [CUBA]

MARZOOK, Mousa Mohamed Abou (a.k.a. ABU MARZOOK, Mousa Mohammed; a.k.a. ABU-MARZUQ, Dr. Musa; a.k.a. ABU-MARZUQ, Sa'id; a.k.a. ABU-'UMAR; a.k.a. MARZOUK, Musa Abu; a.k.a. MARZUK, Musa Abu); DOB 09 Feb 1951; POB Gaza, Egypt; Passport 92/664 (Egypt); SSN 523-33-8386 (United States); Political Leader in Amman, Jordan and Damascus, Syria for HAMAS (individual) [SDT] [SDGT]

MARZOUK, Musa Abu (a.k.a. ABU MARZOOK, Mousa Mohammed; a.k.a. ABU-MARZUQ, Dr. Musa; a.k.a. ABU-MARZUQ, Sa'id; a.k.a. ABU-'UMAR; a.k.a. MARZOOK, Mousa Mohamed Abou; a.k.a. MARZUK, Musa Abu); DOB 09 Feb 1951; POB Gaza, Egypt; Passport 92/664 (Egypt); SSN 523-33-8386 (United States); Political Leader in Amman, Jordan and Damascus, Syria for HAMAS (individual) [SDT] [SDGT]

MARZUK, Musa Abu (a.k.a. ABU MARZOOK, Mousa Mohammed; a.k.a. ABU-MARZUQ, Dr. Musa; a.k.a. ABU-MARZUQ, Sa'id; a.k.a. ABU-'UMAR; a.k.a. MARZOOK, Mousa Mohamed Abou; a.k.a. MARZOUK, Musa Abu); DOB 09 Feb 1951; POB Gaza, Egypt; Passport 92/664 (Egypt); SSN 523-33-8386 (United States); Political Leader in Amman, Jordan and Damascus, Syria for HAMAS (individual) [SDT] [SDGT]

MARZUKI, Zulkepli (a.k.a. BIN MARZUKI, Zulkifli; a.k.a. BIN ZUKEPLI, Marzuki; a.k.a. MARZUKI, Zulkifli; a.k.a. ZUKIPLI; a.k.a. ZULKIFLI); DOB 3 Jul 1968; POB Malaysia; nationality Malaysia (individual) [SDGT]

MARZUKI, Zulkifli (a.k.a. BIN MARZUKI, Zulkifli; a.k.a. BIN ZUKEPLI, Marzuki; a.k.a. MARZUKI, Zulkepli; a.k.a. ZUKIPLI; a.k.a. ZULKIFLI); DOB 3 Jul 1968; POB Malaysia; nationality Malaysia (individual) [SDGT]

MASPIO CEMENT CORPORATION, P.O. Box 96, Atbara, Sudan [SUDAN]

MASUKU, Angeline; DOB 14 Oct 1936; Matebeleland South Provincial Governor & Politburo Secretary for Gender and Culture (individual) [ZIMBABWE]

MAT TOP, Noordin (a.k.a. THOB, Noordin Mohammad; a.k.a. TOP, Noor Din bin Mohamed; a.k.a. TOP, Noordin Mohamed; a.k.a. TOP, Nordin Mohd); DOB 11 Aug 1968; POB Malaysia; nationality Malaysia (individual) [SDGT]

MATA MATA, Noel (a.k.a. MATTA MATTA, Noel; a.k.a. “EFRAIN GUZMAN”; a.k.a. “EL CHUCHO”); DOB 31 Jan 1935; alt. DOB 30 Jan 1935; POB Chaparral, Tolima, Colombia; Cedula No. 4870352 (Colombia) (individual) [SDNTK]

MATA, Alcides (a.k.a. ALCIDES MAGANA, Ramon; a.k.a. ALCIDES MAGANE, Ramon; a.k.a. ALCIDES MAYENA, Ramon; a.k.a. ALCIDEZ MAGANA, Ramon; a.k.a. GONZALEZ QUIONES, Jorge; a.k.a. MAGANA ALCIDES, Ramon; a.k.a. MAGANA, Jorge; a.k.a. MAGNA ALCIDEDES, Ramon; a.k.a. RAMON MAGANA, Alcedis; a.k.a. RAMON MAGANA, Alcides; a.k.a. ROMERO, Antonio); DOB 4 Sep 57 (individual) [SDNTK]

MATADERO METROPOLITANO LTDA., Km. 3 Via Marsella Parque Industrial, Pereira, Colombia; Carrera 10 No. 34-21 Dosq., Pereira, Colombia; Apartado Aereo 3786, Pereira, Colombia; NIT # 891412986-8 (Colombia) [SDNT]

MATANGA, Godwin; DOB 5 Feb 1962; Passport ZL042663 (Zimbabwe); Deputy Police Commissioner (individual) [ZIMBABWE]

MATERIAS PRIMAS Y SUMINISTROS LTDA. (a.k.a. MATERIAS PRIMAS Y SUMINISTROS S.A.; a.k.a. MATSUM S.A.), Calle 12B No. 28-58, Bogota, Colombia; Calle 39 Bis A No. 27-20, Bogota, Colombia; Calle 39 Bis A No. 27-16, Bogota, Colombia; NIT # 830031863-3 (Colombia) [SDNT]

MATERIAS PRIMAS Y SUMINISTROS S.A. (a.k.a. MATERIAS PRIMAS Y SUMINISTROS LTDA.; a.k.a. MATSUM S.A.), Calle 12B No. 28-58, Bogota, Colombia; Calle 39 Bis A No. 27-20, Bogota, Colombia; Calle 39 Bis A No. 27-16, Bogota, Colombia; NIT # 830031863-3 (Colombia) [SDNT]

MATHEMA, Cain; DOB 28 Jan 1948; Bulawayo Provincial Governor (individual) [ZIMBABWE]

MATHEW, Glenroy (a.k.a. MATTHEW, Glenroy Wingrove; a.k.a. MATTHEWS, Glen Roy; a.k.a. MATTHEWS, Glenroy Vingrove), Frigate Bay, Saint Kitts and Nevis; DOB 26 JUL 58; POB St Kitts and Nevis; Passport 047815 (Saint Kitts and Nevis) (individual) [SDNTK]

MATHUTHU, Sithokozile; Matabeleland North Provincial Governor & Deputy Secretary for Transport and Social Welfare (individual) [ZIMBABWE]

MATIBIRI, Innocent Tonderai; DOB 9 Oct 1968; Deputy Police Commissioner (individual) [ZIMBABWE]

MATIZA, Biggie Joel; DOB 17 Aug 1960; Passport ZA557399 (Zimbabwe); Deputy Minister of Rural Housing and Social Amenities (individual) [ZIMBABWE]

MATONGA, Bright; DOB circa 1969; Deputy Minister of Information and Publicity (individual) [ZIMBABWE]

MATRIX CHURCHILL CORPORATION, 5903 Harper Road, Cleveland, OH 44139 [IRAQ2]

MATSHALAGA, Obert; DOB 21 Apr 1951; Deputy Minister of Foreign Affairs (individual) [ZIMBABWE]

MATSUM S.A. (a.k.a. MATERIAS PRIMAS Y SUMINISTROS LTDA.; a.k.a. MATERIAS PRIMAS Y SUMINISTROS S.A.), Calle 12B No. 28-58, Bogota, Colombia; Calle 39 Bis A No. 27-20, Bogota, Colombia; Calle 39 Bis A No. 27-16, Bogota, Colombia; NIT # 830031863-3 (Colombia) [SDNT]

MATTA MATTA, Noel (a.k.a. MATA MATA, Noel; a.k.a. “EFRAIN GUZMAN”; a.k.a. “EL CHUCHO”); DOB 31 Jan 1935; alt. DOB 30 Jan 1935; POB Chaparral, Tolima, Colombia; Cedula No. 4870352 (Colombia) (individual) [SDNTK]

MATTHEW, Glenroy Wingrove (a.k.a. MATHEW, Glenroy; a.k.a. MATTHEWS, Glen Roy; a.k.a. MATTHEWS, Glenroy Vingrove), Frigate Bay, Saint Kitts and Nevis; DOB 26 JUL 58; POB St Kitts and Nevis; Passport 047815 (Saint Kitts and Nevis) (individual) [SDNTK]

MATTHEW, Karen, c/o Freight Movers International, Basseterre, Saint Kitts and Nevis; DOB 27 Jan 1964; POB St Vincent & Grenadines (individual) [SDNTK]

MATTHEWS, Glen Roy (a.k.a. MATHEW, Glenroy; a.k.a. MATTHEW, Glenroy Wingrove; a.k.a. MATTHEWS, Glenroy Vingrove), Frigate Bay, Saint Kitts and Nevis; DOB 26 JUL 58; POB St Kitts and Nevis; Passport 047815 (Saint Kitts and Nevis) (individual) [SDNTK]

MATTHEWS, Glenroy Vingrove (a.k.a. MATHEW, Glenroy; a.k.a. MATTHEW, Glenroy Wingrove; a.k.a. MATTHEWS, Glen Roy), Frigate Bay, Saint Kitts and Nevis; DOB 26 JUL 58; POB St Kitts and Nevis; Passport 047815 (Saint Kitts and Nevis) (individual) [SDNTK]

MAXITIENDAS TODO EN UNO, Avenida Guadalupe con Avenida Simon Bolivar, Cali, Colombia [SDNT]

MAY ENGINEERING COMPANY, C/O ENGINEERING EQUIPMENT CORPORATION, P.O. Box 97, Khartoum, Sudan [SUDAN]

MAZUERO ERAZO, Hugo, c/o SOCIEDAD CONSTRUCTORA LA CASCADA S.A., Cali, Colombia; c/o INVERSIONES SANTA LTDA., Cali, Colombia; c/o GRUPO SANTA LTDA., Cali, Colombia; DOB 17 Jul 36; alt. DOB 1945; alt. DOB 14 Jul 1936; Cedula No. 2445590 (Colombia) (individual) [SDNT]

MAZUTI, Abdelghani (a.k.a. MAZWATI, Abdelghani; a.k.a. MZOUDI, Abdelghani), Op de Wisch 15, Hamburg 21149, Germany; Marienstrasse 54, Hamburg, Germany; DOB 6 Dec 1972; POB Marrakech, Morocco; citizen Morocco; Moroccan Personal ID No. E 427689 (Morocco) issued 20 Mar 2001; Passport M271392 (Morocco) issued 04 Dec 2000; alt. Passport F 879567 (Morocco) issued 29 Apr 1992 (individual) [SDGT]

MAZWATI, Abdelghani (a.k.a. MAZUTI, Abdelghani; a.k.a. MZOUDI, Abdelghani), Op de Wisch 15, Hamburg 21149, Germany; Marienstrasse 54, Hamburg, Germany; DOB 6 Dec 1972; POB Marrakech, Morocco; citizen Morocco; Moroccan Personal ID No. E 427689 (Morocco) issued 20 Mar 2001; Passport M271392 (Morocco) issued 04 Dec 2000; alt. Passport F 879567 (Morocco) issued 29 Apr 1992 (individual) [SDGT]

MEADOWBROOK INVESTMENTS LIMITED, 44 Upper Belgrave Road, Clifton, Bristol BS8 2XN, United Kingdom; Registered Charity No. 05059698 (United Kingdom) [SDGT]

MEDIA MARKETING E.U., Avenida 4N No. 6-67 of. 610, Cali, Colombia; NIT # 805019234-0 (Colombia) [SDNT]

MEDINA CARACAS, Tomas (a.k.a. CASTILLO CORTES, Miguel Angel; a.k.a. MOLINA CARACAS, Tomas; a.k.a. “ARTURO GUEVARA”; a.k.a. “EL PATRON”; a.k.a. “JORGE MEDINA”; a.k.a. “NEGRO ACACIO”); DOB 15 Mar 1965; POB Lopez De Micay, Cauca, Colombia (individual) [SDNTK]

MEDINA CASTILLO, Sandro, c/o SU SERVICIO SOCIEDAD LTDA., Bogota, Colombia; c/o LITOPHARMA, Barranquilla, Colombia; Cedula No. 8538055 (Colombia) (individual) [SDNT]

MEDINA FAJARDO, Yovani (a.k.a. MEDINA FAJARDO, Yovany), c/o CODISA, Bogota, Colombia; c/o FARMACOOP, Bogota, Colombia; DOB 21 Nov 1969; Cedula No. 11317493 (Colombia); Passport 11317493 (Colombia) (individual) [SDNT]

MEDINA FAJARDO, Yovany (a.k.a. MEDINA FAJARDO, Yovani), c/o CODISA, Bogota, Colombia; c/o FARMACOOP, Bogota, Colombia; DOB 21 Nov 1969; Cedula No. 11317493 (Colombia); Passport 11317493 (Colombia) (individual) [SDNT]

MEDINA SAENZ, Enrique (a.k.a. GAXIOLA MEDINA, Rigoberto; a.k.a. MORALES GUERRERO, Juan Antonio; a.k.a. SAENZ MEDINA, Enrique), Calle Clavel No. 1406, Colonia Margarita, Culiacan, Sinaloa, Mexico; Hermosillo, Sonora, Mexico; DOB 27 Sep 1950; POB Sinaloa, Mexico; citizen Mexico; nationality Mexico; R.F.C. GAMR-501027 (Mexico) (individual) [SDNTK]

MEDINA, Ana Maria (a.k.a. MEDINA, Anita), Panama (individual) [CUBA]

MEDINA, Anita (a.k.a. MEDINA, Ana Maria), Panama (individual) [CUBA]

MEED INTERNATIONAL LIMITED, 3 Mandeville Place, London, United Kingdom [IRAQ2]

MEFLA MOSQUERA, Aristides, c/o FARMALIDER S.A., Cali, Colombia; Cedula No. 6039981 (Colombia) (individual) [SDNT]

MEGA DOLAR MULTISERVICIOS (a.k.a. MEGA DOLAR, S.A. DE C.V.), Local C-25 Plaza Rio, Colonia Zona Rio, Tijuana, Baja California, Mexico; Av. Via Rapida 25-E, Colonia Zona Rio, Tijuana, Baja California, Mexico; R.F.C. MDO-940316-RTA (Mexico) [SDNTK]

MEGA DOLAR, S.A. DE C.V. (a.k.a. MEGA DOLAR MULTISERVICIOS), Local C-25 Plaza Rio, Colonia Zona Rio, Tijuana, Baja California, Mexico; Av. Via Rapida 25-E, Colonia Zona Rio, Tijuana, Baja California, Mexico; R.F.C. MDO-940316-RTA (Mexico) [SDNTK]

MEGAPHARMA LTDA. (a.k.a. COMERCOOP; a.k.a. COOPERATIVA HUILENSE DE COMERCIALIZACION COMERCOOP LTDA.; a.k.a. COOPERATIVA MULTIACTIVA DE DISTRIBUCION MEGAPHARMA LTDA.), Calle 15 No. 31-99 Bodega 5 Parque Industrial Acerosa, Yumbo, Colombia; Carrera 26 No. 62-42, Bogota, Colombia; Diag. 57A No. 24-84, Bogota, Colombia; NIT # 813002466-7 (Colombia) [SDNT]

MEHMOOD, Dr. Bashir Uddin (a.k.a. MAHMOOD, Sultan Bashiruddin; a.k.a. MAHMOOD, Sultan Bashir-Ud-Din; a.k.a. MEKMUD, Sultan Baishiruddin), Street 13, Wazir Akbar Khan, Kabul, Afghanistan; DOB 1937; alt. DOB 1938; alt. DOB 1939; alt. DOB 1940; alt. DOB 1941; alt. DOB 1942; alt. DOB 1943; alt. DOB 1944; alt. DOB 1945; nationality Pakistan (individual) [SDGT]

MEIR'S YOUTH (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

MEJAKIC, Zeljko; DOB 2 Aug 1964; POB Petrov Gaj, Bosnia-Herzegovina; ICTY indictee at large (individual) [BALKANS]

MEJIA ARISTIZABAL, Carlos Alberto, c/o ADMACOOP, Bogota, Colombia; c/o CODISA, Bogota, Colombia; c/o DROCARD S.A., Bogota, Colombia; DOB 17 Jun 1957; Cedula No. 10162459 (Colombia); Passport 10162459 (Colombia) (individual) [SDNT]

MEJIA MAGNANI, Jhon (a.k.a. MEJIA MAGNANI, John Ivan; a.k.a. MEJIA MAGNANI, John Yvan), c/o AERO CONTINENTE S.A., Lima, Peru; c/o SISTEMA DE DISTRIBUCION MUNDIAL S.A.C.; DOB 20 Apr 1966; LE Number 07541863 (Peru) (individual) [BPI-SDNTK]

MEJIA MAGNANI, John Ivan (a.k.a. MEJIA MAGNANI, Jhon; a.k.a. MEJIA MAGNANI, John Yvan), c/o AERO CONTINENTE S.A., Lima, Peru; c/o SISTEMA DE DISTRIBUCION MUNDIAL S.A.C.; DOB 20 Apr 1966; LE Number 07541863 (Peru) (individual) [BPI-SDNTK]

MEJIA MAGNANI, John Yvan (a.k.a. MEJIA MAGNANI, Jhon; a.k.a. MEJIA MAGNANI, John Ivan), c/o AERO CONTINENTE S.A., Lima, Peru; c/o SISTEMA DE DISTRIBUCION MUNDIAL S.A.C.; DOB 20 Apr 1966; LE Number 07541863 (Peru) (individual) [BPI-SDNTK]

MEK (a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NATIONAL COUNCIL OF RESISTANCE OF IRAN; a.k.a. NCRI; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN) [FTO] [SDGT]

MEK (a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. representative offices and all other offices worldwide [FTO] [SDGT]

MEK (a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. press office and all other offices worldwide [FTO] [SDGT]

MEK (a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. press office and all other offices worldwide [FTO] [SDGT]

MEKMUD, Sultan Baishiruddin (a.k.a. MAHMOOD, Sultan Bashiruddin; a.k.a. MAHMOOD, Sultan Bashir-Ud-Din; a.k.a. MEHMOOD, Dr. Bashir Uddin), Street 13, Wazir Akbar Khan, Kabul, Afghanistan; DOB 1937; alt. DOB 1938; alt. DOB 1939; alt. DOB 1940; alt. DOB 1941; alt. DOB 1942; alt. DOB 1943; alt. DOB 1944; alt. DOB 1945; nationality Pakistan (individual) [SDGT]

MELARBE, Oscar (a.k.a. BECERRA MIRELES, Martin; a.k.a. BECERRA, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. NALHERBE, Oscar; a.k.a. QALHARBE DE LEON, Oscar; a.k.a. VARGAS, Jorge); DOB 10 Jan 64; POB Mexico (individual) [SDNTK]

MELFI MARINE CORPORATION S.A. (a.k.a. MELFI MARINE S.A.), Calle Oficios No. 410 e/Luz y Acosta, La Habana Vieja, Habana, Cuba; Anillo del Puerto e/Pote y Linea del Ferrocarril, La Habana Vieja, Habana, Cuba; Oficios 104 Havana Vieja, Havana, Cuba; Oficina 7, Edificio Senorial, Calle 50 Apartado 31, Panama City 5, Panama [CUBA]

MELFI MARINE S.A. (a.k.a. MELFI MARINE CORPORATION S.A.), Calle Oficios No. 410 e/Luz y Acosta, La Habana Vieja, Habana, Cuba; Anillo del Puerto e/Pote y Linea del Ferrocarril, La Habana Vieja, Habana, Cuba; Oficios 104 Havana Vieja, Havana, Cuba; Oficina 7, Edificio Senorial, Calle 50 Apartado 31, Panama City 5, Panama [CUBA]

MELGOZA TORRES, Martin, c/o FARMACIA VIDA SUPREMA, S.A. DE C.V., Boulevard Agua Caliente 1381, Revolucion, Tijuana, Baja California Norte 22400, Mexico; Paseo Coronado No. 964, Fraccionamiento El Mirador, Tijuana, Baja California, Mexico; DOB 11 Nov 1946; POB Villa de Alvarez, Colima, Mexico; Credencial electoral 073855815496 (Mexico); R.F.C. METM-46111-BF4 (Mexico) (individual) [SDNTK]

MEMON, Iqbal Mohammed (a.k.a. MAMEN, Mohamed Iqbal; a.k.a. MERCHANT, Iqbal; a.k.a. MIRCHI, Iqbal); DOB 25 Apr 1950; alt. DOB 12 Aug 1959; alt. DOB 13 Feb 1959; POB Bombay, India; Passport C-602033 (India); alt. Passport G-679302 (United Arab Emirates); alt. Passport H-825326 (United Arab Emirates) (individual) [SDNTK]

MENDEZ DIAZ, Marlen, c/o COOPDISAN, Bucaramanga, Colombia; c/o DROGAS LA REBAJA BUCARAMANGA S.A., Bucaramanga, Colombia; Cedula No. 37813841 (Colombia); Passport 37813841 (Colombia) (individual) [SDNT]

MENDEZ SALAZAR, John Jairo, Calle 1 No. 56-109 Casa 32, Cali, Colombia; Carrera 42 No. 5B-81, Cali, Colombia; c/o MAQUINARIA TECNICA Y TIERRAS LTDA., Cali, Colombia; Cedula No. 98515360 (Colombia); Passport 98515360 (Colombia) (individual) [SDNT]

MENDOZA RODRIGUEZ, Ana Janeth, c/o ADMACOOP, Bogota, Colombia; c/o CREDISOL, Bogota, Colombia; DOB 6 Jul 1963; Cedula No. 51721267 (Colombia); Passport 51721267 (Colombia) (individual) [SDNT]

MENDOZA ROJAS, Monica Jazmin, c/o COOPDISAN, Bucaramanga, Colombia; c/o COPSERVIR LTDA., Bogota, Colombia; c/o SEGECOL LTDA., Bucaramanga, Colombia; Cedula No. 37728726 (Colombia) (individual) [SDNT]

MERCADO DE LA HOZ, Manuel Enrique, c/o COPSERVIR LTDA., Bogota, Colombia; Cedula No. 72134380 (Colombia) (individual) [SDNT]

MERCAVICOLA LTDA., Calle 47AN, Cali, Colombia; Calle 34 No. 5A-25, Cali, Colombia; NIT # 800086338-5 (Colombia) [SDNT]

MERCHAN PERILLA, Hilda Nelly, Carrera 37A No. 28A-40 Apt. 202, Bogota, Colombia; c/o INTERCONTINENTAL DE AVIACION S.A., Bogota, Colombia; DOB 15 May 1950; POB Bogota, Colombia; Cedula No. 41474108 (Colombia); Passport AH557121 (Colombia); alt. Passport 41474108 (Colombia); alt. Passport AF034673 (Colombia) (individual) [SDNT]

MERCHAN, Maria Isabel, c/o CAJA SOLIDARIA, Bogota, Colombia; c/o COPSERVIR LTDA., Bogota, Colombia; c/o FARMAVISION LTDA., Bogota, Colombia; Calle 50A Sur No. 88-43, Bogota, Colombia; Cedula No. 41701657 (Colombia) (individual) [SDNT]

MERCHANT, Iqbal (a.k.a. MAMEN, Mohamed Iqbal; a.k.a. MEMON, Iqbal Mohammed; a.k.a. MIRCHI, Iqbal); DOB 25 Apr 1950; alt. DOB 12 Aug 1959; alt. DOB 13 Feb 1959; POB Bombay, India; Passport C-602033 (India); alt. Passport G-679302 (United Arab Emirates); alt. Passport H-825326 (United Arab Emirates) (individual) [SDNTK]

MERCURIUS IMPORT/EXPORT COMPANY, PANAMA, S.A., Calle C, Edificio 18, Box 4048, Colon Free Zone, Panama [CUBA]

MESBAH ENERGY COMPANY (a.k.a. “MEC”), 77 Armaghan Gharbi Street, Valiasr Blve, Tehran, Iran [NPWMD]

MEZHDUNARODNYJ BLAGOTVORITEL'NYJ FOND (a.k.a. AL BIR AL DAWALIA; a.k.a. BENEVOLENCE INTERNATIONAL FOUNDATION; a.k.a. BIF; a.k.a. BIF-USA), Bashir Safar Ugli 69, Baku, Azerbaijan; 69 Boshir Safaroglu St., Baku, Azerbaijan; Sarajevo, Bosnia and Herzegovina; Zenica, Bosnia and Herzegovina; 3 King Street, South Waterloo, Ontario, N2J 3Z6, Canada; P.O. Box 1508 Station B, Mississauga, Ontario, L4Y 4G2, Canada; 2465 Cawthra Rd., #203, Mississauga, Ontario, L5A 3P2, Canada; Ottawa, Canada; Grozny, Chechnya, Russia; 91 Paihonggou, Lanzhou, Gansu, China; Hrvatov 30, 41000, Zagreb, Croatia; Makhachkala, Daghestan, Russia; Duisi, Georgia; Tbilisi, Georgia; 8820 Mobile Avenue, 1A, Oak Lawn, IL 60453; (Formerly located at) 20-24 Branford Place, Suite 705, Newark, NJ 07102; (Formerly located at) 9838 S. Roberts Road, Suite 1-W, Palos Hills, IL 60465; P.O. Box 548, Worth, IL 60482; Nazran, Ingushetia, Russia; Burgemeester Kessensingel 40, Maastricht, Netherlands; House 111, First Floor, Street 64, F-10/3, Islamabad, Pakistan; Azovskaya 6, km. 3, off. 401, Moscow, Russia; P.O. Box 1055, Peshawar, Pakistan; Ulitsa Oktyabr'skaya, dom. 89, Moscow, Russia; P.O. Box 1937, Khartoum, Sudan; P.O. Box 7600, Jeddah 21472, Saudi Arabia; P.O. Box 10845, Riyadh 11442, Saudi Arabia; Dushanbe, Tajikistan; United Kingdom; Afghanistan; Bangladesh; Bosnia and Herzegovina; Gaza Strip, undetermined; Yemen; U.S. FEIN 36-3823186 [SDGT]

MICB (a.k.a. MYANMA INVESTMENT AND COMMERCIAL BANK; a.k.a. MYANMAR INVESTMENT AND COMMERCIAL BANK), 170/176 Bo Aung Kyaw Street, Botataung Township, Yangon, Burma; SWIFT/BIC MYANMMM1 [BURMA]

MIDCO FINANCE S.A. (a.k.a. MIDCO FINANCIAL S.A.; a.k.a. MONTANA MANAGEMENT INC.), 57 Rue du Rhone, CH-1204 Geneva, Switzerland; Panama; U.S. FEIN CH-660-0-469-982-0 (United States); Switzerland [IRAQ2]

MIDCO FINANCIAL S.A. (a.k.a. MIDCO FINANCE S.A.; a.k.a. MONTANA MANAGEMENT INC.), 57 Rue du Rhone, CH-1204 Geneva, Switzerland; Panama; U.S. FEIN CH-660-0-469-982-0 (United States); Switzerland [IRAQ2]

MIDZI, Amos Bernard Muvenga; DOB 4 July 1952; Minister of Mines and Mining Development (individual) [ZIMBABWE]

MIGA-MALAYSIAN SWISS, GULF AND AFRICAN CHAMBER (f.k.a. GULF OFFICE ASSOC. PER LO SVILUPPO COMM. IND. E TURIS. FRA GLI STATI ARABI DEL GOLFO E LA SVIZZERA), Via Maggio 21, 6900 Lugano TI, Switzerland [SDGT]

MIGIL (a.k.a. COOPERATIVA MULTIACTIVA DE EMPLEADOS DE SUPERMERCADOS Y AFINES; a.k.a. DISMERCOOP; f.k.a. DISTRIBUIDORA MIGIL BOGOTA LTDA.; f.k.a. DISTRIBUIDORA MIGIL CALI S.A.; f.k.a. DISTRIBUIDORA MIGIL LTDA.; f.k.a. GRACADAL S.A.), Calle 5C No. 41-30, Cali, Colombia; Carrera 26 No. 5B-65, Cali, Colombia; Carrera 30 No. 5-12, Cali, Colombia; NIT # 805003637-5 (Colombia) [SDNT]

MIGIL (f.k.a. DISTRIBUIDORA MIGIL BOGOTA LTDA.; a.k.a. DISTRIBUIDORA MIGIL CALI S.A.; a.k.a. DISTRIBUIDORA MIGIL LTDA.), Calle 5C 41-30, Cali, Colombia; Carrera 30-5-12, Cali, Colombia; Carrera 26 5B-65, Cali, Colombia [SDNT]

MIJARES TRANCOSO, Gilberto, Calle Luis Echeverria 6329-B, Infonavit Presidentes, Tijuana, Baja California, Mexico; P.O. Box 43440, San Ysidro, California 92173; c/o Distribuidora Imperial De Baja California, S.A. de C.V., Tijuana, Baja California, Mexico; c/o ADP, S.C., Tijuana, Baja California, Mexico; DOB 4 Feb 1951; POB Vicente Guerrero, Durango; Driver's License No. 210082884 (Mexico); Passport ASDI1418 (Mexico) (individual) [SDNTK]

MILITARY COMMERCIAL CORPORATION, P.O. Box 221, Khartoum, Sudan [SUDAN]

MILLAN BONILLA, German, c/o CONSTRUVIDA S.A., Cali, Colombia; DOB 1 Feb 1952; Cedula No. 14995885 (Colombia) (individual) [SDNT]

MILLAN SALAS, Jaime, c/o VALORCORP S.A., Bogota, Colombia; c/o ALERO S.A., Cali, Colombia; Cedula No. 16589582 (Colombia) (individual) [SDNT]

MILOSEVIC, Borislav; DOB 1936; brother of Slobodan Milosevic (individual) [BALKANS]

MILOSEVIC, Dragomir; DOB 4 Feb 1942; POB Murgas, Bosnia-Herzegovina; ICTY indictee (individual) [BALKANS]

MILOSEVIC, Marija; DOB 1965; daughter of Slobodan Milosevic (individual) [BALKANS]

MILOSEVIC, Marko; DOB 2 Jul 1974; son of Slobodan Milosevic (individual) [BALKANS]

MILOSEVIC, Milanka; sister-in-law of Slobodan Milosevic (individual) [BALKANS]

MILOSEVIC, Slobodan; DOB 20 Aug 1941; POB Pozarevac, Serbia and Montenegro; ex-FRY President; ICTY indictee in custody (individual) [BALKANS]

MILUTINOVIC, Milan; DOB 19 Dec 1942; POB Belgrade, Serbia and Montenegro; ex-President of Republika Srpska; ICTY indictee in custody (individual) [BALKANS]

MININ, Leonid (a.k.a. BLAVSTEIN; a.k.a. BLUVSHTEIN; a.k.a. BLYAFSHTEIN; a.k.a. BLYUFSHTEIN; a.k.a. BLYUVSHTEIN; a.k.a. BRESLAN, Wolf; a.k.a. BRESLAN, Wulf; a.k.a. KERLER, Vladimir Abramovich; a.k.a. OSOLS, Igor; a.k.a. POPELA, Vladimir Abramovich; a.k.a. POPELAVESKI, Vladimir Abramovich; a.k.a. POPELO, Vladimir Abramovich; a.k.a. POPELOVESKI, Vladimir Abramovich; a.k.a. POPILOVESKI, Vladimir Abramovich); DOB 14 DEC 1947; alt. DOB 18 OCT 1946; nationality Ukraine; Passport 5280007248D (Germany); alt. Passport 18106739D (Germany); alt. Passport 6019832 (Israel) issued 6 NOV 1994 expires 5 NOV 1999; alt. Passport 9001689 (Israel) issued 23 JAN 1997 expires 22 JAN 2002; alt. Passport 90109052 (Israel) issued 26 NOV 1997; alt. Passport KI0861177 (Russia); alt. Passport 65118 (Bolivia); Owner, Exotic Tropical Timber Enterprise (individual) [LIBERIA]

MIRA (a.k.a. AL-HARAKAT AL-ISLAMIYAH LIL-ISLAH; a.k.a. AL-ISLAH; a.k.a. ISLAMIC MOVEMENT FOR REFORM; a.k.a. MOVEMENT FOR ISLAMIC REFORM IN ARABIA; a.k.a. MOVEMENT FOR REFORM IN ARABIA), BM Box: MIRA, London WC1N 3XX, United Kingdom; 21 Blackstone Road, London NW2 6DA, United Kingdom; Safiee Suite, EBC House, Townsend Lane, London NW9 8LL, United Kingdom; UK Company Number 03834450 (United Kingdom) [SDGT]

MIRA E.U., Avenida 8 Norte No. 10-91 Ofc. 301, Cali, Colombia; NIT # 805009267-0 (Colombia) [SDNT]

MIRA VALENCIA, Adriana Patricia, Carrera 4 No. 11-45 Ofc. 503, Cali, Colombia; Avenida Piedra Grande, Casa 45, Cali, Colombia; c/o CONSTRUCCIONES PROGRESO DEL PUERTO S.A., Puerto Tejada, Colombia; c/o UNIDAS S.A., Cali, Colombia; c/o MIRA E.U., Cali, Colombia; DOB 07 May 1970; POB Cali, Valle, Colombia; Cedula No. 66810589 (Colombia); Passport 66810589 (Colombia) (individual) [SDNT]

MIRALUNA LTDA. (f.k.a. EL PASO LTDA.), Carrera 4 No. 12-41 of. 1403, 1501, Cali, Colombia; NIT # 890328836-9 (Colombia) [SDNT]

MIRCHI, Iqbal (a.k.a. MAMEN, Mohamed Iqbal; a.k.a. MEMON, Iqbal Mohammed; a.k.a. MERCHANT, Iqbal); DOB 25 Apr 1950; alt. DOB 12 Aug 1959; alt. DOB 13 Feb 1959; POB Bombay, India; Passport C-602033 (India); alt. Passport G-679302 (United Arab Emirates); alt. Passport H-825326 (United Arab Emirates) (individual) [SDNTK]

MISHAAL, Khalid, Damascus, Syria; DOB 1956; POB Silwad, Ramallah, West Bank (Palestinian Authority) (individual) [SDGT]

MKO (a.k.a. MEK; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NATIONAL COUNCIL OF RESISTANCE OF IRAN; a.k.a. NCRI; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN) [FTO] [SDGT]

MKO (a.k.a. MEK; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. representative offices and all other offices worldwide [FTO] [SDGT]

MKO (a.k.a. MEK; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. press office and all other offices worldwide [FTO] [SDGT]

MKO (a.k.a. MEK; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. press office and all other offices worldwide [FTO] [SDGT]

MLADIC, Ratko; DOB 12 Mar 1943; POB Bozinovici, Bosnia-Herzegovina; ICTY indictee at large (individual) [BALKANS]

MNANGAGWA, Emmerson Dambudzo; DOB 15 Sep 1946; Passport AD00060 (Zimbabwe); Minister of Rural Housing and Social Amenities (individual) [ZIMBABWE]

MNASRI, Fethi Ben Rebai (a.k.a. FETHI, Alic; a.k.a. “ABU OMAR”; a.k.a. “AMOR”), Via Toscana n.46, Bologna, Italy; Via di Saliceto n.51/9, Bologna, Italy; DOB 6 Mar 1969; POB Nefza, Tunisia (individual) [SDGT]

MOA NICKEL SA, Cuba [CUBA]

MOCHTAR, Yasin Mahmud (a.k.a. ABU MUAMAR; a.k.a. MUBAROK, Muhamad; a.k.a. SYAWAL, Muhammad; a.k.a. SYAWAL, Yassin; a.k.a. YASIN, Abdul Hadi; a.k.a. YASIN, Salim; a.k.a. “ABU SETA”; a.k.a. “MAHMUD”); DOB circa 1972; nationality Indonesia (individual) [SDGT]

MODERN ELECTRONIC COMPANY, Khartoum, Sudan [SUDAN]

MODERN LAUNDRY BLUE FACTORY (a.k.a. THE MODERN LAUNDRY BLUE FACTORY), P.O. Box 2241, Khartoum, Sudan [SUDAN]

MODERN PLASTIC & CERAMICS INDUSTRIES COMPANY, Khartoum, Sudan [SUDAN]

MOGOLLON RUEDA, Eduardo, c/o DISTRIBUIDORA DE DROGAS CONDOR LTDA., Bogota, Colombia; c/o DEPOSITO POPULAR DE DROGAS S.A., Cali, Colombia; c/o INVERSIONES RODRIGUEZ MORENO Y CIA. S. EN C., Cali, Colombia; c/o ALFA PHARMA S.A., Bogota, Colombia; DOB 5 Feb 53; Cedula No. 19194691 (Colombia) (individual) [SDNT]

MOHADI, Kembo Campbell Dugishi; DOB 15 Nov 1949; Minister of Home Affairs (individual) [ZIMBABWE]

MOHAMAD, Lokman Ami (a.k.a. MOHAMMED, Lokman Amin; a.k.a. MOHAMMED, Lukman Ami), Oberanger 47, Munich 80331, Germany; Stadelheim Prison, Munich, Germany; DOB 1 Feb 1974; POB Kirkuk, Iraq; nationality Iraq; Travel Document Number A006991 (Germany) (individual) [SDGT]

MOHAMDED ABDULLA IMAD (a.k.a. AL SAADI, Faraj Farj Hassan; a.k.a. IMAD MOUHAMED ABDELLAH; a.k.a. MUHAMAD ABDULLAH IMAD; a.k.a. “HAMZA AL LIBI”), Viale Bligny 42, Milan, Italy; DOB 28 Nov 1980; POB Libya; alt. POB Gaza; alt. POB Jordan; alt. POB Palestine; nationality Libya alt. Palestinian; alt. Jordan; arrested United Kingdom (individual) [SDGT]

MOHAMED, Abdul Kader Ibrahim, Jianguomenwai Diplomatic Housing Compound, Building 7-1, 5th Floor, Apartment 4, Beijing, China (individual) [IRAQ2]

MOHAMED, Daki, Via Melato 11, Reggio Emilia, Italy; DOB 29 Mar 1965; POB Casablanca, Morocco; nationality Morocco; arrested 4 Apr 2003 (individual) [SDGT]

MOHAMMAD, Baz (a.k.a. MOHAMMAD, Haji Baz); DOB 1958; POB Kandahar, Afghanistan; nationality Afghanistan (individual) [SDNTK]

MOHAMMAD, Haji Baz (a.k.a. MOHAMMAD, Baz); DOB 1958; POB Kandahar, Afghanistan; nationality Afghanistan (individual) [SDNTK]

MOHAMMAD, Khalil Ibrahim (a.k.a. AL ZAFIRI, Khalil Ibrahim; a.k.a. JASSEM, Khalil Ibrahim; a.k.a. KHALIL, Ibrahim Mohamed), Pankratiusstrause 44, Mainz 55118, Germany; Frankenthal Prison, Germany; DOB 2 Jul 1975; alt. DOB 2 May 1972; alt. DOB 3 Jul 1975; alt. DOB 1972; POB Mosul, Iraq; alt. POB Baghdad, Iraq; nationality Iraq; Travel Document Number A0003900 (Germany) (individual) [SDGT]

MOHAMMED, Abd' al-Baki (a.k.a. KHALED, Abdulbaqi Mohammed; a.k.a. KHALED, Abul Baki; a.k.a. KHALED, Abul Baki Mohammed; a.k.a. “ABU KHAWLA”), Birmingham, United Kingdom; DOB 18 Aug 1957; POB Tripoli, Libya; citizen United Kingdom (individual) [SDGT]

MOHAMMED, Al-Basher (a.k.a. ALBASHIR, Mohammed; a.k.a. AL-BASHIR, Muhammad; a.k.a. AL-FAQI, Bashir Mohammed Ibrahim; a.k.a. AL-FAQIH, Abd al-Rahman; a.k.a. AL-KHATAB, Abd Al Rahman; a.k.a. ISMAIL, Mohammed; a.k.a. “ABU ABD AL-RAHMAN”; a.k.a. “ABU KHALID”; a.k.a. “ABU MOHAMMED”; a.k.a. “MAHMUD”; a.k.a. “MUSTAFA”), Birmingham, United Kingdom; DOB 15 Dec 1959; POB Libya (individual) [SDGT]

MOHAMMED, Fazul (a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul Abdilahi; a.k.a. MOHAMMED, Fazul Abdullah; a.k.a. MOHAMMED, Fouad; a.k.a. MUHAMAD, Fadil Abdallah); DOB 25 Aug 1972; alt. DOB 25 Dec 1974; alt. DOB 25 Feb 1974; POB Moroni, Comoros Islands; citizen Comoros alt. Kenya (individual) [SDGT]

MOHAMMED, Fazul Abdilahi (a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdullah; a.k.a. MOHAMMED, Fouad; a.k.a. MUHAMAD, Fadil Abdallah); DOB 25 Aug 1972; alt. DOB 25 Dec 1974; alt. DOB 25 Feb 1974; POB Moroni, Comoros Islands; citizen Comoros alt. Kenya (individual) [SDGT]

MOHAMMED, Fazul Abdullah (a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fouad; a.k.a. MUHAMAD, Fadil Abdallah); DOB 25 Aug 1972; alt. DOB 25 Dec 1974; alt. DOB 25 Feb 1974; POB Moroni, Comoros Islands; citizen Comoros alt. Kenya (individual) [SDGT]

MOHAMMED, Fouad (a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fazul Abdullah; a.k.a. MUHAMAD, Fadil Abdallah); DOB 25 Aug 1972; alt. DOB 25 Dec 1974; alt. DOB 25 Feb 1974; POB Moroni, Comoros Islands; citizen Comoros alt. Kenya (individual) [SDGT]

MOHAMMED, Khalid Shaikh (a.k.a. ALI, Salem; a.k.a. BIN KHALID, Fahd Bin Adballah; a.k.a. HENIN, Ashraf Refaat Nabith; a.k.a. WADOOD, Khalid Adbul); DOB 14 Apr 1965; alt. DOB 1 Mar 1964; POB Kuwait; citizen Kuwait (individual) [SDGT]

MOHAMMED, Lokman Amin (a.k.a. MOHAMAD, Lokman Ami; a.k.a. MOHAMMED, Lukman Ami), Oberanger 47, Munich 80331, Germany; Stadelheim Prison, Munich, Germany; DOB 1 Feb 1974; POB Kirkuk, Iraq; nationality Iraq; Travel Document Number A006991 (Germany) (individual) [SDGT]

MOHAMMED, Lukman Ami (a.k.a. MOHAMAD, Lokman Ami; a.k.a. MOHAMMED, Lokman Amin), Oberanger 47, Munich 80331, Germany; Stadelheim Prison, Munich, Germany; DOB 1 Feb 1974; POB Kirkuk, Iraq; nationality Iraq; Travel Document Number A006991 (Germany) (individual) [SDGT]

MOHAMMED, Mustafa (a.k.a. AL MASRI, Abd Al Wakil; a.k.a. ALI, Hassan; a.k.a. AL-NUBI, Abu; a.k.a. ANIS, Abu; a.k.a. ELBISHY, Moustafa Ali; a.k.a. FADHIL, Mustafa Mohamed; a.k.a. FADIL, Mustafa Muhamad; a.k.a. FAZUL, Mustafa; a.k.a. HUSSEIN; a.k.a. JIHAD, Abu; a.k.a. KHALID; a.k.a. MAN, Nu; a.k.a. YUSSRR, Abu); DOB 23 Jun 1976; POB Cairo, Egypt; citizen Egypt alt. Kenya; Kenyan ID No. 12773667; Serial No. 201735161 (individual) [SDGT]

MOHAMMED, Shariff Omar (a.k.a. AHMAD, Abu Bakr; a.k.a. “AHMED THE TANZANIAN”; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. “FOOPIE”; a.k.a. “FUPI”; a.k.a. GHAILANI, Abubakary Khalfan Ahmed; a.k.a. GHAILANI, Ahmed; a.k.a. GHAILANI, Ahmed Khalfan; a.k.a. GHILANI, Ahmad Khalafan; a.k.a. HUSSEIN, Mahafudh Abubakar Ahmed Abdallah; a.k.a. KHABAR, Abu; a.k.a. KHALFAN, Ahmed); DOB 14 Mar 1974; alt. DOB 13 Apr 1974; alt. DOB 14 Apr 1974; alt. DOB 1 Aug 1970; POB Zanzibar, Tanzania; citizen Tanzania (individual) [SDGT]

MOHAMMED'S ARMY (a.k.a. ARMY OF MOHAMMED; a.k.a. JAISH-E-MOHAMMED; a.k.a. JAISH-I-MOHAMMED; a.k.a. KHUDAMUL ISLAM; a.k.a. KHUDDAM-UL-ISLAM; a.k.a. KUDDAM E ISLAMI; a.k.a. TEHRIK UL-FURQAAN), Pakistan [FTO] [SDGT]

MOISES SAIEH Y CIA. S.C.A., Carrera 74 No. 76-150, Barranquilla, Atlantico, Colombia; NIT # 890114338-3 (Colombia) [SDNT]

MOLDTRANSAVIA SRL, Aeroport, Chisinau MD-2026, Moldova [LIBERIA]

MOLINA CARACAS, Tomas (a.k.a. CASTILLO CORTES, Miguel Angel; a.k.a. MEDINA CARACAS, Tomas; a.k.a. “ARTURO GUEVARA”; a.k.a. “EL PATRON”; a.k.a. “JORGE MEDINA”; a.k.a. “NEGRO ACACIO”); DOB 15 Mar 1965; POB Lopez De Micay, Cauca, Colombia (individual) [SDNTK]

MOLINA QUINTAN, Leticia, c/o DISFOGEN LTDA., Bogota, Colombia; Cedula No. 24718126 (Colombia) (individual) [SDNT]

MOMBESHORA, Swithun; DOB 20 Aug 1945; Former Minister of Higher Education; Deceased (individual) [ZIMBABWE]

MOMPAX LTDA. (f.k.a. INVERSIONES MOMPAX LTDA.; a.k.a. INVERSIONES Y CONSTRUCCIONES ATLAS LTDA.), Calle 10 No. 4-47 piso 19, Cali, Colombia; NIT # 800102408-1 (Colombia) [SDNT]

MONDRAGON AVILA, Alicia, c/o INVERSIONES Y CONSTRUCCIONES COSMOVALLE LTDA., Cali, Colombia; c/o INVERSIETE S.A., Cali, Colombia; c/o INVERSIONES Y DISTRIBUCIONES A M M LTDA., Cali, Colombia; c/o ALERO S.A., Cali, Colombia; DOB 26 Oct 1936; Cedula No. 29086016 (Colombia) (individual) [SDNT]

MONDRAGON DE RODRIGUEZ, Mariela, c/o MARIELA DE RODRIGUEZ Y CIA. S. EN C., Cali, Colombia; c/o INVERSIONES Y CONSTRUCCIONES COSMOVALLE LTDA., Cali, Colombia; c/o COMPAX LTDA., Cali, Colombia; c/o LABORATORIOS KRESSFOR DE COLOMBIA S.A., Bogota, Colombia; c/o CORPORACION DEPORTIVA AMERICA, Cali, Colombia; c/o INVERSIONES MONDRAGON Y CIA. S.C.S., Cali, Colombia; c/o MARIELA MONDRAGON DE R. Y CIA. S. EN C., Cali, Colombia; c/o CREDIREBAJA S.A., Cali, Colombia; c/o INVERSIONES Y DISTRIBUCIONES A M M LTDA., Cali, Colombia; DOB 12 Apr 1935; Cedula No. 29072613 (Colombia); Passport 4436059 (Colombia) (individual) [SDNT]

MONET TRADING COMPANY, Panama [CUBA]

MONO JOJOY (a.k.a. BRICENO SUAREZ, Jorge; a.k.a. BRICENO SUAREZ, Jorge Enrique; a.k.a. OSCAR RIANO; a.k.a. SUAREZ ROJAS, Victor Julio; a.k.a. SUAREZ, Luis); DOB Jan 1953; alt. DOB 1 Feb 1949; alt. DOB 2 Jan 1951; alt. DOB 5 Feb 1953; POB Santa Marta, Magdalena, Colombia; alt. POB Cabrera, Cundinamarca, Colombia; Cedula No. 12536519 (Colombia); alt. Cedula No. 19208210 (Colombia); alt. Cedula No. 17708695 (Colombia); alt. Cedula No. 70753211 (Colombia) (individual) [SDNTK]

MONROY ARCILA, Francisco Jose, c/o INVERSIONES GEMINIS S.A., Cali, Colombia; c/o CONSTRUCTORA DIMISA LTDA., Cali, Colombia; c/o INVERSIONES EL PENON S.A., Cali, Colombia; c/o COMPANIA ADMINISTRADORA DE VIVIENDA S.A., Cali, Colombia; DOB 2 Aug 1942; Cedula No. 79153691 (Colombia) (individual) [SDNT]

MONSALVE HERNANDEZ, Laris, c/o COMERCIALIZADORA DE PRODUCTOS FARMACEUTICOS LTDA., Ibague, Colombia; c/o MATERIAS PRIMAS Y SUMINISTROS S.A., Bogota, Colombia; DOB 10 Apr 1953; Cedula No. 41590169 (Colombia); Passport 41590169 (Colombia) (individual) [SDNT]

MONSALVO RUIZ, Elkin Miguel, c/o CAJA SOLIDARIA, Bogota, Colombia; c/o COPSERVIR LTDA., Bogota, Colombia; c/o LITOPHARMA, Barranquilla, Colombia; Calle 35B No. 17-143, Barranquilla, Colombia; Cedula No. 72186915 (Colombia) (individual) [SDNT]

MONTALVO GUZMAN, Luis Federico, c/o COPSERVIR LTDA., Bogota, Colombia; Cedula No. 14953049 (Colombia) (individual) [SDNT]

MONTANA MANAGEMENT INC. (a.k.a. MIDCO FINANCE S.A.; a.k.a. MIDCO FINANCIAL S.A.), 57 Rue du Rhone, CH-1204 Geneva, Switzerland; Panama; U.S. FEIN CH-660-0-469-982-0 (United States); Switzerland [IRAQ2]

MONTANEZ, Michael, Panama (individual) [CUBA]

MONTANO ALVAREZ, Luis Hernando, Carrera 16A No. 33D-20, Cali, Colombia; c/o GRANJA LA SIERRA LTDA., Cali, Colombia; Cedula No. 16671124 (Colombia); Passport 16671124 (Colombia) (individual) [SDNT]

MONTANO BERMUDEZ, Libardo, c/o LABORATORIOS GENERICOS VETERINARIOS, Bogota, Colombia; DOB 4 Jul 1942; Cedula No. 17083296 (Colombia) (individual) [SDNT]

MONTANO PACHON, Marlen, c/o COOPCREAR, Bogota, Colombia; c/o COOPERATIVA DE TRABAJO ASOCIADO ACTIVAR, Bogota, Colombia; c/o COOPERATIVA MULTIACTIVA DE COLOMBIA FOMENTAMOS, Bogota, Colombia; Cedula No. 52492258 (Colombia) (individual) [SDNT]

MONTERO MARTINEZ, Rafael Antonio, c/o CAJA SOLIDARIA, Bogota, Colombia; c/o COPSERVIR LTDA., Bogota, Colombia; c/o SU SERVICIO SOCIEDAD LTDA., Barranquilla, Colombia; Cedula No. 8778405 (Colombia) (individual) [SDNT]

MONTES OCAMPO, Jose Alberto, Carrera 4 No. 12-20 of. 206, Cartago, Valle, Colombia; c/o AGRICOLA DOIMA DEL NORTE DEL VALLE LTDA., Cartago, Valle, Colombia; c/o GANADERIA EL VERGEL LTDA., Cartago, Valle, Colombia; c/o GANADERIAS BILBAO LTDA., Cartago, Valle, Colombia; DOB 24 Feb 1965; Cedula No. 79339330 (Colombia); Passport 79339330 (Colombia) (individual) [SDNT]

MONTOYA LUNA E HIJOS Y CIA. S.C.S., Carrera 85B No. 13A-136, Cali, Colombia; NIT # 800077316-5 (Colombia) [SDNT]

MONTOYA MARTINEZ, Juan Carlos, c/o AGROPECUARIA LA ROBLEDA S.A., Cali, Colombia; c/o AGROPECUARIA BETANIA LTDA., Cali, Colombia; c/o INVERSIONES VILLA PAZ S.A., Cali, Colombia; c/o INDUSTRIA AVICOLA PALMASECA S.A., Cali, Colombia; DOB 11 Oct 1966; Cedula No. 16801475 (Colombia) (individual) [SDNT]

MONTOYA SANCHEZ, Diego Leon, Diagonal 27 No. 27-104, Cali, Colombia; c/o INVERSIONES LA QUINTA Y CIA. LTDA., Cali, Colombia; c/o LADRILLERA LA CANDELARIA LTDA., Cali, Colombia; c/o MONTOYA LUNA E HIJOS Y CIA. S.C.S., Cali, Colombia; DOB 11 Jan 1958; POB Trujillo, Valle, Colombia; Cedula No. 16348515 (Colombia); Passport 16348515 (Colombia) (individual) [SDNT]

MONTOYA SANCHEZ, Eugenio (a.k.a. CARVAJAL TAFURT, Hector Fabio), Diagonal 27 No. 27-104, Cali, Colombia; Calle 7 No. 45-25, Cali, Colombia; c/o LADRILLERA LA CANDELARIA LTDA., Cali, Colombia; DOB 17 Apr 1970; alt. DOB 15 Apr 1972; POB Trujillo, Valle, Colombia; Cedula No. 94307307 (Colombia); alt. Cedula No. 16836750 (Colombia); Passport AC814028 (Colombia); alt. Passport 94307307 (Colombia); alt. Passport 16836750 (Colombia) (individual) [SDNT]

MONTOYA SANCHEZ, Juan Carlos, Carrera 85B No. 13A-136, Cali, Colombia; c/o MONTOYA LUNA E HIJOS Y CIA. S.C.S., Cali, Colombia; DOB 3 Sep 1962; POB Riofrio, Valle, Colombia; Cedula No. 16357049 (Colombia); Passport 16357049 (Colombia) (individual) [SDNT]

MOONEX INTERNATIONAL, S.A., Kingston, Jamaica [CUBA]

MOONEX INTERNATIONAL, S.A., Panama [CUBA]

MORA ROMERO, Gloria Isabel, c/o FARFALLA INVESTMENT S.A., Panama City, Panama; c/o PREMIER SALES S.A., Panama; Cedula No. 4-192-157 (Panama); alt. Cedula No. No. 4-194-157 (Panama) (individual) [SDNT]

MORALES ANDRADE, Carlos Enrique, c/o AERO CONTINENTE S.A., Lima, Peru; DOB 30 Aug 1954; LE Number 08779161 (Peru) (individual) [BPI-SDNTK]

MORALES CASTRILLON, Victor Hugo, c/o TAURA S.A., Cali, Colombia; Cedula No. 16620349 (Colombia) (individual) [SDNT]

MORALES ESPINAR, Carmen Rosa, c/o COLFARMA PERU S.A., Lima, Peru; DOB 9 Aug 1976; D.N.I. 10006822 (Peru) (individual) [SDNT]

MORALES GUERRERO, Juan Antonio (a.k.a. GAXIOLA MEDINA, Rigoberto; a.k.a. MEDINA SAENZ, Enrique; a.k.a. SAENZ MEDINA, Enrique), Calle Clavel No. 1406, Colonia Margarita, Culiacan, Sinaloa, Mexico; Hermosillo, Sonora, Mexico; DOB 27 Sep 1950; POB Sinaloa, Mexico; citizen Mexico; nationality Mexico; R.F.C. GAMR-501027 (Mexico) (individual) [SDNTK]

MORALES LUYO, Luis Jaime, c/o COLFARMA PERU S.A., Lima, Peru; LE Number 08195408 (Peru) (individual) [SDNT]

MORALES ROBLEDO, Nicolas Abdul, c/o AGRO MASCOTAS S.A., Bogota, Colombia; Cedula No. 16686544 (Colombia); Passport 16686544 (Colombia) (individual) [SDNT]

MORAN GUERRERO, Mario Fernando, c/o PENTACOOP LTDA., Bogota, Colombia; c/o PENTA PHARMA DE COLOMBIA S.A., Bogota, Colombia; c/o COINTERCOS S.A., Bogota, Colombia; c/o LABORATORIOS KRESSFOR, Bogota, Colombia; DOB 17 Mar 1965; Cedula No. 12983857 (Colombia) (individual) [SDNT]

MORCILLO TORRES, Gracia; DOB 15 Mar 1967; POB San Sebastian, Guipuzcoa Province, Spain; D.N.I. 72.439.052 (Spain); Member ETA (individual) [SDGT]

MORENO BALANTA, Orlando, c/o CAJA SOLIDARIA, Bogota, Colombia; c/o COPSERVIR LTDA., Bogota, Colombia; Cedula No. 10555424 (Colombia) (individual) [SDNT]

MORENO DAZA, Ricardo Alfredo, Carrera 38D No. 4B-57, Cali, Colombia; c/o GALAPAGOS S.A., Cali, Colombia; c/o TAURA S.A., Cali, Colombia; Cedula No. 16631400 (Colombia) (individual) [SDNT]

MORENO GOMEZ, Ingrid Del Carmen, c/o CAJA SOLIDARIA, Bogota, Colombia; c/o COOMULCOSTA, Barranquilla, Colombia; c/o COPSERVIR LTDA., Bogota, Colombia; c/o LITOPHARMA, Barranquilla, Colombia; Cedula No. 49741445 (Colombia) (individual) [SDNT]

MORENO MEDINA, Luis Ignacio, Calle Guadalupe Victoria 6, Colonia Lomas Hipodromo, Tijuana, Baja California, Mexico; Calle Guadalupe Victoria 9, Colonia Lomas Hipodromo, Tijuana, Baja California, Mexico; Avenida David Alfaro Siqueiros 2789-102, Colonia Zona Rio, Tijuana, Baja California, Mexico; Avenida de las Americas 3048, Fraccionamiento El Paraiso, Tijuana, Baja California, Mexico; c/o Farmacia Vida Suprema, S.A. DE C.V., Tijuana, Baja California, Mexico; c/o Distribuidora Imperial De Baja California, S.A. de C.V., Tijuana, Baja California, Mexico; c/o Administradora De Inmuebles Vida, S.A. de C.V., Tijuana, Baja California, Mexico; c/o ADP, S.C., Tijuana, Baja California, Mexico; c/o Forpres, S.C., Tijuana, Baja California, Mexico; c/o Accesos Electronicos, S.A. de C.V., Tijuana, Baja California, Mexico; c/o Operadora Valpark, S.A. de C.V., Tijuana, Baja California, Mexico; c/o Valpark, S.A. de C.V., Tijuana, Baja California, Mexico; c/o Gex Explore, S. de R.L. de C.V., Tijuana, Baja California, Mexico; DOB 26 May 1953; POB Distrito Federal, Mexico; Passport 96020025125 (Mexico); alt. Passport ATIJ07154 (Mexico); R.F.C. MOML-530526-ED4 (Mexico) (individual) [SDNTK]

MORENO MUNOZ, Liliana Judith, c/o CAJA SOLIDARIA, Bogota, Colombia; c/o COPSERVIR LTDA., Bogota, Colombia; c/o LITOPHARMA, Barranquilla, Colombia; c/o SU SERVICIO SOCIEDAD LTDA., Barranquilla, Colombia; Carrera 6 No. 72-68, Barranquilla, Colombia; Cedula No. 32751536 (Colombia) (individual) [SDNT]

MORENO, Carlos Arturo, c/o INVERSIONES EL PENON S.A., Cali, Colombia; Cedula No. 14264233 (Colombia) (individual) [SDNT]

MORINA, Xhavit; DOB 13 Sep 1963; POB Drenovc (individual) [BALKANS]

MOROCCAN ISLAMIC COMBATANT GROUP (a.k.a. GICM; a.k.a. GROUPE ISLAMIQUE COMBATTANT MAROCAIN) [SDGT]

MOSCOSO MONTES, Nelly Fabiola, c/o ADMACOOP, Bogota, Colombia; c/o CODISA, Bogota, Colombia; c/o FARMACOOP, Bogota, Colombia; DOB 5 May 1964; Cedula No. 51740771 (Colombia); Passport 51740771 (Colombia) (individual) [SDNT]

MOSQUERA MAYA, Maria Alejandra (a.k.a. SANTACOLOMA, Maria Alejandra), 14420 NW 16th St., Pembroke Pines, FL 33028; c/o ASH TRADING, INC., Pembroke Pines, FL; DOB 22 Sep 1973; Cedula No. 34564670 (Colombia); Passport 34564670 (Colombia) (individual) [SDNT]

MOSQUERA, Juan Carlos, c/o INMOBILIARIA U.M.V. S.A., Cali, Colombia; Calle 24N No. 6-17, Cali, Colombia; Avenida 2 Norte No. 7N-55 of. 601, Cali, Colombia; Cedula No. 16692007 (Colombia) individual) [SDNT]

MOSTAFA, Mohamed Amin, Via della Martinella 132, Parma, Italy; DOB 11 Oct 1975; POB Karkuk, Iraq; nationality Iraq; Kurdish; arrested 31 Mar 2003 (individual) [SDGT]

MOUSTFA, Djamel (a.k.a. KALED, Belkasam; a.k.a. “ALI BARKANI”; a.k.a. “MOUSTAFA”), c/o Birgit Melani Schroeder, Kuehlungsborner Strasse 30, Hamburg 22147, Germany; DOB 28 Sep 1973; alt. DOB 31 Dec 1979; alt. DOB 22 Aug 1973; POB Tiaret, Algeria; alt. POB Morocco; nationality Algeria; arrested 23 Apr 2002; currently in remand at 20355 Hamburg Holstenglacis 3, Germany (individual) [SDGT]

MOVEMENT FOR ISLAMIC REFORM IN ARABIA (a.k.a. AL-HARAKAT AL-ISLAMIYAH LIL-ISLAH; a.k.a. AL-ISLAH; a.k.a. ISLAMIC MOVEMENT FOR REFORM; a.k.a. MIRA; a.k.a. MOVEMENT FOR REFORM IN ARABIA), BM Box: MIRA, London WC1N 3XX, United Kingdom; 21 Blackstone Road, London NW2 6DA, United Kingdom; Safiee Suite, EBC House, Townsend Lane, London NW9 8LL, United Kingdom; UK Company Number 03834450 (United Kingdom) [SDGT]

MOVEMENT FOR REFORM IN ARABIA (a.k.a. AL-HARAKAT AL-ISLAMIYAH LIL-ISLAH; a.k.a. AL-ISLAH; a.k.a. ISLAMIC MOVEMENT FOR REFORM; a.k.a. MIRA; a.k.a. MOVEMENT FOR ISLAMIC REFORM IN ARABIA), BM Box: MIRA, London WC1N 3XX, United Kingdom; 21 Blackstone Road, London NW2 6DA, United Kingdom; Safiee Suite, EBC House, Townsend Lane, London NW9 8LL, United Kingdom; UK Company Number 03834450 (United Kingdom) [SDGT]

MOYO, Jonathan Nathaniel; DOB 12 Jan 1957; Passport AD000432 (Zimbabwe); Member of Parliament for Tsholotsho & Former Minister of Information and Publicity (individual) [ZIMBABWE]

MOYO, Simon Khaya; DOB 1 Oct 1945; Passport ZD001512 (Zimbabwe); Politburo Member (individual) [ZIMBABWE]

MPOFU, Obert Moses; DOB 12 Oct 1951; Passport ZD001549 (Zimbabwe); Deputy Secretary for National Security (individual) [ZIMBABWE]

MRDJA, Darko; DOB 28 Jun 1967; POB Zagreb, Croatia; ICTY indictee (individual) [BALKANS]

MRKSIC, Milan; DOB 20 Jul 1947; POB Vrginmost, Croatia; ICTY indictee in custody (individual) [BALKANS]

MSALAM, Fahad Ally (a.k.a. AL-KINI, Usama; a.k.a. ALLY, Fahid Mohammed; a.k.a. MSALAM, Fahid Mohammed Ali; a.k.a. MSALAM, Fahid Mohammed Ally; a.k.a. MSALAM, Mohammed Ally; a.k.a. MUSALAAM, Fahid Mohammed Ali; a.k.a. SALEM, Fahid Muhamad Ali); DOB 19 Feb 1976; POB Mombasa, Kenya; citizen Kenya (individual) [SDGT]

MSALAM, Fahid Mohammed Ali (a.k.a. AL-KINI, Usama; a.k.a. ALLY, Fahid Mohammed; a.k.a. MSALAM, Fahad Ally; a.k.a. MSALAM, Fahid Mohammed Ally; a.k.a. MSALAM, Mohammed Ally; a.k.a. MUSALAAM, Fahid Mohammed Ali; a.k.a. SALEM, Fahid Muhamad Ali); DOB 19 Feb 1976; POB Mombasa, Kenya; citizen Kenya (individual) [SDGT]

MSALAM, Fahid Mohammed Ally (a.k.a. AL-KINI, Usama; a.k.a. ALLY, Fahid Mohammed; a.k.a. MSALAM, Fahad Ally; a.k.a. MSALAM, Fahid Mohammed Ali; a.k.a. MSALAM, Mohammed Ally; a.k.a. MUSALAAM, Fahid Mohammed Ali; a.k.a. SALEM, Fahid Muhamad Ali); DOB 19 Feb 1976; POB Mombasa, Kenya; citizen Kenya (individual) [SDGT]

MSALAM, Mohammed Ally (a.k.a. AL-KINI, Usama; a.k.a. ALLY, Fahid Mohammed; a.k.a. MSALAM, Fahad Ally; a.k.a. MSALAM, Fahid Mohammed Ali; a.k.a. MSALAM, Fahid Mohammed Ally; a.k.a. MUSALAAM, Fahid Mohammed Ali; a.k.a. SALEM, Fahid Muhamad Ali); DOB 19 Feb 1976; POB Mombasa, Kenya; citizen Kenya (individual) [SDGT]

MSIKA, Joseph; DOB 6 Dec 1923; Passport ZD001610 (Zimbabwe); First Vice President (individual) [ZIMBABWE]

MSIPA, Cephas George; DOB 7 Jul 1931; Passport ZD001500 (Zimbabwe); Midlands Provincial Governor (individual) [ZIMBABWE]

MSIPA, Sharlottie; DOB 6 May 1936; Passport ZL008055 (Zimbabwe); Spouse of Cephas Msipa (individual) [ZIMBABWE]

MU' ASA AL-AQSA AL-KHAYRIYYA (a.k.a. AL-AQSA (ASBL); a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASSA SANABIL AL-AQSA AL-KHAYRIYYA; a.k.a. NURSAT AL-AQSA AL-SHARIF; a.k.a. SANABIL AL-AQSA CHARITABLE FOUNDATION; a.k.a. STICHTING AL-AQSA; a.k.a. SWEDISH CHARITABLE AQSA EST.), BD Leopold II 71, 1080 Brussels, Belgium [SDGT]

MU' ASA AL-AQSA AL-KHAYRIYYA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Kappellenstrasse 36, Aachen D-52066, Germany; <Head Office> [SDGT]

MU' ASA AL-AQSA AL-KHAYRIYYA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.) [SDGT]

MU' ASA AL-AQSA AL-KHAYRIYYA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

MU' ASA AL-AQSA AL-KHAYRIYYA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 2364, Islamabad, Pakistan [SDGT]

MU' ASA AL-AQSA AL-KHAYRIYYA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 14101, San 'a, Yemen [SDGT]

MU' ASA AL-AQSA AL-KHAYRIYYA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 6222200KBKN, Copenhagen, Denmark [SDGT]

MU' ASA AL-AQSA AL-KHAYRIYYA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Gerrit V/D Lindestraat 103 A, 3022 TH, Rotterdam, Netherlands; Gerrit V/D Lindestraat 103 E, 03022 TH, Rotterdam, Netherlands [SDGT]

MU' ASA AL-AQSA AL-KHAYRIYYA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Noblev 79 NB, 21433 Malmo, Sweden; Nobelvagen 79 NB, 21433 Malmo, Sweden [SDGT]

MU' ASSA SANABIL AL-AQSA AL-KHAYRIYYA (a.k.a. AL-AQSA (ASBL); a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. NURSAT AL-AQSA AL-SHARIF; a.k.a. SANABIL AL-AQSA CHARITABLE FOUNDATION; a.k.a. STICHTING AL-AQSA; a.k.a. SWEDISH CHARITABLE AQSA EST.), BD Leopold II 71, 1080 Brussels, Belgium [SDGT]

MU' ASSA SANABIL AL-AQSA AL-KHAYRIYYA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Kappellenstrasse 36, Aachen D-52066, Germany; <Head Office> [SDGT]

MU' ASSA SANABIL AL-AQSA AL-KHAYRIYYA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.) [SDGT]

MU' ASSA SANABIL AL-AQSA AL-KHAYRIYYA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

MU' ASSA SANABIL AL-AQSA AL-KHAYRIYYA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 2364, Islamabad, Pakistan [SDGT]

MU' ASSA SANABIL AL-AQSA AL-KHAYRIYYA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 14101, San 'a, Yemen [SDGT]

MU' ASSA SANABIL AL-AQSA AL-KHAYRIYYA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 6222200KBKN, Copenhagen, Denmark [SDGT]

MU' ASSA SANABIL AL-AQSA AL-KHAYRIYYA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Gerrit V/D Lindestraat 103 A, 3022 TH, Rotterdam, Netherlands; Gerrit V/D Lindestraat 103 E, 03022 TH, Rotterdam, Netherlands [SDGT]

MU' ASSA SANABIL AL-AQSA AL-KHAYRIYYA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Noblev 79 NB, 21433 Malmo, Sweden; Nobelvagen 79 NB, 21433 Malmo, Sweden [SDGT]

MU'ASSASAT AL-HARAMAIN AL-KHAYRIYYA (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAYN AL-KHAYRIYYA; a.k.a. MU'ASSASAT AL-HARAMEIN AL-KHAYRIYYA; a.k.a. VAZIR; a.k.a. VEZIR), Nairobi, Kenya; Garissa, Kenya; Daddb, Kenya [SDGT]

MU'ASSASAT AL-HARAMAIN AL-KHAYRIYYA (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAYN AL-KHAYRIYYA; a.k.a. MU'ASSASAT AL-HARAMEIN AL-KHAYRIYYA; a.k.a. VAZIR; a.k.a. VEZIR), Somalia; 64 Poturmahala, Travnik, Bosnia and Herzegovina [SDGT]

MU'ASSASAT AL-HARAMAIN AL-KHAYRIYYA (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

MU'ASSASAT AL-HARAMAIN AL-KHAYRIYYA (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

MU'ASSASAT AL-HARAMAIN AL-KHAYRIYYA (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAYN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

MU'ASSASAT AL-HARAMAYN AL-KHAYRIYYA (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMEIN AL-KHAYRIYYA; a.k.a. VAZIR; a.k.a. VEZIR), Nairobi, Kenya; Garissa, Kenya; Daddb, Kenya [SDGT]

MU'ASSASAT AL-HARAMAYN AL-KHAYRIYYA (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMEIN AL-KHAYRIYYA; a.k.a. VAZIR; a.k.a. VEZIR), Somalia; 64 Poturmahala, Travnik, Bosnia and Herzegovina [SDGT]

MU'ASSASAT AL-HARAMAYN AL-KHAYRIYYA (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMEIN AL-KHAYRIYYA; a.k.a. VAZIR; a.k.a. VEZIR), 3800 Highway 99 S., Ashland, OR 97520-8718; 1257 Siskiyou BLVD, Ashland, OR 97520; 2151 E. Division St., Springfield, MO 65803 [SDGT]

MU'ASSASAT AL-HARAMAYN AL-KHAYRIYYA (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMEIN AL-KHAYRIYYA; a.k.a. VAZIR; a.k.a. VEZIR), House #279, Nazimuddin road, F-10/1, Islamabad, Pakistan [SDGT]

MU'ASSASAT AL-HARAMAYN AL-KHAYRIYYA (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMEIN AL-KHAYRIYYA; a.k.a. VAZIR; a.k.a. VEZIR), PO Box 3616, Dar es Salaam, Tanzania; Tanga, Tanzania; Singida, Tanzania [SDGT]

MU'ASSASAT AL-HARAMEIN AL-KHAYRIYYA (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. VAZIR; a.k.a. VEZIR), Nairobi, Kenya; Garissa, Kenya; Daddb, Kenya [SDGT]

MU'ASSASAT AL-HARAMEIN AL-KHAYRIYYA (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. VAZIR; a.k.a. VEZIR), Somalia; 64 Poturmahala, Travnik, Bosnia and Herzegovina [SDGT]

MU'ASSASAT AL-HARAMEIN AL-KHAYRIYYA (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. VAZIR; a.k.a. VEZIR), House #279, Nazimuddin road, F-10/1, Islamabad, Pakistan [SDGT]

MU'ASSASAT AL-HARAMEIN AL-KHAYRIYYA (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. VAZIR; a.k.a. VEZIR), PO Box 3616, Dar es Salaam, Tanzania; Tanga, Tanzania; Singida, Tanzania [SDGT]

MU'ASSASAT AL-HARAMEIN AL-KHAYRIYYA (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. VAZIR; a.k.a. VEZIR), 3800 Highway 99 S., Ashland, OR 97520-8718; 1257 Siskiyou BLVD, Ashland, OR 97520; 2151 E. Division St., Springfield, MO 65803 [SDGT]

MUBARAK, Umid Medhat (a.k.a. MUBARAK, Umid Midhat), Iraq; DOB circa 1940; Former Minister of Health (individual) [IRAQ2]

MUBARAK, Umid Midhat (a.k.a. MUBARAK, Umid Medhat), Iraq; DOB circa 1940; Former Minister of Health (individual) [IRAQ2]

MUBAROK, Muhamad (a.k.a. ABU MUAMAR; a.k.a. MOCHTAR, Yasin Mahmud; a.k.a. SYAWAL, Muhammad; a.k.a. SYAWAL, Yassin; a.k.a. YASIN, Abdul Hadi; a.k.a. YASIN, Salim; a.k.a. “ABU SETA”; a.k.a. “MAHMUD”); DOB circa 1972; nationality Indonesia (individual) [SDGT]

MUCHENA, Olivia Nyembezi, 59 The Chase, Mount Pleasant, Harare, Zimbabwe; DOB 18 Aug 1946; Passport AD000086 (Zimbabwe); Minister of State for Science and Technology Development (individual) [ZIMBABWE]

MUCHINGURI, Natasha, 2 Tender Road, Highlands, Harare, Zimbabwe; DOB circa 1994; Child of Oppah Muchinguri (individual) [ZIMBABWE]

MUCHINGURI, Oppah Chamu Zvipange, 15 Moorherist Avenue, Harare, Zimbabwe; DOB 14 Dec 1958; Minister of Women's Affairs, Gender and Community Development (individual) [ZIMBABWE]

MUCHINGURI, Tanya, 2 Tender Road, Highlands, Harare, Zimbabwe; DOB circa 1989; Child of Oppah Muchinguri (individual) [ZIMBABWE]

MUCHLAS (a.k.a. AL MUKHLAS, Ali Gufron; a.k.a. GHUFRON, Ali; a.k.a. GUFRON, Ali; a.k.a. HAQ, Huda bin Abdul; a.k.a. MUKHLAS; a.k.a. MUKLAS; a.k.a. “SOFWAN”); DOB 9 Feb 1960; alt. DOB 2 Feb 1960; POB Solokuro subdistrict, Lamongan district, East Java province, Indonesian; nationality Indonesia (individual) [SDGT]

MUCIC, Zdravko; DOB 31 Aug 1955; ICTY indictee (individual) [BALKANS]

MUDENGE, Isack Stan Gorerazvo, 31 St. Brelades Road, Borrowdale, Harare, Zimbabwe; DOB 17 Dec 1948; Passport AD000964 (Zimbabwe); Minister of Higher and Tertiary Education (individual) [ZIMBABWE]

MUGABE, Grace; DOB 23 Jul 1965; Passport AD001159 (Zimbabwe); Spouse of Robert Mugabe (individual) [ZIMBABWE]

MUGABE, Robert Gabriel; DOB 21 Feb 1924; Passport AD002119 (Zimbabwe); President of the Republic of Zimbabwe (individual) [ZIMBABWE]

MUGABE, Sabina; DOB 14 Oct 1934; Politburo Senior Committee Member (individual) [ZIMBABWE]

MUGHNIYAH, Imad Fa'iz (a.k.a. MUGHNIYAH, Imad Fayiz); DOB 07 Dec 1962; POB Tayr Dibba, Lebanon; Passport 432298 (Lebanon); Senior Intelligence Officer of HIZBALLAH (individual) [SDT] [SDGT]

MUGHNIYAH, Imad Fayiz (a.k.a. MUGHNIYAH, Imad Fa'iz); DOB 07 Dec 1962; POB Tayr Dibba, Lebanon; Passport 432298 (Lebanon); Senior Intelligence Officer of HIZBALLAH (individual) [SDT] [SDGT]

MUGICA GONI, Ainhoa; DOB 27 Jun 1970; POB San Sebastian, Guipuzcoa Province, Spain; D.N.I. 34.101.243 (Spain); Member ETA (individual) [SDGT]

MUGUTI, Edwin, 7 Tay Road, Vainona, Borrowdale, Zimbabwe; DOB 2 May 1964; Passport AN775556 (Zimbabwe); Deputy Minister of Health and Child Welfare (individual) [ZIMBABWE]

MUHAMAD ABDULLAH IMAD (a.k.a. AL SAADI, Faraj Farj Hassan; a.k.a. IMAD MOUHAMED ABDELLAH; a.k.a. MOHAMDED ABDULLA IMAD; a.k.a. “HAMZA AL LIBI”), Viale Bligny 42, Milan, Italy; DOB 28 Nov 1980; POB Libya; alt. POB Gaza; alt. POB Jordan; alt. POB Palestine; nationality Libya alt. Palestinian; alt. Jordan; arrested United Kingdom (individual) [SDGT]

MUHAMAD, Fadil Abdallah (a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fazul Abdullah; a.k.a. MOHAMMED, Fouad); DOB 25 Aug 1972; alt. DOB 25 Dec 1974; alt. DOB 25 Feb 1974; POB Moroni, Comoros Islands; citizen Comoros alt. Kenya (individual) [SDGT]

MUJAHEDIN-E KHALQ (a.k.a. MEK; a.k.a. MKO; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NATIONAL COUNCIL OF RESISTANCE OF IRAN; a.k.a. NCRI; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN) [FTO] [SDGT]

MUJAHEDIN-E KHALQ ORGANIZATION (a.k.a. MEK; a.k.a. MKO; a.k.a. MUJAHEDIN-E KHALQ; a.k.a. MUSLIM IRANIAN STUDENT'S SOCIETY; a.k.a. NATIONAL COUNCIL OF RESISTANCE; a.k.a. NATIONAL COUNCIL OF RESISTANCE (NCR); a.k.a. NATIONAL COUNCIL OF RESISTANCE OF IRAN; a.k.a. NCRI; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN) [FTO] [SDGT]

MUJAHEDIN-E KHALQ ORGANIZATION (a.k.a. MEK; a.k.a. MKO; a.k.a. MUJAHEDIN-E KHALQ; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. representative offices and all other offices worldwide [FTO] [SDGT]

MUJAHEDIN-E KHALQ ORGANIZATION (a.k.a. MEK; a.k.a. MKO; a.k.a. MUJAHEDIN-E KHALQ; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. press office and all other offices worldwide [FTO] [SDGT]

MUJAHEDIN-E KHALQ ORGANIZATION (a.k.a. MEK; a.k.a. MKO; a.k.a. MUJAHEDIN-E KHALQ; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. press office and all other offices worldwide [FTO] [SDGT]

MUJAHEDIN-E KHALQ (a.k.a. MEK; a.k.a. MKO; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. representative offices and all other offices worldwide [FTO] [SDGT]

MUJAHEDIN-E KHALQ (a.k.a. MEK; a.k.a. MKO; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. press office and all other offices worldwide [FTO] [SDGT]

MUJAHEDIN-E KHALQ (a.k.a. MEK; a.k.a. MKO; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. press office and all other offices worldwide [FTO] [SDGT]

MUJURU, Joyce Teurai Ropa; DOB 15 Apr 1955; Second Vice President (individual) [ZIMBABWE]

MUJURU, Solomon Tapfumaneyi Ruzambo (a.k.a. “NANGO, Rex”); DOB 1 May 1949; Passport ZD001348 (Zimbabwe); Politburo Senior Committee Member (individual) [ZIMBABWE]

MUKHLAS (a.k.a. AL MUKHLAS, Ali Gufron; a.k.a. GHUFRON, Ali; a.k.a. GUFRON, Ali; a.k.a. HAQ, Huda bin Abdul; a.k.a. MUCHLAS; a.k.a. MUKLAS; a.k.a. “SOFWAN”); DOB 9 Feb 1960; alt. DOB 2 Feb 1960; POB Solokuro subdistrict, Lamongan district, East Java province, Indonesian; nationality Indonesia (individual) [SDGT]

MUKLAS (a.k.a. AL MUKHLAS, Ali Gufron; a.k.a. GHUFRON, Ali; a.k.a. GUFRON, Ali; a.k.a. HAQ, Huda bin Abdul; a.k.a. MUCHLAS; a.k.a. MUKHLAS; a.k.a. “SOFWAN”); DOB 9 Feb 1960; alt. DOB 2 Feb 1960; POB Solokuro subdistrict, Lamongan district, East Java province, Indonesian; nationality Indonesia (individual) [SDGT]

MUKTAMAR (a.k.a. ABDUL MARTIN; a.k.a. ABDUL MATIN; a.k.a. AMAR UMAR; a.k.a. AMAR USMAN; a.k.a. ANAR USMAN; a.k.a. DJOKO SUPRIYANTO; a.k.a. DUL MATIN; a.k.a. DULMATIN; a.k.a. JAK IMRON; a.k.a. NOVARIANTO; a.k.a. PINTONO, Joko; a.k.a. PITONO, Joko; a.k.a. PITOYO, Joko; a.k.a. TOPEL); DOB 16 Jun 1970; alt. DOB 6 Jun 1970; POB Petarukan village, Pemalang, Central Java, Indonesia; nationality Indonesia (individual) [SDGT]

MULTISERVICIOS ALPHA, S.A. DE C.V., Av. Allende 1197, Colonia Independencia, Tijuana, Baja California, Mexico; Paseo Playas 24-2, Colonia Playas de Tijuana, Tijuana, Baja California, Mexico; R.F.C. MAL-960401-I35 (Mexico) [SDNTK]

MULTISERVICIOS BRAVIO, S.A. DE C.V. (a.k.a. BRAVIO ARMORED GROUP), Local C-25 Plaza Rio, Colonia Zona Rio, Tijuana, Baja California, Mexico; Av. Via Rapida 26, Colonia Zona Rio, Tijuana, Baja California, Mexico; R.F.C. MBR-961115-4M6 (Mexico) [SDNTK]

MULTISERVICIOS DEL NOROESTE DE MEXICO, S.A. DE C.V., Tijuana, Baja California, Mexico [SDNTK]

MULTISERVICIOS GAMAL, S.A. DE C.V. (a.k.a. CASA DE CAMBIO RUBI), Paseo Playas 24-2, Colonia Playas de Tijuana, Tijuana, Mexico, Mexico; Av. Federico Benitez 6400-52, Colonia Yamille, Tijuana, Baja California, Mexico; Paseo Estrella Del Mar 359, Colonia Playas de Tijuana, Tijuana, Baja California CP 22200, Mexico; Blvd. Fundadores 5343-22, Colonia El Rubi, Tijuana, Baja California CP 22180, Mexico; Paseo Ensenada S/N D11, Colonia Playas de Tijuana, Tijuana, Baja California, Mexico; R.F.C. MGA-940615-SC3 (Mexico) [SDNTK]

MULTISERVICIOS SIGLO, S.A. DE C.V., Carretera Aeropuerto 1900-16G, Colonia Otay, Tijuana, Baja California, Mexico; Paseo Tijuana 10126-A, Colonia Zona Rio, Tijuana, Baja California, Mexico; R.F.C. MSI-960220-Q84 (Mexico) [SDNTK]

MUMBENGEGWI, Samuel Simbarashe Simbanenduku, 22 Stour Road, Vainona, Borrowdale, Harare, Zimbabwe; DOB 20 July 1945; Non-Constituency Member of Parliament (individual) [ZIMBABWE]

MUNANDAR, Aris; DOB 1962; alt. DOB 1963; alt. DOB 1964; alt. DOB 1965; alt. DOB 1966; alt. DOB 1967; alt. DOB 1968; POB Sambi, Boyolali, Java, Indonesia (individual) [SDGT]

MUNERA FERNANDEZ, Pablo Jesus, c/o CAJA SOLIDARIA, Bogota, Colombia; c/o COOMULCOSTA, Barranquilla, Colombia; c/o COPSERVIR LTDA., Bogota, Colombia; Cedula No. 8719504 (Colombia) (individual) [SDNT]

MUNOA ORDOZGOITI, Alona; DOB 6 Jul 1976; POB Segura, Guipuzcoa Province, Spain; D.N.I. 35.771.259 (Spain); Member ETA (individual) [SDGT]

MUNOZ CORTES, Julio Cesar (a.k.a. MUNOZ CORTEZ, Julio Cesar), c/o COPSERVIR LTDA., Bogota, Colombia; c/o DROGAS LA REBAJA BARRANQUILLA S.A., Barranquilla, Colombia; c/o BLANCO PHARMA S.A., Bogota, Colombia; c/o DROGAS LA REBAJA PRINCIPAL S.A., Bogota, Colombia; c/o DROGAS LA REBAJA CALI S.A., Cali, Colombia; c/o DISTRIBUIDORA DE DROGAS CONDOR LTDA., Bogota, Colombia; DOB 26 Feb 1947; Cedula No. 14938700 (Colombia) (individual) [SDNT]

MUNOZ CORTEZ, Julio Cesar (a.k.a. MUNOZ CORTES, Julio Cesar), c/o COPSERVIR LTDA., Bogota, Colombia; c/o DROGAS LA REBAJA BARRANQUILLA S.A., Barranquilla, Colombia; c/o BLANCO PHARMA S.A., Bogota, Colombia; c/o DROGAS LA REBAJA PRINCIPAL S.A., Bogota, Colombia; c/o DROGAS LA REBAJA CALI S.A., Cali, Colombia; c/o DISTRIBUIDORA DE DROGAS CONDOR LTDA., Bogota, Colombia; DOB 26 Feb 1947; Cedula No. 14938700 (Colombia) (individual) [SDNT]

MUNOZ NARVAEZ, Yamileth, c/o COMERCIALIZADORA INTERTEL S.A., Cali, Colombia; c/o COOPERATIVA MULTIACTIVA DE COLOMBIA FOMENTAMOS, Bogota, Colombia; c/o DISTRIBUIDORA SANAR DE COLOMBIA S.A., Cali, Colombia; DOB 30 Dec 1970; Cedula No. 66825769 (Colombia); Passport 66825769 (Colombia) (individual) [SDNT]

MUNOZ PAZ, Adriana del Socorro, c/o INVERSIONES Y CONSTRUCCIONES VALLE S.A., Cali, Colombia; DOB 1 Oct 1966; Cedula No. 31950689 (Colombia) (individual) [SDNT]

MUNOZ PAZ, Joaquin Emilio, c/o INMOBILIARIA U.M.V. S.A., Cali, Colombia; Avenida 4AN No. 47-89, Cali, Colombia; c/o CONSTRUCTORA DIMISA LTDA., Cali, Colombia; c/o INVERSIONES Y CONSTRUCCIONES VALLE S.A., Cali, Colombia; DOB 18 JAN 71; Cedula No. 16789012 (Colombia) (individual) [SDNT]

MUNOZ RODRIGUEZ, Juan Carlos, c/o BLANCO PHARMA S.A., Bogota, Colombia; c/o DEPOSITO POPULAR DE DROGAS S.A., Cali, Colombia; c/o DISTRIBUIDORA DE DROGAS CONDOR LTDA., Bogota, Colombia; c/o DISTRIBUIDORA DE DROGAS LA REBAJA S.A., Bogota, Colombia; c/o DISTRIBUIDORA MIGIL LTDA., Cali, Colombia; c/o LABORATORIOS BLAIMAR DE COLOMBIA S.A., Bogota, Colombia; c/o LABORATORIOS KRESSFOR DE COLOMBIA S.A., Bogota, Colombia; c/o GRACADAL S.A., Cali, Colombia; c/o INVERSIONES Y CONSTRUCCIONES ABC S.A., Cali, Colombia; c/o CREDIREBAJA S.A., Cali, Colombia; c/o ASESORIAS ECONOMICAS MUNOZ SANTACOLOMA E.U., Cali, Colombia; c/o ASPOIR DEL PACIFICO Y CIA. LTDA., Cali, Colombia; c/o COMERCIALIZADORA INTERTEL S.A., Cali, Colombia; c/o CONTACTEL COMUNICACIONES S.A., Cali, Colombia; c/o DISTRIBUIDORA SANAR DE COLOMBIA S.A., Cali, Colombia; c/o REPRESENTACIONES Y DISTRIBUCIONES HUERTAS Y ASOCIADOS S.A., Bogota, Colombia; c/o FUNDASER, Cali, Colombia; c/o LATINFAMRACOS S.A., Quito, Ecuador; DOB 25 Sep 64; Cedula No. 16703148 (Colombia); Passport 16703148 (Colombia) (individual) [SDNT]

MUNOZ RODRIGUEZ, Soraya, c/o BLANCO PHARMA S.A., Bogota, Colombia; c/o LABORATORIOS BLAIMAR DE COLOMBIA S.A., Bogota, Colombia; c/o DISTRIBUIDORA DE DROGAS LA REBAJA S.A., Bogota, Colombia; c/o LABORATORIOS KRESSFOR DE COLOMBIA S.A., Bogota, Colombia; c/o RADIO UNIDAS FM S.A., Cali, Colombia; c/o DISTRIBUIDORA DE DROGAS CONDOR LTDA., Bogota, Colombia; c/o DISTRIBUIDORA MIGIL LTDA., Cali, Colombia; c/o DEPOSITO POPULAR DE DROGAS S.A., Cali, Colombia; c/o INVERSIONES Y CONSTRUCCIONES ABC S.A., Cali, Colombia; c/o SORAYA Y HAYDEE LTDA., Cali, Colombia; c/o 2000-DODGE S.L., Madrid, Spain; c/o FUNDASER, Cali, Colombia; c/o LATINFAMRACOS S.A., Quito, Ecuador; DOB 26 Jul 67; Cedula No. 31976822 (Colombia); Passport AC569012 (Colombia) (individual) [SDNT]

MUNOZ TORRES, Sonia Marcela, c/o CAJA SOLIDARIA, Bogota, Colombia; c/o COPSERVIR LTDA., Bogota, Colombia; c/o FARMAVISION LTDA., Bogota, Colombia; Calle 42B No. 73-29, Bogota, Colombia; Cedula No. 52034959 (Colombia) (individual) [SDNT]

MUNOZ Y RODRIGUEZ Y CIA. LTDA., Avenida 6N No. 23DN-26, Cali, Colombia [SDNT]

MUQTI, Fihiruddin (a.k.a. A RAHMAN, Mohamad Iqbal; a.k.a. ABDURRAHMAN, Abu Jibril; a.k.a. ABDURRAHMAN, Mohamad Iqbal; a.k.a. ABU JIBRIL; a.k.a. MUQTI, Fikiruddin; a.k.a. RAHMAN, Mohamad Iqbal); DOB 17 Aug 1958; POB Tirpas-Selong Village, East Lombok, Indonesia; nationality Indonesia (individual) [SDGT]

MUQTI, Fikiruddin (a.k.a. A RAHMAN, Mohamad Iqbal; a.k.a. ABDURRAHMAN, Abu Jibril; a.k.a. ABDURRAHMAN, Mohamad Iqbal; a.k.a. ABU JIBRIL; a.k.a. MUQTI, Fihiruddin; a.k.a. RAHMAN, Mohamad Iqbal); DOB 17 Aug 1958; POB Tirpas-Selong Village, East Lombok, Indonesia; nationality Indonesia (individual) [SDGT]

MURAD, Abdul Hakim (a.k.a. AHMED, Saeed; a.k.a. AKMAN, Saeed; a.k.a. MURAD, Abdul Hakim Al Hashim; a.k.a. MURAD, Abdul Hakim Hasim; a.k.a. MURAD, Adbul Hakim Ali Hashim); DOB 4 Jan 1968; POB Kuwait; nationality Pakistan; currently incarcerated in the U.S. (individual) [SDGT]

MURAD, Abdul Hakim Al Hashim (a.k.a. AHMED, Saeed; a.k.a. AKMAN, Saeed; a.k.a. MURAD, Abdul Hakim; a.k.a. MURAD, Abdul Hakim Hasim; a.k.a. MURAD, Adbul Hakim Ali Hashim); DOB 4 Jan 1968; POB Kuwait; nationality Pakistan; currently incarcerated in the U.S. (individual) [SDGT]

MURAD, Abdul Hakim Hasim (a.k.a. AHMED, Saeed; a.k.a. AKMAN, Saeed; a.k.a. MURAD, Abdul Hakim; a.k.a. MURAD, Abdul Hakim Al Hashim; a.k.a. MURAD, Adbul Hakim Ali Hashim); DOB 4 Jan 1968; POB Kuwait; nationality Pakistan; currently incarcerated in the U.S. (individual) [SDGT]

MURAD, Adbul Hakim Ali Hashim (a.k.a. AHMED, Saeed; a.k.a. AKMAN, Saeed; a.k.a. MURAD, Abdul Hakim; a.k.a. MURAD, Abdul Hakim Al Hashim; a.k.a. MURAD, Abdul Hakim Hasim); DOB 4 Jan 1968; POB Kuwait; nationality Pakistan; currently incarcerated in the U.S. (individual) [SDGT]

MURALLA, S.A. (a.k.a. COMERCIAL MURALLA, S.A.), Panama City, Panama [CUBA]

MURERWA, Herbert Muchemwa; DOB 31 July 1941; Passport AD001167 (Zimbabwe); Minister of Finance (individual) [ZIMBABWE]

MURERWA, Ruth Chipo, 321 Ard-Na-Lea Close, Glen Lorne, Chisipite, Zimbabwe; DOB 27 Jul 1947; Passport AD001244 (Zimbabwe) expires 19 Aug 2009; Spouse of Herbert Murerwa (individual) [ZIMBABWE]

MURILLO BEJARANO, Diego Fernando (a.k.a. “ADOLFO PAZ”; a.k.a. “DON BERNA”); DOB 23 Feb 1961; Cedula No. 16357144 (Colombia) (individual) [SDNTK]

MURILLO MURILLO, Jose Tolentino, c/o AGROPECUARIA LA ROBLEDA S.A., Cali, Colombia; Cedula No. 2240779 (Colombia) (individual) [SDNT]

MURSHID (a.k.a. ARIF SUNARSO; a.k.a. ARIS SUMARSONO; a.k.a. ARIS SUNARSO; a.k.a. USTAD DAUD ZULKARNAEN; a.k.a. ZULKARNAEN; a.k.a. ZULKARNAIN; a.k.a. ZULKARNAN; a.k.a. ZULKARNIN); DOB 1963; POB Gebang village, Masaran, Sragen, Central Java, Indonesia; nationality Indonesia (individual) [SDGT]

MUSA, Rifa'i Ahmad Taha (a.k.a. 'ABD ALLAH, 'Issam 'Ali Muhammad; a.k.a. 'ABD-AL-'IZ; a.k.a. ABD-AL-WAHAB, Abd-al-Hai Ahmad; a.k.a. ABU YASIR; a.k.a. AL-KAMEL, Salah 'Ali; a.k.a. TAHA MUSA, Rifa'i Ahmad; a.k.a. THABIT 'IZ); DOB 24 Jun 54; POB Egypt; Passport 83860 (Sudan); alt. Passport 30455 (Egypt); alt. Passport 1046403 (Egypt) (individual) [SDT]

MUSALAAM, Fahid Mohammed Ali (a.k.a. AL-KINI, Usama; a.k.a. ALLY, Fahid Mohammed; a.k.a. MSALAM, Fahad Ally; a.k.a. MSALAM, Fahid Mohammed Ali; a.k.a. MSALAM, Fahid Mohammed Ally; a.k.a. MSALAM, Mohammed Ally; a.k.a. SALEM, Fahid Muhamad Ali); DOB 19 Feb 1976; POB Mombasa, Kenya; citizen Kenya (individual) [SDGT]

MUSHOHWE, Christopher Chindoti; DOB 6 Feb 1954; Minister of Transport and Communications (individual) [ZIMBABWE]

MUSLIM IRANIAN STUDENT'S SOCIETY (a.k.a. MEK; a.k.a. MKO; a.k.a. MUJAHEDIN-E KHALQ; a.k.a. MUJAHEDIN-E KHALQ ORGANIZATION; a.k.a. NATIONAL COUNCIL OF RESISTANCE; a.k.a. NATIONAL COUNCIL OF RESISTANCE (NCR); a.k.a. NATIONAL COUNCIL OF RESISTANCE OF IRAN; a.k.a. NCRI; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN) [FTO] [SDGT]

MUSLIM IRANIAN STUDENT'S SOCIETY (a.k.a. MEK; a.k.a. MKO; a.k.a. MUJAHEDIN-E KHALQ; a.k.a. MUJAHEDIN-E KHALQ ORGANIZATION; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. representative offices and all other offices worldwide [FTO] [SDGT]

MUSLIM IRANIAN STUDENT'S SOCIETY (a.k.a. MEK; a.k.a. MKO; a.k.a. MUJAHEDIN-E KHALQ; a.k.a. MUJAHEDIN-E KHALQ ORGANIZATION; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. press office and all other offices worldwide [FTO] [SDGT]

MUSLIM IRANIAN STUDENT'S SOCIETY (a.k.a. MEK; a.k.a. MKO; a.k.a. MUJAHEDIN-E KHALQ; a.k.a. MUJAHEDIN-E KHALQ ORGANIZATION; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. press office and all other offices worldwide [FTO] [SDGT]

MUSLIU, Isak; DOB 31 Oct 1970; POB Racak, Serbia and Montenegro (individual) [BALKANS]

MUSLIU, Jonuz; DOB 5 Jan 1959; POB Konculj, Serbia and Montenegro (individual) [BALKANS]

MUSLIU, Shefqet; DOB 12 Feb 1963; POB Konculj, Serbia and Montenegro (individual) [BALKANS]

MUSTAFA BAKRI, Ali Sa'd Muhammad (a.k.a. AL-MASRI, Abd Al-Aziz); DOB 18 Apr 1966; nationality Egypt (individual) [SDGT]

MUSTAFA, Macki Hamoudat (a.k.a. AL-HAMADAT, General Maki; a.k.a. HAMUDAT, General Maki Mustafa; a.k.a. HAMUDAT, Maki; a.k.a. HMODAT, Mackie), Mosul, Iraq; DOB circa 1934; nationality Iraq (individual) [IRAQ2]

MUSTAFA, Mustafa Kamel (a.k.a. AL-MASRI, Abu Hamza; a.k.a. AL-MISRI, Abu Hamza; a.k.a. EMAN, Adam Ramsey; a.k.a. KAMEL, Mustafa), 9 Albourne Road, Shepherds Bush, London W12 OLW, United Kingdom; 8 Adie Road, Hammersmith, London W6 OPW, United Kingdom; DOB 15 Apr 1958 (individual) [SDGT]

MUSTAFA, Rrustem; DOB 27 Feb 1971; POB Podujevo, Serbia and Montenegro (individual) [BALKANS]

MUTASA, Didymus Noel Edwin; DOB 27 July 1935; Minister of State for National Security (individual) [ZIMBABWE]

MUTEZO, Munacho Thomas Alvar, 950 Sugarloaf Hill, Glen Lorne, Zimbabwe; DOB 14 Feb 1954; Passport AN187189 (Zimbabwe) expires 5 Dec 2010; Minister of Water Resources and Infrastructural Development (individual) [ZIMBABWE]

MUTINHIRI, Ambrose; DOB 22 Feb 1944; Passport AD000969 (Zimbabwe); Minister of Youth Development and Employment Creation (individual) [ZIMBABWE]

UTIWEKUZIVA, Kenneth Keparadza; DOB 27 May 1948; Deputy Minister for Small and Medium Enterprise Development (individual) [ZIMBABWE]

MUVDY BERBESY, Salua Teresa, Avenida Las Americas No. 21N-50 Ofc. 702, Cali, Colombia; c/o PARQUE INDUSTRIAL PROGRESO S.A., Yumbo, Colombia; c/o CIA. MINERA DAPA S.A., Bogota, Colombia; c/o CONSTRUCTORA PYNZAR LTDA., Cali, Colombia; DOB 30 Jan 1959; POB Barranquilla, Atlantico, Colombia; Cedula No. 32639757 (Colombia); Passport 32639757 (Colombia) (individual) [SDNT]

MUZENDA, Simon Vengesai; DOB 28 Oct 1922; Former Vice President ; Deceased (individual) [ZIMBABWE]

MUZENDA, Tsitsi; DOB 22 Aug 1922; Politburo Senior Committee Member (individual) [ZIMBABWE]

MUZONZINI, Elisha; DOB 24 Jun 1957; Passport AD000648 (Zimbabwe); Former Director of the Central Intelligence Organization (individual) [ZIMBABWE]

MYANMA ECONOMIC BANK (a.k.a. MYANMAR ECONOMIC BANK), 1-19 Sule Pagoda Road, Pabedan T/S, Yangon, Burma [BURMA]

MYANMA FOREIGN TRADE BANK (a.k.a. MYANMAR FOREIGN TRADE BANK), P.O. Box 203, 80-86 Maha Bandoola Garden Street, Kyauktada T/S, Yangon, Burma; SWIFT/BIC FOTMMMM1 [BURMA]

MYANMA INVESTMENT AND COMMERCIAL BANK (a.k.a. MICB; a.k.a. MYANMAR INVESTMENT AND COMMERCIAL BANK), 170/176 Bo Aung Kyaw Street, Botataung Township, Yangon, Burma; SWIFT/BIC MYANMMM1 [BURMA]

MYANMAR ECONOMIC BANK (a.k.a. MYANMA ECONOMIC BANK), 1-19 Sule Pagoda Road, Pabedan T/S, Yangon, Burma [BURMA]

MYANMAR FOREIGN TRADE BANK (a.k.a. MYANMA FOREIGN TRADE BANK), P.O. Box 203, 80-86 Maha Bandoola Garden Street, Kyauktada T/S, Yangon, Burma; SWIFT/BIC FOTMMMM1 [BURMA]

MYANMAR INVESTMENT AND COMMERCIAL BANK (a.k.a. MICB; a.k.a. MYANMA INVESTMENT AND COMMERCIAL BANK), 170/176 Bo Aung Kyaw Street, Botataung Township, Yangon, Burma; SWIFT/BIC MYANMMM1 [BURMA]

MZOUDI, Abdelghani (a.k.a. MAZUTI, Abdelghani; a.k.a. MAZWATI, Abdelghani), Op de Wisch 15, Hamburg 21149, Germany; Marienstrasse 54, Hamburg, Germany; DOB 6 Dec 1972; POB Marrakech, Morocco; citizen Morocco; Moroccan Personal ID No. E 427689 (Morocco) issued 20 Mar 2001; Passport M271392 (Morocco) issued 04 Dec 2000; alt. Passport F 879567 (Morocco) issued 29 Apr 1992 (individual) [SDGT]

NADA INTERNATIONAL ANSTALT, Vaduz, Liechtenstein; formerly c/o Asat Trust reg., Vaduz, Liechtenstein [SDGT]

NADA MANAGEMENT ORGANIZATION SA (f.k.a. AL TAQWA MANAGEMENT ORGANIZATION SA), Viale Stefano Franscini 22, Lugano CH-6900 TI, Switzerland [SDGT]

NADA, Youssef (a.k.a. NADA, Youssef M.; a.k.a. NADA, Youssef Mustafa), Via Per Arogno 32, Campione d'Italia 6911, Switzerland; Via Arogno 32, Campione d'Italia 6911, Italy; Via Riasc 4, Campione d'Italia CH-6911, Switzerland; DOB 17 May 31; alt. DOB 17 May 37; POB Alexandria, Egypt; citizen Tunisia (individual) [SDGT]

NADA, Youssef M. (a.k.a. NADA, Youssef; a.k.a. NADA, Youssef Mustafa), Via Per Arogno 32, Campione d'Italia 6911, Switzerland; Via Arogno 32, Campione d'Italia 6911, Italy; Via Riasc 4, Campione d'Italia CH-6911, Switzerland; DOB 17 May 31; alt. DOB 17 May 37; POB Alexandria, Egypt; citizen Tunisia (individual) [SDGT]

NADA, Youssef Mustafa (a.k.a. NADA, Youssef; a.k.a. NADA, Youssef M.), Via Per Arogno 32, Campione d'Italia 6911, Switzerland; Via Arogno 32, Campione d'Italia 6911, Italy; Via Riasc 4, Campione d'Italia CH-6911, Switzerland; DOB 17 May 31; alt. DOB 17 May 37; POB Alexandria, Egypt; citizen Tunisia (individual) [SDGT]

NAIDO, Valerii (a.k.a. NAYDO, Valeriy), c/o CET AVIATION, P.O. Box 932-20C, Ajman, United Arab Emirates; Equatorial Guinea; DOB 10 Aug 1957; citizen Ukraine; Passport AC251295 (Ukraine); alt. Passport KC024178 (Ukraine) (individual) [LIBERIA]

NAIZAQUE PUENTES, Jose de Jesus, c/o COINTERCOS S.A., Bogota, Colombia; c/o LABORATORIOS BLAIMAR DE COLOMBIA S.A., Bogota, Colombia; c/o COSMEPOP, Bogota, Colombia; Calle 58A S 80C-31, Bogota, Colombia; DOB 12 Mar 1956; Cedula No. 19348370 (Colombia) (individual) [SDNT]

NAJI, Talal Muhammad Rashid; DOB 1930; POB Al Nasiria, Palestine; Principal Deputy of POPULAR FRONT FOR THE LIBERATION OF PALESTINE -GENERAL COMMAND (individual) [SDT]

NALETILIC, Mladen; DOB 1 Dec 1946; POB Listica, Bosnia-Herzegovina; ICTY indictee (individual) [BALKANS]

NALHERBE, Oscar (a.k.a. BECERRA MIRELES, Martin; a.k.a. BECERRA, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. QALHARBE DE LEON, Oscar; a.k.a. VARGAS, Jorge); DOB 10 Jan 64; POB Mexico (individual) [SDNTK]

NAMAN, Saalim (a.k.a. NAMAN, Sam), P.O. Box 39, Fletchamstead Highway, Coventry, United Kingdom; Iraq; Amman, Jordan; 5903 Harper Road, Solon, OH; 3343 Woodview Lake Road, West Bloomfield, MI 48323 (individual) [IRAQ2]

NAMAN, Sam (a.k.a. NAMAN, Saalim), P.O. Box 39, Fletchamstead Highway, Coventry, United Kingdom; Iraq; Amman, Jordan; 5903 Harper Road, Solon, OH; 3343 Woodview Lake Road, West Bloomfield, MI 48323 (individual) [IRAQ2]

NARVAEZ GONI, Juan Jesus; DOB 23 Feb 1961; POB Pamplona, Navarra Province, Spain; D.N.I. 15.841.101 (Spain); Member ETA (individual) [SDGT]

NASCO BUSINESS RESIDENCE CENTER SAS DI NASREDDIN AHMED IDRIS EC (n.k.a. HOTEL NASCO), Corso Sempione 69, 20149 Milan, Italy; Italian Fiscal Code 01406430155; V.A.T. Number IT 01406430155 [SDGT]

NASCO NASREDDIN HOLDING A.S., Zemin Kat, 219 Demirhane Caddesi, Zeytinburnu, Istanbul, Turkey [SDGT]

NASCOSERVICE S.R.L., Corso Sempione 69, 20149 Milan, Italy; Italian Fiscal Code 08557650150; V.A.T. Number IT 08557650150 [SDGT]

NASCOTEX S.A. (a.k.a. INDUSTRIE GENERALE DE FILATURE ET TISSAGE; a.k.a. INDUSTRIE GENERALE DE TEXTILE), KM 7 Route de Rabat, BP 285, Tangiers, Morocco; KM 7 Route de Rabat, Tangiers, Morocco [SDGT]

NASIR, Ali Khan (a.k.a. KHAN, Ali; a.k.a. KHAN, Nafir Ali; a.k.a. KHAN, Nasir Ali; a.k.a. KHAN, Nazir Ali; a.k.a. KHAN, Nisan Ali; a.k.a. KHAN, Nisar Ali; a.k.a. NASIR, Khan Ali); DOB 1 Oct 55; POB Pakistan (individual) [SDNTK]

NASIR, Khan Ali (a.k.a. KHAN, Ali; a.k.a. KHAN, Nafir Ali; a.k.a. KHAN, Nasir Ali; a.k.a. KHAN, Nazir Ali; a.k.a. KHAN, Nisan Ali; a.k.a. KHAN, Nisar Ali; a.k.a. NASIR, Ali Khan); DOB 1 Oct 55; POB Pakistan (individual) [SDNTK]

NASOOF, Tahar (a.k.a. NASUF, Taher; a.k.a. NASUF, Tahir; a.k.a. NASUF, Tahir Mustafa; a.k.a. “ABU RIDA”; a.k.a. “ABU SALIMA EL LIBI”; a.k.a. “AL-QA'QA”), Manchester, United Kingdom; DOB 4 Nov 1961; alt. DOB 11 Apr 1961; POB Tripoli, Libya (individual) [SDGT]

NASR, Samir M. (a.k.a. RUPRAH, Sanjivan); DOB 9 Aug 1966; nationality Kenya; Passport D-001829-00 (Liberia); Businessman; Former Deputy Commissioner, Bureau of Maritime Affairs of Liberia (individual) [LIBERIA]

NASRALLAH, Hasan; DOB 31 Aug 1960; alt. DOB 31 Aug 1953; alt. DOB 31 Aug 1955; alt. DOB 31 Aug 1958; POB Al Basuriyah, Lebanon; Passport 042833 (Lebanon); Secretary General of HIZBALLAH (individual) [SDT]

NASREDDIN COMPANY NASCO SAS DI AHMED IDRIS NASREDDIN EC, Corso Sempione 69, 20149 Milan, Italy; Italian Fiscal Code 03464040157; V.A.T. Number IT 03464040157 [SDGT]

NASREDDIN FOUNDATION (a.k.a. NASREDDIN STIFTUNG), c/o Rechta Treuhand-Anstalt, Vaduz, Liechtenstein [SDGT]

NASREDDIN GROUP INTERNATIONAL HOLDING LIMITED (a.k.a. NASREDDIN GROUP INTERNATIONAL HOLDINGS LIMITED), c/o Arthur D. Hanna& Company; 10 Deveaux Street, Nassau, Bahamas, The; P.O. Box N-4877, Nassau, Bahamas, The [SDGT]

NASREDDIN GROUP INTERNATIONAL HOLDINGS LIMITED (a.k.a. NASREDDIN GROUP INTERNATIONAL HOLDING LIMITED), c/o Arthur D. Hanna& Company; 10 Deveaux Street, Nassau, Bahamas, The; P.O. Box N-4877, Nassau, Bahamas, The [SDGT]

NASREDDIN INTERNATIONAL GROUP LIMITED HOLDING (a.k.a. NASREDDIN INTERNATIONAL GROUP LTD. HOLDING), c/o Rechta Treuhand-Anstalt, Vaduz, Liechtenstein; Corso Sempione 69, 20149, Milan, Italy [SDGT]

NASREDDIN INTERNATIONAL GROUP LTD. HOLDING (a.k.a. NASREDDIN INTERNATIONAL GROUP LIMITED HOLDING), c/o Rechta Treuhand-Anstalt, Vaduz, Liechtenstein; Corso Sempione 69, 20149, Milan, Italy [SDGT]

NASREDDIN STIFTUNG (a.k.a. NASREDDIN FOUNDATION), c/o Rechta Treuhand-Anstalt, Vaduz, Liechtenstein [SDGT]

NASREDDIN, Ahmad I. (a.k.a. NASREDDIN, Ahmed Idris; a.k.a. NASREDDIN, Hadj Ahmed; a.k.a. NASREDDINE, Ahmed Idriss), Corso Sempione 69, 20149 Milan, Italy; 1 via delle Scuole, 6900 Lugano, Switzerland; Piazzale Biancamano, Milan, Italy; Rue de Cap Spartel, Tangiers, Morocco; DOB 22 Nov 1929; POB Adi Ugri, Ethiopia; Italian Fiscal Code NSRDRS29S22Z315Y (individual) [SDGT]

NASREDDIN, Ahmed Idris (a.k.a. NASREDDIN, Ahmad I.; a.k.a. NASREDDIN, Hadj Ahmed; a.k.a. NASREDDINE, Ahmed Idriss), Corso Sempione 69, 20149 Milan, Italy; 1 via delle Scuole, 6900 Lugano, Switzerland; Piazzale Biancamano, Milan, Italy; Rue de Cap Spartel, Tangiers, Morocco; DOB 22 Nov 1929; POB Adi Ugri, Ethiopia; Italian Fiscal Code NSRDRS29S22Z315Y (individual) [SDGT]

NASREDDIN, Hadj Ahmed (a.k.a. NASREDDIN, Ahmad I.; a.k.a. NASREDDIN, Ahmed Idris; a.k.a. NASREDDINE, Ahmed Idriss), Corso Sempione 69, 20149 Milan, Italy; 1 via delle Scuole, 6900 Lugano, Switzerland; Piazzale Biancamano, Milan, Italy; Rue de Cap Spartel, Tangiers, Morocco; DOB 22 Nov 1929; POB Adi Ugri, Ethiopia; Italian Fiscal Code NSRDRS29S22Z315Y (individual) [SDGT]

NASREDDINE, Ahmed Idriss (a.k.a. NASREDDIN, Ahmad I.; a.k.a. NASREDDIN, Ahmed Idris; a.k.a. NASREDDIN, Hadj Ahmed), Corso Sempione 69, 20149 Milan, Italy; 1 via delle Scuole, 6900 Lugano, Switzerland; Piazzale Biancamano, Milan, Italy; Rue de Cap Spartel, Tangiers, Morocco; DOB 22 Nov 1929; POB Adi Ugri, Ethiopia; Italian Fiscal Code NSRDRS29S22Z315Y (individual) [SDGT]

NASSER ARANA, Carlos Alberto, c/o AGRICOLA SONGO LTDA., Barranquilla, Colombia; c/o GRAN COMPANIA DE HOTELES LTDA., Barranquilla, Colombia; c/o HOTELES E INMUEBLES DE COLOMBIA LTDA., Barranquilla, Colombia; c/o DESARROLLOS URBANOS “DESARROLLAR” LTDA., Barranquilla, Colombia; c/o EDIFICACIONES DEL CARIBE LTDA., Barranquilla, Colombia; c/o INVERSIONES HOTELERAS DEL LITORAL LTDA., Barranquilla, Colombia; c/o INVERSIONES PRADO TRADE CENTER LTDA., Barranquilla, Colombia; c/o NEGOCIOS Y PROPIEDADES DEL CARIBE LTDA., Barranquilla, Colombia; c/o PROMOCIONES Y CONSTRUCCIONES DEL CARIBE LTDA., Barranquilla, Colombia; c/o PROMOCIONES Y CONSTRUCCIONES DEL CARIBE LTDA., Y CIA. S.C.A., Barranquilla, Colombia; c/o PROMOTORA HOTEL BARRANQUILLA LTDA., Barranquilla, Colombia; c/o INMOBILIARIA DEL CARIBE LTDA., Barranquilla, Colombia; c/o INMOBILIARIA HOTELERA DEL CARIBE LTDA., Barranquilla, Colombia; Calle 74 No. 53-30, Barranquilla, Colombia; c/o SURAMERICANA DE HOTELES LTDA., Barranquilla, Colombia; c/o INVERSIONES NAMOS Y CIA. LTDA., Barranquilla, Colombia; c/o K. P. TO JEANS WEAR S. DE H., Barranquilla, Colombia; DOB 21 Nov 64; Cedula No. 8745045 (Colombia); Passport T707770 (Colombia); alt. Passport PE008808 (Colombia) (individual) [SDNT]

NASSER ARANA, Claudia Patricia (a.k.a. NASSER DE HASBUN, Claudia Patricia; a.k.a. NASSER DE HAZBUN, Claudia Patricia), c/o DESARROLLOS URBANOS “DESARROLLAR” LTDA., Barranquilla, Colombia; c/o GRAN COMPANIA DE HOTELES LTDA., Barranquilla, Colombia; c/o HOTELES E INMUEBLES DE COLOMBIA LTDA., Barranquilla, Colombia; c/o INMOBILIARIA DEL CARIBE LTDA., Barranquilla, Colombia; c/o EDIFICACIONES DEL CARIBE LTDA., Barranquilla, Colombia; c/o INVERSIONES HOTELERAS DEL LITORAL LTDA., Barranquilla, Colombia; c/o INVERSIONES PRADO TRADE CENTER LTDA., Barranquilla, Colombia; c/o NEGOCIOS Y PROPIEDADES DEL CARIBE LTDA., Barranquilla, Colombia; c/o PROMOCIONES Y CONSTRUCCIONES DEL CARIBE LTDA., Barranquilla, Colombia; c/o PROMOCIONES Y CONSTRUCCIONES DEL CARIBE LTDA., Y CIA. S.C.A., Barranquilla, Colombia; c/o PROMOTORA HOTEL BARRANQUILLA LTDA., Barranquilla, Colombia; c/o SURAMERICANA DE HOTELES LTDA., Barranquilla, Colombia; c/o INMOBILIARIA HOTELERA DEL CARIBE LTDA., Barranquilla, Colombia; Calle 74 No. 53-30, Barranquilla, Colombia; c/o AGRICOLA SONGO LTDA., Barranquilla, Colombia; Carrera 54 No. 74-79, Barranquilla, Colombia; Carrera 54 No. 75-97 piso 2, Barranquilla, Colombia; c/o CAMPO VERDE LTDA., Barranquilla, Colombia; c/o VILLA DE ARTE S. DE H., Barranquilla, Colombia; DOB 23 Jan 66; alt. DOB 23 Jan 63; Cedula No. 32665137 (Colombia); Passport AC751227 (Colombia) (individual) [SDNT]

NASSER ARANA, Jorge, c/o PROMOTORA HOTEL BARRANQUILLA LTDA., Barranquilla, Colombia; c/o SURAMERICANA DE HOTELES LTDA., Barranquilla, Colombia; c/o INMOBILIARIA HOTELERA DEL CARIBE LTDA., Barranquilla, Colombia; Calle 74 No. 53-30, Barranquilla, Colombia; c/o AGRICOLA SONGO LTDA., Barranquilla, Colombia; c/o DESARROLLOS URBANOS “DESARROLLAR” LTDA., Barranquilla, Colombia; c/o EDIFICACIONES DEL CARIBE LTDA., Barranquilla, Colombia; c/o GRAN COMPANIA DE HOTELES LTDA., Barranquilla, Colombia; c/o HOTELES E INMUEBLES DE COLOMBIA LTDA., Barranquilla, Colombia; c/o INMOBILIARIA DEL CARIBE LTDA., Barranquilla, Colombia; c/o PROMOCIONES Y CONSTRUCCIONES DEL CARIBE LTDA., Barranquilla, Colombia; c/o INVERSIONES HOTELERAS DEL LITORAL LTDA., Barranquilla, Colombia; c/o INVERSIONES PRADO TRADE CENTER LTDA., Barranquilla, Colombia; c/o NEGOCIOS Y PROPIEDADES DEL CARIBE LTDA., Barranquilla, Colombia; c/o PROMOCIONES Y CONSTRUCCIONES DEL CARIBE LTDA., Y CIA. S.C.A., Barranquilla, Colombia; c/o HAPPY DAYS S. de H., Barranquilla, Colombia; c/o VESTIMENTA J Y J S. de H., Barranquilla, Colombia; DOB 6 Nov 66; Cedula No. 72139939 (Colombia); Passport T705915 (Colombia); alt. Passport AC143719 (Colombia) (individual) [SDNT]

NASSER DAVID, Julio Cesar (a.k.a. PEREZ PENA, Jaime), Calle 74 No. 53-30, Barranquilla, Colombia; Carrera 38B No. 76-40, Barranquilla, Colombia; c/o GRAN COMPANIA DE HOTELES LTDA., Barranquilla, Colombia; c/o HOTELES E INMUEBLES DE COLOMBIA LTDA., Barranquilla, Colombia; c/o INMOBILIARIA DEL CARIBE LTDA., Barranquilla, Colombia; c/o INMOBILIARIA HOTELERA DEL CARIBE LTDA., Barranquilla, Colombia; c/o INVERSIONES HOTELERAS DEL LITORAL LTDA., Barranquilla, Colombia; c/o INVERSIONES PRADO TRADE CENTER LTDA., Barranquilla, Colombia; c/o NEGOCIOS Y PROPIEDADES DEL CARIBE LTDA., Barranquilla, Colombia; c/o PROMOCIONES Y CONSTRUCCIONES DEL CARIBE LTDA., Barranquilla, Colombia; c/o PROMOCIONES Y CONSTRUCCIONES DEL CARIBE LTDA., Y CIA. S.C.A., Barranquilla, Colombia; c/o PROMOTORA HOTEL BARRANQUILLA LTDA., Barranquilla, Colombia; c/o SURAMERICANA DE HOTELES LTDA., Barranquilla, Colombia; c/o EDIFICACIONES DEL CARIBE LTDA., Barranquilla, Colombia; c/o DESARROLLOS URBANOS “DESARROLLAR” LTDA., Barranquilla, Colombia; c/o AGRICOLA SONGO LTDA., Barranquilla, Colombia; DOB 1 Nov 40; alt. DOB 1 Oct 40; Cedula No. 3710619 (Colombia); Passport H130865 (Colombia) (individual) [SDNT]

NASSER DE HASBUN, Claudia Patricia (a.k.a. NASSER ARANA, Claudia Patricia; a.k.a. NASSER DE HAZBUN, Claudia Patricia), c/o DESARROLLOS URBANOS “DESARROLLAR” LTDA., Barranquilla, Colombia; c/o GRAN COMPANIA DE HOTELES LTDA., Barranquilla, Colombia; c/o HOTELES E INMUEBLES DE COLOMBIA LTDA., Barranquilla, Colombia; c/o INMOBILIARIA DEL CARIBE LTDA., Barranquilla, Colombia; c/o EDIFICACIONES DEL CARIBE LTDA., Barranquilla, Colombia; c/o INVERSIONES HOTELERAS DEL LITORAL LTDA., Barranquilla, Colombia; c/o INVERSIONES PRADO TRADE CENTER LTDA., Barranquilla, Colombia; c/o NEGOCIOS Y PROPIEDADES DEL CARIBE LTDA., Barranquilla, Colombia; c/o PROMOCIONES Y CONSTRUCCIONES DEL CARIBE LTDA., Barranquilla, Colombia; c/o PROMOCIONES Y CONSTRUCCIONES DEL CARIBE LTDA., Y CIA. S.C.A., Barranquilla, Colombia; c/o PROMOTORA HOTEL BARRANQUILLA LTDA., Barranquilla, Colombia; c/o SURAMERICANA DE HOTELES LTDA., Barranquilla, Colombia; c/o INMOBILIARIA HOTELERA DEL CARIBE LTDA., Barranquilla, Colombia; Calle 74 No. 53-30, Barranquilla, Colombia; c/o AGRICOLA SONGO LTDA., Barranquilla, Colombia; Carrera 54 No. 74-79, Barranquilla, Colombia; Carrera 54 No. 75-97 piso 2, Barranquilla, Colombia; c/o CAMPO VERDE LTDA., Barranquilla, Colombia; c/o VILLA DE ARTE S. DE H., Barranquilla, Colombia; DOB 23 Jan 66; alt. DOB 23 Jan 63; Cedula No. 32665137 (Colombia); Passport AC751227 (Colombia) (individual) [SDNT]

NASSER DE HAZBUN, Claudia Patricia (a.k.a. NASSER ARANA, Claudia Patricia; a.k.a. NASSER DE HASBUN, Claudia Patricia), c/o DESARROLLOS URBANOS “DESARROLLAR” LTDA., Barranquilla, Colombia; c/o GRAN COMPANIA DE HOTELES LTDA., Barranquilla, Colombia; c/o HOTELES E INMUEBLES DE COLOMBIA LTDA., Barranquilla, Colombia; c/o INMOBILIARIA DEL CARIBE LTDA., Barranquilla, Colombia; c/o EDIFICACIONES DEL CARIBE LTDA., Barranquilla, Colombia; c/o INVERSIONES HOTELERAS DEL LITORAL LTDA., Barranquilla, Colombia; c/o INVERSIONES PRADO TRADE CENTER LTDA., Barranquilla, Colombia; c/o NEGOCIOS Y PROPIEDADES DEL CARIBE LTDA., Barranquilla, Colombia; c/o PROMOCIONES Y CONSTRUCCIONES DEL CARIBE LTDA., Barranquilla, Colombia; c/o PROMOCIONES Y CONSTRUCCIONES DEL CARIBE LTDA., Y CIA. S.C.A., Barranquilla, Colombia; c/o PROMOTORA HOTEL BARRANQUILLA LTDA., Barranquilla, Colombia; c/o SURAMERICANA DE HOTELES LTDA., Barranquilla, Colombia; c/o INMOBILIARIA HOTELERA DEL CARIBE LTDA., Barranquilla, Colombia; Calle 74 No. 53-30, Barranquilla, Colombia; c/o AGRICOLA SONGO LTDA., Barranquilla, Colombia; Carrera 54 No. 74-79, Barranquilla, Colombia; Carrera 54 No. 75-97 piso 2, Barranquilla, Colombia; c/o CAMPO VERDE LTDA., Barranquilla, Colombia; c/o VILLA DE ARTE S. DE H., Barranquilla, Colombia; DOB 23 Jan 66; alt. DOB 23 Jan 63; Cedula No. 32665137 (Colombia); Passport AC751227 (Colombia) (individual) [SDNT]

NASUF, Taher (a.k.a. NASOOF, Tahar; a.k.a. NASUF, Tahir; a.k.a. NASUF, Tahir Mustafa; a.k.a. “ABU RIDA”; a.k.a. “ABU SALIMA EL LIBI”; a.k.a. “AL-QA'QA”), Manchester, United Kingdom; DOB 4 Nov 1961; alt. DOB 11 Apr 1961; POB Tripoli, Libya (individual) [SDGT]

NASUF, Tahir (a.k.a. NASOOF, Tahar; a.k.a. NASUF, Taher; a.k.a. NASUF, Tahir Mustafa; a.k.a. “ABU RIDA”; a.k.a. “ABU SALIMA EL LIBI”; a.k.a. “AL-QA'QA”), Manchester, United Kingdom; DOB 4 Nov 1961; alt. DOB 11 Apr 1961; POB Tripoli, Libya (individual) [SDGT]

NASUF, Tahir Mustafa (a.k.a. NASOOF, Tahar; a.k.a. NASUF, Taher; a.k.a. NASUF, Tahir; a.k.a. “ABU RIDA”; a.k.a. “ABU SALIMA EL LIBI”; a.k.a. “AL-QA'QA”), Manchester, United Kingdom; DOB 4 Nov 1961; alt. DOB 11 Apr 1961; POB Tripoli, Libya (individual) [SDGT]

NATION BUILDING (a.k.a. FOUNDATION FOR CONSTRUCTION; a.k.a. RECONSTRUCTION FOUNDATION; a.k.a. RECONSTRUCTION OF THE ISLAMIC COMMUNITY; a.k.a. RECONSTRUCTION OF THE MUSLIM UMMAH; a.k.a. UMMAH TAMEER E-NAU (UTN); a.k.a. UMMAH TAMEER I-NAU; a.k.a. UMMAH TAMIR E-NAU; a.k.a. UMMAH TAMIR I-NAU; a.k.a. UMMAT TAMIR E-NAU; a.k.a. UMMAT TAMIR-I-PAU), Street 13, Wazir Akbar Khan, Kabul, Afghanistan; 60-C, Nazim Ud Din Road, Islamabad F 8/4, Pakistan [SDGT]

NATIONAL BANK OF CUBA (a.k.a. BANCO NACIONAL DE CUBA; a.k.a. BNC), Zweierstrasse 35, CH-8022 Zurich, Switzerland [CUBA]

NATIONAL BANK OF CUBA (a.k.a. BANCO NACIONAL DE CUBA; a.k.a. BNC), Avenida de Concha Espina 8, E-28036 Madrid, Spain [CUBA]

NATIONAL BANK OF CUBA (a.k.a. BANCO NACIONAL DE CUBA; a.k.a. BNC), Dai-Ichi Bldg. 6th Floor, 10-2 Nihombashi, 2-chome, Chuo-ku, Tokyo 103, Japan [CUBA]

NATIONAL BANK OF CUBA (a.k.a. BANCO NACIONAL DE CUBA; a.k.a. BNC), Federico Boyd Avenue & 51 Street, Panama City, Panama [CUBA]

NATIONAL CIGARETTES CO. LTD., P.O. Box 2083, Khartoum, Sudan; and all other branches in Sudan [SUDAN]

NATIONAL COMMITTEE FOR THE LIBERATION AND PROTECTION OF ALBANIAN LANDS (a.k.a. KKCMTSH) [BALKANS]

NATIONAL COTTON AND TRADE COMPANY, P.O. Box 1552, Khartoum, Sudan [SUDAN]

NATIONAL COUNCIL OF RESISTANCE (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE (NCR); a.k.a. NATIONAL COUNCIL OF RESISTANCE OF IRAN; a.k.a. NCRI; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN) [FTO] [SDGT]

NATIONAL COUNCIL OF RESISTANCE (NCR) (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE OF IRAN; a.k.a. NCRI; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN) [FTO] [SDGT]

NATIONAL COUNCIL OF RESISTANCE (NCR) (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. representative offices and all other offices worldwide [FTO] [SDGT]

NATIONAL COUNCIL OF RESISTANCE (NCR) (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. press office and all other offices worldwide [FTO] [SDGT]

NATIONAL COUNCIL OF RESISTANCE (NCR) (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. press office and all other offices worldwide [FTO] [SDGT]

NATIONAL COUNCIL OF RESISTANCE OF IRAN (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NCRI; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN) [FTO] [SDGT]

NATIONAL COUNCIL OF RESISTANCE (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. representative offices and all other offices worldwide [FTO] [SDGT]

NATIONAL COUNCIL OF RESISTANCE (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. press office and all other offices worldwide [FTO] [SDGT]

NATIONAL COUNCIL OF RESISTANCE (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. press office and all other offices worldwide [FTO] [SDGT]

NATIONAL ELECTRICITY CORPORATION, P.O. Box 1380, Khartoum, Sudan [SUDAN]

NATIONAL EXPORT-IMPORT BANK (N.K.A. BANK OF KHARTOUM GROUP), Sudanese Kuwait Commercial Centre, Nile Street, P.O. Box 2732, Khartoum, Sudan [SUDAN]

NATIONAL LIBERATION ARMY (a.k.a. EJERCITO DE LIBERACION NACIONAL; a.k.a. ELN) [FTO] [SDGT]

NATIONAL LIBERATION ARMY (a.k.a. NLA; a.k.a. UCK) [BALKANS]

NATIONAL MOVEMENT FOR THE LIBERATION OF KOSOVO (a.k.a. LKCK) [BALKANS]

NATIONAL REINSURANCE COMPANY (SUDAN) LIMITED, P.O. Box 443, Khartoum, Sudan [SUDAN]

NAUMAU, Uladzimir Uladzimiravich (a.k.a. NAUMOV, Vladimir Vladimirovich); DOB 1956; Minister of the Interior; Position also referred to as Minister of Internal Affairs (individual) [BELARUS]

NAUMOV, Vladimir Vladimirovich (a.k.a. NAUMAU, Uladzimir Uladzimiravich); DOB 1956; Minister of the Interior; Position also referred to as Minister of Internal Affairs (individual) [BELARUS]

NAVAI, Ali (a.k.a. NAWAE, Ali; a.k.a. NAWA'EE, Ali; a.k.a. NAWA'I, Ali; a.k.a. NAWAI, Ali; a.k.a. NAWAY, Haji Ali), United Arab Emirates; Iran; Karachi, Pakistan; DOB circa 1945; alt. DOB circa 1950; POB Sistan Va Baluchistan, Iran; nationality Iran (individual) [SDNTK]

NAVARRO HERNANDEZ, Yanet, c/o CAJA SOLIDARIA, Bogota, Colombia; c/o COPSERVIR LTDA., Bogota, Colombia; c/o LITOPHARMA, Barranquilla, Colombia; Cedula No. 32728558 (Colombia) (individual) [SDNT]

NAVARRO MARTINEZ, Samuel, Frankfurt, Germany (individual) [CUBA]

NAVARRO REYES, Fernando, c/o DROGAS LA REBAJA BARRANQUILLA S.A., Barranquilla, Colombia; c/o DROGAS LA REBAJA CALI S.A., Cali, Colombia; c/o DROGAS LA REBAJA BOGOTA S.A., Bogota, Colombia; c/o DROGAS LA REBAJA PEREIRA S.A., Pereira, Colombia; c/o DROGAS LA REBAJA PRINCIPAL S.A., Bogota, Colombia; c/o DEPOSITO POPULAR DE DROGAS S.A., Cali, Colombia; c/o DROGAS LA REBAJA NEIVA S.A., Neiva, Colombia; c/o SERVICIOS FARMACEUTICOS SERVIFAR S.A., Cali, Colombia; c/o DISTRIBUIDORA DEL VALLE E.U., Cali, Colombia; Cedula No. 16616177 (Colombia); Passport 16616177 (Colombia) (individual) [SDNT]

NAVIA DIAZ, Ricardo Alberto, c/o INTERNACIONAL DE DIVISAS S.A., Cali, Colombia; c/o INTERNACIONAL DE DIVISAS S.A., LLC, Miami, FL; c/o OBURSATILES S.A., Cali, Colombia; DOB 11 Nov 1961; Cedula No. 16662355 (Colombia); Passport 16662355 (Colombia) (individual) [SDNT]

NAVIERA MARITIMA DE AROSA, S.A., Paseo de Pereda 36, Apartado 141, 39004 Santander, Spain [CUBA]

NAVIGABLE WATER CORPORATION, c/o EMPRESA DE NAVEGACION CARIBE, Edificio Lonja del Comercio, Lamparilla 2, Caja Postal 1784, Havana 1, Cuba [CUBA]

NAWAE, Ali (a.k.a. NAVAI, Ali; a.k.a. NAWA'EE, Ali; a.k.a. NAWA'I, Ali; a.k.a. NAWAI, Ali; a.k.a. NAWAY, Haji Ali), United Arab Emirates; Iran; Karachi, Pakistan; DOB circa 1945; alt. DOB circa 1950; POB Sistan Va Baluchistan, Iran; nationality Iran (individual) [SDNTK]

NAWA'EE, Ali (a.k.a. NAVAI, Ali; a.k.a. NAWAE, Ali; a.k.a. NAWA'I, Ali; a.k.a. NAWAI, Ali; a.k.a. NAWAY, Haji Ali), United Arab Emirates; Iran; Karachi, Pakistan; DOB circa 1945; alt. DOB circa 1950; POB Sistan Va Baluchistan, Iran; nationality Iran (individual) [SDNTK]

NAWAI, Ali (a.k.a. NAVAI, Ali; a.k.a. NAWAE, Ali; a.k.a. NAWA'EE, Ali; a.k.a. NAWA'I, Ali; a.k.a. NAWAY, Haji Ali), United Arab Emirates; Iran; Karachi, Pakistan; DOB circa 1945; alt. DOB circa 1950; POB Sistan Va Baluchistan, Iran; nationality Iran (individual) [SDNTK]

NAWA'I, Ali (a.k.a. NAVAI, Ali; a.k.a. NAWAE, Ali; a.k.a. NAWA'EE, Ali; a.k.a. NAWAI, Ali; a.k.a. NAWAY, Haji Ali), United Arab Emirates; Iran; Karachi, Pakistan; DOB circa 1945; alt. DOB circa 1950; POB Sistan Va Baluchistan, Iran; nationality Iran (individual) [SDNTK]

NAWAY, Haji Ali (a.k.a. NAVAI, Ali; a.k.a. NAWAE, Ali; a.k.a. NAWA'EE, Ali; a.k.a. NAWA'I, Ali; a.k.a. NAWAI, Ali), United Arab Emirates; Iran; Karachi, Pakistan; DOB circa 1945; alt. DOB circa 1950; POB Sistan Va Baluchistan, Iran; nationality Iran (individual) [SDNTK]

NAYDO, Valeriy (a.k.a. NAIDO, Valerii), c/o CET AVIATION, P.O. Box 932-20C, Ajman, United Arab Emirates; Equatorial Guinea; DOB 10 Aug 1957; citizen Ukraine; Passport AC251295 (Ukraine); alt. Passport KC024178 (Ukraine) (individual) [LIBERIA]

NAZIM, Abou (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NEZAM, Abu; a.k.a. NIZAM, Abou); DOB Sep 38 (individual) [SDNTK]

NCRI (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NATIONAL COUNCIL OF RESISTANCE OF IRAN; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN) [FTO] [SDGT]

NCUBE, Abedinico; DOB 13 Mar 1954; Deputy Minister of Public Service, Labor and Social Welfare (individual) [ZIMBABWE]

NDLOVU MOTORWAYS, c/o Sam Nujoma Street/Livingston Avenue, Harare, Zimbabwe [ZIMBABWE]

NDLOVU, Naison K.; DOB 22 Oct 1930; Politburo Secretary for Production and Labor (individual) [ZIMBABWE]

NDLOVU, Richard; DOB 26 Jun 1942; Politburo Deputy Commissariat (individual) [ZIMBABWE]

NDLOVU, Rose Jaele; DOB 27 Sep 1939; Passport AD000813 (Zimbabwe); Spouse of Sikhanyiso Ndlovu (individual) [ZIMBABWE]

NDLOVU, Sikhanyiso Duke; DOB 4 May 1937; Passport ZD001355 (Zimbabwe); Deputy Minister of Higher and Tertiary Education (individual) [ZIMBABWE]

NDRECAJ, Maliq; DOB 22 Apr 1969; POB Maciteve, Serbia and Montenegro (individual) [BALKANS]

NEAL, Juanita; DOB 09 MAY 1947; Former Deputy Minister of Finance of Liberia (individual) [LIBERIA]

NEGOCIAR LTDA. (a.k.a. NEGOCIOS Y PROPIEDADES DEL CARIBE LTDA.), Calle 74 No. 53-30, Barranquilla, Colombia; NIT # 890108102-8 (Colombia) [SDNT]

NEGOCIOS LOS SAUCES LTDA., Carrera 4 No. 4-21 of. 1501, Edificio Seguros Bolivar, Cali, Colombia; Apartado Aereo 10077, Cali, Colombia; NIT # 890328835-1 (Colombia) [SDNT]

NEGOCIOS LOS SAUCES LTDA. Y CIA. S.C.S. (f.k.a. INMOBILIARIA SAMARIA LTDA.), Calle 13A 64-50 F102, Cali, Colombia; Carrera 4 12-41 of. 1501, Edificio Seguros Bolivar, Cali, Colombia; Calle 13 3-32 piso 13, Cali, Colombia; Calle 18, No. 106-96 of. 201/202, Cali, Colombia; NIT # 890937859-0 (Colombia) [SDNT]

NEGOCIOS Y PROPIEDADES DEL CARIBE LTDA. (f.k.a. NEGOCIAR LTDA.), Calle 74 No. 53-30, Barranquilla, Colombia; NIT # 890108102-8 (Colombia) [SDNT]

NEGRETE AYALA, Nubis del Carmen, c/o FARMA 3.000 LIMITADA, Barranquilla, Colombia; DOB 15 Jan 1966; Cedula No. 26174837 (Colombia); Passport 26174837 (Colombia) (individual) [SDNT]

NEMBHARD, Norris (a.k.a. NEMHARD, Norris; a.k.a. “DEDO”; a.k.a. “DIDO”); DOB 5 Jan 1952; alt. DOB 5 Jan 1951; alt. DOB 12 May 1954; POB Jamaica (individual) [SDNTK]

NEMHARD, Norris (a.k.a. NEMBHARD, Norris; a.k.a. “DEDO”; a.k.a. “DIDO”); DOB 5 Jan 1952; alt. DOB 5 Jan 1951; alt. DOB 12 May 1954; POB Jamaica (individual) [SDNTK]

NESSI, Ferruccio, Piazza Grande 26, 6600 Locarno, Switzerland (individual) [IRAQ2]

NEVADO, Sandra, c/o CAJA SOLIDARIA, Bogota, Colombia; c/o COOPIFARMA, Bucaramanga, Colombia; c/o COPSERVIR LTDA., Bogota, Colombia; Carrera 110 No. 124A-33 B. 110 Int. 6 ap. 403, Bogota, Colombia; Cedula No. 51944889 (Colombia) (individual) [SDNT]

NEW HAIFA SUGAR FACTORY, Kashm el Girba, Sudan [SUDAN]

NEW JIHAD (a.k.a. AL-JIHAD; a.k.a. EGYPTIAN AL-JIHAD; a.k.a. EGYPTIAN ISLAMIC JIHAD; a.k.a. JIHAD GROUP) [SDT] [FTO] [SDGT]

NEW JIHAD (a.k.a. AL QAEDA; a.k.a. AL QA'IDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY; a.k.a. ISLAMIC ARMY FOR THE LIBERATION OF HOLY SITES; a.k.a. ISLAMIC SALVATION FOUNDATION; a.k.a. “THE BASE”; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION) [FTO] [SDGT] [SDT]

NEW KACH MOVEMENT (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

NEW KHARTOUM TANNERY, P.O. Box 17, Khartoum, Sudan [SUDAN]

NEW PEOPLE'S ARMY (a.k.a. COMMUNIST PARTY OF THE PHILIPPINES; a.k.a. CPP; a.k.a. NEW PEOPLE'S ARMY / COMMUNIST PARTY OF THE PHILIPPINES; a.k.a. NPA; a.k.a. NPP/CPP) [FTO] [SDGT]

NEW PEOPLE'S ARMY / COMMUNIST PARTY OF THE PHILIPPINES (a.k.a. COMMUNIST PARTY OF THE PHILIPPINES; a.k.a. CPP; a.k.a. NEW PEOPLE'S ARMY; a.k.a. NPA; a.k.a. NPP/CPP) [FTO] [SDGT]

NEWKACH.ORG (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

NEZAM, Abu (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NIZAM, Abou); DOB Sep 38 (individual) [SDNTK]

NGUNI, Sylvester Robert; DOB 4 May 1955; Passport ZE215371 (Zimbabwe); Deputy Minister of Agriculture (individual) [ZIMBABWE]

NHEMA, Chenayaimoyo Dunstan Francis, 3 Farthinghill Road, Borrowdale, Harare, Zimbabwe; DOB 17 Apr 1959; Passport AD000966 (Zimbabwe); Minister of Environment and Tourism (individual) [ZIMBABWE]

NHEMA, Louise Sehulle (a.k.a. NKOMO, Louise S.), 3 Farthinghill Road, Borrowdale, Harare, Zimbabwe; DOB 25 Aug 1964; Passport ZE151361 (Zimbabwe); Spouse of Francis Nhema (individual) [ZIMBABWE]

NICE FANTASY GARMENT COMPANY LTD., 391/6-391/9 Soi Santi Thetsaban, Ratchada Phisek Road, Lat Yao precinct, Chatuchak district, Bangkok, Thailand [SDNTK]

NIDAL, Abu (a.k.a. AL BANNA, Sabri Khalil Abd Al Qadir); DOB May 1937; alt. DOB May 1940; POB Jaffa, Israel; Founder and Secretary General of ABU NIDAL ORGANIZATION (individual) [SDT]

NIKOLAYEVICH BUT, Sergey (a.k.a. BOUT, Sergei Anatolyievich; a.k.a. “BUT”; a.k.a. “BUTT”; a.k.a. “SERGEY”; a.k.a. “SERGI”; a.k.a. “SERGO”; a.k.a. “SERGUEI”), c/o AIR CESS, Islamabad, Pakistan; c/o AIR CESS, P.O. Box 7837, Sharjah, United Arab Emirates; c/o AIR ZORY, 54 G. M. Dimitrov Blvd, Sofia BG-1125, Bulgaria; Moscow, Russia; DOB 27 Aug 1961; POB Tajikistan; citizen Russia alt. Ukraine; National ID No. 76704 (Russia); alt. National ID No. CB039314 (Ukraine) (individual) [LIBERIA]

NIKOLIC, Dragan; DOB 26 Apr 1957; POB Vlasenica, Bosnia-Herzegovina; ICTY indictee (individual) [BALKANS]

NIKOLIC, Drago; DOB 9 Nov 1957; POB Vlasenica, Bosnia-Herzegovina; ICTY indictee (individual) [BALKANS]

NIKOLIC, Momir; DOB 20 Feb 1955; POB Bratunac, Bosnia-Herzegovina; ICTY indictee (individual) [BALKANS]

NIKOLIC, Zarko; DOB 7 May 1938; POB Sovljak, Serbia and Montenegro (individual) [BALKANS]

NILE CEMENT COMPANY LIMITED, P.O. Box 1502, Khartoum, Sudan; Factories at Rabak, St. 45-47, Khartoum Extension, Sudan [SUDAN]

NILE CEMENT FACTORY, Rabak, Sudan; P.O. Box 1502, Khartoum, Sudan [SUDAN]

NILEIN INDUSTRIAL DEVELOPMENT BANK (SUDAN) (a.k.a. EL NILEIN BANK; n.k.a. EL NILEIN INDUSTRIAL DEVELOPMENT BANK (SUDAN); n.k.a. EL NILEIN INDUSTRIAL DEVELOPMENT BANK GROUP), Parliament Street, P.O. Box 466, Khartoum, Sudan; P.O. Box 6013, Abu Dhabi City, United Arab Emirates; P.O. Box 466/1722, United Nations Square, Khartoum, Sudan [SUDAN]

NINO VALBUENA, Luis German, c/o COLPHAR S.A., Bogota, Colombia; Cedula No. 19423011 (Colombia); Passport 19423011 (Colombia) (individual) [SDNT]

NIPPON-CARIBBEAN CO., LTD., Chuo-Ku, Akasaki-Chuo 1-1 Akasaki Bldg., Tokyo, Japan [CUBA]

NIREF, Boezembolcht 23, Rotterdam, Netherlands [CUBA]

NIZAM, Abou (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu); DOB Sep 38 (individual) [SDNTK]

NKOMO, Georgina Ngwenya, 59 Muchbimding Road, Worringham, Bulawayo, Zimbabwe; DOB 4 Aug 1966; Spouse of John Nkomo (individual) [ZIMBABWE]

NKOMO, John Landa, 59 Muchbimding Road, Worringham, Bulawayo, Zimbabwe; DOB 22 Aug 1934; Passport AD000477 (Zimbabwe); Speaker of Parliament & ZANU-PF National Chairman (individual) [ZIMBABWE]

NKOMO, Louise S. (a.k.a. NHEMA, Louise Sehulle), 3 Farthinghill Road, Borrowdale, Harare, Zimbabwe; DOB 25 Aug 1964; Passport ZE151361 (Zimbabwe); Spouse of Francis Nhema (individual) [ZIMBABWE]

NKOMO, Stephen; DOB 3 Oct 1926; Former Politburo Senior Committee Member; Deceased (individual) [ZIMBABWE]

NLA (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NATIONAL COUNCIL OF RESISTANCE OF IRAN; a.k.a. NCRI; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN) [FTO] [SDGT]

NLA (a.k.a. NATIONAL LIBERATION ARMY; a.k.a. UCK) [BALKANS]

NLA (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. representative offices and all other offices worldwide [FTO] [SDGT]

NLA (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. press office and all other offices worldwide [FTO] [SDGT]

NLA (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. press office and all other offices worldwide [FTO] [SDGT]

NO'AR MEIR (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

NOORZAI, Haji Bashir (a.k.a. BISHR, Haji); DOB 1961; POB Afghanistan (individual) [SDNTK]

NORDIC LTD. (a.k.a. NORDIK LIMITED EOOD), 9 Frederick J. Curie Street, Sofia 1113, Bulgaria [LIBERIA]

NORDIK LIMITED EOOD (a.k.a. NORDIC LTD.), 9 Frederick J. Curie Street, Sofia 1113, Bulgaria [LIBERIA]

NORDSTRAND LTD., Liechtenstein [CUBA]

NORDSTRAND MARITIME AND TRADING COMPANY, 33 Akti Maouli, 185-35 Pireas (Piraeus), Greece [CUBA]

NORIEGA, Manuel Antonio, Panama (individual) [CUBA]

NORTH ISLAND SHIPPING CO. LTD., c/o UNION MARITIMA PORTUARIA, 9-Piso, Apartado B, Esquina Cuarteles y Pena Pobre 60, Havana Vieje, Havana, Cuba [CUBA]

NORTH KOREAN MINING DEVELOPMENT TRADING CORPORATION (a.k.a. CHANGGWANG SINYONG CORPORATION; a.k.a. EXTERNAL TECHNOLOGY GENERAL CORPORATION; a.k.a. KOREA MINING DEVELOPMENT TRADING CORPORATION; a.k.a. “KOMID”), Central District, Pyongyang, Korea, North [NPWMD]

NORTHWEST SENNAR SUGAR FACTORY, Northwest Sennar, Sudan [SUDAN]

NOVAPINSKI LTDA., Avenida 3 No. 21-50, Cali, Colombia; NIT # 800246936-7 (Colombia) [SDNT]

NOVARIANTO (a.k.a. ABDUL MARTIN; a.k.a. ABDUL MATIN; a.k.a. AMAR UMAR; a.k.a. AMAR USMAN; a.k.a. ANAR USMAN; a.k.a. DJOKO SUPRIYANTO; a.k.a. DUL MATIN; a.k.a. DULMATIN; a.k.a. JAK IMRON; a.k.a. MUKTAMAR; a.k.a. PINTONO, Joko; a.k.a. PITONO, Joko; a.k.a. PITOYO, Joko; a.k.a. TOPEL); DOB 16 Jun 1970; alt. DOB 6 Jun 1970; POB Petarukan village, Pemalang, Central Java, Indonesia; nationality Indonesia (individual) [SDGT]

NOVEEN ENERGY COMPANY (a.k.a. ENERGY NOVIN; a.k.a. NOVIN ENERGY COMPANY), End of North Karegar Avenue, Tehran, Iran [NPWMD]

NOVILLERA (a.k.a. HACIENDA LA NOVILLERA; a.k.a. NOVILLERA GANADERA), Carrera 4 12-41 piso 15, Edificio Seguros Bolivar, Cali, Colombia; Paso de la Bolsa, Jamundi, Valle del Cauca, Cali, Colombia [SDNT]

NOVILLERA GANADERA (a.k.a. HACIENDA LA NOVILLERA; a.k.a. NOVILLERA), Carrera 4 12-41 piso 15, Edificio Seguros Bolivar, Cali, Colombia; Paso de la Bolsa, Jamundi, Valle del Cauca, Cali, Colombia [SDNT]

NOVIN ENERGY COMPANY (a.k.a. ENERGY NOVIN; a.k.a. NOVEEN ENERGY COMPANY), End of North Karegar Avenue, Tehran, Iran [NPWMD]

NPA (a.k.a. COMMUNIST PARTY OF THE PHILIPPINES; a.k.a. CPP; a.k.a. NEW PEOPLE'S ARMY; a.k.a. NEW PEOPLE'S ARMY / COMMUNIST PARTY OF THE PHILIPPINES; a.k.a. NPP/CPP) [FTO] [SDGT]

NPP/CPP (a.k.a. COMMUNIST PARTY OF THE PHILIPPINES; a.k.a. CPP; a.k.a. NEW PEOPLE'S ARMY; a.k.a. NEW PEOPLE'S ARMY / COMMUNIST PARTY OF THE PHILIPPINES; a.k.a. NPA) [FTO] [SDGT]

NUEVO CONTINENTE S.A. (a.k.a. AERO CONTINENT S.A.; a.k.a. AERO CONTINENTE S.A; a.k.a. AEROCONTINENTE S.A.; n.k.a. NUEVOCONTINENTE S.A.; a.k.a. WWW.AEROCONTINENTE.COM; a.k.a. WWW.AEROCONTINENTE.COM.PE; n.k.a. WWW.NUEVOCONTINENTE.COM.PE), Jr. Francisco Bolognesi 125, Piso 16, Miraflores, Lima 18, Peru; Av. Grau 602 D, Barranco, Lima, Peru; Plaza Camacho TDA 3-C, La Molina, Lima, Peru; Av. Antunez de Mayolo 889, Los Olivos, Lima, Peru; Av. Pardo 605, Miraflores I-Pardo, Lima, Peru; Av. Camino Real 441, San Isidro, Lima, Peru; Av. Arequipa 326, Santa Beatriz, Lima, Peru; Av. Benavides 4581, Surco I, Lima, Peru; Av. Saenz Pena 184, Callao, Lima, Peru; Av. Rufino Torrico 981, Lima, Peru; Av. Enrique Llosa 395-A, Magdalena, Lima, Peru; Av. Larco 123-2 Do Piso, Miraflores II-Larco, Lima, Peru; Av. Peru 3421, San Martin de Porres, Lima, Peru; C.C. San Miguel Shopping Center, TDA. 50—Av. La Mar 2291, San Miguel, Lima, Peru; Av. La Encalada 1587, (C.C. El Polo Block A Oficina 213), Surco II-C.C. El Polo, Lima, Peru; Av. Jose Pardo 601, Miraflores, Lima, Peru; Av. Peru 3421, San Martin, Lima, Peru; Av. Grau 624, Barranco, Lima, Peru; Av. La Marina 2095, San Miguel, Lima, Peru; Sta Catalina 105 A-B, Arequipa, Peru; Jr. 9 de Diciembre 160, Ayacucho, Peru; Jr. 2 de Mayo 381, Cajamarca, Peru; Calle San Jose 867-879, Chiclayo, Peru; Portal de Carnes 254, Cusco, Peru; Jr. Prospero 232, Iquitos, Peru; Calle San Roman 175, Juliaca, Peru; Jr. Libertad 945-951, Piura, Peru; Leon Velarde 584, Puerto Maldonado, Peru; Jr. 7 de Junio 861, Pucallpa, Peru; Alonso de Alvarado 726, Rioja, Peru; Calle Apurimac 265, Tacna, Peru; Jr. Moyobamba 101, Tarapoto, Peru; Jr. Pizarro 470, Trujillo, Peru; Av. Tumbes 217, Tumbes, Peru; Jr. Libertad 139, Yurimaguas, Peru; Av. Thames 2406 (CP 1425) C.F., Buenos Aires, Argentina; Av. Amazonas No. 22-11B Y Veintimilla-Quito, Quito, Ecuador; Avenida Portugal No. 20, Of. 27—Comuna Santiago Centro, Santiago, Chile; Boyaca 1012 Y P. Icaza, Guayaquil, Ecuador; Av. 27 De Febrero No. 102, Edif Miguel Mejia Urr. El Vergel, Santo Domingo, Dominican Republic; 1ra Avenida de Los Palos Grandes, Centro Comercial Quinora P.B., Locales L-1A y L-2A, Caracas, Venezuela; Calle Rio Rhin No. 64, P.B. Col. Cuauhtemoc C.P., Mexico City D.F. 065000, Mexico; Sarmiento 854 Piso 8 Of. 3 y 4 (CP-S2000CMN), Rosario (Santa Fe), Argentina; Av. Colon 119 Piso 3 Of. 6 (CP-X5000EPB), Cordoba, Argentina; Rivadavia 209 (CP-5500), Mendoza, Argentina; 8940 NW 24 Terrace, Miami, FL 33172; Bogota, Colombia; Business Registration Document # F01000003035 (United States); NIT # 8300720300 (Colombia); RUC # 20108363101 (Peru); U.S. FEIN 55-2197267 [SDNTK]

NUEVOCONTINENTE S.A. (a.k.a. AERO CONTINENT S.A.; a.k.a. AERO CONTINENTE S.A; a.k.a. AEROCONTINENTE S.A.; n.k.a. NUEVO CONTINENTE S.A.; a.k.a. WWW.AEROCONTINENTE.COM; a.k.a. WWW.AEROCONTINENTE.COM.PE; n.k.a. WWW.NUEVOCONTINENTE.COM.PE), Jr. Francisco Bolognesi 125, Piso 16, Miraflores, Lima 18, Peru; Av. Grau 602 D, Barranco, Lima, Peru; Plaza Camacho TDA 3-C, La Molina, Lima, Peru; Av. Antunez de Mayolo 889, Los Olivos, Lima, Peru; Av. Pardo 605, Miraflores I-Pardo, Lima, Peru; Av. Camino Real 441, San Isidro, Lima, Peru; Av. Arequipa 326, Santa Beatriz, Lima, Peru; Av. Benavides 4581, Surco I, Lima, Peru; Av. Saenz Pena 184, Callao, Lima, Peru; Av. Rufino Torrico 981, Lima, Peru; Av. Enrique Llosa 395-A, Magdalena, Lima, Peru; Av. Larco 123-2 Do Piso, Miraflores II-Larco, Lima, Peru; Av. Peru 3421, San Martin de Porres, Lima, Peru; C.C. San Miguel Shopping Center, TDA. 50—Av. La Mar 2291, San Miguel, Lima, Peru; Av. La Encalada 1587, (C.C. El Polo Block A Oficina 213), Surco II-C.C. El Polo, Lima, Peru; Av. Jose Pardo 601, Miraflores, Lima, Peru; Av. Peru 3421, San Martin, Lima, Peru; Av. Grau 624, Barranco, Lima, Peru; Av. La Marina 2095, San Miguel, Lima, Peru; Sta Catalina 105 A-B, Arequipa, Peru; Jr. 9 de Diciembre 160, Ayacucho, Peru; Jr. 2 de Mayo 381, Cajamarca, Peru; Calle San Jose 867-879, Chiclayo, Peru; Portal de Carnes 254, Cusco, Peru; Jr. Prospero 232, Iquitos, Peru; Calle San Roman 175, Juliaca, Peru; Jr. Libertad 945-951, Piura, Peru; Leon Velarde 584, Puerto Maldonado, Peru; Jr. 7 de Junio 861, Pucallpa, Peru; Alonso de Alvarado 726, Rioja, Peru; Calle Apurimac 265, Tacna, Peru; Jr. Moyobamba 101, Tarapoto, Peru; Jr. Pizarro 470, Trujillo, Peru; Av. Tumbes 217, Tumbes, Peru; Jr. Libertad 139, Yurimaguas, Peru; Av. Thames 2406 (CP 1425) C.F., Buenos Aires, Argentina; Av. Amazonas No. 22-11B Y Veintimilla-Quito, Quito, Ecuador; Avenida Portugal No. 20, Of. 27—Comuna Santiago Centro, Santiago, Chile; Boyaca 1012 Y P. Icaza, Guayaquil, Ecuador; Av. 27 De Febrero No. 102, Edif Miguel Mejia Urr. El Vergel, Santo Domingo, Dominican Republic; 1ra Avenida de Los Palos Grandes, Centro Comercial Quinora P.B., Locales L-1A y L-2A, Caracas, Venezuela; Calle Rio Rhin No. 64, P.B. Col. Cuauhtemoc C.P., Mexico City D.F. 065000, Mexico; Sarmiento 854 Piso 8 Of. 3 y 4 (CP-S2000CMN), Rosario (Santa Fe), Argentina; Av. Colon 119 Piso 3 Of. 6 (CP-X5000EPB), Cordoba, Argentina; Rivadavia 209 (CP-5500), Mendoza, Argentina; 8940 NW 24 Terrace, Miami, FL 33172; Bogota, Colombia; Business Registration Document # F01000003035 (United States); NIT # 8300720300 (Colombia); RUC # 20108363101 (Peru); U.S. FEIN 55-2197267 [SDNTK]

NUMA SANJUAN, Antonieta, Avenida 0 No. 10-38, Cucuta, Norte de Santander, Colombia; c/o INTERCONTINENTAL DE AVIACION S.A., Bogota, Colombia; c/o ACCIRENT S.A., Bogota, Colombia; DOB 20 Oct 1962; POB Ocana, Norte de Santander, Colombia; Cedula No. 60291819 (Colombia); Passport AE227693 (Colombia); alt. Passport AC227693 (Colombia) (individual) [SDNT]

NUNEZ TOLBANOS, Vicente Antonio, c/o COLIMEX LTDA., Cali, Colombia; c/o CPV SISTEMAS GRAFICOS S.L., Madrid, Spain; c/o JAROMO INVERSIONES S.L., Madrid, Spain; c/o RODRIGUEZ Y TOLBANOS S.A., Alcala de Henares, Madrid, Spain; N.I.E. 8966981-V (Spain) (individual) [SDNT]

NURJAMAN (a.k.a. HAMBALI; a.k.a. ISAMUDDIN, Nurjaman Riduan; a.k.a. ISOMUDDIN, Riduan; a.k.a. NURJAMAN, Encep); DOB 04 Apr 1964; alt. DOB 01 Apr 1964; POB Cianjur, West Java, Indonesia; nationality Indonesia (individual) [SDGT]

NURJAMAN, Encep (a.k.a. HAMBALI; a.k.a. ISAMUDDIN, Nurjaman Riduan; a.k.a. ISOMUDDIN, Riduan; a.k.a. NURJAMAN); DOB 04 Apr 1964; alt. DOB 01 Apr 1964; POB Cianjur, West Java, Indonesia; nationality Indonesia (individual) [SDGT]

NURSAT AL-AQSA AL-SHARIF (a.k.a. AL-AQSA (ASBL); a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. SANABIL AL-AQSA CHARITABLE FOUNDATION; a.k.a. STICHTING AL-AQSA; a.k.a. SWEDISH CHARITABLE AQSA EST.), BD Leopold II 71, 1080 Brussels, Belgium [SDGT]

NUSRAT AL-AQSA AL-SHARIF (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. SANABIL AL-AQSA CHARITABLE FOUNDATION; a.k.a. STICHTING AL-AQSA; a.k.a. SWEDISH CHARITABLE AQSA EST.), Kappellenstrasse 36, Aachen D-52066, Germany; <Head Office> [SDGT]

NUSRAT AL-AQSA AL-SHARIF (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. SANABIL AL-AQSA CHARITABLE FOUNDATION; a.k.a. STICHTING AL-AQSA; a.k.a. SWEDISH CHARITABLE AQSA EST.) [SDGT]

NUSRAT AL-AQSA AL-SHARIF (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. SANABIL AL-AQSA CHARITABLE FOUNDATION; a.k.a. STICHTING AL-AQSA; a.k.a. SWEDISH CHARITABLE AQSA EST.), Noblev 79 NB, 21433 Malmo, Sweden; Nobelvagen 79 NB, 21433 Malmo, Sweden [SDGT]

NUSRAT AL-AQSA AL-SHARIF (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. SANABIL AL-AQSA CHARITABLE FOUNDATION; a.k.a. STICHTING AL-AQSA; a.k.a. SWEDISH CHARITABLE AQSA EST.), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

NUSRAT AL-AQSA AL-SHARIF (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. SANABIL AL-AQSA CHARITABLE FOUNDATION; a.k.a. STICHTING AL-AQSA; a.k.a. SWEDISH CHARITABLE AQSA EST.), P.O. Box 2364, Islamabad, Pakistan [SDGT]

NUSRAT AL-AQSA AL-SHARIF (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. SANABIL AL-AQSA CHARITABLE FOUNDATION; a.k.a. STICHTING AL-AQSA; a.k.a. SWEDISH CHARITABLE AQSA EST.), P.O. Box 14101, San 'a, Yemen [SDGT]

NUSRAT AL-AQSA AL-SHARIF (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. SANABIL AL-AQSA CHARITABLE FOUNDATION; a.k.a. STICHTING AL-AQSA; a.k.a. SWEDISH CHARITABLE AQSA EST.), P.O. Box 6222200KBKN, Copenhagen, Denmark [SDGT]

NUSRAT AL-AQSA AL-SHARIF (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. SANABIL AL-AQSA CHARITABLE FOUNDATION; a.k.a. STICHTING AL-AQSA; a.k.a. SWEDISH CHARITABLE AQSA EST.), Gerrit V/D Lindestraat 103 A, 3022 TH, Rotterdam, Netherlands; Gerrit V/D Lindestraat 103 E, 03022 TH, Rotterdam, Netherlands [SDGT]

NV TRANS AVIATION NETWORK GROUP (a.k.a. TAN GROUP; a.k.a. TRANS AVIATION; a.k.a. TRANSAVIA NETWORK; a.k.a. TRANSAVIA TRAVEL AGENCY; a.k.a. TRANSAVIA TRAVEL CARGO), 1304 Boorj Building, Bank Street, Sharjah, United Arab Emirates; P.O. Box 3962, Sharjah, United Arab Emirates; P.O. Box 2190, Ajman, United Arab Emirates; Ostende Airport, Belgium [LIBERIA]

NYAMBUYA, Michael Rueben; DOB 23 Jul 1955; Passport AN045019 (Zimbabwe); Minister of Energy and Power Development (individual) [ZIMBABWE]

NYONI, Peter Baka; DOB 10 Jan 1950; Passport ZD002188 (Zimbabwe); Spouse of Sithembiso Nyoni (individual) [ZIMBABWE]

NYONI, Sithembiso; DOB 20 Sept 1949; Passport AD000223 (Zimbabwe); Minister of Small and Medium Enterprises Development (individual) [ZIMBABWE]

OASIS BEACH RESORT & CONVENTION CENTER (a.k.a. COMPLEJO TURISTICO OASIS, S.A. DE C.V.), Km 25 Carr. Tijuana-Ensenada, Colonia Leyes de Reforma, CP 22710, Playas Rosarito, Rosarito, Baja California, Mexico [SDNTK]

OBEYMAR MAFLA, Carlos (a.k.a. MAFLA, Carlos Obeimar; a.k.a. MAFLA, Carlos Obeymar), c/o MERCAVICOLA LTDA., Cali, Colombia; Carrera 11 No. 9-11, Villagorgon, Candelaria, Colombia; DOB 5 Aug 1955; Cedula No. 6226643 (Colombia) (individual) [SDNT]

OBRENOVIC, Dragan; DOB 12 Apr 1963; POB Matino Brdo, Bosnia-Herzegovina; ICTY indictee (individual) [BALKANS]

OBURSATILES S.A. (a.k.a. OPERACIONES BURSATILES S.A. COMISIONISTA DE BOLSA), Avenida 4N No. 4N-30, Cali, Colombia; Avenida 68 No. 75A-50 Local 230, Bogota, Colombia; Calle 10 No. 4-40 of. 312, Cali, Colombia; Calle 19 No. 5-48 Local 226, Pereira, Colombia; Carrera 7 No. 74-56 of. 909, Bogota, Colombia; Carrera 15 No. 87-32, Bogota, Colombia; Carrera 22 No. 18-65 Local 28, Manizales, Colombia; Carrera 28 No. 29-06 Local 104, Palmira, Colombia; Carrera 49 No. 52-81 L-9923, Medellin, Colombia; Carrera 52 No. 72-65 Local 106, Barranquilla, Colombia; Carrera 66B No. 34A-76 Local 227, Medellin, Colombia; Centro Comercial Cosmocentro Local 103, Cali, Colombia; Transversal 71D No. 26-94 Sur Local 3504, Bogota, Colombia; NIT # 800012425-0 (Colombia) [SDNT]

OCAMPO ROMAN, Carlos Jose, c/o CONSTRUCCIONES ASTRO S.A., Cali, Colombia; DOB 2 Feb 1959; Cedula No. 6401478 (Colombia) (individual) [SDNT]

OCCIDENTAL COMUNICACIONES LTDA., Calle 44N No. 2BN-10, Cali, Colombia; Calle 19N No. 2N-29 piso 10 Sur, Cali, Colombia; NIT # 800146996-1 (Colombia) [SDNT]

OCCIDENTAL DE PAPELES LTDA. (a.k.a. OCCIPAPEL LTDA.), Avenida 2D No. 24N-06, Cali, Colombia; NIT # 805017535-3 (Colombia) [SDNT]

OCCIPAPEL LTDA. (a.k.a. OCCIDENTAL DE PAPELES LTDA.), Avenida 2D No. 24N-06, Cali, Colombia; NIT # 805017535-3 (Colombia) [SDNT]

OCCUPIED LAND FUND (a.k.a. HOLY LAND FOUNDATION FOR RELIEF AND DEVELOPMENT), 525 International Parkway, Suite 509, Richardson, TX 75081; P.O. Box 832390, Richardson, TX 75083; 9250 S. Harlem Avenue, Bridgeview, IL; 345 E. Railway Avenue, Paterson, NJ 07503; Hebron, West Bank; Gaza Strip, undetermined; 12798 Rancho Penasquitos Blvd., Suite F, San Diego, CA 92128; Jenin, West Bank; Shurta Street, 'Amira al-Ramuna, 4th Floor, Ramallah, West Bank; US FEIN 95-4227517; and other locations within the United States [SDT] [SDGT]

OCHOA, Salvador (a.k.a. AMEZCUA CONTRERAS, Luis Ignacio; a.k.a. AMEZCUA, Luis; a.k.a. CONTRERAS, Luis C.; a.k.a. LOPEZ, Luis; a.k.a. LOZANO, Eduardo; a.k.a. RODRIGUEZ LOPEZ, Sergio); DOB 22 FEB 64; alt. DOB 21 FEB 64; alt. DOB 21 FEB 74; POB Mexico (individual) [SDNTK]

OCTOBER HOLDING COMPANY (a.k.a. OCTUBRE HOLDING SOCIETE ANONIME), Vaduz, Liechtenstein [CUBA]

OCTUBRE HOLDING SOCIETE ANONIME (a.k.a. OCTOBER HOLDING COMPANY), Vaduz, Liechtenstein [CUBA]

ODESSA AIR (f.k.a. OKAPI AIR), Entebbe, Uganda [LIBERIA]

OGUNGBUYI, Abeni O. (a.k.a. BABESTAN, Abeni O.; a.k.a. SHOFESO, Olatutu Temitope); DOB 30 JUN 52; POB Nigeria (individual) [SDNTK]

OGUNGBUYI, Oluwole A. (a.k.a. ADEMULERO, Babestan Oluwole; a.k.a. BABESTAN, Wole A.; a.k.a. OGUNGBUYI, Wally; a.k.a. OGUNGBUYI, Wole A.; a.k.a. SHOFESO, Olatude I.; a.k.a. SHOFESO, Olatunde Irewole); DOB 4 MAR 53; POB Nigeria (individual) [SDNTK]

OGUNGBUYI, Wally (a.k.a. ADEMULERO, Babestan Oluwole; a.k.a. BABESTAN, Wole A.; a.k.a. OGUNGBUYI, Oluwole A.; a.k.a. OGUNGBUYI, Wole A.; a.k.a. SHOFESO, Olatude I.; a.k.a. SHOFESO, Olatunde Irewole); DOB 4 MAR 53; POB Nigeria (individual) [SDNTK]

OGUNGBUYI, Wole A. (a.k.a. ADEMULERO, Babestan Oluwole; a.k.a. BABESTAN, Wole A.; a.k.a. OGUNGBUYI, Oluwole A.; a.k.a. OGUNGBUYI, Wally; a.k.a. SHOFESO, Olatude I.; a.k.a. SHOFESO, Olatunde Irewole); DOB 4 MAR 53; POB Nigeria (individual) [SDNTK]

OIL CORPORATION, P.O. Box 64, Khartoum, Sudan [SUDAN]

OJDANIC, Dragoljub; DOB 1 Jun 1941; POB Ravni-Cajetina, Serbia and Montenegro; Ex-Fry Minister of Defense; ICTY indictee in custody (individual) [BALKANS]

OKAPI AIR (a.k.a. ODESSA AIR), Entebbe, Uganda [LIBERIA]

OLARRA GURIDI, Juan Antonio; DOB 11 Sep 1967; POB San Sebastian, Guipuzcoa Province, Spain; D.N.I. 30.084.504 (Spain); Member ETA (individual) [SDGT]

OLAYA ROSCIASCO, Patricia Esperanza, c/o LABORATORIOS PROFARMA LTDA., Bogota, Colombia; DOB 30 Mar 1963; Cedula No. 51698439 (Colombia); Passport 51698439 (Colombia) (individual) [SDNT]

OLDHAM FARM, Chegutu, Zimbabwe [ZIMBABWE]

OLIVELLA CELEDON, Jaime Antonio, Carrera 5 No. 86-36 Apt. 402, Bogota, Colombia; c/o INTERCONTINENTAL DE AVIACION S.A., Bogota, Colombia; DOB 23 May 1944; POB Augustin Codazzi, Cesar, Colombia; Cedula No. 17100787 (Colombia); Passport AG619501 (Colombia); alt. Passport AC557754 (Colombia); alt. Passport AE542565 (Colombia) (individual) [SDNT]

OMAR ACHMED, Kaua (a.k.a. HAMAWANDI, Kawa), Lochhamer Str. 115, Munich 81477, Germany; Kempten Prison, Germany; DOB 1 Jul 1971; POB Arbil, Iraq; nationality Iraq; Travel Document Number A0139243 (Germany) (individual) [SDGT]

OMAR, Mohammed, Afghanistan; DOB 1950; POB Hotak, Kandahar Province, Afghanistan; Commander of the Faithful (“Amir al-Munineen”) (individual) [SDGT]

OMAR, Ramzi Mohammed Abdellah (a.k.a. BIN AL SHIBH, Ramzi; a.k.a. BINALSHEIDAH, Ramzi Mohamed Abdullah; a.k.a. BINALSHIBH, Ramzi Mohammed Abdullah), Schleemer Ring 2, Hamburg 22117, Germany; Billstedter Hauptstr Apt. 14, Hamburg 22111, Germany; Emil Anderson Strasse 5, Hamburg 22073, Germany; Letzte Heller #109, Hamburg University, Hamburg 22111, Germany; Marienstr #54, Hamburg 21073, Germany; DOB 1 May 1972; alt. DOB 16 Sept 1973; POB Hadramawt, Yemen; alt. POB Khartoum Sudan; nationality Yemen; Passport R85243 (Yemen); alt. Passport A755350 (Saudi Arabia); alt. Passport 00085243 (Yemen) (individual) [SDGT]

OMDURMAN SHOE FACTORY, Omdurman, Sudan [SUDAN]

OMRAN, Karim Dhaidas, Iraq (individual) [IRAQ2]

OPERACIONES BURSATILES S.A. COMISIONISTA DE BOLSA (a.k.a. OBURSATILES S.A.), Avenida 4N No. 4N-30, Cali, Colombia; Avenida 68 No. 75A-50 Local 230, Bogota, Colombia; Calle 10 No. 4-40 of. 312, Cali, Colombia; Calle 19 No. 5-48 Local 226, Pereira, Colombia; Carrera 7 No. 74-56 of. 909, Bogota, Colombia; Carrera 15 No. 87-32, Bogota, Colombia; Carrera 22 No. 18-65 Local 28, Manizales, Colombia; Carrera 28 No. 29-06 Local 104, Palmira, Colombia; Carrera 49 No. 52-81 L-9923, Medellin, Colombia; Carrera 52 No. 72-65 Local 106, Barranquilla, Colombia; Carrera 66B No. 34A-76 Local 227, Medellin, Colombia; Centro Comercial Cosmocentro Local 103, Cali, Colombia; Transversal 71D No. 26-94 Sur Local 3504, Bogota, Colombia; NIT # 800012425-0 (Colombia) [SDNT]

OPERADORA VALPARK, S.A. DE C.V., Avenida Cuauhtemoc 1711, Ofc. 305A, Zona Rio, Tijuana, Baja California, Mexico; Calle Netzahuacoyotl y Paseo Centenario, Tijuana, Baja California, Mexico [SDNTK]

ORANGE VOLUNTEERS, United Kingdom [SDGT]

ORBE SEVILLANO, Zigor; DOB 22 Sep 1975; POB Basauri, Vizcaya Province, Spain; D.N.I. 45.622.851 (Spain); Member ETA (individual) [SDGT]

ORELLANA ERAZO, Hector Manuel (a.k.a. GOMEZ CHAVEZ, Gabriel; a.k.a. GONZALEZ LOPEZ, Gregorio; a.k.a. GONZALEZ QUIRARTE, Eduardo; a.k.a. GONZALEZ QUIRARTE, Jose; a.k.a. GONZALEZ QUIRARTE, Lalo); DOB 28 August 1962; alt. DOB 20 August 1962; POB Jalisco Mexico; Passport 96140045817 (Mexico); alt. Passport 97380018185 (Mexico); SSN 550-63-9593 (United States) (individual) [SDNTK]

ORGANIZACION EMPRESARIAL A DE J HENAO M E HIJOS Y CIA. S.C.S., Carrera 4A No. 16-04 apt. 303, Cartago, Colombia; Km. 5 Via Aeropuerto, Hacienda Coque, Cartago, Colombia; NIT # 800157331-1 (Colombia) [SDNT]

ORGANIZACION LUIS HERNANDO GOMEZ BUSTAMANTE Y CIA S.C.S., Carrera 4 No. 12-20 of. 206, Cartago, Valle, Colombia; NIT # 800140477-1 (Colombia) [SDNT]

ORGANIZATION OF REVOLUTIONARY INTERNATIONALIST SOLIDARITY (a.k.a. ELA; a.k.a. EPANASTATIKOS LAIKOS AGONAS; a.k.a. JUNE 78; a.k.a. LIBERATION STRUGGLE; a.k.a. POPULAR REVOLUTIONARY STRUGGLE; a.k.a. REVOLUTIONARY CELLS; a.k.a. REVOLUTIONARY NUCLEI; a.k.a. REVOLUTIONARY PEOPLE'S STRUGGLE; a.k.a. REVOLUTIONARY POPULAR STRUGGLE) [FTO] [SDGT]

ORGANIZATION OF RIGHT AGAINST WRONG (a.k.a. ANSAR ALLAH; a.k.a. FOLLOWERS OF THE PROPHET MUHAMMED; a.k.a. HIZBALLAH; a.k.a. ISLAMIC JIHAD; a.k.a. ISLAMIC JIHAD FOR THE LIBERATION OF PALESTINE; a.k.a. ISLAMIC JIHAD ORGANIZATION; a.k.a. ORGANIZATION OF THE OPPRESSED ON EARTH; a.k.a. PARTY OF GOD; a.k.a. REVOLUTIONARY JUSTICE ORGANIZATION) [SDT] [FTO] [SDGT]

ORGANIZATION OF THE OPPRESSED ON EARTH (a.k.a. ANSAR ALLAH; a.k.a. FOLLOWERS OF THE PROPHET MUHAMMED; a.k.a. HIZBALLAH; a.k.a. ISLAMIC JIHAD; a.k.a. ISLAMIC JIHAD FOR THE LIBERATION OF PALESTINE; a.k.a. ISLAMIC JIHAD ORGANIZATION; a.k.a. ORGANIZATION OF RIGHT AGAINST WRONG; a.k.a. PARTY OF GOD; a.k.a. REVOLUTIONARY JUSTICE ORGANIZATION) [SDT] [FTO] [SDGT]

ORGANIZATION OF THE PEOPLE'S HOLY WARRIORS OF IRAN (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NATIONAL COUNCIL OF RESISTANCE OF IRAN; a.k.a. NCRI; a.k.a. NLA; a.k.a. PEOPLE'S MUJAHEDIN ORGANIZATION OF IRAN; a.k.a. PMOI; a.k.a. SAZEMAN-E MUJAHEDIN-E KHALQ-E IRAN; a.k.a. THE NATIONAL LIBERATION ARMY OF IRAN) [FTO] [SDGT]

ORGANIZATION OF THE PEOPLE'S HOLY WARRIORS OF IRAN (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. representative offices and all other offices worldwide [FTO] [SDGT]

ORGANIZATION OF THE PEOPLE'S HOLY WARRIORS OF IRAN (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. press office and all other offices worldwide [FTO] [SDGT]

ORGANIZATION OF THE PEOPLE'S HOLY WARRIORS OF IRAN (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. press office and all other offices worldwide [FTO] [SDGT]

ORIC, Naser; DOB 3 March 1967; POB Potocari, Bosnia-Herzegovina; ICTY indictee in custody (individual) [BALKANS]

ORIENT SHIPPING LIMITED, Lot 18, Bay Street, Kingstowne, Saint Vincent and the Grenadines [IRAQ2]

ORIENT STAR AVIATION (a.k.a. ORIENT STAR CORPORATION), 811 S. Central Expwy., Ste 210, Richardson, TX 75080 [LIBERIA]

ORIENT STAR CORPORATION (a.k.a. ORIENT STAR AVIATION), 811 S. Central Expwy., Ste 210, Richardson, TX 75080 [LIBERIA]

OROPEZA MEDRANO, Francisco Javier, Avenida Los Reyes 18108-D, Fraccionamiento Villa de Baja California 22684, Tijuana, Baja California, Mexico; c/o Farmacia Vida Suprema, S.A. DE C.V., Tijuana, Baja California, Mexico; DOB 23 Feb 1968; POB Coahuila, Mexico (individual) [SDNTK]

OROZCO CARDENAS, Adrian, Privada Colonia del Valle 7001, Fraccionamiento Residencial Agua Caliente, Tijuana, Baja California, Mexico; Calle Circunvalacion Sur 273-5, Colonia Las Fuentes 45070, Zapopan, Jalisco, Mexico; c/o Farmacia Vida Suprema, S.A. DE C.V., Tijuana, Baja California, Mexico; c/o Distribuidora Imperial De Baja California, S.A. de C.V., Tijuana, Baja California, Mexico; c/o Administradora De Inmuebles Vida, S.A. de C.V., Tijuana, Baja California, Mexico; c/o ADP, S.C., Tijuana, Baja California, Mexico; c/o Forpres, S.C., Tijuana, Baja California, Mexico; DOB 14 Sept 1953; POB Distrito Federal, Mexico (individual) [SDNTK]

OROZCO LOPEZ, Orlando, c/o ASESORIAS ECONOMICAS MUNOZ SANTACOLOMA E.U., Cali, Colombia; c/o CHAMARTIN S.A., Cali, Colombia; Cedula No. 16736406 (Colombia); Passport 16736406 (Colombia) (individual) [SDNT]

OROZCO NINO, Adriana, c/o COLIMEX LTDA., Cali, Colombia; c/o PROSALUD Y BIENESTAR S.A., Cali, Colombia; c/o ALERO S.A., Cali, Colombia; DOB 1 Nov 1966; Cedula No. 31972596 (Colombia); N.I.E. X2302530-T (Spain); Passport 31972596 (Colombia) (individual) [SDNT]

OROZCO NINO, Carlos Alberto, c/o COMERCIALIZADORA INTERTEL S.A., Cali, Colombia; c/o PROSALUD S.A. Y BIENESTAR S.A., Cali, Colombia; c/o RENTAR INMOBILIARIA S.A., Cali, Colombia; DOB 16 Oct 1967; Cedula No. 16745992 (Colombia); Passport 16745992 (Colombia) (individual) [SDNT]

ORS, Jose Antonio Rego, Tokyo, Japan (individual) [CUBA]

ORTEGA PINA, Dario, Edificio Saldivar, Panama City, Panama (individual) [CUBA]

ORTEGA, Miguel (a.k.a. AREGON, Max; a.k.a. CARO RODRIGUEZ, Gilberto; a.k.a. GUIERREZ LOERA, Jose Luis; a.k.a. GUMAN LOERAL, Joaquin; a.k.a. GUZMAN FERNANDEZ, Joaquin; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. GUZMAN, Achivaldo; a.k.a. GUZMAN, Archibaldo; a.k.a. GUZMAN, Aureliano; a.k.a. GUZMAN, Chapo; a.k.a. GUZMAN, Joaquin Chapo; a.k.a. OSUNA, Gilberto; a.k.a. RAMIREZ, Joise Luis; a.k.a. RAMOX PEREZ, Jorge); DOB 25 Dec 54; POB Mexico (individual) [SDNTK]

ORTIZ CARDONA, Gloria, c/o MACROFARMA S.A., Pereira, Colombia; Cedula No. 34056678 (Colombia); Passport 34056678 (Colombia) (individual) [SDNT]

ORTIZ PALACIO, Willington Alfonso (a.k.a. ORTIZ PALACIOS, Willington Alfonso), Carrera 62 Bis No. 6A, Cali, Colombia; Avenida 5AN No. 23D-68 piso 2 L-113, Cali, Colombia; c/o CREACIONES DEPORTIVAS WILLINGTON LTDA., Cali, Colombia; Calle 5 No. 25-65, Cali, Colombia; Cedula No. 19159807 (Colombia); Passport AF582577 (Colombia) (individual) [SDNT]

ORTIZ PALACIOS, Willington Alfonso (a.k.a. ORTIZ PALACIO, Willington Alfonso), Carrera 62 Bis No. 6A, Cali, Colombia; Avenida 5AN No. 23D-68 piso 2 L-113, Cali, Colombia; c/o CREACIONES DEPORTIVAS WILLINGTON LTDA., Cali, Colombia; Calle 5 No. 25-65, Cali, Colombia; Cedula No. 19159807 (Colombia); Passport AF582577 (Colombia) (individual) [SDNT]

ORTIZ, Guadalupe, Cubanatur, Baja California 255, Edificio B, Oficina 103, Condesa 06500, Mexico, D.F., Mexico (individual) [CUBA]

OSCAR RIANO (a.k.a. BRICENO SUAREZ, Jorge; a.k.a. BRICENO SUAREZ, Jorge Enrique; a.k.a. MONO JOJOY; a.k.a. SUAREZ ROJAS, Victor Julio; a.k.a. SUAREZ, Luis); DOB Jan 1953; alt. DOB 1 Feb 1949; alt. DOB 2 Jan 1951; alt. DOB 5 Feb 1953; POB Santa Marta, Magdalena, Colombia; alt. POB Cabrera, Cundinamarca, Colombia; Cedula No. 12536519 (Colombia); alt. Cedula No. 19208210 (Colombia); alt. Cedula No. 17708695 (Colombia); alt. Cedula No. 70753211 (Colombia) (individual) [SDNTK]

OSOLS, Igor (a.k.a. BLAVSTEIN; a.k.a. BLUVSHTEIN; a.k.a. BLYAFSHTEIN; a.k.a. BLYUFSHTEIN; a.k.a. BLYUVSHTEIN; a.k.a. BRESLAN, Wolf; a.k.a. BRESLAN, Wulf; a.k.a. KERLER, Vladimir Abramovich; a.k.a. MININ, Leonid; a.k.a. POPELA, Vladimir Abramovich; a.k.a. POPELAVESKI, Vladimir Abramovich; a.k.a. POPELO, Vladimir Abramovich; a.k.a. POPELOVESKI, Vladimir Abramovich; a.k.a. POPILOVESKI, Vladimir Abramovich); DOB 14 DEC 1947; alt. DOB 18 OCT 1946; nationality Ukraine; Passport 5280007248D (Germany); alt. Passport 18106739D (Germany); alt. Passport 6019832 (Israel) issued 6 NOV 1994 expires 5 NOV 1999; alt. Passport 9001689 (Israel) issued 23 JAN 1997 expires 22 JAN 2002; alt. Passport 90109052 (Israel) issued 26 NOV 1997; alt. Passport KI0861177 (Russia); alt. Passport 65118 (Bolivia); Owner, Exotic Tropical Timber Enterprise (individual) [LIBERIA]

OSORIO AVILA, Orlando, c/o GAD S.A., La Union, Valle, Colombia; Calle 14 No. 16-54, La Union, Valle, Colombia; c/o CASA GRAJALES S.A., La Union, Valle, Colombia; c/o FREXCO S.A., La Union, Valle, Colombia; c/o GRAJALES S.A., La Union, Valle, Colombia; c/o HOTEL LOS VINEDOS, La Union, Valle, Colombia; c/o INDUSTRIAS DEL ESPIRITU SANTO S.A., Malambo, Atlantico, Colombia; c/o INVERSIONES SANTA CECILIA S.C.S., La Union, Valle, Colombia; c/o TRANSPORTES DEL ESPIRITU SANTO S.A., La Union, Valle, Colombia; Cedula No. 6355939 (Colombia) (individual) [SDNT]

OSORIO CADAVID, Maria Victoria, c/o COLOR 89.5 FM STEREO, Cali, Colombia; c/o DERECHO INTEGRAL Y CIA. LTDA., Cali, Colombia; Cedula No. 31932294 (Colombia) (individual) [SDNT]

OSPINA GOMEZ, Jose Fernando, c/o CAJA SOLIDARIA, Bogota, Colombia; c/o COPSERVIR LTDA., Bogota, Colombia; DOB 9 Sep 1962; Cedula No. 16674357 (Colombia); Passport 16674357 (Colombia) (individual) [SDNT]

OSPINA LIZALDA, Marina, c/o ADMINISTRADORA DE SERVICIOS VARIOS CALIMA S.A., Cali, Colombia; c/o CHAMARTIN S.A., Cali, Colombia; Cedula No. 31838118 (Colombia); Passport 31838118 (Colombia) (individual) [SDNT]

OSUNA, Gilberto (a.k.a. AREGON, Max; a.k.a. CARO RODRIGUEZ, Gilberto; a.k.a. GUIERREZ LOERA, Jose Luis; a.k.a. GUMAN LOERAL, Joaquin; a.k.a. GUZMAN FERNANDEZ, Joaquin; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. GUZMAN, Achivaldo; a.k.a. GUZMAN, Archibaldo; a.k.a. GUZMAN, Aureliano; a.k.a. GUZMAN, Chapo; a.k.a. GUZMAN, Joaquin Chapo; a.k.a. ORTEGA, Miguel; a.k.a. RAMIREZ, Joise Luis; a.k.a. RAMOX PEREZ, Jorge); DOB 25 Dec 54; POB Mexico (individual) [SDNTK]

OTEGUI UNANUE, Mikel; DOB 8 Oct 1972; POB Itsasondo, Guipuzcoa Province, Spain; D.N.I. 44.132.976 (Spain); Member ETA (individual) [SDGT]

OUAZ, Najib (a.k.a. AL-WAZ, Najib Ben Mohamed Ben Salem), Vicolo dei Prati n.2/2, Bologna, Italy; DOB 12 Apr 1960; POB Hekaima Al-Mehdiya, Tunisia; nationality Tunisia; Passport K 815205 issued 17 Sep 1994 expires 16 Sep 1999 (individual) [SDGT]

OZLAM PROPERTIES LIMITED, 88 Smithdown Road, Liverpool L7 4JQ, United Kingdom; Registered Charity No. 05258730 [SDGT]

PAASBAN-E-AHLE-HADIS (a.k.a. AL MANSOOREEN; a.k.a. AL MANSOORIAN; a.k.a. ARMY OF THE PURE; a.k.a. ARMY OF THE PURE AND RIGHTEOUS; a.k.a. ARMY OF THE RIGHTEOUS; a.k.a. IDARA KHIDMAT-E-KHALQ; a.k.a. JAMA'AT AL-DAWA; a.k.a. JAMAAT UD-DAAWA; a.k.a. JAMAAT UL-DAWAH; a.k.a. JAMA'AT-I-DAWAT; a.k.a. JAMAATI-UD-DAWA; a.k.a. JAMA'AT-UD-DA'AWA; a.k.a. JAMA'AT-UD-DA'AWAH; a.k.a. JAMAAT-UD-DAWA; a.k.a. JAMAAT-UL-DAWA; a.k.a. JAMAIAT-UD-DAWA; a.k.a. LASHKAR E-TAYYIBA; a.k.a. LASHKAR E-TOIBA; a.k.a. LASHKAR-I-TAIBA; a.k.a. PAASBAN-E-KASHMIR; a.k.a. PAASBAN-I-AHLE-HADITH; a.k.a. PASBAN-E-AHLE-HADITH; a.k.a. PASBAN-E-KASHMIR; a.k.a. “JUD”), Pakistan [SDGT] [FTO]

PAASBAN-E-KASHMIR (a.k.a. AL MANSOOREEN; a.k.a. AL MANSOORIAN; a.k.a. ARMY OF THE PURE; a.k.a. ARMY OF THE PURE AND RIGHTEOUS; a.k.a. ARMY OF THE RIGHTEOUS; a.k.a. IDARA KHIDMAT-E-KHALQ; a.k.a. JAMA'AT AL-DAWA; a.k.a. JAMAAT UD-DAAWA; a.k.a. JAMAAT UL-DAWAH; a.k.a. JAMA'AT-I-DAWAT; a.k.a. JAMAATI-UD-DAWA; a.k.a. JAMA'AT-UD-DA'AWA; a.k.a. JAMA'AT-UD-DA'AWAH; a.k.a. JAMAAT-UD-DAWA; a.k.a. JAMAAT-UL-DAWA; a.k.a. JAMAIAT-UD-DAWA; a.k.a. LASHKAR E-TAYYIBA; a.k.a. LASHKAR E-TOIBA; a.k.a. LASHKAR-I-TAIBA; a.k.a. PAASBAN-E-AHLE-HADIS; a.k.a. PAASBAN-I-AHLE-HADITH; a.k.a. PASBAN-E-AHLE-HADITH; a.k.a. PASBAN-E-KASHMIR; a.k.a. “JUD”), Pakistan [SDGT] [FTO]

PAASBAN-I-AHLE-HADITH (a.k.a. AL MANSOOREEN; a.k.a. AL MANSOORIAN; a.k.a. ARMY OF THE PURE; a.k.a. ARMY OF THE PURE AND RIGHTEOUS; a.k.a. ARMY OF THE RIGHTEOUS; a.k.a. IDARA KHIDMAT-E-KHALQ; a.k.a. JAMA'AT AL-DAWA; a.k.a. JAMAAT UD-DAAWA; a.k.a. JAMAAT UL-DAWAH; a.k.a. JAMA'AT-I-DAWAT; a.k.a. JAMAATI-UD-DAWA; a.k.a. JAMA'AT-UD-DA'AWA; a.k.a. JAMA'AT-UD-DA'AWAH; a.k.a. JAMAAT-UD-DAWA; a.k.a. JAMAAT-UL-DAWA; a.k.a. JAMAIAT-UD-DAWA; a.k.a. LASHKAR E-TAYYIBA; a.k.a. LASHKAR E-TOIBA; a.k.a. LASHKAR-I-TAIBA; a.k.a. PAASBAN-E-AHLE-HADIS; a.k.a. PAASBAN-E-KASHMIR; a.k.a. PASBAN-E-AHLE-HADITH; a.k.a. PASBAN-E-KASHMIR; a.k.a. “JUD”), Pakistan [SDGT] [FTO]

PABON JAIMES, Alicia, c/o COOPDISAN, Bucaramanga, Colombia; c/o COPSERVIR LTDA., Bucaramanga, Colombia; c/o DROGAS LA REBAJA BUCARAMANGA S.A., Bucaramanga, Colombia; Cedula No. 63346404 (Colombia); Passport 63346404 (Colombia) (individual) [SDNT]

PACHECO, Rosa Elena, c/o LEMOFAR LTDA., Bogota, Colombia; DOB 2 Jan 1958; Cedula No. 36162233 (Colombia); Passport 36162233 (Colombia) (individual) [SDNT]

PADILLA MEZA, Tulio Roberto, c/o SISTEMAS INTEGRALES DEL VALLE LTDA., Cali, Colombia; Cedula No. 16737603 (Colombia); Passport 16737603 (Colombia) (individual) [SDNT]

PADILLA ORTIZ, Marino, c/o CAJA SOLIDARIA, Bogota, Colombia; c/o COPSERVIR LTDA., Bogota, Colombia; c/o MEGAPHARMA LTDA., Bogota, Colombia; Carrera 97 No. 39-75, Bogota, Colombia; DOB 1 Aug 1965; Cedula No. 80408422 (Colombia) (individual) [SDNT]

PADRON TRUJILLO, Amado, Panama (individual) [CUBA]

PALACIOS ALDAY, Gorka; DOB 17 October 1974; POB Baracaldo Vizcaya Province, Spain; D.N.I. 30.654.356; Member ETA (individual) [SDGT]

PALAESTINAENSER VEREIN (a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; a.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALAESTINAENSERVEREIN OESTERREICH (a.k.a. PALAESTINAENSER VEREIN; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; a.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALAESTINENSISCH VERBAND OESTERREICH (a.k.a. PALAESTINAENSER VEREIN; a.k.a. PALAESTINAENSERVEREIN OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; a.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALAESTINENSISCHE VEREINIGUNG (a.k.a. PALAESTINAENSER VEREIN; a.k.a. PALAESTINAENSERVEREIN OESTERREICH; a.k.a. PALAESTINENSISCH VERBAND OESTERREICH; a.k.a. PALAESTININIENSISCHE BEREINIGUNG; a.k.a. PALESTINE LEAGUE; a.k.a. PALESTINE UNION; a.k.a. PALESTINENSISCHE VER IN STERREICH; a.k.a. PALESTINIAN ASSOCIATION; a.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALAESTININIENSISCHE BEREINIGUNG (a.k.a. PALAESTINAENSER VEREIN; a.k.a. PALAESTINAENSERVEREIN OESTERREICH; a.k.a. PALAESTINENSISCH VERBAND OESTERREICH; a.k.a. PALAESTINENSISCHE VEREINIGUNG; a.k.a. PALESTINE LEAGUE; a.k.a. PALESTINE UNION; a.k.a. PALESTINENSISCHE VER IN STERREICH; a.k.a. PALESTINIAN ASSOCIATION; a.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALESTINE AND LEBANON RELIEF FUND (a.k.a. AL-SANDUQ AL-FILISTINI LIL-IGHATHA; a.k.a. AL-SANDUQ AL-FILISTINI LIL-IGHATHA WA AL-TANMIYA; a.k.a. INTERPAL; a.k.a. PALESTINE DEVELOPMENT AND RELIEF FUND; a.k.a. PALESTINE RELIEF AND DEVELOPMENT FUND; a.k.a. PALESTINE RELIEF FUND; a.k.a. PALESTINIAN AID AND SUPPORT FUND; a.k.a. PALESTINIAN RELIEF AND DEVELOPMENT FUND; a.k.a. PALESTINIAN RELIEF FUND; a.k.a. PRDF; a.k.a. RELIEF AND DEVELOPMENT FUND FOR PALESTINE; a.k.a. WELFARE AND DEVELOPMENT FUND FOR PALESTINE; a.k.a. WELFARE AND DEVELOPMENT FUND OF PALESTINE), P.O. Box 3333, London NW6 1RW, United Kingdom; Registered Charity No. 1040094 [SDGT]

PALESTINE DEVELOPMENT AND RELIEF FUND (a.k.a. AL-SANDUQ AL-FILISTINI LIL-IGHATHA; a.k.a. AL-SANDUQ AL-FILISTINI LIL-IGHATHA WA AL-TANMIYA; a.k.a. INTERPAL; a.k.a. PALESTINE AND LEBANON RELIEF FUND; a.k.a. PALESTINE RELIEF AND DEVELOPMENT FUND; a.k.a. PALESTINE RELIEF FUND; a.k.a. PALESTINIAN AID AND SUPPORT FUND; a.k.a. PALESTINIAN RELIEF AND DEVELOPMENT FUND; a.k.a. PALESTINIAN RELIEF FUND; a.k.a. PRDF; a.k.a. RELIEF AND DEVELOPMENT FUND FOR PALESTINE; a.k.a. WELFARE AND DEVELOPMENT FUND FOR PALESTINE; a.k.a. WELFARE AND DEVELOPMENT FUND OF PALESTINE), P.O. Box 3333, London NW6 1RW, United Kingdom; Registered Charity No. 1040094 [SDGT]

PALESTINE ISLAMIC JIHAD—SHAQAQI FACTION (a.k.a. ABU GHUNAYM SQUAD OF THE HIZBALLAH BAYT AL-MAQDIS; a.k.a. AL-AWDAH BRIGADES; a.k.a. AL-QUDS BRIGADES; a.k.a. AL-QUDS SQUADS; a.k.a. ISLAMIC JIHAD IN PALESTINE; a.k.a. ISLAMIC JIHAD OF PALESTINE; a.k.a. PALESTINIAN ISLAMIC JIHAD; a.k.a. PIJ; a.k.a. PIJ-SHALLAH FACTION; a.k.a. PIJ-SHAQAQI FACTION; a.k.a. SAYARA AL-QUDS) [SDT] [FTO] [SDGT]

PALESTINE LEAGUE (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE UNION; a.k.a. PALESTINENSISCHE VER IN STERREICH; a.k.a. PALESTINIAN ASSOCIATION; a.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALESTINE LIBERATION FRONT (a.k.a. PALESTINE LIBERATION FRONT—ABU ABBAS FACTION; a.k.a. PLF; a.k.a. PLF-ABU ABBAS) [SDT] [FTO] [SDGT]

PALESTINE LIBERATION FRONT—ABU ABBAS FACTION (a.k.a. PALESTINE LIBERATION FRONT; a.k.a. PLF; a.k.a. PLF-ABU ABBAS) [SDT] [FTO] [SDGT]

PALESTINE RELIEF AND DEVELOPMENT FUND (a.k.a. AL-SANDUQ AL-FILISTINI LIL-IGHATHA; a.k.a. AL-SANDUQ AL-FILISTINI LIL-IGHATHA WA AL-TANMIYA; a.k.a. INTERPAL; a.k.a. PALESTINE AND LEBANON RELIEF FUND; a.k.a. PALESTINE DEVELOPMENT AND RELIEF FUND; a.k.a. PALESTINE RELIEF FUND; a.k.a. PALESTINIAN AID AND SUPPORT FUND; a.k.a. PALESTINIAN RELIEF AND DEVELOPMENT FUND; a.k.a. PALESTINIAN RELIEF FUND; a.k.a. PRDF; a.k.a. RELIEF AND DEVELOPMENT FUND FOR PALESTINE; a.k.a. WELFARE AND DEVELOPMENT FUND FOR PALESTINE; a.k.a. WELFARE AND DEVELOPMENT FUND OF PALESTINE), P.O. Box 3333, London NW6 1RW, United Kingdom; Registered Charity No. 1040094 [SDGT]

PALESTINE RELIEF COMMITTEE (a.k.a. ASP; a.k.a. ASSOCIATION DE SECOURS PALESTINIENS; a.k.a. ASSOCIATION FOR PALESTINIAN AID; a.k.a. ASSOCIATION SECOUR PALESTINIEN; a.k.a. HUMANITARE HILFSORGANISATION FUR PALASTINA; a.k.a. LAJNA AL-IGHATHA AL-FILISTINI; a.k.a. PALESTINIAN AID COUNCIL; a.k.a. PALESTINIAN AID ORGANIZATION; a.k.a. PALESTINIAN RELIEF SOCIETY; a.k.a. RELIEF ASSOCIATION FOR PALESTINE), c/o Faical Yaakoubi, 7 rue de l'Ancien Port, CH-1201 Geneva, Switzerland; Gartnerstrasse 55, CH-4109 Basel, Switzerland; Postfach 406, CH-4109 Basel, Switzerland [SDGT]

PALESTINE RELIEF FUND (a.k.a. AL-SANDUQ AL-FILISTINI LIL-IGHATHA; a.k.a. AL-SANDUQ AL-FILISTINI LIL-IGHATHA WA AL-TANMIYA; a.k.a. INTERPAL; a.k.a. PALESTINE AND LEBANON RELIEF FUND; a.k.a. PALESTINE DEVELOPMENT AND RELIEF FUND; a.k.a. PALESTINE RELIEF AND DEVELOPMENT FUND; a.k.a. PALESTINIAN AID AND SUPPORT FUND; a.k.a. PALESTINIAN RELIEF AND DEVELOPMENT FUND; a.k.a. PALESTINIAN RELIEF FUND; a.k.a. PRDF; a.k.a. RELIEF AND DEVELOPMENT FUND FOR PALESTINE; a.k.a. WELFARE AND DEVELOPMENT FUND FOR PALESTINE; a.k.a. WELFARE AND DEVELOPMENT FUND OF PALESTINE), P.O. Box 3333, London NW6 1RW, United Kingdom; Registered Charity No. 1040094 [SDGT]

PALESTINE UNION (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINENSISCHE VER IN STERREICH; a.k.a. PALESTINIAN ASSOCIATION; a.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALESTINENSISCHE VER IN STERREICH (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINIAN ASSOCIATION; a.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALESTINIAN AID AND SUPPORT FUND (a.k.a. AL-SANDUQ AL-FILISTINI LIL-IGHATHA; a.k.a. AL-SANDUQ AL-FILISTINI LIL-IGHATHA WA AL-TANMIYA; a.k.a. INTERPAL; a.k.a. PALESTINE AND LEBANON RELIEF FUND; a.k.a. PALESTINE DEVELOPMENT AND RELIEF FUND; a.k.a. PALESTINE RELIEF AND DEVELOPMENT FUND; a.k.a. PALESTINE RELIEF FUND; a.k.a. PALESTINIAN RELIEF AND DEVELOPMENT FUND; a.k.a. PALESTINIAN RELIEF FUND; a.k.a. PRDF; a.k.a. RELIEF AND DEVELOPMENT FUND FOR PALESTINE; a.k.a. WELFARE AND DEVELOPMENT FUND FOR PALESTINE; a.k.a. WELFARE AND DEVELOPMENT FUND OF PALESTINE), P.O. Box 3333, London NW6 1RW, United Kingdom; Registered Charity No. 1040094 [SDGT]

PALESTINIAN AID COUNCIL (a.k.a. ASP; a.k.a. ASSOCIATION DE SECOURS PALESTINIENS; a.k.a. ASSOCIATION FOR PALESTINIAN AID; a.k.a. ASSOCIATION SECOUR PALESTINIEN; a.k.a. HUMANITARE HILFSORGANISATION FUR PALASTINA; a.k.a. LAJNA AL-IGHATHA AL-FILISTINI; a.k.a. PALESTINE RELIEF COMMITTEE; a.k.a. PALESTINIAN AID ORGANIZATION; a.k.a. PALESTINIAN RELIEF SOCIETY; a.k.a. RELIEF ASSOCIATION FOR PALESTINE), c/o Faical Yaakoubi, 7 rue de l'Ancien Port, CH-1201 Geneva, Switzerland; Gartnerstrasse 55, CH-4109 Basel, Switzerland; Postfach 406, CH-4109 Basel, Switzerland [SDGT]

PALESTINIAN AID ORGANIZATION (a.k.a. ASP; a.k.a. ASSOCIATION DE SECOURS PALESTINIENS; a.k.a. ASSOCIATION FOR PALESTINIAN AID; a.k.a. ASSOCIATION SECOUR PALESTINIEN; a.k.a. HUMANITARE HILFSORGANISATION FUR PALASTINA; a.k.a. LAJNA AL-IGHATHA AL-FILISTINI; a.k.a. PALESTINE RELIEF COMMITTEE; a.k.a. PALESTINIAN AID COUNCIL; a.k.a. PALESTINIAN RELIEF SOCIETY; a.k.a. RELIEF ASSOCIATION FOR PALESTINE), c/o Faical Yaakoubi, 7 rue de l'Ancien Port, CH-1201 Geneva, Switzerland; Gartnerstrasse 55, CH-4109 Basel, Switzerland; Postfach 406, CH-4109 Basel, Switzerland [SDGT]

PALESTINIAN ARAB BEIT EL MAL CORPORATION, LTD. (a.k.a. ARAB PALESTINIAN BEIT EL-MAL COMPANY; a.k.a. BEIT AL MAL HOLDINGS; a.k.a. BEIT EL MAL AL-PHALASTINI AL-ARABI AL-MUSHIMA AL-AAMA AL-MAHADUDA LTD.; a.k.a. BEIT EL-MAL HOLDINGS), P.O. Box 662, Ramallah, West Bank [SDT] [SDGT]

PALESTINIAN ASSOCIATION (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALESTINIAN ASSOCIATION IN AUSTRIA (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALESTINIAN ISLAMIC ASSOCIATION IN AUSTRIA (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; a.k.a. PALESTINIAN ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALESTINIAN ISLAMIC JIHAD (a.k.a. ABU GHUNAYM SQUAD OF THE HIZBALLAH BAYT AL-MAQDIS; a.k.a. AL-AWDAH BRIGADES; a.k.a. AL-QUDS BRIGADES; a.k.a. AL-QUDS SQUADS; a.k.a. ISLAMIC JIHAD IN PALESTINE; a.k.a. ISLAMIC JIHAD OF PALESTINE; a.k.a. PALESTINE ISLAMIC JIHAD -SHAQAQI FACTION; a.k.a. PIJ; a.k.a. PIJ-SHALLAH FACTION; a.k.a. PIJ-SHAQAQI FACTION; a.k.a. SAYARA AL-QUDS) [SDT] [FTO] [SDGT]

PALESTINIAN ISLAMIC LEAGUE IN AUSTRIA (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; a.k.a. PALESTINIAN ASSOCIATION IN AUSTRIA; f.k.a. PALESTINIAN ISLAMIC ASSOCIATION IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALESTINIAN LEAGUE IN AUSTRIA (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; a.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALESTINIAN ORGANIZATION (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; a.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN UNION; a.k.a. PALESTINIAN UNION IN AUSTRIA; a.k.a. PALESTINISCHE VEREINIGUNG; a.k.a. PVOE), Novara g 36a/11, 1020 Wien, Austria [SDGT]

PALESTINIAN POPULAR RESISTANCE FORCES (a.k.a. HALHUL GANG; a.k.a. HALHUL SQUAD; a.k.a. MARTYR ABU-ALI MUSTAFA BATTALION; a.k.a. PFLP; a.k.a. POPULAR FRONT FOR THE LIBERATION OF PALESTINE; a.k.a. PPRF; a.k.a. RED EAGLE GANG; a.k.a. RED EAGLE GROUP; a.k.a. RED EAGLES) [SDT] [FTO] [SDGT]

PALESTINIAN RELIEF AND DEVELOPMENT FUND (a.k.a. AL-SANDUQ AL-FILISTINI LIL-IGHATHA; a.k.a. AL-SANDUQ AL-FILISTINI LIL-IGHATHA WA AL-TANMIYA; a.k.a. INTERPAL; a.k.a. PALESTINE AND LEBANON RELIEF FUND; a.k.a. PALESTINE DEVELOPMENT AND RELIEF FUND; a.k.a. PALESTINE RELIEF AND DEVELOPMENT FUND; a.k.a. PALESTINE RELIEF FUND; a.k.a. PALESTINIAN AID AND SUPPORT FUND; a.k.a. PALESTINIAN RELIEF FUND; a.k.a. PRDF; a.k.a. RELIEF AND DEVELOPMENT FUND FOR PALESTINE; a.k.a. WELFARE AND DEVELOPMENT FUND FOR PALESTINE; a.k.a. WELFARE AND DEVELOPMENT FUND OF PALESTINE), P.O. Box 3333, London NW6 1RW, United Kingdom; Registered Charity No. 1040094 [SDGT]

PALESTINIAN RELIEF FUND (a.k.a. AL-SANDUQ AL-FILISTINI LIL-IGHATHA; a.k.a. AL-SANDUQ AL-FILISTINI LIL-IGHATHA WA AL-TANMIYA; a.k.a. INTERPAL; a.k.a. PALESTINE AND LEBANON RELIEF FUND; a.k.a. PALESTINE DEVELOPMENT AND RELIEF FUND; a.k.a. PALESTINE RELIEF AND DEVELOPMENT FUND; a.k.a. PALESTINE RELIEF FUND; a.k.a. PALESTINIAN AID AND SUPPORT FUND; a.k.a. PALESTINIAN RELIEF AND DEVELOPMENT FUND; a.k.a. PRDF; a.k.a. RELIEF AND DEVELOPMENT FUND FOR PALESTINE; a.k.a. WELFARE AND DEVELOPMENT FUND FOR PALESTINE; a.k.a. WELFARE AND DEVELOPMENT FUND OF PALESTINE), P.O. Box 3333, London NW6 1RW, United Kingdom; Registered Charity No. 1040094 [SDGT]

PALESTINIAN RELIEF SOCIETY (a.k.a. ASP; a.k.a. ASSOCIATION DE SECOURS PALESTINIENS; a.k.a. ASSOCIATION FOR PALESTINIAN AID; a.k.a. ASSOCIATION SECOUR PALESTINIEN; a.k.a. HUMANITARE HILFSORGANISATION FUR PALASTINA; a.k.a. LAJNA AL-IGHATHA AL-FILISTINI; a.k.a. PALESTINE RELIEF COMMITTEE; a.k.a. PALESTINIAN AID COUNCIL; a.k.a. PALESTINIAN AID ORGANIZATION; a.k.a. RELIEF ASSOCIATION FOR PALESTINE), c/o Faical Yaakoubi, 7 rue de l'Ancien Port, CH-1201 Geneva, Switzerland; Gartnerstrasse 55, CH-4109 Basel, Switzerland; Postfach 406, CH-4109 Basel, Switzerland [SDGT]

PALESTINIAN UNION (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; a.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION IN AUSTRIA; a.k.a. PALESTINISCHE VEREINIGUNG; a.k.a. PVOE), Novara g 36a/11, 1020 Wien, Austria [SDGT]

PALESTINIAN UNION IN AUSTRIA (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; a.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINISCHE VEREINIGUNG; a.k.a. PVOE), Novara g 36a/11, 1020 Wien, Austria [SDGT]

PALESTINISCHE VEREINIGUNG (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; a.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PVOE), Novara g 36a/11, 1020 Wien, Austria [SDGT]

PALMA RODRIGUEZ, Giovanni (a.k.a. PALMA RODRIGUEZ, Geovanny; a.k.a. PALMA RODRIGUEZ, Giovanny), c/o COPSERVIR LTDA., Bogota, Colombia; c/o LITOPHARMA, Barranquilla, Colombia; Carrera 8A No. 45B-82, Barranquilla, Colombia; Cedula No. 72175536 (Colombia) (individual) [SDNT]

PALMA RODRIGUEZ, Geovanny (a.k.a. PALMA RODRIGUEZ, Giovanni; a.k.a. PALMA RODRIGUEZ, Giovanny), c/o COPSERVIR LTDA., Bogota, Colombia; c/o LITOPHARMA, Barranquilla, Colombia; Carrera 8A No. 45B-82, Barranquilla, Colombia; Cedula No. 72175536 (Colombia) (individual) [SDNT]

PALMA RODRIGUEZ, Giovanny (a.k.a. PALMA RODRIGUEZ, Giovanni; a.k.a. PALMA RODRIGUEZ, Geovanny), c/o COPSERVIR LTDA., Bogota, Colombia; c/o LITOPHARMA, Barranquilla, Colombia; Carrera 8A No. 45B-82, Barranquilla, Colombia; Cedula No. 72175536 (Colombia) (individual) [SDNT]

PALMA RODRIGUEZ, Wilfrido, c/o COPSERVIR LTDA., Bogota, Colombia; Cedula No. 8724911 (Colombia) (individual) [SDNT]

PALMA SAADE, Jessica Maria, Calle 78 No. 53-70, Local 202, Barranquilla, Colombia; c/o VESTIMENTA J y J S. de H., Barranquilla, Colombia; Cedula No. 32758645 (Colombia) (individual) [SDNT]

PALMA SALAZAR, Hector Luis (a.k.a. PALMA SALAZAR, Jesus Hector); DOB 29 Apr 1960; alt. DOB 25 Aug 1962; alt. DOB 26 Aug 1962; POB Sinaloa, Mexico (individual) [SDNTK]

PALMA SALAZAR, Jesus Hector (a.k.a. PALMA SALAZAR, Hector Luis); DOB 29 Apr 1960; alt. DOB 25 Aug 1962; alt. DOB 26 Aug 1962; POB Sinaloa, Mexico (individual) [SDNTK]

PALMERA PINEDA, Juvenal Ovidio Ricardo (a.k.a. PINEDA PALMERA, Juvenal Ovidio; a.k.a. “SIMON TRINIDAD”); DOB 30 Jul 1950; POB Bogota, Cundinamarca, Colombia; Cedula No. 12715418 (Colombia); alt. Cedula No. 12751418 (Colombia); alt. Cedula No. 12715416 (Colombia); Passport T757205 (Colombia); alt. Passport AC204175 (Colombia); alt. Passport AH182002 (Colombia) (individual) [SDNTK]

PALOMINO QUINTERO, Edgar Arnulfo, c/o COOPDISAN, Bucaramanga, Colombia; c/o COPSERVIR LTDA., Bogota, Colombia; c/o DROGAS LA REBAJA BUCARAMANGA S.A., Bucaramanga, Colombia; Cedula No. 91250721 (Colombia); Passport 91250721 (Colombia) (individual) [SDNT]

PAMIT C. SHIPPING CO., LTD., Limassol, Cyprus [CUBA]

PANAMERICAN IMPORT AND EXPORT COMMERCIAL CORPORATION, Panama [CUBA]

PANAMERICANA LTDA., Carrera 9 No. 9-46, Cali, Colombia; NIT # 800091914-8 (Colombia) [SDNT]

PANDORA SHIPPING CO. S.A., Honduras [IRAQ2]

PANDUREVIC, Vinko; DOB 1959; POB Sokolac, Bosnia-Herzegovina; ICTY indictee (individual) [BALKANS]

PANOAMERICANA, Panama [CUBA]

PARDO OJEDA, Mauricio, Carrera 18C No. 149-33, Apt. 309, Bogota, Colombia; c/o COMPANIA AGROPECUARIA DEL SUR LTDA., Bogota, Colombia; c/o INVERSIONES AGROINDUSTRIALES DEL OCCIDENTE LTDA., Bogota, Colombia; c/o COLOMBO ANDINA COMERCIAL COALSA LTDA., Bogota, Colombia; c/o AGRONILO S.A., Toro, Valle, Colombia; c/o ALMACAES S.A., Bogota, Colombia; c/o BLACKMORE INVESTMENTS A.V.V., Oranjestad, Aruba; c/o CRETA S.A., La Union, Valle, Colombia; c/o G.L.G. S.A., Bogota, Colombia; c/o ILOVIN S.A., Bogota, Colombia; c/o JOSAFAT S.A., Tulua, Valle, Colombia; c/o RAMAL S.A., Bogota, Colombia; DOB 27 Jul 1961; citizen Colombia; nationality Colombia; Cedula No. 19445690 (Colombia) (individual) [SDNT]

PAREDES GONZALEZ, Nohora, c/o COPSERVIR LTDA., Bogota, Colombia; DOB 6 Aug 1963; Cedula No. 36376456 (Colombia) (individual) [SDNT]

PARIRENYATWA, David Pagwese, P.O. Box 66222, Kopje, Harare, Zimbabwe; DOB 2 Aug 1950; Passport AD000899 (Zimbabwe); Minister of Health and Child Welfare (individual) [ZIMBABWE]

PARKA TRADING COMPANY, P.O. Box 3313, Deira, Dubai, United Arab Emirates [SDGT]

PARQUE INDUSTRIAL LAS DELICIAS LTDA., Carrera 7 No. 34-341 L-6, Cali, Colombia; Carrera 7 No. 34-341, Cali, Colombia [SDNT]

PARQUE INDUSTRIAL PROGRESO S.A., Autopista Cali Yumbo, Km. 4 No. 26-400, Yumbo, Colombia; NIT # 805002419-1 (Colombia) [SDNT]

PARRA QUINTERO, Hector Alonso, Carrera 80A No. 13A-29 Apt. 601, Cali, Colombia; c/o PARQUE INDUSTRIAL PROGRESO S.A., Yumbo, Colombia; Cedula No. 14878105 (Colombia); Passport 14878105 (Colombia) (individual) [SDNT]

PARRA RESTREPO, Diego, c/o AGRO MASCOTAS S.A., Bogota, Colombia; Cedula No. 6089400 (Colombia); Passport 6089400 (Colombia) (individual) [SDNT]

PARRA RESTREPO, Pedro Nel, c/o AGRO MASCOTAS S.A., Bogota, Colombia; Cedula No. 1211206 (Colombia); Passport 1211206 (Colombia) (individual) [SDNT]

PARRA VELASCO, Edwin Hiulder, Calle 55BN No. 2FN-77, Cali, Colombia; c/o PARQUE INDUSTRIAL PROGRESO S.A., Yumbo, Colombia; DOB 18 Apr 1961; POB Cali, Valle, Colombia; Cedula No. 16672814 (Colombia); Passport 16672814 (Colombia) (individual) [SDNT]

PARTIDO COMUNISTA DEL PERU (COMMUNIST PARTY OF PERU) (a.k.a. EGP; a.k.a. EJERCITO GUERRILLERO POPULAR (PEOPLE'S GUERRILLA ARMY); a.k.a. EJERCITO POPULAR DE LIBERACION (PEOPLE'S LIBERATION ARMY); a.k.a. EPL; a.k.a. PARTIDO COMUNISTA DEL PERU EN EL SENDERO LUMINOSO DE JOSE CARLOS MARIATEGUI (COMMUNIST PARTY OF PERU ON THE SHINING PATH OF JOSE CARLOS MARIATEGUI); a.k.a. PCP; a.k.a. SENDERO LUMINOSO; a.k.a. SHINING PATH; a.k.a. SL; a.k.a. SOCORRO POPULAR DEL PERU (PEOPLE'S AID OF PERU); a.k.a. SPP) [FTO] [SDGT]

PARTIDO COMUNISTA DEL PERU EN EL SENDERO LUMINOSO DE JOSE CARLOS MARIATEGUI (COMMUNIST PARTY OF PERU ON THE SHINING PATH OF JOSE CARLOS MARIATEGUI) (a.k.a. EGP; a.k.a. EJERCITO GUERRILLERO POPULAR (PEOPLE'S GUERRILLA ARMY); a.k.a. EJERCITO POPULAR DE LIBERACION (PEOPLE'S LIBERATION ARMY); a.k.a. EPL; a.k.a. PARTIDO COMUNISTA DEL PERU (COMMUNIST PARTY OF PERU); a.k.a. PCP; a.k.a. SENDERO LUMINOSO; a.k.a. SHINING PATH; a.k.a. SL; a.k.a. SOCORRO POPULAR DEL PERU (PEOPLE'S AID OF PERU); a.k.a. SPP) [FTO] [SDGT]

PARTIYA KARKERAN KURDISTAN (a.k.a. FREEDOM AND DEMOCRACY CONGRESS OF KURDISTAN; a.k.a. HALU MESRU SAVUNMA KUVVETI (HSK); a.k.a. KADEK; a.k.a. KONGRA-GEL; a.k.a. KURDISTAN FREEDOM AND DEMOCRACY CONGRESS; a.k.a. KURDISTAN PEOPLE'S CONGRESS (KHK); a.k.a. KURDISTAN WORKERS' PARTY; a.k.a. PEOPLE'S CONGRESS OF KURDISTAN; a.k.a. PKK; a.k.a. THE PEOPLE'S DEFENSE FORCE) [FTO] [SDGT]

PARTY OF GOD (a.k.a. ANSAR ALLAH; a.k.a. FOLLOWERS OF THE PROPHET MUHAMMED; a.k.a. HIZBALLAH; a.k.a. ISLAMIC JIHAD; a.k.a. ISLAMIC JIHAD FOR THE LIBERATION OF PALESTINE; a.k.a. ISLAMIC JIHAD ORGANIZATION; a.k.a. ORGANIZATION OF RIGHT AGAINST WRONG; a.k.a. ORGANIZATION OF THE OPPRESSED ON EARTH; a.k.a. REVOLUTIONARY JUSTICE ORGANIZATION) [SDT] [FTO] [SDGT]

PASBAN-E-AHLE-HADITH (a.k.a. AL MANSOOREEN; a.k.a. AL MANSOORIAN; a.k.a. ARMY OF THE PURE; a.k.a. ARMY OF THE PURE AND RIGHTEOUS; a.k.a. ARMY OF THE RIGHTEOUS; a.k.a. IDARA KHIDMAT-E-KHALQ; a.k.a. JAMA'AT AL-DAWA; a.k.a. JAMAAT UD-DAAWA; a.k.a. JAMAAT UL-DAWAH; a.k.a. JAMA'AT-I-DAWAT; a.k.a. JAMAATI-UD-DAWA; a.k.a. JAMA'AT-UD-DA'AWA; a.k.a. JAMA'AT-UD-DA'AWAH; a.k.a. JAMAAT-UD-DAWA; a.k.a. JAMAAT-UL-DAWA; a.k.a. JAMAIAT-UD-DAWA; a.k.a. LASHKAR E-TAYYIBA; a.k.a. LASHKAR E-TOIBA; a.k.a. LASHKAR-I-TAIBA; a.k.a. PAASBAN-E-AHLE-HADIS; a.k.a. PAASBAN-E-KASHMIR; a.k.a. PAASBAN-I-AHLE-HADITH; a.k.a. PASBAN-E-KASHMIR; a.k.a. “JUD”), Pakistan [SDGT] [FTO]

PASBAN-E-KASHMIR (a.k.a. AL MANSOOREEN; a.k.a. AL MANSOORIAN; a.k.a. ARMY OF THE PURE; a.k.a. ARMY OF THE PURE AND RIGHTEOUS; a.k.a. ARMY OF THE RIGHTEOUS; a.k.a. IDARA KHIDMAT-E-KHALQ; a.k.a. JAMA'AT AL-DAWA; a.k.a. JAMAAT UD-DAAWA; a.k.a. JAMAAT UL-DAWAH; a.k.a. JAMA'AT-I-DAWAT; a.k.a. JAMAATI-UD-DAWA; a.k.a. JAMA'AT-UD-DA'AWA; a.k.a. JAMA'AT-UD-DA'AWAH; a.k.a. JAMAAT-UD-DAWA; a.k.a. JAMAAT-UL-DAWA; a.k.a. JAMAIAT-UD-DAWA; a.k.a. LASHKAR E-TAYYIBA; a.k.a. LASHKAR E-TOIBA; a.k.a. LASHKAR-I-TAIBA; a.k.a. PAASBAN-E-AHLE-HADIS; a.k.a. PAASBAN-E-KASHMIR; a.k.a. PAASBAN-I-AHLE-HADITH; a.k.a. PASBAN-E-AHLE-HADITH; a.k.a. “JUD”), Pakistan [SDGT] [FTO]

PATEL, Khantibhal; DOB 28 Oct 1928; Politburo Deputy Secretary for Finance (individual) [ZIMBABWE]

PATENTES MARCAS Y REGISTROS S.A. (a.k.a. PATMAR S.A.), Transversal 29 No. 39-92, Bogota, Colombia; NIT # 830016913-0 (Colombia) [SDNT]

PATINO FOMEQUE, Sonia Daicy (a.k.a. PATINO FOMEQUE, Sonia Daysi), Calle 9 Oeste No. 25-106, Cali, Colombia; c/o INDUSTRIA DE PESCA SOBRE EL PACIFICO S.A., Buenaventura, Colombia; DOB 20 Jan 1975; Cedula No. 66920533 (Colombia) (individual) [SDNT]

PATINO FOMEQUE, Sonia Daysi (a.k.a. PATINO FOMEQUE, Sonia Daicy), Calle 9 Oeste No. 25-106, Cali, Colombia; c/o INDUSTRIA DE PESCA SOBRE EL PACIFICO S.A., Buenaventura, Colombia; DOB 20 Jan 1975; Cedula No. 66920533 (Colombia) (individual) [SDNT]

PATINO FOMEQUE, Victor Hugo (a.k.a. PATINO FOMEQUE, Victor Julio), Avenida 4N No. 10N-100, Cali, Colombia; c/o INDUSTRIA DE PESCA SOBRE EL PACIFICO S.A., Buenaventura, Colombia; c/o TAURA S.A., Cali, Colombia; c/o GALAPAGOS S.A., Cali, Colombia; DOB 31 JAN 1959; Cedula No. 16473543 (Colombia) (individual) [SDNT]

PATINO FOMEQUE, Victor Julio (a.k.a. PATINO FOMEQUE, Victor Hugo), Avenida 4N No. 10N-100, Cali, Colombia; c/o INDUSTRIA DE PESCA SOBRE EL PACIFICO S.A., Buenaventura, Colombia; c/o TAURA S.A., Cali, Colombia; c/o GALAPAGOS S.A., Cali, Colombia; DOB 31 JAN 1959; Cedula No. 16473543 (Colombia) (individual) [SDNT]

PATINO NARANJO, Joaquin Gustavo, Avenida 4N No. 10N-100, Cali, Colombia; c/o INDUSTRIA DE PESCA SOBRE EL PACIFICO S.A., Buenaventura, Colombia; Cedula No. 2730245 (Colombia) (individual) [SDNT]

PATINO RINCON, Octavio, c/o INVERSIONES VILLA PAZ S.A., Cali, Colombia; DOB 20 Sep 1916; Cedula No. 2438955 (Colombia) (individual) [SDNT]

PATMAR S.A. (a.k.a. PATENTES MARCAS Y REGISTROS S.A.), Transversal 29 No. 39-92, Bogota, Colombia; NIT # 830016913-0 (Colombia) [SDNT]

PATTERSON FARM, Mazowe, Zimbabwe [ZIMBABWE]

PAULICHENKA, Dmitri Valeryevich (a.k.a. PAULICHENKA, Dmitri Vasilyevich; a.k.a. PAULICHENKA, Dmitry Valeryevich; a.k.a. PAULICHENKA, Dmitry Vasilyevich; a.k.a. PAULICHENKA, Dzmitry Valeryevich; a.k.a. PAULICHENKA, Dzmitry Vasilyevich; a.k.a. PAVLICHENKO, Dmitri Valeryevich; a.k.a. PAVLICHENKO, Dmitri Vasilyevich; a.k.a. PAVLICHENKO, Dmitry Valeryevich; a.k.a. PAVLICHENKO, Dmitry Vasilyevich; a.k.a. PAVLICHENKO, Dzmitry Valeryevich; a.k.a. PAVLICHENKO, Dzmitry Vasilyevich; a.k.a. PAVLIUCHENKO, Dmitri Valeryevich; a.k.a. PAVLIUCHENKO, Dmitri Vasilyevich; a.k.a. PAVLIUCHENKO, Dmitry Valeryevich; a.k.a. PAVLIUCHENKO, Dmitry Vasilyevich; a.k.a. PAVLIUCHENKO, Dzmitry Valeryevich; a.k.a. PAVLIUCHENKO, Dzmitry Vasilyevich); DOB 1966; POB Vitebsk oblast, Belarus; Colonel in BKGB and Commander of the Special Response Group of the Ministry of the Interior (SOBR) (individual) [BELARUS]

PAULICHENKA, Dmitri Vasilyevich (a.k.a. PAULICHENKA, Dmitri Valeryevich; a.k.a. PAULICHENKA, Dmitry Valeryevich; a.k.a. PAULICHENKA, Dmitry Vasilyevich; a.k.a. PAULICHENKA, Dzmitry Valeryevich; a.k.a. PAULICHENKA, Dzmitry Vasilyevich; a.k.a. PAVLICHENKO, Dmitri Valeryevich; a.k.a. PAVLICHENKO, Dmitri Vasilyevich; a.k.a. PAVLICHENKO, Dmitry Valeryevich; a.k.a. PAVLICHENKO, Dmitry Vasilyevich; a.k.a. PAVLICHENKO, Dzmitry Valeryevich; a.k.a. PAVLICHENKO, Dzmitry Vasilyevich; a.k.a. PAVLIUCHENKO, Dmitri Valeryevich; a.k.a. PAVLIUCHENKO, Dmitri Vasilyevich; a.k.a. PAVLIUCHENKO, Dmitry Valeryevich; a.k.a. PAVLIUCHENKO, Dmitry Vasilyevich; a.k.a. PAVLIUCHENKO, Dzmitry Valeryevich; a.k.a. PAVLIUCHENKO, Dzmitry Vasilyevich); DOB 1966; POB Vitebsk oblast, Belarus; Colonel in BKGB and Commander of the Special Response Group of the Ministry of the Interior (SOBR) (individual) [BELARUS]

PAULICHENKA, Dmitry Valeryevich (a.k.a. PAULICHENKA, Dmitri Valeryevich; a.k.a. PAULICHENKA, Dmitri Vasilyevich; a.k.a. PAULICHENKA, Dmitry Vasilyevich; a.k.a. PAULICHENKA, Dzmitry Valeryevich; a.k.a. PAULICHENKA, Dzmitry Vasilyevich; a.k.a. PAVLICHENKO, Dmitri Valeryevich; a.k.a. PAVLICHENKO, Dmitri Vasilyevich; a.k.a. PAVLICHENKO, Dmitry Valeryevich; a.k.a. PAVLICHENKO, Dmitry Vasilyevich; a.k.a. PAVLICHENKO, Dzmitry Valeryevich; a.k.a. PAVLICHENKO, Dzmitry Vasilyevich; a.k.a. PAVLIUCHENKO, Dmitri Valeryevich; a.k.a. PAVLIUCHENKO, Dmitri Vasilyevich; a.k.a. PAVLIUCHENKO, Dmitry Valeryevich; a.k.a. PAVLIUCHENKO, Dmitry Vasilyevich; a.k.a. PAVLIUCHENKO, Dzmitry Valeryevich; a.k.a. PAVLIUCHENKO, Dzmitry Vasilyevich); DOB 1966; POB Vitebsk oblast, Belarus; Colonel in BKGB and Commander of the Special Response Group of the Ministry of the Interior (SOBR) (individual) [BELARUS]

PAULICHENKA, Dmitry Vasilyevich (a.k.a. PAULICHENKA, Dmitri Valeryevich; a.k.a. PAULICHENKA, Dmitri Vasilyevich; a.k.a. PAULICHENKA, Dmitry Valeryevich; a.k.a. PAULICHENKA, Dzmitry Valeryevich; a.k.a. PAULICHENKA, Dzmitry Vasilyevich; a.k.a. PAVLICHENKO, Dmitri Valeryevich; a.k.a. PAVLICHENKO, Dmitri Vasilyevich; a.k.a. PAVLICHENKO, Dmitry Valeryevich; a.k.a. PAVLICHENKO, Dmitry Vasilyevich; a.k.a. PAVLICHENKO, Dzmitry Valeryevich; a.k.a. PAVLICHENKO, Dzmitry Vasilyevich; a.k.a. PAVLIUCHENKO, Dmitri Valeryevich; a.k.a. PAVLIUCHENKO, Dmitri Vasilyevich; a.k.a. PAVLIUCHENKO, Dmitry Valeryevich; a.k.a. PAVLIUCHENKO, Dmitry Vasilyevich; a.k.a. PAVLIUCHENKO, Dzmitry Valeryevich; a.k.a. PAVLIUCHENKO, Dzmitry Vasilyevich); DOB 1966; POB Vitebsk oblast, Belarus; Colonel in BKGB and Commander of the Special Response Group of the Ministry of the Interior (SOBR) (individual) [BELARUS]

PAULICHENKA, Dzmitry Valeryevich (a.k.a. PAULICHENKA, Dmitri Valeryevich; a.k.a. PAULICHENKA, Dmitri Vasilyevich; a.k.a. PAULICHENKA, Dmitry Valeryevich; a.k.a. PAULICHENKA, Dmitry Vasilyevich; a.k.a. PAULICHENKA, Dzmitry Vasilyevich; a.k.a. PAVLICHENKO, Dmitri Valeryevich; a.k.a. PAVLICHENKO, Dmitri Vasilyevich; a.k.a. PAVLICHENKO, Dmitry Valeryevich; a.k.a. PAVLICHENKO, Dmitry Vasilyevich; a.k.a. PAVLICHENKO, Dzmitry Valeryevich; a.k.a. PAVLICHENKO, Dzmitry Vasilyevich; a.k.a. PAVLIUCHENKO, Dmitri Valeryevich; a.k.a. PAVLIUCHENKO, Dmitri Vasilyevich; a.k.a. PAVLIUCHENKO, Dmitry Valeryevich; a.k.a. PAVLIUCHENKO, Dmitry Vasilyevich; a.k.a. PAVLIUCHENKO, Dzmitry Valeryevich; a.k.a. PAVLIUCHENKO, Dzmitry Vasilyevich); DOB 1966; POB Vitebsk oblast, Belarus; Colonel in BKGB and Commander of the Special Response Group of the Ministry of the Interior (SOBR) (individual) [BELARUS]

PAULICHENKA, Dzmitry Vasilyevich (a.k.a. PAULICHENKA, Dmitri Valeryevich; a.k.a. PAULICHENKA, Dmitri Vasilyevich; a.k.a. PAULICHENKA, Dmitry Valeryevich; a.k.a. PAULICHENKA, Dmitry Vasilyevich; a.k.a. PAULICHENKA, Dzmitry Valeryevich; a.k.a. PAVLICHENKO, Dmitri Valeryevich; a.k.a. PAVLICHENKO, Dmitri Vasilyevich; a.k.a. PAVLICHENKO, Dmitry Valeryevich; a.k.a. PAVLICHENKO, Dmitry Vasilyevich; a.k.a. PAVLICHENKO, Dzmitry Valeryevich; a.k.a. PAVLICHENKO, Dzmitry Vasilyevich; a.k.a. PAVLIUCHENKO, Dmitri Valeryevich; a.k.a. PAVLIUCHENKO, Dmitri Vasilyevich; a.k.a. PAVLIUCHENKO, Dmitry Valeryevich; a.k.a. PAVLIUCHENKO, Dmitry Vasilyevich; a.k.a. PAVLIUCHENKO, Dzmitry Valeryevich; a.k.a. PAVLIUCHENKO, Dzmitry Vasilyevich); DOB 1966; POB Vitebsk oblast, Belarus; Colonel in BKGB and Commander of the Special Response Group of the Ministry of the Interior (SOBR) (individual) [BELARUS]

PAVKOVIC, Nebojsa; DOB 10 Apr 1946; alt. DOB 16 Apr 1946; POB Senjski Rudnik, Serbia and Montenegro; Ex-VJ Chief of Staff (individual) [BALKANS]

PAVLICHENKO, Dmitri Valeryevich (a.k.a. PAULICHENKA, Dmitri Valeryevich; a.k.a. PAULICHENKA, Dmitri Vasilyevich; a.k.a. PAULICHENKA, Dmitry Valeryevich; a.k.a. PAULICHENKA, Dmitry Vasilyevich; a.k.a. PAULICHENKA, Dzmitry Valeryevich; a.k.a. PAULICHENKA, Dzmitry Vasilyevich; a.k.a. PAVLICHENKO, Dmitri Vasilyevich; a.k.a. PAVLICHENKO, Dmitry Valeryevich; a.k.a. PAVLICHENKO, Dmitry Vasilyevich; a.k.a. PAVLICHENKO, Dzmitry Valeryevich; a.k.a. PAVLICHENKO, Dzmitry Vasilyevich; a.k.a. PAVLIUCHENKO, Dmitri Valeryevich; a.k.a. PAVLIUCHENKO, Dmitri Vasilyevich; a.k.a. PAVLIUCHENKO, Dmitry Valeryevich; a.k.a. PAVLIUCHENKO, Dmitry Vasilyevich; a.k.a. PAVLIUCHENKO, Dzmitry Valeryevich; a.k.a. PAVLIUCHENKO, Dzmitry Vasilyevich); DOB 1966; POB Vitebsk oblast, Belarus; Colonel in BKGB and Commander of the Special Response Group of the Ministry of the Interior (SOBR) (individual) [BELARUS]

PAVLICHENKO, Dmitri Vasilyevich (a.k.a. PAULICHENKA, Dmitri Valeryevich; a.k.a. PAULICHENKA, Dmitri Vasilyevich; a.k.a. PAULICHENKA, Dmitry Valeryevich; a.k.a. PAULICHENKA, Dmitry Vasilyevich; a.k.a. PAULICHENKA, Dzmitry Valeryevich; a.k.a. PAULICHENKA, Dzmitry Vasilyevich; a.k.a. PAVLICHENKO, Dmitri Valeryevich; a.k.a. PAVLICHENKO, Dmitry Valeryevich; a.k.a. PAVLICHENKO, Dmitry Vasilyevich; a.k.a. PAVLICHENKO, Dzmitry Valeryevich; a.k.a. PAVLICHENKO, Dzmitry Vasilyevich; a.k.a. PAVLIUCHENKO, Dmitri Valeryevich; a.k.a. PAVLIUCHENKO, Dmitri Vasilyevich; a.k.a. PAVLIUCHENKO, Dmitry Valeryevich; a.k.a. PAVLIUCHENKO, Dmitry Vasilyevich; a.k.a. PAVLIUCHENKO, Dzmitry Valeryevich; a.k.a. PAVLIUCHENKO, Dzmitry Vasilyevich); DOB 1966; POB Vitebsk oblast, Belarus; Colonel in BKGB and Commander of the Special Response Group of the Ministry of the Interior (SOBR) (individual) [BELARUS]

PAVLICHENKO, Dmitry Valeryevich (a.k.a. PAULICHENKA, Dmitri Valeryevich; a.k.a. PAULICHENKA, Dmitri Vasilyevich; a.k.a. PAULICHENKA, Dmitry Valeryevich; a.k.a. PAULICHENKA, Dmitry Vasilyevich; a.k.a. PAULICHENKA, Dzmitry Valeryevich; a.k.a. PAULICHENKA, Dzmitry Vasilyevich; a.k.a. PAVLICHENKO, Dmitri Valeryevich; a.k.a. PAVLICHENKO, Dmitri Vasilyevich; a.k.a. PAVLICHENKO, Dmitry Vasilyevich; a.k.a. PAVLICHENKO, Dzmitry Valeryevich; a.k.a. PAVLICHENKO, Dzmitry Vasilyevich; a.k.a. PAVLIUCHENKO, Dmitri Valeryevich; a.k.a. PAVLIUCHENKO, Dmitri Vasilyevich; a.k.a. PAVLIUCHENKO, Dmitry Valeryevich; a.k.a. PAVLIUCHENKO, Dmitry Vasilyevich; a.k.a. PAVLIUCHENKO, Dzmitry Valeryevich; a.k.a. PAVLIUCHENKO, Dzmitry Vasilyevich); DOB 1966; POB Vitebsk oblast, Belarus; Colonel in BKGB and Commander of the Special Response Group of the Ministry of the Interior (SOBR) (individual) [BELARUS]

PAVLICHENKO, Dmitry Vasilyevich (a.k.a. PAULICHENKA, Dmitri Valeryevich; a.k.a. PAULICHENKA, Dmitri Vasilyevich; a.k.a. PAULICHENKA, Dmitry Valeryevich; a.k.a. PAULICHENKA, Dmitry Vasilyevich; a.k.a. PAULICHENKA, Dzmitry Valeryevich; a.k.a. PAULICHENKA, Dzmitry Vasilyevich; a.k.a. PAVLICHENKO, Dmitri Valeryevich; a.k.a. PAVLICHENKO, Dmitri Vasilyevich; a.k.a. PAVLICHENKO, Dmitry Valeryevich; a.k.a. PAVLICHENKO, Dzmitry Valeryevich; a.k.a. PAVLICHENKO, Dzmitry Vasilyevich; a.k.a. PAVLIUCHENKO, Dmitri Valeryevich; a.k.a. PAVLIUCHENKO, Dmitri Vasilyevich; a.k.a. PAVLIUCHENKO, Dmitry Valeryevich; a.k.a. PAVLIUCHENKO, Dmitry Vasilyevich; a.k.a. PAVLIUCHENKO, Dzmitry Valeryevich; a.k.a. PAVLIUCHENKO, Dzmitry Vasilyevich); DOB 1966; POB Vitebsk oblast, Belarus; Colonel in BKGB and Commander of the Special Response Group of the Ministry of the Interior (SOBR) (individual) [BELARUS]

PAVLICHENKO, Dzmitry Valeryevich (a.k.a. PAULICHENKA, Dmitri Valeryevich; a.k.a. PAULICHENKA, Dmitri Vasilyevich; a.k.a. PAULICHENKA, Dmitry Valeryevich; a.k.a. PAULICHENKA, Dmitry Vasilyevich; a.k.a. PAULICHENKA, Dzmitry Valeryevich; a.k.a. PAULICHENKA, Dzmitry Vasilyevich; a.k.a. PAVLICHENKO, Dmitri Valeryevich; a.k.a. PAVLICHENKO, Dmitri Vasilyevich; a.k.a. PAVLICHENKO, Dmitry Valeryevich; a.k.a. PAVLICHENKO, Dmitry Vasilyevich; a.k.a. PAVLICHENKO, Dzmitry Vasilyevich; a.k.a. PAVLIUCHENKO, Dmitri Valeryevich; a.k.a. PAVLIUCHENKO, Dmitri Vasilyevich; a.k.a. PAVLIUCHENKO, Dmitry Valeryevich; a.k.a. PAVLIUCHENKO, Dmitry Vasilyevich; a.k.a. PAVLIUCHENKO, Dzmitry Valeryevich; a.k.a. PAVLIUCHENKO, Dzmitry Vasilyevich); DOB 1966; POB Vitebsk oblast, Belarus; Colonel in BKGB and Commander of the Special Response Group of the Ministry of the Interior (SOBR) (individual) [BELARUS]

PAVLICHENKO, Dzmitry Vasilyevich (a.k.a. PAULICHENKA, Dmitri Valeryevich; a.k.a. PAULICHENKA, Dmitri Vasilyevich; a.k.a. PAULICHENKA, Dmitry Valeryevich; a.k.a. PAULICHENKA, Dmitry Vasilyevich; a.k.a. PAULICHENKA, Dzmitry Valeryevich; a.k.a. PAULICHENKA, Dzmitry Vasilyevich; a.k.a. PAVLICHENKO, Dmitri Valeryevich; a.k.a. PAVLICHENKO, Dmitri Vasilyevich; a.k.a. PAVLICHENKO, Dmitry Valeryevich; a.k.a. PAVLICHENKO, Dmitry Vasilyevich; a.k.a. PAVLICHENKO, Dzmitry Valeryevich; a.k.a. PAVLIUCHENKO, Dmitri Valeryevich; a.k.a. PAVLIUCHENKO, Dmitri Vasilyevich; a.k.a. PAVLIUCHENKO, Dmitry Valeryevich; a.k.a. PAVLIUCHENKO, Dmitry Vasilyevich; a.k.a. PAVLIUCHENKO, Dzmitry Valeryevich; a.k.a. PAVLIUCHENKO, Dzmitry Vasilyevich); DOB 1966; POB Vitebsk oblast, Belarus; Colonel in BKGB and Commander of the Special Response Group of the Ministry of the Interior (SOBR) (individual) [BELARUS]

PAVLIUCHENKO, Dmitri Valeryevich (a.k.a. PAULICHENKA, Dmitri Valeryevich; a.k.a. PAULICHENKA, Dmitri Vasilyevich; a.k.a. PAULICHENKA, Dmitry Valeryevich; a.k.a. PAULICHENKA, Dmitry Vasilyevich; a.k.a. PAULICHENKA, Dzmitry Valeryevich; a.k.a. PAULICHENKA, Dzmitry Vasilyevich; a.k.a. PAVLICHENKO, Dmitri Valeryevich; a.k.a. PAVLICHENKO, Dmitri Vasilyevich; a.k.a. PAVLICHENKO, Dmitry Valeryevich; a.k.a. PAVLICHENKO, Dmitry Vasilyevich; a.k.a. PAVLICHENKO, Dzmitry Valeryevich; a.k.a. PAVLICHENKO, Dzmitry Vasilyevich; a.k.a. PAVLIUCHENKO, Dmitri Vasilyevich; a.k.a. PAVLIUCHENKO, Dmitry Valeryevich; a.k.a. PAVLIUCHENKO, Dmitry Vasilyevich; a.k.a. PAVLIUCHENKO, Dzmitry Valeryevich; a.k.a. PAVLIUCHENKO, Dzmitry Vasilyevich); DOB 1966; POB Vitebsk oblast, Belarus; Colonel in BKGB and Commander of the Special Response Group of the Ministry of the Interior (SOBR) (individual) [BELARUS]

PAVLIUCHENKO, Dmitri Vasilyevich (a.k.a. PAULICHENKA, Dmitri Valeryevich; a.k.a. PAULICHENKA, Dmitri Vasilyevich; a.k.a. PAULICHENKA, Dmitry Valeryevich; a.k.a. PAULICHENKA, Dmitry Vasilyevich; a.k.a. PAULICHENKA, Dzmitry Valeryevich; a.k.a. PAULICHENKA, Dzmitry Vasilyevich; a.k.a. PAVLICHENKO, Dmitri Valeryevich; a.k.a. PAVLICHENKO, Dmitri Vasilyevich; a.k.a. PAVLICHENKO, Dmitry Valeryevich; a.k.a. PAVLICHENKO, Dmitry Vasilyevich; a.k.a. PAVLICHENKO, Dzmitry Valeryevich; a.k.a. PAVLICHENKO, Dzmitry Vasilyevich; a.k.a. PAVLIUCHENKO, Dmitri Valeryevich; a.k.a. PAVLIUCHENKO, Dmitry Valeryevich; a.k.a. PAVLIUCHENKO, Dmitry Vasilyevich; a.k.a. PAVLIUCHENKO, Dzmitry Valeryevich; a.k.a. PAVLIUCHENKO, Dzmitry Vasilyevich); DOB 1966; POB Vitebsk oblast, Belarus; Colonel in BKGB and Commander of the Special Response Group of the Ministry of the Interior (SOBR) (individual) [BELARUS]

PAVLIUCHENKO, Dmitry Valeryevich (a.k.a. PAULICHENKA, Dmitri Valeryevich; a.k.a. PAULICHENKA, Dmitri Vasilyevich; a.k.a. PAULICHENKA, Dmitry Valeryevich; a.k.a. PAULICHENKA, Dmitry Vasilyevich; a.k.a. PAULICHENKA, Dzmitry Valeryevich; a.k.a. PAULICHENKA, Dzmitry Vasilyevich; a.k.a. PAVLICHENKO, Dmitri Valeryevich; a.k.a. PAVLICHENKO, Dmitri Vasilyevich; a.k.a. PAVLICHENKO, Dmitry Valeryevich; a.k.a. PAVLICHENKO, Dmitry Vasilyevich; a.k.a. PAVLICHENKO, Dzmitry Valeryevich; a.k.a. PAVLICHENKO, Dzmitry Vasilyevich; a.k.a. PAVLIUCHENKO, Dmitri Valeryevich; a.k.a. PAVLIUCHENKO, Dmitri Vasilyevich; a.k.a. PAVLIUCHENKO, Dmitry Vasilyevich; a.k.a. PAVLIUCHENKO, Dzmitry Valeryevich; a.k.a. PAVLIUCHENKO, Dzmitry Vasilyevich); DOB 1966; POB Vitebsk oblast, Belarus; Colonel in BKGB and Commander of the Special Response Group of the Ministry of the Interior (SOBR) (individual) [BELARUS]

PAVLIUCHENKO, Dmitry Vasilyevich (a.k.a. PAULICHENKA, Dmitri Valeryevich; a.k.a. PAULICHENKA, Dmitri Vasilyevich; a.k.a. PAULICHENKA, Dmitry Valeryevich; a.k.a. PAULICHENKA, Dmitry Vasilyevich; a.k.a. PAULICHENKA, Dzmitry Valeryevich; a.k.a. PAULICHENKA, Dzmitry Vasilyevich; a.k.a. PAVLICHENKO, Dmitri Valeryevich; a.k.a. PAVLICHENKO, Dmitri Vasilyevich; a.k.a. PAVLICHENKO, Dmitry Valeryevich; a.k.a. PAVLICHENKO, Dmitry Vasilyevich; a.k.a. PAVLICHENKO, Dzmitry Valeryevich; a.k.a. PAVLICHENKO, Dzmitry Vasilyevich; a.k.a. PAVLIUCHENKO, Dmitri Valeryevich; a.k.a. PAVLIUCHENKO, Dmitri Vasilyevich; a.k.a. PAVLIUCHENKO, Dmitry Valeryevich; a.k.a. PAVLIUCHENKO, Dzmitry Valeryevich; a.k.a. PAVLIUCHENKO, Dzmitry Vasilyevich); DOB 1966; POB Vitebsk oblast, Belarus; Colonel in BKGB and Commander of the Special Response Group of the Ministry of the Interior (SOBR) (individual) [BELARUS]

PAVLIUCHENKO, Dzmitry Valeryevich (a.k.a. PAULICHENKA, Dmitri Valeryevich; a.k.a. PAULICHENKA, Dmitri Vasilyevich; a.k.a. PAULICHENKA, Dmitry Valeryevich; a.k.a. PAULICHENKA, Dmitry Vasilyevich; a.k.a. PAULICHENKA, Dzmitry Valeryevich; a.k.a. PAULICHENKA, Dzmitry Vasilyevich; a.k.a. PAVLICHENKO, Dmitri Valeryevich; a.k.a. PAVLICHENKO, Dmitri Vasilyevich; a.k.a. PAVLICHENKO, Dmitry Valeryevich; a.k.a. PAVLICHENKO, Dmitry Vasilyevich; a.k.a. PAVLICHENKO, Dzmitry Valeryevich; a.k.a. PAVLICHENKO, Dzmitry Vasilyevich; a.k.a. PAVLIUCHENKO, Dmitri Valeryevich; a.k.a. PAVLIUCHENKO, Dmitri Vasilyevich; a.k.a. PAVLIUCHENKO, Dmitry Valeryevich; a.k.a. PAVLIUCHENKO, Dmitry Vasilyevich; a.k.a. PAVLIUCHENKO, Dzmitry Vasilyevich); DOB 1966; POB Vitebsk oblast, Belarus; Colonel in BKGB and Commander of the Special Response Group of the Ministry of the Interior (SOBR) (individual) [BELARUS]

PAVLIUCHENKO, Dzmitry Vasilyevich (a.k.a. PAULICHENKA, Dmitri Valeryevich; a.k.a. PAULICHENKA, Dmitri Vasilyevich; a.k.a. PAULICHENKA, Dmitry Valeryevich; a.k.a. PAULICHENKA, Dmitry Vasilyevich; a.k.a. PAULICHENKA, Dzmitry Valeryevich; a.k.a. PAULICHENKA, Dzmitry Vasilyevich; a.k.a. PAVLICHENKO, Dmitri Valeryevich; a.k.a. PAVLICHENKO, Dmitri Vasilyevich; a.k.a. PAVLICHENKO, Dmitry Valeryevich; a.k.a. PAVLICHENKO, Dmitry Vasilyevich; a.k.a. PAVLICHENKO, Dzmitry Valeryevich; a.k.a. PAVLICHENKO, Dzmitry Vasilyevich; a.k.a. PAVLIUCHENKO, Dmitri Valeryevich; a.k.a. PAVLIUCHENKO, Dmitri Vasilyevich; a.k.a. PAVLIUCHENKO, Dmitry Valeryevich; a.k.a. PAVLIUCHENKO, Dmitry Vasilyevich; a.k.a. PAVLIUCHENKO, Dzmitry Valeryevich); DOB 1966; POB Vitebsk oblast, Belarus; Colonel in BKGB and Commander of the Special Response Group of the Ministry of the Interior (SOBR) (individual) [BELARUS]

PAZ MAHECHA, Gonzalo Rodrigo, Carrera 4 No. 11-45 of. 802, Cali, Colombia; Carrera 4 No. 11-45 of. 809, Cali, Colombia; Transversal 98 No. 28A-46, Cali, Colombia; c/o COLOR 89.5 FM STEREO, Cali, Colombia; Calle 13A No. 66B-60 apt. 102A, Cali, Colombia; Calle 102 No. 48A-08, Bogota, Colombia; Carrera 4 No. 11-45 apt. 621, Cali, Colombia; Carrera 4 No. 11-45 apt. 624, Cali, Colombia; Calle 13 No. 4-25 piso 6, Cali, Colombia; Calle 13A No. 66B-60 apt. 902A, Cali, Colombia; Calle 13A No. 66B-60 apt. 101A, Cali, Colombia; DOB 28 Sep 1957; Cedula No. 16590653 (Colombia) (individual) [SDNT]

PCP (a.k.a. EGP; a.k.a. EJERCITO GUERRILLERO POPULAR (PEOPLE'S GUERRILLA ARMY); a.k.a. EJERCITO POPULAR DE LIBERACION (PEOPLE'S LIBERATION ARMY); a.k.a. EPL; a.k.a. PARTIDO COMUNISTA DEL PERU (COMMUNIST PARTY OF PERU); a.k.a. PARTIDO COMUNISTA DEL PERU EN EL SENDERO LUMINOSO DE JOSE CARLOS MARIATEGUI (COMMUNIST PARTY OF PERU ON THE SHINING PATH OF JOSE CARLOS MARIATEGUI); a.k.a. SENDERO LUMINOSO; a.k.a. SHINING PATH; a.k.a. SL; a.k.a. SOCORRO POPULAR DEL PERU (PEOPLE'S AID OF PERU); a.k.a. SPP) [FTO] [SDGT]

PCPMB (a.k.a. POLITICAL COUNCIL OF PRESEVO, MEDVEDJA, AND BUJANOVAC) [BALKANS]

PEACEKEEPING BATTALION (a.k.a. INTERNATIONAL BATTALION; a.k.a. ISLAMIC PEACEKEEPING INTERNATIONAL BRIGADE; a.k.a. THE INTERNATIONAL BRIGADE; a.k.a. THE ISLAMIC INTERNATIONAL BRIGADE; a.k.a. THE ISLAMIC PEACEKEEPING ARMY; a.k.a. THE ISLAMIC PEACEKEEPING BRIGADE) [SDGT]

PEDRAZA GARZON, Fernando, c/o COOPERATIVA MULTIACTIVA DE COLOMBIA FOMENTAMOS, Bogota, Colombia; DOB 9 Nov 1962; Cedula No. 79283141 (Colombia); Passport 79283141 (Colombia) (individual) [SDNT]

PEJCIC, Mile (a.k.a. PEJICIC, Mile); DOB 5 January 1971; POB SuhoPolje, Bosnia-Herzegovina (individual) [BALKANS]

PEJICIC, Mile (a.k.a. PEJCIC, Mile); DOB 5 January 1971; POB SuhoPolje, Bosnia-Herzegovina (individual) [BALKANS]

PELAEZ DE HENAO, Teresa, c/o ALFA PHARMA S.A., Bogota, Colombia; DOB 11 Jan 1928; Cedula No. 29013555 (Colombia) (individual) [SDNT]

PELISSIER OSPINA, Maria Sahir (a.k.a. PELISSIER OSPINA, Maria Sair), c/o ALMACAES S.A., Bogota, Colombia; c/o COMERCIALIZADORA PELISSIER OSPINA LTDA., Bogota, Colombia; c/o CORPORACION DE ALMACENES POR DEPARTAMENTOS S.A., Bogota, Colombia; c/o G.L.G. S.A., Bogota, Colombia; c/o HEBRON S.A., Tulua, Valle, Colombia; c/o ILOVIN S.A., Bogota, Colombia; c/o RAMAL S.A., Bogota, Colombia; Carrera 58B No. 63B-96 B-21 E-8 Int. 15 apt. 201, Bogota, Colombia; Carrera 68D No. 64F-96 B-21 Int. 15, Bogota, Colombia; DOB 20 Jun 1958; POB Ibague, Tolima, Colombia; Cedula No. 51561790 (Colombia) (individual) [SDNT]

PELISSIER OSPINA, Maria Sair (a.k.a. PELISSIER OSPINA, Maria Sahir), c/o ALMACAES S.A., Bogota, Colombia; c/o COMERCIALIZADORA PELISSIER OSPINA LTDA., Bogota, Colombia; c/o CORPORACION DE ALMACENES POR DEPARTAMENTOS S.A., Bogota, Colombia; c/o G.L.G. S.A., Bogota, Colombia; c/o HEBRON S.A., Tulua, Valle, Colombia; c/o ILOVIN S.A., Bogota, Colombia; c/o RAMAL S.A., Bogota, Colombia; Carrera 58B No. 63B-96 B-21 E-8 Int. 15 apt. 201, Bogota, Colombia; Carrera 68D No. 64F-96 B-21 Int. 15, Bogota, Colombia; DOB 20 Jun 1958; POB Ibague, Tolima, Colombia; Cedula No. 51561790 (Colombia) (individual) [SDNT]

PENA OJEDA, Wilton Orlando, c/o COOPCREAR, Bogota, Colombia; c/o COOPERATIVA MULTIACTIVA DE COLOMBIA FOMENTAMOS, Bogota, Colombia; c/o COOPERATIVA DE TRABAJO ASOCIADO ACTIVAR, Bogota, Colombia; DOB 1 Apr 1975; Cedula No. 79688099 (Colombia); Passport 79688099 (Colombia) (individual) [SDNT]

PENA TORRES, Jose, Panama (individual) [CUBA]

PENA, Victor, Panama (individual) [CUBA]

PENALOSA CAMARGO, Diego Hernando, c/o FUNDACION VIVIR MEJOR, Cali, Colombia; Cedula No. 118391 (Colombia); Passport 118391 (Colombia) (individual) [SDNT]

PENTA PHARMA DE COLOMBIA S.A., Calle 17A No. 28A-43, Bogota, Colombia; Calle 17A No. 28A-23, Bogota, Colombia [SDNT]

PENTA PHARMA DE COLOMBIA S.A. (a.k.a. PENTACOOP LTDA.), Calle 17A No. 28A-43, Bogota, Colombia; Calle 17A No. 28A-23, Bogota, Colombia; NIT # 830016989-1 (Colombia) [SDNT]

PENTACOOP LTDA. (f.k.a. PENTA PHARMA DE COLOMBIA S.A.), Calle 17A No. 28A-43, Bogota, Colombia; Calle 17A No. 28A-23, Bogota, Colombia; NIT # 830016989-1 (Colombia) [SDNT]

PEONY SHIPPING CO. LTD., c/o NORDSTRAND MARITIME & TRADING CO. LTD., 26 Skouze Street, Piraeus, Greece [CUBA]

PEOPLE'S CONGRESS OF KURDISTAN (a.k.a. FREEDOM AND DEMOCRACY CONGRESS OF KURDISTAN; a.k.a. HALU MESRU SAVUNMA KUVVETI (HSK); a.k.a. KADEK; a.k.a. KONGRA-GEL; a.k.a. KURDISTAN FREEDOM AND DEMOCRACY CONGRESS; a.k.a. KURDISTAN PEOPLE'S CONGRESS (KHK); a.k.a. KURDISTAN WORKERS' PARTY; a.k.a. PARTIYA KARKERAN KURDISTAN; a.k.a. PKK; a.k.a. THE PEOPLE'S DEFENSE FORCE) [FTO] [SDGT]

PEOPLE'S CO-OPERATIVE BANK, P.O. Box 922, Khartoum, Sudan [SUDAN]

PEOPLE'S MUJAHEDIN ORGANIZATION OF IRAN (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NATIONAL COUNCIL OF RESISTANCE OF IRAN; a.k.a. NCRI; a.k.a. NLA; a.k.a. ORGANIZATION OF THE PEOPLE'S HOLY WARRIORS OF IRAN; a.k.a. PMOI; a.k.a. SAZEMAN-E MUJAHEDIN-E KHALQ-E IRAN; a.k.a. THE NATIONAL LIBERATION ARMY OF IRAN) [FTO] [SDGT]

PEOPLE'S MUJAHEDIN ORGANIZATION OF IRAN (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PMOI; a.k.a. SAZEMAN-E MUJAHEDIN-E KHALQ-E IRAN; a.k.a. THE NATIONAL LIBERATION ARMY OF IRAN); including its U.S. press office and all other offices worldwide [FTO] [SDGT]

PEOPLE'S MUJAHEDIN ORGANIZATION OF IRAN (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PMOI; a.k.a. SAZEMAN-E MUJAHEDIN-E KHALQ-E IRAN; a.k.a. THE NATIONAL LIBERATION ARMY OF IRAN); including its U.S. press office and all other offices worldwide [FTO] [SDGT]

PEOPLE'S MUJAHEDIN ORGANIZATION OF IRAN (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PMOI; a.k.a. SAZEMAN-E MUJAHEDIN-E KHALQ-E IRAN; a.k.a. THE NATIONAL LIBERATION ARMY OF IRAN); including its U.S. representative offices and all other offices worldwide [FTO] [SDGT]

PERDOMO ZUNIGA, Hugo Ivan, c/o CONSTRUVIDA S.A., Cali, Colombia; DOB 16 Jun 1960; Cedula No. 16669843 (Colombia) (individual) [SDNT]

PEREIRA BERUMEN, Luis Miguel, c/o MULTISERVICIOS GAMAL, S.A. DE C.V., Tijuana, Baja California, Mexico; Calle Relampago 1136 Secc. Dorado, Tijuana, Baja California, Mexico; DOB 10 Sep 1975 (individual) [SDNTK]

PEREZ ALZATE, Guillermo (a.k.a. “PABLO SEVILLANO”), Diagonal 50 No. 49-14 of. 601, Medellin, Colombia; Calle 26A No. 70-35, Medellin, Colombia; Calle 30 No. 9-51, Monteria, Cordoba, Colombia; Calle 24 No. 1-52, B. Cta de Oro, Colombia; Calle 37 No. 2-40, Almacen Dulcino, Tumaco, Narino, Colombia; Cedula No. 71646827 (Colombia); Passport AF891052 (Colombia) (individual) [SDNTK]

PEREZ ARAMBURU, Jon Inaki; DOB 18 Sep 1964; POB San Sebastian, Guipuzcoa Province, Spain; D.N.I. 15.976.521 (Spain); Member ETA (individual) [SDGT]

PEREZ CASTANO, Mario Alberto, c/o CAMBIOS PALMILLA S.A. DE C.V., Hidalgo del Parral, Mexico; Calle Decima No. 14, Hidalgo del Parral, Chihuahua, Mexico; DOB 25 Jun 1966; POB Hidalgo del Parral, Chihuahua, Mexico; citizen Mexico; nationality Mexico; C.U.R.P. PECM660625HCHRSR07 (Mexico); R.F.C. PECM-660625-FN5 (Mexico) (individual) [SDNTK]

PEREZ CRUZ, Osvaldo, Panama (individual) [CUBA]

PEREZ ELIAS, Sofia, c/o MULTISERVICIOS ALPHA, S.A. DE C.V., Tijuana, Baja California, Mexico; Calle Oslo 3692, Colonia Playas Costa Azul, Tijuana, Baja California CP 22250, Mexico; c/o HACIENDA DE DON JOSE RESTAURANT BAR, S.A. DE C.V., Tijuana, Baja California, Mexico; DOB 10 Oct 1973; POB Tijuana, Baja California, Mexico (individual) [SDNTK]

PEREZ GARCIA, Carlos, c/o ASESORIAS COSMOS LTDA., Cali, Colombia; Cedula No. 14920419 (Colombia) (individual) [SDNT]

PEREZ GOMEZ, Stella, c/o ASESORIAS ECONOMICAS MUNOZ SANTACOLOMA E.U., Cali, Colombia; c/o CONTACTEL COMUNICACIONES S.A., Cali, Colombia; c/o DISTRIBUIDORA SANAR DE COLOMBIA S.A., Cali, Colombia; c/o COPSERVIR LTDA., Bogota, Colombia; c/o PROVIDA E.U., Cali, Colombia; DOB 26 Jun 1960; Cedula No. 31848468 (Colombia); Passport 31848468 (Colombia) (individual) [SDNT]

PEREZ NARVAEZ, Oliverio, Avenida 4 No. 7-75, Cali, Colombia; c/o INTERCONTINENTAL DE AVIACION S.A., Bogota, Colombia; DOB 9 Mar 1938; POB Riofrio, Valle, Colombia; Cedula No. 6488451 (Colombia); Passport AG400146 (Colombia); alt. Passport AG069729 (Colombia) (individual) [SDNT]

PEREZ ORTEGA, Publio Eliecer, c/o INVERSIONES VILLA PAZ S.A., Cali, Colombia; DOB 23 Jul 1954; Cedula No. 16597479 (Colombia) (individual) [SDNT]

PEREZ PASUENGO, Efrain; DOB 1954; nationality Mexico (individual) [SDNTK]

PEREZ PENA, Jaime (a.k.a. NASSER DAVID, Julio Cesar), Calle 74 No. 53-30, Barranquilla, Colombia; Carrera 38B No. 76-40, Barranquilla, Colombia; c/o GRAN COMPANIA DE HOTELES LTDA., Barranquilla, Colombia; c/o HOTELES E INMUEBLES DE COLOMBIA LTDA., Barranquilla, Colombia; c/o INMOBILIARIA DEL CARIBE LTDA., Barranquilla, Colombia; c/o INMOBILIARIA HOTELERA DEL CARIBE LTDA., Barranquilla, Colombia; c/o INVERSIONES HOTELERAS DEL LITORAL LTDA., Barranquilla, Colombia; c/o INVERSIONES PRADO TRADE CENTER LTDA., Barranquilla, Colombia; c/o NEGOCIOS Y PROPIEDADES DEL CARIBE LTDA., Barranquilla, Colombia; c/o PROMOCIONES Y CONSTRUCCIONES DEL CARIBE LTDA., Barranquilla, Colombia; c/o PROMOCIONES Y CONSTRUCCIONES DEL CARIBE LTDA., Y CIA. S.C.A., Barranquilla, Colombia; c/o PROMOTORA HOTEL BARRANQUILLA LTDA., Barranquilla, Colombia; c/o SURAMERICANA DE HOTELES LTDA., Barranquilla, Colombia; c/o EDIFICACIONES DEL CARIBE LTDA., Barranquilla, Colombia; c/o DESARROLLOS URBANOS “DESARROLLAR” LTDA., Barranquilla, Colombia; c/o AGRICOLA SONGO LTDA., Barranquilla, Colombia; DOB 1 Nov 40; alt. DOB 1 Oct 40; Cedula No. 3710619 (Colombia); Passport H130865 (Colombia) (individual) [SDNT]

PEREZ SERNA, Wilmar Armando, c/o INVHERESA S.A., Cali, Colombia (individual) [SDNT]

PEREZ VARELA, Jaime Diego, c/o CONSTRUCTORA GOPEVA LTDA., Cali, Colombia; Avenida Ciudad Jardin No. 27, Cali, Colombia; DOB 28 Feb 1933; Cedula No. 2695666 (Colombia) (individual) [SDNT]

PEREZ, Alfonso, Panama (individual) [CUBA]

PEREZ, Manuel Martin, Panama (individual) [CUBA]

PERIC, Jozo 'Tukesa'; DOB 31 Jan 1959; POB Pjesevac Kula, Bosnia-Herzegovina (individual) [BALKANS]

PESCABRAVA, S.A., France [CUBA]

PESCABRAVA, S.A., Italy [CUBA]

PESCABRAVA, S.A., Spain [CUBA]

PESCADOS Y MARISCOS DE PANAMA, S.A. (a.k.a. PESMAR (OR PEZMAR), S.A.), Panama City, Panama [CUBA]

PESMAR (OR PEZMAR), S.A. (a.k.a. PESCADOS Y MARISCOS DE PANAMA, S.A.), Panama City, Panama [CUBA]

PETKEVICH, Nataliya Uladzimirauna (a.k.a. PETKEVICH, Nataliya Vladimirovna; a.k.a. PETKEVICH, Natallia Uladzimirauna; a.k.a. PETKEVICH, Natallia Vladimirovna; a.k.a. PETKEVICH, Natalya Uladzimirauna; a.k.a. PETKEVICH, Natalya Vladimirovna; a.k.a. PIATKEVICH , Natallia Vladimirovna; a.k.a. PIATKEVICH , Natalya Vladimirovna; a.k.a. PIATKEVICH, Nataliya Uladzimirauna; a.k.a. PIATKEVICH, Nataliya Vladimirovna; a.k.a. PIATKEVICH, Natallia Uladzimirauna; a.k.a. PIATKEVICH, Natalya Uladzimirauna); DOB 24 Oct 1972; POB Minsk, Belarus; Deputy Head of the President's Administration (individual) [BELARUS]

PETKEVICH, Nataliya Vladimirovna (a.k.a. PETKEVICH, Nataliya Uladzimirauna; a.k.a. PETKEVICH, Natallia Uladzimirauna; a.k.a. PETKEVICH, Natallia Vladimirovna; a.k.a. PETKEVICH, Natalya Uladzimirauna; a.k.a. PETKEVICH, Natalya Vladimirovna; a.k.a. PIATKEVICH , Natallia Vladimirovna; a.k.a. PIATKEVICH , Natalya Vladimirovna; a.k.a. PIATKEVICH, Nataliya Uladzimirauna; a.k.a. PIATKEVICH, Nataliya Vladimirovna; a.k.a. PIATKEVICH, Natallia Uladzimirauna; a.k.a. PIATKEVICH, Natalya Uladzimirauna); DOB 24 Oct 1972; POB Minsk, Belarus; Deputy Head of the President's Administration (individual) [BELARUS]

PETKEVICH, Natallia Uladzimirauna (a.k.a. PETKEVICH, Nataliya Uladzimirauna; a.k.a. PETKEVICH, Nataliya Vladimirovna; a.k.a. PETKEVICH, Natallia Vladimirovna; a.k.a. PETKEVICH, Natalya Uladzimirauna; a.k.a. PETKEVICH, Natalya Vladimirovna; a.k.a. PIATKEVICH , Natallia Vladimirovna; a.k.a. PIATKEVICH , Natalya Vladimirovna; a.k.a. PIATKEVICH, Nataliya Uladzimirauna; a.k.a. PIATKEVICH, Nataliya Vladimirovna; a.k.a. PIATKEVICH, Natallia Uladzimirauna; a.k.a. PIATKEVICH, Natalya Uladzimirauna); DOB 24 Oct 1972; POB Minsk, Belarus; Deputy Head of the President's Administration (individual) [BELARUS]

PETKEVICH, Natallia Vladimirovna (a.k.a. PETKEVICH, Nataliya Uladzimirauna; a.k.a. PETKEVICH, Nataliya Vladimirovna; a.k.a. PETKEVICH, Natallia Uladzimirauna; a.k.a. PETKEVICH, Natalya Uladzimirauna; a.k.a. PETKEVICH, Natalya Vladimirovna; a.k.a. PIATKEVICH , Natallia Vladimirovna; a.k.a. PIATKEVICH , Natalya Vladimirovna; a.k.a. PIATKEVICH, Nataliya Uladzimirauna; a.k.a. PIATKEVICH, Nataliya Vladimirovna; a.k.a. PIATKEVICH, Natallia Uladzimirauna; a.k.a. PIATKEVICH, Natalya Uladzimirauna); DOB 24 Oct 1972; POB Minsk, Belarus; Deputy Head of the President's Administration (individual) [BELARUS]

PETKEVICH, Natalya Uladzimirauna (a.k.a. PETKEVICH, Nataliya Uladzimirauna; a.k.a. PETKEVICH, Nataliya Vladimirovna; a.k.a. PETKEVICH, Natallia Uladzimirauna; a.k.a. PETKEVICH, Natallia Vladimirovna; a.k.a. PETKEVICH, Natalya Vladimirovna; a.k.a. PIATKEVICH , Natallia Vladimirovna; a.k.a. PIATKEVICH , Natalya Vladimirovna; a.k.a. PIATKEVICH, Nataliya Uladzimirauna; a.k.a. PIATKEVICH, Nataliya Vladimirovna; a.k.a. PIATKEVICH, Natallia Uladzimirauna; a.k.a. PIATKEVICH, Natalya Uladzimirauna); DOB 24 Oct 1972; POB Minsk, Belarus; Deputy Head of the President's Administration (individual) [BELARUS]

PETKEVICH, Natalya Vladimirovna (a.k.a. PETKEVICH, Nataliya Uladzimirauna; a.k.a. PETKEVICH, Nataliya Vladimirovna; a.k.a. PETKEVICH, Natallia Uladzimirauna; a.k.a. PETKEVICH, Natallia Vladimirovna; a.k.a. PETKEVICH, Natalya Uladzimirauna; a.k.a. PIATKEVICH , Natallia Vladimirovna; a.k.a. PIATKEVICH , Natalya Vladimirovna; a.k.a. PIATKEVICH, Nataliya Uladzimirauna; a.k.a. PIATKEVICH, Nataliya Vladimirovna; a.k.a. PIATKEVICH, Natallia Uladzimirauna; a.k.a. PIATKEVICH, Natalya Uladzimirauna); DOB 24 Oct 1972; POB Minsk, Belarus; Deputy Head of the President's Administration (individual) [BELARUS]

PETRA NAVIGATION & INTERNATIONAL TRADING CO. LTD. (a.k.a. AL PETRA COMPANY FOR GOODS TRANSPORT LTD), Hai Al Wahda Mahalat 906, 906 Zulak 50, House 14, Baghdad, Iraq [IRAQ2]

PETRIC, Zoran; DOB 18 July 1964; POB Banovici, Bosnia-Herzegovina (individual) [BALKANS]

PETROLEUM GENERAL ADMINISTRATION, P.O. Box 2649, Khartoum, Sudan [SUDAN]

PFLP (a.k.a. HALHUL GANG; a.k.a. HALHUL SQUAD; a.k.a. MARTYR ABU-ALI MUSTAFA BATTALION; a.k.a. PALESTINIAN POPULAR RESISTANCE FORCES; a.k.a. POPULAR FRONT FOR THE LIBERATION OF PALESTINE; a.k.a. PPRF; a.k.a. RED EAGLE GANG; a.k.a. RED EAGLE GROUP; a.k.a. RED EAGLES) [SDT] [FTO] [SDGT]

PFLP-GC (a.k.a. POPULAR FRONT FOR THE LIBERATION OF PALESTINE -GENERAL COMMAND) [SDT] [FTO] [SDGT]

PHITCHAIYOT, Winai (a.k.a. PHITCHAYOT, Winai; a.k.a. PICHAYOS, Vinai; a.k.a. PICHAYOS, Winai; a.k.a. PICHAYOT, Vinai; a.k.a. PITCHAYOS, Vinai; a.k.a. THICHAIYOT, Winai; a.k.a. TICHYOS, Vinai), c/o BANGKOK ARTI-FLORA DESIGN LIMITED PARTNERSHIP, Bangkok, Thailand; c/o GREEN CAR RENT LIMITED PARTNERSHIP, Bangkok, Thailand; c/o HATKAEW COMPANY LTD., Bangkok, Thailand; c/o NICE FANTASY GARMENT COMPANY LTD., Bangkok, Thailand; c/o PROGRESS SURAWEE COMPANY LTD., Bangkok, Thailand; c/o RUNGRIN COMPANY LTD., Bangkok, Thailand; c/o SCORE COMMERCIAL COMPANY LTD., Bangkok, Thailand; DOB 1 Dec 1957; Passport K203350 (Thailand) (individual) [SDNTK]

PHITCHAYOT, Winai (a.k.a. PHITCHAIYOT, Winai; a.k.a. PICHAYOS, Vinai; a.k.a. PICHAYOS, Winai; a.k.a. PICHAYOT, Vinai; a.k.a. PITCHAYOS, Vinai; a.k.a. THICHAIYOT, Winai; a.k.a. TICHYOS, Vinai), c/o BANGKOK ARTI-FLORA DESIGN LIMITED PARTNERSHIP, Bangkok, Thailand; c/o GREEN CAR RENT LIMITED PARTNERSHIP, Bangkok, Thailand; c/o HATKAEW COMPANY LTD., Bangkok, Thailand; c/o NICE FANTASY GARMENT COMPANY LTD., Bangkok, Thailand; c/o PROGRESS SURAWEE COMPANY LTD., Bangkok, Thailand; c/o RUNGRIN COMPANY LTD., Bangkok, Thailand; c/o SCORE COMMERCIAL COMPANY LTD., Bangkok, Thailand; DOB 1 Dec 1957; Passport K203350 (Thailand) (individual) [SDNTK]

PHUANGPHET, Suwit (a.k.a. PUANGPETCH, Suvit; a.k.a. PUANGPETCH, Suwit), c/o PROGRESS SURAWEE COMPANY LTD., Bangkok, Thailand; c/o SCORE COMMERCIAL COMPANY LTD., Bangkok, Thailand; DOB 28 Oct 1956; National ID No. 3570900170841 (Thailand) (individual) [SDNTK]

PIATKEVICH , Natallia Vladimirovna (a.k.a. PETKEVICH, Nataliya Uladzimirauna; a.k.a. PETKEVICH, Nataliya Vladimirovna; a.k.a. PETKEVICH, Natallia Uladzimirauna; a.k.a. PETKEVICH, Natallia Vladimirovna; a.k.a. PETKEVICH, Natalya Uladzimirauna; a.k.a. PETKEVICH, Natalya Vladimirovna; a.k.a. PIATKEVICH , Natalya Vladimirovna; a.k.a. PIATKEVICH, Nataliya Uladzimirauna; a.k.a. PIATKEVICH, Nataliya Vladimirovna; a.k.a. PIATKEVICH, Natallia Uladzimirauna; a.k.a. PIATKEVICH, Natalya Uladzimirauna); DOB 24 Oct 1972; POB Minsk, Belarus; Deputy Head of the President's Administration (individual) [BELARUS]

PIATKEVICH , Natalya Vladimirovna (a.k.a. PETKEVICH, Nataliya Uladzimirauna; a.k.a. PETKEVICH, Nataliya Vladimirovna; a.k.a. PETKEVICH, Natallia Uladzimirauna; a.k.a. PETKEVICH, Natallia Vladimirovna; a.k.a. PETKEVICH, Natalya Uladzimirauna; a.k.a. PETKEVICH, Natalya Vladimirovna; a.k.a. PIATKEVICH , Natallia Vladimirovna; a.k.a. PIATKEVICH, Nataliya Uladzimirauna; a.k.a. PIATKEVICH, Nataliya Vladimirovna; a.k.a. PIATKEVICH, Natallia Uladzimirauna; a.k.a. PIATKEVICH, Natalya Uladzimirauna); DOB 24 Oct 1972; POB Minsk, Belarus; Deputy Head of the President's Administration (individual) [BELARUS]

PIATKEVICH, Nataliya Uladzimirauna (a.k.a. PETKEVICH, Nataliya Uladzimirauna; a.k.a. PETKEVICH, Nataliya Vladimirovna; a.k.a. PETKEVICH, Natallia Uladzimirauna; a.k.a. PETKEVICH, Natallia Vladimirovna; a.k.a. PETKEVICH, Natalya Uladzimirauna; a.k.a. PETKEVICH, Natalya Vladimirovna; a.k.a. PIATKEVICH , Natallia Vladimirovna; a.k.a. PIATKEVICH , Natalya Vladimirovna; a.k.a. PIATKEVICH, Nataliya Vladimirovna; a.k.a. PIATKEVICH, Natallia Uladzimirauna; a.k.a. PIATKEVICH, Natalya Uladzimirauna); DOB 24 Oct 1972; POB Minsk, Belarus; Deputy Head of the President's Administration (individual) [BELARUS]

PIATKEVICH, Nataliya Vladimirovna (a.k.a. PETKEVICH, Nataliya Uladzimirauna; a.k.a. PETKEVICH, Nataliya Vladimirovna; a.k.a. PETKEVICH, Natallia Uladzimirauna; a.k.a. PETKEVICH, Natallia Vladimirovna; a.k.a. PETKEVICH, Natalya Uladzimirauna; a.k.a. PETKEVICH, Natalya Vladimirovna; a.k.a. PIATKEVICH , Natallia Vladimirovna; a.k.a. PIATKEVICH , Natalya Vladimirovna; a.k.a. PIATKEVICH, Nataliya Uladzimirauna; a.k.a. PIATKEVICH, Natallia Uladzimirauna; a.k.a. PIATKEVICH, Natalya Uladzimirauna); DOB 24 Oct 1972; POB Minsk, Belarus; Deputy Head of the President's Administration (individual) [BELARUS]

PIATKEVICH, Natallia Uladzimirauna (a.k.a. PETKEVICH, Nataliya Uladzimirauna; a.k.a. PETKEVICH, Nataliya Vladimirovna; a.k.a. PETKEVICH, Natallia Uladzimirauna; a.k.a. PETKEVICH, Natallia Vladimirovna; a.k.a. PETKEVICH, Natalya Uladzimirauna; a.k.a. PETKEVICH, Natalya Vladimirovna; a.k.a. PIATKEVICH , Natallia Vladimirovna; a.k.a. PIATKEVICH , Natalya Vladimirovna; a.k.a. PIATKEVICH, Nataliya Uladzimirauna; a.k.a. PIATKEVICH, Nataliya Vladimirovna; a.k.a. PIATKEVICH, Natalya Uladzimirauna); DOB 24 Oct 1972; POB Minsk, Belarus; Deputy Head of the President's Administration (individual) [BELARUS]

PIATKEVICH, Natalya Uladzimirauna (a.k.a. PETKEVICH, Nataliya Uladzimirauna; a.k.a. PETKEVICH, Nataliya Vladimirovna; a.k.a. PETKEVICH, Natallia Uladzimirauna; a.k.a. PETKEVICH, Natallia Vladimirovna; a.k.a. PETKEVICH, Natalya Uladzimirauna; a.k.a. PETKEVICH, Natalya Vladimirovna; a.k.a. PIATKEVICH , Natallia Vladimirovna; a.k.a. PIATKEVICH , Natalya Vladimirovna; a.k.a. PIATKEVICH, Nataliya Uladzimirauna; a.k.a. PIATKEVICH, Nataliya Vladimirovna; a.k.a. PIATKEVICH, Natallia Uladzimirauna); DOB 24 Oct 1972; POB Minsk, Belarus; Deputy Head of the President's Administration (individual) [BELARUS]

PICHAYOS, Vinai (a.k.a. PHITCHAIYOT, Winai; a.k.a. PHITCHAYOT, Winai; a.k.a. PICHAYOS, Winai; a.k.a. PICHAYOT, Vinai; a.k.a. PITCHAYOS, Vinai; a.k.a. THICHAIYOT, Winai; a.k.a. TICHYOS, Vinai), c/o BANGKOK ARTI-FLORA DESIGN LIMITED PARTNERSHIP, Bangkok, Thailand; c/o GREEN CAR RENT LIMITED PARTNERSHIP, Bangkok, Thailand; c/o HATKAEW COMPANY LTD., Bangkok, Thailand; c/o NICE FANTASY GARMENT COMPANY LTD., Bangkok, Thailand; c/o PROGRESS SURAWEE COMPANY LTD., Bangkok, Thailand; c/o RUNGRIN COMPANY LTD., Bangkok, Thailand; c/o SCORE COMMERCIAL COMPANY LTD., Bangkok, Thailand; DOB 1 Dec 1957; Passport K203350 (Thailand) (individual) [SDNTK]

PICHAYOS, Warin (a.k.a. CHAICHAMRUNPHAN, Warin; a.k.a. CHAIJAMROONPHAN, Warin; a.k.a. CHAIWORASILP, Warin; a.k.a. CHAIWORASIN, Warin; a.k.a. VORAWATVICHAI, Hataiwan; a.k.a. VORAWATVICHAI, Hathaiwan; a.k.a. VORAWATVICHAI, Suravee; a.k.a. VORAWATVICHAI, Surawee; a.k.a. VORAWATVICHAI, Varin; a.k.a. WORAWATVICHAI, Hataiwan; a.k.a. WORAWATVICHAI, Hathaiwan; a.k.a. WORAWATVICHAI, Suravee; a.k.a. WORAWATVICHAI, Surawee; a.k.a. WORAWATWICHAI, Hataiwan; a.k.a. WORAWATWICHAI, Hathaiwan; a.k.a. WORAWATWICHAI, Surawee; a.k.a. WORAWATWICHAI, Warin), c/o HATKAEW COMPANY LTD., Bangkok, Thailand; c/o NICE FANTASY GARMENT COMPANY LTD., Bangkok, Thailand; c/o PLOYDAENG JEWELRY SHOP, Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 9 Jan 1956; National ID No. 3101701873838 (Thailand); Passport N302083 (Thailand) (individual) [SDNTK]

PICHAYOS, Winai (a.k.a. PHITCHAIYOT, Winai; a.k.a. PHITCHAYOT, Winai; a.k.a. PICHAYOS, Vinai; a.k.a. PICHAYOT, Vinai; a.k.a. PITCHAYOS, Vinai; a.k.a. THICHAIYOT, Winai; a.k.a. TICHYOS, Vinai), c/o BANGKOK ARTI-FLORA DESIGN LIMITED PARTNERSHIP, Bangkok, Thailand; c/o GREEN CAR RENT LIMITED PARTNERSHIP, Bangkok, Thailand; c/o HATKAEW COMPANY LTD., Bangkok, Thailand; c/o NICE FANTASY GARMENT COMPANY LTD., Bangkok, Thailand; c/o PROGRESS SURAWEE COMPANY LTD., Bangkok, Thailand; c/o RUNGRIN COMPANY LTD., Bangkok, Thailand; c/o SCORE COMMERCIAL COMPANY LTD., Bangkok, Thailand; DOB 1 Dec 1957; Passport K203350 (Thailand) (individual) [SDNTK]

PICHAYOT, Vinai (a.k.a. PHITCHAIYOT, Winai; a.k.a. PHITCHAYOT, Winai; a.k.a. PICHAYOS, Vinai; a.k.a. PICHAYOS, Winai; a.k.a. PITCHAYOS, Vinai; a.k.a. THICHAIYOT, Winai; a.k.a. TICHYOS, Vinai), c/o BANGKOK ARTI-FLORA DESIGN LIMITED PARTNERSHIP, Bangkok, Thailand; c/o GREEN CAR RENT LIMITED PARTNERSHIP, Bangkok, Thailand; c/o HATKAEW COMPANY LTD., Bangkok, Thailand; c/o NICE FANTASY GARMENT COMPANY LTD., Bangkok, Thailand; c/o PROGRESS SURAWEE COMPANY LTD., Bangkok, Thailand; c/o RUNGRIN COMPANY LTD., Bangkok, Thailand; c/o SCORE COMMERCIAL COMPANY LTD., Bangkok, Thailand; DOB 1 Dec 1957; Passport K203350 (Thailand) (individual) [SDNTK]

PIEDRAHITA GIRALDO, Gustavo Adolfo, c/o AGROPECUARIA LA ROBLEDA S.A., Cali, Colombia; Calle 1A No. 62A-120, Cali, Colombia; Cedula No. 16764002 (Colombia) (individual) [SDNT]

PIETERSBURG AVIATION SERVICES & SYSTEMS (a.k.a. AIR CESS; a.k.a. AIR CESS EQUATORIAL GUINEA; a.k.a. AIR CESS HOLDINGS LTD.; a.k.a. AIR CESS INC. 360-C; a.k.a. AIR CESS LIBERIA; a.k.a. AIR CESS RWANDA; a.k.a. AIR CESS SWAZILAND (PTY.) LTD.; a.k.a. AIR PAS; a.k.a. AIR PASS; a.k.a. CESSAVIA; a.k.a. CHESS AIR GROUP), Malabo, Equatorial Guinea; P.O. Box 7837, Sharjah, United Arab Emirates; P.O. Box 3962, Sharjah, United Arab Emirates; Islamabad, Pakistan; Entebbe, Uganda [LIBERIA]

PIJ (a.k.a. ABU GHUNAYM SQUAD OF THE HIZBALLAH BAYT AL-MAQDIS; a.k.a. AL-AWDAH BRIGADES; a.k.a. AL-QUDS BRIGADES; a.k.a. AL-QUDS SQUADS; a.k.a. ISLAMIC JIHAD IN PALESTINE; a.k.a. ISLAMIC JIHAD OF PALESTINE; a.k.a. PALESTINE ISLAMIC JIHAD—SHAQAQI FACTION; a.k.a. PALESTINIAN ISLAMIC JIHAD; a.k.a. PIJ-SHALLAH FACTION; a.k.a. PIJ-SHAQAQI FACTION; a.k.a. SAYARA AL-QUDS) [SDT] [FTO] [SDGT]

PIJ-SHALLAH FACTION (a.k.a. ABU GHUNAYM SQUAD OF THE HIZBALLAH BAYT AL-MAQDIS; a.k.a. AL-AWDAH BRIGADES; a.k.a. AL-QUDS BRIGADES; a.k.a. AL-QUDS SQUADS; a.k.a. ISLAMIC JIHAD IN PALESTINE; a.k.a. ISLAMIC JIHAD OF PALESTINE; a.k.a. PALESTINE ISLAMIC JIHAD -SHAQAQI FACTION; a.k.a. PALESTINIAN ISLAMIC JIHAD; a.k.a. PIJ; a.k.a. PIJ-SHAQAQI FACTION; a.k.a. SAYARA AL-QUDS) [SDT] [FTO] [SDGT]

PIJ-SHAQAQI FACTION (a.k.a. ABU GHUNAYM SQUAD OF THE HIZBALLAH BAYT AL-MAQDIS; a.k.a. AL-AWDAH BRIGADES; a.k.a. AL-QUDS BRIGADES; a.k.a. AL-QUDS SQUADS; a.k.a. ISLAMIC JIHAD IN PALESTINE; a.k.a. ISLAMIC JIHAD OF PALESTINE; a.k.a. PALESTINE ISLAMIC JIHAD -SHAQAQI FACTION; a.k.a. PALESTINIAN ISLAMIC JIHAD; a.k.a. PIJ; a.k.a. PIJ-SHALLAH FACTION; a.k.a. SAYARA AL-QUDS) [SDT] [FTO] [SDGT]

PIMENTO FARM, Mashonaland, Zimbabwe [ZIMBABWE]

PINEDA BASALLO, Jenny, c/o COOPERATIVA MULTIACTIVA DE COLOMBIA FOMENTAMOS, Bogota, Colombia; c/o COSMEPOP, Bogota, Colombia; c/o COOPCREAR, Bogota, Colombia; c/o CAJA SOLIDARIA, Bogota, Colombia; c/o COOPERATIVA DE TRABAJO ASOCIADO ACTIVAR, Bogota, Colombia; DOB 6 Jul 1974; Cedula No. 52204760 (Colombia); Passport 52204760 (Colombia) (individual) [SDNT]

PINEDA PALMERA, Juvenal Ovidio (a.k.a. PALMERA PINEDA, Juvenal Ovidio Ricardo; a.k.a. “SIMON TRINIDAD”); DOB 30 Jul 1950; POB Bogota, Cundinamarca, Colombia; Cedula No. 12715418 (Colombia); alt. Cedula No. 12751418 (Colombia); alt. Cedula No. 12715416 (Colombia); Passport T757205 (Colombia); alt. Passport AC204175 (Colombia); alt. Passport AH182002 (Colombia) (individual) [SDNTK]

PINEROS LEON, Miguel Esteban, c/o COPSERVIR LTDA., Bogota, Colombia; Carrera 50 No. 173-12, Bogota, Colombia; Cedula No. 468712 (Colombia) (individual) [SDNT]

PINSKY SARAGOVIA, Ezequiel, Avenida Las Americas No. 21N-50, Cali, Colombia; c/o PARQUE INDUSTRIAL PROGRESO S.A., Yumbo, Colombia; c/o CIA. MINERA DAPA S.A., Bogota, Colombia; c/o CONSTRUCTORA PYNZAR LTDA., Cali, Colombia; c/o PYZA E.U., Cali, Colombia; c/o NOVAPINSKI LTDA., Cali, Colombia; Cedula No. 14932390 (Colombia); Passport 14932390 (Colombia) (individual) [SDNT]

PINTO RAMIREZ, Yaneth, c/o CAJA SOLIDARIA, Bogota, Colombia; c/o COPSERVIR LTDA., Bogota, Colombia; Cedula No. 63342484 (Colombia) (individual) [SDNT]

PINTONO, Joko (a.k.a. ABDUL MARTIN; a.k.a. ABDUL MATIN; a.k.a. AMAR UMAR; a.k.a. AMAR USMAN; a.k.a. ANAR USMAN; a.k.a. DJOKO SUPRIYANTO; a.k.a. DUL MATIN; a.k.a. DULMATIN; a.k.a. JAK IMRON; a.k.a. MUKTAMAR; a.k.a. NOVARIANTO; a.k.a. PITONO, Joko; a.k.a. PITOYO, Joko; a.k.a. TOPEL); DOB 16 Jun 1970; alt. DOB 6 Jun 1970; POB Petarukan village, Pemalang, Central Java, Indonesia; nationality Indonesia (individual) [SDGT]

PINZON CEDIEL, John Jairo, c/o TAURA S.A., Cali, Colombia; Cedula No. 13542103 (Colombia) (individual) [SDNT]

PINZON POVEDA, Marco Antonio, c/o DEPOSITO POPULAR DE DROGAS S.A., Cali, Colombia; c/o DISTRIBUIDORA DE DROGAS CONDOR LTDA., Bogota, Colombia; Carrera 65 No. 13B-125 apt. 307, Cali, Colombia; DOB 21 Dec 1948; Cedula No. 17801803 (Colombia) (individual) [SDNT]

PIONEER SHIPPING LTD., 171 Old Bakery Street, Valletta, Malta; c/o Anglo Caribbean Shipping Co., Ltd., 4th Floor, South Phase 2, South Quay Plaza 2, 183 Marsh Wall, London E14 9SH, United Kingdom [CUBA]

PIRAMIDE INTERNATIONAL, Panama [CUBA]

PIRANHA NAVIGATION CO. LTD., c/o NORDSTRAND MARITIME & TRADING CO. LTD., 26 Skouze Street, Piraeus, Greece [CUBA]

PITCHAYOS, Vinai (a.k.a. PHITCHAIYOT, Winai; a.k.a. PHITCHAYOT, Winai; a.k.a. PICHAYOS, Vinai; a.k.a. PICHAYOS, Winai; a.k.a. PICHAYOT, Vinai; a.k.a. THICHAIYOT, Winai; a.k.a. TICHYOS, Vinai), c/o BANGKOK ARTI-FLORA DESIGN LIMITED PARTNERSHIP, Bangkok, Thailand; c/o GREEN CAR RENT LIMITED PARTNERSHIP, Bangkok, Thailand; c/o HATKAEW COMPANY LTD., Bangkok, Thailand; c/o NICE FANTASY GARMENT COMPANY LTD., Bangkok, Thailand; c/o PROGRESS SURAWEE COMPANY LTD., Bangkok, Thailand; c/o RUNGRIN COMPANY LTD., Bangkok, Thailand; c/o SCORE COMMERCIAL COMPANY LTD., Bangkok, Thailand; DOB 1 Dec 1957; Passport K203350 (Thailand) (individual) [SDNTK]

PITONO, Joko (a.k.a. ABDUL MARTIN; a.k.a. ABDUL MATIN; a.k.a. AMAR UMAR; a.k.a. AMAR USMAN; a.k.a. ANAR USMAN; a.k.a. DJOKO SUPRIYANTO; a.k.a. DUL MATIN; a.k.a. DULMATIN; a.k.a. JAK IMRON; a.k.a. MUKTAMAR; a.k.a. NOVARIANTO; a.k.a. PINTONO, Joko; a.k.a. PITOYO, Joko; a.k.a. TOPEL); DOB 16 Jun 1970; alt. DOB 6 Jun 1970; POB Petarukan village, Pemalang, Central Java, Indonesia; nationality Indonesia (individual) [SDGT]

PITOYO, Joko (a.k.a. ABDUL MARTIN; a.k.a. ABDUL MATIN; a.k.a. AMAR UMAR; a.k.a. AMAR USMAN; a.k.a. ANAR USMAN; a.k.a. DJOKO SUPRIYANTO; a.k.a. DUL MATIN; a.k.a. DULMATIN; a.k.a. JAK IMRON; a.k.a. MUKTAMAR; a.k.a. NOVARIANTO; a.k.a. PINTONO, Joko; a.k.a. PITONO, Joko; a.k.a. TOPEL); DOB 16 Jun 1970; alt. DOB 6 Jun 1970; POB Petarukan village, Pemalang, Central Java, Indonesia; nationality Indonesia (individual) [SDGT]

PKK (a.k.a. FREEDOM AND DEMOCRACY CONGRESS OF KURDISTAN; a.k.a. HALU MESRU SAVUNMA KUVVETI (HSK); a.k.a. KADEK; a.k.a. KONGRA-GEL; a.k.a. KURDISTAN FREEDOM AND DEMOCRACY CONGRESS; a.k.a. KURDISTAN PEOPLE'S CONGRESS (KHK); a.k.a. KURDISTAN WORKERS' PARTY; a.k.a. PARTIYA KARKERAN KURDISTAN; a.k.a. PEOPLE'S CONGRESS OF KURDISTAN; a.k.a. THE PEOPLE'S DEFENSE FORCE) [FTO] [SDGT]

PLASTEC LTDA., Km. 1 Via Jardines, Armenia, Quindio, Colombia; NIT # 801000358-7 (Colombia) [SDNT]

PLASTIC SACKS FACTORY (a.k.a. SACKS FACTORY), P.O. Box 2328, Khartoum, Sudan [SUDAN]

PLASTICOS CONDOR LTDA. (a.k.a. FLEXOEMPAQUES LTDA.), Carrera 13 No. 16-62, Cali, Colombia; NIT # 800044167-2 (Colombia) [SDNT]

PLASTICOS CONDOR LTDA., Carrera 13 No. 16-62, Cali, Colombia [SDNT]

PLAVSIC, Biljana; DOB 7 Jul 1930; POB Tuzla, Bosnia-Herzegovina; ICTY indictee (individual) [BALKANS]

PLF (a.k.a. PALESTINE LIBERATION FRONT; a.k.a. PALESTINE LIBERATION FRONT—ABU ABBAS FACTION; a.k.a. PLF-ABU ABBAS) [SDT] [FTO] [SDGT]

PLF-ABU ABBAS (a.k.a. PALESTINE LIBERATION FRONT; a.k.a. PALESTINE LIBERATION FRONT—ABU ABBAS FACTION; a.k.a. PLF) [SDT] [FTO] [SDGT]

PLOYDAENG GEM SHOP (a.k.a. PLOYDAENG JEWELRY SHOP; a.k.a. PLYDAENG JEWELRY SHOP), 4/1-2 Ratdamri Road, World Trade Center, 1st Floor, Room B135, Lumphini precinct, Pathum Wan district, Bangkok, Thailand; 4/1-2 Rajdamri Road, Central World Plaza, Pathumwan, Bangkok, Thailand [SDNTK]

PLOYDAENG JEWELRY SHOP (a.k.a. PLOYDAENG GEM SHOP; a.k.a. PLYDAENG JEWELRY SHOP), 4/1-2 Ratdamri Road, World Trade Center, 1st Floor, Room B135, Lumphini precinct, Pathum Wan district, Bangkok, Thailand; 4/1-2 Rajdamri Road, Central World Plaza, Pathumwan, Bangkok, Thailand [SDNTK]

PLUS TECH AUTO SUPPLY COMPANY LTD., 273 Thiam Ruammit Road, Huai Khwang district, Bangkok, Thailand [SDNTK]

PLUTO-DUBAI TRADING COMPANY, LLC (a.k.a. BLOTO INTERNATIONAL COMPANY; a.k.a. BLOTO INTERNATIONAL, LTD.; a.k.a. BLUTO INTERNATIONAL), Iraq; 131/13 Soi 7/1 Sukhumvit Road, Wattana, Bangkok, Thailand; 131/13 Sukhumvit Road, Klongtoey Neua sub-district, Wattana District; Dubai, United Arab Emirates [IRAQ2]

PLYDAENG JEWELRY SHOP (a.k.a. PLOYDAENG GEM SHOP; a.k.a. PLOYDAENG JEWELRY SHOP), 4/1-2 Ratdamri Road, World Trade Center, 1st Floor, Room B135, Lumphini precinct, Pathum Wan district, Bangkok, Thailand; 4/1-2 Rajdamri Road, Central World Plaza, Pathumwan, Bangkok, Thailand [SDNTK]

PMOI (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NATIONAL COUNCIL OF RESISTANCE OF IRAN; a.k.a. NCRI; a.k.a. NLA; a.k.a. ORGANIZATION OF THE PEOPLE'S HOLY WARRIORS OF IRAN; a.k.a. PEOPLE'S MUJAHEDIN ORGANIZATION OF IRAN; a.k.a. SAZEMAN-E MUJAHEDIN-E KHALQ-E IRAN; a.k.a. THE NATIONAL LIBERATION ARMY OF IRAN) [FTO] [SDGT]

PMOI (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. SAZEMAN-E MUJAHEDIN-E KHALQ-E IRAN; a.k.a. THE NATIONAL LIBERATION ARMY OF IRAN); including its U.S. press office and all other offices worldwide [FTO] [SDGT]

PMOI (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. SAZEMAN-E MUJAHEDIN-E KHALQ-E IRAN; a.k.a. THE NATIONAL LIBERATION ARMY OF IRAN); including its U.S. representative offices and all other offices worldwide [FTO] [SDGT]

PMOI (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. SAZEMAN-E MUJAHEDIN-E KHALQ-E IRAN; a.k.a. THE NATIONAL LIBERATION ARMY OF IRAN); including its U.S. press office and all other offices worldwide [FTO] [SDGT]

POCHO NAVIGATION CO. LTD., c/o EMPRESA DE NAVEGACION MAMBISA, Apartado 543, San Ignacio 104, Havana, Cuba [CUBA]

POLIEMPAQUES LTDA., Carrera 13A No. 16-49, Cali, Colombia; Carrera 13A No. 16-55, Cali, Colombia; Carrera 13 No. 16-62, Cali, Colombia; NIT # 805003763-5 (Colombia) [SDNT]

POLITICAL COUNCIL OF PRESEVO, MEDVEDJA, AND BUJANOVAC (a.k.a. PCPMB) [BALKANS]

PONCE DE LEON GOMEZ, Lazaro, Medira, Mexico (individual) [CUBA]

POPELA, Vladimir Abramovich (a.k.a. BLAVSTEIN; a.k.a. BLUVSHTEIN; a.k.a. BLYAFSHTEIN; a.k.a. BLYUFSHTEIN; a.k.a. BLYUVSHTEIN; a.k.a. BRESLAN, Wolf; a.k.a. BRESLAN, Wulf; a.k.a. KERLER, Vladimir Abramovich; a.k.a. MININ, Leonid; a.k.a. OSOLS, Igor; a.k.a. POPELAVESKI, Vladimir Abramovich; a.k.a. POPELO, Vladimir Abramovich; a.k.a. POPELOVESKI, Vladimir Abramovich; a.k.a. POPILOVESKI, Vladimir Abramovich); DOB 14 DEC 1947; alt. DOB 18 OCT 1946; nationality Ukraine; Passport 5280007248D (Germany); alt. Passport 18106739D (Germany); alt. Passport 6019832 (Israel) issued 6 NOV 1994 expires 5 NOV 1999; alt. Passport 9001689 (Israel) issued 23 JAN 1997 expires 22 JAN 2002; alt. Passport 90109052 (Israel) issued 26 NOV 1997; alt. Passport KI0861177 (Russia); alt. Passport 65118 (Bolivia); Owner, Exotic Tropical Timber Enterprise (individual) [LIBERIA]

POPELAVESKI, Vladimir Abramovich (a.k.a. BLAVSTEIN; a.k.a. BLUVSHTEIN; a.k.a. BLYAFSHTEIN; a.k.a. BLYUFSHTEIN; a.k.a. BLYUVSHTEIN; a.k.a. BRESLAN, Wolf; a.k.a. BRESLAN, Wulf; a.k.a. KERLER, Vladimir Abramovich; a.k.a. MININ, Leonid; a.k.a. OSOLS, Igor; a.k.a. POPELA, Vladimir Abramovich; a.k.a. POPELO, Vladimir Abramovich; a.k.a. POPELOVESKI, Vladimir Abramovich; a.k.a. POPILOVESKI, Vladimir Abramovich); DOB 14 DEC 1947; alt. DOB 18 OCT 1946; nationality Ukraine; Passport 5280007248D (Germany); alt. Passport 18106739D (Germany); alt. Passport 6019832 (Israel) issued 6 NOV 1994 expires 5 NOV 1999; alt. Passport 9001689 (Israel) issued 23 JAN 1997 expires 22 JAN 2002; alt. Passport 90109052 (Israel) issued 26 NOV 1997; alt. Passport KI0861177 (Russia); alt. Passport 65118 (Bolivia); Owner, Exotic Tropical Timber Enterprise (individual) [LIBERIA]

POPELO, Vladimir Abramovich (a.k.a. BLAVSTEIN; a.k.a. BLUVSHTEIN; a.k.a. BLYAFSHTEIN; a.k.a. BLYUFSHTEIN; a.k.a. BLYUVSHTEIN; a.k.a. BRESLAN, Wolf; a.k.a. BRESLAN, Wulf; a.k.a. KERLER, Vladimir Abramovich; a.k.a. MININ, Leonid; a.k.a. OSOLS, Igor; a.k.a. POPELA, Vladimir Abramovich; a.k.a. POPELAVESKI, Vladimir Abramovich; a.k.a. POPELOVESKI, Vladimir Abramovich; a.k.a. POPILOVESKI, Vladimir Abramovich); DOB 14 DEC 1947; alt. DOB 18 OCT 1946; nationality Ukraine; Passport 5280007248D (Germany); alt. Passport 18106739D (Germany); alt. Passport 6019832 (Israel) issued 6 NOV 1994 expires 5 NOV 1999; alt. Passport 9001689 (Israel) issued 23 JAN 1997 expires 22 JAN 2002; alt. Passport 90109052 (Israel) issued 26 NOV 1997; alt. Passport KI0861177 (Russia); alt. Passport 65118 (Bolivia); Owner, Exotic Tropical Timber Enterprise (individual) [LIBERIA]

POPELOVESKI, Vladimir Abramovich (a.k.a. BLAVSTEIN; a.k.a. BLUVSHTEIN; a.k.a. BLYAFSHTEIN; a.k.a. BLYUFSHTEIN; a.k.a. BLYUVSHTEIN; a.k.a. BRESLAN, Wolf; a.k.a. BRESLAN, Wulf; a.k.a. KERLER, Vladimir Abramovich; a.k.a. MININ, Leonid; a.k.a. OSOLS, Igor; a.k.a. POPELA, Vladimir Abramovich; a.k.a. POPELAVESKI, Vladimir Abramovich; a.k.a. POPELO, Vladimir Abramovich; a.k.a. POPILOVESKI, Vladimir Abramovich); DOB 14 DEC 1947; alt. DOB 18 OCT 1946; nationality Ukraine; Passport 5280007248D (Germany); alt. Passport 18106739D (Germany); alt. Passport 6019832 (Israel) issued 6 NOV 1994 expires 5 NOV 1999; alt. Passport 9001689 (Israel) issued 23 JAN 1997 expires 22 JAN 2002; alt. Passport 90109052 (Israel) issued 26 NOV 1997; alt. Passport KI0861177 (Russia); alt. Passport 65118 (Bolivia); Owner, Exotic Tropical Timber Enterprise (individual) [LIBERIA]

POPILOVESKI, Vladimir Abramovich (a.k.a. BLAVSTEIN; a.k.a. BLUVSHTEIN; a.k.a. BLYAFSHTEIN; a.k.a. BLYUFSHTEIN; a.k.a. BLYUVSHTEIN; a.k.a. BRESLAN, Wolf; a.k.a. BRESLAN, Wulf; a.k.a. KERLER, Vladimir Abramovich; a.k.a. MININ, Leonid; a.k.a. OSOLS, Igor; a.k.a. POPELA, Vladimir Abramovich; a.k.a. POPELAVESKI, Vladimir Abramovich; a.k.a. POPELO, Vladimir Abramovich; a.k.a. POPELOVESKI, Vladimir Abramovich); DOB 14 DEC 1947; alt. DOB 18 OCT 1946; nationality Ukraine; Passport 5280007248D (Germany); alt. Passport 18106739D (Germany); alt. Passport 6019832 (Israel) issued 6 NOV 1994 expires 5 NOV 1999; alt. Passport 9001689 (Israel) issued 23 JAN 1997 expires 22 JAN 2002; alt. Passport 90109052 (Israel) issued 26 NOV 1997; alt. Passport KI0861177 (Russia); alt. Passport 65118 (Bolivia); Owner, Exotic Tropical Timber Enterprise (individual) [LIBERIA]

POPOVIC, Vujadin; DOB 14 Mar 1957; ICTY indictee (individual) [BALKANS]

POPULAR FRONT FOR THE LIBERATION OF PALESTINE (a.k.a. HALHUL GANG; a.k.a. HALHUL SQUAD; a.k.a. MARTYR ABU-ALI MUSTAFA BATTALION; a.k.a. PALESTINIAN POPULAR RESISTANCE FORCES; a.k.a. PFLP; a.k.a. PPRF; a.k.a. RED EAGLE GANG; a.k.a. RED EAGLE GROUP; a.k.a. RED EAGLES) [SDT] [FTO] [SDGT]

POPULAR FRONT FOR THE LIBERATION OF PALESTINE—GENERAL COMMAND (a.k.a. PFLP-GC) [SDT] [FTO] [SDGT]

POPULAR MOVEMENT OF KOSOVO (a.k.a. LPK) [BALKANS]

POPULAR REVOLUTIONARY STRUGGLE (a.k.a. ASKATASUNA; a.k.a. BASQUE FATHERLAND AND LIBERTY; a.k.a. BATASUNA; a.k.a. EKIN; a.k.a. EPANASTATIKI PIRINES; a.k.a. ETA; a.k.a. EUSKAL HERRITARROK; a.k.a. EUZKADI TA ASKATASUNA; a.k.a. HERRI BATASUNA; a.k.a. JARRAI-HAIKA-SEGI; a.k.a. K.A.S.; a.k.a. XAKI) [FTO] [SDGT]

POPULAR REVOLUTIONARY STRUGGLE (a.k.a. ELA; a.k.a. EPANASTATIKOS LAIKOS AGONAS; a.k.a. JUNE 78; a.k.a. LIBERATION STRUGGLE; a.k.a. ORGANIZATION OF REVOLUTIONARY INTERNATIONALIST SOLIDARITY; a.k.a. REVOLUTIONARY CELLS; a.k.a. REVOLUTIONARY NUCLEI; a.k.a. REVOLUTIONARY PEOPLE'S STRUGGLE; a.k.a. REVOLUTIONARY POPULAR STRUGGLE) [FTO] [SDGT]

PORT SUDAN COTTON AND TRADE COMPANY (a.k.a. PORT SUDAN COTTON COMPANY), P.O. Box 590, Khartoum, Sudan; P.O. Box 261, Port Sudan, Sudan [SUDAN]

PORT SUDAN COTTON COMPANY (a.k.a. PORT SUDAN COTTON AND TRADE COMPANY), P.O. Box 590, Khartoum, Sudan; P.O. Box 261, Port Sudan, Sudan [SUDAN]

PORT SUDAN DUTY FREE SHOP, Port Sudan, Sudan [SUDAN]

PORT SUDAN EDIBLE OILS STORAGE CORPORATION, P.O. Box 429, Port Sudan, Sudan [SUDAN]

PORT SUDAN REFINERY LIMITED, P.O. Box 354, Port Sudan, Sudan [SUDAN]

PORT SUDAN SPINNING FACTORY, Port Sudan, Sudan [SUDAN]

POSSO DE GRAJALES, Elba Myriam, c/o GRAJALES S.A., La Union, Valle, Colombia; c/o CASA GRAJALES S.A., La Union, Valle, Colombia; c/o FREXCO S.A., La Union, Valle, Colombia; c/o IBADAN LTDA., Tulua, Valle, Colombia; c/o INVERSIONES AGUILA LTDA., La Union, Valle, Colombia; Cedula No. 29611241 (Colombia) (individual) [SDNT]

POSSO DE LONDONO, Maria del Carmen, c/o INVERSIONES VILLA PAZ S.A., Cali, Colombia; Cedula No. 29664243 (Colombia) (individual) [SDNT]

POSSO, Maria Esperanza, c/o HOTEL LOS VINEDOS, La Union, Valle, Colombia; c/o INDUSTRIAS DEL ESPIRITU SANTO S.A., Malambo, Atlantico, Colombia; c/o TRANSPORTES DEL ESPIRITU SANTO S.A., La Union, Valle, Colombia; c/o FRUTAS DE LA COSTA S.A., Malambo, Atlantico, Colombia; Cedula No. 29613348 (Colombia) (individual) [SDNT]

POSTS AND TELEGRAPHS PUBLIC CORPORATION, Khartoum, Sudan [SUDAN]

POTE, Selina; Deputy Secretary for Gender and Culture (individual) [ZIMBABWE]

PPRF (a.k.a. HALHUL GANG; a.k.a. HALHUL SQUAD; a.k.a. MARTYR ABU-ALI MUSTAFA BATTALION; a.k.a. PALESTINIAN POPULAR RESISTANCE FORCES; a.k.a. PFLP; a.k.a. POPULAR FRONT FOR THE LIBERATION OF PALESTINE; a.k.a. RED EAGLE GANG; a.k.a. RED EAGLE GROUP; a.k.a. RED EAGLES) [SDT] [FTO] [SDGT]

PRADO CUERO, Salomon (a.k.a. CHALO), c/o COLOR 89.5 FM STEREO, Cali, Colombia; Avenida 26 No. 42B-89, Bogota, Colombia; Carrera 101B No. 11B-50, Cali, Colombia; DOB 1 Aug 1948; Cedula No. 19069493 (Colombia); Passport AE801105 (Colombia) (individual) [SDNT]

PRADO, Julio (a.k.a. LOBATO, Julio), Panama (individual) [CUBA]

PRASIT, Cheewinnittipanya (a.k.a. CHARNCHAI, Chiwinnitipanya; a.k.a. CHEEWINNITTIPANYA, Prasit; a.k.a. CHIVINNITIPANYA, Prasit; a.k.a. CHIWINNITIPANYA, Charnchai; a.k.a. PRASIT, Chivinnitipanya; a.k.a. WEI, Hsueh Kang; a.k.a. WEI, Shao-Kang; a.k.a. WEI, Sia-Kang; a.k.a. WEI, Xuekang); DOB 29 Jun 1952; alt. DOB 29 May 1952; Passport Q081061 (Thailand); alt. Passport E091929 (Thailand) (individual) [SDNTK]

PRASIT, Chivinnitipanya (a.k.a. CHARNCHAI, Chiwinnitipanya; a.k.a. CHEEWINNITTIPANYA, Prasit; a.k.a. CHIVINNITIPANYA, Prasit; a.k.a. CHIWINNITIPANYA, Charnchai; a.k.a. PRASIT, Cheewinnittipanya; a.k.a. WEI, Hsueh Kang; a.k.a. WEI, Shao-Kang; a.k.a. WEI, Sia-Kang; a.k.a. WEI, Xuekang); DOB 29 Jun 1952; alt. DOB 29 May 1952; Passport Q081061 (Thailand); alt. Passport E091929 (Thailand) (individual) [SDNTK]

PRCAC, Dragoljub; DOB 18 Jul 1937; POB Omarska, Bosnia-Herzegovina; ICTY indictee (individual) [BALKANS]

PRDF (a.k.a. AL-SANDUQ AL-FILISTINI LIL-IGHATHA; a.k.a. AL-SANDUQ AL-FILISTINI LIL-IGHATHA WA AL-TANMIYA; a.k.a. INTERPAL; a.k.a. PALESTINE AND LEBANON RELIEF FUND; a.k.a. PALESTINE DEVELOPMENT AND RELIEF FUND; a.k.a. PALESTINE RELIEF AND DEVELOPMENT FUND; a.k.a. PALESTINE RELIEF FUND; a.k.a. PALESTINIAN AID AND SUPPORT FUND; a.k.a. PALESTINIAN RELIEF AND DEVELOPMENT FUND; a.k.a. PALESTINIAN RELIEF FUND; a.k.a. RELIEF AND DEVELOPMENT FUND FOR PALESTINE; a.k.a. WELFARE AND DEVELOPMENT FUND FOR PALESTINE; a.k.a. WELFARE AND DEVELOPMENT FUND OF PALESTINE), P.O. Box 3333, London NW6 1RW, United Kingdom; Registered Charity No. 1040094 [SDGT]

PRELASA, Mexico [CUBA]

PREMIER SALES S.A., Avenida Ernesto T. Lefevre, Edificio No. 10, Planta Baja, Panama; P.O. Box 4064, Panama; Apartado: 810-379, Zona 10, Panama [SDNT]

PRENSA LATINA, Spain [CUBA]

PRENSA LATINA CANADA LTD., 1010 O Rue Ste. Catherine, Montreal PQ H303 IGI, Canada [CUBA]

PRESA, S.A., Panama [CUBA]

PREVENCION Y ANALISIS DE RIESGOS (a.k.a. PREVIA S.A.), Carrera 3 No. 12-40 of. 504, Cali, Colombia; Carrera 3 No. 10-20 of. 202, Cali, Colombia [SDNT]

PREVIA S.A. (a.k.a. PREVENCION Y ANALISIS DE RIESGOS), Carrera 3 No. 12-40 of. 504, Cali, Colombia; Carrera 3 No. 10-20 of. 202, Cali, Colombia [SDNT]

PRIETO, Diocelina (a.k.a. PRIETO, Dioselina), Carrera 12 No. 2-81, Bogota, Colombia; c/o COMEDICAMENTOS S.A., Bogota, Colombia; c/o DISTRIBUIDORA AGROPECUARIA COLOMBIANA S.A., Cali, Colombia; c/o GLAJAN S.A., Bogota, Colombia; c/o INVERSIONES BOMBAY S.A., Bogota, Colombia; c/o FOGENSA S.A., Bogota, Colombia; c/o SHARVET S.A., Bogota, Colombia; DOB 3 Dec 1956; Cedula No. 41760201 (Colombia); Passport 41760201 (Colombia) (individual) [SDNT]

PRIETO, Dioselina (a.k.a. PRIETO, Diocelina), Carrera 12 No. 2-81, Bogota, Colombia; c/o COMEDICAMENTOS S.A., Bogota, Colombia; c/o DISTRIBUIDORA AGROPECUARIA COLOMBIANA S.A., Cali, Colombia; c/o GLAJAN S.A., Bogota, Colombia; c/o INVERSIONES BOMBAY S.A., Bogota, Colombia; c/o FOGENSA S.A., Bogota, Colombia; c/o SHARVET S.A., Bogota, Colombia; DOB 3 Dec 1956; Cedula No. 41760201 (Colombia); Passport 41760201 (Colombia) (individual) [SDNT]

PRIMA EXPORT/IMPORT, Jamaica [CUBA]

PRISMA STEREO 89.5 F.M (a.k.a. FIESTA STEREO 91.5 F.M.; a.k.a. SONAR F.M. E.U. DIETER MURRLE), Calle 15 Norte No. 6N-34 of. 1003, Cali, Colombia; Calle 43A No. 1-29 Urb. Sta. Maria del Palmar, Palmira, Colombia; NIT # 805006273-1 (Colombia) [SDNT]

PRIVREDNA BANKA AD SRPSKO SARAJEVO (a.k.a. PRIVREDNA BANKA SARAJEVO AD), Str Srpskih Ratnika br 14, 71420 Pale, Republika Srpska, Bosnia and Herzegovina; Dobroslava Jedevica 14, 71000 Pale, Republika Srpska, Bosnia and Herzegovina; Kralja Nikole Str 65, Srbinje/Foca, Republika Srpska, Bosnia and Herzegovina; Ljube Milanovica Str 12, Trebinje, Republika Srpska, Bosnia and Herzegovina; Filipa Kljajica Str 6, Zvornik, Republika Srpska, Bosnia and Herzegovina; 9/11 Str Zagrebacka, Belgrade 11000, Serbia and Montenegro; SWIFT/BIC PRSS BA 22 [BALKANS]

PRIVREDNA BANKA SARAJEVO AD (a.k.a. PRIVREDNA BANKA AD SRPSKO SARAJEVO), Str Srpskih Ratnika br 14, 71420 Pale, Republika Srpska, Bosnia and Herzegovina; Dobroslava Jedevica 14, 71000 Pale, Republika Srpska, Bosnia and Herzegovina; Kralja Nikole Str 65, Srbinje/Foca, Republika Srpska, Bosnia and Herzegovina; Ljube Milanovica Str 12, Trebinje, Republika Srpska, Bosnia and Herzegovina; Filipa Kljajica Str 6, Zvornik, Republika Srpska, Bosnia and Herzegovina; 9/11 Str Zagrebacka, Belgrade 11000, Serbia and Montenegro; SWIFT/BIC PRSS BA 22 [BALKANS]

PROARTE (a.k.a. PROMOCIONES ARTISTICAS), Avenida Insurgentes Sur No. 421, Bloque B Despacho 404, C.P. 06l00, Mexico, D.F., Mexico [CUBA]

PROCESADORA DE POLLOS SUPERIOR S.A. (a.k.a. COMERCIALIZADORA INTERNACIONAL VALLE DE ORO S.A.), Avenida 2N No. 7N-55 of. 521, Cali, Colombia; Carrera 3 No. 12-40, Cali, Colombia; A.A. 1689, Cali, Colombia; Km 17 Recta Cali-Palmira, Palmira, Colombia; NIT # 800074991-3 (Colombia) [SDNT]

PRODUCCIONES CARNAVAL DEL NORTE Y COMPANIA LIMITADA, Calle 22N No. 5A-75 05, Cali, Colombia; NIT # 800250531-3 (Colombia) [SDNT]

PRODUCTOS GALO Y CIA. LTDA., Avenida 42 No. 20-47, Bogota, Colombia; Apartado Aereo 58263, Bogota, Colombia; NIT # 800102729-0 (Colombia) [SDNT]

PROGRESS SURAWEE COMPANY LTD. (a.k.a. BORISAT PROKRET SURAWI CHAMKAT), 275 Soi Thiam Ruammit, Ratchada Phisek Road, Huai Khwang district, Bangkok, Thailand [SDNTK]

PROHUEVO DE COLOMBIA LTDA., Calle 34 No. 5A-25, Cali, Colombia; 1 Km Antes de Cavasa Palmira-Cali, Colombia; Granja Pio Pio Carretera Cali-Candelaria Km 12, Cali, Colombia; NIT # 800089683-5 (Colombia) [SDNT]

PROMOCIONES ARTISTICAS (a.k.a. PROARTE), Avenida Insurgentes Sur No. 421, Bloque B Despacho 404, C.P. 06l00, Mexico, D.F., Mexico [CUBA]

PROMOCIONES Y CONSTRUCCIONES DEL CARIBE LTDA., Calle 78 No. 53-70 Centro Comercial Villa Country, Barranquilla, Colombia; Calle 74 No. 53-30, Barranquilla, Colombia; Carrera 54 No. 72-147, Barranquilla, Colombia; Carrera 55 No. 72-109 Piso 1, Barranquilla, Colombia; Carrera 56 No. 70-60, Barranquilla, Colombia; Carrera 54 No. 72-80 Ejecutivo I, Barranquilla, Colombia; Carrera 57 No. 79-149, Barranquilla, Colombia; NIT # 890108115-3 (Colombia) [SDNT]

PROMOCIONES Y CONSTRUCCIONES DEL CARIBE LTDA. Y CIA. S.C.A. (a.k.a. PROMOCON), Calle 74 No. 53-30, Barranquilla, Colombia; Carrera 54 No. 72-80 L-21 Ejecutivo I, Barranquilla, Colombia; Calle 78 No. 53-70 Centro Comercial Villa Country, Barranquilla, Colombia; Carrera 55 No. 80-192, Barranquilla, Colombia; Carrera 55 No. 80-192 Ap. 6, Barranquilla, Colombia; Apartado Aereo 50183, Barranquilla, Colombia; Carrera 54 No. 72-147 L-115, Barranquilla, Colombia; Apartado Aereo 51110, Barranquilla, Colombia; NIT # 890108148-6 (Colombia) [SDNT]

PROMOCON (a.k.a. PROMOCIONES Y CONSTRUCCIONES DEL CARIBE LTDA. Y CIA. S.C.A.), Calle 74 No. 53-30, Barranquilla, Colombia; Carrera 54 No. 72-80 L-21 Ejecutivo I, Barranquilla, Colombia; Calle 78 No. 53-70 Centro Comercial Villa Country, Barranquilla, Colombia; Carrera 55 No. 80-192, Barranquilla, Colombia; Carrera 55 No. 80-192 Ap. 6, Barranquilla, Colombia; Apartado Aereo 50183, Barranquilla, Colombia; Carrera 54 No. 72-147 L-115, Barranquilla, Colombia; Apartado Aereo 51110, Barranquilla, Colombia; NIT # 890108148-6 (Colombia) [SDNT]

PROMOTORA ANDINA, S.A., Quito, Ecuador [CUBA]

PROMOTORA HOTEL BARRANQUILLA LTDA., Calle 74 No. 53-30, Barranquilla, Colombia; Apartado Aereo 51110, Barranquilla, Colombia; NIT # 890111684-3 (Colombia) [SDNT]

PROSALUD CENTROS MEDICOS Y DROGUERIA (a.k.a. PROSALUD Y BIENESTAR S.A.), Carrera 2 No. 20-47, Cali, Colombia; Calle 23 No. 28-11, Cali, Colombia; Carrera 2 No. 52-27, Cali, Colombia; Carrera 46 No. 37-03, Cali, Colombia; Calle 22A No. 10-54, Cali, Colombia; Carrera 15 No. 34-102, Cali, Colombia; Calle 44 No. 4N-74, Cali, Colombia; Calle 2 No. 4-70/72, Cali, Colombia; Carrera 7P No. 76-04, Cali, Colombia; Calle 19 No. 6-31, Cali, Colombia; Carrera 94 No. 4-76, Cali, Colombia; Carrera 4N No. 81-04 esq., Cali, Colombia; Calle 71A No. 1D-07, Cali, Colombia; Carrera 29 No. 45-84, Cali, Colombia; NIT # 890311169-1 (Colombia) [SDNT]

PROSALUD Y BIENESTAR S.A. (a.k.a. PROSALUD CENTROS MEDICOS Y DROGUERIA), Carrera 2 No. 20-47, Cali, Colombia; Calle 23 No. 28-11, Cali, Colombia; Carrera 2 No. 52-27, Cali, Colombia; Carrera 46 No. 37-03, Cali, Colombia; Calle 22A No. 10-54, Cali, Colombia; Carrera 15 No. 34-102, Cali, Colombia; Calle 44 No. 4N-74, Cali, Colombia; Calle 2 No. 4-70/72, Cali, Colombia; Carrera 7P No. 76-04, Cali, Colombia; Calle 19 No. 6-31, Cali, Colombia; Carrera 94 No. 4-76, Cali, Colombia; Carrera 4N No. 81-04 esq., Cali, Colombia; Calle 71A No. 1D-07, Cali, Colombia; Carrera 29 No. 45-84, Cali, Colombia; NIT # 890311169-1 (Colombia) [SDNT]

PROSPECTIVA E.U. (a.k.a. PROSPECTIVA EMPRESA UNIPERSONAL), Calle 29 Norte No. 6N-43, Cali, Colombia; Calle 18 No. 106-98, of. 302 and 303, Cali, Colombia; NIT # 805006189-0 (Colombia) [SDNT]

PROSPECTIVA EMPRESA UNIPERSONAL (a.k.a. PROSPECTIVA E.U.), Calle 29 Norte No. 6N-43, Cali, Colombia; Calle 18 No. 106-98, of. 302 and 303, Cali, Colombia; NIT # 805006189-0 (Colombia) [SDNT]

PROTECTORS OF THE SALAFIST CALL (a.k.a. DHAMAT HOUMET DAAWA SALAFIA; a.k.a. DJAMAAT HOUMAT ED DAAWA ES SALAFIYA; a.k.a. DJAMAAT HOUMAT ED DAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST PREDICATION; a.k.a. SALAFIST CALL PROTECTORS; a.k.a. THE HORROR SQUADRON), Algeria [SDGT]

PROTECTORS OF THE SALAFIST PREDICATION (a.k.a. DHAMAT HOUMET DAAWA SALAFIA; a.k.a. DJAMAAT HOUMAT ED DAAWA ES SALAFIYA; a.k.a. DJAMAAT HOUMAT ED DAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. SALAFIST CALL PROTECTORS; a.k.a. THE HORROR SQUADRON), Algeria [SDGT]

PROVIDA E.U. (a.k.a. PROVIDA LABORATORIO CLINICO Y PATALOGIA; a.k.a. PROVIDA Y DISENO), Calle 19 No. 6-31, Cali, Colombia; Calle 22A No. 10-54, Cali, Colombia; Calle 23 No. 28-11, Cali, Colombia; Calle 44 No. 4N-74, Cali, Colombia; Calle 71A No. 1D-07, Cali, Colombia; Carrera 15 No. 34-102, Cali, Colombia; Carrera 2 No. 52-27, Cali, Colombia; Carrera 29 No. 45-84, Cali, Colombia; Carrera 44 No. 5B-27, Cali, Colombia; Carrera 46 No. 37-03, Cali, Colombia; Carrera 4N No. 81-04, Cali, Colombia; Carrera 7P No. 76-04, Cali, Colombia; Carrera 94 No. 4-76, Cali, Colombia; Quito, Ecuador; NIT # 805016716-5 (Colombia) [SDNT]

PROVIDA LABORATORIO CLINICO Y PATALOGIA (a.k.a. PROVIDA E.U.; a.k.a. PROVIDA Y DISENO), Calle 19 No. 6-31, Cali, Colombia; Calle 22A No. 10-54, Cali, Colombia; Calle 23 No. 28-11, Cali, Colombia; Calle 44 No. 4N-74, Cali, Colombia; Calle 71A No. 1D-07, Cali, Colombia; Carrera 15 No. 34-102, Cali, Colombia; Carrera 2 No. 52-27, Cali, Colombia; Carrera 29 No. 45-84, Cali, Colombia; Carrera 44 No. 5B-27, Cali, Colombia; Carrera 46 No. 37-03, Cali, Colombia; Carrera 4N No. 81-04, Cali, Colombia; Carrera 7P No. 76-04, Cali, Colombia; Carrera 94 No. 4-76, Cali, Colombia; Quito, Ecuador; NIT # 805016716-5 (Colombia) [SDNT]

PROVIDA Y DISENO (a.k.a. PROVIDA E.U.; a.k.a. PROVIDA LABORATORIO CLINICO Y PATALOGIA), Calle 19 No. 6-31, Cali, Colombia; Calle 22A No. 10-54, Cali, Colombia; Calle 23 No. 28-11, Cali, Colombia; Calle 44 No. 4N-74, Cali, Colombia; Calle 71A No. 1D-07, Cali, Colombia; Carrera 15 No. 34-102, Cali, Colombia; Carrera 2 No. 52-27, Cali, Colombia; Carrera 29 No. 45-84, Cali, Colombia; Carrera 44 No. 5B-27, Cali, Colombia; Carrera 46 No. 37-03, Cali, Colombia; Carrera 4N No. 81-04, Cali, Colombia; Carrera 7P No. 76-04, Cali, Colombia; Carrera 94 No. 4-76, Cali, Colombia; Quito, Ecuador; NIT # 805016716-5 (Colombia) [SDNT]

PROYECTO CARS & CARS (a.k.a. CARS & CARS LTDA.; a.k.a. CENTRO COMERCIAL DEL AUTOMOVIL; a.k.a. COMERCIALIZADORA INTEGRAL LTDA.), Avenida Roosevelt entre carreras 38 y 38A esquinas, Cali, Colombia [SDNT]

PROYECTOS J.A.M. LTDA., Carrera 53 No. 74-16, Barranquilla, Colombia; Carrera 54 No. 72-147, Barranquilla, Colombia; Calle 77 No. 65-37 L-6, Barranquilla, Colombia; NIT # 800234529-0 (Colombia) [SDNT]

PROYECTOS J.A.M. LTDA. Y CIA. S. EN C., Calle 74 No. 53-23 of. 401, Barranquilla, Colombia; Calle 74 No. 53-23 L-503, Barranquilla, Colombia; Carrera 53 No. 74-16 of. 401, Barranquilla, Colombia; Carrera 53 No. 74-16, Barranquilla, Colombia; NIT # 800243483-9 (Colombia) [SDNT]

PUANGPETCH, Suvit (a.k.a. PHUANGPHET, Suwit; a.k.a. PUANGPETCH, Suwit), c/o PROGRESS SURAWEE COMPANY LTD., Bangkok, Thailand; c/o SCORE COMMERCIAL COMPANY LTD., Bangkok, Thailand; DOB 28 Oct 1956; National ID No. 3570900170841 (Thailand) (individual) [SDNTK]

PUANGPETCH, Suwit (a.k.a. PHUANGPHET, Suwit; a.k.a. PUANGPETCH, Suvit), c/o PROGRESS SURAWEE COMPANY LTD., Bangkok, Thailand; c/o SCORE COMMERCIAL COMPANY LTD., Bangkok, Thailand; DOB 28 Oct 1956; National ID No. 3570900170841 (Thailand) (individual) [SDNTK]

PUBLIC CORPORATION FOR BUILDING AND CONSTRUCTION, P.O. Box 2110, Khartoum, Sudan [SUDAN]

PUBLIC CORPORATION FOR IRRIGATION AND EXCAVATION, P.O. Box 619, Khartoum, Sudan; P.O. Box 123, Wad Medani, Sudan [SUDAN]

PUBLIC CORPORATION FOR OIL PRODUCTS AND PIPELINES, Khartoum, Sudan [SUDAN]

PUBLIC ELECTRICITY AND WATER CORPORATION (a.k.a. CENTRAL ELECTRICITY AND WATER CORPORATION), P.O. Box 1380, Khartoum, Sudan [SUDAN]

PUENTE GONZALEZ, Carlos Alberto, c/o CORPORACION DEPORTIVA AMERICA, Cali, Colombia; DOB 28 Nov 1937; Cedula No. 2449885 (Colombia); Passport 2449885 (Colombia) (individual) [SDNT]

PUERTA PARRA, Gabriel (a.k.a. “DOCTOR PUERTA”), Carrera 30 No. 90-82, Bogota, Colombia; c/o INTERCONTINENTAL DE AVIACION, S.A.; c/o COMERCIALIZADORA ANDINA BRASILERA S.A., Bogota, Colombia; c/o INDUSTRIAL MINERA Y PECUARIA S.A., Bogota, Colombia; c/o LA FRONTERA UNION GALVEZ Y CIA S EN C, Bogota, Colombia; DOB 1 Oct 1942; POB San Carlos, Antioquia, Colombia; Cedula No. 8238830 (Colombia); Passport P020046 (Colombia) (individual) [SDNT]

PUERTO, Luis Alfredo, c/o ADMACOOP, Bogota, Colombia; c/o CODISA, Bogota, Colombia; DOB 17 Dec 1955; Cedula No. 79113154 (Colombia); Passport 79113154 (Colombia) (individual) [SDNT]

PUMA SECURITY AGENCY (a.k.a. PUMA SECURITY COMPANY; a.k.a. PUMA SECURITY SERVICE), Mostar, Bosnia and Herzegovina; Capljina, Bosnia and Herzegovina; Stolac, Bosnia and Herzegovina; Siroki Brijeg, Bosnia and Herzegovina [BALKANS]

PUMA SECURITY COMPANY (a.k.a. PUMA SECURITY AGENCY; a.k.a. PUMA SECURITY SERVICE), Mostar, Bosnia and Herzegovina; Capljina, Bosnia and Herzegovina; Stolac, Bosnia and Herzegovina; Siroki Brijeg, Bosnia and Herzegovina [BALKANS]

PUMA SECURITY SERVICE (a.k.a. PUMA SECURITY AGENCY; a.k.a. PUMA SECURITY COMPANY), Mostar, Bosnia and Herzegovina; Capljina, Bosnia and Herzegovina; Stolac, Bosnia and Herzegovina; Siroki Brijeg, Bosnia and Herzegovina [BALKANS]

PVOE (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; a.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG), Novara g 36a/11, 1020 Wien, Austria [SDGT]

PYZA E.U., Avenida 3 No. 21-50, Cali, Colombia; NIT # 805015054-3 (Colombia) [SDNT]

QALHARBE DE LEON, Oscar (a.k.a. BECERRA MIRELES, Martin; a.k.a. BECERRA, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. VARGAS, Jorge); DOB 10 Jan 64; POB Mexico (individual) [SDNTK]

QASEM, Talat Fouad; DOB 02 Jun 1957; alt. DOB 03 Jun 1957; POB Al Mina, Egypt; Propaganda Leader of ISLAMIC GAMA'AT (individual) [SDT]

QUIAZUA ESPINEL, Maria Teresa, c/o CAJA SOLIDARIA, Bogota, Colombia; c/o CREDISOL, Bogota, Colombia; c/o REPRESENTACIONES Y DISTRIBUCIONES HUERTAS Y ASOCIADOS S.A., Bogota, Colombia; DOB 14 Oct 1966; Cedula No. 51837790 (Colombia); Passport 51837790 (Colombia) (individual) [SDNT]

QUIGUA ARIAS, Omar, c/o INCOES LTDA., Cali, Colombia; c/o IMCOMER LTDA., Cali, Colombia; DOB 26 Mar 1949; Cedula No. 6208489 (Colombia) (individual) [SDNT]

QUIMINTER GMBH, Vienna, Austria [CUBA]

QUINONEZ TORRES, Sergio Plinio, c/o ADMINISTRADORA DE SERVICIOS VARIOS CALIMA S.A., Cali, Colombia; c/o CHAMARTIN S.A., Cali, Colombia; Cedula No. 16723852 (Colombia); Passport 16723852 (Colombia) (individual) [SDNT]

QUINTANA HERNANDEZ, Gonzalo, c/o DISTRIBUIDORA DE DROGAS LA REBAJA BOGOTA S.A., Bogota, Colombia; c/o GRACADAL S.A., Cali, Colombia; c/o POLIEMPAQUES LTDA., Bogota, Colombia; c/o ALERO S.A., Cali, Colombia; Cedula No. 16603939 (Colombia) (individual) [SDNT]

QUINTANA ZORROZUA, Asier; DOB 27 February 1968; POB Bilbao Vizcaya Province, Spain; D.N.I. 30.609.430; Member ETA (individual) [SDGT]

QUINTERO HERNANDEZ, Miguel Angel, Calle Ventisca 2359 Secc. Dorado, Colonia Playas de Tijuana, Tijuana, Baja California, Mexico; c/o M Q CONSULTORES, S.A. DE C.V., Tijuana, Baja California, Mexico; DOB 22 Oct 1970; POB Guadalajara, Jalisco, Mexico; R.F.C. QUHM-701022-TL3 (Mexico) (individual) [SDNTK]

QUINTERO MARIN, Lucio, c/o INDUSTRIAS AGROPECUARIAS EL EDEN S.A., Higueronal Torti, Darien, Panama; DOB 3 Apr 1966; POB El Dovio, Valle, Colombia; Cedula No. 94191399 (Colombia); Passport 94191399 (Colombia) (individual) [SDNT]

QUINTERO MARIN, Maria Eugenia, c/o INDUSTRIAS AGROPECUARIAS EL EDEN S.A., Higueronal Torti, Darien, Panama; DOB 29 Jul 1968; POB El Dovio, Valle, Colombia; Cedula No. 66703157 (Colombia); Passport 66703157 (Colombia) (individual) [SDNT]

QUINTERO MERAZ, Jose Albino; DOB 15 Sep 1959; POB Sinaloa, Mexico (individual) [SDNTK]

QUINTERO SALAMANDO, Gabriela Elvira, c/o CONTACTEL COMUNICACIONES S.A., Cali, Colombia; c/o PROSPECTIVA E.U., Cali, Colombia; DOB 10 Sep 1963; Cedula No. 31406077 (Colombia); Passport 31406077 (Colombia) (individual) [SDNT]

QUINTERO SALAZAR, Lisimaco, c/o INMOBILIARIA U.M.V. S.A., Cali, Colombia (individual) [SDNT]

QUINTERO SANCLEMENTE, Ramon Alberto, Carrera 16 No. 3-15, Buga, Valle, Colombia; Calle 115 No. 9-50, Bogota, Colombia; DOB 30 Nov 1960; POB Cali, Colombia; alt. POB Armenia, Quindio, Colombia; citizen Colombia; Cedula No. 14881147 (Colombia); Passport AE048871 (Colombia) (individual) [SDNT]

R/E OF AUDREY FARM, Zimbabwe [ZIMBABWE]

R/E OF MLEMBWE FARM, Mlembwe, Zimbabwe [ZIMBABWE]

RABAK OIL MILL, P.O. Box 2105, Khartoum, Sudan [SUDAN]

RABITA TRUST, Room 9A, 2nd Floor, Wahdat Road, Education Town, Lahore, Pakistan; Wares Colony, Lahore, Pakistan [SDGT]

RADIC, Miroslav; DOB 1 Jan 1961; ICTY indictee in custody (individual) [BALKANS]

RADIC, Mlado; DOB 15 May 1952; POB Lamovita, Bosnia-Herzegovina; ICTY indictee (individual) [BALKANS]

RADIO ANNOUR (a.k.a. AL NOUR BROADCASTING STATION; a.k.a. AL NOUR RADIO; a.k.a. AL NUR RADIO), Abed Al Nour Street, PO Box 197/25, Alghobeiri, Haret Hriek, Beirut, Lebanon; info@al-nour.net; www.al-nour.net [SDGT]

RADIO SERVICE, S.A., Panama [CUBA]

RADIO UNIDAS FM S.A., Calle 15N No. 6N-34 piso 15, Edificio Alcazar, Cali, Colombia; Calle 19N No. 2N-29 piso 10 Sur, Cali, Colombia [SDNT]

RADIO UNIDAS FM S.A. (f.k.a. COLOR STEREO S.A.; f.k.a. COLOR'S S.A.; a.k.a. SONAR F.M. S.A.), Calle 15 Norte No. 6N-34 piso 15 Edificio Alcazar, Cali, Colombia; Calle 19N No. 2N-29 piso 10 Sur, Cali, Colombia; NIT # 800163602-5 (Colombia) [SDNT]

RAFIQ, Assem (a.k.a. ABDULMALIK, Abdul Hameed; a.k.a. MALIK, Assim Mohammed Rafiq Abdul), 14 Almotaz Sad Al Deen Street, Al Nozha, Cairo, Egypt (individual) [IRAQ2]

RAHMAN, Mohamad Iqbal (a.k.a. A RAHMAN, Mohamad Iqbal; a.k.a. ABDURRAHMAN, Abu Jibril; a.k.a. ABDURRAHMAN, Mohamad Iqbal; a.k.a. ABU JIBRIL; a.k.a. MUQTI, Fihiruddin; a.k.a. MUQTI, Fikiruddin); DOB 17 Aug 1958; POB Tirpas-Selong Village, East Lombok, Indonesia; nationality Indonesia (individual) [SDGT]

RAINBOW FACTORIES, P.O. Box 1768, Khartoum, Sudan [SUDAN]

RAJBROOK LIMITED, United Kingdom [IRAQ2]

RAJIC, Ivica; DOB 5 May 1958; POB Johovac, Bosnia-Herzegovina; ICTY indictee at large (individual) [BALKANS]

RAMADAN, Taha Yasin (a.k.a. AL-JIZRAWI, Taha Yassin Ramadan; a.k.a. RAMADAN, Taha Yassin); DOB circa 1938; nationality Iraq; Former Vice President (individual) [IRAQ2]

RAMADAN, Taha Yassin (a.k.a. AL-JIZRAWI, Taha Yassin Ramadan; a.k.a. RAMADAN, Taha Yasin); DOB circa 1938; nationality Iraq; Former Vice President (individual) [IRAQ2]

RAMAL S.A., Diagonal 127A No. 17-34 Piso 5, Bogota, Colombia; NIT # 800142109-5 (Colombia) [SDNT]

RAMCHARAM, Leebert (a.k.a. MARSHALL, Donovan; a.k.a. RAMCHARAN, Leebert; a.k.a. RAMCHARAN, Liebert); DOB 28 Dec 1959; POB Jamaica (individual) [SDNTK]

RAMCHARAN BROTHERS LTD, Rosehall Main Road, Rosehall, Jamaica [SDNTK]

RAMCHARAN LTD, Rosehall Main Road, Rosehall, Jamaica [SDNTK]

RAMCHARAN, Leebert (a.k.a. MARSHALL, Donovan; a.k.a. RAMCHARAM, Leebert; a.k.a. RAMCHARAN, Liebert); DOB 28 Dec 1959; POB Jamaica (individual) [SDNTK]

RAMCHARAN, Liebert (a.k.a. MARSHALL, Donovan; a.k.a. RAMCHARAM, Leebert; a.k.a. RAMCHARAN, Leebert); DOB 28 Dec 1959; POB Jamaica (individual) [SDNTK]

RAMIREZ ABADIA, Juan Carlos, Calle 6A No. 34-65, Cali, Colombia; DOB 16 Feb 63; Cedula No. 16684736 (Colombia); Passport AD127327 (Colombia) (individual) [SDNT]

RAMIREZ AGUIRRE, Sergio Humberto, c/o Farmacia Vida Suprema, S.A. DE C.V., Tijuana, Baja California, Mexico; c/o Distribuidora Imperial De Baja California, S.A. de C.V., Tijuana, Baja California, Mexico; c/o Administradora De Inmuebles Vida, S.A. de C.V., Tijuana, Baja California, Mexico; DOB 22 Nov 1951 (individual) [SDNTK]

RAMIREZ AZA, Hernan, c/o IMPORT MAPRI LTDA., Bogota, Colombia; Cedula No. 17083264 (Colombia); Passport 17083264 (Colombia) (individual) [SDNT]

RAMIREZ AZA, Jose Manuel, c/o IMPORT MAPRI LTDA., Bogota, Colombia; c/o WORLD TRADE LTDA., Ibague, Colombia; DOB 14 Aug 1939; Cedula No. 2889531 (Colombia); Passport 2889531 (Colombia) (individual) [SDNT]

RAMIREZ BUITRAGO, Luis Eduardo, c/o INCOES LTDA., Cali, Colombia (individual) [SDNT]

RAMIREZ BUITRAGO, Placido, c/o COMERCIALIZADORA INTERNACIONAL VALLE DE ORO S.A., Cali, Colombia; DOB 16 Nov 1950; Cedula No. 10219387 (Colombia) (individual) [SDNT]

RAMIREZ CARDONA, Gerardo de Jesus, c/o COOPERATIVA MERCANTIL DEL SUR LTDA., Pasto, Colombia; c/o COPSERVIR LTDA., Bogota, Colombia; Cedula No. 14645156 (Colombia); Passport 14645156 (Colombia) (individual) [SDNT]

RAMIREZ CORTES, Delia Nhora (a.k.a. RAMIREZ CORTES, Delia Nora), c/o INVERSIONES GEMINIS S.A., Cali, Colombia; c/o AGROPECUARIA Y REFORESTADORA HERREBE LTDA., Cali, Colombia; c/o INDUSTRIA AVICOLA PALMASECA S.A., Cali, Colombia; c/o VIAJES MERCURIO LTDA., Cali, Colombia; c/o ADMINISTRACION INMOBILIARIA BOLIVAR S.A., Cali, Colombia; c/o CONSTRUCTORA ALTOS DEL RETIRO LTDA., Bogota, Colombia; c/o INMOBILIARIA BOLIVAR LTDA., Cali, Colombia; c/o INVERSIONES INVERVALLE S.A., Cali, Colombia; c/o SOCOVALLE LTDA., Cali, Colombia; c/o INVERSIONES HERREBE LTDA., Cali, Colombia; c/o CONSTRUEXITO S.A., Cali, Colombia; c/o COMPANIA ADMINISTRADORA DE VIVIENDA S.A., Cali, Colombia; DOB 20 Jan 1959; Cedula No. 38943729 (Colombia) (individual) [SDNT]

RAMIREZ CORTES, Delia Nora (a.k.a. RAMIREZ CORTES, Delia Nhora), c/o INVERSIONES GEMINIS S.A., Cali, Colombia; c/o AGROPECUARIA Y REFORESTADORA HERREBE LTDA., Cali, Colombia; c/o INDUSTRIA AVICOLA PALMASECA S.A., Cali, Colombia; c/o VIAJES MERCURIO LTDA., Cali, Colombia; c/o ADMINISTRACION INMOBILIARIA BOLIVAR S.A., Cali, Colombia; c/o CONSTRUCTORA ALTOS DEL RETIRO LTDA., Bogota, Colombia; c/o INMOBILIARIA BOLIVAR LTDA., Cali, Colombia; c/o INVERSIONES INVERVALLE S.A., Cali, Colombia; c/o SOCOVALLE LTDA., Cali, Colombia; c/o INVERSIONES HERREBE LTDA., Cali, Colombia; c/o CONSTRUEXITO S.A., Cali, Colombia; c/o COMPANIA ADMINISTRADORA DE VIVIENDA S.A., Cali, Colombia; DOB 20 Jan 1959; Cedula No. 38943729 (Colombia) (individual) [SDNT]

RAMIREZ DE CASTANEDA, Maria (a.k.a. RAMIREZ RAMIREZ, Maria), c/o PENTA PHARMA DE COLOMBIA S.A., Bogota, Colombia; c/o PENTACOOP LTDA., Bogota, Colombia; c/o DECAFARMA S.A., Bogota, Colombia; DOB 8 Dec 1943; Cedula No. 31226330 (Colombia) (individual) [SDNT]

RAMIREZ DE RAMOS, Amparo, c/o INVERSIETE S.A., Cali, Colombia; c/o INVERSIONES Y CONSTRUCCIONES ATLAS LTDA., Cali, Colombia; DOB 1 Feb 1947; Cedula No. 38997548 (Colombia) (individual) [SDNT]

RAMIREZ ESCUDERO, Pedro Emilio, Calle 6A No. 48-36, Cali, Colombia; c/o GALAPAGOS S.A., Cali, Colombia; Cedula No. 16280602 (Colombia) (individual) [SDNT]

RAMIREZ GACHA, Ivan, c/o MATERIAS PRIMAS Y SUMINISTROS S.A., Bogota, Colombia; DOB 30 Sep 1963; Cedula No. 79310808 (Colombia); Passport 79310808 (Colombia) (individual) [SDNT]

RAMIREZ LIBREROS, Gladys Miriam (a.k.a. RAMIREZ LIBREROS, Gladys Myriam), c/o LABORATORIOS BLAIMAR DE COLOMBIA S.A., Bogota, Colombia; c/o DISTRIBUIDORA DE DROGAS LA REBAJA S.A., Bogota, Colombia; c/o INVERSIONES MOMPAX LTDA., Cali, Colombia; c/o SERVICIOS MYRAL E.U., Cali, Colombia; DOB 20 Nov 45; Cedula No. 38974109 (Colombia); Passport 38974109 (Colombia) (individual) [SDNT]

RAMIREZ LIBREROS, Gladys Myriam (a.k.a. RAMIREZ LIBREROS, Gladys Miriam), c/o LABORATORIOS BLAIMAR DE COLOMBIA S.A., Bogota, Colombia; c/o DISTRIBUIDORA DE DROGAS LA REBAJA S.A., Bogota, Colombia; c/o INVERSIONES MOMPAX LTDA., Cali, Colombia; c/o SERVICIOS MYRAL E.U., Cali, Colombia; DOB 20 Nov 45; Cedula No. 38974109 (Colombia); Passport 38974109 (Colombia) (individual) [SDNT]

RAMIREZ M., Oscar, c/o VALORES MOBILIARIOS DE OCCIDENTE S.A., Bogota, Colombia; c/o INVERSIONES ARA LTDA., Cali, Colombia; c/o RIONAP COMERCIO Y REPRESENTACIONES S.A., Quito, Ecuador (individual) [SDNT]

RAMIREZ NUNEZ, James Alberto, c/o ANDINA DE CONSTRUCCIONES S.A., Cali, Colombia; c/o GRACADAL S.A., Cali, Colombia; c/o INVERSIONES Y CONSTRUCCIONES COSMOVALLE LTDA., Cali, Colombia; c/o DISMERCOOP, Cali, Colombia; c/o INTERAMERICA DE CONSTRUCCIONES S.A., Cali, Colombia; c/o INVERSIONES MONDRAGON Y CIA. S.C.S., Cali, Colombia; c/o SERVICIOS FARMACEUTICOS SERVIFAR S.A., Cali, Colombia; Carrera 5 No. 24-63, Cali, Colombia; DOB 21 Apr 1962; Cedula No. 16691796 (Colombia) (individual) [SDNT]

RAMIREZ RAMIREZ, Maria (a.k.a. RAMIREZ DE CASTANEDA, Maria), c/o PENTA PHARMA DE COLOMBIA S.A., Bogota, Colombia; c/o PENTACOOP LTDA., Bogota, Colombia; c/o DECAFARMA S.A., Bogota, Colombia; DOB 8 Dec 1943; Cedula No. 31226330 (Colombia) (individual) [SDNT]

RAMIREZ SANCHEZ, Alben, c/o INCOES LTDA., Cali, Colombia (individual) [SDNT]

RAMIREZ SUARES, Luis Carlos (a.k.a. RAMIREZ SUAREZ, Luis Carlos), c/o DROGAS LA REBAJA BUCARAMANGA S.A., Bucaramanga, Colombia; c/o COPSERVIR LTDA., Bogota, Colombia; DOB 15 May 1952; Cedula No. 19164938 (Colombia) (individual) [SDNT]

RAMIREZ SUAREZ, Luis Carlos (a.k.a. RAMIREZ SUARES, Luis Carlos), c/o DROGAS LA REBAJA BUCARAMANGA S.A., Bucaramanga, Colombia; c/o COPSERVIR LTDA., Bogota, Colombia; DOB 15 May 1952; Cedula No. 19164938 (Colombia) (individual) [SDNT]

RAMIREZ VALDIVIESO, Alfonso, Calle 114 No. 26-64, Bogota, Colombia; c/o INTERCONTINENTAL DE AVIACION S.A., Bogota, Colombia; DOB 5 May 1938; POB Cali, Colombia; Cedula No. 17035234 (Colombia); Passport AF058639 (Colombia); alt. Passport PE019394 (Colombia); alt. Passport PE004391 (Colombia) (individual) [SDNT]

RAMIREZ VALENCIANO, William, c/o IMCOMER LTDA., Cali, Colombia; c/o INVERSIONES EL PENON S.A., Cali, Colombia; c/o ADMINISTRACION INMOBILIARIA BOLIVAR S.A., Cali, Colombia; c/o INVERSIONES BETANIA LTDA., Cali, Colombia; c/o CONCRETOS CALI S.A., Cali, Colombia; c/o CONSTRUCTORA DIMISA LTDA., Cali, Colombia; Calle 3C No. 72-64 10, Cali, Colombia; c/o INVERSIONES GEMINIS S.A., Cali, Colombia; DOB 7 Feb 1964; Cedula No. 16694719 (Colombia) (individual) [SDNT]

RAMIREZ, Joise Luis (a.k.a. AREGON, Max; a.k.a. CARO RODRIGUEZ, Gilberto; a.k.a. GUIERREZ LOERA, Jose Luis; a.k.a. GUMAN LOERAL, Joaquin; a.k.a. GUZMAN FERNANDEZ, Joaquin; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. GUZMAN, Achivaldo; a.k.a. GUZMAN, Archibaldo; a.k.a. GUZMAN, Aureliano; a.k.a. GUZMAN, Chapo; a.k.a. GUZMAN, Joaquin Chapo; a.k.a. ORTEGA, Miguel; a.k.a. OSUNA, Gilberto; a.k.a. RAMOX PEREZ, Jorge); DOB 25 Dec 54; POB Mexico (individual) [SDNTK]

RAMON MAGANA, Alcedis (a.k.a. ALCIDES MAGANA, Ramon; a.k.a. ALCIDES MAGANE, Ramon; a.k.a. ALCIDES MAYENA, Ramon; a.k.a. ALCIDEZ MAGANA, Ramon; a.k.a. GONZALEZ QUIONES, Jorge; a.k.a. MAGANA ALCIDES, Ramon; a.k.a. MAGANA, Jorge; a.k.a. MAGNA ALCIDEDES, Ramon; a.k.a. MATA, Alcides; a.k.a. RAMON MAGANA, Alcides; a.k.a. ROMERO, Antonio); DOB 4 Sep 57 (individual) [SDNTK]

RAMON MAGANA, Alcides (a.k.a. ALCIDES MAGANA, Ramon; a.k.a. ALCIDES MAGANE, Ramon; a.k.a. ALCIDES MAYENA, Ramon; a.k.a. ALCIDEZ MAGANA, Ramon; a.k.a. GONZALEZ QUIONES, Jorge; a.k.a. MAGANA ALCIDES, Ramon; a.k.a. MAGANA, Jorge; a.k.a. MAGNA ALCIDEDES, Ramon; a.k.a. MATA, Alcides; a.k.a. RAMON MAGANA, Alcedis; a.k.a. ROMERO, Antonio); DOB 4 Sep 57 (individual) [SDNTK]

RAMOS BONILLA, Blanca Clemencia, c/o LABORATORIOS BLAIMAR DE COLOMBIA S.A., Bogota, Colombia; c/o COSMEPOP, Bogota, Colombia; c/o LATINA DE COSMETICOS Y DISTRIBUCIONES S.A., Bogota, Colombia; DOB 19 Mar 1959; Cedula No. 41767311 (Colombia); Passport 41767311 (Colombia) (individual) [SDNT]

RAMOS GARBIRAS, Gerardo Alfonso, Carrera 29 No. 9-64, Cali, Colombia; c/o DISTRIBUIDORA AGROPECUARIA COLOMBIANA S.A., Cali, Colombia; c/o INVERSIONES BOMBAY S.A., Bogota, Colombia; Cedula No. 6457125 (Colombia) (individual) [SDNT]

RAMOS RAYO, Heriberto, c/o INVERSIONES VILLA PAZ S.A., Cali, Colombia; DOB 19 Aug 1946; Cedula No. 6186403 (Colombia) (individual) [SDNT]

RAMOX PEREZ, Jorge (a.k.a. AREGON, Max; a.k.a. CARO RODRIGUEZ, Gilberto; a.k.a. GUIERREZ LOERA, Jose Luis; a.k.a. GUMAN LOERAL, Joaquin; a.k.a. GUZMAN FERNANDEZ, Joaquin; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. GUZMAN, Achivaldo; a.k.a. GUZMAN, Archibaldo; a.k.a. GUZMAN, Aureliano; a.k.a. GUZMAN, Chapo; a.k.a. GUZMAN, Joaquin Chapo; a.k.a. ORTEGA, Miguel; a.k.a. OSUNA, Gilberto; a.k.a. RAMIREZ, Joise Luis); DOB 25 Dec 54; POB Mexico (individual) [SDNTK]

RANDY, Alih (a.k.a. AL GHOZI, Fathur Rahman; a.k.a. AL GHOZI, Fathur Rohman; a.k.a. ALGHOZI, Fathur Rahman; a.k.a. AL-GHOZI, Fathur Rahman; a.k.a. ALGHOZI, Fathur Rohman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. JAMIL, Sammy Sali; a.k.a. JAMIL, Sammy Salih; a.k.a. “ABU SA'AD”; a.k.a. “ABU SAAD”; a.k.a. “FREEDOM FIGHTER”); DOB 17 Feb 1971; POB Madiun, East Java, Indonesia; nationality Indonesia; Passport GG 672613 (Philippines) (individual) [SDGT]

RANTISI, Abdel Aziz, Gaza Strip, undetermined; DOB 23 Oct 1947; POB Yubna, Gaza (Palestinian Authority) (individual) [SDGT]

RARRBO, Ahmed Hosni (a.k.a. “ABDALLAH O ABDULLAH”); DOB 12 Sep 1974; POB Bologhine, Algeria (individual) [SDGT]

RASEVIC, Mitar; DOB 1940; POB Cagust, Bosnia-Herzegovina; ICTY indictee (individual) [BALKANS]

RASHID, Ata Abd Al-Aziz (a.k.a. BARZINGY, Ata Abdoul Aziz; a.k.a. RASHID, Ata Abdoulaziz), Schmidener Street 98, Stuttgart 70374, Germany; Stuttgart Prison, Stuttgart, Germany; DOB 1 Dec 1973; POB Sulaymaniyah, Iraq; nationality Iraq; Travel Document Number A0020375 (Germany) (individual) [SDGT]

RASHID, Ata Abdoulaziz (a.k.a. BARZINGY, Ata Abdoul Aziz; a.k.a. RASHID, Ata Abd Al-Aziz), Schmidener Street 98, Stuttgart 70374, Germany; Stuttgart Prison, Stuttgart, Germany; DOB 1 Dec 1973; POB Sulaymaniyah, Iraq; nationality Iraq; Travel Document Number A0020375 (Germany) (individual) [SDGT]

RASHID, Humam 'abd al-Khaliq (a.k.a. ABD AL-GHAFUR, Humam Abd al-Khaliq; a.k.a. 'ABD AL-RAHMAN, Humam 'abd al-Khaliq; a.k.a. ABD-AL-GHAFUR, Humam abd-al-Khaliq; a.k.a. GHAFUR, Humam Abdel Khaleq Abdel); DOB 1945; POB ar-Ramadi, Iraq; nationality Iraq; Former Minister of Higher Education and Research; M0018061/104,issued 12 September 1993 (individual) [IRAQ2]

RATTANA VICHAI COMPANY LTD. (a.k.a. BORISAT RATTANA WICHAI CHAMKAT), 339 Soi Lat Phrao 23, Lat Phrao Road, Chatuchak district, Bangkok, Thailand [SDNTK]

REA SWEET FACTORY, P.O. Box 1027, Khartoum, Sudan [SUDAN]

REAL IRA (a.k.a. 32 COUNTY SOVEREIGNTY COMMITTEE; a.k.a. 32 COUNTY SOVEREIGNTY MOVEMENT; a.k.a. IRISH REPUBLICAN PRISONERS WELFARE ASSOCIATION; a.k.a. REAL IRISH REPUBLICAN ARMY; a.k.a. REAL OGLAIGH NA HEIREANN; a.k.a. RIRA) [FTO] [SDGT]

REAL IRISH REPUBLICAN ARMY (a.k.a. 32 COUNTY SOVEREIGNTY COMMITTEE; a.k.a. 32 COUNTY SOVEREIGNTY MOVEMENT; a.k.a. IRISH REPUBLICAN PRISONERS WELFARE ASSOCIATION; a.k.a. REAL IRA; a.k.a. REAL OGLAIGH NA HEIREANN; a.k.a. RIRA) [FTO] [SDGT]

REAL OGLAIGH NA HEIREANN (a.k.a. 32 COUNTY SOVEREIGNTY COMMITTEE; a.k.a. 32 COUNTY SOVEREIGNTY MOVEMENT; a.k.a. IRISH REPUBLICAN PRISONERS WELFARE ASSOCIATION; a.k.a. REAL IRA; a.k.a. REAL IRISH REPUBLICAN ARMY; a.k.a. RIRA) [FTO] [SDGT]

RECICLAJE INDUSTRIAL, S.A., Panama [CUBA]

RECITEC LTDA., Calle 16 No. 12-49, Cali, Colombia; NIT # 800037780-9 (Colombia) [SDNT]

RECONSTRUCTION FOUNDATION (a.k.a. FOUNDATION FOR CONSTRUCTION; a.k.a. NATION BUILDING; a.k.a. RECONSTRUCTION OF THE ISLAMIC COMMUNITY; a.k.a. RECONSTRUCTION OF THE MUSLIM UMMAH; a.k.a. UMMAH TAMEER E-NAU (UTN); a.k.a. UMMAH TAMEER I-NAU; a.k.a. UMMAH TAMIR E-NAU; a.k.a. UMMAH TAMIR I-NAU; a.k.a. UMMAT TAMIR E-NAU; a.k.a. UMMAT TAMIR-I-PAU), Street 13, Wazir Akbar Khan, Kabul, Afghanistan; 60-C, Nazim Ud Din Road, Islamabad F 8/4, Pakistan [SDGT]

RECONSTRUCTION OF THE ISLAMIC COMMUNITY (a.k.a. FOUNDATION FOR CONSTRUCTION; a.k.a. NATION BUILDING; a.k.a. RECONSTRUCTION FOUNDATION; a.k.a. RECONSTRUCTION OF THE MUSLIM UMMAH; a.k.a. UMMAH TAMEER E-NAU (UTN); a.k.a. UMMAH TAMEER I-NAU; a.k.a. UMMAH TAMIR E-NAU; a.k.a. UMMAH TAMIR I-NAU; a.k.a. UMMAT TAMIR E-NAU; a.k.a. UMMAT TAMIR-I-PAU), Street 13, Wazir Akbar Khan, Kabul, Afghanistan; 60-C, Nazim Ud Din Road, Islamabad F 8/4, Pakistan [SDGT]

RECONSTRUCTION OF THE MUSLIM UMMAH (a.k.a. FOUNDATION FOR CONSTRUCTION; a.k.a. NATION BUILDING; a.k.a. RECONSTRUCTION FOUNDATION; a.k.a. RECONSTRUCTION OF THE ISLAMIC COMMUNITY; a.k.a. UMMAH TAMEER E-NAU (UTN); a.k.a. UMMAH TAMEER I-NAU; a.k.a. UMMAH TAMIR E-NAU; a.k.a. UMMAH TAMIR I-NAU; a.k.a. UMMAT TAMIR E-NAU; a.k.a. UMMAT TAMIR-I-PAU), Street 13, Wazir Akbar Khan, Kabul, Afghanistan; 60-C, Nazim Ud Din Road, Islamabad F 8/4, Pakistan [SDGT]

RECONSTRUYE LTDA. (a.k.a. REPARACIONES Y CONSTRUCCIONES LTDA.), Avenida 6N No. 23DN-16 of. 402, Cali, Colombia; NIT # 800053838-4 (Colombia) [SDNT]

RED EAGLE GANG (a.k.a. HALHUL GANG; a.k.a. HALHUL SQUAD; a.k.a. MARTYR ABU-ALI MUSTAFA BATTALION; a.k.a. PALESTINIAN POPULAR RESISTANCE FORCES; a.k.a. PFLP; a.k.a. POPULAR FRONT FOR THE LIBERATION OF PALESTINE; a.k.a. PPRF; a.k.a. RED EAGLE GROUP; a.k.a. RED EAGLES) [SDT] [FTO] [SDGT]

RED EAGLE GROUP (a.k.a. HALHUL GANG; a.k.a. HALHUL SQUAD; a.k.a. MARTYR ABU-ALI MUSTAFA BATTALION; a.k.a. PALESTINIAN POPULAR RESISTANCE FORCES; a.k.a. PFLP; a.k.a. POPULAR FRONT FOR THE LIBERATION OF PALESTINE; a.k.a. PPRF; a.k.a. RED EAGLE GANG; a.k.a. RED EAGLES) [SDT] [FTO] [SDGT]

RED EAGLES (a.k.a. HALHUL GANG; a.k.a. HALHUL SQUAD; a.k.a. MARTYR ABU-ALI MUSTAFA BATTALION; a.k.a. PALESTINIAN POPULAR RESISTANCE FORCES; a.k.a. PFLP; a.k.a. POPULAR FRONT FOR THE LIBERATION OF PALESTINE; a.k.a. PPRF; a.k.a. RED EAGLE GANG; a.k.a. RED EAGLE GROUP) [SDT] [FTO] [SDGT]

RED HAND DEFENDERS (RHD), United Kingdom [SDGT]

RED SEA BARAKAT COMPANY LIMITED, Mogadishu, Somalia; Dubai, United Arab Emirates [SDGT]

RED SEA HILLS MINERALS COMPANY, C/O SUDANESE MINING CORPORATION, P.O. Box 1034, Khartoum, Sudan [SUDAN]

RED SEA STEVEDORING, P.O. Box 215, Khartoum, Sudan; P.O. Box 17, Port Sudan, Sudan [SUDAN]

RED STAR BATTALIONS (a.k.a. DEMOCRATIC FRONT FOR THE LIBERATION OF PALESTINE; a.k.a. DEMOCRATIC FRONT FOR THE LIBERATION OF PALESTINE -HAWATMEH FACTION; a.k.a. DFLP; a.k.a. RED STAR FORCES) [SDT]

RED STAR FORCES (a.k.a. DEMOCRATIC FRONT FOR THE LIBERATION OF PALESTINE; a.k.a. DEMOCRATIC FRONT FOR THE LIBERATION OF PALESTINE -HAWATMEH FACTION; a.k.a. DFLP; a.k.a. RED STAR BATTALIONS) [SDT]

REDESTOS SHIPPING CO. LTD., c/o EMPRESA DE NAVEGACION MAMBISA, Apartado 543, San Ignacio 104, Havana, Cuba [CUBA]

REEVES-TAYLOR (a.k.a. REEVES-TAYLOR, Agnes; a.k.a. TAYLOR, Agnes Reeves); DOB 27 SEP 1965; nationality Liberia; Ex-wife of former President of Liberia Charles Taylor; ex-Permanent Representative of Liberia to the International Maritime Organization (individual) [LIBERIA]

REEVES-TAYLOR, Agnes (a.k.a. REEVES-TAYLOR; a.k.a. TAYLOR, Agnes Reeves); DOB 27 SEP 1965; nationality Liberia; Ex-wife of former President of Liberia Charles Taylor; ex-Permanent Representative of Liberia to the International Maritime Organization (individual) [LIBERIA]

REFKE, Taufek (a.k.a. RIFKI, Taufik; a.k.a. RIFQI, Taufik; a.k.a. RIFQI, Tawfiq; a.k.a. YACUB, Eric; a.k.a. “ABU OBAIDA”; a.k.a. “ABU OBAIDAH”; a.k.a. “ABU OBAYDA”; a.k.a. “ABU OBEIDA”; a.k.a. “ABU UBAIDAH”; a.k.a. “AMI IRAQ”; a.k.a. “AMI IRZA”; a.k.a. “AMI KUSOMAN”; a.k.a. “AMMY ERZA”; a.k.a. “AMMY IZZA”; a.k.a. “AMY ERJA”; a.k.a. “IZZA KUSOMAN”; a.k.a. “OBAIDAH”); DOB 29 Aug 1974; alt. DOB 19 Aug 1980; alt. DOB 9 Aug 1974; alt. DOB 19 Aug 1974; POB Dacusuman Surakarta, Central Java, Indonesia; nationality Indonesia (individual) [SDGT]

REFRIGERATION AND ENGINEERING IMPORT COMPANY, P.O. Box 1092, Khartoum, Sudan [SUDAN]

REHMAN, Shaikh Ismail Abdul (a.k.a. ANIS, Ibrahim Shaikh Mohd; a.k.a. AZIZ, Abdul Hamid Abdul; a.k.a. DILIP, Aziz; a.k.a. EBRAHIM, Dawood; a.k.a. HASAN, Shaikh Daud; a.k.a. HASSAN, Dawood; a.k.a. IBRAHIM, Anis; a.k.a. IBRAHIM, Dawood; a.k.a. IBRAHIM, Dawood Sheik; a.k.a. KASKAR, Dawood Ibrahim; a.k.a. SABRI, Dawood; a.k.a. SAHEB, Amir; a.k.a. SETH, Iqbal), 617 CP Berar Society, Block 7-8, Karachi, Pakistan; House No. 37, Street 30, Phase V, Defence Housing Authority, Karachi, Pakistan; White House, Al-Wassal Road, Jumeira, Dubai, United Arab Emirates; 33-36, Pakmodiya Street, Haji Musafirkhana, Dongri, Bombay, India; House No. 10, Hill Top Arcade, Defence Housing Authority, Karachi, Pakistan; Moin Palace, 2nd Floor, Opp. Abdullah Shah Gazi Dargah, Clifton, Karachi, Pakistan; DOB 26 Dec 1955; alt. DOB 31 Dec 1955; POB Ratnagiri, Maharashtra, India; citizen India alt. United Arab Emirates; alt. Pakistan; nationality India; Passport A-717288 (United Arab Emirates) issued 18 Aug 1985; alt. Passport F-823692 (Yemen) issued 02 Sep 1989; alt. Passport G-869537 (Pakistan); alt. Passport G-866537 (Pakistan) issued 12 Aug 1991; alt. Passport V-57865 (India) issued 03 Oct 1983; alt. Passport K-560098 (India) issued 30 Jul 1975; alt. Passport P-537849 (India) issued 30 Jul 1979; alt. Passport A-501801 (India) issued 26 Jul 1985; alt. Passport A-333602 (India) issued 04 Jun 1985; alt. Passport R-841697 (India) issued 26 Nov 1981; alt. Passport M-110522 (India) issued 13 Nov 1978 (individual) [SDGT] [SDNTK]

REINA DE TORRES, Rosalba, c/o TRIMARK LTDA., Bogota, Colombia; Cedula No. 41719184 (Colombia) (individual) [SDNT]

REINA MOLINA, Miguel Sigifredo, c/o DISTRIBUIDORA DEL VALLE E.U., Bogota, Colombia; Cedula No. 8401802 (Colombia); Passport 8401802 (Colombia) (individual) [SDNT]

RELIEF AND DEVELOPMENT FUND FOR PALESTINE (a.k.a. AL-SANDUQ AL-FILISTINI LIL-IGHATHA; a.k.a. AL-SANDUQ AL-FILISTINI LIL-IGHATHA WA AL-TANMIYA; a.k.a. INTERPAL; a.k.a. PALESTINE AND LEBANON RELIEF FUND; a.k.a. PALESTINE DEVELOPMENT AND RELIEF FUND; a.k.a. PALESTINE RELIEF AND DEVELOPMENT FUND; a.k.a. PALESTINE RELIEF FUND; a.k.a. PALESTINIAN AID AND SUPPORT FUND; a.k.a. PALESTINIAN RELIEF AND DEVELOPMENT FUND; a.k.a. PALESTINIAN RELIEF FUND; a.k.a. PRDF; a.k.a. WELFARE AND DEVELOPMENT FUND FOR PALESTINE; a.k.a. WELFARE AND DEVELOPMENT FUND OF PALESTINE), P.O. Box 3333, London NW6 1RW, United Kingdom; Registered Charity No. 1040094 [SDGT]

RELIEF ASSOCIATION FOR PALESTINE (a.k.a. ASP; a.k.a. ASSOCIATION DE SECOURS PALESTINIENS; a.k.a. ASSOCIATION FOR PALESTINIAN AID; a.k.a. ASSOCIATION SECOUR PALESTINIEN; a.k.a. HUMANITARE HILFSORGANISATION FUR PALASTINA; a.k.a. LAJNA AL-IGHATHA AL-FILISTINI; a.k.a. PALESTINE RELIEF COMMITTEE; a.k.a. PALESTINIAN AID COUNCIL; a.k.a. PALESTINIAN AID ORGANIZATION; a.k.a. PALESTINIAN RELIEF SOCIETY), c/o Faical Yaakoubi, 7 rue de l'Ancien Port, CH-1201 Geneva, Switzerland; Gartnerstrasse 55, CH-4109 Basel, Switzerland; Postfach 406, CH-4109 Basel, Switzerland [SDGT]

RELIEF COMMITTEE FOR SOLIDARITY WITH PALESTINE (a.k.a. AL AQSA ASSISTANCE CHARITABLE COUNCIL; a.k.a. AL-LAJNA AL-KHAYRIYYA LIL MUNASARA AL-AQSA; a.k.a. BENEVOLENCE COMMITTEE FOR SOLIDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; a.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE), 68 Rue Jules Guesde, 59000 Lille, France; 10 Rue Notre Dame, 69006 Lyon, France; 37 Rue de la Chapelle, 75018 Paris, France [SDGT]

REMADNA, Abdelhalim; DOB 2 Apr 1966; POB Bistra, Algeria (individual) [SDGT]

RENATO (a.k.a. DIODATO DEL GALLO, Marco Marino), Bolivia; DOB 28 Jan 1957; POB Italy; citizen Italy alt. Bolivia; nationality Italy; Passport 072130-A (Italy) (individual) [SDNTK]

RENDON RODRIGUEZ, Maria Fernanda, c/o DISMERCOOP, Cali, Colombia; Cedula No. 38864017 (Colombia) (individual) [SDNT]

RENGIFO SAAVEDRA, Carmen Hermencia, c/o COOPERATIVA DE TRABAJO ASOCIADO ACTIVAR, Bogota, Colombia; c/o COPSERVIR LTDA., Bogota, Colombia; Calle 14 No. 48A-19, Cali, Colombia; Carrera 6 No. 11-43 of. 505, Cali, Colombia; DOB 19 Dec 1969; Cedula No. 66738336 (Colombia) (individual) [SDNT]

RENT-A-CAR, S.A., Panama [CUBA]

RENTAR INMOBILIARIA S.A., Calle 10 No. 4-47 piso 18, Cali, Colombia; NIT # 805012015-2 (Colombia) [SDNT]

RENTERIA CAICEDO E HIJAS Y CIA S.C.S. (a.k.a. INAGROCCIDENTE LTDA.; a.k.a. INVERSIONES AGROINDUSTRIALES DEL OCCIDENTE LTDA.), Calle 114A No. 11A-40, Apt. 302, Bogota, Colombia; NIT # 800107993-1 (Colombia) [SDNT]

RENTERIA CAICEDO, Beatriz Eugenia, Diagonal 130 No. 7-20, Apt. 806, Bogota, Colombia; Avenida 11 No. 7N-166, Cali, Colombia; 85 Brainerd Road, Townhouse 9, Allston, MA 02134; 18801 Collins Avenue, Apt. 322-3, Sunny Isles Beach, FL 33160; Calle 90 No. 10-05, Bogota, Colombia; c/o INVERSIONES AGROINDUSTRIALES DEL OCCIDENTE LTDA., Bogota, Colombia; c/o COMPANIA AGROPECUARIA DEL SUR LTDA., Bogota, Colombia; DOB 30 Nov 1977; citizen Colombia; nationality Colombia; Cedula No. 52424737 (Colombia); Passport AG034865 (Colombia); alt. Passport AE309750 (Colombia); SSN 594-33-3351 (United States) (individual) [SDNT]

RENTERIA CAICEDO, Maria Cecilia, 18801 Collins Avenue, Apt. 322-3, Sunny Isles Beach, FL 33160; Diagonal 130 No. 7-20, Apt. 806, Bogota, Colombia; 85 Brainerd Road, Townhouse 9, Allston, MA 02134; Avenida 11 No. 7N-166, Cali, Colombia; Calle 90 No. 10-05, Bogota, Colombia; c/o COMPANIA AGROPECUARIA DEL SUR LTDA., Bogota, Colombia; c/o INVERSIONES AGROINDUSTRIALES DEL OCCIDENTE LTDA., Bogota, Colombia; DOB 27 May 1981; POB Cali, Colombia; citizen Colombia; nationality Colombia; Cedula No. 52410645 (Colombia); Passport AF624588 (Colombia); alt. Passport AD454168 (Colombia) (individual) [SDNT]

RENTERIA MANTILLA, Carlos Alberto (a.k.a. “BETO RENTERIA”), Carrera 26 No. 29-75, Tulua, Colombia; c/o COMPANIA AGROPECUARIA DEL SUR LTDA., Bogota, Colombia; c/o DIMABE LTDA., Bogota, Colombia; c/o INVERSIONES AGROINDUSTRIALES DEL OCCIDENTE LTDA., Bogota, Colombia; c/o COLOMBO ANDINA COMERCIAL COALSA LTDA., Bogota, Colombia; DOB 11 Mar 1945; POB Colombia; citizen Colombia; Cedula No. 6494208 (Colombia) (individual) [SDNT]

REPARACIONES Y CONSTRUCCIONES LTDA. (a.k.a. RECONSTRUYE LTDA.), Avenida 6N No. 23DN-16 of. 402, Cali, Colombia; NIT # 800053838-4 (Colombia) [SDNT]

REPRESENTACIONES Y DISTRIBUCIONES HUERTAS Y ASOCIADOS LTDA. (a.k.a. REPRESENTACIONES Y DISTRIBUCIONES HUERTAS Y ASOCIADOS S.A.; a.k.a. TELEFARMA), Calle 124 No. 6-60, Bogota, Colombia; Avenida 42 No. 20-47, Bogota, Colombia; NIT # 860527387-8 (Colombia) [SDNT]

REPRESENTACIONES Y DISTRIBUCIONES HUERTAS Y ASOCIADOS S.A. (a.k.a. REPRESENTACIONES Y DISTRIBUCIONES HUERTAS Y ASOCIADOS LTDA.; a.k.a. TELEFARMA), Calle 124 No. 6-60, Bogota, Colombia; Avenida 42 No. 20-47, Bogota, Colombia; NIT # 860527387-8 (Colombia) [SDNT]

REPRESENTACIONES ZATZA LTDA., Calle 11 No. 16-23, Cali, Colombia; NIT # 805011682-0 (Colombia) [SDNT]

REPRESSION OF TRAITORS (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

REPUBLICAN SINN FEIN (a.k.a. CONTINUITY ARMY COUNCIL; a.k.a. CONTINUITY IRA (CIRA); a.k.a. CONTINUITY IRISH REPUBLICAN ARMY), United Kingdom [FTO] [SDGT]

RESTREPO CANO, Maria Del Pilar, c/o CHAMARTIN S.A., Cali, Colombia; c/o COPSERVIR LTDA., Bogota, Colombia; c/o DISTRIBUIDORA SANAR DE COLOMBIA S.A., Cali, Colombia; DOB 26 Jun 1965; Cedula No. 31948671 (Colombia); Passport 31948671 (Colombia) (individual) [SDNT]

RESTREPO HERNANDEZ, Ruben Dario, c/o DISMERCOOP, Cali, Colombia; c/o LATINFAMRACOS, S.A., Quito, Ecuador; c/o RIONAP COMERCIO Y REPRESENTACIONES S.A., Quito, Ecuador; DOB 28 Sep 1958; Cedula No. 10094108 (Colombia); Passport 10094108 (Colombia); RUC # 1791818652001 (Ecuador) (individual) [SDNT]

RESTREPO VICTORIA, Eduardo (a.k.a. “EL SOCIO”), c/o AGROPECUARIA PALMA DEL RIO S.A., Ibague, Colombia; c/o RR TOUR, S.A. DE C.V., Guadalajara, Mexico; Calle 6 No. 3-73, Ibague, Tolima, Colombia; DOB 28 Sep 1958; POB Pital, Huila, Colombia; citizen Colombia; nationality Colombia; Cedula No. 12187343 (Colombia); Passport AG989562 (Colombia); alt. Passport AE678681 (Colombia) (individual) [SDNT]

RESTREPO VICTORIA, Maria Teresa, c/o AGROPECUARIA PALMA DEL RIO S.A., Ibague, Colombia; Carrera 17 No. 91-42, Apt. 502, Bogota, Colombia; DOB 04 Dec 1949; POB Garzon, Huila, Colombia; Cedula No. 41477630 (Colombia) (individual) [SDNT]

RESTREPO VICTORIA, Norma Constanza, c/o AGROPECUARIA PALMA DEL RIO S.A., Ibague, Colombia; Carrera 22 No. 86A-60, Apt. 202, Bogota, Colombia; DOB 05 Jan 1968; POB Pital, Huila, Colombia; Cedula No. 55060642 (Colombia); Passport AG010495 (Colombia); alt. Passport AF535472 (Colombia) (individual) [SDNT]

RESTREPO VILLEGAS, Camilio, c/o PLASTICOS CONDOR LTDA., Cali, Colombia; c/o FLEXOEMPAQUES LTDA., Cali, Colombia; Calle 116 No. 12-49, Bogota, Colombia; DOB 27 Dec 1938; Cedula No. 6051150 (Colombia) (individual) [SDNT]

REVISTA DEL AMERICA LTDA., Calle 23AN No. 5AN-19, Cali, Colombia [SDNT]

REVIVAL OF ISLAMIC HERITAGE SOCIETY (RIHS) (a.k.a. JAMIA IHYA UL TURATH; a.k.a. JAMIAT IHIA AL-TURATH AL-ISLAMIYA; a.k.a. REVIVAL OF ISLAMIC SOCIETY HERITAGE ON THE AFRICAN CONTINENT), Pakistan; Afghanistan; Office in Kuwait is NOT designated [SDGT]

REVIVAL OF ISLAMIC SOCIETY HERITAGE ON THE AFRICAN CONTINENT (a.k.a. JAMIA IHYA UL TURATH; a.k.a. JAMIAT IHIA AL-TURATH AL-ISLAMIYA; a.k.a. REVIVAL OF ISLAMIC HERITAGE SOCIETY (RIHS)), Pakistan; Afghanistan; Office in Kuwait is NOT designated [SDGT]

REVIVO, Simon (a.k.a. MAMO, Eliyahu; a.k.a. TUITO, Daniel; a.k.a. TUITO, David; a.k.a. TUITO, Oded; a.k.a. TVITO, Daniel; a.k.a. TVITO, Oded); DOB 27 December 1959; alt. DOB 29 November 1959; alt. DOB 27 February 1959; alt. DOB 12 December 1959; alt. DOB 25 July 1961; POB Israel (individual) [SDNTK]

REVOLUTIONARY ARMED FORCES OF COLOMBIA (a.k.a. FARC; a.k.a. FUERZAS ARMADAS REVOLUCIONARIAS DE COLOMBIA) [FTO] [SDGT] [SDNTK]

REVOLUTIONARY CELLS (a.k.a. ELA; a.k.a. EPANASTATIKOS LAIKOS AGONAS; a.k.a. JUNE 78; a.k.a. LIBERATION STRUGGLE; a.k.a. ORGANIZATION OF REVOLUTIONARY INTERNATIONALIST SOLIDARITY; a.k.a. POPULAR REVOLUTIONARY STRUGGLE; a.k.a. REVOLUTIONARY NUCLEI; a.k.a. REVOLUTIONARY PEOPLE'S STRUGGLE; a.k.a. REVOLUTIONARY POPULAR STRUGGLE) [FTO] [SDGT]

REVOLUTIONARY JUSTICE ORGANIZATION (a.k.a. ANSAR ALLAH; a.k.a. FOLLOWERS OF THE PROPHET MUHAMMED; a.k.a. HIZBALLAH; a.k.a. ISLAMIC JIHAD; a.k.a. ISLAMIC JIHAD FOR THE LIBERATION OF PALESTINE; a.k.a. ISLAMIC JIHAD ORGANIZATION; a.k.a. ORGANIZATION OF RIGHT AGAINST WRONG; a.k.a. ORGANIZATION OF THE OPPRESSED ON EARTH; a.k.a. PARTY OF GOD) [SDT] [FTO] [SDGT]

REVOLUTIONARY LEFT (a.k.a. DEV SOL; a.k.a. DEV SOL ARMED REVOLUTIONARY UNITS; a.k.a. DEV SOL SDB; a.k.a. DEV SOL SILAHLI DEVRIMCI BIRLIKLERI; a.k.a. DEVRIMCI HALK KURTULUS PARTISI-CEPHESI; a.k.a. DEVRIMCI SOL; a.k.a. DHKP/C; a.k.a. REVOLUTIONARY PEOPLE'S LIBERATION PARTY/FRONT) [FTO] [SDGT]

REVOLUTIONARY NUCLEI (a.k.a. ELA; a.k.a. EPANASTATIKOS LAIKOS AGONAS; a.k.a. JUNE 78; a.k.a. LIBERATION STRUGGLE; a.k.a. ORGANIZATION OF REVOLUTIONARY INTERNATIONALIST SOLIDARITY; a.k.a. POPULAR REVOLUTIONARY STRUGGLE; a.k.a. REVOLUTIONARY CELLS; a.k.a. REVOLUTIONARY PEOPLE'S STRUGGLE; a.k.a. REVOLUTIONARY POPULAR STRUGGLE) [FTO] [SDGT]

REVOLUTIONARY ORGANIZATION 17 NOVEMBER (a.k.a. 17 NOVEMBER; a.k.a. EPANASTATIKI ORGANOSI 17 NOEMVRI) [FTO] [SDGT]

REVOLUTIONARY ORGANIZATION OF SOCIALIST MUSLIMS (a.k.a. ABU NIDAL ORGANIZATION; a.k.a. ANO; a.k.a. ARAB REVOLUTIONARY BRIGADES; a.k.a. ARAB REVOLUTIONARY COUNCIL; a.k.a. BLACK SEPTEMBER; a.k.a. FATAH REVOLUTIONARY COUNCIL) [SDT] [FTO] [SDGT]

REVOLUTIONARY PEOPLE'S LIBERATION PARTY/FRONT (a.k.a. DEV SOL; a.k.a. DEV SOL ARMED REVOLUTIONARY UNITS; a.k.a. DEV SOL SDB; a.k.a. DEV SOL SILAHLI DEVRIMCI BIRLIKLERI; a.k.a. DEVRIMCI HALK KURTULUS PARTISI-CEPHESI; a.k.a. DEVRIMCI SOL; a.k.a. DHKP/C; a.k.a. REVOLUTIONARY LEFT) [FTO] [SDGT]

REVOLUTIONARY PEOPLE'S STRUGGLE (a.k.a. ELA; a.k.a. EPANASTATIKOS LAIKOS AGONAS; a.k.a. JUNE 78; a.k.a. LIBERATION STRUGGLE; a.k.a. ORGANIZATION OF REVOLUTIONARY INTERNATIONALIST SOLIDARITY; a.k.a. POPULAR REVOLUTIONARY STRUGGLE; a.k.a. REVOLUTIONARY CELLS; a.k.a. REVOLUTIONARY NUCLEI; a.k.a. REVOLUTIONARY POPULAR STRUGGLE) [FTO] [SDGT]

REVOLUTIONARY POPULAR STRUGGLE (a.k.a. ELA; a.k.a. EPANASTATIKOS LAIKOS AGONAS; a.k.a. JUNE 78; a.k.a. LIBERATION STRUGGLE; a.k.a. ORGANIZATION OF REVOLUTIONARY INTERNATIONALIST SOLIDARITY; a.k.a. POPULAR REVOLUTIONARY STRUGGLE; a.k.a. REVOLUTIONARY CELLS; a.k.a. REVOLUTIONARY NUCLEI; a.k.a. REVOLUTIONARY PEOPLE'S STRUGGLE) [FTO] [SDGT]

REXHEPI, Daut; DOB 1962; POB Poroj, Macedonia (individual) [BALKANS]

REYES MONROY, Pablo, c/o CAJA SOLIDARIA, Bogota, Colombia; c/o COPSERVIR LTDA., Bogota, Colombia; c/o SEGECOL LTDA., Bucaramanga, Colombia; Cedula No. 91265116 (Colombia) (individual) [SDNT]

REYES MURCIA, Edgar, c/o CONSTRUVIDA S.A., Cali, Colombia; DOB 3 Feb 1947; Cedula No. 17181081 (Colombia) (individual) [SDNT]

REYES VERGARA, Guillermo, Panama City, Panama (individual) [CUBA]

REYNOLDS AND WILSON, LTD., 21 Victoria Road, Surbiton, Surrey KT6 4LK, United Kingdom [IRAQ2]

RIBON RODRIGUEZ, Wilmen, c/o CAJA SOLIDARIA, Bogota, Colombia; c/o COPSERVIR LTDA., Bogota, Colombia; c/o LITOPHARMA, Barranquilla, Colombia; Calle 61 No. 47-21, Barranquilla, Colombia; Calle 61 No. 47-22 Piso 2, Barranquilla, Colombia; Cedula No. 91223795 (Colombia) (individual) [SDNT]

RICARDO DIAZ, Alfonso, c/o FREXCO S.A., La Union, Valle, Colombia; Calle 15 No. 10-52, La Union, Valle, Colombia; c/o CASA GRAJALES S.A., La Union, Valle, Colombia; c/o CRETA S.A., La Union, Valle, Colombia; c/o HEBRON S.A., Tulua, Valle, Colombia; Cedula No. 14950952 (Colombia) (individual) [SDNT]

RICARDO JAAR Y CIA. S.C.S., Carrera 74 No. 76-150, Barranquilla, Atlantico, Colombia; NIT # 890114336-9 (Colombia) [SDNT]

RICHARD A. CHICHAKLI PC, P.O. Box 850432, Richardson, TX 75085; 811 S. Central Expwy., Ste 210, Richardson, TX 75080 [LIBERIA]

RICKS, Roy, 87 St. Mary's Frice, Benfleet, Essex, United Kingdom (individual) [IRAQ2]

RICUARTE FLOREZ, Gilma Leonor, c/o LABORATORIOS GENERICOS VETERINARIOS, Bogota, Colombia; DOB 20 Apr 1961; Cedula No. 51640309 (Colombia) (individual) [SDNT]

RIDA, Karim Hassan (a.k.a. AL-RIDA, Karim Hasan), Iraq; DOB 1944; Former Minister of Agriculture (individual) [IRAQ2]

RIFKI, Taufik (a.k.a. REFKE, Taufek; a.k.a. RIFQI, Taufik; a.k.a. RIFQI, Tawfiq; a.k.a. YACUB, Eric; a.k.a. “ABU OBAIDA”; a.k.a. “ABU OBAIDAH”; a.k.a. “ABU OBAYDA”; a.k.a. “ABU OBEIDA”; a.k.a. “ABU UBAIDAH”; a.k.a. “AMI IRAQ”; a.k.a. “AMI IRZA”; a.k.a. “AMI KUSOMAN”; a.k.a. “AMMY ERZA”; a.k.a. “AMMY IZZA”; a.k.a. “AMY ERJA”; a.k.a. “IZZA KUSOMAN”; a.k.a. “OBAIDAH”); DOB 29 Aug 1974; alt. DOB 19 Aug 1980; alt. DOB 9 Aug 1974; alt. DOB 19 Aug 1974; POB Dacusuman Surakarta, Central Java, Indonesia; nationality Indonesia (individual) [SDGT]

RIFQI, Taufik (a.k.a. REFKE, Taufek; a.k.a. RIFKI, Taufik; a.k.a. RIFQI, Tawfiq; a.k.a. YACUB, Eric; a.k.a. “ABU OBAIDA”; a.k.a. “ABU OBAIDAH”; a.k.a. “ABU OBAYDA”; a.k.a. “ABU OBEIDA”; a.k.a. “ABU UBAIDAH”; a.k.a. “AMI IRAQ”; a.k.a. “AMI IRZA”; a.k.a. “AMI KUSOMAN”; a.k.a. “AMMY ERZA”; a.k.a. “AMMY IZZA”; a.k.a. “AMY ERJA”; a.k.a. “IZZA KUSOMAN”; a.k.a. “OBAIDAH”); DOB 29 Aug 1974; alt. DOB 19 Aug 1980; alt. DOB 9 Aug 1974; alt. DOB 19 Aug 1974; POB Dacusuman Surakarta, Central Java, Indonesia; nationality Indonesia (individual) [SDGT]

RIFQI, Tawfiq (a.k.a. REFKE, Taufek; a.k.a. RIFKI, Taufik; a.k.a. RIFQI, Taufik; a.k.a. YACUB, Eric; a.k.a. “ABU OBAIDA”; a.k.a. “ABU OBAIDAH”; a.k.a. “ABU OBAYDA”; a.k.a. “ABU OBEIDA”; a.k.a. “ABU UBAIDAH”; a.k.a. “AMI IRAQ”; a.k.a. “AMI IRZA”; a.k.a. “AMI KUSOMAN”; a.k.a. “AMMY ERZA”; a.k.a. “AMMY IZZA”; a.k.a. “AMY ERJA”; a.k.a. “IZZA KUSOMAN”; a.k.a. “OBAIDAH”); DOB 29 Aug 1974; alt. DOB 19 Aug 1980; alt. DOB 9 Aug 1974; alt. DOB 19 Aug 1974; POB Dacusuman Surakarta, Central Java, Indonesia; nationality Indonesia (individual) [SDGT]

RIHANI, Lotfi (a.k.a. “ABDERRAHMANE”), Via Bolgeri 4, Barni (Como), Italy; DOB 1 Jul 1977; POB Tunisi, Tunisia; nationality Tunisia; Passport L 886177 issued 14 Dec 1998 expires 13 Dec 2003 (individual) [SDGT]

RIONAP COMERCIO Y REPRESENTACIONES S.A., Av. 10 de Agosto y Gral. Vicente Aguirre, Edificio Freile Ardiani Local 101-103, Quito, Ecuador; Quito, Ecuador; RUC # 1791269969001 (Ecuador) [SDNT]

RIOS LOZANO, Alexander, Carrera 42 No. 5B-81, Cali, Colombia; Carrera 8N No. 17A-12, Cartago, Colombia; c/o AGROPECUARIA MIRALINDO S.A., Cartago, Colombia; c/o ARIZONA S.A., Cartago, Colombia; c/o MAQUINARIA TECNICA Y TIERRAS LTDA., Cali, Colombia; DOB 15 Jan 1974; Cedula No. 94402123 (Colombia); Passport 94402123 (Colombia) (individual) [SDNT]

RIRA (a.k.a. 32 COUNTY SOVEREIGNTY COMMITTEE; a.k.a. 32 COUNTY SOVEREIGNTY MOVEMENT; a.k.a. IRISH REPUBLICAN PRISONERS WELFARE ASSOCIATION; a.k.a. REAL IRA; a.k.a. REAL IRISH REPUBLICAN ARMY; a.k.a. REAL OGLAIGH NA HEIREANN) [FTO] [SDGT]

RIVAS ORTIZ, Sonia, c/o CAJA SOLIDARIA, Bogota, Colombia; c/o COOPERATIVA DE TRABAJO ASOCIADO ACTIVAR, Bogota, Colombia; c/o COPSERVIR LTDA., Bogota, Colombia; Calle 52B No. 24-31, Cali, Colombia; Carrera 6 No. 11-43 of. 505, Cali, Colombia; DOB 11 Apr 1975; Cedula No. 66956760 (Colombia) (individual) [SDNT]

RIVERA LEDESMA, Ruben Manuel, c/o ADMINISTRADORA DE SERVICIOS VARIOS CALIMA S.A., Cali, Colombia; c/o CHAMARTIN S.A., Cali, Colombia; c/o ASISTENCIA PROFESIONAL ESPECIALIZADA EN COLOMBIA LIMITADA, Cali, Colombia; Cedula No. 14886120 (Colombia); Passport 14886120 (Colombia) (individual) [SDNT]

RIVERA ZAPATA, Freddy, c/o UNIPAPEL S.A., Yumbo, Colombia; c/o CREDISA S.A., Cali, Colombia; c/o FINVE S.A., Bogota, Colombia; c/o COMPANIA DE FOMENTO MERCANTIL S.A., Cali, Colombia; POB Cali, Valle, Colombia; Cedula No. 16602963 (Colombia); Passport 16602963 (Colombia) (individual) [SDNT]

RIVEROS TRIANA, Raul, c/o COMEDICAMENTOS S.A., Bogota, Colombia; c/o DECAFARMA S.A., Bogota, Colombia; c/o FARMACOOP, Bogota, Colombia; c/o PATENTES MARCAS Y REGISTROS S.A., Bogota, Colombia; c/o SHARPER S.A., Bogota, Colombia; c/o BONOMERCAD S.A., Bogota, Colombia; c/o FOGENSA S.A., Bogota, Colombia; c/o GENERICOS ESPECIALES S.A., Bogota, Colombia; c/o INVERSIONES BOMBAY S.A., Bogota, Colombia; c/o SHARVET S.A., Bogota, Colombia; DOB 13 May 1951; Cedula No. 3252672 (Colombia); Passport 3252672 (Colombia) (individual) [SDNT]

RIXFORD INVESTMENT CORPORATION, Panama City, Panama; RUC # 1963801394709 (Panama) [SDNT]

RIYADH-AS-SALIHEEN (a.k.a. RIYADUS-SALIKHIN RECONNAISSANCE AND SABOTAGE BATTALION; a.k.a. RIYADUS-SALIKHIN RECONNAISSANCE AND SABOTAGE BATTALION OF SHAHIDS (MARTYRS); a.k.a. THE RIYADUS-SALIKHIN RECONNAISSANCE AND SABOTAGE BATTALION OF CHECHEN MARTYRS; a.k.a. THE SABOTAGE AND MILITARY SURVEILLANCE GROUP OF THE RIYADH AL-SALIHIN MARTYRS) [SDGT]

RIYADUS-SALIKHIN RECONNAISSANCE AND SABOTAGE BATTALION (a.k.a. RIYADH-AS-SALIHEEN; a.k.a. RIYADUS-SALIKHIN RECONNAISSANCE AND SABOTAGE BATTALION OF SHAHIDS (MARTYRS); a.k.a. THE RIYADUS-SALIKHIN RECONNAISSANCE AND SABOTAGE BATTALION OF CHECHEN MARTYRS; a.k.a. THE SABOTAGE AND MILITARY SURVEILLANCE GROUP OF THE RIYADH AL-SALIHIN MARTYRS) [SDGT]

RIYADUS-SALIKHIN RECONNAISSANCE AND SABOTAGE BATTALION OF SHAHIDS (MARTYRS) (a.k.a. RIYADH-AS-SALIHEEN; a.k.a. RIYADUS-SALIKHIN RECONNAISSANCE AND SABOTAGE BATTALION; a.k.a. THE RIYADUS-SALIKHIN RECONNAISSANCE AND SABOTAGE BATTALION OF CHECHEN MARTYRS; a.k.a. THE SABOTAGE AND MILITARY SURVEILLANCE GROUP OF THE RIYADH AL-SALIHIN MARTYRS) [SDGT]

RIZO MORENO, Jorge Luis, c/o SERVICIOS INMOBILIARIOS LTDA., Cali, Colombia; c/o CONSTRUCTORA DIMISA LTDA., Cali, Colombia; c/o INDUSTRIA AVICOLA PALMASECA S.A., Cali, Colombia; c/o INVERSIONES EL PENON S.A., Cali, Colombia; c/o CONSTRUVIDA S.A., Cali, Colombia; Transversal 11, Diagonal 23-30 apt. 304A, Cali, Colombia; c/o SERVIAUTOS UNO A 1A LIMITADA, Cali, Colombia; c/o IMPORTADORA Y COMERCIALIZADORA LTDA., Cali, Colombia; c/o INTERVENTORIA, CONSULTORIA Y ESTUDIOS LIMITADA INGENIEROS ARQUITECTOS, Cali, Colombia; c/o PROCESADORA DE POLLOS SUPERIOR S.A., Palmira, Colombia; DOB 17 May 1960; Cedula No. 16646582 (Colombia) (individual) [SDNT]

ROA GUTIERREZ, Andres Felipe, c/o COLIMEX LTDA., Cali, Colombia; c/o DISTRIBUIDORA SANAR DE COLOMBIA S.A., Cali, Colombia; c/o MEDIA MARKETING E.U., Cali, Colombia; c/o SERVICIOS MYRAL E.U., Cali, Colombia; c/o SISTEMAS INTEGRALES DEL VALLE, LTDA., Cali, Colombia; c/o ALERO S.A., Cali, Colombia; DOB 14 Mar 1968; Cedula No. 16752582 (Colombia); Passport 16752582 (Colombia) (individual) [SDNT]

ROA MEJIA, Alfredo, c/o SISTEMAS INTEGRALES DEL VALLE LTDA., Cali, Colombia; c/o ALERO S.A., Cali, Colombia; Cedula No. 2439912 (Colombia); Passport 2439912 (Colombia) (individual) [SDNT]

ROADS AND BRIDGES PUBLIC CORPORATION, P.O. Box 756, Khartoum, Sudan [SUDAN]

ROCHA MERINO, Abel Zacarias, c/o COPSERVIR LTDA., Bogota, Colombia; c/o CAJA SOLIDARIA, Bogota, Colombia; Cedula No. 8758394 (Colombia) (individual) [SDNT]

ROCHA, Antonio, Panama City, Panama (individual) [CUBA]

ROCKMAN LTD. (a.k.a. ROKMAN EOOD), 9 Frederick J. Curie Street, Sofia 1113, Bulgaria [LIBERIA]

RODAS CASTANO, Luis Alberto, c/o CONSTRUCCIONES ASTRO S.A., Cali, Colombia; c/o COMERCIALIZACION Y FINANCIACION DE AUTOMOTORES S.A., Cali, Colombia; DOB 11 Sep 1959; Cedula No. 16630332 (Colombia) (individual) [SDNT]

RODRIGUEZ ABADIA, William, c/o DISTRIBUIDORA MIGIL LTDA., Cali, Colombia; c/o DERECHO INTEGRAL Y CIA. LTDA., Cali, Colombia; c/o M. RODRIGUEZ O. Y CIA. S. EN C., Cali, Colombia; c/o INVERSIONES MIGUEL RODRIGUEZ E HIJO, Cali, Colombia; c/o DISTRIBUIDORA DE DROGAS CONDOR LTDA., Bogota, Colombia; c/o INVERSIONES ARA LTDA., Cali, Colombia; c/o INTERAMERICA DE CONSTRUCCIONES S.A., Cali, Colombia; c/o DEPOSITO POPULAR DE DROGAS S.A., Cali, Colombia; c/o ANDINA DE CONSTRUCCIONES S.A., Cali, Colombia; c/o DISTRIBUIDORA DE DROGAS LA REBAJA S.A., Bogota, Colombia; c/o BLANCO PHARMA S.A., Bogota, Colombia; c/o LABORATORIOS BLAIMAR DE COLOMBIA S.A., Bogota, Colombia; c/o RADIO UNIDAS FM S.A., Cali, Colombia; c/o ASPOIR DEL PACIFICO Y CIA. LTDA., Cali, Colombia; c/o RIONAP COMERCIO Y REPRESENTACIONES S.A., Quito, Ecuador; c/o VALORES MOBILIARIOS DE OCCIDENTE S.A., Bogota, Colombia; c/o LABORATORIOS KRESSFOR DE COLOMBIA S.A., Bogota, Colombia; c/o REVISTA DEL AMERICA LTDA., Cali, Colombia; c/o MUNOZ Y RODRIGUEZ Y CIA. LTDA., Cali, Colombia; c/o CLAUDIA PILAR RODRIGUEZ Y CIA. S.C.S., Bogota, Colombia; c/o PRODUCCIONES CARNAVAL DEL NORTE Y COMPANIA LIMITADA, Cali, Colombia; c/o CREDIREBAJA S.A., Cali, Colombia; c/o ASISTENCIA PROFESIONAL ESPECIALIZADA EN COLOMBIA LIMITADA, Cali, Colombia; c/o BONOMERCAD S.A., Bogota, Colombia; c/o DECAFARMA S.A., Bogota, Colombia; c/o DROCARD S.A., Bogota, Colombia; c/o SEGUWRA DEL VALLE E.U., Cali, Colombia; c/o ALERO S.A., Cali, Colombia; DOB 31 Jul 1965; Cedula No. 16716259 (Colombia) (individual) [SDNT]

RODRIGUEZ ARBELAEZ, Carolina, c/o INVERSIONES ARA LTDA., Cali, Colombia; c/o PRODUCCIONES CARNAVAL DEL NORTE Y COMPANIA LIMITADA, Cali, Colombia; c/o ASISTENCIA PROFESIONAL ESPECIALIZADA EN COLOMBIA LIMITADA, Cali, Colombia; c/o BONOMERCAD S.A., Bogota, Colombia; c/o CREDIREBAJA S.A., Cali, Colombia; c/o DECAFARMA S.A., Bogota, Colombia; c/o DROCARD S.A., Bogota, Colombia; c/o CRASESORIAS E.U., Cali, Colombia; c/o FUNDASER, Cali, Colombia; c/o INVERSIONES CARFENI, S.L., Madrid, Spain; DOB 17 May 79; Cedula No. 29117505 (Colombia) (individual) [SDNT]

RODRIGUEZ ARBELAEZ, Juan Miguel, Avenida del Lago Calle Cocli Casa 19 Ciudad Jardin, Cali, Colombia; c/o CREDIREBAJA S.A., Cali, Colombia; c/o INVERSIONES ARA LTDA., Cali, Colombia; c/o INVERSIONES RODRIGUEZ ARBELAEZ Y CIA. S.C.S., Cali, Colombia; c/o M. RODRIGUEZ O. Y CIA. S.C.S., Cali, Colombia; c/o VALORES MOBILIARIOS DE OCCIDENTE S.A., Cali, Colombia; c/o ASISTENCIA PROFESIONAL ESPECIALIZADA EN COLOMBIA LIMITADA, Cali, Colombia; c/o BONOMERCAD S.A., Bogota, Colombia; c/o DECAFARMA S.A., Bogota, Colombia; c/o DROCARD S.A., Bogota, Colombia; c/o FUNDASER, Cali, Colombia; c/o INCOMMERCE S.A., Cali, Colombia; DOB 19 Nov 1976; Cedula No. 94491335 (Colombia) (individual) [SDNT]

RODRIGUEZ ARBELAEZ, Maria Fernanda, c/o INTERAMERICANA DE CONSTRUCCIONES S.A., Cali, Colombia; c/o RIONAP COMERCIO Y REPRESENTACIONES S.A., Quito, Ecuador; c/o INVERSIONES ARA LTDA., Cali, Colombia; c/o DISTRIBUIDORA DE DROGAS LA REBAJA S.A., Bogota, Colombia; c/o DROGAS LA REBAJA BOGOTA S.A., Bogota, Colombia; c/o DEPOSITO POPULAR DE DROGAS S.A., Cali, Colombia; c/o D'CACHE S.A., Cali, Colombia; c/o PRODUCCIONES CARNAVAL DEL NORTE Y COMPANIA LIMITADA, Cali, Colombia; c/o VALORES MOBILIARIOS DE OCCIDENTE S.A., Cali, Colombia; c/o CREDIREBAJA S.A., Cali, Colombia; c/o ASISTENCIA PROFESIONAL ESPECIALIZADA EN COLOMBIA LIMITADA, Cali, Colombia; c/o BONOMERCAD S.A., Bogota, Colombia; c/o CUSTOMER NETWORKS S.L., Madrid, Spain; c/o DECAFARMA S.A., Bogota, Colombia; c/o DROCARD S.A., Bogota, Colombia; c/o INVERSIONES ESPANOLES FEMCAR S.L., Madrid, Spain; c/o FUNDASER, Cali, Colombia; DOB 28 Nov 1973; alt. DOB 28 Aug 1973; Cedula No. 66860965 (Colombia); N.I.E. X2566947-D (Spain); Passport AC568974 (Colombia); alt. Passport 66860965 (Colombia) (individual) [SDNT]

RODRIGUEZ AYALA, Jhon Jairo, c/o COOPIFARMA, Bucaramanga, Colombia; Avenida Bucaros No. 3-05 Bloq. 8 ap. 302, Bucaramanga, Colombia; DOB 29 Nov 1975; Cedula No. 91480692 (Colombia) (individual) [SDNT]

RODRIGUEZ BALANTA, Jorge Enrique, c/o DISTRIBUCIONES GLOMIL LTDA., Cali, Colombia; c/o DISTRIBUIDORA MIGIL CALI S.A., Cali, Colombia; c/o DISMERCOOP, Cali, Colombia; DOB 24 Jun 1956; Cedula No. 16602232 (Colombia); Passport 16602232 (Colombia) (individual) [SDNT]

RODRIGUEZ CARRENO LTDA. TODO BOLSAS Y COLSOBRES (a.k.a. TODOBOLSAS Y COLSOBRES), Carrera 20 No. 66-34, Bogota, Colombia; NIT # 860053774-1 (Colombia) [SDNT]

RODRIGUEZ CONRADO, Elmer Martin, c/o COPSERVIR LTDA., Bogota, Colombia; c/o LITOPHARMA, Barranquilla, Colombia; Cedula No. 8773134 (Colombia) (individual) [SDNT]

RODRIGUEZ DE MUNOZ, Haydee (a.k.a. RODRIGUEZ DE ROJAS, Haydee; a.k.a. RODRIGUEZ OREJUELA, Haydee), c/o RADIO UNIDAS FM S.A., Cali, Colombia; c/o DISTRIBUIDORA MIGIL LTDA., Cali, Colombia; c/o CREACIONES DEPORTIVAS WILLINGTON LTDA., Cali, Colombia; c/o HAYDEE DE MUNOZ Y CIA. S. EN C., Cali, Colombia; c/o DISTRIBUIDORA DE DROGAS CONDOR LTDA., Bogota, Colombia; c/o BLANCO PHARMA S.A., Bogota, Colombia; c/o CORPORACION DEPORTIVA AMERICA, Cali, Colombia; c/o SORAYA Y HAYDEE LTDA., Cali, Colombia; DOB 22 Sep 40; Cedula No. 38953333 (Colombia) (individual) [SDNT]

RODRIGUEZ DE ROJAS, Haydee (a.k.a. RODRIGUEZ DE MUNOZ, Haydee; a.k.a. RODRIGUEZ OREJUELA, Haydee), c/o RADIO UNIDAS FM S.A., Cali, Colombia; c/o DISTRIBUIDORA MIGIL LTDA., Cali, Colombia; c/o CREACIONES DEPORTIVAS WILLINGTON LTDA., Cali, Colombia; c/o HAYDEE DE MUNOZ Y CIA. S. EN C., Cali, Colombia; c/o DISTRIBUIDORA DE DROGAS CONDOR LTDA., Bogota, Colombia; c/o BLANCO PHARMA S.A., Bogota, Colombia; c/o CORPORACION DEPORTIVA AMERICA, Cali, Colombia; c/o SORAYA Y HAYDEE LTDA., Cali, Colombia; DOB 22 Sep 40; Cedula No. 38953333 (Colombia) (individual) [SDNT]

RODRIGUEZ HERRERA, Jorge Alberto, c/o FUNDASER, Cali, Colombia; DOB 8 Dec 1962; Cedula No. 79290554 (Colombia); Passport 79290554 (Colombia) (individual) [SDNT]

RODRIGUEZ LINARES, Oswaldo, c/o DROFARCO, Barranquilla, Colombia; DOB 13 Nov 1969; Cedula No. 76310365 (Colombia); Passport 76310365 (Colombia) (individual) [SDNT]

RODRIGUEZ LOPEZ, Sergio (a.k.a. AMEZCUA CONTRERAS, Luis Ignacio; a.k.a. AMEZCUA, Luis; a.k.a. CONTRERAS, Luis C.; a.k.a. LOPEZ, Luis; a.k.a. LOZANO, Eduardo; a.k.a. OCHOA, Salvador); DOB 22 FEB 64; alt. DOB 21 FEB 64; alt. DOB 21 FEB 74; POB Mexico (individual) [SDNTK]

RODRIGUEZ MONDRAGON, Alexandra (a.k.a. RODRIGUEZ MONDRAGON, Maria Alexandra), c/o BLANCO PHARMA S.A., Bogota, Colombia; c/o DEPOSITO POPULAR DE DROGAS S.A., Cali, Colombia; c/o DISTRIBUIDORA MIGIL LTDA., Cali, Colombia; c/o MARIELA DE RODRIGUEZ Y CIA. S. EN C., Cali, Colombia; c/o PENTA PHARMA DE COLOMBIA S.A., Bogota, Colombia; c/o TOBOGON, Cali, Colombia; c/o DISTRIBUIDORA DE DROGAS CONDOR LTDA., Bogota, Colombia; c/o DISTRIBUIDORA DE DROGAS LA REBAJA S.A., Bogota, Colombia; c/o LABORATORIOS BLAIMAR DE COLOMBIA S.A., Bogota, Colombia; c/o GRACADAL S.A., Cali, Colombia; c/o INTERAMERICA DE CONSTRUCCIONES S.A., Cali, Colombia; c/o CORPORACION DEPORTIVA AMERICA, Cali, Colombia; c/o D'CACHE S.A., Cali, Colombia; c/o INVERSIONES MONDRAGON Y CIA. S.C.S., Cali, Colombia; c/o MARIELA MONDRAGON DE R. Y CIA. S. EN C., Cali, Colombia; c/o CREDIREBAJA S.A., Cali, Colombia; c/o CUSTOMER NETWORKS S.L., Madrid, Spain; c/o DROCARD S.A., Bogota, Colombia; c/o INVERSIONES INMOBILIARIAS VALERIA S.L., Madrid, Spain; c/o INVERSIONES Y CONSTRUCCIONES COSMOVALLE LTDA., Cali, Colombia; c/o SISTEMAS Y SERVICIOS TECNICOS EMPRESA UNIPERSONAL, Cali, Colombia; c/o FUNDASER, Cali, Colombia; c/o ALERO S.A., Cali, Colombia; DOB 30 May 1969; alt. DOB 5 May 1969; Cedula No. 66810048 (Colombia); N.I.E. X2561613-B (Spain); Passport AD359106 (Colombia); alt. Passport 66810048 (Colombia) (individual) [SDNT]

RODRIGUEZ MONDRAGON, Humberto, c/o MAXITIENDAS TODO EN UNO, Cali, Colombia; c/o PENTA PHARMA DE COLOMBIA S.A., Bogota, Colombia; c/o RADIO UNIDAS FM S.A., Cali, Colombia; c/o RIONAP COMERCIO Y REPRESENTACIONES S.A., Quito, Ecuador; c/o DISTRIBUIDORA DE DROGAS CONDOR LTDA., Bogota, Colombia; c/o DISTRIBUIDORA DE DROGAS LA REBAJA S.A., Bogota, Colombia; c/o DISTRIBUIDORA MIGIL LTDA., Cali, Colombia; c/o LABORATORIOS BLAIMAR DE COLOMBIA S.A., Bogota, Colombia; c/o LABORATORIOS KRESSFOR DE COLOMBIA S.A., Bogota, Colombia; c/o GRACADAL S.A., Cali, Colombia; c/o INTERAMERICA DE CONSTRUCCIONES S.A., Cali, Colombia; c/o ANDINA DE CONSTRUCCIONES S.A., Cali, Colombia; c/o BLANCO PHARMA S.A., Bogota, Colombia; c/o DEPOSITO POPULAR DE DROGAS S.A., Cali, Colombia; c/o FARMATODO S.A., Bogota, Colombia; c/o MARIELA DE RODRIGUEZ Y CIA. S. EN C., Cali, Colombia; c/o CLAUDIA PILAR RODRIGUEZ Y CIA. S.C.S., Bogota, Colombia; c/o D'CACHE S.A., Cali, Colombia; c/o INDUSTRIAL DE GESTION DE NEGOCIOS E.U., Cali, Colombia; c/o INVERSIONES MONDRAGON Y CIA. S.C.S., Cali, Colombia; c/o CREDIREBAJA S.A., Cali, Colombia; c/o ADMINISTRADORA DE SERVICIOS VARIOS CALIMA S.A., Cali, Colombia; c/o ASESORIAS PROFESIONALES ESPECIALIZADAS EN NEGOCIOS E.U., Cali, Colombia; c/o BONOMERCAD S.A., Bogota, Colombia; c/o CODISA, Bogota, Colombia; c/o COMERCIALIZADORA INTERTEL S.A., Cali, Colombia; c/o COPSERVIR LTDA., Bogota, Colombia; c/o COSMEPOP, Bogota, Colombia; c/o DECAFARMA S.A., Bogota, Colombia; c/o DROCARD S.A., Bogota, Colombia; c/o FARMACOOP, Bogota, Colombia; c/o DISTRIBUIDORA SANAR DE COLOMBIA S.A., Cali, Colombia; c/o FOGENSA S.A., Bogota, Colombia; c/o PROSALUD Y BIENESTAR S.A., Cali, Colombia; c/o REPRESENTACIONES Y DISTRIBUCIONES HUERTAS Y ASOCIADOS S.A., Bogota, Colombia; c/o VALORES CORPORATIVOS ESPANOLES S.L., Madrid, Spain; c/o FUNDASER, Cali, Colombia; c/o LATINFAMRACOS S.A., Quito, Ecuador; c/o ALERO S.A., Cali, Colombia; DOB 21 Jun 63; Cedula No. 16688683 (Colombia); Passport AD387757 (Colombia); alt. Passport 16688683 (Colombia) (individual) [SDNT]

RODRIGUEZ MONDRAGON, Jaime, c/o FLEXOEMPAQUES LTDA., Cali, Colombia; c/o GRACADAL S.A., Cali, Colombia; c/o LABORATORIOS BLAIMAR DE COLOMBIA S.A., Bogota, Colombia; c/o MARIELA DE RODRIGUEZ Y CIA. S. EN C., Cali, Colombia; c/o PENTA PHARMA DE COLOMBIA S.A., Bogota, Colombia; c/o DISTRIBUIDORA MIGIL LTDA., Cali, Colombia; c/o RIONAP COMERCIO Y REPRESENTACIONES S.A., Quito, Ecuador; c/o DISTRIBUIDORA DE DROGAS CONDOR LTDA., Bogota, Colombia; c/o DISTRIBUIDORA DE DROGAS LA REBAJA S.A., Bogota, Colombia; c/o DEPOSITO POPULAR DE DROGAS S.A., Cali, Colombia; c/o FARMATODO S.A., Bogota, Colombia; c/o BLANCO PHARMA S.A., Bogota, Colombia; c/o CORPORACION DEPORTIVA AMERICA, Cali, Colombia; c/o D'CACHE S.A., Cali, Colombia; c/o INVERSIONES MONDRAGON Y CIA. S.C.S., Cali, Colombia; c/o CREDIREBAJA S.A., Cali, Colombia; c/o ASESORIAS DE INGENIERIA EMPRESA UNIPERSONAL, Cali, Colombia; c/o BONOMERCAD S.A., Bogota, Colombia; c/o DECAFARMA S.A., Bogota, Colombia; c/o DROCARD S.A., Bogota, Colombia; c/o INVERSIONES Y CONSTRUCCIONES COSMOVALLE LTDA., Cali, Colombia; c/o JAROMO INVERSIONES S.L., Madrid, Spain; c/o PROSPECTIVA EMPRESA UNIPERSONAL, Cali, Colombia; c/o REPRESENTACIONES Y DISTRIBUCIONES HUERTAS Y ASOCIADOS S.A., Bogota, Colombia; c/o SERVICIOS DE LA SABANA E.U., Bogota, Colombia; c/o FUNDASER, Cali, Colombia; c/o LATINFAMRACOS S.A., Quito, Ecuador; c/o ALERO S.A., Cali, Colombia; c/o PLASTICOS CONDOR LTDA., Cali, Colombia; c/o LABORATORIOS KRESSFOR DE COLOMBIA S.A., Bogota, Colombia; DOB 30 Mar 1960; Cedula No. 16637592 (Colombia); N.I.E. x2641093-A (Spain); Passport AE426347 (Colombia); alt. Passport 16637592 (Colombia) (individual) [SDNT]

RODRIGUEZ MONDRAGON, Maria Alexandra (a.k.a. RODRIGUEZ MONDRAGON, Alexandra), c/o BLANCO PHARMA S.A., Bogota, Colombia; c/o DEPOSITO POPULAR DE DROGAS S.A., Cali, Colombia; c/o DISTRIBUIDORA MIGIL LTDA., Cali, Colombia; c/o MARIELA DE RODRIGUEZ Y CIA. S. EN C., Cali, Colombia; c/o PENTA PHARMA DE COLOMBIA S.A., Bogota, Colombia; c/o TOBOGON, Cali, Colombia; c/o DISTRIBUIDORA DE DROGAS CONDOR LTDA., Bogota, Colombia; c/o DISTRIBUIDORA DE DROGAS LA REBAJA S.A., Bogota, Colombia; c/o LABORATORIOS BLAIMAR DE COLOMBIA S.A., Bogota, Colombia; c/o GRACADAL S.A., Cali, Colombia; c/o INTERAMERICA DE CONSTRUCCIONES S.A., Cali, Colombia; c/o CORPORACION DEPORTIVA AMERICA, Cali, Colombia; c/o D'CACHE S.A., Cali, Colombia; c/o INVERSIONES MONDRAGON Y CIA. S.C.S., Cali, Colombia; c/o MARIELA MONDRAGON DE R. Y CIA. S. EN C., Cali, Colombia; c/o CREDIREBAJA S.A., Cali, Colombia; c/o CUSTOMER NETWORKS S.L., Madrid, Spain; c/o DROCARD S.A., Bogota, Colombia; c/o INVERSIONES INMOBILIARIAS VALERIA S.L., Madrid, Spain; c/o INVERSIONES Y CONSTRUCCIONES COSMOVALLE LTDA., Cali, Colombia; c/o SISTEMAS Y SERVICIOS TECNICOS EMPRESA UNIPERSONAL, Cali, Colombia; c/o FUNDASER, Cali, Colombia; c/o ALERO S.A., Cali, Colombia; DOB 30 May 1969; alt. DOB 5 May 1969; Cedula No. 66810048 (Colombia); N.I.E. X2561613-B (Spain); Passport AD359106 (Colombia); alt. Passport 66810048 (Colombia) (individual) [SDNT]

RODRIGUEZ MORENO, Juan Pablo, c/o INVERSIONES RODRIGUEZ MORENO, Cali, Colombia; Carrera 65 647, Cali, Colombia; DOB 30 Jul 1980 (individual) [SDNT]

RODRIGUEZ MORENO, Miguel Andres, Carrera 66 No. 6-47, Cali, Colombia; Carrera 65 No. 6-47, Cali, Colombia; c/o INVERSIONES RODRIGUEZ MORENO, Cali, Colombia; c/o ASISTENCIA PROFESIONAL ESPECIALIZADA EN COLOMBIA LIMITADA, Cali, Colombia; DOB 14 Jul 1977; Cedula No. 94328841 (Colombia); Passport AD253939 (Colombia) (individual) [SDNT]

RODRIGUEZ OREJUELA DE GIL, Amparo, c/o DISTRIBUIDORA MIGIL LTDA., Cali, Colombia; c/o LABORATORIOS BLAIMAR DE COLOMBIA S.A., Bogota, Colombia; c/o CREACIONES DEPORTIVAS WILLINGTON LTDA., Cali, Colombia; c/o DEPOSITO POPULAR DE DROGAS S.A., Cali, Colombia; c/o LABORATORIOS KRESSFOR DE COLOMBIA S.A., Bogota, Colombia; c/o BLANCO PHARMA S.A., Bogota, Colombia; c/o RADIO UNIDAS FM S.A., Cali, Colombia; c/o DISTRIBUIDORA DE DROGAS CONDOR LTDA., Bogota, Colombia; c/o CORPORACION DEPORTIVA AMERICA, Cali, Colombia; c/o D'CACHE S.A., Cali, Colombia; c/o DROBLAM S.A., Cali, Colombia; DOB 13 Mar 49; Cedula No. 31218703 (Colombia); Passport AC342062 (Colombia) (individual) [SDNT]

RODRIGUEZ OREJUELA, Gilberto Jose (a.k.a. “LUCAS”; a.k.a. “THE CHESS PLAYER”), Cali, Colombia; DOB 31 Jan 1939; Cedula No. 6068015 (Colombia); alt. Cedula No. 6067015 (Colombia); Passport T321642 (Colombia); alt. Passport 6067015 (Comoros); alt. Passport 77588 (Argentina); alt. Passport 10545599 (Venezuela) (individual) [SDNT]

RODRIGUEZ OREJUELA, Haydee (a.k.a. RODRIGUEZ DE MUNOZ, Haydee; a.k.a. RODRIGUEZ DE ROJAS, Haydee), c/o RADIO UNIDAS FM S.A., Cali, Colombia; c/o DISTRIBUIDORA MIGIL LTDA., Cali, Colombia; c/o CREACIONES DEPORTIVAS WILLINGTON LTDA., Cali, Colombia; c/o HAYDEE DE MUNOZ Y CIA. S. EN C., Cali, Colombia; c/o DISTRIBUIDORA DE DROGAS CONDOR LTDA., Bogota, Colombia; c/o BLANCO PHARMA S.A., Bogota, Colombia; c/o CORPORACION DEPORTIVA AMERICA, Cali, Colombia; c/o SORAYA Y HAYDEE LTDA., Cali, Colombia; DOB 22 Sep 40; Cedula No. 38953333 (Colombia) (individual) [SDNT]

RODRIGUEZ OREJUELA, Miguel Angel (a.k.a. “DOCTOR M.R.O.”; a.k.a. “EL SENOR”; a.k.a. “MANOLO”; a.k.a. “MANUEL”; a.k.a. “MAURO”; a.k.a. “MIKE”; a.k.a. “PAT”; a.k.a. “PATRICIA”; a.k.a. “PATRICIO”; a.k.a. “PATTY”), Casa No. 19, Avenida Lago, Ciudad Jardin, Cali, Colombia; DOB 23 Nov 43; alt. DOB 15 Aug 43; Cedula No. 6095803 (Colombia) (individual) [SDNT]

RODRIGUEZ PINZON, Manuel, c/o LABORATORIOS KRESSFOR, Bogota, Colombia; c/o ALFA PHARMA S.A., Cali, Colombia; DOB 12 Mar 1947; Cedula No. 17171485 (Colombia) (individual) [SDNT]

RODRIGUEZ RAMIREZ, Andre Gilberto, Calle 10 No. 4-47 piso 18, Cali, Colombia; c/o ANDINA DE CONSTRUCCIONES S.A., Cali, Colombia; c/o BONOMERCAD S.A., Bogota, Colombia; c/o CAFE ANDINO S.L., Madrid, Spain; c/o CONSULTORIA SANTAFE E.U., Bogota, Colombia; c/o CREDIREBAJA S.A., Cali, Colombia; c/o DECAFARMA S.A., Bogota, Colombia; c/o DISTRIBUIDORA SANAR DE COLOMBIA S.A., Cali, Colombia; c/o DROCARD S.A., Bogota, Colombia; c/o FOGENSA S.A., Bogota, Colombia; c/o INVERSIONES RODRIGUEZ RAMIREZ Y CIA. S.C.S., Cali, Colombia; c/o INVERSIONES Y CONSTRUCCIONES ABC S.A., Cali, Colombia; c/o ALERO S.A., Cali, Colombia; DOB 22 Mar 1972; Cedula No. 16798937 (Colombia); Passport 16798937 (Colombia) (individual) [SDNT]

RODRIGUEZ RAMIREZ, Claudia Pilar, c/o INTERAMERICANA DE CONSTRUCCIONES S.A., Cali, Colombia; c/o FARMATODO S.A., Bogota, Colombia; c/o LABORATORIOS BLAIMAR DE COLOMBIA S.A., Bogota, Colombia; c/o DISTRIBUIDORA DE DROGAS CONDOR LTDA., Bogota, Colombia; c/o DISTRIBUIDORA DE DROGAS LA REBAJA S.A., Bogota, Colombia; c/o DISTRIBUIDORA MIGIL LTDA., Cali, Colombia; c/o LABORATORIOS KRESSFOR DE COLOMBIA S.A., Bogota, Colombia; c/o GRACADAL S.A., Cali, Colombia; c/o DEPOSITO POPULAR DE DROGAS S.A., Cali, Colombia; c/o CLAUDIA PILAR RODRIGUEZ Y CIA. S.C.S., Bogota, Colombia; c/o D'CACHE S.A., Cali, Colombia; c/o CREDIREBAJA S.A., Cali, Colombia; c/o BONOMERCAD S.A., Bogota, Colombia; c/o DEFAFARMA S.A., Bogota, Colombia; c/o DIRECCION COMERCIAL Y MARKETING CONSULTORIA EMPRESA UNIPERSONAL, Bogota, Colombia; c/o DROCARD S.A., Bogota, Colombia; c/o INVERSIONES CLAUPI S.L., Madrid, Colombia; c/o ALERO S.A., Cali, Colombia; DOB 30 Jun 1963; alt. DOB 30 Aug 1963; alt. DOB 1966; Cedula No. 51741013 (Colombia); Passport 007281 (Colombia); alt. Passport P0555266 (Colombia); alt. Passport 51741013 (Colombia) (individual) [SDNT]

RODRIGUEZ TELLEZ, Luz Jazmin (a.k.a. RODRIGUEZ TELLEZ, Luz Yazmin), c/o LABORATORIOS PROFARMA LTDA., Bogota, Colombia; c/o MATERIAS PRIMAS Y SUMINISTROS S.A., Bogota, Colombia; DOB 30 Apr 1972; Cedula No. 52030300 (Colombia); Passport 52030300 (Colombia) (individual) [SDNT]

RODRIGUEZ TELLEZ, Luz Yazmin (a.k.a. RODRIGUEZ TELLEZ, Luz Jazmin), c/o LABORATORIOS PROFARMA LTDA., Bogota, Colombia; c/o MATERIAS PRIMAS Y SUMINISTROS S.A., Bogota, Colombia; DOB 30 Apr 1972; Cedula No. 52030300 (Colombia); Passport 52030300 (Colombia) (individual) [SDNT]

RODRIGUEZ Y TOLBANOS S.A., Plaza de Espana 2, 1-C, Alcala de Henares, Madrid, Spain; Pgno. Ind. Camporrosso, C/Buenos Aires, 1 nave 15, 28806 Alcala de Henares, Madrid, Spain; C.I.F. A82467887 (Spain) [SDNT]

RODRIQUEZ BORGES, Jesus (a.k.a. RODRIQUEZ BORJES, Jesus), Panama (individual) [CUBA]

RODRIQUEZ BORJES, Jesus (a.k.a. RODRIQUEZ BORGES, Jesus), Panama (individual) [CUBA]

RODRIQUEZ, Jose Julio, 20 Ironmonger Lane, London EC2V 8EY, United Kingdom; Chairman, Havana International Bank (individual) [CUBA]

ROGULJIC, Slavko; DOB 1952 (individual) [BALKANS]

ROJAS BECERRA, Andres Felipe, c/o COMERCIALIZADORA INTERTEL S.A., Cali, Colombia; c/o CONTACTEL COMUNICACIONES S.A., Cali, Colombia; DOB 18 Feb 1978; Cedula No. 94520044 (Colombia); Passport 94520044 (Colombia) (individual) [SDNT]

ROJAS DE MENDOZA, Marleny, c/o COOPIFARMA, Bucaramanga, Colombia; Carrera 17 No. 17-65, Bucaramanga, Colombia; DOB 26 Jan 1956; Cedula No. 63288987 (Colombia) (individual) [SDNT]

ROJAS GALARZA, Carmen Amparo, Carrera 35 No. 10-130, Cali, Colombia; c/o CREDIREBAJA S.A., Cali, Colombia; Cedula No. 34511289 (Colombia) (individual) [SDNT]

ROJAS GOMEZ, Miryam Yaneth, c/o VALORCORP S.A., Bogota, Colombia; Cedula No. 23323121 (Colombia) (individual) [SDNT]

ROJAS MEJIA, Hernan, c/o COLOR 89.5 FM STEREO, Cali, Colombia; Calle 2A Oeste No. 24B-45 apt. 503A, Cali, Colombia; Calle 6A No. 9N-34, Cali, Colombia; c/o CONSTRUCCIONES COLOMBO-ANDINAS LTDA., Bogota, Colombia; c/o INVERSIONES Y CONSTRUCCIONES ABC S.A., Cali, Colombia; c/o OCCIDENTAL COMUNICACIONES LTDA., Cali, Colombia; DOB 28 Aug 1948; Cedula No. 16242661 (Colombia) (individual) [SDNT]

ROJAS MONTOYA, Maritza, c/o GRAJALES S.A., La Union, Valle, Colombia; c/o CASA GRAJALES S.A., La Union, Valle, Colombia; c/o FREXCO S.A., La Union, Valle, Colombia; c/o IBADAN LTDA., Tulua, Valle, Colombia; c/o INVERSIONES AGUILA LTDA., La Union, Valle, Colombia; Cedula No. 31838109 (Colombia) (individual) [SDNT]

ROJAS ORTIS, Rosa, c/o ALFA PHARMA S.A., Cali, Colombia; DOB 9 Nov 1941; Cedula No. 26577444 (Colombia) (individual) [SDNT]

ROJAS SALAMANCA, Myriam, c/o GENERICOS ESPECIALES S.A., Bogota, Colombia; c/o LABORATORIOS KRESSFOR DE COLOMBIA S.A., Bogota, Colombia; c/o LEMOFAR LTDA., Bogota, Colombia; DOB 3 Apr 1959; Cedula No. 35324270 (Colombia); Passport 35324270 (Colombia) (individual) [SDNT]

ROJAS VARGAS, Alberto, c/o COLFARMA PERU S.A., Lima, Peru; c/o ESPIBENA S.A., Quito, Ecuador; c/o FARFALLA INVESTMENT S.A., Panama City, Panama; Cedula No. 13922413 (Colombia) (individual) [SDNT]

ROJAS VILLARREAL, Andres Mauricio, c/o GIAMX LTDA., Bogota, Colombia; c/o WORLD TRADE LTDA., Bogota, Colombia; Cedula No. 80415760 (Colombia) (individual) [SDNT]

ROKMAN EOOD (a.k.a. ROCKMAN LTD.), 9 Frederick J. Curie Street, Sofia 1113, Bulgaria [LIBERIA]

ROMAN DOMINGUEZ, Erika, c/o TAURA S.A., Cali, Colombia; Cedula No. 66955540 (Colombia) (individual) [SDNT]

ROMEO, Charles (a.k.a. ROMEO, Charles Henri Robert), Panama (individual) [CUBA]

ROMEO, Charles Henri Robert (a.k.a. ROMEO, Charles), Panama (individual) [CUBA]

ROMERO BERMUDEZ, Tomas, c/o COPSERVIR LTDA., Bogota, Colombia; c/o LITOPHARMA, Barranquilla, Colombia; Carrera 13C No. 36B-100 ap. 403, Barranquilla, Colombia; Cedula No. 72206669 (Colombia) (individual) [SDNT]

ROMERO INFANTE, Diana, c/o CAJA SOLIDARIA, Bogota, Colombia; c/o COPSERVIR LTDA., Bogota, Colombia; c/o MEGAPHARMA LTDA., Bogota, Colombia; Cedula No. 51976407 (Colombia) (individual) [SDNT]

ROMERO LOPEZ, Nidia Cristina (a.k.a. ROMERO LOPEZ, Nydia Cristina), c/o CAJA SOLIDARIA, Bogota, Colombia; c/o COPSERVIR LTDA., Bogota, Colombia; c/o TRIMARK LTDA., Bogota, Colombia; Cedula No. 66978367 (Colombia) (individual) [SDNT]

ROMERO LOPEZ, Nydia Cristina (a.k.a. ROMERO LOPEZ, Nidia Cristina), c/o CAJA SOLIDARIA, Bogota, Colombia; c/o COPSERVIR LTDA., Bogota, Colombia; c/o TRIMARK LTDA., Bogota, Colombia; Cedula No. 66978367 (Colombia) (individual) [SDNT]

ROMERO PENAGOS, Cesar Augusto, c/o CODISA, Bogota, Colombia; c/o FARMACOOP, Bogota, Colombia; DOB 20 Jan 1972; Cedula No. 791384496 (Colombia); Passport 791384496 (Colombia) (individual) [SDNT]

ROMERO VARELA, Carlos Ali (a.k.a. MARTINEZ, Richard), c/o LOS GNOMOS LTDA., Cali, Colombia; c/o SOCIEDAD DE COMERCIALIZACION INTERNACIONAL POSEIDON S.A., Sabaneta, Antioquia, Colombia; DOB 19 Mar 1959; alt. DOB 19 Feb 1959; Cedula No. 13447909 (Colombia); Passport B0088212 (Venezuela) (individual) [SDNTK]

ROMERO, Antonio (a.k.a. ALCIDES MAGANA, Ramon; a.k.a. ALCIDES MAGANE, Ramon; a.k.a. ALCIDES MAYENA, Ramon; a.k.a. ALCIDEZ MAGANA, Ramon; a.k.a. GONZALEZ QUIONES, Jorge; a.k.a. MAGANA ALCIDES, Ramon; a.k.a. MAGANA, Jorge; a.k.a. MAGNA ALCIDEDES, Ramon; a.k.a. MATA, Alcides; a.k.a. RAMON MAGANA, Alcedis; a.k.a. RAMON MAGANA, Alcides); DOB 4 Sep 57 (individual) [SDNTK]

ROPERT, Miria Contreras (a.k.a. CONTRERAS, Miria), Paris, France (individual) [CUBA]

ROQUE PEREZ, Roberto, Panama (individual) [CUBA]

ROSALES DIAZ, Hector Emilio, c/o CONCRETOS CALI S.A., Cali, Colombia; c/o INVERSIONES GEMINIS S.A., Cali, Colombia; c/o ADMINISTRACION INMOBILIARIA BOLIVAR S.A., Cali, Colombia; c/o INVERSIONES VILLA PAZ S.A., Cali, Colombia; c/o INVERSIONES EL PENON S.A., Cali, Colombia; c/o INDUSTRIA AVICOLA PALMASECA S.A., Cali, Colombia; c/o CONSTRUCTORA DIMISA LTDA., Cali, Colombia; c/o MERCAVICOLA LTDA., Cali, Colombia; c/o COMPANIA ADMINISTRADORA DE VIVIENDA S.A., Cali, Colombia; DOB 1 Apr 1955; Cedula No. 16588924 (Colombia) (individual) [SDNT]

ROUINE, Al-Azhar Ben Khalifa Ben Ahmed (a.k.a. ROUINE, Lazher Ben Khalifa Ben Ahmed; a.k.a. “LAZHAR”; a.k.a. “SALMANE”), Vicolo San Giovanni, Rimini, Italy; DOB 20 Nov 1975; POB Sfax, Tunisia; nationality Tunisia; Passport P 182583 issued 13 Sep 2003 expires 12 Sep 2007; arrested 30 Sep 2002 (individual) [SDGT]

ROUINE, Lazher Ben Khalifa Ben Ahmed (a.k.a. ROUINE, Al-Azhar Ben Khalifa Ben Ahmed; a.k.a. “LAZHAR”; a.k.a. “SALMANE”), Vicolo San Giovanni, Rimini, Italy; DOB 20 Nov 1975; POB Sfax, Tunisia; nationality Tunisia; Passport P 182583 issued 13 Sep 2003 expires 12 Sep 2007; arrested 30 Sep 2002 (individual) [SDGT]

ROZO CLAVIJO, Miguel Antonio, c/o CONSTRUCTORA ALTOS DEL RETIRO LTDA., Bogota, Colombia; DOB 18 Aug 1943; Cedula No. 17093270 (Colombia) (individual) [SDNT]

ROZO VARON, Luis Carlos, c/o LABORATORIOS GENERICOS VETERINARIOS, Bogota, Colombia; c/o BLANCO PHARMA S.A., Bogota, Colombia; c/o FARMATODO S.A., Bogota, Colombia; c/o LABORATORIOS KRESSFOR, Bogota, Colombia; DOB 11 Apr 1959; Cedula No. 5838525 (Colombia); Passport AF101921 (Colombia) (individual) [SDNT]

RR TOUR, S.A. DE C.V., Lopez Cotilla 1994, C.P. 44140 , Guadalajara, Mexico [SDNT]

RUBENACH ROIG, Juan Luis; DOB 18 September 1964; POB Bilbao Vizcaya Province, Spain; D.N.I. 18.197.545; Member ETA (individual) [SDGT]

RUEDA FAJARDO, Herberth Gonzalo, c/o FARMACOOP, Bogota, Colombia; c/o LABORATORIOS GENERICOS VETERINARIOS, Bogota, Colombia; c/o LABORATORIOS KRESSFOR DE COLOMBIA S.A., Bogota, Colombia; DOB 6 Oct 1964; Cedula No. 12126395 (Colombia) (individual) [SDNT]

RUELAS MARTINEZ, Felipe, Calle Ventisca 2359 Secc. Dorado, Colonia Playas de Tijuana, Tijuana, Baja California, Mexico; Calle Saino 5, Colonia Hacienda del Tepeyac, Zapopan, Jalisco CP 45053, Mexico; DOB 6 Jun 1962 (individual) [SDNTK]

RUELAS MARTINEZ, Jose de la Cruz, c/o CONSULTORIA DE INTERDIVISAS, S.A. DE C.V., Tijuana, Baja California, Mexico; Calle de la Ventisca 640, Colonia Playas Seccion Dorado, Tijuana, Baja California CP 22205, Mexico; Calle Ventisca 2359 Secc. Dorado, Colonia Playas de Tijuana, Tijuana, Baja California, Mexico; c/o MULTISERVICIOS ALPHA, S.A. DE C.V., Tijuana, Baja California, Mexico; DOB 30 Mar 1965; POB Guadalajara, Jalisco, Mexico; Passport 01020023629 (Mexico) (individual) [SDNTK]

RUELAS MARTINEZ, Jose Manuel, Av. Pque. Mexico Nte. 824, Colonia Playas de Tijuana, Tijuana, Baja California CP 22200, Mexico; Esmeralda 3091, Colonia Residencial Victoria CR 45051, Zapopan, Jalisco CP 44550, Mexico; 402 Milagrosa Circle, Chula Vista, CA 91910; c/o GLOBAL FILMS, S.A. DE C.V., Tijuana, Baja California, Mexico; c/o HACIENDA DE DON JOSE RESTAURANT BAR, S.A. DE C.V., Tijuana, Baja California, Mexico; c/o MULTISERVICIOS ALPHA, S.A. DE C.V., Tijuana, Baja California, Mexico; c/o MULTISERVICIOS GAMAL, S.A. DE C.V., Tijuana, Baja California, Mexico; c/o MULTISERVICIOS SIGLO, S.A. DE C.V., Tijuana, Baja California, Mexico; DOB 16 Jun 1960; POB Talpa de Allende, Jalisco, Mexico; alt. POB Guadalajara, Jalisco, Mexico; Passport 036182282 (United States); R.F.C. RUMM-600616-G69 (Mexico); SSN 622-18-0486 (United States) (individual) [SDNTK]

RUELAS TOPETE, Carlos Antonio, Calle de la Bahia 3178, Colonia Playas Costa Hermosa, Tijuana, Baja California CP 22240, Mexico; Calle Ventisca 2359 Secc. Dorado, Colonia Playas de Tijuana, Tijuana, Baja California, Mexico; c/o HACIENDA DE DON JOSE RESTAURANT BAR, S.A. DE C.V., Tijuana, Baja California, Mexico; DOB 12 Aug 1968; POB Guadalajara, Jalisco, Mexico; R.F.C. RUTC-680812-PS6 (Mexico) (individual) [SDNTK]

RUELAS TOPETE, Eduardo, c/o CONSULTORIA DE OCCIDENTE, S.A. DE C.V., Guadalajara, Jalisco, Mexico; Ave. Pque. Mexico Sur 910, Colonia Playas de Tijuana, Tijuana, Baja California CP 22200, Mexico; Calle del Volcan 682, Colonia Playas de Tijuana, Tijuana, Baja California CP 22200, Mexico; c/o HACIENDA DE DON JOSE RESTAURANT BAR, S.A. DE C.V., Tijuana, Baja California, Mexico; DOB 20 Feb 1967; POB Guadalajara, Jalisco, Mexico; R.F.C. RUTE-670220-DVO (Mexico) (individual) [SDNTK]

RUELAS TOPETE, Jose Luis, c/o CONSULTORIA DE OCCIDENTE, S.A. DE C.V., Guadalajara, Jalisco, Mexico; DOB 13 Aug 1970; POB Guadalajara, Jalisco, Mexico; R.F.C. RUTL-700813-L31 (Mexico) (individual) [SDNTK]

RUIZ CASTANO, Maria Helena, c/o LADRILLERA LA CANDELARIA LTDA., Cali, Colombia; DOB 17 Nov 1970; Cedula No. 66901635 (Colombia); Passport 66901635 (Colombia) (individual) [SDNT]

RUIZ HERNANDEZ, Gregorio Rafael, c/o COMERCIALIZADORA OROBANCA, Cali, Colombia; DOB 20 May 1963; Cedula No. 16823501 (Colombia) (individual) [SDNT]

RUIZ POO, Ramon Miguel, Panama (individual) [CUBA]

RUNGRIN COMPANY LTD. (a.k.a. BORISAT RUNGRIN CHAMKAT), 275 Soi Thiam Ruammit, Ratchada Phisek Road, Huai Khwang district, Bangkok, Thailand [SDNTK]

RUPRAH, Sanjivan (a.k.a. NASR, Samir M.); DOB 9 Aug 1966; nationality Kenya; Passport D-001829-00 (Liberia); Businessman; Former Deputy Commissioner, Bureau of Maritime Affairs of Liberia (individual) [LIBERIA]

RUSDAN, Abu (a.k.a. ABU THORIQ; a.k.a. RUSDJAN; a.k.a. RUSJAN; a.k.a. RUSYDAN; a.k.a. THORIQUDDIN; a.k.a. THORIQUIDDIN; a.k.a. THORIQUIDIN; a.k.a. TORIQUDDIN); DOB 16 Aug 1960; POB Kudus, Central Java, Indonesia (individual) [SDGT]

RUSDJAN (a.k.a. ABU THORIQ; a.k.a. RUSDAN, Abu; a.k.a. RUSJAN; a.k.a. RUSYDAN; a.k.a. THORIQUDDIN; a.k.a. THORIQUIDDIN; a.k.a. THORIQUIDIN; a.k.a. TORIQUDDIN); DOB 16 Aug 1960; POB Kudus, Central Java, Indonesia (individual) [SDGT]

RUSERE, Tinos, 12 Cooke Avenue, Southerton, Harare, Zimbabwe; DOB 10 May 1945; Deputy Minister of Mines and Mining Development (individual) [ZIMBABWE]

RUSHITI, Sait (a.k.a. RUXHETI, Sait); DOB 7 Nov 1966 (individual) [BALKANS]

RUSJAN (a.k.a. ABU THORIQ; a.k.a. RUSDAN, Abu; a.k.a. RUSDJAN; a.k.a. RUSYDAN; a.k.a. THORIQUDDIN; a.k.a. THORIQUIDDIN; a.k.a. THORIQUIDIN; a.k.a. TORIQUDDIN); DOB 16 Aug 1960; POB Kudus, Central Java, Indonesia (individual) [SDGT]

RUSYDAN (a.k.a. ABU THORIQ; a.k.a. RUSDAN, Abu; a.k.a. RUSDJAN; a.k.a. RUSJAN; a.k.a. THORIQUDDIN; a.k.a. THORIQUIDDIN; a.k.a. THORIQUIDIN; a.k.a. TORIQUDDIN); DOB 16 Aug 1960; POB Kudus, Central Java, Indonesia (individual) [SDGT]

RUXHETI, Sait (a.k.a. RUSHITI, Sait); DOB 7 Nov 1966 (individual) [BALKANS]

RWR INTERNATIONAL COMMODITIES (a.k.a. A.T.E. INTERNATIONAL LTD.), 3 Mandeville Place, London, United Kingdom [IRAQ2]

RYONHA MACHINERY JOINT VENTURE CORPORATION (a.k.a. CHOSUN YUNHA MACHINERY JOINT OPERATION COMPANY; a.k.a. KOREA RYENHA MACHINERY J/V CORPORATION; a.k.a. KOREA RYONHA MACHINERY JOINT VENTURE CORPORATION), Central District, Pyongyang, Korea, North; Mangungdae-gu, Pyongyang, Korea, North; Mangyongdae District, Pyongyang, Korea, North [NPWMD]

RZOOKI, Hanna, Iraq; Chairman of REAL ESTATE BANK (individual) [IRAQ2]

S DE JAAR, Carmen Elena (a.k.a. JAAR, Carmen E.; a.k.a. SIMAN DADA DE JAAR, Carmen Elena; a.k.a. SIMAN DE JAAR, Carmen Elena), c/o ARMANDO JAAR Y CIA. S.C.S., Barranquilla, Colombia; c/o CIPE INVESTMENTS CORPORATION, Panama City, Panama; 325 Poinciana Island Drive, Sunny Island Beach, FL 33160; DOB 01 Nov 1953; Cedula No. 1629942 (El Salvador); Passport B296684 (El Salvador) (individual) [SDNT]

S L M K LTDA. (a.k.a. SERVICIOS LOGISTICOS Y MARKETING LTDA.), Carrera 28 No. 11-65/67 of. 717 Centro Comercial Ricaurte, Bogota, Colombia; NIT # 830044689-4 (Colombia) [SDNT]

S.A.S. E.U. (a.k.a. SERVICIO AEREO DE SANTANDER E.U.), Carrera 66 No. 7-31, Bogota, Colombia; NIT # 800543219-8 (Colombia) [SDNT]

S.M.I. SEWING MACHINES ITALY S.P.A., Italy [IRAQ2]

SAADI, Nassim (a.k.a. ABOU ANIS), Via Monte Grappa 15, Arluno (Milan), Italy; DOB 30 Nov 1974; POB Haidra Al-Qasreen, Tunisia; nationality Tunisia; Passport M 788331 issued 28 Sep 2001 expires 27 Sep 2006; arrested 30 Sep 2002 (individual) [SDGT]

SAAVEDRA RESTREPO, Jesus Maria, c/o CONCRETOS CALI S.A., Cali, Colombia; Calle 5 No. 46-83 Local 119, Cali, Colombia; c/o INMOBILIARIA U.M.V. S.A., Cali, Colombia; c/o CONSTRUCTORA DIMISA LTDA., Cali, Colombia; DOB 10 Jul 1958; Cedula No. 16603482 (Colombia) (individual) [SDNT]

SABRI, Dawood (a.k.a. ANIS, Ibrahim Shaikh Mohd; a.k.a. AZIZ, Abdul Hamid Abdul; a.k.a. DILIP, Aziz; a.k.a. EBRAHIM, Dawood; a.k.a. HASAN, Shaikh Daud; a.k.a. HASSAN, Dawood; a.k.a. IBRAHIM, Anis; a.k.a. IBRAHIM, Dawood; a.k.a. IBRAHIM, Dawood Sheik; a.k.a. KASKAR, Dawood Ibrahim; a.k.a. REHMAN, Shaikh Ismail Abdul; a.k.a. SAHEB, Amir; a.k.a. SETH, Iqbal), 617 CP Berar Society, Block 7-8, Karachi, Pakistan; House No. 37, Street 30, Phase V, Defence Housing Authority, Karachi, Pakistan; White House, Al-Wassal Road, Jumeira, Dubai, United Arab Emirates; 33-36, Pakmodiya Street, Haji Musafirkhana, Dongri, Bombay, India; House No. 10, Hill Top Arcade, Defence Housing Authority, Karachi, Pakistan; Moin Palace, 2nd Floor, Opp. Abdullah Shah Gazi Dargah, Clifton, Karachi, Pakistan; DOB 26 Dec 1955; alt. DOB 31 Dec 1955; POB Ratnagiri, Maharashtra, India; citizen India alt. United Arab Emirates; alt. Pakistan; nationality India; Passport A-717288 (United Arab Emirates) issued 18 Aug 1985; alt. Passport F-823692 (Yemen) issued 02 Sep 1989; alt. Passport G-869537 (Pakistan); alt. Passport G-866537 (Pakistan) issued 12 Aug 1991; alt. Passport V-57865 (India) issued 03 Oct 1983; alt. Passport K-560098 (India) issued 30 Jul 1975; alt. Passport P-537849 (India) issued 30 Jul 1979; alt. Passport A-501801 (India) issued 26 Jul 1985; alt. Passport A-333602 (India) issued 04 Jun 1985; alt. Passport R-841697 (India) issued 26 Nov 1981; alt. Passport M-110522 (India) issued 13 Nov 1978 (individual) [SDGT] [SDNTK]

SACKS FACTORY (a.k.a. PLASTIC SACKS FACTORY), P.O. Box 2328, Khartoum, Sudan [SUDAN]

SAENZ MEDINA, Enrique (a.k.a. GAXIOLA MEDINA, Rigoberto; a.k.a. MEDINA SAENZ, Enrique; a.k.a. MORALES GUERRERO, Juan Antonio), Calle Clavel No. 1406, Colonia Margarita, Culiacan, Sinaloa, Mexico; Hermosillo, Sonora, Mexico; DOB 27 Sep 1950; POB Sinaloa, Mexico; citizen Mexico; nationality Mexico; R.F.C. GAMR-501027 (Mexico) (individual) [SDNTK]

SAENZ VARGAS, Guillermo Leon (a.k.a. “ALFONSO CANO”); DOB 22 Jul 1948; POB Bogota, Cundinamarca, Colombia; Cedula No. 17122751 (Colombia) (individual) [SDNTK]

SAEZ DE EGUILAZ MURGUIONDO, Carlos; DOB 9 Dec 1963; POB San Sebastian, Guipuzcoa Province, Spain; D.N.I. 15.962.687 (Spain); Member ETA (individual) [SDGT]

SAHEB, Amir (a.k.a. ANIS, Ibrahim Shaikh Mohd; a.k.a. AZIZ, Abdul Hamid Abdul; a.k.a. DILIP, Aziz; a.k.a. EBRAHIM, Dawood; a.k.a. HASAN, Shaikh Daud; a.k.a. HASSAN, Dawood; a.k.a. IBRAHIM, Anis; a.k.a. IBRAHIM, Dawood; a.k.a. IBRAHIM, Dawood Sheik; a.k.a. KASKAR, Dawood Ibrahim; a.k.a. REHMAN, Shaikh Ismail Abdul; a.k.a. SABRI, Dawood; a.k.a. SETH, Iqbal), 617 CP Berar Society, Block 7-8, Karachi, Pakistan; House No. 37, Street 30, Phase V, Defence Housing Authority, Karachi, Pakistan; White House, Al-Wassal Road, Jumeira, Dubai, United Arab Emirates; 33-36, Pakmodiya Street, Haji Musafirkhana, Dongri, Bombay, India; House No. 10, Hill Top Arcade, Defence Housing Authority, Karachi, Pakistan; Moin Palace, 2nd Floor, Opp. Abdullah Shah Gazi Dargah, Clifton, Karachi, Pakistan; DOB 26 Dec 1955; alt. DOB 31 Dec 1955; POB Ratnagiri, Maharashtra, India; citizen India alt. United Arab Emirates; alt. Pakistan; nationality India; Passport A-717288 (United Arab Emirates) issued 18 Aug 1985; alt. Passport F-823692 (Yemen) issued 02 Sep 1989; alt. Passport G-869537 (Pakistan); alt. Passport G-866537 (Pakistan) issued 12 Aug 1991; alt. Passport V-57865 (India) issued 03 Oct 1983; alt. Passport K-560098 (India) issued 30 Jul 1975; alt. Passport P-537849 (India) issued 30 Jul 1979; alt. Passport A-501801 (India) issued 26 Jul 1985; alt. Passport A-333602 (India) issued 04 Jun 1985; alt. Passport R-841697 (India) issued 26 Nov 1981; alt. Passport M-110522 (India) issued 13 Nov 1978 (individual) [SDGT] [SDNTK]

SAHINPASIC, Senad; DOB c. 1951; POB Foca, Bosnia-Herzegovina (individual) [BALKANS]

SAHIRON, Radulan (a.k.a. SAHIRON, Radullan; a.k.a. SAHIRUN, Radulan; a.k.a. “COMMANDER PUTOL”; a.k.a. “SAJIRUN, Radulan”); DOB 1955; alt. DOB circa 1952; POB Kaunayan, Patikul, Jolo Island, the Philippines; nationality Philippines (individual) [SDGT]

SAHIRON, Radullan (a.k.a. SAHIRON, Radulan; a.k.a. SAHIRUN, Radulan; a.k.a. “COMMANDER PUTOL”; a.k.a. “SAJIRUN, Radulan”); DOB 1955; alt. DOB circa 1952; POB Kaunayan, Patikul, Jolo Island, the Philippines; nationality Philippines (individual) [SDGT]

SAHIRUN, Radulan (a.k.a. SAHIRON, Radulan; a.k.a. SAHIRON, Radullan; a.k.a. “COMMANDER PUTOL”; a.k.a. “SAJIRUN, Radulan”); DOB 1955; alt. DOB circa 1952; POB Kaunayan, Patikul, Jolo Island, the Philippines; nationality Philippines (individual) [SDGT]

SA-ID (a.k.a. GARBAYA, AHMED; a.k.a. IZZ-AL-DIN, Hasan; a.k.a. SALWWAN, Samir), Lebanon; DOB 1963; POB Lebanon; citizen Lebanon (individual) [SDGT]

SAIEH JAMIS, Carlos Ernesto, c/o ALMACAES S.A., Bogota, Colombia; c/o ALM INVESTMENT FLORIDA, INC., Miami, FL; c/o BLACKMORE INVESTMENTS A.V.V., Oranjestad, Aruba; c/o CARLOS SAIEH Y CIA. S.C.S., Barranquilla, Atlantico, Colombia; c/o CONFECCIONES LORD S.A., Barranquilla, Atlantico, Colombia; c/o CONSTRUCTORA ALTAVISTA INTERNACIONAL S.A., Barranquilla, Colombia; c/o CORPORACION DE ALMACENES POR DEPARTAMENTOS S.A., Bogota, Colombia; c/o ELIZABETH OVERSEAS INC., Panama City, Panama; c/o FINANZAS DEL NORTE LUIS SAIEH Y CIA. S.C.A., Barranquilla, Colombia; c/o G.L.G. S.A., Bogota, Colombia; c/o GRANADA ASSOCIATES, INC., Miami, FL; c/o ILOVIN S.A., Bogota, Colombia; c/o INVERSIONES DEL PRADO ABDALA SAIEH Y CIA. S.C.A., Barranquilla, Colombia; c/o KAREN OVERSEAS, INC., Panama City, Panama; c/o KAREN OVERSEAS FLORIDA, INC., Miami, FL; c/o KATTUS II CORPORATION, Panama City, Panama; c/o MARC LLC, Miami, FL; c/o MOISES SAIEH Y CIA. S.C.A., Barranquilla, Colombia; c/o RAMAL S.A., Bogota, Colombia; c/o RIXFORD INVESTMENT CORPORATION, Panama City, Panama; c/o URBANIZADORA ALTAVISTA INTERNACIONAL S.A., Barranquilla, Colombia; c/o VILLAROSA INVESTMENTS FLORIDA, INC., Miami, FL; 780 NW Le Jeune Rd, Suite 516, Miami, FL 33126; 780 NW 42nd Avenue, Suite 516, Miami, FL 33126; Carrera 56 No. 79-102 Piso-10, Barranquilla, Colombia; Nine Island Avenue, Unit 1411, Miami Beach, FL; 9100 South Dadeland Boulevard, Suite 912, Miami, FL 33156; DOB 24 Feb 1964; POB Barranquilla, Colombia; citizen Colombia; nationality Colombia; Cedula No. 8739066 (Colombia); Passport AH006864 (Colombia) (individual) [SDNT]

SAIEH MUVDI, Moises Abdal, c/o ALMACAES S.A., Bogota, Colombia; c/o ALM INVESTMENT FLORIDA, INC., Miami, FL; c/o CARLOS SAIEH Y CIA. S.C.S., Barranquilla, Atlantico, Colombia; c/o CONFECCIONES LORD S.A., Barranquilla, Atlantico, Colombia; c/o CONSTRUCTORA ALTAVISTA INTERNACIONAL S.A., Barranquilla, Colombia; c/o CORPORACION DE ALMACENES POR DEPARTAMENTOS S.A., Bogota, Colombia; c/o ELIZABETH OVERSEAS INC., Panama City, Panama; c/o G.L.G. S.A., Bogota, Colombia; c/o GRANADA ASSOCIATES, INC., Miami, FL; c/o ILOVIN S.A., Bogota, Colombia; c/o INVERSIONES DEL PRADO ABDALA SAIEH Y CIA. S.C.A., Barranquilla, Colombia; c/o KAREN OVERSEAS, INC., Panama City, Panama; c/o KAREN OVERSEAS FLORIDA, INC., Miami, FL; c/o KATTUS II CORPORATION, Panama City, Panama; c/o MOISES SAIEH Y CIA. S.C.A., Barranquilla, Colombia; c/o RAMAL S.A., Bogota, Colombia; c/o RIXFORD INVESTMENT CORPORATION, Panama City, Panama; c/o SUNSET & 97TH HOLDINGS, LLC., Miami, FL; c/o URBANIZADORA ALTAVISTA INTERNACIONAL S.A., Barranquilla, Colombia; c/o VILLAROSA INVESTMENTS FLORIDA, INC., Miami, FL; Carrera 56 No. 79-40, Apt 7, Barranquilla, Colombia; 19667 NE 36 Court A 12-G, North Miami Beach, FL 33180; 780 NW Le Jeune Rd, Suite 516, Miami, FL 33126; 780 NW 42nd Avenue, Suite 516, Miami, FL 33126; 1405 SW 107th Ave, Ste 301B, Miami, FL; 19667 Turnberry Way, Unit 12G, Miami, FL 33180; 20301 W Country Club Drive, Apt 824, Aventura, FL 33180; 9100 South Dadeland Boulevard, Suite 912, Miami, FL 33156; DOB 06 Jun 1945; POB Pamplona, Norte de Santander; citizen Colombia; Cedula No. 7427466 (Colombia) (individual) [SDNT]

SAI'ID, Shaykh (a.k.a. AHMAD, Mustafa Muhammad); POB Egypt (individual) [SDGT]

SAINOVIC, Nikola; DOB 7 Dec 1948; POB Bor, Serbia and Montenegro; Ex-FRY Deputy Prime Minister; ICTY indictee in custody (individual) [BALKANS]

SAIYID, Abd Al-Man'am (a.k.a. AGHA, Haji Abdul Manan), Pakistan (individual) [SDGT]

SAKABUYA, Morris; Deputy Minister of Local Government, Public Works, and Urban Development (individual) [ZIMBABWE]

SAKUPWANYA, Stanley; DOB circa 1945; Deputy Secretary for Disabled and Disadvantaged (individual) [ZIMBABWE]

SALAFIST CALL PROTECTORS (a.k.a. DHAMAT HOUMET DAAWA SALAFIA; a.k.a. DJAMAAT HOUMAT ED DAAWA ES SALAFIYA; a.k.a. DJAMAAT HOUMAT ED DAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. THE HORROR SQUADRON), Algeria [SDGT]

SALAFIST GROUP FOR CALL AND COMBAT (a.k.a. GSPC; a.k.a. LE GROUPE SALAFISTE POUR LA PREDICATION ET LE COMBAT; a.k.a. SALAFIST GROUP FOR PREACHING AND COMBAT) [FTO] [SDGT]

SALAFIST GROUP FOR PREACHING AND COMBAT (a.k.a. GSPC; a.k.a. LE GROUPE SALAFISTE POUR LA PREDICATION ET LE COMBAT; a.k.a. SALAFIST GROUP FOR CALL AND COMBAT) [FTO] [SDGT]

SALAH MUHAMAD, Issa (a.k.a. HUSSEIN, Mazen Ali), Branderstrasse 28, Augsburg 86154, Germany; Schwabisch Hall Prison, Germany; DOB 1 Jan 1982; alt. DOB 1 Jan 1980; POB Baghdad, Iraq; nationality Iraq; Travel Document Number A0144378 (Germany) (individual) [SDGT]

SALAH, Mohammad Abd El-Hamid Khalil (a.k.a. AHMAD, Abu; a.k.a. AHMED, Abu; a.k.a. SALAH, Mohammad Abdel Hamid Halil; a.k.a. SALAH, Muhammad A.), 9229 South Thomas, Bridgeview, IL 60455; P.O. Box 2578, Bridgeview, IL 60455; P.O. Box 2616, Bridgeview, IL 60455-661; Israel; DOB 5/30/53; Passport 024296248 (United States); SSN 342-52-7612 (individual) [SDT]

SALAH, Mohammad Abdel Hamid Halil (a.k.a. AHMAD, Abu; a.k.a. AHMED, Abu; a.k.a. SALAH, Mohammad Abd El-Hamid Khalil; a.k.a. SALAH, Muhammad A.), 9229 South Thomas, Bridgeview, IL 60455; P.O. Box 2578, Bridgeview, IL 60455; P.O. Box 2616, Bridgeview, IL 60455-661; Israel; DOB 5/30/53; Passport 024296248 (United States); SSN 342-52-7612 (individual) [SDT]

SALAH, Muhammad (a.k.a. HASANAYN, Nasr Fahmi Nasr) (individual) [SDGT]

SALAH, Muhammad A. (a.k.a. AHMAD, Abu; a.k.a. AHMED, Abu; a.k.a. SALAH, Mohammad Abd El-Hamid Khalil; a.k.a. SALAH, Mohammad Abdel Hamid Halil), 9229 South Thomas, Bridgeview, IL 60455; P.O. Box 2578, Bridgeview, IL 60455; P.O. Box 2616, Bridgeview, IL 60455-661; Israel; DOB 5/30/53; Passport 024296248 (United States); SSN 342-52-7612 (individual) [SDT]

SALAME, Mohamed Ahmad (a.k.a. SALAMI, Mohamed Ahmad); DOB 22 SEP 1961; nationality Lebanon; Owner, Mohamed Group of Companies; former President of Liberia Charles Taylor's informal diplomatic representative (individual) [LIBERIA]

SALAMI, Mohamed Ahmad (a.k.a. SALAME, Mohamed Ahmad); DOB 22 SEP 1961; nationality Lebanon; Owner, Mohamed Group of Companies; former President of Liberia Charles Taylor's informal diplomatic representative (individual) [LIBERIA]

SALAS BARROS, German Jose, c/o CAJA SOLIDARIA, Bogota, Colombia; c/o COPSERVIR LTDA., Bogota, Colombia; c/o FARMAVISION LTDA., Bogota, Colombia; Cedula No. 72147640 (Colombia) (individual) [SDNT]

SALAZAR ARCILA, Yolanda, c/o PLASTEC LTDA., Colombia; Carrera 6 No. 15-30, Quimbaya, Quindio, Colombia; Cedula No. 25018274 (Colombia) (individual) [SDNT]

SALAZAR, Jose Leonel, c/o INMOBILIARIA U.M.V. S.A., Cali, Colombia; c/o COMERCIALIZADORA INTERNACIONAL VALLE DE ORO S.A., Cali, Colombia; DOB 14 Mar 1956; Cedula No. 10529253 (Colombia) (individual) [SDNT]

SALCEDO BONILLA, Monica, c/o COPSERVIR LTDA., Bogota, Colombia; c/o SOLUCIONES COOPERATIVAS, Bogota, Colombia; Cedula No. 31979753 (Colombia) (individual) [SDNT]

SALCEDO DE VARGAS, Myriam (a.k.a. SALCEDO MARTINEZ, Myriam), c/o FUNDACION VIVIR MEJOR, Cali, Colombia; c/o FUNDASER, Cali, Colombia; Cedula No. 41572808 (Colombia); Passport 41572808 (Colombia) (individual) [SDNT]

SALCEDO MARTINEZ, Myriam (a.k.a. SALCEDO DE VARGAS, Myriam), c/o FUNDACION VIVIR MEJOR, Cali, Colombia; c/o FUNDASER, Cali, Colombia; Cedula No. 41572808 (Colombia); Passport 41572808 (Colombia) (individual) [SDNT]

SALCEDO RAMIREZ, Jamie, c/o INMOBILIARIA U.M.V. S.A., Cali, Colombia; DOB 25 Dec 1964; Cedula No. 16706222 (Colombia) (individual) [SDNT]

SALCEDO RAMIREZ, Nhora Clemencia, c/o ADMINISTRACION INMOBILIARIA BOLIVAR S.A., Cali, Colombia; c/o INMOBILIARIA BOLIVAR LTDA., Cali, Colombia; DOB 20 Nov 1956; Cedula No. 31273613 (Colombia) (individual) [SDNT]

SALDARRIAGA ACEVEDO, Carlos Omar, Calle 9B No. 50-100 apt. 102, Cali, Colombia; c/o RADIO UNIDAS FM S.A., Cali, Colombia; DOB 16 Jan 1954; alt. DOB 6 Jan 1954; Cedula No. 14998632 (Colombia) (individual) [SDNT]

SALEH (a.k.a. ABDULLAH, Abdullah Ahmed; a.k.a. ABU MARIAM; a.k.a. AL-MASRI, Abu Mohamed), Afghanistan; DOB 1963; POB Egypt; citizen Egypt (individual) [SDGT]

SALEH ABU HUSSEIN, Abdul Latif A.A. (a.k.a. ABU AMIR; a.k.a. SALEH, Abdul Latif A.A.; a.k.a. SALEH, Abdyl Latif; a.k.a. SALEH, Dr. Abd al-Latif; a.k.a. SALEH, Dr. Abdul Latif; a.k.a. SALIH, Abd al-Latif), United Arab Emirates; DOB 5 Mar 1957; POB Baghdad, Iraq; citizen Jordan; alt. Albania; Passport D366 871 (Jordan) (individual) [SDGT]

SALEH, Abdel Moneim Ahmad (a.k.a. SALIH, Abd al-Munim Ahmad), Iraq; DOB 1943; Former Minister of Awqaf and Religious Affairs (individual) [IRAQ2]

SALEH, Abdul Latif A.A. (a.k.a. ABU AMIR; a.k.a. SALEH ABU HUSSEIN, Abdul Latif A.A.; a.k.a. SALEH, Abdyl Latif; a.k.a. SALEH, Dr. Abd al-Latif; a.k.a. SALEH, Dr. Abdul Latif; a.k.a. SALIH, Abd al-Latif), United Arab Emirates; DOB 5 Mar 1957; POB Baghdad, Iraq; citizen Jordan; alt. Albania; Passport D366 871 (Jordan) (individual) [SDGT]

SALEH, Abdyl Latif (a.k.a. ABU AMIR; a.k.a. SALEH ABU HUSSEIN, Abdul Latif A.A.; a.k.a. SALEH, Abdul Latif A.A.; a.k.a. SALEH, Dr. Abd al-Latif; a.k.a. SALEH, Dr. Abdul Latif; a.k.a. SALIH, Abd al-Latif), United Arab Emirates; DOB 5 Mar 1957; POB Baghdad, Iraq; citizen Jordan; alt. Albania; Passport D366 871 (Jordan) (individual) [SDGT]

SALEH, Dr. Abd al-Latif (a.k.a. ABU AMIR; a.k.a. SALEH ABU HUSSEIN, Abdul Latif A.A.; a.k.a. SALEH, Abdul Latif A.A.; a.k.a. SALEH, Abdyl Latif; a.k.a. SALEH, Dr. Abdul Latif; a.k.a. SALIH, Abd al-Latif), United Arab Emirates; DOB 5 Mar 1957; POB Baghdad, Iraq; citizen Jordan; alt. Albania; Passport D366 871 (Jordan) (individual) [SDGT]

SALEH, Dr. Abdul Latif (a.k.a. ABU AMIR; a.k.a. SALEH ABU HUSSEIN, Abdul Latif A.A.; a.k.a. SALEH, Abdul Latif A.A.; a.k.a. SALEH, Abdyl Latif; a.k.a. SALEH, Dr. Abd al-Latif; a.k.a. SALIH, Abd al-Latif), United Arab Emirates; DOB 5 Mar 1957; POB Baghdad, Iraq; citizen Jordan; alt. Albania; Passport D366 871 (Jordan) (individual) [SDGT]

SALEH, Mohammed Mahdi (a.k.a. AL-SALIH, Muhammad Mahdi); DOB 1947; alt. DOB 1949; POB al-Anbar Governorate, Iraq; nationality Iraq; Minister of Trade (individual) [IRAQ2]

SALEH, Nedal (a.k.a. “HITEM”), Via Milano n.105, Casal di Principe (Caserta), Italy; Via di Saliceto n.51/9, Bologna, Italy; DOB 1 Mar 1970; POB Taiz, Yemen (individual) [SDGT]

SALEM, Fahid Muhamad Ali (a.k.a. AL-KINI, Usama; a.k.a. ALLY, Fahid Mohammed; a.k.a. MSALAM, Fahad Ally; a.k.a. MSALAM, Fahid Mohammed Ali; a.k.a. MSALAM, Fahid Mohammed Ally; a.k.a. MSALAM, Mohammed Ally; a.k.a. MUSALAAM, Fahid Mohammed Ali); DOB 19 Feb 1976; POB Mombasa, Kenya; citizen Kenya (individual) [SDGT]

SALGADO MOSQUERA, Ricardo Ignacio, c/o MACROFARMA S.A., Pereira, Colombia; c/o FARMALIDER S.A., Cali, Colombia; Cedula No. 10216576 (Colombia); Passport 10216576 (Colombia) (individual) [SDNT]

SALI JR., Jainal Antel (a.k.a. “ABU SOLAIMAN”; a.k.a. “ABU SOLAYMAN”; a.k.a. “APONG SOLAIMAN”; a.k.a. “APUNG”); DOB 1 Jun 1965; POB Barangay Lanote, Bliss, Isabele, Basilan, the Philippines; nationality Philippines (individual) [SDGT]

SALIH, Abd al-Latif (a.k.a. ABU AMIR; a.k.a. SALEH ABU HUSSEIN, Abdul Latif A.A.; a.k.a. SALEH, Abdul Latif A.A.; a.k.a. SALEH, Abdyl Latif; a.k.a. SALEH, Dr. Abd al-Latif; a.k.a. SALEH, Dr. Abdul Latif), United Arab Emirates; DOB 5 Mar 1957; POB Baghdad, Iraq; citizen Jordan; alt. Albania; Passport D366 871 (Jordan) (individual) [SDGT]

SALIH, Abd al-Munim Ahmad (a.k.a. SALEH, Abdel Moneim Ahmad), Iraq; DOB 1943; Former Minister of Awqaf and Religious Affairs (individual) [IRAQ2]

SALIM S.A., Calle 15 No. 10-52, La Union, Valle, Colombia; NIT # 821001412-4 (Colombia) [SDNT]

SALIM, Ahmad Fuad (a.k.a. AL ZAWAHIRI, Dr. Ayman; a.k.a. AL-ZAWAHIRI, Aiman Muhammad Rabi; a.k.a. AL-ZAWAHIRI, Ayman); DOB 19 Jun 1951; POB Giza, Egypt; Passport 1084010 (Egypt); alt. Passport 19820215; Operational and Military Leader of JIHAD GROUP (individual) [SDT] [SDGT]

SALIM, Hassan Rostom (a.k.a. ATWA, Ali; a.k.a. BOUSLIM, Ammar Mansour), Lebanon; DOB 1960; POB Lebanon; citizen Lebanon (individual) [SDGT]

SALINA AGUILAR, Jorge (a.k.a. CARDENAS CASTILLO, Osiel; a.k.a. CARDENAS GILLEN, Osiel; a.k.a. CARDENAS GUILLEN, Ociel; a.k.a. CARDENAS GUILLEN, Oscar; a.k.a. CARDENAS GUILLEN, Osiel; a.k.a. CARDENAS GUILLEN, Oziel; a.k.a. CARDENAS GULLEN, Osiel; a.k.a. CARDENAS TUILLEN, Osiel; a.k.a. SALINAS AGUILAR, Jorge); DOB 18 May 67; POB Mexico (individual) [SDNTK]

SALINAS AGUILAR, Jorge (a.k.a. CARDENAS CASTILLO, Osiel; a.k.a. CARDENAS GILLEN, Osiel; a.k.a. CARDENAS GUILLEN, Ociel; a.k.a. CARDENAS GUILLEN, Oscar; a.k.a. CARDENAS GUILLEN, Osiel; a.k.a. CARDENAS GUILLEN, Oziel; a.k.a. CARDENAS GULLEN, Osiel; a.k.a. CARDENAS TUILLEN, Osiel; a.k.a. SALINA AGUILAR, Jorge); DOB 18 May 67; POB Mexico (individual) [SDNTK]

SALIWA, Rudi (a.k.a. SLAIWAH, Rudi; a.k.a. SLAY WAH, Rudi Untaywan; a.k.a. SLEWA, Roodi); nationality Iraq (individual) [IRAQ2]

SALMAN, Muhammad Da'ud (a.k.a. AL-TIKRITI, Ibrahim Sabawi Ibrahim Al-Hassan; a.k.a. AL-TIKRITI, Ibrahim Sabawi Ibrahim Hasan; a.k.a. AL-TIKRITI, Ibrahim Sab'awi Ibrahim Hasan; a.k.a. AL-TIKRITI, Ibrahim Sabawi Ibrahim Hassan), Iraq; Al-Shahid Street, Al-Mahata Neighborhood, Az Zabadani, Syria; Fuad Dawod Farm, Az Zabadani, Damascus, Syria; DOB 25 Oct 1983; alt. DOB 1977; POB Baghdad, Iraq; nationality Iraq; Passport 284173 (Iraq) expires 21 Aug 2005 (individual) [IRAQ2]

SALMAN, Qais Muhammad (a.k.a. AL-TIKRITI, Aiman Sabawi Ibrahim Hasan; a.k.a. AL-TIKRITI, Ayman Sabawi Ibrahim Hasan; a.k.a. AL-TIKRITI, Ayman Sab'awi Ibrahim Hasan; a.k.a. AL-TIKRITI, Ayman Sabawi Ibrahim Hassan), Bludan, Syria; Mutanabi Area, Al Monsur, Baghdad, Iraq; DOB 21 Oct 1971; POB Baghdad, Iraq alt. POB Al-Owja, Iraq; nationality Iraq (individual) [IRAQ2]

SALOME GRAJALES Y CIA. LTDA., Calle 53 No. 25-30, Bogota, Colombia; NIT # 800141337-3 (Colombia) [SDNT]

SALWWAN, Samir (a.k.a. GARBAYA, AHMED; a.k.a. IZZ-AL-DIN, Hasan; a.k.a. SA-ID), Lebanon; DOB 1963; POB Lebanon; citizen Lebanon (individual) [SDGT]

SAMARIA ARRENDAMIENT, Cali, Colombia [SDNT]

SAMARIA CANAS, Cali, Colombia [SDNT]

SAMARIA INTERESES, Cali, Colombia [SDNT]

SAMARIA TIERRAS, Cali, Colombia [SDNT]

SAMARRAI, Ahmad Husayn Khudayir (a.k.a. AL-KHODAIR, Ahmad Hussein); DOB 1941; Former Minister of Finance, Iraq (individual) [IRAQ2]

SAMIU, Izair; DOB 23 Jul 1963 (individual) [BALKANS]

SAMUDRA, Imam (a.k.a. BIN SIHABUDIN, Abdul Aziz; a.k.a. YUNSHAR, Faiz; a.k.a. “ABDUL AZIZ”; a.k.a. “ABU OMAR”; a.k.a. “FATIH”; a.k.a. “HENDRI”; a.k.a. “HERI”; a.k.a. “KUDAMA”); DOB 14 Jan 1970; POB Serang, Banten, Indonesia (individual) [SDGT]

SAN AIR GENERAL TRADING FZE (a.k.a. SAN AIR GENERAL TRADING LLC), P.O. Box 932-20C, Ajman, United Arab Emirates; P.O. Box 2190, Ajman, United Arab Emirates; 811 S. Central Expwy., Ste 210, Richardson, TX 75080 [LIBERIA]

SAN AIR GENERAL TRADING LLC (a.k.a. SAN AIR GENERAL TRADING FZE), P.O. Box 932-20C, Ajman, United Arab Emirates; P.O. Box 2190, Ajman, United Arab Emirates; 811 S. Central Expwy., Ste 210, Richardson, TX 75080 [LIBERIA]

SAN MATEO S.A. (f.k.a. INVERSIONES BETANIA LTDA.; f.k.a. INVERSIONES BETANIA S.A.), Avenida 2N No. 7N-55 of. 501, Cali, Colombia; Carrera 53 No. 13-55 apt. 102B, Cali, Colombia; Carrera 3 No. 12-40, Cali, Colombia; NIT # 890330910-2 (Colombia) [SDNT]

SAN VICENTE S.A. (f.k.a. INVERSIONES INVERVALLE S.A.; f.k.a. INVERVALLE S.A.), Avenida 2N No. 7N-55 of. 501, Cali, Colombia; Calle 70N No. 14-31, Cali, Colombia; Avenida 4 Norte No. 17N-43 L.1, Cali, Colombia; NIT # 800061212-8 (Colombia) [SDNT]

SANABAL (a.k.a. AL SANABIL; a.k.a. AL-SANBAL; a.k.a. ASANABIL; a.k.a. JAMI'A SANABIL; a.k.a. JAMI'A SANABIL LIL IGATHA WA AL-TANMIYZ; a.k.a. JA'MIA SANBLE LLAGHATHA WA ALTINMIA; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

SANABEL (a.k.a. AL SANABIL; a.k.a. AL-SANBAL; a.k.a. ASANABIL; a.k.a. JAMI'A SANABIL; a.k.a. JAMI'A SANABIL LIL IGATHA WA AL-TANMIYZ; a.k.a. JA'MIA SANBLE LLAGHATHA WA ALTINMIA; a.k.a. SANABAL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

SANABEL L'IL-IGATHA (a.k.a. AL-RAHAMA RELIEF FOUNDATION LIMITED; a.k.a. SANABEL RELIEF AGENCY; a.k.a. SANABEL RELIEF AGENCY LIMITED; a.k.a. SARA; a.k.a. SRA), 98 Gresham Road, Middlesbrough, United Kingdom; 63 South Road, Sparkbrook, Birmingham B11 1EX, United Kingdom; 1011 Stockport Road, Levenshulme, Manchester M9 2TB, United Kingdom; P.O. Box 50, Manchester M19 2SP, United Kingdom; 54 Anson Road, London NW2 6AD, United Kingdom; Registered Charity No. 1083469 (United Kingdom); Registration ID 3713110 (United Kingdom); http://www.sanabel.org.uk (website); info@sanabel.org.uk (email). [SDGT]

SANABEL RELIEF AGENCY (a.k.a. AL-RAHAMA RELIEF FOUNDATION LIMITED; a.k.a. SANABEL L'IL-IGATHA; a.k.a. SANABEL RELIEF AGENCY LIMITED; a.k.a. SARA; a.k.a. SRA), 98 Gresham Road, Middlesbrough, United Kingdom; 63 South Road, Sparkbrook, Birmingham B11 1EX, United Kingdom; 1011 Stockport Road, Levenshulme, Manchester M9 2TB, United Kingdom; P.O. Box 50, Manchester M19 2SP, United Kingdom; 54 Anson Road, London NW2 6AD, United Kingdom; Registered Charity No. 1083469 (United Kingdom); Registration ID 3713110 (United Kingdom); http://www.sanabel.org.uk (website); info@sanabel.org.uk (email). [SDGT]

SANABEL RELIEF AGENCY LIMITED (a.k.a. AL-RAHAMA RELIEF FOUNDATION LIMITED; a.k.a. SANABEL L'IL-IGATHA; a.k.a. SANABEL RELIEF AGENCY; a.k.a. SARA; a.k.a. SRA), 98 Gresham Road, Middlesbrough, United Kingdom; 63 South Road, Sparkbrook, Birmingham B11 1EX, United Kingdom; 1011 Stockport Road, Levenshulme, Manchester M9 2TB, United Kingdom; P.O. Box 50, Manchester M19 2SP, United Kingdom; 54 Anson Road, London NW2 6AD, United Kingdom; Registered Charity No. 1083469 (United Kingdom); Registration ID 3713110 (United Kingdom); http://www.sanabel.org.uk (website); info@sanabel.org.uk (email). [SDGT]

SANABIL (a.k.a. AL SANABIL; a.k.a. AL-SANBAL; a.k.a. ASANABIL; a.k.a. JAMI'A SANABIL; a.k.a. JAMI'A SANABIL LIL IGATHA WA AL-TANMIYZ; a.k.a. JA'MIA SANBLE LLAGHATHA WA ALTINMIA; a.k.a. SANABAL; a.k.a. SANABEL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

SANABIL AL-AQSA (a.k.a. AL SANABIL; a.k.a. AL-SANBAL; a.k.a. ASANABIL; a.k.a. JAMI'A SANABIL; a.k.a. JAMI'A SANABIL LIL IGATHA WA AL-TANMIYZ; a.k.a. JA'MIA SANBLE LLAGHATHA WA ALTINMIA; a.k.a. SANABAL; a.k.a. SANABEL; a.k.a. SANABIL; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

SANABIL AL-AQSA CHARITABLE FOUNDATION (a.k.a. AL-AQSA (ASBL); a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NURSAT AL-AQSA AL-SHARIF; a.k.a. STICHTING AL-AQSA; a.k.a. SWEDISH CHARITABLE AQSA EST.), BD Leopold II 71, 1080 Brussels, Belgium [SDGT]

SANABIL AL-AQSA CHARITABLE FOUNDATION (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. STICHTING AL-AQSA; a.k.a. SWEDISH CHARITABLE AQSA EST.), Kappellenstrasse 36, Aachen D-52066, Germany; <Head Office> [SDGT]

SANABIL AL-AQSA CHARITABLE FOUNDATION (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. STICHTING AL-AQSA; a.k.a. SWEDISH CHARITABLE AQSA EST.) [SDGT]

SANABIL AL-AQSA CHARITABLE FOUNDATION (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. STICHTING AL-AQSA; a.k.a. SWEDISH CHARITABLE AQSA EST.), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

SANABIL AL-AQSA CHARITABLE FOUNDATION (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. STICHTING AL-AQSA; a.k.a. SWEDISH CHARITABLE AQSA EST.), P.O. Box 2364, Islamabad, Pakistan [SDGT]

SANABIL AL-AQSA CHARITABLE FOUNDATION (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. STICHTING AL-AQSA; a.k.a. SWEDISH CHARITABLE AQSA EST.), P.O. Box 14101, San 'a, Yemen [SDGT]

SANABIL AL-AQSA CHARITABLE FOUNDATION (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. STICHTING AL-AQSA; a.k.a. SWEDISH CHARITABLE AQSA EST.), P.O. Box 6222200KBKN, Copenhagen, Denmark [SDGT]

SANABIL AL-AQSA CHARITABLE FOUNDATION (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. STICHTING AL-AQSA; a.k.a. SWEDISH CHARITABLE AQSA EST.), Gerrit V/D Lindestraat 103 A, 3022 TH, Rotterdam, Netherlands; Gerrit V/D Lindestraat 103 E, 03022 TH, Rotterdam, Netherlands [SDGT]

SANABIL AL-AQSA CHARITABLE FOUNDATION (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. STICHTING AL-AQSA; a.k.a. SWEDISH CHARITABLE AQSA EST.), Noblev 79 NB, 21433 Malmo, Sweden; Nobelvagen 79 NB, 21433 Malmo, Sweden [SDGT]

SANABIL ASSOCIATION FOR RELIEF AND DEVELOPMENT (a.k.a. AL SANABIL; a.k.a. AL-SANBAL; a.k.a. ASANABIL; a.k.a. JAMI'A SANABIL; a.k.a. JAMI'A SANABIL LIL IGATHA WA AL-TANMIYZ; a.k.a. JA'MIA SANBLE LLAGHATHA WA ALTINMIA; a.k.a. SANABAL; a.k.a. SANABEL; a.k.a. SANABIL; a.k.a. SANABIL AL-AQSA; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

SANABIL FOR AID AND DEVELOPMENT (a.k.a. AL SANABIL; a.k.a. AL-SANBAL; a.k.a. ASANABIL; a.k.a. JAMI'A SANABIL; a.k.a. JAMI'A SANABIL LIL IGATHA WA AL-TANMIYZ; a.k.a. JA'MIA SANBLE LLAGHATHA WA ALTINMIA; a.k.a. SANABAL; a.k.a. SANABEL; a.k.a. SANABIL; a.k.a. SANABIL AL-AQSA; a.k.a. SANABIL ASSOCIATION FOR RELIEF AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

SANABIL FOR RELIEF AND DEVELOPMENT (a.k.a. AL SANABIL; a.k.a. AL-SANBAL; a.k.a. ASANABIL; a.k.a. JAMI'A SANABIL; a.k.a. JAMI'A SANABIL LIL IGATHA WA AL-TANMIYZ; a.k.a. JA'MIA SANBLE LLAGHATHA WA ALTINMIA; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL GROUP FOR RELIEF AND DEVELOPMENT; a.k.a. SANIBAL; a.k.a. SANNABIL; a.k.a. SANNIBIL; a.k.a. SINABUL), Sidon, Lebanon [SDGT]

SANABIL GROUP FOR RELIEF AND DEVELOPMENT (a.k.a. AL SANABIL; a.k.a. AL-SANBAL; a.k.a. ASANABIL; a.k.a. JAMI'A SANABIL; a.k.a. JAMI'A SANABIL LIL IGATHA WA AL-TANMIYZ; a.k.a. JA'MIA SANBLE LLAGHATHA WA ALTINMIA; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANIBAL; a.k.a. SANNABIL; a.k.a. SANNIBIL; a.k.a. SINABUL), Sidon, Lebanon [SDGT]

SANABRIA NINO, Alexander, c/o CAJA SOLIDARIA, Bogota, Colombia; c/o COSMEPOP, Bogota, Colombia; c/o SERVICIOS FUTURA LIMITADA, Bogota, Colombia; c/o SERVICIOS LOGISTICOS Y MARKETING LTDA., Bogota, Colombia; DOB 12 Jul 1967; Cedula No. 79420501 (Colombia); Passport 79420501 (Colombia) (individual) [SDNT]

SANABRIA SANABRIA, Pablo Emilio, c/o CAJA SOLIDARIA, Bogota, Colombia; c/o COPSERVIR LTDA., Bogota, Colombia; c/o FARMAVISION LTDA., Bogota, Colombia; Avenida Dorado No. 73-62, Bogota, Colombia; Cedula No. 79579826 (Colombia) (individual) [SDNT]

SANCHEZ CURIEL, Silvia Patricia, c/o M Q CONSULTORES, S.A. DE C.V., Tijuana, Baja California, Mexico; DOB 28 Sep 1976; POB Guadalajara, Jalisco, Mexico (individual) [SDNTK]

SANCHEZ DE VALENCIA, Dora Gladys, c/o INMOBILIARIA U.M.V. S.A., Cali, Colombia; DOB 7 AUG 1955; Cedula No. 31273248 (Colombia) (individual) [SDNT]

SANCHEZ MARMOL, Maryurida, c/o COOPDISAN, Bucaramanga, Colombia; c/o DROGAS LA REBAJA BUCARAMANGA S.A., Bucaramanga, Colombia; DOB 23 Feb 1970; Passport 63456242 (Colombia); Cedula No. 63456242 (Colombia) (individual) [SDNT]

SANCHEZ OLAYA, Martha, c/o LABORATORIOS PROFARMA LTDA., Bogota, Colombia; DOB 20 May 1963; Cedula No. 65692953 (Colombia); Passport 65692953 (Colombia) (individual) [SDNT]

SANCHEZ OSUNA, Carlos Alberto, Blvd. Industrial 1700, Colonia Otay Tecnologico, Tijuana, Baja California, Mexico; c/o GRUPO GAMAL, S.A. DE C.V., Guadalajara, Jalisco, Mexico; DOB 29 Mar 1971 (individual) [SDNTK]

SANCHEZ VARILLA, Luis Manuel; DOB 1 Feb 1964; Cedula No. 8174649 (Colombia) (individual) [SDNTK]

SANCLEMENTE BEDOYA, Claudia Patricia, c/o INTERNACIONAL DE DIVISAS S.A., Cali, Colombia; c/o INTERNACIONAL DE DIVISAS S.A., LLC, Miami, FL; c/o OBURSATILES S.A., Cali, Colombia; c/o VALORCORP S.A., Bogota, Colombia; DOB 5 Dec 1968; Cedula No. 31999055 (Colombia); Passport 31999055 (Colombia) (individual) [SDNT]

SANCLEMENTE BEDOYA, Flor de Maria, c/o COLIMEX LTDA., Cali, Colombia; c/o DISTRIBUIDORA SANAR DE COLOMBIA S.A., Cali, Colombia; c/o COMERCIALIZADORA INTERTEL S.A., Cali, Colombia; c/o FUNDACION VIVIR MEJOR, Cali, Colombia; c/o FUNDASER, Cali, Colombia; DOB 4 Sep 1964; Cedula No. 31931887 (Colombia); N.I.E. X2303467-V (Spain); Passport 31931887 (Colombia) (individual) [SDNT]

SANDOVAL AHIUMADA, Mavenka, c/o CAJA SOLIDARIA, Bogota, Colombia; c/o COPSERVIR LTDA., Bogota, Colombia; c/o LITOPHARMA, Barranquilla, Colombia; Cedula No. 32873688 (Colombia) (individual) [SDNT]

SANDOVAL GUARIN, Luz Stella, c/o COPSERVIR LTDA., Bogota, Colombia; c/o LITOPHARMA, Barranquilla, Colombia; Carrera 26C 7 No. 76A-75 ap. 2A, Barranquilla, Colombia; Cedula No. 32608167 (Colombia) (individual) [SDNT]

SANDRANA CANAS, Cali, Colombia [SDNT]

SANDRANA GANADERA (a.k.a. HACIENDA SANDRANA; a.k.a. SANDRANDA), Carrera 4 12-41 piso 15, Edificio Seguros Bolivar, Cali, Colombia; San Pedro, Valle del Cauca, Colombia [SDNT]

SANDRANDA (a.k.a. HACIENDA SANDRANA; a.k.a. SANDRANA GANADERA), Carrera 4 12-41 piso 15, Edificio Seguros Bolivar, Cali, Colombia; San Pedro, Valle del Cauca, Colombia [SDNT]

SANIBAL (a.k.a. AL SANABIL; a.k.a. AL-SANBAL; a.k.a. ASANABIL; a.k.a. JAMI'A SANABIL; a.k.a. JAMI'A SANABIL LIL IGATHA WA AL-TANMIYZ; a.k.a. JA'MIA SANBLE LLAGHATHA WA ALTINMIA; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANNABIL; a.k.a. SANNIBIL; a.k.a. SINABUL), Sidon, Lebanon [SDGT]

SANKOH, Foday; Deceased (individual) [LIBERIA]

SANNABIL (a.k.a. AL SANABIL; a.k.a. AL-SANBAL; a.k.a. ASANABIL; a.k.a. JAMI'A SANABIL; a.k.a. JAMI'A SANABIL LIL IGATHA WA AL-TANMIYZ; a.k.a. JA'MIA SANBLE LLAGHATHA WA ALTINMIA; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNIBIL; a.k.a. SINABUL), Sidon, Lebanon [SDGT]

SANNIBIL (a.k.a. AL SANABIL; a.k.a. AL-SANBAL; a.k.a. ASANABIL; a.k.a. JAMI'A SANABIL; a.k.a. JAMI'A SANABIL LIL IGATHA WA AL-TANMIYZ; a.k.a. JA'MIA SANBLE LLAGHATHA WA ALTINMIA; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SINABUL), Sidon, Lebanon [SDGT]

SANTA CRUZ IMPERIAL AIRLINES, P.O. Box 60315, Dubai, United Arab Emirates; Sharjah, United Arab Emirates [LIBERIA]

SANTACOLOMA DE JARAMILLO, Gloria Maria (a.k.a. SANTACOLOMA HOYOS, Gloria Maria; a.k.a. SANTACOLOMA JARAMILLO, Gloria Maria), c/o REPRESENTACIONES Y DISTRIBUCIONES HUERTAS Y ASOCIADOS S.A., Bogota, Colombia; c/o FARMATEL E.U., Bogota, Colombia; DOB 26 Jul 1962; Cedula No. 31886388 (Colombia); Passport 31886388 (Colombia) (individual) [SDNT]

SANTACOLOMA HOYOS, Adriana, c/o CREDIREBAJA S.A., Cali, Colombia; c/o CREDIVIDA, Cali, Colombia; c/o ASH TRADING, INC., Pembroke Pines, FL; c/o ALERO S.A., Cali, Colombia; DOB 24 Oct 1964; Cedula No. 31919241 (Colombia); Passport 31919241 (Colombia) (individual) [SDNT]

SANTACOLOMA HOYOS, Gloria Maria (a.k.a. SANTACOLOMA DE JARAMILLO, Gloria Maria; a.k.a. SANTACOLOMA JARAMILLO, Gloria Maria), c/o REPRESENTACIONES Y DISTRIBUCIONES HUERTAS Y ASOCIADOS S.A., Bogota, Colombia; c/o FARMATEL E.U., Bogota, Colombia; DOB 26 Jul 1962; Cedula No. 31886388 (Colombia); Passport 31886388 (Colombia) (individual) [SDNT]

SANTACOLOMA JARAMILLO, Gloria Maria (a.k.a. SANTACOLOMA DE JARAMILLO, Gloria Maria; a.k.a. SANTACOLOMA HOYOS, Gloria Maria), c/o REPRESENTACIONES Y DISTRIBUCIONES HUERTAS Y ASOCIADOS S.A., Bogota, Colombia; c/o FARMATEL E.U., Bogota, Colombia; DOB 26 Jul 1962; Cedula No. 31886388 (Colombia); Passport 31886388 (Colombia) (individual) [SDNT]

SANTACOLOMA, Maria Alejandra (a.k.a. MOSQUERA MAYA, Maria Alejandra), 14420 NW 16th St., Pembroke Pines, FL 33028; c/o ASH TRADING, INC., Pembroke Pines, FL; DOB 22 Sep 1973; Cedula No. 34564670 (Colombia); Passport 34564670 (Colombia) (individual) [SDNT]

SANTACRUZ CASTRO, Ana Milena, c/o SOCIEDAD CONSTRUCTORA LA CASCADA S.A., Cali, Colombia; c/o AUREAL INMOBILIARIA LTDA., Bogota, Colombia; c/o INMOBILIARIA SAMARIA LTDA., Cali, Colombia; c/o SAMARIA LTDA., Cali, Colombia; c/o INVERSIONES SANTA LTDA., Cali, Colombia; c/o COMERCIALIZACION Y FINANCIACION DE AUTOMOTORES S.A., Cali, Colombia; c/o INVERSIONES INTEGRAL LTDA., Cali, Colombia; c/o MIRALUNA LTDA., Cali, Colombia; c/o URBANIZACIONES Y CONSTRUCCIONES LTDA., DE CALI, Cali, Colombia; DOB 31 Mar 65; Cedula No. 31929808 (Colombia); Passport 31929808 (Colombia); alt. Passport AB151189 (Colombia) (individual) [SDNT]

SANTACRUZ LONDONO, Jose (a.k.a. “CHEPE”; a.k.a. “DON CHEPE”; a.k.a. “EL GORDO CHEPE”), Cali, Colombia; DOB 01 Oct 43; Cedula No. 14432230 (Colombia); Passport AB149814 (Colombia) (individual) [SDNT]

SANTAMARINA DE LA TORRE, Rafael Garcia (a.k.a. GARCIA SANTAMARINA DE LA TORRE, Alfredo Rafael), Panama (individual) [CUBA]

SANTIC, Vladimir; DOB 1 Apr 1958; POB Donja Veceriska, Bosnia-Herzegovina; ICTY indictee (individual) [BALKANS]

SANTO, Anabel, Avenida Insurgentes Sur No. 421, Bloque B Despacho 404, C.P. 06100, Mexico, D.F., Mexico (individual) [CUBA]

SANTOYO ORTIZ, Nelson, c/o COOPDISAN, Bucaramanga, Colombia; c/o COPSERVIR LTDA., Bucaramanga, Colombia; c/o DROGAS LA REBAJA BUCARAMANGA S.A., Bucaramanga, Colombia; c/o CAJA SOLIDARIA, Bogota, Colombia; c/o COMUDROGAS LTDA., Bucaramanga, Colombia; Cedula No. 91290248 (Colombia); Passport 91290248 (Colombia) (individual) [SDNT]

SAQR AL-KABISI ABD AQALA (a.k.a. AL-KUBAYSI, Ugla Abid Saqar); DOB 1944; POB Kubaisi, al-Anbar Governorate, Iraq; nationality Iraq; Former Ba'th party regional command chairman, Maysan (individual) [IRAQ2]

SARA (a.k.a. AL-RAHAMA RELIEF FOUNDATION LIMITED; a.k.a. SANABEL L'IL-IGATHA; a.k.a. SANABEL RELIEF AGENCY; a.k.a. SANABEL RELIEF AGENCY LIMITED; a.k.a. SRA), 98 Gresham Road, Middlesbrough, United Kingdom; 63 South Road, Sparkbrook, Birmingham B11 1EX, United Kingdom; 1011 Stockport Road, Levenshulme, Manchester M9 2TB, United Kingdom; P.O. Box 50, Manchester M19 2SP, United Kingdom; 54 Anson Road, London NW2 6AD, United Kingdom; Registered Charity No. 1083469 (United Kingdom); Registration ID 3713110 (United Kingdom); http://www.sanabel.org.uk (website); info@sanabel.org.uk (email). [SDGT]

SARA PROPERTIES (a.k.a. SARA PROPERTIES LIMITED), 104 Smithdown Road, Liverpool, Merseyside L7 4JQ, United Kingdom; 2a Hartington Road, Liverpool L8 0SG, United Kingdom; Registered Charity No. 4636613 (United Kingdom); http://www.saraproperties.co.uk (website). [SDGT]

SARA PROPERTIES LIMITED (a.k.a. SARA PROPERTIES), 104 Smithdown Road, Liverpool, Merseyside L7 4JQ, United Kingdom; 2a Hartington Road, Liverpool L8 0SG, United Kingdom; Registered Charity No. 4636613 (United Kingdom); http://www.saraproperties.co.uk (website). [SDGT]

SARAC, Ivan; DOB 4 Jun 1968; POB Sokolac, Serbia (individual) [BALKANS]

SARASTI GUERRERO, Rodrigo Jose, Avenida 10 Norte No. 18-35, Cali, Colombia; c/o KESMAN OVERSEAS, Road Town, Tortola, Virgin Islands, British; c/o OBURSATILES S.A., Cali, Colombia; c/o ZARATAN CORPORATION, Cali, Colombia; c/o ZARATAN CORPORATION, Road Town, Tortola, Virgin Islands, British; DOB 25 Aug 1964; Cedula No. 16699921 (Colombia); Passport 16699921 (Colombia) (individual) [SDNT]

SARMIENTO LAVERDE, Azucena Del Carmen, c/o MEGAPHARMA LTDA., Bogota, Colombia; Calle 22C No. 39-80, Bogota, Colombia; Carrera 20 No. 7-57, Bogota, Colombia; DOB 17 Nov 1954; Cedula No. 41649539 (Colombia) (individual) [SDNT]

SARMIENTO MARTINEZ, Diana, c/o TAURA S.A., Cali, Colombia; Cedula No. 65698369 (Colombia) (individual) [SDNT]

SAROVIC, Mirko; DOB 16 Sep 1956; POB Rogatica, Serbia (individual) [BALKANS]

SARRIA HOLGUIN, Ramiro Hernan 'Robert', Carrera 100 No. 11-60 of. 603, AA 20903, Cali, Colombia; Avenida 6N No. 23D-16 of. L301, Cali, Colombia; c/o INVERSIONES RODRIGUEZ MORENO, Cali, Colombia; c/o INVERSIONES ARA LTDA., Cali, Colombia; c/o INVERSIONES MIGUEL RODRIGUEZ E HIJO, Cali, Colombia; c/o INVERSIONES RODRIGUEZ ARBELAEZ, Cali, Colombia; c/o REPARACIONES Y CONSTRUCCIONES LTDA., Cali, Colombia; c/o VALORES MOBILIARIOS DE OCCIDENTE S.A., Cali, Colombia; Cedula No. 6078583 (Colombia) (individual) [SDNT]

SAVANHU, Tendai; DOB 21 Mar 1968; Politburo Deputy Secretary of Transport and Social Welfare (individual) [ZIMBABWE]

SAYADI, Nabil Abdul Salam (a.k.a. ABOU ZEINAB), 69 Rue des Bataves, 1040 Etterbeek, Brussels, Belgium; Vaatjesstraat, 29, 2580 Putte, Belgium; DOB 01 Jan 1966; POB Tripoli, Lebanon; National ID No. 660000 73767 (Belgium); Passport 1091875; Public Security and Immigration No. 98.805 (individual) [SDGT]

SAYARA AL-QUDS (a.k.a. ABU GHUNAYM SQUAD OF THE HIZBALLAH BAYT AL-MAQDIS; a.k.a. AL-AWDAH BRIGADES; a.k.a. AL-QUDS BRIGADES; a.k.a. AL-QUDS SQUADS; a.k.a. ISLAMIC JIHAD IN PALESTINE; a.k.a. ISLAMIC JIHAD OF PALESTINE; a.k.a. PALESTINE ISLAMIC JIHAD—SHAQAQI FACTION; a.k.a. PALESTINIAN ISLAMIC JIHAD; a.k.a. PIJ; a.k.a. PIJ-SHALLAH FACTION; a.k.a. PIJ-SHAQAQI FACTION) [SDT] [FTO] [SDGT]

SAZEMAN-E ENERGY ATOMI (a.k.a. ATOMIC ENERGY ORGANIZATION OF IRAN), P.O. Box 14144-1339, End of North Karegar Avenue, Tehran, Iran [NPWMD]

SAZEMAN-E MUJAHEDIN-E KHALQ-E IRAN (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NATIONAL COUNCIL OF RESISTANCE OF IRAN; a.k.a. NCRI; a.k.a. NLA; a.k.a. ORGANIZATION OF THE PEOPLE'S HOLY WARRIORS OF IRAN; a.k.a. PEOPLE'S MUJAHEDIN ORGANIZATION OF IRAN; a.k.a. PMOI; a.k.a. THE NATIONAL LIBERATION ARMY OF IRAN) [FTO] [SDGT]

SAZEMAN-E MUJAHEDIN-E KHALQ-E IRAN (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. THE NATIONAL LIBERATION ARMY OF IRAN); including its U.S. press office and all other offices worldwide [FTO] [SDGT]

SAZEMAN-E MUJAHEDIN-E KHALQ-E IRAN (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. THE NATIONAL LIBERATION ARMY OF IRAN); including its U.S. press office and all other offices worldwide [FTO] [SDGT]

SAZEMAN-E MUJAHEDIN-E KHALQ-E IRAN (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. THE NATIONAL LIBERATION ARMY OF IRAN); including its U.S. representative offices and all other offices worldwide [FTO] [SDGT]

SAZMANE SANAYE HAVA FAZA (a.k.a. AEROSPACE INDUSTRIES ORGANIZATION; a.k.a. “AIO”), Langare Street, Nobonyad Square, Tehran, Iran [NPWMD]

SCIENTIFIC STUDIES AND RESEARCH CENTER (a.k.a. CENTRE D'ETUDES ET RECHERCHES; a.k.a. “SSRC”), P.O. Box 4470, Damascus, Syria [NPWMD]

SCORE COMMERCIAL COMPANY LTD. (a.k.a. BORISAT SAKO KHOMMOESIAN CHAMKAT), 273 Soi Thiam Ruammit, Ratchada Phisek Road, Huai Khwang district, Bangkok, Thailand [SDNTK]

SDS (a.k.a. SERB DEMOCRATIC PARTY; a.k.a. SRPSKA DEMOKRATSKA STRANKA), Kralja Alfonsa XIII, Number 1, 78000 Banja Luka, Bosnia and Herzegovina [BALKANS]

SECOURS MONDIAL DE FRANCE (a.k.a. FONDATION SECOURS MONDIAL A.S.B.L.; a.k.a. FONDATION SECOURS MONDIAL VZW; a.k.a. FONDATION SECOURS MONDIAL 'WORLD RELIEF'; a.k.a. FONDATION SECOURS MONDIAL-BELGIQUE A.S.B.L.; a.k.a. FONDATION SECOURS MONDIAL-KOSOVA; a.k.a. FSM; a.k.a. GLOBAL RELIEF FOUNDATION, INC.; a.k.a. STICHTING WERELDHULP-BELGIE, V.Z.W.), Rruga e Kavajes, Building No. 3, Apartment No. 61, P.O. Box 2892, Tirana, Albania; Vaatjesstraat, 29, 2580 Putte, Belgium; Rue des Bataves 69, 1040 Etterbeek, Brussels, Belgium; P.O. Box 6, 1040 Etterbeek 2, Brussels, Belgium; Mula Mustafe Baseskije Street No. 72, Sarajevo, Bosnia and Herzegovina; Put Mladih Muslimana Street 30/A, Sarajevo, Bosnia and Herzegovina; Rr. Skenderbeu 76, Lagjja Sefa, Gjakova, Serbia and Montenegro; Ylli Morina Road, Djakovica, Serbia and Montenegro; House 267 Street No. 54, Sector F-11/4, Islamabad, Pakistan; Saray Cad. No. 37 B Blok, Yesilyurt Apt. 2/4, Sirinevler, Turkey; Afghanistan; Azerbaijan; Bangladesh; Chechnya, Russia; China; Eritrea; Ethiopia; Georgia; India; Ingushetia, Russia; Iraq; Jordan; Kashmir, undetermined; Lebanon; Gaza Strip, undetermined; Sierra Leone; Somalia; Syria; 49 rue du Lazaret, 67100 Strasbourg, France; West Bank; V.A.T. Number BE 454,419,759 [SDGT]

SEGECOL LTDA., Carrera 33 No. 48-95 of. 205, Bucaramanga, Colombia; NIT # 804015530-4 (Colombia) [SDNT]

SEGUWRA DEL VALLE E.U., Avenida 11N No. 7N-201, Cali, Colombia; NIT # 805016035-8 (Colombia) [SDNT]

SEKERAMAYI, Lovemore; Chief Elections Officer (individual) [ZIMBABWE]

SEKERAMAYI, Sidney Tigere, 31 Honey Bear Lane, Borrowdale, Harare, Zimbabwe; DOB 30 Mar 1944; Minister of Defense (individual) [ZIMBABWE]

SEKERAMAYI, Tsitsi Chihuri, 31 Honey Bear Lane, Borrowdale, Harare, Zimbabwe; DOB circa 1944; Spouse of Sydney Sekeramayi (individual) [ZIMBABWE]

SELIMI, Rexhep; DOB 15 Mar 1971; POB Iglarevo, Serbia and Montenegro (individual) [BALKANS]

SENANQUE SHIPPING CO. LTD., c/o EMPRESA DE NAVEGACION CARIBE, Edificio Lonja del Comercio, Lamparilla 2, Caja Postal 1784, Havana 1, Cuba [CUBA]

SENDERO LUMINOSO (a.k.a. EGP; a.k.a. EJERCITO GUERRILLERO POPULAR (PEOPLE'S GUERRILLA ARMY); a.k.a. EJERCITO POPULAR DE LIBERACION (PEOPLE'S LIBERATION ARMY); a.k.a. EPL; a.k.a. PARTIDO COMUNISTA DEL PERU (COMMUNIST PARTY OF PERU); a.k.a. PARTIDO COMUNISTA DEL PERU EN EL SENDERO LUMINOSO DE JOSE CARLOS MARIATEGUI (COMMUNIST PARTY OF PERU ON THE SHINING PATH OF JOSE CARLOS MARIATEGUI); a.k.a. PCP; a.k.a. SHINING PATH; a.k.a. SL; a.k.a. SOCORRO POPULAR DEL PERU (PEOPLE'S AID OF PERU); a.k.a. SPP) [FTO] [SDGT]

SEPULVEDA SEPULVEDA, Manuel Salvador, c/o INVHERESA S.A., Cali, Colombia; c/o INMOBILIARIA U.M.V. S.A., Cali, Colombia; c/o ALKALA ASOCIADOS S.A., Cali, Colombia; DOB 2 Feb 1956; Cedula No. 16855038 (Colombia) (individual) [SDNT]

SEPULVEDA ZAPATA, Efrain Hernan, c/o INTERNACIONAL DE DIVISAS S.A., Cali, Colombia; c/o INTERNACIONAL DE DIVISAS S.A., LLC, Miami, FL; c/o OBURSATILES S.A., Cali, Colombia; c/o SEPULVEDA-IRAGORRI LTD., Nassau, Bahamas, The; c/o REPRESENTACIONES ZATZA LTDA., Cali, Colombia; c/o VALORCORP S.A., Bogota, Colombia; DOB 21 Mar 1960; Cedula No. 16449272 (Colombia); Passport 16449272 (Colombia) (individual) [SDNT]

SEPULVEDA-IRAGORRI, INC., 4382 Fox Ridge Dr., Weston, FL 33331; Business Registration Document # P00000115667 (United States); US FEIN 65-1062397 [BPI-SDNT]

SEPULVEDA-IRAGORRI, LTD., Calle 6 Oeste No. 4-200 apt. 202, Cali, Colombia; Nassau, Bahamas, The [BPI-SDNT]

SEPULVEDA-IRAGORRI, LTD., Calle 6 Oeste No. 4-200 apt. 202, Cali, Colombia; Nassau, Bahamas, The [SDNT]

SEPULVEDA-IRAGORRI, LTD., Calle 6 Oeste No. 4-200 apt. 202, Cali, Colombia; Nassau, Bahamas, The [SDNT]

SERB DEMOCRATIC PARTY (a.k.a. SDS; a.k.a. SRPSKA DEMOKRATSKA STRANKA), Kralja Alfonsa XIII, Number 1, 78000 Banja Luka, Bosnia and Herzegovina [BALKANS]

SERBANA E.U. (a.k.a. SERVICIOS DE LA SABANA E.U.), Carrera 13A No. 89-38 of. 713, Bogota, Colombia; NIT # 830050331-8 (Colombia) [SDNT]

SERCUBA (a.k.a. WWW.SERCUBA.COM), Libertad s/n, e/ Honorato del Castillo y Maceo, Ciego de Avila, Cuba; Gral. Gomez #105 e/ Maceo e Independencia, Camaguey, Cuba; Calle 29 #5218 e/ 52 y 54 Edif. Cimex, Cienfuegos, Cuba; Calle 6 #408 esq. 3ra. Ave. Miramar Playa, La Habana, Cuba; Edif. Las Novedades altos Ave. Frank Pais e/ Segunda y Aven. Figueredo. Rpto. Jesus Menendez. Bayamo, Granma, Cuba; Crombet s/n e/ Los Maceos y Moncada, Guantanamo, Cuba; Frexes #216 e/ Maceo y Martires, Holguin, Cuba; Ave. 1ro. De Mayo s/n. Moa, Holguin, Cuba; Vicente Garcia #28 e/ Julian Santana y Francisco Vega, Tienda La Nueva, Las Tunas, Cuba; Calle 40 esq. Playa. Varadero, Matanzas, Cuba; Calle Ayuntamiento e/ Medio y Rio, Matanzas, Cuba; Gerardo Medina #633, Pinar del Rio, Cuba; Independencia #171 Sur, altos, Sancti Spiritus, Cuba; Felix Pena #565 e/ Jose A. Saco y Aguilera, Santiago de Cuba, Cuba; Carretera Central Km. 298 Banda Esperanza, Villa Clara, Cuba; Calle 39 e/ 30 y 32 Altos del Servi Cupet “El parque”, Isla de la Juventud, Cuba [CUBA]

SERGITOV, Vitali (a.k.a. BONT; a.k.a. BOUT, Viktor Anatolijevitch; a.k.a. BOUTOV; a.k.a. BUTT; a.k.a. BUTTE); DOB 13 JAN 1967; alt. DOB 13 JAN 1970; Businessman, dealer and transporter of weapons and minerals (individual) [LIBERIA]

SERNA DE PEREZ, Maria Norbi (a.k.a. SERNA, Maria Norby), c/o INVHERESA S.A., Cali, Colombia; c/o ALKALA ASOCIADOS S.A., Cali, Colombia; Carrera 30A No. 67-45, Palmira, Colombia; DOB 14 Jul 1945; Cedula No. 29475049 (Colombia) (individual) [SDNT]

SERNA GOMEZ, Adriana Maria, c/o DROBLAM S.A., Cali, Colombia; DOB 22 Jan 1971; Cedula No. 34600630 (Colombia); Passport 34600630 (Colombia) (individual) [SDNT]

SERNA SERNA, Jairo, c/o CAJA SOLIDARIA, Bogota, Colombia; c/o COPSERVIR LTDA., Bogota, Colombia; Cedula No. 14888822 (Colombia) (individual) [SDNT]

SERNA, Maria Norby (a.k.a. SERNA DE PEREZ, Maria Norbi), c/o INVHERESA S.A., Cali, Colombia; c/o ALKALA ASOCIADOS S.A., Cali, Colombia; Carrera 30A No. 67-45, Palmira, Colombia; DOB 14 Jul 1945; Cedula No. 29475049 (Colombia) (individual) [SDNT]

SERRANO PONCE, Jose Delio, c/o DISMERCOOP, Cali, Colombia; DOB 13 Apr 1965; Cedula No. 16711205 (Colombia) (individual) [SDNT]

SERRANO SILVA, Luz Esperanza, c/o MAGEN LTDA., Bogota, Colombia; Cedula No. 51822684 (Colombia); Passport 51822684 (Colombia) (individual) [SDNT]

SERVIAUTOS UNO A 1A LIMITADA (a.k.a. DIAGNOSTICENTRO LA GARANTIA), Calle 34 No. 5A-25, Cali, Colombia; Carrera 15 No. 44-68, Cali, Colombia; NIT # 800032413-8 (Colombia) [SDNT]

SERVICIO AEREO DE SANTANDER E.U. (a.k.a. S.A.S. E.U.), Carrera 66 No. 7-31, Bogota, Colombia; NIT # 800543219-8 (Colombia) [SDNT]

SERVICIOS ADMINISTRATIVOS Y DE ORGANIZACION, S.C., Tijuana, Baja California, Mexico [SDNTK]

SERVICIOS DE LA SABANA E.U. (a.k.a. SERBANA E.U.), Carrera 13A No. 89-38 of. 713, Bogota, Colombia; NIT # 830050331-8 (Colombia) [SDNT]

SERVICIOS FARMACEUTICOS SERVIFAR S.A. (a.k.a. SERVIFAR S.A.), Carrera 4 No. 31-96, Cali, Colombia; NIT # 805003968-8 (Colombia) [SDNT]

SERVICIOS FUTURA LIMITADA (a.k.a. SERVIFUTURA LTDA.), Calle 12B No. 27-39, Bogota, Colombia; Carrera 28 No. 11-65 of. 416, Bogota, Colombia; Carrera 28 No. 11-65 of. 712, Bogota, Colombia; Carrera 70 No. 54-30, Bogota, Colombia; NIT # 830044689-4 (Colombia) [SDNT]

SERVICIOS INMOBILIARIOS LTDA., Avenida 2N No. 7N-55 of. 605, Cali, Colombia; Carrera 65 No. 13-82, Cali, Colombia [SDNT]

SERVICIOS LOGISTICOS Y MARKETING LTDA. (a.k.a. S L M K LTDA.), Carrera 28 No. 11-65/67 of. 717 Centro Comercial Ricaurte, Bogota, Colombia; NIT # 830044689-4 (Colombia) [SDNT]

SERVICIOS MYRAL E.U., Calle 6 Oeste No. 6-38, Cali, Colombia; Calle 29 Norte No. 6N-43, Cali, Colombia; NIT # 805022419-7 (Colombia) [SDNT]

SERVICIOS SOCIALES LTDA., Barranquilla, Colombia [SDNT]

SERVIFAR S.A. (a.k.a. SERVICIOS FARMACEUTICOS SERVIFAR S.A.), Carrera 4 No. 31-96, Cali, Colombia; NIT # 805003968-8 (Colombia) [SDNT]

SERVIFUTURA LTDA. (a.k.a. SERVICIOS FUTURA LIMITADA), Calle 12B No. 27-39, Bogota, Colombia; Carrera 28 No. 11-65 of. 416, Bogota, Colombia; Carrera 28 No. 11-65 of. 712, Bogota, Colombia; Carrera 70 No. 54-30, Bogota, Colombia; NIT # 830044689-4 (Colombia) [SDNT]

SERVIMPEX, S.A., Panama [CUBA]

SERVINAVES, S.A., Panama [CUBA]

SES AUTOMOBILE (a.k.a. SES GROUP; a.k.a. SES INTERNATIONAL CORP), Harasta Homs Highway, PO Box 241, Damascus, Syria; Harsta Hams Road, PO Box 291, Damascus, Syria [IRAQ2]

SES GROUP (a.k.a. SES AUTOMOBILE; a.k.a. SES INTERNATIONAL CORP), Harasta Homs Highway, PO Box 241, Damascus, Syria; Harsta Hams Road, PO Box 291, Damascus, Syria [IRAQ2]

SES INTERNATIONAL CORP (a.k.a. SES AUTOMOBILE; a.k.a. SES GROUP), Harasta Homs Highway, PO Box 241, Damascus, Syria; Harsta Hams Road, PO Box 291, Damascus, Syria [IRAQ2]

SESELJ, Vojislav; DOB 11 Oct 1954; POB Sarajevo, Bosnia-Herzegovina; ICTY indictee (individual) [BALKANS]

SETH, Iqbal (a.k.a. ANIS, Ibrahim Shaikh Mohd; a.k.a. AZIZ, Abdul Hamid Abdul; a.k.a. DILIP, Aziz; a.k.a. EBRAHIM, Dawood; a.k.a. HASAN, Shaikh Daud; a.k.a. HASSAN, Dawood; a.k.a. IBRAHIM, Anis; a.k.a. IBRAHIM, Dawood; a.k.a. IBRAHIM, Dawood Sheik; a.k.a. KASKAR, Dawood Ibrahim; a.k.a. REHMAN, Shaikh Ismail Abdul; a.k.a. SABRI, Dawood; a.k.a. SAHEB, Amir), 617 CP Berar Society, Block 7-8, Karachi, Pakistan; House No. 37, Street 30, Phase V, Defence Housing Authority, Karachi, Pakistan; White House, Al-Wassal Road, Jumeira, Dubai, United Arab Emirates; 33-36, Pakmodiya Street, Haji Musafirkhana, Dongri, Bombay, India; House No. 10, Hill Top Arcade, Defence Housing Authority, Karachi, Pakistan; Moin Palace, 2nd Floor, Opp. Abdullah Shah Gazi Dargah, Clifton, Karachi, Pakistan; DOB 26 Dec 1955; alt. DOB 31 Dec 1955; POB Ratnagiri, Maharashtra, India; citizen India alt. United Arab Emirates; alt. Pakistan; nationality India; Passport A-717288 (United Arab Emirates) issued 18 Aug 1985; alt. Passport F-823692 (Yemen) issued 02 Sep 1989; alt. Passport G-869537 (Pakistan); alt. Passport G-866537 (Pakistan) issued 12 Aug 1991; alt. Passport V-57865 (India) issued 03 Oct 1983; alt. Passport K-560098 (India) issued 30 Jul 1975; alt. Passport P-537849 (India) issued 30 Jul 1979; alt. Passport A-501801 (India) issued 26 Jul 1985; alt. Passport A-333602 (India) issued 04 Jun 1985; alt. Passport R-841697 (India) issued 26 Nov 1981; alt. Passport M-110522 (India) issued 13 Nov 1978 (individual) [SDGT] [SDNTK]

SFZ (a.k.a. SUDANESE FREE ZONES AND MARKETS COMPANY), P.O. Box 1789, Khartoum, Sudan; Chad; Saudi Arabia; Turkey; United Arab Emirates [SUDAN]

SHABAN, Adib (a.k.a. AL-ANI, Adib Shaban; a.k.a. SHABAN, Dr. Adib); DOB 1952; nationality Iraq (individual) [IRAQ2]

SHABAN, Dr. Adib (a.k.a. AL-ANI, Adib Shaban; a.k.a. SHABAN, Adib); DOB 1952; nationality Iraq (individual) [IRAQ2]

SHAHBANDAR, Samira (a.k.a. CHADIAN); DOB 1946; POB Baghdad, Iraq; nationality Iraq; wife of Saddam Hussein al-Tikriti (individual) [IRAQ2]

SHAHID BAKERI INDUSTRIAL GROUP (a.k.a. “SBIG”), Tehran, Iran [NPWMD]

SHAHID HEMMAT INDUSTRIAL GROUP (a.k.a. “SHIG”), Damavand Tehran Highway, Tehran, Iran [NPWMD]

SHALABI, Ismail Abdallah Sbaitan, Wilhelm-Strasse 45, 59269, Beckum, Germany; DOB 30 Apr 1973; POB Beckum, Germany; nationality Jordan; nationality possibly Palestinian;arrested 23 Apr 2002 (individual) [SDGT]

SHALEESH, Asef Isa (a.k.a. AL-SHALISH, Dr. Asef; a.k.a. ISSA, Assef; a.k.a. SHALEESH, Dr. Assef Essa; a.k.a. SHALISH, Asif), Damascus, Syria; DOB 1 Jan 1959; nationality Syria; Passport 4713277 (Syria) (individual) [IRAQ2]

SHALEESH, Dhu Himma (a.k.a. AL-HEMMEH, Thu; a.k.a. AL-SHALISH, Dhu Al-Himma; a.k.a. SHALEESH, Thu Al Hima; a.k.a. SHALISH, Dhu Al Himma; a.k.a. SHALISH, Dhuil Himma; a.k.a. SHALISH, Zuhayr; a.k.a. SHALISH, Zuhilma), Damascus, Syria; DOB circa 1956; POB Al-Ladhiqiyah, Syria; nationality Syria; General; Has a military position-is known also as Major General or Brigadier General. (individual) [IRAQ2]

SHALEESH, Dr. Assef Essa (a.k.a. AL-SHALISH, Dr. Asef; a.k.a. ISSA, Assef; a.k.a. SHALEESH, Asef Isa; a.k.a. SHALISH, Asif), Damascus, Syria; DOB 1 Jan 1959; nationality Syria; Passport 4713277 (Syria) (individual) [IRAQ2]

SHALEESH, Thu Al Hima (a.k.a. AL-HEMMEH, Thu; a.k.a. AL-SHALISH, Dhu Al-Himma; a.k.a. SHALEESH, Dhu Himma; a.k.a. SHALISH, Dhu Al Himma; a.k.a. SHALISH, Dhuil Himma; a.k.a. SHALISH, Zuhayr; a.k.a. SHALISH, Zuhilma), Damascus, Syria; DOB circa 1956; POB Al-Ladhiqiyah, Syria; nationality Syria; General; Has a military position-is known also as Major General or Brigadier General. (individual) [IRAQ2]

SHALISH, Asif (a.k.a. AL-SHALISH, Dr. Asef; a.k.a. ISSA, Assef; a.k.a. SHALEESH, Asef Isa; a.k.a. SHALEESH, Dr. Assef Essa), Damascus, Syria; DOB 1 Jan 1959; nationality Syria; Passport 4713277 (Syria) (individual) [IRAQ2]

SHALISH, Dhu Al Himma (a.k.a. AL-HEMMEH, Thu; a.k.a. AL-SHALISH, Dhu Al-Himma; a.k.a. SHALEESH, Dhu Himma; a.k.a. SHALEESH, Thu Al Hima; a.k.a. SHALISH, Dhuil Himma; a.k.a. SHALISH, Zuhayr; a.k.a. SHALISH, Zuhilma), Damascus, Syria; DOB circa 1956; POB Al-Ladhiqiyah, Syria; nationality Syria; General; Has a military position-is known also as Major General or Brigadier General. (individual) [IRAQ2]

SHALISH, Dhuil Himma (a.k.a. AL-HEMMEH, Thu; a.k.a. AL-SHALISH, Dhu Al-Himma; a.k.a. SHALEESH, Dhu Himma; a.k.a. SHALEESH, Thu Al Hima; a.k.a. SHALISH, Dhu Al Himma; a.k.a. SHALISH, Zuhayr; a.k.a. SHALISH, Zuhilma), Damascus, Syria; DOB circa 1956; POB Al-Ladhiqiyah, Syria; nationality Syria; General; Has a military position-is known also as Major General or Brigadier General. (individual) [IRAQ2]

SHALISH, Zuhayr (a.k.a. AL-HEMMEH, Thu; a.k.a. AL-SHALISH, Dhu Al-Himma; a.k.a. SHALEESH, Dhu Himma; a.k.a. SHALEESH, Thu Al Hima; a.k.a. SHALISH, Dhu Al Himma; a.k.a. SHALISH, Dhuil Himma; a.k.a. SHALISH, Zuhilma), Damascus, Syria; DOB circa 1956; POB Al-Ladhiqiyah, Syria; nationality Syria; General; Has a military position-is known also as Major General or Brigadier General. (individual) [IRAQ2]

SHALISH, Zuhilma (a.k.a. AL-HEMMEH, Thu; a.k.a. AL-SHALISH, Dhu Al-Himma; a.k.a. SHALEESH, Dhu Himma; a.k.a. SHALEESH, Thu Al Hima; a.k.a. SHALISH, Dhu Al Himma; a.k.a. SHALISH, Dhuil Himma; a.k.a. SHALISH, Zuhayr), Damascus, Syria; DOB circa 1956; POB Al-Ladhiqiyah, Syria; nationality Syria; General; Has a military position-is known also as Major General or Brigadier General. (individual) [IRAQ2]

SHALLAH, Dr. Ramadan Abdullah (a.k.a. ABDALLAH, Ramadan; a.k.a. ABDULLAH, Dr. Ramadan; a.k.a. SHALLAH, Ramadan Abdalla Mohamed), Damascus, Syria; DOB 01 Jan 1958; POB Gaza City, Gaza Strip; Passport 265 216 (Egypt); SSN 589-17-6824 (United States); Secretary General of the PALESTINIAN ISLAMIC JIHAD (individual) [SDT]

SHALLAH, Ramadan Abdalla Mohamed (a.k.a. ABDALLAH, Ramadan; a.k.a. ABDULLAH, Dr. Ramadan; a.k.a. SHALLAH, Dr. Ramadan Abdullah), Damascus, Syria; DOB 01 Jan 1958; POB Gaza City, Gaza Strip; Passport 265 216 (Egypt); SSN 589-17-6824 (United States); Secretary General of the PALESTINIAN ISLAMIC JIHAD (individual) [SDT]

SHAMU, Webster Kotiwani, 1 Uplands Close, Highlands, Zimbabwe; DOB 6 Jun 1945; Passport AN203141 (Zimbabwe) expires 15 Jan 2011; Minister of Policy Implementation (individual) [ZIMBABWE]

SHAMUYARIRA, Nathan Marwirakuwa; DOB 29 Sept 1928; Passport AD000468 (Zimbabwe); Politburo Secretary for Information and Publicity (individual) [ZIMBABWE]

SHANAB METALS ESTABLISHMENT (a.k.a. ABU SHANAB METALS ESTABLISHMENT; a.k.a. AMIN ABU SHANAB&SONS CO.; a.k.a. TARIQ ABU SHANAB EST.; a.k.a. TARIQ ABU SHANAB EST. FOR TRADE&COMMERCE; a.k.a. TARIQ ABU SHANAB METALS ESTABLISHMENT), Musherfeh, P.O. Box 766, Zarka, Jordan [IRAQ2]

SHANT, Adam Yacub (a.k.a. “SHARIF, Adam Yacub”; a.k.a. “YACOUB, Adam”); DOB circa 1976; Commander for the Sudan Liberation Army (SLA) (individual) [SUDAN]

SHAQAQI, Fathi; Secretary General of PALESTINIAN ISLAMIC JIHAD-SHIQAQI (individual) [SDT]

SHAQIRI, Shaqir; DOB 1 Sep 1964; POB Serbia and Montenegro (individual) [BALKANS]

SHAQIRI, Xhezair; DOB 15 May 1965; POB Tanusevci, Macedonia (individual) [BALKANS]

SHARAABI, Tarek (a.k.a. AL-CHARAABI, Tarek Ben Al-Bechir Ben Amara; a.k.a. CHARAABI, Tarek), Viale Bligny n.42, Milano, Italy; DOB 31 Mar 1970; POB Tunisia; nationality Tunisia; Italian Fiscal Code CHRTRK70C31Z352U; Passport L 579603 issued 19 Nov 1997 expires 18 Nov 2002 (individual) [SDGT]

SHARPER S.A., Calle 17A No. 28A-43, Bogota, Colombia; Calle 12B No. 28-58, Bogota, Colombia; Calle 12B No. 28-70, Bogota, Colombia; Calle 16 No. 28A-42, Bogota, Colombia; Calle 16 No. 28A-57, Bogota, Colombia; NIT # 830026833-2 (Colombia) [SDNT]

SHARVET S.A., Calle 12B No. 28-70, Bogota, Colombia; NIT # 830050743-9 (Colombia) [SDNT]

SHAW, Emmanuel (II); DOB 26 JUL 1946; alt. DOB 26 JUL 1956; alt. DOB 29 JUL 1956; Advisor to former President of Liberia Charles Taylor (individual) [LIBERIA]

SHAWEESH, Yasser Abu (a.k.a. ABOU SHAWEESH, Yasser Mohamed; a.k.a. ABU SHAWEESH, Yasser Mohamed Ismail), Meckennheimer Str. 74a, Bonn 53179, Germany; Wuppertal Prison, Germany; DOB 20 Nov 1973; POB Benghazi, Libya; Passport 981358 (Egypt); alt. Passport 0003213 (Egypt); Travel Document Number C00071659 (Germany); alt. Travel Document Number 939254 (Egypt) (individual) [SDGT]

SHAWKAT, Assef, Al-Akkad Street, Damascus, Syria; DOB 1950; POB Tartus, Syria; nationality Syria; Director of Syrian Military Intelligence (individual) [SYRIA]

SHEIMAN, Victor Uladzimiravich (a.k.a. SHEIMAN, Victor Vladimirovich; a.k.a. SHEIMAN, Viktar Uladzimiravich; a.k.a. SHEIMAN, Viktar Vladimirovich; a.k.a. SHEIMAN, Viktor Uladzimiravich; a.k.a. SHEIMAN, Viktor Vladimirovich; a.k.a. SHEYMAN, Victor Uladzimiravich; a.k.a. SHEYMAN, Victor Vladimirovich; a.k.a. SHEYMAN, Viktar Uladzimiravich; a.k.a. SHEYMAN, Viktar Vladimirovich; a.k.a. SHEYMAN, Viktor Uladzimiravich; a.k.a. SHEYMAN, Viktor Vladimirovich); DOB 26 May 1958; POB Soltanishka, Voronovskovo, Belarus; alt. POB Grodno, Belarus; State Secretary of the Security Council; former Prosecutor General (individual) [BELARUS]

SHEIMAN, Victor Vladimirovich (a.k.a. SHEIMAN, Victor Uladzimiravich; a.k.a. SHEIMAN, Viktar Uladzimiravich; a.k.a. SHEIMAN, Viktar Vladimirovich; a.k.a. SHEIMAN, Viktor Uladzimiravich; a.k.a. SHEIMAN, Viktor Vladimirovich; a.k.a. SHEYMAN, Victor Uladzimiravich; a.k.a. SHEYMAN, Victor Vladimirovich; a.k.a. SHEYMAN, Viktar Uladzimiravich; a.k.a. SHEYMAN, Viktar Vladimirovich; a.k.a. SHEYMAN, Viktor Uladzimiravich; a.k.a. SHEYMAN, Viktor Vladimirovich); DOB 26 May 1958; POB Soltanishka, Voronovskovo, Belarus; alt. POB Grodno, Belarus; State Secretary of the Security Council; former Prosecutor General (individual) [BELARUS]

SHEIMAN, Viktar Uladzimiravich (a.k.a. SHEIMAN, Victor Uladzimiravich; a.k.a. SHEIMAN, Victor Vladimirovich; a.k.a. SHEIMAN, Viktar Vladimirovich; a.k.a. SHEIMAN, Viktor Uladzimiravich; a.k.a. SHEIMAN, Viktor Vladimirovich; a.k.a. SHEYMAN, Victor Uladzimiravich; a.k.a. SHEYMAN, Victor Vladimirovich; a.k.a. SHEYMAN, Viktar Uladzimiravich; a.k.a. SHEYMAN, Viktar Vladimirovich; a.k.a. SHEYMAN, Viktor Uladzimiravich; a.k.a. SHEYMAN, Viktor Vladimirovich); DOB 26 May 1958; POB Soltanishka, Voronovskovo, Belarus; alt. POB Grodno, Belarus; State Secretary of the Security Council; former Prosecutor General (individual) [BELARUS]

SHEIMAN, Viktar Vladimirovich (a.k.a. SHEIMAN, Victor Uladzimiravich; a.k.a. SHEIMAN, Victor Vladimirovich; a.k.a. SHEIMAN, Viktar Uladzimiravich; a.k.a. SHEIMAN, Viktor Uladzimiravich; a.k.a. SHEIMAN, Viktor Vladimirovich; a.k.a. SHEYMAN, Victor Uladzimiravich; a.k.a. SHEYMAN, Victor Vladimirovich; a.k.a. SHEYMAN, Viktar Uladzimiravich; a.k.a. SHEYMAN, Viktar Vladimirovich; a.k.a. SHEYMAN, Viktor Uladzimiravich; a.k.a. SHEYMAN, Viktor Vladimirovich); DOB 26 May 1958; POB Soltanishka, Voronovskovo, Belarus; alt. POB Grodno, Belarus; State Secretary of the Security Council; former Prosecutor General (individual) [BELARUS]

SHEIMAN, Viktor Uladzimiravich (a.k.a. SHEIMAN, Victor Uladzimiravich; a.k.a. SHEIMAN, Victor Vladimirovich; a.k.a. SHEIMAN, Viktar Uladzimiravich; a.k.a. SHEIMAN, Viktar Vladimirovich; a.k.a. SHEIMAN, Viktor Vladimirovich; a.k.a. SHEYMAN, Victor Uladzimiravich; a.k.a. SHEYMAN, Victor Vladimirovich; a.k.a. SHEYMAN, Viktar Uladzimiravich; a.k.a. SHEYMAN, Viktar Vladimirovich; a.k.a. SHEYMAN, Viktor Uladzimiravich; a.k.a. SHEYMAN, Viktor Vladimirovich); DOB 26 May 1958; POB Soltanishka, Voronovskovo, Belarus; alt. POB Grodno, Belarus; State Secretary of the Security Council; former Prosecutor General (individual) [BELARUS]

SHEIMAN, Viktor Vladimirovich (a.k.a. SHEIMAN, Victor Uladzimiravich; a.k.a. SHEIMAN, Victor Vladimirovich; a.k.a. SHEIMAN, Viktar Uladzimiravich; a.k.a. SHEIMAN, Viktar Vladimirovich; a.k.a. SHEIMAN, Viktor Uladzimiravich; a.k.a. SHEYMAN, Victor Uladzimiravich; a.k.a. SHEYMAN, Victor Vladimirovich; a.k.a. SHEYMAN, Viktar Uladzimiravich; a.k.a. SHEYMAN, Viktar Vladimirovich; a.k.a. SHEYMAN, Viktor Uladzimiravich; a.k.a. SHEYMAN, Viktor Vladimirovich); DOB 26 May 1958; POB Soltanishka, Voronovskovo, Belarus; alt. POB Grodno, Belarus; State Secretary of the Security Council; former Prosecutor General (individual) [BELARUS]

SHEREIK MICA MINES COMPANY, C/O SUDANESE MINING CORPORATION (a.k.a. SHERIEK MICA PROJECT, c/o SUDANESE MINING CORPORATION), P.O. Box 1034, Khartoum, Sudan [SUDAN]

SHERIEK MICA PROJECT, c/o SUDANESE MINING CORPORATION (a.k.a. SHEREIK MICA MINES COMPANY, C/O SUDANESE MINING CORPORATION), P.O. Box 1034, Khartoum, Sudan [SUDAN]

SHEYMAN, Victor Uladzimiravich (a.k.a. SHEIMAN, Victor Uladzimiravich; a.k.a. SHEIMAN, Victor Vladimirovich; a.k.a. SHEIMAN, Viktar Uladzimiravich; a.k.a. SHEIMAN, Viktar Vladimirovich; a.k.a. SHEIMAN, Viktor Uladzimiravich; a.k.a. SHEIMAN, Viktor Vladimirovich; a.k.a. SHEYMAN, Victor Vladimirovich; a.k.a. SHEYMAN, Viktar Uladzimiravich; a.k.a. SHEYMAN, Viktar Vladimirovich; a.k.a. SHEYMAN, Viktor Uladzimiravich; a.k.a. SHEYMAN, Viktor Vladimirovich); DOB 26 May 1958; POB Soltanishka, Voronovskovo, Belarus; alt. POB Grodno, Belarus; State Secretary of the Security Council; former Prosecutor General (individual) [BELARUS]

SHEYMAN, Victor Vladimirovich (a.k.a. SHEIMAN, Victor Uladzimiravich; a.k.a. SHEIMAN, Victor Vladimirovich; a.k.a. SHEIMAN, Viktar Uladzimiravich; a.k.a. SHEIMAN, Viktar Vladimirovich; a.k.a. SHEIMAN, Viktor Uladzimiravich; a.k.a. SHEIMAN, Viktor Vladimirovich; a.k.a. SHEYMAN, Victor Uladzimiravich; a.k.a. SHEYMAN, Viktar Uladzimiravich; a.k.a. SHEYMAN, Viktar Vladimirovich; a.k.a. SHEYMAN, Viktor Uladzimiravich; a.k.a. SHEYMAN, Viktor Vladimirovich); DOB 26 May 1958; POB Soltanishka, Voronovskovo, Belarus; alt. POB Grodno, Belarus; State Secretary of the Security Council; former Prosecutor General (individual) [BELARUS]

SHEYMAN, Viktar Uladzimiravich (a.k.a. SHEIMAN, Victor Uladzimiravich; a.k.a. SHEIMAN, Victor Vladimirovich; a.k.a. SHEIMAN, Viktar Uladzimiravich; a.k.a. SHEIMAN, Viktar Vladimirovich; a.k.a. SHEIMAN, Viktor Uladzimiravich; a.k.a. SHEIMAN, Viktor Vladimirovich; a.k.a. SHEYMAN, Victor Uladzimiravich; a.k.a. SHEYMAN, Victor Vladimirovich; a.k.a. SHEYMAN, Viktar Vladimirovich; a.k.a. SHEYMAN, Viktor Uladzimiravich; a.k.a. SHEYMAN, Viktor Vladimirovich); DOB 26 May 1958; POB Soltanishka, Voronovskovo, Belarus; alt. POB Grodno, Belarus; State Secretary of the Security Council; former Prosecutor General (individual) [BELARUS]

SHEYMAN, Viktar Vladimirovich (a.k.a. SHEIMAN, Victor Uladzimiravich; a.k.a. SHEIMAN, Victor Vladimirovich; a.k.a. SHEIMAN, Viktar Uladzimiravich; a.k.a. SHEIMAN, Viktar Vladimirovich; a.k.a. SHEIMAN, Viktor Uladzimiravich; a.k.a. SHEIMAN, Viktor Vladimirovich; a.k.a. SHEYMAN, Victor Uladzimiravich; a.k.a. SHEYMAN, Victor Vladimirovich; a.k.a. SHEYMAN, Viktar Uladzimiravich; a.k.a. SHEYMAN, Viktor Uladzimiravich; a.k.a. SHEYMAN, Viktor Vladimirovich); DOB 26 May 1958; POB Soltanishka, Voronovskovo, Belarus; alt. POB Grodno, Belarus; State Secretary of the Security Council; former Prosecutor General (individual) [BELARUS]

SHEYMAN, Viktor Uladzimiravich (a.k.a. SHEIMAN, Victor Uladzimiravich; a.k.a. SHEIMAN, Victor Vladimirovich; a.k.a. SHEIMAN, Viktar Uladzimiravich; a.k.a. SHEIMAN, Viktar Vladimirovich; a.k.a. SHEIMAN, Viktor Uladzimiravich; a.k.a. SHEIMAN, Viktor Vladimirovich; a.k.a. SHEYMAN, Victor Uladzimiravich; a.k.a. SHEYMAN, Victor Vladimirovich; a.k.a. SHEYMAN, Viktar Uladzimiravich; a.k.a. SHEYMAN, Viktar Vladimirovich; a.k.a. SHEYMAN, Viktor Vladimirovich); DOB 26 May 1958; POB Soltanishka, Voronovskovo, Belarus; alt. POB Grodno, Belarus; State Secretary of the Security Council; former Prosecutor General (individual) [BELARUS]

SHEYMAN, Viktor Vladimirovich (a.k.a. SHEIMAN, Victor Uladzimiravich; a.k.a. SHEIMAN, Victor Vladimirovich; a.k.a. SHEIMAN, Viktar Uladzimiravich; a.k.a. SHEIMAN, Viktar Vladimirovich; a.k.a. SHEIMAN, Viktor Uladzimiravich; a.k.a. SHEIMAN, Viktor Vladimirovich; a.k.a. SHEYMAN, Victor Uladzimiravich; a.k.a. SHEYMAN, Victor Vladimirovich; a.k.a. SHEYMAN, Viktar Uladzimiravich; a.k.a. SHEYMAN, Viktar Vladimirovich; a.k.a. SHEYMAN, Viktor Uladzimiravich); DOB 26 May 1958; POB Soltanishka, Voronovskovo, Belarus; alt. POB Grodno, Belarus; State Secretary of the Security Council; former Prosecutor General (individual) [BELARUS]

SHIEB, Ahmed (a.k.a. ABDUREHMAN, Ahmed Mohammed; a.k.a. ABU FATIMA; a.k.a. ABU ISLAM; a.k.a. ABU KHADIIJAH; a.k.a. AHMED HAMED; a.k.a. AHMED THE EGYPTIAN; a.k.a. AHMED, Ahmed; a.k.a. ALI, Ahmed Mohammed; a.k.a. ALI, Ahmed Mohammed Hamed; a.k.a. ALI, Hamed; a.k.a. AL-MASRI, Ahmad; a.k.a. AL-SURIR, Abu Islam; a.k.a. HEMED, Ahmed; a.k.a. SHUAIB), Afghanistan; DOB 1965; POB Egypt; citizen Egypt (individual) [SDGT]

SHIHATA, Thirwat Salah (a.k.a. ABDALLAH, Tarwat Salah; a.k.a. THIRWAT, Salah Shihata; a.k.a. THIRWAT, Shahata); DOB 29 JUN 60; POB Egypt (individual) [SDGT]

SHINING PATH (a.k.a. EGP; a.k.a. EJERCITO GUERRILLERO POPULAR (PEOPLE'S GUERRILLA ARMY); a.k.a. EJERCITO POPULAR DE LIBERACION (PEOPLE'S LIBERATION ARMY); a.k.a. EPL; a.k.a. PARTIDO COMUNISTA DEL PERU (COMMUNIST PARTY OF PERU); a.k.a. PARTIDO COMUNISTA DEL PERU EN EL SENDERO LUMINOSO DE JOSE CARLOS MARIATEGUI (COMMUNIST PARTY OF PERU ON THE SHINING PATH OF JOSE CARLOS MARIATEGUI); a.k.a. PCP; a.k.a. SENDERO LUMINOSO; a.k.a. SL; a.k.a. SOCORRO POPULAR DEL PERU (PEOPLE'S AID OF PERU); a.k.a. SPP) [FTO] [SDGT]

SHIPLEY SHIPPING CORP., Panama [CUBA]

SHIRI, Perence; DOB 11 Jan 1955; Zimbabwean Air Marshal (Air Force) (individual) [ZIMBABWE]

SHOFESO, Olatude I. (a.k.a. ADEMULERO, Babestan Oluwole; a.k.a. BABESTAN, Wole A.; a.k.a. OGUNGBUYI, Oluwole A.; a.k.a. OGUNGBUYI, Wally; a.k.a. OGUNGBUYI, Wole A.; a.k.a. SHOFESO, Olatunde Irewole); DOB 4 MAR 53; POB Nigeria (individual) [SDNTK]

SHOFESO, Olatunde Irewole (a.k.a. ADEMULERO, Babestan Oluwole; a.k.a. BABESTAN, Wole A.; a.k.a. OGUNGBUYI, Oluwole A.; a.k.a. OGUNGBUYI, Wally; a.k.a. OGUNGBUYI, Wole A.; a.k.a. SHOFESO, Olatude I.); DOB 4 MAR 53; POB Nigeria (individual) [SDNTK]

SHOFESO, Olatutu Temitope (a.k.a. BABESTAN, Abeni O.; a.k.a. OGUNGBUYI, Abeni O.); DOB 30 JUN 52; POB Nigeria (individual) [SDNTK]

SHUAIB (a.k.a. ABDUREHMAN, Ahmed Mohammed; a.k.a. ABU FATIMA; a.k.a. ABU ISLAM; a.k.a. ABU KHADIIJAH; a.k.a. AHMED HAMED; a.k.a. AHMED THE EGYPTIAN; a.k.a. AHMED, Ahmed; a.k.a. ALI, Ahmed Mohammed; a.k.a. ALI, Ahmed Mohammed Hamed; a.k.a. ALI, Hamed; a.k.a. AL-MASRI, Ahmad; a.k.a. AL-SURIR, Abu Islam; a.k.a. HEMED, Ahmed; a.k.a. SHIEB, Ahmed), Afghanistan; DOB 1965; POB Egypt; citizen Egypt (individual) [SDGT]

SHUFAAT, Yazid (a.k.a. BIN SUFAAT, Yazud; a.k.a. SUFAAT, Yazid); DOB 20 Jan 1964; POB Johor, Malaysia; nationality Malaysia; Passport A10472263 (Malaysia) (individual) [SDGT]

SHUMBA, Isaiah Masvayamwanda; DOB 3 Jan 1949; Deputy Minister of Education, Sports and Culture (individual) [ZIMBABWE]

SIAM NICE COMPANY LTD., 273 Soi Thiam Ruammit, Ratchada Phisek Road, Huai Khwang district, Bangkok, Thailand [SDNTK]

SIBANDA, Levy; Deputy Police Commissioner (individual) [ZIMBABWE]

SIBONEY INTERNACIONAL, S.A., Edificio Balmoral, 82 Via Argentina, Panama City, Panama [CUBA]

SIBONEY INTERNACIONAL, S.A., Venezuela [CUBA]

SIEIRO DE NORIEGA, Felicidad, Panama (individual) [CUBA]

SIERRA RAMIREZ, Juan Carlos; DOB 15 Apr 1966; Cedula No. 71680143 (Colombia) (individual) [SDNTK]

SIKIRICA, Dusko; DOB 23 Mar 1964; POB Cirkin Pojle, Bosnia-Herzegovina; ICTY indictee (individual) [BALKANS]

SIKOSANA, Absolom; Politburo Secretary for Youth Affairs (individual) [ZIMBABWE]

SILOS AND STORAGE CORPORATION, P.O. Box 1183, Khartoum, Sudan [SUDAN]

SILVA AVENDANO, Carlos Julio, c/o CAJA SOLIDARIA, Bogota, Colombia; c/o COPSERVIR LTDA., Bogota, Colombia; c/o FARMAVISION LTDA., Bogota, Colombia; Carrera 4A No. 36B-07, Bogota, Colombia; Cedula No. 3229188 (Colombia) (individual) [SDNT]

SILVA OLARTE, Pedro Eliseo, c/o CAJA SOLIDARIA, Bogota, Colombia; c/o COPSERVIR LTDA., Bogota, Colombia; c/o FARMAVISION LTDA., Bogota, Colombia; Cedula No. 19407837 (Colombia) (individual) [SDNT]

SIMAN DADA DE JAAR, Carmen Elena (a.k.a. JAAR, Carmen E.; a.k.a. S DE JAAR, Carmen Elena; a.k.a. SIMAN DE JAAR, Carmen Elena), c/o ARMANDO JAAR Y CIA. S.C.S., Barranquilla, Colombia; c/o CIPE INVESTMENTS CORPORATION, Panama City, Panama; 325 Poinciana Island Drive, Sunny Island Beach, FL 33160; DOB 01 Nov 1953; Cedula No. 1629942 (El Salvador); Passport B296684 (El Salvador) (individual) [SDNT]

SIMAN DE JAAR, Carmen Elena (a.k.a. JAAR, Carmen E.; a.k.a. S DE JAAR, Carmen Elena; a.k.a. SIMAN DADA DE JAAR, Carmen Elena), c/o ARMANDO JAAR Y CIA. S.C.S., Barranquilla, Colombia; c/o CIPE INVESTMENTS CORPORATION, Panama City, Panama; 325 Poinciana Island Drive, Sunny Island Beach, FL 33160; DOB 01 Nov 1953; Cedula No. 1629942 (El Salvador); Passport B296684 (El Salvador) (individual) [SDNT]

SIMATOVIC, Franko 'Frenki'; DOB 1 Apr 1950; POB Belgrade, Serbia and Montenegro,; ICTY indictee in Serb custody (individual) [BALKANS]

SIMIC, Blagoje; DOB 1 Jul 1960; POB Kruskovo Polje; ICTY indictee in custody (individual) [BALKANS]

SIMIC, Milan; DOB 9 Aug 1960; POB Sarajevo, Bosnia-Herzegovina; ICTY indictee (individual) [BALKANS]

SIMOWSKI, Aliaksandr Leanidavich (a.k.a. ZIMOUSKI, Akiaksandr Leanidavich; a.k.a. ZIMOUSKI, Alaksandr Leanidavich; a.k.a. ZIMOUSKY, Alaksandr Leanidavich; a.k.a. ZIMOUSKY, Aliaksandr Leanidavich; a.k.a. ZIMOVSKI, Alaksandr Leanidavich; a.k.a. ZIMOVSKI, Aleksandr Leonidovich; a.k.a. ZIMOVSKI, Alexander Leonidovich; a.k.a. ZIMOVSKI, Aliaksandr Leanidavich; a.k.a. ZIMOVSKY, Alaksandr Leanidavich; a.k.a. ZIMOVSKY, Aleksandr Leonidovich; a.k.a. ZIMOVSKY, Alexander Leonidovich; a.k.a. ZIMOVSKY, Aliaksandr Lieanidavich; a.k.a. ZIMOWSKI, Alaksandr Leanidavich; a.k.a. ZIMOWSKI, Aleksandr Leonidovich; a.k.a. ZIMOWSKI, Alexander Leonidovich; a.k.a. ZIMOWSKY, Alaksandr Leanidavich; a.k.a. ZIMOWSKY, Aleksandr Leonidovich; a.k.a. ZIMOWSKY, Alexander Leonidovich; a.k.a. ZIMOWSKY, Aliaksandr Leanidavich); DOB 10 Jan 1961; POB Germany; Head of the Belarusian State Television and Radio Company (BSTRC); Member of the Upper House of Parliament (individual) [BELARUS]

SINABUL (a.k.a. AL SANABIL; a.k.a. AL-SANBAL; a.k.a. ASANABIL; a.k.a. JAMI'A SANABIL; a.k.a. JAMI'A SANABIL LIL IGATHA WA AL-TANMIYZ; a.k.a. JA'MIA SANBLE LLAGHATHA WA ALTINMIA; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL), Sidon, Lebanon [SDGT]

SIRAT (a.k.a. AL FURQAN; a.k.a. ASSOCIATION FOR CITIZENS RIGHTS AND RESISTANCE TO LIES; a.k.a. ASSOCIATION FOR EDUCATION, CULTURAL, AND TO CREATE SOCIETY—SIRAT; a.k.a. ASSOCIATION FOR EDUCATION, CULTURE AND BUILDING SOCIETY—SIRAT; a.k.a. ASSOCIATION OF CITIZENS FOR THE SUPPORT OF TRUTH AND SUPPRESSION OF LIES; a.k.a. DZEMIJETUL FURKAN; a.k.a. DZEM'IJJETUL FURQAN; a.k.a. DZEMILIJATI FURKAN; a.k.a. IN SIRATEL; a.k.a. ISTIKAMET), Put Mladih Muslimana 30a, 71 000 Sarajevo, Bosnia and Herzegovina; ul. Strossmajerova 72, Zenica, Bosnia and Herzegovina; Muhameda Hadzijahica #42, Sarajevo, Bosnia and Herzegovina [SDGT]

SIREGAR, Parlin (a.k.a. SIREGAR, Parlindungan; a.k.a. SIREGAR, Saleh Parlindungan); DOB 25 Apr 1957; alt. DOB 25 Apr 1967; POB Indonesia; nationality Indonesia (individual) [SDGT]

SIREGAR, Parlindungan (a.k.a. SIREGAR, Parlin; a.k.a. SIREGAR, Saleh Parlindungan); DOB 25 Apr 1957; alt. DOB 25 Apr 1967; POB Indonesia; nationality Indonesia (individual) [SDGT]

SIREGAR, Saleh Parlindungan (a.k.a. SIREGAR, Parlin; a.k.a. SIREGAR, Parlindungan); DOB 25 Apr 1957; alt. DOB 25 Apr 1967; POB Indonesia; nationality Indonesia (individual) [SDGT]

SISETEC (a.k.a. SISTEMAS Y SERVICIOS TECNICOS EMPRESA UNIPERSONAL), Calle 29 Norte No. 6N-43, Cali, Colombia; NIT # 805013420-7 (Colombia) [SDNT]

SISON, Jose Maria (a.k.a. LIWINAG, Armando), Netherlands; DOB 8 Feb 1938; POB Llocos Sur Northern Luzon, Philippines (individual) [SDGT]

SISTEMA DE DISTRIBUCION MUNDIAL, S.A.C. (a.k.a. WORLD DISTRIBUTION SYSTEM), Avenida Jose Pardo No. 601, Piso 11, Miraflores, Lima 18, Peru; RUC # 20458382779 (Peru) [BPI-SDNTK]

SISTEMAS INTEGRALES DEL VALLE LTDA. (a.k.a. SISVA LTDA.), Avenida 4 Norte No. 6N-67 of. 610, Cali, Colombia; NIT # 805006032-3 (Colombia) [SDNT]

SISTEMAS Y SERVICIOS TECNICOS EMPRESA UNIPERSONAL (a.k.a. SISETEC), Calle 29 Norte No. 6N-43, Cali, Colombia; NIT # 805013420-7 (Colombia) [SDNT]

SISVA LTDA. (a.k.a. SISTEMAS INTEGRALES DEL VALLE LTDA.), Avenida 4 Norte No. 6N-67 of. 610, Cali, Colombia; NIT # 805006032-3 (Colombia) [SDNT]

SL (a.k.a. EGP; a.k.a. EJERCITO GUERRILLERO POPULAR (PEOPLE'S GUERRILLA ARMY); a.k.a. EJERCITO POPULAR DE LIBERACION (PEOPLE'S LIBERATION ARMY); a.k.a. EPL; a.k.a. PARTIDO COMUNISTA DEL PERU (COMMUNIST PARTY OF PERU); a.k.a. PARTIDO COMUNISTA DEL PERU EN EL SENDERO LUMINOSO DE JOSE CARLOS MARIATEGUI (COMMUNIST PARTY OF PERU ON THE SHINING PATH OF JOSE CARLOS MARIATEGUI); a.k.a. PCP; a.k.a. SENDERO LUMINOSO; a.k.a. SHINING PATH; a.k.a. SOCORRO POPULAR DEL PERU (PEOPLE'S AID OF PERU); a.k.a. SPP) [FTO] [SDGT]

SLAHI, Mahamedou Ould (a.k.a. ABU HAFS THE MAURITANIAN; a.k.a. AL-SHANQITI, Khalid; a.k.a. AL-WALID, Mafouz Walad; a.k.a. AL-WALID, Mahfouz Ould); DOB 1 JAN 75 (individual) [SDGT]

SLAIWAH, Rudi (a.k.a. SALIWA, Rudi; a.k.a. SLAY WAH, Rudi Untaywan; a.k.a. SLEWA, Roodi); nationality Iraq (individual) [IRAQ2]

SLAY WAH, Rudi Untaywan (a.k.a. SALIWA, Rudi; a.k.a. SLAIWAH, Rudi; a.k.a. SLEWA, Roodi); nationality Iraq (individual) [IRAQ2]

SLEWA, Roodi (a.k.a. SALIWA, Rudi; a.k.a. SLAIWAH, Rudi; a.k.a. SLAY WAH, Rudi Untaywan); nationality Iraq (individual) [IRAQ2]

SLJIVANCANIN, Veselin; DOB 13 Jun 1953; POB Zabljak, Serbia and Montenegro; ICTY indictee at large (individual) [BALKANS]

SMITH CORTES, Jorge Emilio, c/o MAPRI DE COLOMBIA LTDA., Bogota, Colombia; Cedula No. 19323175 (Colombia); Passport 19323175 (Colombia) (individual) [SDNT]

SOCIEDAD COMERCIAL Y DEPORTIVA LTDA., Carrera 34 Diag. 29-86 Estadio Pascual Guerrero, Cali, Colombia; Carrera 34 Diag. 29-05, Cali, Colombia; Carrera 34 Diagonal 29 Estadio, Cali, Colombia; NIT # 800141329-4 (Colombia) [SDNT]

SOCIEDAD CONSTRUCTORA LA CASCADA S.A. (a.k.a. CONSTRUCCIONES ASTRO S.A.; f.k.a. CONSTRUCTORA CASCADA), Carrera 4 No. 12-41 of. 1402, Edificio Seguros Bolivar, Cali, Colombia; Calle 1A 62A-120 2305, Cali, Colombia; Apartado Aereo 10077, Cali, Colombia; Calle 1A 62A-120 4114, Cali, Colombia; Calle 1A 62A-120 2418, Cali, Colombia; Carrera 64 1B-83, Cali, Colombia; Carrera 4 No. 12-41 of. 1401, Cali, Colombia; Carrera 4 No. 12-41 of. 1403, Cali, Colombia; Carrera 64 1C-63, Cali, Colombia; Calle 13 3-22 piso 12 y piso 14, Cali, Colombia; Calle 1A 62A-120 6245, Cali, Colombia; Calle 1A 62A-120, Cali, Colombia; Calle 1A 62A-120 B2 108, Cali, Colombia; NIT # 890307311-4 (Colombia) [SDNT]

SOCIEDAD CONSTRUCTORA Y ADMINISTRADORA DEL VALLE LTDA. (a.k.a. SOCOVALLE LTDA.), Avenida 2N No. 7N-55 of. 601-602, Cali, Colombia [SDNT]

SOCIEDAD DE COMERCIALIZACION INTERNACIONAL POSEIDON S.A. (f.k.a. C.I. COMERCIALIZADORA INTERNACIONAL POSEIDON S.A.; a.k.a. C.I. POSEIDON S.A.), Calle 79 Sur No. 48B-56, Sabaneta, Antioquia, Colombia; NIT # 800173090-7 (Colombia) [SDNTK]

SOCIEDAD DE NEGOCIOS SAN AGUSTIN LTDA., Factoria La Rivera, La Union, Valle, Colombia; NIT # 800042932-1 (Colombia) [SDNT]

SOCIEDAD INVERSORA EN PROYECTOS DE INTERNET, S.A., Calle Segre 25, 28002 Madrid, Spain [SDNT]

SOCIETA COMMERCIA MINERALI E METTALLI, SRL (a.k.a. SOCOMET, SPA), Milan, Italy [CUBA]

SOCIETY OF ISLAMIC COOPERATION (a.k.a. JAM'IYAT AL TA'AWUN AL ISLAMIYYA; a.k.a. JAM'YAH TA'AWUN AL-ISLAMIA; a.k.a. JIT), Qandahar City, Afghanistan [SDGT]

SOCOMET, SPA (a.k.a. SOCIETA COMMERCIA MINERALI E METTALLI, SRL), Milan, Italy [CUBA]

SOCORRO POPULAR DEL PERU (PEOPLE'S AID OF PERU) (a.k.a. EGP; a.k.a. EJERCITO GUERRILLERO POPULAR (PEOPLE'S GUERRILLA ARMY); a.k.a. EJERCITO POPULAR DE LIBERACION (PEOPLE'S LIBERATION ARMY); a.k.a. EPL; a.k.a. PARTIDO COMUNISTA DEL PERU (COMMUNIST PARTY OF PERU); a.k.a. PARTIDO COMUNISTA DEL PERU EN EL SENDERO LUMINOSO DE JOSE CARLOS MARIATEGUI (COMMUNIST PARTY OF PERU ON THE SHINING PATH OF JOSE CARLOS MARIATEGUI); a.k.a. PCP; a.k.a. SENDERO LUMINOSO; a.k.a. SHINING PATH; a.k.a. SL; a.k.a. SPP) [FTO] [SDGT]

SOCOVALLE LTDA. (a.k.a. SOCIEDAD CONSTRUCTORA Y ADMINISTRADORA DEL VALLE LTDA.), Avenida 2N No. 7N-55 of. 601-602, Cali, Colombia [SDNT]

SOKTAR (a.k.a. JARACO S.A.; a.k.a. TRADACO S.A.), 45 Route de Frontenex, CH-1207 Geneva, Switzerland [IRAQ2]

SOLAQUE SANCHEZ, Alfredo Alfonso, c/o LABORATORIOS KRESSFOR DE COLOMBIA S.A., Bogota, Colombia; c/o DISTRIBUIDORA DE DROGAS CONDOR LTDA., Bogota, Colombia; c/o ALFA PHARMA S.A., Bogota, Colombia; c/o PENTACOOP LTDA., Bogota, Colombia; c/o PENTA PHARMA DE COLOMBIA S.A., Bogota, Colombia; c/o LABORATORIOS BLAIMAR DE COLOMBIA S.A., Bogota, Colombia; DOB 18 Dec 1962; Cedula No. 79261845 (Colombia) (individual) [SDNT]

SOLIS HERNANDEZ, Damaris, c/o CAJA SOLIDARIA, Bogota, Colombia; c/o COOMULCOSTA, Barranquilla, Colombia; c/o COPSERVIR LTDA., Bogota, Colombia; Cedula No. 32669869 (Colombia) (individual) [SDNT]

SOLUCIONES COOPERATIVAS, Calle 15 No. 4-43 of. 250, Cali, Colombia; Calle 70 Sur No. 83-88, Bogota, Colombia; Carrera 32 No. 25-71, Bogota, Colombia; NIT # 830118975-5 (Colombia) [SDNT]

SOM NET AB (a.k.a. SOMALI NETWORK AB), Hallbybacken 15, Spanga 70, Sweden [SDGT]

SOMALI INTERNATIONAL RELIEF ORGANIZATION, 1806 Riverside Ave., 2nd Floor, Minneapolis, MN [SDGT]

SOMALI INTERNET COMPANY, Mogadishu, Somalia [SDGT]

SOMALI NETWORK AB (a.k.a. SOM NET AB), Hallbybacken 15, Spanga 70, Sweden [SDGT]

SOME, Jean-Paul (a.k.a. SONE, Jean-Paul; a.k.a. TAYLOR, Charles Ghankay; a.k.a. TAYLOR, Charles MacArthur); DOB 1 Sep 1947; Former President of Liberia (individual) [LIBERIA]

SONAR F.M. E.U. DIETER MURRLE (a.k.a. FIESTA STEREO 91.5 F.M.; a.k.a. PRISMA STEREO 89.5 F.M), Calle 15 Norte No. 6N-34 of. 1003, Cali, Colombia; Calle 43A No. 1-29 Urb. Sta. Maria del Palmar, Palmira, Colombia; NIT # 805006273-1 (Colombia) [SDNT]

SONAR F.M. S.A. (f.k.a. COLOR STEREO S.A.; f.k.a. COLOR'S S.A.; f.k.a. RADIO UNIDAS FM S.A.), Calle 15 Norte No. 6N-34 piso 15 Edificio Alcazar, Cali, Colombia; Calle 19N No. 2N-29 piso 10 Sur, Cali, Colombia; NIT # 800163602-5 (Colombia) [SDNT]

SONE, Jean-Paul (a.k.a. SOME, Jean-Paul; a.k.a. TAYLOR, Charles Ghankay; a.k.a. TAYLOR, Charles MacArthur); DOB 1 Sep 1947; Former President of Liberia (individual) [LIBERIA]

SOPTA, Stanko; DOB 4 Feb 1966; POB Duzice, Bosnia-Herzegovina (individual) [BALKANS]

SORAYA Y HAYDEE LTDA., Calle 15 Norte No. 6N-34, Piso 15, Cali, Colombia; NIT # 805000643-6 (Colombia) [SDNT]

SOSA RIOS, Diego Alberto (a.k.a. SOSSA RIOS, Diego Alberto), Calle 46 No. 13-56 of. 111, Bogota, Colombia; c/o BONOMERCAD S.A., Bogota, Colombia; c/o DECAFARMA S.A., Bogota, Colombia; c/o FARMACOOP, Bogota, Colombia; c/o PENTAPHARMA DE COLOMBIA S.A., Bogota, Colombia; c/o SHARPER S.A., Bogota, Colombia; c/o COMEDICAMENTOS S.A., Bogota, Colombia; c/o GLAJAN S.A., Bogota, Colombia; c/o DISTRIBUIDORA AGROPECUARIA COLOMBIANA S.A., Cali, Colombia; c/o INVERSIONES BOMBAY S.A., Bogota, Colombia; Cedula No. 71665932 (Colombia) (individual) [SDNT]

SOSSA RIOS, Diego Alberto (a.k.a. SOSA RIOS, Diego Alberto), Calle 46 No. 13-56 of. 111, Bogota, Colombia; c/o BONOMERCAD S.A., Bogota, Colombia; c/o DECAFARMA S.A., Bogota, Colombia; c/o FARMACOOP, Bogota, Colombia; c/o PENTAPHARMA DE COLOMBIA S.A., Bogota, Colombia; c/o SHARPER S.A., Bogota, Colombia; c/o COMEDICAMENTOS S.A., Bogota, Colombia; c/o GLAJAN S.A., Bogota, Colombia; c/o DISTRIBUIDORA AGROPECUARIA COLOMBIANA S.A., Cali, Colombia; c/o INVERSIONES BOMBAY S.A., Bogota, Colombia; Cedula No. 71665932 (Colombia) (individual) [SDNT]

SOTO CELIS, Oscar, c/o COPSERVIR LTDA., Bogota, Colombia; Cedula No. 16546889 (Colombia) (individual) [SDNT]

SOTO DE GOMEZ, Ivonne (a.k.a. SOTO VEGA DE GOMEZ, Ivonne; a.k.a. SOTO VEGA, Ivonne; a.k.a. “LA PANTERA”), Ave. Las Conchas 643, Colonia Playas de Tijuana Secc. Coronado, Tijuana, Baja California CP 22200, Mexico; Pso. Centenario 9971, Colonia Zona Urbana Rio Tijuana, Tijuana, Baja California CP 22320, Mexico; c/o MULTISERVICIOS SIGLO, S.A. DE C.V., Tijuana, Baja California, Mexico; DOB 22 Oct 1953; alt. DOB 25 Oct 1953; POB Tijuana, Baja California, Mexico; R.F.C. SOVI-531022-QIA (Mexico) (individual) [SDNTK]

SOTO GIL, Yolanda Esthela, Padre Mayorga No. 106, Fraccionamiento Las Californias, Tijuana, Baja California, Mexico; c/o DISTRIBUIDORA IMPERIAL DE BAJA CALIFORNIA, S.A. DE C.V., Av. Rio Nazas 1202, Col. Revolucion, Tijuana, Baja California CP 22400, Mexico; c/o FORPRES, S.C., Tijuana, Baja California, Mexico; DOB 5 Aug 1950; POB Tijuana, Baja California, Mexico; C.U.R.P. SOGY500805MBCTLL15 (Mexico) (individual) [SDNTK]

SOTO GUTIERREZ, Hernan, c/o INVERSIONES ARIO LTDA, Cali, Colombia; Carrera 24E No. 4-116 Oeste, Cali, Colombia; Cedula No. 6079597 (Colombia) (individual) [SDNT]

SOTO PACHECO, Armando, c/o FARMA 3.000 LIMITADA, Barranquilla, Colombia; DOB 21 Sep 1966; Cedula No. 10124018 (Colombia); Passport 10124018 (Colombia) (individual) [SDNT]

SOTO PACHECO, Jhonayn, c/o FARMEDIS LTDA., Bogota, Colombia; Cedula No. 7691290 (Colombia) (individual) [SDNT]

SOTO VEGA DE GOMEZ, Ivonne (a.k.a. SOTO DE GOMEZ, Ivonne; a.k.a. SOTO VEGA, Ivonne; a.k.a. “LA PANTERA”), Ave. Las Conchas 643, Colonia Playas de Tijuana Secc. Coronado, Tijuana, Baja California CP 22200, Mexico; Pso. Centenario 9971, Colonia Zona Urbana Rio Tijuana, Tijuana, Baja California CP 22320, Mexico; c/o MULTISERVICIOS SIGLO, S.A. DE C.V., Tijuana, Baja California, Mexico; DOB 22 Oct 1953; alt. DOB 25 Oct 1953; POB Tijuana, Baja California, Mexico; R.F.C. SOVI-531022-QIA (Mexico) (individual) [SDNTK]

SOTO VEGA, Ivonne (a.k.a. SOTO DE GOMEZ, Ivonne; a.k.a. SOTO VEGA DE GOMEZ, Ivonne; a.k.a. “LA PANTERA”), Ave. Las Conchas 643, Colonia Playas de Tijuana Secc. Coronado, Tijuana, Baja California CP 22200, Mexico; Pso. Centenario 9971, Colonia Zona Urbana Rio Tijuana, Tijuana, Baja California CP 22320, Mexico; c/o MULTISERVICIOS SIGLO, S.A. DE C.V., Tijuana, Baja California, Mexico; DOB 22 Oct 1953; alt. DOB 25 Oct 1953; POB Tijuana, Baja California, Mexico; R.F.C. SOVI-531022-QIA (Mexico) (individual) [SDNTK]

SOUCIR, S.A. (a.k.a. COMERCIALIZADORA OROBANCA (A.K.A. SOCIR S.A.)), Calle 36A No. 3GN-07 of. 302, Edificio El Parque, Cali, Colombia; Calle 22N No. 5A-75 of. 702, Edificio Via Veneto, Cali, Colombia [SDNT]

SOUTH ISLAND SHIPPING CO. LTD., c/o EMPRESA DE NAVEGACION MAMBISA, Apartado 543, San Ignacio 104, Havana, Cuba [CUBA]

SOUTHBOUND LTD., P.O. Box 398, Suite 52 and 553 Monrovia House, 26 Main Street, Gibraltar, United Kingdom [LIBERIA]

SPASOJEVIC, Dragon, Bosnia and Herzegovina; DOB 5 Jul 1965; National ID No. 050 796 318 3954 (individual) [BALKANS]

SPECKMAN, Jeanine, United Kingdom (individual) [IRAQ2]

SPINNING AND WEAVING CORPORATION, P.O. Box 795, Khartoum, Sudan [SUDAN]

SPP (a.k.a. EGP; a.k.a. EJERCITO GUERRILLERO POPULAR (PEOPLE'S GUERRILLA ARMY); a.k.a. EJERCITO POPULAR DE LIBERACION (PEOPLE'S LIBERATION ARMY); a.k.a. EPL; a.k.a. PARTIDO COMUNISTA DEL PERU (COMMUNIST PARTY OF PERU); a.k.a. PARTIDO COMUNISTA DEL PERU EN EL SENDERO LUMINOSO DE JOSE CARLOS MARIATEGUI (COMMUNIST PARTY OF PERU ON THE SHINING PATH OF JOSE CARLOS MARIATEGUI); a.k.a. PCP; a.k.a. SENDERO LUMINOSO; a.k.a. SHINING PATH; a.k.a. SL; a.k.a. SOCORRO POPULAR DEL PERU (PEOPLE'S AID OF PERU)) [FTO] [SDGT]

SPRING SP FARM, Mashvingo, Zimbabwe [ZIMBABWE]

SRA (a.k.a. AL-RAHAMA RELIEF FOUNDATION LIMITED; a.k.a. SANABEL L'IL-IGATHA; a.k.a. SANABEL RELIEF AGENCY; a.k.a. SANABEL RELIEF AGENCY LIMITED; a.k.a. SARA), 98 Gresham Road, Middlesbrough, United Kingdom; 63 South Road, Sparkbrook, Birmingham B11 1EX, United Kingdom; 1011 Stockport Road, Levenshulme, Manchester M9 2TB, United Kingdom; P.O. Box 50, Manchester M19 2SP, United Kingdom; 54 Anson Road, London NW2 6AD, United Kingdom; Registered Charity No. 1083469 (United Kingdom); Registration ID 3713110 (United Kingdom); http://www.sanabel.org.uk (website); info@sanabel.org.uk (email). [SDGT]

SRBSKE SUME (a.k.a. SRPSKA SUME; a.k.a. SRPSKE SUME: STATE FORESTRY COMPANY (REPUBLIKA SRPSKA)), Sokolac, Bosnia and Herzegovina [BALKANS]

SRC (a.k.a. SUDAN RAILWAYS CORPORATION), P.O. Box 43, Bara, Sudan; Babanousa, Sudan; Khartoum, Sudan; Kosti, Sudan; Port Sudan, Sudan [SUDAN]

SRDC (a.k.a. SUDAN RURAL DEVELOPMENT COMPANY LIMITED), P.O. Box 2190, Khartoum, Sudan [SUDAN]

SRPSKA DEMOKRATSKA STRANKA (a.k.a. SDS; a.k.a. SERB DEMOCRATIC PARTY), Kralja Alfonsa XIII, Number 1, 78000 Banja Luka, Bosnia and Herzegovina [BALKANS]

SRPSKA SUME (a.k.a. SRBSKE SUME; a.k.a. SRPSKE SUME: STATE FORESTRY COMPANY (REPUBLIKA SRPSKA)), Sokolac, Bosnia and Herzegovina [BALKANS]

SRPSKE SUME: STATE FORESTRY COMPANY (REPUBLIKA SRPSKA) (a.k.a. SRBSKE SUME; a.k.a. SRPSKA SUME), Sokolac, Bosnia and Herzegovina [BALKANS]

STAKIC, Milomir; DOB 19 Jun 1962; POB Maricka, Bosnia-Herzegovina; ICTY indictee (individual) [BALKANS]

STANDWEAR SHIPPING CO. LTD., c/o EMPRESA DE NAVEGACION MAMBISA, Apartado 543, San Ignacio 104, Havana, Cuba [CUBA]

STANISIC, Jovica; DOB 30 Jul 1950; POB Ratkovo, Serbia and Montenegro; ICTY indictee in Serb custody (individual) [BALKANS]

STANKOVIC, Radovan; DOB 10 Mar 1953; POB Trebica, Bosnia-Herzegovina; ICTY indictee in custody (individual) [BALKANS]

STATE CORPORATION FOR CINEMA, P.O. Box 6028, Khartoum, Sudan [SUDAN]

STATE OF JUDEA (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

STATE PEACE AND DEVELOPMENT COUNCIL OF BURMA [BURMA]

STATE TRADING COMPANY (a.k.a. STATE TRADING CORPORATION), P.O. Box 211, Khartoum, Sudan [SUDAN]

STATE TRADING CORPORATION (a.k.a. STATE TRADING COMPANY), P.O. Box 211, Khartoum, Sudan [SUDAN]

STEFFENS VILLARREAL, Alberto Arturo, c/o CAJA SOLIDARIA, Bogota, Colombia; c/o COPSERVIR LTDA., Bogota, Colombia; c/o TRIMARK LTDA., Bogota, Colombia; Cedula No. 8779928 (Colombia) (individual) [SDNT]

STEIGER, Jakob, c/o KOHAS AG, Fribourg, FR, Switzerland; DOB 27 Apr 1941; POB Altstatten, SG, Switzerland (individual) [NPWMD]

STEPANOVIC, Novak; DOB 25 Apr 1966; POB Srebrenica, Bosnia-Herzegovina (individual) [BALKANS]

STERN, Alfred Kaufman, Prague, Czech Republic (individual) [CUBA]

STG.BENEVOLENCE INTERNATIONAL NEDERLAND (a.k.a. BENEVOLENCE INTERNATIONAL NEDERLAND; a.k.a. STICHTING BENEVOLENCE INTERNATIONAL NEDERLAND), Radeborg 14 B, 6228CV Maastricht, Netherlands; Postbus 1149, 6201BC Maastricht, Netherlands; Registration ID 14063277 [SDGT]

STICHTING AL HARAMAIN HUMANITARIAN AID (a.k.a. AL-HARAMAIN : THE NETHERLANDS BRANCH), Jan Hanzenstraat 114, 1053SV, Amsterdam, Netherlands [SDGT]

STICHTING AL-AQSA (a.k.a. AL-AQSA (ASBL); a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NURSAT AL-AQSA AL-SHARIF; a.k.a. SANABIL AL-AQSA CHARITABLE FOUNDATION; a.k.a. SWEDISH CHARITABLE AQSA EST.), BD Leopold II 71, 1080 Brussels, Belgium [SDGT]

STICHTING AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. SWEDISH CHARITABLE AQSA EST.), Gerrit V/D Lindestraat 103 A, 3022 TH, Rotterdam, Netherlands; Gerrit V/D Lindestraat 103 E, 03022 TH, Rotterdam, Netherlands [SDGT]

STICHTING AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. SWEDISH CHARITABLE AQSA EST.), Kappellenstrasse 36, Aachen D-52066, Germany; <Head Office> [SDGT]

STICHTING AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. SWEDISH CHARITABLE AQSA EST.) [SDGT]

STICHTING AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. SWEDISH CHARITABLE AQSA EST.), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

STICHTING AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. SWEDISH CHARITABLE AQSA EST.), P.O. Box 2364, Islamabad, Pakistan [SDGT]

STICHTING AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. SWEDISH CHARITABLE AQSA EST.), P.O. Box 14101, San 'a, Yemen [SDGT]

STICHTING AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. SWEDISH CHARITABLE AQSA EST.), P.O. Box 6222200KBKN, Copenhagen, Denmark [SDGT]

STICHTING AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. SWEDISH CHARITABLE AQSA EST.), Noblev 79 NB, 21433 Malmo, Sweden; Nobelvagen 79 NB, 21433 Malmo, Sweden [SDGT]

STICHTING BENEVOLENCE INTERNATIONAL NEDERLAND (a.k.a. BENEVOLENCE INTERNATIONAL NEDERLAND; a.k.a. STG.BENEVOLENCE INTERNATIONAL NEDERLAND), Radeborg 14 B, 6228CV Maastricht, Netherlands; Postbus 1149, 6201BC Maastricht, Netherlands; Registration ID 14063277 [SDGT]

STICHTING WERELDHULP-BELGIE, V.Z.W. (a.k.a. FONDATION SECOURS MONDIAL A.S.B.L.; a.k.a. FONDATION SECOURS MONDIAL VZW; a.k.a. FONDATION SECOURS MONDIAL 'WORLD RELIEF'; a.k.a. FONDATION SECOURS MONDIAL-BELGIQUE A.S.B.L.; a.k.a. FONDATION SECOURS MONDIAL-KOSOVA; a.k.a. FSM; a.k.a. GLOBAL RELIEF FOUNDATION, INC.; a.k.a. SECOURS MONDIAL DE FRANCE), Rruga e Kavajes, Building No. 3, Apartment No. 61, P.O. Box 2892, Tirana, Albania; Vaatjesstraat, 29, 2580 Putte, Belgium; Rue des Bataves 69, 1040 Etterbeek, Brussels, Belgium; P.O. Box 6, 1040 Etterbeek 2, Brussels, Belgium; Mula Mustafe Baseskije Street No. 72, Sarajevo, Bosnia and Herzegovina; Put Mladih Muslimana Street 30/A, Sarajevo, Bosnia and Herzegovina; Rr. Skenderbeu 76, Lagjja Sefa, Gjakova, Serbia and Montenegro; Ylli Morina Road, Djakovica, Serbia and Montenegro; House 267 Street No. 54, Sector F-11/4, Islamabad, Pakistan; Saray Cad. No. 37 B Blok, Yesilyurt Apt. 2/4, Sirinevler, Turkey; Afghanistan; Azerbaijan; Bangladesh; Chechnya, Russia; China; Eritrea; Ethiopia; Georgia; India; Ingushetia, Russia; Iraq; Jordan; Kashmir, undetermined; Lebanon; Gaza Strip, undetermined; Sierra Leone; Somalia; Syria; 49 rue du Lazaret, 67100 Strasbourg, France; West Bank; V.A.T. Number BE 454,419,759 [SDGT]

STRUGAR, Pavle; DOB 13 Jul 1933; POB Pec, Serbia and Montenegro; ICTY indictee (individual) [BALKANS]

STUDENTS OF AYYASH (a.k.a. HAMAS; a.k.a. HARAKAT AL-MUQAWAMA AL-ISLAMIYA; a.k.a. ISLAMIC RESISTANCE MOVEMENT; a.k.a. IZZ AL-DIN AL QASSAM BATTALIONS; a.k.a. IZZ AL-DIN AL QASSAM BRIGADES; a.k.a. IZZ AL-DIN AL QASSAM FORCES; a.k.a. IZZ AL-DIN AL-QASSIM BATTALIONS; a.k.a. IZZ AL-DIN AL-QASSIM BRIGADES; a.k.a. IZZ AL-DIN AL-QASSIM FORCES; a.k.a. STUDENTS OF THE ENGINEER; a.k.a. YAHYA AYYASH UNITS) [SDT] [FTO] [SDGT]

STUDENTS OF THE ENGINEER (a.k.a. HAMAS; a.k.a. HARAKAT AL-MUQAWAMA AL-ISLAMIYA; a.k.a. ISLAMIC RESISTANCE MOVEMENT; a.k.a. IZZ AL-DIN AL QASSAM BATTALIONS; a.k.a. IZZ AL-DIN AL QASSAM BRIGADES; a.k.a. IZZ AL-DIN AL QASSAM FORCES; a.k.a. IZZ AL-DIN AL-QASSIM BATTALIONS; a.k.a. IZZ AL-DIN AL-QASSIM BRIGADES; a.k.a. IZZ AL-DIN AL-QASSIM FORCES; a.k.a. STUDENTS OF AYYASH; a.k.a. YAHYA AYYASH UNITS) [SDT] [FTO] [SDGT]

SU SERVICIO SOCIEDAD LTDA., Calle 50 No. 41-84, Barranquilla, Colombia; Calle 67 No. 47-03, Cartagena, Colombia; Calle 76 No. 45-19 Local 1B, Barranquilla, Colombia; NIT # 802021041-1 (Colombia) [SDNT]

SUAREZ ANAYA, Miguel Ange, c/o SISTEMAS INTEGRALES DEL VALLE LTDA., Cali, Colombia; Cedula No. 17062485 (Colombia); Passport 17062485 (Colombia) (individual) [SDNT]

SUAREZ BERNAL, Myriam, c/o FARMA XXI LTDA., Neiva, Huila, Colombia; DOB 2 Nov 1970; Cedula No. 35414723 (Colombia); Passport 35414723 (Colombia) (individual) [SDNT]

SUAREZ GARCIA, Dora Angela, c/o G M C GRUPO MAQUILACION COLOMBIANO, Bogota, Colombia; c/o LABORATORIOS PROFARMA LTDA., Bogota, Colombia; Cedula No. 41322501 (Colombia); Passport 41322501 (Colombia) (individual) [SDNT]

SUAREZ RIANO, Adela, c/o VILLARO LTDA., Bogota, Colombia; Cedula No. 39646144 (Colombia) (individual) [SDNT]

SUAREZ ROJAS, Noe (a.k.a. BRICENO SUAREZ, German; a.k.a. “GRANOBLES”); DOB 15 Dec 1953; Cedula No. 347943 (Colombia) (individual) [SDNTK]

SUAREZ ROJAS, Victor Julio (a.k.a. BRICENO SUAREZ, Jorge; a.k.a. BRICENO SUAREZ, Jorge Enrique; a.k.a. MONO JOJOY; a.k.a. OSCAR RIANO; a.k.a. SUAREZ, Luis); DOB Jan 1953; alt. DOB 1 Feb 1949; alt. DOB 2 Jan 1951; alt. DOB 5 Feb 1953; POB Santa Marta, Magdalena, Colombia; alt. POB Cabrera, Cundinamarca, Colombia; Cedula No. 12536519 (Colombia); alt. Cedula No. 19208210 (Colombia); alt. Cedula No. 17708695 (Colombia); alt. Cedula No. 70753211 (Colombia) (individual) [SDNTK]

SUAREZ, Luis (a.k.a. BRICENO SUAREZ, Jorge; a.k.a. BRICENO SUAREZ, Jorge Enrique; a.k.a. MONO JOJOY; a.k.a. OSCAR RIANO; a.k.a. SUAREZ ROJAS, Victor Julio); DOB Jan 1953; alt. DOB 1 Feb 1949; alt. DOB 2 Jan 1951; alt. DOB 5 Feb 1953; POB Santa Marta, Magdalena, Colombia; alt. POB Cabrera, Cundinamarca, Colombia; Cedula No. 12536519 (Colombia); alt. Cedula No. 19208210 (Colombia); alt. Cedula No. 17708695 (Colombia); alt. Cedula No. 70753211 (Colombia) (individual) [SDNTK]

SUBDIVISION 3 OF CALEDON FARM, Caledon, Zimbabwe [ZIMBABWE]

SUBOTIC, Bogdan; DOB 25 April 1941; POB Bosanska Gradiska, Bosnia-Herzegovina (individual) [BALKANS]

SUDAN AIR (a.k.a. SUDAN AIRWAYS), P.O. Box 253, Khartoum, Sudan; Bahrain; Chad; Egypt; Ethiopia; Germany; Greece; Italy; Kenya; Kuwait; Nigeria; Saudi Arabia; Uganda; United Arab Emirates; United Kingdom; 211 East 43rd Street, New York, NY 10017; 199 Atlantic Avenue, Brooklyn, NY 11201-5606 [SUDAN]

SUDAN AIRWAYS (a.k.a. SUDAN AIR), P.O. Box 253, Khartoum, Sudan; Bahrain; Chad; Egypt; Ethiopia; Germany; Greece; Italy; Kenya; Kuwait; Nigeria; Saudi Arabia; Uganda; United Arab Emirates; United Kingdom; 211 East 43rd Street, New York, NY 10017; 199 Atlantic Avenue, Brooklyn, NY 11201-5606 [SUDAN]

SUDAN COMMERCIAL BANK (f.k.a. FARMERS BANK FOR INVESTMENT & RURAL DEVELOPMENT; a.k.a. FARMERS COMMERCIAL BANK), P.O. Box 1116, El Kasr Avenue, Khartoum, Sudan; P.O. Box 22, El Damazin, Sudan; El Fau, Sudan; P.O. Box 182, El Gadaref, Sudan; P.O. Box 1, El Hawata, Sudan; P.O. Box 8, El Nuhud, Sudan; P.O. Box 412, El Obeid, Sudan; P.O. Box 45153, El Suk Elarabi, Sudan; P.O. Box 1174, Gamhoria Avenue, Khartoum, Sudan; P.O. Box 1694, El Suk Elafrangi, Khartoum, Sudan; P.O. Box 384, Khartoum, Sudan; P.O. Box 86, Industrial Area, Khartoum, Sudan; P.O. Box 8127, Khartoum, Sudan; P.O. Box 899, Omdurman, Sudan; Wad Madani, Sudan; P.O. Box 36, New Halfa, Sudan; P.O Box 570, Port Sudan, Sudan [SUDAN]

SUDAN COTTON COMPANY, Khartoum, Sudan [SUDAN]

SUDAN COTTON COMPANY LIMITED, P.O. Box 1672, Khartoum, Sudan [SUDAN]

SUDAN DEVELOPMENT CORPORATION, Street 21, P.O. Box 710, Khartoum, Sudan [SUDAN]

SUDAN EXHIBITION AND FAIRS CORPORATION, P.O. Box 2366, Khartoum, Sudan [SUDAN]

SUDAN NATIONAL BROADCASTING CORPORATION (a.k.a. SUDAN RADIO&TV CORP.; a.k.a. SUDAN T.V. CORPORATION), P.O. Box 1094, Omdurman, Sudan [SUDAN]

SUDAN OIL CORPORATION, P.O. Box 2, Khartoum North, Sudan [SUDAN]

SUDAN OIL SEEDS COMPANY LIMITED, P.O. Box 167, Khartoum, Sudan; Nyala, Sudan; Obied, Sudan; Port Sudan, Sudan; Tandalty, Sudan [SUDAN]

SUDAN PETROLEUM COMPANY LIMITED (a.k.a. SUDAPET; a.k.a. SUDAPET LTD.), El Nil Street, Khartoum, Sudan [SUDAN]

SUDAN RADIO & TV CORP. (a.k.a. SUDAN NATIONAL BROADCASTING CORPORATION; a.k.a. SUDAN T.V. CORPORATION), P.O. Box 1094, Omdurman, Sudan [SUDAN]

SUDAN RAILWAYS CORPORATION (a.k.a. SRC), P.O. Box 43, Bara, Sudan; Babanousa, Sudan; Khartoum, Sudan; Kosti, Sudan; Port Sudan, Sudan [SUDAN]

SUDAN RURAL DEVELOPMENT COMPANY LIMITED (a.k.a. SRDC), P.O. Box 2190, Khartoum, Sudan [SUDAN]

SUDAN SOAP CORPORATION, P.O. Box 23, Khartoum North, Sudan [SUDAN]

SUDAN T.V. CORPORATION (a.k.a. SUDAN NATIONAL BROADCASTING CORPORATION; a.k.a. SUDAN RADIO & TV CORP.), P.O. Box 1094, Omdurman, Sudan [SUDAN]

SUDAN TEA COMPANY, LTD., P.O. Box 1219, Khartoum, Sudan [SUDAN]

SUDAN WAREHOUSING COMPANY, P.O. Box 215, Khartoum, Sudan; P.O. Box 17, Port Sudan, Sudan; El Obeid, Sudan; Gedarit, Sudan; Juba, Sudan; Kosti, Sudan; Sennar, Sudan; Wad Medani, Sudan [SUDAN]

SUDANESE COMPANY FOR BUILDING AND CONSTRUCTION LIMITED, P.O. Box 2110, Khartoum, Sudan [SUDAN]

SUDANESE ESTATES BANK, Al-Baladiya Avenue, P.O. Box 309, Khartoum, Sudan [SUDAN]

SUDANESE FREE ZONES AND MARKETS COMPANY (a.k.a. SFZ), P.O. Box 1789, Khartoum, Sudan; Chad; Saudi Arabia; Turkey; United Arab Emirates [SUDAN]

SUDANESE INTERNATIONAL TOURISM COMPANY, C/O TOURISM AND HOTELS CORPORATION, P.O. Box 7104, Khartoum, Sudan [SUDAN]

SUDANESE MINING CORPORATION, P.O. Box 1034, Khartoum, Sudan [SUDAN]

SUDANESE PETROLEUM CORPORATION, 7th Floor, Al Kuwaitiah Building, El Nile Street, Khartoum, Sudan [SUDAN]

SUDANESE REAL ESTATE SERVICES COMPANY, Khartoum, Sudan [SUDAN]

SUDANESE SAVINGS BANK, P.O. Box 159, Wad Medani, Sudan [SUDAN]

SUDAPET (a.k.a. SUDAN PETROLEUM COMPANY LIMITED; a.k.a. SUDAPET LTD.), El Nil Street, Khartoum, Sudan [SUDAN]

SUDAPET LTD. (a.k.a. SUDAN PETROLEUM COMPANY LIMITED; a.k.a. SUDAPET), El Nil Street, Khartoum, Sudan [SUDAN]

SUFAAT, Yazid (a.k.a. BIN SUFAAT, Yazud; a.k.a. SHUFAAT, Yazid); DOB 20 Jan 1964; POB Johor, Malaysia; nationality Malaysia; Passport A10472263 (Malaysia) (individual) [SDGT]

SUGAR AND DISTILLING CORPORATION (a.k.a. SUGAR AND DISTILLING INDUSTRY CORPORATION), New Mustafa El Amin Building, Barlaman Avenue, P.O. Box 511, Khartoum, Sudan [SUDAN]

SUGAR AND DISTILLING INDUSTRY CORPORATION (a.k.a. SUGAR AND DISTILLING CORPORATION), New Mustafa El Amin Building, Barlaman Avenue, P.O. Box 511, Khartoum, Sudan [SUDAN]

SUKHARENKA, Stiapan Mikalayevich (a.k.a. SUKHARENKA, Stsiapan Mikalaevich; a.k.a. SUKHARENKA, Stsiapan Mikalayevich; a.k.a. SUKHARENKA, Stsiapan Nikolaevich; a.k.a. SUKHORENKA , Stiapan Nikolaevich; a.k.a. SUKHORENKA, Stepan Mikalaevich; a.k.a. SUKHORENKA, Stepan Mikalayevich; a.k.a. SUKHORENKA, Stepan Nikolaevich; a.k.a. SUKHORENKA, Stiapan Mikalaevich; a.k.a. SUKHORENKO , Stiapan Mikalaevich; a.k.a. SUKHORENKO , Stiapan Mikalayevich; a.k.a. SUKHORENKO , Stiapan Nikolaevich; a.k.a. SUKHORENKO, Stepan Mikalaevich; a.k.a. SUKHORENKO, Stepan Mikalayevich; a.k.a. SUKHORENKO, Stepan Nikolaevich; a.k.a. SUKHORENKO, Stsiapan Mikalaevich; a.k.a. SUKHORENKO, Stsiapan Mikalayevich; a.k.a. SUKHORENKO, Stsiapan Nikolaevich); DOB 27 Jan 1957; POB Zdudichi, Gomel' oblast, Belarus; Chairman of Belarusian KGB (individual) [BELARUS]

SUKHARENKA, Stsiapan Mikalaevich (a.k.a. SUKHARENKA, Stiapan Mikalayevich; a.k.a. SUKHARENKA, Stsiapan Mikalayevich; a.k.a. SUKHARENKA, Stsiapan Nikolaevich; a.k.a. SUKHORENKA , Stiapan Nikolaevich; a.k.a. SUKHORENKA, Stepan Mikalaevich; a.k.a. SUKHORENKA, Stepan Mikalayevich; a.k.a. SUKHORENKA, Stepan Nikolaevich; a.k.a. SUKHORENKA, Stiapan Mikalaevich; a.k.a. SUKHORENKO , Stiapan Mikalaevich; a.k.a. SUKHORENKO , Stiapan Mikalayevich; a.k.a. SUKHORENKO , Stiapan Nikolaevich; a.k.a. SUKHORENKO, Stepan Mikalaevich; a.k.a. SUKHORENKO, Stepan Mikalayevich; a.k.a. SUKHORENKO, Stepan Nikolaevich; a.k.a. SUKHORENKO, Stsiapan Mikalaevich; a.k.a. SUKHORENKO, Stsiapan Mikalayevich; a.k.a. SUKHORENKO, Stsiapan Nikolaevich); DOB 27 Jan 1957; POB Zdudichi, Gomel' oblast, Belarus; Chairman of Belarusian KGB (individual) [BELARUS]

SUKHARENKA, Stsiapan Mikalayevich (a.k.a. SUKHARENKA, Stiapan Mikalayevich; a.k.a. SUKHARENKA, Stsiapan Mikalaevich; a.k.a. SUKHARENKA, Stsiapan Nikolaevich; a.k.a. SUKHORENKA , Stiapan Nikolaevich; a.k.a. SUKHORENKA, Stepan Mikalaevich; a.k.a. SUKHORENKA, Stepan Mikalayevich; a.k.a. SUKHORENKA, Stepan Nikolaevich; a.k.a. SUKHORENKA, Stiapan Mikalaevich; a.k.a. SUKHORENKO , Stiapan Mikalaevich; a.k.a. SUKHORENKO , Stiapan Mikalayevich; a.k.a. SUKHORENKO , Stiapan Nikolaevich; a.k.a. SUKHORENKO, Stepan Mikalaevich; a.k.a. SUKHORENKO, Stepan Mikalayevich; a.k.a. SUKHORENKO, Stepan Nikolaevich; a.k.a. SUKHORENKO, Stsiapan Mikalaevich; a.k.a. SUKHORENKO, Stsiapan Mikalayevich; a.k.a. SUKHORENKO, Stsiapan Nikolaevich); DOB 27 Jan 1957; POB Zdudichi, Gomel' oblast, Belarus; Chairman of Belarusian KGB (individual) [BELARUS]

SUKHARENKA, Stsiapan Nikolaevich (a.k.a. SUKHARENKA, Stiapan Mikalayevich; a.k.a. SUKHARENKA, Stsiapan Mikalaevich; a.k.a. SUKHARENKA, Stsiapan Mikalayevich; a.k.a. SUKHORENKA , Stiapan Nikolaevich; a.k.a. SUKHORENKA, Stepan Mikalaevich; a.k.a. SUKHORENKA, Stepan Mikalayevich; a.k.a. SUKHORENKA, Stepan Nikolaevich; a.k.a. SUKHORENKA, Stiapan Mikalaevich; a.k.a. SUKHORENKO , Stiapan Mikalaevich; a.k.a. SUKHORENKO , Stiapan Mikalayevich; a.k.a. SUKHORENKO , Stiapan Nikolaevich; a.k.a. SUKHORENKO, Stepan Mikalaevich; a.k.a. SUKHORENKO, Stepan Mikalayevich; a.k.a. SUKHORENKO, Stepan Nikolaevich; a.k.a. SUKHORENKO, Stsiapan Mikalaevich; a.k.a. SUKHORENKO, Stsiapan Mikalayevich; a.k.a. SUKHORENKO, Stsiapan Nikolaevich); DOB 27 Jan 1957; POB Zdudichi, Gomel' oblast, Belarus; Chairman of Belarusian KGB (individual) [BELARUS]

SUKHORENKA , Stiapan Nikolaevich (a.k.a. SUKHARENKA, Stiapan Mikalayevich; a.k.a. SUKHARENKA, Stsiapan Mikalaevich; a.k.a. SUKHARENKA, Stsiapan Mikalayevich; a.k.a. SUKHARENKA, Stsiapan Nikolaevich; a.k.a. SUKHORENKA, Stepan Mikalaevich; a.k.a. SUKHORENKA, Stepan Mikalayevich; a.k.a. SUKHORENKA, Stepan Nikolaevich; a.k.a. SUKHORENKA, Stiapan Mikalaevich; a.k.a. SUKHORENKO , Stiapan Mikalaevich; a.k.a. SUKHORENKO , Stiapan Mikalayevich; a.k.a. SUKHORENKO , Stiapan Nikolaevich; a.k.a. SUKHORENKO, Stepan Mikalaevich; a.k.a. SUKHORENKO, Stepan Mikalayevich; a.k.a. SUKHORENKO, Stepan Nikolaevich; a.k.a. SUKHORENKO, Stsiapan Mikalaevich; a.k.a. SUKHORENKO, Stsiapan Mikalayevich; a.k.a. SUKHORENKO, Stsiapan Nikolaevich); DOB 27 Jan 1957; POB Zdudichi, Gomel' oblast, Belarus; Chairman of Belarusian KGB (individual) [BELARUS]

SUKHORENKA, Stepan Mikalaevich (a.k.a. SUKHARENKA, Stiapan Mikalayevich; a.k.a. SUKHARENKA, Stsiapan Mikalaevich; a.k.a. SUKHARENKA, Stsiapan Mikalayevich; a.k.a. SUKHARENKA, Stsiapan Nikolaevich; a.k.a. SUKHORENKA , Stiapan Nikolaevich; a.k.a. SUKHORENKA, Stepan Mikalayevich; a.k.a. SUKHORENKA, Stepan Nikolaevich; a.k.a. SUKHORENKA, Stiapan Mikalaevich; a.k.a. SUKHORENKO , Stiapan Mikalaevich; a.k.a. SUKHORENKO , Stiapan Mikalayevich; a.k.a. SUKHORENKO , Stiapan Nikolaevich; a.k.a. SUKHORENKO, Stepan Mikalaevich; a.k.a. SUKHORENKO, Stepan Mikalayevich; a.k.a. SUKHORENKO, Stepan Nikolaevich; a.k.a. SUKHORENKO, Stsiapan Mikalaevich; a.k.a. SUKHORENKO, Stsiapan Mikalayevich; a.k.a. SUKHORENKO, Stsiapan Nikolaevich); DOB 27 Jan 1957; POB Zdudichi, Gomel' oblast, Belarus; Chairman of Belarusian KGB (individual) [BELARUS]

SUKHORENKA, Stepan Mikalayevich (a.k.a. SUKHARENKA, Stiapan Mikalayevich; a.k.a. SUKHARENKA, Stsiapan Mikalaevich; a.k.a. SUKHARENKA, Stsiapan Mikalayevich; a.k.a. SUKHARENKA, Stsiapan Nikolaevich; a.k.a. SUKHORENKA , Stiapan Nikolaevich; a.k.a. SUKHORENKA, Stepan Mikalaevich; a.k.a. SUKHORENKA, Stepan Nikolaevich; a.k.a. SUKHORENKA, Stiapan Mikalaevich; a.k.a. SUKHORENKO , Stiapan Mikalaevich; a.k.a. SUKHORENKO , Stiapan Mikalayevich; a.k.a. SUKHORENKO , Stiapan Nikolaevich; a.k.a. SUKHORENKO, Stepan Mikalaevich; a.k.a. SUKHORENKO, Stepan Mikalayevich; a.k.a. SUKHORENKO, Stepan Nikolaevich; a.k.a. SUKHORENKO, Stsiapan Mikalaevich; a.k.a. SUKHORENKO, Stsiapan Mikalayevich; a.k.a. SUKHORENKO, Stsiapan Nikolaevich); DOB 27 Jan 1957; POB Zdudichi, Gomel' oblast, Belarus; Chairman of Belarusian KGB (individual) [BELARUS]

SUKHORENKA, Stepan Nikolaevich (a.k.a. SUKHARENKA, Stiapan Mikalayevich; a.k.a. SUKHARENKA, Stsiapan Mikalaevich; a.k.a. SUKHARENKA, Stsiapan Mikalayevich; a.k.a. SUKHARENKA, Stsiapan Nikolaevich; a.k.a. SUKHORENKA , Stiapan Nikolaevich; a.k.a. SUKHORENKA, Stepan Mikalaevich; a.k.a. SUKHORENKA, Stepan Mikalayevich; a.k.a. SUKHORENKA, Stiapan Mikalaevich; a.k.a. SUKHORENKO , Stiapan Mikalaevich; a.k.a. SUKHORENKO , Stiapan Mikalayevich; a.k.a. SUKHORENKO , Stiapan Nikolaevich; a.k.a. SUKHORENKO, Stepan Mikalaevich; a.k.a. SUKHORENKO, Stepan Mikalayevich; a.k.a. SUKHORENKO, Stepan Nikolaevich; a.k.a. SUKHORENKO, Stsiapan Mikalaevich; a.k.a. SUKHORENKO, Stsiapan Mikalayevich; a.k.a. SUKHORENKO, Stsiapan Nikolaevich); DOB 27 Jan 1957; POB Zdudichi, Gomel' oblast, Belarus; Chairman of Belarusian KGB (individual) [BELARUS]

SUKHORENKA, Stiapan Mikalaevich (a.k.a. SUKHARENKA, Stiapan Mikalayevich; a.k.a. SUKHARENKA, Stsiapan Mikalaevich; a.k.a. SUKHARENKA, Stsiapan Mikalayevich; a.k.a. SUKHARENKA, Stsiapan Nikolaevich; a.k.a. SUKHORENKA , Stiapan Nikolaevich; a.k.a. SUKHORENKA, Stepan Mikalaevich; a.k.a. SUKHORENKA, Stepan Mikalayevich; a.k.a. SUKHORENKA, Stepan Nikolaevich; a.k.a. SUKHORENKO , Stiapan Mikalaevich; a.k.a. SUKHORENKO , Stiapan Mikalayevich; a.k.a. SUKHORENKO , Stiapan Nikolaevich; a.k.a. SUKHORENKO, Stepan Mikalaevich; a.k.a. SUKHORENKO, Stepan Mikalayevich; a.k.a. SUKHORENKO, Stepan Nikolaevich; a.k.a. SUKHORENKO, Stsiapan Mikalaevich; a.k.a. SUKHORENKO, Stsiapan Mikalayevich; a.k.a. SUKHORENKO, Stsiapan Nikolaevich); DOB 27 Jan 1957; POB Zdudichi, Gomel' oblast, Belarus; Chairman of Belarusian KGB (individual) [BELARUS]

SUKHORENKO , Stiapan Mikalaevich (a.k.a. SUKHARENKA, Stiapan Mikalayevich; a.k.a. SUKHARENKA, Stsiapan Mikalaevich; a.k.a. SUKHARENKA, Stsiapan Mikalayevich; a.k.a. SUKHARENKA, Stsiapan Nikolaevich; a.k.a. SUKHORENKA , Stiapan Nikolaevich; a.k.a. SUKHORENKA, Stepan Mikalaevich; a.k.a. SUKHORENKA, Stepan Mikalayevich; a.k.a. SUKHORENKA, Stepan Nikolaevich; a.k.a. SUKHORENKA, Stiapan Mikalaevich; a.k.a. SUKHORENKO , Stiapan Mikalayevich; a.k.a. SUKHORENKO , Stiapan Nikolaevich; a.k.a. SUKHORENKO, Stepan Mikalaevich; a.k.a. SUKHORENKO, Stepan Mikalayevich; a.k.a. SUKHORENKO, Stepan Nikolaevich; a.k.a. SUKHORENKO, Stsiapan Mikalaevich; a.k.a. SUKHORENKO, Stsiapan Mikalayevich; a.k.a. SUKHORENKO, Stsiapan Nikolaevich); DOB 27 Jan 1957; POB Zdudichi, Gomel' oblast, Belarus; Chairman of Belarusian KGB (individual) [BELARUS]

SUKHORENKO , Stiapan Mikalayevich (a.k.a. SUKHARENKA, Stiapan Mikalayevich; a.k.a. SUKHARENKA, Stsiapan Mikalaevich; a.k.a. SUKHARENKA, Stsiapan Mikalayevich; a.k.a. SUKHARENKA, Stsiapan Nikolaevich; a.k.a. SUKHORENKA , Stiapan Nikolaevich; a.k.a. SUKHORENKA, Stepan Mikalaevich; a.k.a. SUKHORENKA, Stepan Mikalayevich; a.k.a. SUKHORENKA, Stepan Nikolaevich; a.k.a. SUKHORENKA, Stiapan Mikalaevich; a.k.a. SUKHORENKO , Stiapan Mikalaevich; a.k.a. SUKHORENKO , Stiapan Nikolaevich; a.k.a. SUKHORENKO, Stepan Mikalaevich; a.k.a. SUKHORENKO, Stepan Mikalayevich; a.k.a. SUKHORENKO, Stepan Nikolaevich; a.k.a. SUKHORENKO, Stsiapan Mikalaevich; a.k.a. SUKHORENKO, Stsiapan Mikalayevich; a.k.a. SUKHORENKO, Stsiapan Nikolaevich); DOB 27 Jan 1957; POB Zdudichi, Gomel' oblast, Belarus; Chairman of Belarusian KGB (individual) [BELARUS]

SUKHORENKO , Stiapan Nikolaevich (a.k.a. SUKHARENKA, Stiapan Mikalayevich; a.k.a. SUKHARENKA, Stsiapan Mikalaevich; a.k.a. SUKHARENKA, Stsiapan Mikalayevich; a.k.a. SUKHARENKA, Stsiapan Nikolaevich; a.k.a. SUKHORENKA , Stiapan Nikolaevich; a.k.a. SUKHORENKA, Stepan Mikalaevich; a.k.a. SUKHORENKA, Stepan Mikalayevich; a.k.a. SUKHORENKA, Stepan Nikolaevich; a.k.a. SUKHORENKA, Stiapan Mikalaevich; a.k.a. SUKHORENKO , Stiapan Mikalaevich; a.k.a. SUKHORENKO , Stiapan Mikalayevich; a.k.a. SUKHORENKO, Stepan Mikalaevich; a.k.a. SUKHORENKO, Stepan Mikalayevich; a.k.a. SUKHORENKO, Stepan Nikolaevich; a.k.a. SUKHORENKO, Stsiapan Mikalaevich; a.k.a. SUKHORENKO, Stsiapan Mikalayevich; a.k.a. SUKHORENKO, Stsiapan Nikolaevich); DOB 27 Jan 1957; POB Zdudichi, Gomel' oblast, Belarus; Chairman of Belarusian KGB (individual) [BELARUS]

SUKHORENKO, Stepan Mikalaevich (a.k.a. SUKHARENKA, Stiapan Mikalayevich; a.k.a. SUKHARENKA, Stsiapan Mikalaevich; a.k.a. SUKHARENKA, Stsiapan Mikalayevich; a.k.a. SUKHARENKA, Stsiapan Nikolaevich; a.k.a. SUKHORENKA , Stiapan Nikolaevich; a.k.a. SUKHORENKA, Stepan Mikalaevich; a.k.a. SUKHORENKA, Stepan Mikalayevich; a.k.a. SUKHORENKA, Stepan Nikolaevich; a.k.a. SUKHORENKA, Stiapan Mikalaevich; a.k.a. SUKHORENKO , Stiapan Mikalaevich; a.k.a. SUKHORENKO , Stiapan Mikalayevich; a.k.a. SUKHORENKO , Stiapan Nikolaevich; a.k.a. SUKHORENKO, Stepan Mikalayevich; a.k.a. SUKHORENKO, Stepan Nikolaevich; a.k.a. SUKHORENKO, Stsiapan Mikalaevich; a.k.a. SUKHORENKO, Stsiapan Mikalayevich; a.k.a. SUKHORENKO, Stsiapan Nikolaevich); DOB 27 Jan 1957; POB Zdudichi, Gomel' oblast, Belarus; Chairman of Belarusian KGB (individual) [BELARUS]

SUKHORENKO, Stepan Mikalayevich (a.k.a. SUKHARENKA, Stiapan Mikalayevich; a.k.a. SUKHARENKA, Stsiapan Mikalaevich; a.k.a. SUKHARENKA, Stsiapan Mikalayevich; a.k.a. SUKHARENKA, Stsiapan Nikolaevich; a.k.a. SUKHORENKA , Stiapan Nikolaevich; a.k.a. SUKHORENKA, Stepan Mikalaevich; a.k.a. SUKHORENKA, Stepan Mikalayevich; a.k.a. SUKHORENKA, Stepan Nikolaevich; a.k.a. SUKHORENKA, Stiapan Mikalaevich; a.k.a. SUKHORENKO , Stiapan Mikalaevich; a.k.a. SUKHORENKO , Stiapan Mikalayevich; a.k.a. SUKHORENKO , Stiapan Nikolaevich; a.k.a. SUKHORENKO, Stepan Mikalaevich; a.k.a. SUKHORENKO, Stepan Nikolaevich; a.k.a. SUKHORENKO, Stsiapan Mikalaevich; a.k.a. SUKHORENKO, Stsiapan Mikalayevich; a.k.a. SUKHORENKO, Stsiapan Nikolaevich); DOB 27 Jan 1957; POB Zdudichi, Gomel' oblast, Belarus; Chairman of Belarusian KGB (individual) [BELARUS]

SUKHORENKO, Stepan Nikolaevich (a.k.a. SUKHARENKA, Stiapan Mikalayevich; a.k.a. SUKHARENKA, Stsiapan Mikalaevich; a.k.a. SUKHARENKA, Stsiapan Mikalayevich; a.k.a. SUKHARENKA, Stsiapan Nikolaevich; a.k.a. SUKHORENKA , Stiapan Nikolaevich; a.k.a. SUKHORENKA, Stepan Mikalaevich; a.k.a. SUKHORENKA, Stepan Mikalayevich; a.k.a. SUKHORENKA, Stepan Nikolaevich; a.k.a. SUKHORENKA, Stiapan Mikalaevich; a.k.a. SUKHORENKO , Stiapan Mikalaevich; a.k.a. SUKHORENKO , Stiapan Mikalayevich; a.k.a. SUKHORENKO , Stiapan Nikolaevich; a.k.a. SUKHORENKO, Stepan Mikalaevich; a.k.a. SUKHORENKO, Stepan Mikalayevich; a.k.a. SUKHORENKO, Stsiapan Mikalaevich; a.k.a. SUKHORENKO, Stsiapan Mikalayevich; a.k.a. SUKHORENKO, Stsiapan Nikolaevich); DOB 27 Jan 1957; POB Zdudichi, Gomel' oblast, Belarus; Chairman of Belarusian KGB (individual) [BELARUS]

SUKHORENKO, Stsiapan Mikalaevich (a.k.a. SUKHARENKA, Stiapan Mikalayevich; a.k.a. SUKHARENKA, Stsiapan Mikalaevich; a.k.a. SUKHARENKA, Stsiapan Mikalayevich; a.k.a. SUKHARENKA, Stsiapan Nikolaevich; a.k.a. SUKHORENKA , Stiapan Nikolaevich; a.k.a. SUKHORENKA, Stepan Mikalaevich; a.k.a. SUKHORENKA, Stepan Mikalayevich; a.k.a. SUKHORENKA, Stepan Nikolaevich; a.k.a. SUKHORENKA, Stiapan Mikalaevich; a.k.a. SUKHORENKO , Stiapan Mikalaevich; a.k.a. SUKHORENKO , Stiapan Mikalayevich; a.k.a. SUKHORENKO , Stiapan Nikolaevich; a.k.a. SUKHORENKO, Stepan Mikalaevich; a.k.a. SUKHORENKO, Stepan Mikalayevich; a.k.a. SUKHORENKO, Stepan Nikolaevich; a.k.a. SUKHORENKO, Stsiapan Mikalayevich; a.k.a. SUKHORENKO, Stsiapan Nikolaevich); DOB 27 Jan 1957; POB Zdudichi, Gomel' oblast, Belarus; Chairman of Belarusian KGB (individual) [BELARUS]

SUKHORENKO, Stsiapan Mikalayevich (a.k.a. SUKHARENKA, Stiapan Mikalayevich; a.k.a. SUKHARENKA, Stsiapan Mikalaevich; a.k.a. SUKHARENKA, Stsiapan Mikalayevich; a.k.a. SUKHARENKA, Stsiapan Nikolaevich; a.k.a. SUKHORENKA , Stiapan Nikolaevich; a.k.a. SUKHORENKA, Stepan Mikalaevich; a.k.a. SUKHORENKA, Stepan Mikalayevich; a.k.a. SUKHORENKA, Stepan Nikolaevich; a.k.a. SUKHORENKA, Stiapan Mikalaevich; a.k.a. SUKHORENKO , Stiapan Mikalaevich; a.k.a. SUKHORENKO , Stiapan Mikalayevich; a.k.a. SUKHORENKO , Stiapan Nikolaevich; a.k.a. SUKHORENKO, Stepan Mikalaevich; a.k.a. SUKHORENKO, Stepan Mikalayevich; a.k.a. SUKHORENKO, Stepan Nikolaevich; a.k.a. SUKHORENKO, Stsiapan Mikalaevich; a.k.a. SUKHORENKO, Stsiapan Nikolaevich); DOB 27 Jan 1957; POB Zdudichi, Gomel' oblast, Belarus; Chairman of Belarusian KGB (individual) [BELARUS]

SUKHORENKO, Stsiapan Nikolaevich (a.k.a. SUKHARENKA, Stiapan Mikalayevich; a.k.a. SUKHARENKA, Stsiapan Mikalaevich; a.k.a. SUKHARENKA, Stsiapan Mikalayevich; a.k.a. SUKHARENKA, Stsiapan Nikolaevich; a.k.a. SUKHORENKA , Stiapan Nikolaevich; a.k.a. SUKHORENKA, Stepan Mikalaevich; a.k.a. SUKHORENKA, Stepan Mikalayevich; a.k.a. SUKHORENKA, Stepan Nikolaevich; a.k.a. SUKHORENKA, Stiapan Mikalaevich; a.k.a. SUKHORENKO , Stiapan Mikalaevich; a.k.a. SUKHORENKO , Stiapan Mikalayevich; a.k.a. SUKHORENKO , Stiapan Nikolaevich; a.k.a. SUKHORENKO, Stepan Mikalaevich; a.k.a. SUKHORENKO, Stepan Mikalayevich; a.k.a. SUKHORENKO, Stepan Nikolaevich; a.k.a. SUKHORENKO, Stsiapan Mikalaevich; a.k.a. SUKHORENKO, Stsiapan Mikalayevich); DOB 27 Jan 1957; POB Zdudichi, Gomel' oblast, Belarus; Chairman of Belarusian KGB (individual) [BELARUS]

SULAIMAN, Mohammed Ibrahim, House Number 27, Block Number 29, Manishia District, Khartoum, Sudan; P.O. Box 3372, Khartoum, Sudan; Secretary General, IARA Headquarters (individual) [SDGT]

SULTAN, Ahmed (a.k.a. ADNAN, Ahmed S. Hasan; a.k.a. AHMED, Adnan S. Hasan), Amman, Jordan (individual) [IRAQ2]

SUMA, Emrush; DOB 27 May 1974; POB Dimce, Serbia and Montenegro (individual) [BALKANS]

SUNSET & 97TH HOLDINGS, LLC., 19667 Turnberry Way, Unit 12 G, Miami, FL 33180; 9100 South Dadeland Boulevard, Suite 912, Miami, FL 33156; 780 NW Le Jeune Road, Suite 516, Miami, FL 33126; 780 NW 42nd Avenue, Suite 516, Miami, FL 33126; P.O. Box 51314, Calle 72 No. 6556, Barranquilla, Colombia; U.S. FEIN 260064717 (United States) [SDNT]

SUPERFARMACIA (a.k.a. FARMACIA ALMACEN POPULAR; a.k.a. FARMACIA AMAZONAS; a.k.a. FARMACIA ATENEA; a.k.a. FARMACIA CAROLINA 2; a.k.a. FARMACIA CHACON; a.k.a. FARMACIA DEL PUEBLO; a.k.a. FARMACIA DORAL; a.k.a. FARMACIA ECONOMICA; a.k.a. FARMACIA INMACULADA; a.k.a. FARMACIA JARDIN DEL SUR; a.k.a. FARMACIA JARDIN SUR; a.k.a. FARMACIA LA COLINA; a.k.a. FARMACIA LA ECONOMICA; a.k.a. FARMACIA LA MODERNA; a.k.a. FARMACIA LOS SAUCES; a.k.a. FARMACIA MODERNA; a.k.a. FARMACIA PROBETA; a.k.a. FARMACIA PROVIDA; a.k.a. FARMACIA SAN MIGUEL; a.k.a. FARMACIA SAN VICENTE; a.k.a. LATINFARMACOS S.A.; a.k.a. LATINOAMERICANA DE FARMACOS S.A.), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC # 1791286812001 (Ecuador) [SDNT]

SUPERGEN LTDA., Calle 39 BIS A No. 27-16 and 27-20, Bogota, Colombia; Calle 53 No. 35A-13 of. 302, Bucaramanga, Colombia; NIT # 804009924-8 (Colombia) [SDNT]

SUPERTIENDAS LA REBAJA, Avenida Colombia No. 2-45, Cali, Colombia; Calle 9, No. 26-98, Cali, Colombia [SDNT]

SUPLIDORA LATINO AMERICANA, S.A. (a.k.a. SUPLILAT, S.A.), Panama City, Panama [CUBA]

SUPLILAT, S.A. (a.k.a. SUPLIDORA LATINO AMERICANA, S.A.), Panama City, Panama [CUBA]

SURAMERICANA DE HOTELES LTDA. (a.k.a. SURATEL), Calle 74 No. 53-30, Barranquilla, Colombia; NIT # 800011603-0 (Colombia) [SDNT]

SURATEL (a.k.a. SURAMERICANA DE HOTELES LTDA.), Calle 74 No. 53-30, Barranquilla, Colombia; NIT # 800011603-0 (Colombia) [SDNT]

SUWEIDAN, Sheikh Ahmad Salem (a.k.a. AHMED THE TALL; a.k.a. ALLY, Ahmed; a.k.a. BAHAMAD; a.k.a. BAHAMAD, Sheik; a.k.a. BAHAMADI, Sheikh; a.k.a. SWEDAN, Sheikh; a.k.a. SWEDAN, Sheikh Ahmed Salem; a.k.a. SWEDAN, Sheikh Ahmed Salim); DOB 9 Apr 1969; alt. DOB 9 Apr 1960; POB Mombasa, Kenya; citizen Kenya (individual) [SDGT]

SWEDAN, Sheikh (a.k.a. AHMED THE TALL; a.k.a. ALLY, Ahmed; a.k.a. BAHAMAD; a.k.a. BAHAMAD, Sheik; a.k.a. BAHAMADI, Sheikh; a.k.a. SUWEIDAN, Sheikh Ahmad Salem; a.k.a. SWEDAN, Sheikh Ahmed Salem; a.k.a. SWEDAN, Sheikh Ahmed Salim); DOB 9 Apr 1969; alt. DOB 9 Apr 1960; POB Mombasa, Kenya; citizen Kenya (individual) [SDGT]

SWEDAN, Sheikh Ahmed Salem (a.k.a. AHMED THE TALL; a.k.a. ALLY, Ahmed; a.k.a. BAHAMAD; a.k.a. BAHAMAD, Sheik; a.k.a. BAHAMADI, Sheikh; a.k.a. SUWEIDAN, Sheikh Ahmad Salem; a.k.a. SWEDAN, Sheikh; a.k.a. SWEDAN, Sheikh Ahmed Salim); DOB 9 Apr 1969; alt. DOB 9 Apr 1960; POB Mombasa, Kenya; citizen Kenya (individual) [SDGT]

SWEDAN, Sheikh Ahmed Salim (a.k.a. AHMED THE TALL; a.k.a. ALLY, Ahmed; a.k.a. BAHAMAD; a.k.a. BAHAMAD, Sheik; a.k.a. BAHAMADI, Sheikh; a.k.a. SUWEIDAN, Sheikh Ahmad Salem; a.k.a. SWEDAN, Sheikh; a.k.a. SWEDAN, Sheikh Ahmed Salem); DOB 9 Apr 1969; alt. DOB 9 Apr 1960; POB Mombasa, Kenya; citizen Kenya (individual) [SDGT]

SWEDISH CHARITABLE AQSA EST. (a.k.a. AL-AQSA (ASBL); a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NURSAT AL-AQSA AL-SHARIF; a.k.a. SANABIL AL-AQSA CHARITABLE FOUNDATION; a.k.a. STICHTING AL-AQSA), BD Leopold II 71, 1080 Brussels, Belgium [SDGT]

SWEDISH CHARITABLE AQSA EST. (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA), Kappellenstrasse 36, Aachen D-52066, Germany; <Head Office> [SDGT]

SWEDISH CHARITABLE AQSA EST. (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA) [SDGT]

SWEDISH CHARITABLE AQSA EST. (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA), Noblev 79 NB, 21433 Malmo, Sweden; Nobelvagen 79 NB, 21433 Malmo, Sweden [SDGT]

SWEDISH CHARITABLE AQSA EST. (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

SWEDISH CHARITABLE AQSA EST. (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA), P.O. Box 2364, Islamabad, Pakistan [SDGT]

SWEDISH CHARITABLE AQSA EST. (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA), P.O. Box 14101, San 'a, Yemen [SDGT]

SWEDISH CHARITABLE AQSA EST. (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA), P.O. Box 6222200KBKN, Copenhagen, Denmark [SDGT]

SWEDISH CHARITABLE AQSA EST. (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA), Gerrit V/D Lindestraat 103 A, 3022 TH, Rotterdam, Netherlands; Gerrit V/D Lindestraat 103 E, 03022 TH, Rotterdam, Netherlands [SDGT]

SWIFT INVESTMENTS (PVT) LTD., 730 Cowie Road, Tynwald, Harare, Zimbabwe; P.O. Box 3928, Harare, Zimbabwe [ZIMBABWE]

SWORD OF DAVID (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

SYAWAL, Muhammad (a.k.a. ABU MUAMAR; a.k.a. MOCHTAR, Yasin Mahmud; a.k.a. MUBAROK, Muhamad; a.k.a. SYAWAL, Yassin; a.k.a. YASIN, Abdul Hadi; a.k.a. YASIN, Salim; a.k.a. “ABU SETA”; a.k.a. “MAHMUD”); DOB circa 1972; nationality Indonesia (individual) [SDGT]

SYAWAL, Yassin (a.k.a. ABU MUAMAR; a.k.a. MOCHTAR, Yasin Mahmud; a.k.a. MUBAROK, Muhamad; a.k.a. SYAWAL, Muhammad; a.k.a. YASIN, Abdul Hadi; a.k.a. YASIN, Salim; a.k.a. “ABU SETA”; a.k.a. “MAHMUD”); DOB circa 1972; nationality Indonesia (individual) [SDGT]

SYLA, Azem; DOB 5 Apr 1951; POB Serbia and Montenegro (individual) [BALKANS]

T N K FABRICS LIMITED, United Kingdom [IRAQ2]

T&M INTERNATIONAL LTD. (a.k.a. GO CUBA PLUS; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

T.D.G. (a.k.a. TECHNOLOGY AND DEVELOPMENT GROUP LTD), Centric House 390/391, Strand, London, United Kingdom [IRAQ2]

T.E.G. LIMITED, 3 Mandeville Place, London, United Kingdom [IRAQ2]

T.M.G. ENGINEERING LIMITED, Castle Row, Horticultural Place, Chiswick, London, United Kingdom [IRAQ2]

TABARES BEDOYA, Carlos Eduardo, c/o ADMINISTRADORA DE SERVICIOS VARIOS CALIMA S.A., Cali, Colombia; c/o ASISTENCIA PROFESIONAL ESPECIALIZADA EN COLOMBIA LIMITADA, Cali, Colombia; c/o CHAMARTIN S.A., Cali, Colombia; DOB 10 Sep 1970; Cedula No. 16791397 (Colombia); Passport 16791397 (Colombia) (individual) [SDNT]

TABRA, Asil (a.k.a. TABRAH, Asil Sami Mohamad Madhi); DOB 19 Jun 1964; nationality Iraq (individual) [IRAQ2]

TABRAH, Asil Sami Mohamad Madhi (a.k.a. TABRA, Asil); DOB 19 Jun 1964; nationality Iraq (individual) [IRAQ2]

TADIC, Dusan 'Dusko' (a.k.a. 'DULE'); DOB 1956; POB Cajnice, Bosnia-Herzegovina; ICTY indictee (individual) [BALKANS]

TADIC, Miroslav; DOB 12 May 1937; POB Novi Grad, Bosnia-Herzegovina; ICTY indictee (individual) [BALKANS]

TAHA MUSA, Rifa'i Ahmad (a.k.a. 'ABD ALLAH, 'Issam 'Ali Muhammad; a.k.a. 'ABD-AL-'IZ; a.k.a. ABD-AL-WAHAB, Abd-al-Hai Ahmad; a.k.a. ABU YASIR; a.k.a. AL-KAMEL, Salah 'Ali; a.k.a. MUSA, Rifa'i Ahmad Taha; a.k.a. THABIT 'IZ); DOB 24 Jun 54; POB Egypt; Passport 83860 (Sudan); alt. Passport 30455 (Egypt); alt. Passport 1046403 (Egypt) (individual) [SDT]

TAHA, Abdul Rahman S. (a.k.a. TAHER, Abdul Rahman S.; a.k.a. YASIN, Abdul Rahman; a.k.a. YASIN, Abdul Rahman Said; a.k.a. YASIN, Aboud); DOB 10 Apr 1960; POB Bloomington, Indiana USA; citizen United States; Passport 27082171 (United States) issued 21 Jun 1992; alt. Passport M0887925 (Iraq); SSN 156-92-9858 (United States); U.S.A. Passport issued 21 Jun 1992 in Amman, Jordan (individual) [SDGT]

TAHEER PERFUMERY CORPORATION, P.O. Box 2241, Khartoum, Sudan [SUDAN]

TAHER, Abdul Rahman S. (a.k.a. TAHA, Abdul Rahman S.; a.k.a. YASIN, Abdul Rahman; a.k.a. YASIN, Abdul Rahman Said; a.k.a. YASIN, Aboud); DOB 10 Apr 1960; POB Bloomington, Indiana USA; citizen United States; Passport 27082171 (United States) issued 21 Jun 1992; alt. Passport M0887925 (Iraq); SSN 156-92-9858 (United States); U.S.A. Passport issued 21 Jun 1992 in Amman, Jordan (individual) [SDGT]

TAHREER PERFUMERY CORPORATION, EL, Omdurman, Sudan [SUDAN]

TAHRIKE ISLAMI'A TALIBAN (a.k.a. ISLAMIC MOVEMENT OF TALIBAN; a.k.a. TALEBAN; a.k.a. TALIBAN; a.k.a. TALIBAN ISLAMIC MOVEMENT; a.k.a. TALIBANO ISLAMI TAHRIK), Afghanistan [SDGT]

TAIBAH INTERNATIONAL : BOSNIA BRANCH (a.k.a. AL TAIBAH, INTL.; a.k.a. TAIBAH INTERNATIONAL AID AGENCY; a.k.a. TAIBAH INTERNATIONAL AID ASSOCIATION; a.k.a. TAIBAH INTERNATIONAL AIDE ASSOCIATION), Avde Smajlovic 6, Sarajevo, Bosnia and Herzegovina; No. 26 Tahbanksa Ulica, Sarajevo, Bosnia and Herzegovina [SDGT]

TAIBAH INTERNATIONAL AID AGENCY (a.k.a. AL TAIBAH, INTL.; a.k.a. TAIBAH INTERNATIONAL : BOSNIA BRANCH; a.k.a. TAIBAH INTERNATIONAL AID ASSOCIATION; a.k.a. TAIBAH INTERNATIONAL AIDE ASSOCIATION), Avde Smajlovic 6, Sarajevo, Bosnia and Herzegovina; No. 26 Tahbanksa Ulica, Sarajevo, Bosnia and Herzegovina [SDGT]

TAIBAH INTERNATIONAL AID ASSOCIATION (a.k.a. AL TAIBAH, INTL.; a.k.a. TAIBAH INTERNATIONAL : BOSNIA BRANCH; a.k.a. TAIBAH INTERNATIONAL AID AGENCY; a.k.a. TAIBAH INTERNATIONAL AIDE ASSOCIATION), Avde Smajlovic 6, Sarajevo, Bosnia and Herzegovina; No. 26 Tahbanksa Ulica, Sarajevo, Bosnia and Herzegovina [SDGT]

TAIBAH INTERNATIONAL AIDE ASSOCIATION (a.k.a. AL TAIBAH, INTL.; a.k.a. TAIBAH INTERNATIONAL : BOSNIA BRANCH; a.k.a. TAIBAH INTERNATIONAL AID AGENCY; a.k.a. TAIBAH INTERNATIONAL AID ASSOCIATION), Avde Smajlovic 6, Sarajevo, Bosnia and Herzegovina; No. 26 Tahbanksa Ulica, Sarajevo, Bosnia and Herzegovina [SDGT]

TAKA AUTOMOBILE COMPANY (a.k.a. EL TAKA AUTOMOBILE COMPANY), P.O. Box 221, Khartoum, Sudan [SUDAN]

TAKFIRI, Abu Umr (a.k.a. ABU ISMAIL; a.k.a. ABU UMAR, Abu Omar; a.k.a. AL-FILISTINI, Abu Qatada; a.k.a. UMAR, Abu Umar; a.k.a. UTHMAN, Al-Samman; a.k.a. UTHMAN, Omar Mahmoud; a.k.a. UTHMAN, Umar), London, United Kingdom; DOB 30 Dec 1960; alt. DOB 13 Dec 1960 (individual) [SDGT]

TALEBAN (a.k.a. ISLAMIC MOVEMENT OF TALIBAN; a.k.a. TAHRIKE ISLAMI'A TALIBAN; a.k.a. TALIBAN; a.k.a. TALIBAN ISLAMIC MOVEMENT; a.k.a. TALIBANO ISLAMI TAHRIK), Afghanistan [SDGT]

TALIBAN (a.k.a. ISLAMIC MOVEMENT OF TALIBAN; a.k.a. TAHRIKE ISLAMI'A TALIBAN; a.k.a. TALEBAN; a.k.a. TALIBAN ISLAMIC MOVEMENT; a.k.a. TALIBANO ISLAMI TAHRIK), Afghanistan [SDGT]

TALIBAN ISLAMIC MOVEMENT (a.k.a. ISLAMIC MOVEMENT OF TALIBAN; a.k.a. TAHRIKE ISLAMI'A TALIBAN; a.k.a. TALEBAN; a.k.a. TALIBAN; a.k.a. TALIBANO ISLAMI TAHRIK), Afghanistan [SDGT]

TALIBANO ISLAMI TAHRIK (a.k.a. ISLAMIC MOVEMENT OF TALIBAN; a.k.a. TAHRIKE ISLAMI'A TALIBAN; a.k.a. TALEBAN; a.k.a. TALIBAN; a.k.a. TALIBAN ISLAMIC MOVEMENT), Afghanistan [SDGT]

TALIC, Momir; DOB 15 Jul 1942; POB Piskavica, Bosnia-Herzegovina; ICTY indictee (individual) [BALKANS]

TALL, Aktham, P.O. Box 1318, Amman, Jordan (individual) [IRAQ2]

TALLER DE REPARACIONES NAVALES, S.A. (a.k.a. TARENA, S.A.), Panama City, Panama [CUBA]

TAMIL TIGERS (a.k.a. ELLALAN FORCE; a.k.a. LIBERATION TIGERS OF TAMIL EELAM; a.k.a. LTTE) [FTO] [SDGT]

TAN GROUP (a.k.a. NV TRANS AVIATION NETWORK GROUP; a.k.a. TRANS AVIATION; a.k.a. TRANSAVIA NETWORK; a.k.a. TRANSAVIA TRAVEL AGENCY; a.k.a. TRANSAVIA TRAVEL CARGO), 1304 Boorj Building, Bank Street, Sharjah, United Arab Emirates; P.O. Box 3962, Sharjah, United Arab Emirates; P.O. Box 2190, Ajman, United Arab Emirates; Ostende Airport, Belgium [LIBERIA]

TANCHON COMMERCIAL BANK (f.k.a. CHANGGWANG CREDIT BANK; f.k.a. KOREA CHANGGWANG CREDIT BANK), Saemul 1-Dong Pyongchon District, Pyongyang, Korea, North [NPWMD]

TANZEEM QA'IDAT AL JIHAD/BILAD AL RAAFIDAINI (a.k.a. AL-QAIDA GROUP OF JIHAD IN IRAQ; a.k.a. AL-QAIDA GROUP OF JIHAD IN THE LAND OF THE TWO RIVERS; a.k.a. AL-QAIDA IN IRAQ; a.k.a. AL-QAIDA IN MESOPOTAMIA; a.k.a. AL-QAIDA IN THE LAND OF THE TWO RIVERS; a.k.a. AL-QAIDA OF JIHAD IN IRAQ; a.k.a. AL-QAIDA OF JIHAD ORGANIZATION IN THE LAND OF THE TWO RIVERS; a.k.a. AL-QAIDA OF THE JIHAD IN THE LAND OF THE TWO RIVERS; a.k.a. AL-TAWHID; a.k.a. AL-ZARQAWI NETWORK; a.k.a. JAM'AT AL TAWHID WA'AL-JIHAD; a.k.a. TANZIM QA'IDAT AL-JIHAD FI BILAD AL-RAFIDAYN; a.k.a. THE MONOTHEISM AND JIHAD GROUP; a.k.a. THE ORGANIZATION BASE OF JIHAD/COUNTRY OF THE TWO RIVERS; a.k.a. THE ORGANIZATION BASE OF JIHAD/MESOPOTAMIA; a.k.a. THE ORGANIZATION OF AL-JIHAD'S BASE IN IRAQ; a.k.a. THE ORGANIZATION OF AL-JIHAD'S BASE IN THE LAND OF THE TWO RIVERS; a.k.a. THE ORGANIZATION OF AL-JIHAD'S BASE OF OPERATIONS IN IRAQ; a.k.a. THE ORGANIZATION OF AL-JIHAD'S BASE OF OPERATIONS IN THE LAND OF THE TWO RIVERS; a.k.a. THE ORGANIZATION OF JIHAD'S BASE IN THE COUNTRY OF THE TWO RIVERS) [FTO] [SDGT]

TANZIM QA'IDAT AL-JIHAD FI BILAD AL-RAFIDAYN (a.k.a. AL-QAIDA GROUP OF JIHAD IN IRAQ; a.k.a. AL-QAIDA GROUP OF JIHAD IN THE LAND OF THE TWO RIVERS; a.k.a. AL-QAIDA IN IRAQ; a.k.a. AL-QAIDA IN MESOPOTAMIA; a.k.a. AL-QAIDA IN THE LAND OF THE TWO RIVERS; a.k.a. AL-QAIDA OF JIHAD IN IRAQ; a.k.a. AL-QAIDA OF JIHAD ORGANIZATION IN THE LAND OF THE TWO RIVERS; a.k.a. AL-QAIDA OF THE JIHAD IN THE LAND OF THE TWO RIVERS; a.k.a. AL-TAWHID; a.k.a. AL-ZARQAWI NETWORK; a.k.a. JAM'AT AL TAWHID WA'AL-JIHAD; a.k.a. TANZEEM QA'IDAT AL JIHAD/BILAD AL RAAFIDAINI; a.k.a. THE MONOTHEISM AND JIHAD GROUP; a.k.a. THE ORGANIZATION BASE OF JIHAD/COUNTRY OF THE TWO RIVERS; a.k.a. THE ORGANIZATION BASE OF JIHAD/MESOPOTAMIA; a.k.a. THE ORGANIZATION OF AL-JIHAD'S BASE IN IRAQ; a.k.a. THE ORGANIZATION OF AL-JIHAD'S BASE IN THE LAND OF THE TWO RIVERS; a.k.a. THE ORGANIZATION OF AL-JIHAD'S BASE OF OPERATIONS IN IRAQ; a.k.a. THE ORGANIZATION OF AL-JIHAD'S BASE OF OPERATIONS IN THE LAND OF THE TWO RIVERS; a.k.a. THE ORGANIZATION OF JIHAD'S BASE IN THE COUNTRY OF THE TWO RIVERS) [FTO] [SDGT]

TAPIA ORTEGA DE ARRIOLA, Abigail (a.k.a. TAPIA ORTEGA, Abigail), c/o GASOLINERAS SAN FERNANDO S.A. DE C.V., Saucillo, Mexico; Avenida Novena No. 47, Saucillo, Chihuahua, Mexico; DOB 23 Sep 1974; POB Mexico City, Mexico; citizen Mexico; nationality Mexico (individual) [SDNTK]

TAPIA ORTEGA, Abigail (a.k.a. TAPIA ORTEGA DE ARRIOLA, Abigail), c/o GASOLINERAS SAN FERNANDO S.A. DE C.V., Saucillo, Mexico; Avenida Novena No. 47, Saucillo, Chihuahua, Mexico; DOB 23 Sep 1974; POB Mexico City, Mexico; citizen Mexico; nationality Mexico (individual) [SDNTK]

TARAZONA HERNANDEZ, Edgar Javier, c/o CAJA SOLIDARIA, Bogota, Colombia; c/o COPSERVIR LTDA., Bogota, Colombia; Cedula No. 91253529 (Colombia) (individual) [SDNT]

TARENA, S.A. (a.k.a. TALLER DE REPARACIONES NAVALES, S.A.), Panama City, Panama [CUBA]

TARIQ (a.k.a. ABU ZUBAIDA; a.k.a. ABU ZUBAYDAH; a.k.a. AL-WAHAB, Abd Al-Hadi; a.k.a. HUSAIN, Zain Al-Abidin Muhahhad; a.k.a. HUSAYN, Zayn al-Abidin Muhammad); DOB 12 MAR 71; POB Riyadh, Saudi Arabia (individual) [SDGT]

TARIQ ABU SHANAB EST. (a.k.a. ABU SHANAB METALS ESTABLISHMENT; a.k.a. AMIN ABU SHANAB&SONS CO.; a.k.a. SHANAB METALS ESTABLISHMENT; a.k.a. TARIQ ABU SHANAB EST. FOR TRADE&COMMERCE; a.k.a. TARIQ ABU SHANAB METALS ESTABLISHMENT), Musherfeh, P.O. Box 766, Zarka, Jordan [IRAQ2]

TARIQ ABU SHANAB EST. FOR TRADE & COMMERCE (a.k.a. ABU SHANAB METALS ESTABLISHMENT; a.k.a. AMIN ABU SHANAB&SONS CO.; a.k.a. SHANAB METALS ESTABLISHMENT; a.k.a. TARIQ ABU SHANAB EST.; a.k.a. TARIQ ABU SHANAB METALS ESTABLISHMENT), Musherfeh, P.O. Box 766, Zarka, Jordan [IRAQ2]

TARIQ ABU SHANAB METALS ESTABLISHMENT (a.k.a. ABU SHANAB METALS ESTABLISHMENT; a.k.a. AMIN ABU SHANAB&SONS CO.; a.k.a. SHANAB METALS ESTABLISHMENT; a.k.a. TARIQ ABU SHANAB EST.; a.k.a. TARIQ ABU SHANAB EST. FOR TRADE & COMMERCE), Musherfeh, P.O. Box 766, Zarka, Jordan [IRAQ2]

TAURA S.A., Calle 13 No. 68-06, Of. 204, Cali, Colombia; Calle 13 No. 68-26, Of. 214, 313 & 314, Cali, Colombia; Carrera 115 No. 16B-121, Cali, Colombia; NIT # 800183713-1 (Colombia) [SDNT]

TAWENGWA, Solomon; DOB 15 Jun 1940; Former Executive Mayor of Harare; Deceased (individual) [ZIMBABWE]

TAYLOR, Agnes Reeves (a.k.a. REEVES-TAYLOR; a.k.a. REEVES-TAYLOR, Agnes); DOB 27 SEP 1965; nationality Liberia; Ex-wife of former President of Liberia Charles Taylor; ex-Permanent Representative of Liberia to the International Maritime Organization (individual) [LIBERIA]

TAYLOR, Charles (Junior) (a.k.a. “CHUCKIE”); DOB 12 FEB 1978; Advisor and son of former President of Liberia Charles Taylor (individual) [LIBERIA]

TAYLOR, Charles Ghankay (a.k.a. SOME, Jean-Paul; a.k.a. SONE, Jean-Paul; a.k.a. TAYLOR, Charles MacArthur); DOB 1 Sep 1947; Former President of Liberia (individual) [LIBERIA]

TAYLOR, Charles MacArthur (a.k.a. SOME, Jean-Paul; a.k.a. SONE, Jean-Paul; a.k.a. TAYLOR, Charles Ghankay); DOB 1 Sep 1947; Former President of Liberia (individual) [LIBERIA]

TAYLOR, Jewell Howard; DOB 17 JAN 1963; Wife of former President of Liberia Charles Taylor (individual) [LIBERIA]

TAYLOR, Tupee Enid; DOB 17 DEC 1962; Ex-wife of former President of Liberia Charles Taylor (individual) [LIBERIA]

TAYSIR (a.k.a. ABDULLAH, Sheikh Taysir; a.k.a. ABU HAFS; a.k.a. ABU SITTA, Subhi; a.k.a. AL-MASRI, Abu Hafs; a.k.a. ATEF, Muhammad; a.k.a. ATIF, Mohamed; a.k.a. ATIF, Muhammad; a.k.a. EL KHABIR, Abu Hafs el Masry); DOB 1951; alt. DOB 1956; alt. DOB 1944; POB Alexandria, Egypt (individual) [SDT] [SDGT]

TEA PACKETING AND TRADING COMPANY, P.O. Box 369, Khartoum, Sudan [SUDAN]

TECHNIC DIGEMEX CORP., Calle 34 No. 4-50, Office 301, Panama City, Panama [CUBA]

TECHNIC HOLDING INC., Calle 34 No. 4-50, Office 301, Panama City, Panama [CUBA]

TECHNOLOGY AND DEVELOPMENT GROUP LTD (a.k.a. T.D.G.), Centric House 390/391, Strand, London, United Kingdom [IRAQ2]

TECNICAS CONTABLES Y ADMINISTRATIVAS (a.k.a. TECONTA), Carrera 3 No. 11-32 of. 939, Cali, Colombia; Cedula No. 16242828 (Colombia) [SDNT]

TECNOVET LTDA. (a.k.a. TECNOVET LTDA.TECNICAS VETERINARIAS TECNOVET LTDA.), Carrera 13 No. 13-41, Bogota, Colombia; NIT # 830092117-8 (Colombia) [SDNT]

TECNOVET LTDA.TECNICAS VETERINARIAS TECNOVET LTDA. (a.k.a. TECNOVET LTDA.), Carrera 13 No. 13-41, Bogota, Colombia; NIT # 830092117-8 (Colombia) [SDNT]

TECONTA (a.k.a. TECNICAS CONTABLES Y ADMINISTRATIVAS), Carrera 3 No. 11-32 of. 939, Cali, Colombia; Cedula No. 16242828 (Colombia) [SDNT]

TEHRIK UL-FURQAAN (a.k.a. ARMY OF MOHAMMED; a.k.a. JAISH-E-MOHAMMED; a.k.a. JAISH-I-MOHAMMED; a.k.a. KHUDAMUL ISLAM; a.k.a. KHUDDAM-UL-ISLAM; a.k.a. KUDDAM E ISLAMI; a.k.a. MOHAMMED'S ARMY), Pakistan [FTO] [SDGT]

TELEFARMA (a.k.a. REPRESENTACIONES Y DISTRIBUCIONES HUERTAS Y ASOCIADOS LTDA.; a.k.a. REPRESENTACIONES Y DISTRIBUCIONES HUERTAS Y ASOCIADOS S.A.), Calle 124 No. 6-60, Bogota, Colombia; Avenida 42 No. 20-47, Bogota, Colombia; NIT # 860527387-8 (Colombia) [SDNT]

TELEFARMA E.U. (a.k.a. FARMATEL E.U.), Calle 93 No. 16-75, Bogota, Colombia [SDNT]

TELNET S.A. (a.k.a. URBANIZADORA ALTAVISTA INTERNACIONAL S.A.; a.k.a. URBAVISTA), Calle 77 B No. 57-141, Ofc. 917, Barranquilla, Colombia; NIT # 802014697-3 (Colombia) [SDNT]

TEMIS SHIPPING CO., Panama [CUBA]

TERAPIAS VETERINARIA LIMITADA (a.k.a. TERVET LTDA.), Calle 39 BIS A No. 27-16, Bogota, Colombia; NIT # 830068307-1 (Colombia) [SDNT]

TERVET LTDA. (a.k.a. TERAPIAS VETERINARIA LIMITADA), Calle 39 BIS A No. 27-16, Bogota, Colombia; NIT # 830068307-1 (Colombia) [SDNT]

THABIT 'IZ (a.k.a. 'ABD ALLAH, 'Issam 'Ali Muhammad; a.k.a. 'ABD-AL-'IZ; a.k.a. ABD-AL-WAHAB, Abd-al-Hai Ahmad; a.k.a. ABU YASIR; a.k.a. AL-KAMEL, Salah 'Ali; a.k.a. MUSA, Rifa'i Ahmad Taha; a.k.a. TAHA MUSA, Rifa'i Ahmad); DOB 24 Jun 54; POB Egypt; Passport 83860 (Sudan); alt. Passport 30455 (Egypt); alt. Passport 1046403 (Egypt) (individual) [SDT]

THACI, Menduh; DOB 3 Mar 1965; POB Tetovo, Macedonia (individual) [BALKANS]

THAER, Mansour; DOB 21 Mar 1974; POB Baghdad, Iraq (individual) [SDGT]

THE AID ORGANIZATION OF THE ULEMA (a.k.a. AL RASHEED TRUST; a.k.a. AL RASHID TRUST; a.k.a. AL-RASHEED TRUST; a.k.a. AL-RASHID TRUST), Kitab Ghar, Darul Ifta Wal Irshad, Nazimabad No. 4, Karachi, Pakistan; Office Dha'rb-i-M'unin, opposite Khyber Bank, Abbottabad Road, Mansehra, Pakistan; Office Dha'rb-i-M'unin, Z.R. Brothers, Katchehry Road, Chowk Yadgaar, Peshawar, Pakistan; Office Dha'rb-i-M'unin, Room no. 3, Third Floor, Moti Plaza, near Liaquat Bagh, Murree Road, Rawalpindi, Pakistan; Office Dha'rb-i-M'unin, Top Floor, Dr. Dawa Khan Dental Clinic Surgeon, Main Baxar, Mingora, Swat, Pakistan; 302b-40, Good Earth Court, Opposite Pia Planitarium, Block 13a, Gulshan -I Iqbal, Karachi, Pakistan; 617 Clifton Center, Block 5, 6th Floor, Clifton, Karachi, Pakistan; 605 Landmark Plaza, 11 Chundrigar Road, Opposite Jang Building, Karachi, Pakistan; Jamia Masjid, Sulaiman Park, Begum Pura, Lahore, Pakistan; Operations in Afghanistan: Herat, Jalalabad, Kabul, Kandahar, Mazar Sharif; Also operations in: Kosovo,Chechnya [SDGT]

THE AL-JIHAD-FISI-SABILILAH SPECIAL ISLAMIC REGIMENT (a.k.a. ISLAMIC REGIMENT OF SPECIAL MEANING; a.k.a. THE ISLAMIC SPECIAL PURPOSE REGIMENT; a.k.a. THE SPECIAL PURPOSE ISLAMIC REGIMENT) [SDGT]

THE BENEVOLENT CHARITABLE ORGANIZATION (a.k.a. AL-AHSAN CHARITABLE ORGANIZATION; a.k.a. AL-BAR AND AL-IHSAN SOCIETIES; a.k.a. AL-BAR AND AL-IHSAN SOCIETY; a.k.a. AL-BIR AND AL-IHSAN ORGANIZATION; a.k.a. AL-BIRR WA AL-IHSAN CHARITY ASSOCIATION; a.k.a. AL-BIRR WA AL-IHSAN WA AL-NAQA; a.k.a. AL-IHSAN CHARITABLE SOCIETY; a.k.a. BIR WA ELEHSSAN SOCIETY; a.k.a. BIRR AND ELEHSSAN SOCIETY; a.k.a. ELEHSSAN; a.k.a. ELEHSSAN SOCIETY; a.k.a. ELEHSSAN SOCIETY AND BIRR; a.k.a. ELEHSSAN SOCIETY WA BIRR; a.k.a. IHSAN CHARITY; a.k.a. JAMI'A AL-AHSAN AL-KHAYRIYYAH), Bethlehem, West Bank, Palestinian; AL-MUZANNAR ST, AL-NASIR AREA, Gaza City, Gaza, Palestinian; Jenin, West Bank, Palestinian; Ramallah, West Bank, Palestinian; Tulkarm, West Bank, Palestinian; Lebanon; P.O. BOX 398, Hebron, West Bank, Palestinian [SDGT]

THE COMMITTEE AGAINST RACISM AND DISCRIMINATION (CARD) (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

THE GROUP FOR THE PRESERVATION OF THE HOLY SITES (a.k.a. AL QAEDA; a.k.a. AL QA'IDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY; a.k.a. ISLAMIC ARMY FOR THE LIBERATION OF HOLY SITES; a.k.a. ISLAMIC SALVATION FOUNDATION; a.k.a. NEW JIHAD; a.k.a. “THE BASE”; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION) [FTO] [SDGT] [SDT]

THE HATIKVA JEWISH IDENTITY CENTER (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

THE HORROR SQUADRON (a.k.a. DHAMAT HOUMET DAAWA SALAFIA; a.k.a. DJAMAAT HOUMAT ED DAAWA ES SALAFIYA; a.k.a. DJAMAAT HOUMAT ED DAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS), Algeria [SDGT]

THE INTERNATIONAL BRIGADE (a.k.a. INTERNATIONAL BATTALION; a.k.a. ISLAMIC PEACEKEEPING INTERNATIONAL BRIGADE; a.k.a. PEACEKEEPING BATTALION; a.k.a. THE ISLAMIC INTERNATIONAL BRIGADE; a.k.a. THE ISLAMIC PEACEKEEPING ARMY; a.k.a. THE ISLAMIC PEACEKEEPING BRIGADE) [SDGT]

THE INTERNATIONAL KAHANE MOVEMENT (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

THE ISLAMIC ARMY FOR THE LIBERATION OF THE HOLY PLACES (a.k.a. AL QAEDA; a.k.a. AL QA'IDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY; a.k.a. ISLAMIC ARMY FOR THE LIBERATION OF HOLY SITES; a.k.a. ISLAMIC SALVATION FOUNDATION; a.k.a. NEW JIHAD; a.k.a. “THE BASE”; a.k.a. THE GROUP FOR THE PRESERVATION OF THE HOLY SITES; a.k.a. THE JIHAD GROUP; a.k.a. THE WORLD ISLAMIC FRONT FOR JIHAD AGAINST JEWS AND CRUSADERS; a.k.a. USAMA BIN LADEN NETWORK; a.k.a. USAMA BIN LADEN ORGANIZATION) [FTO] [SDGT] [SDT]

THE ISLAMIC INTERNATIONAL BRIGADE (a.k.a. INTERNATIONAL BATTALION; a.k.a. ISLAMIC PEACEKEEPING INTERNATIONAL BRIGADE; a.k.a. PEACEKEEPING BATTALION; a.k.a. THE INTERNATIONAL BRIGADE; a.k.a. THE ISLAMIC PEACEKEEPING ARMY; a.k.a. THE ISLAMIC PEACEKEEPING BRIGADE) [SDGT]

THE ISLAMIC PEACEKEEPING ARMY (a.k.a. INTERNATIONAL BATTALION; a.k.a. ISLAMIC PEACEKEEPING INTERNATIONAL BRIGADE; a.k.a. PEACEKEEPING BATTALION; a.k.a. THE INTERNATIONAL BRIGADE; a.k.a. THE ISLAMIC INTERNATIONAL BRIGADE; a.k.a. THE ISLAMIC PEACEKEEPING BRIGADE) [SDGT]

THE ISLAMIC PEACEKEEPING BRIGADE (a.k.a. INTERNATIONAL BATTALION; a.k.a. ISLAMIC PEACEKEEPING INTERNATIONAL BRIGADE; a.k.a. PEACEKEEPING BATTALION; a.k.a. THE INTERNATIONAL BRIGADE; a.k.a. THE ISLAMIC INTERNATIONAL BRIGADE; a.k.a. THE ISLAMIC PEACEKEEPING ARMY) [SDGT]

THE ISLAMIC SPECIAL PURPOSE REGIMENT (a.k.a. ISLAMIC REGIMENT OF SPECIAL MEANING; a.k.a. THE AL-JIHAD-FISI-SABILILAH SPECIAL ISLAMIC REGIMENT; a.k.a. THE SPECIAL PURPOSE ISLAMIC REGIMENT) [SDGT]

THE JAMAAT MOJAHEDIN (a.k.a. AL-DJIHAD AL-ISLAMI; a.k.a. DZHAMAAT MODZHAKHEDOV; a.k.a. ISLAMIC JIHAD GROUP (IJG); a.k.a. ISLAMIC JIHAD GROUP OF UZBEKISTAN; a.k.a. JAMA'AT AL-JIHAD; a.k.a. JAMIAT AL-JIHAD AL-ISLAMI; a.k.a. JAMIYAT; a.k.a. THE KAZAKH JAMA'AT; a.k.a. THE LIBYAN SOCIETY) [FTO] [SDGT]

THE JEWISH IDEA YESHIVA (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

THE JIHAD GROUP (a.k.a. AL QAEDA; a.k.a. AL QA'IDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY; a.k.a. ISLAMIC ARMY FOR THE LIBERATION OF HOLY SITES; a.k.a. ISLAMIC SALVATION FOUNDATION; a.k.a. NEW JIHAD; a.k.a. “THE BASE”; a.k.a. THE GROUP FOR THE PRESERVATION OF THE HOLY SITES; a.k.a. THE ISLAMIC ARMY FOR THE LIBERATION OF THE HOLY PLACES; a.k.a. THE WORLD ISLAMIC FRONT FOR JIHAD AGAINST JEWS AND CRUSADERS; a.k.a. USAMA BIN LADEN NETWORK; a.k.a. USAMA BIN LADEN ORGANIZATION) [FTO] [SDGT] [SDT]

THE JUDEAN LEGION (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

THE JUDEAN VOICE (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

THE KAZAKH JAMA'AT (a.k.a. AL-DJIHAD AL-ISLAMI; a.k.a. DZHAMAAT MODZHAKHEDOV; a.k.a. ISLAMIC JIHAD GROUP (IJG); a.k.a. ISLAMIC JIHAD GROUP OF UZBEKISTAN; a.k.a. JAMA'AT AL-JIHAD; a.k.a. JAMIAT AL-JIHAD AL-ISLAMI; a.k.a. JAMIYAT; a.k.a. THE JAMAAT MOJAHEDIN; a.k.a. THE LIBYAN SOCIETY) [FTO] [SDGT]

THE LIBYAN SOCIETY (a.k.a. AL-DJIHAD AL-ISLAMI; a.k.a. DZHAMAAT MODZHAKHEDOV; a.k.a. ISLAMIC JIHAD GROUP (IJG); a.k.a. ISLAMIC JIHAD GROUP OF UZBEKISTAN; a.k.a. JAMA'AT AL-JIHAD; a.k.a. JAMIAT AL-JIHAD AL-ISLAMI; a.k.a. JAMIYAT; a.k.a. THE JAMAAT MOJAHEDIN; a.k.a. THE KAZAKH JAMA'AT) [FTO] [SDGT]

THE MODERN LAUNDRY BLUE FACTORY (a.k.a. MODERN LAUNDRY BLUE FACTORY), P.O. Box 2241, Khartoum, Sudan [SUDAN]

THE MONOTHEISM AND JIHAD GROUP (a.k.a. AL-QAIDA GROUP OF JIHAD IN IRAQ; a.k.a. AL-QAIDA GROUP OF JIHAD IN THE LAND OF THE TWO RIVERS; a.k.a. AL-QAIDA IN IRAQ; a.k.a. AL-QAIDA IN MESOPOTAMIA; a.k.a. AL-QAIDA IN THE LAND OF THE TWO RIVERS; a.k.a. AL-QAIDA OF JIHAD IN IRAQ; a.k.a. AL-QAIDA OF JIHAD ORGANIZATION IN THE LAND OF THE TWO RIVERS; a.k.a. AL-QAIDA OF THE JIHAD IN THE LAND OF THE TWO RIVERS; a.k.a. AL-TAWHID; a.k.a. AL-ZARQAWI NETWORK; a.k.a. JAM'AT AL TAWHID WA'AL-JIHAD; a.k.a. TANZEEM QA'IDAT AL JIHAD/BILAD AL RAAFIDAINI; a.k.a. TANZIM QA'IDAT AL-JIHAD FI BILAD AL-RAFIDAYN; a.k.a. THE ORGANIZATION BASE OF JIHAD/COUNTRY OF THE TWO RIVERS; a.k.a. THE ORGANIZATION BASE OF JIHAD/MESOPOTAMIA; a.k.a. THE ORGANIZATION OF AL-JIHAD'S BASE IN IRAQ; a.k.a. THE ORGANIZATION OF AL-JIHAD'S BASE IN THE LAND OF THE TWO RIVERS; a.k.a. THE ORGANIZATION OF AL-JIHAD'S BASE OF OPERATIONS IN IRAQ; a.k.a. THE ORGANIZATION OF AL-JIHAD'S BASE OF OPERATIONS IN THE LAND OF THE TWO RIVERS; a.k.a. THE ORGANIZATION OF JIHAD'S BASE IN THE COUNTRY OF THE TWO RIVERS) [FTO] [SDGT]

THE NATIONAL LIBERATION ARMY OF IRAN (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NATIONAL COUNCIL OF RESISTANCE OF IRAN; a.k.a. NCRI; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN) [FTO] [SDGT]

THE NATIONAL LIBERATION ARMY OF IRAN (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN); including its U.S. representative offices and all other offices worldwide [FTO] [SDGT]

THE NATIONAL LIBERATION ARMY OF IRAN (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN); including its U.S. press office and all other offices worldwide [FTO] [SDGT]

THE NATIONAL LIBERATION ARMY OF IRAN (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN); including its U.S. press office and all other offices worldwide [FTO] [SDGT]

THE ORGANIZATION BASE OF JIHAD/COUNTRY OF THE TWO RIVERS (a.k.a. AL-QAIDA GROUP OF JIHAD IN IRAQ; a.k.a. AL-QAIDA GROUP OF JIHAD IN THE LAND OF THE TWO RIVERS; a.k.a. AL-QAIDA IN IRAQ; a.k.a. AL-QAIDA IN MESOPOTAMIA; a.k.a. AL-QAIDA IN THE LAND OF THE TWO RIVERS; a.k.a. AL-QAIDA OF JIHAD IN IRAQ; a.k.a. AL-QAIDA OF JIHAD ORGANIZATION IN THE LAND OF THE TWO RIVERS; a.k.a. AL-QAIDA OF THE JIHAD IN THE LAND OF THE TWO RIVERS; a.k.a. AL-TAWHID; a.k.a. AL-ZARQAWI NETWORK; a.k.a. JAM'AT AL TAWHID WA'AL-JIHAD; a.k.a. TANZEEM QA'IDAT AL JIHAD/BILAD AL RAAFIDAINI; a.k.a. TANZIM QA'IDAT AL-JIHAD FI BILAD AL-RAFIDAYN; a.k.a. THE MONOTHEISM AND JIHAD GROUP; a.k.a. THE ORGANIZATION BASE OF JIHAD/MESOPOTAMIA; a.k.a. THE ORGANIZATION OF AL-JIHAD'S BASE IN IRAQ; a.k.a. THE ORGANIZATION OF AL-JIHAD'S BASE IN THE LAND OF THE TWO RIVERS; a.k.a. THE ORGANIZATION OF AL-JIHAD'S BASE OF OPERATIONS IN IRAQ; a.k.a. THE ORGANIZATION OF AL-JIHAD'S BASE OF OPERATIONS IN THE LAND OF THE TWO RIVERS; a.k.a. THE ORGANIZATION OF JIHAD'S BASE IN THE COUNTRY OF THE TWO RIVERS) [FTO] [SDGT]

THE ORGANIZATION BASE OF JIHAD/MESOPOTAMIA (a.k.a. AL-QAIDA GROUP OF JIHAD IN IRAQ; a.k.a. AL-QAIDA GROUP OF JIHAD IN THE LAND OF THE TWO RIVERS; a.k.a. AL-QAIDA IN IRAQ; a.k.a. AL-QAIDA IN MESOPOTAMIA; a.k.a. AL-QAIDA IN THE LAND OF THE TWO RIVERS; a.k.a. AL-QAIDA OF JIHAD IN IRAQ; a.k.a. AL-QAIDA OF JIHAD ORGANIZATION IN THE LAND OF THE TWO RIVERS; a.k.a. AL-QAIDA OF THE JIHAD IN THE LAND OF THE TWO RIVERS; a.k.a. AL-TAWHID; a.k.a. AL-ZARQAWI NETWORK; a.k.a. JAM'AT AL TAWHID WA'AL-JIHAD; a.k.a. TANZEEM QA'IDAT AL JIHAD/BILAD AL RAAFIDAINI; a.k.a. TANZIM QA'IDAT AL-JIHAD FI BILAD AL-RAFIDAYN; a.k.a. THE MONOTHEISM AND JIHAD GROUP; a.k.a. THE ORGANIZATION BASE OF JIHAD/COUNTRY OF THE TWO RIVERS; a.k.a. THE ORGANIZATION OF AL-JIHAD'S BASE IN IRAQ; a.k.a. THE ORGANIZATION OF AL-JIHAD'S BASE IN THE LAND OF THE TWO RIVERS; a.k.a. THE ORGANIZATION OF AL-JIHAD'S BASE OF OPERATIONS IN IRAQ; a.k.a. THE ORGANIZATION OF AL-JIHAD'S BASE OF OPERATIONS IN THE LAND OF THE TWO RIVERS; a.k.a. THE ORGANIZATION OF JIHAD'S BASE IN THE COUNTRY OF THE TWO RIVERS) [FTO] [SDGT]

THE ORGANIZATION OF AL-JIHAD'S BASE IN IRAQ (a.k.a. AL-QAIDA GROUP OF JIHAD IN IRAQ; a.k.a. AL-QAIDA GROUP OF JIHAD IN THE LAND OF THE TWO RIVERS; a.k.a. AL-QAIDA IN IRAQ; a.k.a. AL-QAIDA IN MESOPOTAMIA; a.k.a. AL-QAIDA IN THE LAND OF THE TWO RIVERS; a.k.a. AL-QAIDA OF JIHAD IN IRAQ; a.k.a. AL-QAIDA OF JIHAD ORGANIZATION IN THE LAND OF THE TWO RIVERS; a.k.a. AL-QAIDA OF THE JIHAD IN THE LAND OF THE TWO RIVERS; a.k.a. AL-TAWHID; a.k.a. AL-ZARQAWI NETWORK; a.k.a. JAM'AT AL TAWHID WA'AL-JIHAD; a.k.a. TANZEEM QA'IDAT AL JIHAD/BILAD AL RAAFIDAINI; a.k.a. TANZIM QA'IDAT AL-JIHAD FI BILAD AL-RAFIDAYN; a.k.a. THE MONOTHEISM AND JIHAD GROUP; a.k.a. THE ORGANIZATION BASE OF JIHAD/COUNTRY OF THE TWO RIVERS; a.k.a. THE ORGANIZATION BASE OF JIHAD/MESOPOTAMIA; a.k.a. THE ORGANIZATION OF AL-JIHAD'S BASE IN THE LAND OF THE TWO RIVERS; a.k.a. THE ORGANIZATION OF AL-JIHAD'S BASE OF OPERATIONS IN IRAQ; a.k.a. THE ORGANIZATION OF AL-JIHAD'S BASE OF OPERATIONS IN THE LAND OF THE TWO RIVERS; a.k.a. THE ORGANIZATION OF JIHAD'S BASE IN THE COUNTRY OF THE TWO RIVERS) [FTO] [SDGT]

THE ORGANIZATION OF AL-JIHAD'S BASE IN THE LAND OF THE TWO RIVERS (a.k.a. AL-QAIDA GROUP OF JIHAD IN IRAQ; a.k.a. AL-QAIDA GROUP OF JIHAD IN THE LAND OF THE TWO RIVERS; a.k.a. AL-QAIDA IN IRAQ; a.k.a. AL-QAIDA IN MESOPOTAMIA; a.k.a. AL-QAIDA IN THE LAND OF THE TWO RIVERS; a.k.a. AL-QAIDA OF JIHAD IN IRAQ; a.k.a. AL-QAIDA OF JIHAD ORGANIZATION IN THE LAND OF THE TWO RIVERS; a.k.a. AL-QAIDA OF THE JIHAD IN THE LAND OF THE TWO RIVERS; a.k.a. AL-TAWHID; a.k.a. AL-ZARQAWI NETWORK; a.k.a. JAM'AT AL TAWHID WA'AL-JIHAD; a.k.a. TANZEEM QA'IDAT AL JIHAD/BILAD AL RAAFIDAINI; a.k.a. TANZIM QA'IDAT AL-JIHAD FI BILAD AL-RAFIDAYN; a.k.a. THE MONOTHEISM AND JIHAD GROUP; a.k.a. THE ORGANIZATION BASE OF JIHAD/COUNTRY OF THE TWO RIVERS; a.k.a. THE ORGANIZATION BASE OF JIHAD/MESOPOTAMIA; a.k.a. THE ORGANIZATION OF AL-JIHAD'S BASE IN IRAQ; a.k.a. THE ORGANIZATION OF AL-JIHAD'S BASE OF OPERATIONS IN IRAQ; a.k.a. THE ORGANIZATION OF AL-JIHAD'S BASE OF OPERATIONS IN THE LAND OF THE TWO RIVERS; a.k.a. THE ORGANIZATION OF JIHAD'S BASE IN THE COUNTRY OF THE TWO RIVERS) [FTO] [SDGT]

THE ORGANIZATION OF AL-JIHAD'S BASE OF OPERATIONS IN IRAQ (a.k.a. AL-QAIDA GROUP OF JIHAD IN IRAQ; a.k.a. AL-QAIDA GROUP OF JIHAD IN THE LAND OF THE TWO RIVERS; a.k.a. AL-QAIDA IN IRAQ; a.k.a. AL-QAIDA IN MESOPOTAMIA; a.k.a. AL-QAIDA IN THE LAND OF THE TWO RIVERS; a.k.a. AL-QAIDA OF JIHAD IN IRAQ; a.k.a. AL-QAIDA OF JIHAD ORGANIZATION IN THE LAND OF THE TWO RIVERS; a.k.a. AL-QAIDA OF THE JIHAD IN THE LAND OF THE TWO RIVERS; a.k.a. AL-TAWHID; a.k.a. AL-ZARQAWI NETWORK; a.k.a. JAM'AT AL TAWHID WA'AL-JIHAD; a.k.a. TANZEEM QA'IDAT AL JIHAD/BILAD AL RAAFIDAINI; a.k.a. TANZIM QA'IDAT AL-JIHAD FI BILAD AL-RAFIDAYN; a.k.a. THE MONOTHEISM AND JIHAD GROUP; a.k.a. THE ORGANIZATION BASE OF JIHAD/COUNTRY OF THE TWO RIVERS; a.k.a. THE ORGANIZATION BASE OF JIHAD/MESOPOTAMIA; a.k.a. THE ORGANIZATION OF AL-JIHAD'S BASE IN IRAQ; a.k.a. THE ORGANIZATION OF AL-JIHAD'S BASE IN THE LAND OF THE TWO RIVERS; a.k.a. THE ORGANIZATION OF AL-JIHAD'S BASE OF OPERATIONS IN THE LAND OF THE TWO RIVERS; a.k.a. THE ORGANIZATION OF JIHAD'S BASE IN THE COUNTRY OF THE TWO RIVERS) [FTO] [SDGT]

THE ORGANIZATION OF AL-JIHAD'S BASE OF OPERATIONS IN THE LAND OF THE TWO RIVERS (a.k.a. AL-QAIDA GROUP OF JIHAD IN IRAQ; a.k.a. AL-QAIDA GROUP OF JIHAD IN THE LAND OF THE TWO RIVERS; a.k.a. AL-QAIDA IN IRAQ; a.k.a. AL-QAIDA IN MESOPOTAMIA; a.k.a. AL-QAIDA IN THE LAND OF THE TWO RIVERS; a.k.a. AL-QAIDA OF JIHAD IN IRAQ; a.k.a. AL-QAIDA OF JIHAD ORGANIZATION IN THE LAND OF THE TWO RIVERS; a.k.a. AL-QAIDA OF THE JIHAD IN THE LAND OF THE TWO RIVERS; a.k.a. AL-TAWHID; a.k.a. AL-ZARQAWI NETWORK; a.k.a. JAM'AT AL TAWHID WA'AL-JIHAD; a.k.a. TANZEEM QA'IDAT AL JIHAD/BILAD AL RAAFIDAINI; a.k.a. TANZIM QA'IDAT AL-JIHAD FI BILAD AL-RAFIDAYN; a.k.a. THE MONOTHEISM AND JIHAD GROUP; a.k.a. THE ORGANIZATION BASE OF JIHAD/COUNTRY OF THE TWO RIVERS; a.k.a. THE ORGANIZATION BASE OF JIHAD/MESOPOTAMIA; a.k.a. THE ORGANIZATION OF AL-JIHAD'S BASE IN IRAQ; a.k.a. THE ORGANIZATION OF AL-JIHAD'S BASE IN THE LAND OF THE TWO RIVERS; a.k.a. THE ORGANIZATION OF AL-JIHAD'S BASE OF OPERATIONS IN IRAQ; a.k.a. THE ORGANIZATION OF JIHAD'S BASE IN THE COUNTRY OF THE TWO RIVERS) [FTO] [SDGT]

THE ORGANIZATION OF JIHAD'S BASE IN THE COUNTRY OF THE TWO RIVERS (a.k.a. AL-QAIDA GROUP OF JIHAD IN IRAQ; a.k.a. AL-QAIDA GROUP OF JIHAD IN THE LAND OF THE TWO RIVERS; a.k.a. AL-QAIDA IN IRAQ; a.k.a. AL-QAIDA IN MESOPOTAMIA; a.k.a. AL-QAIDA IN THE LAND OF THE TWO RIVERS; a.k.a. AL-QAIDA OF JIHAD IN IRAQ; a.k.a. AL-QAIDA OF JIHAD ORGANIZATION IN THE LAND OF THE TWO RIVERS; a.k.a. AL-QAIDA OF THE JIHAD IN THE LAND OF THE TWO RIVERS; a.k.a. AL-TAWHID; a.k.a. AL-ZARQAWI NETWORK; a.k.a. JAM'AT AL TAWHID WA'AL-JIHAD; a.k.a. TANZEEM QA'IDAT AL JIHAD/BILAD AL RAAFIDAINI; a.k.a. TANZIM QA'IDAT AL-JIHAD FI BILAD AL-RAFIDAYN; a.k.a. THE MONOTHEISM AND JIHAD GROUP; a.k.a. THE ORGANIZATION BASE OF JIHAD/COUNTRY OF THE TWO RIVERS; a.k.a. THE ORGANIZATION BASE OF JIHAD/MESOPOTAMIA; a.k.a. THE ORGANIZATION OF AL-JIHAD'S BASE IN IRAQ; a.k.a. THE ORGANIZATION OF AL-JIHAD'S BASE IN THE LAND OF THE TWO RIVERS; a.k.a. THE ORGANIZATION OF AL-JIHAD'S BASE OF OPERATIONS IN IRAQ; a.k.a. THE ORGANIZATION OF AL-JIHAD'S BASE OF OPERATIONS IN THE LAND OF THE TWO RIVERS) [FTO] [SDGT]

THE PEOPLE'S DEFENSE FORCE (a.k.a. FREEDOM AND DEMOCRACY CONGRESS OF KURDISTAN; a.k.a. HALU MESRU SAVUNMA KUVVETI (HSK); a.k.a. KADEK; a.k.a. KONGRA-GEL; a.k.a. KURDISTAN FREEDOM AND DEMOCRACY CONGRESS; a.k.a. KURDISTAN PEOPLE'S CONGRESS (KHK); a.k.a. KURDISTAN WORKERS' PARTY; a.k.a. PARTIYA KARKERAN KURDISTAN; a.k.a. PEOPLE'S CONGRESS OF KURDISTAN; a.k.a. PKK) [FTO] [SDGT]

THE PEOPLE'S LIBERATION ARMY OF NEPAL (a.k.a. COMMUNIST PARTY OF NEPAL (MAOIST); a.k.a. CPN (M); a.k.a. UNITED REVOLUTIONARY PEOPLE'S COUNCIL) [SDGT]

THE QOMEMIYUT MOVEMENT (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

THE RABBI MEIR DAVID KAHANE MEMORIAL FUND (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE VOICE OF JUDEA; a.k.a. THE WAY OF THE TORAH; a.k.a. THE YESHIVA OF THE JEWISH IDEA; a.k.a. YESHIVAT HARAV MEIR) [FTO] [SDGT] [SDT]

THE RIYADUS-SALIKHIN RECONNAISSANCE AND SABOTAGE BATTALION OF CHECHEN MARTYRS (a.k.a. RIYADH-AS-SALIHEEN; a.k.a. RIYADUS-SALIKHIN RECONNAISSANCE AND SABOTAGE BATTALION; a.k.a. RIYADUS-SALIKHIN RECONNAISSANCE AND SABOTAGE BATTALION OF SHAHIDS (MARTYRS); a.k.a. THE SABOTAGE AND MILITARY SURVEILLANCE GROUP OF THE RIYADH AL-SALIHIN MARTYRS) [SDGT]

THE SABOTAGE AND MILITARY SURVEILLANCE GROUP OF THE RIYADH AL-SALIHIN MARTYRS (a.k.a. RIYADH-AS-SALIHEEN; a.k.a. RIYADUS-SALIKHIN RECONNAISSANCE AND SABOTAGE BATTALION; a.k.a. RIYADUS-SALIKHIN RECONNAISSANCE AND SABOTAGE BATTALION OF SHAHIDS (MARTYRS); a.k.a. THE RIYADUS-SALIKHIN RECONNAISSANCE AND SABOTAGE BATTALION OF CHECHEN MARTYRS) [SDGT]

THE SPECIAL PURPOSE ISLAMIC REGIMENT (a.k.a. ISLAMIC REGIMENT OF SPECIAL MEANING; a.k.a. THE AL-JIHAD-FISI-SABILILAH SPECIAL ISLAMIC REGIMENT; a.k.a. THE ISLAMIC SPECIAL PURPOSE REGIMENT) [SDGT]

THE VOICE OF JUDEA (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE WAY OF THE TORAH; a.k.a. THE YESHIVA OF THE JEWISH IDEA; a.k.a. YESHIVAT HARAV MEIR) [FTO] [SDGT] [SDT]

THE WAY OF THE TORAH (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE YESHIVA OF THE JEWISH IDEA; a.k.a. YESHIVAT HARAV MEIR) [FTO] [SDGT] [SDT]

THE WORLD ISLAMIC FRONT FOR JIHAD AGAINST JEWS AND CRUSADERS (a.k.a. AL QAEDA; a.k.a. AL QA'IDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY; a.k.a. ISLAMIC ARMY FOR THE LIBERATION OF HOLY SITES; a.k.a. ISLAMIC SALVATION FOUNDATION; a.k.a. NEW JIHAD; a.k.a. “THE BASE”; a.k.a. THE GROUP FOR THE PRESERVATION OF THE HOLY SITES; a.k.a. THE ISLAMIC ARMY FOR THE LIBERATION OF THE HOLY PLACES; a.k.a. THE JIHAD GROUP; a.k.a. USAMA BIN LADEN NETWORK; a.k.a. USAMA BIN LADEN ORGANIZATION) [FTO] [SDGT] [SDT]

THE YESHIVA OF THE JEWISH IDEA (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. YESHIVAT HARAV MEIR) [FTO] [SDGT] [SDT]

THICHAIYOT, Winai (a.k.a. PHITCHAIYOT, Winai; a.k.a. PHITCHAYOT, Winai; a.k.a. PICHAYOS, Vinai; a.k.a. PICHAYOS, Winai; a.k.a. PICHAYOT, Vinai; a.k.a. PITCHAYOS, Vinai; a.k.a. TICHYOS, Vinai), c/o BANGKOK ARTI-FLORA DESIGN LIMITED PARTNERSHIP, Bangkok, Thailand; c/o GREEN CAR RENT LIMITED PARTNERSHIP, Bangkok, Thailand; c/o HATKAEW COMPANY LTD., Bangkok, Thailand; c/o NICE FANTASY GARMENT COMPANY LTD., Bangkok, Thailand; c/o PROGRESS SURAWEE COMPANY LTD., Bangkok, Thailand; c/o RUNGRIN COMPANY LTD., Bangkok, Thailand; c/o SCORE COMMERCIAL COMPANY LTD., Bangkok, Thailand; DOB 1 Dec 1957; Passport K203350 (Thailand) (individual) [SDNTK]

THIRWAT, Salah Shihata (a.k.a. ABDALLAH, Tarwat Salah; a.k.a. SHIHATA, Thirwat Salah; a.k.a. THIRWAT, Shahata); DOB 29 JUN 60; POB Egypt (individual) [SDGT]

THIRWAT, Shahata (a.k.a. ABDALLAH, Tarwat Salah; a.k.a. SHIHATA, Thirwat Salah; a.k.a. THIRWAT, Salah Shihata); DOB 29 JUN 60; POB Egypt (individual) [SDGT]

THOB, Noordin Mohammad (a.k.a. MAT TOP, Noordin; a.k.a. TOP, Noor Din bin Mohamed; a.k.a. TOP, Noordin Mohamed; a.k.a. TOP, Nordin Mohd); DOB 11 Aug 1968; POB Malaysia; nationality Malaysia (individual) [SDGT]

THORIQUDDIN (a.k.a. ABU THORIQ; a.k.a. RUSDAN, Abu; a.k.a. RUSDJAN; a.k.a. RUSJAN; a.k.a. RUSYDAN; a.k.a. THORIQUIDDIN; a.k.a. THORIQUIDIN; a.k.a. TORIQUDDIN); DOB 16 Aug 1960; POB Kudus, Central Java, Indonesia (individual) [SDGT]

THORIQUIDDIN (a.k.a. ABU THORIQ; a.k.a. RUSDAN, Abu; a.k.a. RUSDJAN; a.k.a. RUSJAN; a.k.a. RUSYDAN; a.k.a. THORIQUDDIN; a.k.a. THORIQUIDIN; a.k.a. TORIQUDDIN); DOB 16 Aug 1960; POB Kudus, Central Java, Indonesia (individual) [SDGT]

THORIQUIDIN (a.k.a. ABU THORIQ; a.k.a. RUSDAN, Abu; a.k.a. RUSDJAN; a.k.a. RUSJAN; a.k.a. RUSYDAN; a.k.a. THORIQUDDIN; a.k.a. THORIQUIDDIN; a.k.a. TORIQUDDIN); DOB 16 Aug 1960; POB Kudus, Central Java, Indonesia (individual) [SDGT]

THOYIB, Ibnu (a.k.a. ANSHORI, Abdullah; a.k.a. TOYIB, Ibnu; a.k.a. “ABU FATHI”; a.k.a. “ABU FATIH”); DOB 1958; POB Pacitan, East Java, Indonesia; nationality Indonesia (individual) [SDGT]

TICHYOS, Vinai (a.k.a. PHITCHAIYOT, Winai; a.k.a. PHITCHAYOT, Winai; a.k.a. PICHAYOS, Vinai; a.k.a. PICHAYOS, Winai; a.k.a. PICHAYOT, Vinai; a.k.a. PITCHAYOS, Vinai; a.k.a. THICHAIYOT, Winai), c/o BANGKOK ARTI-FLORA DESIGN LIMITED PARTNERSHIP, Bangkok, Thailand; c/o GREEN CAR RENT LIMITED PARTNERSHIP, Bangkok, Thailand; c/o HATKAEW COMPANY LTD., Bangkok, Thailand; c/o NICE FANTASY GARMENT COMPANY LTD., Bangkok, Thailand; c/o PROGRESS SURAWEE COMPANY LTD., Bangkok, Thailand; c/o RUNGRIN COMPANY LTD., Bangkok, Thailand; c/o SCORE COMMERCIAL COMPANY LTD., Bangkok, Thailand; DOB 1 Dec 1957; Passport K203350 (Thailand) (individual) [SDNTK]

TIGRIS TRADING, INC., 2 Stratford Place, London W1N 9AE, United Kingdom; 5903 Harper Road, Solon [IRAQ2]

TIJUANA CARTEL (a.k.a. AFO; a.k.a. ARELLANO FELIX ORGANIZATION), Mexico [SDNTK]

TILFAH, Sajida Khayrallah; DOB 1937; POB Al-Awja, near Tikrit, Iraq; nationality Iraq; wife of Saddam Hussein al-Tikriti (individual) [IRAQ2]

TITOS BOLO CLUB, Carrera 51B No. 94-110, Barranquilla, Colombia; NIT # 890108148-6 (Colombia) [SDNT]

TLILI, Lazhar Ben Mohammed, Via Carlo Porta n.97, Legnano, Italy; DOB 26 Mar 1969; POB Tunis, Tunisia; Italian Fiscal Code TLLLHR69C26Z352G (individual) [SDGT]

TOBOGON, Avenida Guadalupe con Avenida Simon Bolivar, Cali, Colombia [SDNT]

TODOBOLSAS Y COLSOBRES (f.k.a. RODRIGUEZ CARRENO LTDA. TODO BOLSAS Y COLSOBRES), Carrera 20 No. 66-34, Bogota, Colombia; NIT # 860053774-1 (Colombia) [SDNT]

TODOROVIC, Stevan; DOB 29 Dec 1957; POB Donja Slatina, Bosnia-Herzegovina; ICTY indictee (individual) [BALKANS]

TODOVIC, Savo; DOB 11 Dec 1952; POB Rijeka, Bosnia-Herzegovina; ICTY indictee (individual) [BALKANS]

TOLEDO CARREJO, Luis Raul, Calle De Los Olivos 10549, Colonia Jardines de Chapultepec, Tijuana, Baja California, Mexico; Ave. Xavier Villaurrutia 9950, Colonia Zona Urbana Rio, Tijuana, Baja California, Mexico; Ave. Queretaro 2984, Colonia Francisco I. Madero, Tijuana, Baja California, Mexico; c/o Farmacia Vida Suprema, S.A. DE C.V., Tijuana, Baja California, Mexico; c/o Administradora De Imuebles Vida, S.A. DE C.V., Tijuana, Baja California, Mexico; c/o Distribuidora Imperial De Baja California, S.A. de C.V., Tijuana, Baja California, Mexico; DOB 30 Jan 1959; POB Guadalajara, Jalisco, Mexico (individual) [SDNTK]

TOLEDO, R.F., 20 Ironmonger Lane, London EC2V 8EF, United Kingdom; Managing Director, Havana International Bank (individual) [CUBA]

TONCEL REDONDO, Milton De Jesus (a.k.a. “EL NEGRO”; a.k.a. “JOAQUIN GOMEZ”; a.k.a. “ORO CHURCO”; a.k.a. “USURRIAGA”); DOB 18 Mar 1947; alt. DOB Feb 1949; POB Barrancas, La Guajira, Colombia; alt. POB Ubita, Boyaca, Colombia; Cedula No. 15237742 (Colombia); alt. Cedula No. 70753211 (Colombia) (individual) [SDNTK]

TOP, Noor Din bin Mohamed (a.k.a. MAT TOP, Noordin; a.k.a. THOB, Noordin Mohammad; a.k.a. TOP, Noordin Mohamed; a.k.a. TOP, Nordin Mohd); DOB 11 Aug 1968; POB Malaysia; nationality Malaysia (individual) [SDGT]

TOP, Noordin Mohamed (a.k.a. MAT TOP, Noordin; a.k.a. THOB, Noordin Mohammad; a.k.a. TOP, Noor Din bin Mohamed; a.k.a. TOP, Nordin Mohd); DOB 11 Aug 1968; POB Malaysia; nationality Malaysia (individual) [SDGT]

TOP, Nordin Mohd (a.k.a. MAT TOP, Noordin; a.k.a. THOB, Noordin Mohammad; a.k.a. TOP, Noor Din bin Mohamed; a.k.a. TOP, Noordin Mohamed); DOB 11 Aug 1968; POB Malaysia; nationality Malaysia (individual) [SDGT]

TOPEL (a.k.a. ABDUL MARTIN; a.k.a. ABDUL MATIN; a.k.a. AMAR UMAR; a.k.a. AMAR USMAN; a.k.a. ANAR USMAN; a.k.a. DJOKO SUPRIYANTO; a.k.a. DUL MATIN; a.k.a. DULMATIN; a.k.a. JAK IMRON; a.k.a. MUKTAMAR; a.k.a. NOVARIANTO; a.k.a. PINTONO, Joko; a.k.a. PITONO, Joko; a.k.a. PITOYO, Joko); DOB 16 Jun 1970; alt. DOB 6 Jun 1970; POB Petarukan village, Pemalang, Central Java, Indonesia; nationality Indonesia (individual) [SDGT]

TORIQUDDIN (a.k.a. ABU THORIQ; a.k.a. RUSDAN, Abu; a.k.a. RUSDJAN; a.k.a. RUSJAN; a.k.a. RUSYDAN; a.k.a. THORIQUDDIN; a.k.a. THORIQUIDDIN; a.k.a. THORIQUIDIN); DOB 16 Aug 1960; POB Kudus, Central Java, Indonesia (individual) [SDGT]

TORRES CORTES, Joselin, c/o AUREAL INMOBILIARIA LTDA., Bogota, Colombia; DOB 26 Jul 1957; Cedula No. 19482747 (Colombia) (individual) [SDNT]

TORRES LOZANO, Isolina, c/o LABORATORIOS BLAIMAR DE COLOMBIA S.A., Bogota, Colombia; c/o COSMEPOP, Bogota, Colombia; DOB 11 Mar 1963; Cedula No. 28796392 (Colombia) (individual) [SDNT]

TORRES MENDEZ, Ramon (a.k.a. ARELLANO FELIX, Ramon Eduardo; a.k.a. COMACHO RODRIGUES, Gilberto); DOB 31 AUG 64; POB Mexico (individual) [SDNTK]

TORRES MORENO, Marisol, c/o PROVIDA E.U., Cali, Colombia; DOB 10 May 1969; Cedula No. 31992583 (Colombia); Passport 31992583 (Colombia) (individual) [SDNT]

TORRES REINA, Oscar Javier, c/o COOPCREAR, Bogota, Colombia; c/o COOPERATIVA DE TRABAJO ASOCIADO ACTIVAR, Bogota, Colombia; c/o COOPERATIVA MULTIACTIVA DE COLOMBIA FOMENTAMOS, Bogota, Colombia; DOB 2 Jan 1978; Cedula No. 79886044 (Colombia); Passport 79886044 (Colombia) (individual) [SDNT]

TORRES VICTORIA, Jorge (a.k.a. “PABLO CATATUMBO”); DOB 19 Mar 1953; POB Cali, Valle, Colombia; Cedula No. 14990220 (Colombia) (individual) [SDNTK]

TORRES, Manuel, Federico Boyd Avenue & 51 Street, Panama City, Panama; Representative, Banco Nacional de Cuba (individual) [CUBA]

TOSCO GARCIA, Arnaldo, Panama (individual) [CUBA]

TOSONG TECHNOLOGY TRADING CORPORATION, Pyongyang, Korea, North [NPWMD]

TOUR & MARKETING INTERNATIONAL LTD. (a.k.a. GO CUBA PLUS; a.k.a. T&M INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

TOURISM AND HOTELS CORPORATION, P.O. Box 7104, Khartoum, Sudan; Ed Damer, Sudan; El Fasher, Sudan; Khartoum Airport, Sudan; Port Sudan, Sudan [SUDAN]

TOYIB, Ibnu (a.k.a. ANSHORI, Abdullah; a.k.a. THOYIB, Ibnu; a.k.a. “ABU FATHI”; a.k.a. “ABU FATIH”); DOB 1958; POB Pacitan, East Java, Indonesia; nationality Indonesia (individual) [SDGT]

TRABELSI, Chabaane Ben Mohamed, via Cuasso, n. 2, Porto Ceresio, Varese, Italy; DOB 1 May 1966; POB Rainneen, Tunisia; nationality Tunisia; Italian Fiscal Code TRBCBN66E01Z352O; Passport L 945660 issued 4 Dec 1998 expires 3 Dec 2001 (individual) [SDGT]

TRABELSI, Mourad (a.k.a. ABOU DJARRAH; a.k.a. AL-TRABELSI, Mourad Ben Ali Ben Al-Basheer), Via Geromini 15, Cremona, Italy; DOB 20 May 1969; POB Menzel Temime, Tunisia; nationality Tunisia; Passport G 827238 issued 1 Jun 1996 expires 31 May 2001; arrested 1 Apr 2003 (individual) [SDGT]

TRADACO S.A. (a.k.a. JARACO S.A.; a.k.a. SOKTAR), 45 Route de Frontenex, CH-1207 Geneva, Switzerland [IRAQ2]

TRADING & MARITIME INVESTMENTS, San Lorenzo, Honduras [IRAQ2]

TRADING AND TRANSPORT SERVICES COMPANY, LTD., Al-Razi Medical Complex, Jabal Al-Hussein, Amman, Jordan; P.O. Box 212953, Amman 11121, Jordan; P.O. Box 910606, Amman 11191, Jordan [IRAQ2]

TRAMP PIONEER SHIPPING CO., Panama, c/o Anglo Caribbean Shipping Co., Ltd., 4th Floor, South Phase 2, South Quay Plaza, 183 Mars, London E14 9SH, United Kingdom [CUBA]

TRANS AVIATION (a.k.a. NV TRANS AVIATION NETWORK GROUP; a.k.a. TAN GROUP; a.k.a. TRANSAVIA NETWORK; a.k.a. TRANSAVIA TRAVEL AGENCY; a.k.a. TRANSAVIA TRAVEL CARGO), 1304 Boorj Building, Bank Street, Sharjah, United Arab Emirates; P.O. Box 3962, Sharjah, United Arab Emirates; P.O. Box 2190, Ajman, United Arab Emirates; Ostende Airport, Belgium [LIBERIA]

TRANS AVIATION GLOBAL GROUP INC., 811 S. Central Expwy, Ste 210, Richardson, TX 75080 [LIBERIA]

TRANS PACIFIC WORLD LEASING LIMITED, First Floor International Building, Kumul Highway, Port Vila, Vanuatu; P.O. Box 213, Port Vila, Vanuatu [SDNT]

TRANSAVIA NETWORK (a.k.a. NV TRANS AVIATION NETWORK GROUP; a.k.a. TAN GROUP; a.k.a. TRANS AVIATION; a.k.a. TRANSAVIA TRAVEL AGENCY; a.k.a. TRANSAVIA TRAVEL CARGO), 1304 Boorj Building, Bank Street, Sharjah, United Arab Emirates; P.O. Box 3962, Sharjah, United Arab Emirates; P.O. Box 2190, Ajman, United Arab Emirates; Ostende Airport, Belgium [LIBERIA]

TRANSAVIA TRAVEL AGENCY (a.k.a. NV TRANS AVIATION NETWORK GROUP; a.k.a. TAN GROUP; a.k.a. TRANS AVIATION; a.k.a. TRANSAVIA NETWORK; a.k.a. TRANSAVIA TRAVEL CARGO), 1304 Boorj Building, Bank Street, Sharjah, United Arab Emirates; P.O. Box 3962, Sharjah, United Arab Emirates; P.O. Box 2190, Ajman, United Arab Emirates; Ostende Airport, Belgium [LIBERIA]

TRANSAVIA TRAVEL CARGO (a.k.a. NV TRANS AVIATION NETWORK GROUP; a.k.a. TAN GROUP; a.k.a. TRANS AVIATION; a.k.a. TRANSAVIA NETWORK; a.k.a. TRANSAVIA TRAVEL AGENCY), 1304 Boorj Building, Bank Street, Sharjah, United Arab Emirates; P.O. Box 3962, Sharjah, United Arab Emirates; P.O. Box 2190, Ajman, United Arab Emirates; Ostende Airport, Belgium [LIBERIA]

TRANSIT, S.A., Panama [CUBA]

TRANSOVER, S.A. (a.k.a. HAVINPEX, S.A.), Panama City, Panama [CUBA]

TRANSPORTES DEL ESPIRITU SANTO S.A., Salida a la Victoria, La Union, Valle, Colombia; Calle 14 No. 4-123, La Union, Valle, Colombia; NIT # 821002436-5 (Colombia) [SDNT]

TRANSPORTING, LLC, 6555 NW 36th Street, Suite 304, Virginia Gardens, FL 33166; 9443 Fontainebleau Boulevard, No. 114, Miami, FL 33172; Business Registration Document # L00000012836 (United States); U.S. FEIN 65-1048798 [BPI-SDNT]

TRAVEL SERVICES, INC., Hialeah, FL [CUBA]

TREJOS AGUILAR, Melba, Calle 25 No. 35-66, Tulua, Valle, Colombia; Cedula No. 29991503 (Colombia) (individual) [SDNT]

TREJOS AGUILAR, Sonia, Carrera 8 No. 6-37, Zarzal, Valle del Cauca, Colombia; Cali, Colombia; c/o AGROINVERSORA URDINOLA HENAO Y CIA. S.C.S., Cali, Colombia; c/o EXPLOTACIONES AGRICOLAS Y GANADERAS LA LORENA S.C.S., Cali, Colombia; c/o INDUSTRIAS AGROPECUARIAS DEL VALLE LTDA., Cali, Colombia; c/o INVERSIONES EL EDEN S.C.S., Cali, Colombia; Cedula No. 66675927 (Colombia) (individual) [SDNT]

TREJOS MARQUEZ, Arnulfo, Carrera 4 No. 9-17 of. 308, AA 38028, Cali, Colombia; c/o CONSTRUCTORA TREMI LTDA., Cali, Colombia; DOB 5 Sep 1947; Cedula No. 6090595 (Colombia) (individual) [SDNT]

TREVISO TRADING CORPORATION, Edificio Banco de Boston, Panama City, Panama [CUBA]

TRIANA TEJADA, Luis Humberto, c/o COMERCIALIZADORA DE CARNES DEL PACIFICO LTDA., Cali, Colombia; DOB 27 Jul 1943; Cedula No. 4916206 (Colombia) (individual) [SDNT]

TRIMARK LTDA., Calle 69 No. 10A-53 of. 505, Bogota, Colombia; Carrera 31 No. 23A-68, Bogota, Colombia; NIT # 830117977-5 (Colombia) [SDNT]

TRINIDAD LTDA. Y CIA. S.C.S., Carrera 43 No. 4-47, Buenaventura, Colombia; NIT # 800009737-2 (Colombia) [SDNT]

TRISTAN GIL, Luz Maria (a.k.a. TRISTAN GIL, Luz Mery), Carrera 122 No. 20-02, Cali, Colombia; Calle 16 No. 15-30, Cali, Colombia; Calle 5B 4 No. 37-125, Cali, Colombia; c/o CREDISA S.A., Cali, Colombia; c/o LUZ MERY TRISTAN E.U., Cali, Colombia; DOB 01 Apr 1963; POB Cali, Valle, Colombia; Cedula No. 31895852 (Colombia); Passport 31895852 (Colombia) (individual) [SDNT]

TRISTAN GIL, Luz Mery (a.k.a. TRISTAN GIL, Luz Maria), Carrera 122 No. 20-02, Cali, Colombia; Calle 16 No. 15-30, Cali, Colombia; Calle 5B 4 No. 37-125, Cali, Colombia; c/o CREDISA S.A., Cali, Colombia; c/o LUZ MERY TRISTAN E.U., Cali, Colombia; DOB 01 Apr 1963; POB Cali, Valle, Colombia; Cedula No. 31895852 (Colombia); Passport 31895852 (Colombia) (individual) [SDNT]

TRIVINO RODRIGUEZ, Elsa Yaneth, c/o INTERCONTINENTAL DE AVIACION S.A., Bogota, Colombia; c/o AEROCOMERCIAL ALAS DE COLOMBIA LTDA., Bogota, Colombia; c/o ASOCIACION TURISTICA INTERNACIONAL S.C.S., Bogota, Colombia; c/o INTERCONTINENTAL DE FINANCIACION AEREA S.A., Bogota, Colombia; c/o CIA CONSTRUCTORA Y COMERCIALIZADORA DEL SUR LTDA., Bogota, Colombia; c/o GREEN ISLAND S.A., Bogota, Colombia; Cedula No. 20484603 (Colombia) (individual) [SDNT]

TROBER, S.A. (a.k.a. TROVER, S.A.), Edificio Saldivar, Panama City, Panama [CUBA]

TROPIC TOURS GMBH (a.k.a. TROPICANA TOURS GMBH), Lietzenburger Strasse 51, Berlin, Germany [CUBA]

TROPICANA TOURS GMBH (a.k.a. TROPIC TOURS GMBH), Lietzenburger Strasse 51, Berlin, Germany [CUBA]

TROVER, S.A. (a.k.a. TROBER, S.A.), Edificio Saldivar, Panama City, Panama [CUBA]

TRUJILLO CAICEDO, Francisco Javiar 'Pacho', Calle 13C No. 75-95 piso 2, Cali, Colombia; Calle 8 Oeste No. 24C-75 apt. 1501, Cali, Colombia; c/o COLOR 89.5 FM STEREO, Cali, Colombia; Carrera 76A No. 6-34 apt. 107, Cali, Colombia; DOB 23 Nov 1960; Cedula No. 16264395 (Colombia) (individual) [SDNT]

TRUJILLO, Maria Fernanda, c/o CAJA SOLIDARIA, Bogota, Colombia; c/o COPSERVIR LTDA., Bogota, Colombia; c/o MEGAPHARMA LTDA., Bogota, Colombia; Cedula No. 36184410 (Colombia) (individual) [SDNT]

TRUST IMPORT-EXPORT, S.A., Panama [CUBA]

TUFAIL, Mohammed (a.k.a. TUFAIL, S.M.; a.k.a. TUFAIL, Sheik Mohammed); DOB 5 May 1930; nationality Pakistan (individual) [SDGT]

TUFAIL, S.M. (a.k.a. TUFAIL, Mohammed; a.k.a. TUFAIL, Sheik Mohammed); DOB 5 May 1930; nationality Pakistan (individual) [SDGT]

TUFAIL, Sheik Mohammed (a.k.a. TUFAIL, Mohammed; a.k.a. TUFAIL, S.M.); DOB 5 May 1930; nationality Pakistan (individual) [SDGT]

TUFAYLI, Subhi; DOB 1947; POB Biqa Valley, Lebanon; Former Secretary General and Current Senior Figure of HIZBALLAH (individual) [SDT]

TUITO, Daniel (a.k.a. MAMO, Eliyahu; a.k.a. REVIVO, Simon; a.k.a. TUITO, David; a.k.a. TUITO, Oded; a.k.a. TVITO, Daniel; a.k.a. TVITO, Oded); DOB 27 December 1959; alt. DOB 29 November 1959; alt. DOB 27 February 1959; alt. DOB 12 December 1959; alt. DOB 25 July 1961; POB Israel (individual) [SDNTK]

TUITO, David (a.k.a. MAMO, Eliyahu; a.k.a. REVIVO, Simon; a.k.a. TUITO, Daniel; a.k.a. TUITO, Oded; a.k.a. TVITO, Daniel; a.k.a. TVITO, Oded); DOB 27 December 1959; alt. DOB 29 November 1959; alt. DOB 27 February 1959; alt. DOB 12 December 1959; alt. DOB 25 July 1961; POB Israel (individual) [SDNTK]

TUITO, Oded (a.k.a. MAMO, Eliyahu; a.k.a. REVIVO, Simon; a.k.a. TUITO, Daniel; a.k.a. TUITO, David; a.k.a. TVITO, Daniel; a.k.a. TVITO, Oded); DOB 27 December 1959; alt. DOB 29 November 1959; alt. DOB 27 February 1959; alt. DOB 12 December 1959; alt. DOB 25 July 1961; POB Israel (individual) [SDNTK]

TUNGAMIRAI, Josiah; DOB 8 Oct 1948; Former Minister of State for Indigenization and Empowerment; Deceased (individual) [ZIMBABWE]

TUNISIAN COMBAT GROUP (a.k.a. GCT; a.k.a. GROUPE COMBATTANT TUNISIEN; a.k.a. JAMA'A COMBATTANTE TUNISIEN; a.k.a. JCT; a.k.a. TUNISIAN COMBATANT GROUP) [SDGT]

TUNISIAN COMBATANT GROUP (a.k.a. GCT; a.k.a. GROUPE COMBATTANT TUNISIEN; a.k.a. JAMA'A COMBATTANTE TUNISIEN; a.k.a. JCT; a.k.a. TUNISIAN COMBAT GROUP) [SDGT]

TVITO, Daniel (a.k.a. MAMO, Eliyahu; a.k.a. REVIVO, Simon; a.k.a. TUITO, Daniel; a.k.a. TUITO, David; a.k.a. TUITO, Oded; a.k.a. TVITO, Oded); DOB 27 December 1959; alt. DOB 29 November 1959; alt. DOB 27 February 1959; alt. DOB 12 December 1959; alt. DOB 25 July 1961; POB Israel (individual) [SDNTK]

TVITO, Oded (a.k.a. MAMO, Eliyahu; a.k.a. REVIVO, Simon; a.k.a. TUITO, Daniel; a.k.a. TUITO, David; a.k.a. TUITO, Oded; a.k.a. TVITO, Daniel); DOB 27 December 1959; alt. DOB 29 November 1959; alt. DOB 27 February 1959; alt. DOB 12 December 1959; alt. DOB 25 July 1961; POB Israel (individual) [SDNTK]

U.I. INTERNATIONAL, United Kingdom [IRAQ2]

UCK (a.k.a. NATIONAL LIBERATION ARMY; a.k.a. NLA) [BALKANS]

UCPMB (a.k.a. LIBERATION ARMY OF PRESEVO, MEDVEDJA, AND BUJANOVAC) [BALKANS]

UDOMDECH, Ronnayuth (a.k.a. UDOMDET, Ronnayut), c/o SIAM NICE COMPANY LTD., Bangkok, Thailand; DOB 17 Jun 1967 (individual) [SDNTK]

UDOMDET, Ronnayut (a.k.a. UDOMDECH, Ronnayuth), c/o SIAM NICE COMPANY LTD., Bangkok, Thailand; DOB 17 Jun 1967 (individual) [SDNTK]

UKSHINI, Sami (a.k.a. UKSINI, Sami); DOB 5 Mar 1963; POB Gjakova, Serbia and Montenegro (individual) [BALKANS]

UKSINI, Sami (a.k.a. UKSHINI, Sami); DOB 5 Mar 1963; POB Gjakova, Serbia and Montenegro (individual) [BALKANS]

UL-HAQ, Dr. Amin (a.k.a. AH HAQ, Dr. Amin; a.k.a. AL-HAQ, Amin; a.k.a. AMIN, Muhammad); DOB 1960; POB Nangahar Province, Afghanistan (individual) [SDGT]

ULSTER DEFENCE ASSOCIATION (a.k.a. ULSTER FREEDOM FIGHTERS), United Kingdom [SDGT]

ULSTER FREEDOM FIGHTERS (a.k.a. ULSTER DEFENCE ASSOCIATION), United Kingdom [SDGT]

ULVA FARM, Marondera, Zimbabwe [ZIMBABWE]

UMAR, Abu Umar (a.k.a. ABU ISMAIL; a.k.a. ABU UMAR, Abu Omar; a.k.a. AL-FILISTINI, Abu Qatada; a.k.a. TAKFIRI, Abu Umr; a.k.a. UTHMAN, Al-Samman; a.k.a. UTHMAN, Omar Mahmoud; a.k.a. UTHMAN, Umar), London, United Kingdom; DOB 30 Dec 1960; alt. DOB 13 Dec 1960 (individual) [SDGT]

UMAR, Madhat Mursi Al-Sayyid; DOB 19 Oct 1953; POB Alexandria, Egypt; nationality Egypt (individual) [SDGT]

UMGUZA BLOCK FARM, Umguza, Zimbabwe [ZIMBABWE]

UMMAH TAMEER E-NAU (UTN) (a.k.a. FOUNDATION FOR CONSTRUCTION; a.k.a. NATION BUILDING; a.k.a. RECONSTRUCTION FOUNDATION; a.k.a. RECONSTRUCTION OF THE ISLAMIC COMMUNITY; a.k.a. RECONSTRUCTION OF THE MUSLIM UMMAH; a.k.a. UMMAH TAMEER I-NAU; a.k.a. UMMAH TAMIR E-NAU; a.k.a. UMMAH TAMIR I-NAU; a.k.a. UMMAT TAMIR E-NAU; a.k.a. UMMAT TAMIR-I-PAU), Street 13, Wazir Akbar Khan, Kabul, Afghanistan; 60-C, Nazim Ud Din Road, Islamabad F 8/4, Pakistan [SDGT]

UMMAH TAMEER I-NAU (a.k.a. FOUNDATION FOR CONSTRUCTION; a.k.a. NATION BUILDING; a.k.a. RECONSTRUCTION FOUNDATION; a.k.a. RECONSTRUCTION OF THE ISLAMIC COMMUNITY; a.k.a. RECONSTRUCTION OF THE MUSLIM UMMAH; a.k.a. UMMAH TAMEER E-NAU (UTN); a.k.a. UMMAH TAMIR E-NAU; a.k.a. UMMAH TAMIR I-NAU; a.k.a. UMMAT TAMIR E-NAU; a.k.a. UMMAT TAMIR-I-PAU), Street 13, Wazir Akbar Khan, Kabul, Afghanistan; 60-C, Nazim Ud Din Road, Islamabad F 8/4, Pakistan [SDGT]

UMMAH TAMIR E-NAU (a.k.a. FOUNDATION FOR CONSTRUCTION; a.k.a. NATION BUILDING; a.k.a. RECONSTRUCTION FOUNDATION; a.k.a. RECONSTRUCTION OF THE ISLAMIC COMMUNITY; a.k.a. RECONSTRUCTION OF THE MUSLIM UMMAH; a.k.a. UMMAH TAMEER E-NAU (UTN); a.k.a. UMMAH TAMEER I-NAU; a.k.a. UMMAH TAMIR I-NAU; a.k.a. UMMAT TAMIR E-NAU; a.k.a. UMMAT TAMIR-I-PAU), Street 13, Wazir Akbar Khan, Kabul, Afghanistan; 60-C, Nazim Ud Din Road, Islamabad F 8/4, Pakistan [SDGT]

UMMAH TAMIR I-NAU (a.k.a. FOUNDATION FOR CONSTRUCTION; a.k.a. NATION BUILDING; a.k.a. RECONSTRUCTION FOUNDATION; a.k.a. RECONSTRUCTION OF THE ISLAMIC COMMUNITY; a.k.a. RECONSTRUCTION OF THE MUSLIM UMMAH; a.k.a. UMMAH TAMEER E-NAU (UTN); a.k.a. UMMAH TAMEER I-NAU; a.k.a. UMMAH TAMIR E-NAU; a.k.a. UMMAT TAMIR E-NAU; a.k.a. UMMAT TAMIR-I-PAU), Street 13, Wazir Akbar Khan, Kabul, Afghanistan; 60-C, Nazim Ud Din Road, Islamabad F 8/4, Pakistan [SDGT]

UMMAT TAMIR E-NAU (a.k.a. FOUNDATION FOR CONSTRUCTION; a.k.a. NATION BUILDING; a.k.a. RECONSTRUCTION FOUNDATION; a.k.a. RECONSTRUCTION OF THE ISLAMIC COMMUNITY; a.k.a. RECONSTRUCTION OF THE MUSLIM UMMAH; a.k.a. UMMAH TAMEER E-NAU (UTN); a.k.a. UMMAH TAMEER I-NAU; a.k.a. UMMAH TAMIR E-NAU; a.k.a. UMMAH TAMIR I-NAU; a.k.a. UMMAT TAMIR-I-PAU), Street 13, Wazir Akbar Khan, Kabul, Afghanistan; 60-C, Nazim Ud Din Road, Islamabad F 8/4, Pakistan [SDGT]

UMMAT TAMIR-I-PAU (a.k.a. FOUNDATION FOR CONSTRUCTION; a.k.a. NATION BUILDING; a.k.a. RECONSTRUCTION FOUNDATION; a.k.a. RECONSTRUCTION OF THE ISLAMIC COMMUNITY; a.k.a. RECONSTRUCTION OF THE MUSLIM UMMAH; a.k.a. UMMAH TAMEER E-NAU (UTN); a.k.a. UMMAH TAMEER I-NAU; a.k.a. UMMAH TAMIR E-NAU; a.k.a. UMMAH TAMIR I-NAU; a.k.a. UMMAT TAMIR E-NAU), Street 13, Wazir Akbar Khan, Kabul, Afghanistan; 60-C, Nazim Ud Din Road, Islamabad F 8/4, Pakistan [SDGT]

UNIDAS S.A., Avenida 7 Norte No. 23N-81, Cali, Colombia; Avenida 7 Norte No. 23-74, Cali, Colombia; NIT # 800080688-0 (Colombia) [SDNT]

UNIPAPEL S.A. (f.k.a. UNIPAPEL S.A. BOLSAS DE PAPEL PAPELES SOBRES), Calle 15 No. 26-400 Urbanizacion Industrial Acopi, Yumbo, Colombia; Autopista Cali-Yumbo, No. 26-400, Cali, Colombia; Carrera 122 no. 20-02, Cali, Colombia; Carrera 66 No. 7-31, Bogota, Colombia; Carrera 52 No. 35-42, Medellin, Colombia; Carrera 49B No. 75-109 Ofc. 202, Barranquilla, Colombia; NIT # 890301701-6 (Colombia) [SDNT]

UNIPAPEL S.A. BOLSAS DE PAPEL PAPELES SOBRES (a.k.a. UNIPAPEL S.A.), Calle 15 No. 26-400 Urbanizacion Industrial Acopi, Yumbo, Colombia; Autopista Cali-Yumbo, No. 26-400, Cali, Colombia; Carrera 122 no. 20-02, Cali, Colombia; Carrera 66 No. 7-31, Bogota, Colombia; Carrera 52 No. 35-42, Medellin, Colombia; Carrera 49B No. 75-109 Ofc. 202, Barranquilla, Colombia; NIT # 890301701-6 (Colombia) [SDNT]

UNITED FAIR AGENCIES, 1202 Carrian Center, 151 Gloucester Road, Wanchai, Hong Kong [CUBA]

UNITED REVOLUTIONARY PEOPLE'S COUNCIL (a.k.a. COMMUNIST PARTY OF NEPAL (MAOIST); a.k.a. CPN (M); a.k.a. THE PEOPLE'S LIBERATION ARMY OF NEPAL) [SDGT]

UNITED SELF-DEFENSE FORCES OF COLOMBIA (a.k.a. AUC; a.k.a. AUTODEFENSAS UNIDAS DE COLOMBIA) [FTO] [SDGT] [SDNTK]

UNITED WA STATE ARMY (a.k.a. UNITED WA STATE PARTY; a.k.a. UWSA; a.k.a. UWSP) [SDNTK]

UNITED WA STATE PARTY (a.k.a. UNITED WA STATE ARMY; a.k.a. UWSA; a.k.a. UWSP) [SDNTK]

UNITY BANK, Bariman Avenue, P.O. Box 408, Khartoum, Sudan; Now part of BANK OF KHARTOUM GROUP [SUDAN]

URANGA ARTOLA, Kemen; DOB 25 May 1969; POB Ondarroa, Vizcaya Province, Spain; D.N.I. 30.627.290 (Spain); Member ETA (individual) [SDGT]

URBANIZACIONES Y CONSTRUCCIONES LTDA. (a.k.a. URBANIZACIONES Y CONSTRUCCIONES LTDA. DE CALI), Carrera 4 No. 12-41 of. 1403, Cali, Colombia; NIT # 890306569-2 (Colombia) [SDNT]

URBANIZACIONES Y CONSTRUCCIONES LTDA. DE CALI (f.k.a. URBANIZACIONES Y CONSTRUCCIONES LTDA.), Carrera 4 No. 12-41 of. 1403, Cali, Colombia; NIT # 890306569-2 (Colombia) [SDNT]

URBANIZADORA ALTAVISTA INTERNACIONAL S.A. (f.k.a. TELNET S.A.; a.k.a. URBAVISTA), Calle 77 B No. 57-141, Ofc. 917, Barranquilla, Colombia; NIT # 802014697-3 (Colombia) [SDNT]

URBAVISTA (f.k.a. TELNET S.A.; a.k.a. URBANIZADORA ALTAVISTA INTERNACIONAL S.A.), Calle 77 B No. 57-141, Ofc. 917, Barranquilla, Colombia; NIT # 802014697-3 (Colombia) [SDNT]

URDINOLA BETANCOURT, Maritza, c/o CAJA SOLIDARIA, Bogota, Colombia; c/o COPSERVIR LTDA., Bogota, Colombia; DOB 16 Nov 1962; Cedula No. 31893467 (Colombia); Passport 31893467 (Colombia) (individual) [SDNT]

URDINOLA GRAJALES, Ivan (a.k.a. URDINOLA GRAJALES, Jairo Ivan), Calle 52 No. 28E-30, Cali, Colombia; Hacienda La Lorena, Zarzal, Valle del Cauca, Colombia; c/o AGROINVERSORA URDINOLA HENAO Y CIA. S.C.S., Cali, Colombia; c/o CONSTRUCTORA UNIVERSAL LTDA., Cali, Colombia; c/o EXPLOTACIONES AGRICOLAS Y GANADERAS LA LORENA S.C.S., Cali, Colombia; c/o INDUSTRIAS AGROPECUARIAS DEL VALLE LTDA., Cali, Colombia; c/o INVERSIONES EL EDEN S.C.S., Cali, Colombia; DOB 1 Dec 60; Cedula No. 94190353 (Colombia); Passport AD129003 (Colombia) (individual) [SDNT]

URDINOLA GRAJALES, Jairo Ivan (a.k.a. URDINOLA GRAJALES, Ivan), Calle 52 No. 28E-30, Cali, Colombia; Hacienda La Lorena, Zarzal, Valle del Cauca, Colombia; c/o AGROINVERSORA URDINOLA HENAO Y CIA. S.C.S., Cali, Colombia; c/o CONSTRUCTORA UNIVERSAL LTDA., Cali, Colombia; c/o EXPLOTACIONES AGRICOLAS Y GANADERAS LA LORENA S.C.S., Cali, Colombia; c/o INDUSTRIAS AGROPECUARIAS DEL VALLE LTDA., Cali, Colombia; c/o INVERSIONES EL EDEN S.C.S., Cali, Colombia; DOB 1 Dec 60; Cedula No. 94190353 (Colombia); Passport AD129003 (Colombia) (individual) [SDNT]

URDINOLA GRAJALES, Julio Fabio, Carrera 40 No. 5A-40, Cali, Colombia; c/o CONSTRUCTORA E INMOBILIARIA URVALLE CIA. LTDA., Cali, Colombia; Cedula No. 16801454 (Colombia) (individual) [SDNT]

UREY, Benoni; DOB 22 JUN 1957; Passport D-00148399 (Liberia); Former Commissioner of Maritime Affairs OF Liberia; Diplomatic (individual) [LIBERIA]

URIBE CADAVID, Juan Guillermo, c/o REPRESENTACIONES ZATZA LTDA., Cali, Colombia; Cedula No. 16628855 (Colombia) (individual) [SDNT]

URIBE GONZALEZ, Jose Abelardo, c/o CONSULTORIA EMPRESARIAL ESPECIALIZADA LTDA., Cali, Colombia; c/o SERVICIOS INMOBILIARIAS LTDA., Cali, Colombia; c/o INMOBILIARIA U.M.V. S.A., Cali, Colombia; c/o COMERCIALIZADORA INTERNACIONAL VALLE DE ORO S.A., Cali, Colombia; Cedula No. 16647906 (Colombia) (individual) [SDNT]

USAMA BIN LADEN NETWORK (a.k.a. AL QAEDA; a.k.a. AL QA'IDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY; a.k.a. ISLAMIC ARMY FOR THE LIBERATION OF HOLY SITES; a.k.a. ISLAMIC SALVATION FOUNDATION; a.k.a. NEW JIHAD; a.k.a. “THE BASE”; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN ORGANIZATION) [FTO] [SDGT] [SDT]

USAMA BIN LADEN ORGANIZATION (a.k.a. AL QAEDA; a.k.a. AL QA'IDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY; a.k.a. ISLAMIC ARMY FOR THE LIBERATION OF HOLY SITES; a.k.a. ISLAMIC SALVATION FOUNDATION; a.k.a. NEW JIHAD; a.k.a. “THE BASE”; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK) [FTO] [SDGT] [SDT]

USTAD DAUD ZULKARNAEN (a.k.a. ARIF SUNARSO; a.k.a. ARIS SUMARSONO; a.k.a. ARIS SUNARSO; a.k.a. MURSHID; a.k.a. ZULKARNAEN; a.k.a. ZULKARNAIN; a.k.a. ZULKARNAN; a.k.a. ZULKARNIN); DOB 1963; POB Gebang village, Masaran, Sragen, Central Java, Indonesia; nationality Indonesia (individual) [SDGT]

UTETE, Charles Manhamu; DOB 30 Oct 1938; Passport ZD002097 (Zimbabwe); Former Cabinet Secretary (individual) [ZIMBABWE]

UTHMAN, Al-Samman (a.k.a. ABU ISMAIL; a.k.a. ABU UMAR, Abu Omar; a.k.a. AL-FILISTINI, Abu Qatada; a.k.a. TAKFIRI, Abu Umr; a.k.a. UMAR, Abu Umar; a.k.a. UTHMAN, Omar Mahmoud; a.k.a. UTHMAN, Umar), London, United Kingdom; DOB 30 Dec 1960; alt. DOB 13 Dec 1960 (individual) [SDGT]

UTHMAN, Omar Mahmoud (a.k.a. ABU ISMAIL; a.k.a. ABU UMAR, Abu Omar; a.k.a. AL-FILISTINI, Abu Qatada; a.k.a. TAKFIRI, Abu Umr; a.k.a. UMAR, Abu Umar; a.k.a. UTHMAN, Al-Samman; a.k.a. UTHMAN, Umar), London, United Kingdom; DOB 30 Dec 1960; alt. DOB 13 Dec 1960 (individual) [SDGT]

UTHMAN, Umar (a.k.a. ABU ISMAIL; a.k.a. ABU UMAR, Abu Omar; a.k.a. AL-FILISTINI, Abu Qatada; a.k.a. TAKFIRI, Abu Umr; a.k.a. UMAR, Abu Umar; a.k.a. UTHMAN, Al-Samman; a.k.a. UTHMAN, Omar Mahmoud), London, United Kingdom; DOB 30 Dec 1960; alt. DOB 13 Dec 1960 (individual) [SDGT]

UWSA (a.k.a. UNITED WA STATE ARMY; a.k.a. UNITED WA STATE PARTY; a.k.a. UWSP) [SDNTK]

UWSP (a.k.a. UNITED WA STATE ARMY; a.k.a. UNITED WA STATE PARTY; a.k.a. UWSA) [SDNTK]

V.R. FRUIT COMPANY (a.k.a. BORISAT WI. A. FRUT CHAMKAT), 125 Mu 2, Tambon Mae Kha, Hang Dong district, Chiang Mai, Thailand [SDNTK]

VALDIVIESO FONTAL, Diego, c/o VALLADARES LTDA., Cali, Colombia; DOB 13 Dec 1959; Cedula No. 16662362 (Colombia) (individual) [SDNT]

VALENCIA ARIAS, Jhon Gavy (a.k.a. VALENCIA ARIAS, John Gaby), Carrera 76 No. 6-200 102, Cali, Colombia; Avenida 7N No. 17A-46, Cali, Colombia; c/o INVERSIONES EL PENON S.A., Cali, Colombia; c/o INVERSIONES BETANIA LTDA., Cali, Colombia; Cedula No. 16741491 (Colombia) (individual) [SDNT]

VALENCIA ARIAS, John Gaby (a.k.a. VALENCIA ARIAS, Jhon Gavy), Carrera 76 No. 6-200 102, Cali, Colombia; Avenida 7N No. 17A-46, Cali, Colombia; c/o INVERSIONES EL PENON S.A., Cali, Colombia; c/o INVERSIONES BETANIA LTDA., Cali, Colombia; Cedula No. 16741491 (Colombia) (individual) [SDNT]

VALENCIA ARIAS, Luis Fernando, c/o INVERSIONES EL PENON S.A., Cali, Colombia; c/o INVERSIONES BETANIA LTDA., Cali, Colombia; c/o INVERSIONES GEMINIS S.A., Cali, Colombia; DOB 24 Sep 1962; Cedula No. 71626881 (Colombia) (individual) [SDNT]

VALENCIA CABALLERO, Elias Armando (a.k.a. CORNELIO VALENCIA, Armando; a.k.a. VALENCIA CORNELIO, Armando; a.k.a. VALENCIA PENA, Armando); DOB 15 Jun 1954; alt. DOB 28 Nov 1959; POB Mexico (individual) [SDNTK]

VALENCIA CORNELIO, Armando (a.k.a. CORNELIO VALENCIA, Armando; a.k.a. VALENCIA CABALLERO, Elias Armando; a.k.a. VALENCIA PENA, Armando); DOB 15 Jun 1954; alt. DOB 28 Nov 1959; POB Mexico (individual) [SDNTK]

VALENCIA DE JARAMILLO, Maria Diocelina, c/o AGROPECUARIA LA ROBLEDA S.A., Cali, Colombia; DOB 8 May 1959; Cedula No. 31162155 (Colombia) (individual) [SDNT]

VALENCIA DE MEDINA, Adela (a.k.a. VALENCIA TRUJILLO, Adela), Carrera 4 No. 11-45 Ofc. 503, Cali, Colombia; c/o CREDISA S.A., Cali, Colombia; c/o COMPANIA DE FOMENTO MERCANTIL S.A., Cali, Colombia; c/o UNIDAS S.A., Cali, Colombia; DOB 20 Oct 1954; POB Cali, Valle, Colombia; Cedula No. 31277251 (Colombia); Passport 31277251 (Colombia) (individual) [SDNT]

VALENCIA DE VICTORIA, Carmen Emilia (a.k.a. VALENCIA TRUJILLO, Carmen Emilia), Carrera 37 No. 8-26, Cali, Colombia; c/o CREDISA S.A., Cali, Colombia; c/o UNIDAS S.A., Cali, Colombia; DOB 08 Apr 1952; POB Cali, Valle, Colombia; Cedula No. 31244070 (Colombia); Passport 31244070 (Colombia) (individual) [SDNT]

VALENCIA FRANCO, Manuel, c/o GANADERIAS DEL VALLE S.A., Cali, Colombia (individual) [SDNT]

VALENCIA GALLEGO, Jesus Antonio, c/o DISMERCOOP, Cali, Colombia; DOB 9 Sep 1957; Cedula No. 16447249 (Colombia) (individual) [SDNT]

VALENCIA OBANDO, William, c/o GRAN MUELLE S.A., Buenaventura, Colombia; DOB 28 Oct 1969; Cedula No. 79245681 (Colombia); Passport 79245681 (Colombia) (individual) [SDNT]

VALENCIA PENA, Armando (a.k.a. CORNELIO VALENCIA, Armando; a.k.a. VALENCIA CABALLERO, Elias Armando; a.k.a. VALENCIA CORNELIO, Armando); DOB 15 Jun 1954; alt. DOB 28 Nov 1959; POB Mexico (individual) [SDNTK]

VALENCIA TRUJILLO, Adela (a.k.a. VALENCIA DE MEDINA, Adela), Carrera 4 No. 11-45 Ofc. 503, Cali, Colombia; c/o CREDISA S.A., Cali, Colombia; c/o COMPANIA DE FOMENTO MERCANTIL S.A., Cali, Colombia; c/o UNIDAS S.A., Cali, Colombia; DOB 20 Oct 1954; POB Cali, Valle, Colombia; Cedula No. 31277251 (Colombia); Passport 31277251 (Colombia) (individual) [SDNT]

VALENCIA TRUJILLO, Agueda, Carrera 4 No. 11-45 Ofc. 506, Cali, Colombia; Carrera 5 No. 17-66, Cali, Colombia; Calle 9N A 3-37 Apt. 701, Cali, Colombia; c/o CREDISA S.A., Cali, Colombia; c/o COMPANIA DE FOMENTO MERCANTIL S.A., Cali, Colombia; c/o PARQUE INDUSTRIAL PROGRESO S.A., Yumbo, Colombia; c/o CONSTRUCCIONES PROGRESO DEL PUERTO S.A., Puerto Tejada, Colombia; c/o UNIDAS S.A., Cali, Colombia; DOB 10 Aug 1959; POB Cali, Valle, Colombia; Cedula No. 38943524 (Colombia); Passport 38943524 (Colombia) (individual) [SDNT]

VALENCIA TRUJILLO, Carmen Emilia (a.k.a. VALENCIA DE VICTORIA, Carmen Emilia), Carrera 37 No. 8-26, Cali, Colombia; c/o CREDISA S.A., Cali, Colombia; c/o UNIDAS S.A., Cali, Colombia; DOB 08 Apr 1952; POB Cali, Valle, Colombia; Cedula No. 31244070 (Colombia); Passport 31244070 (Colombia) (individual) [SDNT]

VALENCIA TRUJILLO, Guillermo, Calle 93A No. 14-17 Ofc. 711, Bogota, Colombia; Calle 93N No. 14-20 Ofc. 601, Bogota, Colombia; Carrera 66 No. 7-31, Bogota, Colombia; Calle 67 Norte No. 8-85, Cali, Colombia; POB Cali, Valle, Colombia; Cedula No. 14942909 (Colombia); Passport 14942909 (Colombia) (individual) [SDNT]

VALENCIA TRUJILLO, Joaquin Mario, Carrera 122 No. 20-02, Cali, Colombia; Avenida 7 Norte No. 23N-81, Cali, Colombia; DOB 21 Aug 1957; POB Cali, Valle, Colombia; Cedula No. 16626888 (Colombia); Driver's License No. 76001000150900 (Colombia); Passport 16626888 (Colombia); alt. Passport AC030971 (Colombia) (individual) [SDNT]

VALENCIA, Reinel (a.k.a. VALENCIA, Reynel), c/o GANADERIAS DEL VALLE S.A., Cali, Colombia; c/o INMOBILIARIA U.M.V. S.A., Cali, Colombia; c/o COMERCIALIZADORA INTERNACIONAL VALLE DE ORO S.A., Cali, Colombia; DOB 19 Nov 1954; Cedula No. 16258610 (Colombia) (individual) [SDNT]

VALENCIA, Reynel (a.k.a. VALENCIA, Reinel), c/o GANADERIAS DEL VALLE S.A., Cali, Colombia; c/o INMOBILIARIA U.M.V. S.A., Cali, Colombia; c/o COMERCIALIZADORA INTERNACIONAL VALLE DE ORO S.A., Cali, Colombia; DOB 19 Nov 1954; Cedula No. 16258610 (Colombia) (individual) [SDNT]

VALENZUELA OTALORA, Manuel Enrique, c/o CAJA SOLIDARIA, Bogota, Colombia; c/o COPSERVIR LTDA., Bogota, Colombia; c/o MEGAPHARMA LTDA., Bogota, Colombia; Cedula No. 7695208 (Colombia) (individual) [SDNT]

VALETTA SHIPPING CORPORATION, c/o EMPRESA DE NAVEGACION MAMBISA, Apartado 543, San Ignacio 104, Havana, Cuba [CUBA]

VALLADARES LTDA. (f.k.a. AGROPECUARIA BETANIA LTDA.), Calle 70N No. 14-31, Cali, Colombia; Carrera 61 No. 11-58, Cali, Colombia; NIT # 890329123-0 (Colombia) [SDNT]

VALLE COMUNICACIONES LTDA. (a.k.a. VALLECOM), Carrera 60 No. 2A-107, Cali, Colombia [SDNT]

VALLE DE ORO S.A., Pollo Tanrico Km 17 Recta Cali-Palmira, Palmira, Colombia; Cali, Colombia; NIT # 890331067-2 (Colombia) [SDNT]

VALLE LINDO HOSTAL RESTAURANTE (a.k.a. HOTEL LOS VINEDOS; a.k.a. LOS VINEDOS DE GETSEMANI S.A.), Troncal Del Pacifico Km. 1, La Union, Valle, Colombia; Km. 1 Via a Roldanillo, La Union, Valle, Colombia; NIT # 800108902-6 (Colombia) [SDNT]

VALLECOM (a.k.a. VALLE COMUNICACIONES LTDA.), Carrera 60 No. 2A-107, Cali, Colombia [SDNT]

VALLEJO BAYONA, Diego, c/o ADMACOOP, Bogota, Colombia; c/o COMEDICAMENTOS S.A., Bogota, Colombia; c/o LABORATORIOS KRESSFOR DE COLOMBIA S.A., Bogota, Colombia; c/o LABORATORIOS PROFARMA LTDA., Bogota, Colombia; c/o MATERIAS PRIMAS Y SUMINISTROS S.A., Bogota, Colombia; Cedula No. 19285053 (Colombia); Passport 19285053 (Colombia) (individual) [SDNT]

VALLEJO FRANCO, Inigo; DOB 21 May 1976; POB Bilbao (Vizcaya Province), Spain; D.N.I. 29.036.694; member ETA (individual) [SDGT]

VALOR LTDA. S.C.S., Carrera 4 No. 17-20, Popayan, Colombia; NIT # 800009030-4 (Colombia) [SDNT]

VALORCORP S.A. (a.k.a. VALORES CORPORATIVOS S.A.), Transversal 9 No. 55-97 Of. 401, Bogota, Colombia; NIT # 830015542-7 (Colombia) [SDNT]

VALORES CORPORATIVOS ESPANOLES S.L., Calle Consuegra 3, 28036 Madrid, Madrid, Spain; Calle Zurbano 76, 7, Madrid, Madrid, Spain; C.I.F. B81681447 (Spain) [SDNT]

VALORES CORPORATIVOS S.A. (a.k.a. VALORCORP S.A.), Transversal 9 No. 55-97 Of. 401, Bogota, Colombia; NIT # 830015542-7 (Colombia) [SDNT]

VALORES MOBILIARIOS DE OCCIDENTE S.A., Bogota, Colombia; Avenida 6 Norte No. 23DN-16, Cali, Colombia; Avenida Colombia No. 2-45, Cali, Colombia; Carrera 1 No. 2-45, Cali, Colombia; Carrera 100 No. 11-90 of. 602, Cali, Colombia; NIT # 800249439-1 (Colombia) [SDNT]

VALPARK, S.A. DE C.V., Avenida David Alfaro Siquieiros 2789, Ofc. 201A, Colonia Zona Rio, Tijuana, Baja California, Mexico; Paseo de los Heroes y Sanchez Taboada, CP 22320, Tijuana, Baja California, Mexico [SDNTK]

VARELA FAJARDO, Wilber Alirio (a.k.a. GARCIA GARCIA, Jairo; a.k.a. GARCIA VARELA, Wilber Alirio; a.k.a. VARELA, Fredy; a.k.a. VARELA, Wilber; a.k.a. VARELA, Wilber Alirio; a.k.a. VARELA, Wilmer; a.k.a. “DON JAIRO”; a.k.a. “JABON”), Calle 22 No. 15-53, Armenia, Quindio, Colombia; Calle 30 No. 23B-22, Cali, Colombia; Carrera 85 No. 14A-57, Cali, Colombia; Calle 11 No. 4-442, Ofc. 722, Cali, Colombia; DOB 06 Nov 1954; POB Roldanillo, Valle, Colombia; alt. POB Armenia, Quindio, Colombia; citizen Colombia; Cedula No. 16891223 (Colombia); alt. Cedula No. 16545384 (Colombia); Passport AF427757 (Colombia) (individual) [SDNT]

VARELA, Fredy (a.k.a. GARCIA GARCIA, Jairo; a.k.a. GARCIA VARELA, Wilber Alirio; a.k.a. VARELA FAJARDO, Wilber Alirio; a.k.a. VARELA, Wilber; a.k.a. VARELA, Wilber Alirio; a.k.a. VARELA, Wilmer; a.k.a. “DON JAIRO”; a.k.a. “JABON”), Calle 22 No. 15-53, Armenia, Quindio, Colombia; Calle 30 No. 23B-22, Cali, Colombia; Carrera 85 No. 14A-57, Cali, Colombia; Calle 11 No. 4-442, Ofc. 722, Cali, Colombia; DOB 06 Nov 1954; POB Roldanillo, Valle, Colombia; alt. POB Armenia, Quindio, Colombia; citizen Colombia; Cedula No. 16891223 (Colombia); alt. Cedula No. 16545384 (Colombia); Passport AF427757 (Colombia) (individual) [SDNT]

VARELA, Wilber (a.k.a. GARCIA GARCIA, Jairo; a.k.a. GARCIA VARELA, Wilber Alirio; a.k.a. VARELA FAJARDO, Wilber Alirio; a.k.a. VARELA, Fredy; a.k.a. VARELA, Wilber Alirio; a.k.a. VARELA, Wilmer; a.k.a. “DON JAIRO”; a.k.a. “JABON”), Calle 22 No. 15-53, Armenia, Quindio, Colombia; Calle 30 No. 23B-22, Cali, Colombia; Carrera 85 No. 14A-57, Cali, Colombia; Calle 11 No. 4-442, Ofc. 722, Cali, Colombia; DOB 06 Nov 1954; POB Roldanillo, Valle, Colombia; alt. POB Armenia, Quindio, Colombia; citizen Colombia; Cedula No. 16891223 (Colombia); alt. Cedula No. 16545384 (Colombia); Passport AF427757 (Colombia) (individual) [SDNT]

VARELA, Wilber Alirio (a.k.a. GARCIA GARCIA, Jairo; a.k.a. GARCIA VARELA, Wilber Alirio; a.k.a. VARELA FAJARDO, Wilber Alirio; a.k.a. VARELA, Fredy; a.k.a. VARELA, Wilber; a.k.a. VARELA, Wilmer; a.k.a. “DON JAIRO”; a.k.a. “JABON”), Calle 22 No. 15-53, Armenia, Quindio, Colombia; Calle 30 No. 23B-22, Cali, Colombia; Carrera 85 No. 14A-57, Cali, Colombia; Calle 11 No. 4-442, Ofc. 722, Cali, Colombia; DOB 06 Nov 1954; POB Roldanillo, Valle, Colombia; alt. POB Armenia, Quindio, Colombia; citizen Colombia; Cedula No. 16891223 (Colombia); alt. Cedula No. 16545384 (Colombia); Passport AF427757 (Colombia) (individual) [SDNT]

VARELA, Wilmer (a.k.a. GARCIA GARCIA, Jairo; a.k.a. GARCIA VARELA, Wilber Alirio; a.k.a. VARELA FAJARDO, Wilber Alirio; a.k.a. VARELA, Fredy; a.k.a. VARELA, Wilber; a.k.a. VARELA, Wilber Alirio; a.k.a. “DON JAIRO”; a.k.a. “JABON”), Calle 22 No. 15-53, Armenia, Quindio, Colombia; Calle 30 No. 23B-22, Cali, Colombia; Carrera 85 No. 14A-57, Cali, Colombia; Calle 11 No. 4-442, Ofc. 722, Cali, Colombia; DOB 06 Nov 1954; POB Roldanillo, Valle, Colombia; alt. POB Armenia, Quindio, Colombia; citizen Colombia; Cedula No. 16891223 (Colombia); alt. Cedula No. 16545384 (Colombia); Passport AF427757 (Colombia) (individual) [SDNT]

VARGAS CANTOR, Horacio, c/o DROCARD S.A., Bogota, Colombia; c/o FARMACOOP, Bogota, Colombia; c/o FOGENSA S.A., Bogota, Colombia; c/o GENERICOS ESPECIALES S.A., Bogota, Colombia; c/o SHARVET S.A., Bogota, Colombia; DOB 30 Dec 1960; Cedula No. 79201297 (Colombia); Passport 79201297 (Colombia) (individual) [SDNT]

VARGAS DUQUE, Adriana, c/o COMERCIALIZADORA INTERTEL S.A., Cali, Colombia; c/o DISTRIBUIDORA SANAR DE COLOMBIA S.A., Cali, Colombia; c/o PROSALUD Y BIENESTAR S.A., Cali, Colombia; c/o PROSPECTIVA E.U., Cali, Colombia; DOB 20 May 1974; Cedula No. 66902221 (Colombia); Passport 66902221 (Colombia) (individual) [SDNT]

VARGAS GARCIA, Carlos Alberto, Quito, Ecuador; c/o RIONAP COMERCIO Y REPRESENTACIONES S.A., Quito, Ecuador; c/o DISTRIBUIDORA DE DROGAS CONDOR LTDA., Bogota, Colombia; Cedula No. 4578620 (Colombia) (individual) [SDNT]

VARGAS LOPEZ, Gustavo Adolfo, c/o INDUSTRIA MADERERA ARCA LTDA., Cali, Colombia; c/o AGROPECUARIA LA ROBLEDA S.A., Cali, Colombia; c/o INVERSIONES VILLA PAZ S.A., Cali, Colombia; c/o COLOMBIANA DE CERDOS LTDA., Pereira, Colombia; c/o MATADERO METROPOLITANO LTDA., Pereira, Colombia; DOB 3 Nov 1955; Cedula No. 6457925 (Colombia) (individual) [SDNT]

VARGAS PERDOMO, Eugenio (a.k.a. DORNELES DE MENEZES, Francisco; a.k.a. “CARLOS BOLAS”); DOB 19 Nov 1969; POB Puerto Lopez, Meta, Colombia; Cedula No. 17344616 (Colombia) (individual) [SDNTK]

VARGAS RUEDA, Nelson (a.k.a. “ALFREDO”; a.k.a. “HUGO”); DOB 27 Apr 1970; Cedula No. 77130763 (Colombia) (individual) [SDNTK]

VARGAS VARGAS, Flor Yadira, c/o ADMACOOP, Bogota, Colombia; c/o CODISA, Bogota, Colombia; DOB 11 Jul 1971; Cedula No. 52584018 (Colombia); Passport 52584018 (Colombia) (individual) [SDNT]

VARGAS VASQUEZ, Jorge Alberto, c/o AMERICANA DE COSMETICOS S.A., Bogota, Colombia; c/o DISTRIEXPORT S.A., Bogota, Colombia; DOB 30 Jun 1960; Cedula No. 19401630 (Colombia); Passport 19401630 (Colombia) (individual) [SDNT]

VARGAS, Jorge (a.k.a. BECERRA MIRELES, Martin; a.k.a. BECERRA, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar); DOB 10 Jan 64; POB Mexico (individual) [SDNTK]

VASIC, Dragomir, Bosnia and Herzegovina; DOB 1964; POB Brnjica, Bosina-Herzegovina (individual) [BALKANS]

VASILJEVIC, Mitar; DOB 25 Aug 1954; POB Durevici, Bosnia-Herzegovina; ICTY indictee (individual) [BALKANS]

VASQUES, Oscar D. (a.k.a. VAZQUEZ, Oscar D.), Panama (individual) [CUBA]

VAZ, Jose, 20 Ironmonger Lane, London EC2V 8EY, United Kingdom; Managing Director, Havana International Bank (individual) [CUBA]

VAZIR (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VEZIR), Nairobi, Kenya; Garissa, Kenya; Daddb, Kenya [SDGT]

VAZIR (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VEZIR), 3800 Highway 99 S., Ashland, OR 97520-8718; 1257 Siskiyou BLVD, Ashland, OR 97520; 2151 E. Division St., Springfield, MO 65803 [SDGT]

VAZIR (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VEZIR), House #279, Nazimuddin road, F-10/1, Islamabad, Pakistan [SDGT]

VAZIR (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VEZIR), Somalia; 64 Poturmahala, Travnik, Bosnia and Herzegovina [SDGT]

VAZIR (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VEZIR), PO Box 3616, Dar es Salaam, Tanzania; Tanga, Tanzania; Singida, Tanzania [SDGT]

VAZQUEZ, Oscar D. (a.k.a. VASQUES, Oscar D.), Panama (individual) [CUBA]

VEGA, Rosalba, c/o BONOMERCAD S.A., Bogota, Colombia; c/o PATENTES MARCAS Y REGISTROS S.A., Bogota, Colombia; c/o SHARPER S.A., Bogota, Colombia; c/o GLAJAN S.A., Bogota, Colombia; c/o DECAFARMA S.A., Bogota, Colombia; c/o GENERICOS ESPECIALES S.A., Bogota, Colombia; DOB 22 Sep 1955; Cedula No. 21132758 (Colombia); Passport 21132758 (Colombia) (individual) [SDNT]

VELASQUEZ SCARPETTA, Elizabeth, c/o COPSERVIR LTDA., Bogota, Colombia; c/o SOLUCIONES COOPERATIVAS, Bogota, Colombia; Cedula No. 31844085 (Colombia) (individual) [SDNT]

VELASQUEZ, Miguel Angel, c/o ADMINISTRADORA DE SERVICIOS VARIOS CALIMA S.A., Cali, Colombia; c/o ASESORIAS ECONOMICAS MUNOZ SANTACOLOMA E.U., Cali, Colombia; c/o CHAMARTIN S.A., Cali, Colombia; Cedula No. 16305012 (Colombia); Passport 16305012 (Colombia) (individual) [SDNT]

VELAZQUEZ HERNANDEZ, Juan Gabriel, Callejon Revolucion 1050, Colonia Zona Centro, Tijuana, Baja California, Mexico; c/o GS PLUS CONSULTORES, S.A. DE C.V., Tijuana, Baja California, Mexico; DOB 20 Mar 1975; POB Tijuana, Baja California, Mexico (individual) [SDNTK]

VELEZ MONTES, William, Calle 92 No. 19-70 Apt. 304, Bogota, Colombia; c/o INTERCONTINENTAL DE AVIACION S.A., Bogota, Colombia; c/o INVERSIONES Y COMERCIALIZADORA INCOM LTDA., Cali, Colombia; DOB 24 May 1943; POB Tulua, Valle, Colombia; Cedula No. 17086144 (Colombia); Passport AF870847 (Colombia); alt. Passport PE019274 (Colombia); alt. Passport PE029301 (Colombia) (individual) [SDNT]

VELEZ RENGIFO, Piedad, Carrera 15 No. 127A-33 Apt. 605, Bogota, Colombia; Avenida El Logo Calle Chiminangos Casa No. 3, Cali, Colombia; c/o INTERCONTINENTAL DE AVIACION S.A., Bogota, Colombia; c/o DESARROLLOS AGROINDUSTRIALES S.A., Bogota, Colombia; c/o ACCIRENT S.A., Bogota, Colombia; DOB 22 Oct 1959; POB Cali, Colombia; Cedula No. 31835778 (Colombia); Passport AF314384 (Colombia); alt. Passport AD217712 (Colombia) (individual) [SDNT]

VERA ROSAS, Gonzalo, c/o FARMA 3.000 LIMITADA, Barranquilla, Colombia; DOB 19 Sep 1968; Cedula No. 79136661 (Colombia); Passport 79136661 (Colombia) (individual) [SDNT]

VESTIMENTA J Y J S. DE H., Calle 78 No. 53-70, Local 112, Barranquilla, Colombia; NIT # 802001338-8 (Colombia) [SDNT]

VEZIR (a.k.a. ALHARAMAIN; a.k.a. AL-HARAMAIN : KENYA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR), Nairobi, Kenya; Garissa, Kenya; Daddb, Kenya [SDGT]

VEZIR (a.k.a. ALHARAMAIN; a.k.a. AL-HARAMAIN : PAKISTAN BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR), House #279, Nazimuddin road, F-10/1, Islamabad, Pakistan [SDGT]

VEZIR (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR), Somalia; 64 Poturmahala, Travnik, Bosnia and Herzegovina [SDGT]

VEZIR (a.k.a. ALHARAMAIN; a.k.a. AL-HARAMAIN : TANZANIA BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR), PO Box 3616, Dar es Salaam, Tanzania; Tanga, Tanzania; Singida, Tanzania [SDGT]

VEZIR (a.k.a. AL HARAMAIN FOUNDATION, INC.; a.k.a. ALHARAMAIN; a.k.a. AL-HARAMAIN : UNITED STATES BRANCH; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR), 3800 Highway 99 S., Ashland, OR 97520-8718; 1257 Siskiyou BLVD, Ashland, OR 97520; 2151 E. Division St., Springfield, MO 65803 [SDGT]

VIACON INTERNATIONAL, INC., Apartment 7B Torre Mar Building, Punta Paitilla Area, Panama City, Panama [CUBA]

VIACON INTERNATIONAL, INC., France Field, Colon Free Zone, Panama [CUBA]

VIAJES GUAMA TOURS (a.k.a. AGENCIA DE VIAJES GUAMA; a.k.a. GUAMA TOUR; a.k.a. GUAMATUR, S.A.), Bal Harbour Shopping Center, Via Italia, Panama City, Panama [CUBA]

VIAJES GUAMA, S.A., Spain [CUBA]

VIAJES MERCURIO LTDA., Carrera 3 No. 10-02 Local 113, Cali, Colombia [SDNT]

VIAL COMPANY, DE [LIBERIA]

VICTORIA CASTANO, Alvaro, Carrera 3A Norte No. 42A-43, Cali, Colombia; c/o CREDISA S.A., Cali, Colombia; Cedula No. 14933828 (Colombia); Passport 14933828 (Colombia) (individual) [SDNT]

VICTORIA POTES, Nestor Raul, c/o AGROPECUARIA LA ROBLEDA S.A., Cali, Colombia; c/o INDUSTRIA AVICOLA PALMASECA S.A., Cali, Colombia; Calle 70N No. 14-31, AA26397, Cali, Colombia; c/o ADMINISTRACION INMOBILIARIA S.A., Cali, Colombia; c/o INVERSIONES VILLA PAZ S.A., Cali, Colombia; c/o PROHUEVO DE COLOMBIA LTDA., Cali, Colombia; c/o GANADERIAS DEL VALLE S.A., Cali, Colombia; c/o AGROPECUARIA BETANIA LTDA., Cali, Colombia; DOB 25 Nov 1951; Cedula No. 16247701 (Colombia) (individual) [SDNT]

VICTORIA, Mercedes, c/o COLOR 89.5 FM STEREO, Cali, Colombia; c/o INVERSIONES GEELE LTDA., Bogota, Colombia; c/o COMPAX LTDA., Cali, Colombia; c/o LABORATORIOS KRESSFOR, Bogota, Colombia (individual) [SDNT]

VIDAL CAGGIGAS, Rolando, 10720 NW 66th Street, No. 502, Miami, FL 33178; 9443 Fontainebleau Boulevard, No. 114, Miami, FL 33172; DOB 1 Aug 1961; Cedula No. 16822748 (Colombia); Passport 16822748 (Colombia) (individual) [BPI-SDNT]

VILA MICHELENA, Fermin; DOB 12 Mar 1970; POB Irun, Guipuzcoa Province, Spain; D.N.I. 15.254.214 (Spain); Member ETA (individual) [SDGT]

VILLA D'ARTE (a.k.a. VILLA DE ARTE S. DE H.), Carrera 54 No. 74-79, Barranquilla, Colombia; Aereo Apartado 51881, Barranquilla, Colombia; NIT # 800125346-2 (Colombia) [SDNT]

VILLA DE ARTE S. DE H. (a.k.a. VILLA D'ARTE), Carrera 54 No. 74-79, Barranquilla, Colombia; Aereo Apartado 51881, Barranquilla, Colombia; NIT # 800125346-2 (Colombia) [SDNT]

VILLA OSPINA, Mauricio, c/o ADMINISTRADORA DE SERVICIOS VARIOS CALIMA S.A., Cali, Colombia; c/o CHAMARTIN S.A., Cali, Colombia; Cedula No. 16365834 (Colombia); Passport 16365834 (Colombia) (individual) [SDNT]

VILLADA ZUNIGA, Elmer, Calle 15 No. 20-10, Cali, Colombia; c/o TAURA S.A., Cali, Colombia; Cedula No. 14988902 (Colombia) (individual) [SDNT]

VILLAGRAN, Francisco (a.k.a. HERRERA GARCIA, Otto Roberto), Guatemala; DOB 14 Mar 1965; citizen Guatemala (individual) [SDNTK]

VILLANUEVA MADRID, Mario Ernesto; DOB 2 July 1949; POB Quintana Roo, Mexico (individual) [SDNTK]

VILLARO LTDA., Calle 69 No. 10A-53 of. 502, Bogota, Colombia; NIT # 830117443-4 (Colombia) [SDNT]

VILLAROSA INVESTMENTS FLORIDA, INC., 780 NW Le Jeune Road, Suite 516, Miami, FL 33126; 780 NW 42nd Avenue, Suite 516, Miami, FL 33126; 9100 South Dadeland Boulevard, Suite 912, Miami, FL 33156; U.S. FEIN 650439600 (United States) [SDNT]

VILLASENOR COVARRUBIAS, Jorge Miguel, Prv. Montecarlo 12106, Colonia Res. Agua Caliente, Tijuana, Baja California CP 22480, Mexico; Av. de las Rocas 1548, Fracc. Playas de Tijuana, Tijuana, Baja California, Mexico; Av. Via Rapida S/N, Colonia Zona Rio, Tijuana, Baja California, Mexico; c/o MULTISERVICIOS BRAVIO, S.A. DE C.V., Tijuana, Baja California, Mexico; DOB 31 May 1948; POB Distrito Federal, Mexico; R.F.C. VICJ-480531-RJ7 (Mexico) (individual) [SDNTK]

VILLEGAS ARIAS, Maria Deicy (a.k.a. VILLEGAS ARIAS, Maria Deisy), c/o CONCRETOS CALI S.A., Cali, Colombia; c/o CONSTRUEXITO S.A., Cali, Colombia; c/o INDUSTRIA MADERERA ARCA LTDA, Cali, Colombia; Calle 66 No. 1A-6 51, Cali, Colombia; c/o GANADERIAS DEL VALLE S.A., Cali, Colombia; c/o SOCOVALLE LTDA., Cali, Colombia; DOB 16 Jul 1961; Cedula No. 31200871 (Colombia) (individual) [SDNT]

VILLEGAS ARIAS, Maria Deisy (a.k.a. VILLEGAS ARIAS, Maria Deicy), c/o CONCRETOS CALI S.A., Cali, Colombia; c/o CONSTRUEXITO S.A., Cali, Colombia; c/o INDUSTRIA MADERERA ARCA LTDA, Cali, Colombia; Calle 66 No. 1A-6 51, Cali, Colombia; c/o GANADERIAS DEL VALLE S.A., Cali, Colombia; c/o SOCOVALLE LTDA., Cali, Colombia; DOB 16 Jul 1961; Cedula No. 31200871 (Colombia) (individual) [SDNT]

VILLEGAS BOLANOS, Silver Amido, c/o CONSULTORIA EMPRESARIAL ESPECIALIZADA LTDA., Cali, Colombia; c/o GANADERIAS DEL VALLE S.A., Cali, Colombia; c/o CONCRETOS CALI S.A., Cali, Colombia; c/o ADMINISTRACION INMOBILIARIA BOLIVAR S.A., Cali, Colombia; DOB 15 Aug 1954; Cedula No. 10480869 (Colombia) (individual) [SDNT]

VILLOTA GALVIS, Eliseo Fernando, c/o LABORATORIOS KRESSFOR DE COLOMBIA S.A., Bogota, Colombia; c/o FARMACOOP, Bogota, Colombia; c/o CODISA, Bogota, Colombia; c/o JOMADA DE COSTA RICA S.A., San Jose, Costa Rica; c/o MATSUM S.A., Bogota, Colombia; DOB 13 May 1945; Cedula No. 17118703 (Colombia); Passport 17118703 (Colombia) (individual) [SDNT]

VINALES TOURS, Cancun, Mexico [CUBA]

VINALES TOURS, Guadalajara, Mexico [CUBA]

VINALES TOURS, Mexico City, Mexico [CUBA]

VINALES TOURS, Monterey, Mexico [CUBA]

VINALES TOURS, Roma, Mexico [CUBA]

VINCK, Patricia (a.k.a. VINCK, Souraya P.), 69 Rue des Bataves, 1040 Etterbeek, Brussels, Belgium; Vaatjesstraat, 29, 2580 Putte, Belgium; DOB 04 Jan 1965; POB Antwerp, Belgium (individual) [SDGT]

VINCK, Souraya P. (a.k.a. VINCK, Patricia), 69 Rue des Bataves, 1040 Etterbeek, Brussels, Belgium; Vaatjesstraat, 29, 2580 Putte, Belgium; DOB 04 Jan 1965; POB Antwerp, Belgium (individual) [SDGT]

VIOLET NAVIGATION CO. LTD., c/o EMPRESA DE NAVEGACION MAMBISA, Apartado 543, San Ignacio 104, Havana, Cuba [CUBA]

VISCAYA LTDA. (a.k.a. VIZCAYA LTDA.), Carrera 3 No. 11-99, Cartago, Valle, Colombia; Carrera 4 No. 12-20 of. 206, Cartago, Valle, Colombia; Km 7 Via Cartago-Obando, Hacienda El Vergel, Cartago, Colombia; NIT # 800054357-8 (Colombia) [SDNT]

VIZCAYA LTDA. (a.k.a. VISCAYA LTDA.), Carrera 3 No. 11-99, Cartago, Valle, Colombia; Carrera 4 No. 12-20 of. 206, Cartago, Valle, Colombia; Km 7 Via Cartago-Obando, Hacienda El Vergel, Cartago, Colombia; NIT # 800054357-8 (Colombia) [SDNT]

VOL PHARMACIA LTDA. (a.k.a. VOL PHARMACYA LTDA.), Calle 12 No. 8-34/36, Cucuta, Colombia; NIT # 807005617-4 (Colombia) [SDNT]

VOL PHARMACYA LTDA. (a.k.a. VOL PHARMACIA LTDA.), Calle 12 No. 8-34/36, Cucuta, Colombia; NIT # 807005617-4 (Colombia) [SDNT]

VORAWATVICHAI, Hataiwan (a.k.a. CHAICHAMRUNPHAN, Warin; a.k.a. CHAIJAMROONPHAN, Warin; a.k.a. CHAIWORASILP, Warin; a.k.a. CHAIWORASIN, Warin; a.k.a. PICHAYOS, Warin; a.k.a. VORAWATVICHAI, Hathaiwan; a.k.a. VORAWATVICHAI, Suravee; a.k.a. VORAWATVICHAI, Surawee; a.k.a. VORAWATVICHAI, Varin; a.k.a. WORAWATVICHAI, Hataiwan; a.k.a. WORAWATVICHAI, Hathaiwan; a.k.a. WORAWATVICHAI, Suravee; a.k.a. WORAWATVICHAI, Surawee; a.k.a. WORAWATWICHAI, Hataiwan; a.k.a. WORAWATWICHAI, Hathaiwan; a.k.a. WORAWATWICHAI, Surawee; a.k.a. WORAWATWICHAI, Warin), c/o HATKAEW COMPANY LTD., Bangkok, Thailand; c/o NICE FANTASY GARMENT COMPANY LTD., Bangkok, Thailand; c/o PLOYDAENG JEWELRY SHOP, Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 9 Jan 1956; National ID No. 3101701873838 (Thailand); Passport N302083 (Thailand) (individual) [SDNTK]

VORAWATVICHAI, Hathaiwan (a.k.a. CHAICHAMRUNPHAN, Warin; a.k.a. CHAIJAMROONPHAN, Warin; a.k.a. CHAIWORASILP, Warin; a.k.a. CHAIWORASIN, Warin; a.k.a. PICHAYOS, Warin; a.k.a. VORAWATVICHAI, Hataiwan; a.k.a. VORAWATVICHAI, Suravee; a.k.a. VORAWATVICHAI, Surawee; a.k.a. VORAWATVICHAI, Varin; a.k.a. WORAWATVICHAI, Hataiwan; a.k.a. WORAWATVICHAI, Hathaiwan; a.k.a. WORAWATVICHAI, Suravee; a.k.a. WORAWATVICHAI, Surawee; a.k.a. WORAWATWICHAI, Hataiwan; a.k.a. WORAWATWICHAI, Hathaiwan; a.k.a. WORAWATWICHAI, Surawee; a.k.a. WORAWATWICHAI, Warin), c/o HATKAEW COMPANY LTD., Bangkok, Thailand; c/o NICE FANTASY GARMENT COMPANY LTD., Bangkok, Thailand; c/o PLOYDAENG JEWELRY SHOP, Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 9 Jan 1956; National ID No. 3101701873838 (Thailand); Passport N302083 (Thailand) (individual) [SDNTK]

VORAWATVICHAI, Suravee (a.k.a. CHAICHAMRUNPHAN, Warin; a.k.a. CHAIJAMROONPHAN, Warin; a.k.a. CHAIWORASILP, Warin; a.k.a. CHAIWORASIN, Warin; a.k.a. PICHAYOS, Warin; a.k.a. VORAWATVICHAI, Hataiwan; a.k.a. VORAWATVICHAI, Hathaiwan; a.k.a. VORAWATVICHAI, Surawee; a.k.a. VORAWATVICHAI, Varin; a.k.a. WORAWATVICHAI, Hataiwan; a.k.a. WORAWATVICHAI, Hathaiwan; a.k.a. WORAWATVICHAI, Suravee; a.k.a. WORAWATVICHAI, Surawee; a.k.a. WORAWATWICHAI, Hataiwan; a.k.a. WORAWATWICHAI, Hathaiwan; a.k.a. WORAWATWICHAI, Surawee; a.k.a. WORAWATWICHAI, Warin), c/o HATKAEW COMPANY LTD., Bangkok, Thailand; c/o NICE FANTASY GARMENT COMPANY LTD., Bangkok, Thailand; c/o PLOYDAENG JEWELRY SHOP, Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 9 Jan 1956; National ID No. 3101701873838 (Thailand); Passport N302083 (Thailand) (individual) [SDNTK]

VORAWATVICHAI, Surawee (a.k.a. CHAICHAMRUNPHAN, Warin; a.k.a. CHAIJAMROONPHAN, Warin; a.k.a. CHAIWORASILP, Warin; a.k.a. CHAIWORASIN, Warin; a.k.a. PICHAYOS, Warin; a.k.a. VORAWATVICHAI, Hataiwan; a.k.a. VORAWATVICHAI, Hathaiwan; a.k.a. VORAWATVICHAI, Suravee; a.k.a. VORAWATVICHAI, Varin; a.k.a. WORAWATVICHAI, Hataiwan; a.k.a. WORAWATVICHAI, Hathaiwan; a.k.a. WORAWATVICHAI, Suravee; a.k.a. WORAWATVICHAI, Surawee; a.k.a. WORAWATWICHAI, Hataiwan; a.k.a. WORAWATWICHAI, Hathaiwan; a.k.a. WORAWATWICHAI, Surawee; a.k.a. WORAWATWICHAI, Warin), c/o HATKAEW COMPANY LTD., Bangkok, Thailand; c/o NICE FANTASY GARMENT COMPANY LTD., Bangkok, Thailand; c/o PLOYDAENG JEWELRY SHOP, Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 9 Jan 1956; National ID No. 3101701873838 (Thailand); Passport N302083 (Thailand) (individual) [SDNTK]

VORAWATVICHAI, Varin (a.k.a. CHAICHAMRUNPHAN, Warin; a.k.a. CHAIJAMROONPHAN, Warin; a.k.a. CHAIWORASILP, Warin; a.k.a. CHAIWORASIN, Warin; a.k.a. PICHAYOS, Warin; a.k.a. VORAWATVICHAI, Hataiwan; a.k.a. VORAWATVICHAI, Hathaiwan; a.k.a. VORAWATVICHAI, Suravee; a.k.a. VORAWATVICHAI, Surawee; a.k.a. WORAWATVICHAI, Hataiwan; a.k.a. WORAWATVICHAI, Hathaiwan; a.k.a. WORAWATVICHAI, Suravee; a.k.a. WORAWATVICHAI, Surawee; a.k.a. WORAWATWICHAI, Hataiwan; a.k.a. WORAWATWICHAI, Hathaiwan; a.k.a. WORAWATWICHAI, Surawee; a.k.a. WORAWATWICHAI, Warin), c/o HATKAEW COMPANY LTD., Bangkok, Thailand; c/o NICE FANTASY GARMENT COMPANY LTD., Bangkok, Thailand; c/o PLOYDAENG JEWELRY SHOP, Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 9 Jan 1956; National ID No. 3101701873838 (Thailand); Passport N302083 (Thailand) (individual) [SDNTK]

VRACAR, Milenko, Bosnia and Herzegovina; DOB 15 May 1956; POB Nisavici, Prijedor, Bosnia-Herzegovina (individual) [BALKANS]

VUKOVIC, Zoran; DOB 6 Sep 1955; POB Brusna, Bosnia-Herzegovina; ICTY indictee (individual) [BALKANS]

W. HERRERA Y CIA. S. EN C. (a.k.a. INVERSIONES EL GRAN CRISOL LTDA.), Avenida 2N 7N-55 of. 501, Cali, Colombia; Carrera 24D Oeste No. 6-237, Cali, Colombia; NIT # 800001330-2 (Colombia) [SDNT]

WAD MADANI DUTY FREE SHOP, Wad Madani, Sudan [SUDAN]

WADDANI, Habib, Via unica Borighero n.1, San Donato M.se (MI), Italy; DOB 10 Jun 1970; POB Tunis, Tunisia; nationality Tunisia; Italian Fiscal Code WDDHBB70H10Z352O; Passport L550681 issued 23 Sep 1997 expires 22 Sep 2002 (individual) [SDGT]

WADEHYANOY, Mufti Rashid Ahmad (a.k.a. AHMAD, Mufti Rasheed; a.k.a. LADEHYANOY, Mufti Rashid Ahmad; a.k.a. LUDHIANVI, Mufti Rashid Ahmad), Karachi, Pakistan (individual) [SDGT]

WADENA SHIPPING CORPORATION, c/o EMPRESA DE NAVEGACION MAMBISA, Apartado 543, San Ignacio 104, Havana, Cuba [CUBA]

WADOOD, Khalid Adbul (a.k.a. ALI, Salem; a.k.a. BIN KHALID, Fahd Bin Adballah; a.k.a. HENIN, Ashraf Refaat Nabith; a.k.a. MOHAMMED, Khalid Shaikh); DOB 14 Apr 1965; alt. DOB 1 Mar 1964; POB Kuwait; citizen Kuwait (individual) [SDGT]

WAFA AL-IGATHA AL-ISLAMIA (a.k.a. AL WAFA; a.k.a. AL WAFA ORGANIZATION; a.k.a. WAFA HUMANITARIAN ORGANIZATION) [SDGT]

WAFA HUMANITARIAN ORGANIZATION (a.k.a. AL WAFA; a.k.a. AL WAFA ORGANIZATION; a.k.a. WAFA AL-IGATHA AL-ISLAMIA) [SDGT]

WAFRA CHEMICALS & TECHNO-MEDICAL SERVICES LIMITED, Khartoum, Sudan [SUDAN]

WALDENBERG, AG (f.k.a. AL TAQWA TRADE, PROPERTY AND INDUSTRY; f.k.a. AL TAQWA TRADE, PROPERTY AND INDUSTRY COMPANY LIMITED; f.k.a. AL TAQWA TRADE, PROPERTY AND INDUSTRY ESTABLISHMENT; f.k.a. HIMMAT ESTABLISHMENT), c/o Asat Trust Reg., Altenbach 8, Vaduz 9490, Liechtenstein; Via Posero, 2, 22060 Compione d'Italia, Italy [SDGT]

WAN MIN, bin Wan Mat (a.k.a. WAN MIN, Wan Mat); DOB 23 Sept 1960; POB Malaysia; nationality Malaysia (individual) [SDGT]

WAN MIN, Wan Mat (a.k.a. WAN MIN, bin Wan Mat); DOB 23 Sept 1960; POB Malaysia; nationality Malaysia (individual) [SDGT]

WAU FRUIT AND VEGETABLE CANNING FACTORY, P.O. Box 110, Wau, Sudan [SUDAN]

WEI, Hsueh Kang (a.k.a. CHARNCHAI, Chiwinnitipanya; a.k.a. CHEEWINNITTIPANYA, Prasit; a.k.a. CHIVINNITIPANYA, Prasit; a.k.a. CHIWINNITIPANYA, Charnchai; a.k.a. PRASIT, Cheewinnittipanya; a.k.a. PRASIT, Chivinnitipanya; a.k.a. WEI, Shao-Kang; a.k.a. WEI, Sia-Kang; a.k.a. WEI, Xuekang); DOB 29 Jun 1952; alt. DOB 29 May 1952; Passport Q081061 (Thailand); alt. Passport E091929 (Thailand) (individual) [SDNTK]

WEI, Shao-Kang (a.k.a. CHARNCHAI, Chiwinnitipanya; a.k.a. CHEEWINNITTIPANYA, Prasit; a.k.a. CHIVINNITIPANYA, Prasit; a.k.a. CHIWINNITIPANYA, Charnchai; a.k.a. PRASIT, Cheewinnittipanya; a.k.a. PRASIT, Chivinnitipanya; a.k.a. WEI, Hsueh Kang; a.k.a. WEI, Sia-Kang; a.k.a. WEI, Xuekang); DOB 29 Jun 1952; alt. DOB 29 May 1952; Passport Q081061 (Thailand); alt. Passport E091929 (Thailand) (individual) [SDNTK]

WEI, Sia-Kang (a.k.a. CHARNCHAI, Chiwinnitipanya; a.k.a. CHEEWINNITTIPANYA, Prasit; a.k.a. CHIVINNITIPANYA, Prasit; a.k.a. CHIWINNITIPANYA, Charnchai; a.k.a. PRASIT, Cheewinnittipanya; a.k.a. PRASIT, Chivinnitipanya; a.k.a. WEI, Hsueh Kang; a.k.a. WEI, Shao-Kang; a.k.a. WEI, Xuekang); DOB 29 Jun 1952; alt. DOB 29 May 1952; Passport Q081061 (Thailand); alt. Passport E091929 (Thailand) (individual) [SDNTK]

WEI, Xuekang (a.k.a. CHARNCHAI, Chiwinnitipanya; a.k.a. CHEEWINNITTIPANYA, Prasit; a.k.a. CHIVINNITIPANYA, Prasit; a.k.a. CHIWINNITIPANYA, Charnchai; a.k.a. PRASIT, Cheewinnittipanya; a.k.a. PRASIT, Chivinnitipanya; a.k.a. WEI, Hsueh Kang; a.k.a. WEI, Shao-Kang; a.k.a. WEI, Sia-Kang); DOB 29 Jun 1952; alt. DOB 29 May 1952; Passport Q081061 (Thailand); alt. Passport E091929 (Thailand) (individual) [SDNTK]

WELFARE AND DEVELOPMENT FUND FOR PALESTINE (a.k.a. AL-SANDUQ AL-FILISTINI LIL-IGHATHA; a.k.a. AL-SANDUQ AL-FILISTINI LIL-IGHATHA WA AL-TANMIYA; a.k.a. INTERPAL; a.k.a. PALESTINE AND LEBANON RELIEF FUND; a.k.a. PALESTINE DEVELOPMENT AND RELIEF FUND; a.k.a. PALESTINE RELIEF AND DEVELOPMENT FUND; a.k.a. PALESTINE RELIEF FUND; a.k.a. PALESTINIAN AID AND SUPPORT FUND; a.k.a. PALESTINIAN RELIEF AND DEVELOPMENT FUND; a.k.a. PALESTINIAN RELIEF FUND; a.k.a. PRDF; a.k.a. RELIEF AND DEVELOPMENT FUND FOR PALESTINE; a.k.a. WELFARE AND DEVELOPMENT FUND OF PALESTINE), P.O. Box 3333, London NW6 1RW, United Kingdom; Registered Charity No. 1040094 [SDGT]

WELFARE AND DEVELOPMENT FUND OF PALESTINE (a.k.a. AL-SANDUQ AL-FILISTINI LIL-IGHATHA; a.k.a. AL-SANDUQ AL-FILISTINI LIL-IGHATHA WA AL-TANMIYA; a.k.a. INTERPAL; a.k.a. PALESTINE AND LEBANON RELIEF FUND; a.k.a. PALESTINE DEVELOPMENT AND RELIEF FUND; a.k.a. PALESTINE RELIEF AND DEVELOPMENT FUND; a.k.a. PALESTINE RELIEF FUND; a.k.a. PALESTINIAN AID AND SUPPORT FUND; a.k.a. PALESTINIAN RELIEF AND DEVELOPMENT FUND; a.k.a. PALESTINIAN RELIEF FUND; a.k.a. PRDF; a.k.a. RELIEF AND DEVELOPMENT FUND FOR PALESTINE; a.k.a. WELFARE AND DEVELOPMENT FUND FOR PALESTINE), P.O. Box 3333, London NW6 1RW, United Kingdom; Registered Charity No. 1040094 [SDGT]

WEST ISLAND SHIPPING CO. LTD., c/o UNION MARITIMA PORTUARIA, 9-Piso, Apartado B, Esquina Cuarteles y Pena Pobre 60, Havana Vieja, Havana, Cuba [CUBA]

WESTBOUND LTD, P.O. Box 399, 26 Main Street, Gibraltar, United Kingdom [LIBERIA]

WHALE SHIPPING LTD., c/o Government of Iraq, State Organization of Ports, Maqal, Basrah, Iraq [IRAQ2]

WHITE NILE BATTERY COMPANY, Khartoum, Sudan [SUDAN]

WHITE NILE BREWERY, P.O. Box 1378, Khartoum, Sudan [SUDAN]

WHITE NILE TANNERY, P.O. Box 4078, Khartoum, Sudan [SUDAN]

WHITE SWAN SHIPPING CO. LTD., c/o EMPRESA DE NAVEGACION CARIBE, Edificio Lonja del Comercio, Lamparilla 2, Caja Postal 1784, Havana 1, Cuba [CUBA]

WILSON GARCIA, Maria Ximena, c/o ALERO S.A., Cali, Colombia; DOB 15 Aug 1968; Cedula No. 31985601 (Colombia) (individual) [SDNT]

WONG, Kam Kong (a.k.a. CHAN, Shu Sang; a.k.a. CHAN, Shusang; a.k.a. CHEN, Bing Shen; a.k.a. CHEN, Bingshen; a.k.a. CHEN, Shu Sheng; a.k.a. CHEN, Shusheng; a.k.a. DU, Yu Rong; a.k.a. DU, Yurong; a.k.a. HU, Chi Shu; a.k.a. HU, Chishu; a.k.a. HUANG, Man Chi; a.k.a. HUANG, Manchi; a.k.a. WONG, Kamkong; a.k.a. WONG, Moon Chi; a.k.a. WONG, Moonchi; a.k.a. WONG, Mun Chi; a.k.a. WONG, Munchi; a.k.a. WU, Chai Su; a.k.a. WU, Chaisu; a.k.a. ZHANG, Jiang Ping; a.k.a. ZHANG, Jiangping; a.k.a. “CHI BANG”), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

WONG, Kamkong (a.k.a. CHAN, Shu Sang; a.k.a. CHAN, Shusang; a.k.a. CHEN, Bing Shen; a.k.a. CHEN, Bingshen; a.k.a. CHEN, Shu Sheng; a.k.a. CHEN, Shusheng; a.k.a. DU, Yu Rong; a.k.a. DU, Yurong; a.k.a. HU, Chi Shu; a.k.a. HU, Chishu; a.k.a. HUANG, Man Chi; a.k.a. HUANG, Manchi; a.k.a. WONG, Kam Kong; a.k.a. WONG, Moon Chi; a.k.a. WONG, Moonchi; a.k.a. WONG, Mun Chi; a.k.a. WONG, Munchi; a.k.a. WU, Chai Su; a.k.a. WU, Chaisu; a.k.a. ZHANG, Jiang Ping; a.k.a. ZHANG, Jiangping; a.k.a. “CHI BANG”), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

WONG, Moon Chi (a.k.a. CHAN, Shu Sang; a.k.a. CHAN, Shusang; a.k.a. CHEN, Bing Shen; a.k.a. CHEN, Bingshen; a.k.a. CHEN, Shu Sheng; a.k.a. CHEN, Shusheng; a.k.a. DU, Yu Rong; a.k.a. DU, Yurong; a.k.a. HU, Chi Shu; a.k.a. HU, Chishu; a.k.a. HUANG, Man Chi; a.k.a. HUANG, Manchi; a.k.a. WONG, Kam Kong; a.k.a. WONG, Kamkong; a.k.a. WONG, Moonchi; a.k.a. WONG, Mun Chi; a.k.a. WONG, Munchi; a.k.a. WU, Chai Su; a.k.a. WU, Chaisu; a.k.a. ZHANG, Jiang Ping; a.k.a. ZHANG, Jiangping; a.k.a. “CHI BANG”), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

WONG, Moonchi (a.k.a. CHAN, Shu Sang; a.k.a. CHAN, Shusang; a.k.a. CHEN, Bing Shen; a.k.a. CHEN, Bingshen; a.k.a. CHEN, Shu Sheng; a.k.a. CHEN, Shusheng; a.k.a. DU, Yu Rong; a.k.a. DU, Yurong; a.k.a. HU, Chi Shu; a.k.a. HU, Chishu; a.k.a. HUANG, Man Chi; a.k.a. HUANG, Manchi; a.k.a. WONG, Kam Kong; a.k.a. WONG, Kamkong; a.k.a. WONG, Moon Chi; a.k.a. WONG, Mun Chi; a.k.a. WONG, Munchi; a.k.a. WU, Chai Su; a.k.a. WU, Chaisu; a.k.a. ZHANG, Jiang Ping; a.k.a. ZHANG, Jiangping; a.k.a. “CHI BANG”), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

WONG, Mun Chi (a.k.a. CHAN, Shu Sang; a.k.a. CHAN, Shusang; a.k.a. CHEN, Bing Shen; a.k.a. CHEN, Bingshen; a.k.a. CHEN, Shu Sheng; a.k.a. CHEN, Shusheng; a.k.a. DU, Yu Rong; a.k.a. DU, Yurong; a.k.a. HU, Chi Shu; a.k.a. HU, Chishu; a.k.a. HUANG, Man Chi; a.k.a. HUANG, Manchi; a.k.a. WONG, Kam Kong; a.k.a. WONG, Kamkong; a.k.a. WONG, Moon Chi; a.k.a. WONG, Moonchi; a.k.a. WONG, Munchi; a.k.a. WU, Chai Su; a.k.a. WU, Chaisu; a.k.a. ZHANG, Jiang Ping; a.k.a. ZHANG, Jiangping; a.k.a. “CHI BANG”), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

WONG, Munchi (a.k.a. CHAN, Shu Sang; a.k.a. CHAN, Shusang; a.k.a. CHEN, Bing Shen; a.k.a. CHEN, Bingshen; a.k.a. CHEN, Shu Sheng; a.k.a. CHEN, Shusheng; a.k.a. DU, Yu Rong; a.k.a. DU, Yurong; a.k.a. HU, Chi Shu; a.k.a. HU, Chishu; a.k.a. HUANG, Man Chi; a.k.a. HUANG, Manchi; a.k.a. WONG, Kam Kong; a.k.a. WONG, Kamkong; a.k.a. WONG, Moon Chi; a.k.a. WONG, Moonchi; a.k.a. WONG, Mun Chi; a.k.a. WU, Chai Su; a.k.a. WU, Chaisu; a.k.a. ZHANG, Jiang Ping; a.k.a. ZHANG, Jiangping; a.k.a. “CHI BANG”), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

WORAWATVICHAI, Hataiwan (a.k.a. CHAICHAMRUNPHAN, Warin; a.k.a. CHAIJAMROONPHAN, Warin; a.k.a. CHAIWORASILP, Warin; a.k.a. CHAIWORASIN, Warin; a.k.a. PICHAYOS, Warin; a.k.a. VORAWATVICHAI, Hataiwan; a.k.a. VORAWATVICHAI, Hathaiwan; a.k.a. VORAWATVICHAI, Suravee; a.k.a. VORAWATVICHAI, Surawee; a.k.a. VORAWATVICHAI, Varin; a.k.a. WORAWATVICHAI, Hathaiwan; a.k.a. WORAWATVICHAI, Suravee; a.k.a. WORAWATVICHAI, Surawee; a.k.a. WORAWATWICHAI, Hataiwan; a.k.a. WORAWATWICHAI, Hathaiwan; a.k.a. WORAWATWICHAI, Surawee; a.k.a. WORAWATWICHAI, Warin), c/o HATKAEW COMPANY LTD., Bangkok, Thailand; c/o NICE FANTASY GARMENT COMPANY LTD., Bangkok, Thailand; c/o PLOYDAENG JEWELRY SHOP, Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 9 Jan 1956; National ID No. 3101701873838 (Thailand); Passport N302083 (Thailand) (individual) [SDNTK]

WORAWATVICHAI, Hathaiwan (a.k.a. CHAICHAMRUNPHAN, Warin; a.k.a. CHAIJAMROONPHAN, Warin; a.k.a. CHAIWORASILP, Warin; a.k.a. CHAIWORASIN, Warin; a.k.a. PICHAYOS, Warin; a.k.a. VORAWATVICHAI, Hataiwan; a.k.a. VORAWATVICHAI, Hathaiwan; a.k.a. VORAWATVICHAI, Suravee; a.k.a. VORAWATVICHAI, Surawee; a.k.a. VORAWATVICHAI, Varin; a.k.a. WORAWATVICHAI, Hataiwan; a.k.a. WORAWATVICHAI, Suravee; a.k.a. WORAWATVICHAI, Surawee; a.k.a. WORAWATWICHAI, Hataiwan; a.k.a. WORAWATWICHAI, Hathaiwan; a.k.a. WORAWATWICHAI, Surawee; a.k.a. WORAWATWICHAI, Warin), c/o HATKAEW COMPANY LTD., Bangkok, Thailand; c/o NICE FANTASY GARMENT COMPANY LTD., Bangkok, Thailand; c/o PLOYDAENG JEWELRY SHOP, Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 9 Jan 1956; National ID No. 3101701873838 (Thailand); Passport N302083 (Thailand) (individual) [SDNTK]

WORAWATVICHAI, Suravee (a.k.a. CHAICHAMRUNPHAN, Warin; a.k.a. CHAIJAMROONPHAN, Warin; a.k.a. CHAIWORASILP, Warin; a.k.a. CHAIWORASIN, Warin; a.k.a. PICHAYOS, Warin; a.k.a. VORAWATVICHAI, Hataiwan; a.k.a. VORAWATVICHAI, Hathaiwan; a.k.a. VORAWATVICHAI, Suravee; a.k.a. VORAWATVICHAI, Surawee; a.k.a. VORAWATVICHAI, Varin; a.k.a. WORAWATVICHAI, Hataiwan; a.k.a. WORAWATVICHAI, Hathaiwan; a.k.a. WORAWATVICHAI, Surawee; a.k.a. WORAWATWICHAI, Hataiwan; a.k.a. WORAWATWICHAI, Hathaiwan; a.k.a. WORAWATWICHAI, Surawee; a.k.a. WORAWATWICHAI, Warin), c/o HATKAEW COMPANY LTD., Bangkok, Thailand; c/o NICE FANTASY GARMENT COMPANY LTD., Bangkok, Thailand; c/o PLOYDAENG JEWELRY SHOP, Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 9 Jan 1956; National ID No. 3101701873838 (Thailand); Passport N302083 (Thailand) (individual) [SDNTK]

WORAWATVICHAI, Surawee (a.k.a. CHAICHAMRUNPHAN, Warin; a.k.a. CHAIJAMROONPHAN, Warin; a.k.a. CHAIWORASILP, Warin; a.k.a. CHAIWORASIN, Warin; a.k.a. PICHAYOS, Warin; a.k.a. VORAWATVICHAI, Hataiwan; a.k.a. VORAWATVICHAI, Hathaiwan; a.k.a. VORAWATVICHAI, Suravee; a.k.a. VORAWATVICHAI, Surawee; a.k.a. VORAWATVICHAI, Varin; a.k.a. WORAWATVICHAI, Hataiwan; a.k.a. WORAWATVICHAI, Hathaiwan; a.k.a. WORAWATVICHAI, Suravee; a.k.a. WORAWATWICHAI, Hataiwan; a.k.a. WORAWATWICHAI, Hathaiwan; a.k.a. WORAWATWICHAI, Surawee; a.k.a. WORAWATWICHAI, Warin), c/o HATKAEW COMPANY LTD., Bangkok, Thailand; c/o NICE FANTASY GARMENT COMPANY LTD., Bangkok, Thailand; c/o PLOYDAENG JEWELRY SHOP, Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 9 Jan 1956; National ID No. 3101701873838 (Thailand); Passport N302083 (Thailand) (individual) [SDNTK]

WORAWATWICHAI, Hataiwan (a.k.a. CHAICHAMRUNPHAN, Warin; a.k.a. CHAIJAMROONPHAN, Warin; a.k.a. CHAIWORASILP, Warin; a.k.a. CHAIWORASIN, Warin; a.k.a. PICHAYOS, Warin; a.k.a. VORAWATVICHAI, Hataiwan; a.k.a. VORAWATVICHAI, Hathaiwan; a.k.a. VORAWATVICHAI, Suravee; a.k.a. VORAWATVICHAI, Surawee; a.k.a. VORAWATVICHAI, Varin; a.k.a. WORAWATVICHAI, Hataiwan; a.k.a. WORAWATVICHAI, Hathaiwan; a.k.a. WORAWATVICHAI, Suravee; a.k.a. WORAWATVICHAI, Surawee; a.k.a. WORAWATWICHAI, Hathaiwan; a.k.a. WORAWATWICHAI, Surawee; a.k.a. WORAWATWICHAI, Warin), c/o HATKAEW COMPANY LTD., Bangkok, Thailand; c/o NICE FANTASY GARMENT COMPANY LTD., Bangkok, Thailand; c/o PLOYDAENG JEWELRY SHOP, Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 9 Jan 1956; National ID No. 3101701873838 (Thailand); Passport N302083 (Thailand) (individual) [SDNTK]

WORAWATWICHAI, Hathaiwan (a.k.a. CHAICHAMRUNPHAN, Warin; a.k.a. CHAIJAMROONPHAN, Warin; a.k.a. CHAIWORASILP, Warin; a.k.a. CHAIWORASIN, Warin; a.k.a. PICHAYOS, Warin; a.k.a. VORAWATVICHAI, Hataiwan; a.k.a. VORAWATVICHAI, Hathaiwan; a.k.a. VORAWATVICHAI, Suravee; a.k.a. VORAWATVICHAI, Surawee; a.k.a. VORAWATVICHAI, Varin; a.k.a. WORAWATVICHAI, Hataiwan; a.k.a. WORAWATVICHAI, Hathaiwan; a.k.a. WORAWATVICHAI, Suravee; a.k.a. WORAWATVICHAI, Surawee; a.k.a. WORAWATWICHAI, Hataiwan; a.k.a. WORAWATWICHAI, Surawee; a.k.a. WORAWATWICHAI, Warin), c/o HATKAEW COMPANY LTD., Bangkok, Thailand; c/o NICE FANTASY GARMENT COMPANY LTD., Bangkok, Thailand; c/o PLOYDAENG JEWELRY SHOP, Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 9 Jan 1956; National ID No. 3101701873838 (Thailand); Passport N302083 (Thailand) (individual) [SDNTK]

WORAWATWICHAI, Surawee (a.k.a. CHAICHAMRUNPHAN, Warin; a.k.a. CHAIJAMROONPHAN, Warin; a.k.a. CHAIWORASILP, Warin; a.k.a. CHAIWORASIN, Warin; a.k.a. PICHAYOS, Warin; a.k.a. VORAWATVICHAI, Hataiwan; a.k.a. VORAWATVICHAI, Hathaiwan; a.k.a. VORAWATVICHAI, Suravee; a.k.a. VORAWATVICHAI, Surawee; a.k.a. VORAWATVICHAI, Varin; a.k.a. WORAWATVICHAI, Hataiwan; a.k.a. WORAWATVICHAI, Hathaiwan; a.k.a. WORAWATVICHAI, Suravee; a.k.a. WORAWATVICHAI, Surawee; a.k.a. WORAWATWICHAI, Hataiwan; a.k.a. WORAWATWICHAI, Hathaiwan; a.k.a. WORAWATWICHAI, Warin), c/o HATKAEW COMPANY LTD., Bangkok, Thailand; c/o NICE FANTASY GARMENT COMPANY LTD., Bangkok, Thailand; c/o PLOYDAENG JEWELRY SHOP, Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 9 Jan 1956; National ID No. 3101701873838 (Thailand); Passport N302083 (Thailand) (individual) [SDNTK]

WORAWATWICHAI, Warin (a.k.a. CHAICHAMRUNPHAN, Warin; a.k.a. CHAIJAMROONPHAN, Warin; a.k.a. CHAIWORASILP, Warin; a.k.a. CHAIWORASIN, Warin; a.k.a. PICHAYOS, Warin; a.k.a. VORAWATVICHAI, Hataiwan; a.k.a. VORAWATVICHAI, Hathaiwan; a.k.a. VORAWATVICHAI, Suravee; a.k.a. VORAWATVICHAI, Surawee; a.k.a. VORAWATVICHAI, Varin; a.k.a. WORAWATVICHAI, Hataiwan; a.k.a. WORAWATVICHAI, Hathaiwan; a.k.a. WORAWATVICHAI, Suravee; a.k.a. WORAWATVICHAI, Surawee; a.k.a. WORAWATWICHAI, Hataiwan; a.k.a. WORAWATWICHAI, Hathaiwan; a.k.a. WORAWATWICHAI, Surawee), c/o HATKAEW COMPANY LTD., Bangkok, Thailand; c/o NICE FANTASY GARMENT COMPANY LTD., Bangkok, Thailand; c/o PLOYDAENG JEWELRY SHOP, Bangkok, Thailand; c/o PROGRESS SURAWEE COMPANY LTD., Bangkok, Thailand; c/o RATTANA VICHAI COMPANY LTD., Bangkok, Thailand; c/o RUNGRIN COMPANY LTD., Bangkok, Thailand; c/o SCORE COMMERCIAL COMPANY LTD., Bangkok, Thailand; c/o SIAM NICE COMPANY LTD., Bangkok, Thailand; DOB 9 Jan 1956; National ID No. 3101701873838 (Thailand); Passport N302083 (Thailand) (individual) [SDNTK]

WORLD DISTRIBUTION SYSTEM (a.k.a. SISTEMA DE DISTRIBUCION MUNDIAL, S.A.C.), Avenida Jose Pardo No. 601, Piso 11, Miraflores, Lima 18, Peru; RUC # 20458382779 (Peru) [BPI-SDNTK]

WORLD TRADE LTDA., Carrera 8 No. 16-77, Ibague, Colombia; NIT # 809008109-5 (Colombia) [SDNT]

WU, Chai Su (a.k.a. CHAN, Shu Sang; a.k.a. CHAN, Shusang; a.k.a. CHEN, Bing Shen; a.k.a. CHEN, Bingshen; a.k.a. CHEN, Shu Sheng; a.k.a. CHEN, Shusheng; a.k.a. DU, Yu Rong; a.k.a. DU, Yurong; a.k.a. HU, Chi Shu; a.k.a. HU, Chishu; a.k.a. HUANG, Man Chi; a.k.a. HUANG, Manchi; a.k.a. WONG, Kam Kong; a.k.a. WONG, Kamkong; a.k.a. WONG, Moon Chi; a.k.a. WONG, Moonchi; a.k.a. WONG, Mun Chi; a.k.a. WONG, Munchi; a.k.a. WU, Chaisu; a.k.a. ZHANG, Jiang Ping; a.k.a. ZHANG, Jiangping; a.k.a. “CHI BANG”), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

WU, Chaisu (a.k.a. CHAN, Shu Sang; a.k.a. CHAN, Shusang; a.k.a. CHEN, Bing Shen; a.k.a. CHEN, Bingshen; a.k.a. CHEN, Shu Sheng; a.k.a. CHEN, Shusheng; a.k.a. DU, Yu Rong; a.k.a. DU, Yurong; a.k.a. HU, Chi Shu; a.k.a. HU, Chishu; a.k.a. HUANG, Man Chi; a.k.a. HUANG, Manchi; a.k.a. WONG, Kam Kong; a.k.a. WONG, Kamkong; a.k.a. WONG, Moon Chi; a.k.a. WONG, Moonchi; a.k.a. WONG, Mun Chi; a.k.a. WONG, Munchi; a.k.a. WU, Chai Su; a.k.a. ZHANG, Jiang Ping; a.k.a. ZHANG, Jiangping; a.k.a. “CHI BANG”), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

WU, Nan Hsiung (a.k.a. CHARIAPAPORN, Hiran; a.k.a. CHARI-APAPORN, Hiran; a.k.a. CHARI-APHAPHON, Hiran; a.k.a. JAREE-ARPAPORN, Hiran; a.k.a. JAREE-ARPAPORN, Hirun), c/o A-TEAM CHEMICALS COMPANY LTD. , Bangkok, Thailand; c/o PLUS TECH AUTO SUPPLY COMPANY LTD., Bangkok, Thailand; DOB 3 Jan 1950; National ID No. 310062394060 (Thailand) (individual) [SDNTK]

WWW.ABOUTCUBA.COM (a.k.a. GO CUBA PLUS; a.k.a. T&M INTERNATIONAL LTD.; a.k.a. TOUR & MARKETING INTERNATIONAL LTD.; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.AEROCONTINENTE.COM (a.k.a. AERO CONTINENT S.A.; a.k.a. AERO CONTINENTE S.A; a.k.a. AEROCONTINENTE S.A.; n.k.a. NUEVO CONTINENTE S.A.; n.k.a. NUEVOCONTINENTE S.A.; a.k.a. WWW.AEROCONTINENTE.COM.PE; n.k.a. WWW.NUEVOCONTINENTE.COM.PE), Jr. Francisco Bolognesi 125, Piso 16, Miraflores, Lima 18, Peru; Av. Grau 602 D, Barranco, Lima, Peru; Plaza Camacho TDA 3-C, La Molina, Lima, Peru; Av. Antunez de Mayolo 889, Los Olivos, Lima, Peru; Av. Pardo 605, Miraflores I-Pardo, Lima, Peru; Av. Camino Real 441, San Isidro, Lima, Peru; Av. Arequipa 326, Santa Beatriz, Lima, Peru; Av. Benavides 4581, Surco I, Lima, Peru; Av. Saenz Pena 184, Callao, Lima, Peru; Av. Rufino Torrico 981, Lima, Peru; Av. Enrique Llosa 395-A, Magdalena, Lima, Peru; Av. Larco 123-2 Do Piso, Miraflores II-Larco, Lima, Peru; Av. Peru 3421, San Martin de Porres, Lima, Peru; C.C. San Miguel Shopping Center, TDA. 50—Av. La Mar 2291, San Miguel, Lima, Peru; Av. La Encalada 1587, (C.C. El Polo Block A Oficina 213), Surco II-C.C. El Polo, Lima, Peru; Av. Jose Pardo 601, Miraflores, Lima, Peru; Av. Peru 3421, San Martin, Lima, Peru; Av. Grau 624, Barranco, Lima, Peru; Av. La Marina 2095, San Miguel, Lima, Peru; Sta Catalina 105 A-B, Arequipa, Peru; Jr. 9 de Diciembre 160, Ayacucho, Peru; Jr. 2 de Mayo 381, Cajamarca, Peru; Calle San Jose 867-879, Chiclayo, Peru; Portal de Carnes 254, Cusco, Peru; Jr. Prospero 232, Iquitos, Peru; Calle San Roman 175, Juliaca, Peru; Jr. Libertad 945-951, Piura, Peru; Leon Velarde 584, Puerto Maldonado, Peru; Jr. 7 de Junio 861, Pucallpa, Peru; Alonso de Alvarado 726, Rioja, Peru; Calle Apurimac 265, Tacna, Peru; Jr. Moyobamba 101, Tarapoto, Peru; Jr. Pizarro 470, Trujillo, Peru; Av. Tumbes 217, Tumbes, Peru; Jr. Libertad 139, Yurimaguas, Peru; Av. Thames 2406 (CP 1425) C.F., Buenos Aires, Argentina; Av. Amazonas No. 22-11B Y Veintimilla-Quito, Quito, Ecuador; Avenida Portugal No. 20, Of. 27—Comuna Santiago Centro, Santiago, Chile; Boyaca 1012 Y P. Icaza, Guayaquil, Ecuador; Av. 27 De Febrero No. 102, Edif Miguel Mejia Urr. El Vergel, Santo Domingo, Dominican Republic; 1ra Avenida de Los Palos Grandes, Centro Comercial Quinora P.B., Locales L-1A y L-2A, Caracas, Venezuela; Calle Rio Rhin No. 64, P.B. Col. Cuauhtemoc C.P., Mexico City D.F. 065000, Mexico; Sarmiento 854 Piso 8 Of. 3 y 4 (CP-S2000CMN), Rosario (Santa Fe), Argentina; Av. Colon 119 Piso 3 Of. 6 (CP-X5000EPB), Cordoba, Argentina; Rivadavia 209 (CP-5500), Mendoza, Argentina; 8940 NW 24 Terrace, Miami, FL 33172; Bogota, Colombia; Business Registration Document # F01000003035 (United States); NIT # 8300720300 (Colombia); RUC # 20108363101 (Peru); U.S. FEIN 55-2197267 [SDNTK]

WWW.AEROCONTINENTE.COM.PE (a.k.a. AERO CONTINENT S.A.; a.k.a. AERO CONTINENTE S.A; a.k.a. AEROCONTINENTE S.A.; n.k.a. NUEVO CONTINENTE S.A.; n.k.a. NUEVOCONTINENTE S.A.; a.k.a. WWW.AEROCONTINENTE.COM; n.k.a. WWW.NUEVOCONTINENTE.COM.PE), Jr. Francisco Bolognesi 125, Piso 16, Miraflores, Lima 18, Peru; Av. Grau 602 D, Barranco, Lima, Peru; Plaza Camacho TDA 3-C, La Molina, Lima, Peru; Av. Antunez de Mayolo 889, Los Olivos, Lima, Peru; Av. Pardo 605, Miraflores I-Pardo, Lima, Peru; Av. Camino Real 441, San Isidro, Lima, Peru; Av. Arequipa 326, Santa Beatriz, Lima, Peru; Av. Benavides 4581, Surco I, Lima, Peru; Av. Saenz Pena 184, Callao, Lima, Peru; Av. Rufino Torrico 981, Lima, Peru; Av. Enrique Llosa 395-A, Magdalena, Lima, Peru; Av. Larco 123-2 Do Piso, Miraflores II-Larco, Lima, Peru; Av. Peru 3421, San Martin de Porres, Lima, Peru; C.C. San Miguel Shopping Center, TDA. 50—Av. La Mar 2291, San Miguel, Lima, Peru; Av. La Encalada 1587, (C.C. El Polo Block A Oficina 213), Surco II-C.C. El Polo, Lima, Peru; Av. Jose Pardo 601, Miraflores, Lima, Peru; Av. Peru 3421, San Martin, Lima, Peru; Av. Grau 624, Barranco, Lima, Peru; Av. La Marina 2095, San Miguel, Lima, Peru; Sta Catalina 105 A-B, Arequipa, Peru; Jr. 9 de Diciembre 160, Ayacucho, Peru; Jr. 2 de Mayo 381, Cajamarca, Peru; Calle San Jose 867-879, Chiclayo, Peru; Portal de Carnes 254, Cusco, Peru; Jr. Prospero 232, Iquitos, Peru; Calle San Roman 175, Juliaca, Peru; Jr. Libertad 945-951, Piura, Peru; Leon Velarde 584, Puerto Maldonado, Peru; Jr. 7 de Junio 861, Pucallpa, Peru; Alonso de Alvarado 726, Rioja, Peru; Calle Apurimac 265, Tacna, Peru; Jr. Moyobamba 101, Tarapoto, Peru; Jr. Pizarro 470, Trujillo, Peru; Av. Tumbes 217, Tumbes, Peru; Jr. Libertad 139, Yurimaguas, Peru; Av. Thames 2406 (CP 1425) C.F., Buenos Aires, Argentina; Av. Amazonas No. 22-11B Y Veintimilla-Quito, Quito, Ecuador; Avenida Portugal No. 20, Of. 27—Comuna Santiago Centro, Santiago, Chile; Boyaca 1012 Y P. Icaza, Guayaquil, Ecuador; Av. 27 De Febrero No. 102, Edif Miguel Mejia Urr. El Vergel, Santo Domingo, Dominican Republic; 1ra Avenida de Los Palos Grandes, Centro Comercial Quinora P.B., Locales L-1A y L-2A, Caracas, Venezuela; Calle Rio Rhin No. 64, P.B. Col. Cuauhtemoc C.P., Mexico City D.F. 065000, Mexico; Sarmiento 854 Piso 8 Of. 3 y 4 (CP-S2000CMN), Rosario (Santa Fe), Argentina; Av. Colon 119 Piso 3 Of. 6 (CP-X5000EPB), Cordoba, Argentina; Rivadavia 209 (CP-5500), Mendoza, Argentina; 8940 NW 24 Terrace, Miami, FL 33172; Bogota, Colombia; Business Registration Document # F01000003035 (United States); NIT # 8300720300 (Colombia); RUC # 20108363101 (Peru); U.S. FEIN 55-2197267 [SDNTK]

WWW.BONJOURCUBA.COM (a.k.a. GO CUBA PLUS; a.k.a. T&M INTERNATIONAL LTD.; a.k.a. TOUR & MARKETING INTERNATIONAL LTD.; a.k.a. WWW.ABOUTCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CIAOCUBA.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CIGARSSUPERSTORE.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBAADVICE.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA- GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-BARACOA.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-BAYAMO.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-CAMAGUEY.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-CAYOCOCO.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-CAYOGUILLERMO.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-CAYOLARGO.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-CAYOLEVISA.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-CAYOSABINAL.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-CAYOSAETIA.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-CAYOSANTAMARIA.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-CHE.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-CIEGODEAVILA.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-CIENFUEGOS.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-ECOTOURISM.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-ELGUEA.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBAFIRST.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBAFUN.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-GIRON.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-GRANMA.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-GUAMA.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-GUARDALAVACA.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-HAVANACITY.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-HEMINGWAY.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-HOLGUIN.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-ISLADELAJUVENTUD.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-JARDINESDELEREY.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-LAHABANA.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-LASTUNAS.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-MATANZAS.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBANBASEBALLTRAVEL.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBANCULTURE.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-OLDHAVANA.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBAONE.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-PINARDELRIO.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-SANCTISPIRITUS.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-SANTALUCIA.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-SANTIAGODECUBA.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-SHOP.NET (a.k.a. LA COMPANIA TIENDAS UNIVERSO S.A.) [CUBA]

WWW.CUBA-SHOPPING.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-SOROA.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBASPORTS.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-TOPESDECOLLANTES.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBATRAVELDIRECTORY.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-TRINIDAD.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-VARADEROBEACH.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-VILLACLARA.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBAVIP.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.CUBA-WEATHER.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA- CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.GOCUBA.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.GOCUBA.CU (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.GOCUBAPLUS.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.IPIXCUBA.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.NO.GOCUBAPLUS.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.NO.GOCUBAPLUS.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.REALESTATECUBA.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.NUEVOCONTINENTE.COM.PE (a.k.a. AERO CONTINENT S.A.; a.k.a. AERO CONTINENTE S.A; a.k.a. AEROCONTINENTE S.A.; n.k.a. NUEVO CONTINENTE S.A.; n.k.a. NUEVOCONTINENTE S.A.; a.k.a. WWW.AEROCONTINENTE.COM; a.k.a. WWW.AEROCONTINENTE.COM.PE), Jr. Francisco Bolognesi 125, Piso 16, Miraflores, Lima 18, Peru; Av. Grau 602 D, Barranco, Lima, Peru; Plaza Camacho TDA 3-C, La Molina, Lima, Peru; Av. Antunez de Mayolo 889, Los Olivos, Lima, Peru; Av. Pardo 605, Miraflores I-Pardo, Lima, Peru; Av. Camino Real 441, San Isidro, Lima, Peru; Av. Arequipa 326, Santa Beatriz, Lima, Peru; Av. Benavides 4581, Surco I, Lima, Peru; Av. Saenz Pena 184, Callao, Lima, Peru; Av. Rufino Torrico 981, Lima, Peru; Av. Enrique Llosa 395-A, Magdalena, Lima, Peru; Av. Larco 123-2 Do Piso, Miraflores II-Larco, Lima, Peru; Av. Peru 3421, San Martin de Porres, Lima, Peru; C.C. San Miguel Shopping Center, TDA. 50—Av. La Mar 2291, San Miguel, Lima, Peru; Av. La Encalada 1587, (C.C. El Polo Block A Oficina 213), Surco II-C.C. El Polo, Lima, Peru; Av. Jose Pardo 601, Miraflores, Lima, Peru; Av. Peru 3421, San Martin, Lima, Peru; Av. Grau 624, Barranco, Lima, Peru; Av. La Marina 2095, San Miguel, Lima, Peru; Sta Catalina 105 A-B, Arequipa, Peru; Jr. 9 de Diciembre 160, Ayacucho, Peru; Jr. 2 de Mayo 381, Cajamarca, Peru; Calle San Jose 867-879, Chiclayo, Peru; Portal de Carnes 254, Cusco, Peru; Jr. Prospero 232, Iquitos, Peru; Calle San Roman 175, Juliaca, Peru; Jr. Libertad 945-951, Piura, Peru; Leon Velarde 584, Puerto Maldonado, Peru; Jr. 7 de Junio 861, Pucallpa, Peru; Alonso de Alvarado 726, Rioja, Peru; Calle Apurimac 265, Tacna, Peru; Jr. Moyobamba 101, Tarapoto, Peru; Jr. Pizarro 470, Trujillo, Peru; Av. Tumbes 217, Tumbes, Peru; Jr. Libertad 139, Yurimaguas, Peru; Av. Thames 2406 (CP 1425) C.F., Buenos Aires, Argentina; Av. Amazonas No. 22-11B Y Veintimilla-Quito, Quito, Ecuador; Avenida Portugal No. 20, Of. 27—Comuna Santiago Centro, Santiago, Chile; Boyaca 1012 Y P. Icaza, Guayaquil, Ecuador; Av. 27 De Febrero No. 102, Edif Miguel Mejia Urr. El Vergel, Santo Domingo, Dominican Republic; 1ra Avenida de Los Palos Grandes, Centro Comercial Quinora P.B., Locales L-1A y L-2A, Caracas, Venezuela; Calle Rio Rhin No. 64, P.B. Col. Cuauhtemoc C.P., Mexico City D.F. 065000, Mexico; Sarmiento 854 Piso 8 Of. 3 y 4 (CP-S2000CMN), Rosario (Santa Fe), Argentina; Av. Colon 119 Piso 3 Of. 6 (CP-X5000EPB), Cordoba, Argentina; Rivadavia 209 (CP-5500), Mendoza, Argentina; 8940 NW 24 Terrace, Miami, FL 33172; Bogota, Colombia; Business Registration Document # F01000003035 (United States); NIT # 8300720300 (Colombia); RUC # 20108363101 (Peru); U.S. FEIN 55-2197267 [SDNTK]

WWW.REALESTATECUBA.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.TOURANDMARKETING.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.SERCUBA.COM (a.k.a. SERCUBA), Libertad s/n, e/ Honorato del Castillo y Maceo, Ciego de Avila, Cuba; Gral. Gomez #105 e/ Maceo e Independencia, Camaguey, Cuba; Calle 29 #5218 e/ 52 y 54 Edif. Cimex, Cienfuegos, Cuba; Calle 6 #408 esq. 3ra. Ave. Miramar Playa, La Habana, Cuba; Edif. Las Novedades altos Ave. Frank Pais e/ Segunda y Aven. Figueredo. Rpto. Jesus Menendez. Bayamo, Granma, Cuba; Crombet s/n e/ Los Maceos y Moncada, Guantanamo, Cuba; Frexes #216 e/ Maceo y Martires, Holguin, Cuba; Ave. 1ro. De Mayo s/n. Moa, Holguin, Cuba; Vicente Garcia #28 e/ Julian Santana y Francisco Vega, Tienda La Nueva, Las Tunas, Cuba; Calle 40 esq. Playa. Varadero, Matanzas, Cuba; Calle Ayuntamiento e/ Medio y Rio, Matanzas, Cuba; Gerardo Medina #633, Pinar del Rio, Cuba; Independencia #171 Sur, altos, Sancti Spiritus, Cuba; Felix Pena #565 e/ Jose A. Saco y Aguilera, Santiago de Cuba, Cuba; Carretera Central Km. 298 Banda Esperanza, Villa Clara, Cuba; Calle 39 e/ 30 y 32 Altos del Servi Cupet “El parque”, Isla de la Juventud, Cuba [CUBA]

WWW.TOURANDMARKETING.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.VAMOSACUBA.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

WWW.VAMOSACUBA.COM (a.k.a. GO CUBA PLUS; a.k.a. T&M INTERNATIONAL LTD.; a.k.a. TOUR & MARKETING INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM), Ellen L. Skelton Building, 4th Floor, Fishers Estate, P.O. Box 3820, Road Town, Tortola, Virgin Islands, British; P.O. Box 24258, London, England SE9 1WS, United Kingdom; Hotel Acuario, Suite 3511, Marina Hemingway, Santa Fe, Playa, Havana, Cuba; Hotel Acuario, Suite 3541, Marina Hemingway, Santa Fe, Playa, Havana, Cuba; Hotel Acuario, Suite 3542, Marina Hemingway, Santa Fe, Playa, Havana, Cuba; Hotel Viejo y el Mar, Suite 6005, Marina Hemingway, Playa, Havana, Cuba; Calle 12 y Mar, Varadero Matanzas, Cuba; Calle Ramon Pino, No. 4, 38650, Los Cristianos, Arona, Tenerife, Spain [CUBA]

XAKI (a.k.a. ASKATASUNA; a.k.a. BASQUE FATHERLAND AND LIBERTY; a.k.a. BATASUNA; a.k.a. EKIN; a.k.a. EPANASTATIKI PIRINES; a.k.a. ETA; a.k.a. EUSKAL HERRITARROK; a.k.a. EUZKADI TA ASKATASUNA; a.k.a. HERRI BATASUNA; a.k.a. JARRAI-HAIKA-SEGI; a.k.a. K.A.S.; a.k.a. POPULAR REVOLUTIONARY STRUGGLE) [FTO] [SDGT]

XHAFERI, Shefit; DOB 1960 (individual) [BALKANS]

XHEMAJLI, Emrush; DOB 5 May 1959; POB Urosevac, Serbia and Montenegro (individual) [BALKANS]

XHEMAJLI, Muhamet; DOB 8 Feb 1958; POB Muhovac, Serbia and Montenegro (individual) [BALKANS]

YACINE DI ANNABA (a.k.a. AHMED NACER, Yacine), Rue Mohamed Khemisti, 6, Annaba, Algeria; Via Genova, 121, Naples, Italy; Vicolo Duchessa, 16, Naples, Italy; DOB 2 Dec 1967; POB Annaba, Algeria (individual) [SDGT]

YACUB, Eric (a.k.a. REFKE, Taufek; a.k.a. RIFKI, Taufik; a.k.a. RIFQI, Taufik; a.k.a. RIFQI, Tawfiq; a.k.a. “ABU OBAIDA”; a.k.a. “ABU OBAIDAH”; a.k.a. “ABU OBAYDA”; a.k.a. “ABU OBEIDA”; a.k.a. “ABU UBAIDAH”; a.k.a. “AMI IRAQ”; a.k.a. “AMI IRZA”; a.k.a. “AMI KUSOMAN”; a.k.a. “AMMY ERZA”; a.k.a. “AMMY IZZA”; a.k.a. “AMY ERJA”; a.k.a. “IZZA KUSOMAN”; a.k.a. “OBAIDAH”); DOB 29 Aug 1974; alt. DOB 19 Aug 1980; alt. DOB 9 Aug 1974; alt. DOB 19 Aug 1974; POB Dacusuman Surakarta, Central Java, Indonesia; nationality Indonesia (individual) [SDGT]

YAHYA AYYASH UNITS (a.k.a. HAMAS; a.k.a. HARAKAT AL-MUQAWAMA AL-ISLAMIYA; a.k.a. ISLAMIC RESISTANCE MOVEMENT; a.k.a. IZZ AL-DIN AL QASSAM BATTALIONS; a.k.a. IZZ AL-DIN AL QASSAM BRIGADES; a.k.a. IZZ AL-DIN AL QASSAM FORCES; a.k.a. IZZ AL-DIN AL-QASSIM BATTALIONS; a.k.a. IZZ AL-DIN AL-QASSIM BRIGADES; a.k.a. IZZ AL-DIN AL-QASSIM FORCES; a.k.a. STUDENTS OF AYYASH; a.k.a. STUDENTS OF THE ENGINEER) [SDT] [FTO] [SDGT]

YAM, Melvia Isabel Gallegos, Merida, Mexico (individual) [CUBA]

YAMARU TRADING CO., LTD., Tokyo, Japan [CUBA]

YAMIL GEORGES, Fahd (a.k.a. JAMIL GEORGES, Fahd; a.k.a. JAMIL GEORGES, Fuad; a.k.a. “EL PADRINO”; a.k.a. “TURCO”), Pedro Juan Caballero, Amambay, Paraguay; Ponta Pora, Mato Grosso do Sul, Brazil; DOB 7 Jun 1941; citizen Brazil; nationality Lebanon; Cedula No. RG-013147 (Brazil) (individual) [SDNTK]

YANDARBIEV, Zelimkhan Ahmedovich Abdul Muslimovich, Derzhavina Street 281-59, Grozny, Chechen Republic, Chechnya, Russia; DOB 12 Sep 1952; POB Vydriba Eastern Kazakhstan; citizen Russia; Passport 43 No. 1600453 (Russia) (individual) [SDGT]

YANEZ GUERRERO, Rigoberto; DOB 1962; nationality Mexico (individual) [SDNTK]

YARMOSHINA , Lidziya Mikhailovna (a.k.a. YARMOSHINA, Lidya Mihaulauna; a.k.a. YARMOSHINA, Lidya Mikhailovna; a.k.a. YARMOSHINA, Lidziya Mihaulauna; a.k.a. YARMOSHINA, Lydia Mihaulauna; a.k.a. YARMOSHINA, Lydia Mikhailovna; a.k.a. YARMOSHYNA, Lidya Mihaulauna; a.k.a. YARMOSHYNA, Lidya Mikhailovna; a.k.a. YARMOSHYNA, Lidziya Mihaulauna; a.k.a. YARMOSHYNA, Lidziya Mikhailovna; a.k.a. YARMOSHYNA, Lydia Mihaulauna; a.k.a. YARMOSHYNA, Lydia Mikhailovna; a.k.a. YERMOSHINA, Lidya Mihaulauna; a.k.a. YERMOSHINA, Lidya Mikhailovna; a.k.a. YERMOSHINA, Lidziya Mihaulauna; a.k.a. YERMOSHINA, Lidziya Mikhailovna; a.k.a. YERMOSHINA, Lydia Mihaulauna; a.k.a. YERMOSHINA, Lydia Mikhailovna); DOB 29 Jan 1953; POB Slutsk, Belarus; Head of the Central Commission for Elections and National Referendums (CEC) (individual) [BELARUS]

YARMOSHINA, Lidya Mihaulauna (a.k.a. YARMOSHINA , Lidziya Mikhailovna; a.k.a. YARMOSHINA, Lidya Mikhailovna; a.k.a. YARMOSHINA, Lidziya Mihaulauna; a.k.a. YARMOSHINA, Lydia Mihaulauna; a.k.a. YARMOSHINA, Lydia Mikhailovna; a.k.a. YARMOSHYNA, Lidya Mihaulauna; a.k.a. YARMOSHYNA, Lidya Mikhailovna; a.k.a. YARMOSHYNA, Lidziya Mihaulauna; a.k.a. YARMOSHYNA, Lidziya Mikhailovna; a.k.a. YARMOSHYNA, Lydia Mihaulauna; a.k.a. YARMOSHYNA, Lydia Mikhailovna; a.k.a. YERMOSHINA, Lidya Mihaulauna; a.k.a. YERMOSHINA, Lidya Mikhailovna; a.k.a. YERMOSHINA, Lidziya Mihaulauna; a.k.a. YERMOSHINA, Lidziya Mikhailovna; a.k.a. YERMOSHINA, Lydia Mihaulauna; a.k.a. YERMOSHINA, Lydia Mikhailovna); DOB 29 Jan 1953; POB Slutsk, Belarus; Head of the Central Commission for Elections and National Referendums (CEC) (individual) [BELARUS]

YARMOSHINA, Lidya Mikhailovna (a.k.a. YARMOSHINA , Lidziya Mikhailovna; a.k.a. YARMOSHINA, Lidya Mihaulauna; a.k.a. YARMOSHINA, Lidziya Mihaulauna; a.k.a. YARMOSHINA, Lydia Mihaulauna; a.k.a. YARMOSHINA, Lydia Mikhailovna; a.k.a. YARMOSHYNA, Lidya Mihaulauna; a.k.a. YARMOSHYNA, Lidya Mikhailovna; a.k.a. YARMOSHYNA, Lidziya Mihaulauna; a.k.a. YARMOSHYNA, Lidziya Mikhailovna; a.k.a. YARMOSHYNA, Lydia Mihaulauna; a.k.a. YARMOSHYNA, Lydia Mikhailovna; a.k.a. YERMOSHINA, Lidya Mihaulauna; a.k.a. YERMOSHINA, Lidya Mikhailovna; a.k.a. YERMOSHINA, Lidziya Mihaulauna; a.k.a. YERMOSHINA, Lidziya Mikhailovna; a.k.a. YERMOSHINA, Lydia Mihaulauna; a.k.a. YERMOSHINA, Lydia Mikhailovna); DOB 29 Jan 1953; POB Slutsk, Belarus; Head of the Central Commission for Elections and National Referendums (CEC) (individual) [BELARUS]

YARMOSHINA, Lidziya Mihaulauna (a.k.a. YARMOSHINA , Lidziya Mikhailovna; a.k.a. YARMOSHINA, Lidya Mihaulauna; a.k.a. YARMOSHINA, Lidya Mikhailovna; a.k.a. YARMOSHINA, Lydia Mihaulauna; a.k.a. YARMOSHINA, Lydia Mikhailovna; a.k.a. YARMOSHYNA, Lidya Mihaulauna; a.k.a. YARMOSHYNA, Lidya Mikhailovna; a.k.a. YARMOSHYNA, Lidziya Mihaulauna; a.k.a. YARMOSHYNA, Lidziya Mikhailovna; a.k.a. YARMOSHYNA, Lydia Mihaulauna; a.k.a. YARMOSHYNA, Lydia Mikhailovna; a.k.a. YERMOSHINA, Lidya Mihaulauna; a.k.a. YERMOSHINA, Lidya Mikhailovna; a.k.a. YERMOSHINA, Lidziya Mihaulauna; a.k.a. YERMOSHINA, Lidziya Mikhailovna; a.k.a. YERMOSHINA, Lydia Mihaulauna; a.k.a. YERMOSHINA, Lydia Mikhailovna); DOB 29 Jan 1953; POB Slutsk, Belarus; Head of the Central Commission for Elections and National Referendums (CEC) (individual) [BELARUS]

YARMOSHINA, Lydia Mihaulauna (a.k.a. YARMOSHINA , Lidziya Mikhailovna; a.k.a. YARMOSHINA, Lidya Mihaulauna; a.k.a. YARMOSHINA, Lidya Mikhailovna; a.k.a. YARMOSHINA, Lidziya Mihaulauna; a.k.a. YARMOSHINA, Lydia Mikhailovna; a.k.a. YARMOSHYNA, Lidya Mihaulauna; a.k.a. YARMOSHYNA, Lidya Mikhailovna; a.k.a. YARMOSHYNA, Lidziya Mihaulauna; a.k.a. YARMOSHYNA, Lidziya Mikhailovna; a.k.a. YARMOSHYNA, Lydia Mihaulauna; a.k.a. YARMOSHYNA, Lydia Mikhailovna; a.k.a. YERMOSHINA, Lidya Mihaulauna; a.k.a. YERMOSHINA, Lidya Mikhailovna; a.k.a. YERMOSHINA, Lidziya Mihaulauna; a.k.a. YERMOSHINA, Lidziya Mikhailovna; a.k.a. YERMOSHINA, Lydia Mihaulauna; a.k.a. YERMOSHINA, Lydia Mikhailovna); DOB 29 Jan 1953; POB Slutsk, Belarus; Head of the Central Commission for Elections and National Referendums (CEC) (individual) [BELARUS]

YARMOSHINA, Lydia Mikhailovna (a.k.a. YARMOSHINA , Lidziya Mikhailovna; a.k.a. YARMOSHINA, Lidya Mihaulauna; a.k.a. YARMOSHINA, Lidya Mikhailovna; a.k.a. YARMOSHINA, Lidziya Mihaulauna; a.k.a. YARMOSHINA, Lydia Mihaulauna; a.k.a. YARMOSHYNA, Lidya Mihaulauna; a.k.a. YARMOSHYNA, Lidya Mikhailovna; a.k.a. YARMOSHYNA, Lidziya Mihaulauna; a.k.a. YARMOSHYNA, Lidziya Mikhailovna; a.k.a. YARMOSHYNA, Lydia Mihaulauna; a.k.a. YARMOSHYNA, Lydia Mikhailovna; a.k.a. YERMOSHINA, Lidya Mihaulauna; a.k.a. YERMOSHINA, Lidya Mikhailovna; a.k.a. YERMOSHINA, Lidziya Mihaulauna; a.k.a. YERMOSHINA, Lidziya Mikhailovna; a.k.a. YERMOSHINA, Lydia Mihaulauna; a.k.a. YERMOSHINA, Lydia Mikhailovna); DOB 29 Jan 1953; POB Slutsk, Belarus; Head of the Central Commission for Elections and National Referendums (CEC) (individual) [BELARUS]

YARMOSHYNA, Lidya Mihaulauna (a.k.a. YARMOSHINA , Lidziya Mikhailovna; a.k.a. YARMOSHINA, Lidya Mihaulauna; a.k.a. YARMOSHINA, Lidya Mikhailovna; a.k.a. YARMOSHINA, Lidziya Mihaulauna; a.k.a. YARMOSHINA, Lydia Mihaulauna; a.k.a. YARMOSHINA, Lydia Mikhailovna; a.k.a. YARMOSHYNA, Lidya Mikhailovna; a.k.a. YARMOSHYNA, Lidziya Mihaulauna; a.k.a. YARMOSHYNA, Lidziya Mikhailovna; a.k.a. YARMOSHYNA, Lydia Mihaulauna; a.k.a. YARMOSHYNA, Lydia Mikhailovna; a.k.a. YERMOSHINA, Lidya Mihaulauna; a.k.a. YERMOSHINA, Lidya Mikhailovna; a.k.a. YERMOSHINA, Lidziya Mihaulauna; a.k.a. YERMOSHINA, Lidziya Mikhailovna; a.k.a. YERMOSHINA, Lydia Mihaulauna; a.k.a. YERMOSHINA, Lydia Mikhailovna); DOB 29 Jan 1953; POB Slutsk, Belarus; Head of the Central Commission for Elections and National Referendums (CEC) (individual) [BELARUS]

YARMOSHYNA, Lidya Mikhailovna (a.k.a. YARMOSHINA , Lidziya Mikhailovna; a.k.a. YARMOSHINA, Lidya Mihaulauna; a.k.a. YARMOSHINA, Lidya Mikhailovna; a.k.a. YARMOSHINA, Lidziya Mihaulauna; a.k.a. YARMOSHINA, Lydia Mihaulauna; a.k.a. YARMOSHINA, Lydia Mikhailovna; a.k.a. YARMOSHYNA, Lidya Mihaulauna; a.k.a. YARMOSHYNA, Lidziya Mihaulauna; a.k.a. YARMOSHYNA, Lidziya Mikhailovna; a.k.a. YARMOSHYNA, Lydia Mihaulauna; a.k.a. YARMOSHYNA, Lydia Mikhailovna; a.k.a. YERMOSHINA, Lidya Mihaulauna; a.k.a. YERMOSHINA, Lidya Mikhailovna; a.k.a. YERMOSHINA, Lidziya Mihaulauna; a.k.a. YERMOSHINA, Lidziya Mikhailovna; a.k.a. YERMOSHINA, Lydia Mihaulauna; a.k.a. YERMOSHINA, Lydia Mikhailovna); DOB 29 Jan 1953; POB Slutsk, Belarus; Head of the Central Commission for Elections and National Referendums (CEC) (individual) [BELARUS]

YARMOSHYNA, Lidziya Mihaulauna (a.k.a. YARMOSHINA , Lidziya Mikhailovna; a.k.a. YARMOSHINA, Lidya Mihaulauna; a.k.a. YARMOSHINA, Lidya Mikhailovna; a.k.a. YARMOSHINA, Lidziya Mihaulauna; a.k.a. YARMOSHINA, Lydia Mihaulauna; a.k.a. YARMOSHINA, Lydia Mikhailovna; a.k.a. YARMOSHYNA, Lidya Mihaulauna; a.k.a. YARMOSHYNA, Lidya Mikhailovna; a.k.a. YARMOSHYNA, Lidziya Mikhailovna; a.k.a. YARMOSHYNA, Lydia Mihaulauna; a.k.a. YARMOSHYNA, Lydia Mikhailovna; a.k.a. YERMOSHINA, Lidya Mihaulauna; a.k.a. YERMOSHINA, Lidya Mikhailovna; a.k.a. YERMOSHINA, Lidziya Mihaulauna; a.k.a. YERMOSHINA, Lidziya Mikhailovna; a.k.a. YERMOSHINA, Lydia Mihaulauna; a.k.a. YERMOSHINA, Lydia Mikhailovna); DOB 29 Jan 1953; POB Slutsk, Belarus; Head of the Central Commission for Elections and National Referendums (CEC) (individual) [BELARUS]

YARMOSHYNA, Lidziya Mikhailovna (a.k.a. YARMOSHINA , Lidziya Mikhailovna; a.k.a. YARMOSHINA, Lidya Mihaulauna; a.k.a. YARMOSHINA, Lidya Mikhailovna; a.k.a. YARMOSHINA, Lidziya Mihaulauna; a.k.a. YARMOSHINA, Lydia Mihaulauna; a.k.a. YARMOSHINA, Lydia Mikhailovna; a.k.a. YARMOSHYNA, Lidya Mihaulauna; a.k.a. YARMOSHYNA, Lidya Mikhailovna; a.k.a. YARMOSHYNA, Lidziya Mihaulauna; a.k.a. YARMOSHYNA, Lydia Mihaulauna; a.k.a. YARMOSHYNA, Lydia Mikhailovna; a.k.a. YERMOSHINA, Lidya Mihaulauna; a.k.a. YERMOSHINA, Lidya Mikhailovna; a.k.a. YERMOSHINA, Lidziya Mihaulauna; a.k.a. YERMOSHINA, Lidziya Mikhailovna; a.k.a. YERMOSHINA, Lydia Mihaulauna; a.k.a. YERMOSHINA, Lydia Mikhailovna); DOB 29 Jan 1953; POB Slutsk, Belarus; Head of the Central Commission for Elections and National Referendums (CEC) (individual) [BELARUS]

YARMOSHYNA, Lydia Mihaulauna (a.k.a. YARMOSHINA , Lidziya Mikhailovna; a.k.a. YARMOSHINA, Lidya Mihaulauna; a.k.a. YARMOSHINA, Lidya Mikhailovna; a.k.a. YARMOSHINA, Lidziya Mihaulauna; a.k.a. YARMOSHINA, Lydia Mihaulauna; a.k.a. YARMOSHINA, Lydia Mikhailovna; a.k.a. YARMOSHYNA, Lidya Mihaulauna; a.k.a. YARMOSHYNA, Lidya Mikhailovna; a.k.a. YARMOSHYNA, Lidziya Mihaulauna; a.k.a. YARMOSHYNA, Lidziya Mikhailovna; a.k.a. YARMOSHYNA, Lydia Mikhailovna; a.k.a. YERMOSHINA, Lidya Mihaulauna; a.k.a. YERMOSHINA, Lidya Mikhailovna; a.k.a. YERMOSHINA, Lidziya Mihaulauna; a.k.a. YERMOSHINA, Lidziya Mikhailovna; a.k.a. YERMOSHINA, Lydia Mihaulauna; a.k.a. YERMOSHINA, Lydia Mikhailovna); DOB 29 Jan 1953; POB Slutsk, Belarus; Head of the Central Commission for Elections and National Referendums (CEC) (individual) [BELARUS]

YARMOSHYNA, Lydia Mikhailovna (a.k.a. YARMOSHINA , Lidziya Mikhailovna; a.k.a. YARMOSHINA, Lidya Mihaulauna; a.k.a. YARMOSHINA, Lidya Mikhailovna; a.k.a. YARMOSHINA, Lidziya Mihaulauna; a.k.a. YARMOSHINA, Lydia Mihaulauna; a.k.a. YARMOSHINA, Lydia Mikhailovna; a.k.a. YARMOSHYNA, Lidya Mihaulauna; a.k.a. YARMOSHYNA, Lidya Mikhailovna; a.k.a. YARMOSHYNA, Lidziya Mihaulauna; a.k.a. YARMOSHYNA, Lidziya Mikhailovna; a.k.a. YARMOSHYNA, Lydia Mihaulauna; a.k.a. YERMOSHINA, Lidya Mihaulauna; a.k.a. YERMOSHINA, Lidya Mikhailovna; a.k.a. YERMOSHINA, Lidziya Mihaulauna; a.k.a. YERMOSHINA, Lidziya Mikhailovna; a.k.a. YERMOSHINA, Lydia Mihaulauna; a.k.a. YERMOSHINA, Lydia Mikhailovna); DOB 29 Jan 1953; POB Slutsk, Belarus; Head of the Central Commission for Elections and National Referendums (CEC) (individual) [BELARUS]

YASIN, Abdul Hadi (a.k.a. ABU MUAMAR; a.k.a. MOCHTAR, Yasin Mahmud; a.k.a. MUBAROK, Muhamad; a.k.a. SYAWAL, Muhammad; a.k.a. SYAWAL, Yassin; a.k.a. YASIN, Salim; a.k.a. “ABU SETA”; a.k.a. “MAHMUD”); DOB circa 1972; nationality Indonesia (individual) [SDGT]

YASIN, Abdul Rahman (a.k.a. TAHA, Abdul Rahman S.; a.k.a. TAHER, Abdul Rahman S.; a.k.a. YASIN, Abdul Rahman Said; a.k.a. YASIN, Aboud); DOB 10 Apr 1960; POB Bloomington, Indiana USA; citizen United States; Passport 27082171 (United States) issued 21 Jun 1992; alt. Passport M0887925 (Iraq); SSN 156-92-9858 (United States); U.S.A. Passport issued 21 Jun 1992 in Amman, Jordan (individual) [SDGT]

YASIN, Abdul Rahman Said (a.k.a. TAHA, Abdul Rahman S.; a.k.a. TAHER, Abdul Rahman S.; a.k.a. YASIN, Abdul Rahman; a.k.a. YASIN, Aboud); DOB 10 Apr 1960; POB Bloomington, Indiana USA; citizen United States; Passport 27082171 (United States) issued 21 Jun 1992; alt. Passport M0887925 (Iraq); SSN 156-92-9858 (United States); U.S.A. Passport issued 21 Jun 1992 in Amman, Jordan (individual) [SDGT]

YASIN, Aboud (a.k.a. TAHA, Abdul Rahman S.; a.k.a. TAHER, Abdul Rahman S.; a.k.a. YASIN, Abdul Rahman; a.k.a. YASIN, Abdul Rahman Said); DOB 10 Apr 1960; POB Bloomington, Indiana USA; citizen United States; Passport 27082171 (United States) issued 21 Jun 1992; alt. Passport M0887925 (Iraq); SSN 156-92-9858 (United States); U.S.A. Passport issued 21 Jun 1992 in Amman, Jordan (individual) [SDGT]

YASIN, Salim (a.k.a. ABU MUAMAR; a.k.a. MOCHTAR, Yasin Mahmud; a.k.a. MUBAROK, Muhamad; a.k.a. SYAWAL, Muhammad; a.k.a. SYAWAL, Yassin; a.k.a. YASIN, Abdul Hadi; a.k.a. “ABU SETA”; a.k.a. “MAHMUD”); DOB circa 1972; nationality Indonesia (individual) [SDGT]

YASSIN, Sheik Ahmed Ismail, Gaza Strip, undetermined; DOB 1938; POB al-Jawrah, al-Majdal District, Gaza (individual) [SDT] [SDGT]

YAYASAN AL HARAMAIN (a.k.a. AL HARAMAIN; a.k.a. AL-HARAMAIN : INDONESIA BRANCH; a.k.a. AL-HARAMAIN FOUNDATION; a.k.a. YAYASAN AL HARAMAINI; a.k.a. YAYASAN AL-MANAHIL-INDONESIA), Jalan Laut Sulawesi Blok DII/4, Kavling Angkatan Laut Duren Sawit, Jakarta Timur 13440, Indonesia [SDGT]

YAYASAN AL HARAMAINI (a.k.a. AL HARAMAIN; a.k.a. AL-HARAMAIN : INDONESIA BRANCH; a.k.a. AL-HARAMAIN FOUNDATION; a.k.a. YAYASAN AL HARAMAIN; a.k.a. YAYASAN AL-MANAHIL-INDONESIA), Jalan Laut Sulawesi Blok DII/4, Kavling Angkatan Laut Duren Sawit, Jakarta Timur 13440, Indonesia [SDGT]

YAYASAN AL-MANAHIL-INDONESIA (a.k.a. AL HARAMAIN; a.k.a. AL-HARAMAIN : INDONESIA BRANCH; a.k.a. AL-HARAMAIN FOUNDATION; a.k.a. YAYASAN AL HARAMAIN; a.k.a. YAYASAN AL HARAMAINI), Jalan Laut Sulawesi Blok DII/4, Kavling Angkatan Laut Duren Sawit, Jakarta Timur 13440, Indonesia [SDGT]

YEATEN, Benjamin (a.k.a. YEATON, Benjamin); Passport D-00123299 (Liberia); Former Director, Special Security Services of Liberia; Diplomatic (individual) [LIBERIA]

YEATON, Benjamin (a.k.a. YEATEN, Benjamin); Passport D-00123299 (Liberia); Former Director, Special Security Services of Liberia; Diplomatic (individual) [LIBERIA]

YEPES ALZATE, Milady, c/o OBURSATILES S.A., Cali, Colombia; DOB 9 Jan 1968; Cedula No. 31971236 (Colombia); Passport 31971236 (Colombia) (individual) [SDNT]

YEPES LOPEZ, Maria Emma, c/o MAPRI DE COLOMBIA LTDA., Bogota, Colombia; Cedula No. 25015128 (Colombia); Passport 25015128 (Colombia) (individual) [SDNT]

YERMOSHINA, Lidya Mihaulauna (a.k.a. YARMOSHINA , Lidziya Mikhailovna; a.k.a. YARMOSHINA, Lidya Mihaulauna; a.k.a. YARMOSHINA, Lidya Mikhailovna; a.k.a. YARMOSHINA, Lidziya Mihaulauna; a.k.a. YARMOSHINA, Lydia Mihaulauna; a.k.a. YARMOSHINA, Lydia Mikhailovna; a.k.a. YARMOSHYNA, Lidya Mihaulauna; a.k.a. YARMOSHYNA, Lidya Mikhailovna; a.k.a. YARMOSHYNA, Lidziya Mihaulauna; a.k.a. YARMOSHYNA, Lidziya Mikhailovna; a.k.a. YARMOSHYNA, Lydia Mihaulauna; a.k.a. YARMOSHYNA, Lydia Mikhailovna; a.k.a. YERMOSHINA, Lidya Mikhailovna; a.k.a. YERMOSHINA, Lidziya Mihaulauna; a.k.a. YERMOSHINA, Lidziya Mikhailovna; a.k.a. YERMOSHINA, Lydia Mihaulauna; a.k.a. YERMOSHINA, Lydia Mikhailovna); DOB 29 Jan 1953; POB Slutsk, Belarus; Head of the Central Commission for Elections and National Referendums (CEC) (individual) [BELARUS]

YERMOSHINA, Lidya Mikhailovna (a.k.a. YARMOSHINA , Lidziya Mikhailovna; a.k.a. YARMOSHINA, Lidya Mihaulauna; a.k.a. YARMOSHINA, Lidya Mikhailovna; a.k.a. YARMOSHINA, Lidziya Mihaulauna; a.k.a. YARMOSHINA, Lydia Mihaulauna; a.k.a. YARMOSHINA, Lydia Mikhailovna; a.k.a. YARMOSHYNA, Lidya Mihaulauna; a.k.a. YARMOSHYNA, Lidya Mikhailovna; a.k.a. YARMOSHYNA, Lidziya Mihaulauna; a.k.a. YARMOSHYNA, Lidziya Mikhailovna; a.k.a. YARMOSHYNA, Lydia Mihaulauna; a.k.a. YARMOSHYNA, Lydia Mikhailovna; a.k.a. YERMOSHINA, Lidya Mihaulauna; a.k.a. YERMOSHINA, Lidziya Mihaulauna; a.k.a. YERMOSHINA, Lidziya Mikhailovna; a.k.a. YERMOSHINA, Lydia Mihaulauna; a.k.a. YERMOSHINA, Lydia Mikhailovna); DOB 29 Jan 1953; POB Slutsk, Belarus; Head of the Central Commission for Elections and National Referendums (CEC) (individual) [BELARUS]

YERMOSHINA, Lidziya Mihaulauna (a.k.a. YARMOSHINA , Lidziya Mikhailovna; a.k.a. YARMOSHINA, Lidya Mihaulauna; a.k.a. YARMOSHINA, Lidya Mikhailovna; a.k.a. YARMOSHINA, Lidziya Mihaulauna; a.k.a. YARMOSHINA, Lydia Mihaulauna; a.k.a. YARMOSHINA, Lydia Mikhailovna; a.k.a. YARMOSHYNA, Lidya Mihaulauna; a.k.a. YARMOSHYNA, Lidya Mikhailovna; a.k.a. YARMOSHYNA, Lidziya Mihaulauna; a.k.a. YARMOSHYNA, Lidziya Mikhailovna; a.k.a. YARMOSHYNA, Lydia Mihaulauna; a.k.a. YARMOSHYNA, Lydia Mikhailovna; a.k.a. YERMOSHINA, Lidya Mihaulauna; a.k.a. YERMOSHINA, Lidya Mikhailovna; a.k.a. YERMOSHINA, Lidziya Mikhailovna; a.k.a. YERMOSHINA, Lydia Mihaulauna; a.k.a. YERMOSHINA, Lydia Mikhailovna); DOB 29 Jan 1953; POB Slutsk, Belarus; Head of the Central Commission for Elections and National Referendums (CEC) (individual) [BELARUS]

YERMOSHINA, Lidziya Mikhailovna (a.k.a. YARMOSHINA , Lidziya Mikhailovna; a.k.a. YARMOSHINA, Lidya Mihaulauna; a.k.a. YARMOSHINA, Lidya Mikhailovna; a.k.a. YARMOSHINA, Lidziya Mihaulauna; a.k.a. YARMOSHINA, Lydia Mihaulauna; a.k.a. YARMOSHINA, Lydia Mikhailovna; a.k.a. YARMOSHYNA, Lidya Mihaulauna; a.k.a. YARMOSHYNA, Lidya Mikhailovna; a.k.a. YARMOSHYNA, Lidziya Mihaulauna; a.k.a. YARMOSHYNA, Lidziya Mikhailovna; a.k.a. YARMOSHYNA, Lydia Mihaulauna; a.k.a. YARMOSHYNA, Lydia Mikhailovna; a.k.a. YERMOSHINA, Lidya Mihaulauna; a.k.a. YERMOSHINA, Lidya Mikhailovna; a.k.a. YERMOSHINA, Lidziya Mihaulauna; a.k.a. YERMOSHINA, Lydia Mihaulauna; a.k.a. YERMOSHINA, Lydia Mikhailovna); DOB 29 Jan 1953; POB Slutsk, Belarus; Head of the Central Commission for Elections and National Referendums (CEC) (individual) [BELARUS]

YERMOSHINA, Lydia Mihaulauna (a.k.a. YARMOSHINA , Lidziya Mikhailovna; a.k.a. YARMOSHINA, Lidya Mihaulauna; a.k.a. YARMOSHINA, Lidya Mikhailovna; a.k.a. YARMOSHINA, Lidziya Mihaulauna; a.k.a. YARMOSHINA, Lydia Mihaulauna; a.k.a. YARMOSHINA, Lydia Mikhailovna; a.k.a. YARMOSHYNA, Lidya Mihaulauna; a.k.a. YARMOSHYNA, Lidya Mikhailovna; a.k.a. YARMOSHYNA, Lidziya Mihaulauna; a.k.a. YARMOSHYNA, Lidziya Mikhailovna; a.k.a. YARMOSHYNA, Lydia Mihaulauna; a.k.a. YARMOSHYNA, Lydia Mikhailovna; a.k.a. YERMOSHINA, Lidya Mihaulauna; a.k.a. YERMOSHINA, Lidya Mikhailovna; a.k.a. YERMOSHINA, Lidziya Mihaulauna; a.k.a. YERMOSHINA, Lidziya Mikhailovna; a.k.a. YERMOSHINA, Lydia Mikhailovna); DOB 29 Jan 1953; POB Slutsk, Belarus; Head of the Central Commission for Elections and National Referendums (CEC) (individual) [BELARUS]

YERMOSHINA, Lydia Mikhailovna (a.k.a. YARMOSHINA , Lidziya Mikhailovna; a.k.a. YARMOSHINA, Lidya Mihaulauna; a.k.a. YARMOSHINA, Lidya Mikhailovna; a.k.a. YARMOSHINA, Lidziya Mihaulauna; a.k.a. YARMOSHINA, Lydia Mihaulauna; a.k.a. YARMOSHINA, Lydia Mikhailovna; a.k.a. YARMOSHYNA, Lidya Mihaulauna; a.k.a. YARMOSHYNA, Lidya Mikhailovna; a.k.a. YARMOSHYNA, Lidziya Mihaulauna; a.k.a. YARMOSHYNA, Lidziya Mikhailovna; a.k.a. YARMOSHYNA, Lydia Mihaulauna; a.k.a. YARMOSHYNA, Lydia Mikhailovna; a.k.a. YERMOSHINA, Lidya Mihaulauna; a.k.a. YERMOSHINA, Lidya Mikhailovna; a.k.a. YERMOSHINA, Lidziya Mihaulauna; a.k.a. YERMOSHINA, Lidziya Mikhailovna; a.k.a. YERMOSHINA, Lydia Mihaulauna); DOB 29 Jan 1953; POB Slutsk, Belarus; Head of the Central Commission for Elections and National Referendums (CEC) (individual) [BELARUS]

YESHIVAT HARAV MEIR (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE CHAI; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA) [FTO] [SDGT] [SDT]

YOUSEF, Rafik Mohamad (a.k.a. KAIRADIN, Raific Mohamad), Kathe Dorsch Ring 21, Berlin 12353, Germany; Mannheim Prison, Germany; DOB 27 Aug 1974; POB Baghdad, Iraq; nationality Iraq; Travel Document Number A0092301 (Germany) (individual) [SDGT]

YOUSSEF M. NADA, Via Riasc 4, Campione d'Italia I, CH-6911, Switzerland [SDGT]

YOUSSEF M. NADA & CO. GESELLSCHAFT M.B.H., Kaernter Ring 2/2/5/22, Vienna 1010, Austria [SDGT]

YOUSSEF, Abou (a.k.a. DERAMCHI, Othman), Via Milanese, 5, 20099 Sesto San Giovanni, Milan, Italy; Piazza Trieste, 11, Mortara, Italy; DOB 7 Jun 1954; POB Tighennif, Algeria; Italian Fiscal Code: DRMTMN54H07Z301T (individual) [SDGT]

YULDASHEV, Takhir (a.k.a. YULDASHEV, Tohir), Uzbekistan (individual) [SDGT]

YULDASHEV, Tohir (a.k.a. YULDASHEV, Takhir), Uzbekistan (individual) [SDGT]

YUNOS, Mukhlis (a.k.a. YUNOS, Muklis; a.k.a. YUNOS, Saifullah Mukhlis); DOB circa 7 Jul 1966; POB Lanao del Sur, Philippines (individual) [SDGT]

YUNOS, Muklis (a.k.a. YUNOS, Mukhlis; a.k.a. YUNOS, Saifullah Mukhlis); DOB circa 7 Jul 1966; POB Lanao del Sur, Philippines (individual) [SDGT]

YUNOS, Saifullah Mukhlis (a.k.a. YUNOS, Mukhlis; a.k.a. YUNOS, Muklis); DOB circa 7 Jul 1966; POB Lanao del Sur, Philippines (individual) [SDGT]

YUNSHAR, Faiz (a.k.a. BIN SIHABUDIN, Abdul Aziz; a.k.a. SAMUDRA, Imam; a.k.a. “ABDUL AZIZ”; a.k.a. “ABU OMAR”; a.k.a. “FATIH”; a.k.a. “HENDRI”; a.k.a. “HERI”; a.k.a. “KUDAMA”); DOB 14 Jan 1970; POB Serang, Banten, Indonesia (individual) [SDGT]

YUSSRR, Abu (a.k.a. AL MASRI, Abd Al Wakil; a.k.a. ALI, Hassan; a.k.a. AL-NUBI, Abu; a.k.a. ANIS, Abu; a.k.a. ELBISHY, Moustafa Ali; a.k.a. FADHIL, Mustafa Mohamed; a.k.a. FADIL, Mustafa Muhamad; a.k.a. FAZUL, Mustafa; a.k.a. HUSSEIN; a.k.a. JIHAD, Abu; a.k.a. KHALID; a.k.a. MAN, Nu; a.k.a. MOHAMMED, Mustafa); DOB 23 Jun 1976; POB Cairo, Egypt; citizen Egypt alt. Kenya; Kenyan ID No. 12773667; Serial No. 201735161 (individual) [SDGT]

YUSUF, Hani al-Sayid Al-Sibai (a.k.a. AL-SIBA'I, Hani Muhammad Yusuf), United Kingdom; DOB 1 Mar 1961; POB Qaylubiyah, Egypt; nationality Egypt (individual) [SDGT]

ZAHRAN, Yousuf, P.O. Box 1318, Amman, Jordan (individual) [IRAQ2]

ZAINAL, Akram, Iraq; Chairman and General Manager of AGRICULTURAL CO-OPERATIVE BANK (individual) [IRAQ2]

ZAKARIA, Zaini, A-1-8 Pangsapuri Sri Tanjung, Jalan Sky BS2, Bukit Sentosa Rawang, Selangor 48300, Malaysia; DOB 16 Jun 1967; alt. DOB 16 May 1967; POB Kelantan, Malaysia; Passport A11457974 (Malaysia) (individual) [SDGT]

ZAMBA, Noel Heath (a.k.a. HEATH, Noel Timothy; a.k.a. ZAMBO, Noel Heath), Cardin Avenue, Saint Kitts and Nevis; DOB 16 DEC 49; POB St Kitts and Nevis; Passport 03574 (United Kingdom) (individual) [SDNTK]

ZAMBADA GARCIA, Ismael (a.k.a. GARCIA HERNANDEZ, Javier; a.k.a. HIGUERA RENTERIA, Ismael; a.k.a. LOAIZA AVENDANO, Jesus; a.k.a. ZAMBADA GARCIA, Ismael Mario; a.k.a. ZAMBADA, El Mayo); DOB 1 January 1948; POB Sinaloa, Mexico (individual) [SDNTK]

ZAMBADA GARCIA, Ismael Mario (a.k.a. GARCIA HERNANDEZ, Javier; a.k.a. HIGUERA RENTERIA, Ismael; a.k.a. LOAIZA AVENDANO, Jesus; a.k.a. ZAMBADA GARCIA, Ismael; a.k.a. ZAMBADA, El Mayo); DOB 1 January 1948; POB Sinaloa, Mexico (individual) [SDNTK]

ZAMBADA, El Mayo (a.k.a. GARCIA HERNANDEZ, Javier; a.k.a. HIGUERA RENTERIA, Ismael; a.k.a. LOAIZA AVENDANO, Jesus; a.k.a. ZAMBADA GARCIA, Ismael; a.k.a. ZAMBADA GARCIA, Ismael Mario); DOB 1 January 1948; POB Sinaloa, Mexico (individual) [SDNTK]

ZAMBO, Noel Heath (a.k.a. HEATH, Noel Timothy; a.k.a. ZAMBA, Noel Heath), Cardin Avenue, Saint Kitts and Nevis; DOB 16 DEC 49; POB St Kitts and Nevis; Passport 03574 (United Kingdom) (individual) [SDNTK]

ZAMBRANO CERON, Maria Concepcion, c/o AGROPECUARIA LA ROBLEDA S.A., Cali, Colombia; DOB 4 Aug 1928; Cedula No. 29488292 (Colombia) (individual) [SDNT]

ZAMBRANO MADRONERO, Carmen Alicia, c/o COSMEPOP, Bogota, Colombia; c/o PATENTES MARCAS Y REGISTROS S.A., Bogota, Colombia; c/o COPSERVIR LTDA., Bogota, Colombia; c/o CREDISOL, Bogota, Colombia; c/o DROMARCA Y CIA S.C.S., Bogota, Colombia; c/o FARMACOOP, Bogota, Colombia; c/o GLAJAN S.A., Bogota, Colombia; c/o SHARPER S.A., Bogota, Colombia; DOB 18 Nov 1967; Cedula No. 30738265 (Colombia); Passport 30738265 (individual) [SDNT]

ZAMORA RUIZ, Alexander, c/o INPESCA S.A., Buenaventura, Colombia; Cedula No. 16498805 (Colombia) (individual) [SDNT]

ZAMORA, Jose Hernan, c/o GANADERIAS DEL VALLE S.A., Cali, Colombia (individual) [SDNT]

ZARATAN CORPORATION, Vanterpool Plaza, P.O. Box 873, Wickhams Cay I, Road Town, Tortola, Virgin Islands, British; Avenida 4 Norte 4N-30, Cali, Colombia; Calle 7 Oeste No. 1-13, Cali, Colombia [SDNT]

ZARATAN CORPORATION, Avenida 4 Norte No. 4N-30, Cali, Colombia; Calle 7 Oeste No. 1-13, Cali, Colombia; Vanterpool Plaza, P.O. Box 873, Wickhams Cay I, Road Town, Tortola, Virgin Islands, British [SDNT]

ZARIC, Simo; DOB 25 Jul 1948; POB Trnjak, Bosnia-Herzegovina; ICTY indictee (individual) [BALKANS]

ZARKAOUI, Imed Ben Mekki (a.k.a. “NADRA”; a.k.a. “ZARGA”), Via Col. Aprosio 588, Vallecrosia (IM), Italy; DOB 15 Jan 1973; POB Tunisi (Tunisia); nationality Tunisia; Passport M174950 issued 27 Apr 1999 expires 26 Apr 2004; arrested 30 Sep 2002 (individual) [SDGT]

ZAYDAN, Muhammad (a.k.a. ABBAS, Abu); DOB 10 Dec 1948; Director of PALESTINE LIBERATION FRONT—ABU ABBAS FACTION (individual) [SDT]

ZDRAVO, 12 Pop Lukina, Belgrade, Serbia and Montenegro; Registration ID 17317105 (Serbia and Montenegro); Tax ID No. 100036386 (Serbia and Montenegro); juice manufacturer [BALKANS]

ZELEN-KARADZIC, Ljiljana; DOB 27 Nov 1945; POB Sarajevo Bosnia-Herzegovina (individual) [BALKANS]

ZELENOVIC, Dragan; DOB 12 Feb 1961; ICTY indictee at large (individual) [BALKANS]

ZERFAOUI, Ahmad (a.k.a. “ABDALLA”; a.k.a. “ABDULLAH”; a.k.a. “ABU CHOLDER”; a.k.a. “ABU KHAOULA”; a.k.a. “NUHR”; a.k.a. “SMAIL”); DOB 15 Jul 1963; POB Chrea, Algeria (individual) [SDGT]

ZEVALLOS GONZALES, Fernando Melciades (a.k.a. GONZALES, Hernan; a.k.a. ZEVALLOS GONZALEZ, Fernando); DOB 8 Jul 1957; POB Juanjui, San Martin, Peru; LE Number 07552116 (Peru) (individual) [SDNTK]

ZEVALLOS GONZALES, Lupe Maritza, c/o AERO CONTINENTE S.A., Lima, Peru; DOB 17 Sept 1961; LE Number 07607833 (Peru) (individual) [BPI-SDNTK]

ZEVALLOS GONZALES, Milagros Angelina, c/o AERO CONTINENTE S.A., Lima, Peru; c/o SISTEMA DE DISTRIBUCION MUNDIAL S.A.C., Lima, Peru; DOB 12 Aug 1968; LE Number 07617157 (Peru) (individual) [BPI-SDNTK]

ZEVALLOS GONZALES, Ricardo (a.k.a. ZEVALLOS GONZALES, Winston Ricardo), c/o AERO CONTINENTE S.A., Lima, Peru; DOB 11 May 1959; LE Number 07942932 (Peru); SSN 592-29-5509 (individual) [BPI-SDNTK]

ZEVALLOS GONZALES, Winston Ricardo (a.k.a. ZEVALLOS GONZALES, Ricardo), c/o AERO CONTINENTE S.A., Lima, Peru; DOB 11 May 1959; LE Number 07942932 (Peru); SSN 592-29-5509 (individual) [BPI-SDNTK]

ZEVALLOS GONZALEZ, Fernando (a.k.a. GONZALES, Hernan; a.k.a. ZEVALLOS GONZALES, Fernando Melciades); DOB 8 Jul 1957; POB Juanjui, San Martin, Peru; LE Number 07552116 (Peru) (individual) [SDNTK]

ZHANG, Jiang Ping (a.k.a. CHAN, Shu Sang; a.k.a. CHAN, Shusang; a.k.a. CHEN, Bing Shen; a.k.a. CHEN, Bingshen; a.k.a. CHEN, Shu Sheng; a.k.a. CHEN, Shusheng; a.k.a. DU, Yu Rong; a.k.a. DU, Yurong; a.k.a. HU, Chi Shu; a.k.a. HU, Chishu; a.k.a. HUANG, Man Chi; a.k.a. HUANG, Manchi; a.k.a. WONG, Kam Kong; a.k.a. WONG, Kamkong; a.k.a. WONG, Moon Chi; a.k.a. WONG, Moonchi; a.k.a. WONG, Mun Chi; a.k.a. WONG, Munchi; a.k.a. WU, Chai Su; a.k.a. WU, Chaisu; a.k.a. ZHANG, Jiangping; a.k.a. “CHI BANG”), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

ZHANG, Jiangping (a.k.a. CHAN, Shu Sang; a.k.a. CHAN, Shusang; a.k.a. CHEN, Bing Shen; a.k.a. CHEN, Bingshen; a.k.a. CHEN, Shu Sheng; a.k.a. CHEN, Shusheng; a.k.a. DU, Yu Rong; a.k.a. DU, Yurong; a.k.a. HU, Chi Shu; a.k.a. HU, Chishu; a.k.a. HUANG, Man Chi; a.k.a. HUANG, Manchi; a.k.a. WONG, Kam Kong; a.k.a. WONG, Kamkong; a.k.a. WONG, Moon Chi; a.k.a. WONG, Moonchi; a.k.a. WONG, Mun Chi; a.k.a. WONG, Munchi; a.k.a. WU, Chai Su; a.k.a. WU, Chaisu; a.k.a. ZHANG, Jiang Ping; a.k.a. “CHI BANG”), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

ZHONGGUO CHANGCHENG GONGYE ZONGGONGSI (a.k.a. CGWIC; a.k.a. CHINA GREAT WALL INDUSTRY CORPORATION), No. 30 Haidian Nanlu, Beijing, China; Moscow, Russia [NPWMD]

ZHONGGUO JINGMI JIXIE JINCHUKOU ZONGGONGSI (a.k.a. CHINA NATIONAL PRECISION MACHINERY I/E CORP.; a.k.a. CHINA NATIONAL PRECISION MACHINERY IMPORT/EXPORT CORPORATION; a.k.a. CHINA PRECISION MACHINERY IMPORT/EXPORT CORPORATION; a.k.a. CPMIEC), No. 30 Haidian Nanlu, Beijing, China [NPWMD]

ZHUWAO, Beauty Lily; DOB 10 Jan 1965; Passport AN353466 (Zimbabwe); Spouse of Patrick Zhuwao (individual) [ZIMBABWE]

ZHUWAO, Patrick; DOB 23 May 1967; Deputy Minister of Science and Technology (individual) [ZIMBABWE]

ZIA, Ahmad (a.k.a. ZIA, Mohammad), c/o Ahmed Shah s/o Painda Mohammad al-Karim Set, Peshawar, Pakistan; c/o Alam General Store Shop 17, Awami Market, Peshawar, Pakistan; c/o Zahir Shah s/o Murad Khan Ander Sher, Peshawar, Pakistan (individual) [SDGT]

ZIA, Mohammad (a.k.a. ZIA, Ahmad), c/o Ahmed Shah s/o Painda Mohammad al-Karim Set, Peshawar, Pakistan; c/o Alam General Store Shop 17, Awami Market, Peshawar, Pakistan; c/o Zahir Shah s/o Murad Khan Ander Sher, Peshawar, Pakistan (individual) [SDGT]

ZIGIC, Zoran; DOB 20 Sep 1958; POB Balte, Bosnia-Herzegovina; ICTY indictee (individual) [BALKANS]

ZIMBABWE DEFENCE INDUSTRIES (PVT) LTD., 10th Floor, Trustee House, 55 Samora Machel Avenue, Harare, Zimbabwe; P.O. Box 6597, Harare, Zimbabwe [ZIMBABWE]

ZIMONDI, Paradzai; DOB 4 Mar 1947; Zimbabwe Prisons Chief (individual) [ZIMBABWE]

ZIMOUSKI, Akiaksandr Leanidavich (a.k.a. SIMOWSKI, Aliaksandr Leanidavich; a.k.a. ZIMOUSKI, Alaksandr Leanidavich; a.k.a. ZIMOUSKY, Alaksandr Leanidavich; a.k.a. ZIMOUSKY, Aliaksandr Leanidavich; a.k.a. ZIMOVSKI, Alaksandr Leanidavich; a.k.a. ZIMOVSKI, Aleksandr Leonidovich; a.k.a. ZIMOVSKI, Alexander Leonidovich; a.k.a. ZIMOVSKI, Aliaksandr Leanidavich; a.k.a. ZIMOVSKY, Alaksandr Leanidavich; a.k.a. ZIMOVSKY, Aleksandr Leonidovich; a.k.a. ZIMOVSKY, Alexander Leonidovich; a.k.a. ZIMOVSKY, Aliaksandr Lieanidavich; a.k.a. ZIMOWSKI, Alaksandr Leanidavich; a.k.a. ZIMOWSKI, Aleksandr Leonidovich; a.k.a. ZIMOWSKI, Alexander Leonidovich; a.k.a. ZIMOWSKY, Alaksandr Leanidavich; a.k.a. ZIMOWSKY, Aleksandr Leonidovich; a.k.a. ZIMOWSKY, Alexander Leonidovich; a.k.a. ZIMOWSKY, Aliaksandr Leanidavich); DOB 10 Jan 1961; POB Germany; Head of the Belarusian State Television and Radio Company (BSTRC); Member of the Upper House of Parliament (individual) [BELARUS]

ZIMOUSKI, Alaksandr Leanidavich (a.k.a. SIMOWSKI, Aliaksandr Leanidavich; a.k.a. ZIMOUSKI, Akiaksandr Leanidavich; a.k.a. ZIMOUSKY, Alaksandr Leanidavich; a.k.a. ZIMOUSKY, Aliaksandr Leanidavich; a.k.a. ZIMOVSKI, Alaksandr Leanidavich; a.k.a. ZIMOVSKI, Aleksandr Leonidovich; a.k.a. ZIMOVSKI, Alexander Leonidovich; a.k.a. ZIMOVSKI, Aliaksandr Leanidavich; a.k.a. ZIMOVSKY, Alaksandr Leanidavich; a.k.a. ZIMOVSKY, Aleksandr Leonidovich; a.k.a. ZIMOVSKY, Alexander Leonidovich; a.k.a. ZIMOVSKY, Aliaksandr Lieanidavich; a.k.a. ZIMOWSKI, Alaksandr Leanidavich; a.k.a. ZIMOWSKI, Aleksandr Leonidovich; a.k.a. ZIMOWSKI, Alexander Leonidovich; a.k.a. ZIMOWSKY, Alaksandr Leanidavich; a.k.a. ZIMOWSKY, Aleksandr Leonidovich; a.k.a. ZIMOWSKY, Alexander Leonidovich; a.k.a. ZIMOWSKY, Aliaksandr Leanidavich); DOB 10 Jan 1961; POB Germany; Head of the Belarusian State Television and Radio Company (BSTRC); Member of the Upper House of Parliament (individual) [BELARUS]

ZIMOUSKY, Alaksandr Leanidavich (a.k.a. SIMOWSKI, Aliaksandr Leanidavich; a.k.a. ZIMOUSKI, Akiaksandr Leanidavich; a.k.a. ZIMOUSKI, Alaksandr Leanidavich; a.k.a. ZIMOUSKY, Aliaksandr Leanidavich; a.k.a. ZIMOVSKI, Alaksandr Leanidavich; a.k.a. ZIMOVSKI, Aleksandr Leonidovich; a.k.a. ZIMOVSKI, Alexander Leonidovich; a.k.a. ZIMOVSKI, Aliaksandr Leanidavich; a.k.a. ZIMOVSKY, Alaksandr Leanidavich; a.k.a. ZIMOVSKY, Aleksandr Leonidovich; a.k.a. ZIMOVSKY, Alexander Leonidovich; a.k.a. ZIMOVSKY, Aliaksandr Lieanidavich; a.k.a. ZIMOWSKI, Alaksandr Leanidavich; a.k.a. ZIMOWSKI, Aleksandr Leonidovich; a.k.a. ZIMOWSKI, Alexander Leonidovich; a.k.a. ZIMOWSKY, Alaksandr Leanidavich; a.k.a. ZIMOWSKY, Aleksandr Leonidovich; a.k.a. ZIMOWSKY, Alexander Leonidovich; a.k.a. ZIMOWSKY, Aliaksandr Leanidavich); DOB 10 Jan 1961; POB Germany; Head of the Belarusian State Television and Radio Company (BSTRC); Member of the Upper House of Parliament (individual) [BELARUS]

ZIMOUSKY, Aliaksandr Leanidavich (a.k.a. SIMOWSKI, Aliaksandr Leanidavich; a.k.a. ZIMOUSKI, Akiaksandr Leanidavich; a.k.a. ZIMOUSKI, Alaksandr Leanidavich; a.k.a. ZIMOUSKY, Alaksandr Leanidavich; a.k.a. ZIMOVSKI, Alaksandr Leanidavich; a.k.a. ZIMOVSKI, Aleksandr Leonidovich; a.k.a. ZIMOVSKI, Alexander Leonidovich; a.k.a. ZIMOVSKI, Aliaksandr Leanidavich; a.k.a. ZIMOVSKY, Alaksandr Leanidavich; a.k.a. ZIMOVSKY, Aleksandr Leonidovich; a.k.a. ZIMOVSKY, Alexander Leonidovich; a.k.a. ZIMOVSKY, Aliaksandr Lieanidavich; a.k.a. ZIMOWSKI, Alaksandr Leanidavich; a.k.a. ZIMOWSKI, Aleksandr Leonidovich; a.k.a. ZIMOWSKI, Alexander Leonidovich; a.k.a. ZIMOWSKY, Alaksandr Leanidavich; a.k.a. ZIMOWSKY, Aleksandr Leonidovich; a.k.a. ZIMOWSKY, Alexander Leonidovich; a.k.a. ZIMOWSKY, Aliaksandr Leanidavich); DOB 10 Jan 1961; POB Germany; Head of the Belarusian State Television and Radio Company (BSTRC); Member of the Upper House of Parliament (individual) [BELARUS]

ZIMOVSKI, Alaksandr Leanidavich (a.k.a. SIMOWSKI, Aliaksandr Leanidavich; a.k.a. ZIMOUSKI, Akiaksandr Leanidavich; a.k.a. ZIMOUSKI, Alaksandr Leanidavich; a.k.a. ZIMOUSKY, Alaksandr Leanidavich; a.k.a. ZIMOUSKY, Aliaksandr Leanidavich; a.k.a. ZIMOVSKI, Aleksandr Leonidovich; a.k.a. ZIMOVSKI, Alexander Leonidovich; a.k.a. ZIMOVSKI, Aliaksandr Leanidavich; a.k.a. ZIMOVSKY, Alaksandr Leanidavich; a.k.a. ZIMOVSKY, Aleksandr Leonidovich; a.k.a. ZIMOVSKY, Alexander Leonidovich; a.k.a. ZIMOVSKY, Aliaksandr Lieanidavich; a.k.a. ZIMOWSKI, Alaksandr Leanidavich; a.k.a. ZIMOWSKI, Aleksandr Leonidovich; a.k.a. ZIMOWSKI, Alexander Leonidovich; a.k.a. ZIMOWSKY, Alaksandr Leanidavich; a.k.a. ZIMOWSKY, Aleksandr Leonidovich; a.k.a. ZIMOWSKY, Alexander Leonidovich; a.k.a. ZIMOWSKY, Aliaksandr Leanidavich); DOB 10 Jan 1961; POB Germany; Head of the Belarusian State Television and Radio Company (BSTRC); Member of the Upper House of Parliament (individual) [BELARUS]

ZIMOVSKI, Aleksandr Leonidovich (a.k.a. SIMOWSKI, Aliaksandr Leanidavich; a.k.a. ZIMOUSKI, Akiaksandr Leanidavich; a.k.a. ZIMOUSKI, Alaksandr Leanidavich; a.k.a. ZIMOUSKY, Alaksandr Leanidavich; a.k.a. ZIMOUSKY, Aliaksandr Leanidavich; a.k.a. ZIMOVSKI, Alaksandr Leanidavich; a.k.a. ZIMOVSKI, Alexander Leonidovich; a.k.a. ZIMOVSKI, Aliaksandr Leanidavich; a.k.a. ZIMOVSKY, Alaksandr Leanidavich; a.k.a. ZIMOVSKY, Aleksandr Leonidovich; a.k.a. ZIMOVSKY, Alexander Leonidovich; a.k.a. ZIMOVSKY, Aliaksandr Lieanidavich; a.k.a. ZIMOWSKI, Alaksandr Leanidavich; a.k.a. ZIMOWSKI, Aleksandr Leonidovich; a.k.a. ZIMOWSKI, Alexander Leonidovich; a.k.a. ZIMOWSKY, Alaksandr Leanidavich; a.k.a. ZIMOWSKY, Aleksandr Leonidovich; a.k.a. ZIMOWSKY, Alexander Leonidovich; a.k.a. ZIMOWSKY, Aliaksandr Leanidavich); DOB 10 Jan 1961; POB Germany; Head of the Belarusian State Television and Radio Company (BSTRC); Member of the Upper House of Parliament (individual) [BELARUS]

ZIMOVSKI, Alexander Leonidovich (a.k.a. SIMOWSKI, Aliaksandr Leanidavich; a.k.a. ZIMOUSKI, Akiaksandr Leanidavich; a.k.a. ZIMOUSKI, Alaksandr Leanidavich; a.k.a. ZIMOUSKY, Alaksandr Leanidavich; a.k.a. ZIMOUSKY, Aliaksandr Leanidavich; a.k.a. ZIMOVSKI, Alaksandr Leanidavich; a.k.a. ZIMOVSKI, Aleksandr Leonidovich; a.k.a. ZIMOVSKI, Aliaksandr Leanidavich; a.k.a. ZIMOVSKY, Alaksandr Leanidavich; a.k.a. ZIMOVSKY, Aleksandr Leonidovich; a.k.a. ZIMOVSKY, Alexander Leonidovich; a.k.a. ZIMOVSKY, Aliaksandr Lieanidavich; a.k.a. ZIMOWSKI, Alaksandr Leanidavich; a.k.a. ZIMOWSKI, Aleksandr Leonidovich; a.k.a. ZIMOWSKI, Alexander Leonidovich; a.k.a. ZIMOWSKY, Alaksandr Leanidavich; a.k.a. ZIMOWSKY, Aleksandr Leonidovich; a.k.a. ZIMOWSKY, Alexander Leonidovich; a.k.a. ZIMOWSKY, Aliaksandr Leanidavich); DOB 10 Jan 1961; POB Germany; Head of the Belarusian State Television and Radio Company (BSTRC); Member of the Upper House of Parliament (individual) [BELARUS]

ZIMOVSKI, Aliaksandr Leanidavich (a.k.a. SIMOWSKI, Aliaksandr Leanidavich; a.k.a. ZIMOUSKI, Akiaksandr Leanidavich; a.k.a. ZIMOUSKI, Alaksandr Leanidavich; a.k.a. ZIMOUSKY, Alaksandr Leanidavich; a.k.a. ZIMOUSKY, Aliaksandr Leanidavich; a.k.a. ZIMOVSKI, Alaksandr Leanidavich; a.k.a. ZIMOVSKI, Aleksandr Leonidovich; a.k.a. ZIMOVSKI, Alexander Leonidovich; a.k.a. ZIMOVSKY, Alaksandr Leanidavich; a.k.a. ZIMOVSKY, Aleksandr Leonidovich; a.k.a. ZIMOVSKY, Alexander Leonidovich; a.k.a. ZIMOVSKY, Aliaksandr Lieanidavich; a.k.a. ZIMOWSKI, Alaksandr Leanidavich; a.k.a. ZIMOWSKI, Aleksandr Leonidovich; a.k.a. ZIMOWSKI, Alexander Leonidovich; a.k.a. ZIMOWSKY, Alaksandr Leanidavich; a.k.a. ZIMOWSKY, Aleksandr Leonidovich; a.k.a. ZIMOWSKY, Alexander Leonidovich; a.k.a. ZIMOWSKY, Aliaksandr Leanidavich); DOB 10 Jan 1961; POB Germany; Head of the Belarusian State Television and Radio Company (BSTRC); Member of the Upper House of Parliament (individual) [BELARUS]

ZIMOVSKY, Alaksandr Leanidavich (a.k.a. SIMOWSKI, Aliaksandr Leanidavich; a.k.a. ZIMOUSKI, Akiaksandr Leanidavich; a.k.a. ZIMOUSKI, Alaksandr Leanidavich; a.k.a. ZIMOUSKY, Alaksandr Leanidavich; a.k.a. ZIMOUSKY, Aliaksandr Leanidavich; a.k.a. ZIMOVSKI, Alaksandr Leanidavich; a.k.a. ZIMOVSKI, Aleksandr Leonidovich; a.k.a. ZIMOVSKI, Alexander Leonidovich; a.k.a. ZIMOVSKI, Aliaksandr Leanidavich; a.k.a. ZIMOVSKY, Aleksandr Leonidovich; a.k.a. ZIMOVSKY, Alexander Leonidovich; a.k.a. ZIMOVSKY, Aliaksandr Lieanidavich; a.k.a. ZIMOWSKI, Alaksandr Leanidavich; a.k.a. ZIMOWSKI, Aleksandr Leonidovich; a.k.a. ZIMOWSKI, Alexander Leonidovich; a.k.a. ZIMOWSKY, Alaksandr Leanidavich; a.k.a. ZIMOWSKY, Aleksandr Leonidovich; a.k.a. ZIMOWSKY, Alexander Leonidovich; a.k.a. ZIMOWSKY, Aliaksandr Leanidavich); DOB 10 Jan 1961; POB Germany; Head of the Belarusian State Television and Radio Company (BSTRC); Member of the Upper House of Parliament (individual) [BELARUS]

ZIMOVSKY, Aleksandr Leonidovich (a.k.a. SIMOWSKI, Aliaksandr Leanidavich; a.k.a. ZIMOUSKI, Akiaksandr Leanidavich; a.k.a. ZIMOUSKI, Alaksandr Leanidavich; a.k.a. ZIMOUSKY, Alaksandr Leanidavich; a.k.a. ZIMOUSKY, Aliaksandr Leanidavich; a.k.a. ZIMOVSKI, Alaksandr Leanidavich; a.k.a. ZIMOVSKI, Aleksandr Leonidovich; a.k.a. ZIMOVSKI, Alexander Leonidovich; a.k.a. ZIMOVSKI, Aliaksandr Leanidavich; a.k.a. ZIMOVSKY, Alaksandr Leanidavich; a.k.a. ZIMOVSKY, Alexander Leonidovich; a.k.a. ZIMOVSKY, Aliaksandr Lieanidavich; a.k.a. ZIMOWSKI, Alaksandr Leanidavich; a.k.a. ZIMOWSKI, Aleksandr Leonidovich; a.k.a. ZIMOWSKI, Alexander Leonidovich; a.k.a. ZIMOWSKY, Alaksandr Leanidavich; a.k.a. ZIMOWSKY, Aleksandr Leonidovich; a.k.a. ZIMOWSKY, Alexander Leonidovich; a.k.a. ZIMOWSKY, Aliaksandr Leanidavich); DOB 10 Jan 1961; POB Germany; Head of the Belarusian State Television and Radio Company (BSTRC); Member of the Upper House of Parliament (individual) [BELARUS]

ZIMOVSKY, Alexander Leonidovich (a.k.a. SIMOWSKI, Aliaksandr Leanidavich; a.k.a. ZIMOUSKI, Akiaksandr Leanidavich; a.k.a. ZIMOUSKI, Alaksandr Leanidavich; a.k.a. ZIMOUSKY, Alaksandr Leanidavich; a.k.a. ZIMOUSKY, Aliaksandr Leanidavich; a.k.a. ZIMOVSKI, Alaksandr Leanidavich; a.k.a. ZIMOVSKI, Aleksandr Leonidovich; a.k.a. ZIMOVSKI, Alexander Leonidovich; a.k.a. ZIMOVSKI, Aliaksandr Leanidavich; a.k.a. ZIMOVSKY, Alaksandr Leanidavich; a.k.a. ZIMOVSKY, Aleksandr Leonidovich; a.k.a. ZIMOVSKY, Aliaksandr Lieanidavich; a.k.a. ZIMOWSKI, Alaksandr Leanidavich; a.k.a. ZIMOWSKI, Aleksandr Leonidovich; a.k.a. ZIMOWSKI, Alexander Leonidovich; a.k.a. ZIMOWSKY, Alaksandr Leanidavich; a.k.a. ZIMOWSKY, Aleksandr Leonidovich; a.k.a. ZIMOWSKY, Alexander Leonidovich; a.k.a. ZIMOWSKY, Aliaksandr Leanidavich); DOB 10 Jan 1961; POB Germany; Head of the Belarusian State Television and Radio Company (BSTRC); Member of the Upper House of Parliament (individual) [BELARUS]

ZIMOVSKY, Aliaksandr Lieanidavich (a.k.a. SIMOWSKI, Aliaksandr Leanidavich; a.k.a. ZIMOUSKI, Akiaksandr Leanidavich; a.k.a. ZIMOUSKI, Alaksandr Leanidavich; a.k.a. ZIMOUSKY, Alaksandr Leanidavich; a.k.a. ZIMOUSKY, Aliaksandr Leanidavich; a.k.a. ZIMOVSKI, Alaksandr Leanidavich; a.k.a. ZIMOVSKI, Aleksandr Leonidovich; a.k.a. ZIMOVSKI, Alexander Leonidovich; a.k.a. ZIMOVSKI, Aliaksandr Leanidavich; a.k.a. ZIMOVSKY, Alaksandr Leanidavich; a.k.a. ZIMOVSKY, Aleksandr Leonidovich; a.k.a. ZIMOVSKY, Alexander Leonidovich; a.k.a. ZIMOWSKI, Alaksandr Leanidavich; a.k.a. ZIMOWSKI, Aleksandr Leonidovich; a.k.a. ZIMOWSKI, Alexander Leonidovich; a.k.a. ZIMOWSKY, Alaksandr Leanidavich; a.k.a. ZIMOWSKY, Aleksandr Leonidovich; a.k.a. ZIMOWSKY, Alexander Leonidovich; a.k.a. ZIMOWSKY, Aliaksandr Leanidavich); DOB 10 Jan 1961; POB Germany; Head of the Belarusian State Television and Radio Company (BSTRC); Member of the Upper House of Parliament (individual) [BELARUS]

ZIMOWSKI, Alaksandr Leanidavich (a.k.a. SIMOWSKI, Aliaksandr Leanidavich; a.k.a. ZIMOUSKI, Akiaksandr Leanidavich; a.k.a. ZIMOUSKI, Alaksandr Leanidavich; a.k.a. ZIMOUSKY, Alaksandr Leanidavich; a.k.a. ZIMOUSKY, Aliaksandr Leanidavich; a.k.a. ZIMOVSKI, Alaksandr Leanidavich; a.k.a. ZIMOVSKI, Aleksandr Leonidovich; a.k.a. ZIMOVSKI, Alexander Leonidovich; a.k.a. ZIMOVSKI, Aliaksandr Leanidavich; a.k.a. ZIMOVSKY, Alaksandr Leanidavich; a.k.a. ZIMOVSKY, Aleksandr Leonidovich; a.k.a. ZIMOVSKY, Alexander Leonidovich; a.k.a. ZIMOVSKY, Aliaksandr Lieanidavich; a.k.a. ZIMOWSKI, Aleksandr Leonidovich; a.k.a. ZIMOWSKI, Alexander Leonidovich; a.k.a. ZIMOWSKY, Alaksandr Leanidavich; a.k.a. ZIMOWSKY, Aleksandr Leonidovich; a.k.a. ZIMOWSKY, Alexander Leonidovich; a.k.a. ZIMOWSKY, Aliaksandr Leanidavich); DOB 10 Jan 1961; POB Germany; Head of the Belarusian State Television and Radio Company (BSTRC); Member of the Upper House of Parliament (individual) [BELARUS]

ZIMOWSKI, Aleksandr Leonidovich (a.k.a. SIMOWSKI, Aliaksandr Leanidavich; a.k.a. ZIMOUSKI, Akiaksandr Leanidavich; a.k.a. ZIMOUSKI, Alaksandr Leanidavich; a.k.a. ZIMOUSKY, Alaksandr Leanidavich; a.k.a. ZIMOUSKY, Aliaksandr Leanidavich; a.k.a. ZIMOVSKI, Alaksandr Leanidavich; a.k.a. ZIMOVSKI, Aleksandr Leonidovich; a.k.a. ZIMOVSKI, Alexander Leonidovich; a.k.a. ZIMOVSKI, Aliaksandr Leanidavich; a.k.a. ZIMOVSKY, Alaksandr Leanidavich; a.k.a. ZIMOVSKY, Aleksandr Leonidovich; a.k.a. ZIMOVSKY, Alexander Leonidovich; a.k.a. ZIMOVSKY, Aliaksandr Lieanidavich; a.k.a. ZIMOWSKI, Alaksandr Leanidavich; a.k.a. ZIMOWSKI, Alexander Leonidovich; a.k.a. ZIMOWSKY, Alaksandr Leanidavich; a.k.a. ZIMOWSKY, Aleksandr Leonidovich; a.k.a. ZIMOWSKY, Alexander Leonidovich; a.k.a. ZIMOWSKY, Aliaksandr Leanidavich); DOB 10 Jan 1961; POB Germany; Head of the Belarusian State Television and Radio Company (BSTRC); Member of the Upper House of Parliament (individual) [BELARUS]

ZIMOWSKI, Alexander Leonidovich (a.k.a. SIMOWSKI, Aliaksandr Leanidavich; a.k.a. ZIMOUSKI, Akiaksandr Leanidavich; a.k.a. ZIMOUSKI, Alaksandr Leanidavich; a.k.a. ZIMOUSKY, Alaksandr Leanidavich; a.k.a. ZIMOUSKY, Aliaksandr Leanidavich; a.k.a. ZIMOVSKI, Alaksandr Leanidavich; a.k.a. ZIMOVSKI, Aleksandr Leonidovich; a.k.a. ZIMOVSKI, Alexander Leonidovich; a.k.a. ZIMOVSKI, Aliaksandr Leanidavich; a.k.a. ZIMOVSKY, Alaksandr Leanidavich; a.k.a. ZIMOVSKY, Aleksandr Leonidovich; a.k.a. ZIMOVSKY, Alexander Leonidovich; a.k.a. ZIMOVSKY, Aliaksandr Lieanidavich; a.k.a. ZIMOWSKI, Alaksandr Leanidavich; a.k.a. ZIMOWSKI, Aleksandr Leonidovich; a.k.a. ZIMOWSKY, Alaksandr Leanidavich; a.k.a. ZIMOWSKY, Aleksandr Leonidovich; a.k.a. ZIMOWSKY, Alexander Leonidovich; a.k.a. ZIMOWSKY, Aliaksandr Leanidavich); DOB 10 Jan 1961; POB Germany; Head of the Belarusian State Television and Radio Company (BSTRC); Member of the Upper House of Parliament (individual) [BELARUS]

ZIMOWSKY, Alaksandr Leanidavich (a.k.a. SIMOWSKI, Aliaksandr Leanidavich; a.k.a. ZIMOUSKI, Akiaksandr Leanidavich; a.k.a. ZIMOUSKI, Alaksandr Leanidavich; a.k.a. ZIMOUSKY, Alaksandr Leanidavich; a.k.a. ZIMOUSKY, Aliaksandr Leanidavich; a.k.a. ZIMOVSKI, Alaksandr Leanidavich; a.k.a. ZIMOVSKI, Aleksandr Leonidovich; a.k.a. ZIMOVSKI, Alexander Leonidovich; a.k.a. ZIMOVSKI, Aliaksandr Leanidavich; a.k.a. ZIMOVSKY, Alaksandr Leanidavich; a.k.a. ZIMOVSKY, Aleksandr Leonidovich; a.k.a. ZIMOVSKY, Alexander Leonidovich; a.k.a. ZIMOVSKY, Aliaksandr Lieanidavich; a.k.a. ZIMOWSKI, Alaksandr Leanidavich; a.k.a. ZIMOWSKI, Aleksandr Leonidovich; a.k.a. ZIMOWSKI, Alexander Leonidovich; a.k.a. ZIMOWSKY, Aleksandr Leonidovich; a.k.a. ZIMOWSKY, Alexander Leonidovich; a.k.a. ZIMOWSKY, Aliaksandr Leanidavich); DOB 10 Jan 1961; POB Germany; Head of the Belarusian State Television and Radio Company (BSTRC); Member of the Upper House of Parliament (individual) [BELARUS]

ZIMOWSKY, Aleksandr Leonidovich (a.k.a. SIMOWSKI, Aliaksandr Leanidavich; a.k.a. ZIMOUSKI, Akiaksandr Leanidavich; a.k.a. ZIMOUSKI, Alaksandr Leanidavich; a.k.a. ZIMOUSKY, Alaksandr Leanidavich; a.k.a. ZIMOUSKY, Aliaksandr Leanidavich; a.k.a. ZIMOVSKI, Alaksandr Leanidavich; a.k.a. ZIMOVSKI, Aleksandr Leonidovich; a.k.a. ZIMOVSKI, Alexander Leonidovich; a.k.a. ZIMOVSKI, Aliaksandr Leanidavich; a.k.a. ZIMOVSKY, Alaksandr Leanidavich; a.k.a. ZIMOVSKY, Aleksandr Leonidovich; a.k.a. ZIMOVSKY, Alexander Leonidovich; a.k.a. ZIMOVSKY, Aliaksandr Lieanidavich; a.k.a. ZIMOWSKI, Alaksandr Leanidavich; a.k.a. ZIMOWSKI, Aleksandr Leonidovich; a.k.a. ZIMOWSKI, Alexander Leonidovich; a.k.a. ZIMOWSKY, Alaksandr Leanidavich; a.k.a. ZIMOWSKY, Alexander Leonidovich; a.k.a. ZIMOWSKY, Aliaksandr Leanidavich); DOB 10 Jan 1961; POB Germany; Head of the Belarusian State Television and Radio Company (BSTRC); Member of the Upper House of Parliament (individual) [BELARUS]

ZIMOWSKY, Alexander Leonidovich (a.k.a. SIMOWSKI, Aliaksandr Leanidavich; a.k.a. ZIMOUSKI, Akiaksandr Leanidavich; a.k.a. ZIMOUSKI, Alaksandr Leanidavich; a.k.a. ZIMOUSKY, Alaksandr Leanidavich; a.k.a. ZIMOUSKY, Aliaksandr Leanidavich; a.k.a. ZIMOVSKI, Alaksandr Leanidavich; a.k.a. ZIMOVSKI, Aleksandr Leonidovich; a.k.a. ZIMOVSKI, Alexander Leonidovich; a.k.a. ZIMOVSKI, Aliaksandr Leanidavich; a.k.a. ZIMOVSKY, Alaksandr Leanidavich; a.k.a. ZIMOVSKY, Aleksandr Leonidovich; a.k.a. ZIMOVSKY, Alexander Leonidovich; a.k.a. ZIMOVSKY, Aliaksandr Lieanidavich; a.k.a. ZIMOWSKI, Alaksandr Leanidavich; a.k.a. ZIMOWSKI, Aleksandr Leonidovich; a.k.a. ZIMOWSKI, Alexander Leonidovich; a.k.a. ZIMOWSKY, Alaksandr Leanidavich; a.k.a. ZIMOWSKY, Aleksandr Leonidovich; a.k.a. ZIMOWSKY, Aliaksandr Leanidavich); DOB 10 Jan 1961; POB Germany; Head of the Belarusian State Television and Radio Company (BSTRC); Member of the Upper House of Parliament (individual) [BELARUS]

ZIMOWSKY, Aliaksandr Leanidavich (a.k.a. SIMOWSKI, Aliaksandr Leanidavich; a.k.a. ZIMOUSKI, Akiaksandr Leanidavich; a.k.a. ZIMOUSKI, Alaksandr Leanidavich; a.k.a. ZIMOUSKY, Alaksandr Leanidavich; a.k.a. ZIMOUSKY, Aliaksandr Leanidavich; a.k.a. ZIMOVSKI, Alaksandr Leanidavich; a.k.a. ZIMOVSKI, Aleksandr Leonidovich; a.k.a. ZIMOVSKI, Alexander Leonidovich; a.k.a. ZIMOVSKI, Aliaksandr Leanidavich; a.k.a. ZIMOVSKY, Alaksandr Leanidavich; a.k.a. ZIMOVSKY, Aleksandr Leonidovich; a.k.a. ZIMOVSKY, Alexander Leonidovich; a.k.a. ZIMOVSKY, Aliaksandr Lieanidavich; a.k.a. ZIMOWSKI, Alaksandr Leanidavich; a.k.a. ZIMOWSKI, Aleksandr Leonidovich; a.k.a. ZIMOWSKI, Alexander Leonidovich; a.k.a. ZIMOWSKY, Alaksandr Leanidavich; a.k.a. ZIMOWSKY, Aleksandr Leonidovich; a.k.a. ZIMOWSKY, Alexander Leonidovich); DOB 10 Jan 1961; POB Germany; Head of the Belarusian State Television and Radio Company (BSTRC); Member of the Upper House of Parliament (individual) [BELARUS]

ZUBAIDI, Muhammad Hamza (a.k.a. AL-ZUBAIDI, Mohammed Hamza; a.k.a. AL-ZUBAYDI, Muhammad Hamsa); DOB 1938; POB Babylon, Babil Governorate, Iraq; nationality Iraq; former prime minister (individual) [IRAQ2]

ZUBIAGA BRAVO, Manex; DOB 14 August 1979; POB Getxo Vizcaya Province, Spain; D.N.I. 16.064.664; Member ETA (individual) [SDGT]

ZUKIPLI (a.k.a. BIN MARZUKI, Zulkifli; a.k.a. BIN ZUKEPLI, Marzuki; a.k.a. MARZUKI, Zulkepli; a.k.a. MARZUKI, Zulkifli; a.k.a. ZULKIFLI); DOB 3 Jul 1968; POB Malaysia; nationality Malaysia (individual) [SDGT]

ZULKARNAEN (a.k.a. ARIF SUNARSO; a.k.a. ARIS SUMARSONO; a.k.a. ARIS SUNARSO; a.k.a. MURSHID; a.k.a. USTAD DAUD ZULKARNAEN; a.k.a. ZULKARNAIN; a.k.a. ZULKARNAN; a.k.a. ZULKARNIN); DOB 1963; POB Gebang village, Masaran, Sragen, Central Java, Indonesia; nationality Indonesia (individual) [SDGT]

ZULKARNAIN (a.k.a. ARIF SUNARSO; a.k.a. ARIS SUMARSONO; a.k.a. ARIS SUNARSO; a.k.a. MURSHID; a.k.a. USTAD DAUD ZULKARNAEN; a.k.a. ZULKARNAEN; a.k.a. ZULKARNAN; a.k.a. ZULKARNIN); DOB 1963; POB Gebang village, Masaran, Sragen, Central Java, Indonesia; nationality Indonesia (individual) [SDGT]

ZULKARNAN (a.k.a. ARIF SUNARSO; a.k.a. ARIS SUMARSONO; a.k.a. ARIS SUNARSO; a.k.a. MURSHID; a.k.a. USTAD DAUD ZULKARNAEN; a.k.a. ZULKARNAEN; a.k.a. ZULKARNAIN; a.k.a. ZULKARNIN); DOB 1963; POB Gebang village, Masaran, Sragen, Central Java, Indonesia; nationality Indonesia (individual) [SDGT]

ZULKARNIN (a.k.a. ARIF SUNARSO; a.k.a. ARIS SUMARSONO; a.k.a. ARIS SUNARSO; a.k.a. MURSHID; a.k.a. USTAD DAUD ZULKARNAEN; a.k.a. ZULKARNAEN; a.k.a. ZULKARNAIN; a.k.a. ZULKARNAN); DOB 1963; POB Gebang village, Masaran, Sragen, Central Java, Indonesia; nationality Indonesia (individual) [SDGT]

ZULKIFLI (a.k.a. BIN MARZUKI, Zulkifli; a.k.a. BIN ZUKEPLI, Marzuki; a.k.a. MARZUKI, Zulkepli; a.k.a. MARZUKI, Zulkifli; a.k.a. ZUKIPLI); DOB 3 Jul 1968; POB Malaysia; nationality Malaysia (individual) [SDGT]

ZULKIFLI, Abdul Hir bin (a.k.a. HIR, Musa Abdul; a.k.a. HIR, Zulkifli Abdul; a.k.a. HIR, Zulkifli Bin Abdul; a.k.a. ZULKIFLI, Bin Abdul Hir; a.k.a. “MUSA ABDUL”); DOB 5 Jan 1966; alt. DOB 5 Oct 1966; POB Malaysia (individual) [SDGT]

ZULKIFLI, Bin Abdul Hir (a.k.a. HIR, Musa Abdul; a.k.a. HIR, Zulkifli Abdul; a.k.a. HIR, Zulkifli Bin Abdul; a.k.a. ZULKIFLI, Abdul Hir bin; a.k.a. “MUSA ABDUL”); DOB 5 Jan 1966; alt. DOB 5 Oct 1966; POB Malaysia (individual) [SDGT]

ZUMAR, Colonel Abbud (a.k.a. AL-ZUMAR, Abbud), Egypt; POB Egypt; Factional Leader of JIHAD GROUP (individual) [SDT]

ZUNIGA OSORIO, Marco Fidel, c/o LABORATORIOS BLANCO PHARMA, Bogota, Colombia; c/o FARMATODO S.A., Bogota, Colombia; DOB 15 Apr 1967; Cedula No. 72144581 (Colombia) (individual) [SDNT]

ZUPLJANIN, Stojan; DOB 1951; POB Maslovare, Bosnia-Herzegovina; ICTY indictee (individual) [BALKANS]

ZVINAVASHE INVESTMENTS LTD. (a.k.a. LAMFONTINE FARM; a.k.a. ZVINAVASHE TRANSPORT), 730 Cowie Road, Tynwald, Harare, Zimbabwe; P.O. Box 3928, Harare, Zimbabwe [ZIMBABWE]

ZVINAVASHE TRANSPORT (a.k.a. LAMFONTINE FARM; a.k.a. ZVINAVASHE INVESTMENTS LTD.), 730 Cowie Road, Tynwald, Harare, Zimbabwe; P.O. Box 3928, Harare, Zimbabwe [ZIMBABWE]

ZVINAVASHE, Vitalis; DOB 27 Sep 1943; Politburo Member & Retired Commander of Zimbabwe Defense Forces (individual) [ZIMBABWE]

”ABD AL-HADI” (a.k.a. GUNAWAN, Gun Gun Rusman; a.k.a. GUNAWAN, Rusman; a.k.a. “ABDUL HADI”; a.k.a. “ABDUL KARIM”; a.k.a. “BUKHORI”; a.k.a. “BUKHORY”); DOB 6 Jul 1977; POB Cianjur, West Java, Indonesia; nationality Indonesia (individual) [SDGT]

”ABDALARAK” (a.k.a. AMMARI, Saifi; a.k.a. “ABDERREZAK LE PARA”; a.k.a. “ABDERREZAK ZAIMECHE”; a.k.a. “ABDUL RASAK AMMANE ABU HAIDRA”; a.k.a. “ABOU HAIDARA”; a.k.a. “EL OURASSI”; a.k.a. “EL PARA”); DOB 1 Jan 1968; POB Kef Rih, Algeria; nationality Algeria (individual) [SDGT]

”ABDALLA” (a.k.a. ZERFAOUI, Ahmad; a.k.a. “ABDULLAH”; a.k.a. “ABU CHOLDER”; a.k.a. “ABU KHAOULA”; a.k.a. “NUHR”; a.k.a. “SMAIL”); DOB 15 Jul 1963; POB Chrea, Algeria (individual) [SDGT]

”ABDALLAH O ABDULLAH” (a.k.a. RARRBO, Ahmed Hosni); DOB 12 Sep 1974; POB Bologhine, Algeria (individual) [SDGT]

”ABDEL' AZIZ BEN NARVAN” (a.k.a. JARRAYA, Khalil; a.k.a. JARRAYA, Khalil Ben Ahmed Ben Mohamed; a.k.a. “AMR”; a.k.a. “AMRO”; a.k.a. “AMROU”; a.k.a. “BEN NARVAN ABDEL AZIZ”; a.k.a. “KHALIL YARRAYA”; a.k.a. “OMAR”), Via Bellaria n.10, Bologna, Italy; Via Lazio n.3, Bologna, Italy; DOB 8 Feb 1969; alt. DOB 15 Aug 1970; POB Sfax, Tunisia; alt. POB Sreka, ex-Yugoslavia; nationality Tunisia alt. Bosnia and Herzegovina; Passport K989895 (Tunisia) issued 26 Jul 1995 expires 25 Jul 2000 (individual) [SDGT]

”ABDEL HAK” (a.k.a. EL-AICH, Dhou); DOB 5 Aug 1964; POB Debila, Algeria (individual) [SDGT]

”ABDELHAMID AL KURDI” (a.k.a. HAMMID, Mohammed Tahir), Via della Martinella 132, Parma, Italy; DOB 1 Nov 1975; POB Poshok, Iraq; nationality Iraq; Kurdish; arrested 31 Mar 2003 (individual) [SDGT]

”ABDELLAH” (a.k.a. ABDAOUI, Youssef; a.k.a. ABDAOUI, Youssef Ben Abdul Baki Ben Youcef; a.k.a. “ABDULLAH”; a.k.a. “ABU ABDULLAH”), Piazza Giovane Italia n.2, Varese, Italy; DOB 4 Jun 1966; POB Kairouan, Tunisia; nationality Tunisia; Passport G025057 issued 23 Jun 1999 expires 5 Feb 2004 (individual) [SDGT]

”ABDELRAHMMAN” (a.k.a. ESSAADI, Moussa Ben Amor; a.k.a. “BECHIR”; a.k.a. “DAH DAH”), Via Milano n.108, Brescia, Italy; DOB 4 Dec 1964; POB Tabarka, Tunisia; nationality Tunisia; Passport L335915 issued 8 Nov 1996 expires 7 Nov 2001 (individual) [SDGT]

”ABDERRAHMANE” (a.k.a. RIHANI, Lotfi), Via Bolgeri 4, Barni (Como), Italy; DOB 1 Jul 1977; POB Tunisi, Tunisia; nationality Tunisia; Passport L 886177 issued 14 Dec 1998 expires 13 Dec 2003 (individual) [SDGT]

”ABDERREZAK LE PARA” (a.k.a. AMMARI, Saifi; a.k.a. “ABDALARAK”; a.k.a. “ABDERREZAK ZAIMECHE”; a.k.a. “ABDUL RASAK AMMANE ABU HAIDRA”; a.k.a. “ABOU HAIDARA”; a.k.a. “EL OURASSI”; a.k.a. “EL PARA”); DOB 1 Jan 1968; POB Kef Rih, Algeria; nationality Algeria (individual) [SDGT]

”ABDERREZAK ZAIMECHE” (a.k.a. AMMARI, Saifi; a.k.a. “ABDALARAK”; a.k.a. “ABDERREZAK LE PARA”; a.k.a. “ABDUL RASAK AMMANE ABU HAIDRA”; a.k.a. “ABOU HAIDARA”; a.k.a. “EL OURASSI”; a.k.a. “EL PARA”); DOB 1 Jan 1968; POB Kef Rih, Algeria; nationality Algeria (individual) [SDGT]

”ABD'RABBAH” (a.k.a. ABDRABBA, Ghoma; a.k.a. ABD'RABBAH, Ghuma; a.k.a. ABDURABBA, Ghunia; a.k.a. “ABU JAMIL”), Birmingham, United Kingdom; DOB 2 Sep 1957; POB Benghazi, Libya; nationality United Kingdom (individual) [SDGT]

”ABDUL AZIZ” (a.k.a. BIN SIHABUDIN, Abdul Aziz; a.k.a. SAMUDRA, Imam; a.k.a. YUNSHAR, Faiz; a.k.a. “ABU OMAR”; a.k.a. “FATIH”; a.k.a. “HENDRI”; a.k.a. “HERI”; a.k.a. “KUDAMA”); DOB 14 Jan 1970; POB Serang, Banten, Indonesia (individual) [SDGT]

”ABDUL HADI” (a.k.a. GUNAWAN, Gun Gun Rusman; a.k.a. GUNAWAN, Rusman; a.k.a. “ABD AL-HADI”; a.k.a. “ABDUL KARIM”; a.k.a. “BUKHORI”; a.k.a. “BUKHORY”); DOB 6 Jul 1977; POB Cianjur, West Java, Indonesia; nationality Indonesia (individual) [SDGT]

”ABDUL KARIM” (a.k.a. GUNAWAN, Gun Gun Rusman; a.k.a. GUNAWAN, Rusman; a.k.a. “ABD AL-HADI”; a.k.a. “ABDUL HADI”; a.k.a. “BUKHORI”; a.k.a. “BUKHORY”); DOB 6 Jul 1977; POB Cianjur, West Java, Indonesia; nationality Indonesia (individual) [SDGT]

”ABDUL RASAK AMMANE ABU HAIDRA” (a.k.a. AMMARI, Saifi; a.k.a. “ABDALARAK”; a.k.a. “ABDERREZAK LE PARA”; a.k.a. “ABDERREZAK ZAIMECHE”; a.k.a. “ABOU HAIDARA”; a.k.a. “EL OURASSI”; a.k.a. “EL PARA”); DOB 1 Jan 1968; POB Kef Rih, Algeria; nationality Algeria (individual) [SDGT]

”ABDULLAH” (a.k.a. ABDAOUI, Youssef; a.k.a. ABDAOUI, Youssef Ben Abdul Baki Ben Youcef; a.k.a. “ABDELLAH”; a.k.a. “ABU ABDULLAH”), Piazza Giovane Italia n.2, Varese, Italy; DOB 4 Jun 1966; POB Kairouan, Tunisia; nationality Tunisia; Passport G025057 issued 23 Jun 1999 expires 5 Feb 2004 (individual) [SDGT]

”ABDULLAH” (a.k.a. ZERFAOUI, Ahmad; a.k.a. “ABDALLA”; a.k.a. “ABU CHOLDER”; a.k.a. “ABU KHAOULA”; a.k.a. “NUHR”; a.k.a. “SMAIL”); DOB 15 Jul 1963; POB Chrea, Algeria (individual) [SDGT]

”ABDUS SAMAD” (a.k.a. BA'ASYIR, Abu Bakar; a.k.a. BAASYIR, Abu Bakar; a.k.a. BASHIR, Abu Bakar; a.k.a. “ABDUS SOMAD”); DOB 17 Aug 1938; POB Jombang, East Java, Indonesia; nationality Indonesia (individual) [SDGT]

”ABDUS SOMAD” (a.k.a. BA'ASYIR, Abu Bakar; a.k.a. BAASYIR, Abu Bakar; a.k.a. BASHIR, Abu Bakar; a.k.a. “ABDUS SAMAD”); DOB 17 Aug 1938; POB Jombang, East Java, Indonesia; nationality Indonesia (individual) [SDGT]

”ABOU HAIDARA” (a.k.a. AMMARI, Saifi; a.k.a. “ABDALARAK”; a.k.a. “ABDERREZAK LE PARA”; a.k.a. “ABDERREZAK ZAIMECHE”; a.k.a. “ABDUL RASAK AMMANE ABU HAIDRA”; a.k.a. “EL OURASSI”; a.k.a. “EL PARA”); DOB 1 Jan 1968; POB Kef Rih, Algeria; nationality Algeria (individual) [SDGT]

”ABOU HAMZA” (a.k.a. BROUGERE, Jacques; a.k.a. BRUGERE, Jacques; a.k.a. DUMONT, Lionel; a.k.a. “ABOU HANZA”; a.k.a. “ABU KHAMZA”; a.k.a. “BILAL”; a.k.a. “BILAL KUMKAL”; a.k.a. “HAMZA”; a.k.a. “KOUMAL”; a.k.a. “LAJONEL DIMON”); DOB 21 Jan 1971; alt. DOB 19 Jan 1971; alt. DOB 29 Jan 1975; POB Roubaix, France (individual) [SDGT]

”ABOU HANZA” (a.k.a. BROUGERE, Jacques; a.k.a. BRUGERE, Jacques; a.k.a. DUMONT, Lionel; a.k.a. “ABOU HAMZA”; a.k.a. “ABU KHAMZA”; a.k.a. “BILAL”; a.k.a. “BILAL KUMKAL”; a.k.a. “HAMZA”; a.k.a. “KOUMAL”; a.k.a. “LAJONEL DIMON”); DOB 21 Jan 1971; alt. DOB 19 Jan 1971; alt. DOB 29 Jan 1975; POB Roubaix, France (individual) [SDGT]

”ABU ABD AL-RAHMAN” (a.k.a. ALBASHIR, Mohammed; a.k.a. AL-BASHIR, Muhammad; a.k.a. AL-FAQI, Bashir Mohammed Ibrahim; a.k.a. AL-FAQIH, Abd al-Rahman; a.k.a. AL-KHATAB, Abd Al Rahman; a.k.a. ISMAIL, Mohammed; a.k.a. MOHAMMED, Al-Basher; a.k.a. “ABU KHALID”; a.k.a. “ABU MOHAMMED”; a.k.a. “MAHMUD”; a.k.a. “MUSTAFA”), Birmingham, United Kingdom; DOB 15 Dec 1959; POB Libya (individual) [SDGT]

”ABU ABDULLAH” (a.k.a. ABDAOUI, Youssef; a.k.a. ABDAOUI, Youssef Ben Abdul Baki Ben Youcef; a.k.a. “ABDELLAH”; a.k.a. “ABDULLAH”), Piazza Giovane Italia n.2, Varese, Italy; DOB 4 Jun 1966; POB Kairouan, Tunisia; nationality Tunisia; Passport G025057 issued 23 Jun 1999 expires 5 Feb 2004 (individual) [SDGT]

”ABU AL QASSAM” (a.k.a. BEN HAMMEDI, Mohammed; a.k.a. BENHAMMEDI, Mohammed; a.k.a. BIN HAMMIDI, Muhammad Muhammad; a.k.a. HANNADI, Mohamed; a.k.a. “ABU HAJIR”; a.k.a. “ABU HAJIR AL LIBI”; a.k.a. “HAMMEDI, Ben”; a.k.a. “PANHAMMEDI”), Midlands, United Kingdom; DOB 22 Sep 1966; POB Libya; citizen Libya (individual) [SDGT]

”ABU AL-FOUTOUH” (a.k.a. ABDELHAY, al-Sheikh; a.k.a. AHCENE, Cheib; a.k.a. ALLANE, Hacene; a.k.a. “BOULAHIA”; a.k.a. “HASSAN THE OLD”); DOB 17 Jan 1941; POB El Menea, Algeria (individual) [SDGT]

”ABU AL-HASAN AL MADANI” (a.k.a. JALADIN, Wa'el Hamza; a.k.a. JALADIN, Wa'il Hamza; a.k.a. JALAIDAN, Wa'el Hamza; a.k.a. JALAIDAN, Wa'il Hamza; a.k.a. JULAIDAN, Wa'el Hamza; a.k.a. JULAIDAN, Wa'il Hamza; a.k.a. JULAYDAN, Wa'el Hamza; a.k.a. JULAYDAN, Wa'il Hamza); DOB 22 Jan 1958; POB Al-Madinah, Saudi Arabia; Passport A-992535 (Saudi Arabia) (individual) [SDGT]

”ABU ALI” (a.k.a. ABU DHESS, Mohamed; a.k.a. HASSAN, Yaser), ; Holdenweg 76, Essen 45143, Germany; DOB 1 Feb 1966; POB Hashmija, Iraq; nationality possibly Palestinian;arrested 23 Apr 2002 (individual) [SDGT]

”ABU CHOLDER” (a.k.a. ZERFAOUI, Ahmad; a.k.a. “ABDALLA”; a.k.a. “ABDULLAH”; a.k.a. “ABU KHAOULA”; a.k.a. “NUHR”; a.k.a. “SMAIL”); DOB 15 Jul 1963; POB Chrea, Algeria (individual) [SDGT]

”ABU FATHI” (a.k.a. ANSHORI, Abdullah; a.k.a. THOYIB, Ibnu; a.k.a. TOYIB, Ibnu; a.k.a. “ABU FATIH”); DOB 1958; POB Pacitan, East Java, Indonesia; nationality Indonesia (individual) [SDGT]

”ABU FATIH” (a.k.a. ANSHORI, Abdullah; a.k.a. THOYIB, Ibnu; a.k.a. TOYIB, Ibnu; a.k.a. “ABU FATHI”); DOB 1958; POB Pacitan, East Java, Indonesia; nationality Indonesia (individual) [SDGT]

”ABU HAJIR AL LIBI” (a.k.a. BEN HAMMEDI, Mohammed; a.k.a. BENHAMMEDI, Mohammed; a.k.a. BIN HAMMIDI, Muhammad Muhammad; a.k.a. HANNADI, Mohamed; a.k.a. “ABU AL QASSAM”; a.k.a. “ABU HAJIR”; a.k.a. “HAMMEDI, Ben”; a.k.a. “PANHAMMEDI”), Midlands, United Kingdom; DOB 22 Sep 1966; POB Libya; citizen Libya (individual) [SDGT]

”ABU HAJIR” (a.k.a. BEN HAMMEDI, Mohammed; a.k.a. BENHAMMEDI, Mohammed; a.k.a. BIN HAMMIDI, Muhammad Muhammad; a.k.a. HANNADI, Mohamed; a.k.a. “ABU AL QASSAM”; a.k.a. “ABU HAJIR AL LIBI”; a.k.a. “HAMMEDI, Ben”; a.k.a. “PANHAMMEDI”), Midlands, United Kingdom; DOB 22 Sep 1966; POB Libya; citizen Libya (individual) [SDGT]

”ABU JAMIL” (a.k.a. ABDRABBA, Ghoma; a.k.a. ABD'RABBAH, Ghuma; a.k.a. ABDURABBA, Ghunia; a.k.a. “ABD'RABBAH”), Birmingham, United Kingdom; DOB 2 Sep 1957; POB Benghazi, Libya; nationality United Kingdom (individual) [SDGT]

”ABU KHALID” (a.k.a. ALBASHIR, Mohammed; a.k.a. AL-BASHIR, Muhammad; a.k.a. AL-FAQI, Bashir Mohammed Ibrahim; a.k.a. AL-FAQIH, Abd al-Rahman; a.k.a. AL-KHATAB, Abd Al Rahman; a.k.a. ISMAIL, Mohammed; a.k.a. MOHAMMED, Al-Basher; a.k.a. “ABU ABD AL-RAHMAN”; a.k.a. “ABU MOHAMMED”; a.k.a. “MAHMUD”; a.k.a. “MUSTAFA”), Birmingham, United Kingdom; DOB 15 Dec 1959; POB Libya (individual) [SDGT]

”ABU KHAMZA” (a.k.a. BROUGERE, Jacques; a.k.a. BRUGERE, Jacques; a.k.a. DUMONT, Lionel; a.k.a. “ABOU HAMZA”; a.k.a. “ABOU HANZA”; a.k.a. “BILAL”; a.k.a. “BILAL KUMKAL”; a.k.a. “HAMZA”; a.k.a. “KOUMAL”; a.k.a. “LAJONEL DIMON”); DOB 21 Jan 1971; alt. DOB 19 Jan 1971; alt. DOB 29 Jan 1975; POB Roubaix, France (individual) [SDGT]

”ABU KHAOULA” (a.k.a. ZERFAOUI, Ahmad; a.k.a. “ABDALLA”; a.k.a. “ABDULLAH”; a.k.a. “ABU CHOLDER”; a.k.a. “NUHR”; a.k.a. “SMAIL”); DOB 15 Jul 1963; POB Chrea, Algeria (individual) [SDGT]

”ABU KHAWLA” (a.k.a. KHALED, Abdulbaqi Mohammed; a.k.a. KHALED, Abul Baki; a.k.a. KHALED, Abul Baki Mohammed; a.k.a. MOHAMMED, Abd' al-Baki), Birmingham, United Kingdom; DOB 18 Aug 1957; POB Tripoli, Libya; citizen United Kingdom (individual) [SDGT]

”ABU MOHAMMED” (a.k.a. ALBASHIR, Mohammed; a.k.a. AL-BASHIR, Muhammad; a.k.a. AL-FAQI, Bashir Mohammed Ibrahim; a.k.a. AL-FAQIH, Abd al-Rahman; a.k.a. AL-KHATAB, Abd Al Rahman; a.k.a. ISMAIL, Mohammed; a.k.a. MOHAMMED, Al-Basher; a.k.a. “ABU ABD AL-RAHMAN”; a.k.a. “ABU KHALID”; a.k.a. “MAHMUD”; a.k.a. “MUSTAFA”), Birmingham, United Kingdom; DOB 15 Dec 1959; POB Libya (individual) [SDGT]

”ABU MUSAB” (a.k.a. HAPILON, Isnilon Totoni; a.k.a. HAPILUN, Isnilon; a.k.a. HAPILUN, Isnilun; a.k.a. “SALAHUDIN”; a.k.a. “TUAN ISNILON”); DOB 18 Mar 1966; alt. DOB 10 Mar 1967; POB Bulanza, Lantawan, Basilan, the Philippines; nationality Philippines (individual) [SDGT]

”ABU OBAIDA” (a.k.a. REFKE, Taufek; a.k.a. RIFKI, Taufik; a.k.a. RIFQI, Taufik; a.k.a. RIFQI, Tawfiq; a.k.a. YACUB, Eric; a.k.a. “ABU OBAIDAH”; a.k.a. “ABU OBAYDA”; a.k.a. “ABU OBEIDA”; a.k.a. “ABU UBAIDAH”; a.k.a. “AMI IRAQ”; a.k.a. “AMI IRZA”; a.k.a. “AMI KUSOMAN”; a.k.a. “AMMY ERZA”; a.k.a. “AMMY IZZA”; a.k.a. “AMY ERJA”; a.k.a. “IZZA KUSOMAN”; a.k.a. “OBAIDAH”); DOB 29 Aug 1974; alt. DOB 19 Aug 1980; alt. DOB 9 Aug 1974; alt. DOB 19 Aug 1974; POB Dacusuman Surakarta, Central Java, Indonesia; nationality Indonesia (individual) [SDGT]

”ABU OBAIDAH” (a.k.a. REFKE, Taufek; a.k.a. RIFKI, Taufik; a.k.a. RIFQI, Taufik; a.k.a. RIFQI, Tawfiq; a.k.a. YACUB, Eric; a.k.a. “ABU OBAIDA”; a.k.a. “ABU OBAYDA”; a.k.a. “ABU OBEIDA”; a.k.a. “ABU UBAIDAH”; a.k.a. “AMI IRAQ”; a.k.a. “AMI IRZA”; a.k.a. “AMI KUSOMAN”; a.k.a. “AMMY ERZA”; a.k.a. “AMMY IZZA”; a.k.a. “AMY ERJA”; a.k.a. “IZZA KUSOMAN”; a.k.a. “OBAIDAH”); DOB 29 Aug 1974; alt. DOB 19 Aug 1980; alt. DOB 9 Aug 1974; alt. DOB 19 Aug 1974; POB Dacusuman Surakarta, Central Java, Indonesia; nationality Indonesia (individual) [SDGT]

”ABU OBAYDA” (a.k.a. REFKE, Taufek; a.k.a. RIFKI, Taufik; a.k.a. RIFQI, Taufik; a.k.a. RIFQI, Tawfiq; a.k.a. YACUB, Eric; a.k.a. “ABU OBAIDA”; a.k.a. “ABU OBAIDAH”; a.k.a. “ABU OBEIDA”; a.k.a. “ABU UBAIDAH”; a.k.a. “AMI IRAQ”; a.k.a. “AMI IRZA”; a.k.a. “AMI KUSOMAN”; a.k.a. “AMMY ERZA”; a.k.a. “AMMY IZZA”; a.k.a. “AMY ERJA”; a.k.a. “IZZA KUSOMAN”; a.k.a. “OBAIDAH”); DOB 29 Aug 1974; alt. DOB 19 Aug 1980; alt. DOB 9 Aug 1974; alt. DOB 19 Aug 1974; POB Dacusuman Surakarta, Central Java, Indonesia; nationality Indonesia (individual) [SDGT]

”ABU OBEIDA” (a.k.a. REFKE, Taufek; a.k.a. RIFKI, Taufik; a.k.a. RIFQI, Taufik; a.k.a. RIFQI, Tawfiq; a.k.a. YACUB, Eric; a.k.a. “ABU OBAIDA”; a.k.a. “ABU OBAIDAH”; a.k.a. “ABU OBAYDA”; a.k.a. “ABU UBAIDAH”; a.k.a. “AMI IRAQ”; a.k.a. “AMI IRZA”; a.k.a. “AMI KUSOMAN”; a.k.a. “AMMY ERZA”; a.k.a. “AMMY IZZA”; a.k.a. “AMY ERJA”; a.k.a. “IZZA KUSOMAN”; a.k.a. “OBAIDAH”); DOB 29 Aug 1974; alt. DOB 19 Aug 1980; alt. DOB 9 Aug 1974; alt. DOB 19 Aug 1974; POB Dacusuman Surakarta, Central Java, Indonesia; nationality Indonesia (individual) [SDGT]

”ABU OMAR” (a.k.a. FETHI, Alic; a.k.a. MNASRI, Fethi Ben Rebai; a.k.a. “AMOR”), Via Toscana n.46, Bologna, Italy; Via di Saliceto n.51/9, Bologna, Italy; DOB 6 Mar 1969; POB Nefza, Tunisia (individual) [SDGT]

”ABU OMAR” (a.k.a. BIN SIHABUDIN, Abdul Aziz; a.k.a. SAMUDRA, Imam; a.k.a. YUNSHAR, Faiz; a.k.a. “ABDUL AZIZ”; a.k.a. “FATIH”; a.k.a. “HENDRI”; a.k.a. “HERI”; a.k.a. “KUDAMA”); DOB 14 Jan 1970; POB Serang, Banten, Indonesia (individual) [SDGT]

”ABU RIDA” (a.k.a. NASOOF, Tahar; a.k.a. NASUF, Taher; a.k.a. NASUF, Tahir; a.k.a. NASUF, Tahir Mustafa; a.k.a. “ABU SALIMA EL LIBI”; a.k.a. “AL-QA'QA”), Manchester, United Kingdom; DOB 4 Nov 1961; alt. DOB 11 Apr 1961; POB Tripoli, Libya (individual) [SDGT]

”ABU SAAD” (a.k.a. AL GHOZI, Fathur Rahman; a.k.a. AL GHOZI, Fathur Rohman; a.k.a. ALGHOZI, Fathur Rahman; a.k.a. AL-GHOZI, Fathur Rahman; a.k.a. ALGHOZI, Fathur Rohman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. JAMIL, Sammy Sali; a.k.a. JAMIL, Sammy Salih; a.k.a. RANDY, Alih; a.k.a. “ABU SA'AD”; a.k.a. “FREEDOM FIGHTER”); DOB 17 Feb 1971; POB Madiun, East Java, Indonesia; nationality Indonesia; Passport GG 672613 (Philippines) (individual) [SDGT]

”ABU SA'AD” (a.k.a. AL GHOZI, Fathur Rahman; a.k.a. AL GHOZI, Fathur Rohman; a.k.a. ALGHOZI, Fathur Rahman; a.k.a. AL-GHOZI, Fathur Rahman; a.k.a. ALGHOZI, Fathur Rohman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. JAMIL, Sammy Sali; a.k.a. JAMIL, Sammy Salih; a.k.a. RANDY, Alih; a.k.a. “ABU SAAD”; a.k.a. “FREEDOM FIGHTER”); DOB 17 Feb 1971; POB Madiun, East Java, Indonesia; nationality Indonesia; Passport GG 672613 (Philippines) (individual) [SDGT]

”ABU SALIMA EL LIBI” (a.k.a. NASOOF, Tahar; a.k.a. NASUF, Taher; a.k.a. NASUF, Tahir; a.k.a. NASUF, Tahir Mustafa; a.k.a. “ABU RIDA”; a.k.a. “AL-QA'QA”), Manchester, United Kingdom; DOB 4 Nov 1961; alt. DOB 11 Apr 1961; POB Tripoli, Libya (individual) [SDGT]

”ABU SETA” (a.k.a. ABU MUAMAR; a.k.a. MOCHTAR, Yasin Mahmud; a.k.a. MUBAROK, Muhamad; a.k.a. SYAWAL, Muhammad; a.k.a. SYAWAL, Yassin; a.k.a. YASIN, Abdul Hadi; a.k.a. YASIN, Salim; a.k.a. “MAHMUD”); DOB circa 1972; nationality Indonesia (individual) [SDGT]

”ABU SOLAIMAN” (a.k.a. SALI JR., Jainal Antel; a.k.a. “ABU SOLAYMAN”; a.k.a. “APONG SOLAIMAN”; a.k.a. “APUNG”); DOB 1 Jun 1965; POB Barangay Lanote, Bliss, Isabele, Basilan, the Philippines; nationality Philippines (individual) [SDGT]

”ABU SOLAYMAN” (a.k.a. SALI JR., Jainal Antel; a.k.a. “ABU SOLAIMAN”; a.k.a. “APONG SOLAIMAN”; a.k.a. “APUNG”); DOB 1 Jun 1965; POB Barangay Lanote, Bliss, Isabele, Basilan, the Philippines; nationality Philippines (individual) [SDGT]

”ABU THALE” (a.k.a. AL-AMDOUNI, Mehrez Ben Mahmoud Ben Sassi; a.k.a. AMDOUNI, Mehrez; a.k.a. FUSCO, Fabio; a.k.a. HASSAN, Mohamed); DOB 18 Dec 1969; POB Tunis, Tunisia; nationality Tunisia; Passport G737411 (Tunisia) issued 24 Oct 1990 expires 20 Sep 1997; alt. Passport 0801888 (Bosnia and Herzegovina) (individual) [SDGT]

”ABU UBAIDAH” (a.k.a. REFKE, Taufek; a.k.a. RIFKI, Taufik; a.k.a. RIFQI, Taufik; a.k.a. RIFQI, Tawfiq; a.k.a. YACUB, Eric; a.k.a. “ABU OBAIDA”; a.k.a. “ABU OBAIDAH”; a.k.a. “ABU OBAYDA”; a.k.a. “ABU OBEIDA”; a.k.a. “AMI IRAQ”; a.k.a. “AMI IRZA”; a.k.a. “AMI KUSOMAN”; a.k.a. “AMMY ERZA”; a.k.a. “AMMY IZZA”; a.k.a. “AMY ERJA”; a.k.a. “IZZA KUSOMAN”; a.k.a. “OBAIDAH”); DOB 29 Aug 1974; alt. DOB 19 Aug 1980; alt. DOB 9 Aug 1974; alt. DOB 19 Aug 1974; POB Dacusuman Surakarta, Central Java, Indonesia; nationality Indonesia (individual) [SDGT]

”ABU-SUMAYA” (a.k.a. DURGUTI, Safet); DOB 10 May 1967; POB Orahovac, Kosovo; Bosnian Personal ID No. 1005967953038; Passport 1144602 (Bosnia and Herzegovina) (individual) [SDGT]

”ADEL” (a.k.a. DJERMANE, Kamel; a.k.a. “BILAL”; a.k.a. “FODHIL”); DOB 1965; POB Oum el Bouaghi, Algeria; nationality Algeria (individual) [SDGT]

”ADOLFO PAZ” (a.k.a. MURILLO BEJARANO, Diego Fernando; a.k.a. “DON BERNA”); DOB 23 Feb 1961; Cedula No. 16357144 (Colombia) (individual) [SDNTK]

”AHMED THE TANZANIAN” (a.k.a. AHMAD, Abu Bakr; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. “FOOPIE”; a.k.a. “FUPI”; a.k.a. GHAILANI, Abubakary Khalfan Ahmed; a.k.a. GHAILANI, Ahmed; a.k.a. GHAILANI, Ahmed Khalfan; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

”AIO” (a.k.a. AEROSPACE INDUSTRIES ORGANIZATION; a.k.a. SAZMANE SANAYE HAVA FAZA), Langare Street, Nobonyad Square, Tehran, Iran [NPWMD]

”AL BRITAINI, Issa” (a.k.a. BADAT, Muhammed; a.k.a. BADAT, Saajid; a.k.a. BADAT, Sajid; a.k.a. BADAT, Sajid Mohammed; a.k.a. BADAT, Sajid Muhammad; a.k.a. BADET, Muhammed; a.k.a. BADET, Saajid Mohammad; a.k.a. BADET, Sajid Muhammad; a.k.a. “AL PAKISTANI, Abu Issa”; a.k.a. “AL PAKISTANI, Issa”); DOB 28 Mar 1979; alt. DOB 8 Mar 1976; POB Pakistan; alt. POB Gloucester, United Kingdom; citizen United Kingdom; Passport 703114075 (United Kingdom); alt. Passport 026725401 (United Kingdom); Currently imprisoned in the United Kingdom (individual) [SDGT]

”AL PAKISTANI, Abu Issa” (a.k.a. BADAT, Muhammed; a.k.a. BADAT, Saajid; a.k.a. BADAT, Sajid; a.k.a. BADAT, Sajid Mohammed; a.k.a. BADAT, Sajid Muhammad; a.k.a. BADET, Muhammed; a.k.a. BADET, Saajid Mohammad; a.k.a. BADET, Sajid Muhammad; a.k.a. “AL BRITAINI, Issa”; a.k.a. “AL PAKISTANI, Issa”); DOB 28 Mar 1979; alt. DOB 8 Mar 1976; POB Pakistan; alt. POB Gloucester, United Kingdom; citizen United Kingdom; Passport 703114075 (United Kingdom); alt. Passport 026725401 (United Kingdom); Currently imprisoned in the United Kingdom (individual) [SDGT]

”AL PAKISTANI, Issa” (a.k.a. BADAT, Muhammed; a.k.a. BADAT, Saajid; a.k.a. BADAT, Sajid; a.k.a. BADAT, Sajid Mohammed; a.k.a. BADAT, Sajid Muhammad; a.k.a. BADET, Muhammed; a.k.a. BADET, Saajid Mohammad; a.k.a. BADET, Sajid Muhammad; a.k.a. “AL BRITAINI, Issa”; a.k.a. “AL PAKISTANI, Abu Issa”); DOB 28 Mar 1979; alt. DOB 8 Mar 1976; POB Pakistan; alt. POB Gloucester, United Kingdom; citizen United Kingdom; Passport 703114075 (United Kingdom); alt. Passport 026725401 (United Kingdom); Currently imprisoned in the United Kingdom (individual) [SDGT]

”ALFONSO CANO” (a.k.a. SAENZ VARGAS, Guillermo Leon); DOB 22 Jul 1948; POB Bogota, Cundinamarca, Colombia; Cedula No. 17122751 (Colombia) (individual) [SDNTK]

”ALFREDO” (a.k.a. VARGAS RUEDA, Nelson; a.k.a. “HUGO”); DOB 27 Apr 1970; Cedula No. 77130763 (Colombia) (individual) [SDNTK]

”ALI BARKANI” (a.k.a. KALED, Belkasam; a.k.a. MOUSTFA, Djamel; a.k.a. “MOUSTAFA”), c/o Birgit Melani Schroeder, Kuehlungsborner Strasse 30, Hamburg 22147, Germany; DOB 28 Sep 1973; alt. DOB 31 Dec 1979; alt. DOB 22 Aug 1973; POB Tiaret, Algeria; alt. POB Morocco; nationality Algeria; arrested 23 Apr 2002; currently in remand at 20355 Hamburg Holstenglacis 3, Germany (individual) [SDGT]

”ALI DI ROMA” (a.k.a. EL HEIT, Ali; a.k.a. KAMEL, Mohamed), Via D. Fringuello, 20, Rome, Italy; Milan, Italy; DOB 20 Mar 1970; alt. DOB 30 Jan 1971; POB Rouba, Algeria (individual) [SDGT]

”AL-QA'QA” (a.k.a. NASOOF, Tahar; a.k.a. NASUF, Taher; a.k.a. NASUF, Tahir; a.k.a. NASUF, Tahir Mustafa; a.k.a. “ABU RIDA”; a.k.a. “ABU SALIMA EL LIBI”), Manchester, United Kingdom; DOB 4 Nov 1961; alt. DOB 11 Apr 1961; POB Tripoli, Libya (individual) [SDGT]

”AMI IRAQ” (a.k.a. REFKE, Taufek; a.k.a. RIFKI, Taufik; a.k.a. RIFQI, Taufik; a.k.a. RIFQI, Tawfiq; a.k.a. YACUB, Eric; a.k.a. “ABU OBAIDA”; a.k.a. “ABU OBAIDAH”; a.k.a. “ABU OBAYDA”; a.k.a. “ABU OBEIDA”; a.k.a. “ABU UBAIDAH”; a.k.a. “AMI IRZA”; a.k.a. “AMI KUSOMAN”; a.k.a. “AMMY ERZA”; a.k.a. “AMMY IZZA”; a.k.a. “AMY ERJA”; a.k.a. “IZZA KUSOMAN”; a.k.a. “OBAIDAH”); DOB 29 Aug 1974; alt. DOB 19 Aug 1980; alt. DOB 9 Aug 1974; alt. DOB 19 Aug 1974; POB Dacusuman Surakarta, Central Java, Indonesia; nationality Indonesia (individual) [SDGT]

”AMI IRZA” (a.k.a. REFKE, Taufek; a.k.a. RIFKI, Taufik; a.k.a. RIFQI, Taufik; a.k.a. RIFQI, Tawfiq; a.k.a. YACUB, Eric; a.k.a. “ABU OBAIDA”; a.k.a. “ABU OBAIDAH”; a.k.a. “ABU OBAYDA”; a.k.a. “ABU OBEIDA”; a.k.a. “ABU UBAIDAH”; a.k.a. “AMI IRAQ”; a.k.a. “AMI KUSOMAN”; a.k.a. “AMMY ERZA”; a.k.a. “AMMY IZZA”; a.k.a. “AMY ERJA”; a.k.a. “IZZA KUSOMAN”; a.k.a. “OBAIDAH”); DOB 29 Aug 1974; alt. DOB 19 Aug 1980; alt. DOB 9 Aug 1974; alt. DOB 19 Aug 1974; POB Dacusuman Surakarta, Central Java, Indonesia; nationality Indonesia (individual) [SDGT]

”AMI KUSOMAN” (a.k.a. REFKE, Taufek; a.k.a. RIFKI, Taufik; a.k.a. RIFQI, Taufik; a.k.a. RIFQI, Tawfiq; a.k.a. YACUB, Eric; a.k.a. “ABU OBAIDA”; a.k.a. “ABU OBAIDAH”; a.k.a. “ABU OBAYDA”; a.k.a. “ABU OBEIDA”; a.k.a. “ABU UBAIDAH”; a.k.a. “AMI IRAQ”; a.k.a. “AMI IRZA”; a.k.a. “AMMY ERZA”; a.k.a. “AMMY IZZA”; a.k.a. “AMY ERJA”; a.k.a. “IZZA KUSOMAN”; a.k.a. “OBAIDAH”); DOB 29 Aug 1974; alt. DOB 19 Aug 1980; alt. DOB 9 Aug 1974; alt. DOB 19 Aug 1974; POB Dacusuman Surakarta, Central Java, Indonesia; nationality Indonesia (individual) [SDGT]

”AMINE DEL BELGIO” (a.k.a. FETTAR, Rachid; a.k.a. “DJAFFAR”), Via degli Apuli n.5, Milan, Italy; DOB 16 Apr 1969; POB Boulogin, Algeria (individual) [SDGT]

”AMMY ERZA” (a.k.a. REFKE, Taufek; a.k.a. RIFKI, Taufik; a.k.a. RIFQI, Taufik; a.k.a. RIFQI, Tawfiq; a.k.a. YACUB, Eric; a.k.a. “ABU OBAIDA”; a.k.a. “ABU OBAIDAH”; a.k.a. “ABU OBAYDA”; a.k.a. “ABU OBEIDA”; a.k.a. “ABU UBAIDAH”; a.k.a. “AMI IRAQ”; a.k.a. “AMI IRZA”; a.k.a. “AMI KUSOMAN”; a.k.a. “AMMY IZZA”; a.k.a. “AMY ERJA”; a.k.a. “IZZA KUSOMAN”; a.k.a. “OBAIDAH”); DOB 29 Aug 1974; alt. DOB 19 Aug 1980; alt. DOB 9 Aug 1974; alt. DOB 19 Aug 1974; POB Dacusuman Surakarta, Central Java, Indonesia; nationality Indonesia (individual) [SDGT]

”AMMY IZZA” (a.k.a. REFKE, Taufek; a.k.a. RIFKI, Taufik; a.k.a. RIFQI, Taufik; a.k.a. RIFQI, Tawfiq; a.k.a. YACUB, Eric; a.k.a. “ABU OBAIDA”; a.k.a. “ABU OBAIDAH”; a.k.a. “ABU OBAYDA”; a.k.a. “ABU OBEIDA”; a.k.a. “ABU UBAIDAH”; a.k.a. “AMI IRAQ”; a.k.a. “AMI IRZA”; a.k.a. “AMI KUSOMAN”; a.k.a. “AMMY ERZA”; a.k.a. “AMY ERJA”; a.k.a. “IZZA KUSOMAN”; a.k.a. “OBAIDAH”); DOB 29 Aug 1974; alt. DOB 19 Aug 1980; alt. DOB 9 Aug 1974; alt. DOB 19 Aug 1974; POB Dacusuman Surakarta, Central Java, Indonesia; nationality Indonesia (individual) [SDGT]

”AMOR” (a.k.a. FETHI, Alic; a.k.a. MNASRI, Fethi Ben Rebai; a.k.a. “ABU OMAR”), Via Toscana n.46, Bologna, Italy; Via di Saliceto n.51/9, Bologna, Italy; DOB 6 Mar 1969; POB Nefza, Tunisia (individual) [SDGT]

”AMR” (a.k.a. JARRAYA, Khalil; a.k.a. JARRAYA, Khalil Ben Ahmed Ben Mohamed; a.k.a. “ABDEL' AZIZ BEN NARVAN”; a.k.a. “AMRO”; a.k.a. “AMROU”; a.k.a. “BEN NARVAN ABDEL AZIZ”; a.k.a. “KHALIL YARRAYA”; a.k.a. “OMAR”), Via Bellaria n.10, Bologna, Italy; Via Lazio n.3, Bologna, Italy; DOB 8 Feb 1969; alt. DOB 15 Aug 1970; POB Sfax, Tunisia; alt. POB Sreka, ex-Yugoslavia; nationality Tunisia alt. Bosnia and Herzegovina; Passport K989895 (Tunisia) issued 26 Jul 1995 expires 25 Jul 2000 (individual) [SDGT]

”AMRO” (a.k.a. JARRAYA, Khalil; a.k.a. JARRAYA, Khalil Ben Ahmed Ben Mohamed; a.k.a. “ABDEL' AZIZ BEN NARVAN”; a.k.a. “AMR”; a.k.a. “AMROU”; a.k.a. “BEN NARVAN ABDEL AZIZ”; a.k.a. “KHALIL YARRAYA”; a.k.a. “OMAR”), Via Bellaria n.10, Bologna, Italy; Via Lazio n.3, Bologna, Italy; DOB 8 Feb 1969; alt. DOB 15 Aug 1970; POB Sfax, Tunisia; alt. POB Sreka, ex-Yugoslavia; nationality Tunisia alt. Bosnia and Herzegovina; Passport K989895 (Tunisia) issued 26 Jul 1995 expires 25 Jul 2000 (individual) [SDGT]

”AMROU” (a.k.a. JARRAYA, Khalil; a.k.a. JARRAYA, Khalil Ben Ahmed Ben Mohamed; a.k.a. “ABDEL' AZIZ BEN NARVAN”; a.k.a. “AMR”; a.k.a. “AMRO”; a.k.a. “BEN NARVAN ABDEL AZIZ”; a.k.a. “KHALIL YARRAYA”; a.k.a. “OMAR”), Via Bellaria n.10, Bologna, Italy; Via Lazio n.3, Bologna, Italy; DOB 8 Feb 1969; alt. DOB 15 Aug 1970; POB Sfax, Tunisia; alt. POB Sreka, ex-Yugoslavia; nationality Tunisia alt. Bosnia and Herzegovina; Passport K989895 (Tunisia) issued 26 Jul 1995 expires 25 Jul 2000 (individual) [SDGT]

”AMY ERJA” (a.k.a. REFKE, Taufek; a.k.a. RIFKI, Taufik; a.k.a. RIFQI, Taufik; a.k.a. RIFQI, Tawfiq; a.k.a. YACUB, Eric; a.k.a. “ABU OBAIDA”; a.k.a. “ABU OBAIDAH”; a.k.a. “ABU OBAYDA”; a.k.a. “ABU OBEIDA”; a.k.a. “ABU UBAIDAH”; a.k.a. “AMI IRAQ”; a.k.a. “AMI IRZA”; a.k.a. “AMI KUSOMAN”; a.k.a. “AMMY ERZA”; a.k.a. “AMMY IZZA”; a.k.a. “IZZA KUSOMAN”; a.k.a. “OBAIDAH”); DOB 29 Aug 1974; alt. DOB 19 Aug 1980; alt. DOB 9 Aug 1974; alt. DOB 19 Aug 1974; POB Dacusuman Surakarta, Central Java, Indonesia; nationality Indonesia (individual) [SDGT]

”APONG SOLAIMAN” (a.k.a. SALI JR., Jainal Antel; a.k.a. “ABU SOLAIMAN”; a.k.a. “ABU SOLAYMAN”; a.k.a. “APUNG”); DOB 1 Jun 1965; POB Barangay Lanote, Bliss, Isabele, Basilan, the Philippines; nationality Philippines (individual) [SDGT]

”APUNG” (a.k.a. SALI JR., Jainal Antel; a.k.a. “ABU SOLAIMAN”; a.k.a. “ABU SOLAYMAN”; a.k.a. “APONG SOLAIMAN”); DOB 1 Jun 1965; POB Barangay Lanote, Bliss, Isabele, Basilan, the Philippines; nationality Philippines (individual) [SDGT]

”ARTURO GUEVARA” (a.k.a. CASTILLO CORTES, Miguel Angel; a.k.a. MEDINA CARACAS, Tomas; a.k.a. MOLINA CARACAS, Tomas; a.k.a. “EL PATRON”; a.k.a. “JORGE MEDINA”; a.k.a. “NEGRO ACACIO”); DOB 15 Mar 1965; POB Lopez De Micay, Cauca, Colombia (individual) [SDNTK]

”BECHIR” (a.k.a. ESSAADI, Moussa Ben Amor; a.k.a. “ABDELRAHMMAN”; a.k.a. “DAH DAH”), Via Milano n.108, Brescia, Italy; DOB 4 Dec 1964; POB Tabarka, Tunisia; nationality Tunisia; Passport L335915 issued 8 Nov 1996 expires 7 Nov 2001 (individual) [SDGT]

”BEN NARVAN ABDEL AZIZ” (a.k.a. JARRAYA, Khalil; a.k.a. JARRAYA, Khalil Ben Ahmed Ben Mohamed; a.k.a. “ABDEL' AZIZ BEN NARVAN”; a.k.a. “AMR”; a.k.a. “AMRO”; a.k.a. “AMROU”; a.k.a. “KHALIL YARRAYA”; a.k.a. “OMAR”), Via Bellaria n.10, Bologna, Italy; Via Lazio n.3, Bologna, Italy; DOB 8 Feb 1969; alt. DOB 15 Aug 1970; POB Sfax, Tunisia; alt. POB Sreka, ex-Yugoslavia; nationality Tunisia alt. Bosnia and Herzegovina; Passport K989895 (Tunisia) issued 26 Jul 1995 expires 25 Jul 2000 (individual) [SDGT]

”BETO MARIN” (a.k.a. MARIN ZAMORA, Jaime Alberto), c/o PLASTEC LTDA., Colombia; Carrera 13A No. 1A-139, Armenia, Quindio, Colombia; Avenida San Martin 4-46, Bocagrande, Cartagena, Colombia; DOB 22 Jul 1964; POB Quimbaya, Quindio, Colombia; citizen Colombia; Cedula No. 7544228 (Colombia); Passport AF595263 (Colombia); alt. Passport AD380146 (Colombia) (individual) [SDNT]

”BETO RENTERIA” (a.k.a. RENTERIA MANTILLA, Carlos Alberto), Carrera 26 No. 29-75, Tulua, Colombia; c/o COMPANIA AGROPECUARIA DEL SUR LTDA., Bogota, Colombia; c/o DIMABE LTDA., Bogota, Colombia; c/o INVERSIONES AGROINDUSTRIALES DEL OCCIDENTE LTDA., Bogota, Colombia; c/o COLOMBO ANDINA COMERCIAL COALSA LTDA., Bogota, Colombia; DOB 11 Mar 1945; POB Colombia; citizen Colombia; Cedula No. 6494208 (Colombia) (individual) [SDNT]

”BILAL KUMKAL” (a.k.a. BROUGERE, Jacques; a.k.a. BRUGERE, Jacques; a.k.a. DUMONT, Lionel; a.k.a. “ABOU HAMZA”; a.k.a. “ABOU HANZA”; a.k.a. “ABU KHAMZA”; a.k.a. “BILAL”; a.k.a. “HAMZA”; a.k.a. “KOUMAL”; a.k.a. “LAJONEL DIMON”); DOB 21 Jan 1971; alt. DOB 19 Jan 1971; alt. DOB 29 Jan 1975; POB Roubaix, France (individual) [SDGT]

”BILAL” (a.k.a. DJERMANE, Kamel; a.k.a. “ADEL”; a.k.a. “FODHIL”); DOB 1965; POB Oum el Bouaghi, Algeria; nationality Algeria (individual) [SDGT]

”BILAL” (a.k.a. BROUGERE, Jacques; a.k.a. BRUGERE, Jacques; a.k.a. DUMONT, Lionel; a.k.a. “ABOU HAMZA”; a.k.a. “ABOU HANZA”; a.k.a. “ABU KHAMZA”; a.k.a. “BILAL KUMKAL”; a.k.a. “HAMZA”; a.k.a. “KOUMAL”; a.k.a. “LAJONEL DIMON”); DOB 21 Jan 1971; alt. DOB 19 Jan 1971; alt. DOB 29 Jan 1975; POB Roubaix, France (individual) [SDGT]

”BOULAHIA” (a.k.a. ABDELHAY, al-Sheikh; a.k.a. AHCENE, Cheib; a.k.a. ALLANE, Hacene; a.k.a. “ABU AL-FOUTOUH”; a.k.a. “HASSAN THE OLD”); DOB 17 Jan 1941; POB El Menea, Algeria (individual) [SDGT]

”BUKHORI” (a.k.a. GUNAWAN, Gun Gun Rusman; a.k.a. GUNAWAN, Rusman; a.k.a. “ABD AL-HADI”; a.k.a. “ABDUL HADI”; a.k.a. “ABDUL KARIM”; a.k.a. “BUKHORY”); DOB 6 Jul 1977; POB Cianjur, West Java, Indonesia; nationality Indonesia (individual) [SDGT]

”BUKHORY” (a.k.a. GUNAWAN, Gun Gun Rusman; a.k.a. GUNAWAN, Rusman; a.k.a. “ABD AL-HADI”; a.k.a. “ABDUL HADI”; a.k.a. “ABDUL KARIM”; a.k.a. “BUKHORI”); DOB 6 Jul 1977; POB Cianjur, West Java, Indonesia; nationality Indonesia (individual) [SDGT]

”BUT” (a.k.a. BOUT, Sergei Anatolyievich; a.k.a. NIKOLAYEVICH BUT, Sergey; a.k.a. “BUTT”; a.k.a. “SERGEY”; a.k.a. “SERGI”; a.k.a. “SERGO”; a.k.a. “SERGUEI”), c/o AIR CESS, Islamabad, Pakistan; c/o AIR CESS, P.O. Box 7837, Sharjah, United Arab Emirates; c/o AIR ZORY, 54 G. M. Dimitrov Blvd, Sofia BG-1125, Bulgaria; Moscow, Russia; DOB 27 Aug 1961; POB Tajikistan; citizen Russia alt. Ukraine; National ID No. 76704 (Russia); alt. National ID No. CB039314 (Ukraine) (individual) [LIBERIA]

”BUTT” (a.k.a. BOUT, Sergei Anatolyievich; a.k.a. NIKOLAYEVICH BUT, Sergey; a.k.a. “BUT”; a.k.a. “SERGEY”; a.k.a. “SERGI”; a.k.a. “SERGO”; a.k.a. “SERGUEI”), c/o AIR CESS, Islamabad, Pakistan; c/o AIR CESS, P.O. Box 7837, Sharjah, United Arab Emirates; c/o AIR ZORY, 54 G. M. Dimitrov Blvd, Sofia BG-1125, Bulgaria; Moscow, Russia; DOB 27 Aug 1961; POB Tajikistan; citizen Russia alt. Ukraine; National ID No. 76704 (Russia); alt. National ID No. CB039314 (Ukraine) (individual) [LIBERIA]

”CARLOS BOLAS” (a.k.a. DORNELES DE MENEZES, Francisco; a.k.a. VARGAS PERDOMO, Eugenio); DOB 19 Nov 1969; POB Puerto Lopez, Meta, Colombia; Cedula No. 17344616 (Colombia) (individual) [SDNTK]

”CHEPE” (a.k.a. SANTACRUZ LONDONO, Jose; a.k.a. “DON CHEPE”; a.k.a. “EL GORDO CHEPE”), Cali, Colombia; DOB 01 Oct 43; Cedula No. 14432230 (Colombia); Passport AB149814 (Colombia) (individual) [SDNT]

”CHI BANG” (a.k.a. CHAN, Shu Sang; a.k.a. CHAN, Shusang; a.k.a. CHEN, Bing Shen; a.k.a. CHEN, Bingshen; a.k.a. CHEN, Shu Sheng; a.k.a. CHEN, Shusheng; a.k.a. DU, Yu Rong; a.k.a. DU, Yurong; a.k.a. HU, Chi Shu; a.k.a. HU, Chishu; a.k.a. HUANG, Man Chi; a.k.a. HUANG, Manchi; a.k.a. WONG, Kam Kong; a.k.a. WONG, Kamkong; a.k.a. WONG, Moon Chi; a.k.a. WONG, Moonchi; a.k.a. WONG, Mun Chi; a.k.a. WONG, Munchi; a.k.a. WU, Chai Su; a.k.a. WU, Chaisu; a.k.a. ZHANG, Jiang Ping; a.k.a. ZHANG, Jiangping), Hong Kong, China; DOB 18 Mar 1961; alt. DOB 21 Apr 1945; alt. DOB 25 Jan 1947; alt. DOB 08 Feb 1955; alt. DOB 03 Aug 1958; alt. DOB 08 Aug 1958; POB China; citizen China alt. Cambodia; nationality China; British National Overseas Passport 750200421 (United Kingdom); National ID No. D489833(9) (Hong Kong); Passport 611657479 (China); alt. Passport 2355009C (China) (individual) [SDNTK]

”CHUCKIE” (a.k.a. TAYLOR, Charles (Junior)); DOB 12 FEB 1978; Advisor and son of former President of Liberia Charles Taylor (individual) [LIBERIA]

”CHUY LABRA” (a.k.a. AVILES, Jesus Labra; a.k.a. LABRA AVILES, Jesus Abraham); DOB 1945; nationality Mexico (individual) [SDNTK]

”COMANDANTE ROMANA” (a.k.a. CASTELLANOS GARZON, Henry; a.k.a. “EDISON ROMANA”; a.k.a. “ROMANA”); DOB 20 Mar 1965; POB San Martin, Meta, Colombia; Cedula No. 17353695 (Colombia) (individual) [SDNTK]

”COMBA” (a.k.a. CALLE SERNA, Luis Enrique; a.k.a. CALLE SERNA, Manuel; a.k.a. “COMBATIENTE”), Carrera 24C No. 33B-108, Santa Monica, Casanare, Colombia; Calle 1 No. 56-109, Seminario B, Caro 31, Cali, Colombia; Avenida 8N No. 9N-57, Cali, Colombia; DOB 16 Aug 1976; POB Cali, Colombia; alt. POB Armenia, Quindio, Colombia; citizen Colombia; Cedula No. 94487319 (Colombia) issued 31 Oct 1994; Passport AI811078 (Colombia) issued 09 May 2003; alt. Passport AH454934 (Colombia); alt. Passport 94487319 (Colombia) issued 09 May 2003 expires 09 May 2013 (individual) [SDNT]

”COMBA” (a.k.a. LOPEZ PENA, Julio Cesar; a.k.a. “JULITO”), Carrera 71 No. 10 Bis 103, Cali, Colombia; Avenida 4O No. 6-140, Apt. 1301, Cali, Colombia; Calle 62 No. 4C-18, Cali, Colombia; Carrera 72 No. 10 bis 21, Apt. 303, Cali, Colombia; Carrera 16 No. 21N-02, Armenia, Colombia; DOB 25 Jun 1961; POB Chaparral, Tolima, Colombia; citizen Colombia; Cedula No. 16655942 (Colombia) (individual) [SDNT]

”COMBATIENTE” (a.k.a. CALLE SERNA, Luis Enrique; a.k.a. CALLE SERNA, Manuel; a.k.a. “COMBA”), Carrera 24C No. 33B-108, Santa Monica, Casanare, Colombia; Calle 1 No. 56-109, Seminario B, Caro 31, Cali, Colombia; Avenida 8N No. 9N-57, Cali, Colombia; DOB 16 Aug 1976; POB Cali, Colombia; alt. POB Armenia, Quindio, Colombia; citizen Colombia; Cedula No. 94487319 (Colombia) issued 31 Oct 1994; Passport AI811078 (Colombia) issued 09 May 2003; alt. Passport AH454934 (Colombia); alt. Passport 94487319 (Colombia) issued 09 May 2003 expires 09 May 2013 (individual) [SDNT]

”COMMANDER PUTOL” (a.k.a. SAHIRON, Radulan; a.k.a. SAHIRON, Radullan; a.k.a. SAHIRUN, Radulan; a.k.a. “SAJIRUN, Radulan”); DOB 1955; alt. DOB circa 1952; POB Kaunayan, Patikul, Jolo Island, the Philippines; nationality Philippines (individual) [SDGT]

”DAH DAH” (a.k.a. ESSAADI, Moussa Ben Amor; a.k.a. “ABDELRAHMMAN”; a.k.a. “BECHIR”), Via Milano n.108, Brescia, Italy; DOB 4 Dec 1964; POB Tabarka, Tunisia; nationality Tunisia; Passport L335915 issued 8 Nov 1996 expires 7 Nov 2001 (individual) [SDGT]

”DEDO” (a.k.a. NEMBHARD, Norris; a.k.a. NEMHARD, Norris; a.k.a. “DIDO”); DOB 5 Jan 1952; alt. DOB 5 Jan 1951; alt. DOB 12 May 1954; POB Jamaica (individual) [SDNTK]

”DEVOTEES OF ISLAM” (a.k.a. ANSAR AL-ISLAM; a.k.a. ANSAR AL-SUNNA; a.k.a. ANSAR AL-SUNNA ARMY; a.k.a. JAISH ANSAR AL-SUNNA; a.k.a. JUND AL-ISLAM; a.k.a. “FOLLOWERS OF ISLAM IN KURDISTAN”; a.k.a. “HELPERS OF ISLAM”; a.k.a. “KURDISH TALIBAN”; a.k.a. “KURDISTAN SUPPORTERS OF ISLAM”; a.k.a. “PARTISANS OF ISLAM”; a.k.a. “SOLDIERS OF GOD”; a.k.a. “SOLDIERS OF ISLAM”; a.k.a. “SUPPORTERS OF ISLAM IN KURDISTAN”), Iraq [FTO] [SDGT]

”DIDO” (a.k.a. NEMBHARD, Norris; a.k.a. NEMHARD, Norris; a.k.a. “DEDO”); DOB 5 Jan 1952; alt. DOB 5 Jan 1951; alt. DOB 12 May 1954; POB Jamaica (individual) [SDNTK]

”DJAFFAR” (a.k.a. FETTAR, Rachid; a.k.a. “AMINE DEL BELGIO”), Via degli Apuli n.5, Milan, Italy; DOB 16 Apr 1969; POB Boulogin, Algeria (individual) [SDGT]

”DJALLAL” (a.k.a. ABOU SALMAN; a.k.a. AL-CHERIF, Said Ben Abdelhakim Ben Omar; a.k.a. BEN ABDELHAKIM, Cherif Said; a.k.a. “YOUCEF”), Corso Lodi 59, Milan, Italy; DOB 25 Jan 1970; POB Menzel Temine, Tunisia; nationality Tunisia; Passport M307968 issued 8 Sep 2001 expires 7 Sep 2006; arrested 30 Sep 2002 (individual) [SDGT]

”DOCTOR M.R.O.” (a.k.a. RODRIGUEZ OREJUELA, Miguel Angel; a.k.a. “EL SENOR”; a.k.a. “MANOLO”; a.k.a. “MANUEL”; a.k.a. “MAURO”; a.k.a. “MIKE”; a.k.a. “PAT”; a.k.a. “PATRICIA”; a.k.a. “PATRICIO”; a.k.a. “PATTY”), Casa No. 19, Avenida Lago, Ciudad Jardin, Cali, Colombia; DOB 23 Nov 43; alt. DOB 15 Aug 43; Cedula No. 6095803 (Colombia) (individual) [SDNT]

”DOCTOR PUERTA” (a.k.a. PUERTA PARRA, Gabriel), Carrera 30 No. 90-82, Bogota, Colombia; c/o INTERCONTINENTAL DE AVIACION, S.A.; c/o COMERCIALIZADORA ANDINA BRASILERA S.A., Bogota, Colombia; c/o INDUSTRIAL MINERA Y PECUARIA S.A., Bogota, Colombia; c/o LA FRONTERA UNION GALVEZ Y CIA S EN C, Bogota, Colombia; DOB 1 Oct 1942; POB San Carlos, Antioquia, Colombia; Cedula No. 8238830 (Colombia); Passport P020046 (Colombia) (individual) [SDNT]

”DON BERNA” (a.k.a. MURILLO BEJARANO, Diego Fernando; a.k.a. “ADOLFO PAZ”); DOB 23 Feb 1961; Cedula No. 16357144 (Colombia) (individual) [SDNTK]

”DON CHEPE” (a.k.a. SANTACRUZ LONDONO, Jose; a.k.a. “CHEPE”; a.k.a. “EL GORDO CHEPE”), Cali, Colombia; DOB 01 Oct 43; Cedula No. 14432230 (Colombia); Passport AB149814 (Colombia) (individual) [SDNT]

”DON JAIRO” (a.k.a. GARCIA GARCIA, Jairo; a.k.a. GARCIA VARELA, Wilber Alirio; a.k.a. VARELA FAJARDO, Wilber Alirio; a.k.a. VARELA, Fredy; a.k.a. VARELA, Wilber; a.k.a. VARELA, Wilber Alirio; a.k.a. VARELA, Wilmer; a.k.a. “JABON”), Calle 22 No. 15-53, Armenia, Quindio, Colombia; Calle 30 No. 23B-22, Cali, Colombia; Carrera 85 No. 14A-57, Cali, Colombia; Calle 11 No. 4-442, Ofc. 722, Cali, Colombia; DOB 06 Nov 1954; POB Roldanillo, Valle, Colombia; alt. POB Armenia, Quindio, Colombia; citizen Colombia; Cedula No. 16891223 (Colombia); alt. Cedula No. 16545384 (Colombia); Passport AF427757 (Colombia) (individual) [SDNT]

”EDISON ROMANA” (a.k.a. CASTELLANOS GARZON, Henry; a.k.a. “COMANDANTE ROMANA”; a.k.a. “ROMANA”); DOB 20 Mar 1965; POB San Martin, Meta, Colombia; Cedula No. 17353695 (Colombia) (individual) [SDNTK]

”EFRAIN GUZMAN” (a.k.a. MATA MATA, Noel; a.k.a. MATTA MATTA, Noel; a.k.a. “EL CHUCHO”); DOB 31 Jan 1935; alt. DOB 30 Jan 1935; POB Chaparral, Tolima, Colombia; Cedula No. 4870352 (Colombia) (individual) [SDNTK]

”EL AGUILA” (a.k.a. CIFUENTES GALINDO, Luis Eduardo); DOB 16 Mar 1960; Cedula No. 3254362 (Colombia) (individual) [SDNTK]

”EL CAPITAN” (a.k.a. HERNANDEZ ZEA, Luis Antonio), Carrera 53 No. 35-35, Bogota, Colombia; c/o INTERCONTINENTAL DE AVIACION S.A., Bogota, Colombia; c/o AEROVIAS ATLANTICO LTDA. AEROATLANTICO LTDA., Baranquilla, Colombia; c/o ASOCIACION TURISTICA INTERNACIONAL S.C.S., Bogota, Colombia; c/o CIA CONSTRUCTORA Y COMERCIALIZADORA DEL SUR LTDA., Bogota, Colombia; c/o GREEN ISLAND S.A., Bogota, Colombia; c/o INTERCONTINENTAL DE FINANCIACION AEREA S.A., Bogota, Colombia; c/o INVERSIONES Y COMERCIALIZADORA INCOM LTDA., Cali, Colombia; c/o LARGO LEASING LTD., George Town, Cayman Islands; c/o TRANS PACIFIC WORLD LEASING LIMITED, Port Vila, Vanuatu; DOB 7 May 1960; POB Bogota, Colombia; Cedula No. 79252957 (Colombia); Passport P006320 (Colombia); alt. Passport PE022166 (Colombia) (individual) [SDNT]

”EL CHUCHO” (a.k.a. MATA MATA, Noel; a.k.a. MATTA MATTA, Noel; a.k.a. “EFRAIN GUZMAN”); DOB 31 Jan 1935; alt. DOB 30 Jan 1935; POB Chaparral, Tolima, Colombia; Cedula No. 4870352 (Colombia) (individual) [SDNTK]

”EL GILILLO” (a.k.a. HIGUERA GUERRERO, Gilberto); DOB 14 Apr 1968; nationality Mexico (individual) [SDNTK]

”EL GORDO CHEPE” (a.k.a. SANTACRUZ LONDONO, Jose; a.k.a. “CHEPE”; a.k.a. “DON CHEPE”), Cali, Colombia; DOB 01 Oct 43; Cedula No. 14432230 (Colombia); Passport AB149814 (Colombia) (individual) [SDNT]

”EL HASSAN, Gaffar Mohamed” (a.k.a. EL HASSAN, Gaffar Mohmed); DOB 24 Jun 1952; POB Khartoum, Sudan; Major General for the Sudan Armed Forces (individual) [SUDAN]

”EL MONO FABIAN” (a.k.a. CABRERA CUEVAS, Jose Benito; a.k.a. CABRERA, Jose Benito; a.k.a. “FABIAN RAMIREZ”); DOB 6 Jul 1963; alt. DOB 5 Jul 1965; POB El Paujil, Caqueta, Colombia; Cedula No. 96329309 (Colombia) (individual) [SDNTK]

”EL NEGRO OSCAR” (a.k.a. CARACAS VIVEROS, Oscar); DOB 15 Nov 1967; POB Colombia; Cedula No. 96351739 (Colombia) (individual) [SDNTK]

”EL NEGRO” (a.k.a. TONCEL REDONDO, Milton De Jesus; a.k.a. “JOAQUIN GOMEZ”; a.k.a. “ORO CHURCO”; a.k.a. “USURRIAGA”); DOB 18 Mar 1947; alt. DOB Feb 1949; POB Barrancas, La Guajira, Colombia; alt. POB Ubita, Boyaca, Colombia; Cedula No. 15237742 (Colombia); alt. Cedula No. 70753211 (Colombia) (individual) [SDNTK]

”EL OURASSI” (a.k.a. AMMARI, Saifi; a.k.a. “ABDALARAK”; a.k.a. “ABDERREZAK LE PARA”; a.k.a. “ABDERREZAK ZAIMECHE”; a.k.a. “ABDUL RASAK AMMANE ABU HAIDRA”; a.k.a. “ABOU HAIDARA”; a.k.a. “EL PARA”); DOB 1 Jan 1968; POB Kef Rih, Algeria; nationality Algeria (individual) [SDGT]

”EL PADRINO” (a.k.a. JAMIL GEORGES, Fahd; a.k.a. JAMIL GEORGES, Fuad; a.k.a. YAMIL GEORGES, Fahd; a.k.a. “TURCO”), Pedro Juan Caballero, Amambay, Paraguay; Ponta Pora, Mato Grosso do Sul, Brazil; DOB 7 Jun 1941; citizen Brazil; nationality Lebanon; Cedula No. RG-013147 (Brazil) (individual) [SDNTK]

”EL PARA” (a.k.a. AMMARI, Saifi; a.k.a. “ABDALARAK”; a.k.a. “ABDERREZAK LE PARA”; a.k.a. “ABDERREZAK ZAIMECHE”; a.k.a. “ABDUL RASAK AMMANE ABU HAIDRA”; a.k.a. “ABOU HAIDARA”; a.k.a. “EL OURASSI”); DOB 1 Jan 1968; POB Kef Rih, Algeria; nationality Algeria (individual) [SDGT]

”EL PATRON”; (a.k.a. CASTILLO CORTES, Miguel Angel; a.k.a. MEDINA CARACAS, Tomas; a.k.a. MOLINA CARACAS, Tomas; a.k.a. “ARTURO GUEVARA”; a.k.a. “JORGE MEDINA”; a.k.a. “NEGRO ACACIO”); DOB 15 Mar 1965; POB Lopez De Micay, Cauca, Colombia (individual) [SDNTK]

”EL SENOR” (a.k.a. RODRIGUEZ OREJUELA, Miguel Angel; a.k.a. “DOCTOR M.R.O.”; a.k.a. “MANOLO”; a.k.a. “MANUEL”; a.k.a. “MAURO”; a.k.a. “MIKE”; a.k.a. “PAT”; a.k.a. “PATRICIA”; a.k.a. “PATRICIO”; a.k.a. “PATTY”), Casa No. 19, Avenida Lago, Ciudad Jardin, Cali, Colombia; DOB 23 Nov 43; alt. DOB 15 Aug 43; Cedula No. 6095803 (Colombia) (individual) [SDNT]

”EL SOCIO” (a.k.a. RESTREPO VICTORIA, Eduardo), c/o AGROPECUARIA PALMA DEL RIO S.A., Ibague, Colombia; c/o RR TOUR, S.A. DE C.V., Guadalajara, Mexico; Calle 6 No. 3-73, Ibague, Tolima, Colombia; DOB 28 Sep 1958; POB Pital, Huila, Colombia; citizen Colombia; nationality Colombia; Cedula No. 12187343 (Colombia); Passport AG989562 (Colombia); alt. Passport AE678681 (Colombia) (individual) [SDNT]

”ELIAS” (a.k.a. AKLI, Mohamed Amine; a.k.a. “KALI SAMI”; a.k.a. “KILLECH SHAMIR”); DOB 30 Mar 1972; POB Abordj El Kiffani, Algeria (individual) [SDGT]

”ERNESTO BAEZ” (a.k.a. DUQUE GAVIRIA, Ivan Roberto); DOB 9 May 1955; POB Aguadas, Caldas, Colombia; Cedula No. 10241940 (Colombia) (individual) [SDNTK]

”ESTEVAN” (a.k.a. BOCOTA AGUABLANCA, Gustavo; a.k.a. BOGOTA, Gustavo; a.k.a. “TRIBISU”); DOB 28 Aug 1966; Cedula No. 9466199 (Colombia); alt. Cedula No. 9466833 (Colombia) (individual) [SDNTK]

”FABIAN RAMIREZ” (a.k.a. CABRERA CUEVAS, Jose Benito; a.k.a. CABRERA, Jose Benito; a.k.a. “EL MONO FABIAN”); DOB 6 Jul 1963; alt. DOB 5 Jul 1965; POB El Paujil, Caqueta, Colombia; Cedula No. 96329309 (Colombia) (individual) [SDNTK]

”FATIH” (a.k.a. BIN SIHABUDIN, Abdul Aziz; a.k.a. SAMUDRA, Imam; a.k.a. YUNSHAR, Faiz; a.k.a. “ABDUL AZIZ”; a.k.a. “ABU OMAR”; a.k.a. “HENDRI”; a.k.a. “HERI”; a.k.a. “KUDAMA”); DOB 14 Jan 1970; POB Serang, Banten, Indonesia (individual) [SDGT]

”FODHIL” (a.k.a. DJERMANE, Kamel; a.k.a. “ADEL”; a.k.a. “BILAL”); DOB 1965; POB Oum el Bouaghi, Algeria; nationality Algeria (individual) [SDGT]

”FOLLOWERS OF ISLAM IN KURDISTAN” (a.k.a. ANSAR AL-ISLAM; a.k.a. ANSAR AL-SUNNA; a.k.a. ANSAR AL-SUNNA ARMY; a.k.a. JAISH ANSAR AL-SUNNA; a.k.a. JUND AL-ISLAM; a.k.a. “DEVOTEES OF ISLAM”; a.k.a. “HELPERS OF ISLAM”; a.k.a. “KURDISH TALIBAN”; a.k.a. “KURDISTAN SUPPORTERS OF ISLAM”; a.k.a. “PARTISANS OF ISLAM”; a.k.a. “SOLDIERS OF GOD”; a.k.a. “SOLDIERS OF ISLAM”; a.k.a. “SUPPORTERS OF ISLAM IN KURDISTAN”), Iraq [FTO] [SDGT]

”FOOPIE” (a.k.a. AHMAD, Abu Bakr; a.k.a. “AHMED THE TANZANIAN”; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. “FUPI”; a.k.a. GHAILANI, Abubakary Khalfan Ahmed; a.k.a. GHAILANI, Ahmed; a.k.a. GHAILANI, Ahmed Khalfan; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

”FREEDOM FIGHTER” (a.k.a. AL GHOZI, Fathur Rahman; a.k.a. AL GHOZI, Fathur Rohman; a.k.a. ALGHOZI, Fathur Rahman; a.k.a. AL-GHOZI, Fathur Rahman; a.k.a. ALGHOZI, Fathur Rohman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. JAMIL, Sammy Sali; a.k.a. JAMIL, Sammy Salih; a.k.a. RANDY, Alih; a.k.a. “ABU SA'AD”; a.k.a. “ABU SAAD”); DOB 17 Feb 1971; POB Madiun, East Java, Indonesia; nationality Indonesia; Passport GG 672613 (Philippines) (individual) [SDGT]

”FUPI” (a.k.a. AHMAD, Abu Bakr; a.k.a. “AHMED THE TANZANIAN”; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. “FOOPIE”; a.k.a. GHAILANI, Abubakary Khalfan Ahmed; a.k.a. GHAILANI, Ahmed; a.k.a. GHAILANI, Ahmed Khalfan; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

”GIUSEPPE” (a.k.a. ABBES, Youcef), Via Padova 82, Milan, Italy; Via Manzoni, 33, Cinisello Balsamo, Milan, Italy; DOB 5 Jan 1965; POB Bab El Aoued, Algeria (individual) [SDGT]

”GRANOBLES” (a.k.a. BRICENO SUAREZ, German; a.k.a. SUAREZ ROJAS, Noe); DOB 15 Dec 1953; Cedula No. 347943 (Colombia) (individual) [SDNTK]

”H7” (a.k.a. HERRERA BUITRAGO, Helmer; a.k.a. “PACHO”), Cali, Colombia; DOB 24 Aug 51; alt. DOB 05 Jul 51; Cedula No. 16247821 (Colombia); Passport J287011 (Colombia) (individual) [SDNT]

”HAMMEDI, Ben” (a.k.a. BEN HAMMEDI, Mohammed; a.k.a. BENHAMMEDI, Mohammed; a.k.a. BIN HAMMIDI, Muhammad Muhammad; a.k.a. HANNADI, Mohamed; a.k.a. “ABU AL QASSAM”; a.k.a. “ABU HAJIR”; a.k.a. “ABU HAJIR AL LIBI”; a.k.a. “PANHAMMEDI”), Midlands, United Kingdom; DOB 22 Sep 1966; POB Libya; citizen Libya (individual) [SDGT]

”HAMZA AL LIBI” (a.k.a. AL SAADI, Faraj Farj Hassan; a.k.a. IMAD MOUHAMED ABDELLAH; a.k.a. MOHAMDED ABDULLA IMAD; a.k.a. MUHAMAD ABDULLAH IMAD), Viale Bligny 42, Milan, Italy; DOB 28 Nov 1980; POB Libya; alt. POB Gaza; alt. POB Jordan; alt. POB Palestine; nationality Libya alt. Palestinian; alt. Jordan; arrested United Kingdom (individual) [SDGT]

”HAMZA” (a.k.a. AL-BAAZAOUI, Mondher Ben Mohsen Ben Ali; a.k.a. BAAZAOUI, Mondher), Via di Saliceto n.51/9, Bologna, Italy; DOB 18 Mar 1967; POB Kairouan, Tunisia; nationality Tunisia; Passport K602878 issued 5 Nov 1993 expires 9 Jun 2001 (individual) [SDGT]

”HAMZA” (a.k.a. BROUGERE, Jacques; a.k.a. BRUGERE, Jacques; a.k.a. DUMONT, Lionel; a.k.a. “ABOU HAMZA”; a.k.a. “ABOU HANZA”; a.k.a. “ABU KHAMZA”; a.k.a. “BILAL”; a.k.a. “BILAL KUMKAL”; a.k.a. “KOUMAL”; a.k.a. “LAJONEL DIMON”); DOB 21 Jan 1971; alt. DOB 19 Jan 1971; alt. DOB 29 Jan 1975; POB Roubaix, France (individual) [SDGT]

”HASSAN THE OLD” (a.k.a. ABDELHAY, al-Sheikh; a.k.a. AHCENE, Cheib; a.k.a. ALLANE, Hacene; a.k.a. “ABU AL-FOUTOUH”; a.k.a. “BOULAHIA”); DOB 17 Jan 1941; POB El Menea, Algeria (individual) [SDGT]

”HELPERS OF ISLAM” (a.k.a. ANSAR AL-ISLAM; a.k.a. ANSAR AL-SUNNA; a.k.a. ANSAR AL-SUNNA ARMY; a.k.a. JAISH ANSAR AL-SUNNA; a.k.a. JUND AL-ISLAM; a.k.a. “DEVOTEES OF ISLAM”; a.k.a. “FOLLOWERS OF ISLAM IN KURDISTAN”; a.k.a. “KURDISH TALIBAN”; a.k.a. “KURDISTAN SUPPORTERS OF ISLAM”; a.k.a. “PARTISANS OF ISLAM”; a.k.a. “SOLDIERS OF GOD”; a.k.a. “SOLDIERS OF ISLAM”; a.k.a. “SUPPORTERS OF ISLAM IN KURDISTAN”), Iraq [FTO] [SDGT]

”HENDRI” (a.k.a. BIN SIHABUDIN, Abdul Aziz; a.k.a. SAMUDRA, Imam; a.k.a. YUNSHAR, Faiz; a.k.a. “ABDUL AZIZ”; a.k.a. “ABU OMAR”; a.k.a. “FATIH”; a.k.a. “HERI”; a.k.a. “KUDAMA”); DOB 14 Jan 1970; POB Serang, Banten, Indonesia (individual) [SDGT]

”HERI” (a.k.a. BIN SIHABUDIN, Abdul Aziz; a.k.a. SAMUDRA, Imam; a.k.a. YUNSHAR, Faiz; a.k.a. “ABDUL AZIZ”; a.k.a. “ABU OMAR”; a.k.a. “FATIH”; a.k.a. “HENDRI”; a.k.a. “KUDAMA”); DOB 14 Jan 1970; POB Serang, Banten, Indonesia (individual) [SDGT]

”HICHEM ABU HCHEM” (a.k.a. AL-AYARI, Chiheb Ben Mohamed Ben Mokhtar; a.k.a. AYARI, Chiheb Ben Mohamed), Via di Saliceto n.51/9, Bologna, Italy; DOB 19 Dec 1965; POB Tunis, Tunisia; nationality Tunisia; Passport L246084 issued 10 Jun 1996 expires 9 Jun 2001 (individual) [SDGT]

”HITEM” (a.k.a. SALEH, Nedal), Via Milano n.105, Casal di Principe (Caserta), Italy; Via di Saliceto n.51/9, Bologna, Italy; DOB 1 Mar 1970; POB Taiz, Yemen (individual) [SDGT]

”HUGO” (a.k.a. VARGAS RUEDA, Nelson; a.k.a. “ALFREDO”); DOB 27 Apr 1970; Cedula No. 77130763 (Colombia) (individual) [SDNTK]

”IVAN MARQUEZ” (a.k.a. MARIN ARANGO, Luciano; a.k.a. “IVAN MARQUES”); DOB 16 Jun 1955; POB Florencia, Caqueta, Colombia; Cedula No. 19304877 (Colombia) (individual) [SDNTK]

”IVAN MARQUES” (a.k.a. MARIN ARANGO, Luciano; a.k.a. “IVAN MARQUEZ”); DOB 16 Jun 1955; POB Florencia, Caqueta, Colombia; Cedula No. 19304877 (Colombia) (individual) [SDNTK]

”IZZA KUSOMAN” (a.k.a. REFKE, Taufek; a.k.a. RIFKI, Taufik; a.k.a. RIFQI, Taufik; a.k.a. RIFQI, Tawfiq; a.k.a. YACUB, Eric; a.k.a. “ABU OBAIDA”; a.k.a. “ABU OBAIDAH”; a.k.a. “ABU OBAYDA”; a.k.a. “ABU OBEIDA”; a.k.a. “ABU UBAIDAH”; a.k.a. “AMI IRAQ”; a.k.a. “AMI IRZA”; a.k.a. “AMI KUSOMAN”; a.k.a. “AMMY ERZA”; a.k.a. “AMMY IZZA”; a.k.a. “AMY ERJA”; a.k.a. “OBAIDAH”); DOB 29 Aug 1974; alt. DOB 19 Aug 1980; alt. DOB 9 Aug 1974; alt. DOB 19 Aug 1974; POB Dacusuman Surakarta, Central Java, Indonesia; nationality Indonesia (individual) [SDGT]

”JABON” (a.k.a. GARCIA GARCIA, Jairo; a.k.a. GARCIA VARELA, Wilber Alirio; a.k.a. VARELA FAJARDO, Wilber Alirio; a.k.a. VARELA, Fredy; a.k.a. VARELA, Wilber; a.k.a. VARELA, Wilber Alirio; a.k.a. VARELA, Wilmer; a.k.a. “DON JAIRO”), Calle 22 No. 15-53, Armenia, Quindio, Colombia; Calle 30 No. 23B-22, Cali, Colombia; Carrera 85 No. 14A-57, Cali, Colombia; Calle 11 No. 4-442, Ofc. 722, Cali, Colombia; DOB 06 Nov 1954; POB Roldanillo, Valle, Colombia; alt. POB Armenia, Quindio, Colombia; citizen Colombia; Cedula No. 16891223 (Colombia); alt. Cedula No. 16545384 (Colombia); Passport AF427757 (Colombia) (individual) [SDNT]

”JOAQUIN GOMEZ” (a.k.a. TONCEL REDONDO, Milton De Jesus; a.k.a. “EL NEGRO”; a.k.a. “ORO CHURCO”; a.k.a. “USURRIAGA”); DOB 18 Mar 1947; alt. DOB Feb 1949; POB Barrancas, La Guajira, Colombia; alt. POB Ubita, Boyaca, Colombia; Cedula No. 15237742 (Colombia); alt. Cedula No. 70753211 (Colombia) (individual) [SDNTK]

”JORGE MEDINA” (a.k.a. CASTILLO CORTES, Miguel Angel; a.k.a. MEDINA CARACAS, Tomas; a.k.a. MOLINA CARACAS, Tomas; a.k.a. “ARTURO GUEVARA”; a.k.a. “EL PATRON”; a.k.a. “NEGRO ACACIO”); DOB 15 Mar 1965; POB Lopez De Micay, Cauca, Colombia (individual) [SDNTK]

”JUD” (a.k.a. AL MANSOOREEN; a.k.a. AL MANSOORIAN; a.k.a. ARMY OF THE PURE; a.k.a. ARMY OF THE PURE AND RIGHTEOUS; a.k.a. ARMY OF THE RIGHTEOUS; a.k.a. IDARA KHIDMAT-E-KHALQ; a.k.a. JAMA'AT AL-DAWA; a.k.a. JAMAAT UD-DAAWA; a.k.a. JAMAAT UL-DAWAH; a.k.a. JAMA'AT-I-DAWAT; a.k.a. JAMAATI-UD-DAWA; a.k.a. JAMA'AT-UD-DA'AWA; a.k.a. JAMA'AT-UD-DA'AWAH; a.k.a. JAMAAT-UD-DAWA; a.k.a. JAMAAT-UL-DAWA; a.k.a. JAMAIAT-UD-DAWA; a.k.a. LASHKAR E-TAYYIBA; a.k.a. LASHKAR E-TOIBA; a.k.a. LASHKAR-I-TAIBA; a.k.a. PAASBAN-E-AHLE-HADIS; a.k.a. PAASBAN-E-KASHMIR; a.k.a. PAASBAN-I-AHLE-HADITH; a.k.a. PASBAN-E-AHLE-HADITH; a.k.a. PASBAN-E-KASHMIR), Pakistan [SDGT] [FTO]

”JULITO” (a.k.a. LOPEZ PENA, Julio Cesar; a.k.a. “COMBA”), Carrera 71 No. 10 Bis 103, Cali, Colombia; Avenida 4O No. 6-140, Apt. 1301, Cali, Colombia; Calle 62 No. 4C-18, Cali, Colombia; Carrera 72 No. 10 bis 21, Apt. 303, Cali, Colombia; Carrera 16 No. 21N-02, Armenia, Colombia; DOB 25 Jun 1961; POB Chaparral, Tolima, Colombia; citizen Colombia; Cedula No. 16655942 (Colombia) (individual) [SDNT]

”KALI SAMI” (a.k.a. AKLI, Mohamed Amine; a.k.a. “ELIAS”; a.k.a. “KILLECH SHAMIR”); DOB 30 Mar 1972; POB Abordj El Kiffani, Algeria (individual) [SDGT]

”KAMEL” (a.k.a. HAMRAOUI, Kamel Ben Mouldi; a.k.a. “KIMO”), Via Bertesi 27, Cremona, Italy; DOB 21 Oct 1977; POB Beja, Tunisia; nationality Tunisia; Passport P229856 issued 1 Nov 2002 expires 31 Oct 2007; arrested 1 Apr 2003 (individual) [SDGT]

”KHAIRUDDIN” (a.k.a. ABAS, Mohamad Nasir; a.k.a. ABAS, Nasir; a.k.a. BIN ABAS, Mohammed Nasir; a.k.a. BIN ABAS, Sulaiman; a.k.a. “SOLIMAN”); DOB 6 May 1969; nationality Malaysia (individual) [SDGT]

”KHALIL YARRAYA” (a.k.a. JARRAYA, Khalil; a.k.a. JARRAYA, Khalil Ben Ahmed Ben Mohamed; a.k.a. “ABDEL' AZIZ BEN NARVAN”; a.k.a. “AMR”; a.k.a. “AMRO”; a.k.a. “AMROU”; a.k.a. “BEN NARVAN ABDEL AZIZ”; a.k.a. “OMAR”), Via Bellaria n.10, Bologna, Italy; Via Lazio n.3, Bologna, Italy; DOB 8 Feb 1969; alt. DOB 15 Aug 1970; POB Sfax, Tunisia; alt. POB Sreka, ex-Yugoslavia; nationality Tunisia alt. Bosnia and Herzegovina; Passport K989895 (Tunisia) issued 26 Jul 1995 expires 25 Jul 2000 (individual) [SDGT]

”KILLECH SHAMIR” (a.k.a. AKLI, Mohamed Amine; a.k.a. “ELIAS”; a.k.a. “KALI SAMI”); DOB 30 Mar 1972; POB Abordj El Kiffani, Algeria (individual) [SDGT]

”KIMO” (a.k.a. HAMRAOUI, Kamel Ben Mouldi; a.k.a. “KAMEL”), Via Bertesi 27, Cremona, Italy; DOB 21 Oct 1977; POB Beja, Tunisia; nationality Tunisia; Passport P229856 issued 1 Nov 2002 expires 31 Oct 2007; arrested 1 Apr 2003 (individual) [SDGT]

”KOMID” (a.k.a. CHANGGWANG SINYONG CORPORATION; a.k.a. EXTERNAL TECHNOLOGY GENERAL CORPORATION; a.k.a. KOREA MINING DEVELOPMENT TRADING CORPORATION; a.k.a. NORTH KOREAN MINING DEVELOPMENT TRADING CORPORATION), Central District, Pyongyang, Korea, North [NPWMD]

”KOUMAL” (a.k.a. BROUGERE, Jacques; a.k.a. BRUGERE, Jacques; a.k.a. DUMONT, Lionel; a.k.a. “ABOU HAMZA”; a.k.a. “ABOU HANZA”; a.k.a. “ABU KHAMZA”; a.k.a. “BILAL”; a.k.a. “BILAL KUMKAL”; a.k.a. “HAMZA”; a.k.a. “LAJONEL DIMON”); DOB 21 Jan 1971; alt. DOB 19 Jan 1971; alt. DOB 29 Jan 1975; POB Roubaix, France (individual) [SDGT]

”KUDAMA” (a.k.a. BIN SIHABUDIN, Abdul Aziz; a.k.a. SAMUDRA, Imam; a.k.a. YUNSHAR, Faiz; a.k.a. “ABDUL AZIZ”; a.k.a. “ABU OMAR”; a.k.a. “FATIH”; a.k.a. “HENDRI”; a.k.a. “HERI”); DOB 14 Jan 1970; POB Serang, Banten, Indonesia (individual) [SDGT]

”KURDISH TALIBAN” (a.k.a. ANSAR AL-ISLAM; a.k.a. ANSAR AL-SUNNA; a.k.a. ANSAR AL-SUNNA ARMY; a.k.a. JAISH ANSAR AL-SUNNA; a.k.a. JUND AL-ISLAM; a.k.a. “DEVOTEES OF ISLAM”; a.k.a. “FOLLOWERS OF ISLAM IN KURDISTAN”; a.k.a. “HELPERS OF ISLAM”; a.k.a. “KURDISTAN SUPPORTERS OF ISLAM”; a.k.a. “PARTISANS OF ISLAM”; a.k.a. “SOLDIERS OF GOD”; a.k.a. “SOLDIERS OF ISLAM”; a.k.a. “SUPPORTERS OF ISLAM IN KURDISTAN”), Iraq [FTO] [SDGT]

”KURDISTAN SUPPORTERS OF ISLAM” (a.k.a. ANSAR AL-ISLAM; a.k.a. ANSAR AL-SUNNA; a.k.a. ANSAR AL-SUNNA ARMY; a.k.a. JAISH ANSAR AL-SUNNA; a.k.a. JUND AL-ISLAM; a.k.a. “DEVOTEES OF ISLAM”; a.k.a. “FOLLOWERS OF ISLAM IN KURDISTAN”; a.k.a. “HELPERS OF ISLAM”; a.k.a. “KURDISH TALIBAN”; a.k.a. “PARTISANS OF ISLAM”; a.k.a. “SOLDIERS OF GOD”; a.k.a. “SOLDIERS OF ISLAM”; a.k.a. “SUPPORTERS OF ISLAM IN KURDISTAN”), Iraq [FTO] [SDGT]

”LA PANTERA” (a.k.a. SOTO DE GOMEZ, Ivonne; a.k.a. SOTO VEGA DE GOMEZ, Ivonne; a.k.a. SOTO VEGA, Ivonne), Ave. Las Conchas 643, Colonia Playas de Tijuana Secc. Coronado, Tijuana, Baja California CP 22200, Mexico; Pso. Centenario 9971, Colonia Zona Urbana Rio Tijuana, Tijuana, Baja California CP 22320, Mexico; c/o MULTISERVICIOS SIGLO, S.A. DE C.V., Tijuana, Baja California, Mexico; DOB 22 Oct 1953; alt. DOB 25 Oct 1953; POB Tijuana, Baja California, Mexico; R.F.C. SOVI-531022-QIA (Mexico) (individual) [SDNTK]

”LAJONEL DIMON” (a.k.a. BROUGERE, Jacques; a.k.a. BRUGERE, Jacques; a.k.a. DUMONT, Lionel; a.k.a. “ABOU HAMZA”; a.k.a. “ABOU HANZA”; a.k.a. “ABU KHAMZA”; a.k.a. “BILAL”; a.k.a. “BILAL KUMKAL”; a.k.a. “HAMZA”; a.k.a. “KOUMAL”); DOB 21 Jan 1971; alt. DOB 19 Jan 1971; alt. DOB 29 Jan 1975; POB Roubaix, France (individual) [SDGT]

”LAZHAR” (a.k.a. ROUINE, Al-Azhar Ben Khalifa Ben Ahmed; a.k.a. ROUINE, Lazher Ben Khalifa Ben Ahmed; a.k.a. “SALMANE”), Vicolo San Giovanni, Rimini, Italy; DOB 20 Nov 1975; POB Sfax, Tunisia; nationality Tunisia; Passport P 182583 issued 13 Sep 2003 expires 12 Sep 2007; arrested 30 Sep 2002 (individual) [SDGT]

”LUCAS” (a.k.a. RODRIGUEZ OREJUELA, Gilberto Jose; a.k.a. “THE CHESS PLAYER”), Cali, Colombia; DOB 31 Jan 1939; Cedula No. 6068015 (Colombia); alt. Cedula No. 6067015 (Colombia); Passport T321642 (Colombia); alt. Passport 6067015 (Comoros); alt. Passport 77588 (Argentina); alt. Passport 10545599 (Venezuela) (individual) [SDNT]

”MACUMBA” (a.k.a. AURELIANO FELIX, Jorge); DOB 15 Apr 1952; nationality Mexico (individual) [SDNTK]

”MAHMUD” (a.k.a. ALBASHIR, Mohammed; a.k.a. AL-BASHIR, Muhammad; a.k.a. AL-FAQI, Bashir Mohammed Ibrahim; a.k.a. AL-FAQIH, Abd al-Rahman; a.k.a. AL-KHATAB, Abd Al Rahman; a.k.a. ISMAIL, Mohammed; a.k.a. MOHAMMED, Al-Basher; a.k.a. “ABU ABD AL-RAHMAN”; a.k.a. “ABU KHALID”; a.k.a. “ABU MOHAMMED”; a.k.a. “MUSTAFA”), Birmingham, United Kingdom; DOB 15 Dec 1959; POB Libya (individual) [SDGT]

”MAHMUD” (a.k.a. ABU MUAMAR; a.k.a. MOCHTAR, Yasin Mahmud; a.k.a. MUBAROK, Muhamad; a.k.a. SYAWAL, Muhammad; a.k.a. SYAWAL, Yassin; a.k.a. YASIN, Abdul Hadi; a.k.a. YASIN, Salim; a.k.a. “ABU SETA”); DOB circa 1972; nationality Indonesia (individual) [SDGT]

”MANOLO” (a.k.a. RODRIGUEZ OREJUELA, Miguel Angel; a.k.a. “DOCTOR M.R.O.”; a.k.a. “EL SENOR”; a.k.a. “MANUEL”; a.k.a. “MAURO”; a.k.a. “MIKE”; a.k.a. “PAT”; a.k.a. “PATRICIA”; a.k.a. “PATRICIO”; a.k.a. “PATTY”), Casa No. 19, Avenida Lago, Ciudad Jardin, Cali, Colombia; DOB 23 Nov 43; alt. DOB 15 Aug 43; Cedula No. 6095803 (Colombia) (individual) [SDNT]

”MANUEL MARULANDA VELEZ” (a.k.a. MARIN MARIN, Pedro Antonio; a.k.a. MARIN, Pedro Antonio; a.k.a. “MANUEL MARULANDA”; a.k.a. “TIROFIJO”); DOB 13 May 1930; POB Genova, Quindio, Colombia; Cedula No. 4870142 (Colombia) (individual) [SDNTK]

”MANUEL MARULANDA” (a.k.a. MARIN MARIN, Pedro Antonio; a.k.a. MARIN, Pedro Antonio; a.k.a. “MANUEL MARULANDA VELEZ”; a.k.a. “TIROFIJO”); DOB 13 May 1930; POB Genova, Quindio, Colombia; Cedula No. 4870142 (Colombia) (individual) [SDNTK]

”MANUEL” (a.k.a. RODRIGUEZ OREJUELA, Miguel Angel; a.k.a. “DOCTOR M.R.O.”; a.k.a. “EL SENOR”; a.k.a. “MANOLO”; a.k.a. “MAURO”; a.k.a. “MIKE”; a.k.a. “PAT”; a.k.a. “PATRICIA”; a.k.a. “PATRICIO”; a.k.a. “PATTY”), Casa No. 19, Avenida Lago, Ciudad Jardin, Cali, Colombia; DOB 23 Nov 43; alt. DOB 15 Aug 43; Cedula No. 6095803 (Colombia) (individual) [SDNT]

”MARTIN LLANOS” (a.k.a. BUITRAGO PARADA, Hector German); DOB 21 Jan 1968; POB Monterrey, Casanare, Colombia; Cedula No. 79436816 (Colombia) (individual) [SDNTK]

”MAURO” (a.k.a. RODRIGUEZ OREJUELA, Miguel Angel; a.k.a. “DOCTOR M.R.O.”; a.k.a. “EL SENOR”; a.k.a. “MANOLO”; a.k.a. “MANUEL”; a.k.a. “MIKE”; a.k.a. “PAT”; a.k.a. “PATRICIA”; a.k.a. “PATRICIO”; a.k.a. “PATTY”), Casa No. 19, Avenida Lago, Ciudad Jardin, Cali, Colombia; DOB 23 Nov 43; alt. DOB 15 Aug 43; Cedula No. 6095803 (Colombia) (individual) [SDNT]

”MEC” (a.k.a. MESBAH ENERGY COMPANY), 77 Armaghan Gharbi Street, Valiasr Blve, Tehran, Iran [NPWMD]

”MERA'I” (a.k.a. EL AYASHI, Radi Abd El Samie Abou El Yazid), Via Cilea 40, Milan, Italy; DOB 2 Jan 1972; POB El Gharbia, Egypt; nationality Egypt; arrested 31 Mar 2003 (individual) [SDGT]

”MIKE” (a.k.a. RODRIGUEZ OREJUELA, Miguel Angel; a.k.a. “DOCTOR M.R.O.”; a.k.a. “EL SENOR”; a.k.a. “MANOLO”; a.k.a. “MANUEL”; a.k.a. “MAURO”; a.k.a. “PAT”; a.k.a. “PATRICIA”; a.k.a. “PATRICIO”; a.k.a. “PATTY”), Casa No. 19, Avenida Lago, Ciudad Jardin, Cali, Colombia; DOB 23 Nov 43; alt. DOB 15 Aug 43; Cedula No. 6095803 (Colombia) (individual) [SDNT]

”MINEUR” (a.k.a. KOJIC, Radomir); DOB 23 Nov 1950; POB Bijela Voda, Sokolac Canton, Bosnia-Herzegovina; Passport 3943074 (Bosnia and Herzegovina) issued 27 Sep 2002 in Sarajevo; Bosnia-Herzegovina (individual) [BALKANS]

”MOUHANAD” (a.k.a. 'ABD AL-KARIM; a.k.a. ABU AL-MU'TAZ; a.k.a. AL-HABIB; a.k.a. AL-KHALAYLAH, Ahmad Fadil Nazzal; a.k.a. AL-MUHAJIR; a.k.a. AL-ZARQAWI, Abu Mus'Ab; a.k.a. GHARIB; a.k.a. KHALAILAH, Ahmed Fadeel; a.k.a. KHALAYLEH, Fedel Nazzel; a.k.a. “MOUHANNAD”; a.k.a. “MUHANNAD”; a.k.a. “RASHID”); DOB 20 Oct 1966; POB Zarqa, Jordan; citizen Jordan; National ID No. 9661031030 (Jordan); Passport Z264968 (Jordan) (individual) [SDGT]

”MOUHANNAD” (a.k.a. 'ABD AL-KARIM; a.k.a. ABU AL-MU'TAZ; a.k.a. AL-HABIB; a.k.a. AL-KHALAYLAH, Ahmad Fadil Nazzal; a.k.a. AL-MUHAJIR; a.k.a. AL-ZARQAWI, Abu Mus'Ab; a.k.a. GHARIB; a.k.a. KHALAILAH, Ahmed Fadeel; a.k.a. KHALAYLEH, Fedel Nazzel; a.k.a. “MOUHANAD”; a.k.a. “MUHANNAD”; a.k.a. “RASHID”); DOB 20 Oct 1966; POB Zarqa, Jordan; citizen Jordan; National ID No. 9661031030 (Jordan); Passport Z264968 (Jordan) (individual) [SDGT]

”MOURAD” (a.k.a. ABD AL HAFIZ, Abd Al Wahab; a.k.a. FERDJANI, Mouloud; a.k.a. “RABAH DI ROMA”), Via Lungotevere Dante, Rome, Italy; DOB 7 Sep 1967; POB Algiers, Algeria (individual) [SDGT]

”MOUSTAFA” (a.k.a. KALED, Belkasam; a.k.a. MOUSTFA, Djamel; a.k.a. “ALI BARKANI”), c/o Birgit Melani Schroeder, Kuehlungsborner Strasse 30, Hamburg 22147, Germany; DOB 28 Sep 1973; alt. DOB 31 Dec 1979; alt. DOB 22 Aug 1973; POB Tiaret, Algeria; alt. POB Morocco; nationality Algeria; arrested 23 Apr 2002; currently in remand at 20355 Hamburg Holstenglacis 3, Germany (individual) [SDGT]

”MUHANNAD” (a.k.a. 'ABD AL-KARIM; a.k.a. ABU AL-MU'TAZ; a.k.a. AL-HABIB; a.k.a. AL-KHALAYLAH, Ahmad Fadil Nazzal; a.k.a. AL-MUHAJIR; a.k.a. AL-ZARQAWI, Abu Mus'Ab; a.k.a. GHARIB; a.k.a. KHALAILAH, Ahmed Fadeel; a.k.a. KHALAYLEH, Fedel Nazzel; a.k.a. “MOUHANAD”; a.k.a. “MOUHANNAD”; a.k.a. “RASHID”); DOB 20 Oct 1966; POB Zarqa, Jordan; citizen Jordan; National ID No. 9661031030 (Jordan); Passport Z264968 (Jordan) (individual) [SDGT]

”MUSA ABDUL” (a.k.a. HIR, Musa Abdul; a.k.a. HIR, Zulkifli Abdul; a.k.a. HIR, Zulkifli Bin Abdul; a.k.a. ZULKIFLI, Abdul Hir bin; a.k.a. ZULKIFLI, Bin Abdul Hir); DOB 5 Jan 1966; alt. DOB 5 Oct 1966; POB Malaysia (individual) [SDGT]

”MUSTAFA” (a.k.a. ALBASHIR, Mohammed; a.k.a. AL-BASHIR, Muhammad; a.k.a. AL-FAQI, Bashir Mohammed Ibrahim; a.k.a. AL-FAQIH, Abd al-Rahman; a.k.a. AL-KHATAB, Abd Al Rahman; a.k.a. ISMAIL, Mohammed; a.k.a. MOHAMMED, Al-Basher; a.k.a. “ABU ABD AL-RAHMAN”; a.k.a. “ABU KHALID”; a.k.a. “ABU MOHAMMED”; a.k.a. “MAHMUD”), Birmingham, United Kingdom; DOB 15 Dec 1959; POB Libya (individual) [SDGT]

”NACHO BEDOYA” (a.k.a. BEDOYA VELEZ, Jose Ignacio), Calle 16 No. 71A-07/09, Cali, Colombia; Carrera 1G No. 71-07, Cali, Colombia; DOB 06 Jan 1959; POB Tulua, Valle, Colombia; alt. POB Armenia, Quindio, Colombia; citizen Colombia; Cedula No. 16351225 (Colombia) issued 20 Jun 1977; Passport AJ126708 (Colombia) issued 26 Mar 2004; alt. Passport 16351225 (Colombia) issued 26 Mar 2004 expires 26 Mar 2014 (individual) [SDNT]

”NACHO CORONEL” (a.k.a. CORONEL VILLAREAL, Ignacio), Manzanillo, Colima, Mexico; DOB 01 Feb 1954; POB Veracruz, Mexico; alt. POB Canelas, Durango, Mexico; citizen Mexico; nationality Mexico (individual) [SDNTK]

”NADRA” (a.k.a. ZARKAOUI, Imed Ben Mekki; a.k.a. “ZARGA”), Via Col. Aprosio 588, Vallecrosia (IM), Italy; DOB 15 Jan 1973; POB Tunisi (Tunisia); nationality Tunisia; Passport M174950 issued 27 Apr 1999 expires 26 Apr 2004; arrested 30 Sep 2002 (individual) [SDGT]

”NANGO, Rex” (a.k.a. MUJURU, Solomon Tapfumaneyi Ruzambo); DOB 1 May 1949; Passport ZD001348 (Zimbabwe); Politburo Senior Committee Member (individual) [ZIMBABWE]

”NEGRO ACACIO” (a.k.a. CASTILLO CORTES, Miguel Angel; a.k.a. MEDINA CARACAS, Tomas; a.k.a. MOLINA CARACAS, Tomas; a.k.a. “ARTURO GUEVARA”; a.k.a. “EL PATRON”; a.k.a. “JORGE MEDINA”); DOB 15 Mar 1965; POB Lopez De Micay, Cauca, Colombia (individual) [SDNTK]

”NOOR” (a.k.a. AL-DAGMA, Aschraf), Clemens-August Strasse 10, Kolpinghaus, Beckum 59269, Germany; Leipziger Strasse 64, Altenburg 04600, Germany; DOB 28 Apr 1969; POB Abasan, Gaza Strip; nationality possibly Palestinian;arrested 23 Apr 2002 (individual) [SDGT]

”NUHR” (a.k.a. ZERFAOUI, Ahmad; a.k.a. “ABDALLA”; a.k.a. “ABDULLAH”; a.k.a. “ABU CHOLDER”; a.k.a. “ABU KHAOULA”; a.k.a. “SMAIL”); DOB 15 Jul 1963; POB Chrea, Algeria (individual) [SDGT]

”OBAIDAH” (a.k.a. REFKE, Taufek; a.k.a. RIFKI, Taufik; a.k.a. RIFQI, Taufik; a.k.a. RIFQI, Tawfiq; a.k.a. YACUB, Eric; a.k.a. “ABU OBAIDA”; a.k.a. “ABU OBAIDAH”; a.k.a. “ABU OBAYDA”; a.k.a. “ABU OBEIDA”; a.k.a. “ABU UBAIDAH”; a.k.a. “AMI IRAQ”; a.k.a. “AMI IRZA”; a.k.a. “AMI KUSOMAN”; a.k.a. “AMMY ERZA”; a.k.a. “AMMY IZZA”; a.k.a. “AMY ERJA”; a.k.a. “IZZA KUSOMAN”); DOB 29 Aug 1974; alt. DOB 19 Aug 1980; alt. DOB 9 Aug 1974; alt. DOB 19 Aug 1974; POB Dacusuman Surakarta, Central Java, Indonesia; nationality Indonesia (individual) [SDGT]

”OMAR” (a.k.a. JARRAYA, Khalil; a.k.a. JARRAYA, Khalil Ben Ahmed Ben Mohamed; a.k.a. “ABDEL' AZIZ BEN NARVAN”; a.k.a. “AMR”; a.k.a. “AMRO”; a.k.a. “AMROU”; a.k.a. “BEN NARVAN ABDEL AZIZ”; a.k.a. “KHALIL YARRAYA”), Via Bellaria n.10, Bologna, Italy; Via Lazio n.3, Bologna, Italy; DOB 8 Feb 1969; alt. DOB 15 Aug 1970; POB Sfax, Tunisia; alt. POB Sreka, ex-Yugoslavia; nationality Tunisia alt. Bosnia and Herzegovina; Passport K989895 (Tunisia) issued 26 Jul 1995 expires 25 Jul 2000 (individual) [SDGT]

”ORO CHURCO” (a.k.a. TONCEL REDONDO, Milton De Jesus; a.k.a. “EL NEGRO”; a.k.a. “JOAQUIN GOMEZ”; a.k.a. “USURRIAGA”); DOB 18 Mar 1947; alt. DOB Feb 1949; POB Barrancas, La Guajira, Colombia; alt. POB Ubita, Boyaca, Colombia; Cedula No. 15237742 (Colombia); alt. Cedula No. 70753211 (Colombia) (individual) [SDNTK]

”PABLO CATATUMBO” (a.k.a. TORRES VICTORIA, Jorge); DOB 19 Mar 1953; POB Cali, Valle, Colombia; Cedula No. 14990220 (Colombia) (individual) [SDNTK]

”PABLO SEVILLANO” (a.k.a. PEREZ ALZATE, Guillermo), Diagonal 50 No. 49-14 of. 601, Medellin, Colombia; Calle 26A No. 70-35, Medellin, Colombia; Calle 30 No. 9-51, Monteria, Cordoba, Colombia; Calle 24 No. 1-52, B. Cta de Oro, Colombia; Calle 37 No. 2-40, Almacen Dulcino, Tumaco, Narino, Colombia; Cedula No. 71646827 (Colombia); Passport AF891052 (Colombia) (individual) [SDNTK]

”PACHO” (a.k.a. HERRERA BUITRAGO, Helmer; a.k.a. “H7”), Cali, Colombia; DOB 24 Aug 51; alt. DOB 05 Jul 51; Cedula No. 16247821 (Colombia); Passport J287011 (Colombia) (individual) [SDNT]

”PANHAMMEDI” (a.k.a. BEN HAMMEDI, Mohammed; a.k.a. BENHAMMEDI, Mohammed; a.k.a. BIN HAMMIDI, Muhammad Muhammad; a.k.a. HANNADI, Mohamed; a.k.a. “ABU AL QASSAM”; a.k.a. “ABU HAJIR”; a.k.a. “ABU HAJIR AL LIBI”; a.k.a. “HAMMEDI, Ben”), Midlands, United Kingdom; DOB 22 Sep 1966; POB Libya; citizen Libya (individual) [SDGT]

”PARTISANS OF ISLAM” (a.k.a. ANSAR AL-ISLAM; a.k.a. ANSAR AL-SUNNA; a.k.a. ANSAR AL-SUNNA ARMY; a.k.a. JAISH ANSAR AL-SUNNA; a.k.a. JUND AL-ISLAM; a.k.a. “DEVOTEES OF ISLAM”; a.k.a. “FOLLOWERS OF ISLAM IN KURDISTAN”; a.k.a. “HELPERS OF ISLAM”; a.k.a. “KURDISH TALIBAN”; a.k.a. “KURDISTAN SUPPORTERS OF ISLAM”; a.k.a. “SOLDIERS OF GOD”; a.k.a. “SOLDIERS OF ISLAM”; a.k.a. “SUPPORTERS OF ISLAM IN KURDISTAN”), Iraq [FTO] [SDGT]

”PAT” (a.k.a. RODRIGUEZ OREJUELA, Miguel Angel; a.k.a. “DOCTOR M.R.O.”; a.k.a. “EL SENOR”; a.k.a. “MANOLO”; a.k.a. “MANUEL”; a.k.a. “MAURO”; a.k.a. “MIKE”; a.k.a. “PATRICIA”; a.k.a. “PATRICIO”; a.k.a. “PATTY”), Casa No. 19, Avenida Lago, Ciudad Jardin, Cali, Colombia; DOB 23 Nov 43; alt. DOB 15 Aug 43; Cedula No. 6095803 (Colombia) (individual) [SDNT]

”PATRICIA” (a.k.a. RODRIGUEZ OREJUELA, Miguel Angel; a.k.a. “DOCTOR M.R.O.”; a.k.a. “EL SENOR”; a.k.a. “MANOLO”; a.k.a. “MANUEL”; a.k.a. “MAURO”; a.k.a. “MIKE”; a.k.a. “PAT”; a.k.a. “PATRICIO”; a.k.a. “PATTY”), Casa No. 19, Avenida Lago, Ciudad Jardin, Cali, Colombia; DOB 23 Nov 43; alt. DOB 15 Aug 43; Cedula No. 6095803 (Colombia) (individual) [SDNT]

”PATRICIO” (a.k.a. RODRIGUEZ OREJUELA, Miguel Angel; a.k.a. “DOCTOR M.R.O.”; a.k.a. “EL SENOR”; a.k.a. “MANOLO”; a.k.a. “MANUEL”; a.k.a. “MAURO”; a.k.a. “MIKE”; a.k.a. “PAT”; a.k.a. “PATRICIA”; a.k.a. “PATTY”), Casa No. 19, Avenida Lago, Ciudad Jardin, Cali, Colombia; DOB 23 Nov 43; alt. DOB 15 Aug 43; Cedula No. 6095803 (Colombia) (individual) [SDNT]

”PATTY” (a.k.a. RODRIGUEZ OREJUELA, Miguel Angel; a.k.a. “DOCTOR M.R.O.”; a.k.a. “EL SENOR”; a.k.a. “MANOLO”; a.k.a. “MANUEL”; a.k.a. “MAURO”; a.k.a. “MIKE”; a.k.a. “PAT”; a.k.a. “PATRICIA”; a.k.a. “PATRICIO”), Casa No. 19, Avenida Lago, Ciudad Jardin, Cali, Colombia; DOB 23 Nov 43; alt. DOB 15 Aug 43; Cedula No. 6095803 (Colombia) (individual) [SDNT]

”PREDO” (a.k.a. KUJUNDZIC, Predrag); DOB 30 Jan 1961; POB Suho Polje, Doboj, Bosnia-Herzegovina (individual) [BALKANS]

”RABAH DI ROMA” (a.k.a. ABD AL HAFIZ, Abd Al Wahab; a.k.a. FERDJANI, Mouloud; a.k.a. “MOURAD”), Via Lungotevere Dante, Rome, Italy; DOB 7 Sep 1967; POB Algiers, Algeria (individual) [SDGT]

”RASHID” (a.k.a. 'ABD AL-KARIM; a.k.a. ABU AL-MU'TAZ; a.k.a. AL-HABIB; a.k.a. AL-KHALAYLAH, Ahmad Fadil Nazzal; a.k.a. AL-MUHAJIR; a.k.a. AL-ZARQAWI, Abu Mus'Ab; a.k.a. GHARIB; a.k.a. KHALAILAH, Ahmed Fadeel; a.k.a. KHALAYLEH, Fedel Nazzel; a.k.a. “MOUHANAD”; a.k.a. “MOUHANNAD”; a.k.a. “MUHANNAD”); DOB 20 Oct 1966; POB Zarqa, Jordan; citizen Jordan; National ID No. 9661031030 (Jordan); Passport Z264968 (Jordan) (individual) [SDGT]

”RAUL REYES” (a.k.a. DEVIA SILVA, Luis Edgar); DOB 30 Sep 1948; POB La Plata, Huila, Colombia; Cedula No. 14871281 (Colombia) (individual) [SDNTK]

”ROMANA” (a.k.a. CASTELLANOS GARZON, Henry; a.k.a. “COMANDANTE ROMANA”; a.k.a. “EDISON ROMANA”); DOB 20 Mar 1965; POB San Martin, Meta, Colombia; Cedula No. 17353695 (Colombia) (individual) [SDNTK]

”SAID” (a.k.a. JENDOUBI, Faouzi; a.k.a. “SAMIR”), Via Agucchi n.250, Bologna, Italy; Via di Saliceto n.51/9, Bologna, Italy; DOB 30 Jan 1966; POB Beja, Tunisia; nationality Tunisia; Passport K459698 issued 6 Mar 1999 expires 5 Mar 2004 (individual) [SDGT]

”SAJIRUN, Radulan” (a.k.a. SAHIRON, Radulan; a.k.a. SAHIRON, Radullan; a.k.a. SAHIRUN, Radulan; a.k.a. “COMMANDER PUTOL”); DOB 1955; alt. DOB circa 1952; POB Kaunayan, Patikul, Jolo Island, the Philippines; nationality Philippines (individual) [SDGT]

”SALAHUDIN” (a.k.a. HAPILON, Isnilon Totoni; a.k.a. HAPILUN, Isnilon; a.k.a. HAPILUN, Isnilun; a.k.a. “ABU MUSAB”; a.k.a. “TUAN ISNILON”); DOB 18 Mar 1966; alt. DOB 10 Mar 1967; POB Bulanza, Lantawan, Basilan, the Philippines; nationality Philippines (individual) [SDGT]

”SALMANE” (a.k.a. ROUINE, Al-Azhar Ben Khalifa Ben Ahmed; a.k.a. ROUINE, Lazher Ben Khalifa Ben Ahmed; a.k.a. “LAZHAR”), Vicolo San Giovanni, Rimini, Italy; DOB 20 Nov 1975; POB Sfax, Tunisia; nationality Tunisia; Passport P 182583 issued 13 Sep 2003 expires 12 Sep 2007; arrested 30 Sep 2002 (individual) [SDGT]

”SAMIR” (a.k.a. JENDOUBI, Faouzi; a.k.a. “SAID”), Via Agucchi n.250, Bologna, Italy; Via di Saliceto n.51/9, Bologna, Italy; DOB 30 Jan 1966; POB Beja, Tunisia; nationality Tunisia; Passport K459698 issued 6 Mar 1999 expires 5 Mar 2004 (individual) [SDGT]

”SBIG” (a.k.a. SHAHID BAKERI INDUSTRIAL GROUP), Tehran, Iran [NPWMD]

”SERGEY” (a.k.a. BOUT, Sergei Anatolyievich; a.k.a. NIKOLAYEVICH BUT, Sergey; a.k.a. “BUT”; a.k.a. “BUTT”; a.k.a. “SERGI”; a.k.a. “SERGO”; a.k.a. “SERGUEI”), c/o AIR CESS, Islamabad, Pakistan; c/o AIR CESS, P.O. Box 7837, Sharjah, United Arab Emirates; c/o AIR ZORY, 54 G. M. Dimitrov Blvd, Sofia BG-1125, Bulgaria; Moscow, Russia; DOB 27 Aug 1961; POB Tajikistan; citizen Russia alt. Ukraine; National ID No. 76704 (Russia); alt. National ID No. CB039314 (Ukraine) (individual) [LIBERIA]

”SERGI” (a.k.a. BOUT, Sergei Anatolyievich; a.k.a. NIKOLAYEVICH BUT, Sergey; a.k.a. “BUT”; a.k.a. “BUTT”; a.k.a. “SERGEY”; a.k.a. “SERGO”; a.k.a. “SERGUEI”), c/o AIR CESS, Islamabad, Pakistan; c/o AIR CESS, P.O. Box 7837, Sharjah, United Arab Emirates; c/o AIR ZORY, 54 G. M. Dimitrov Blvd, Sofia BG-1125, Bulgaria; Moscow, Russia; DOB 27 Aug 1961; POB Tajikistan; citizen Russia alt. Ukraine; National ID No. 76704 (Russia); alt. National ID No. CB039314 (Ukraine) (individual) [LIBERIA]

”SERGO” (a.k.a. BOUT, Sergei Anatolyievich; a.k.a. NIKOLAYEVICH BUT, Sergey; a.k.a. “BUT”; a.k.a. “BUTT”; a.k.a. “SERGEY”; a.k.a. “SERGI”; a.k.a. “SERGUEI”), c/o AIR CESS, Islamabad, Pakistan; c/o AIR CESS, P.O. Box 7837, Sharjah, United Arab Emirates; c/o AIR ZORY, 54 G. M. Dimitrov Blvd, Sofia BG-1125, Bulgaria; Moscow, Russia; DOB 27 Aug 1961; POB Tajikistan; citizen Russia alt. Ukraine; National ID No. 76704 (Russia); alt. National ID No. CB039314 (Ukraine) (individual) [LIBERIA]

”SERGUEI” (a.k.a. BOUT, Sergei Anatolyievich; a.k.a. NIKOLAYEVICH BUT, Sergey; a.k.a. “BUT”; a.k.a. “BUTT”; a.k.a. “SERGEY”; a.k.a. “SERGI”; a.k.a. “SERGO”), c/o AIR CESS, Islamabad, Pakistan; c/o AIR CESS, P.O. Box 7837, Sharjah, United Arab Emirates; c/o AIR ZORY, 54 G. M. Dimitrov Blvd, Sofia BG-1125, Bulgaria; Moscow, Russia; DOB 27 Aug 1961; POB Tajikistan; citizen Russia alt. Ukraine; National ID No. 76704 (Russia); alt. National ID No. CB039314 (Ukraine) (individual) [LIBERIA]

”SHARIF, Adam Yacub” (a.k.a. SHANT, Adam Yacub; a.k.a. “YACOUB, Adam”); DOB circa 1976; Commander for the Sudan Liberation Army (SLA) (individual) [SUDAN]

”SHIG” (a.k.a. SHAHID HEMMAT INDUSTRIAL GROUP), Damavand Tehran Highway, Tehran, Iran [NPWMD]

”SIMON TRINIDAD” (a.k.a. PALMERA PINEDA, Juvenal Ovidio Ricardo; a.k.a. PINEDA PALMERA, Juvenal Ovidio); DOB 30 Jul 1950; POB Bogota, Cundinamarca, Colombia; Cedula No. 12715418 (Colombia); alt. Cedula No. 12751418 (Colombia); alt. Cedula No. 12715416 (Colombia); Passport T757205 (Colombia); alt. Passport AC204175 (Colombia); alt. Passport AH182002 (Colombia) (individual) [SDNTK]

”SMAIL” (a.k.a. ZERFAOUI, Ahmad; a.k.a. “ABDALLA”; a.k.a. “ABDULLAH”; a.k.a. “ABU CHOLDER”; a.k.a. “ABU KHAOULA”; a.k.a. “NUHR”); DOB 15 Jul 1963; POB Chrea, Algeria (individual) [SDGT]

”SOFWAN” (a.k.a. AL MUKHLAS, Ali Gufron; a.k.a. GHUFRON, Ali; a.k.a. GUFRON, Ali; a.k.a. HAQ, Huda bin Abdul; a.k.a. MUCHLAS; a.k.a. MUKHLAS; a.k.a. MUKLAS); DOB 9 Feb 1960; alt. DOB 2 Feb 1960; POB Solokuro subdistrict, Lamongan district, East Java province, Indonesian; nationality Indonesia (individual) [SDGT]

”SOLDIERS OF GOD” (a.k.a. ANSAR AL-ISLAM; a.k.a. ANSAR AL-SUNNA; a.k.a. ANSAR AL-SUNNA ARMY; a.k.a. JAISH ANSAR AL-SUNNA; a.k.a. JUND AL-ISLAM; a.k.a. “DEVOTEES OF ISLAM”; a.k.a. “FOLLOWERS OF ISLAM IN KURDISTAN”; a.k.a. “HELPERS OF ISLAM”; a.k.a. “KURDISH TALIBAN”; a.k.a. “KURDISTAN SUPPORTERS OF ISLAM”; a.k.a. “PARTISANS OF ISLAM”; a.k.a. “SOLDIERS OF ISLAM”; a.k.a. “SUPPORTERS OF ISLAM IN KURDISTAN”), Iraq [FTO] [SDGT]

”SOLDIERS OF ISLAM” (a.k.a. ANSAR AL-ISLAM; a.k.a. ANSAR AL-SUNNA; a.k.a. ANSAR AL-SUNNA ARMY; a.k.a. JAISH ANSAR AL-SUNNA; a.k.a. JUND AL-ISLAM; a.k.a. “DEVOTEES OF ISLAM”; a.k.a. “FOLLOWERS OF ISLAM IN KURDISTAN”; a.k.a. “HELPERS OF ISLAM”; a.k.a. “KURDISH TALIBAN”; a.k.a. “KURDISTAN SUPPORTERS OF ISLAM”; a.k.a. “PARTISANS OF ISLAM”; a.k.a. “SOLDIERS OF GOD”; a.k.a. “SUPPORTERS OF ISLAM IN KURDISTAN”), Iraq [FTO] [SDGT]

”SOLIMAN” (a.k.a. ABAS, Mohamad Nasir; a.k.a. ABAS, Nasir; a.k.a. BIN ABAS, Mohammed Nasir; a.k.a. BIN ABAS, Sulaiman; a.k.a. “KHAIRUDDIN”); DOB 6 May 1969; nationality Malaysia (individual) [SDGT]

”SSRC” (a.k.a. CENTRE D'ETUDES ET RECHERCHES; a.k.a. SCIENTIFIC STUDIES AND RESEARCH CENTER), P.O. Box 4470, Damascus, Syria [NPWMD]

”SUPPORTERS OF ISLAM IN KURDISTAN” (a.k.a. ANSAR AL-ISLAM; a.k.a. ANSAR AL-SUNNA; a.k.a. ANSAR AL-SUNNA ARMY; a.k.a. JAISH ANSAR AL-SUNNA; a.k.a. JUND AL-ISLAM; a.k.a. “DEVOTEES OF ISLAM”; a.k.a. “FOLLOWERS OF ISLAM IN KURDISTAN”; a.k.a. “HELPERS OF ISLAM”; a.k.a. “KURDISH TALIBAN”; a.k.a. “KURDISTAN SUPPORTERS OF ISLAM”; a.k.a. “PARTISANS OF ISLAM”; a.k.a. “SOLDIERS OF GOD”; a.k.a. “SOLDIERS OF ISLAM”), Iraq [FTO] [SDGT]

”THE BASE” (a.k.a. AL QAEDA; a.k.a. AL QA'IDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY; a.k.a. ISLAMIC ARMY FOR THE LIBERATION OF HOLY SITES; a.k.a. ISLAMIC SALVATION FOUNDATION; a.k.a. NEW JIHAD; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION) [FTO] [SDGT] [SDT]

”THE CHESS PLAYER” (a.k.a. RODRIGUEZ OREJUELA, Gilberto Jose; a.k.a. “LUCAS”), Cali, Colombia; DOB 31 Jan 1939; Cedula No. 6068015 (Colombia); alt. Cedula No. 6067015 (Colombia); Passport T321642 (Colombia); alt. Passport 6067015 (Comoros); alt. Passport 77588 (Argentina); alt. Passport 10545599 (Venezuela) (individual) [SDNT]

”TIMOCHENKO” (a.k.a. LONDONO ECHEVERRY, Rodrigo; a.k.a. “TIMOLEON JIMENEZ”); DOB 22 Jan 1959; alt. DOB 1 Jan 1949; POB Calarca, Quindio, Colombia; Cedula No. 79149126 (Colombia) (individual) [SDNTK]

”TIMOLEON JIMENEZ” (a.k.a. LONDONO ECHEVERRY, Rodrigo; a.k.a. “TIMOCHENKO”); DOB 22 Jan 1959; alt. DOB 1 Jan 1949; POB Calarca, Quindio, Colombia; Cedula No. 79149126 (Colombia) (individual) [SDNTK]

”TIROFIJO” (a.k.a. MARIN MARIN, Pedro Antonio; a.k.a. MARIN, Pedro Antonio; a.k.a. “MANUEL MARULANDA”; a.k.a. “MANUEL MARULANDA VELEZ”); DOB 13 May 1930; POB Genova, Quindio, Colombia; Cedula No. 4870142 (Colombia) (individual) [SDNTK]

”TOMO” (a.k.a. KOVAC, Tomislav); DOB 4 Dec 1959; POB Sarajevo, Bosnia-Herzegovina; Passport 412959171315 (Bosnia and Herzegovina) (individual) [BALKANS]

”TRIBISU” (a.k.a. BOCOTA AGUABLANCA, Gustavo; a.k.a. BOGOTA, Gustavo; a.k.a. “ESTEVAN”); DOB 28 Aug 1966; Cedula No. 9466199 (Colombia); alt. Cedula No. 9466833 (Colombia) (individual) [SDNTK]

”TUAN ISNILON” (a.k.a. HAPILON, Isnilon Totoni; a.k.a. HAPILUN, Isnilon; a.k.a. HAPILUN, Isnilun; a.k.a. “ABU MUSAB”; a.k.a. “SALAHUDIN”); DOB 18 Mar 1966; alt. DOB 10 Mar 1967; POB Bulanza, Lantawan, Basilan, the Philippines; nationality Philippines (individual) [SDGT]

”TURCO” (a.k.a. JAMIL GEORGES, Fahd; a.k.a. JAMIL GEORGES, Fuad; a.k.a. YAMIL GEORGES, Fahd; a.k.a. “EL PADRINO”), Pedro Juan Caballero, Amambay, Paraguay; Ponta Pora, Mato Grosso do Sul, Brazil; DOB 7 Jun 1941; citizen Brazil; nationality Lebanon; Cedula No. RG-013147 (Brazil) (individual) [SDNTK]

”USURRIAGA” (a.k.a. TONCEL REDONDO, Milton De Jesus; a.k.a. “EL NEGRO”; a.k.a. “JOAQUIN GOMEZ”; a.k.a. “ORO CHURCO”); DOB 18 Mar 1947; alt. DOB Feb 1949; POB Barrancas, La Guajira, Colombia; alt. POB Ubita, Boyaca, Colombia; Cedula No. 15237742 (Colombia); alt. Cedula No. 70753211 (Colombia) (individual) [SDNTK]

”YACOUB, Adam” (a.k.a. SHANT, Adam Yacub; a.k.a. “SHARIF, Adam Yacub”); DOB circa 1976; Commander for the Sudan Liberation Army (SLA) (individual) [SUDAN]

”YARRAYA” (a.k.a. JARRAYA, Mounir Ben Habib; a.k.a. JARRAYA, Mounir Ben Habib Ben Al-Taher), Via Mirasole n.11, Bologna, Italy; Via Ariosto n.8, Casalecchio di Reno (Bologna), Italy; DOB 25 Oct 1963; POB Sfax, Tunisia; nationality Tunisia; Passport L 065947 issued 28 Oct 1995 expires 27 Oct 2000 (individual) [SDGT]

”YOUCEF” (a.k.a. ABOU SALMAN; a.k.a. AL-CHERIF, Said Ben Abdelhakim Ben Omar; a.k.a. BEN ABDELHAKIM, Cherif Said; a.k.a. “DJALLAL”), Corso Lodi 59, Milan, Italy; DOB 25 Jan 1970; POB Menzel Temine, Tunisia; nationality Tunisia; Passport M307968 issued 8 Sep 2001 expires 7 Sep 2006; arrested 30 Sep 2002 (individual) [SDGT]

”ZARGA” (a.k.a. ZARKAOUI, Imed Ben Mekki; a.k.a. “NADRA”), Via Col. Aprosio 588, Vallecrosia (IM), Italy; DOB 15 Jan 1973; POB Tunisi (Tunisia); nationality Tunisia; Passport M174950 issued 27 Apr 1999 expires 26 Apr 2004; arrested 30 Sep 2002 (individual) [SDGT]

[NKOREA]:

On June 19, 2000, the Office of Foreign Assets Control amended the Foreign Assets Control Regulations to implement the President's September 17, 1999 determination to ease sanctions against North Korea. New financial, trade, and other transactions with North Korea and its nationals are now authorized. An import notification and approval procedure is required for all imports from North Korea. Assets blocked prior to June 17, 2000 remain blocked unless licensed for release. For that reason, the following entries are being broken out into a separate section in OFAC's SDN list.

CHOSUNBOHOM (a.k.a. KOREA FOREIGN INSURANCE COMPANY), Berlin Glinkastrasse 5 1080, Germany [NORTH KOREA]

CHOSUNBOHOM (a.k.a. KOREA FOREIGN INSURANCE COMPANY), 123, Rue des Tennerolles, 92210 Saint-Cloud, Paris, France [NORTH KOREA]

CHOSUNBOHOM (a.k.a. KOREA FOREIGN INSURANCE COMPANY), Unt. Batterieweg 35, CH-4008 Basel, Switzerland [NORTH KOREA]

COMPANIA DE COALICION DEL COMERCIO DE COREA, S.A., Panama [NORTH KOREA]

KOREA FOREIGN INSURANCE COMPANY (a.k.a. CHOSUNBOHOM), Berlin Glinkastrasse 5 1080, Germany [NORTH KOREA]

KOREA FOREIGN INSURANCE COMPANY (a.k.a. CHOSUNBOHOM), 123, Rue des Tennerolles, 92210 Saint-Cloud, Paris, France [NORTH KOREA]

KOREA FOREIGN INSURANCE COMPANY (a.k.a. CHOSUNBOHOM), Unt. Batterieweg 35, CH-4008 Basel, Switzerland [NORTH KOREA]

President Clinton signed Executive Order 12947, effective January 24, 1995, “Prohibiting Transactions with Terrorists Who Threaten to Disrupt the Middle East Peace Process;” “[SDT]” stands for “Specially Designated Terrorist.” The President also signed another Executive Order 12978 mdash;on October 21, 1995, “Blocking Assets and Prohibiting Transactions with Significant Narcotics Traffickers;” “[SDNT]” stands for “Specially Designated Narcotics Trafficker.” The Antiterrorism and Effective Death Penalty Act of 1996 calls for the designation of Foreign Terrorist Organizations; they are listed as “[FTO]” in this list.

(vessels):

Blocked vessels are being segregated into a separate section on the Master list of Specially Designated Nationals and Blocked Persons. Banks are now instructed to reject any funds transfer referencing a blocked vessel and must notify OFAC, via facsimile with a copy of the payment instructions, that funds have been returned to remitter due to the possible involvement of an SDN vessel in the underlying transaction. Banks must contact OFAC's Compliance Programs Division for further instructions should the name of an SDN vessel appear in shipping documents presented under a letter of credit or if noticed in a documentary collection. SDN vessels must themselves be physically blocked should they enter U.S. jurisdiction. Freight forwarders and shippers may not charter, book cargo on, or otherwise deal with SDN vessels.

ACECHILLY (Acechilly Navigation Co., Malta) (vessel) [CUBA]

ACEFROSTY (Acefrosty Shipping Co., Malta) (vessel) [CUBA]

ALAMINOS (f.k.a. RUBY ISLANDS) (P32C3) General Cargo 15,088DWT 8,909GRT Cyprus flag (Alaminos Shipping Co. Ltd.) (vessel) [CUBA]

ALEGRIA DE PIO (Naviera Maritima de Arosa, Spain) (vessel) [CUBA]

ANA I (a.k.a. SAND SWAN) (P3QG3) General Cargo 2,595DWT 1,116GRT Cyprus flag (Sand & Swan Navigation Co. Ltd.) (vessel) [CUBA]

AVIS FAITH (a.k.a. GRETE STAR) (HOQD) Container Ship 17,820DWT 11,318GRT Panama flag (Avisfaith Shipping) (vessel) [CUBA]

BROTHERS (f.k.a. TULIP ISLANDS) (C4QK) Bulk Carrier 25,573DWT 16,605GRT Cyprus flag (Ciflare Shipping Co. Ltd.) (vessel) [CUBA]

CARIBBEAN PRINCESS (C4GL) General Cargo 24,155DWT 16,794GRT Cyprus flag (CARIBBEAN PRINCESS SHIPPING (SDN)) (vessel) [CUBA]

CARIBBEAN QUEEN (C4JO) General Cargo 24,106DWT 16,794GRT Cyprus flag (CARIBBEAN QUEEN SHIPPING (SDN)) (vessel) [CUBA]

CARIBBEAN SALVOR (9H2275) Tug 669DWT 856GRT Malta flag (Compania Navegacion Golfo S.A.) (vessel) [CUBA]

CASABLANCA (Epamac Shipping Co., Ltd., Malta) (vessel) [CUBA]

CELTIC (f.k.a. VIOLET ISLANDS) (C4WU) Bulk Carrier 27,652DWT 16,582GRT Cyprus flag (Atlantic Marie Shipping Co. Ltd.) (vessel) [CUBA]

CICLON (Senanque Shipping Co., Ltd., Cyprus) (vessel) [CUBA]

COTTY (Heywood Navigation Corp., Panama) (vessel) [CUBA]

CRIOLLO (CL2257) Tug 181GRT Cuba flag (Samir de Navegacion S.A.) (vessel) [CUBA]

EAST ISLANDS (C4QB) General Cargo 15,120DWT 8,996GRT Cyprus flag (EAST ISLAND SHIPPING CO. LTD. (SDN)) (vessel) [CUBA]

EMERALD ISLANDS (9HRP2) General Cargo 15,088DWT 8,909GRT Malta flag (BETTINA SHIPPING CO. LTD. (SDN)) (vessel) [CUBA]

FLYING DRAGON (Flight Dragon Shipping Ltd., Malta) (vessel) [CUBA]

FRIGO HISPANIA (Ace Indic Navigation Co., Malta) (vessel) [CUBA]

GRETE (a.k.a. PINECONE) (P3QH3) General Cargo 1,941DWT 753GRT Cyprus flag (Pinecone Shipping Co. Ltd.) (vessel) [CUBA]

GRETE STAR (f.k.a. AVIS FAITH) (HOQD) Container Ship 17,820DWT 11,318GRT Panama flag (Avisfaith Shipping) (vessel) [CUBA]

HARNMAN H (f.k.a. PEONY ISLANDS) (5BXH) Bulk Cargo 26,400DWT 15,864GRT Cyprus flag (PEONY SHIPPING CO. LTD. (SDN)) (vessel) [CUBA]

HERMANN (CL2685) General Cargo 2,597DWT 1,098GRT Cuba flag (Compania Navegacion Golfo S.A.) (vessel) [CUBA]

HUNTSLAND (Huntsland Navigation Co., Ltd., Malta) (vessel) [CUBA]

HUNTSVILLE (Huntsville Navigation Co., Ltd., Malta) (vessel) [CUBA]

HURACAN (Senanque Shipping Co., Ltd., Cyprus) (vessel) [CUBA]

HYALITE (Whiteswan Shipping Co., Ltd., Cyprus) (vessel) [CUBA]

KASPAR (a.k.a. NEW GROVE) (P3QJ3) General Cargo 1,909DWT 754GRT Cyprus flag (Oakgrove Shipping Co. Ltd.) (vessel) [CUBA]

LAS COLORADOS (Naviera Maritima de Arosa, Spain) (vessel) [CUBA]

LAURA (a.k.a. LAURA I) (HP7988) Container Ship 2,213DWT 1,843GRT Panama flag (Naviera Polovina S.A.) (vessel) [CUBA]

LAURA I (f.k.a. LAURA) (HP7988) Container Ship 2,213DWT 1,843GRT Panama flag (Naviera Polovina S.A.) (vessel) [CUBA]

LILAC ISLANDS (3FIM2) General Cargo 15,175DWT 8,976GRT Panama flag (VALETTA SHIPPING CORPORATION (SDN)) (vessel) [CUBA]

LOTUS ISLANDS (3FIL2) General Cargo 15,175DWT 8,976GRT Panama flag (WADENA SHIPPING CORPORATION (SDN)) (vessel) [CUBA]

MAR AZUL (CL2192) Tug 212GRT Cuba flag (Samir de Navegacion S.A.) (vessel) [CUBA]

NEW GROVE (f.k.a. KASPAR) (P3QJ3) General Cargo 1,909DWT 754GRT Cyprus flag (Oakgrove Shipping Co. Ltd.) (vessel) [CUBA]

NORTH ISLANDS (P3CH2) General Cargo 15,136DWT 8,996GRT Cyprus flag (NORTH ISLAND SHIPPING CO. LTD. (SDN)) (vessel) [CUBA]

ONYX ISLANDS (Maryol Enterprises, Inc., Panama) (vessel) [CUBA]

PALMA MOCHA (Naviera Maritima de Arosa, Spain) (vessel) [CUBA]

PAMIT C (a.k.a. TEPHYS) (H2RZ) General Cargo 15,123DWT 8,935GRT Cyprus flag (Tephys Shipping Co. Ltd.) (vessel) [CUBA]

PEONY ISLANDS (a.k.a. HARNMAN H) (5BXH) Bulk Cargo 26,400DWT 15,864GRT Cyprus flag (PEONY SHIPPING CO. LTD. (SDN)) (vessel) [CUBA]

PINECONE (f.k.a. GRETE) (P3QH3) General Cargo 1,941DWT 753GRT Cyprus flag (Pinecone Shipping Co. Ltd.) (vessel) [CUBA]

PINO DEL AGUA (Naviera Maritima de Arosa, Spain) (vessel) [CUBA]

PRIMROSE ISLANDS (a.k.a. TAMMANY H) (5BXG) Bulk Carrier 26,400DWT 15,864GRT Cyprus flag (Odielo Shipping Co. Ltd.) (vessel) [CUBA]

RAHIM 3 (Pioneer Shipping Ltd., Malta) (vessel) [CUBA]

RAVENS (9H2485) General Cargo 2,468DWT 1,586GRT Malta flag (ATAMALLO SHIPPING CO. LTD. (a.k.a. ANTAMALLO SHIPPING CO. LTD.) (SDN)) (vessel) [CUBA]

REDESTOS (H2SA) General Cargo 15,180DWT 8,953GRT Cyprus flag (REDESTOS SHIPPING CO. LTD. (SDN)) (vessel) [CUBA]

ROSE ISLANDS (Shipley Shipping Corp., Panama) (vessel) [CUBA]

RUBY ISLANDS (a.k.a. ALAMINOS) (P32C3) General Cargo 15,088DWT 8,909GRT Cyprus flag (Alaminos Shipping Co. Ltd.) (vessel) [CUBA]

SAND SWAN (f.k.a. ANA I) (P3QG3) General Cargo 2,595DWT 1,116GRT Cyprus flag (Sand & Swan Navigation Co. Ltd.) (vessel) [CUBA]

SENANQUE (5BJR) General Cargo 5,479DWT 2,974GRT Cyprus flag (SENANQUE SHIPPING CO. LTD. (SDN)) (vessel) [CUBA]

SOUTH ISLANDS (C4AN) General Cargo 15,147DWT 8,996GRT Cyprus flag (SOUTH ISLAND SHIPPING CO. LTD. (SDN)) (vessel) [CUBA]

STANDWEAR (5BQH) Bulk Carrier 19,095DWT 12,147GRT Cyprus flag (STANDWEAR SHIPPING CO. LTD. (SDN)) (vessel) [CUBA]

STAR 1 (Canapel, S.A., Panama) (vessel) [CUBA]

TAMMANY H (f.k.a. PRIMROSE ISLANDS) (5BXG) Bulk Carrier 26,400DWT 15,864GRT Cyprus flag (Odielo Shipping Co. Ltd.) (vessel) [CUBA]

TEPHYS (f.k.a. PAMIT C) (H2RZ) General Cargo 15,123DWT 8,935GRT Cyprus flag (Tephys Shipping Co. Ltd.) (vessel) [CUBA]

TIFON (CL2059) Tug 164GRT Cuba flag (Samir de Navegacion S.A.) (vessel) [CUBA]

TULIP ISLANDS (a.k.a. BROTHERS) (C4QK) Bulk Carrier 25,573DWT 16,605GRT Cyprus flag (Ciflare Shipping Co. Ltd.) (vessel) [CUBA]

VIOLET ISLANDS (a.k.a. CELTIC) (C4WU) Bulk Carrier 27,652DWT 16,582GRT Cyprus flag (Atlantic Marie Shipping Co. Ltd.) (vessel) [CUBA]

WEST ISLANDS (C4IB) General Cargo 15,136DWT 9,112GRT Cyprus flag (WEST ISLAND SHIPPING CO. LTD. (SDN)) (vessel) [CUBA]

[Iran]:

The following banks are owned or controlled by the Government of Iran. Transactions with them are severly restricted. For a summary of prohibitions, please see OFAC's brochure entitled Iran:

What You Need to Know About U.S. Economic Sanctions. For details, please see the Iranian Transactions Regulations at 31 CFR part 560.

AGRICULTURAL COOPERATIVE BANK OF IRAN (a.k.a. BANK TAAVON KESHAVARZI IRAN), No. 129 Patrice Lumumba Street, Jalal-Al-Ahmad Expressway, P.O. Box 14155/6395, Tehran, Iran [IRAN]

AGRICULTURAL DEVELOPMENT BANK OF IRAN (a.k.a. BANK JOSIAIYI KESHAHVARZI), Farahzad Expressway, Tehran, Iran [IRAN]

BANK JOSIAIYI KESHAHVARZI (a.k.a. AGRICULTURAL DEVELOPMENT BANK OF IRAN), Farahzad Expressway, Tehran, Iran [IRAN]

BANK MARKAZI JOMHOURI ISLAMI IRAN (a.k.a. THE CENTRAL BANK OF IRAN), Ferdowsi Avenue, P.O. Box 11365-8551, Tehran, Iran [IRAN]

BANK MASKAN (a.k.a. HOUSING BANK (OF IRAN)), Ferdowsi St., Tehran, Iran [IRAN]

BANK MELLAT, Park Shahr, Varzesh Avenue, P.O. Box 11365/5964, Tehran, Iran; all offices worldwide [IRAN]

BANK MELLI, P.O. Box 11365-171, Ferdowsi Avenue, Tehran, Iran; All offices worldwide [IRAN]

BANK OF INDUSTRY AND MINE (OF IRAN) (a.k.a. BANK SANAT VA MADAN), Hafez Avenue, P.O. Box 11365/4978, Tehran, Iran [IRAN]

BANK REFAH KARGARAN (a.k.a. WORKERS WELFARE BANK (OF IRAN)), Moffettah No. 125, P.O. Box 15815 1866, Tehran, Iran [IRAN]

BANK SADERAT IRAN, Bank Saderat Tower, P.O. Box 15745-631, Somayeh Street, Tehran, Iran; all offices worldwide [IRAN]

BANK SANAT VA MADAN (a.k.a. BANK OF INDUSTRY AND MINE (OF IRAN)), Hafez Avenue, P.O. Box 11365/4978, Tehran, Iran [IRAN]

BANK SEPAH, Emam Khomeini Square, P.O. Box 11364, Tehran, Iran; all office worldwide [IRAN]

BANK TAAVON KESHAVARZI IRAN (a.k.a. AGRICULTURAL COOPERATIVE BANK OF IRAN), No. 129 Patrice Lumumba Street, Jalal-Al-Ahmad Expressway, P.O. Box 14155/6395, Tehran, Iran [IRAN]

BANK TEJARAT, 130 Taleghani Avenue, Nejatoullahie, P.O. Box 11365-5416, Tehran, Iran; all offices worldwide [IRAN]

DEUTSCH-IRANISCHE HANDELSBANK AG (a.k.a. EUROPAEISCH-IRANISCHE HANDELSBANK AG), Depenau 2, W-2000, Hamburg 1, Germany; all offices worldwide [IRAN]

EUROPAEISCH-IRANISCHE HANDELSBANK AG (f.k.a. DEUTSCH-IRANISCHE HANDELSBANK AG), Depenau 2, W-2000, Hamburg 1, Germany; all offices worldwide [IRAN]

HOUSING BANK (OF IRAN) (a.k.a. BANK MASKAN), Ferdowsi St., Tehran, Iran [IRAN]

IRAN OVERSEAS INVESTMENT BANK LIMITED (f.k.a. IRAN OVERSEAS INVESTMENT CORPORATION LIMITED), 120 Moorgate, London EC2M 6TS, United Kingdom; all offices worldwide [IRAN]

IRAN OVERSEAS INVESTMENT CORPORATION LIMITED (a.k.a. IRAN OVERSEAS INVESTMENT BANK LIMITED), 120 Moorgate, London EC2M 6TS, United Kingdom; all offices worldwide [IRAN]

THE CENTRAL BANK OF IRAN (a.k.a. BANK MARKAZI JOMHOURI ISLAMI IRAN), Ferdowsi Avenue, P.O. Box 11365-8551, Tehran, Iran [IRAN]

WORKERS WELFARE BANK (OF IRAN) (a.k.a. BANK REFAH KARGARAN), Moffettah No. 125, P.O. Box 15815 1866, Tehran, Iran [IRAN]

Dated: June 27, 2006.
J. Robert McBrien,
Acting Director, Office of Foreign Assets Control.

[FR Doc. 06-5930 Filed 6-29-06; 10:37 am]

BILLING CODE 4811-37-P